DEPARTMENT OF HEALTH AND HUMAN SERVICES

Health Care Financing Administration

42 CFR Parts 410 and 414

[HCFA-1120-P]

RIN 0938-AK11

Medicare Program; Revisions to Payment Policies Under the Physician Fee Schedule for Calendar Year 2001

AGENCY: Health Care Financing Administration (HCFA), HHS.

ACTION: Proposed rule.

SUMMARY: This proposed rule would make several changes affecting Medicare Part B payment. The changes include: Refinement of resource-based practice expense relative value units (RVUs); changes to the geographic practice cost indices; resource-based malpractice RVUs; critical care RVUs; care plan oversight and physician certification/recertification; observation care codes; ocular photodynamic therapy and other ophthalmological treatments; electrical bioimpedance; the global period for insertion, removal, and replacement of pacemakers and cardioverter defibrillators; antigen supply; low intensity ultrasound; and the implantation of ventricular assist devices. This proposed rule also discusses or clarifies the payment policy for incomplete medical direction, pulse oximetry services, outpatient therapy supervision, outpatient therapy caps, and the second 5-year refinement of work RVUs for services furnished beginning January 1, 2002. We are proposing these changes to ensure that our payment systems are updated to reflect changes in medical practice and the relative value of services. We solicit comments on the proposed policy changes.

DATES: To be assured of consideration, we must receive comments at the appropriate address, as provided below, no later than 5 p.m. on September 15, 2000.

ADDRESSES: Mail written comments (1 original and 3 copies) to the following address only: Health Care Financing Administration, Department of Health and Human Services, Attention: HCFA-1120-P, P.O. Box 8013, Baltimore, MD 21244-8013.

Please allow sufficient time for mailed comments to be timely received in the event of delivery delays. If you prefer, you may deliver your written comments by courier (1 original and 3 copies) to one of the following addresses: Room 443-G, Hubert H. Humphrey Building, 200 Independence Avenue, SW., Washington, DC 20201 or Room C5-14-03, 7500 Security Boulevard, Baltimore, MD 21244.

Comments mailed to the two above addresses may be delayed and received too late to be considered.

Because of staff and resource limitations, we cannot accept comments by facsimile (FAX) transmission. In commenting, please refer to file code HCFA-1120-P. Comments received timely will be available for public inspection as they are received, generally beginning approximately 3 weeks after publication of a document, in Room 443-G of the Department's office at 200 Independence Avenue, SW., Washington, DC, on Monday through Friday of each week from 8:30 to 5 p.m. (phone: (202) 690-7890).

FOR FURTHER INFORMATION CONTACT: Bob Ulikowski, (410) 786-5721 (for issues related to resource-based malpractice relative value units and geographic practice cost index changes).

Carolyn Mullen, (410) 786-4589 or Marc Hartstein, (410) 786-4539, (for issues related to resource-based practice expense relative value units).

Rick Ensor, (410) 786-5617 (for issues related to care plan oversight and physician certification/recertification).

Jim Menas, (410) 786-4507 (for issues related to incomplete medical direction and the 5-year review).

Roberta Epps, (410) 786-1858 (for outpatient therapy-related issues).

Cathleen Scally, (410) 786-5714 (for issues related to observation care codes).

Diane Milstead, (410) 786-3355 (for all other issues).

SUPPLEMENTARY INFORMATION: Copies: To order copies of the Federal Register containing this document, send your request to: New Orders, Superintendent of Documents, P.O. Box 371954, Pittsburgh, PA 15250-7954. Specify the date of the issue requested and enclose a check or money order payable to the Superintendent of Documents, or enclose your Visa or Master Card number and expiration date. Credit card orders can also be placed by calling the order desk at (202) 512-1800 or by faxing to (202) 512-2250. The cost for each copy is $8. As an alternative, you can view and photocopy the Federal Register document at most libraries designated as Federal Depository Libraries and at many other public and academic libraries throughout the country that receive the Federal Register. This Federal Register document is also available from the Federal Register online database through GPO Access, a service of the U.S. Government Printing Office. The Website address is: http://www.access.gpo.gov/nara/index.html.

Information on the Lewin report referenced in the preamble can be found on our homepage. This data can be accessed by using the following directions:

1. Go to the HCFA homepage (http://www.hcfa.gov).

2. Click on “Medicare.”

3. Click on “Professional/Technical Information.”

4. Select Medicare Payment Systems.

5. Select Physician Fee Schedule.

Or, you can go directly to the Physician Fee Schedule page by typing the following: http://www.hcfa.gov/medicare/pfsmain.htm.

To assist readers in referencing sections contained in this preamble, we are providing the following table of contents. Some of the issues discussed in this preamble affect the payment policies but do not require changes to the regulations in the Code of Federal Regulations.

Table of Contents

I. Background

A. Legislative History

B. Published Changes to the Fee Schedule

II. Specific Proposals for Calendar Year 2001

A. Resource-Based Practice Expense Relative Value Units

B. Geographic Practice Cost Index Changes

C. Resource-Based Malpractice Relative Value Units

D. Critical Care Relative Value Units

E. Care Plan Oversight and Physician Certification/Recertification

F. Observation Care Codes

G. Ocular Photodynamic Therapy and Other Ophthalmalogical Treatments

H. Electrical Bioimpedance

I. Global Period for Insertion, Removal, and Replacement of Pacemakers and Cardioverter Defibrillators

J. Antigen Supply

K. Low Intensity Ultrasound

L. Implantation of Ventricular Assist Devices

III. Other Issues

A. Incomplete Medical Direction

B. Payment for Pulse Oximetry Services

C. Outpatient Therapy Supervision

D. Outpatient Therapy Caps

IV. Five Year Refinement of Relative Value Units

V. Collection of Information Requirements

VI. Response to Comments

VII. Regulatory Impact Analysis

VIII. Federalism

Addendum A—Explanation and Use of Addendum B

Addendum B—2001 Relative Value Units and Related Information Used in Determining Medicare Payments for 2001

Addendum C—Clinical Staff Times for Selected Codes

Addendum D—Comparison of 1999 and Proposed 2002 Office Rent Index By Fee Schedule Area

Addendum E—Comparison of 1999 and Proposed 2002 Malpractice GPCIs By Fee Schedule Area

Addendum F—2002 Geographic Practice Cost Indices by Medicare Carrier and Locality

Addendum G—2001 Geographic Practice Cost Indices by Medicare Carrier and Locality

Addendum H—Proposed 2002 Versus 1999 Geographic Adjustment Factors (GAF)

In addition, because of the many organizations and terms to which we refer by acronym in this proposed rule, we are listing these acronyms and their corresponding terms in alphabetical order below:

AMA American Medical Association

BBA Balanced Budget Act of 1997

BBRA Balanced Budget Refinement Act

CF Conversion factor

CFR Code of Federal Regulations

CPT [Physicians'] Current Procedural Terminology [4th Edition, 1997, copyrighted by the American Medical Association]

CPEP Clinical Practice Expert Panel

CRNA Certified Registered Nurse Anesthetist

E/M Evaluation and management

EB Electrical bioimpedance

FMR Fair market rental

GAF Geographic adjustment factor

GPCI Geographic practice cost index

HCFA Health Care Financing Administration

HCPCS HCFA Common Procedure Coding System

HHA Home health agency

HHS [Department of] Health and Human Services

IDTFs Independent Diagnostic Testing Facilities

MCM Medicare Carrier Manual

MEDPAC Medicare Payment Advisory Commission

MEI Medicare Economic Index

MGMA Medical Group Management Association

MSA Metropolitan Statistical Area

NAMCS National Ambulatory Medical Care Survey

OBRA Omnibus Budget Reconciliation Act

PC Professional component

PEAC Practice Expense Advisory Committee

PPAC Practicing Physicians Advisory Council

PPS Prospective payment system

RUC [AMA's Specialty Society] Relative [Value] Update Committee

RVU Relative value unit

SGR Standard growth rate

SMS [AMA's] Socioeconomic Monitoring System

TC Technical component

I. Background

A. Legislative History

Since January 1, 1992, Medicare has paid for physician services under section 1848 of the Social Security Act (the Act), “Payment for Physicians' Services.” This section contains three major elements—(1) a fee schedule for the payment of physicians' services; (2) a sustainable growth rate for the rates of increase in Medicare expenditures for physicians' services; and (3) limits on the amounts that nonparticipating physicians can charge beneficiaries. The Act requires that payments under the fee schedule be based on national uniform relative value units (RVUs) based on the resources used in furnishing a service. Section 1848(c) of the Act requires that national RVUs be established for physician work, practice expense, and malpractice expense.

Section 1848(c)(2)(B)(ii)(II) of the Act provides that adjustments in RVUs may not cause total physician fee schedule payments to differ by more than $20 million from what they would have been had the adjustments not been made. If adjustments to RVUs cause expenditures to change by more than $20 million, we must make adjustments to the conversion factors (CFs) to preserve budget neutrality.

B. Published Changes to the Fee Schedule

We published a final rule on November 25, 1991 (56 FR 59502) to implement section 1848 of the Act by establishing a fee schedule for physicians' services furnished on or after January 1, 1992. In the November 1991 final rule (56 FR 59511), we stated our intention to update RVUs for new and revised codes in the American Medical Association's (AMA's) Physicians' Current Procedural Terminology (CPT) through an “interim RVU” process every year. We published the updates to the RVUs and fee schedule policies are as follows:

• November 25, 1992, a final notice with comment period on new and revised RVUs only (57 FR 55914).

• December 2, 1993, a final rule with comment period (58 FR 63626) revised the refinement process used to establish physician work RVUs and to revise payment policies for specific physicians' services and supplies. (We solicited comments on new and revised RVUs only.)

• December 8, 1994, a final rule with comment period (59 FR 63410) revised the geographic adjustment factor (GAF) values, fee schedule payment areas, and payment policies for specific physicians' services. The final rule also discussed the process for periodic review and adjustment of RVUs not less frequently than every 5 years as required by section 1848(c)(2)(B)(i) of the Act.

• December 8, 1995, a final rule with comment period (60 FR 63124) revised various policies affecting payment for physicians' services including Medicare payment for physicians' services in teaching settings, the RVUs for certain existing procedure codes, and established interim RVUs for new and revised procedure codes. The rule also included the final revised 1996 geographic practice cost indices (GPCIs).

• November 22, 1996, a final rule with comment period (61 FR 59490) revised the policy for payment for diagnostic services, transportation in connection with furnishing diagnostic tests, changes in geographic payment areas (localities), and changes in the procedure status codes for a variety of services.

• October 31, 1997, a final rule with comment period (62 FR 59048) revised the GPCIs, physician supervision of diagnostic tests, establishment of independent diagnostic testing facilities, the methodology used to develop reasonable compensation equivalent limits, payment to participating and nonparticipating suppliers, global surgical services, caloric vestibular testing, and clinical consultations. It also implemented certain provisions of the Balanced Budget Act of 1997 (BBA) (Public Law 105-33), enacted on August 5, 1997, and implemented the RVUs for certain existing procedure codes and established interim RVUs for new and revised procedure codes.

• November 2, 1998, a final rule with comment period (63 FR 58814) revised the policy for resource-based practice expense RVUs, medical direction rules for anesthesia services, and payment for abnormal Pap smears. We also rebased the Medicare economic index (MEI) from a 1989 base year to a 1996 base year. Under the law, we were also required to develop a resource-based system for determining practice expense RVUs. The BBA delayed, for 1 year, implementation of the resource-based practice expense RVUs until January 1, 1999. Also, the BBA revised our payment policy for nonphysician practitioners, for outpatient rehabilitation services, and for drugs and biologicals not paid on a cost or prospective payment basis. In addition, the BBA permitted certain physicians and practitioners to opt out of Medicare and furnish covered services to Medicare beneficiaries through private contracts and permits payment for professional consultations via interactive telecommunication systems. Furthermore, we finalized the 1998 interim RVUs and issued interim RVUs for new and revised codes for 1999. The final rule also announced the CY 1999 Medicare physician fee schedule CF under the Medicare Supplementary Medical Insurance (Part B) program as required by section 1848(d) of the Act. The 1999 Medicare physician fee schedule CF was $34.7315.

• November 2, 1999, a final rule with comment period (64 FR 59380) made several changes affecting Medicare Part B payment. The changes included: implementation of resource-based malpractice insurance RVUs; refinement of resource-based practice expense RVUs; payment for physician pathology and independent laboratory services; discontinuous anesthesia time; diagnostic tests; prostate screening; use of CPT modifier -25; qualifications for nurse practitioners; an increase in the work RVUs for pediatric services; adjustments to the practice expense RVUs for physician interpretation of Pap smears; and a number of other changes relating to coding and payment. Furthermore, we finalized the 1999 interim physician work RVUs and issued interim RVUs for new and revised codes for 2000. The final rule solicited public comments on the second 5-year refinement of work RVUs for services furnished beginning January 1, 2002 and requested public comments on potentially misvalued work RVUs for all services in the CY 2000 physician fee schedule. The final rule conformed the regulations to existing law and policy regarding: removal of the x-ray as a prerequisite for chiropractic manipulation; the exclusion of payment for assisted suicide; and optometrist services. The final rule also announced the CY 2000 Medicare physician fee schedule CF under the Medicare Supplementary Medical Insurance (Part B) program as required by section 1848(d) of the Act. The 2000 Medicare physician fee schedule CF was $36.6137.

This proposed rule would affect the regulations set forth at Part 410, Supplementary medical insurance (SMI) benefits and Part 414, Payment for Part B medical and other services.

II. Specific Proposals for Calendar Year 2001

A. Resource-Based Practice Expense Relative Value Units

1. Resource-Based Practice Expense Legislation

Section 121 of the Social Security Act Amendments of 1994 (Public Law 103-432), enacted on October 31, 1994, required us to develop a methodology for a resource-based system for determining practice expense RVUs for each physician's service beginning in 1998. In developing the methodology, we were to consider the staff, equipment, and supplies used in providing medical and surgical services in various settings. The legislation specifically required that, in implementing the new system of practice expense RVUs, we must apply the same budget-neutrality provisions that we apply to other adjustments under the physician fee schedule.

Section 4505(a) of the BBA delayed the effective date of the resource-based practice expense RVU system until January 1, 1999. In addition, section 4505(b) of the BBA provided for a 4-year transition period from charge-based practice expense RVUs to resource-based RVUs. The practice expense RVUs for CY 1999 were the product of 75 percent of charge-based RVUs and 25 percent of the resource-based RVUs. For CY 2000, the RVUs were 50 percent charge-based and 50 percent resource-based. For CY 2001, the RVUs will be 25 percent charge-based and 75 percent resource-based. After CY 2001, the RVUs will be totally resource-based.

Section 4505(e) of the BBA provided that, in 1998, the practice expense RVUs be adjusted for certain services in anticipation of implementation of resource-based practice expenses beginning in 1999. As a result, we increased practice expense RVUs for office visits. For other services in which practice expense RVUs exceeded 110 percent of the work RVUs and were furnished less than 75 percent of the time in an office setting, we reduced the 1998 practice expense RVUs to a number equal to 110 percent of the work RVUs. This limitation did not apply to services that had proposed resource-based practice expense RVUs that increased from their 1997 practice expense RVUs as reflected in the June 18, 1997 proposed rule (62 FR 33196). The services affected, and the final RVUs for 1998, were published in the October 1997 final rule (62 FR 59103).

The most recent legislation affecting resource-based practice expense was included in the Balanced Budget Refinement Act of 1999 (BBRA) (Public Law 106-113). Section 212 of the BBRA stated that we must establish a process under which we accept and use, to the maximum extent practicable and consistent with sound data practices, data collected or developed by entities and organizations. These data would supplement the data we normally collect in determining the practice expense component of the physician fee schedule for payments in CY 2001 and CY 2002.

2. Current Methodology for Computing Practice Expense Relative Value Unit System

Effective with services on or after January 1, 1999, we established a new methodology for computing resource-based practice expense RVUs that used the two significant sources of actual practice expense data we have available: the Clinical Practice Expert Panel (CPEP) data and the AMA's Socioeconomic Monitoring System (SMS) data. The methodology was based on an assumption that current aggregate specialty practice costs are a reasonable way to establish initial estimates of relative resource costs of physicians' services across specialties. The methodology allocated these aggregate specialty practice costs to specific procedures and, thus, can be seen as a “top-down” approach. The methodology can be summarized as follows:

(a) Practice Expense Cost Pools. We used actual practice expense data by specialty, derived from the 1995 through 1997 SMS survey data, to create six cost pools—administrative labor, clinical labor, medical supplies, medical equipment, office supplies, and all other expenses. There were three steps in the creation of the cost pools.

• Step (1) We used the AMA's SMS survey of actual cost data to determine practice expenses per hour by cost category. The practice expenses per hour for each physician respondent's practice was calculated as the practice expenses for the practice divided by the total number of hours spent in patient care activities. The practice expenses per hour for the specialty were an average of the practice expenses per hour for the respondent physicians in that specialty. In addition, for the CY 2000 physician fee schedule, we used data from a survey submitted by the Society of Thoracic Surgeons in calculating the thoracic and cardiac surgery's practice expense per hour. (See the November 1999 final rule (64 FR 59391) for additional information concerning acceptance of this data.)

• Step (2) We determined the total number of physician hours (by specialty) spent treating Medicare patients. This was calculated from physician time data for each procedure code and from Medicare claims data.

• Step (3) We calculated the practice expense pools by specialty and by cost category by multiplying the specialty practice expenses per hour for each category by the total physician hours.

For services with work RVUs equal to zero (including the technical component (TC) of services with a TC and professional component (PC)), we created a separate practice expense pool using the average clinical staff time from the CPEP data (since these codes by definition do not have physician time), and the “all physicians” practice expense per hour.

(b) Cost Allocation Methodology. For each specialty, we separated the six practice expense pools into two groups and used a different allocation basis for each group.

(1) Direct Costs

For direct costs (including clinical labor, medical supplies, and medical equipment), we used the CPEP data as the allocation basis. The CPEP data for clinical labor, medical supplies, and medical equipment were used to allocate the clinical labor, medical supplies, and medical equipment cost pools, respectively.

For the separate practice expense pool for services with work RVUs equal to zero, we used 1998 practice expense RVUs to allocate the direct cost pools (clinical labor, medical supplies, and medical equipment cost pools) as an interim measure. Also, for all radiology services that are assigned work RVUs, we used the 1998 practice expense relative values for radiology services as an interim measure to allocate the direct practice expense cost pool for radiology. For all other specialties that perform radiology services, we used the CPEP data for radiology services in the allocation of that specialty's direct practice expense cost pools.

(2) Indirect Costs

To allocate the cost pools for indirect costs, including administrative labor, office expenses, and all other expenses, we used the total direct costs, as described above, in combination with the physician fee schedule work RVUs. We converted the work RVUs to dollars using the Medicare CF (expressed in 1995 dollars for consistency with the SMS survey years).

The SMS pool was divided by the CPEP pool for each specialty to produce a scaling factor that was applied to the CPEP direct cost inputs. This was intended to match costs counted as practice expenses in the SMS survey with items counted as practice expense in the CPEP process. When the specialty specific scaling factor exceeds the average scaling factor by more than three standard deviations, we used the average scaling factor. (See the November 1999 final rule (64 FR 59390) for further discussion of this issue).

For procedures performed by more than one specialty, the final procedure code allocation was a weighted average of allocations for the specialties that perform the procedure, with the weights being the frequency with which each specialty performs the procedure on Medicare patients.

(c) Other Methodological Issues.

(1) Global Practice Expense Relative Value Units

For services with the PC and TC paid under the physician fee schedule, the global practice expense RVUs were set equal to the sum of the PC and TC.

(2) Practice Expenses Per Hour Adjustments and Specialty Crosswalks

Since many specialties identified in our claims data did not correspond exactly to the specialties included in the practice expense tables from the SMS survey data, it was necessary to crosswalk these specialties to the most appropriate SMS specialty category. We also made the following adjustments to the practice expense per hour data (for the rationale for these adjustments to the practice expense per hour see the November 1998 final rule (63 FR 58841):

• We set the medical materials and supplies practice expenses per hour for the specialty of “oncology” equal to the “all physician” medical materials and supplies practice expenses per hour.

• We based the administrative payroll, office, and other practice expenses per hour for the specialties of “physical therapy” and “occupational therapy” on data used to develop the salary equivalency guidelines for these specialties. We set the remaining practice expense per hour categories equal to the “all physician” practice expenses per hour from the SMS survey data.

• Due to uncertainty concerning the appropriate crosswalk and time data for the nonphysician specialty “audiologist,” we derived the resource-based practice expense RVUs for codes performed by audiologists from the practice expenses per hour of the other specialties that perform these codes.

• For the specialty of “emergency medicine,” we used the “all physician” practice expense per hour to create practice expense cost pools for the categories “clerical payroll” and “other expenses.”

• For the specialty of “podiatry,” we used the “all physician” practice expense per hour to create the practice expense pool.

• For the specialty of “pathology,” we removed the supervision and autopsy hours reimbursed through Part A of the Medicare program from the practice expense per hour calculation.

• For the specialty “maxillofacial prosthetics,” we used the “all physician” practice expense per hour to create practice expense cost pools and, as an interim measure, allocated these pools using the 1998 practice expense RVUs.

• We split the practice expenses per hour for the specialty “radiology” into “radiation oncology” and “radiology other than radiation oncology” and used this split practice expense per hour to create practice expense cost pools for these specialties.

(3) Time Associated With the Work RVUs

The time data resulting from the refinement of the work RVUs have been, on average, 25 percent greater than the time data obtained by the Harvard study for the same services. We increased the Harvard research team's time data to ensure consistency between these data sources.

For services with no assigned physician time (such as, dialysis, physical therapy, psychology, and many radiology and other diagnostic services), we calculated estimated total physician time based on work RVUs, maximum clinical staff time for each service as shown in the CPEP data, or the judgment of our clinical staff.

We calculated the time for CPT codes 00100 through 01996 using the base and time units from the anesthesia fee schedule and the Medicare allowed claims data.

3. Refinement

(a) Background. Section 4505(d)(1)(C) of the BBA required us to develop a refinement process to be used during each of the 4 years of the transition period. We did not propose a specific long-term refinement process in the June 1998 proposed rule (63 FR 30835). Rather, we set out the parameters for an acceptable refinement process for practice expense RVUs and solicited comments on our proposal. We received a large variety of comments about broad methodology issues, practice expense per hour data, and detailed code level data. We made some adjustments to our proposal when we were convinced an adjustment was appropriate. We also indicated that we would consider other comments for possible refinement and that the values of all codes would be considered interim for 1999 and for future years during the transition period.

We outlined in the November 1998 final rule (63 FR 58832) the steps we were undertaking as part of the initial refinement process. These steps included—

• Establishment of a mechanism to receive independent advice for dealing with broad practice expense RVU technical and methodological issues;

• Evaluation of any additional recommendations from the General Accounting Office, the Medicare Payment Advisory Commission (MedPAC), and the Practicing Physicians Advisory Council (PPAC); and

• Consultation with physician and other groups about these issues.

We also discussed a proposal submitted by the AMA's Specialty Society Relative Value Update Committee (RUC) for development of a new advisory committee, the Practice Expense Advisory Committee (PEAC), to review comments and recommendations on the code-specific CPEP data during the refinement period. In addition, we solicited comments and suggestions about our practice expense methodology from organizations that have a broad range of interests and expertise in practice expense and survey issues.

In the July 22, 1999 proposed rule and the November 1999 final rule, we provided further information on refinement activities underway, including the formation of the PEAC and the support contract that we awarded to focus on methodologic issues. The following is an update on activities with respect to these initiatives, as well as the status of refinement with respect to other areas of concern such as the SMS data and CPEP inputs.

(b) SMS Data. We have received many comments on both our 1998 and 1999 proposed and final rules from a number of medical specialty societies expressing concerns regarding the accuracy of the SMS data. Some commenters stated their belief that the sample size for their specialty was not large enough to yield reliable data. Other specialties not represented in the SMS survey objected that the crosswalk used for their practice expense per hour was not appropriate and requested that their own data be used instead. Commenters also raised questions about whether the direct patient care hours for their specialty were overstated by the SMS to the specialty's disadvantage.

We consider dealing with these issues to be one of the major priorities of the refinement effort. Therefore, we have undertaken the following activities:

(1) Interim Final Rule on Supplemental Practice Expense Survey Data

On May 3, 2000, we published an interim final rule (65 FR 25664) that set forth the criteria for physician and non-physician specialty groups to submit supplemental practice expense survey data for use in determining payments under the physician fee schedule. Section 212 of the BBRA required us to establish a process under which we will accept and use, to the maximum extent practicable and consistent with sound data practices, data collected or developed by entities and organizations to supplement the data we normally collect in determining the practice expense component of the physician fee schedule for payments in CY 2001 and CY 2002.

To obtain data that could be used in computing practice expense RVUs beginning January 1, 2001, we published the criteria in the May 2000 interim final rule (65 FR 25666) that we will apply to supplemental survey data submitted to us by August 1, 2000. We also provided a 60-day period for submission of comments on the criteria that we will consider for survey data submitted between August 2, 2000 and August 1, 2001 for use in computing the practice expense RVUs for the CY 2002 physician fee schedule. (See the May 2000 interim final rule for further information on the criteria and process). We intend to respond to comments received on this interim final rule in the physician fee schedule final rule to be published this fall. We believe this is an important step in addressing the concerns of those specialties that believe they are underrepresented in the SMS survey data or believe they have not been surveyed by the SMS.

(2) Proposals for SMS Refinement

As we indicated in the November 1999 final rule, we awarded a contract to The Lewin Group to obtain independent advice dealing with broad practice expense RVU technical and methodological issues. Specific activities we requested the contractor to evaluate included the following:

• Evaluation of SMS data for validity and reliability.

• Identification and evaluation of alternative and supplementary data sources from specialty and multi-specialty societies.

• Development of options for validating the Harvard/RUC physician procedure time data.

• Evaluation of the indirect cost allocation methodology.

• Advice on developing a process for the 5-year review of practice expense RVUs.

The Lewin Group issued their first draft report, “Practice Expense Methodology,” dated September 24, 1999. We have placed this report on our homepage under the title “Practice Expense Methodology Report.” (Access to our homepage is discussed under the “Supplementary Information” section above.) The report contains various recommendations aimed at increasing the validity and reliability of the AMA's SMS survey. As we discuss below, the AMA will no longer be collecting data through the SMS survey. However, the AMA is currently pilot-testing an alternative practice expense survey of physician practices. Although The Lewin Group's recommendations were made specifically to address improving the SMS survey for calculating practice expense RVUs, we believe the recommendations will be useful in making refinements to the practice level survey or designing any other survey instrument that may be used in calculating practice expense RVUs. The recommendations fell into the three following areas:

• The use of data supplementary to the SMS survey.

• Suggested changes to the survey instrument.

• Recommendations for using the data in calculating the specialty-specific practice expense per hour.

The report recognized the need for additional data obtained either through oversampling or additional surveys. We would welcome the receipt of additional objective and valid data that would help ensure that our specialty-specific practice expense per hour calculations are as accurate as possible. However, to ensure consistency of the data across specialties, the report also stressed the need for any supplementary data to adhere to the same format, survey instrument, sample frame, and definitions as the SMS survey. We share this concern, and in the May 2000 interim final rule we identified the specific criteria that all supplementary surveys must meet to ensure that data are valid, reliable, and consistent with the SMS data already in use.

In line with the report's recommendations on the use of the SMS data, we are proposing to do the following:

• The Lewin Group recommended that we update the SMS survey data currently being used for practice expense per hour with new SMS data. They also recommended using a rolling 3-year average to determine practice expense per hour values. We are currently using data from the 1995 through 1997 SMS survey (1994 through 1996 practice expense data). The latest data available is from the 1998 SMS survey and we have incorporated this data into our practice expense per hour calculations. Although The Lewin Group has recommended using a rolling 3-year average, we have decided to base the practice expense per hour calculations on a 4-year average. We are concerned that substituting data from the 1998 SMS for data from the 1999 SMS may exacerbate changes in the practice expense per hour calculations that may be explained by sampling error. We believe that using an additional year of SMS data will have the advantage of minimizing changes in the practice expense per hour data that result from sampling error, while allowing our calculations to be based on more survey data.

• The Lewin Group recommended that we standardize survey data from the SMS so that it reflects a common base year. They raised a concern that variations in sample size for a given specialty across the 3 years may produce a different result than if the survey response were standardized to reflect a common year. This could disadvantage those specialties that were more heavily sampled in the early years. We evaluated this recommendation and found that standardizing the SMS data we are currently using to reflect a 1995 cost year has virtually no impact on the practice expense per hour calculations. However, this issue will be more of a concern in using the later SMS data because response rates were lower in the 1998 SMS survey than in prior years. For this reason, we are standardizing the practice expense data so that it reflects a common base year. Using the MEI, we standardized the practice expense data so that it reflects a 1995 cost year consistent with the pricing information that we are using for the estimates of practice expense inputs for individual procedures.

The table below reflects the practice expense per hour calculations we are using in determining the CY 2001 practice expense RVUs.

BILLING CODE 4120-01-P

BILLING CODE 4120-01-C

• The Lewin Group also recommended that we revise edits and trims to the SMS survey data, both practice expenses and hours, to exclude data that fall outside set acceptable ranges (for example, three standard deviations from the geometric mean). We asked the AMA about their reaction to The Lewin Group's recommendation and the AMA replied:

Trimming outlier values will further reduce sample size. Trimming expense values can also be problematic because high expense responses on the SMS are often justified when practice size and structure are taken into account. A trim may also disproportionately impact specialties with highly skewed distributions of PE-HR.

For this reason, we are not taking action in response to The Lewin Group's recommendation at this time.

• In addition, The Lewin Group recommended that we account for item non-response to questions related to practice expenses and patient care hours. We asked the AMA for their reaction to this recommendation as well. The AMA replied that they would need more information and added that there is no evidence that a pattern of non-response bias exists for practice expense, although it is a possibility. We are considering whether to study this issue further but, at this time, are not making any adjustments in response to this recommendation.

The report also makes suggestions on changes to the survey instrument used to collect practice expense data from practitioners. Though the original SMS survey does collect some information on practice expenses, it was not designed as a vehicle to calculate a specialty-specific practice expense per hour. We, and the contractor, have held several meetings with the AMA's SMS staff to discuss revisions to the survey that would help make our calculations more precise.

We understand that the AMA is currently piloting a new practice-level survey designed to address some of the limitations of the SMS. If the pilot of the survey is successful, we earlier understood that the AMA plans were to conduct the practice survey initially in CY 2000 and, in alternate years thereafter, the practice expense survey and the SMS survey. The AMA has recently indicated that its plans about the future of the SMS and collection of practice level survey data are unclear at this time. While the AMA has not made a final decision at this time about whether the practice level survey will be done, they have indicated concern to us about low response rates from the pilot test. Nevertheless, we are proceeding to make recommendations to the AMA regarding collection of practice expense data through the practice level survey. We will continue our discussion with the AMA regarding its plans for future practice expense data collection following completion of the practice level survey. And, as we stated earlier, we believe these recommendations will be useful in the design of the practice level survey or any other survey of practice expenses used in developing RVUs for practice expenses.

The use of this practice level survey, as it is currently contemplated, responds to several of our contractor's recommendations. For example, it would address the recommendation that information be collected on each physician's percent share of practice expense and hours within the practice by collecting information at the total practice, rather than the individual physician owner level. The practice level survey also currently contains, as requested, questions on the number of hours the physician's office is open in a typical week and on the salaries for the mid-level practitioners used by the practice (that is, physician assistants, nurse practitioners, clinical nurse specialists, nurse mid-wives, certified registered nurse anesthetists, and physical and occupational therapists).

We are also suggesting additional changes in the survey questions or directions, generally reflecting our contractor's recommendations. We believe that the following changes would give more precise and reliable data on which to base our practice expense calculations:

• Emphasize the benefit of involving the practice manager or accountant in the completion of the survey and the need to link the practice expense data to the practice's tax information whenever possible.

• Include a question concerning how many patient care hours are spent on uncompensated care, that is, care that the law requires one to provide, but for which one is not compensated. This would not include charity care that is voluntarily provided.

• Add a question concerning the amount or percentage of revenue generated by mid-level practitioners.

• Add a question concerning the amount or percentage of supply costs that relates to separately billable supplies (for example, drugs, casting supplies, and laboratory supplies).

• In addition, we are recommending that the survey include more specific questions on patient care hours and that separately billed mid-level practitioner hours be included.

The Lewin Group also recommended that the survey include questions about a typical week, rather than the most recent week. We are not adopting this suggestion because we believe that questions about the most recent week are likely to yield more concrete, accurate answers, whereas questions about a typical week are more likely based on estimates. As we have already stated, the AMA will no longer be collecting data through the SMS and the AMA has also expressed concern about low response rates from the pilot of the practice level survey. At this time, we are unclear as to the AMA's plans with regard to future practice expense data collection efforts.

As we indicated earlier, we are currently proposing to use data from the 1998 SMS in developing the 2001 practice expense relative value units. Furthermore, data from the 1999 SMS will become available later this year. In addition, section 1848(c)(2)(B) of the Act requires that not less often than every 5 years, we review and make adjustments to RVUs. Thus, by law we are required to review and make adjustments to the practice expense RVUs no later than 2007. Regardless of whether the AMA continues to collect data on practice expenses, we will be developing plans for making refinements to practice expense RVUs beyond 2002.

We welcome comments on long-term strategies for refining the practice expense RVUs and any suggestions for how to collect practice expense data in the event it is no longer collected by the AMA. We will consider these comments and any further decisions by the AMA with regard to its practice expense data collection efforts in developing our refinement strategy beyond 2002.

(3) Direct Patient Care Hours

We have received many comments from specialty societies concerning our calculation of direct patient care hours. This is a major issue because the patient care hours are one half of the ratio used to determine the practice expense per hour for each specialty. (The practice expenses of practitioners in a specialty are divided by the direct patient care hours in order to calculate the practice expense per hour). If the reported hours do not reflect the actual average billable hours for a specialty, the practice expense per hour will be over-or understated.

Several commenters representing surgical specialty societies have raised concern that the hours computed for their specialties have been overstated. This may be a result of SMS survey respondents including non-billable hours (such as stand-by time) when asked how many hours they worked each week. If this is the case, this would decrease the practice expense per hour for these specialties. In addition, commenters representing emergency room physicians raised the issue that the hours spent on uncompensated care were probably also included in the survey responses to the detriment of this specialty.

We agree with the commenters that there is a need to increase the level of confidence in the direct patient care hour data. We are already taking steps to improve the future accuracy of these data. As mentioned above, we are recommending that the future survey questions be worded more precisely so that only the appropriate practitioner hours are included. In addition, we have asked our contractor to give priority to recommendations on steps we can take to improve the accuracy of the patient care hours.

As a first step in accomplishing this, The Lewin Group issued their second draft report on December 6, 1999, entitled “Validating Patient Care Hours Used in HCFA's Practice Expense Methodology.” This report explores alternative methods that we might use to validate the time data collected by the SMS survey. The validation techniques attempt to achieve two goals: (1) Identifying inaccurate existing data and (2) identifying inconsistencies in new data to be derived from future survey efforts.

The Lewin Group developed the following four validation techniques to analyze the SMS data used in computing the specialty-specific patient care hours:

• Method 1: Compare the patient care hour data reported at the beginning of the SMS survey (that asks for the total hours worked in a week) to responses from the detailed questions on patient care hours appearing later in the SMS survey.

• Method 2: Calculate ratios of SMS time pools to Harvard/RUC time pools by specialty, using Harvard/RUC procedure time data and Medicare claims data.

• Method 3: Compare newly reported SMS data to historical SMS data to identify outliers.

• Method 4: Compare SMS data on annual hours worked with annual hours data reported in the Medical Group Management Association's (MGMA) “Physician Compensation and Production Survey”.

We have placed this report on our homepage under the title “Validating Patient Care Hours.”

We agree with our contractor that no single validation approach exists that can be used to validate both existing and new data on patient care hours with a high level of confidence. However, the approaches described above, when used together, could be effective tools that will help to ensure the accuracy and reliability of existing and future data used in the calculation of practice expense RVUs. These validation efforts would allow us, and the medical community, to be more confident in the use of future data to update practice expense RVUs. Therefore, we extended The Lewin Group's contract so that, among other refinement tasks, the above analyses can be carried out. We are aware that even with the above initiatives, it might not be possible to address all concerns regarding refinement of the patient care hours in the short term. Therefore, we welcome any comments and suggestions as to other steps we could take to verify and improve the accuracy of the specialty-specific patient care hours.

(c) CPEP Data.

(1) Relative Value Update Committee's Practice Expense Advisory Committee

The PEAC, a subcommittee of the RUC, held its initial meetings last year and the RUC made recommendations on CPEP inputs for clinical staff times, supplies, and equipment on approximately 65 CPT codes. We discussed our actions with regard to these recommendations in the November 1999 final rule. The PEAC continues to meet to refine the CPEP direct cost inputs, and we anticipate that we will receive additional RUC recommendations in July. We will address these recommendations in this year's physician fee schedule final rule.

In the November 1999 final rule, we deferred action on the RUC recommendations for a few groups of CPT codes on which we had significant questions. We are now proposing to accept the RUC recommendations with the revisions noted below:

Prostate Procedures

52647 Non-contact laser coagulation of prostate, including control of postoperative bleeding, complete (vasectomy, meatotomy, cystourethroscopy, urethral calibration and/or dilation, and internal urethrotomy are included)

53850 Transurethral destruction of prostate tissue; by microwave thermotherapy

53852 Transurethral destruction of prostate tissue; by radiofrequency thermotherapy

We are accepting the total clinical staff time recommended for the in-office setting, but are moving 60 minutes from post to intra-service time for each of the above procedures because the staff time for observation of the patient during recovery from anesthesia belongs in the intra-service period. We are reducing the out of office preservice clinical staff time for CPT codes 52647 and 53852 to 30 minutes to match the RUC recommendation for CPT code 53850 and the time allotted in the office for each service and are making the out-of-office postservice time equal to the in-office postservice time because we believe there is no reason that these times should differ.

The supplies for all three procedures were adjusted to reflect three postoperative visits and to conform with the overall adjustment to supplies made in the November 1999 final rule. For CPT code 52647, we deleted the flexible cystoscope from the equipment because only one scope is required for the procedure. We also deleted the sterilizer because it is not typically used. For CPT code 53850, the RUC recommendations included the inputs for two different scenarios using two different devices. We chose what we believe to be the most typically used device and the inputs that accompany this. For CPT code 53852, we deleted the cystoscopes and sterilizer from the equipment because we believe that they are not typically used.

Chemotherapy Procedures

96408 Chemotherapy administration, intravenous; push technique

96410 Chemotherapy administration, intravenous; infusion technique, up to one hour

The RUC had recommended 102 minutes of clinical staff time for CPT code 96408 and 121 minutes for CPT code 96410. In the November 1999 final rule, we solicited comments on these codes to assist us in our review. In response, the American Society of Clinical Oncology provided a breakdown by specific tasks of the above staff times. Included in this breakdown were 20 minutes for pre- and postprocedure education and 15 minutes for three phone calls after each visit.

Because we believe that the times for patient education and phone calls should be averaged over the whole course of chemotherapy treatment, and because there appeared to be some duplication in the pre- and postprocedure education tasks, we reduced both the patient education and phone call times by 5 minutes. Therefore, we are proposing 92 minutes of clinical staff time for CPT code 96408 and 111 minutes for CPT code 96410. For supplies, the specialty society agreed that we should delete the silver nitrate stick and HEPA filters from both procedures and the infusion pump cassette from CPT code 96408.

(2) Clinical Staff Time

In the November 1999 final rule, we removed estimates of all clinical staff time allotted to the use of clinical staff in the facility setting from the CPEP data. Commenters have since noted that the clinical staff times reported by some CPEP panels for pre- and postservice times for 0-day global services performed in the office were recorded in the intra-service field in the CPEP database. These times were, therefore, deleted along with the times for the use of clinical staff in the facility setting, unlike the pre- and postservice times for 10 and 90-day global services that were entered into the separate pre and post data fields. The commenters argued that these pre- and postservice staff times for the relevant 0-day global services should be reinstated because these times are for staff in the office before and after the patient is in the facility.

We agree that these data are not comparable to the data we excluded for clinical staff used in the facility setting. We reviewed the “CPEP Recorders' Notes Files” compiled for each CPEP panel by Abt Associates, Inc., the contractor managing the CPEP panels. When the notes indicate that clinical staff estimates were for activities performed in physicians' offices, we are proposing to reinstate the time data for 0-day global services. The fact that we have reinstated these time data does not mean that we necessarily agree that the amount of time assigned is correct. Like all the other raw CPEP data, these time data are subject to refinement and possible revision.

The entire recorders' notes file is available on our website and is entitled “CPEP Recorders' Notes Files.” Addendum C shows a list of the codes for which pre- or postclinical staff time has been added, as well as the times that are now assigned.

(3) Supplies

In the November 1999 final rule (64 FR 59392), we indicated that casting materials are bundled into the payment for the initial fracture management procedures and that separate billing for the supplies is not allowed. However, commenters noted that our policy has been to allow separate payment for splints, casts, and other devices used for the reduction of all fractures and dislocations under section 1861(s)(5) of the Act. Since we provide separate payment for splints and casting supplies, we are now proposing to remove these types of expenses from practice expense inputs for all applicable fracture management and cast/strapping application procedure codes under the physician fee schedule.

In the November 1999 final rule, we deleted certain casting supplies (fiberglass roll, cast padding, and cast shoe) from the list of supplies for the casting and strapping CPT codes 29000 through 29750. We have identified additional CPT codes for the treatment of fractures/dislocations that have these supplies included in the CPEP data. Since these supplies are currently separately billable, we are proposing to remove the fiberglass roll, cast padding, and cast shoe from the following CPT codes: 23500 through 23680; 24500 through 24685; 25500 through 25695; 26600 through 26785; 27500 through 27566; 27750 through 27848; and 28400 through 28675.

In addition, we are also proposing to remove additional casting and splinting supplies from all the CPT codes referenced above because these supplies are also currently separately billable under section 1861(s)(5) of the Act. The list of supplies is as follows: stockingnet/stockinette; plaster bandage; Denver splint; dome paste bandage; cast sole; elastoplast roll; fiberglass splint; Ace wrap; Kerlix; Webril; Malleable Archbars; and elastics.

We welcome comments on whether these supplies should be deleted from additional procedures outside the code ranges referenced above, and whether we have appropriately identified all the casting supplies in our supply list.

(4) Equipment

We are currently using the original CPEP definitions for equipment that distinguish between “procedure specific equipment” and “overhead” equipment. The main distinction between the two categories is that procedure specific equipment is used only for a limited number of procedures, while overhead equipment is used over a wide range of services. In terms of actual application, we assume a 50-percent utilization rate for procedure specific equipment, but a 100-percent rate for all overhead equipment. In addition, the methodology assumes that the procedure specific equipment is used only during the intraservice period, while it assumes that the overhead equipment is used for the entire service. We believe this distinction was more important under our original “bottom-up” methodology when the accuracy of the practice expense RVUs was almost totally dependent on the precision of the CPEP inputs. Under our current “top-down” methodology, however, when the CPEP inputs are used only as allocators of the specialty-specific practice expense pools, the distinction has served to hinder the process of refining the CPEP inputs while not leading to a substantive distinction in how we value services.

We are proposing to combine both categories of equipment into a single “equipment” category, assuming an average 50-percent utilization for all equipment. We believe that this will be beneficial to our refinement process for the following reasons:

• The current definition of the two categories of equipment necessitates many subjective decisions. While it might be obvious that an examination table is used for a wide range of services and, therefore, would be overhead equipment, it is somewhat more arbitrary to classify equipment such as cystoscopes or specific x-ray machines as overhead or procedure specific.

• The various CPEP panels were not consistent in their application of the distinction between the two categories. Most of the items that were classified by some of the CPEP panels as overhead equipment were classified by another panel as procedure specific. In addition, equipment that would seem to be very similar was sometimes treated in different ways. For example, an examination table or a stretcher were considered to be overhead, but an electric table or a wheelchair were considered procedure-specific.

• It would simplify the refinement process to have only one category of equipment to consider rather than having to decide for all 7000 codes to which category each piece of equipment belongs.

We are also proposing to delete from the CPEP data equipment that is not used typically with any service, but is on “standby” for many services, or that is used for multiple services at the same time. In either of these cases, it is difficult to allocate the cost of this equipment appropriately to individual CPT codes. Examples of “standby” equipment are crash carts, defibrillators, wheelchairs, and stretchers. Examples of equipment used for multiple procedures at the same time are cabinets, refrigerators, and autoclaves.

Following is the list of equipment that we are proposing to delete at this time from the CPEP inputs of all services: autoclave, wheelchair, refrigerator, film file cabinet, hazard material spill kit, embryo freezer, water system, flammable reagent cabinet, utility freezer, ultra low temperature freezer, acid cabinet, bulk storage refrigerator, abortion clinic security system, abortion clinic security guard, gomco suction machine, doppler, laser printer, lead shielding, defibrillator with cardiac monitor, blood pressure/pulseox monitor, blood pressure monitor, printer, crash cart—no defibrillator, and smoke evacuator.

The following is a list of equipment that we are proposing to delete as “standby” equipment for most codes, but that we believe typically may be used with a designated subset of procedures:

• X-ray view box—four panel (retain when currently in the CPEP data for codes in the range CPT codes 70010 through 79999).

• ECG machine—3 channel (retain when currently in the CPEP data for CPT codes 93000 through 93221).

• Pulse oximeter (retain when currently in the CPEP data for CPT codes 94620, 94621, 94680, 94681 and 94690; 94760 through 94770, 95807 through 95811 and 95819).

• ECG/blood pressure monitor—3 channel (retain when currently in the CPEP data for CPT codes 43200 through 43202 and 43234 through 43239).

• Cardiac monitor (retain when currently in the CPEP data for CPT codes 31615 through 31628).

• ECG-Burdick (except for HCPCS code G0166).

We welcome comments on this proposal and on any additional equipment that should not be considered a direct expense because the cost cannot appropriately be allocated to an individual service. Neither of these proposals to improve the CPEP equipment data have a significant impact on any specialty.

(5) CPEP Anomalies

In the November 1999 final rule, we made corrections to the CPEP data for a number of codes that we learned contained errors and anomalies that we could easily correct. Since that time, we have discovered some additional anomalies, and we are proposing to correct them at this time. As we stated in the final rule, though certain revisions may be made now, all practice expense inputs for these codes are still subject to further comment, refinement, and potential PEAC and RUC review and recommendations.

• We have identified several CPT codes that were not costed by the CPEP panels and were not assigned CPEP inputs. We are now crosswalking these services to the CPEP inputs of the most appropriate other service. The CPEP inputs for these codes are subject to refinement. We welcome comments on the crosswalks that we have chosen. The codes and their crosswalks are shown below:

CPT and HCPCS code | Crosswalk
27347 Remove knee cyst | 27345 Removal of knee cyst.
28289 Repair hallux rigidus | 28288 Partial removal of foot bone.
31643 Diag bronchoscope/catheter | 31629 Bronchoscopy with biopsy.
36831 Av fistula excision | 34111 Removal of arm artery clot.
36833 Av fistula revision | 36832 Av fistula revision.
45126 Pelvic exenteration | 58240 Removal of pelvis contents.
57106 Remove vagina wall, partial | 57110 Removal of vagina wall, complete.
57107 Remove vagina tissue, part | 57111 Remove vagina tissue, complete.
59610 Vbac delivery | 59400 Obstetrical care.
59612 Vbac delivery only | 59409 Obstetrical care.
59614 Vbac care after delivery | 59410 Obstetrical care.
59618 Attempted vbac delivery | 59410 Obstetrical care.
59620 Attempted vbac delivery only | 59514 Cesarean delivery only.
59622 Attempted vbac after care | 59515 Cesarean delivery.
67220 Treatment of choroid lesion | 67208 Treatment of retinal lesion.
76831 Echo exam, uterus | 76830 Echo exam, transvaginal.
78206 Liver image (3d) w/flow | 78205 Liver imaging (3D).

• The following services can be performed in the office, but either have no CPEP data for the office setting or have been assigned the same inputs as for the facility setting. Until these codes can be refined, we are proposing the following crosswalks for the in-office practice expense inputs so that costs in the office setting are appropriately reflected.

CPT code | Crosswalk
20225 Bone biopsy, trocar/needle | 20220 Bone biopsy, trocar/needle.
57105 Biopsy of vagina | 57100 Biopsy of vagina (for intraservice period)

• Because the following either are not performed in the office setting or because we do not have appropriate CPEP inputs for the in-office setting for these services, we are designating the following CPT and HCPCS codes as “N/A” in the office setting: 99183 (Hyperbaric oxygen therapy); 21493 (Treatment of hyoid bone fracture); 21494 (Treatment of hyoid bone fracture with manipulation); 32997 (Total lung lavage); 33968 (Remove aortic assist device); 66830 (Removal of lens lesion); 69990 (Micro-surgery add-on); 92961 (Cardioversion, electric, internal) and we are designating G0167 (Hyperbaric oxygen treatment; no physician required) as carrier priced.

• The TC for CPT code 93660 (Tilt table evaluation) is carrier priced, but we are proposing to price it nationally. Therefore, we are reinstating the original CPEP data.

• We are crosswalking all CPEP inputs for CPT code 44201 (Laparascopy, jejunostomy) from the inputs for CPT code 44200 (Laparoscopy, enterolysis) to reflect that it is a 90-day global service.

• We are adjusting the CPEP inputs for CPT codes 15001 (Skin graft add-on); 15351 (Skin hemograft add-on); and 15401 (Skin heterograft add-on) to reflect that these are ZZZ services.

• CPT code 00103 (Anesthesia for blepharoplasty), which was not costed by the anesthesia CPEP panel, was inadvertently crosswalked to the CPEP inputs of two different CPT codes. We are deleting the crosswalk to the procedure CPT code 21450 and will retain the crosswalk to the anesthesia CPT code 00140 (Anesthesia for procedures on eye).

• We believe that the supply inputs for the retrobulbar injection codes (CPT codes 67500, 67505, and 67515) have been inappropriately crosswalked by the CPEP panel from adjacent surgical procedure codes. After consultation with an ophthalmology specialty society, we have adjusted the supplies so that the list now includes one alcohol swab, one pair of nonsterile gloves, one 5-cc syringe, and one 25-gauge needle.

• In several of the in-office ophthalmology codes, the supply list includes the costs for 50 to 100 sterile towels. The specialty society has confirmed that this is a typographical error and that the quantity should not exceed five for any one visit or procedure. We have made the appropriate adjustments.

• The supply list for CPT code 68761 (Close tear duct opening by plug), currently does not include the costs of a punctal plug. We have received a comment from the specialty society representing optometrists requesting that we add this supply because it is typically used for this procedure. We agree with this comment and are proposing the addition of a punctal plug to the CPEP supplies. We have also deleted the inappropriate inputs from HCPCS code A4263, permanent tear duct plug.

• We have discovered a calculation error that affects the total cost of supplies for some of the codes for which the RUC made recommendations in 1999. We have made the appropriate corrections and are using the corrected values for this rule.

• We have adjusted the clinical staff and supply inputs for HCPCS code G0170, skin biograft, to reflect that it is a 10-day global service with one postprocedure visit.

After consultation with the specialty society, we have also adjusted the supplies for CPT code 53040, drainage of deep periurethral abscess, to correct for anomalies in the quantity of supplies between the in and out of office settings.

(d) Calculation of Practice Expense Pools—Other Issues.

(1) Technical Refinement to Practice Expense Pools

The Act requires payment of some practitioner services (services of certified registered nurse anesthetists, nurse practitioners, clinical nurse specialists, physician assistants, and certified nurse mid-wives) based on a percentage of the physician fee schedule payment amount. Since the payment under the physician fee schedule for a service performed by a midlevel practitioner is required to be based on a percentage of the amount paid to a physician for a service, we are proposing using only physician practice expense data in determining the practice expense RVUs for each practitioner service. Removal of the services performed by midlevel practitioners from the practice expense calculations would assist in simplifying the methodology and would also be consistent with the statutory requirement that we pay for their services based on a percentage of the fee schedule amount.

(2) Medicare Utilization Data

We have received comments from several surgical specialties urging us to evaluate the Medicare claims data to eliminate potential errors. (For example, claims for non-surgeons performing complex surgeries that are generally performed by surgical specialties only.) These commenters were concerned that incorrect specialty utilization will decrease a specialty's practice expense pool and recommended that these claims should either be reassigned to the appropriate specialty or excluded during refinement. To determine whether potential errors in the claim data have an adverse impact on any specialty or merely represent “noise” that creates no significant effect, we ran the following analyses:

First, we analyzed the utilization for CPT codes 63045 through 63048, the highest volume neurosurgical procedures performed by neurosurgeons. Our utilization data indicates that 91 percent of allowed services for these codes are performed by neurosurgeons and orthopedic surgeons. Of the 9 percent of allowed services when the utilization data indicates another specialty, 3 percent are attributed to general surgeons. An additional 2 percent are attributed to the HCFA specialty code for a clinic or other group practice, when it is likely that a surgeon who is a member of a multispecialty clinic is providing the surgical service. Of the remaining 4 percent of allowed services, the data indicates a specialty of general practice, family practice, or neurology.

For the utilization attributed to general and family practitioners, the data indicate that, in most cases, these physicians are serving as assistants-at-surgery. With respect to neurology (2 percent of the allowed services), we believe it is possible that a physician may practice as both a neurologist and neurosurgeon and designate neurology as the specialty for reporting on Medicare claims. For an insignificant percentage of the allowed services (under 1 percent of the allowed services for all remaining specialties combined), our data indicate a specialty that would not be expected to perform the neurosurgical procedure. In these cases, the incorrect CPT code might have been transcribed on the Medicare claim or the incorrect specialty code may have been reported. There was a similar pattern for services associated with other surgical specialties.

We then tested the impact of reassigning to the dominant specialty this small proportion of allowed services associated with specialties not expected to perform them. We selected three of the specialties that commented on the possibility of erroneous utilization data and identified the complete range of specialized codes associated with each specialty. We reassigned to each dominant specialty the utilization currently assigned to other specialties not expected to perform the services. In addition, to test the “worst-case” scenario, we then crosswalked all frequencies for their complete range of codes to the selected individual specialty.

Neurosurgery

When we recoded CPT codes 61000 through 64999 to neurosurgery only, the impact on neurosurgery was a 0.55-percent increase. When we recoded the specialty for only those specialties that would not be expected to provide CPT codes 61000 through 64999 (specialties other than neurosurgery, orthopedic surgery, group practice or physician assistant) to neurosurgery, the resulting impact on neurosurgery was a 0.69-percent increase. In reviewing the utilization data for this code range, we found services that are predominantly performed by radiologists and anesthesiologists (such as CPT code 62311). When we recoded only those services predominantly performed by neurosurgeons, the impact was even less.

Ophthalmology

When we recoded the specialty for all utilization in the range of CPT codes 65091 through 68899 to ophthalmology only, the impact on ophthalmology was 0.31 percent. When we recoded the specialty for only those specialties that would not be expected to provide CPT codes 65091 through 68899 to ophthalmology, the resulting impact on ophthalmology was a 0.32-percent increase.

Otolaryngology

When we recoded the specialty for all utilization in the range of CPT codes 69000 through 69979 to otolaryngology, the impact on otolaryngology was a −0.36 percent. When we recoded the specialty for only those specialties that would be expected to provide CPT codes 69000 through 69979 to otolaryngology, the resulting impact on otolaryngology was −0.35 percent.

We believe that these simulations exaggerate the potential impact of possible errors in the utilization data because, as discussed in the above analysis of CPT codes 63045 to 63048, our simulations likely reassigned the specialty in situations in which the specialty was correctly coded. In any case, in no scenario did the impacts even approach a 1-percent increase or decrease.

We also believe these simulations demonstrate that the small percentage of potential errors in our very large database have no adverse effect on specialty-specific practice expense RVUs. Therefore, we are not proposing any further action at this time.

(3) Allocation of Practice Expense Pools to Codes

The Lewin Group has recently begun the third phase of the project. This phase will concentrate specifically on evaluating the indirect cost allocation methodology. They will evaluate the validity of our current methodology that allocates indirect costs using direct costs and work RVUs and consider alternatives to allocating indirect costs by the current method. The Lewin Group will perform a variety of tasks during this phase of the project to evaluate the advantages and shortcomings of our current indirect cost allocation methodology, as well as of any alternative methodologies. The preliminary tasks for Phase III include—

• Analyzing the current indirect cost allocation methodology to identify its advantages and shortcomings;

• Considering alternate ways in which our methodology might weight direct costs and work RVUs in the allocation of indirect costs and predicting the effects of these alternatives;

• Evaluating the impact and value of changing the methodology to use time rather than work measurements to allocate indirect costs;

• Interviewing experts in the field on potential alternatives to the current indirect cost allocation methodology; and

• Reviewing other relevant efforts to allocate indirect costs associated with physician and non-physician practice expenses.

The Lewin Group's draft final report will present the findings from all three phases of The Lewin Group's analysis of our practice expense methodology. As mentioned above, we are planning to extend The Lewin Group's contract for another year to obtain additional assistance on issues related to practice expense refinement.

(e) Site of Service. Clarifying the Definition of Facility/Nonfacility.

For purposes of practice expense calculations, we make a distinction between services performed in a non-facility and a facility setting. This distinction takes into account the higher expenses of the practitioner in the non-facility setting when the practitioner typically bears the cost of the resources (for example, clinical staff, supplies, and equipment) associated with the services. In the facility setting, because these costs are not incurred by the physician, Medicare payment to the facility includes the cost of the resources for the services furnished. The purpose of the distinction in the site-of-service is to ensure that Medicare does not duplicate payment, to the physician and the facility, for any of the practice expenses incurred in performing a service for a Medicare patient.

For purposes of applying the site-of-service differential, we are defining hospitals, skilled nursing facilities, and ambulatory surgical centers as facilities because they will receive a facility payment for their provision of services. We have been advised that community mental health centers (CMHCs) should also be defined as a facility setting since CMHCs also receive a separate facility payment for their services. Therefore, we are proposing to revise § 414.22(b)(5)(i) (Practice expense RVUs) to add CMHCs to the settings listed in which we would apply the facility practice expense RVUs.

In addition, while we have indicated in previously published rules that the non-facility practice expense RVUs are applicable to outpatient therapy services (physical therapy, occupational therapy, and speech language pathology) furnished by comprehensive outpatient rehabilitation facilities or outpatient rehabilitation providers, there is confusion about this issue. Only the facility can bill for therapy services furnished to hospital and SNF patients. Because this facility payment must include amounts reflecting practice expenses, the higher nonfacility RVUs are used to pay for therapy services even in the facility setting. Therefore, we would amend § 414.22(b)(5)(i) to specifically provide that the nonfacility practice expense RVUs are applicable to outpatient therapy services regardless of the actual setting.

B. Geographic Practice Cost Index Changes

1. Background

The Act requires that payments vary among fee schedule areas according to the extent that relative costs vary as measured by the GPCIs. Generally, the fee schedule areas that existed under the prior reasonable charge system were retained under the fee schedule from calendar years 1992 to 1996. We implemented a comprehensive revision in fee schedule payment areas (localities) in 1997, reducing the number of localities from 210 to 89. A detailed discussion of fee schedule areas can be found in the July 2, 1996 proposed rule (61 FR 34615) and the November 1996 final rule (61 FR 59494). We are required by section 1848(e)(1)(A) of the Act to develop separate indices to measure relative cost differences among fee schedule areas compared to the national average for each of the three fee schedule components. While requiring that the practice expense and malpractice indices reflect the full relative cost differences, the Act requires that the work index reflect only one-quarter of the relative cost differences compared to the national average.

Section 1848(e)(1)(C) requires us to review and, if necessary, adjust the GPCIs at least every 3 years. This section of the Act also requires us to phase in the adjustment over 2 years and implement only one-half of any adjustment in the first year if more than 1 year has elapsed since the last GPCI revision.

The GPCIs were first implemented in 1992. The first review and revision was implemented in 1995, and the second review was implemented in 1998. This constitutes the third GPCI review and revision and will be implemented in 2001.

2. Development of the Geographic Practice Cost Indices

The GPCIs were developed by a joint effort of researchers at the Urban Institute and the Center for Health Economics Research under contract to HCFA. Indices were developed that measured the relative cost differences among areas compared to the national average in a “market basket” of goods. In this case, the market basket consists of the resources involved with operating a private medical practice. The resource inputs are physician work or net income; employee wages; office rents; medical equipment, supplies; malpractice insurance; and other miscellaneous expenses. Employee wages, rents, medical equipment, supplies, and other miscellaneous expenses are combined to comprise the practice expense component of the GPCI. The weights of these components in the original GPCIs (from 1992 through 1994), the first (1995 through 1997) and second (1998 through 2000) GPCI revisions, and the new weights for the third proposed GPCI revision (2001 through 2003) are as follows:

GPCI Component Weights
| 1992-1994 GPCIs | 1995-2000 GPCIs | 2001-2003 GPCIs
Physician Work | 54.2 | 54.2 | 54.5
Practice Expense | 40.2 | 41.0 | 42.3
(Employee Wages) | (15.7) | (16.3) | (16.8)
(Rent) | (11.1) | (10.3) | (11.6)
(Miscellaneous) | (13.4) | (14.4) | (13.9)
Malpractice | 5.6 | 4.8 | 3.2
| 100.0 | 100.0 | 100.0

The resource inputs and their weights were obtained from the AMA's Socioeconomic Characteristics of Medical Practice Survey. The weights for the 1992 through 1994 GPCIs were from the AMA's 1987 survey, the latest available when the original GPCIs were being developed. The weights for the 1995 through 1997 and 1998 through 2000 GPCIs were from the 1989 survey. The 1989 weights are those used in the revised Medicare Economic Index (MEI) discussed in the November 25, 1992 final rule (Medicare Program; Revision of the Medicare Economic Index) (57 FR 55899). The weights in the proposed 2001 through 2003 GPCIs are from the 1997 AMA survey and were used in the MEI revision discussed in November 2, 1998 final rule (Medicare Program; Revisions to Payment Policies and Adjustments to the Relative Value Units Under the Physician Fee Schedule for Calendar Year 1999) (63 FR 58846).

The MEI is a measure of annual increases in the cost of operating a private medical practice and is used in the annual update of the physician fee schedule CFs. Because the GPCIs and the MEI use the same resource inputs to measure the costs of a private medical practice (the GPCIs measure relative costs among areas while the MEI measures the national annual rate of increase in costs), we believe the same weights should be used.

Once the components and their weights were determined, data sources had to be found that were widely and consistently available in all physician fee schedule areas to measure costs. After examining many sources, the following proxies were selected as the best available sources for measuring each component of the original 1992 through 1994 GPCIs:

• Physician work—The median hourly earnings, based on a 20 percent sample of 1980 census data, of workers in six professional specialty occupation categories (engineers, surveyors, and architects; natural scientists and mathematicians; teachers, counselors, and librarians; social scientists, social workers, and lawyers; registered nurses and pharmacists; writers, artists, and editors) with 5 or more years of college. Adjustments were made to produce a standard occupational mix in each area. The actual reported earnings of physicians were not used to adjust geographical differences in fees because these fees are, in large part, the determinants of the earnings. We believe that the earnings of physicians will vary among areas to the same degree that the earnings of other professionals vary.

• Employee wages—Median hourly wages of clerical workers, registered nurses, licensed practical nurses, and health technicians were also based on a 20-percent sample of 1980 census data.

• Office rents—Residential apartment rental data produced annually by the Department of Housing and Urban Development (HUD) were used because there were insufficient data on commercial rents across all physician fee schedule areas.

• Miscellaneous expenses—The Urban Institute and the Center for Health Economics Research assumed that this component is represented by a national market and that costs do not vary appreciably among areas. This component's index is 1.000 for all areas to indicate no variation from the national average.

• Malpractice—Premiums in 1985 and 1986 for a mature “claims made” policy (a policy that covers malpractice claims made during the covered period) providing $100,000 to $300,000 of coverage were used. Adjustments were made to incorporate the costs of $1 million to $3 million coverage and mandatory patient compensation fund requirements. Premium data were collected for physicians in three risk classes—low-risk (general practitioners who do not perform surgery), moderate risk (general surgeons), and high-risk (orthopedic surgeons).

The areas selected for measurement purposes were the Metropolitan Statistical Areas (MSAs). Non-MSA areas within a State were aggregated into one residual area. Using MSAs for measurement satisfied the criteria of (1) homogeneity in resource input prices within the area, and (2) a size large enough so that market areas are self-contained to minimize border crossing; that is, physicians would not move their offices a few miles to secure higher payments and patients would tend to receive services within their area.

The Act requires, however, that the GPCIs reflect cost differences among fee schedule areas. Thus, it was necessary to map Medicare localities to the MSA and non-MSA aggregation of GPCI data. Where localities crossed MSA boundaries, MSA indices were converted to Medicare locality indices by population weights.

Detailed discussions of the methodology and data sources of the 1992 through 1994 GPCIs can be obtained by requesting the following studies from the National Technical Information Service by calling 1-800-553-NTIS or, for residents of Springfield, Virginia, (703) 487-4650.

• The Urban Institute report “The Geographic Medicare Index: Alternative Approaches,” NTIS PB89-216592.

• The supplement to “The Geographic Medicare Index: Alternative Approaches,” NTIS PB91-113506. This was published in the September 4, 1990 notice for the model fee schedule (55 FR 36238).

• The Urban Institute report, “Refining the Malpractice Geographic Practice Cost Index,” February 1991, NTIS PB91-155218. The related diskette is NTIS PB91-507491. This is the final version of the 1992 through 1994 GPCIs as published in the November 1991 final rule (56 FR 59785).

3. Revised 1995 Through 1997 Geographic Practice Cost Indices

The main criticism of the original GPCIs was that they were outdated because they were based on old data; for example, 1980 census data and 1985 and 1986 malpractice premiums. This was, however, the most recent data available when the GPCIs were established. The revised 1995 through 1997 GPCIs were based on the most current data available when they were developed in 1993 and 1994.

We made some minor changes from the original GPCI methodology in calculating some of the revised 1995 through 1997 indices. One methodological change was made that applied across all indices. As mentioned earlier, under the original GPCIs, where Medicare localities crossed MSA boundaries, MSA indices were converted to locality indices by population weights. Medicare expenditure weights were not used because the expenditures under the reasonable charge system contained large differences unrelated to relative cost differences among areas. In calculating the revised GPCIs, where localities crossed MSA boundaries, locality indices were calculated by weights based on the proportion of localities' RVUs provided in each MSA to reflect relative cost differences among areas. Full fee schedule RVUS were used rather than actual 1993 payments because 1993 fee schedule payments still reflected some reasonable charge payment levels. The advantages of RVU weighting are (1) the GPCIs more closely reflect physician practice costs in the area where the services are provided rather than where the population lives, and (2) budget neutrality is preserved when we combine multiple localities into larger areas, such as statewide localities.

a. Work Geographic Practice Cost Indices. Data from the 20-percent sample of census data of median hourly earnings for the same six categories of professional specialty occupations as used in the 1992 through 1994 work GPCIs were used in calculating the 1995 through 1997 work GPCIs. The 1992 through 1994 work GPCIs were calculated using 1980 census data of earnings for professionals with 5 or more years of college. That sample was no longer available with the 1990 census. The 1990 census educational classifications were by highest degree earned and not by years of schooling as in the 1980 census. Thus, it was not possible to obtain earnings data that exactly compared to the 1980 data.

For 1990, data were available for all-education and advanced-degree samples, but not for 5 or more years of college. We elected to use the all-education sample because its larger sample sizes made it more stable and accurate in the less populous areas. Although it could be argued that physicians' earnings might more closely approximate the earnings of professionals with advanced degrees, the differences between the all-education and advanced-degree indices were negligible in all but a few of the smallest localities. We believed that the small sample sizes of advanced-degree occupations in these small localities may produce inaccurate results.

The 1992 through 1994 work GPCIs used metropolitan-wide median wages for each county within an MSA. That is, all counties within an MSA were assigned the MSA-wide median wage even if there were wage variations within the MSA. We believed that this was appropriate for all but Consolidated Metropolitan Statistical Areas (CMSAs), the largest of the MSAs, such as New York. In these CMSAs, we replaced metropolitan-wide earnings with county-specific earnings. We believed this change was appropriate because costs were, in fact, higher in central city areas (for example, Manhattan and San Francisco) than in the rest of the CMSA. County earnings better account for cost variation within these large metropolitan areas.

b. Practice Expense Geographic Practice Cost Indices. (1) Employee Wage Indices. Data from the 20-percent sample of census data of median hourly earnings for the same categories of medical and clerical occupations used in the 1992 through 1994 practice expense GPCIs were used in the 1995 through 1997 practice expense GPCIs. The 1995 through 1997 practice expense GPCIs used 1990 rather than 1980 census data. As with the work GPCIs, county level data were used for CMSAs to better reflect the cost variations within these large metropolitan areas.

(2) Rent Indices. As with the original rent indices, the HUD fair market rental (FMR) data for residential rents were again used as the proxy for physician office rents. The 1995 through 1997 practice expense GPCIs reflect 1994 HUD FMRs. Like the work GPCI and the employee wage index of the practice expense GPCIs, county level data were used in CMSAs to recognize the variations within the CMSA.

The major criticism of the rent indices was that residential rather than commercial rent data were used. As mentioned earlier, for constructing the GPCIs, we needed data that were widely and consistently available across all physician fee schedule areas. As with the original GPCIs, we again searched for private sources of commercial rent data that were widely and consistently available.

The private sources we found were not adequate. None of the sources collected data for nonmetropolitan areas, nor did any collect data for all metropolitan areas. The sources did not reflect the average commercial space in the area, but rather the particular type of space most relevant to the needs of a particular source's clients. In addition, the sample sizes were small. A comparison of the average rental for any particular city showed significant variation depending upon the source. Also, the private commercial rent data tended to be for very high priced real estate of the type likely to be used by large institutions such as banks, insurance companies, or financial firms and not for the type of office space used by physicians.

Among the sources of commercial rent data available, the most promising were data from the Building Owners and Managers Association, the General Services Administration, and the U.S. Postal Service. These data were analyzed in depth. We did not use data from the Building Owners and Managers Association and the General Services Administration because of poor geographic coverage, especially outside of large metropolitan areas. That is, data were not widely and consistently available for all physician fee schedule areas. The U.S. Postal Service data had much better geographic coverage, but sample sizes in many areas were unacceptably small and could have led to erroneous results.

No acceptable national commercial rent data are readily available for physician office rents. Thus, some proxy must be used for this portion of the index. In addition, commercial rent data are not available for all areas from published statistical sources.

We believe that the HUD FMR data remain the best available data for constructing the office rental index. They are available for all areas, are updated on an annual basis, and are consistent among areas and from year to year. Moreover, physicians are frequently located in areas and office space that are residential rather than commercial (for example, in apartment complexes and small strip commercial centers adjacent to residential areas).

(3) Medical Equipment, Supplies, and Miscellaneous Expenses. As mentioned earlier, the GPCI assumes that this component has a national market and that input prices do not vary among geographic areas. We were unable to find any data sources that demonstrated price differences by geographic area. Anecdotal and interview data from suppliers and manufacturers were inconclusive. While some price differences may exist, they are more likely to be based on volume discounts rather than on geographic areas. Generally, it appears that manufacturers' prices do not vary among areas except for shipping costs. Since manufacturers and suppliers are located all over the country, shipping costs on the mainland do not vary significantly.

We did consider an add-on for shipping costs to Alaska, Hawaii, and Puerto Rico to recognize the added shipping distance. We decided against the add-on because there were no data to indicate how much the costs of shipping medical equipment and supplies to these areas increased their total costs. We were able to ascertain that commercial shippers like United Parcel Service and Federal Express generally charge about 10 percent more to ship to Puerto Rico and about 20 percent more to ship to Alaska and Hawaii from the mainland.

Medical equipment and supplies represent about 7 percent of physician practice costs. Even assuming that shipping costs represent 5 percent of total equipment and supply costs, which we believe to be a high estimate, recognizing a 20 percent increase in shipping costs would only increase payment levels by 0.07 percent or 0.0007 (.20 × .05 × .07 = .0007). The medical equipment, supplies, and miscellaneous expense index for all areas continued to be 1.000 in the revised 1995 through 1997 GPCIs.

c. Malpractice Geographic Practice Cost Indices. Again, malpractice premium data for a $1 million to $3 million mature “claims made” policy were collected, with mandatory patient compensation funds considered. However, more recent and more comprehensive malpractice insurance data were used in calculating the 1995 through 1997 malpractice GPCIs. The 1995 through 1997 malpractice GPCIs were based on 1990 through 1992 premium data. Malpractice premiums are very volatile and may change significantly from year to year. We decided to use the most recent 3-year average available rather than just the most recent single year to smooth out this volatility and present a more accurate indication of malpractice premium trends over time.

We collected data on more specialties and from more insurers. We collected data on 20 specialties, rather than on only three as in the 1992 through 1994 malpractice GPCIs. The 1992 through 1994 malpractice GPCI data were largely drawn from a single nationwide insurer (St. Paul Fire and Marine) and were supplemented by several State-specific carriers in States in which St. Paul did not offer coverage. Subsequent analyses suggest that these data were not representative of insurers operating in many States. For the revised malpractice GPCI, data were collected from insurers that, on average, represented 82 percent of the market in each State, with the lowest State market share being 60 percent. We believe that the more recent and much more comprehensive data greatly improved the accuracy of the malpractice GPCIs for 1995 through 1997.

Detailed discussions of the methodology and data sources of the 1995 through 1997 GPCIs can be obtained by requesting the following studies from NTIS by calling 1-800-553-NTIS, or (703) 487-4650 in Springfield, Virginia:

• “Updating the Geographic Practice Cost Index: Revised Cost Shares.” Debra A. Dayhoff, John E. Schneider, and Gregory C. Pope. NTIS PB94-161072.

• “Updating the Geographic Practice Cost Index: The Physician Work GPCI.” Gregory C. Pope and Deborah A. Dayhoff. NTIS PB94-161080.

• “Updating the Geographic Practice Cost Index: The Practice Expense GPCI.” Gregory C. Pope, Deborah A. Dayhoff, Angella R. Merrill, and Killard W. Adamache. NTIS PB94-161098.

• “Updating the Geographic Practice Cost Index: The Malpractice GPCI.” Stephen Zuckerman and Stephen Norton. NTIS PB94-161106.

4. Revised 1998 Through 2000 Geographic Practice Cost Indices

The same data sources and methodology used for the 1995 through 1997 GPCIs were used for the revised 1998 through 2000 GPCIs with a few very minor modifications. No acceptable additional data sources were found. The cost shares were the same as in the 1995 through 1997 GPCIs because no changes were made in the MEI weights.

Indices for fee schedule areas are based on the indices for the individual counties within the fee schedule area. Fee schedule RVUs are again used to weight the county indices (to reflect volumes of services within counties) when mapping to fee schedule areas and in constructing the national average indices. However, we used more recent data, 1994 rather than 1992 RVUs, in the county, locality, and national mapping in the proposed GPCIs. The payment effect of this is negligible in most cases and generally results in changes at the third decimal point if at all.

a. Work Geographic Practice Cost Indices. The work GPCIs are based on the decennial census. The 1992 through 1994 work GPCIs were based on 1980 census data because 1990 census data were not yet available. The work GPCIs were revised in 1995 with new data from the 1990 census. New census data will not be available again until after the 2000 census. We searched for other data that would enable us to update the work GPCIs between the decennial censuses but no acceptable data sources were found. The most promising sources of data were the hospital wage data that we collected to calculate the prospective payment system (PPS) hospital wage index and the payroll per worker data collected by the U.S. Bureau of Labor Statistics from State unemployment insurance agencies (“the ES-202 data”).

The PPS hospital wage data were examined when we constructed the original GPCIs. They were rejected in favor of census data because of their lack of an occupation mix adjustment and their unrepresentative occupational composition (hospital employees rather than professionals or physician office employees). ES-202 data consist of total payroll divided by counts of wage and salary workers. Their major disadvantages were that they did not measure hourly earnings, only payroll per employee, and no occupational detail is available. Also, they did not adjust for part-time or full-time and hours worked, and the numbers of workers are small for certain States, leading to unstable estimates of payroll per worker. We compared the changes by State from 1989 to 1993 in the PPS wage data and the ES-202 data to see if there was any correlation between the two series. The correlation between the two was only moderate: 0.55. The changes indicated by both series were generally small, for example, a few percentage points. The difference between the two series by State was in many cases as large as, or greater than, the change indicated by either series. The average difference between the two series (2.1 percent) is as large as the change indicated by either series. In addition, changes for particular States were substantially different between the two series. For example, Indiana relative wages rose by 1.9 percent according to the PPS data, but fell 5.7 percent according to the ES-202 data.

Since we were unable to find an acceptable data source for updating the work GPCIs, we examined the consequences of not updating the work GPCIs between the decennial censuses. We compared the changes between the 1992 through 1994 work GPCIs, based on the 1980 census and the 1995 through 1997 GPCIs, based on the 1990 census. On average, the full variation State work GPCIs changed by about 5 percent. This translates to about a 1.2 percent change in the quarter work GPCI required by law. Since work makes up about one-half of the GPCI cost shares, this translates into an average payment change per State of about 0.6 percent from updating the work GPCI based on the 10-year change in relative wages indicated by the census data. Even the maximum change in the full variation State work GPCIs from the 1992 through 1994 to the 1995 through 1997 GPCIs of 14 percent translates into only about a 1.8 percent change in payments. The largest full work GPCI changes for individual payment areas were from 16 to 20 percent, or about a 4 to 5 percent change in the quarter work GPCI, or about a 2.4 percent change in payments. However, 80 percent of payment areas experienced payment changes of less than 1 percent, and 50 percent of payment localities experienced payment changes of less than 0.5 percent as a result of changes in the census data from 1980 to 1990.

We, therefore, made no changes in the 1998 through 2000 work GPCIs from the 1995 through 1997 work GPCIs, other than the generally negligible changes resulting from using 1994, rather than 1992, RVUs for this GPCI update because we were unable to find acceptable data for use between the decennial censuses. We believe that making no changes is preferable to making inaccurate changes based on unacceptable data. We believe that this is a reasonable position given the generally small magnitude of the changes in payments resulting from the changes in the work GPCIs from the 1980 to the 1990 census data.

b. Practice Expense Geographic Practice Cost Indices. (1) Employee Wage Indices. As with the work GPCIs, the employee wage portion of the practice expense GPCIs is based on decennial census data. For the same reasons discussed above pertaining to the work GPCIs, we made no changes in the employee wage indices during the 1998 through 2000 GPCI update. The average change from the 1992 through 1994 to the 1995 through 1997 employee wage indices across States was about 6 percent. Since the employee wage index had a weight of about 16 percent in the GPCI cost shares, this translated into a 1 percent average change in payments. The maximum payment change in any payment area resulting from changes from the 1992 through 1994 to the 1995 through 1997 employee wage indices was about 3.2 percent. Payment changes in over two-thirds of the payment areas were less than 1 percent.

(2) Rent Indices. The office rental indices were again based on HUD residential rent data. The rental indices were based on 1996 HUD data as opposed to the 1994 HUD data in the 1995 through 1997 GPCIs. HUD made two small methodological changes in developing the data. First, HUD used the 40th percentile of area rents rather than the 45th percentile. This did not materially affect the GPCIs, which measure relative rents among areas. Second, HUD established a rental floor for rural counties at the statewide rural average. This had the effect of raising the office rental indices slightly in rural areas.

We made one methodological change in the rent indices. HUD publishes FMRs only for metropolitan areas as a whole. For the 1995 through 1997 GPCIs, HUD used a special tabulation of the 1990 census data to allocate rents by county within CMSAs. In some metropolitan areas, this had the effect of reducing the central city index below the suburban index, probably because of lower unmeasured housing quality in central cities than in suburbs. This may not have been the best indicator of relative physician rents, since the GPCIs are intended to measure rental costs for offices of similar quality in different areas. The metropolitan-wide rent is most appropriate for measuring the cost of space of an average quality across the metropolitan area, which is why HUD publishes only metropolitan-wide FMRs. Also, the census county adjustments can be updated only once every 10 years. For this reason, we believed that the county-specific adjustment should not be made for all large metropolitan areas, but should be retained only for the New York City Primary MSA. Available evidence suggested that rents vary substantially among the boroughs of New York City and that, given the current locality configuration, the county-specific rental adjustment appropriately reflected these patterns in the New York City area, especially the higher rents in Manhattan.

(3) Medical Equipment, Supplies, and Miscellaneous Expenses. As with the 1992 through 1994 and 1995 through 1997 GPCIs, this component was given a national value of 1.000, indicating no measurable difference among areas in costs.

c. Malpractice Geographic Practice Cost Indices. Again, malpractice premium data were collected for a mature “claims made” policy with $1 million to $3 million limits of coverage, with adjustments made for mandatory patient compensation funds. As with the 1995 through 1997 GPCIs, data were collected for the 20 largest Medicare-billing physician specialties. The premium data represent at least 50 percent of the market in each State. Again, we used an average of the 3 most recent premium years to smooth out the considerable year-to-year fluctuations that can occur in malpractice premiums. The revised 1998 through 2000 malpractice indices were based on 1992 through 1994 premium data, the latest years available when the Health Economics Research (HER) GPCI study was being conducted in 1995 through 1996. Another change from the 1995 through 1997 indices is that we weighted the specialty shares of the 20 specialties by fee schedule RVUs rather than allowed charges.

Detailed discussions of the methodology and data sources of the 1998 through 2000 GPCIs may be obtained by requesting the following study from NTIS by calling 1-800-533-NTIS, or, for residents of Springfield, Virginia, (703) 487-4650: “Second Update of the Geographic Practice Cost Index.” Gregory C. Pope and Killard W. Adamache.

5. Proposed 2001 Through 2003 Geographic Practice Cost Indices

We propose using the same data sources and methodology used for the 1998 through 2000 GPCIs for the 2001 through 2003 GPCIs (hereafter referred to as proposed GPCIs). No acceptable additional data sources were found. The only differences between the 1998 through 2000 GPCIs and the proposed GPCIs are in the cost shares and RVU weighting. As shown in the cost share table in the discussion of the development of the GPCIs, the cost shares have been changed to reflect the revisions in the MEI. This does not affect the work or malpractice GPCIs since they are stand-alone indices. The change has a small effect on the practice expense GPCIs because it changes slightly the weights among the employee wage, rents and miscellaneous components of the practice expense index. We used more recent RVU data—1998 rather than 1994—in the county, locality, and national mapping in the proposed GPCIs. The payment effect of this is generally negligible.

a. Work Geographic Practice Cost Indices. For the same reasons discussed in the section on the 1998 through 2000 work GPCIs, no significant changes are being proposed in the 2001 through 2003 work GPCIs because we were unable to find acceptable data for use between the decennial censuses. There are general negligible changes resulting from the use of 1998 rather than 1994 RVUs for weighting.

b. Practice Expense Geographic Practice Cost Indices. (1) Employee Wage Indices. As with the work GPCIs, the employee wage indices are based on decennial census data. For the same reasons discussed above pertaining to the work GPCIs, we are proposing no changes in the employee wage indices during this GPCI update.

(2) Rent Indices. The office rental indices are again based on HUD residential rent data. No changes have been made in the methodology. The proposed rental indices are based on 2000 rather than 1994 HUD data.

The proposed rental indices are compared to the current rental indices in Addendum D. A reduction in an area's rent index does not necessarily mean that rents have gone down in that area since the last GPCI update. Since the GPCIs measure area costs compared to the national average, a decrease in an area's rent index means that an area's rental costs have decreased when compared to the change in national average rental costs. The indices are arranged in descending order of change. The rental index has a cost share of about 12 percent of the GPCI. This means that the actual effect on payments will be about 12 percent of the change in the rental indices. While the new rental indices show significant changes in a few areas, primarily in the San Francisco Bay area, 80 of the 89 areas change by less than 10 percent, which translates into about a 1 percent change in payments.

(3) Medical Equipment, Supplies, and Miscellaneous Expenses. As with all previous GPCIs, this component would be given a national value of 1.000, indicating no measurable differences among areas in costs.

c. Malpractice Geographic Practice Cost Indices. We propose using the same methodology described in the 1998 through 2000 malpractice GPCI section in the proposed malpractice GPCIs for 2001 through 2003. The only difference is that we used more recent data. The proposed malpractice indices are based on 1996 through 1998 data compared to the 1992 through 1994 data used in the previous GPCI update.

Addendum E shows the changes from the 1998 through 2000 indices to the proposed malpractice GPCIs. A change in an area's malpractice GPCI does not mean that absolute malpractice premiums have changed by that amount. It, rather, reflects the area's new position compared to the national average. As with past GPCI revisions, the changes in the proposed malpractice GPCIs are relatively large in some cases, reflecting the significant changes in malpractice premiums that occur from year to year. As Addendum E shows, two-thirds of the payment areas experience changes of less than 12 percent. It should be noted, however, that the weight of the malpractice GPCI is only about 3 percent of the total GPCI. Therefore, a 12 percent change in the malpractice GPCI translates into only a 0.4 percent change in payments. Even the largest 42 percent change in the malpractice GPCI translates into only a 1.3 percent change in payments. The mean change in the malpractice GPCIs is 11 percent, or about a 0.4 percent change in payments.

The proposed 2002 fully-effective revised GPCIs and the transitional 2001 revised GPCIs can be found at Addendum F and Addendum G, respectively. Since the proposed revised GPCIs could result in total payments either greater or less than payments that would have been made if the GPCIs were not revised, it was necessary to adjust the GPCIs for budget neutrality as required by law. Therefore, we adjusted the 2001 through 2002 GPCIs as follows: work by 0.99699; practice expense by 0.99235; and malpractice by 1.00215.

C. Resource-Based Malpractice Relative Value Units

In the July 1999 proposed rule (64 FR 39610) and the November 1999 final rule (64 FR 59383) for the CY 2000 physician fee schedule, we discussed the methodology used to calculate resource based malpractice RVUs and proposed interim RVUs effective January 1, 2000. (See “Legislative History” section for dates and Federal Register citations for these rules.) The methodology can be briefly summarized as follows:

• Actual malpractice premium data were collected for the top 20 Medicare physician specialties.

• All Medicare specialties were mapped to insurer rating classes (ISO codes).

• A national average premium was calculated for every specialty.

• Specialty risk factors showing the relative malpractice costs among specialties were created by dividing each specialty national average premium by the lowest average premium.

• Specialty-weighted malpractice RVUs were calculated for each procedure by summing, for all specialties providing the procedure, the product of each specialty's risk factor times the proportion of total service count for that procedure provided by the specialty.

• This number was multiplied by the procedure's work RVUs to account for differences in risk-of-service among procedures.

• The new malpractice RVUs were adjusted by the appropriate factor to attain budget neutrality.

The malpractice RVUs were based on 1993 through 1995 premium data, the most recent premium data readily available. In last year's proposed and final rules we stated that we planned to collect more recent data, but did not expect that newer data would change the values significantly since malpractice premiums have been remarkably stable in recent years.

We have now obtained, and are currently examining, malpractice premium data for 1996 through 1998. The malpractice RVUs in the fall final rule will reflect the newer data. While we have not yet completed the proposed malpractice RVU calculations, the table below compares the 1993 through 1995 average premiums (that were used to calculate the 2000 malpractice RVUs) with the 1996 through 1998 average premiums (that will be used to calculate the 2001 malpractice RVUs). As the table below shows, there was very little change in the national average premiums from 1993 through 1995 to 1996 through 1998. We, therefore, anticipate minimal changes in malpractice RVUs from use of the more recent data.

In addition, in response to comments received on last year's rules, we are proposing to accept a comment regarding crosswalking specialties. We are proposing to crosswalk surgical oncology to general surgery rather than to all physicians. The malpractice values to be included in the final rule reflecting the updated data will remain interim.

D. Critical Care Relative Value Units

In the November 1999 final rule (64 FR 59423), we established interim work RVUs for CPT codes 99291 and 99292 (critical care services) of 3.6 and 1.8, respectively, which were decreased from the previous RVUs for these services. These work RVUs were established because of the change in the CPT definition of critical care services in CPT 2000. We also discussed in detail what changes in the definition most concerned us. We received many comments on the interim work RVUs for critical care.

This year we proposed new coding language to the AMA CPT Editorial Panel (the Panel) to resolve physician concerns. The Panel, with input from various specialty societies, accepted the language that we proposed with some modifications. The AMA has given us copyright permission to publish the introduction for CPT codes 99291 and 99292 as it will appear in CPT 2001. For CPT 2001, the introduction for critical care services will be as follows (new language in italics):

Critical care is the direct delivery by a physician(s) of medical care for a critically ill or critically injured patient. A critical illness or injury acutely impairs one or more vital organ systems such that there is a high probability of imminent or life threatening deterioration in the patient's condition. Critical care involves decision making of high complexity, to assess, manipulate, and support vital system function(s) to treat single or multiple vital organ system failure and/or to prevent further life threatening deterioration of the patient's condition. Examples of vital organ system failure include, but are not limited to: central nervous system failure, circulatory failure, shock, renal, hepatic, metabolic and/or respiratory failure. Although critical care typically requires interpretation of multiple physiologic parameters and/or application of advanced technology(s), critical care may be provided in life threatening situations when these elements are not present. Critical care may be provided on multiple days, even if no changes are made in the treatment rendered to the patient, provided that the patient's condition continues to require the level of physician attention described above.

Providing medical care to a critically ill, injured, or post-operative patient qualifies as a critical care service only if both the illness or injury and the treatment being provided meet the above requirements. Critical care is usually, but not always, given in a critical care area, such as the coronary care unit, intensive care unit, pediatric intensive care unit, respiratory care unit, or the emergency care facility. Critical care services provided to infants older * * * [no change to this paragraph]

Services for a patient who is not critically ill but happens to be in a critical care unit are reported using other appropriate E/M codes.

Critical care and other E/M services may be provided to the same patient on the same date by the same physician.

The following services are included in reporting critical care when performed during the critical period by the physician(s) providing critical care: the interpretation of cardiac output measurements (93561,93562), chest x-rays (71010, 71015, 71020), pulse oximetry (94760, 94761, 94762), blood gases, and information data stored in computers (eg, ECGs, blood pressures, hematologic data (99090); gastric intubation (43762, 91105); temporary transcutaneous pacing (92953); ventilator management (94656, 94657, 94660, and 94662); and vascular access procedures (36000, 36410, 36415, 36540 and 36600). Any services performed which are not listed above should be reported separately.

The critical care codes 99291 and 99292 are used to report the total duration of time spent by a physician providing critical care services to a critically ill or critically injured patient, even if the time spent by the physician on that date is not continuous. For any given period of time spent providing critical care services, the physician must devote his or her full attention to the patient and, therefore, cannot provide services to any other patient during the same period of time.

Time spent with the individual patient should be recorded in the patient's record. The time that can be reported as critical care is the time spent engaged in work directly related to the individual patient's care whether the time was spent at the immediate bedside or elsewhere on the floor or unit. For example, time spent on the unit or at the nursing station on the floor reviewing test results or imaging studies, discussing the critically ill patient's care with other medical staff or documenting critical care services in the medical record would be reported as critical care, even though it does not occur at the bedside. Also, when the patient is unable or clinically incompetent to participate in discussions, time spent on the floor or unit with family members or surrogate decision makers obtaining a medical history, reviewing the patients condition or prognosis, or discussing treatment or limitation(s) of treatment may be reported as critical care, provided that the conversation bears directly on the management of the patient.

Time spent in activities that occur outside of the unit or off the floor (eg, telephone calls, whether taken at home, in the office, or elsewhere in the hospital) may not be reported as critical care since the physician is not immediately available to the patient. Time spent in activities that do not directly contribute to the treatment of the patient may not be reported as critical care, even if they are performed in the critical care unit (eg, participation in administrative meetings or telephone calls to discuss other patients). Time spent performing separately reportable procedures or services should not be included in the time reported as critical care time.

The remainder of the introduction as published in CPT 2000, as well as the descriptors for the two CPT codes (99290 and 99291), remains unchanged.

Adoption of this revised introduction for the critical care CPT codes 99291 and 99292 is consistent with our view of the appropriate intensity of these services and addresses the concerns we had raised in the November 1999 final rule. Therefore, based on implementation of this revised introduction for critical care services for CY 2001, we are proposing to value the physician work at 4.0 RVUs for CPT code 99291 and 2.0 RVUs for CPT code 99292.

In addition, consistent with our discussion in the proposal for electrical bioimpedance (EB) (see section II.H), we are proposing to not allow separate Medicare payment for EB when provided in conjunction with critical care services (CPT codes 99291 and 99292).

E. Care Plan Oversight and Physician Certification/Recertification

The Panel considered changes to the definition of care plan oversight for 2001. After analyzing the definition changes, we are concerned that these codes (CPT codes 99375 and 99378) will no longer be consistent with our coverage criteria.

In anticipation of the likely CPT revisions, we would establish two new HCPCS codes for care plan oversight that are consistent with our coverage criteria. For the 2001 physician fee schedule, we would establish a new HCPCS code Gxxx1, that will use the CPT 2000 definition associated with CPT code 99375 and a new HCPCS code Gxxx2, that will use the CPT 2000 definition associated with CPT code 99378. The current policy guidance that applied to CPT codes 99375 and 99378, including our past responses to questions on care plan oversight, will continue to apply to these G codes. The current payments for CPT codes 99375 and 99378 will be maintained in Gxxx1 and Gxxx2.

In addition, we would establish two new HCPCS codes (Gxxx3 and Gxxx4) to describe the services involved in physician certification (and recertification) and development of a plan of care for a patient for whom the physician has prescribed Medicare-covered home health services. The proposed text of the new codes will read as follows:

Gxxx3 | Physician services for initial certification of Medicare-covered services by a home health agency, per patient's home health certification period.

This code would be used when the patient has not received Medicare-covered home health services for at least 60 days.

Gxxx4 | Physician services for recertification of Medicare-covered services by a home health agency, per patient's home health certification period

This code would be used after a patient has received services for at least 60 days (or one certification period) when the physician signs the certification after the initial certification period.

The use of these HCPCS codes (Gxxx3 and Gxxx4) would be restricted to physicians who are permitted to certify that home health services are required by a patient pursuant to section 1814(a)(2)(C) and section 1835(a)(2)(A) of the Act. The Gxxx3 code would be billed only once every 60 days, except in the rare situation when the patient starts a new episode before 60 days elapses and requires a new plan of care to start a new episode. Consistent with section 1835(a)(2) of the Act, a physician who has a significant ownership interest in, or a significant financial or contractual relationship with a home health agency (HHA), generally cannot bill this code for patients served by that HHA.

For services within the episode (generally beyond the first week or two of care plan implementation) that are consistent with the definition of care plan oversight (HCPCS code Gxxx1), the care plan oversight code (CPT code 99375) would be used.

Because we believe that the physician work associated with HCPCS code Gxxx3 equates to that of a level 3 established patient office visit (CPT code 99213), we are proposing a value of .67 for the work RVUs. For Gxxx4, because we believe the work equates to a level 2 established patient office visit (CPT code 99212), we are proposing a value of .45 for the work RVUs. For practice expense RVUs, we are proposing to crosswalk both Gxxx3 and Gxxx4 to the practice expense inputs currently used for care plan oversight (CPT code 99375).

F. Observation Care Codes

In 1998, the AMA added new CPT codes 99234 to 99236, Observation or inpatient hospital care services (including the admission and discharge services) for a patient on the same date. We accepted the RUC recommendations for work RVUs for these new codes. The work RVUs for each code are the sum of the applicable admission work for CPT codes 99218 to 99220 (or CPT codes 99221 to 99223) plus the discharge work (CPT codes 99217 or 99238). For example, CPT code 99234 has 2.56 work RVUs, which is the sum of the work RVUs for CPT code 99221 (1.28) plus the work RVUs for CPT code 99217 (1.28). However, it has come to our attention that allowing payment for these CPT codes conflicts with two policies currently in the Medicare Carrier Manual (MCM).

Section 15505.1(c) of the MCM states that we will pay for only the initial hospital care service code when a patient is admitted as an inpatient and discharged on the same day. Physicians are not paid for both an inpatient hospital admission and hospital discharge management on the same day. In addition, section 15504.b of the MCM instructs that CPT codes 99218 to 99220 (Initial observation care) should be used if the patient is discharged on the same day as the admission for observation because each of these codes represents a full day of care and, thus, paying for a code representing both admission and discharge on the same day would be duplicative. CPT code 99217 (Observation care discharge) may be billed only on the second or subsequent days in observation.

These two payment policies result in different payments for patients whose inpatient stay is less than 24 hours based solely on whether they were in the hospital at midnight. For example, a physician who admits a patient to observation or to inpatient care at 8 a.m. and then discharges the patient at 8 p.m. the same day, would be allowed payment for only the admission service. On the other hand, a physician who admits a patient to observation or to inpatient care at 8 p.m. and then discharges the patient at 8 a.m. the next day, would be allowed payment for both the admission and discharge services.

In response to these concerns, and to clarify our payment policy, we are proposing the following:

Inpatient stay of 24 hours or more—We would pay for both inpatient hospital admission services (CPT codes 99221 to 99223) and hospital discharge services (CPT codes 99238 to 99239) when a patient is a hospital inpatient for a period of 24 hours or more. The medical record must document that the patient was an inpatient for at least 24 hours for both of these services to be paid.

Inpatient or observation stay of less than 8 hours—If a patient is admitted as a hospital inpatient or an observation patient for less than 8 hours, we would pay for only the admission service (CPT codes 99221 to 99223 or 99218 to 99220) on that day. The discharge service is not considered to be a separately billable service.

Inpatient or observation stay of 8 or more hours, but less than 24 hours—If a patient is admitted as a hospital inpatient or an observation patient for a period of 8 or more hours, but less than 24 hours, we would pay for both the admission and discharge services under CPT codes 99234 to 99236 with the following proposed physician work RVUs and documentation requirements:

Physician Work RVUs—To properly value both the admission and discharge work of these services, we are proposing to continue valuing the admission portion of the physician work as equivalent to CPT codes 99218 to 99220 (or CPT codes 99221 to 99223), but to reduce the discharge work RVUs from 1.28 to 0.67. This would make the discharge portion of the work equal to the work for CPT code 99213 (Office or other outpatient visits) instead of CPT code 99217 (or CPT code 99238). Thus, the proposed work RVUs would be as follows: CPT code 99234—1.95 RVUs; CPT code 99235—2.81 RVUs; CPT code 99236—3.66 RVUs. We would not pay CPT codes 99217, 99238, and 99239 for hospital inpatient or observation admissions between 8 and 24 hours in length.

Our reasoning for these proposed RVUs is that we believe that the physician work typically required for discharging an inpatient or observation admission patient after a period of at least 8 hours, but less than 24 hours, is less than that required for an admission of 24 hours or more. The typical work (for example, history, physical examination, and medical decision making) and the typical face to face time required to discharge such a patient is comparable to the requirements for CPT code 99213. Moreover, the typical time for CPT code 99238 is up to 30 minutes and the physician work is 1.28 RVUs, so a clear work anomaly would be created if we made the work value of discharging a patient with a stay of less than 24 hours identical to the work of discharging a patient with a length of stay of 24 hours or more.

Our proposal would avoid creating such a rank order anomaly and would place admission and discharge valuation in proper order. For example, for observation stays of less than 8 hours, we would pay only the admission portion and would not pay separately for the discharge because the extra work is minimal. For observation stays of more than 8 hours, but less than 24 hours, we would recognize the discharge component since there is significant extra work involved, but not as much as a discharge for a 24 hour or longer admission for which we would pay the full value of CPT code 99238. Our proposal would allow payment for CPT codes 99234 through 99236 only for stays of equal to or greater than 8 hours, but less than 24 hours.

In addition to the documentation guidelines for history, physical examination, and medical decision making described in CPT 2000 for CPT codes 99234 to 99236, we would require the following to be documented in the medical record:

• A stay involving 8 hours, but less than 24 hours.

• That the billing physician was present and personally performed the services.

• Admission and discharge notes written by the billing physician.

We believe this policy would harmonize current policy on hospital admissions and discharges and also accommodate the observation codes as they are described in CPT 2000. The policy would not be tied to the “midnight” time frame of the hospital inpatient census.

If these proposals are adopted in the final rule, the work RVUs for CPT codes 99234 to 99236 would be considered interim for 2001.

G. Ocular Photodynamic Therapy and Other Ophthalmological Treatments

Ocular photodynamic therapy is a treatment recently approved by the Food and Drug Administration for age-related macular degeneration, the most common cause of blindness in the elderly. For CPT 2000, ocular photodynamic therapy was added to CPT code 67220, which was formerly limited to photocoagulation by laser.

We believe that ocular photodynamic therapy is significantly different from laser photocoagulation and, therefore, we are proposing to establish new HCPCS codes that specifically identify these procedures. A discussion of each of these codes follows:

Gxxx5 | Destruction of localized lesion of choroid (e.g., choroidal neovascularization); photocoagulation (e.g., by laser), one or more sessions

This code would be used in place of CPT code 67220. We would maintain the work and malpractice RVUs and the CPEP inputs presently used for CPT code 67220 for payment of this new “G” code.

Gxxx6 | Destruction of localized lesion of choroid (e.g., choroidal neovascularization); ocular photodynamic therapy (includes intravenous infusion)

We are proposing a value of 0.55 work RVUs for Gxxx6. This value is half the physician work value for CPT code 96570 (Photodynamic therapy by endoscopic application of light to ablate abnormal tissue via activation of photosensitive drug(s); first 30 minutes), and it is identical to the physician work value for CPT code 96571 (Photodynamic therapy by endoscopic application of light to ablate abnormal tissue via activation of photosensitive drug(s); each additional 15 minutes). We note that the total time of laser light application for ocular photodynamic therapy is 83 seconds, which is considerably shorter than the time of laser light application for CPT codes 96570 and 96571.

We are also proposing that the global period for Gxxx6 be “XXX.” Because of the global designation, significant, separately identifiable evaluation and management (E/M) services may be billed on the same day as Gxxx6 with the use of the -25 modifier. Patients will, typically, have fluorescein angiography as well as an E/M service before ocular photodynamic therapy to determine whether they will benefit from the therapy and to discuss the treatment. Any E/M services performed after the treatment may be billed separately.

For Gxxx6 we are proposing the following practice expense inputs for non-facility settings:

• Clinical Staff Time: Registered nurse/ophthalmology technician—40 minutes.

• Supplies: Ophthaine, mydriacil, myolfrin, gonisol, post myd spectacles, verteporfin and also infusion supplies including sterile and non-sterile gloves, butterfly needle, syringe, band aid, alcohol swab, staff gown, iv infusion set, and infusion pump cassette.

• Equipment: Laser, infusion pump, and exam lane.

For the malpractice component of Gxxx6, we are proposing 0.52 RVUs (the value assigned to CPT code 67220, Destruction of localized lesion of choroid). Although we are establishing procedure codes for ocular photodynamic therapy, coverage of the procedure is at the discretion of the local carrier.

In instances where both eyes are treated the same day, we are proposing the use of the following HCPCS add-on code:

Gxxx7 Destruction of localized lesion of choroid (for example, choroidal neovascularization); ocular photodynamic therapy (includes intravenous infusion)—other eye (List separately in addition to Gxxx6)

For this add-on code we are proposing a “ZZZ” global period, with .28 work RVUs (half of that proposed for Gxxx6) and .52 malpractice RVUs (identical to that proposed for Gxxx6). The practice expense inputs for services in the non-facility setting would be as follows:

• Clinical Staff Time: Registered nurse/ophthalmology technician—5 minutes.

• Supplies: Ophthaine, mydriacil, myolfrin, gonisol.

In addition, we have identified several other specific ophthalmological treatments that are not distinctly identified in CPT 2000. We are proposing to establish specific HCPCS codes for these procedures.

Gxxx8 Destruction of localized lesion of choroid (e.g., choroidal neovascularization); transpupillary thermotherapy, one or more sessions

Gxxx9 Destruction of localized lesion of choroid (e.g., choroidal neovascularization); photocoagulation, feeder vessel technique, one or more sessions

Gxx10 Destruction of macular drusen, photocoagulation, one or more sessions

We are not proposing RVUs for HCPCS codes Gxxx8 through Gxx10. These codes are being established for tracking purposes only. These procedures are considered experimental in nature at this time and, therefore, are not covered under Medicare.

H. Electrical Bioimpedance

Electrical bioimpedance (EB), a noninvasive method of measuring cardiac input, is a covered procedure under Medicare, if medically necessary. Performance of this procedure is reported by the Level 2 HCPCS code M0302, and the procedure is currently carrier priced. We are proposing the following RVUs for this procedure:

1. Practice Expense

We are proposing the following direct inputs for determining practice expense RVUs. (We note, however, that a final determination of the practice expense RVUS will depend on how we value physician work.) The practice expense RVU in Addendum B reflects the value for the technical portion of the service. If the service is given physician work, a separate PC will be established with an additional practice expense RVU.

• Clinical staff: Registered nurse—15 minutes.

• Supplies: Four disposable sensors, patient gown, exam table paper, and pillowcase.

• Equipment: Cardiac output monitor and exam table.

2. Malpractice

We are proposing 0.02 RVUs for this procedure. This value is equivalent to the TC of an EKG, which is a similar procedure.

3. Physician Work

The uses for which this procedure are covered (for example, differentiating cardiogenic from pulmonary causes of acute dyspnea, the need for intravenous inotropic therapy, fluid management, and the uses indicated in section 50-54 of the Coverage Issues Manual, HCFA Pub. 6) require a clinical evaluation of the patient on the same day that EB is performed. The procedure reports measurements that can not be interpreted without other clinical information.

With respect to proposed RVUs for physician work, we have insufficient information to propose a work value. We are collecting information and invite comments on this subject as well as on the proposed inputs for practice expense and malpractice. In your comments, please be sure to compare your proposed value for the physician work component for this service to other similar services with established physician work values. Please also include the reason why you believe the physician work is similar. At this time, we have received comments proposing no physician work values, proposing physician work values similar to that for the interpretation of an EKG (CPT code 93010—0.17 work RVUs), proposing work values similar to total body plethysmography (CPT code 93720—0.17 work RVUs), and similar to interpretation of cardiovascular stress test (CPT code 93018—0.30 work RVUs).

We also are proposing that the payment for this procedure be included in reporting critical care. Therefore, separate payment would not be made for this procedure when provided in conjunction with critical care services (CPT codes 99291 and 99292).

I. Global Period for Insertion, Removal, and Replacement of Pacemakers and Cardioverter Defibrillators

Currently, there is a 90-day global period in the physician fee schedule for all CPT codes involving the insertion, removal, and replacement of pacemakers or cardioverter defibrillators. During the global surgical period, no separate payment may be made for any E/M service furnished by the surgeon, unless the visit is: (1) Unrelated to the diagnosis for which the surgical procedure was performed; (2) for treating the underlying condition; or (3) an added course of treatment that is not part of normal recovery from surgery.

In these situations, the surgeon must use CPT modifier -24 that attests that the E/M service provided, although performed during the postoperative period, was for a reason unrelated to the original procedure. Services submitted with a -24 modifier must be sufficiently documented to establish that the visit was unrelated to the surgery. An ICD-9-CM code that clearly indicates that the reason for the encounter was unrelated to the surgery is acceptable documentation.

Many patients receiving pacemakers or cardioverter defibrillators have clinically serious cardiac diseases (related to the reason for the procedure) that require significant postoperative care. In these cases, it is difficult to separate care during the postoperative period for the related cardiac problem(s) from the postoperative care for the pacemaker or cardioverter defibrillator procedure. As medical practice has changed, cardiologists predominantly perform pacemaker or cardioverter defibrillator procedures. Thus, the physician performing the pacemaker or cardioverter defibrillator procedure now is typically the same physician who is expected to furnish care for the patient's related cardiac disease. Therefore, a single physician is providing postoperative care for both the pacemaker or cardioverter defibrillator insertion and the related medical problem(s), but can be paid only for the insertion because of the global period policy.

We believe it is common for patients undergoing pacemaker and cardioverter defibrillator procedures to require significant care for related cardiac disease during the postoperative period. This care overlaps substantially with the care furnished for the pacemaker or cardioverter defibrillator procedure and may be coded with the same ICD-9-CM diagnosis code; therefore, using the -24 modifier is inadequate to allow appropriate payment for the physician performing both postoperative care and care for the patient's other cardiac conditions.

We are proposing to change the global period for CPT codes 33206, 33207, 33208, 33212, 33213, 33214, 33216, 33217, 33218, 33220, 33233, 33234, 33235, 33240, 33241, 33244, 33249, 33282, and 33284 from 90 days to 0 days. This would permit separate payment for any care furnished during the postoperative period by the physician who performed the pacemaker or cardioverter defibrillator procedure.

We are soliciting comments on whether it is appropriate to reduce the global period for these CPT codes. We are also proposing to ask the RUC to revise the RVUs for these CPT codes. If RUC recommendations are not received in time for our consideration for the CY 2001 physician fee schedule final rule, we propose to implement interim work RVUs, as listed below.

CPT code | 2000 work RVUs | Proposed work RVUs
33206 | 6.67 | 3.11
33207 | 8.04 | 3.30
33208 | 8.13 | 2.64
33212 | 5.52 | 3.32
33213 | 6.37 | 4.92
33214 | 7.75 | 4.27
33216 | 5.39 | 3.21
33217 | 5.75 | 3.57
33218 | 5.44 | 3.26
33220 | 5.52 | 2.90
33233 | 3.29 | 1.11
33234 | 7.82 | 5.64
33235 | 9.40 | 4.58
33240 | 7.50 | 5.13
33241 | 3.24 | 1.51
33244 | 13.76 | 9.85
33249 | 14.23 | 11.41
33282 | 4.17 | 2.83
33284 | 2.50 | 1.16

In calculating the proposed interim RVUs, we have subtracted the work RVUs of all postoperative visits after the day of surgery from the total work RVUs. We used our database to calculate the number of postoperative visits. Where our database did not contain the number of postoperative visits, we crosswalked a number from the most clinically similar procedure. We have included an example to illustrate the calculation.

Example: For CPT code 33206, the 2000 work relative value is 6.67 units. The proposed work value is 3.11 (6.67 minus 3.56). The 3.56 units represents the work based on the pattern of E/M services in the global period.

E/M | Frequency | Work | Total
99213 | 1.5 | .67 | 1.00
99231 | 2.0 | .4 | 1.28
99238 | 1.0 | 1.28 | 1.28
Total E/M Work |  |  | 3.56

We would also adjust practice expense inputs for supplies, staff time, and equipment to account for the change in the global period. Because these would be 0-day global services only priced in the facility setting, there would be no direct CPEP inputs associated with them. The adjusted practice expense RVUs are reflected in Addendum B.

We welcome comments on our proposed calculation of interim RVUs and request that commenters recommending RVUs include the methodology employed so that we can appropriately evaluate the recommended RVUs. As an alternative to applying a 0-day global period as discussed above, we are interested in other suggestions that might address the issue of assuring appropriate payment for these services (for example, adjusting the global period to 10 days for these services). We invite public comment on such alternatives.

J. Antigen Supply

Section 410.68(b), Antigens: Scope and conditions, provides for beneficiaries to receive a supply of antigen for no more than 12 weeks at one time. A specialty society has indicated that this limitation is not reflective of current industry standards and guidelines (for example, duration of potency for allergy extracts has changed since the policy was implemented.) Therefore, we are proposing to change this limitation from 12 weeks to 12 months and would revise the regulations to reflect this change. We are requesting comments on this proposal.

K. Low Intensity Ultrasound

In the November 1999 (64 FR 59419) final rule, we assigned RVUs to CPT code 20979, low intensity ultrasound stimulation to aid bone healing. Commenters expressed concern about the RVUs assigned to this service. Because of the concerns raised by commenters, and because CPT code 20979 is a noncovered service under Medicare, we are proposing to remove the RVUs that were assigned to this code at this time. We may reconsider this at a future date.

L. Implantation of Ventricular Assist Devices

In the April 11, 2000 correction notice (65 FR 19332) to the November 1999 final rule, we inadvertently published practice expense RVUs based on the work RVUs associated with a 90-day global period for CPT codes 33975 and 33976 (implantation of ventricular assist devices). However, in the same notice, the global periods and associated work RVUs for CPT codes 33975 and 33976 were revised to reflect an “XXX” (the global concept does not apply). In calculating the practice expense RVUs, we reflected changes made in CPEP data that result from changes in the global period. However, the practice expense RVUs are also a function, in part, of the physician work RVUs. In calculating the revised practice expense RVUs, we did not use the work RVUs that reflected the global period change. Effective January 1, 2001, we would revise the practice expense RVUs associated with these CPT codes to reflect the revision in the global periods and work RVUs.

III. Other Issues

A. Incomplete Medical Direction

Under current policy, medical supervision by an anesthesiologist occurs if the anesthesiologist is involved in furnishing more than four concurrent procedures or is performing other services while directing fewer than four concurrent procedures. Payment is based on three base units plus one unit for induction if the physician is present at induction.

Under current policy, medical direction by an anesthesiologist occurs if the anesthesiologist is involved in two to four concurrent anesthesia procedures or a single anesthesia procedure with a qualified anesthetist. For each anesthesia procedure, the anesthesiologist must—

• Perform a pre-anesthesia examination and evaluation;

• Prescribe the anesthesia plan;

• Personally participate in the most demanding procedures of the anesthesia plan, including emergence and induction;

• Ensure that any procedures in the anesthesia plan that he or she does not perform are performed by a qualified anesthetist;

• Monitor the course of anesthesia administration at frequent intervals;

• Remain physically present and available for immediate diagnosis and treatment of emergencies; and

• Provide indicated post anesthesia care.

We currently do not have a national policy that instructs the carriers how to pay for a service when the anesthesiologist does not fulfill all the medical direction requirements. One option carriers may use is to instruct the anesthesiologist to report this service as a reduced or unusual service and determine appropriate payment. We are considering clarifying this policy and making other revisions to the medical supervision payment policy. We are considering the following:

1. To specify that the physician furnishing medical supervision must perform, at a minimum, the preoperative evaluation, participate in induction, remain available for consultation, and provide a minimum level of monitoring.

2. To establish payment for medical supervision at 40 percent of the payment amount for the service performed by the physician alone.

3. To apply the proposed medical supervision payment amounts to incompletely medically-directed cases.

4. To limit the number of concurrent cases the physician can supervise to five concurrent cases.

Payment for medical supervision is payment for the physician service. In addition, the certified registered nurse anesthetist (CRNA) service furnished under medical supervision is paid at 50 percent of the amount that would have been paid if the service had been performed by the physician alone.

We invite comments from the public, but in particular, the physicians and practitioners most affected by this policy. We are not proposing a change at this time, but will consider the comments we receive should we develop a future proposal.

B. Payment for Pulse Oximetry Services

In the November 1999 final rule (64 FR 59413), we indicated that we would adopt our proposal to bundle payment for certain diagnostic codes, including pulse oximetry CPT codes 94760 and 94761, into the payment for other services. We believe that continuing to pay separately for these codes duplicates amounts included in both facility payments and practice expense RVUs. However, we did not address how we would treat situations when these services are performed without any other billable service and, thus, are not reflected in facility payments or other practice expense RVUs. We will continue to pay separately for these services (CPT codes 94760 and 94761) when they are medically necessary and there are no other services payable under the physician fee schedule billed on the same date by the same supplier.

C. Outpatient Therapy Supervision

In the November 1998 final rule (63 FR 58868), we stated that we were maintaining our current requirement that therapy assistants of therapists in private practice (formerly known as therapists in independent practice (PTIP)) must be personally supervised by the therapist and be employed directly by the therapist; employed by the partnership or group to which the therapist belongs; or employed by the same practice. Personal supervision requires that the therapist be in the same room during the performance of the service. Levels of supervision are defined at § 410.32 (Diagnostic X-ray tests, diagnostic laboratory, and other diagnostic tests: Conditions.)

The November 1998 final rule did not change pre-existing regulations at § 410.60(c)(2) (Supervision of physical therapy services) for therapy assistants in a private practice setting. In that final rule, we codified the statutory requirements for coverage of outpatient occupational therapy services by establishing § 410.59 (Outpatient occupational therapy services: Conditions). Section 410.59 parallels the requirements in § 410.60 for outpatient physical therapy, as revised in the November 1998 final rule. We also made conforming changes in § 410.61 (Plan of treatment requirements for outpatient rehabilitation services) to include occupational therapy.

The personal supervision requirements for therapy assistants and aides in a private practice setting are long-standing. The outpatient physical therapy benefit, enacted in 1972, applied to PTIP (that is, individual therapists in independent practice in their own offices). Services performed by employees of a PTIP were covered if furnished under the direct personal supervision of the PTIP. This requirement was necessary to assure beneficiary health and safety and quality of care.

In 1981, in response to the conference committee report (H.R. 96-1479) accompanying the Omnibus Reconciliation Act of 1980 (Public Law 96-499), we revised our Medicare Carriers Manual instructions (see section 2215F, HCFA Pub. 6). These revised instructions stated that the services of employees of a PTIP who are not qualified physical therapists must be furnished under the direct personal supervision of a supervising therapist who must be the employer or on the employer's staff. Therefore, a licensed physical therapist had to directly and personally supervise the services of assistants and aides. Thus, even before the November 1998 final rule, the regulations and manuals clearly stated that the PTIP must directly and personally supervise all services for which he or she bills.

As noted above, pre-existing supervision requirements for therapy assistants in a private practice setting were not affected by the November 1998 final rule. However, we received comments from the therapy industry and other interested parties who erroneously believed that we had either misinterpreted the supervision requirement or had established a new requirement for therapy assistants in the private practice setting.

These comments and the confusion possibly resulted from the one revision in supervision requirements made in the final rule. This revision related not to therapy assistants, but to qualified therapists in a private practice setting. As referenced in the November 1998 final rule (63 FR 58868), the Congress was concerned about the requirement for therapists in independent practice to directly supervise all services performed by their employees, even if those employees were fully-licensed therapists. The therapist in independent practice had to be on the premises whenever services were furnished to Medicare beneficiaries, including services furnished by a licensed therapist. Therefore, a therapist in independent practice could not have more than one office open at the same time because he or she could not be on both premises at once. Congressional statements in both the House and Senate committee reports associated with our fiscal year 1997 appropriations process addressed this issue. The House committee report urged us to modify the regulations so that certified therapists need not be on the premises to supervise other licensed therapists. We were also urged by the Senate to review this concern and recommend changes in our regulations or instructions. To address this concern expressed in both the 1997 House and Senate Appropriations Committee reports, we revised the regulations at § 410.59(c)(2) and § 410.60(c)(2).

Accordingly, effective January 1, 1999, as specified in the November 1998 final rule, the revised regulations permit legally authorized (see § 410.59(c)(1)(i) and § 410.60(c)(1)(i)) therapists who own the practice to be off the premises when other legally authorized therapists are present to furnish supervision for therapy assistants. These regulations also restated which practitioners are qualified as therapists under section 1861(p) of the Act. In accordance with the November 1998 final rule, the term “independent” was removed from the description of a therapist in independent practice. In its place, the term “private” was added. The benefit is now described in terms of an individual physical therapist or occupational therapist in private practice.

This change did not affect the required degree of supervision for physical therapist assistants. Assistants still must be personally supervised by the therapist in private practice and employed directly by the therapist, by the partnership, or group to which the therapist belongs.

D. Outpatient Therapy Caps

Section 221 of the BBRA placed a 2-year moratorium on Medicare Part B outpatient therapy caps (the $1500 cap on outpatient physical therapy services including speech language-pathology services and the $1500 cap on outpatient occupational therapy services in all nonhospital settings). The two $1500 caps were implemented in 1999 as required by the BBA.

The BBRA also requires us to submit to the Congress a report by January 1, 2001 that includes recommendations on—(1) the establishment of a mechanism for assuring appropriate utilization of outpatient therapy services; (2) the establishment of an alternative payment policy for these services based on classifications of individuals by diagnostic category, functional status, prior use of services (in both inpatient and outpatient settings), and other criteria, in place of uniform dollar limitations; and (3) how to do this in a budget-neutral manner.

We are gathering information on alternatives or options that we can use to achieve these objectives. We have received the following informal recommendations for legislation:

• Institute a cap per diagnosis rather than per year.

• Establish payment based on patient groupings by primary diagnosis and average number of treatments, with options for variants.

• Base payment on an episode of occurrence of illness or injury, with a cap amount adjusted to address geographic differences in the cost of furnishing services.

• Develop a sustainable growth rate (SGR) for outpatient therapy services to control growth in the volume of services.

The outpatient therapy cap was also a topic of discussion at the PPAC meeting in December 1999. As a result of these discussions, the PPAC recommended continuation of the current moratorium with focused medical review, indicating that such a review could lead to the desired budget-neutral outcome.

We would like comments from the public on additional alternatives that we could consider in developing a payment policy for outpatient therapy services. We will consider this information as we prepare our report to the Congress on outpatient therapy services.

IV. Five-Year Refinement of Relative Value Units

Section 1848(c)(2)(B)(i) of the Act requires that we review all RVUs for services in the physician fee schedule no less often than every 5 years. The first 5-year review was undertaken as part of the final rule published December 1994 (59 FR 63140), with the resulting changes effective for services furnished beginning January 1, 1997. In the final rule published November 1999 (64 FR 59427), we included a discussion of the first 5-year refinement and outlined our plans for the second 5-year refinement of work RVUs. We also solicited comments on potentially misvalued work RVUs as well as data sources and methodologies to assist us in identifying misvalued services. We received comments from approximately 30 specialty groups, organizations, and individuals. While some of the comments were on the proposed process, comments also included requests for evaluating over 900 codes.

As we had discussed in the November 1999 final rule, in addition to performing internal review and analysis, we will be sharing these comments with the RUC, which currently makes recommendations to us on the assignment of RVUs to new and revised CPT codes. The RUC's perspective will be helpful because of its experience in recommending RVUs for the codes that have been added to the CPT, or revised by the CPT panel, since we implemented the physician fee schedule in 1992. We emphasize, however, as we reiterated for the first 5-year review, we have the responsibility for analyzing the comments concerning the 5-year review and deciding whether to revise RVUs. We are not delegating this responsibility to the RUC or any other organization.

Current initiatives underway (see discussion that follows on physician time) will assist us in our identification of misvalued codes. However, we will not be able to identify those codes that we believe have misvalued work RVUs before late in the year 2000 or early in the year 2001. We propose to perform the 5-year review in two phases. The first phase will take place in CY 2000 with consideration of public comments. The second phase will occur in CY 2001 when we use the contracted research to identify misvalued codes. We will work with the RUC and the medical community to minimize work duplication. For example, we will ask the RUC to defer action in CY 2000 on those codes that were identified by public comments and that our research later indicates might be misvalued. Furthermore, to focus on each phase of the review and prevent duplicative work, we propose to concentrate on intraspecialty issues and anomalies in CY 2000 and consider cross specialty misvaluations and issues in CY 2001. This is because we believe that validation of time across a wide range of services will allow direct comparison of pre-, intra-, and postservice work RVUs across specialties with the potential to identify a large number of misvalued codes. Again, we will work closely with the medical community to analyze and interpret the data as well as to organize the review in an efficient manner.

Physician Time Data

We currently have initiatives underway to validate the physician time data and identify potentially misvalued codes to be considered during the 5-year review. A discussion of these activities follows.

Under a contract with HCFA, Health Economics Research (HER) is reviewing secondary data sources to validate time estimates for physicians' services. Physician time estimates are a factor used in the calculation of the practice expense RVUs and one of the primary determinates of physician work. These secondary data sources are as follows:

• The National Ambulatory Medical Care Survey (NAMCS).

• D.J. Sullivan Associates Hospital Data.

• MGMA Practice Cost Survey Data.

The NAMCS is a survey conducted by the Center for Disease Control that collects self-reported information on over 20,000 office visits annually including physician face-to-face time (called the duration of the visit). Various comparative analyses, both at the physician specialty level and for all physicians, can be made between projected E/M codes in the NAMCS data and with the actual E/M codes reported in the Medicare Part B National Claims History. (E/M codes are not captured in the NAMCS data. However, a method is used to map the time of the physician visit to an appropriate E/M code. This represents the “projected” E/M code.) The analysis was performed on the 1997 NAMCS.

The D.J. Sullivan database groups approximately 495,000 inpatient and outpatient records into 177 small clinically similar classes. The database captures information from the hospital record such as the procedure, time the patient enters the operating room, time of incision, time of wound closure, and time the patient exits the operating room. Data are presented for all hospitals and for all hospitals by categories: community hospitals, teaching hospitals, and university-based hospitals.

HER is analyzing a sample of the D.J. Sullivan database to determine whether it can be used for validating skin-to-skin time for selected surgical procedures. The selected procedures are high volume procedures or procedures on the RUC multispecialty list.

The MGMA Physician Profiling Database contains information at the physician practice level on the number of services by CPT code, physician specialty, and clinical work week. The database contains information on almost 4,000 physicians, primarily from Florida, Minnesota, New York, and Washington. Analysis will focus on comparing expected clinical times based on current time estimates attributable to CPT codes to total practice hours worked.

V. Collection of Information Requirements

This document does not impose information collection and recordkeeping requirements. Consequently, it need not be reviewed by the Office of Management and Budget under the authority of the Paperwork Reduction Act of 1995.

VI. Response to Comments

Because of the large number of items of correspondence we normally receive on Federal Register documents published for comment, we are not able to acknowledge or respond to them individually. We will consider all comments we receive by the date and time specified in the DATES section of this preamble, and we will respond to the major comments in the final rule.

VII. Regulatory Impact Analysis

We have examined the impacts of this proposed rule as required by Executive Order of 1993 (EO) 12866, the Unfunded Mandates Reform Act of 1995 (EO) 12875 (UMRA) (Public Law 104-4), the Regulatory Flexibility Act of 1980 (RFA) (Public Law 96-354) and the Federalism Executive Order of 1999 (EO) 13132.

EO 12866 directs agencies to assess costs and benefits of available regulatory alternatives and, when regulation is necessary, to select regulatory approaches that maximize net benefits (including potential economic, environmental, public health and safety effects, distributive impacts, and equity). A regulatory impact analysis (RIA) must be prepared for major rules with economically significant effects ($100 million or more annually). While the changes in the Medicare physician fee schedule are for the most part, budget neutral, they do involve redistribution of Medicare spending among procedures and physician specialties and geographic areas. However, the redistributive effect of this rule on any particular specialty or geographic area is, in our estimate, unlikely to exceed $100 million. The effect of the practice expense changes are estimated to increase payments to one specialty by about $90 million and decrease payments to another specialty by approximately $45 million. All other physician specialties will be affected by less than these amounts. The GPCI changes are expected to increase payments by less than $10 million in one locality and decrease payments by about $20 million in another locality. The effect on all other payment localities are likely to be less than these amounts. Since we estimate that these changes are unlikely to redistribute more than $100 million in Medicare allowed charges, we are not considering this proposed rule to be a major rule. However, we will reconsider this decision for the final rule if our estimates based on new data exceed $100 million.

The UMRA also requires (in section 202) that agencies prepare an assessment of anticipated costs and benefits before developing any rule that may result in expenditure in any one year by State, local, or tribal governments, in the aggregate, or by the private sector, of $100 million or more. We have determined that this proposed rule will have no consequential effect on State, local, or tribal governments. We believe the private sector cost of this rule falls below the above stated threshold as well.

The RFA requires that we analyze regulatory options for small businesses and other small entities. We prepare a Regulatory Flexibility Analysis unless we certify that a rule would not have a significant economic impact on a substantial number of small entities. The analysis must include a justification of why action is being taken, the kinds and number of small entities the rule affects, and an explanation of any meaningful options that achieve the objectives and lessen significant adverse economic impact on the small entities.

In addition, section 1102(b) of the Act requires us to prepare a regulatory impact analysis if a rule may have a significant impact on the operations of a substantial number of small rural hospitals. This analysis must conform to the provisions of section 603 of the RFA. For purposes of section 1102(b) of the Act, we define a small rural hospital as a hospital that is located outside of a Metropolitan Statistical Area and has fewer than 50 beds.

For purposes of the RFA, all physicians are considered to be small entities. There are about 700,000 physicians and other practitioners who receive Medicare payment under the physician fee schedule. We have prepared the following analysis, which, together with the rest of this preamble, meets all four assessment requirements. It explains the rationale for and purpose of the rule, details the costs and benefits of the rule, analyzes alternatives, and presents the measures we considered to minimize the burden on small entities.

A. Resource-Based Practice Expense Relative Value Units

Revisions in resource-based practice expense RVUs for physicians' services are calculated to be budget neutral, that is, the total practice expense RVUs for calendar year 2001 are calculated to be the same as the total practice expense RVUs that we estimate would have occurred without the changes proposed in this regulation. This also means that increases in practice expense RVUs for some services will necessarily be offset by corresponding decreases in values for other services.

Table 1 shows the impact on total allowed charges by specialty of this proposed rule's practice expense changes. There are six changes that we made that have on effect on payment for practice expenses. We show the impact of each individual provision and the combined impact on the practice expense RVUs.

BILLING CODE 4120-01-P

BILLING CODE 4120-01-C

The column labeled “Clinical Staff” refers to the proposal discussed earlier with respect to clinical staff times and 0-day global surgical services. As we indicated, clinical staff times for pre-and postsurgical services provided in the office were reinstated to the estimates of practice expense inputs for individual procedures. This change has nearly a 2.0 percent increase in payments for gastroenterology and small positive or negative impacts for all other specialties. The negative impacts on some specialties offset the positive impact for other specialties.

The column labeled “Overhead Equipment” refers to the provision described earlier to remove the distinction between procedure specific and overhead equipment. As we indicated, this change is largely designed to simplify the refinement process and remove a distinction that was more relevant under the “bottom-up” rather than the “top-down” methodology for determining the practice expense RVUs. This proposal has some small impacts on a few specialties.

The column labeled “Standby Equipment” refers to our proposal to remove certain types of equipment from equipment inputs that are used to value individual procedure codes. These types of equipment are not typically used with any individual service, but are on “standby” or used for multiple services at the same time. This proposal also has some small impact on payments to a few specialties.

The column labeled “Midlevel Practitioners” refers to the provision we described earlier to remove utilization data associated with the provision of services by midlevel practitioners that are paid a percentage of the physician fee schedule amount. This change to the model would mean that we would no longer create separate practice expense pools for midlevel practitioners. It would also mean that specialty-specific practice expense RVUs for midlevel practitioners determined after the scaling factor adjustments are made would no longer be used in the weight averaging step.

The greater the extent that allowed services for midlevel practitioners represent a higher proportion of the total number of allowed services for a given code, the more likely this change will have an impact on the practice expense RVU for the service. In some cases, this change would mean that we are no longer weight averaging specialty-specific practice expense RVUs that are higher in value than the RVUs determined for the remaining physician specialties. This would cause the practice expense value for the service to decline in value from what would result from including higher specialty-specific practice expense RVUs for the midlevel practitioner. In general, the impact of this provision would be small for most specialties. The impact on specialty level payments are more likely for specialties that frequently perform services in conjunction with midlevel practitioners.

The column labeled “New SMS Data” refers to our proposal to recalculate the practice expense per hour data based on data from the 1995 through 1998 SMS. (We refer to the SMS based on its publication year. The practice expense data is actually from surveys performed the year prior to publication. For example, the 1998 SMS includes 1997 cost data.) As indicated in the table, this change would have an impact on specialty level payments. These changes in payment would be in the same direction as relative changes in the practice expense per hour. That is, an increase in practice expense per hour for a specialty relative to other specialties would result in increased payments for that specialty. For cardiac and thoracic surgery, there is an additional factor influencing the impact. As we indicated in the November 1999 final rule (64 FR 59391), we weight averaged 1998 SMS data from an oversample for cardiac and thoracic surgery with data from the 1996 and 1997 SMS. At that time, we did not use data from the 1995 SMS in determining the practice expense per hour. Since we are using 1995 through 1998 SMS data for all other physician specialties, we recalculated the practice expense per hour for cardiac and thoracic surgery using data from the 1995 through 1998 SMS. In addition, we are continuing to use 1998 SMS data from the oversample in this calculation.

The total impact column shows the product of each individual provision for the years 2001 and 2002 relative to continuing with our current policy. The figures may not add due to rounding. Table 2 shows the total impact over the 2001 and 2002 period of these changes and the 2001 impact. The difference between the two columns reflects the effect of the transition to fully implemented practice expense RVUs. That is, the impact in the 2001 column will reflect 75 percent of the impact on the fully implemented RVUs. These impacts are in addition to the impacts announced in previous rules related to the adoption of resource-based practice relative value units.

BILLING CODE 4120-01-P

Table 3 shows the impact on payments for selected high volume procedures of all of the practice expense changes previously discussed. This table isolates the impact of the practice expense changes only on payments. It does not show what actual payments for these procedures will be in 2001 because the payment calculations do not include the effect of the transition or the impact of the physician fee schedule update which is unknown at this time.

BILLING CODE 4120-01-C

B. Geographic Practice Cost Index Changes

Section 1848(e)(1)(A) of the Act requires that payments under the Medicare physician fee schedule vary among payment areas only to the extent that area costs vary as reflected by the area GPCIs. The GPCIs measure area cost differences in the three components of the physician fee schedule: physician work, practice expenses (employee wages, rent, medical supplies, and equipment), and malpractice insurance. Section 1848(e)(1)(C) of the Act requires that the GPCIs be reviewed and, if necessary, revised at least every 3 years. The first GPCI revision was implemented in 1995. The second revision was implemented in 1998, and the next revision will be implemented in 2001. Section 1848(e)(1)(C) of the Act also requires that the GPCI revisions be phased in equally over a 2-year period if more than one year has elapsed since the last adjustment.

An estimate of the overall effects of proposed GPCI changes on fee schedule area payments can be demonstrated by a comparison of area geographic adjustment factors (GAFs). The GAFs are a weighted composite of each area's work, practice expense, and malpractice expense GPCIs using the national GPCI cost share weights. While not actually used in computing the fee schedule payment for a specific service, the GAFs are useful in comparing overall area costs and payments. The actual effect on payment for any actual service will deviate from the GAF to the extent that the service's proportions of work, practice expense, and malpractice expense RVUs differ from those of the GAF. Addendum H shows the estimated effects of the proposed GPCIs on area GAFs in descending order.

Only 14 of the 89 fee schedule areas would change by at least 2 percent. Only 16 areas would change by from 1 to 1.9 percent. The remaining 59 areas are estimated to experience payment changes of less than 1 percent under the proposed changes. These are very minor changes that would be expected in that we are revising only the rent indices, comprising 11.6 percent of the total GPCI, and the malpractice expense indices, comprising 3.2 percent of the GPCI. Thus, only about 15 percent of the GPCI would be subject to change. The effects in the transition year 2001, would only be one-half of these amounts as the proposed revised GPCIs would be phased in over a 2-year period as required by law.

C. Resource-Based Malpractice Relative Value Units

As indicated earlier, we are currently examining the more recent malpractice data. The malpractice RVUs in the fall final rule will reflect the newer data and the refinements made as a result of comments made on last year's rules.

While we anticipate there would be little impact, this would be fully discussed in the final rule.

D. Critical Care Relative Value Units

As we explained earlier in the preamble in the November 1999 final rule, we established interim work RVUs for 2000 for CPT codes 99291 and 99292 (critical care services). These RVUs were decreased due to concerns about changes in the CPT definition for these services. In this proposed rule, based on changes the Panel is making to the definition for critical care for CY 2001, we are proposing to increase the work RVUs for critical care services and value the physician work at 4.0 RVUs for CPT code 99291 and 2.0 RVUs for CPT code 99292. Any impact of this proposal would be incorporated in the physician fee budget neutrality calculation.

E. Care Plan Oversight

We are proposing to establish two new HCPCS codes for care plan oversight that are consistent with our coverage criteria. We would also establish two new HCPCS codes to describe the services involved in physician certification or recertification and development of a plan of care for a patient for whom the physician has prescribed Medicare-covered home health services.

We are assuming there would be no additional cost or savings as a result of the two new HCPCS codes for care plan oversight. We are merely instituting these codes for consistency with our coverage criteria, and they would be used in place of the CPT codes when these services are provided.

For the new HCPCS codes for physician certification or recertification and development of a plan of care, the payment for these services is currently included in the payment for a variety of services such as E/M that are provided independently to patients as part of a global surgical service. Under this proposal, we would instead pay separately. Since we are proposing to pay separately for a service that is currently included in our payment for other services, this proposal would increase Medicare expenditures for physicians' services without an adjustment to the physician fee schedule CF. For this reason, we are proposing to adjust the physician fee schedule CF to ensure that Medicare payments for physicians' services do not increase as a result of this proposal.

F. Observation Care Codes

Our proposal is budget-neutral. We believe physicians have not been billing for the discharge component of a hospital or observation stay of less than 24 hours so those physicians would be seeing an increase in payment. However, physicians who have been billing 99234 to 99236 and physicians who have been billing 99238 or 99217 for stays less than 24 hours in length (for example, where the patient was in the hospital at the time of the midnight census) would see a small reduction in payment. This policy clarification will give clear guidance to physicians and Medicare contractors in reviewing medical records and would assure consistent payment across contractors.

G. Ocular Photodynamic Therapy and Other Ophthalmological Treatments

As previously stated, we would establish national HCPCS codes and payment amounts for ocular photodynamic therapy. If we did not establish national codes and pricing for this procedure, carriers that determined that this procedure is covered would use unlisted codes and determine pricing locally. There will be no budget effects associated with establishing national codes and payment amounts for this service since national pricing would substitute for use of unlisted codes and carrier pricing.

H. Electrical Bioimpedance

As stated earlier, we are establishing a national payment amount for electrical bioimpedance. This change will have little impact on the Medicare program costs. It establishes national pricing amounts for a service currently priced by carriers.

I. Global Period for Insertion, Removal, and Replacement of Pacemakers and Cardioverter Defibrillators

We are proposing to change the global period for certain CPT codes involving the insertion, removal, and replacement of pacemakers and cardioverter defibrillators from 90 days to 0 days. We would also implement interim RVUs to account for the change in the global period from 90 to 0 days. Since we are making RVU adjustments to accommodate the change in global period, we do not anticipate any costs or savings. There is no redistributive impact of this proposal since it only affects physicians that insert, remove or replace pacemakers or cardioverter defibrillators.

J. Antigen Supply

Our proposal to change from a 12-week to a 12-month supply of antigen could benefit beneficiaries since they could obtain a year's supply of medication in a single visit. We anticipate that this proposed change would have no impact on program costs. There is no redistributive impact of this proposal since it only aggregates four prescriptions into one and the cost to the beneficiary remains the same.

Other issues mentioned in the preamble are merely discussions or clarifications and, therefore, have no budgetary impact.

Budget-Neutrality

Each year since the fee schedule has been implemented, our actuaries have determined any adjustments needed to meet the budget-neutrality requirement of the statute. A component of the actuarial determination of budget-neutrality involves estimating the impact of changes in the volume-and-intensity of physicians' services provided to Medicare beneficiaries as a result of the proposed changes. Consistent with the provision in the November 1998 final rule, the actuaries would use a model that assumes a 30 percent volume-and-intensity response to price reductions.

Impact on Beneficiaries

Although changes in physicians' payments when the physician fee schedule was implemented in 1992 were large, we detected no problems with beneficiary access to care. Furthermore, since beginning our transition to a resource-based practice expense system in 1999, we have not found that there are problems with beneficiary access to care.

VIII. Federalism

We have reviewed this proposed rule under the threshold criteria of EO 13132, Federalism, and we have determined that the proposed rule does not significantly affect the rights, roles, and responsibilities of States.

List of Subjects

42 CFR Part 410

Health facilities, Health professions, Kidney diseases, Laboratories, Medicare, Rural areas, X-rays.

42 CFR Part 414

Administrative practice and procedure, Health facilities, Health professions, Kidney diseases, Medicare, Reporting and recordkeeping requirements, Rural areas, X-rays.

For the reasons set forth in the preamble, HCFA proposes to amend 42 CFR chapter IV as follows:

PART 410—SUPPLEMENTARY MEDICAL INSURANCE (SMI) BENEFITS

1. The authority citation for part 410 continues to read as follows:

Authority: Secs. 1102, and 1871 of the Social Security Act (42 U.S.C. 1302 and 1395hh).

2. In § 410.68, republish the introductory text and revise the introductory text for paragraph (b) to read as follows:

§ 410.68 Antigens: Scope and conditions.

Medicare Part B pays for—

* * * * *

(b) A supply of antigen sufficient for not more than 12 months that is—

* * * * *

PART 414—PAYMENT FOR PART B MEDICAL AND OTHER HEALTH SERVICES

1. The authority citation for part 414 continues to read as follows:

Authority: Secs. 1102, 1871, and 1881(b)(1) of the Social Security Act (42 U.S.C. 1302, 1395(hh), and 1395rr(b)(1).

2. Revise § 414.22(b)(5)(i) to read as follows:

§ 414.22 Relative value units (RVUs).

* * * * *

(b) * * *

(5) * * *

(i) Usually there are two levels of practice expense RVUs that correspond to each code.

(A) Facility practice expense RVUs. The lower facility practice expense RVUs apply to services furnished to patients in the hospital, skilled nursing facility, community mental health center, or in an ambulatory surgical center when the physician performs procedures on the ASC approved procedures list. (The facility practice expense RVUs for a particular code may not be greater than the non-facility RVUs for the code.)

(B) Non-facility practice expense RVUs. The higher non-facility practice expense RVUs apply to services performed in the following settings: a physician's office, a patient's home, an ASC if the physician is performing a procedure not on the ASC approved procedures list, a nursing facility, or a facility or institution other than a hospital or skilled nursing facility.

(C) Outpatient therapy services. Outpatient therapy services billed under the physician fee schedule are paid using the non-facility practice expense RVU component.

* * * * *

(Catalog of Federal Domestic Assistance Program No. 93.778, Medical Assistance Program)

(Catalog of Federal Domestic Assistance Program No. 93.773, Medicare—Hospital Insurance; and Program No. 93.774, Medicare—Supplementary Medical Insurance Program)

Dated: May 25, 2000.
Nancy-Ann Min DeParle,
Administrator, Health Care Financing Administration.

Dated: June 26, 2000.
Donna E. Shalala,
Secretary.

Note: These addenda will not appear in the Code of Federal Regulations.

Addendum A—Explanation and Use of Addendum B

The addenda on the following pages provide various data pertaining to the Medicare fee schedule for physicians’ services furnished in 2001. Addendum B contains the RVUs for work, non-facility practice expense, facility practice expense, and malpractice expense, and other information for all services included in the physician fee schedule.

Addendum B—2001 Relative Value Units and Related Information Used in Determining Medicare Payments for 2001

This addendum contains the following information for each CPT code and alphanumeric HCPCS code, except for alphanumeric codes beginning with B (enteral and parenteral therapy), E (durable medical equipment), K (temporary codes for nonphysicians’ services or items), or L (orthotics), and codes for anesthesiology.

1. CPT/HCPCS code. This is the CPT or alphanumeric HCPCS number for the service. Alphanumeric HCPCS codes are included at the end of this addendum.

2. Modifier. A modifier is shown if there is a technical component (modifier TC) and a professional component (PC) (modifier -26) for the service. If there is a PC and TC for the service, Addendum B contains three entries for the code: One for the global values (both professional and technical); one for modifier -26 (PC); and one for modifier TC. The global service is not designated by a modifier, and physicians must bill using the code without a modifier if the physician furnishes both the PC and the TC of the service.

Modifier -53 is shown for a discontinued procedure. There will be RVUs for the code (CPT code 45378) with this modifier.

3. Status indicator. This indicator shows whether the CPT/HCPCS code is in the physician fee schedule and whether it is separately payable if the service is covered.

A = Active code. These codes are separately payable under the fee schedule if covered. There will be RVUs for codes with this status. The presence of an “A” indicator does not mean that Medicare has made a national decision regarding the coverage of the service. Carriers remain responsible for coverage decisions in the absence of a national Medicare policy.

B = Bundled code. Payment for covered services is always bundled into payment for other services not specified. If RVUs are shown, they are not used for Medicare payment. If these services are covered, payment for them is subsumed by the payment for the services to which they are incident. (An example is a telephone call from a hospital nurse regarding care of a patient.)

C = Carrier-priced code. Carriers will establish RVUs and payment amounts for these services, generally on a case-by-case basis following review of documentation, such as an operative report.

D = Deleted code. These codes are deleted effective with the beginning of the calendar year.

E = Excluded from physician fee schedule by regulation. These codes are for items or services that we chose to exclude from the physician fee schedule payment by regulation. No RVUs are shown, and no payment may be made under the physician fee schedule for these codes. Payment for them, if they are covered, continues under reasonable charge or other payment procedures.

G = Code not valid for Medicare purposes. Medicare does not recognize codes assigned this status. Medicare uses another code for reporting of, and payment for, these services.

N = Noncovered service. These codes are noncovered services. Medicare payment may not be made for these codes. If RVUs are shown, they are not used for Medicare payment.

P= Bundled or excluded code. There are no RVUs for these services. No separate payment should be made for them under the physician fee schedule.

—If the item or service is covered as incident to a physician's service and is furnished on the same day as a physician's service, payment for it is bundled into the payment for the physician's service to which it is incident (an example is an elastic bandage furnished by a physician incident to a physician's service).

—If the item or service is covered as other than incident to a physician's service, it is excluded from the physician fee schedule (for example, colostomy supplies) and is paid under the other payment provisions of the Act.

R = Restricted coverage. Special coverage instructions apply. If the service is covered and no RVUs are shown, it is carrier-priced.

T = Injections. There are RVUs for these services, but they are only paid if there are no other services payable under the physician fee schedule billed on the same date by the same provider. If any other services payable under the physician fee schedule are billed on the same date by the same provider, these services are bundled into the service(s) for which payment is made.

X = Exclusion by law. These codes represent an item or service that is not within the definition of “physicians’ services” for physician fee schedule payment purposes. No RVUs are shown for these codes, and no payment may be made under the physician fee schedule. (Examples are ambulance services and clinical diagnostic laboratory services.)

4. Description of code.This is an abbreviated version of the narrative description of the code.

5. Physician work RVUs. These are the RVUs for the physician work for this service in 2001. Codes that are not used for Medicare payment are identified with a “+.”

6. Fully implemented non-facility practice expense RVUs. These are the fully implemented resource-based practice expense RVUs for non-facility settings.

7. Year 2001 Transition non-facility practice expense RVUs. Blended non-facility practice expense RVUs for use in 2001.

8. Fully implemented facility practice expense RVUs. These are the fully implemented resource-based practice expense RVUs for facility settings.

9. Year 2001 transition facility practice expense RVUs. Blended facility practice expense RVUs for use in 2001.

10. Malpractice expense RVUs. These are the RVUs for the malpractice expense for the service for 2001.

11. Fully implemented non-facility total. This is the sum of the work, fully implemented non-facility practice expense, and malpractice expense RVUs.

12. Year 2001 transition non-facility total. This is the sum of the work, transition non-facility practice expense, and malpractice expense RVUs for use in 2001.

13. Fully implemented facility total. This is the sum of the work, fully implemented facility practice expense, and malpractice expense RVUs.

14. Year 2001 transition facility total. This is the sum of the work, transition facility practice expense, and malpractice expense RVUs for use in 2001.

15. Global period. This indicator shows the number of days in the global period for the code (0, 10, or 90 days). An explanation of the alpha codes follows:

MMM = The code describes a service furnished in uncomplicated maternity cases including antepartum care, delivery, and postpartum care. The usual global surgical concept does not apply. See the 1999 Physicians’ Current Procedural Terminology for specific definitions.

XXX = The global concept does not apply.

YYY = The global period is to be set by the carrier (for example, unlisted surgery codes).

ZZZ = The code is part of another service and falls within the global period for the other service.

——————————

¹ CPT codes and descriptions only are copyright 2000 American Medical Association. All Rights Reserved. Applicable FARS/DFARS Apply.

² Copyright 1994 American Dental Association. All rights reserved.

³ PE RVUs = Practice Expense Relative Value Units.

Addendum B.—Relative Value Units (RVUs) and Related Information
CPT ¹/HCPCS ² | Mod | Status | Description | Physician work RVUs | Fully implemented non-facility PE RVUs | Year 2001 transitional non- facility PE RVUs | Fully implemented facility PE RVUs | Year 2001 transitional facility PE RVUs | Mal-practice RVUs | Fully implemented non-facility total | Year 2001 transitional non- facility total | Fully implemented facility total | Year 2001 transitional facility total | Global
10120 |  | A | Remove foreign body | 1.22 | 1.67 | 1.38 | 0.67 | 0.63 | 0.10 | 2.99 | 2.70 | 1.99 | 1.95 | 010
10121 |  | A | Remove foreign body | 2.69 | 2.61 | 2.23 | 1.70 | 1.55 | 0.24 | 5.54 | 5.16 | 4.63 | 4.48 | 010
10140 |  | A | Drainage of hematoma/fluid | 1.53 | 1.32 | 1.12 | 0.82 | 0.75 | 0.11 | 2.96 | 2.76 | 2.46 | 2.39 | 010
10160 |  | A | Puncture drainage of lesion | 1.20 | 1.45 | 1.19 | 0.73 | 0.65 | 0.09 | 2.74 | 2.48 | 2.02 | 1.94 | 010
10180 |  | A | Complex drainage, wound | 2.25 | 1.32 | 1.28 | 1.24 | 1.22 | 0.23 | 3.80 | 3.76 | 3.72 | 3.70 | 010
11000 |  | A | Debride infected skin | 0.60 | 0.52 | 0.50 | 0.24 | 0.29 | 0.04 | 1.16 | 1.14 | 0.88 | 0.93 | 000
11001 |  | A | Debride infected skin add-on | 0.30 | 0.29 | 0.29 | 0.12 | 0.16 | 0.02 | 0.61 | 0.61 | 0.44 | 0.48 | ZZZ
11010 |  | A | Debride skin, fx | 4.20 | 2.39 | 2.87 | 2.10 | 2.65 | 0.36 | 6.95 | 7.43 | 6.66 | 7.21 | 010
11011 |  | A | Debride skin/muscle, fx | 4.95 | 3.67 | 4.03 | 2.61 | 3.24 | 0.48 | 9.10 | 9.46 | 8.04 | 8.67 | 000
11012 |  | A | Debride skin/muscle/bone, fx | 6.88 | 4.94 | 5.49 | 4.14 | 4.89 | 0.71 | 12.53 | 13.08 | 11.73 | 12.48 | 000
11040 |  | A | Debride skin, partial | 0.50 | 0.45 | 0.45 | 0.21 | 0.27 | 0.03 | 0.98 | 0.98 | 0.74 | 0.80 | 000
11041 |  | A | Debride skin, full | 0.82 | 0.61 | 0.61 | 0.33 | 0.40 | 0.06 | 1.49 | 1.49 | 1.21 | 1.28 | 000
11042 |  | A | Debride skin/tissue | 1.12 | 0.85 | 0.82 | 0.46 | 0.52 | 0.09 | 2.06 | 2.03 | 1.67 | 1.73 | 000
11043 |  | A | Debride tissue/muscle | 2.38 | 2.41 | 2.30 | 1.38 | 1.53 | 0.22 | 5.01 | 4.90 | 3.98 | 4.13 | 010
11044 |  | A | Debride tissue/muscle/bone | 3.06 | 3.11 | 3.10 | 1.81 | 2.12 | 0.30 | 6.47 | 6.46 | 5.17 | 5.48 | 010
11055 |  | R | Trim skin lesion | 0.27 | 0.34 | 0.33 | 0.12 | 0.16 | 0.02 | 0.63 | 0.62 | 0.41 | 0.45 | 000
11056 |  | R | Trim skin lesions, 2 to 4 | 0.39 | 0.38 | 0.38 | 0.16 | 0.22 | 0.03 | 0.80 | 0.80 | 0.58 | 0.64 | 000
11057 |  | R | Trim skin lesions, over 4 | 0.50 | 0.42 | 0.39 | 0.21 | 0.23 | 0.03 | 0.95 | 0.92 | 0.74 | 0.76 | 000
11100 |  | A | Biopsy of skin lesion | 0.81 | 1.47 | 1.24 | 0.38 | 0.42 | 0.04 | 2.32 | 2.09 | 1.23 | 1.27 | 000
11101 |  | A | Biopsy, skin add-on | 0.41 | 0.68 | 0.59 | 0.20 | 0.23 | 0.02 | 1.11 | 1.02 | 0.63 | 0.66 | ZZZ
11200 |  | A | Removal of skin tags | 0.77 | 1.03 | 0.89 | 0.31 | 0.35 | 0.04 | 1.84 | 1.70 | 1.12 | 1.16 | 010
11201 |  | A | Remove skin tags add-on | 0.29 | 0.42 | 0.36 | 0.12 | 0.14 | 0.02 | 0.73 | 0.67 | 0.43 | 0.45 | ZZZ
11300 |  | A | Shave skin lesion | 0.51 | 0.98 | 0.88 | 0.22 | 0.31 | 0.03 | 1.52 | 1.42 | 0.76 | 0.85 | 000
11301 |  | A | Shave skin lesion | 0.85 | 1.08 | 0.99 | 0.40 | 0.48 | 0.04 | 1.97 | 1.88 | 1.29 | 1.37 | 000
11302 |  | A | Shave skin lesion | 1.05 | 1.18 | 1.13 | 0.48 | 0.60 | 0.05 | 2.28 | 2.23 | 1.58 | 1.70 | 000
11303 |  | A | Shave skin lesion | 1.24 | 1.29 | 1.34 | 0.56 | 0.79 | 0.06 | 2.59 | 2.64 | 1.86 | 2.09 | 000
11305 |  | A | Shave skin lesion | 0.67 | 0.78 | 0.73 | 0.29 | 0.36 | 0.04 | 1.49 | 1.44 | 1.00 | 1.07 | 000
11306 |  | A | Shave skin lesion | 0.99 | 1.03 | 0.97 | 0.44 | 0.52 | 0.05 | 2.07 | 2.01 | 1.48 | 1.56 | 000
11307 |  | A | Shave skin lesion | 1.14 | 1.13 | 1.10 | 0.51 | 0.64 | 0.05 | 2.32 | 2.29 | 1.70 | 1.83 | 000
11308 |  | A | Shave skin lesion | 1.41 | 1.21 | 1.29 | 0.62 | 0.85 | 0.07 | 2.69 | 2.77 | 2.10 | 2.33 | 000
11310 |  | A | Shave skin lesion | 0.73 | 1.08 | 1.00 | 0.34 | 0.44 | 0.04 | 1.85 | 1.77 | 1.11 | 1.21 | 000
11311 |  | A | Shave skin lesion | 1.05 | 1.19 | 1.12 | 0.51 | 0.61 | 0.05 | 2.29 | 2.22 | 1.61 | 1.71 | 000
11312 |  | A | Shave skin lesion | 1.20 | 1.27 | 1.26 | 0.58 | 0.74 | 0.05 | 2.52 | 2.51 | 1.83 | 1.99 | 000
11313 |  | A | Shave skin lesion | 1.62 | 1.51 | 1.54 | 0.76 | 0.98 | 0.08 | 3.21 | 3.24 | 2.46 | 2.68 | 000
11400 |  | A | Removal of skin lesion | 0.91 | 2.30 | 1.87 | 0.71 | 0.68 | 0.07 | 3.28 | 2.85 | 1.69 | 1.66 | 010
11401 |  | A | Removal of skin lesion | 1.32 | 2.34 | 1.94 | 0.87 | 0.84 | 0.10 | 3.76 | 3.36 | 2.29 | 2.26 | 010
11402 |  | A | Removal of skin lesion | 1.61 | 2.42 | 2.06 | 0.95 | 0.96 | 0.11 | 4.14 | 3.78 | 2.67 | 2.68 | 010
11403 |  | A | Removal of skin lesion | 1.92 | 2.63 | 2.29 | 1.08 | 1.13 | 0.15 | 4.70 | 4.36 | 3.15 | 3.20 | 010
11404 |  | A | Removal of skin lesion | 2.20 | 2.78 | 2.46 | 1.17 | 1.25 | 0.18 | 5.16 | 4.84 | 3.55 | 3.63 | 010
11406 |  | A | Removal of skin lesion | 2.76 | 3.07 | 2.81 | 1.39 | 1.55 | 0.25 | 6.08 | 5.82 | 4.40 | 4.56 | 010
11420 |  | A | Removal of skin lesion | 1.06 | 1.92 | 1.58 | 0.76 | 0.71 | 0.08 | 3.06 | 2.72 | 1.90 | 1.85 | 010
11421 |  | A | Removal of skin lesion | 1.53 | 2.25 | 1.88 | 0.97 | 0.92 | 0.11 | 3.89 | 3.52 | 2.61 | 2.56 | 010
11422 |  | A | Removal of skin lesion | 1.76 | 2.44 | 2.09 | 1.04 | 1.04 | 0.12 | 4.32 | 3.97 | 2.92 | 2.92 | 010
11423 |  | A | Removal of skin lesion | 2.17 | 2.73 | 2.40 | 1.21 | 1.26 | 0.17 | 5.07 | 4.74 | 3.55 | 3.60 | 010
11424 |  | A | Removal of skin lesion | 2.62 | 2.87 | 2.53 | 1.38 | 1.41 | 0.20 | 5.69 | 5.35 | 4.20 | 4.23 | 010
11426 |  | A | Removal of skin lesion | 3.78 | 3.51 | 3.13 | 1.85 | 1.89 | 0.32 | 7.61 | 7.23 | 5.95 | 5.99 | 010
11440 |  | A | Removal of skin lesion | 1.15 | 2.45 | 2.03 | 0.92 | 0.88 | 0.08 | 3.68 | 3.26 | 2.15 | 2.11 | 010
11441 |  | A | Removal of skin lesion | 1.61 | 2.59 | 2.17 | 1.14 | 1.09 | 0.11 | 4.31 | 3.89 | 2.86 | 2.81 | 010
11442 |  | A | Removal of skin lesion | 1.87 | 2.66 | 2.30 | 1.24 | 1.24 | 0.13 | 4.66 | 4.30 | 3.24 | 3.24 | 010
11443 |  | A | Removal of skin lesion | 2.49 | 3.12 | 2.73 | 1.54 | 1.55 | 0.18 | 5.79 | 5.40 | 4.21 | 4.22 | 010
11444 |  | A | Removal of skin lesion | 3.42 | 3.55 | 3.06 | 1.93 | 1.85 | 0.25 | 7.22 | 6.73 | 5.60 | 5.52 | 010
11446 |  | A | Removal of skin lesion | 4.49 | 4.02 | 3.50 | 2.45 | 2.32 | 0.32 | 8.83 | 8.31 | 7.26 | 7.13 | 010
11450 |  | A | Removal, sweat gland lesion | 2.73 | 3.83 | 3.60 | 1.08 | 1.54 | 0.24 | 6.80 | 6.57 | 4.05 | 4.51 | 090
11451 |  | A | Removal, sweat gland lesion | 3.95 | 4.79 | 4.38 | 1.56 | 1.96 | 0.37 | 9.11 | 8.70 | 5.88 | 6.28 | 090
11462 |  | A | Removal, sweat gland lesion | 2.51 | 3.82 | 3.52 | 1.01 | 1.41 | 0.23 | 6.56 | 6.26 | 3.75 | 4.15 | 090
11463 |  | A | Removal, sweat gland lesion | 3.95 | 5.26 | 4.49 | 1.63 | 1.77 | 0.39 | 9.60 | 8.83 | 5.97 | 6.11 | 090
11470 |  | A | Removal, sweat gland lesion | 3.25 | 4.28 | 3.97 | 1.30 | 1.73 | 0.31 | 7.84 | 7.53 | 4.86 | 5.29 | 090
11471 |  | A | Removal, sweat gland lesion | 4.41 | 5.38 | 4.70 | 1.81 | 2.03 | 0.42 | 10.21 | 9.53 | 6.64 | 6.86 | 090
11600 |  | A | Removal of skin lesion | 1.41 | 2.47 | 2.16 | 0.97 | 1.04 | 0.09 | 3.97 | 3.66 | 2.47 | 2.54 | 010
11601 |  | A | Removal of skin lesion | 1.93 | 2.56 | 2.30 | 1.09 | 1.20 | 0.11 | 4.60 | 4.34 | 3.13 | 3.24 | 010
11602 |  | A | Removal of skin lesion | 2.09 | 2.62 | 2.46 | 1.29 | 1.46 | 0.12 | 4.83 | 4.67 | 3.50 | 3.67 | 010
11603 |  | A | Removal of skin lesion | 2.35 | 2.79 | 2.70 | 1.36 | 1.63 | 0.15 | 5.29 | 5.20 | 3.86 | 4.13 | 010
11604 |  | A | Removal of skin lesion | 2.58 | 2.96 | 2.92 | 1.44 | 1.78 | 0.18 | 5.72 | 5.68 | 4.20 | 4.54 | 010
11606 |  | A | Removal of skin lesion | 3.43 | 3.50 | 3.47 | 1.75 | 2.16 | 0.28 | 7.21 | 7.18 | 5.46 | 5.87 | 010
11620 |  | A | Removal of skin lesion | 1.34 | 2.44 | 2.19 | 0.99 | 1.11 | 0.09 | 3.87 | 3.62 | 2.42 | 2.54 | 010
11621 |  | A | Removal of skin lesion | 1.97 | 2.59 | 2.42 | 1.24 | 1.41 | 0.11 | 4.67 | 4.50 | 3.32 | 3.49 | 010
11622 |  | A | Removal of skin lesion | 2.34 | 2.75 | 2.66 | 1.45 | 1.69 | 0.14 | 5.23 | 5.14 | 3.93 | 4.17 | 010
11623 |  | A | Removal of skin lesion | 2.93 | 2.70 | 2.73 | 1.69 | 1.97 | 0.20 | 5.83 | 5.86 | 4.82 | 5.10 | 010
11624 |  | A | Removal of skin lesion | 3.43 | 3.01 | 3.13 | 1.91 | 2.30 | 0.25 | 6.69 | 6.81 | 5.59 | 5.98 | 010
11626 |  | A | Removal of skin lesion | 4.30 | 3.96 | 3.90 | 2.29 | 2.64 | 0.34 | 8.60 | 8.54 | 6.93 | 7.28 | 010
11640 |  | A | Removal of skin lesion | 1.53 | 2.53 | 2.35 | 1.16 | 1.32 | 0.10 | 4.16 | 3.98 | 2.79 | 2.95 | 010
11641 |  | A | Removal of skin lesion | 2.44 | 2.88 | 2.73 | 1.61 | 1.78 | 0.14 | 5.46 | 5.31 | 4.19 | 4.36 | 010
11642 |  | A | Removal of skin lesion | 2.93 | 2.79 | 2.79 | 1.82 | 2.06 | 0.18 | 5.90 | 5.90 | 4.93 | 5.17 | 010
11643 |  | A | Removal of skin lesion | 3.50 | 3.12 | 3.16 | 2.10 | 2.39 | 0.24 | 6.86 | 6.90 | 5.84 | 6.13 | 010
11644 |  | A | Removal of skin lesion | 4.55 | 3.74 | 3.76 | 2.60 | 2.90 | 0.32 | 8.61 | 8.63 | 7.47 | 7.77 | 010
11646 |  | A | Removal of skin lesion | 5.95 | 4.94 | 4.88 | 3.31 | 3.66 | 0.46 | 11.35 | 11.29 | 9.72 | 10.07 | 010
11719 |  | R | Trim nail(s) | 0.11 | 0.48 | 0.43 | 0.04 | 0.10 | 0.01 | 0.60 | 0.55 | 0.16 | 0.22 | 000
11720 |  | A | Debride nail, 1-5 | 0.32 | 0.40 | 0.39 | 0.13 | 0.19 | 0.02 | 0.74 | 0.73 | 0.47 | 0.53 | 000
11721 |  | A | Debride nail, 6 or more | 0.54 | 0.51 | 0.53 | 0.21 | 0.31 | 0.04 | 1.09 | 1.11 | 0.79 | 0.89 | 000
11730 |  | A | Removal of nail plate | 1.13 | 0.72 | 0.66 | 0.45 | 0.46 | 0.07 | 1.92 | 1.86 | 1.65 | 1.66 | 000
11732 |  | A | Remove nail plate, add-on | 0.57 | 0.28 | 0.28 | 0.23 | 0.24 | 0.04 | 0.89 | 0.89 | 0.84 | 0.85 | ZZZ
11740 |  | A | Drain blood from under nail | 0.37 | 0.64 | 0.59 | 0.14 | 0.21 | 0.03 | 1.04 | 0.99 | 0.54 | 0.61 | 000
11750 |  | A | Removal of nail bed | 1.86 | 1.49 | 1.69 | 0.78 | 1.16 | 0.12 | 3.47 | 3.67 | 2.76 | 3.14 | 010
11752 |  | A | Remove nail bed/finger tip | 2.67 | 1.84 | 2.15 | 1.65 | 2.00 | 0.20 | 4.71 | 5.02 | 4.52 | 4.87 | 010
11755 |  | A | Biopsy, nail unit | 1.31 | 0.97 | 1.00 | 0.57 | 0.70 | 0.08 | 2.36 | 2.39 | 1.96 | 2.09 | 000
11760 |  | A | Repair of nail bed | 1.58 | 1.54 | 1.41 | 1.13 | 1.10 | 0.13 | 3.25 | 3.12 | 2.84 | 2.81 | 010
11762 |  | A | Reconstruction of nail bed | 2.89 | 1.97 | 2.18 | 1.75 | 2.01 | 0.20 | 5.06 | 5.27 | 4.84 | 5.10 | 010
11765 |  | A | Excision of nail fold, toe | 0.69 | 0.93 | 0.84 | 0.42 | 0.45 | 0.05 | 1.67 | 1.58 | 1.16 | 1.19 | 010
11770 |  | A | Removal of pilonidal lesion | 2.61 | 2.77 | 2.80 | 1.27 | 1.68 | 0.24 | 5.62 | 5.65 | 4.12 | 4.53 | 010
11771 |  | A | Removal of pilonidal lesion | 5.74 | 5.00 | 4.98 | 3.95 | 4.19 | 0.55 | 11.29 | 11.27 | 10.24 | 10.48 | 090
11772 |  | A | Removal of pilonidal lesion | 6.98 | 5.85 | 5.70 | 4.45 | 4.65 | 0.70 | 13.53 | 13.38 | 12.13 | 12.33 | 090
11900 |  | A | Injection into skin lesions | 0.52 | 0.69 | 0.59 | 0.22 | 0.23 | 0.02 | 1.23 | 1.13 | 0.76 | 0.77 | 000
11901 |  | A | Added skin lesions injection | 0.80 | 0.82 | 0.73 | 0.37 | 0.39 | 0.03 | 1.65 | 1.56 | 1.20 | 1.22 | 000
11920 |  | R | Correct skin color defects | 1.61 | 2.01 | 1.83 | 0.78 | 0.91 | 0.17 | 3.79 | 3.61 | 2.56 | 2.69 | 000
11921 |  | R | Correct skin color defects | 1.93 | 2.21 | 2.04 | 1.00 | 1.13 | 0.20 | 4.34 | 4.17 | 3.13 | 3.26 | 000
11922 |  | R | Correct skin color defects | 0.49 | 0.36 | 0.37 | 0.26 | 0.29 | 0.05 | 0.90 | 0.91 | 0.80 | 0.83 | ZZZ
11950 |  | R | Therapy for contour defects | 0.84 | 1.01 | 1.08 | 0.35 | 0.59 | 0.06 | 1.91 | 1.98 | 1.25 | 1.49 | 000
11951 |  | R | Therapy for contour defects | 1.19 | 1.34 | 1.33 | 0.53 | 0.72 | 0.09 | 2.62 | 2.61 | 1.81 | 2.00 | 000
11952 |  | R | Therapy for contour defects | 1.69 | 2.09 | 1.89 | 0.80 | 0.92 | 0.11 | 3.89 | 3.69 | 2.60 | 2.72 | 000
11954 |  | R | Therapy for contour defects | 1.85 | 2.36 | 2.09 | 0.71 | 0.86 | 0.20 | 4.41 | 4.14 | 2.76 | 2.91 | 000
11960 |  | A | Insert tissue expander(s) | 9.08 | NA | NA | 10.01 | 9.61 | 0.89 | NA | NA | 19.98 | 19.58 | 090
11970 |  | A | Replace tissue expander | 7.06 | NA | NA | 4.89 | 5.78 | 0.75 | NA | NA | 12.70 | 13.59 | 090
11971 |  | A | Remove tissue expander(s) | 2.13 | 5.96 | 5.10 | 3.56 | 3.30 | 0.22 | 8.31 | 7.45 | 5.91 | 5.65 | 090
11975 |  | N | Insert contraceptive cap | 1.48 | 1.46 | 1.38 | 0.59 | 0.73 | 0.11 | 3.05 | 2.97 | 2.18 | 2.32 | XXX
11976 |  | R | Removal of contraceptive cap | 1.78 | 1.52 | 1.49 | 0.65 | 0.84 | 0.13 | 3.43 | 3.40 | 2.56 | 2.75 | XXX
11977 |  | N | Removal/reinsert contra cap | 3.30 | 2.19 | 2.28 | 1.31 | 1.62 | 0.25 | 5.74 | 5.83 | 4.86 | 5.17 | XXX
11980 |  | A | Implant hormone pellet(s) | 1.48 | 1.46 | 1.46 | 0.59 | 0.59 | 0.11 | 3.05 | 3.05 | 2.18 | 2.18 | 000
12001 |  | A | Repair superficial wound(s) | 1.70 | 2.17 | 1.78 | 0.78 | 0.74 | 0.15 | 4.02 | 3.63 | 2.63 | 2.59 | 010
12002 |  | A | Repair superficial wound(s) | 1.86 | 2.26 | 1.91 | 0.82 | 0.83 | 0.16 | 4.28 | 3.93 | 2.84 | 2.85 | 010
12004 |  | A | Repair superficial wound(s) | 2.24 | 2.45 | 2.15 | 0.94 | 1.02 | 0.20 | 4.89 | 4.59 | 3.38 | 3.46 | 010
12005 |  | A | Repair superficial wound(s) | 2.86 | 2.84 | 2.53 | 1.17 | 1.28 | 0.26 | 5.96 | 5.65 | 4.29 | 4.40 | 010
12006 |  | A | Repair superficial wound(s) | 3.67 | 3.97 | 3.46 | 1.74 | 1.79 | 0.34 | 7.98 | 7.47 | 5.75 | 5.80 | 010
12007 |  | A | Repair superficial wound(s) | 4.12 | 4.29 | 3.71 | 2.04 | 2.02 | 0.38 | 8.79 | 8.21 | 6.54 | 6.52 | 010
12011 |  | A | Repair superficial wound(s) | 1.76 | 2.27 | 1.90 | 0.79 | 0.79 | 0.16 | 4.19 | 3.82 | 2.71 | 2.71 | 010
12013 |  | A | Repair superficial wound(s) | 1.99 | 2.38 | 2.07 | 0.84 | 0.91 | 0.18 | 4.55 | 4.24 | 3.01 | 3.08 | 010
12014 |  | A | Repair superficial wound(s) | 2.46 | 2.68 | 2.33 | 1.01 | 1.08 | 0.22 | 5.36 | 5.01 | 3.69 | 3.76 | 010
12015 |  | A | Repair superficial wound(s) | 3.19 | 3.09 | 2.76 | 1.20 | 1.34 | 0.29 | 6.57 | 6.24 | 4.68 | 4.82 | 010
12016 |  | A | Repair superficial wound(s) | 3.93 | 3.35 | 3.13 | 1.50 | 1.74 | 0.36 | 7.64 | 7.42 | 5.79 | 6.03 | 010
12017 |  | A | Repair superficial wound(s) | 4.71 | 5.03 | 4.69 | 2.11 | 2.50 | 0.44 | 10.18 | 9.84 | 7.26 | 7.65 | 010
12018 |  | A | Repair superficial wound(s) | 5.53 | 5.66 | 5.64 | 2.54 | 3.30 | 0.46 | 11.65 | 11.63 | 8.53 | 9.29 | 010
12020 |  | A | Closure of split wound | 2.62 | 2.59 | 2.27 | 1.51 | 1.46 | 0.23 | 5.44 | 5.12 | 4.36 | 4.31 | 010
12021 |  | A | Closure of split wound | 1.84 | 2.00 | 1.67 | 1.11 | 1.00 | 0.15 | 3.99 | 3.66 | 3.10 | 2.99 | 010
12031 |  | A | Layer closure of wound(s) | 2.15 | 2.66 | 2.19 | 1.16 | 1.07 | 0.14 | 4.95 | 4.48 | 3.45 | 3.36 | 010
12032 |  | A | Layer closure of wound(s) | 2.47 | 2.74 | 2.34 | 1.23 | 1.21 | 0.15 | 5.36 | 4.96 | 3.85 | 3.83 | 010
12034 |  | A | Layer closure of wound(s) | 2.92 | 2.97 | 2.63 | 1.39 | 1.44 | 0.24 | 6.13 | 5.79 | 4.55 | 4.60 | 010
12035 |  | A | Layer closure of wound(s) | 3.43 | 2.98 | 2.76 | 1.62 | 1.74 | 0.32 | 6.73 | 6.51 | 5.37 | 5.49 | 010
12036 |  | A | Layer closure of wound(s) | 4.05 | 4.89 | 4.30 | 2.34 | 2.39 | 0.40 | 9.34 | 8.75 | 6.79 | 6.84 | 010
12037 |  | A | Layer closure of wound(s) | 4.67 | 5.11 | 4.67 | 2.81 | 2.95 | 0.44 | 10.22 | 9.78 | 7.92 | 8.06 | 010
12041 |  | A | Layer closure of wound(s) | 2.37 | 2.95 | 2.44 | 1.19 | 1.12 | 0.17 | 5.49 | 4.98 | 3.73 | 3.66 | 010
12042 |  | A | Layer closure of wound(s) | 2.74 | 2.93 | 2.52 | 1.36 | 1.34 | 0.18 | 5.85 | 5.44 | 4.28 | 4.26 | 010
12044 |  | A | Layer closure of wound(s) | 3.14 | 2.99 | 2.68 | 1.54 | 1.60 | 0.26 | 6.39 | 6.08 | 4.94 | 5.00 | 010
12045 |  | A | Layer closure of wound(s) | 3.64 | 3.33 | 3.08 | 1.80 | 1.93 | 0.32 | 7.29 | 7.04 | 5.76 | 5.89 | 010
12046 |  | A | Layer closure of wound(s) | 4.25 | 4.95 | 4.48 | 2.40 | 2.57 | 0.37 | 9.57 | 9.10 | 7.02 | 7.19 | 010
12047 |  | A | Layer closure of wound(s) | 4.65 | 4.99 | 4.83 | 2.79 | 3.18 | 0.44 | 10.08 | 9.92 | 7.88 | 8.27 | 010
12051 |  | A | Layer closure of wound(s) | 2.47 | 2.91 | 2.46 | 1.35 | 1.29 | 0.17 | 5.55 | 5.10 | 3.99 | 3.93 | 010
12052 |  | A | Layer closure of wound(s) | 2.77 | 2.88 | 2.56 | 1.30 | 1.38 | 0.17 | 5.82 | 5.50 | 4.24 | 4.32 | 010
12053 |  | A | Layer closure of wound(s) | 3.12 | 3.03 | 2.75 | 1.45 | 1.57 | 0.23 | 6.38 | 6.10 | 4.80 | 4.92 | 010
12054 |  | A | Layer closure of wound(s) | 3.46 | 3.36 | 3.23 | 1.57 | 1.88 | 0.29 | 7.11 | 6.98 | 5.32 | 5.63 | 010
12055 |  | A | Layer closure of wound(s) | 4.43 | 4.12 | 3.97 | 2.09 | 2.45 | 0.39 | 8.94 | 8.79 | 6.91 | 7.27 | 010
12056 |  | A | Layer closure of wound(s) | 5.24 | 5.87 | 5.69 | 2.89 | 3.45 | 0.43 | 11.54 | 11.36 | 8.56 | 9.12 | 010
12057 |  | A | Layer closure of wound(s) | 5.96 | 5.55 | 5.67 | 3.52 | 4.15 | 0.49 | 12.00 | 12.12 | 9.97 | 10.60 | 010
13100 |  | A | Repair of wound or lesion | 3.12 | 3.25 | 2.75 | 1.83 | 1.68 | 0.22 | 6.59 | 6.09 | 5.17 | 5.02 | 010
13101 |  | A | Repair of wound or lesion | 3.92 | 3.54 | 3.22 | 2.28 | 2.28 | 0.23 | 7.69 | 7.37 | 6.43 | 6.43 | 010
13102 |  | A | Repair wound/lesion add-on | 1.24 | 0.72 | 0.72 | 0.57 | 0.57 | 0.08 | 2.04 | 2.04 | 1.89 | 1.89 | ZZZ
13120 |  | A | Repair of wound or lesion | 3.30 | 3.39 | 2.91 | 1.82 | 1.73 | 0.25 | 6.94 | 6.46 | 5.37 | 5.28 | 010
13121 |  | A | Repair of wound or lesion | 4.33 | 3.76 | 3.54 | 2.32 | 2.46 | 0.27 | 8.36 | 8.14 | 6.92 | 7.06 | 010
13122 |  | A | Repair wound/lesion add-on | 1.44 | 0.84 | 0.84 | 0.66 | 0.66 | 0.09 | 2.37 | 2.37 | 2.19 | 2.19 | ZZZ
13131 |  | A | Repair of wound or lesion | 3.79 | 3.64 | 3.27 | 2.17 | 2.17 | 0.26 | 7.69 | 7.32 | 6.22 | 6.22 | 010
13132 |  | A | Repair of wound or lesion | 5.95 | 4.50 | 4.62 | 3.19 | 3.63 | 0.34 | 10.79 | 10.91 | 9.48 | 9.92 | 010
13133 |  | A | Repair wound/lesion add-on | 2.19 | 1.19 | 1.19 | 1.01 | 1.01 | 0.12 | 3.50 | 3.50 | 3.32 | 3.32 | ZZZ
13150 |  | A | Repair of wound or lesion | 3.81 | 4.97 | 4.21 | 2.50 | 2.35 | 0.29 | 9.07 | 8.31 | 6.60 | 6.45 | 010
13151 |  | A | Repair of wound or lesion | 4.45 | 4.98 | 4.40 | 2.95 | 2.88 | 0.30 | 9.73 | 9.15 | 7.70 | 7.63 | 010
13152 |  | A | Repair of wound or lesion | 6.33 | 5.64 | 5.62 | 3.85 | 4.28 | 0.40 | 12.37 | 12.35 | 10.58 | 11.01 | 010
13153 |  | A | Repair wound/lesion add-on | 2.38 | 1.32 | 1.32 | 1.09 | 1.09 | 0.15 | 3.85 | 3.85 | 3.62 | 3.62 | ZZZ
13160 |  | A | Late closure of wound | 10.48 | NA | NA | 6.26 | 5.60 | 1.08 | NA | NA | 17.82 | 17.16 | 090
13300 |  | D | Repair of wound or lesion | 5.27 | 2.09 | 3.12 | 2.09 | 3.12 | 0.44 | 7.80 | 8.83 | 7.80 | 8.83 | 010
14000 |  | A | Skin tissue rearrangement | 5.89 | 7.03 | 6.20 | 4.52 | 4.32 | 0.46 | 13.38 | 12.55 | 10.87 | 10.67 | 090
14001 |  | A | Skin tissue rearrangement | 8.47 | 8.26 | 7.48 | 5.82 | 5.65 | 0.67 | 17.40 | 16.62 | 14.96 | 14.79 | 090
14020 |  | A | Skin tissue rearrangement | 6.59 | 7.45 | 6.92 | 5.13 | 5.18 | 0.51 | 14.55 | 14.02 | 12.23 | 12.28 | 090
14021 |  | A | Skin tissue rearrangement | 10.06 | 8.94 | 8.39 | 6.89 | 6.85 | 0.73 | 19.73 | 19.18 | 17.68 | 17.64 | 090
14040 |  | A | Skin tissue rearrangement | 7.87 | 7.82 | 7.70 | 5.80 | 6.19 | 0.53 | 16.22 | 16.10 | 14.20 | 14.59 | 090
14041 |  | A | Skin tissue rearrangement | 11.49 | 9.68 | 9.40 | 7.65 | 7.88 | 0.69 | 21.86 | 21.58 | 19.83 | 20.06 | 090
14060 |  | A | Skin tissue rearrangement | 8.50 | 8.34 | 8.36 | 6.60 | 7.05 | 0.60 | 17.44 | 17.46 | 15.70 | 16.15 | 090
14061 |  | A | Skin tissue rearrangement | 12.29 | 10.66 | 10.84 | 8.55 | 9.26 | 0.75 | 23.70 | 23.88 | 21.59 | 22.30 | 090
14300 |  | A | Skin tissue rearrangement | 11.76 | 9.70 | 10.34 | 8.10 | 9.14 | 0.92 | 22.38 | 23.02 | 20.78 | 21.82 | 090
14350 |  | A | Skin tissue rearrangement | 9.61 | NA | NA | 5.92 | 6.09 | 0.90 | NA | NA | 16.43 | 16.60 | 090
15000 |  | A | Skin graft | 0.04 | 2.40 | 2.38 | 1.93 | 2.03 | 0.36 | 2.80 | 2.78 | 2.33 | 2.43 | 000
15001 |  | A | Skin graft add-on | 0.01 | 0.60 | 0.60 | 0.48 | 0.48 | 0.09 | 0.70 | 0.70 | 0.58 | 0.58 | ZZZ
15050 |  | A | Skin pinch graft | 4.30 | 4.82 | 4.10 | 3.66 | 3.23 | 0.41 | 9.53 | 8.81 | 8.37 | 7.94 | 090
15100 |  | A | Skin split graft | 9.05 | 6.17 | 5.86 | 6.01 | 5.74 | 0.94 | 16.16 | 15.85 | 16.00 | 15.73 | 090
15101 |  | A | Skin split graft add-on | 1.72 | 1.15 | 1.30 | 0.77 | 1.01 | 0.18 | 3.05 | 3.20 | 2.67 | 2.91 | ZZZ
15120 |  | A | Skin split graft | 9.83 | 8.00 | 7.64 | 6.56 | 6.56 | 0.80 | 18.63 | 18.27 | 17.19 | 17.19 | 090
15121 |  | A | Skin split graft add-on | 2.67 | 1.69 | 2.06 | 1.29 | 1.76 | 0.26 | 4.62 | 4.99 | 4.22 | 4.69 | ZZZ
15200 |  | A | Skin full graft | 8.03 | 8.74 | 7.68 | 5.43 | 5.19 | 0.72 | 17.49 | 16.43 | 14.18 | 13.94 | 090
15201 |  | A | Skin full graft add-on | 1.32 | 1.08 | 1.27 | 0.66 | 0.95 | 0.13 | 2.53 | 2.72 | 2.11 | 2.40 | ZZZ
15220 |  | A | Skin full graft | 7.87 | 9.02 | 8.08 | 5.95 | 5.78 | 0.68 | 17.57 | 16.63 | 14.50 | 14.33 | 090
15221 |  | A | Skin full graft add-on | 1.19 | 0.86 | 1.08 | 0.58 | 0.87 | 0.11 | 2.16 | 2.38 | 1.88 | 2.17 | ZZZ
15240 |  | A | Skin full graft | 9.04 | 8.62 | 8.12 | 6.69 | 6.67 | 0.77 | 18.43 | 17.93 | 16.50 | 16.48 | 090
15241 |  | A | Skin full graft add-on | 1.86 | 1.40 | 1.70 | 0.95 | 1.36 | 0.17 | 3.43 | 3.73 | 2.98 | 3.39 | ZZZ
15260 |  | A | Skin full graft | 10.06 | 8.73 | 8.57 | 7.27 | 7.48 | 0.65 | 19.44 | 19.28 | 17.98 | 18.19 | 090
15261 |  | A | Skin full graft add-on | 2.23 | 1.52 | 1.91 | 1.15 | 1.64 | 0.17 | 3.92 | 4.31 | 3.55 | 4.04 | ZZZ
15350 |  | A | Skin homograft | 0.04 | 7.54 | 6.24 | 4.12 | 3.67 | 0.40 | 7.98 | 6.68 | 4.56 | 4.11 | 090
15351 |  | A | Skin homograft add-on | 0.01 | 0.80 | 0.80 | 0.46 | 0.46 | 0.09 | 0.90 | 0.90 | 0.56 | 0.56 | ZZZ
15400 |  | A | Skin heterograft | 0.04 | 4.25 | 3.48 | 4.25 | 3.48 | 0.34 | 4.63 | 3.86 | 4.63 | 3.86 | 090
15401 |  | A | Skin heterograft add-on | 0.01 | 0.80 | 0.80 | 0.46 | 0.46 | 0.09 | 0.90 | 0.90 | 0.56 | 0.56 | ZZZ
15570 |  | A | Form skin pedicle flap | 9.21 | 8.32 | 7.73 | 5.85 | 5.88 | 0.91 | 18.44 | 17.85 | 15.97 | 16.00 | 090
15572 |  | A | Form skin pedicle flap | 9.27 | 7.55 | 7.12 | 5.21 | 5.37 | 0.87 | 17.69 | 17.26 | 15.35 | 15.51 | 090
15574 |  | A | Form skin pedicle flap | 9.88 | 8.04 | 7.50 | 6.45 | 6.30 | 0.86 | 18.78 | 18.24 | 17.19 | 17.04 | 090
15576 |  | A | Form skin pedicle flap | 8.69 | 8.41 | 7.16 | 6.13 | 5.45 | 0.71 | 17.81 | 16.56 | 15.53 | 14.85 | 090
15580 |  | D | Attach skin pedicle graft | 9.46 | 3.75 | 3.98 | 3.75 | 3.98 | 0.98 | 14.19 | 14.42 | 14.19 | 14.42 | 090
15600 |  | A | Skin graft | 1.91 | 5.35 | 4.69 | 2.20 | 2.33 | 0.19 | 7.45 | 6.79 | 4.30 | 4.43 | 090
15610 |  | A | Skin graft | 2.42 | 2.39 | 2.56 | 2.39 | 2.56 | 0.25 | 5.06 | 5.23 | 5.06 | 5.23 | 090
15620 |  | A | Skin graft | 2.94 | 6.16 | 5.55 | 3.12 | 3.27 | 0.27 | 9.37 | 8.76 | 6.33 | 6.48 | 090
15625 |  | D | Skin graft | 1.91 | 0.76 | 1.14 | 0.76 | 1.14 | 0.20 | 2.87 | 3.25 | 2.87 | 3.25 | 090
15630 |  | A | Skin graft | 3.27 | 5.77 | 5.31 | 3.38 | 3.51 | 0.29 | 9.33 | 8.87 | 6.94 | 7.07 | 090
15650 |  | A | Transfer skin pedicle flap | 3.97 | 6.52 | 6.08 | 3.51 | 3.82 | 0.33 | 10.82 | 10.38 | 7.81 | 8.12 | 090
15732 |  | A | Muscle-skin graft, head/neck | 17.84 | NA | NA | 11.13 | 12.55 | 1.47 | NA | NA | 30.44 | 31.86 | 090
15734 |  | A | Muscle-skin graft, trunk | 17.79 | NA | NA | 11.07 | 13.46 | 1.88 | NA | NA | 30.74 | 33.13 | 090
15736 |  | A | Muscle-skin graft, arm | 16.27 | NA | NA | 10.44 | 12.23 | 1.72 | NA | NA | 28.43 | 30.22 | 090
15738 |  | A | Muscle-skin graft, leg | 17.92 | NA | NA | 11.01 | 11.76 | 1.91 | NA | NA | 30.84 | 31.59 | 090
15740 |  | A | Island pedicle flap graft | 10.25 | 8.51 | 9.20 | 6.82 | 7.94 | 0.64 | 19.40 | 20.09 | 17.71 | 18.83 | 090
15750 |  | A | Neurovascular pedicle graft | 11.41 | NA | NA | 8.03 | 9.27 | 1.17 | NA | NA | 20.61 | 21.85 | 090
15756 |  | A | Free muscle flap, microvasc | 35.23 | NA | NA | 21.45 | 24.25 | 3.62 | NA | NA | 60.30 | 63.10 | 090
15757 |  | A | Free skin flap, microvasc | 35.23 | NA | NA | 21.62 | 24.38 | 3.37 | NA | NA | 60.22 | 62.98 | 090
15758 |  | A | Free fascial flap, microvasc | 35.10 | NA | NA | 21.39 | 24.21 | 3.40 | NA | NA | 59.89 | 62.71 | 090
15760 |  | A | Composite skin graft | 8.74 | 8.14 | 8.08 | 6.03 | 6.50 | 0.72 | 17.60 | 17.54 | 15.49 | 15.96 | 090
15770 |  | A | Derma-fat-fascia graft | 7.52 | NA | NA | 5.73 | 6.32 | 0.81 | NA | NA | 14.06 | 14.65 | 090
15775 |  | R | Hair transplant punch grafts | 3.96 | 2.92 | 2.97 | 1.58 | 1.97 | 0.42 | 7.30 | 7.35 | 5.96 | 6.35 | 000
15776 |  | R | Hair transplant punch grafts | 5.54 | 5.40 | 5.14 | 2.20 | 2.74 | 0.59 | 11.53 | 11.27 | 8.33 | 8.87 | 000
15780 |  | A | Abrasion treatment of skin | 7.29 | 6.57 | 5.34 | 6.57 | 5.34 | 0.54 | 14.40 | 13.17 | 14.40 | 13.17 | 090
15781 |  | A | Abrasion treatment of skin | 4.85 | 4.69 | 4.54 | 4.41 | 4.33 | 0.29 | 9.83 | 9.68 | 9.55 | 9.47 | 090
15782 |  | A | Abrasion treatment of skin | 4.32 | 4.04 | 3.35 | 3.73 | 3.12 | 0.27 | 8.63 | 7.94 | 8.32 | 7.71 | 090
15783 |  | A | Abrasion treatment of skin | 4.29 | 4.43 | 3.83 | 3.12 | 2.84 | 0.26 | 8.98 | 8.38 | 7.67 | 7.39 | 090
15786 |  | A | Abrasion, lesion, single | 2.03 | 1.69 | 1.44 | 1.24 | 1.10 | 0.11 | 3.83 | 3.58 | 3.38 | 3.24 | 010
15787 |  | A | Abrasion, lesions, add-on | 0.33 | 0.28 | 0.27 | 0.18 | 0.20 | 0.02 | 0.63 | 0.62 | 0.53 | 0.55 | ZZZ
15788 |  | R | Chemical peel, face, epiderm | 2.09 | 2.82 | 2.52 | 1.04 | 1.18 | 0.10 | 5.01 | 4.71 | 3.23 | 3.37 | 090
15789 |  | R | Chemical peel, face, dermal | 4.92 | 5.69 | 4.67 | 3.38 | 2.94 | 0.30 | 10.91 | 9.89 | 8.60 | 8.16 | 090
15792 |  | R | Chemical peel, nonfacial | 1.86 | 2.68 | 2.15 | 1.62 | 1.35 | 0.11 | 4.65 | 4.12 | 3.59 | 3.32 | 090
15793 |  | A | Chemical peel, nonfacial | 3.74 | NA | NA | 3.42 | 2.70 | 0.16 | NA | NA | 7.32 | 6.60 | 090
15810 |  | A | Salabrasion | 4.74 | 3.80 | 3.88 | 3.80 | 3.88 | 0.38 | 8.92 | 9.00 | 8.92 | 9.00 | 090
15811 |  | A | Salabrasion | 5.39 | 3.94 | 3.97 | 3.94 | 3.97 | 0.57 | 9.90 | 9.93 | 9.90 | 9.93 | 090
15819 |  | A | Plastic surgery, neck | 9.38 | NA | NA | 6.41 | 6.98 | 0.83 | NA | NA | 16.62 | 17.19 | 090
15820 |  | A | Revision of lower eyelid | 5.15 | 7.27 | 6.99 | 6.76 | 6.61 | 0.30 | 12.72 | 12.44 | 12.21 | 12.06 | 090
15821 |  | A | Revision of lower eyelid | 5.72 | 7.76 | 7.53 | 6.87 | 6.86 | 0.30 | 13.78 | 13.55 | 12.89 | 12.88 | 090
15822 |  | A | Revision of upper eyelid | 4.45 | 7.00 | 6.58 | 6.08 | 5.89 | 0.23 | 11.68 | 11.26 | 10.76 | 10.57 | 090
15823 |  | A | Revision of upper eyelid | 7.05 | 8.32 | 8.33 | 7.20 | 7.49 | 0.33 | 15.70 | 15.71 | 14.58 | 14.87 | 090
15824 |  | R | Removal of forehead wrinkles | 0.00 | 0.00 | 0.00 | 0.00 | 0.00 | 0.00 | 0.00 | 0.00 | 0.00 | 0.00 | XXX
15825 |  | R | Removal of neck wrinkles | 0.00 | 0.00 | 0.00 | 0.00 | 0.00 | 0.00 | 0.00 | 0.00 | 0.00 | 0.00 | XXX
15826 |  | R | Removal of brow wrinkles | 0.00 | 0.00 | 0.00 | 0.00 | 0.00 | 0.00 | 0.00 | 0.00 | 0.00 | 0.00 | XXX
15828 |  | R | Removal of face wrinkles | 0.00 | 0.00 | 0.00 | 0.00 | 0.00 | 0.00 | 0.00 | 0.00 | 0.00 | 0.00 | XXX
15829 |  | R | Removal of skin wrinkles | 0.00 | 0.00 | 0.00 | 0.00 | 0.00 | 0.00 | 0.00 | 0.00 | 0.00 | 0.00 | XXX
15831 |  | A | Excise excessive skin tissue | 12.40 | NA | NA | 7.24 | 8.10 | 1.24 | NA | NA | 20.88 | 21.74 | 090
15832 |  | A | Excise excessive skin tissue | 11.59 | NA | NA | 7.78 | 8.09 | 1.20 | NA | NA | 20.57 | 20.88 | 090
15833 |  | A | Excise excessive skin tissue | 10.64 | NA | NA | 7.42 | 7.25 | 1.31 | NA | NA | 19.37 | 19.20 | 090
15834 |  | A | Excise excessive skin tissue | 10.85 | NA | NA | 6.16 | 6.57 | 1.23 | NA | NA | 18.24 | 18.65 | 090
15835 |  | A | Excise excessive skin tissue | 11.67 | NA | NA | 5.60 | 6.10 | 1.36 | NA | NA | 18.63 | 19.13 | 090
15836 |  | A | Excise excessive skin tissue | 9.34 | NA | NA | 6.08 | 6.13 | 0.95 | NA | NA | 16.37 | 16.42 | 090
15837 |  | A | Excise excessive skin tissue | 8.43 | 6.36 | 6.39 | 6.36 | 6.39 | 0.82 | 15.61 | 15.64 | 15.61 | 15.64 | 090
15838 |  | A | Excise excessive skin tissue | 7.13 | NA | NA | 5.41 | 5.65 | 0.53 | NA | NA | 13.07 | 13.31 | 090
15839 |  | A | Excise excessive skin tissue | 9.38 | 6.10 | 5.24 | 5.57 | 4.84 | 0.80 | 16.28 | 15.42 | 15.75 | 15.02 | 090
15840 |  | A | Graft for face nerve palsy | 13.26 | NA | NA | 9.46 | 11.05 | 1.06 | NA | NA | 23.78 | 25.37 | 090
15841 |  | A | Graft for face nerve palsy | 23.26 | NA | NA | 14.47 | 15.43 | 2.51 | NA | NA | 40.24 | 41.20 | 090
15842 |  | A | Graft for face nerve palsy | 37.96 | NA | NA | 22.96 | 25.09 | 5.53 | NA | NA | 66.45 | 68.58 | 090
15845 |  | A | Skin and muscle repair, face | 12.57 | NA | NA | 8.67 | 10.26 | 0.87 | NA | NA | 22.11 | 23.70 | 090
15850 |  | B | Removal of sutures | 0.78 | 1.32 | 1.09 | 0.31 | 0.33 | 0.05 | 2.15 | 1.92 | 1.14 | 1.16 | XXX
15851 |  | A | Removal of sutures | 0.86 | 1.48 | 1.19 | 0.34 | 0.34 | 0.06 | 2.40 | 2.11 | 1.26 | 1.26 | 000
15852 |  | A | Dressing change,not for burn | 0.86 | 1.63 | 1.34 | 0.35 | 0.38 | 0.07 | 2.56 | 2.27 | 1.28 | 1.31 | 000
15860 |  | A | Test for blood flow in graft | 1.95 | 1.11 | 1.20 | 0.87 | 1.02 | 0.19 | 3.25 | 3.34 | 3.01 | 3.16 | 000
15876 |  | R | Suction assisted lipectomy | 0.00 | 0.00 | 0.00 | 0.00 | 0.00 | 0.00 | 0.00 | 0.00 | 0.00 | 0.00 | XXX
15877 |  | R | Suction assisted lipectomy | 0.00 | 0.00 | 0.00 | 0.00 | 0.00 | 0.00 | 0.00 | 0.00 | 0.00 | 0.00 | XXX
15878 |  | R | Suction assisted lipectomy | 0.00 | 0.00 | 0.00 | 0.00 | 0.00 | 0.00 | 0.00 | 0.00 | 0.00 | 0.00 | XXX
15879 |  | R | Suction assisted lipectomy | 0.00 | 0.00 | 0.00 | 0.00 | 0.00 | 0.00 | 0.00 | 0.00 | 0.00 | 0.00 | XXX
15920 |  | A | Removal of tail bone ulcer | 7.95 | NA | NA | 5.38 | 4.84 | 0.75 | NA | NA | 14.08 | 13.54 | 090
15922 |  | A | Removal of tail bone ulcer | 9.90 | NA | NA | 6.94 | 6.83 | 1.03 | NA | NA | 17.87 | 17.76 | 090
15931 |  | A | Remove sacrum pressure sore | 9.24 | NA | NA | 5.52 | 4.94 | 0.95 | NA | NA | 15.71 | 15.13 | 090
15933 |  | A | Remove sacrum pressure sore | 10.85 | NA | NA | 7.87 | 7.78 | 1.13 | NA | NA | 19.85 | 19.76 | 090
15934 |  | A | Remove sacrum pressure sore | 12.69 | NA | NA | 8.16 | 8.15 | 1.34 | NA | NA | 22.19 | 22.18 | 090
15935 |  | A | Remove sacrum pressure sore | 14.57 | NA | NA | 9.76 | 10.37 | 1.53 | NA | NA | 25.86 | 26.47 | 090
15936 |  | A | Remove sacrum pressure sore | 12.38 | NA | NA | 8.76 | 9.36 | 1.30 | NA | NA | 22.44 | 23.04 | 090
15937 |  | A | Remove sacrum pressure sore | 14.21 | NA | NA | 9.97 | 11.13 | 1.49 | NA | NA | 25.67 | 26.83 | 090
15940 |  | A | Remove hip pressure sore | 9.34 | NA | NA | 5.84 | 5.34 | 0.96 | NA | NA | 16.14 | 15.64 | 090
15941 |  | A | Remove hip pressure sore | 11.43 | NA | NA | 9.32 | 8.90 | 1.20 | NA | NA | 21.95 | 21.53 | 090
15944 |  | A | Remove hip pressure sore | 11.46 | NA | NA | 8.41 | 8.82 | 1.19 | NA | NA | 21.06 | 21.47 | 090
15945 |  | A | Remove hip pressure sore | 12.69 | NA | NA | 9.35 | 10.04 | 1.33 | NA | NA | 23.37 | 24.06 | 090
15946 |  | A | Remove hip pressure sore | 21.57 | NA | NA | 13.99 | 15.00 | 2.15 | NA | NA | 37.71 | 38.72 | 090
15950 |  | A | Remove thigh pressure sore | 7.54 | NA | NA | 5.21 | 4.73 | 0.77 | NA | NA | 13.52 | 13.04 | 090
15951 |  | A | Remove thigh pressure sore | 10.72 | NA | NA | 7.94 | 8.03 | 1.11 | NA | NA | 19.77 | 19.86 | 090
15952 |  | A | Remove thigh pressure sore | 11.39 | NA | NA | 7.10 | 7.26 | 1.19 | NA | NA | 19.68 | 19.84 | 090
15953 |  | A | Remove thigh pressure sore | 12.63 | NA | NA | 8.66 | 8.96 | 1.31 | NA | NA | 22.60 | 22.90 | 090
15956 |  | A | Remove thigh pressure sore | 15.52 | NA | NA | 10.36 | 12.40 | 1.61 | NA | NA | 27.49 | 29.53 | 090
15958 |  | A | Remove thigh pressure sore | 15.48 | NA | NA | 10.45 | 12.46 | 1.59 | NA | NA | 27.52 | 29.53 | 090
15999 |  | C | Removal of pressure sore | 0.00 | 0.00 | 0.00 | 0.00 | 0.00 | 0.00 | 0.00 | 0.00 | 0.00 | 0.00 | YYY
16000 |  | A | Initial treatment of burn(s) | 0.89 | 0.91 | 0.78 | 0.26 | 0.29 | 0.07 | 1.87 | 1.74 | 1.22 | 1.25 | 000
16010 |  | A | Treatment of burn(s) | 0.87 | 1.01 | 0.85 | 0.36 | 0.36 | 0.07 | 1.95 | 1.79 | 1.30 | 1.30 | 000
16015 |  | A | Treatment of burn(s) | 2.35 | 1.62 | 1.77 | 0.99 | 1.30 | 0.21 | 4.18 | 4.33 | 3.55 | 3.86 | 000
16020 |  | A | Treatment of burn(s) | 0.80 | 0.99 | 0.84 | 0.25 | 0.28 | 0.06 | 1.85 | 1.70 | 1.11 | 1.14 | 000
16025 |  | A | Treatment of burn(s) | 1.85 | 1.58 | 1.31 | 0.67 | 0.63 | 0.16 | 3.59 | 3.32 | 2.68 | 2.64 | 000
16030 |  | A | Treatment of burn(s) | 2.08 | 2.51 | 2.02 | 0.89 | 0.81 | 0.19 | 4.78 | 4.29 | 3.16 | 3.08 | 000
16035 |  | A | Incision of burn scab | 4.82 | 2.82 | 2.63 | 2.09 | 2.08 | 0.48 | 8.12 | 7.93 | 7.39 | 7.38 | 090
17000 |  | A | Destroy benign/premal lesion | 0.60 | 0.99 | 0.86 | 0.27 | 0.32 | 0.03 | 1.62 | 1.49 | 0.90 | 0.95 | 010
17003 |  | A | Destroy lesions, 2-14 | 0.15 | 0.24 | 0.22 | 0.07 | 0.09 | 0.01 | 0.40 | 0.38 | 0.23 | 0.25 | ZZZ
17004 |  | A | Destroy lesions, 15 or more | 2.79 | 2.34 | 2.37 | 1.28 | 1.57 | 0.11 | 5.24 | 5.27 | 4.18 | 4.47 | 010
17106 |  | A | Destruction of skin lesions | 4.59 | 4.03 | 3.55 | 2.68 | 2.53 | 0.27 | 8.89 | 8.41 | 7.54 | 7.39 | 090
17107 |  | A | Destruction of skin lesions | 9.16 | 6.56 | 5.93 | 4.90 | 4.68 | 0.51 | 16.23 | 15.60 | 14.57 | 14.35 | 090
17108 |  | A | Destruction of skin lesions | 13.20 | 8.58 | 8.96 | 7.14 | 7.88 | 0.76 | 22.54 | 22.92 | 21.10 | 21.84 | 090
17110 |  | A | Destruct lesion, 1-14 | 0.65 | 0.93 | 0.81 | 0.26 | 0.30 | 0.04 | 1.62 | 1.50 | 0.95 | 0.99 | 010
17111 |  | A | Destruct lesion, 15 or more | 0.92 | 1.13 | 1.01 | 0.38 | 0.45 | 0.05 | 2.10 | 1.98 | 1.35 | 1.42 | 010
17250 |  | A | Chemical cautery, tissue | 0.50 | 0.62 | 0.56 | 0.20 | 0.24 | 0.04 | 1.16 | 1.10 | 0.74 | 0.78 | 000
17260 |  | A | Destruction of skin lesions | 0.91 | 1.22 | 1.22 | 0.41 | 0.62 | 0.04 | 2.17 | 2.17 | 1.36 | 1.57 | 010
17261 |  | A | Destruction of skin lesions | 1.17 | 1.34 | 1.38 | 0.55 | 0.79 | 0.05 | 2.56 | 2.60 | 1.77 | 2.01 | 010
17262 |  | A | Destruction of skin lesions | 1.58 | 1.54 | 1.65 | 0.75 | 1.06 | 0.06 | 3.18 | 3.29 | 2.39 | 2.70 | 010
17263 |  | A | Destruction of skin lesions | 1.79 | 1.65 | 1.85 | 0.84 | 1.24 | 0.07 | 3.51 | 3.71 | 2.70 | 3.10 | 010
17264 |  | A | Destruction of skin lesions | 1.94 | 1.72 | 1.99 | 0.90 | 1.38 | 0.08 | 3.74 | 4.01 | 2.92 | 3.40 | 010
17266 |  | A | Destruction of skin lesions | 2.34 | 1.92 | 2.29 | 0.99 | 1.59 | 0.11 | 4.37 | 4.74 | 3.44 | 4.04 | 010
17270 |  | A | Destruction of skin lesions | 1.32 | 1.41 | 1.42 | 0.60 | 0.81 | 0.06 | 2.79 | 2.80 | 1.98 | 2.19 | 010
17271 |  | A | Destruction of skin lesions | 1.49 | 1.50 | 1.60 | 0.71 | 1.01 | 0.06 | 3.05 | 3.15 | 2.26 | 2.56 | 010
17272 |  | A | Destruction of skin lesions | 1.77 | 1.64 | 1.83 | 0.85 | 1.24 | 0.07 | 3.48 | 3.67 | 2.69 | 3.08 | 010
17273 |  | A | Destruction of skin lesions | 2.05 | 1.78 | 2.04 | 0.97 | 1.43 | 0.08 | 3.91 | 4.17 | 3.10 | 3.56 | 010
17274 |  | A | Destruction of skin lesions | 2.59 | 2.04 | 2.40 | 1.24 | 1.80 | 0.11 | 4.74 | 5.10 | 3.94 | 4.50 | 010
17276 |  | A | Destruction of skin lesions | 3.20 | 2.35 | 2.69 | 1.59 | 2.12 | 0.15 | 5.70 | 6.04 | 4.94 | 5.47 | 010
17280 |  | A | Destruction of skin lesions | 1.17 | 1.25 | 1.39 | 0.54 | 0.85 | 0.05 | 2.47 | 2.61 | 1.76 | 2.07 | 010
17281 |  | A | Destruction of skin lesions | 1.72 | 1.61 | 1.78 | 0.82 | 1.18 | 0.07 | 3.40 | 3.57 | 2.61 | 2.97 | 010
17282 |  | A | Destruction of skin lesions | 2.04 | 1.77 | 2.03 | 0.98 | 1.43 | 0.08 | 3.89 | 4.15 | 3.10 | 3.55 | 010
17283 |  | A | Destruction of skin lesions | 2.64 | 2.07 | 2.37 | 1.24 | 1.75 | 0.11 | 4.82 | 5.12 | 3.99 | 4.50 | 010
17284 |  | A | Destruction of skin lesions | 3.21 | 2.35 | 2.72 | 1.51 | 2.09 | 0.13 | 5.69 | 6.06 | 4.85 | 5.43 | 010
17286 |  | A | Destruction of skin lesions | 4.44 | 2.93 | 3.37 | 2.45 | 3.01 | 0.21 | 7.58 | 8.02 | 7.10 | 7.66 | 010
17304 |  | A | Chemosurgery of skin lesion | 7.60 | 7.45 | 6.68 | 3.67 | 3.84 | 0.31 | 15.36 | 14.59 | 11.58 | 11.75 | 000
17305 |  | A | 2nd stage chemosurgery | 2.85 | 3.44 | 3.19 | 1.38 | 1.65 | 0.11 | 6.40 | 6.15 | 4.34 | 4.61 | 000
17306 |  | A | 3rd stage chemosurgery | 2.85 | 3.47 | 2.98 | 1.40 | 1.43 | 0.11 | 6.43 | 5.94 | 4.36 | 4.39 | 000
17307 |  | A | Followup skin lesion therapy | 2.85 | 3.27 | 2.85 | 1.41 | 1.46 | 0.11 | 6.23 | 5.81 | 4.37 | 4.42 | 000
17310 |  | A | Extensive skin chemosurgery | 0.95 | 1.37 | 1.06 | 0.48 | 0.40 | 0.05 | 2.37 | 2.06 | 1.48 | 1.40 | 000
17340 |  | A | Cryotherapy of skin | 0.76 | 1.30 | 1.05 | 0.26 | 0.27 | 0.05 | 2.11 | 1.86 | 1.07 | 1.08 | 010
17360 |  | A | Skin peel therapy | 1.43 | 1.46 | 1.17 | 0.76 | 0.64 | 0.06 | 2.95 | 2.66 | 2.25 | 2.13 | 010
17380 |  | R | Hair removal by electrolysis | 0.00 | 0.00 | 0.00 | 0.00 | 0.00 | 0.00 | 0.00 | 0.00 | 0.00 | 0.00 | XXX
17999 |  | C | Skin tissue procedure | 0.00 | 0.00 | 0.00 | 0.00 | 0.00 | 0.00 | 0.00 | 0.00 | 0.00 | 0.00 | YYY
19000 |  | A | Drainage of breast lesion | 0.84 | 1.15 | 0.97 | 0.30 | 0.33 | 0.07 | 2.06 | 1.88 | 1.21 | 1.24 | 000
19001 |  | A | Drain breast lesion add-on | 0.42 | 0.78 | 0.65 | 0.15 | 0.18 | 0.03 | 1.23 | 1.10 | 0.60 | 0.63 | ZZZ
19020 |  | A | Incision of breast lesion | 3.57 | 6.16 | 5.00 | 3.17 | 2.76 | 0.34 | 10.07 | 8.91 | 7.08 | 6.67 | 090
19030 |  | A | Injection for breast x-ray | 1.53 | 9.87 | 7.54 | 0.53 | 0.53 | 0.06 | 11.46 | 9.13 | 2.12 | 2.12 | 000
19100 |  | A | Biopsy of breast | 1.27 | 3.14 | 2.53 | 0.45 | 0.51 | 0.09 | 4.50 | 3.89 | 1.81 | 1.87 | 000
19101 |  | A | Biopsy of breast | 3.18 | 9.36 | 7.66 | 2.82 | 2.75 | 0.23 | 12.77 | 11.07 | 6.23 | 6.16 | 010
19110 |  | A | Nipple exploration | 4.30 | 7.17 | 6.05 | 4.16 | 3.79 | 0.42 | 11.89 | 10.77 | 8.88 | 8.51 | 090
19112 |  | A | Excise breast duct fistula | 3.67 | 6.51 | 5.52 | 2.91 | 2.82 | 0.35 | 10.53 | 9.54 | 6.93 | 6.84 | 090
19120 |  | A | Removal of breast lesion | 5.56 | 4.14 | 3.89 | 3.43 | 3.36 | 0.55 | 10.25 | 10.00 | 9.54 | 9.47 | 090
19125 |  | A | Excision, breast lesion | 6.06 | 4.75 | 4.35 | 3.61 | 3.50 | 0.60 | 11.41 | 11.01 | 10.27 | 10.16 | 090
19126 |  | A | Excision, addl breast lesion | 2.93 | NA | NA | 1.10 | 1.22 | 0.30 | NA | NA | 4.33 | 4.45 | ZZZ
19140 |  | A | Removal of breast tissue | 5.14 | 8.52 | 7.56 | 3.50 | 3.79 | 0.52 | 14.18 | 13.22 | 9.16 | 9.45 | 090
19160 |  | A | Removal of breast tissue | 5.99 | NA | NA | 4.32 | 4.36 | 0.59 | NA | NA | 10.90 | 10.94 | 090
19162 |  | A | Remove breast tissue, nodes | 13.53 | NA | NA | 7.73 | 8.34 | 1.33 | NA | NA | 22.59 | 23.20 | 090
19180 |  | A | Removal of breast | 8.80 | NA | NA | 5.68 | 5.78 | 0.87 | NA | NA | 15.35 | 15.45 | 090
19182 |  | A | Removal of breast | 7.73 | NA | NA | 4.85 | 5.29 | 0.77 | NA | NA | 13.35 | 13.79 | 090
19200 |  | A | Removal of breast | 15.49 | NA | NA | 8.87 | 9.43 | 1.51 | NA | NA | 25.87 | 26.43 | 090
19220 |  | A | Removal of breast | 15.72 | NA | NA | 8.85 | 9.55 | 1.49 | NA | NA | 26.06 | 26.76 | 090
19240 |  | A | Removal of breast | 0.16 | NA | NA | 8.61 | 9.02 | 1.58 | NA | NA | 10.35 | 10.76 | 090
19260 |  | A | Removal of chest wall lesion | 15.44 | NA | NA | 10.02 | 8.89 | 1.68 | NA | NA | 27.14 | 26.01 | 090
19271 |  | A | Revision of chest wall | 18.90 | NA | NA | 13.36 | 13.81 | 2.13 | NA | NA | 34.39 | 34.84 | 090
19272 |  | A | Extensive chest wall surgery | 21.55 | NA | NA | 13.92 | 13.86 | 2.52 | NA | NA | 37.99 | 37.93 | 090
19290 |  | A | Place needle wire, breast | 1.27 | 4.76 | 3.69 | 0.44 | 0.45 | 0.05 | 6.08 | 5.01 | 1.76 | 1.77 | 000
19291 |  | A | Place needle wire, breast | 0.63 | 1.64 | 1.30 | 0.22 | 0.23 | 0.03 | 2.30 | 1.96 | 0.88 | 0.89 | ZZZ
19316 |  | A | Suspension of breast | 10.69 | NA | NA | 7.28 | 8.65 | 1.13 | NA | NA | 19.10 | 20.47 | 090
19318 |  | A | Reduction of large breast | 15.62 | NA | NA | 10.09 | 11.42 | 1.65 | NA | NA | 27.36 | 28.69 | 090
19324 |  | A | Enlarge breast | 5.85 | NA | NA | 3.58 | 3.58 | 0.61 | NA | NA | 10.04 | 10.04 | 090
19325 |  | A | Enlarge breast with implant | 8.45 | NA | NA | 5.03 | 5.37 | 0.90 | NA | NA | 14.38 | 14.72 | 090
19328 |  | A | Removal of breast implant | 5.68 | NA | NA | 4.38 | 4.31 | 0.60 | NA | NA | 10.66 | 10.59 | 090
19330 |  | A | Removal of implant material | 7.59 | NA | NA | 5.11 | 4.89 | 0.80 | NA | NA | 13.50 | 13.28 | 090
19340 |  | A | Immediate breast prosthesis | 6.33 | NA | NA | 3.25 | 4.33 | 0.67 | NA | NA | 10.25 | 11.33 | ZZZ
19342 |  | A | Delayed breast prosthesis | 11.20 | NA | NA | 7.61 | 8.64 | 1.19 | NA | NA | 20.00 | 21.03 | 090
19350 |  | A | Breast reconstruction | 8.92 | 12.18 | 11.06 | 6.56 | 6.84 | 0.95 | 22.05 | 20.93 | 16.43 | 16.71 | 090
19355 |  | A | Correct inverted nipple(s) | 7.57 | 12.61 | 10.80 | 4.45 | 4.68 | 0.75 | 20.93 | 19.12 | 12.77 | 13.00 | 090
19357 |  | A | Breast reconstruction | 18.16 | NA | NA | 13.19 | 13.19 | 1.92 | NA | NA | 33.27 | 33.27 | 090
19361 |  | A | Breast reconstruction | 19.26 | NA | NA | 11.68 | 14.22 | 2.04 | NA | NA | 32.98 | 35.52 | 090
19364 |  | A | Breast reconstruction | 0.41 | NA | NA | 24.19 | 22.67 | 4.22 | NA | NA | 28.82 | 27.30 | 090
19366 |  | A | Breast reconstruction | 21.28 | NA | NA | 11.78 | 13.29 | 2.15 | NA | NA | 35.21 | 36.72 | 090
19367 |  | A | Breast reconstruction | 25.73 | NA | NA | 15.11 | 16.80 | 2.72 | NA | NA | 43.56 | 45.25 | 090
19368 |  | A | Breast reconstruction | 32.42 | NA | NA | 17.88 | 18.87 | 3.46 | NA | NA | 53.76 | 54.75 | 090
19369 |  | A | Breast reconstruction | 29.82 | NA | NA | 17.95 | 18.93 | 3.17 | NA | NA | 50.94 | 51.92 | 090
19370 |  | A | Surgery of breast capsule | 8.05 | NA | NA | 5.86 | 6.07 | 0.86 | NA | NA | 14.77 | 14.98 | 090
19371 |  | A | Removal of breast capsule | 9.35 | NA | NA | 6.90 | 7.32 | 0.99 | NA | NA | 17.24 | 17.66 | 090
19380 |  | A | Revise breast reconstruction | 9.14 | NA | NA | 7.07 | 7.50 | 0.97 | NA | NA | 17.18 | 17.61 | 090
19396 |  | A | Design custom breast implant | 2.17 | 4.88 | 4.09 | 1.15 | 1.29 | 0.23 | 7.28 | 6.49 | 3.55 | 3.69 | 000
19499 |  | C | Breast surgery procedure | 0.00 | 0.00 | 0.00 | 0.00 | 0.00 | 0.00 | 0.00 | 0.00 | 0.00 | 0.00 | YYY
20000 |  | A | Incision of abscess | 2.12 | 1.92 | 1.67 | 1.16 | 1.10 | 0.15 | 4.19 | 3.94 | 3.43 | 3.37 | 010
20005 |  | A | Incision of deep abscess | 3.42 | 2.69 | 2.52 | 2.14 | 2.10 | 0.31 | 6.42 | 6.25 | 5.87 | 5.83 | 010
20100 |  | A | Explore wound, neck | 10.08 | 5.57 | 5.53 | 4.71 | 4.88 | 0.94 | 16.59 | 16.55 | 15.73 | 15.90 | 010
20101 |  | A | Explore wound, chest | 3.22 | 3.07 | 2.73 | 1.87 | 1.83 | 0.30 | 6.59 | 6.25 | 5.39 | 5.35 | 010
20102 |  | A | Explore wound, abdomen | 3.94 | 3.50 | 3.15 | 1.88 | 1.93 | 0.39 | 7.83 | 7.48 | 6.21 | 6.26 | 010
20103 |  | A | Explore wound, extremity | 5.30 | 3.96 | 3.67 | 3.01 | 2.96 | 0.53 | 9.79 | 9.50 | 8.84 | 8.79 | 010
20150 |  | A | Excise epiphyseal bar | 13.69 | NA | NA | 9.58 | 10.55 | 1.03 | NA | NA | 24.30 | 25.27 | 090
20200 |  | A | Muscle biopsy | 1.46 | 1.56 | 1.48 | 0.62 | 0.77 | 0.17 | 3.19 | 3.11 | 2.25 | 2.40 | 000
20205 |  | A | Deep muscle biopsy | 2.35 | 3.53 | 3.16 | 0.99 | 1.25 | 0.28 | 6.16 | 5.79 | 3.62 | 3.88 | 000
20206 |  | A | Needle biopsy, muscle | 0.99 | 2.80 | 2.36 | 0.36 | 0.53 | 0.06 | 3.85 | 3.41 | 1.41 | 1.58 | 000
20220 |  | A | Bone biopsy, trocar/needle | 1.27 | 4.00 | 3.36 | 2.50 | 2.23 | 0.06 | 5.33 | 4.69 | 3.83 | 3.56 | 000
20225 |  | A | Bone biopsy, trocar/needle | 1.87 | 3.63 | 3.37 | 2.72 | 2.69 | 0.10 | 5.60 | 5.34 | 4.69 | 4.66 | 000
20240 |  | A | Bone biopsy, excisional | 3.23 | NA | NA | 3.80 | 3.36 | 0.27 | NA | NA | 7.30 | 6.86 | 010
20245 |  | A | Bone biopsy, excisional | 3.95 | NA | NA | 4.18 | 4.11 | 0.36 | NA | NA | 8.49 | 8.42 | 010
20250 |  | A | Open bone biopsy | 5.03 | NA | NA | 3.92 | 4.32 | 0.46 | NA | NA | 9.41 | 9.81 | 010
20251 |  | A | Open bone biopsy | 5.56 | NA | NA | 4.43 | 4.91 | 0.67 | NA | NA | 10.66 | 11.14 | 010
20500 |  | A | Injection of sinus tract | 1.23 | 4.92 | 3.79 | 3.48 | 2.71 | 0.09 | 6.24 | 5.11 | 4.80 | 4.03 | 010
20501 |  | A | Inject sinus tract for x-ray | 0.76 | 10.92 | 8.27 | 0.26 | 0.28 | 0.03 | 11.71 | 9.06 | 1.05 | 1.07 | 000
20520 |  | A | Removal of foreign body | 1.85 | 4.52 | 3.58 | 2.81 | 2.30 | 0.15 | 6.52 | 5.58 | 4.81 | 4.30 | 010
20525 |  | A | Removal of foreign body | 3.50 | 5.52 | 4.75 | 3.82 | 3.47 | 0.34 | 9.36 | 8.59 | 7.66 | 7.31 | 010
20550 |  | A | Inject tendon/ligament/cyst | 0.86 | 1.79 | 1.45 | 0.22 | 0.27 | 0.06 | 2.71 | 2.37 | 1.14 | 1.19 | 000
20600 |  | A | Drain/inject, joint/bursa | 0.66 | 1.23 | 1.05 | 0.27 | 0.33 | 0.05 | 1.94 | 1.76 | 0.98 | 1.04 | 000
20605 |  | A | Drain/inject, joint/bursa | 0.68 | 1.53 | 1.27 | 0.27 | 0.33 | 0.05 | 2.26 | 2.00 | 1.00 | 1.06 | 000
20610 |  | A | Drain/inject, joint/bursa | 0.79 | 1.90 | 1.55 | 0.51 | 0.51 | 0.06 | 2.75 | 2.40 | 1.36 | 1.36 | 000
20615 |  | A | Treatment of bone cyst | 2.28 | 3.83 | 3.01 | 2.41 | 1.94 | 0.16 | 6.27 | 5.45 | 4.85 | 4.38 | 010
20650 |  | A | Insert and remove bone pin | 2.23 | 3.81 | 3.15 | 2.75 | 2.36 | 0.17 | 6.21 | 5.55 | 5.15 | 4.76 | 010
20660 |  | A | Apply,remove fixation device | 2.51 | NA | NA | 1.42 | 1.49 | 0.45 | NA | NA | 4.38 | 4.45 | 000
20661 |  | A | Application of head brace | 4.89 | NA | NA | 6.04 | 5.57 | 0.83 | NA | NA | 11.76 | 11.29 | 090
20662 |  | A | Application of pelvis brace | 6.07 | NA | NA | 4.96 | 5.50 | 0.64 | NA | NA | 11.67 | 12.21 | 090
20663 |  | A | Application of thigh brace | 5.43 | NA | NA | 4.17 | 4.39 | 0.55 | NA | NA | 10.15 | 10.37 | 090
20664 |  | A | Halo brace application | 8.06 | NA | NA | 7.71 | 6.82 | 1.38 | NA | NA | 17.15 | 16.26 | 090
20665 |  | A | Removal of fixation device | 1.31 | 2.16 | 1.76 | 1.13 | 0.98 | 0.17 | 3.64 | 3.24 | 2.61 | 2.46 | 010
20670 |  | A | Removal of support implant | 1.74 | 5.07 | 4.00 | 3.24 | 2.63 | 0.17 | 6.98 | 5.91 | 5.15 | 4.54 | 010
20680 |  | A | Removal of support implant | 3.35 | 4.28 | 4.11 | 4.28 | 4.11 | 0.33 | 7.96 | 7.79 | 7.96 | 7.79 | 090
20690 |  | A | Apply bone fixation device | 3.52 | NA | NA | 1.90 | 2.42 | 0.33 | NA | NA | 5.75 | 6.27 | 090
20692 |  | A | Apply bone fixation device | 6.41 | NA | NA | 3.39 | 4.04 | 0.64 | NA | NA | 10.44 | 11.09 | 090
20693 |  | A | Adjust bone fixation device | 5.86 | NA | NA | 10.52 | 8.57 | 0.66 | NA | NA | 17.04 | 15.09 | 090
20694 |  | A | Remove bone fixation device | 4.16 | 7.47 | 6.31 | 5.40 | 4.76 | 0.43 | 12.06 | 10.90 | 9.99 | 9.35 | 090
20802 |  | A | Replantation, arm, complete | 41.15 | NA | NA | 22.58 | 27.17 | 3.51 | NA | NA | 67.24 | 71.83 | 090
20805 |  | A | Replant, forearm, complete | 0.50 | NA | NA | 39.31 | 42.01 | 3.56 | NA | NA | 43.37 | 46.07 | 090
20808 |  | A | Replantation hand, complete | 61.65 | NA | NA | 47.48 | 51.18 | 5.46 | NA | NA | 114.59 | 118.29 | 090
20816 |  | A | Replantation digit, complete | 30.94 | NA | NA | 43.71 | 40.46 | 3.20 | NA | NA | 77.85 | 74.60 | 090
20822 |  | A | Replantation digit, complete | 25.59 | NA | NA | 34.68 | 32.36 | 2.64 | NA | NA | 62.91 | 60.59 | 090
20824 |  | A | Replantation thumb, complete | 30.94 | NA | NA | 41.90 | 39.10 | 3.26 | NA | NA | 76.10 | 73.30 | 090
20827 |  | A | Replantation thumb, complete | 26.41 | NA | NA | 39.21 | 35.93 | 2.72 | NA | NA | 68.34 | 65.06 | 090
20838 |  | A | Replantation foot, complete | 41.41 | NA | NA | 24.36 | 28.51 | 4.99 | NA | NA | 70.76 | 74.91 | 090
20900 |  | A | Removal of bone for graft | 5.58 | 5.46 | 4.86 | 5.46 | 4.86 | 0.55 | 11.59 | 10.99 | 11.59 | 10.99 | 090
20902 |  | A | Removal of bone for graft | 7.55 | NA | NA | 7.80 | 7.19 | 0.78 | NA | NA | 16.13 | 15.52 | 090
20910 |  | A | Remove cartilage for graft | 5.34 | 7.05 | 5.50 | 6.05 | 4.75 | 0.43 | 12.82 | 11.27 | 11.82 | 10.52 | 090
20912 |  | A | Remove cartilage for graft | 6.35 | NA | NA | 6.46 | 6.10 | 0.55 | NA | NA | 13.36 | 13.00 | 090
20920 |  | A | Removal of fascia for graft | 5.31 | NA | NA | 5.07 | 4.87 | 0.51 | NA | NA | 10.89 | 10.69 | 090
20922 |  | A | Removal of fascia for graft | 6.61 | 9.82 | 8.56 | 5.79 | 5.53 | 0.84 | 17.27 | 16.01 | 13.24 | 12.98 | 090
20924 |  | A | Removal of tendon for graft | 6.48 | NA | NA | 6.30 | 6.20 | 0.68 | NA | NA | 13.46 | 13.36 | 090
20926 |  | A | Removal of tissue for graft | 5.53 | NA | NA | 5.49 | 4.82 | 0.73 | NA | NA | 11.75 | 11.08 | 090
20930 |  | B | Spinal bone allograft | 0.00 | 0.00 | 0.00 | 0.00 | 0.00 | 0.00 | 0.00 | 0.00 | 0.00 | 0.00 | XXX
20931 |  | A | Spinal bone allograft | 1.81 | NA | NA | 0.95 | 1.18 | 0.31 | NA | NA | 3.07 | 3.30 | ZZZ
20936 |  | B | Spinal bone autograft | 0.00 | 0.00 | 0.00 | 0.00 | 0.00 | 0.00 | 0.00 | 0.00 | 0.00 | 0.00 | XXX
20937 |  | A | Spinal bone autograft | 2.79 | NA | NA | 1.48 | 1.83 | 0.34 | NA | NA | 4.61 | 4.96 | ZZZ
20938 |  | A | Spinal bone autograft | 3.02 | NA | NA | 1.58 | 1.97 | 0.44 | NA | NA | 5.04 | 5.43 | ZZZ
20950 |  | A | Fluid pressure, muscle | 1.26 | NA | NA | 1.89 | 1.71 | 0.13 | NA | NA | 3.28 | 3.10 | 000
20955 |  | A | Fibula bone graft, microvasc | 39.21 | NA | NA | 27.44 | 30.31 | 3.88 | NA | NA | 70.53 | 73.40 | 090
20956 |  | A | Iliac bone graft, microvasc | 39.27 | NA | NA | 26.61 | 27.26 | 4.68 | NA | NA | 70.56 | 71.21 | 090
20957 |  | A | Mt bone graft, microvasc | 40.65 | NA | NA | 18.71 | 21.60 | 4.84 | NA | NA | 64.20 | 67.09 | 090
20962 |  | A | Other bone graft, microvasc | 39.27 | NA | NA | 25.96 | 26.77 | 4.28 | NA | NA | 69.51 | 70.32 | 090
20969 |  | A | Bone/skin graft, microvasc | 43.92 | NA | NA | 29.77 | 33.22 | 4.12 | NA | NA | 77.81 | 81.26 | 090
20970 |  | A | Bone/skin graft, iliac crest | 43.06 | NA | NA | 28.35 | 31.93 | 4.49 | NA | NA | 75.90 | 79.48 | 090
20972 |  | A | Bone/skin graft, metatarsal | 42.99 | NA | NA | 18.95 | 24.96 | 3.89 | NA | NA | 65.83 | 71.84 | 090
20973 |  | A | Bone/skin graft, great toe | 45.76 | NA | NA | 27.76 | 32.28 | 4.73 | NA | NA | 78.25 | 82.77 | 090
20974 |  | A | Electrical bone stimulation | 0.62 | 0.39 | 1.22 | 0.31 | 1.16 | 0.04 | 1.05 | 1.88 | 0.97 | 1.82 | 000
20975 |  | A | Electrical bone stimulation | 2.60 | NA | NA | 1.38 | 1.81 | 0.31 | NA | NA | 4.29 | 4.72 | 000
20979 |  | N | Us bone stimulation | 0.00 | 0.00 | 0.00 | 0.00 | 0.00 | 0.00 | 0.00 | 0.00 | 0.00 | 0.00 | XXX
20999 |  | C | Musculoskeletal surgery | 0.00 | 0.00 | 0.00 | 0.00 | 0.00 | 0.00 | 0.00 | 0.00 | 0.00 | 0.00 | YYY
21010 |  | A | Incision of jaw joint | 10.14 | NA | NA | 6.91 | 7.96 | 0.50 | NA | NA | 17.55 | 18.60 | 090
21015 |  | A | Resection of facial tumor | 5.29 | NA | NA | 6.39 | 6.37 | 0.52 | NA | NA | 12.20 | 12.18 | 090
21025 |  | A | Excision of bone, lower jaw | 10.06 | 6.87 | 6.28 | 6.28 | 5.83 | 0.77 | 17.70 | 17.11 | 17.11 | 16.66 | 090
21026 |  | A | Excision of facial bone(s) | 4.85 | 4.92 | 4.54 | 4.62 | 4.32 | 0.38 | 10.15 | 9.77 | 9.85 | 9.55 | 090
21029 |  | A | Contour of face bone lesion | 7.71 | 5.99 | 6.79 | 5.61 | 6.51 | 0.62 | 14.32 | 15.12 | 13.94 | 14.84 | 090
21030 |  | A | Removal of face bone lesion | 6.46 | 5.03 | 4.68 | 4.36 | 4.18 | 0.47 | 11.96 | 11.61 | 11.29 | 11.11 | 090
21031 |  | A | Remove exostosis, mandible | 3.24 | 3.11 | 3.33 | 2.04 | 2.53 | 0.24 | 6.59 | 6.81 | 5.52 | 6.01 | 090
21032 |  | A | Remove exostosis, maxilla | 3.24 | 3.09 | 3.37 | 2.13 | 2.65 | 0.25 | 6.58 | 6.86 | 5.62 | 6.14 | 090
21034 |  | A | Removal of face bone lesion | 16.17 | 9.33 | 8.89 | 9.33 | 8.89 | 1.32 | 26.82 | 26.38 | 26.82 | 26.38 | 090
21040 |  | A | Removal of jaw bone lesion | 2.11 | 2.75 | 2.81 | 1.67 | 2.00 | 0.16 | 5.02 | 5.08 | 3.94 | 4.27 | 090
21041 |  | A | Removal of jaw bone lesion | 6.71 | 5.21 | 5.47 | 4.15 | 4.68 | 0.49 | 12.41 | 12.67 | 11.35 | 11.88 | 090
21044 |  | A | Removal of jaw bone lesion | 11.86 | NA | NA | 7.44 | 8.17 | 0.89 | NA | NA | 20.19 | 20.92 | 090
21045 |  | A | Extensive jaw surgery | 16.17 | NA | NA | 9.67 | 11.01 | 1.25 | NA | NA | 27.09 | 28.43 | 090
21050 |  | A | Removal of jaw joint | 10.77 | NA | NA | 10.66 | 11.21 | 0.74 | NA | NA | 22.17 | 22.72 | 090
21060 |  | A | Remove jaw joint cartilage | 10.23 | NA | NA | 10.05 | 10.59 | 0.77 | NA | NA | 21.05 | 21.59 | 090
21070 |  | A | Remove coronoid process | 8.20 | NA | NA | 5.61 | 6.06 | 0.71 | NA | NA | 14.52 | 14.97 | 090
21076 |  | A | Prepare face/oral prosthesis | 13.42 | 9.51 | 11.14 | 7.16 | 9.38 | 0.94 | 23.87 | 25.50 | 21.52 | 23.74 | 010
21077 |  | A | Prepare face/oral prosthesis | 33.75 | 23.92 | 28.02 | 18.00 | 23.58 | 2.44 | 60.11 | 64.21 | 54.19 | 59.77 | 090
21079 |  | A | Prepare face/oral prosthesis | 22.34 | 16.90 | 20.25 | 12.45 | 16.92 | 1.51 | 40.75 | 44.10 | 36.30 | 40.77 | 090
21080 |  | A | Prepare face/oral prosthesis | 25.10 | 18.99 | 22.76 | 13.99 | 19.01 | 1.74 | 45.83 | 49.60 | 40.83 | 45.85 | 090
21081 |  | A | Prepare face/oral prosthesis | 22.88 | 17.31 | 20.74 | 12.75 | 17.32 | 1.60 | 41.79 | 45.22 | 37.23 | 41.80 | 090
21082 |  | A | Prepare face/oral prosthesis | 20.87 | 14.79 | 17.32 | 11.13 | 14.58 | 1.47 | 37.13 | 39.66 | 33.47 | 36.92 | 090
21083 |  | A | Prepare face/oral prosthesis | 19.30 | 14.60 | 17.50 | 10.76 | 14.62 | 1.31 | 35.21 | 38.11 | 31.37 | 35.23 | 090
21084 |  | A | Prepare face/oral prosthesis | 22.51 | 17.03 | 20.41 | 12.54 | 17.04 | 1.61 | 41.15 | 44.53 | 36.66 | 41.16 | 090
21085 |  | A | Prepare face/oral prosthesis | 0.09 | 6.38 | 7.47 | 4.80 | 6.29 | 0.66 | 7.13 | 8.22 | 5.55 | 7.04 | 010
21086 |  | A | Prepare face/oral prosthesis | 24.92 | 18.85 | 22.59 | 13.89 | 18.87 | 1.84 | 45.61 | 49.35 | 40.65 | 45.63 | 090
21087 |  | A | Prepare face/oral prosthesis | 24.92 | 17.66 | 20.68 | 13.29 | 17.41 | 1.81 | 44.39 | 47.41 | 40.02 | 44.14 | 090
21088 |  | C | Prepare face/oral prosthesis | 0.00 | 0.00 | 0.00 | 0.00 | 0.00 | 0.00 | 0.00 | 0.00 | 0.00 | 0.00 | 090
21089 |  | C | Prepare face/oral prosthesis | 0.00 | 0.00 | 0.00 | 0.00 | 0.00 | 0.00 | 0.00 | 0.00 | 0.00 | 0.00 | 090
21100 |  | A | Maxillofacial fixation | 4.22 | 4.63 | 3.76 | 3.57 | 2.97 | 0.24 | 9.09 | 8.22 | 8.03 | 7.43 | 090
21110 |  | A | Interdental fixation | 5.21 | 4.87 | 5.15 | 3.78 | 4.34 | 0.34 | 10.42 | 10.70 | 9.33 | 9.89 | 090
21116 |  | A | Injection, jaw joint x-ray | 0.81 | 6.59 | 5.14 | 0.30 | 0.42 | 0.05 | 7.45 | 6.00 | 1.16 | 1.28 | 000
21120 |  | A | Reconstruction of chin | 4.93 | 10.09 | 8.54 | 36 | 5.00 | 0.40 | 15.42 | 13.87 | 10.69 | 10.33 | 090
21121 |  | A | Reconstruction of chin | 7.64 | 7.18 | 6.92 | 5.67 | 5.79 | 0.60 | 15.42 | 15.16 | 13.91 | 14.03 | 090
21122 |  | A | Reconstruction of chin | 8.52 | NA | NA | 6.54 | 6.60 | 0.72 | NA | NA | 15.78 | 15.84 | 090
21123 |  | A | Reconstruction of chin | 11.16 | NA | NA | 8.28 | 8.42 | 0.90 | NA | NA | 20.34 | 20.48 | 090
21125 |  | A | Augmentation, lower jaw bone | 10.62 | 7.83 | 7.15 | 7.23 | 6.70 | 0.81 | 19.26 | 18.58 | 18.66 | 18.13 | 090
21127 |  | A | Augmentation, lower jaw bone | 11.12 | 8.80 | 8.75 | 6.67 | 7.15 | 0.92 | 20.84 | 20.79 | 18.71 | 19.19 | 090
21137 |  | A | Reduction of forehead | 9.82 | NA | NA | 7.56 | 7.60 | 0.88 | NA | NA | 18.26 | 18.30 | 090
21138 |  | A | Reduction of forehead | 12.19 | NA | NA | 7.64 | 8.14 | 1.06 | NA | NA | 20.89 | 21.39 | 090
21139 |  | A | Reduction of forehead | 14.61 | NA | NA | 9.69 | 10.16 | 1.27 | NA | NA | 25.57 | 26.04 | 090
21141 |  | A | Reconstruct midface, lefort | 18.10 | NA | NA | 10.87 | 12.04 | 1.42 | NA | NA | 30.39 | 31.56 | 090
21142 |  | A | Reconstruct midface, lefort | 18.81 | NA | NA | 12.55 | 13.44 | 1.77 | NA | NA | 33.13 | 34.02 | 090
21143 |  | A | Reconstruct midface, lefort | 19.58 | NA | NA | 10.42 | 11.99 | 1.21 | NA | NA | 31.21 | 32.78 | 090
21145 |  | A | Reconstruct midface, lefort | 19.94 | NA | NA | 10.50 | 11.77 | 1.46 | NA | NA | 31.90 | 33.17 | 090
21146 |  | A | Reconstruct midface, lefort | 20.71 | NA | NA | 10.73 | 12.08 | 1.61 | NA | NA | 33.05 | 34.40 | 090
21147 |  | A | Reconstruct midface, lefort | 21.77 | NA | NA | 11.27 | 12.63 | 1.53 | NA | NA | 34.57 | 35.93 | 090
21150 |  | A | Reconstruct midface, lefort | 25.24 | NA | NA | 12.53 | 14.41 | 1.85 | NA | NA | 39.62 | 41.50 | 090
21151 |  | A | Reconstruct midface, lefort | 28.30 | NA | NA | 18.33 | 19.36 | 3.25 | NA | NA | 49.88 | 50.91 | 090
21154 |  | A | Reconstruct midface, lefort | 30.52 | NA | NA | 16.26 | 18.21 | 3.14 | NA | NA | 49.92 | 51.87 | 090
21155 |  | A | Reconstruct midface, lefort | 34.45 | NA | NA | 16.97 | 19.54 | 3.54 | NA | NA | 54.96 | 57.53 | 090
21159 |  | A | Reconstruct midface, lefort | 42.38 | NA | NA | 24.58 | 26.85 | 3.77 | NA | NA | 70.73 | 73.00 | 090
21160 |  | A | Reconstruct midface, lefort | 46.44 | NA | NA | 22.57 | 26.14 | 3.51 | NA | NA | 72.52 | 76.09 | 090
21172 |  | A | Reconstruct orbit/forehead | 27.80 | NA | NA | 14.67 | 16.51 | 1.92 | NA | NA | 44.39 | 46.23 | 090
21175 |  | A | Reconstruct orbit/forehead | 33.17 | NA | NA | 18.18 | 20.25 | 3.75 | NA | NA | 55.10 | 57.17 | 090
21179 |  | A | Reconstruct entire forehead | 22.25 | NA | NA | 16.07 | 16.46 | 2.52 | NA | NA | 40.84 | 41.23 | 090
21180 |  | A | Reconstruct entire forehead | 25.19 | NA | NA | 18.29 | 18.73 | 2.21 | NA | NA | 45.69 | 46.13 | 090
21181 |  | A | Contour cranial bone lesion | 9.90 | NA | NA | 7.67 | 7.68 | 1.04 | NA | NA | 18.61 | 18.62 | 090
21182 |  | A | Reconstruct cranial bone | 32.19 | NA | NA | 21.35 | 22.42 | 2.77 | NA | NA | 56.31 | 57.38 | 090
21183 |  | A | Reconstruct cranial bone | 35.31 | NA | NA | 20.50 | 22.39 | 3.14 | NA | NA | 58.95 | 60.84 | 090
21184 |  | A | Reconstruct cranial bone | 38.24 | NA | NA | 23.46 | 25.21 | 6.52 | NA | NA | 68.22 | 69.97 | 090
21188 |  | A | Reconstruction of midface | 22.46 | NA | NA | 14.77 | 15.48 | 1.87 | NA | NA | 39.10 | 39.81 | 090
21193 |  | A | Reconstruct lower jaw bone | 17.15 | NA | NA | 10.11 | 10.92 | 1.42 | NA | NA | 28.68 | 29.49 | 090
21194 |  | A | Reconstruct lower jaw bone | 19.84 | NA | NA | 11.79 | 12.71 | 1.64 | NA | NA | 33.27 | 34.19 | 090
21195 |  | A | Reconstruct lower jaw bone | 17.24 | NA | NA | 11.58 | 12.03 | 1.34 | NA | NA | 30.16 | 30.61 | 090
21196 |  | A | Reconstruct lower jaw bone | 18.91 | NA | NA | 12.33 | 12.94 | 1.50 | NA | NA | 32.74 | 33.35 | 090
21198 |  | A | Reconstruct lower jaw bone | 14.16 | NA | NA | 10.93 | 12.22 | 1.03 | NA | NA | 26.12 | 27.41 | 090
21206 |  | A | Reconstruct upper jaw bone | 14.10 | NA | NA | 9.40 | 9.80 | 1.02 | NA | NA | 24.52 | 24.92 | 090
21208 |  | A | Augmentation of facial bones | 10.23 | 8.98 | 9.79 | 7.88 | 8.96 | 0.79 | 20.00 | 20.81 | 18.90 | 19.98 | 090
21209 |  | A | Reduction of facial bones | 6.72 | 6.89 | 6.41 | 5.19 | 5.14 | 0.55 | 14.16 | 13.68 | 12.46 | 12.41 | 090
21210 |  | A | Face bone graft | 10.23 | 8.24 | 9.23 | 7.69 | 8.82 | 0.75 | 19.22 | 20.21 | 18.67 | 19.80 | 090
21215 |  | A | Lower jaw bone graft | 10.77 | 8.20 | 9.37 | 6.51 | 8.10 | 0.78 | 19.75 | 20.92 | 18.06 | 19.65 | 090
21230 |  | A | Rib cartilage graft | 10.77 | NA | NA | 9.26 | 9.76 | 0.96 | NA | NA | 20.99 | 21.49 | 090
21235 |  | A | Ear cartilage graft | 6.72 | 10.51 | 9.89 | 7.24 | 7.44 | 0.53 | 17.76 | 17.14 | 14.49 | 14.69 | 090
21240 |  | A | Reconstruction of jaw joint | 14.05 | NA | NA | 11.16 | 12.57 | 1.09 | NA | NA | 26.30 | 27.71 | 090
21242 |  | A | Reconstruction of jaw joint | 12.95 | NA | NA | 11.56 | 12.54 | 1.09 | NA | NA | 25.60 | 26.58 | 090
21243 |  | A | Reconstruction of jaw joint | 20.79 | NA | NA | 13.46 | 14.00 | 1.53 | NA | NA | 35.78 | 36.32 | 090
21244 |  | A | Reconstruction of lower jaw | 11.86 | NA | NA | 8.38 | 9.83 | 0.95 | NA | NA | 21.19 | 22.64 | 090
21245 |  | A | Reconstruction of jaw | 11.86 | 9.40 | 10.16 | 9.40 | 10.16 | 0.91 | 22.17 | 22.93 | 22.17 | 22.93 | 090
21246 |  | A | Reconstruction of jaw | 12.47 | 9.52 | 9.54 | 9.52 | 9.54 | 0.96 | 22.95 | 22.97 | 22.95 | 22.97 | 090
21247 |  | A | Reconstruct lower jaw bone | 22.63 | NA | NA | 15.57 | 18.43 | 1.62 | NA | NA | 39.82 | 42.68 | 090
21248 |  | A | Reconstruction of jaw | 11.48 | 8.26 | 9.62 | 7.35 | 8.94 | 0.85 | 20.59 | 21.95 | 19.68 | 21.27 | 090
21249 |  | A | Reconstruction of jaw | 17.52 | 10.88 | 13.39 | 9.72 | 12.52 | 1.33 | 29.73 | 32.24 | 28.57 | 31.37 | 090
21255 |  | A | Reconstruct lower jaw bone | 16.72 | NA | NA | 9.49 | 12.11 | 1.66 | NA | NA | 27.87 | 30.49 | 090
21256 |  | A | Reconstruction of orbit | 16.19 | NA | NA | 12.52 | 14.22 | 1.38 | NA | NA | 30.09 | 31.79 | 090
21260 |  | A | Revise eye sockets | 16.52 | NA | NA | 9.95 | 12.39 | 0.67 | NA | NA | 27.14 | 29.58 | 090
21261 |  | A | Revise eye sockets | 31.49 | NA | NA | 19.07 | 19.13 | 2.38 | NA | NA | 52.94 | 53.00 | 090
21263 |  | A | Revise eye sockets | 28.42 | NA | NA | 14.51 | 19.37 | 1.12 | NA | NA | 44.05 | 48.91 | 090
21267 |  | A | Revise eye sockets | 18.90 | NA | NA | 14.03 | 14.49 | 1.12 | NA | NA | 34.05 | 34.51 | 090
21268 |  | A | Revise eye sockets | 24.48 | NA | NA | 14.81 | 15.27 | 3.89 | NA | NA | 43.18 | 43.64 | 090
21270 |  | A | Augmentation, cheek bone | 10.23 | 7.86 | 8.50 | 7.86 | 8.50 | 0.89 | 18.98 | 19.62 | 18.98 | 19.62 | 090
21275 |  | A | Revision, orbitofacial bones | 11.24 | NA | NA | 9.88 | 9.84 | 1.05 | NA | NA | 22.17 | 22.13 | 090
21280 |  | A | Revision of eyelid | 6.03 | NA | NA | 5.99 | 6.29 | 0.29 | NA | NA | 12.31 | 12.61 | 090
21282 |  | A | Revision of eyelid | 3.49 | NA | NA | 4.96 | 4.76 | 0.20 | NA | NA | 8.65 | 8.45 | 090
21295 |  | A | Revision of jaw muscle/bone | 1.53 | NA | NA | 4.26 | 3.46 | 0.11 | NA | NA | 5.90 | 5.10 | 090
21296 |  | A | Revision of jaw muscle/bone | 4.25 | NA | NA | 4.31 | 4.22 | 0.35 | NA | NA | 8.91 | 8.82 | 090
21299 |  | C | Cranio/maxillofacial surgery | 0.00 | 0.00 | 0.00 | 0.00 | 0.00 | 0.00 | 0.00 | 0.00 | 0.00 | 0.00 | YYY
21300 |  | A | Treatment of skull fracture | 0.72 | 2.35 | 2.01 | 0.28 | 0.46 | 0.08 | 3.15 | 2.81 | 1.08 | 1.26 | 000
21310 |  | A | Treatment of nose fracture | 0.58 | 2.28 | 1.91 | 0.16 | 0.32 | 0.06 | 2.92 | 2.55 | 0.80 | 0.96 | 000
21315 |  | A | Treatment of nose fracture | 1.51 | 2.88 | 2.65 | 1.15 | 1.35 | 0.12 | 4.51 | 4.28 | 2.78 | 2.98 | 010
21320 |  | A | Treatment of nose fracture | 1.85 | 4.06 | 3.68 | 1.87 | 2.04 | 0.14 | 6.05 | 5.67 | 3.86 | 4.03 | 010
21325 |  | A | Treatment of nose fracture | 3.77 | NA | NA | 3.39 | 3.65 | 0.31 | NA | NA | 7.47 | 7.73 | 090
21330 |  | A | Treatment of nose fracture | 5.38 | NA | NA | 5.02 | 5.37 | 0.47 | NA | NA | 10.87 | 11.22 | 090
21335 |  | A | Treatment of nose fracture | 8.61 | NA | NA | 6.57 | 7.50 | 0.65 | NA | NA | 15.83 | 16.76 | 090
21336 |  | A | Treat nasal septal fracture | 5.72 | NA | NA | 4.95 | 4.82 | 0.47 | NA | NA | 11.14 | 11.01 | 090
21337 |  | A | Treat nasal septal fracture | 2.70 | 4.90 | 4.44 | 2.92 | 2.96 | 0.23 | 7.83 | 7.37 | 5.85 | 5.89 | 090
21338 |  | A | Treat nasoethmoid fracture | 6.46 | NA | NA | 5.95 | 5.82 | 0.53 | NA | NA | 12.94 | 12.81 | 090
21339 |  | A | Treat nasoethmoid fracture | 8.09 | NA | NA | 6.31 | 6.66 | 0.65 | NA | NA | 15.05 | 15.40 | 090
21340 |  | A | Treatment of nose fracture | 10.77 | NA | NA | 9.24 | 9.35 | 0.69 | NA | NA | 20.70 | 20.81 | 090
21343 |  | A | Treatment of sinus fracture | 12.95 | NA | NA | 9.34 | 9.49 | 1.20 | NA | NA | 23.49 | 23.64 | 090
21344 |  | A | Treatment of sinus fracture | 19.72 | NA | NA | 12.80 | 12.09 | 1.78 | NA | NA | 34.30 | 33.59 | 090
21345 |  | A | Treat nose/jaw fracture | 8.16 | 7.45 | 7.73 | 7.41 | 7.70 | 0.64 | 16.25 | 16.53 | 16.21 | 16.50 | 090
21346 |  | A | Treat nose/jaw fracture | 10.61 | NA | NA | 8.90 | 9.23 | 0.83 | NA | NA | 20.34 | 20.67 | 090
21347 |  | A | Treat nose/jaw fracture | 12.69 | NA | NA | 9.02 | 9.58 | 1.08 | NA | NA | 22.79 | 23.35 | 090
21348 |  | A | Treat nose/jaw fracture | 16.69 | NA | NA | 9.60 | 10.28 | 1.44 | NA | NA | 27.73 | 28.41 | 090
21355 |  | A | Treat cheek bone fracture | 3.77 | 3.49 | 3.04 | 2.04 | 1.95 | 0.32 | 7.58 | 7.13 | 6.13 | 6.04 | 010
21356 |  | A | Treat cheek bone fracture | 4.15 | NA | NA | 3.02 | 3.51 | 0.34 | NA | NA | 7.51 | 8.00 | 010
21360 |  | A | Treat cheek bone fracture | 6.46 | NA | NA | 5.24 | 5.86 | 0.52 | NA | NA | 12.22 | 12.84 | 090
21365 |  | A | Treat cheek bone fracture | 14.95 | NA | NA | 10.72 | 11.39 | 1.28 | NA | NA | 26.95 | 27.62 | 090
21366 |  | A | Treat cheek bone fracture | 17.77 | NA | NA | 11.76 | 12.10 | 1.52 | NA | NA | 31.05 | 31.39 | 090
21385 |  | A | Treat eye socket fracture | 9.16 | NA | NA | 6.79 | 7.70 | 0.67 | NA | NA | 16.62 | 17.53 | 090
21386 |  | A | Treat eye socket fracture | 9.16 | NA | NA | 7.48 | 8.07 | 0.75 | NA | NA | 17.39 | 17.98 | 090
21387 |  | A | Treat eye socket fracture | 9.70 | NA | NA | 7.82 | 7.89 | 0.78 | NA | NA | 18.30 | 18.37 | 090
21390 |  | A | Treat eye socket fracture | 10.13 | NA | NA | 8.15 | 9.14 | 0.74 | NA | NA | 19.02 | 20.01 | 090
21395 |  | A | Treat eye socket fracture | 12.68 | NA | NA | 9.36 | 9.63 | 1.16 | NA | NA | 23.20 | 23.47 | 090
21400 |  | A | Treat eye socket fracture | 1.40 | 2.87 | 2.61 | 0.92 | 1.14 | 0.12 | 4.39 | 4.13 | 2.44 | 2.66 | 090
21401 |  | A | Treat eye socket fracture | 3.26 | 4.25 | 3.89 | 2.99 | 2.94 | 0.25 | 7.76 | 7.40 | 6.50 | 6.45 | 090
21406 |  | A | Treat eye socket fracture | 7.01 | NA | NA | 5.96 | 5.88 | 0.60 | NA | NA | 13.57 | 13.49 | 090
21407 |  | A | Treat eye socket fracture | 8.61 | NA | NA | 7.39 | 7.47 | 0.70 | NA | NA | 16.70 | 16.78 | 090
21408 |  | A | Treat eye socket fracture | 12.38 | NA | NA | 10.01 | 9.81 | 1.21 | NA | NA | 23.60 | 23.40 | 090
21421 |  | A | Treat mouth roof fracture | 5.14 | 6.39 | 6.46 | 5.27 | 5.62 | 0.38 | 11.91 | 11.98 | 10.79 | 11.14 | 090
21422 |  | A | Treat mouth roof fracture | 8.32 | NA | NA | 7.00 | 7.73 | 0.69 | NA | NA | 16.01 | 16.74 | 090
21423 |  | A | Treat mouth roof fracture | 10.40 | NA | NA | 7.66 | 8.41 | 0.82 | NA | NA | 18.88 | 19.63 | 090
21431 |  | A | Treat craniofacial fracture | 7.05 | NA | NA | 5.51 | 5.77 | 0.54 | NA | NA | 13.10 | 13.36 | 090
21432 |  | A | Treat craniofacial fracture | 8.61 | NA | NA | 7.63 | 7.56 | 0.94 | NA | NA | 17.18 | 17.11 | 090
21433 |  | A | Treat craniofacial fracture | 25.35 | NA | NA | 15.99 | 16.87 | 2.11 | NA | NA | 43.45 | 44.33 | 090
21435 |  | A | Treat craniofacial fracture | 17.25 | NA | NA | 12.27 | 12.80 | 1.36 | NA | NA | 30.88 | 31.41 | 090
21436 |  | A | Treat craniofacial fracture | 28.04 | NA | NA | 17.76 | 17.30 | 1.88 | NA | NA | 47.68 | 47.22 | 090
21440 |  | A | Treat dental ridge fracture | 2.70 | 5.00 | 4.58 | 3.20 | 3.23 | 0.20 | 7.90 | 7.48 | 6.10 | 6.13 | 090
21445 |  | A | Treat dental ridge fracture | 5.38 | 6.14 | 6.26 | 4.89 | 5.33 | 0.42 | 11.94 | 12.06 | 10.69 | 11.13 | 090
21450 |  | A | Treat lower jaw fracture | 2.97 | 5.56 | 4.94 | 2.21 | 2.43 | 0.23 | 8.76 | 8.14 | 5.41 | 5.63 | 090
21451 |  | A | Treat lower jaw fracture | 4.87 | 5.91 | 6.02 | 4.91 | 5.27 | 0.37 | 11.15 | 11.26 | 10.15 | 10.51 | 090
21452 |  | A | Treat lower jaw fracture | 1.98 | 7.04 | 5.66 | 3.86 | 3.27 | 0.15 | 9.17 | 7.79 | 5.99 | 5.40 | 090
21453 |  | A | Treat lower jaw fracture | 5.54 | 6.56 | 6.72 | 5.62 | 6.02 | 0.44 | 12.54 | 12.70 | 11.60 | 12.00 | 090
21454 |  | A | Treat lower jaw fracture | 6.46 | NA | NA | 5.14 | 5.79 | 0.48 | NA | NA | 12.08 | 12.73 | 090
21461 |  | A | Treat lower jaw fracture | 8.09 | 8.05 | 8.45 | 7.27 | 7.87 | 0.65 | 16.79 | 17.19 | 16.01 | 16.61 | 090
21462 |  | A | Treat lower jaw fracture | 9.79 | 8.97 | 9.65 | 7.50 | 8.55 | 0.76 | 19.52 | 20.20 | 18.05 | 19.10 | 090
21465 |  | A | Treat lower jaw fracture | 11.91 | NA | NA | 7.31 | 7.77 | 0.95 | NA | NA | 20.17 | 20.63 | 090
21470 |  | A | Treat lower jaw fracture | 15.34 | NA | NA | 9.27 | 11.53 | 1.21 | NA | NA | 25.82 | 28.08 | 090
21480 |  | A | Reset dislocated jaw | 0.61 | 1.47 | 1.32 | 0.18 | 0.35 | 0.05 | 2.13 | 1.98 | 0.84 | 1.01 | 000
21485 |  | A | Reset dislocated jaw | 3.99 | 3.51 | 3.23 | 3.01 | 2.85 | 0.27 | 7.77 | 7.49 | 7.27 | 7.11 | 090
21490 |  | A | Repair dislocated jaw | 11.86 | NA | NA | 7.14 | 7.07 | 0.84 | NA | NA | 19.84 | 19.77 | 090
21493 |  | A | Treat hyoid bone fracture | 1.27 | NA | NA | 2.96 | 2.63 | 0.10 | NA | NA | 4.33 | 4.00 | 090
21494 |  | A | Treat hyoid bone fracture | 6.28 | NA | NA | 4.95 | 5.75 | 0.45 | NA | NA | 11.68 | 12.48 | 090
21495 |  | A | Treat hyoid bone fracture | 5.69 | NA | NA | 5.11 | 5.14 | 0.41 | NA | NA | 11.21 | 11.24 | 090
21497 |  | A | Interdental wiring | 3.86 | 4.17 | 4.21 | 3.45 | 3.67 | 0.30 | 8.33 | 8.37 | 7.61 | 7.83 | 090
21499 |  | C | Head surgery procedure | 0.00 | 0.00 | 0.00 | 0.00 | 0.00 | 0.00 | 0.00 | 0.00 | 0.00 | 0.00 | YYY
21501 |  | A | Drain neck/chest lesion | 3.81 | 3.83 | 3.37 | 3.38 | 3.03 | 0.37 | 8.01 | 7.55 | 7.56 | 7.21 | 090
21502 |  | A | Drain chest lesion | 7.12 | NA | NA | 7.34 | 6.65 | 0.78 | NA | NA | 15.24 | 14.55 | 090
21510 |  | A | Drainage of bone lesion | 5.74 | NA | NA | 7.54 | 6.69 | 0.63 | NA | NA | 13.91 | 13.06 | 090
21550 |  | A | Biopsy of neck/chest | 2.06 | 2.16 | 1.85 | 1.24 | 1.16 | 0.12 | 4.34 | 4.03 | 3.42 | 3.34 | 010
21555 |  | A | Remove lesion, neck/chest | 4.35 | 4.09 | 3.50 | 2.48 | 2.30 | 0.39 | 8.83 | 8.24 | 7.22 | 7.04 | 090
21556 |  | A | Remove lesion, neck/chest | 5.57 | NA | NA | 3.20 | 3.43 | 0.52 | NA | NA | 9.29 | 9.52 | 090
21557 |  | A | Remove tumor, neck/chest | 8.88 | NA | NA | 7.42 | 7.87 | 0.81 | NA | NA | 17.11 | 17.56 | 090
21600 |  | A | Partial removal of rib | 6.89 | NA | NA | 8.46 | 7.57 | 0.79 | NA | NA | 16.14 | 15.25 | 090
21610 |  | A | Partial removal of rib | 14.61 | NA | NA | 10.21 | 9.06 | 1.99 | NA | NA | 26.81 | 25.66 | 090
21615 |  | A | Removal of rib | 9.87 | NA | NA | 8.99 | 9.49 | 1.30 | NA | NA | 20.16 | 20.66 | 090
21616 |  | A | Removal of rib and nerves | 12.04 | NA | NA | 12.12 | 11.06 | 1.45 | NA | NA | 25.61 | 24.55 | 090
21620 |  | A | Partial removal of sternum | 6.79 | NA | NA | 8.80 | 8.46 | 0.78 | NA | NA | 16.37 | 16.03 | 090
21627 |  | A | Sternal debridement | 6.81 | NA | NA | 14.79 | 12.46 | 0.84 | NA | NA | 22.44 | 20.11 | 090
21630 |  | A | Extensive sternum surgery | 17.38 | NA | NA | 13.86 | 13.89 | 1.95 | NA | NA | 33.19 | 33.22 | 090
21632 |  | A | Extensive sternum surgery | 18.14 | NA | NA | 15.27 | 14.58 | 2.27 | NA | NA | 35.68 | 34.99 | 090
21700 |  | A | Revision of neck muscle | 6.19 | 7.62 | 6.84 | 7.24 | 6.56 | 0.74 | 14.55 | 13.77 | 14.17 | 13.49 | 090
21705 |  | A | Revision of neck muscle/rib | 9.60 | NA | NA | 6.97 | 6.54 | 1.27 | NA | NA | 17.84 | 17.41 | 090
21720 |  | A | Revision of neck muscle | 5.68 | 6.76 | 6.11 | 6.06 | 5.59 | 0.82 | 13.26 | 12.61 | 12.56 | 12.09 | 090
21725 |  | A | Revision of neck muscle | 6.99 | NA | NA | 6.21 | 5.97 | 0.68 | NA | NA | 13.88 | 13.64 | 090
21740 |  | A | Reconstruction of sternum | 16.80 | NA | NA | 15.15 | 13.80 | 1.95 | NA | NA | 33.90 | 32.55 | 090
21750 |  | A | Repair of sternum separation | 10.77 | NA | NA | 13.25 | 11.93 | 1.35 | NA | NA | 25.37 | 24.05 | 090
21800 |  | A | Treatment of rib fracture | 0.96 | 1.80 | 1.56 | 0.79 | 0.80 | 0.09 | 2.85 | 2.61 | 1.84 | 1.85 | 090
21805 |  | A | Treatment of rib fracture | 2.75 | NA | NA | 6.10 | 4.94 | 0.29 | NA | NA | 9.14 | 7.98 | 090
21810 |  | A | Treatment of rib fracture(s) | 6.86 | NA | NA | 7.31 | 7.47 | 0.56 | NA | NA | 14.73 | 14.89 | 090
21820 |  | A | Treat sternum fracture | 1.28 | 2.18 | 2.01 | 1.14 | 1.23 | 0.12 | 3.58 | 3.41 | 2.54 | 2.63 | 090
21825 |  | A | Treat sternum fracture | 7.41 | NA | NA | 11.97 | 10.85 | 0.95 | NA | NA | 20.33 | 19.21 | 090
21899 |  | C | Neck/chest surgery procedure | 0.00 | 0.00 | 0.00 | 0.00 | 0.00 | 0.00 | 0.00 | 0.00 | 0.00 | 0.00 | YYY
21920 |  | A | Biopsy soft tissue of back | 2.06 | 2.26 | 1.91 | 0.81 | 0.82 | 0.10 | 4.42 | 4.07 | 2.97 | 2.98 | 010
21925 |  | A | Biopsy soft tissue of back | 4.49 | 10.40 | 8.33 | 4.30 | 3.76 | 0.43 | 15.32 | 13.25 | 9.22 | 8.68 | 090
21930 |  | A | Remove lesion, back or flank | 0.05 | 4.41 | 4.05 | 2.66 | 2.73 | 0.47 | 4.93 | 4.57 | 3.18 | 3.25 | 090
21935 |  | A | Remove tumor, back | 17.96 | NA | NA | 11.85 | 10.68 | 1.79 | NA | NA | 31.60 | 30.43 | 090
22100 |  | A | Remove part of neck vertebra | 9.73 | NA | NA | 8.02 | 8.09 | 1.34 | NA | NA | 19.09 | 19.16 | 090
22101 |  | A | Remove part, thorax vertebra | 9.81 | NA | NA | 8.02 | 8.19 | 1.23 | NA | NA | 19.06 | 19.23 | 090
22102 |  | A | Remove part, lumbar vertebra | 9.81 | NA | NA | 8.21 | 7.38 | 1.37 | NA | NA | 19.39 | 18.56 | 090
22103 |  | A | Remove extra spine segment | 2.34 | NA | NA | 1.21 | 1.51 | 0.33 | NA | NA | 3.88 | 4.18 | ZZZ
22110 |  | A | Remove part of neck vertebra | 12.74 | NA | NA | 10.11 | 10.22 | 1.88 | NA | NA | 24.73 | 24.84 | 090
22112 |  | A | Remove part, thorax vertebra | 12.81 | NA | NA | 10.01 | 10.19 | 1.57 | NA | NA | 24.39 | 24.57 | 090
22114 |  | A | Remove part, lumbar vertebra | 12.81 | NA | NA | 9.71 | 9.25 | 1.37 | NA | NA | 23.89 | 23.43 | 090
22116 |  | A | Remove extra spine segment | 2.32 | NA | NA | 1.18 | 1.49 | 0.32 | NA | NA | 3.82 | 4.13 | ZZZ
22210 |  | A | Revision of neck spine | 23.82 | NA | NA | 15.82 | 15.62 | 3.46 | NA | NA | 43.10 | 42.90 | 090
22212 |  | A | Revision of thorax spine | 19.42 | NA | NA | 14.23 | 15.36 | 1.99 | NA | NA | 35.64 | 36.77 | 090
22214 |  | A | Revision of lumbar spine | 19.45 | NA | NA | 13.92 | 14.54 | 2.35 | NA | NA | 35.72 | 36.34 | 090
22216 |  | A | Revise, extra spine segment | 6.04 | NA | NA | 3.18 | 3.76 | 0.81 | NA | NA | 10.03 | 10.61 | ZZZ
22220 |  | A | Revision of neck spine | 21.37 | NA | NA | 14.41 | 15.32 | 3.15 | NA | NA | 38.93 | 39.84 | 090
22222 |  | A | Revision of thorax spine | 21.52 | NA | NA | 13.17 | 13.57 | 1.01 | NA | NA | 35.70 | 36.10 | 090
22224 |  | A | Revision of lumbar spine | 21.52 | NA | NA | 14.80 | 15.08 | 2.43 | NA | NA | 38.75 | 39.03 | 090
22226 |  | A | Revise, extra spine segment | 6.04 | NA | NA | 3.14 | 3.73 | 0.73 | NA | NA | 9.91 | 10.50 | ZZZ
22305 |  | A | Treat spine process fracture | 2.05 | 2.74 | 2.67 | 1.69 | 1.88 | 0.21 | 5.00 | 4.93 | 3.95 | 4.14 | 090
22310 |  | A | Treat spine fracture | 2.61 | 3.91 | 3.62 | 2.98 | 2.92 | 0.27 | 6.79 | 6.50 | 5.86 | 5.80 | 090
22315 |  | A | Treat spine fracture | 8.84 | NA | NA | 8.43 | 7.82 | 1.14 | NA | NA | 18.41 | 17.80 | 090
22318 |  | A | Treat odontoid fx w/o graft | 21.50 | NA | NA | 14.06 | 14.06 | 3.89 | NA | NA | 39.45 | 39.45 | 090
22319 |  | A | Treat odontoid fx w/graft | 0.24 | NA | NA | 16.20 | 16.20 | 4.34 | NA | NA | 20.78 | 20.78 | 090
22325 |  | A | Treat spine fracture | 18.30 | NA | NA | 13.71 | 12.54 | 2.29 | NA | NA | 34.30 | 33.13 | 090
22326 |  | A | Treat neck spine fracture | 19.59 | NA | NA | 14.47 | 15.18 | 3.18 | NA | NA | 37.24 | 37.95 | 090
22327 |  | A | Treat thorax spine fracture | 19.20 | NA | NA | 14.25 | 15.02 | 2.64 | NA | NA | 36.09 | 36.86 | 090
22328 |  | A | Treat each add spine fx | 4.61 | NA | NA | 2.40 | 3.00 | 0.68 | NA | NA | 7.69 | 8.29 | ZZZ
22505 |  | A | Manipulation of spine | 1.87 | 3.92 | 3.30 | 2.67 | 2.36 | 0.13 | 5.92 | 5.30 | 4.67 | 4.36 | 010
22548 |  | A | Neck spine fusion | 25.82 | NA | NA | 17.04 | 18.95 | 4.66 | NA | NA | 47.52 | 49.43 | 090
22554 |  | A | Neck spine fusion | 18.62 | NA | NA | 12.91 | 15.06 | 3.14 | NA | NA | 34.67 | 36.82 | 090
22556 |  | A | Thorax spine fusion | 23.46 | NA | NA | 16.15 | 18.00 | 3.20 | NA | NA | 42.81 | 44.66 | 090
22558 |  | A | Lumbar spine fusion | 22.28 | NA | NA | 14.70 | 16.50 | 2.62 | NA | NA | 39.60 | 41.40 | 090
22585 |  | A | Additional spinal fusion | 5.53 | NA | NA | 2.86 | 3.61 | 0.85 | NA | NA | 9.24 | 9.99 | ZZZ
22590 |  | A | Spine & skull spinal fusion | 20.51 | NA | NA | 14.50 | 16.73 | 3.38 | NA | NA | 38.39 | 40.62 | 090
22595 |  | A | Neck spinal fusion | 19.39 | NA | NA | 13.54 | 15.94 | 3.23 | NA | NA | 36.16 | 38.56 | 090
22600 |  | A | Neck spine fusion | 16.14 | NA | NA | 11.95 | 13.78 | 2.53 | NA | NA | 30.62 | 32.45 | 090
22610 |  | A | Thorax spine fusion | 16.02 | NA | NA | 11.94 | 13.74 | 2.22 | NA | NA | 30.18 | 31.98 | 090
22612 |  | A | Lumbar spine fusion | 0.21 | NA | NA | 14.60 | 16.54 | 2.62 | NA | NA | 17.43 | 19.37 | 090
22614 |  | A | Spine fusion, extra segment | 6.44 | NA | NA | 3.43 | 4.11 | 0.82 | NA | NA | 10.69 | 11.37 | ZZZ
22630 |  | A | Lumbar spine fusion | 20.84 | NA | NA | 14.78 | 16.09 | 3.05 | NA | NA | 38.67 | 39.98 | 090
22632 |  | A | Spine fusion, extra segment | 5.23 | NA | NA | 2.75 | 3.42 | 0.72 | NA | NA | 8.70 | 9.37 | ZZZ
22800 |  | A | Fusion of spine | 18.25 | NA | NA | 12.94 | 15.15 | 2.09 | NA | NA | 33.28 | 35.49 | 090
22802 |  | A | Fusion of spine | 30.88 | NA | NA | 20.27 | 22.89 | 3.38 | NA | NA | 54.53 | 57.15 | 090
22804 |  | A | Fusion of spine | 36.27 | NA | NA | 23.15 | 25.05 | 3.82 | NA | NA | 63.24 | 65.14 | 090
22808 |  | A | Fusion of spine | 26.27 | NA | NA | 17.62 | 18.21 | 3.79 | NA | NA | 47.68 | 48.27 | 090
22810 |  | A | Fusion of spine | 30.27 | NA | NA | 19.42 | 19.56 | 3.51 | NA | NA | 53.20 | 53.34 | 090
22812 |  | A | Fusion of spine | 32.70 | NA | NA | 20.84 | 22.67 | 3.60 | NA | NA | 57.14 | 58.97 | 090
22818 |  | A | Kyphectomy, 1-2 segments | 31.83 | NA | NA | 19.46 | 22.26 | 4.31 | NA | NA | 55.60 | 58.40 | 090
22819 |  | A | Kyphectomy, 3 or more | 36.44 | NA | NA | 21.62 | 23.88 | 4.93 | NA | NA | 62.99 | 65.25 | 090
22830 |  | A | Exploration of spinal fusion | 10.85 | NA | NA | 9.03 | 10.01 | 1.31 | NA | NA | 21.19 | 22.17 | 090
22840 |  | A | Insert spine fixation device | 12.54 | NA | NA | 7.83 | 7.50 | 1.61 | NA | NA | 21.98 | 21.65 | ZZZ
22841 |  | B | Insert spine fixation device | 0.00 | 0.00 | 0.00 | 0.00 | 0.00 | 0.00 | 0.00 | 0.00 | 0.00 | 0.00 | XXX
22842 |  | A | Insert spine fixation device | 12.58 | NA | NA | 6.66 | 6.86 | 1.63 | NA | NA | 20.87 | 21.07 | ZZZ
22843 |  | A | Insert spine fixation device | 13.46 | NA | NA | 7.13 | 7.67 | 1.64 | NA | NA | 22.23 | 22.77 | ZZZ
22844 |  | A | Insert spine fixation device | 16.44 | NA | NA | 10.23 | 10.51 | 1.76 | NA | NA | 28.43 | 28.71 | ZZZ
22845 |  | A | Insert spine fixation device | 11.96 | NA | NA | 7.53 | 7.20 | 1.95 | NA | NA | 21.44 | 21.11 | ZZZ
22846 |  | A | Insert spine fixation device | 12.42 | NA | NA | 7.82 | 8.01 | 0.02 | NA | NA | 20.26 | 20.45 | ZZZ
22847 |  | A | Insert spine fixation device | 13.80 | NA | NA | 8.46 | 8.73 | 1.63 | NA | NA | 23.89 | 24.16 | ZZZ
22848 |  | A | Insert pelv fixation device | 0.06 | NA | NA | 4.50 | 4.93 | 0.64 | NA | NA | 5.20 | 5.63 | ZZZ
22849 |  | A | Reinsert spinal fixation | 18.51 | NA | NA | 12.98 | 12.93 | 2.25 | NA | NA | 33.74 | 33.69 | 090
22850 |  | A | Remove spine fixation device | 9.52 | NA | NA | 7.91 | 8.42 | 1.19 | NA | NA | 18.62 | 19.13 | 090
22851 |  | A | Apply spine prosth device | 6.71 | NA | NA | 4.78 | 5.32 | 0.93 | NA | NA | 12.42 | 12.96 | ZZZ
22852 |  | A | Remove spine fixation device | 9.01 | NA | NA | 7.70 | 8.44 | 1.09 | NA | NA | 17.80 | 18.54 | 090
22855 |  | A | Remove spine fixation device | 15.13 | NA | NA | 10.71 | 10.06 | 2.35 | NA | NA | 28.19 | 27.54 | 090
22899 |  | C | Spine surgery procedure | 0.00 | 0.00 | 0.00 | 0.00 | 0.00 | 0.00 | 0.00 | 0.00 | 0.00 | 0.00 | YYY
22900 |  | A | Remove abdominal wall lesion | 5.80 | NA | NA | 4.20 | 3.97 | 0.57 | NA | NA | 10.57 | 10.34 | 090
22999 |  | C | Abdomen surgery procedure | 0.00 | 0.00 | 0.00 | 0.00 | 0.00 | 0.00 | 0.00 | 0.00 | 0.00 | 0.00 | YYY
23000 |  | A | Removal of calcium deposits | 4.36 | 7.21 | 6.29 | 6.05 | 5.42 | 0.40 | 11.97 | 11.05 | 10.81 | 10.18 | 090
23020 |  | A | Release shoulder joint | 8.93 | NA | NA | 9.25 | 8.91 | 0.93 | NA | NA | 19.11 | 18.77 | 090
23030 |  | A | Drain shoulder lesion | 3.43 | 5.16 | 4.46 | 3.87 | 3.49 | 0.33 | 8.92 | 8.22 | 7.63 | 7.25 | 010
23031 |  | A | Drain shoulder bursa | 2.74 | 5.07 | 3.94 | 3.59 | 2.83 | 0.26 | 8.07 | 6.94 | 6.59 | 5.83 | 010
23035 |  | A | Drain shoulder bone lesion | 8.61 | NA | NA | 13.34 | 11.69 | 0.88 | NA | NA | 22.83 | 21.18 | 090
23040 |  | A | Exploratory shoulder surgery | 9.20 | NA | NA | 10.17 | 10.14 | 0.95 | NA | NA | 20.32 | 20.29 | 090
23044 |  | A | Exploratory shoulder surgery | 7.12 | NA | NA | 8.88 | 8.54 | 0.74 | NA | NA | 16.74 | 16.40 | 090
23065 |  | A | Biopsy shoulder tissues | 2.27 | 2.51 | 2.06 | 1.35 | 1.19 | 0.11 | 4.89 | 4.44 | 3.73 | 3.57 | 010
23066 |  | A | Biopsy shoulder tissues | 4.16 | 6.46 | 5.17 | 5.60 | 4.52 | 0.41 | 11.03 | 9.74 | 10.17 | 9.09 | 090
23075 |  | A | Removal of shoulder lesion | 2.39 | 4.55 | 3.87 | 2.82 | 2.57 | 0.23 | 7.17 | 6.49 | 5.44 | 5.19 | 010
23076 |  | A | Removal of shoulder lesion | 7.63 | NA | NA | 7.40 | 6.51 | 0.78 | NA | NA | 15.81 | 14.92 | 090
23077 |  | A | Remove tumor of shoulder | 16.09 | NA | NA | 12.87 | 11.66 | 1.58 | NA | NA | 30.54 | 29.33 | 090
23100 |  | A | Biopsy of shoulder joint | 6.03 | NA | NA | 7.77 | 7.63 | 0.60 | NA | NA | 14.40 | 14.26 | 090
23101 |  | A | Shoulder joint surgery | 5.58 | NA | NA | 7.56 | 7.34 | 0.57 | NA | NA | 13.71 | 13.49 | 090
23105 |  | A | Remove shoulder joint lining | 8.23 | NA | NA | 8.88 | 9.12 | 0.85 | NA | NA | 17.96 | 18.20 | 090
23106 |  | A | Incision of collarbone joint | 5.96 | NA | NA | 7.72 | 7.08 | 0.64 | NA | NA | 14.32 | 13.68 | 090
23107 |  | A | Explore treat shoulder joint | 8.62 | NA | NA | 9.11 | 9.41 | 0.88 | NA | NA | 18.61 | 18.91 | 090
23120 |  | A | Partial removal, collar bone | 7.11 | NA | NA | 8.29 | 7.47 | 0.73 | NA | NA | 16.13 | 15.31 | 090
23125 |  | A | Removal of collar bone | 9.39 | NA | NA | 9.53 | 9.45 | 0.97 | NA | NA | 19.89 | 19.81 | 090
23130 |  | A | Remove shoulder bone, part | 7.55 | NA | NA | 8.46 | 8.26 | 0.77 | NA | NA | 16.78 | 16.58 | 090
23140 |  | A | Removal of bone lesion | 6.89 | NA | NA | 7.59 | 6.82 | 0.68 | NA | NA | 15.16 | 14.39 | 090
23145 |  | A | Removal of bone lesion | 9.09 | NA | NA | 9.27 | 9.16 | 0.84 | NA | NA | 19.20 | 19.09 | 090
23146 |  | A | Removal of bone lesion | 7.83 | NA | NA | 9.24 | 8.35 | 0.82 | NA | NA | 17.89 | 17.00 | 090
23150 |  | A | Removal of humerus lesion | 8.48 | NA | NA | 8.56 | 8.22 | 0.85 | NA | NA | 17.89 | 17.55 | 090
23155 |  | A | Removal of humerus lesion | 10.35 | NA | NA | 11.00 | 10.64 | 1.08 | NA | NA | 22.43 | 22.07 | 090
23156 |  | A | Removal of humerus lesion | 8.68 | NA | NA | 8.91 | 8.76 | 0.89 | NA | NA | 18.48 | 18.33 | 090
23170 |  | A | Remove collar bone lesion | 6.86 | NA | NA | 9.29 | 8.27 | 0.72 | NA | NA | 16.87 | 15.85 | 090
23172 |  | A | Remove shoulder blade lesion | 6.90 | NA | NA | 8.46 | 7.75 | 0.72 | NA | NA | 16.08 | 15.37 | 090
23174 |  | A | Remove humerus lesion | 9.51 | NA | NA | 10.19 | 9.96 | 0.94 | NA | NA | 20.64 | 20.41 | 090
23180 |  | A | Remove collar bone lesion | 8.53 | NA | NA | 13.76 | 11.49 | 0.88 | NA | NA | 23.17 | 20.90 | 090
23182 |  | A | Remove shoulder blade lesion | 8.15 | NA | NA | 15.56 | 13.45 | 0.84 | NA | NA | 24.55 | 22.44 | 090
23184 |  | A | Remove humerus lesion | 9.38 | NA | NA | 13.89 | 12.81 | 0.95 | NA | NA | 24.22 | 23.14 | 090
23190 |  | A | Partial removal of scapula | 7.24 | NA | NA | 7.41 | 7.21 | 0.74 | NA | NA | 15.39 | 15.19 | 090
23195 |  | A | Removal of head of humerus | 9.81 | NA | NA | 9.72 | 9.71 | 1.02 | NA | NA | 20.55 | 20.54 | 090
23200 |  | A | Removal of collar bone | 12.08 | NA | NA | 13.47 | 12.59 | 1.22 | NA | NA | 26.77 | 25.89 | 090
23210 |  | A | Removal of shoulder blade | 12.49 | NA | NA | 12.91 | 2.13 | 1.25 | NA | NA | 26.65 | 25.87 | 090
23220 |  | A | Partial removal of humerus | 14.56 | NA | NA | 13.24 | 13.20 | 1.47 | NA | NA | 29.27 | 29.23 | 090
23221 |  | A | Partial removal of humerus | 17.74 | NA | NA | 13.30 | 14.90 | 1.26 | NA | NA | 32.30 | 33.90 | 090
23222 |  | A | Partial removal of humerus | 23.92 | NA | NA | 18.68 | 18.09 | 2.43 | NA | NA | 45.03 | 44.44 | 090
23330 |  | A | Remove shoulder foreign body | 1.85 | 4.49 | 3.52 | 3.23 | 2.57 | 0.18 | 6.52 | 5.55 | 5.26 | 4.60 | 010
23331 |  | A | Remove shoulder foreign body | 7.38 | NA | NA | 8.38 | 6.90 | 0.76 | NA | NA | 16.52 | 15.04 | 090
23332 |  | A | Remove shoulder foreign body | 11.62 | NA | NA | 10.68 | 10.65 | 1.19 | NA | NA | 23.49 | 23.46 | 090
23350 |  | A | Injection for shoulder x-ray | 0.01 | 9.23 | 7.06 | 0.35 | 0.40 | 0.04 | 9.28 | 7.11 | 0.40 | 0.45 | 000
23395 |  | A | Muscle transfer,shoulder/arm | 16.85 | NA | NA | 12.97 | 12.75 | 1.74 | NA | NA | 31.56 | 31.34 | 090
23397 |  | A | Muscle transfers | 16.13 | NA | NA | 13.20 | 13.69 | 1.68 | NA | NA | 31.01 | 31.50 | 090
23400 |  | A | Fixation of shoulder blade | 13.54 | NA | NA | 12.60 | 12.12 | 1.42 | NA | NA | 27.56 | 27.08 | 090
23405 |  | A | Incision of tendon & muscle | 8.37 | NA | NA | 9.54 | 9.19 | 0.86 | NA | NA | 18.77 | 18.42 | 090
23406 |  | A | Incise tendon(s) & muscle(s) | 10.79 | NA | NA | 10.12 | 10.14 | 1.13 | NA | NA | 22.04 | 22.06 | 090
23410 |  | A | Repair of tendon(s) | 12.45 | NA | NA | 11.14 | 11.32 | 1.27 | NA | NA | 24.86 | 25.04 | 090
23412 |  | A | Repair of tendon(s) | 13.31 | NA | NA | 11.64 | 12.36 | 1.36 | NA | NA | 26.31 | 27.03 | 090
23415 |  | A | Release of shoulder ligament | 9.97 | NA | NA | 9.04 | 8.19 | 1.02 | NA | NA | 20.03 | 19.18 | 090
23420 |  | A | Repair of shoulder | 13.30 | NA | NA | 12.33 | 13.22 | 1.36 | NA | NA | 26.99 | 27.88 | 090
23430 |  | A | Repair biceps tendon | 9.98 | NA | NA | 9.86 | 9.39 | 1.02 | NA | NA | 20.86 | 20.39 | 090
23440 |  | A | Remove/transplant tendon | 10.48 | NA | NA | 10.08 | 9.51 | 1.08 | NA | NA | 21.64 | 21.07 | 090
23450 |  | A | Repair shoulder capsule | 13.40 | NA | NA | 11.50 | 12.09 | 1.37 | NA | NA | 26.27 | 26.86 | 090
23455 |  | A | Repair shoulder capsule | 14.37 | NA | NA | 12.18 | 13.36 | 1.47 | NA | NA | 28.02 | 29.20 | 090
23460 |  | A | Repair shoulder capsule | 15.37 | NA | NA | 12.93 | 13.52 | 1.56 | NA | NA | 29.86 | 30.45 | 090
23462 |  | A | Repair shoulder capsule | 15.30 | NA | NA | 12.51 | 13.49 | 1.50 | NA | NA | 29.31 | 30.29 | 090
23465 |  | A | Repair shoulder capsule | 15.85 | NA | NA | 13.04 | 13.62 | 1.63 | NA | NA | 30.52 | 31.10 | 090
23466 |  | A | Repair shoulder capsule | 14.22 | NA | NA | 12.07 | 13.30 | 1.47 | NA | NA | 27.76 | 28.99 | 090
23470 |  | A | Reconstruct shoulder joint | 17.15 | NA | NA | 13.68 | 14.81 | 1.76 | NA | NA | 32.59 | 33.72 | 090
23472 |  | A | Reconstruct shoulder joint | 16.92 | NA | NA | 13.56 | 15.22 | 1.74 | NA | NA | 32.22 | 33.88 | 090
23480 |  | A | Revision of collar bone | 11.18 | NA | NA | 10.44 | 9.62 | 1.16 | NA | NA | 22.78 | 21.96 | 090
23485 |  | A | Revision of collar bone | 13.43 | NA | NA | 11.62 | 11.80 | 1.37 | NA | NA | 26.42 | 26.60 | 090
23490 |  | A | Reinforce clavicle | 11.86 | NA | NA | 10.42 | 10.52 | 1.24 | NA | NA | 23.52 | 23.62 | 090
23491 |  | A | Reinforce shoulder bones | 14.21 | NA | NA | 11.99 | 12.44 | 1.48 | NA | NA | 27.68 | 28.13 | 090
23500 |  | A | Treat clavicle fracture | 2.08 | 3.25 | 2.89 | 1.98 | 1.93 | 0.21 | 5.54 | 5.18 | 4.27 | 4.22 | 090
23505 |  | A | Treat clavicle fracture | 3.69 | 5.01 | 4.46 | 3.42 | 3.26 | 0.37 | 9.07 | 8.52 | 7.48 | 7.32 | 090
23515 |  | A | Treat clavicle fracture | 7.41 | NA | NA | 7.20 | 7.28 | 0.76 | NA | NA | 15.37 | 15.45 | 090
23520 |  | A | Treat clavicle dislocation | 2.16 | 3.36 | 2.90 | 2.24 | 2.06 | 0.21 | 5.73 | 5.27 | 4.61 | 4.43 | 090
23525 |  | A | Treat clavicle dislocation | 3.60 | 4.33 | 3.79 | 3.22 | 2.95 | 0.37 | 8.30 | 7.76 | 7.19 | 6.92 | 090
23530 |  | A | Treat clavicle dislocation | 7.31 | NA | NA | 6.84 | 6.92 | 0.74 | NA | NA | 14.89 | 14.97 | 090
23532 |  | A | Treat clavicle dislocation | 8.01 | NA | NA | 7.06 | 7.26 | 0.84 | NA | NA | 15.91 | 16.11 | 090
23540 |  | A | Treat clavicle dislocation | 2.23 | 3.76 | 3.24 | 1.95 | 1.88 | 0.21 | 6.20 | 5.68 | 4.39 | 4.32 | 090
23545 |  | A | Treat clavicle dislocation | 3.25 | 4.21 | 3.70 | 3.06 | 2.83 | 0.32 | 7.78 | 7.27 | 6.63 | 6.40 | 090
23550 |  | A | Treat clavicle dislocation | 7.24 | NA | NA | 7.13 | 7.51 | 0.73 | NA | NA | 15.10 | 15.48 | 090
23552 |  | A | Treat clavicle dislocation | 8.45 | NA | NA | 7.82 | 7.84 | 0.84 | NA | NA | 17.11 | 17.13 | 090
23570 |  | A | Treat shoulder blade fx | 2.23 | 3.27 | 2.91 | 2.24 | 2.14 | 0.23 | 5.73 | 5.37 | 4.70 | 4.60 | 090
23575 |  | A | Treat shoulder blade fx | 4.06 | 5.31 | 4.73 | 3.84 | 3.63 | 0.41 | 9.78 | 9.20 | 8.31 | 8.10 | 090
23585 |  | A | Treat scapula fracture | 8.96 | NA | NA | 8.31 | 8.32 | 0.92 | NA | NA | 18.19 | 18.20 | 090
23600 |  | A | Treat humerus fracture | 2.93 | 5.05 | 4.58 | 3.13 | 3.14 | 0.30 | 8.28 | 7.81 | 6.36 | 6.37 | 090
23605 |  | A | Treat humerus fracture | 4.87 | 7.53 | 6.94 | 5.92 | 5.73 | 0.51 | 12.91 | 12.32 | 11.30 | 11.11 | 090
23615 |  | A | Treat humerus fracture | 9.35 | NA | NA | 8.98 | 9.53 | 0.96 | NA | NA | 19.29 | 19.84 | 090
23616 |  | A | Treat humerus fracture | 21.27 | NA | NA | 14.89 | 17.22 | 2.19 | NA | NA | 38.35 | 40.68 | 090
23620 |  | A | Treat humerus fracture | 2.40 | 4.75 | 4.35 | 2.84 | 2.91 | 0.25 | 7.40 | 7.00 | 5.49 | 5.56 | 090
23625 |  | A | Treat humerus fracture | 3.93 | 6.64 | 6.02 | 4.91 | 4.72 | 0.41 | 10.98 | 10.36 | 9.25 | 9.06 | 090
23630 |  | A | Treat humerus fracture | 7.35 | NA | NA | 7.19 | 7.59 | 0.75 | NA | NA | 15.29 | 15.69 | 090
23650 |  | A | Treat shoulder dislocation | 3.39 | 4.63 | 4.04 | 2.59 | 2.51 | 0.32 | 8.34 | 7.75 | 6.30 | 6.22 | 090
23655 |  | A | Treat shoulder dislocation | 4.57 | NA | NA | 3.53 | 3.44 | 0.46 | NA | NA | 8.56 | 8.47 | 090
23660 |  | A | Treat shoulder dislocation | 7.49 | NA | NA | 6.92 | 7.43 | 0.69 | NA | NA | 15.10 | 15.61 | 090
23665 |  | A | Treat dislocation/fracture | 4.47 | 6.69 | 5.93 | 5.19 | 4.80 | 0.46 | 11.62 | 10.86 | 10.12 | 9.73 | 090
23670 |  | A | Treat dislocation/fracture | 7.90 | NA | NA | 7.60 | 8.06 | 0.81 | NA | NA | 16.31 | 16.77 | 090
23675 |  | A | Treat dislocation/fracture | 6.05 | 7.64 | 6.80 | 6.07 | 5.62 | 0.62 | 14.31 | 13.47 | 12.74 | 12.29 | 090
23680 |  | A | Treat dislocation/fracture | 10.06 | NA | NA | 8.81 | 9.61 | 1.03 | NA | NA | 19.90 | 20.70 | 090
23700 |  | A | Fixation of shoulder | 2.52 | NA | NA | 3.01 | 2.83 | 0.26 | NA | NA | 5.79 | 5.61 | 010
23800 |  | A | Fusion of shoulder joint | 14.16 | NA | NA | 12.61 | 13.69 | 1.41 | NA | NA | 28.18 | 29.26 | 090
23802 |  | A | Fusion of shoulder joint | 16.60 | NA | NA | 10.43 | 11.64 | 1.70 | NA | NA | 28.73 | 29.94 | 090
23900 |  | A | Amputation of arm & girdle | 19.72 | NA | NA | 14.47 | 14.26 | 1.86 | NA | NA | 36.05 | 35.84 | 090
23920 |  | A | Amputation at shoulder joint | 14.61 | NA | NA | 12.09 | 12.83 | 1.52 | NA | NA | 28.22 | 28.96 | 090
23921 |  | A | Amputation follow-up surgery | 5.49 | 6.18 | 5.79 | 6.17 | 5.79 | 0.50 | 12.17 | 11.78 | 12.16 | 11.78 | 090
23929 |  | C | Shoulder surgery procedure | 0.00 | 0.00 | 0.00 | 0.00 | 0.00 | 0.00 | 0.00 | 0.00 | 0.00 | 0.00 | YYY
23930 |  | A | Drainage of arm lesion | 2.94 | 4.99 | 4.18 | 3.53 | 3.09 | 0.29 | 8.22 | 7.41 | 6.76 | 6.32 | 010
23931 |  | A | Drainage of arm bursa | 1.79 | 4.71 | 3.74 | 3.09 | 2.52 | 0.17 | 6.67 | 5.70 | 5.05 | 4.48 | 010
23935 |  | A | Drain arm/elbow bone lesion | 6.09 | NA | NA | 10.72 | 9.31 | 0.62 | NA | NA | 17.43 | 16.02 | 090
24000 |  | A | Exploratory elbow surgery | 5.82 | NA | NA | 5.39 | 5.78 | 0.58 | NA | NA | 11.79 | 12.18 | 090
24006 |  | A | Release elbow joint | 9.31 | NA | NA | 7.69 | 7.71 | 0.96 | NA | NA | 17.96 | 17.98 | 090
24065 |  | A | Biopsy arm/elbow soft tissue | 2.08 | 4.92 | 3.91 | 2.84 | 2.35 | 0.11 | 7.11 | 6.10 | 5.03 | 4.54 | 010
24066 |  | A | Biopsy arm/elbow soft tissue | 5.21 | 7.51 | 6.37 | 5.97 | 5.21 | 0.55 | 13.27 | 12.13 | 11.73 | 10.97 | 090
24075 |  | A | Remove arm/elbow lesion | 3.92 | 6.99 | 5.78 | 5.32 | 4.53 | 0.38 | 11.29 | 10.08 | 9.62 | 8.83 | 090
24076 |  | A | Remove arm/elbow lesion | 6.30 | NA | NA | 6.39 | 5.79 | 0.64 | NA | NA | 13.33 | 12.73 | 090
24077 |  | A | Remove tumor of arm/elbow | 11.76 | NA | NA | 12.18 | 11.79 | 1.17 | NA | NA | 25.11 | 24.72 | 090
24100 |  | A | Biopsy elbow joint lining | 4.93 | NA | NA | 5.70 | 5.42 | 0.46 | NA | NA | 11.09 | 10.81 | 090
24101 |  | A | Explore/treat elbow joint | 6.13 | NA | NA | 6.01 | 6.34 | 0.63 | NA | NA | 12.77 | 13.10 | 090
24102 |  | A | Remove elbow joint lining | 8.03 | NA | NA | 7.06 | 7.69 | 0.83 | NA | NA | 15.92 | 16.55 | 090
24105 |  | A | Removal of elbow bursa | 3.61 | NA | NA | 4.48 | 4.38 | 0.37 | NA | NA | 8.46 | 8.36 | 090
24110 |  | A | Remove humerus lesion | 7.39 | NA | NA | 8.52 | 8.48 | 0.78 | NA | NA | 16.69 | 16.65 | 090
24115 |  | A | Remove/graft bone lesion | 9.63 | NA | NA | 9.29 | 9.05 | 0.85 | NA | NA | 19.77 | 19.53 | 090
24116 |  | A | Remove/graft bone lesion | 11.81 | NA | NA | 10.82 | 10.75 | 1.20 | NA | NA | 23.83 | 23.76 | 090
24120 |  | A | Remove elbow lesion | 6.65 | NA | NA | 6.03 | 6.16 | 0.68 | NA | NA | 13.36 | 13.49 | 090
24125 |  | A | Remove/graft bone lesion | 7.89 | NA | NA | 6.68 | 6.58 | 0.76 | NA | NA | 15.33 | 15.23 | 090
24126 |  | A | Remove/graft bone lesion | 8.31 | NA | NA | 7.03 | 7.28 | 0.87 | NA | NA | 16.21 | 16.46 | 090
24130 |  | A | Removal of head of radius | 6.25 | NA | NA | 6.08 | 6.38 | 0.65 | NA | NA | 12.98 | 13.28 | 090
24134 |  | A | Removal of arm bone lesion | 9.73 | NA | NA | 13.90 | 12.78 | 0.94 | NA | NA | 24.57 | 23.45 | 090
24136 |  | A | Remove radius bone lesion | 7.99 | NA | NA | 5.71 | 6.67 | 0.80 | NA | NA | 14.50 | 15.46 | 090
24138 |  | A | Remove elbow bone lesion | 8.05 | NA | NA | 7.08 | 7.04 | 0.84 | NA | NA | 15.97 | 15.93 | 090
24140 |  | A | Partial removal of arm bone | 9.18 | NA | NA | 14.49 | 13.25 | 0.95 | NA | NA | 24.62 | 23.38 | 090
24145 |  | A | Partial removal of radius | 7.58 | NA | NA | 9.69 | 9.00 | 0.77 | NA | NA | 18.04 | 17.35 | 090
24147 |  | A | Partial removal of elbow | 7.54 | NA | NA | 9.78 | 9.13 | 0.80 | NA | NA | 18.12 | 17.47 | 090
24149 |  | A | Radical resection of elbow | 14.20 | NA | NA | 10.47 | 11.28 | 1.46 | NA | NA | 26.13 | 26.94 | 090
24150 |  | A | Extensive humerus surgery | 13.27 | NA | NA | 13.12 | 13.66 | 1.34 | NA | NA | 27.73 | 28.27 | 090
24151 |  | A | Extensive humerus surgery | 15.58 | NA | NA | 13.96 | 14.22 | 1.50 | NA | NA | 31.04 | 31.30 | 090
24152 |  | A | Extensive radius surgery | 10.06 | NA | NA | 8.75 | 8.41 | 0.95 | NA | NA | 19.76 | 19.42 | 090
24153 |  | A | Extensive radius surgery | 11.54 | NA | NA | 6.76 | 7.90 | 0.67 | NA | NA | 18.97 | 20.11 | 090
24155 |  | A | Removal of elbow joint | 11.73 | NA | NA | 8.75 | 9.48 | 1.18 | NA | NA | 21.66 | 22.39 | 090
24160 |  | A | Remove elbow joint implant | 7.83 | NA | NA | 6.94 | 6.52 | 0.78 | NA | NA | 15.55 | 15.13 | 090
24164 |  | A | Remove radius head implant | 6.23 | NA | NA | 6.05 | 6.04 | 0.65 | NA | NA | 12.93 | 12.92 | 090
24200 |  | A | Removal of arm foreign body | 1.76 | 4.50 | 3.53 | 2.68 | 2.16 | 0.14 | 6.40 | 5.43 | 4.58 | 4.06 | 010
24201 |  | A | Removal of arm foreign body | 4.56 | 7.24 | 6.26 | 5.90 | 5.26 | 0.48 | 12.28 | 11.30 | 10.94 | 10.30 | 090
24220 |  | A | Injection for elbow x-ray | 1.31 | 10.07 | 7.69 | 0.46 | 0.48 | 0.07 | 11.45 | 9.07 | 1.84 | 1.86 | 000
24301 |  | A | Muscle/tendon transfer | 10.20 | NA | NA | 8.30 | 8.37 | 1.04 | NA | NA | 19.54 | 19.61 | 090
24305 |  | A | Arm tendon lengthening | 7.45 | NA | NA | 6.79 | 5.93 | 0.75 | NA | NA | 14.99 | 14.13 | 090
24310 |  | A | Revision of arm tendon | 5.98 | NA | NA | 7.11 | 6.13 | 0.63 | NA | NA | 13.72 | 12.74 | 090
24320 |  | A | Repair of arm tendon | 10.56 | NA | NA | 8.99 | 9.24 | 0.98 | NA | NA | 20.53 | 20.78 | 090
24330 |  | A | Revision of arm muscles | 9.60 | NA | NA | 7.94 | 8.33 | 1.03 | NA | NA | 18.57 | 18.96 | 090
24331 |  | A | Revision of arm muscles | 10.65 | NA | NA | 8.36 | 8.88 | 1.11 | NA | NA | 20.12 | 20.64 | 090
24340 |  | A | Repair of biceps tendon | 7.89 | NA | NA | 6.92 | 7.09 | 0.81 | NA | NA | 15.62 | 15.79 | 090
24341 |  | A | Repair arm tendon/muscle | 7.90 | NA | NA | 6.92 | 7.09 | 0.82 | NA | NA | 15.64 | 15.81 | 090
24342 |  | A | Repair of ruptured tendon | 10.62 | NA | NA | 8.47 | 9.17 | 1.10 | NA | NA | 20.19 | 20.89 | 090
24350 |  | A | Repair of tennis elbow | 5.25 | NA | NA | 5.42 | 5.21 | 0.54 | NA | NA | 11.21 | 11.00 | 090
24351 |  | A | Repair of tennis elbow | 5.91 | NA | NA | 5.92 | 5.68 | 0.62 | NA | NA | 12.45 | 12.21 | 090
24352 |  | A | Repair of tennis elbow | 6.43 | NA | NA | 6.28 | 6.26 | 0.66 | NA | NA | 13.37 | 13.35 | 090
24354 |  | A | Repair of tennis elbow | 6.48 | NA | NA | 6.15 | 6.14 | 0.68 | NA | NA | 13.31 | 13.30 | 090
24356 |  | A | Revision of tennis elbow | 6.68 | NA | NA | 6.36 | 6.75 | 0.70 | NA | NA | 13.74 | 14.13 | 090
24360 |  | A | Reconstruct elbow joint | 12.34 | NA | NA | 9.30 | 10.66 | 1.27 | NA | NA | 22.91 | 24.27 | 090
24361 |  | A | Reconstruct elbow joint | 14.08 | NA | NA | 10.11 | 11.15 | 1.46 | NA | NA | 25.65 | 26.69 | 090
24362 |  | A | Reconstruct elbow joint | 14.99 | NA | NA | 10.56 | 11.49 | 1.34 | NA | NA | 26.89 | 27.82 | 090
24363 |  | A | Replace elbow joint | 18.49 | NA | NA | 12.70 | 15.04 | 1.91 | NA | NA | 33.10 | 35.44 | 090
24365 |  | A | Reconstruct head of radius | 8.39 | NA | NA | 7.30 | 7.52 | 0.87 | NA | NA | 16.56 | 16.78 | 090
24366 |  | A | Reconstruct head of radius | 9.13 | NA | NA | 7.66 | 8.47 | 0.95 | NA | NA | 17.74 | 18.55 | 090
24400 |  | A | Revision of humerus | 11.06 | NA | NA | 11.09 | 10.61 | 1.13 | NA | NA | 23.28 | 22.80 | 090
24410 |  | A | Revision of humerus | 14.82 | NA | NA | 12.58 | 13.25 | 1.37 | NA | NA | 28.77 | 29.44 | 090
24420 |  | A | Revision of humerus | 13.44 | NA | NA | 15.22 | 14.75 | 1.36 | NA | NA | 30.02 | 29.55 | 090
24430 |  | A | Repair of humerus | 12.81 | NA | NA | 11.39 | 12.37 | 1.32 | NA | NA | 25.52 | 26.50 | 090
24435 |  | A | Repair humerus with graft | 13.17 | NA | NA | 12.30 | 13.16 | 1.36 | NA | NA | 26.83 | 27.69 | 090
24470 |  | A | Revision of elbow joint | 8.74 | NA | NA | 7.50 | 7.78 | 0.92 | NA | NA | 17.16 | 17.44 | 090
24495 |  | A | Decompression of forearm | 8.12 | NA | NA | 9.76 | 8.88 | 0.91 | NA | NA | 18.79 | 17.91 | 090
24498 |  | A | Reinforce humerus | 11.92 | NA | NA | 11.03 | 11.09 | 1.23 | NA | NA | 24.18 | 24.24 | 090
24500 |  | A | Treat humerus fracture | 3.21 | 4.58 | 4.13 | 2.80 | 2.79 | 0.32 | 8.11 | 7.66 | 6.33 | 6.32 | 090
24505 |  | A | Treat humerus fracture | 5.17 | 8.00 | 7.22 | 6.14 | 5.83 | 0.53 | 13.70 | 12.92 | 11.84 | 11.53 | 090
24515 |  | A | Treat humerus fracture | 11.65 | NA | NA | 10.15 | 10.23 | 1.16 | NA | NA | 22.96 | 23.04 | 090
24516 |  | A | Treat humerus fracture | 11.65 | NA | NA | 10.54 | 10.52 | 1.20 | NA | NA | 23.39 | 23.37 | 090
24530 |  | A | Treat humerus fracture | 3.50 | 5.56 | 4.91 | 4.12 | 3.83 | 0.35 | 9.41 | 8.76 | 7.97 | 7.68 | 090
24535 |  | A | Treat humerus fracture | 6.87 | 8.06 | 7.36 | 6.18 | 5.95 | 0.72 | 15.65 | 14.95 | 13.77 | 13.54 | 090
24538 |  | A | Treat humerus fracture | 9.43 | NA | NA | 9.30 | 9.14 | 0.96 | NA | NA | 19.69 | 19.53 | 090
24545 |  | A | Treat humerus fracture | 10.46 | NA | NA | 9.07 | 9.51 | 1.08 | NA | NA | 20.61 | 21.05 | 090
24546 |  | A | Treat humerus fracture | 15.69 | NA | NA | 12.32 | 11.95 | 1.62 | NA | NA | 29.63 | 29.26 | 090
24560 |  | A | Treat humerus fracture | 2.80 | 4.38 | 3.87 | 2.51 | 2.47 | 0.28 | 7.46 | 6.95 | 5.59 | 5.55 | 090
24565 |  | A | Treat humerus fracture | 5.56 | 6.97 | 6.16 | 5.29 | 4.90 | 0.57 | 13.10 | 12.29 | 11.42 | 11.03 | 090
24566 |  | A | Treat humerus fracture | 7.79 | NA | NA | 8.61 | 8.10 | 0.78 | NA | NA | 17.18 | 16.67 | 090
24575 |  | A | Treat humerus fracture | 10.66 | NA | NA | 7.58 | 7.80 | 1.10 | NA | NA | 19.34 | 19.56 | 090
24576 |  | A | Treat humerus fracture | 2.86 | 4.16 | 3.71 | 2.79 | 2.68 | 0.29 | 7.31 | 6.86 | 5.94 | 5.83 | 090
24577 |  | A | Treat humerus fracture | 5.79 | 7.36 | 6.61 | 5.60 | 5.29 | 0.60 | 13.75 | 13.00 | 11.99 | 11.68 | 090
24579 |  | A | Treat humerus fracture | 11.60 | NA | NA | 9.20 | 9.17 | 1.19 | NA | NA | 21.99 | 21.96 | 090
24582 |  | A | Treat humerus fracture | 8.55 | NA | NA | 9.11 | 8.63 | 0.88 | NA | NA | 18.54 | 18.06 | 090
24586 |  | A | Treat elbow fracture | 15.21 | NA | NA | 10.30 | 11.72 | 1.56 | NA | NA | 27.07 | 28.49 | 090
24587 |  | A | Treat elbow fracture | 15.16 | NA | NA | 10.15 | 11.34 | 1.46 | NA | NA | 26.77 | 27.96 | 090
24600 |  | A | Treat elbow dislocation | 4.23 | 6.17 | 5.16 | 4.11 | 3.61 | 0.42 | 10.82 | 9.81 | 8.76 | 8.26 | 090
24605 |  | A | Treat elbow dislocation | 5.42 | NA | NA | 4.37 | 3.90 | 0.56 | NA | NA | 10.35 | 9.88 | 090
24615 |  | A | Treat elbow dislocation | 9.42 | NA | NA | 7.21 | 7.93 | 0.98 | NA | NA | 17.61 | 18.33 | 090
24620 |  | A | Treat elbow fracture | 6.98 | NA | NA | 5.96 | 5.50 | 0.70 | NA | NA | 13.64 | 13.18 | 090
24635 |  | A | Treat elbow fracture | 13.19 | NA | NA | 14.41 | 13.81 | 1.37 | NA | NA | 28.97 | 28.37 | 090
24640 |  | A | Treat elbow dislocation | 1.20 | 2.98 | 2.51 | 1.33 | 1.27 | 0.11 | 4.29 | 3.82 | 2.64 | 2.58 | 010
24650 |  | A | Treat radius fracture | 2.16 | 4.07 | 3.66 | 2.31 | 2.34 | 0.22 | 6.45 | 6.04 | 4.69 | 4.72 | 090
24655 |  | A | Treat radius fracture | 4.40 | 6.56 | 5.74 | 4.70 | 4.34 | 0.45 | 11.41 | 10.59 | 9.55 | 9.19 | 090
24665 |  | A | Treat radius fracture | 8.14 | NA | NA | 8.26 | 8.13 | 0.84 | NA | NA | 17.24 | 17.11 | 090
24666 |  | A | Treat radius fracture | 9.49 | NA | NA | 9.03 | 9.56 | 0.98 | NA | NA | 19.50 | 20.03 | 090
24670 |  | A | Treat ulnar fracture | 2.54 | 4.01 | 3.54 | 2.60 | 2.48 | 0.26 | 6.81 | 6.34 | 5.40 | 5.28 | 090
24675 |  | A | Treat ulnar fracture | 4.72 | 6.71 | 5.99 | 5.01 | 4.71 | 0.49 | 11.92 | 11.20 | 10.22 | 9.92 | 090
24685 |  | A | Treat ulnar fracture | 8.80 | NA | NA | 8.61 | 8.74 | 0.91 | NA | NA | 18.32 | 18.45 | 090
24800 |  | A | Fusion of elbow joint | 11.20 | NA | NA | 8.79 | 9.47 | 1.13 | NA | NA | 21.12 | 21.80 | 090
24802 |  | A | Fusion/graft of elbow joint | 13.69 | NA | NA | 10.59 | 11.25 | 1.37 | NA | NA | 25.65 | 26.31 | 090
24900 |  | A | Amputation of upper arm | 9.60 | NA | NA | 9.51 | 9.22 | 0.01 | NA | NA | 19.12 | 18.83 | 090
24920 |  | A | Amputation of upper arm | 9.54 | NA | NA | 10.71 | 9.87 | 0.95 | NA | NA | 21.20 | 20.36 | 090
24925 |  | A | Amputation follow-up surgery | 7.07 | NA | NA | 7.99 | 7.69 | 0.71 | NA | NA | 15.77 | 15.47 | 090
24930 |  | A | Amputation follow-up surgery | 10.25 | NA | NA | 10.57 | 10.14 | 0.99 | NA | NA | 21.81 | 21.38 | 090
24931 |  | A | Amputate upper arm & implant | 12.72 | NA | NA | 8.32 | 9.27 | 1.29 | NA | NA | 22.33 | 23.28 | 090
24935 |  | A | Revision of amputation | 15.56 | NA | NA | 11.27 | 12.17 | 1.58 | NA | NA | 28.41 | 29.31 | 090
24940 |  | C | Revision of upper arm | 0.00 | 0.00 | 0.00 | 0.00 | 0.00 | 0.00 | 0.00 | 0.00 | 0.00 | 0.00 | 090
24999 |  | C | Upper arm/elbow surgery | 0.00 | 0.00 | 0.00 | 0.00 | 0.00 | 0.00 | 0.00 | 0.00 | 0.00 | 0.00 | YYY
25000 |  | A | Incision of tendon sheath | 3.38 | NA | NA | 6.31 | 5.74 | 0.35 | NA | NA | 10.04 | 9.47 | 090
25020 |  | A | Decompression of forearm | 5.92 | NA | NA | 9.90 | 8.61 | 0.66 | NA | NA | 16.48 | 15.19 | 090
25023 |  | A | Decompression of forearm | 12.96 | NA | NA | 15.26 | 12.92 | 1.34 | NA | NA | 29.56 | 27.22 | 090
25028 |  | A | Drainage of forearm lesion | 5.25 | NA | NA | 9.03 | 7.33 | 0.53 | NA | NA | 14.81 | 13.11 | 090
25031 |  | A | Drainage of forearm bursa | 4.14 | NA | NA | 8.88 | 6.84 | 0.36 | NA | NA | 13.38 | 11.34 | 090
25035 |  | A | Treat forearm bone lesion | 7.36 | NA | NA | 14.13 | 12.31 | 0.74 | NA | NA | 22.23 | 20.41 | 090
25040 |  | A | Explore/treat wrist joint | 7.18 | NA | NA | 8.10 | 7.62 | 0.74 | NA | NA | 16.02 | 15.54 | 090
25065 |  | A | Biopsy forearm soft tissues | 1.99 | 2.38 | 1.99 | 2.38 | 1.99 | 0.10 | 4.47 | 4.08 | 4.47 | 4.08 | 010
25066 |  | A | Biopsy forearm soft tissues | 4.13 | NA | NA | 7.02 | 5.68 | 0.42 | NA | NA | 11.57 | 10.23 | 090
25075 |  | A | Removal of forearm lesion | 3.74 | NA | NA | 6.64 | 5.58 | 0.36 | NA | NA | 10.74 | 9.68 | 090
25076 |  | A | Removal of forearm lesion | 4.92 | NA | NA | 11.14 | 9.38 | 0.51 | NA | NA | 16.57 | 14.81 | 090
25077 |  | A | Remove tumor, forearm/wrist | 9.76 | NA | NA | 13.92 | 12.74 | 0.97 | NA | NA | 24.65 | 23.47 | 090
25085 |  | A | Incision of wrist capsule | 5.50 | NA | NA | 9.05 | 8.04 | 0.57 | NA | NA | 15.12 | 14.11 | 090
25100 |  | A | Biopsy of wrist joint | 3.90 | NA | NA | 6.23 | 5.84 | 0.41 | NA | NA | 10.54 | 10.15 | 090
25101 |  | A | Explore/treat wrist joint | 4.69 | NA | NA | 6.87 | 6.55 | 0.49 | NA | NA | 12.05 | 11.73 | 090
25105 |  | A | Remove wrist joint lining | 5.85 | NA | NA | 9.39 | 8.79 | 0.60 | NA | NA | 15.84 | 15.24 | 090
25107 |  | A | Remove wrist joint cartilage | 6.43 | NA | NA | 9.68 | 8.69 | 0.67 | NA | NA | 16.78 | 15.79 | 090
25110 |  | A | Remove wrist tendon lesion | 3.92 | NA | NA | 7.29 | 6.23 | 0.39 | NA | NA | 11.60 | 10.54 | 090
25111 |  | A | Remove wrist tendon lesion | 3.39 | NA | NA | 5.61 | 5.08 | 0.34 | NA | NA | 9.34 | 8.81 | 090
25112 |  | A | Reremove wrist tendon lesion | 4.53 | NA | NA | 6.48 | 5.87 | 0.47 | NA | NA | 11.48 | 10.87 | 090
25115 |  | A | Remove wrist/forearm lesion | 8.82 | NA | NA | 14.82 | 13.05 | 0.92 | NA | NA | 24.56 | 22.79 | 090
25116 |  | A | Remove wrist/forearm lesion | 7.11 | NA | NA | 13.57 | 12.30 | 0.74 | NA | NA | 21.42 | 20.15 | 090
25118 |  | A | Excise wrist tendon sheath | 4.37 | NA | NA | 6.82 | 6.42 | 0.46 | NA | NA | 11.65 | 11.25 | 090
25119 |  | A | Partial removal of ulna | 6.04 | NA | NA | 9.52 | 8.94 | 0.62 | NA | NA | 16.18 | 15.60 | 090
25120 |  | A | Removal of forearm lesion | 6.10 | NA | NA | 13.04 | 11.55 | 0.64 | NA | NA | 19.78 | 18.29 | 090
25125 |  | A | Remove/graft forearm lesion | 7.48 | NA | NA | 13.71 | 12.14 | 0.77 | NA | NA | 21.96 | 20.39 | 090
25126 |  | A | Remove/graft forearm lesion | 7.55 | NA | NA | 12.31 | 11.08 | 0.77 | NA | NA | 20.63 | 19.40 | 090
25130 |  | A | Removal of wrist lesion | 5.26 | NA | NA | 7.11 | 6.48 | 0.54 | NA | NA | 12.91 | 12.28 | 090
25135 |  | A | Remove & graft wrist lesion | 6.89 | NA | NA | 7.85 | 7.37 | 0.73 | NA | NA | 15.47 | 14.99 | 090
25136 |  | A | Remove & graft wrist lesion | 5.97 | NA | NA | 6.73 | 6.33 | 0.62 | NA | NA | 13.32 | 12.92 | 090
25145 |  | A | Remove forearm bone lesion | 6.37 | NA | NA | 13.10 | 11.44 | 0.66 | NA | NA | 20.13 | 18.47 | 090
25150 |  | A | Partial removal of ulna | 7.09 | NA | NA | 10.39 | 9.60 | 0.72 | NA | NA | 18.20 | 17.41 | 090
25151 |  | A | Partial removal of radius | 7.39 | NA | NA | 13.68 | 11.82 | 0.77 | NA | NA | 21.84 | 19.98 | 090
25170 |  | A | Extensive forearm surgery | 11.09 | NA | NA | 15.34 | 14.16 | 1.16 | NA | NA | 27.59 | 26.41 | 090
25210 |  | A | Removal of wrist bone | 5.95 | NA | NA | 7.52 | 6.97 | 0.62 | NA | NA | 14.09 | 13.54 | 090
25215 |  | A | Removal of wrist bones | 7.89 | NA | NA | 10.54 | 10.26 | 0.81 | NA | NA | 19.24 | 18.96 | 090
25230 |  | A | Partial removal of radius | 5.23 | NA | NA | 6.97 | 6.74 | 0.53 | NA | NA | 12.73 | 12.50 | 090
25240 |  | A | Partial removal of ulna | 5.17 | NA | NA | 9.08 | 8.25 | 0.53 | NA | NA | 14.78 | 13.95 | 090
25246 |  | A | Injection for wrist x-ray | 1.45 | 9.41 | 7.19 | 0.51 | 0.52 | 0.06 | 10.92 | 8.70 | 2.02 | 2.03 | 000
25248 |  | A | Remove forearm foreign body | 5.14 | NA | NA | 9.35 | 7.61 | 0.51 | NA | NA | 15.00 | 13.26 | 090
25250 |  | A | Removal of wrist prosthesis | 6.60 | NA | NA | 7.76 | 7.35 | 0.68 | NA | NA | 15.04 | 14.63 | 090
25251 |  | A | Removal of wrist prosthesis | 9.57 | NA | NA | 11.62 | 10.95 | 0.98 | NA | NA | 22.17 | 21.50 | 090
25260 |  | A | Repair forearm tendon/muscle | 7.80 | NA | NA | 14.75 | 12.31 | 0.81 | NA | NA | 23.36 | 20.92 | 090
25263 |  | A | Repair forearm tendon/muscle | 7.82 | NA | NA | 15.68 | 13.33 | 0.81 | NA | NA | 24.31 | 21.96 | 090
25265 |  | A | Repair forearm tendon/muscle | 9.88 | NA | NA | 15.12 | 13.49 | 1.02 | NA | NA | 26.02 | 24.39 | 090
25270 |  | A | Repair forearm tendon/muscle | 0.06 | NA | NA | 13.71 | 11.20 | 0.62 | NA | NA | 14.39 | 11.88 | 090
25272 |  | A | Repair forearm tendon/muscle | 7.04 | NA | NA | 14.21 | 11.59 | 0.74 | NA | NA | 21.99 | 19.37 | 090
25274 |  | A | Repair forearm tendon/muscle | 8.75 | NA | NA | 14.57 | 12.72 | 0.91 | NA | NA | 24.23 | 22.38 | 090
25280 |  | A | Revise wrist/forearm tendon | 7.22 | NA | NA | 13.53 | 11.29 | 0.74 | NA | NA | 21.49 | 19.25 | 090
25290 |  | A | Incise wrist/forearm tendon | 5.29 | NA | NA | 15.56 | 12.34 | 0.55 | NA | NA | 21.40 | 18.18 | 090
25295 |  | A | Release wrist/forearm tendon | 6.55 | NA | NA | 13.48 | 10.94 | 0.68 | NA | NA | 20.71 | 18.17 | 090
25300 |  | A | Fusion of tendons at wrist | 8.80 | NA | NA | 8.84 | 8.63 | 0.87 | NA | NA | 18.51 | 18.30 | 090
25301 |  | A | Fusion of tendons at wrist | 8.40 | NA | NA | 8.59 | 8.28 | 0.83 | NA | NA | 17.82 | 17.51 | 090
25310 |  | A | Transplant forearm tendon | 8.14 | NA | NA | 13.96 | 12.41 | 0.84 | NA | NA | 22.94 | 21.39 | 090
25312 |  | A | Transplant forearm tendon | 9.57 | NA | NA | 14.54 | 12.98 | 0.98 | NA | NA | 25.09 | 23.53 | 090
25315 |  | A | Revise palsy hand tendon(s) | 10.20 | NA | NA | 15.39 | 13.73 | 1.10 | NA | NA | 26.69 | 25.03 | 090
25316 |  | A | Revise palsy hand tendon(s) | 12.33 | NA | NA | 17.72 | 16.16 | 1.23 | NA | NA | 31.28 | 29.72 | 090
25320 |  | A | Repair/revise wrist joint | 10.77 | NA | NA | 10.08 | 9.89 | 1.11 | NA | NA | 21.96 | 21.77 | 090
25332 |  | A | Revise wrist joint | 11.41 | NA | NA | 10.55 | 10.62 | 1.16 | NA | NA | 23.12 | 23.19 | 090
25335 |  | A | Realignment of hand | 12.88 | NA | NA | 12.61 | 12.55 | 1.36 | NA | NA | 26.85 | 26.79 | 090
25337 |  | A | Reconstruct ulna/radioulnar | 10.17 | NA | NA | 11.84 | 11.21 | 1.06 | NA | NA | 23.07 | 22.44 | 090
25350 |  | A | Revision of radius | 8.78 | NA | NA | 14.38 | 12.85 | 0.91 | NA | NA | 24.07 | 22.54 | 090
25355 |  | A | Revision of radius | 10.17 | NA | NA | 14.58 | 13.41 | 1.05 | NA | NA | 25.80 | 24.63 | 090
25360 |  | A | Revision of ulna | 8.43 | NA | NA | 14.20 | 12.39 | 0.90 | NA | NA | 23.53 | 21.72 | 090
25365 |  | A | Revise radius & ulna | 12.40 | NA | NA | 15.38 | 14.33 | 1.20 | NA | NA | 28.98 | 27.93 | 090
25370 |  | A | Revise radius or ulna | 13.36 | NA | NA | 13.22 | 13.11 | 1.30 | NA | NA | 27.88 | 27.77 | 090
25375 |  | A | Revise radius & ulna | 13.04 | NA | NA | 15.79 | 15.47 | 1.27 | NA | NA | 30.10 | 29.78 | 090
25390 |  | A | Shorten radius or ulna | 10.40 | NA | NA | 15.26 | 13.84 | 1.07 | NA | NA | 26.73 | 25.31 | 090
25391 |  | A | Lengthen radius or ulna | 13.65 | NA | NA | 17.57 | 16.23 | 1.42 | NA | NA | 32.64 | 31.30 | 090
25392 |  | A | Shorten radius & ulna | 13.95 | NA | NA | 15.11 | 14.71 | 1.46 | NA | NA | 30.52 | 30.12 | 090
25393 |  | A | Lengthen radius & ulna | 15.87 | NA | NA | 17.48 | 16.97 | 1.62 | NA | NA | 34.97 | 34.46 | 090
25400 |  | A | Repair radius or ulna | 10.92 | NA | NA | 15.57 | 14.60 | 1.13 | NA | NA | 27.62 | 26.65 | 090
25405 |  | A | Repair/graft radius or ulna | 14.38 | NA | NA | 17.81 | 16.73 | 1.48 | NA | NA | 33.67 | 32.59 | 090
25415 |  | A | Repair radius & ulna | 13.35 | NA | NA | 16.86 | 15.74 | 1.39 | NA | NA | 31.60 | 30.48 | 090
25420 |  | A | Repair/graft radius & ulna | 16.33 | NA | NA | 18.39 | 17.78 | 1.69 | NA | NA | 36.41 | 35.80 | 090
25425 |  | A | Repair/graft radius or ulna | 13.21 | NA | NA | 23.60 | 20.96 | 1.33 | NA | NA | 38.14 | 35.50 | 090
25426 |  | A | Repair/graft radius & ulna | 15.82 | NA | NA | 18.25 | 16.87 | 1.33 | NA | NA | 35.40 | 34.02 | 090
25440 |  | A | Repair/graft wrist bone | 10.44 | NA | NA | 9.94 | 9.91 | 1.09 | NA | NA | 21.47 | 21.44 | 090
25441 |  | A | Reconstruct wrist joint | 12.90 | NA | NA | 11.18 | 11.47 | 1.35 | NA | NA | 25.43 | 25.72 | 090
25442 |  | A | Reconstruct wrist joint | 10.85 | NA | NA | 10.12 | 9.51 | 1.13 | NA | NA | 22.10 | 21.49 | 090
25443 |  | A | Reconstruct wrist joint | 10.39 | NA | NA | 11.43 | 11.12 | 1.09 | NA | NA | 22.91 | 22.60 | 090
25444 |  | A | Reconstruct wrist joint | 11.15 | NA | NA | 11.68 | 11.51 | 1.16 | NA | NA | 23.99 | 23.82 | 090
25445 |  | A | Reconstruct wrist joint | 9.69 | NA | NA | 11.68 | 11.57 | 0.01 | NA | NA | 21.38 | 21.27 | 090
25446 |  | A | Wrist replacement | 16.55 | NA | NA | 13.37 | 14.97 | 1.70 | NA | NA | 31.62 | 33.22 | 090
25447 |  | A | Repair wrist joint(s) | 10.37 | NA | NA | 9.93 | 10.07 | 1.07 | NA | NA | 21.37 | 21.51 | 090
25449 |  | A | Remove wrist joint implant | 14.49 | NA | NA | 14.15 | 12.74 | 1.50 | NA | NA | 30.14 | 28.73 | 090
25450 |  | A | Revision of wrist joint | 7.87 | NA | NA | 12.13 | 11.08 | 0.65 | NA | NA | 20.65 | 19.60 | 090
25455 |  | A | Revision of wrist joint | 9.49 | NA | NA | 10.71 | 10.40 | 0.72 | NA | NA | 20.92 | 20.61 | 090
25490 |  | A | Reinforce radius | 9.54 | NA | NA | 13.69 | 12.63 | 0.99 | NA | NA | 24.22 | 23.16 | 090
25491 |  | A | Reinforce ulna | 9.96 | NA | NA | 14.89 | 13.64 | 1.04 | NA | NA | 25.89 | 24.64 | 090
25492 |  | A | Reinforce radius and ulna | 12.33 | NA | NA | 13.65 | 13.28 | 1.29 | NA | NA | 27.27 | 26.90 | 090
25500 |  | A | Treat fracture of radius | 2.45 | 3.72 | 3.42 | 2.31 | 2.37 | 0.23 | 6.40 | 6.10 | 4.99 | 5.05 | 090
25505 |  | A | Treat fracture of radius | 5.21 | 6.95 | 6.18 | 5.06 | 4.76 | 0.53 | 12.69 | 11.92 | 10.80 | 10.50 | 090
25515 |  | A | Treat fracture of radius | 9.18 | NA | NA | 8.77 | 8.65 | 0.86 | NA | NA | 18.81 | 18.69 | 090
25520 |  | A | Treat fracture of radius | 6.26 | 7.20 | 6.96 | 5.77 | 5.89 | 0.64 | 14.10 | 13.86 | 12.67 | 12.79 | 090
25525 |  | A | Treat fracture of radius | 12.24 | NA | NA | 10.45 | 10.86 | 1.28 | NA | NA | 23.97 | 24.38 | 090
25526 |  | A | Treat fracture of radius | 12.98 | NA | NA | 13.57 | 13.39 | 1.34 | NA | NA | 27.89 | 27.71 | 090
25530 |  | A | Treat fracture of ulna | 2.09 | 3.73 | 3.46 | 2.38 | 2.45 | 0.21 | 6.03 | 5.76 | 4.68 | 4.75 | 090
25535 |  | A | Treat fracture of ulna | 5.14 | 6.75 | 6.03 | 5.19 | 4.86 | 0.51 | 12.40 | 11.68 | 10.84 | 10.51 | 090
25545 |  | A | Treat fracture of ulna | 8.90 | NA | NA | 8.68 | 8.57 | 0.92 | NA | NA | 18.50 | 18.39 | 090
25560 |  | A | Treat fracture radius & ulna | 2.44 | 3.76 | 3.44 | 2.24 | 2.30 | 0.23 | 6.43 | 6.11 | 4.91 | 4.97 | 090
25565 |  | A | Treat fracture radius & ulna | 5.63 | 7.23 | 6.69 | 5.24 | 5.20 | 0.57 | 13.43 | 12.89 | 11.44 | 11.40 | 090
25574 |  | A | Treat fracture radius & ulna | 7.01 | NA | NA | 7.62 | 7.81 | 0.73 | NA | NA | 15.36 | 15.55 | 090
25575 |  | A | Treat fracture radius/ulna | 10.45 | NA | NA | 9.50 | 10.03 | 1.08 | NA | NA | 21.03 | 21.56 | 090
25600 |  | A | Treat fracture radius/ulna | 2.63 | 4.06 | 3.82 | 2.50 | 2.65 | 0.27 | 6.96 | 6.72 | 5.40 | 5.55 | 090
25605 |  | A | Treat fracture radius/ulna | 5.81 | 7.43 | 6.65 | 5.58 | 5.26 | 0.60 | 13.84 | 13.06 | 11.99 | 11.67 | 090
25611 |  | A | Treat fracture radius/ulna | 7.77 | NA | NA | 8.73 | 8.18 | 0.80 | NA | NA | 17.30 | 16.75 | 090
25620 |  | A | Treat fracture radius/ulna | 8.55 | NA | NA | 8.32 | 8.18 | 0.88 | NA | NA | 17.75 | 17.61 | 090
25622 |  | A | Treat wrist bone fracture | 2.61 | 4.01 | 3.63 | 2.44 | 2.45 | 0.27 | 6.89 | 6.51 | 5.32 | 5.33 | 090
25624 |  | A | Treat wrist bone fracture | 4.53 | 6.71 | 6.03 | 4.70 | 4.52 | 0.47 | 11.71 | 11.03 | 9.70 | 9.52 | 090
25628 |  | A | Treat wrist bone fracture | 8.43 | NA | NA | 8.42 | 8.25 | 0.89 | NA | NA | 17.74 | 17.57 | 090
25630 |  | A | Treat wrist bone fracture | 2.88 | 4.17 | 3.72 | 2.44 | 2.43 | 0.29 | 7.34 | 6.89 | 5.61 | 5.60 | 090
25635 |  | A | Treat wrist bone fracture | 4.39 | 6.59 | 5.86 | 4.42 | 4.23 | 0.45 | 11.43 | 10.70 | 9.26 | 9.07 | 090
25645 |  | A | Treat wrist bone fracture | 7.25 | NA | NA | 7.67 | 7.57 | 0.75 | NA | NA | 15.67 | 15.57 | 090
25650 |  | A | Treat wrist bone fracture | 3.05 | 4.16 | 3.84 | 2.59 | 2.67 | 0.31 | 7.52 | 7.20 | 5.95 | 6.03 | 090
25660 |  | A | Treat wrist dislocation | 4.76 | NA | NA | 4.48 | 3.86 | 0.48 | NA | NA | 9.72 | 9.10 | 090
25670 |  | A | Treat wrist dislocation | 7.92 | NA | NA | 8.33 | 8.17 | 0.82 | NA | NA | 17.07 | 16.91 | 090
25675 |  | A | Treat wrist dislocation | 4.67 | 6.25 | 5.31 | 4.56 | 4.04 | 0.47 | 11.39 | 10.45 | 9.70 | 9.18 | 090
25676 |  | A | Treat wrist dislocation | 8.04 | NA | NA | 8.36 | 8.26 | 0.81 | NA | NA | 17.21 | 17.11 | 090
25680 |  | A | Treat wrist fracture | 5.99 | NA | NA | 5.67 | 4.92 | 0.53 | NA | NA | 12.19 | 11.44 | 090
25685 |  | A | Treat wrist fracture | 9.78 | NA | NA | 9.16 | 9.26 | 0.98 | NA | NA | 19.92 | 20.02 | 090
25690 |  | A | Treat wrist dislocation | 5.50 | NA | NA | 6.22 | 5.99 | 0.56 | NA | NA | 12.28 | 12.05 | 090
25695 |  | A | Treat wrist dislocation | 8.34 | NA | NA | 8.42 | 8.23 | 0.87 | NA | NA | 17.63 | 17.44 | 090
25800 |  | A | Fusion of wrist joint | 9.76 | NA | NA | 9.55 | 10.08 | 0.01 | NA | NA | 19.32 | 19.85 | 090
25805 |  | A | Fusion/graft of wrist joint | 11.28 | NA | NA | 10.41 | 11.18 | 1.17 | NA | NA | 22.86 | 23.63 | 090
25810 |  | A | Fusion/graft of wrist joint | 10.57 | NA | NA | 9.98 | 10.64 | 1.08 | NA | NA | 21.63 | 22.29 | 090
25820 |  | A | Fusion of hand bones | 7.45 | NA | NA | 8.42 | 8.54 | 0.74 | NA | NA | 16.61 | 16.73 | 090
25825 |  | A | Fuse hand bones with graft | 9.27 | NA | NA | 9.25 | 9.71 | 0.95 | NA | NA | 19.47 | 19.93 | 090
25830 |  | A | Fusion, radioulnar jnt/ulna | 10.06 | NA | NA | 14.63 | 13.31 | 1.03 | NA | NA | 25.72 | 24.40 | 090
25900 |  | A | Amputation of forearm | 9.01 | NA | NA | 12.78 | 11.51 | 0.95 | NA | NA | 22.74 | 21.47 | 090
25905 |  | A | Amputation of forearm | 9.12 | NA | NA | 14.20 | 12.58 | 0.95 | NA | NA | 24.27 | 22.65 | 090
25907 |  | A | Amputation follow-up surgery | 7.80 | NA | NA | 14.07 | 12.11 | 0.82 | NA | NA | 22.69 | 20.73 | 090
25909 |  | A | Amputation follow-up surgery | 8.96 | NA | NA | 13.79 | 11.85 | 0.96 | NA | NA | 23.71 | 21.77 | 090
25915 |  | A | Amputation of forearm | 17.08 | NA | NA | 14.03 | 14.82 | 1.83 | NA | NA | 32.94 | 33.73 | 090
25920 |  | A | Amputate hand at wrist | 8.68 | NA | NA | 8.72 | 8.44 | 0.92 | NA | NA | 18.32 | 18.04 | 090
25922 |  | A | Amputate hand at wrist | 7.42 | NA | NA | 8.81 | 8.11 | 0.77 | NA | NA | 17.00 | 16.30 | 090
25924 |  | A | Amputation follow-up surgery | 8.46 | NA | NA | 9.23 | 8.96 | 0.61 | NA | NA | 18.30 | 18.03 | 090
25927 |  | A | Amputation of hand | 8.80 | NA | NA | 12.32 | 10.95 | 0.93 | NA | NA | 22.05 | 20.68 | 090
25929 |  | A | Amputation follow-up surgery | 7.59 | NA | NA | 7.83 | 7.16 | 0.76 | NA | NA | 16.18 | 15.51 | 090
25931 |  | A | Amputation follow-up surgery | 7.81 | NA | NA | 13.10 | 11.06 | 0.79 | NA | NA | 21.70 | 19.66 | 090
25999 |  | C | Forearm or wrist surgery | 0.00 | 0.00 | 0.00 | 0.00 | 0.00 | 0.00 | 0.00 | 0.00 | 0.00 | 0.00 | YYY
26010 |  | A | Drainage of finger abscess | 1.54 | 4.47 | 3.48 | 3.06 | 2.43 | 0.12 | 6.13 | 5.14 | 4.72 | 4.09 | 010
26011 |  | A | Drainage of finger abscess | 2.19 | 6.18 | 5.05 | 5.27 | 4.37 | 0.22 | 8.59 | 7.46 | 7.68 | 6.78 | 010
26020 |  | A | Drain hand tendon sheath | 4.67 | NA | NA | 10.75 | 9.07 | 0.49 | NA | NA | 15.91 | 14.23 | 090
26025 |  | A | Drainage of palm bursa | 4.82 | NA | NA | 10.69 | 9.24 | 0.50 | NA | NA | 16.01 | 14.56 | 090
26030 |  | A | Drainage of palm bursa(s) | 5.93 | NA | NA | 11.55 | 10.22 | 0.62 | NA | NA | 18.10 | 16.77 | 090
26034 |  | A | Treat hand bone lesion | 6.23 | NA | NA | 12.79 | 10.74 | 0.64 | NA | NA | 19.66 | 17.61 | 090
26035 |  | A | Decompress fingers/hand | 9.51 | NA | NA | 14.74 | 12.46 | 0.97 | NA | NA | 25.22 | 22.94 | 090
26037 |  | A | Decompress fingers/hand | 7.25 | NA | NA | 11.30 | 10.20 | 0.75 | NA | NA | 19.30 | 18.20 | 090
26040 |  | A | Release palm contracture | 3.33 | NA | NA | 10.46 | 8.62 | 0.34 | NA | NA | 14.13 | 12.29 | 090
26045 |  | A | Release palm contracture | 5.56 | NA | NA | 11.77 | 10.14 | 0.57 | NA | NA | 17.90 | 16.27 | 090
26055 |  | A | Incise finger tendon sheath | 2.69 | 6.79 | 5.98 | 6.46 | 5.74 | 0.28 | 9.76 | 8.95 | 9.43 | 8.71 | 090
26060 |  | A | Incision of finger tendon | 2.81 | NA | NA | 6.76 | 5.38 | 0.30 | NA | NA | 9.87 | 8.49 | 090
26070 |  | A | Explore/treat hand joint | 3.69 | NA | NA | 9.24 | 7.68 | 0.32 | NA | NA | 13.25 | 11.69 | 090
26075 |  | A | Explore/treat finger joint | 3.79 | NA | NA | 10.07 | 8.58 | 0.35 | NA | NA | 14.21 | 12.72 | 090
26080 |  | A | Explore/treat finger joint | 4.24 | NA | NA | 10.91 | 9.04 | 0.43 | NA | NA | 15.58 | 13.71 | 090
26100 |  | A | Biopsy hand joint lining | 3.67 | NA | NA | 7.50 | 6.44 | 0.36 | NA | NA | 11.53 | 10.47 | 090
26105 |  | A | Biopsy finger joint lining | 3.71 | NA | NA | 10.99 | 9.38 | 0.38 | NA | NA | 15.08 | 13.47 | 090
26110 |  | A | Biopsy finger joint lining | 3.53 | NA | NA | 10.26 | 8.49 | 0.36 | NA | NA | 14.15 | 12.38 | 090
26115 |  | A | Removal of hand lesion | 3.86 | 6.64 | 5.53 | 6.64 | 5.53 | 0.39 | 10.89 | 9.78 | 10.89 | 9.78 | 090
26116 |  | A | Removal of hand lesion | 5.53 | NA | NA | 11.69 | 9.78 | 0.57 | NA | NA | 17.79 | 15.88 | 090
26117 |  | A | Remove tumor, hand/finger | 8.55 | NA | NA | 13.40 | 11.43 | 0.88 | NA | NA | 22.83 | 20.86 | 090
26121 |  | A | Release palm contracture | 7.54 | NA | NA | 13.48 | 12.36 | 0.78 | NA | NA | 21.80 | 20.68 | 090
26123 |  | A | Release palm contracture | 9.29 | NA | NA | 14.43 | 13.29 | 0.97 | NA | NA | 24.69 | 23.55 | 090
26125 |  | A | Release palm contracture | 4.61 | NA | NA | 2.51 | 2.59 | 0.49 | NA | NA | 7.61 | 7.69 | ZZZ
26130 |  | A | Remove wrist joint lining | 5.42 | NA | NA | 13.13 | 11.21 | 0.56 | NA | NA | 19.11 | 17.19 | 090
26135 |  | A | Revise finger joint, each | 6.96 | NA | NA | 14.52 | 12.21 | 0.73 | NA | NA | 22.21 | 19.90 | 090
26140 |  | A | Revise finger joint, each | 6.17 | NA | NA | 13.67 | 11.45 | 0.64 | NA | NA | 20.48 | 18.26 | 090
26145 |  | A | Tendon excision, palm/finger | 6.32 | NA | NA | 13.99 | 11.77 | 0.66 | NA | NA | 20.97 | 18.75 | 090
26160 |  | A | Remove tendon sheath lesion | 3.15 | 6.63 | 5.60 | 6.63 | 5.60 | 0.32 | 10.10 | 9.07 | 10.10 | 9.07 | 090
26170 |  | A | Removal of palm tendon, each | 4.77 | NA | NA | 7.54 | 6.42 | 0.53 | NA | NA | 12.84 | 11.72 | 090
26180 |  | A | Removal of finger tendon | 5.18 | NA | NA | 7.99 | 7.08 | 0.55 | NA | NA | 13.72 | 12.81 | 090
26185 |  | A | Remove finger bone | 5.25 | NA | NA | 7.57 | 6.83 | 0.54 | NA | NA | 13.36 | 12.62 | 090
26200 |  | A | Remove hand bone lesion | 5.51 | NA | NA | 11.89 | 10.13 | 0.56 | NA | NA | 17.96 | 16.20 | 090
26205 |  | A | Remove/graft bone lesion | 7.70 | NA | NA | 12.85 | 11.38 | 0.81 | NA | NA | 21.36 | 19.89 | 090
26210 |  | A | Removal of finger lesion | 5.15 | NA | NA | 12.13 | 10.16 | 0.53 | NA | NA | 17.81 | 15.84 | 090
26215 |  | A | Remove/graft finger lesion | 7.10 | NA | NA | 12.28 | 10.72 | 0.66 | NA | NA | 20.04 | 18.48 | 090
26230 |  | A | Partial removal of hand bone | 6.33 | NA | NA | 11.46 | 9.75 | 0.66 | NA | NA | 18.45 | 16.74 | 090
26235 |  | A | Partial removal, finger bone | 6.19 | NA | NA | 10.63 | 9.11 | 0.65 | NA | NA | 17.47 | 15.95 | 090
26236 |  | A | Partial removal, finger bone | 5.32 | NA | NA | 10.62 | 9.01 | 0.55 | NA | NA | 16.49 | 14.88 | 090
26250 |  | A | Extensive hand surgery | 7.55 | NA | NA | 15.21 | 13.04 | 0.75 | NA | NA | 23.51 | 21.34 | 090
26255 |  | A | Extensive hand surgery | 12.43 | NA | NA | 17.34 | 15.43 | 1.19 | NA | NA | 30.96 | 29.05 | 090
26260 |  | A | Extensive finger surgery | 7.03 | NA | NA | 13.81 | 11.91 | 0.72 | NA | NA | 21.56 | 19.66 | 090
26261 |  | A | Extensive finger surgery | 9.09 | NA | NA | 16.65 | 14.58 | 0.66 | NA | NA | 26.40 | 24.33 | 090
26262 |  | A | Partial removal of finger | 5.67 | NA | NA | 12.62 | 10.75 | 0.59 | NA | NA | 18.88 | 17.01 | 090
26320 |  | A | Removal of implant from hand | 3.98 | NA | NA | 11.03 | 9.23 | 0.41 | NA | NA | 15.42 | 13.62 | 090
26350 |  | A | Repair finger/hand tendon | 5.99 | NA | NA | 17.09 | 14.38 | 0.62 | NA | NA | 23.70 | 20.99 | 090
26352 |  | A | Repair/graft hand tendon | 7.68 | NA | NA | 18.11 | 15.37 | 0.80 | NA | NA | 26.59 | 23.85 | 090
26356 |  | A | Repair finger/hand tendon | 8.07 | NA | NA | 18.25 | 15.64 | 0.85 | NA | NA | 27.17 | 24.56 | 090
26357 |  | A | Repair finger/hand tendon | 8.58 | NA | NA | 18.19 | 15.43 | 0.89 | NA | NA | 27.66 | 24.90 | 090
26358 |  | A | Repair/graft hand tendon | 9.14 | NA | NA | 18.03 | 15.53 | 0.95 | NA | NA | 28.12 | 25.62 | 090
26370 |  | A | Repair finger/hand tendon | 7.11 | NA | NA | 17.56 | 14.99 | 0.74 | NA | NA | 25.41 | 22.84 | 090
26372 |  | A | Repair/graft hand tendon | 8.76 | NA | NA | 18.63 | 15.71 | 0.90 | NA | NA | 28.29 | 25.37 | 090
26373 |  | A | Repair finger/hand tendon | 8.16 | NA | NA | 17.00 | 14.61 | 0.84 | NA | NA | 26.00 | 23.61 | 090
26390 |  | A | Revise hand/finger tendon | 9.19 | NA | NA | 14.62 | 13.12 | 0.95 | NA | NA | 24.76 | 23.26 | 090
26392 |  | A | Repair/graft hand tendon | 10.26 | NA | NA | 19.52 | 16.98 | 1.07 | NA | NA | 30.85 | 28.31 | 090
26410 |  | A | Repair hand tendon | 4.63 | NA | NA | 13.51 | 11.03 | 0.48 | NA | NA | 18.62 | 16.14 | 090
26412 |  | A | Repair/graft hand tendon | 6.31 | NA | NA | 15.08 | 12.94 | 0.66 | NA | NA | 22.05 | 19.91 | 090
26415 |  | A | Excision, hand/finger tendon | 8.34 | NA | NA | 13.72 | 12.12 | 0.74 | NA | NA | 22.80 | 21.20 | 090
26416 |  | A | Graft hand or finger tendon | 9.37 | NA | NA | 16.12 | 14.44 | 0.96 | NA | NA | 26.45 | 24.77 | 090
26418 |  | A | Repair finger tendon | 4.25 | NA | NA | 13.70 | 11.25 | 0.44 | NA | NA | 18.39 | 15.94 | 090
26420 |  | A | Repair/graft finger tendon | 6.77 | NA | NA | 15.04 | 12.82 | 0.70 | NA | NA | 22.51 | 20.29 | 090
26426 |  | A | Repair finger/hand tendon | 6.15 | NA | NA | 14.32 | 12.45 | 0.64 | NA | NA | 21.11 | 19.24 | 090
26428 |  | A | Repair/graft finger tendon | 7.21 | NA | NA | 16.32 | 13.73 | 0.74 | NA | NA | 24.27 | 21.68 | 090
26432 |  | A | Repair finger tendon | 4.02 | NA | NA | 11.21 | 9.26 | 0.42 | NA | NA | 15.65 | 13.70 | 090
26433 |  | A | Repair finger tendon | 4.56 | NA | NA | 12.10 | 10.15 | 0.48 | NA | NA | 17.14 | 15.19 | 090
26434 |  | A | Repair/graft finger tendon | 6.09 | NA | NA | 12.26 | 10.54 | 0.61 | NA | NA | 18.96 | 17.24 | 090
26437 |  | A | Realignment of tendons | 5.82 | NA | NA | 12.08 | 10.16 | 0.61 | NA | NA | 18.51 | 16.59 | 090
26440 |  | A | Release palm/finger tendon | 5.02 | NA | NA | 15.82 | 12.83 | 0.53 | NA | NA | 21.37 | 18.38 | 090
26442 |  | A | Release palm & finger tendon | 8.16 | NA | NA | 17.40 | 13.97 | 0.85 | NA | NA | 26.41 | 22.98 | 090
26445 |  | A | Release hand/finger tendon | 4.31 | NA | NA | 15.64 | 12.61 | 0.45 | NA | NA | 20.40 | 17.37 | 090
26449 |  | A | Release forearm/hand tendon | 0.07 | NA | NA | 16.13 | 13.61 | 0.74 | NA | NA | 16.94 | 14.42 | 090
26450 |  | A | Incision of palm tendon | 3.67 | NA | NA | 7.21 | 6.03 | 0.38 | NA | NA | 11.26 | 10.08 | 090
26455 |  | A | Incision of finger tendon | 3.64 | NA | NA | 7.16 | 5.88 | 0.38 | NA | NA | 11.18 | 9.90 | 090
26460 |  | A | Incise hand/finger tendon | 3.46 | NA | NA | 6.78 | 5.55 | 0.36 | NA | NA | 10.60 | 9.37 | 090
26471 |  | A | Fusion of finger tendons | 5.73 | NA | NA | 11.56 | 9.80 | 0.59 | NA | NA | 17.88 | 16.12 | 090
26474 |  | A | Fusion of finger tendons | 5.32 | NA | NA | 12.03 | 10.27 | 0.55 | NA | NA | 17.90 | 16.14 | 090
26476 |  | A | Tendon lengthening | 5.18 | NA | NA | 11.86 | 9.68 | 0.52 | NA | NA | 17.56 | 15.38 | 090
26477 |  | A | Tendon shortening | 5.15 | NA | NA | 11.88 | 9.99 | 0.53 | NA | NA | 17.56 | 15.67 | 090
26478 |  | A | Lengthening of hand tendon | 5.80 | NA | NA | 12.34 | 10.42 | 0.60 | NA | NA | 18.74 | 16.82 | 090
26479 |  | A | Shortening of hand tendon | 5.74 | NA | NA | 12.60 | 10.89 | 0.60 | NA | NA | 18.94 | 17.23 | 090
26480 |  | A | Transplant hand tendon | 6.69 | NA | NA | 16.32 | 14.01 | 0.70 | NA | NA | 23.71 | 21.40 | 090
26483 |  | A | Transplant/graft hand tendon | 8.29 | NA | NA | 17.42 | 15.37 | 0.86 | NA | NA | 26.57 | 24.52 | 090
26485 |  | A | Transplant palm tendon | 7.70 | NA | NA | 17.18 | 14.65 | 0.79 | NA | NA | 25.67 | 23.14 | 090
26489 |  | A | Transplant/graft palm tendon | 9.55 | NA | NA | 13.84 | 11.30 | 0.86 | NA | NA | 24.25 | 21.71 | 090
26490 |  | A | Revise thumb tendon | 8.41 | NA | NA | 13.39 | 12.16 | 0.88 | NA | NA | 22.68 | 21.45 | 090
26492 |  | A | Tendon transfer with graft | 9.62 | NA | NA | 13.93 | 12.82 | 0.95 | NA | NA | 24.50 | 23.39 | 090
26494 |  | A | Hand tendon/muscle transfer | 8.47 | NA | NA | 14.18 | 12.61 | 0.90 | NA | NA | 23.55 | 21.98 | 090
26496 |  | A | Revise thumb tendon | 9.59 | NA | NA | 13.44 | 12.45 | 0.01 | NA | NA | 23.04 | 22.05 | 090
26497 |  | A | Finger tendon transfer | 9.57 | NA | NA | 13.77 | 12.50 | 0.96 | NA | NA | 24.30 | 23.03 | 090
26498 |  | A | Finger tendon transfer | 0.14 | NA | NA | 16.18 | 15.33 | 1.45 | NA | NA | 17.77 | 16.92 | 090
26499 |  | A | Revision of finger | 8.98 | NA | NA | 15.42 | 13.67 | 0.81 | NA | NA | 25.21 | 23.46 | 090
26500 |  | A | Hand tendon reconstruction | 5.96 | NA | NA | 12.82 | 10.56 | 0.62 | NA | NA | 19.40 | 17.14 | 090
26502 |  | A | Hand tendon reconstruction | 7.14 | NA | NA | 12.04 | 10.46 | 0.71 | NA | NA | 19.89 | 18.31 | 090
26504 |  | A | Hand tendon reconstruction | 7.47 | NA | NA | 11.60 | 10.52 | 0.74 | NA | NA | 19.81 | 18.73 | 090
26508 |  | A | Release thumb contracture | 6.01 | NA | NA | 12.28 | 10.34 | 0.62 | NA | NA | 18.91 | 16.97 | 090
26510 |  | A | Thumb tendon transfer | 5.43 | NA | NA | 11.54 | 9.78 | 0.56 | NA | NA | 17.53 | 15.77 | 090
26516 |  | A | Fusion of knuckle joint | 7.15 | NA | NA | 12.67 | 10.63 | 0.74 | NA | NA | 20.56 | 18.52 | 090
26517 |  | A | Fusion of knuckle joints | 8.83 | NA | NA | 14.66 | 12.91 | 0.90 | NA | NA | 24.39 | 22.64 | 090
26518 |  | A | Fusion of knuckle joints | 9.02 | NA | NA | 14.10 | 12.34 | 0.94 | NA | NA | 24.06 | 22.30 | 090
26520 |  | A | Release knuckle contracture | 5.30 | NA | NA | 15.82 | 13.08 | 0.55 | NA | NA | 21.67 | 18.93 | 090
26525 |  | A | Release finger contracture | 5.33 | NA | NA | 15.99 | 12.98 | 0.55 | NA | NA | 21.87 | 18.86 | 090
26530 |  | A | Revise knuckle joint | 6.69 | NA | NA | 16.00 | 13.40 | 0.68 | NA | NA | 23.37 | 20.77 | 090
26531 |  | A | Revise knuckle with implant | 7.91 | NA | NA | 16.42 | 14.12 | 0.82 | NA | NA | 25.15 | 22.85 | 090
26535 |  | A | Revise finger joint | 5.24 | NA | NA | 8.96 | 8.03 | 0.39 | NA | NA | 14.59 | 13.66 | 090
26536 |  | A | Revise/implant finger joint | 6.37 | NA | NA | 14.44 | 12.73 | 0.64 | NA | NA | 21.45 | 19.74 | 090
26540 |  | A | Repair hand joint | 6.43 | NA | NA | 12.69 | 11.32 | 0.67 | NA | NA | 19.79 | 18.42 | 090
26541 |  | A | Repair hand joint with graft | 8.62 | NA | NA | 13.84 | 12.81 | 0.88 | NA | NA | 23.34 | 22.31 | 090
26542 |  | A | Repair hand joint with graft | 6.78 | NA | NA | 12.19 | 10.68 | 0.71 | NA | NA | 19.68 | 18.17 | 090
26545 |  | A | Reconstruct finger joint | 6.92 | NA | NA | 13.16 | 11.30 | 0.73 | NA | NA | 20.81 | 18.95 | 090
26546 |  | A | Repair nonunion hand | 8.92 | NA | NA | 13.85 | 12.59 | 0.93 | NA | NA | 23.70 | 22.44 | 090
26548 |  | A | Reconstruct finger joint | 8.03 | NA | NA | 14.07 | 12.12 | 0.84 | NA | NA | 22.94 | 20.99 | 090
26550 |  | A | Construct thumb replacement | 21.24 | NA | NA | 16.51 | 17.76 | 2.24 | NA | NA | 39.99 | 41.24 | 090
26551 |  | A | Great toe-hand transfer | 46.58 | NA | NA | 29.27 | 33.42 | 4.99 | NA | NA | 80.84 | 84.99 | 090
26553 |  | A | Single transfer, toe-hand | 46.27 | NA | NA | 27.76 | 32.21 | 4.95 | NA | NA | 78.98 | 83.43 | 090
26554 |  | A | Double transfer, toe-hand | 54.95 | NA | NA | 31.20 | 36.98 | 5.74 | NA | NA | 91.89 | 97.67 | 090
26555 |  | A | Positional change of finger | 16.63 | NA | NA | 18.52 | 18.07 | 1.73 | NA | NA | 36.88 | 36.43 | 090
26556 |  | A | Toe joint transfer | 47.26 | NA | NA | 31.42 | 35.14 | 5.06 | NA | NA | 83.74 | 87.46 | 090
26560 |  | A | Repair of web finger | 5.38 | NA | NA | 10.33 | 9.01 | 0.53 | NA | NA | 16.24 | 14.92 | 090
26561 |  | A | Repair of web finger | 10.92 | NA | NA | 16.52 | 14.80 | 1.13 | NA | NA | 28.57 | 26.85 | 090
26562 |  | A | Repair of web finger | 9.68 | NA | NA | 14.66 | 13.89 | 1.02 | NA | NA | 25.36 | 24.59 | 090
26565 |  | A | Correct metacarpal flaw | 6.74 | NA | NA | 12.83 | 11.20 | 0.70 | NA | NA | 20.27 | 18.64 | 090
26567 |  | A | Correct finger deformity | 6.82 | NA | NA | 12.46 | 10.51 | 0.71 | NA | NA | 19.99 | 18.04 | 090
26568 |  | A | Lengthen metacarpal/finger | 9.08 | NA | NA | 18.19 | 15.94 | 0.91 | NA | NA | 28.18 | 25.93 | 090
26580 |  | A | Repair hand deformity | 18.18 | NA | NA | 14.46 | 15.43 | 1.51 | NA | NA | 34.15 | 35.12 | 090
26585 |  | A | Repair finger deformity | 14.05 | NA | NA | 11.55 | 12.18 | 0.84 | NA | NA | 26.44 | 27.07 | 090
26587 |  | C | Reconstruct extra finger | 0.00 | 0.00 | 0.00 | 0.00 | 0.00 | 0.00 | 0.00 | 0.00 | 0.00 | 0.00 | 090
26590 |  | A | Repair finger deformity | 17.96 | NA | NA | 16.48 | 16.87 | 1.79 | NA | NA | 36.23 | 36.62 | 090
26591 |  | A | Repair muscles of hand | 3.25 | NA | NA | 11.27 | 9.08 | 0.34 | NA | NA | 14.86 | 12.67 | 090
26593 |  | A | Release muscles of hand | 5.31 | NA | NA | 11.47 | 9.72 | 0.55 | NA | NA | 17.33 | 15.58 | 090
26596 |  | A | Excision constricting tissue | 8.95 | NA | NA | 8.35 | 8.50 | 0.87 | NA | NA | 18.17 | 18.32 | 090
26597 |  | A | Release of scar contracture | 9.82 | NA | NA | 14.98 | 13.41 | 1.03 | NA | NA | 25.83 | 24.26 | 090
26600 |  | A | Treat metacarpal fracture | 1.96 | 3.68 | 3.18 | 2.21 | 2.08 | 0.20 | 5.84 | 5.34 | 4.37 | 4.24 | 090
26605 |  | A | Treat metacarpal fracture | 2.85 | 5.36 | 4.64 | 3.79 | 3.47 | 0.30 | 8.51 | 7.79 | 6.94 | 6.62 | 090
26607 |  | A | Treat metacarpal fracture | 5.36 | NA | NA | 7.43 | 6.54 | 0.55 | NA | NA | 13.34 | 12.45 | 090
26608 |  | A | Treat metacarpal fracture | 5.36 | NA | NA | 7.18 | 6.35 | 0.56 | NA | NA | 13.10 | 12.27 | 090
26615 |  | A | Treat metacarpal fracture | 5.33 | NA | NA | 7.02 | 6.59 | 0.55 | NA | NA | 12.90 | 12.47 | 090
26641 |  | A | Treat thumb dislocation | 3.94 | 5.64 | 4.53 | 3.69 | 3.07 | 0.37 | 9.95 | 8.84 | 8.00 | 7.38 | 090
26645 |  | A | Treat thumb fracture | 4.41 | 6.57 | 5.53 | 4.65 | 4.09 | 0.42 | 11.40 | 10.36 | 9.48 | 8.92 | 090
26650 |  | A | Treat thumb fracture | 5.72 | NA | NA | 7.55 | 6.75 | 0.59 | NA | NA | 13.86 | 13.06 | 090
26665 |  | A | Treat thumb fracture | 7.60 | NA | NA | 8.22 | 7.90 | 0.78 | NA | NA | 16.60 | 16.28 | 090
26670 |  | A | Treat hand dislocation | 3.69 | 5.54 | 4.42 | 3.48 | 2.87 | 0.35 | 9.58 | 8.46 | 7.52 | 6.91 | 090
26675 |  | A | Treat hand dislocation | 4.64 | 5.97 | 5.66 | 3.59 | 3.87 | 0.47 | 11.08 | 10.77 | 8.70 | 8.98 | 090
26676 |  | A | Pin hand dislocation | 5.52 | NA | NA | 7.52 | 6.96 | 0.57 | NA | NA | 13.61 | 13.05 | 090
26685 |  | A | Treat hand dislocation | 6.98 | NA | NA | 7.78 | 7.40 | 0.72 | NA | NA | 15.48 | 15.10 | 090
26686 |  | A | Treat hand dislocation | 7.94 | NA | NA | 8.12 | 7.80 | 0.81 | NA | NA | 16.87 | 16.55 | 090
26700 |  | A | Treat knuckle dislocation | 3.69 | 4.18 | 3.38 | 2.20 | 1.89 | 0.35 | 8.22 | 7.42 | 6.24 | 5.93 | 090
26705 |  | A | Treat knuckle dislocation | 4.19 | 5.45 | 4.57 | 3.80 | 3.33 | 0.41 | 10.05 | 9.17 | 8.40 | 7.93 | 090
26706 |  | A | Pin knuckle dislocation | 5.12 | NA | NA | 5.20 | 5.17 | 0.53 | NA | NA | 10.85 | 10.82 | 090
26715 |  | A | Treat knuckle dislocation | 5.74 | NA | NA | 7.09 | 6.44 | 0.60 | NA | NA | 13.43 | 12.78 | 090
26720 |  | A | Treat finger fracture, each | 1.66 | 2.57 | 2.23 | 1.30 | 1.27 | 0.16 | 4.39 | 4.05 | 3.12 | 3.09 | 090
26725 |  | A | Treat finger fracture, each | 3.33 | 4.49 | 3.79 | 2.76 | 2.49 | 0.34 | 8.16 | 7.46 | 6.43 | 6.16 | 090
26727 |  | A | Treat finger fracture, each | 5.23 | NA | NA | 7.52 | 6.31 | 0.54 | NA | NA | 13.29 | 12.08 | 090
26735 |  | A | Treat finger fracture, each | 5.98 | NA | NA | 7.45 | 6.60 | 0.61 | NA | NA | 14.04 | 13.19 | 090
26740 |  | A | Treat finger fracture, each | 1.94 | 3.17 | 2.69 | 2.13 | 1.91 | 0.19 | 5.30 | 4.82 | 4.26 | 4.04 | 090
26742 |  | A | Treat finger fracture, each | 3.85 | 6.32 | 5.28 | 4.54 | 3.94 | 0.39 | 10.56 | 9.52 | 8.78 | 8.18 | 090
26746 |  | A | Treat finger fracture, each | 5.81 | NA | NA | 7.49 | 6.91 | 0.61 | NA | NA | 13.91 | 13.33 | 090
26750 |  | A | Treat finger fracture, each | 1.70 | 2.98 | 2.46 | 1.73 | 1.52 | 0.16 | 4.84 | 4.32 | 3.59 | 3.38 | 090
26755 |  | A | Treat finger fracture, each | 3.10 | 4.25 | 3.48 | 2.50 | 2.17 | 0.31 | 7.66 | 6.89 | 5.91 | 5.58 | 090
26756 |  | A | Pin finger fracture, each | 4.39 | NA | NA | 7.24 | 5.95 | 0.46 | NA | NA | 12.09 | 10.80 | 090
26765 |  | A | Treat finger fracture, each | 4.17 | NA | NA | 6.45 | 5.56 | 0.43 | NA | NA | 11.05 | 10.16 | 090
26770 |  | A | Treat finger dislocation | 3.02 | 4.07 | 3.26 | 1.96 | 1.68 | 0.29 | 7.38 | 6.57 | 5.27 | 4.99 | 090
26775 |  | A | Treat finger dislocation | 3.71 | 5.31 | 4.29 | 3.22 | 2.72 | 0.37 | 9.39 | 8.37 | 7.30 | 6.80 | 090
26776 |  | A | Pin finger dislocation | 4.80 | NA | NA | 7.35 | 6.08 | 0.51 | NA | NA | 12.66 | 11.39 | 090
26785 |  | A | Treat finger dislocation | 4.21 | NA | NA | 6.37 | 5.58 | 0.44 | NA | NA | 11.02 | 10.23 | 090
26820 |  | A | Thumb fusion with graft | 8.26 | NA | NA | 13.49 | 11.92 | 0.86 | NA | NA | 22.61 | 21.04 | 090
26841 |  | A | Fusion of thumb | 7.13 | NA | NA | 12.94 | 11.38 | 0.74 | NA | NA | 20.81 | 19.25 | 090
26842 |  | A | Thumb fusion with graft | 8.24 | NA | NA | 13.80 | 12.68 | 0.85 | NA | NA | 22.89 | 21.77 | 090
26843 |  | A | Fusion of hand joint | 7.61 | NA | NA | 12.96 | 11.45 | 0.76 | NA | NA | 21.33 | 19.82 | 090
26844 |  | A | Fusion/graft of hand joint | 8.73 | NA | NA | 13.60 | 12.20 | 0.88 | NA | NA | 23.21 | 21.81 | 090
26850 |  | A | Fusion of knuckle | 6.97 | NA | NA | 12.42 | 10.57 | 0.73 | NA | NA | 20.12 | 18.27 | 090
26852 |  | A | Fusion of knuckle with graft | 8.46 | NA | NA | 13.34 | 11.56 | 0.88 | NA | NA | 22.68 | 20.90 | 090
26860 |  | A | Fusion of finger joint | 4.69 | NA | NA | 11.32 | 9.66 | 0.49 | NA | NA | 16.50 | 14.84 | 090
26861 |  | A | Fusion of finger jnt, add-on | 1.74 | NA | NA | 0.95 | 1.23 | 0.18 | NA | NA | 2.87 | 3.15 | ZZZ
26862 |  | A | Fusion/graft of finger joint | 7.37 | NA | NA | 12.64 | 10.88 | 0.76 | NA | NA | 20.77 | 19.01 | 090
26863 |  | A | Fuse/graft added joint | 3.90 | NA | NA | 2.14 | 2.52 | 0.40 | NA | NA | 6.44 | 6.82 | ZZZ
26910 |  | A | Amputate metacarpal bone | 7.60 | NA | NA | 12.61 | 10.86 | 0.79 | NA | NA | 21.00 | 19.25 | 090
26951 |  | A | Amputation of finger/thumb | 4.59 | NA | NA | 11.14 | 9.13 | 0.48 | NA | NA | 16.21 | 14.20 | 090
26952 |  | A | Amputation of finger/thumb | 6.31 | NA | NA | 12.54 | 10.49 | 0.66 | NA | NA | 19.51 | 17.46 | 090
26989 |  | C | Hand/finger surgery | 0.00 | 0.00 | 0.00 | 0.00 | 0.00 | 0.00 | 0.00 | 0.00 | 0.00 | 0.00 | YYY
26990 |  | A | Drainage of pelvis lesion | 7.48 | NA | NA | 13.74 | 11.15 | 0.73 | NA | NA | 21.95 | 19.36 | 090
26991 |  | A | Drainage of pelvis bursa | 6.68 | 10.94 | 8.70 | 8.25 | 6.68 | 0.65 | 18.27 | 16.03 | 15.58 | 14.01 | 090
26992 |  | A | Drainage of bone lesion | 13.02 | NA | NA | 17.03 | 14.50 | 1.36 | NA | NA | 31.41 | 28.88 | 090
27000 |  | A | Incision of hip tendon | 5.62 | NA | NA | 6.50 | 5.38 | 0.58 | NA | NA | 12.70 | 11.58 | 090
27001 |  | A | Incision of hip tendon | 6.94 | NA | NA | 7.23 | 6.06 | 0.71 | NA | NA | 14.88 | 13.71 | 090
27003 |  | A | Incision of hip tendon | 7.34 | NA | NA | 7.97 | 7.82 | 0.76 | NA | NA | 16.07 | 15.92 | 090
27005 |  | A | Incision of hip tendon | 9.66 | NA | NA | 9.26 | 7.86 | 0.98 | NA | NA | 19.90 | 18.50 | 090
27006 |  | A | Incision of hip tendons | 9.68 | NA | NA | 9.31 | 8.24 | 1.01 | NA | NA | 20.00 | 18.93 | 090
27025 |  | A | Incision of hip/thigh fascia | 11.16 | NA | NA | 9.68 | 8.92 | 1.17 | NA | NA | 22.01 | 21.25 | 090
27030 |  | A | Drainage of hip joint | 13.01 | NA | NA | 11.13 | 11.45 | 1.34 | NA | NA | 25.48 | 25.80 | 090
27033 |  | A | Exploration of hip joint | 13.39 | NA | NA | 11.29 | 11.59 | 1.37 | NA | NA | 26.05 | 26.35 | 090
27035 |  | A | Denervation of hip joint | 16.69 | NA | NA | 15.61 | 14.93 | 1.69 | NA | NA | 33.99 | 33.31 | 090
27036 |  | A | Excision of hip joint/muscle | 12.88 | NA | NA | 12.40 | 12.41 | 1.33 | NA | NA | 26.61 | 26.62 | 090
27040 |  | A | Biopsy of soft tissues | 2.87 | 5.04 | 3.98 | 3.62 | 2.91 | 0.17 | 8.08 | 7.02 | 6.66 | 5.95 | 010
27041 |  | A | Biopsy of soft tissues | 9.89 | NA | NA | 7.86 | 6.62 | 0.84 | NA | NA | 18.59 | 17.35 | 090
27047 |  | A | Remove hip/pelvis lesion | 7.45 | 8.29 | 6.73 | 6.51 | 5.40 | 0.74 | 16.48 | 14.92 | 14.70 | 13.59 | 090
27048 |  | A | Remove hip/pelvis lesion | 6.25 | NA | NA | 7.01 | 6.43 | 0.63 | NA | NA | 13.89 | 13.31 | 090
27049 |  | A | Remove tumor, hip/pelvis | 13.66 | NA | NA | 11.99 | 11.74 | 1.33 | NA | NA | 26.98 | 26.73 | 090
27050 |  | A | Biopsy of sacroiliac joint | 4.36 | NA | NA | 5.89 | 5.72 | 0.44 | NA | NA | 10.69 | 10.52 | 090
27052 |  | A | Biopsy of hip joint | 6.23 | NA | NA | 7.20 | 7.26 | 0.64 | NA | NA | 14.07 | 14.13 | 090
27054 |  | A | Removal of hip joint lining | 8.54 | NA | NA | 9.20 | 9.45 | 0.87 | NA | NA | 18.61 | 18.86 | 090
27060 |  | A | Removal of ischial bursa | 5.43 | NA | NA | 6.58 | 6.00 | 0.55 | NA | NA | 12.56 | 11.98 | 090
27062 |  | A | Remove femur lesion/bursa | 5.37 | NA | NA | 6.38 | 5.93 | 0.55 | NA | NA | 12.30 | 11.85 | 090
27065 |  | A | Removal of hip bone lesion | 5.90 | NA | NA | 7.63 | 7.24 | 0.60 | NA | NA | 14.13 | 13.74 | 090
27066 |  | A | Removal of hip bone lesion | 10.33 | NA | NA | 10.85 | 10.28 | 1.04 | NA | NA | 22.22 | 21.65 | 090
27067 |  | A | Remove/graft hip bone lesion | 13.83 | NA | NA | 12.50 | 12.53 | 1.42 | NA | NA | 27.75 | 27.78 | 090
27070 |  | A | Partial removal of hip bone | 10.72 | NA | NA | 16.03 | 14.03 | 1.10 | NA | NA | 27.85 | 25.85 | 090
27071 |  | A | Partial removal of hip bone | 11.46 | NA | NA | 16.51 | 14.69 | 1.17 | NA | NA | 29.14 | 27.32 | 090
27075 |  | A | Extensive hip surgery | 17.23 | NA | NA | 15.10 | 15.00 | 1.76 | NA | NA | 34.09 | 33.99 | 090
27076 |  | A | Extensive hip surgery | 22.12 | NA | NA | 18.00 | 17.94 | 2.24 | NA | NA | 42.36 | 42.30 | 090
27077 |  | A | Extensive hip surgery | 23.13 | NA | NA | 18.85 | 19.29 | 2.42 | NA | NA | 44.40 | 44.84 | 090
27078 |  | A | Extensive hip surgery | 13.44 | NA | NA | 13.15 | 12.36 | 1.39 | NA | NA | 27.98 | 27.19 | 090
27079 |  | A | Extensive hip surgery | 13.75 | NA | NA | 14.37 | 13.12 | 1.40 | NA | NA | 29.52 | 28.27 | 090
27080 |  | A | Removal of tail bone | 6.39 | NA | NA | 6.58 | 6.23 | 0.67 | NA | NA | 13.64 | 13.29 | 090
27086 |  | A | Remove hip foreign body | 1.87 | 4.35 | 3.42 | 3.24 | 2.59 | 0.15 | 6.37 | 5.44 | 5.26 | 4.61 | 010
27087 |  | A | Remove hip foreign body | 8.54 | NA | NA | 7.93 | 6.93 | 0.85 | NA | NA | 17.32 | 16.32 | 090
27090 |  | A | Removal of hip prosthesis | 11.15 | NA | NA | 10.02 | 9.98 | 1.15 | NA | NA | 22.32 | 22.28 | 090
27091 |  | A | Removal of hip prosthesis | 22.14 | NA | NA | 15.90 | 17.30 | 2.17 | NA | NA | 40.21 | 41.61 | 090
27093 |  | A | Injection for hip x-ray | 1.30 | 10.78 | 8.31 | 0.50 | 0.60 | 0.08 | 12.16 | 9.69 | 1.88 | 1.98 | 000
27095 |  | A | Injection for hip x-ray | 1.50 | 11.04 | 8.53 | 0.54 | 0.66 | 0.09 | 12.63 | 10.12 | 2.13 | 2.25 | 000
27096 |  | A | Inject sacroiliac joint | 1.10 | 10.67 | 10.67 | 0.42 | 0.42 | 0.09 | 11.86 | 11.86 | 1.61 | 1.61 | 000
27097 |  | A | Revision of hip tendon | 8.80 | NA | NA | 8.56 | 8.51 | 0.92 | NA | NA | 18.28 | 18.23 | 090
27098 |  | A | Transfer tendon to pelvis | 8.83 | NA | NA | 8.53 | 8.49 | 0.92 | NA | NA | 18.28 | 18.24 | 090
27100 |  | A | Transfer of abdominal muscle | 11.08 | NA | NA | 10.94 | 10.29 | 1.10 | NA | NA | 23.12 | 22.47 | 090
27105 |  | A | Transfer of spinal muscle | 11.77 | NA | NA | 10.83 | 9.72 | 1.23 | NA | NA | 23.83 | 22.72 | 090
27110 |  | A | Transfer of iliopsoas muscle | 13.26 | NA | NA | 13.65 | 13.12 | 1.18 | NA | NA | 28.09 | 27.56 | 090
27111 |  | A | Transfer of iliopsoas muscle | 12.15 | NA | NA | 10.73 | 11.20 | 1.27 | NA | NA | 24.15 | 24.62 | 090
27120 |  | A | Reconstruction of hip socket | 18.01 | NA | NA | 13.71 | 15.19 | 1.84 | NA | NA | 33.56 | 35.04 | 090
27122 |  | A | Reconstruction of hip socket | 14.98 | NA | NA | 12.87 | 14.13 | 1.54 | NA | NA | 29.39 | 30.65 | 090
27125 |  | A | Partial hip replacement | 14.69 | NA | NA | 12.35 | 13.65 | 1.50 | NA | NA | 28.54 | 29.84 | 090
27130 |  | A | Total hip replacement | 20.12 | NA | NA | 15.52 | 17.65 | 2.05 | NA | NA | 37.69 | 39.82 | 090
27132 |  | A | Total hip replacement | 23.30 | NA | NA | 17.33 | 19.95 | 2.38 | NA | NA | 43.01 | 45.63 | 090
27134 |  | A | Revise hip joint replacement | 28.52 | NA | NA | 19.92 | 23.45 | 2.92 | NA | NA | 51.36 | 54.89 | 090
27137 |  | A | Revise hip joint replacement | 21.17 | NA | NA | 16.19 | 18.46 | 2.17 | NA | NA | 39.53 | 41.80 | 090
27138 |  | A | Revise hip joint replacement | 22.17 | NA | NA | 16.66 | 19.07 | 2.28 | NA | NA | 41.11 | 43.52 | 090
27140 |  | A | Transplant femur ridge | 12.24 | NA | NA | 10.71 | 11.03 | 1.26 | NA | NA | 24.21 | 24.53 | 090
27146 |  | A | Incision of hip bone | 17.43 | NA | NA | 14.75 | 14.02 | 1.80 | NA | NA | 33.98 | 33.25 | 090
27147 |  | A | Revision of hip bone | 20.58 | NA | NA | 15.95 | 16.57 | 2.08 | NA | NA | 38.61 | 39.23 | 090
27151 |  | A | Incision of hip bones | 22.51 | NA | NA | 10.14 | 12.41 | 2.36 | NA | NA | 35.01 | 7.28 | 090
27156 |  | A | Revision of hip bones | 24.63 | NA | NA | 17.71 | 18.25 | 2.57 | NA | NA | 44.91 | 45.45 | 090
27158 |  | A | Revision of pelvis | 19.74 | NA | NA | 12.98 | 13.65 | 2.06 | NA | NA | 34.78 | 35.45 | 090
27161 |  | A | Incision of neck of femur | 16.71 | NA | NA | 12.76 | 13.45 | 1.71 | NA | NA | 31.18 | 31.87 | 090
27165 |  | A | Incision/fixation of femur | 17.91 | NA | NA | 13.67 | 14.80 | 1.82 | NA | NA | 33.40 | 34.53 | 090
27170 |  | A | Repair/graft femur head/neck | 16.07 | NA | NA | 12.71 | 13.99 | 1.65 | NA | NA | 30.43 | 31.71 | 090
27175 |  | A | Treat slipped epiphysis | 8.46 | NA | NA | 6.54 | 5.23 | 0.89 | NA | NA | 15.89 | 14.58 | 090
27176 |  | A | Treat slipped epiphysis | 12.05 | NA | NA | 8.95 | 9.53 | 1.19 | NA | NA | 22.19 | 22.77 | 090
27177 |  | A | Treat slipped epiphysis | 15.08 | NA | NA | 10.55 | 11.28 | 1.57 | NA | NA | 27.20 | 27.93 | 090
27178 |  | A | Treat slipped epiphysis | 11.99 | NA | NA | 9.15 | 9.70 | 1.03 | NA | NA | 22.17 | 22.72 | 090
27179 |  | A | Revise head/neck of femur | 12.98 | NA | NA | 9.77 | 10.35 | 1.35 | NA | NA | 24.10 | 24.68 | 090
27181 |  | A | Treat slipped epiphysis | 14.68 | NA | NA | 8.52 | 9.96 | 1.37 | NA | NA | 24.57 | 26.01 | 090
27185 |  | A | Revision of femur epiphysis | 9.18 | NA | NA | 7.81 | 6.61 | 0.80 | NA | NA | 17.79 | 16.59 | 090
27187 |  | A | Reinforce hip bones | 13.54 | NA | NA | 12.00 | 13.04 | 1.38 | NA | NA | 26.92 | 27.96 | 090
27193 |  | A | Treat pelvic ring fracture | 5.56 | 6.49 | 5.52 | 4.93 | 4.35 | 0.57 | 12.62 | 11.65 | 11.06 | 10.48 | 090
27194 |  | A | Treat pelvic ring fracture | 9.65 | 8.11 | 7.14 | 7.12 | 6.40 | 1.01 | 18.77 | 17.80 | 17.78 | 17.06 | 090
27200 |  | A | Treat tail bone fracture | 1.84 | 2.55 | 2.32 | 1.47 | 1.51 | 0.18 | 4.57 | 4.34 | 3.49 | 3.53 | 090
27202 |  | A | Treat tail bone fracture | 7.04 | NA | NA | 14.51 | 12.55 | 0.89 | NA | NA | 22.44 | 20.48 | 090
27215 |  | A | Treat pelvic fracture(s) | 10.05 | NA | NA | 8.86 | 9.65 | 0.01 | NA | NA | 18.92 | 19.71 | 090
27216 |  | A | Treat pelvic ring fracture | 15.19 | NA | NA | 10.99 | 9.41 | 1.56 | NA | NA | 27.74 | 26.16 | 090
27217 |  | A | Treat pelvic ring fracture | 14.11 | NA | NA | 11.67 | 12.70 | 1.44 | NA | NA | 27.22 | 28.25 | 090
27218 |  | A | Treat pelvic ring fracture | 20.15 | NA | NA | 11.30 | 12.42 | 1.96 | NA | NA | 33.41 | 34.53 | 090
27220 |  | A | Treat hip socket fracture | 6.18 | 6.86 | 6.30 | 5.27 | 5.11 | 0.64 | 13.68 | 13.12 | 12.09 | 11.93 | 090
27222 |  | A | Treat hip socket fracture | 12.70 | NA | NA | 9.47 | 8.83 | 1.32 | NA | NA | 23.49 | 22.85 | 090
27226 |  | A | Treat hip wall fracture | 14.91 | NA | NA | 11.99 | 13.28 | 1.11 | NA | NA | 28.01 | 29.30 | 090
27227 |  | A | Treat hip fracture(s) | 23.45 | NA | NA | 16.20 | 17.50 | 2.53 | NA | NA | 42.18 | 43.48 | 090
27228 |  | A | Treat hip fracture(s) | 27.16 | NA | NA | 18.25 | 19.10 | 2.79 | NA | NA | 48.20 | 49.05 | 090
27230 |  | A | Treat thigh fracture | 5.50 | 6.74 | 5.95 | 5.24 | 4.83 | 0.55 | 12.79 | 12.00 | 11.29 | 10.88 | 090
27232 |  | A | Treat thigh fracture | 10.68 | NA | NA | 8.43 | 8.76 | 1.11 | NA | NA | 20.22 | 20.55 | 090
27235 |  | A | Treat thigh fracture | 12.16 | NA | NA | 10.08 | 11.19 | 1.25 | NA | NA | 23.49 | 24.60 | 090
27236 |  | A | Treat thigh fracture | 15.60 | NA | NA | 11.76 | 13.41 | 1.59 | NA | NA | 28.95 | 30.60 | 090
27238 |  | A | Treat thigh fracture | 5.52 | NA | NA | 5.46 | 5.43 | 0.56 | NA | NA | 11.54 | 11.51 | 090
27240 |  | A | Treat thigh fracture | 12.50 | NA | NA | 9.40 | 9.68 | 1.30 | NA | NA | 23.20 | 23.48 | 090
27244 |  | A | Treat thigh fracture | 15.94 | NA | NA | 11.98 | 13.41 | 1.63 | NA | NA | 29.55 | 30.98 | 090
27245 |  | A | Treat thigh fracture | 20.31 | NA | NA | 14.39 | 15.22 | 2.09 | NA | NA | 36.79 | 37.62 | 090
27246 |  | A | Treat thigh fracture | 4.71 | 6.42 | 5.87 | 5.14 | 4.91 | 0.49 | 11.62 | 11.07 | 10.34 | 10.11 | 090
27248 |  | A | Treat thigh fracture | 10.45 | NA | NA | 9.00 | 9.87 | 1.06 | NA | NA | 20.51 | 21.38 | 090
27250 |  | A | Treat hip dislocation | 6.95 | NA | NA | 4.85 | 4.50 | 0.68 | NA | NA | 12.48 | 12.13 | 090
27252 |  | A | Treat hip dislocation | 10.39 | NA | NA | 7.49 | 6.80 | 1.08 | NA | NA | 18.96 | 18.27 | 090
27253 |  | A | Treat hip dislocation | 12.92 | NA | NA | 9.98 | 11.05 | 1.33 | NA | NA | 24.23 | 25.30 | 090
27254 |  | A | Treat hip dislocation | 18.26 | NA | NA | 12.39 | 12.95 | 1.83 | NA | NA | 32.48 | 33.04 | 090
27256 |  | A | Treat hip dislocation | 4.12 | NA | NA | 3.69 | 3.28 | 0.39 | NA | NA | 8.20 | 7.79 | 010
27257 |  | A | Treat hip dislocation | 5.22 | NA | NA | 4.02 | 4.27 | 0.53 | NA | NA | 9.77 | 10.02 | 010
27258 |  | A | Treat hip dislocation | 15.43 | NA | NA | 12.63 | 13.20 | 1.58 | NA | NA | 29.64 | 30.21 | 090
27259 |  | A | Treat hip dislocation | 21.55 | NA | NA | 16.20 | 16.82 | 2.14 | NA | NA | 39.89 | 40.51 | 090
27265 |  | A | Treat hip dislocation | 5.05 | NA | NA | 5.09 | 4.76 | 0.53 | NA | NA | 10.67 | 10.34 | 090
27266 |  | A | Treat hip dislocation | 7.49 | NA | NA | 6.64 | 6.19 | 0.78 | NA | NA | 14.91 | 14.46 | 090
27275 |  | A | Manipulation of hip joint | 2.27 | NA | NA | 3.01 | 2.77 | 0.24 | NA | NA | 5.52 | 5.28 | 010
27280 |  | A | Fusion of sacroiliac joint | 13.39 | NA | NA | 12.61 | 12.19 | 1.38 | NA | NA | 27.38 | 26.96 | 090
27282 |  | A | Fusion of pubic bones | 11.34 | NA | NA | 11.09 | 10.76 | 0.84 | NA | NA | 23.27 | 22.94 | 090
27284 |  | A | Fusion of hip joint | 16.76 | NA | NA | 12.97 | 13.66 | 1.65 | NA | NA | 31.38 | 32.07 | 090
27286 |  | A | Fusion of hip joint | 16.79 | NA | NA | 13.55 | 14.29 | 1.76 | NA | NA | 32.10 | 32.84 | 090
27290 |  | A | Amputation of leg at hip | 23.28 | NA | NA | 15.77 | 18.72 | 2.28 | NA | NA | 41.33 | 44.28 | 090
27295 |  | A | Amputation of leg at hip | 18.65 | NA | NA | 13.33 | 14.49 | 1.97 | NA | NA | 33.95 | 35.11 | 090
27299 |  | C | Pelvis/hip joint surgery | 0.00 | 0.00 | 0.00 | 0.00 | 0.00 | 0.00 | 0.00 | 0.00 | 0.00 | 0.00 | YYY
27301 |  | A | Drain thigh/knee lesion | 6.49 | 13.61 | 10.88 | 12.20 | 9.82 | 0.67 | 20.77 | 18.04 | 19.36 | 16.98 | 090
27303 |  | A | Drainage of bone lesion | 8.28 | NA | NA | 12.58 | 11.03 | 0.85 | NA | NA | 21.71 | 20.16 | 090
27305 |  | A | Incise thigh tendon & fascia | 5.92 | NA | NA | 7.98 | 7.02 | 0.63 | NA | NA | 14.53 | 13.57 | 090
27306 |  | A | Incision of thigh tendon | 4.62 | NA | NA | 6.45 | 5.38 | 0.48 | NA | NA | 11.55 | 10.48 | 090
27307 |  | A | Incision of thigh tendons | 5.80 | NA | NA | 7.16 | 6.19 | 0.60 | NA | NA | 13.56 | 12.59 | 090
27310 |  | A | Exploration of knee joint | 9.27 | NA | NA | 8.82 | 9.22 | 0.95 | NA | NA | 19.04 | 19.44 | 090
27315 |  | A | Partial removal, thigh nerve | 6.97 | NA | NA | 4.77 | 5.04 | 0.72 | NA | NA | 12.46 | 12.73 | 090
27320 |  | A | Partial removal, thigh nerve | 6.30 | NA | NA | 4.38 | 4.69 | 0.62 | NA | NA | 11.30 | 11.61 | 090
27323 |  | A | Biopsy, thigh soft tissues | 2.28 | 4.98 | 3.98 | 3.12 | 2.59 | 0.14 | 7.40 | 6.40 | 5.54 | 5.01 | 010
27324 |  | A | Biopsy, thigh soft tissues | 4.90 | NA | NA | 6.24 | 5.39 | 0.53 | NA | NA | 11.67 | 10.82 | 090
27327 |  | A | Removal of thigh lesion | 4.47 | 7.39 | 6.17 | 5.65 | 4.86 | 0.45 | 12.31 | 11.09 | 10.57 | 9.78 | 090
27328 |  | A | Removal of thigh lesion | 5.57 | NA | NA | 6.33 | 5.85 | 0.56 | NA | NA | 12.46 | 11.98 | 090
27329 |  | A | Remove tumor, thigh/knee | 14.14 | NA | NA | 13.21 | 13.08 | 1.40 | NA | NA | 28.75 | 28.62 | 090
27330 |  | A | Biopsy, knee joint lining | 4.97 | NA | NA | 5.57 | 5.66 | 0.51 | NA | NA | 11.05 | 11.14 | 090
27331 |  | A | Explore/treat knee joint | 5.88 | NA | NA | 6.55 | 6.67 | 0.60 | NA | NA | 13.03 | 13.15 | 090
27332 |  | A | Removal of knee cartilage | 8.27 | NA | NA | 7.78 | 8.31 | 0.83 | NA | NA | 16.88 | 17.41 | 090
27333 |  | A | Removal of knee cartilage | 7.30 | NA | NA | 7.31 | 7.66 | 0.74 | NA | NA | 15.35 | 15.70 | 090
27334 |  | A | Remove knee joint lining | 8.70 | NA | NA | 8.56 | 9.02 | 0.90 | NA | NA | 18.16 | 18.62 | 090
27335 |  | A | Remove knee joint lining | 0.10 | NA | NA | 9.34 | 9.99 | 1.02 | NA | NA | 10.46 | 11.11 | 090
27340 |  | A | Removal of kneecap bursa | 4.18 | NA | NA | 5.18 | 4.93 | 0.43 | NA | NA | 9.79 | 9.54 | 090
27345 |  | A | Removal of knee cyst | 5.92 | NA | NA | 6.40 | 6.33 | 0.61 | NA | NA | 12.93 | 12.86 | 090
27347 |  | A | Remove knee cyst | 5.78 | 2.59 | 2.59 | 2.59 | 2.59 | 0.59 | 8.96 | 8.96 | 8.96 | 8.96 | 090
27350 |  | A | Removal of kneecap | 8.17 | NA | NA | 7.89 | 8.36 | 0.84 | NA | NA | 16.90 | 17.37 | 090
27355 |  | A | Remove femur lesion | 7.65 | NA | NA | 8.88 | 8.72 | 0.78 | NA | NA | 17.31 | 17.15 | 090
27356 |  | A | Remove femur lesion/graft | 9.48 | NA | NA | 10.01 | 9.73 | 0.97 | NA | NA | 20.46 | 20.18 | 090
27357 |  | A | Remove femur lesion/graft | 10.53 | NA | NA | 10.44 | 10.22 | 1.08 | NA | NA | 22.05 | 21.83 | 090
27358 |  | A | Remove femur lesion/fixation | 4.74 | NA | NA | 2.53 | 3.13 | 0.49 | NA | NA | 7.76 | 8.36 | ZZZ
27360 |  | A | Partial removal, leg bone(s) | 10.50 | NA | NA | 15.94 | 14.28 | 1.09 | NA | NA | 27.53 | 25.87 | 090
27365 |  | A | Extensive leg surgery | 16.27 | NA | NA | 13.16 | 13.65 | 1.64 | NA | NA | 31.07 | 31.56 | 090
27370 |  | A | Injection for knee x-ray | 0.96 | 10.98 | 8.40 | 0.34 | 0.42 | 0.04 | 11.98 | 9.40 | 1.34 | 1.42 | 000
27372 |  | A | Removal of foreign body | 5.07 | 6.87 | 6.08 | 5.94 | 5.38 | 0.51 | 12.45 | 11.66 | 11.52 | 10.96 | 090
27380 |  | A | Repair of kneecap tendon | 7.16 | NA | NA | 7.48 | 7.75 | 0.74 | NA | NA | 15.38 | 15.65 | 090
27381 |  | A | Repair/graft kneecap tendon | 10.34 | NA | NA | 9.18 | 9.94 | 1.07 | NA | NA | 20.59 | 21.35 | 090
27385 |  | A | Repair of thigh muscle | 7.76 | NA | NA | 7.84 | 8.20 | 0.79 | NA | NA | 16.39 | 16.75 | 090
27386 |  | A | Repair/graft of thigh muscle | 10.56 | NA | NA | 9.80 | 10.50 | 1.08 | NA | NA | 21.44 | 22.14 | 090
27390 |  | A | Incision of thigh tendon | 5.33 | NA | NA | 6.78 | 6.27 | 0.54 | NA | NA | 12.65 | 12.14 | 090
27391 |  | A | Incision of thigh tendons | 7.20 | NA | NA | 7.78 | 7.31 | 0.75 | NA | NA | 15.73 | 15.26 | 090
27392 |  | A | Incision of thigh tendons | 9.20 | NA | NA | 9.65 | 9.32 | 0.93 | NA | NA | 19.78 | 19.45 | 090
27393 |  | A | Lengthening of thigh tendon | 6.39 | NA | NA | 7.29 | 7.01 | 0.64 | NA | NA | 14.32 | 14.04 | 090
27394 |  | A | Lengthening of thigh tendons | 8.50 | NA | NA | 9.27 | 8.51 | 0.87 | NA | NA | 18.64 | 17.88 | 090
27395 |  | A | Lengthening of thigh tendons | 11.73 | NA | NA | 11.95 | 11.81 | 1.21 | NA | NA | 24.89 | 24.75 | 090
27396 |  | A | Transplant of thigh tendon | 7.86 | NA | NA | 9.00 | 8.67 | 0.80 | NA | NA | 17.66 | 17.33 | 090
27397 |  | A | Transplants of thigh tendons | 11.28 | NA | NA | 10.64 | 10.39 | 1.17 | NA | NA | 23.09 | 22.84 | 090
27400 |  | A | Revise thigh muscles/tendons | 9.02 | NA | NA | 9.64 | 9.37 | 0.92 | NA | NA | 19.58 | 19.31 | 090
27403 |  | A | Repair of knee cartilage | 8.33 | NA | NA | 7.99 | 8.38 | 0.86 | NA | NA | 17.18 | 17.57 | 090
27405 |  | A | Repair of knee ligament | 8.65 | NA | NA | 8.60 | 9.03 | 0.89 | NA | NA | 18.14 | 18.57 | 090
27407 |  | A | Repair of knee ligament | 10.28 | NA | NA | 9.36 | 9.43 | 1.02 | NA | NA | 20.66 | 20.73 | 090
27409 |  | A | Repair of knee ligaments | 12.90 | NA | NA | 10.76 | 11.92 | 1.34 | NA | NA | 25.00 | 26.16 | 090
27418 |  | A | Repair degenerated kneecap | 10.85 | NA | NA | 9.78 | 10.58 | 1.12 | NA | NA | 21.75 | 22.55 | 090
27420 |  | A | Revision of unstable kneecap | 9.83 | NA | NA | 8.76 | 9.50 | 0.99 | NA | NA | 19.58 | 20.32 | 090
27422 |  | A | Revision of unstable kneecap | 9.78 | NA | NA | 8.74 | 9.48 | 0.01 | NA | NA | 18.53 | 19.27 | 090
27424 |  | A | Revision/removal of kneecap | 9.81 | NA | NA | 8.68 | 9.44 | 1.02 | NA | NA | 19.51 | 20.27 | 090
27425 |  | A | Lateral retinacular release | 5.22 | NA | NA | 6.30 | 6.28 | 0.53 | NA | NA | 12.05 | 12.03 | 090
27427 |  | A | Reconstruction, knee | 9.36 | NA | NA | 8.41 | 9.10 | 0.94 | NA | NA | 18.71 | 19.40 | 090
27428 |  | A | Reconstruction, knee | 0.14 | NA | NA | 11.45 | 12.30 | 1.40 | NA | NA | 12.99 | 13.84 | 090
27429 |  | A | Reconstruction, knee | 15.52 | NA | NA | 11.72 | 11.85 | 1.56 | NA | NA | 28.80 | 28.93 | 090
27430 |  | A | Revision of thigh muscles | 9.67 | NA | NA | 8.77 | 9.12 | 0.97 | NA | NA | 19.41 | 19.76 | 090
27435 |  | A | Incision of knee joint | 9.49 | NA | NA | 8.58 | 8.34 | 0.98 | NA | NA | 19.05 | 18.81 | 090]
27437 |  | A | Revise kneecap | 8.46 | NA | NA | 8.61 | 8.98 | 0.85 | NA | NA | 17.92 | 18.29 | 090
27438 |  | A | Revise kneecap with implant | 11.23 | NA | NA | 9.88 | 10.76 | 1.15 | NA | NA | 22.26 | 23.14 | 090
27440 |  | A | Revision of knee joint | 10.43 | NA | NA | 9.34 | 10.12 | 0.73 | NA | NA | 20.50 | 21.28 | 090
27441 |  | A | Revision of knee joint | 10.82 | NA | NA | 9.90 | 9.91 | 0.78 | NA | NA | 21.50 | 21.51 | 090
27442 |  | A | Revision of knee joint | 11.89 | NA | NA | 10.48 | 11.41 | 1.22 | NA | NA | 23.59 | 24.52 | 090
27443 |  | A | Revision of knee joint | 10.93 | NA | NA | 10.12 | 10.85 | 1.12 | NA | NA | 22.17 | 22.90 | 090
27445 |  | A | Revision of knee joint | 17.68 | NA | NA | 13.68 | 15.54 | 1.83 | NA | NA | 33.19 | 35.05 | 090
27446 |  | A | Revision of knee joint | 15.84 | NA | NA | 12.81 | 14.34 | 1.60 | NA | NA | 30.25 | 31.78 | 090
27447 |  | A | Total knee replacement | 21.48 | NA | NA | 15.77 | 18.24 | 2.19 | NA | NA | 39.44 | 41.91 | 090
27448 |  | A | Incision of thigh | 11.06 | NA | NA | 10.60 | 11.25 | 1.14 | NA | NA | 22.80 | 23.45 | 090
27450 |  | A | Incision of thigh | 13.98 | NA | NA | 12.36 | 13.30 | 1.43 | NA | NA | 27.77 | 28.71 | 090
27454 |  | A | Realignment of thigh bone | 17.56 | NA | NA | 13.81 | 14.62 | 1.76 | NA | NA | 33.13 | 33.94 | 090
27455 |  | A | Realignment of knee | 12.82 | NA | NA | 11.21 | 11.67 | 1.27 | NA | NA | 25.30 | 25.76 | 090
27457 |  | A | Realignment of knee | 13.45 | NA | NA | 10.66 | 11.60 | 1.37 | NA | NA | 25.48 | 26.42 | 090
27465 |  | A | Shortening of thigh bone | 13.87 | NA | NA | 12.19 | 12.46 | 1.43 | NA | NA | 27.49 | 27.76 | 090
27466 |  | A | Lengthening of thigh bone | 16.33 | NA | NA | 14.41 | 14.45 | 1.67 | NA | NA | 32.41 | 32.45 | 090
27468 |  | A | Shorten/lengthen thighs | 18.97 | NA | NA | 13.33 | 14.57 | 1.94 | NA | NA | 34.24 | 35.48 | 090
27470 |  | A | Repair of thigh | 16.07 | NA | NA | 14.32 | 15.26 | 1.64 | NA | NA | 32.03 | 32.97 | 090
27472 |  | A | Repair/graft of thigh | 17.72 | NA | NA | 15.17 | 16.67 | 1.83 | NA | NA | 34.72 | 36.22 | 090
27475 |  | A | Surgery to stop leg growth | 8.64 | NA | NA | 8.40 | 8.40 | 0.86 | NA | NA | 17.90 | 17.90 | 090
27477 |  | A | Surgery to stop leg growth | 9.85 | NA | NA | 8.85 | 9.58 | 0.96 | NA | NA | 19.66 | 20.39 | 090
27479 |  | A | Surgery to stop leg growth | 12.80 | NA | NA | 10.34 | 10.91 | 1.35 | NA | NA | 24.49 | 25.06 | 090
27485 |  | A | Surgery to stop leg growth | 8.84 | NA | NA | 8.40 | 8.45 | 0.89 | NA | NA | 18.13 | 18.18 | 090
27486 |  | A | Revise/replace knee joint | 19.27 | NA | NA | 14.63 | 16.73 | 1.97 | NA | NA | 35.87 | 37.97 | 090
27487 |  | A | Revise/replace knee joint | 25.27 | NA | NA | 17.88 | 20.94 | 2.57 | NA | NA | 45.72 | 48.78 | 090
27488 |  | A | Removal of knee prosthesis | 15.74 | NA | NA | 12.79 | 13.98 | 1.61 | NA | NA | 30.14 | 31.33 | 090
27495 |  | A | Reinforce thigh | 15.55 | NA | NA | 14.05 | 15.18 | 1.59 | NA | NA | 31.19 | 32.32 | 090
27496 |  | A | Decompression of thigh/knee | 6.11 | NA | NA | 7.27 | 6.68 | 0.66 | NA | NA | 14.04 | 13.45 | 090
27497 |  | A | Decompression of thigh/knee | 7.17 | NA | NA | 8.00 | 7.51 | 0.75 | NA | NA | 15.92 | 15.43 | 090
27498 |  | A | Decompression of thigh/knee | 7.99 | NA | NA | 7.07 | 7.02 | 0.87 | NA | NA | 15.93 | 15.88 | 090
27499 |  | A | Decompression of thigh/knee | 0.09 | NA | NA | 7.31 | 7.46 | 0.93 | NA | NA | 8.33 | 8.48 | 090
27500 |  | A | Treatment of thigh fracture | 5.92 | 8.41 | 7.78 | 6.31 | 6.20 | 0.61 | 14.94 | 14.31 | 12.84 | 12.73 | 090
27501 |  | A | Treatment of thigh fracture | 5.92 | 9.23 | 8.39 | 7.38 | 7.00 | 0.62 | 15.77 | 14.93 | 13.92 | 13.54 | 090
27502 |  | A | Treatment of thigh fracture | 10.58 | NA | NA | 9.81 | 9.44 | 1.10 | NA | NA | 21.49 | 21.12 | 090
27503 |  | A | Treatment of thigh fracture | 10.58 | NA | NA | 9.94 | 9.54 | 1.10 | NA | NA | 21.62 | 21.22 | 090
27506 |  | A | Treatment of thigh fracture | 17.45 | NA | NA | 13.20 | 14.25 | 1.79 | NA | NA | 32.44 | 33.49 | 090
27507 |  | A | Treatment of thigh fracture | 13.99 | NA | NA | 11.28 | 12.64 | 1.43 | NA | NA | 26.70 | 28.06 | 090
27508 |  | A | Treatment of thigh fracture | 5.83 | 6.53 | 6.04 | 4.93 | 4.84 | 0.60 | 12.96 | 12.47 | 11.36 | 11.27 | 090
27509 |  | A | Treatment of thigh fracture | 7.71 | NA | NA | 8.20 | 7.30 | 0.80 | NA | NA | 16.71 | 15.81 | 090
27510 |  | A | Treatment of thigh fracture | 9.13 | NA | NA | 6.83 | 6.97 | 0.95 | NA | NA | 16.91 | 17.05 | 090
27511 |  | A | Treatment of thigh fracture | 13.64 | NA | NA | 11.89 | 12.99 | 1.40 | NA | NA | 26.93 | 28.03 | 090
27513 |  | A | Treatment of thigh fracture | 17.92 | NA | NA | 14.17 | 14.98 | 1.83 | NA | NA | 33.92 | 34.73 | 090
27514 |  | A | Treatment of thigh fracture | 17.30 | NA | NA | 13.43 | 14.35 | 1.78 | NA | NA | 32.51 | 33.43 | 090
27516 |  | A | Treat thigh fx growth plate | 5.37 | 7.23 | 6.73 | 5.35 | 5.32 | 0.56 | 13.16 | 12.66 | 11.28 | 11.25 | 090
27517 |  | A | Treat thigh fx growth plate | 8.78 | 7.73 | 7.92 | 7.15 | 7.49 | 0.90 | 17.41 | 17.60 | 16.83 | 17.17 | 090
27519 |  | A | Treat thigh fx growth plate | 15.02 | NA | NA | 12.56 | 12.86 | 1.51 | NA | NA | 29.09 | 29.39 | 090
27520 |  | A | Treat kneecap fracture | 2.86 | 4.93 | 4.52 | 3.20 | 3.23 | 0.30 | 8.09 | 7.68 | 6.36 | 6.39 | 090
27524 |  | A | Treat kneecap fracture | 0.10 | NA | NA | 8.07 | 8.86 | 1.03 | NA | NA | 9.20 | 9.99 | 090
27530 |  | A | Treat knee fracture | 3.78 | 5.45 | 5.01 | 3.86 | 3.82 | 0.39 | 9.62 | 9.18 | 8.03 | 7.99 | 090
27532 |  | A | Treat knee fracture | 7.30 | 7.01 | 6.80 | 5.42 | 5.61 | 0.76 | 15.07 | 14.86 | 13.48 | 13.67 | 090
27535 |  | A | Treat knee fracture | 11.50 | NA | NA | 10.81 | 11.28 | 1.18 | NA | NA | 23.49 | 23.96 | 090
27536 |  | A | Treat knee fracture | 15.65 | NA | NA | 11.06 | 11.47 | 1.61 | NA | NA | 28.32 | 28.73 | 090
27538 |  | A | Treat knee fracture(s) | 4.87 | 6.83 | 6.04 | 4.92 | 4.61 | 0.51 | 12.21 | 11.42 | 10.30 | 9.99 | 090
27540 |  | A | Treat knee fracture | 13.10 | NA | NA | 9.57 | 10.15 | 1.33 | NA | NA | 24.00 | 24.58 | 090
27550 |  | A | Treat knee dislocation | 5.76 | 6.61 | 5.66 | 4.89 | 4.37 | 0.57 | 12.94 | 11.99 | 11.22 | 10.70 | 090
27552 |  | A | Treat knee dislocation | 7.90 | NA | NA | 7.09 | 6.25 | 0.82 | NA | NA | 15.81 | 14.97 | 090
27556 |  | A | Treat knee dislocation | 14.41 | NA | NA | 12.83 | 13.01 | 1.51 | NA | NA | 28.75 | 28.93 | 090
27557 |  | A | Treat knee dislocation | 16.77 | NA | NA | 13.73 | 14.26 | 1.72 | NA | NA | 32.22 | 32.75 | 090
27558 |  | A | Treat knee dislocation | 17.72 | NA | NA | 14.37 | 14.74 | 1.80 | NA | NA | 33.89 | 34.26 | 090
27560 |  | A | Treat kneecap dislocation | 3.82 | 5.45 | 4.48 | 3.18 | 2.77 | 0.36 | 9.63 | 8.66 | 7.36 | 6.95 | 090
27562 |  | A | Treat kneecap dislocation | 5.79 | NA | NA | 4.82 | 5.02 | 0.59 | NA | NA | 11.20 | 11.40 | 090
27566 |  | A | Treat kneecap dislocation | 12.23 | NA | NA | 9.06 | 9.67 | 1.26 | NA | NA | 22.55 | 23.16 | 090
27570 |  | A | Fixation of knee joint | 1.74 | NA | NA | 2.73 | 2.52 | 0.18 | NA | NA | 4.65 | 4.44 | 010
27580 |  | A | Fusion of knee | 19.37 | NA | NA | 15.02 | 15.53 | 1.98 | NA | NA | 36.37 | 36.88 | 090
27590 |  | A | Amputate leg at thigh | 12.03 | NA | NA | 11.31 | 10.96 | 1.30 | NA | NA | 24.64 | 24.29 | 090
27591 |  | A | Amputate leg at thigh | 12.68 | NA | NA | 12.89 | 12.86 | 1.34 | NA | NA | 26.91 | 26.88 | 090
27592 |  | A | Amputate leg at thigh | 10.02 | NA | NA | 10.44 | 10.03 | 1.07 | NA | NA | 21.53 | 21.12 | 090
27594 |  | A | Amputation follow-up surgery | 6.92 | NA | NA | 8.06 | 7.04 | 0.75 | NA | NA | 15.73 | 14.71 | 090
27596 |  | A | Amputation follow-up surgery | 10.60 | NA | NA | 11.01 | 10.26 | 1.15 | NA | NA | 22.76 | 22.01 | 090
27598 |  | A | Amputate lower leg at knee | 10.53 | NA | NA | 10.22 | 10.39 | 1.10 | NA | NA | 21.85 | 22.02 | 090
27599 |  | C | Leg surgery procedure | 0.00 | 0.00 | 0.00 | 0.00 | 0.00 | 0.00 | 0.00 | 0.00 | 0.00 | 0.00 | YYY
27600 |  | A | Decompression of lower leg | 5.65 | NA | NA | 7.34 | 6.43 | 0.65 | NA | NA | 13.64 | 12.73 | 090
27601 |  | A | Decompression of lower leg | 5.64 | NA | NA | 7.42 | 6.48 | 0.64 | NA | NA | 13.70 | 12.76 | 090
27602 |  | A | Decompression of lower leg | 7.35 | NA | NA | 7.32 | 6.59 | 0.86 | NA | NA | 15.53 | 14.80 | 090
27603 |  | A | Drain lower leg lesion | 4.94 | 13.35 | 10.66 | 9.08 | 7.46 | 0.50 | 18.79 | 16.10 | 14.52 | 12.90 | 090
27604 |  | A | Drain lower leg bursa | 4.47 | 9.03 | 7.05 | 7.19 | 5.67 | 0.37 | 13.87 | 11.89 | 12.03 | 10.51 | 090
27605 |  | A | Incision of achilles tendon | 2.87 | 7.59 | 6.01 | 3.45 | 2.91 | 0.28 | 10.74 | 9.16 | 6.60 | 6.06 | 010
27606 |  | A | Incision of achilles tendon | 4.14 | 8.89 | 7.24 | 4.46 | 3.92 | 0.42 | 13.45 | 11.80 | 9.02 | 8.48 | 010
27607 |  | A | Treat lower leg bone lesion | 7.97 | NA | NA | 13.03 | 11.40 | 0.80 | NA | NA | 21.80 | 20.17 | 090
27610 |  | A | Explore/treat ankle joint | 8.34 | NA | NA | 9.19 | 8.91 | 0.84 | NA | NA | 18.37 | 18.09 | 090
27612 |  | A | Exploration of ankle joint | 7.33 | NA | NA | 7.23 | 7.59 | 0.68 | NA | NA | 15.24 | 15.60 | 090
27613 |  | A | Biopsy lower leg soft tissue | 2.17 | 5.26 | 4.13 | 2.70 | 2.21 | 0.13 | 7.56 | 6.43 | 5.00 | 4.51 | 010
27614 |  | A | Biopsy lower leg soft tissue | 5.66 | 9.43 | 7.69 | 6.43 | 5.44 | 0.55 | 15.64 | 13.90 | 12.64 | 11.65 | 090
27615 |  | A | Remove tumor, lower leg | 12.56 | NA | NA | 15.09 | 13.55 | 1.26 | NA | NA | 28.91 | 27.37 | 090
27618 |  | A | Remove lower leg lesion | 5.09 | 10.20 | 8.22 | 5.89 | 4.99 | 0.48 | 15.77 | 13.79 | 11.46 | 10.56 | 090
27619 |  | A | Remove lower leg lesion | 8.40 | 10.81 | 9.23 | 8.11 | 7.20 | 0.80 | 20.01 | 18.43 | 17.31 | 16.40 | 090
27620 |  | A | Explore/treat ankle joint | 5.98 | NA | NA | 7.06 | 6.93 | 0.58 | NA | NA | 13.62 | 13.49 | 090
27625 |  | A | Remove ankle joint lining | 8.30 | NA | NA | 8.46 | 8.71 | 0.78 | NA | NA | 17.54 | 17.79 | 090
27626 |  | A | Remove ankle joint lining | 8.91 | NA | NA | 8.91 | 9.34 | 0.88 | NA | NA | 18.70 | 19.13 | 090
27630 |  | A | Removal of tendon lesion | 4.80 | 9.61 | 8.05 | 6.02 | 5.36 | 0.45 | 14.86 | 13.30 | 11.27 | 10.61 | 090
27635 |  | A | Remove lower leg bone lesion | 7.78 | NA | NA | 9.47 | 9.29 | 0.78 | NA | NA | 18.03 | 17.85 | 090
27637 |  | A | Remove/graft leg bone lesion | 9.85 | NA | NA | 10.80 | 10.40 | 1.01 | NA | NA | 21.66 | 21.26 | 090
27638 |  | A | Remove/graft leg bone lesion | 10.57 | NA | NA | 11.24 | 10.91 | 1.06 | NA | NA | 22.87 | 22.54 | 090
27640 |  | A | Partial removal of tibia | 11.37 | NA | NA | 15.60 | 14.36 | 1.14 | NA | NA | 28.11 | 26.87 | 090
27641 |  | A | Partial removal of fibula | 9.24 | NA | NA | 14.09 | 12.50 | 0.92 | NA | NA | 24.25 | 22.66 | 090
27645 |  | A | Extensive lower leg surgery | 14.17 | NA | NA | 15.60 | 14.86 | 1.46 | NA | NA | 31.23 | 30.49 | 090
27646 |  | A | Extensive lower leg surgery | 12.66 | NA | NA | 15.38 | 14.45 | 1.24 | NA | NA | 29.28 | 28.35 | 090
27647 |  | A | Extensive ankle/heel surgery | 12.24 | NA | NA | 10.41 | 10.51 | 1.02 | NA | NA | 23.67 | 23.77 | 090
27648 |  | A | Injection for ankle x-ray | 0.96 | 8.42 | 6.46 | 0.34 | 0.40 | 0.05 | 9.43 | 7.47 | 1.35 | 1.41 | 000
27650 |  | A | Repair achilles tendon | 9.69 | NA | NA | 8.44 | 8.77 | 0.95 | NA | NA | 19.08 | 19.41 | 090
27652 |  | A | Repair/graft achilles tendon | 10.33 | NA | NA | 8.66 | 9.32 | 0.98 | NA | NA | 19.97 | 20.63 | 090
27654 |  | A | Repair of achilles tendon | 10.02 | NA | NA | 8.93 | 9.66 | 0.90 | NA | NA | 19.85 | 20.58 | 090
27656 |  | A | Repair leg fascia defect | 4.57 | 12.05 | 9.90 | 6.14 | 5.47 | 0.44 | 17.06 | 14.91 | 11.15 | 10.48 | 090
27658 |  | A | Repair of leg tendon, each | 4.98 | 8.99 | 7.83 | 7.53 | 6.74 | 0.46 | 14.43 | 13.27 | 12.97 | 12.18 | 090
27659 |  | A | Repair of leg tendon, each | 6.81 | 12.60 | 11.04 | 8.15 | 7.71 | 0.61 | 20.02 | 18.46 | 15.57 | 15.13 | 090
27664 |  | A | Repair of leg tendon, each | 4.59 | 9.19 | 7.82 | 7.94 | 6.88 | 0.45 | 14.23 | 12.86 | 12.98 | 11.92 | 090
27665 |  | A | Repair of leg tendon, each | 5.40 | 12.76 | 10.91 | 7.88 | 7.25 | 0.53 | 18.69 | 16.84 | 13.81 | 13.18 | 090
27675 |  | A | Repair lower leg tendons | 7.18 | NA | NA | 7.18 | 7.12 | 0.69 | NA | NA | 15.05 | 14.99 | 090
27676 |  | A | Repair lower leg tendons | 8.42 | NA | NA | 8.29 | 8.27 | 0.74 | NA | NA | 17.45 | 17.43 | 090
27680 |  | A | Release of lower leg tendon | 5.74 | NA | NA | 6.93 | 6.32 | 0.54 | NA | NA | 13.21 | 12.60 | 090
27681 |  | A | Release of lower leg tendons | 6.82 | NA | NA | 7.58 | 7.31 | 0.68 | NA | NA | 15.08 | 14.81 | 090
27685 |  | A | Revision of lower leg tendon | 6.50 | 7.33 | 6.54 | 7.29 | 6.51 | 0.56 | 14.39 | 13.60 | 14.35 | 13.57 | 090
27686 |  | A | Revise lower leg tendons | 7.46 | 8.98 | 8.52 | 8.58 | 8.22 | 0.74 | 17.18 | 16.72 | 16.78 | 16.42 | 090
27687 |  | A | Revision of calf tendon | 6.24 | NA | NA | 7.22 | 6.89 | 0.56 | NA | NA | 14.02 | 13.69 | 090
27690 |  | A | Revise lower leg tendon | 8.71 | NA | NA | 8.15 | 7.94 | 0.76 | NA | NA | 17.62 | 17.41 | 090
27691 |  | A | Revise lower leg tendon | 9.96 | NA | NA | 9.62 | 9.36 | 0.95 | NA | NA | 20.53 | 20.27 | 090
27692 |  | A | Revise additional leg tendon | 1.87 | NA | NA | 0.90 | 1.23 | 0.19 | NA | NA | 2.96 | 3.29 | ZZZ
27695 |  | A | Repair of ankle ligament | 6.51 | NA | NA | 7.91 | 7.88 | 0.63 | NA | NA | 15.05 | 15.02 | 090
27696 |  | A | Repair of ankle ligaments | 8.27 | NA | NA | 8.64 | 8.40 | 0.76 | NA | NA | 17.67 | 17.43 | 090
27698 |  | A | Repair of ankle ligament | 9.36 | NA | NA | 8.47 | 9.15 | 0.84 | NA | NA | 18.67 | 19.35 | 090
27700 |  | A | Revision of ankle joint | 9.29 | NA | NA | 7.03 | 8.05 | 0.68 | NA | NA | 17.00 | 18.02 | 090
27702 |  | A | Reconstruct ankle joint | 13.67 | NA | NA | 11.57 | 12.76 | 1.41 | NA | NA | 26.65 | 27.84 | 090
27703 |  | A | Reconstruction, ankle joint | 15.87 | NA | NA | 11.62 | 12.47 | 1.32 | NA | NA | 28.81 | 29.66 | 090
27704 |  | A | Removal of ankle implant | 7.62 | NA | NA | 8.28 | 7.80 | 0.67 | NA | NA | 16.57 | 16.09 | 090
27705 |  | A | Incision of tibia | 10.38 | NA | NA | 10.17 | 10.54 | 1.06 | NA | NA | 21.61 | 21.98 | 090
27707 |  | A | Incision of fibula | 4.37 | NA | NA | 7.01 | 6.55 | 0.45 | NA | NA | 11.83 | 11.37 | 090
27709 |  | A | Incision of tibia & fibula | 9.95 | NA | NA | 10.05 | 10.51 | 1.02 | NA | NA | 21.02 | 21.48 | 090
27712 |  | A | Realignment of lower leg | 14.25 | NA | NA | 12.30 | 12.21 | 1.46 | NA | NA | 28.01 | 27.92 | 090
27715 |  | A | Revision of lower leg | 14.39 | NA | NA | 13.32 | 13.41 | 1.47 | NA | NA | 29.18 | 29.27 | 090
27720 |  | A | Repair of tibia | 11.79 | NA | NA | 11.93 | 12.47 | 1.21 | NA | NA | 24.93 | 25.47 | 090
27722 |  | A | Repair/graft of tibia | 11.82 | NA | NA | 11.76 | 11.67 | 1.21 | NA | NA | 24.79 | 24.70 | 090
27724 |  | A | Repair/graft of tibia | 14.99 | NA | NA | 13.71 | 14.49 | 1.54 | NA | NA | 30.24 | 31.02 | 090
27725 |  | A | Repair of lower leg | 15.59 | NA | NA | 13.93 | 13.28 | 1.58 | NA | NA | 31.10 | 30.45 | 090
27727 |  | A | Repair of lower leg | 14.01 | NA | NA | 12.63 | 12.02 | 1.41 | NA | NA | 28.05 | 27.44 | 090
27730 |  | A | Repair of tibia epiphysis | 7.41 | 13.48 | 11.09 | 8.85 | 7.61 | 0.74 | 21.63 | 19.24 | 17.00 | 15.76 | 090
27732 |  | A | Repair of fibula epiphysis | 5.32 | 12.65 | 10.80 | 7.02 | 6.58 | 0.53 | 18.50 | 16.65 | 12.87 | 12.43 | 090
27734 |  | A | Repair lower leg epiphyses | 8.48 | NA | NA | 8.27 | 8.25 | 0.76 | NA | NA | 17.51 | 17.49 | 090
27740 |  | A | Repair of leg epiphyses | 9.30 | 20.08 | 17.33 | 8.60 | 8.72 | 0.97 | 30.35 | 27.60 | 18.87 | 18.99 | 090
27742 |  | A | Repair of leg epiphyses | 10.30 | 14.63 | 13.49 | 9.00 | 9.27 | 0.93 | 25.86 | 24.72 | 20.23 | 20.50 | 090
27745 |  | A | Reinforce tibia | 10.07 | NA | NA | 10.23 | 10.11 | 1.02 | NA | NA | 21.32 | 21.20 | 090
27750 |  | A | Treatment of tibia fracture | 3.19 | 5.08 | 4.75 | 3.49 | 3.55 | 0.32 | 8.59 | 8.26 | 7.00 | 7.06 | 090
27752 |  | A | Treatment of tibia fracture | 5.84 | 7.42 | 6.95 | 5.66 | 5.63 | 0.61 | 13.87 | 13.40 | 12.11 | 12.08 | 090
27756 |  | A | Treatment of tibia fracture | 6.78 | NA | NA | 9.22 | 8.94 | 0.70 | NA | NA | 16.70 | 16.42 | 090
27758 |  | A | Treatment of tibia fracture | 11.67 | NA | NA | 10.82 | 11.60 | 1.19 | NA | NA | 23.68 | 24.46 | 090
27759 |  | A | Treatment of tibia fracture | 13.76 | NA | NA | 11.97 | 12.71 | 1.41 | NA | NA | 27.14 | 27.88 | 090
27760 |  | A | Treatment of ankle fracture | 3.01 | 4.87 | 4.35 | 3.19 | 3.09 | 0.31 | 8.19 | 7.67 | 6.51 | 6.41 | 090
27762 |  | A | Treatment of ankle fracture | 5.25 | 6.98 | 6.15 | 5.19 | 4.81 | 0.53 | 12.76 | 11.93 | 10.97 | 10.59 | 090
27766 |  | A | Treatment of ankle fracture | 8.36 | NA | NA | 7.54 | 7.79 | 0.86 | NA | NA | 16.76 | 17.01 | 090
27780 |  | A | Treatment of fibula fracture | 2.65 | 4.78 | 4.12 | 3.01 | 2.79 | 0.26 | 7.69 | 7.03 | 5.92 | 5.70 | 090
27781 |  | A | Treatment of fibula fracture | 4.40 | 5.98 | 5.38 | 4.28 | 4.10 | 0.45 | 10.83 | 10.23 | 9.13 | 8.95 | 090
27784 |  | A | Treatment of fibula fracture | 7.11 | NA | NA | 7.50 | 7.14 | 0.73 | NA | NA | 15.34 | 14.98 | 090
27786 |  | A | Treatment of ankle fracture | 2.84 | 4.83 | 4.31 | 3.12 | 3.02 | 0.29 | 7.96 | 7.44 | 6.25 | 6.15 | 090
27788 |  | A | Treatment of ankle fracture | 4.45 | 5.99 | 5.38 | 4.20 | 4.04 | 0.46 | 10.90 | 10.29 | 9.11 | 8.95 | 090
27792 |  | A | Treatment of ankle fracture | 7.66 | NA | NA | 7.21 | 7.41 | 0.78 | NA | NA | 15.65 | 15.85 | 090
27808 |  | A | Treatment of ankle fracture | 2.83 | 5.74 | 5.06 | 3.79 | 3.60 | 0.29 | 8.86 | 8.18 | 6.91 | 6.72 | 090
27810 |  | A | Treatment of ankle fracture | 5.13 | 6.97 | 6.60 | 5.17 | 5.25 | 0.53 | 12.63 | 12.26 | 10.83 | 10.91 | 090
27814 |  | A | Treatment of ankle fracture | 10.68 | NA | NA | 9.69 | 9.98 | 1.10 | NA | NA | 21.47 | 21.76 | 090
27816 |  | A | Treatment of ankle fracture | 2.89 | 5.27 | 4.90 | 3.77 | 3.77 | 0.29 | 8.45 | 8.08 | 6.95 | 6.95 | 090
27818 |  | A | Treatment of ankle fracture | 5.50 | 7.19 | 7.04 | 5.29 | 5.61 | 0.56 | 13.25 | 13.10 | 11.35 | 11.67 | 090
27822 |  | A | Treatment of ankle fracture | 9.20 | NA | NA | 10.68 | 10.76 | 0.95 | NA | NA | 20.83 | 20.91 | 090
27823 |  | A | Treatment of ankle fracture | 11.80 | NA | NA | 12.04 | 12.50 | 1.21 | NA | NA | 25.05 | 25.51 | 090
27824 |  | A | Treat lower leg fracture | 2.89 | 5.71 | 5.23 | 3.86 | 3.84 | 0.29 | 8.89 | 8.41 | 7.04 | 7.02 | 090
27825 |  | A | Treat lower leg fracture | 6.19 | 7.68 | 7.53 | 5.83 | 6.14 | 0.64 | 14.51 | 14.36 | 12.66 | 12.97 | 090
27826 |  | A | Treat lower leg fracture | 8.54 | NA | NA | 10.34 | 10.30 | 0.88 | NA | NA | 19.76 | 19.72 | 090
27827 |  | A | Treat lower leg fracture | 14.06 | NA | NA | 13.38 | 13.21 | 1.44 | NA | NA | 28.88 | 28.71 | 090
27828 |  | A | Treat lower leg fracture | 16.23 | NA | NA | 14.48 | 14.33 | 1.67 | NA | NA | 32.38 | 32.23 | 090
27829 |  | A | Treat lower leg joint | 5.49 | NA | NA | 7.46 | 7.23 | 0.56 | NA | NA | 13.51 | 13.28 | 090
27830 |  | A | Treat lower leg dislocation | 3.79 | 5.32 | 4.87 | 3.48 | 3.49 | 0.38 | 9.49 | 9.04 | 7.65 | 7.66 | 090
27831 |  | A | Treat lower leg dislocation | 4.56 | NA | NA | 4.35 | 4.34 | 0.46 | NA | NA | 9.37 | 9.36 | 090
27832 |  | A | Treat lower leg dislocation | 6.49 | NA | NA | 7.25 | 6.99 | 0.68 | NA | NA | 14.42 | 14.16 | 090
27840 |  | A | Treat ankle dislocation | 4.58 | NA | NA | 4.37 | 3.79 | 0.45 | NA | NA | 9.40 | 8.82 | 090
27842 |  | A | Treat ankle dislocation | 6.21 | NA | NA | 4.42 | 3.92 | 0.64 | NA | NA | 11.27 | 10.77 | 090
27846 |  | A | Treat ankle dislocation | 9.79 | NA | NA | 9.17 | 9.21 | 0.96 | NA | NA | 19.92 | 19.96 | 090
27848 |  | A | Treat ankle dislocation | 11.20 | NA | NA | 10.48 | 10.13 | 1.15 | NA | NA | 22.83 | 22.48 | 090
27860 |  | A | Fixation of ankle joint | 2.34 | NA | NA | 3.05 | 2.67 | 0.23 | NA | NA | 5.62 | 5.24 | 010
27870 |  | A | Fusion of ankle joint | 13.91 | NA | NA | 12.27 | 12.82 | 1.40 | NA | NA | 27.58 | 28.13 | 090
27871 |  | A | Fusion of tibiofibular joint | 9.17 | NA | NA | 9.43 | 9.19 | 0.92 | NA | NA | 19.52 | 19.28 | 090
27880 |  | A | Amputation of lower leg | 11.85 | NA | NA | 10.61 | 10.23 | 1.27 | NA | NA | 23.73 | 23.35 | 090
27881 |  | A | Amputation of lower leg | 12.34 | NA | NA | 11.70 | 11.71 | 1.31 | NA | NA | 25.35 | 25.36 | 090
27882 |  | A | Amputation of lower leg | 8.94 | NA | NA | 11.10 | 10.32 | 0.98 | NA | NA | 21.02 | 20.24 | 090
27884 |  | A | Amputation follow-up surgery | 8.21 | NA | NA | 9.64 | 8.15 | 0.89 | NA | NA | 18.74 | 17.25 | 090
27886 |  | A | Amputation follow-up surgery | 9.32 | NA | NA | 9.71 | 9.23 | 1.01 | NA | NA | 20.04 | 19.56 | 090
27888 |  | A | Amputation of foot at ankle | 9.67 | NA | NA | 9.73 | 9.87 | 1.01 | NA | NA | 20.41 | 20.55 | 090
27889 |  | A | Amputation of foot at ankle | 9.98 | NA | NA | 8.85 | 8.93 | 1.10 | NA | NA | 19.93 | 20.01 | 090
27892 |  | A | Decompression of leg | 7.39 | NA | NA | 7.49 | 6.54 | 0.80 | NA | NA | 15.68 | 14.73 | 090
27893 |  | A | Decompression of leg | 7.35 | NA | NA | 6.92 | 6.11 | 0.69 | NA | NA | 14.96 | 14.15 | 090
27894 |  | A | Decompression of leg | 10.49 | NA | NA | 8.68 | 7.61 | 1.12 | NA | NA | 20.29 | 19.22 | 090
27899 |  | C | Leg/ankle surgery procedure | 0.00 | 0.00 | 0.00 | 0.00 | 0.00 | 0.00 | 0.00 | 0.00 | 0.00 | 0.00 | YYY
28001 |  | A | Drainage of bursa of foot | 2.73 | 4.44 | 3.47 | 2.80 | 2.24 | 0.18 | 7.35 | 6.38 | 5.71 | 5.15 | 010
28002 |  | A | Treatment of foot infection | 4.62 | 5.68 | 4.87 | 3.86 | 3.51 | 0.37 | 10.67 | 9.86 | 8.85 | 8.50 | 010
28003 |  | A | Treatment of foot infection | 8.41 | 8.93 | 7.65 | 8.93 | 7.65 | 0.66 | 18.00 | 16.72 | 18.00 | 16.72 | 090
28005 |  | A | Treat foot bone lesion | 8.68 | NA | NA | 9.06 | 7.90 | 0.74 | NA | NA | 18.48 | 17.32 | 090
28008 |  | A | Incision of foot fascia | 4.45 | 6.25 | 5.42 | 5.32 | 4.72 | 0.31 | 11.01 | 10.18 | 10.08 | 9.48 | 090
28010 |  | A | Incision of toe tendon | 2.84 | 5.83 | 5.36 | 4.08 | 4.04 | 0.19 | 8.86 | 8.39 | 7.11 | 7.07 | 090
28011 |  | A | Incision of toe tendons | 4.14 | 7.19 | 5.87 | 5.81 | 4.84 | 0.33 | 11.66 | 10.34 | 10.28 | 9.31 | 090
28020 |  | A | Exploration of foot joint | 5.01 | 7.63 | 6.92 | 5.57 | 5.37 | 0.41 | 13.05 | 12.34 | 10.99 | 10.79 | 090
28022 |  | A | Exploration of foot joint | 4.67 | 6.36 | 5.51 | 5.09 | 4.56 | 0.35 | 11.38 | 10.53 | 10.11 | 9.58 | 090
28024 |  | A | Exploration of toe joint | 4.38 | 6.15 | 5.26 | 4.94 | 4.35 | 0.32 | 10.85 | 9.96 | 9.64 | 9.05 | 090
28030 |  | A | Removal of foot nerve | 6.15 | NA | NA | 3.22 | 3.48 | 0.42 | NA | NA | 9.79 | 10.05 | 090
28035 |  | A | Decompression of tibia nerve | 5.09 | 6.67 | 6.68 | 4.89 | 5.35 | 0.42 | 12.18 | 12.19 | 10.40 | 10.86 | 090
28043 |  | A | Excision of foot lesion | 3.54 | 5.87 | 4.87 | 4.26 | 3.67 | 0.27 | 9.68 | 8.68 | 8.07 | 7.48 | 090
28045 |  | A | Excision of foot lesion | 4.72 | 6.46 | 5.93 | 4.88 | 4.74 | 0.36 | 11.54 | 11.01 | 9.96 | 9.82 | 090
28046 |  | A | Resection of tumor, foot | 10.18 | 9.50 | 8.58 | 9.50 | 8.58 | 0.82 | 20.50 | 19.58 | 20.50 | 19.58 | 090
28050 |  | A | Biopsy of foot joint lining | 4.25 | 5.67 | 5.30 | 4.71 | 4.58 | 0.33 | 10.25 | 9.88 | 9.29 | 9.16 | 090
28052 |  | A | Biopsy of foot joint lining | 3.94 | 5.86 | 5.43 | 5.04 | 4.82 | 0.32 | 10.12 | 9.69 | 9.30 | 9.08 | 090
28054 |  | A | Biopsy of toe joint lining | 3.45 | 5.92 | 5.05 | 5.53 | 4.76 | 0.29 | 9.66 | 8.79 | 9.27 | 8.50 | 090
28060 |  | A | Partial removal, foot fascia | 5.23 | 6.92 | 6.34 | 5.56 | 5.32 | 0.38 | 12.53 | 11.95 | 11.17 | 10.93 | 090
28062 |  | A | Removal of foot fascia | 6.52 | 8.48 | 8.28 | 5.39 | 5.96 | 0.45 | 15.45 | 15.25 | 12.36 | 12.93 | 090
28070 |  | A | Removal of foot joint lining | 5.10 | 6.01 | 5.72 | 5.15 | 5.08 | 0.37 | 11.48 | 11.19 | 10.62 | 10.55 | 090
28072 |  | A | Removal of foot joint lining | 4.58 | 6.92 | 6.06 | 5.78 | 5.21 | 0.41 | 11.91 | 11.05 | 10.77 | 10.20 | 090
28080 |  | A | Removal of foot lesion | 3.58 | 5.96 | 5.58 | 4.51 | 4.49 | 0.26 | 9.80 | 9.42 | 8.35 | 8.33 | 090
28086 |  | A | Excise foot tendon sheath | 4.78 | 8.96 | 7.57 | 6.38 | 5.63 | 0.47 | 14.21 | 12.82 | 11.63 | 10.88 | 090
28088 |  | A | Excise foot tendon sheath | 3.86 | 6.57 | 5.91 | 5.66 | 5.23 | 0.35 | 10.78 | 10.12 | 9.87 | 9.44 | 090
28090 |  | A | Removal of foot lesion | 4.41 | 6.26 | 5.52 | 4.67 | 4.32 | 0.32 | 10.99 | 10.25 | 9.40 | 9.05 | 090
28092 |  | A | Removal of toe lesions | 3.64 | 6.95 | 5.76 | 5.01 | 4.31 | 0.28 | 10.87 | 9.68 | 8.93 | 8.23 | 090
28100 |  | A | Removal of ankle/heel lesion | 5.66 | 8.94 | 7.95 | 6.41 | 6.05 | 0.49 | 15.09 | 14.10 | 12.56 | 12.20 | 090
28102 |  | A | Remove/graft foot lesion | 7.73 | NA | NA | 7.70 | 7.63 | 0.72 | NA | NA | 16.15 | 16.08 | 090
28103 |  | A | Remove/graft foot lesion | 6.50 | 13.01 | 11.28 | 5.70 | 5.80 | 0.52 | 20.03 | 18.30 | 12.72 | 12.82 | 090
28104 |  | A | Removal of foot lesion | 5.12 | 6.78 | 6.26 | 5.75 | 5.49 | 0.38 | 12.28 | 11.76 | 11.25 | 10.99 | 090
28106 |  | A | Remove/graft foot lesion | 7.16 | NA | NA | 5.96 | 6.21 | 0.53 | NA | NA | 13.65 | 13.90 | 090
28107 |  | A | Remove/graft foot lesion | 5.56 | 6.52 | 6.21 | 6.03 | 5.84 | 0.40 | 12.48 | 12.17 | 11.99 | 11.80 | 090
28108 |  | A | Removal of toe lesions | 4.16 | 5.74 | 5.45 | 4.42 | 4.46 | 0.28 | 10.18 | 9.89 | 8.86 | 8.90 | 090
28110 |  | A | Part removal of metatarsal | 4.08 | 6.83 | 6.07 | 5.66 | 5.19 | 0.31 | 11.22 | 10.46 | 10.05 | 9.58 | 090
28111 |  | A | Part removal of metatarsal | 5.01 | 8.32 | 7.61 | 6.41 | 6.18 | 0.42 | 13.75 | 13.04 | 11.84 | 11.61 | 090
28112 |  | A | Part removal of metatarsal | 4.49 | 7.09 | 6.39 | 6.11 | 5.66 | 0.35 | 11.93 | 11.23 | 10.95 | 10.50 | 090
28113 |  | A | Part removal of metatarsal | 4.79 | 7.03 | 6.48 | 5.93 | 5.65 | 0.36 | 12.18 | 11.63 | 11.08 | 10.80 | 090
28114 |  | A | Removal of metatarsal heads | 9.79 | 9.64 | 9.72 | 9.27 | 9.44 | 0.82 | 20.25 | 20.33 | 19.88 | 20.05 | 090
28116 |  | A | Revision of foot | 7.75 | 7.07 | 6.79 | 5.89 | 5.91 | 0.56 | 15.38 | 15.10 | 14.20 | 14.22 | 090
28118 |  | A | Removal of heel bone | 5.96 | 6.95 | 6.76 | 5.99 | 6.04 | 0.48 | 13.39 | 13.20 | 12.43 | 12.48 | 090
28119 |  | A | Removal of heel spur | 5.39 | 6.61 | 6.43 | 5.11 | 5.31 | 0.37 | 12.37 | 12.19 | 10.87 | 11.07 | 090
28120 |  | A | Part removal of ankle/heel | 5.40 | 10.73 | 9.42 | 8.00 | 7.37 | 0.47 | 16.60 | 15.29 | 13.87 | 13.24 | 090
28122 |  | A | Partial removal of foot bone | 7.29 | 8.78 | 7.80 | 7.92 | 7.16 | 0.56 | 16.63 | 15.65 | 15.77 | 15.01 | 090
28124 |  | A | Partial removal of toe | 4.81 | 7.35 | 6.63 | 6.29 | 5.83 | 0.32 | 12.48 | 11.76 | 11.42 | 10.96 | 090
28126 |  | A | Partial removal of toe | 3.52 | 6.27 | 5.78 | 5.70 | 5.36 | 0.24 | 10.03 | 9.54 | 9.46 | 9.12 | 090
28130 |  | A | Removal of ankle bone | 8.11 | NA | NA | 7.88 | 7.82 | 0.75 | NA | NA | 16.74 | 16.68 | 090
28140 |  | A | Removal of metatarsal | 6.91 | 7.66 | 7.08 | 6.70 | 6.36 | 0.59 | 15.16 | 14.58 | 14.20 | 13.86 | 090
28150 |  | A | Removal of toe | 4.09 | 6.78 | 5.98 | 5.87 | 5.30 | 0.32 | 11.19 | 10.39 | 10.28 | 9.71 | 090
28153 |  | A | Partial removal of toe | 3.66 | 6.30 | 5.81 | 4.54 | 4.49 | 0.24 | 10.20 | 9.71 | 8.44 | 8.39 | 090
28160 |  | A | Partial removal of toe | 3.74 | 6.47 | 5.97 | 5.95 | 5.58 | 0.27 | 10.48 | 9.98 | 9.96 | 9.59 | 090
28171 |  | A | Extensive foot surgery | 9.60 | NA | NA | 6.92 | 7.36 | 0.62 | NA | NA | 17.14 | 17.58 | 090
28173 |  | A | Extensive foot surgery | 8.80 | 9.04 | 8.34 | 7.65 | 7.30 | 0.71 | 18.55 | 17.85 | 17.16 | 16.81 | 090
28175 |  | A | Extensive foot surgery | 6.05 | 7.41 | 7.02 | 5.84 | 5.84 | 0.41 | 13.87 | 13.48 | 12.30 | 12.30 | 090
28190 |  | A | Removal of foot foreign body | 1.96 | 5.06 | 3.94 | 2.52 | 2.03 | 0.13 | 7.15 | 6.03 | 4.61 | 4.12 | 010
28192 |  | A | Removal of foot foreign body | 4.64 | 6.70 | 5.56 | 4.66 | 4.03 | 0.36 | 11.70 | 10.56 | 9.66 | 9.03 | 090
28193 |  | A | Removal of foot foreign body | 5.73 | 6.90 | 5.82 | 5.51 | 4.78 | 0.42 | 13.05 | 11.97 | 11.66 | 10.93 | 090
28200 |  | A | Repair of foot tendon | 4.60 | 6.57 | 6.30 | 5.38 | 5.41 | 0.33 | 11.50 | 11.23 | 10.31 | 10.34 | 090
28202 |  | A | Repair/graft of foot tendon | 6.84 | 7.03 | 6.85 | 5.91 | 6.01 | 0.53 | 14.40 | 14.22 | 13.28 | 13.38 | 090
28208 |  | A | Repair of foot tendon | 4.37 | 6.29 | 5.48 | 4.84 | 4.39 | 0.31 | 10.97 | 10.16 | 9.52 | 9.07 | 090
28210 |  | A | Repair/graft of foot tendon | 6.35 | 8.04 | 7.55 | 5.64 | 5.75 | 0.46 | 14.85 | 14.36 | 12.45 | 12.56 | 090
28220 |  | A | Release of foot tendon | 4.53 | 6.13 | 5.65 | 5.12 | 4.89 | 0.30 | 10.96 | 10.48 | 9.95 | 9.72 | 090
28222 |  | A | Release of foot tendons | 5.62 | 6.54 | 6.64 | 6.05 | 6.28 | 0.36 | 12.52 | 12.62 | 12.03 | 12.26 | 090
28225 |  | A | Release of foot tendon | 3.66 | 5.90 | 5.07 | 4.71 | 4.18 | 0.25 | 9.81 | 8.98 | 8.62 | 8.09 | 090
28226 |  | A | Release of foot tendons | 4.53 | 6.11 | 5.50 | 5.33 | 4.92 | 0.33 | 10.97 | 10.36 | 10.19 | 9.78 | 090
28230 |  | A | Incision of foot tendon(s) | 4.24 | 6.24 | 5.34 | 5.64 | 4.89 | 0.31 | 10.79 | 9.89 | 10.19 | 9.44 | 090
28232 |  | A | Incision of toe tendon | 3.39 | 6.44 | 5.27 | 5.38 | 4.47 | 0.25 | 10.08 | 8.91 | 9.02 | 8.11 | 090
28234 |  | A | Incision of foot tendon | 3.37 | 6.52 | 5.31 | 4.80 | 4.02 | 0.24 | 10.13 | 8.92 | 8.41 | 7.63 | 090
28238 |  | A | Revision of foot tendon | 7.73 | 7.38 | 7.50 | 6.40 | 6.76 | 0.56 | 15.67 | 15.79 | 14.69 | 15.05 | 090
28240 |  | A | Release of big toe | 4.36 | 6.09 | 5.15 | 5.29 | 4.55 | 0.32 | 10.77 | 9.83 | 9.97 | 9.23 | 090
28250 |  | A | Revision of foot fascia | 5.92 | 7.01 | 6.47 | 6.17 | 5.84 | 0.42 | 13.35 | 12.81 | 12.51 | 12.18 | 090
28260 |  | A | Release of midfoot joint | 7.96 | 7.47 | 6.81 | 6.37 | 5.98 | 0.57 | 16.00 | 15.34 | 14.90 | 14.51 | 090
28261 |  | A | Revision of foot tendon | 11.73 | 9.37 | 8.63 | 8.39 | 7.90 | 0.84 | 21.94 | 21.20 | 20.96 | 20.47 | 090
28262 |  | A | Revision of foot and ankle | 15.83 | 15.10 | 14.56 | 13.41 | 13.29 | 1.48 | 32.41 | 31.87 | 30.72 | 30.60 | 090
28264 |  | A | Release of midfoot joint | 10.35 | 8.87 | 9.25 | 8.87 | 9.25 | 0.86 | 20.08 | 20.46 | 20.08 | 20.46 | 090
28270 |  | A | Release of foot contracture | 4.76 | 6.73 | 5.76 | 6.01 | 5.22 | 0.32 | 11.81 | 10.84 | 11.09 | 10.30 | 090
28272 |  | A | Release of toe joint, each | 3.80 | 5.84 | 4.93 | 4.49 | 3.92 | 0.24 | 9.88 | 8.97 | 8.53 | 7.96 | 090
28280 |  | A | Fusion of toes | 5.19 | 6.73 | 5.65 | 5.93 | 5.05 | 0.45 | 12.37 | 11.29 | 11.57 | 10.69 | 090
28285 |  | A | Repair of hammertoe | 4.59 | 6.72 | 6.23 | 5.48 | 5.30 | 0.32 | 11.63 | 11.14 | 10.39 | 10.21 | 090
28286 |  | A | Repair of hammertoe | 4.56 | 6.64 | 5.95 | 5.30 | 4.95 | 0.32 | 11.52 | 10.83 | 10.18 | 9.83 | 090
28288 |  | A | Partial removal of foot bone | 4.74 | 6.58 | 5.95 | 6.58 | 5.95 | 0.38 | 11.70 | 11.07 | 11.70 | 11.07 | 090
28289 |  | A | Repair hallux rigidus | 7.04 | 8.05 | 8.05 | 7.23 | 7.23 | 0.55 | 15.64 | 15.64 | 14.82 | 14.82 | 090
28290 |  | A | Correction of bunion | 5.66 | 7.57 | 7.13 | 7.47 | 7.06 | 0.46 | 13.69 | 13.25 | 13.59 | 13.18 | 090
28292 |  | A | Correction of bunion | 7.04 | 7.75 | 7.73 | 6.41 | 6.72 | 0.50 | 15.29 | 15.27 | 13.95 | 14.26 | 090
28293 |  | A | Correction of bunion | 9.15 | 8.84 | 9.22 | 6.78 | 7.68 | 0.61 | 18.60 | 18.98 | 16.54 | 17.44 | 090
28294 |  | A | Correction of bunion | 8.56 | 8.28 | 8.70 | 6.60 | 7.44 | 0.55 | 17.39 | 17.81 | 15.71 | 16.55 | 090
28296 |  | A | Correction of bunion | 9.18 | 8.83 | 9.01 | 7.42 | 7.96 | 0.66 | 18.67 | 18.85 | 17.26 | 17.80 | 090
28297 |  | A | Correction of bunion | 9.18 | 8.75 | 9.01 | 8.75 | 9.01 | 0.74 | 18.67 | 18.93 | 18.67 | 18.93 | 090
28298 |  | A | Correction of bunion | 7.94 | 8.15 | 8.48 | 7.09 | 7.69 | 0.54 | 16.63 | 16.96 | 15.57 | 16.17 | 090
28299 |  | A | Correction of bunion | 8.88 | 8.35 | 8.91 | 7.05 | 7.94 | 0.61 | 17.84 | 18.40 | 16.54 | 17.43 | 090
28300 |  | A | Incision of heel bone | 9.54 | 9.20 | 8.67 | 8.19 | 7.91 | 0.87 | 19.61 | 19.08 | 18.60 | 18.32 | 090
28302 |  | A | Incision of ankle bone | 9.55 | 12.77 | 11.99 | 8.55 | 8.83 | 0.78 | 23.10 | 22.32 | 18.88 | 19.16 | 090
28304 |  | A | Incision of midfoot bones | 9.16 | 8.77 | 8.33 | 7.06 | 7.04 | 0.68 | 18.61 | 18.17 | 16.90 | 16.88 | 090
28305 |  | A | Incise/graft midfoot bones | 10.50 | 13.32 | 12.66 | 9.03 | 9.45 | 0.61 | 24.43 | 23.77 | 20.14 | 20.56 | 090
28306 |  | A | Incision of metatarsal | 5.86 | 6.76 | 6.31 | 5.35 | 5.25 | 0.45 | 13.07 | 12.62 | 11.66 | 11.56 | 090
28307 |  | A | Incision of metatarsal | 6.33 | 7.90 | 7.52 | 7.43 | 7.17 | 0.51 | 14.74 | 14.36 | 14.27 | 14.01 | 090
28308 |  | A | Incision of metatarsal | 5.29 | 6.16 | 6.17 | 4.45 | 4.89 | 0.35 | 11.80 | 11.81 | 10.09 | 10.53 | 090
28309 |  | A | Incision of metatarsals | 12.78 | NA | NA | 9.49 | 8.98 | 0.99 | NA | NA | 23.26 | 22.75 | 090
28310 |  | A | Revision of big toe | 5.43 | 7.09 | 6.45 | 5.65 | 5.37 | 0.37 | 12.89 | 12.25 | 11.45 | 11.17 | 090
28312 |  | A | Revision of toe | 4.55 | 6.86 | 6.38 | 6.10 | 5.81 | 0.33 | 11.74 | 11.26 | 10.98 | 10.69 | 090
28313 |  | A | Repair deformity of toe | 5.01 | 7.38 | 6.23 | 7.38 | 6.23 | 0.45 | 12.84 | 11.69 | 12.84 | 11.69 | 090
28315 |  | A | Removal of sesamoid bone | 4.86 | 6.23 | 5.82 | 4.73 | 4.70 | 0.33 | 11.42 | 11.01 | 9.92 | 9.89 | 090
28320 |  | A | Repair of foot bones | 9.18 | NA | NA | 8.07 | 8.41 | 0.82 | NA | NA | 18.07 | 18.41 | 090
28322 |  | A | Repair of metatarsals | 8.34 | 7.30 | 6.74 | 7.24 | 6.70 | 0.74 | 16.38 | 15.82 | 16.32 | 15.78 | 090
28340 |  | A | Resect enlarged toe tissue | 6.98 | 7.81 | 7.58 | 5.73 | 6.02 | 0.52 | 15.31 | 15.08 | 13.23 | 13.52 | 090
28341 |  | A | Resect enlarged toe | 8.41 | 8.27 | 8.28 | 6.18 | 6.71 | 0.55 | 17.23 | 17.24 | 15.14 | 15.67 | 090
28344 |  | A | Repair extra toe(s) | 4.26 | 5.68 | 5.27 | 5.15 | 4.87 | 0.38 | 10.32 | 9.91 | 9.79 | 9.51 | 090
28345 |  | A | Repair webbed toe(s) | 5.92 | 6.98 | 6.69 | 6.46 | 6.30 | 0.48 | 13.38 | 13.09 | 12.86 | 12.70 | 090
28360 |  | A | Reconstruct cleft foot | 13.34 | NA | NA | 12.26 | 12.43 | 1.39 | NA | NA | 26.99 | 27.16 | 090
28400 |  | A | Treatment of heel fracture | 2.16 | 5.13 | 4.55 | 3.91 | 3.63 | 0.21 | 7.50 | 6.92 | 6.28 | 6.00 | 090
28405 |  | A | Treatment of heel fracture | 4.57 | 5.88 | 5.47 | 5.33 | 5.06 | 0.44 | 10.89 | 10.48 | 10.34 | 10.07 | 090
28406 |  | A | Treatment of heel fracture | 6.31 | NA | NA | 7.65 | 7.39 | 0.65 | NA | NA | 14.61 | 14.35 | 090
28415 |  | A | Treat heel fracture | 15.97 | NA | NA | 13.83 | 12.82 | 1.58 | NA | NA | 31.38 | 30.37 | 090
28420 |  | A | Treat/graft heel fracture | 16.64 | NA | NA | 14.33 | 13.70 | 1.67 | NA | NA | 32.64 | 32.01 | 090
28430 |  | A | Treatment of ankle fracture | 2.09 | 4.67 | 4.17 | 3.30 | 3.14 | 0.20 | 6.96 | 6.46 | 5.59 | 5.43 | 090
28435 |  | A | Treatment of ankle fracture | 3.40 | 5.18 | 4.80 | 4.24 | 4.09 | 0.31 | 8.89 | 8.51 | 7.95 | 7.80 | 090
28436 |  | A | Treatment of ankle fracture | 4.71 | NA | NA | 6.25 | 5.83 | 0.50 | NA | NA | 11.46 | 11.04 | 090
28445 |  | A | Treat ankle fracture | 9.33 | NA | NA | 9.36 | 9.41 | 0.90 | NA | NA | 19.59 | 19.64 | 090
28450 |  | A | Treat midfoot fracture, each | 1.90 | 4.55 | 3.92 | 3.18 | 2.89 | 0.18 | 6.63 | 6.00 | 5.26 | 4.97 | 090
28455 |  | A | Treat midfoot fracture, each | 3.09 | 4.22 | 3.86 | 4.11 | 3.77 | 0.25 | 7.56 | 7.20 | 7.45 | 7.11 | 090
28456 |  | A | Treat midfoot fracture | 2.68 | NA | NA | 4.98 | 4.35 | 0.26 | NA | NA | 7.92 | 7.29 | 090
28465 |  | A | Treat midfoot fracture, each | 7.01 | NA | NA | 7.40 | 7.05 | 0.65 | NA | NA | 15.06 | 14.71 | 090
28470 |  | A | Treat metatarsal fracture | 1.99 | 4.00 | 3.49 | 2.69 | 2.51 | 0.19 | 6.18 | 5.67 | 4.87 | 4.69 | 090
28475 |  | A | Treat metatarsal fracture | 2.97 | 4.48 | 4.00 | 3.93 | 3.58 | 0.26 | 7.71 | 7.23 | 7.16 | 6.81 | 090
28476 |  | A | Treat metatarsal fracture | 3.38 | NA | NA | 5.64 | 5.15 | 0.32 | NA | NA | 9.34 | 8.85 | 090
28485 |  | A | Treat metatarsal fracture | 5.71 | NA | NA | 6.80 | 6.37 | 0.48 | NA | NA | 12.99 | 12.56 | 090
28490 |  | A | Treat big toe fracture | 1.09 | 2.18 | 1.88 | 1.53 | 1.39 | 0.10 | 3.37 | 3.07 | 2.72 | 2.58 | 090
28495 |  | A | Treat big toe fracture | 1.58 | 2.24 | 1.99 | 1.74 | 1.61 | 0.12 | 3.94 | 3.69 | 3.44 | 3.31 | 090
28496 |  | A | Treat big toe fracture | 2.33 | 7.03 | 5.84 | 4.40 | 3.86 | 0.23 | 9.59 | 8.40 | 6.96 | 6.42 | 090
28505 |  | A | Treat big toe fracture | 3.81 | 9.21 | 7.72 | 5.77 | 5.14 | 0.34 | 13.36 | 11.87 | 9.92 | 9.29 | 090
28510 |  | A | Treatment of toe fracture | 1.09 | 1.93 | 1.69 | 1.46 | 1.34 | 0.09 | 3.11 | 2.87 | 2.64 | 2.52 | 090
28515 |  | A | Treatment of toe fracture | 1.46 | 2.13 | 1.90 | 1.66 | 1.55 | 0.11 | 3.70 | 3.47 | 3.23 | 3.12 | 090
28525 |  | A | Treat toe fracture | 3.32 | 8.37 | 6.84 | 5.44 | 4.64 | 0.30 | 11.99 | 10.46 | 9.06 | 8.26 | 090
28530 |  | A | Treat sesamoid bone fracture | 1.06 | 2.75 | 2.34 | 2.31 | 2.01 | 0.08 | 3.89 | 3.48 | 3.45 | 3.15 | 090
28531 |  | A | Treat sesamoid bone fracture | 2.35 | 8.01 | 6.53 | 3.15 | 2.88 | 0.17 | 10.53 | 9.05 | 5.67 | 5.40 | 090
28540 |  | A | Treat foot dislocation | 2.04 | 3.30 | 2.64 | 3.27 | 2.62 | 0.15 | 5.49 | 4.83 | 5.46 | 4.81 | 090
28545 |  | A | Treat foot dislocation | 2.45 | 3.17 | 2.73 | 3.17 | 2.73 | 0.22 | 5.84 | 5.40 | 5.84 | 5.40 | 090
28546 |  | A | Treat foot dislocation | 3.20 | 4.91 | 4.43 | 4.91 | 4.43 | 0.30 | 8.41 | 7.93 | 8.41 | 7.93 | 090
28555 |  | A | Repair foot dislocation | 6.30 | 6.33 | 6.26 | 6.33 | 6.26 | 0.59 | 13.22 | 13.15 | 13.22 | 13.15 | 090
28570 |  | A | Treat foot dislocation | 1.66 | 3.68 | 3.19 | 3.32 | 2.92 | 0.14 | 5.48 | 4.99 | 5.12 | 4.72 | 090
28575 |  | A | Treat foot dislocation | 3.31 | 3.36 | 3.27 | 3.36 | 3.27 | 0.32 | 6.99 | 6.90 | 6.99 | 6.90 | 090
28576 |  | A | Treat foot dislocation | 4.17 | 5.30 | 4.73 | 5.30 | 4.73 | 0.41 | 9.88 | 9.31 | 9.88 | 9.31 | 090
28585 |  | A | Repair foot dislocation | 7.99 | 8.58 | 7.78 | 7.12 | 6.69 | 0.71 | 17.28 | 16.48 | 15.82 | 15.39 | 090
28600 |  | A | Treat foot dislocation | 1.89 | 4.01 | 3.19 | 3.52 | 2.83 | 0.16 | 6.06 | 5.24 | 5.57 | 4.88 | 090
28605 |  | A | Treat foot dislocation | 2.71 | 4.63 | 4.09 | 3.98 | 3.60 | 0.26 | 7.60 | 7.06 | 6.95 | 6.57 | 090
28606 |  | A | Treat foot dislocation | 4.90 | 14.59 | 11.89 | 6.15 | 5.56 | 0.50 | 19.99 | 17.29 | 11.55 | 10.96 | 090
28615 |  | A | Repair foot dislocation | 7.77 | NA | NA | 8.27 | 7.55 | 0.77 | NA | NA | 16.81 | 16.09 | 090
28630 |  | A | Treat toe dislocation | 1.70 | 1.84 | 1.66 | 1.76 | 1.60 | 0.14 | 3.68 | 3.50 | 3.60 | 3.44 | 010
28635 |  | A | Treat toe dislocation | 1.91 | 2.15 | 2.01 | 2.15 | 2.01 | 0.15 | 4.21 | 4.07 | 4.21 | 4.07 | 010
28636 |  | A | Treat toe dislocation | 2.77 | 5.54 | 4.85 | 2.57 | 2.62 | 0.26 | 8.57 | 7.88 | 5.60 | 5.65 | 010
28645 |  | A | Repair toe dislocation | 4.22 | 5.25 | 4.82 | 3.81 | 3.74 | 0.31 | 9.78 | 9.35 | 8.34 | 8.27 | 090
28660 |  | A | Treat toe dislocation | 1.23 | 2.48 | 2.03 | 1.70 | 1.45 | 0.11 | 3.82 | 3.37 | 3.04 | 2.79 | 010
28665 |  | A | Treat toe dislocation | 1.92 | 2.21 | 1.92 | 2.21 | 1.92 | 0.14 | 4.27 | 3.98 | 4.27 | 3.98 | 010
28666 |  | A | Treat toe dislocation | 2.66 | 8.41 | 6.97 | 2.58 | 2.60 | 0.26 | 11.33 | 9.89 | 5.50 | 5.52 | 010
28675 |  | A | Repair of toe dislocation | 2.92 | 6.74 | 5.87 | 4.12 | 3.91 | 0.28 | 9.94 | 9.07 | 7.32 | 7.11 | 090
28705 |  | A | Fusion of foot bones | 15.21 | NA | NA | 11.91 | 13.03 | 1.40 | NA | NA | 28.52 | 29.64 | 090
28715 |  | A | Fusion of foot bones | 13.10 | NA | NA | 11.12 | 11.69 | 1.28 | NA | NA | 25.50 | 26.07 | 090
28725 |  | A | Fusion of foot bones | 11.61 | NA | NA | 10.22 | 10.23 | 1.06 | NA | NA | 22.89 | 22.90 | 090
28730 |  | A | Fusion of foot bones | 10.76 | NA | NA | 9.42 | 9.51 | 0.01 | NA | NA | 20.19 | 20.28 | 090
28735 |  | A | Fusion of foot bones | 10.85 | NA | NA | 9.22 | 9.56 | 0.96 | NA | NA | 21.03 | 21.37 | 090
28737 |  | A | Revision of foot bones | 9.64 | NA | NA | 8.25 | 8.60 | 0.86 | NA | NA | 18.75 | 19.10 | 090
28740 |  | A | Fusion of foot bones | 8.02 | 10.13 | 8.99 | 7.76 | 7.22 | 0.70 | 18.85 | 17.71 | 16.48 | 15.94 | 090
28750 |  | A | Fusion of big toe joint | 7.30 | 10.13 | 9.04 | 8.01 | 7.45 | 0.70 | 18.13 | 17.04 | 16.01 | 15.45 | 090
28755 |  | A | Fusion of big toe joint | 4.74 | 7.26 | 6.45 | 5.46 | 5.10 | 0.38 | 12.38 | 11.57 | 10.58 | 10.22 | 090
28760 |  | A | Fusion of big toe joint | 7.75 | 7.39 | 7.01 | 6.62 | 6.43 | 0.59 | 15.73 | 15.35 | 14.96 | 14.77 | 090
28800 |  | A | Amputation of midfoot | 8.21 | NA | NA | 8.02 | 7.82 | 0.82 | NA | NA | 17.05 | 16.85 | 090
28805 |  | A | Amputation thru metatarsal | 8.39 | NA | NA | 7.92 | 7.66 | 0.89 | NA | NA | 17.20 | 16.94 | 090
28810 |  | A | Amputation toe & metatarsal | 6.21 | NA | NA | 6.82 | 6.18 | 0.65 | NA | NA | 13.68 | 13.04 | 090
28820 |  | A | Amputation of toe | 4.41 | 8.78 | 7.29 | 6.11 | 5.28 | 0.44 | 13.63 | 12.14 | 10.96 | 10.13 | 090
28825 |  | A | Partial amputation of toe | 3.59 | 8.11 | 6.73 | 5.74 | 4.96 | 0.35 | 12.05 | 10.67 | 9.68 | 8.90 | 090
28899 |  | C | Foot/toes surgery procedure | 0.00 | 0.00 | 0.00 | 0.00 | 0.00 | 0.00 | 0.00 | 0.00 | 0.00 | 0.00 | YYY
29000 |  | A | Application of body cast | 2.25 | 2.42 | 2.32 | 1.26 | 1.45 | 0.34 | 5.01 | 4.91 | 3.85 | 4.04 | 000
29010 |  | A | Application of body cast | 2.06 | 2.14 | 2.24 | 1.24 | 1.56 | 0.26 | 4.46 | 4.56 | 3.56 | 3.88 | 000
29015 |  | A | Application of body cast | 2.41 | 2.85 | 2.77 | 1.18 | 1.52 | 0.14 | 5.40 | 5.32 | 3.73 | 4.07 | 000
29020 |  | A | Application of body cast | 2.11 | 2.55 | 2.41 | 1.03 | 1.27 | 0.12 | 4.78 | 4.64 | 3.26 | 3.50 | 000
29025 |  | A | Application of body cast | 2.40 | 2.44 | 2.03 | 1.34 | 1.21 | 0.27 | 5.11 | 4.70 | 4.01 | 3.88 | 000
29035 |  | A | Application of body cast | 1.77 | 2.33 | 2.28 | 0.95 | 1.24 | 0.19 | 4.29 | 4.24 | 2.91 | 3.20 | 000
29040 |  | A | Application of body cast | 2.22 | 1.83 | 1.92 | 0.90 | 1.22 | 0.18 | 4.23 | 4.32 | 3.30 | 3.62 | 000
29044 |  | A | Application of body cast | 2.12 | 2.53 | 2.47 | 1.30 | 1.54 | 0.23 | 4.88 | 4.82 | 3.65 | 3.89 | 000
29046 |  | A | Application of body cast | 2.41 | 2.02 | 2.12 | 1.45 | 1.69 | 0.25 | 4.68 | 4.78 | 4.11 | 4.35 | 000
29049 |  | A | Application of figure eight | 0.89 | 1.46 | 1.21 | 0.36 | 0.39 | 0.09 | 2.44 | 2.19 | 1.34 | 1.37 | 000
29055 |  | A | Application of shoulder cast | 1.78 | 2.07 | 1.88 | 1.03 | 1.10 | 0.18 | 4.03 | 3.84 | 2.99 | 3.06 | 000
29058 |  | A | Application of shoulder cast | 1.31 | 1.69 | 1.45 | 0.66 | 0.67 | 0.12 | 3.12 | 2.88 | 2.09 | 2.10 | 000
29065 |  | A | Application of long arm cast | 0.87 | 1.20 | 1.12 | 0.52 | 0.61 | 0.09 | 2.16 | 2.08 | 1.48 | 1.57 | 000
29075 |  | A | Application of forearm cast | 0.77 | 1.15 | 1.03 | 0.45 | 0.50 | 0.08 | 2.00 | 1.88 | 1.30 | 1.35 | 000
29085 |  | A | Apply hand/wrist cast | 0.87 | 1.18 | 1.02 | 0.46 | 0.48 | 0.09 | 2.14 | 1.98 | 1.42 | 1.44 | 000
29105 |  | A | Apply long arm splint | 0.87 | 1.19 | 1.03 | 0.37 | 0.41 | 0.09 | 2.15 | 1.99 | 1.33 | 1.37 | 000
29125 |  | A | Apply forearm splint | 0.59 | 1.03 | 0.87 | 0.25 | 0.29 | 0.06 | 1.68 | 1.52 | 0.90 | 0.94 | 000
29126 |  | A | Apply forearm splint | 0.77 | 1.46 | 1.20 | 0.38 | 0.39 | 0.07 | 2.30 | 2.04 | 1.22 | 1.23 | 000
29130 |  | A | Application of finger splint | 0.50 | 0.79 | 0.64 | 0.22 | 0.21 | 0.05 | 1.34 | 1.19 | 0.77 | 0.76 | 000
29131 |  | A | Application of finger splint | 0.55 | 1.30 | 1.08 | 0.33 | 0.35 | 0.05 | 1.90 | 1.68 | 0.93 | 0.95 | 000
29200 |  | A | Strapping of chest | 0.65 | 0.99 | 0.82 | 0.25 | 0.26 | 0.06 | 1.70 | 1.53 | 0.96 | 0.97 | 000
29220 |  | A | Strapping of low back | 0.64 | 0.90 | 0.78 | 0.33 | 0.35 | 0.05 | 1.59 | 1.47 | 1.02 | 1.04 | 000
29240 |  | A | Strapping of shoulder | 0.71 | 1.09 | 0.89 | 0.27 | 0.28 | 0.07 | 1.87 | 1.67 | 1.05 | 1.06 | 000
29260 |  | A | Strapping of elbow or wrist | 0.55 | 0.90 | 0.74 | 0.23 | 0.24 | 0.05 | 1.50 | 1.34 | 0.83 | 0.84 | 000
29280 |  | A | Strapping of hand or finger | 0.51 | 0.98 | 0.79 | 0.22 | 0.22 | 0.05 | 1.54 | 1.35 | 0.78 | 0.78 | 000
29305 |  | A | Application of hip cast | 2.03 | 2.25 | 2.20 | 1.23 | 1.43 | 0.21 | 4.49 | 4.44 | 3.47 | 3.67 | 000
29325 |  | A | Application of hip casts | 2.32 | 2.10 | 2.10 | 1.35 | 1.54 | 0.24 | 4.66 | 4.66 | 3.91 | 4.10 | 000
29345 |  | A | Application of long leg cast | 1.40 | 1.57 | 1.46 | 0.80 | 0.88 | 0.14 | 3.11 | 3.00 | 2.34 | 2.42 | 000
29355 |  | A | Application of long leg cast | 1.53 | 1.58 | 1.48 | 0.85 | 0.94 | 0.15 | 3.26 | 3.16 | 2.53 | 2.62 | 000
29358 |  | A | Apply long leg cast brace | 1.43 | 1.71 | 1.71 | 0.90 | 1.10 | 0.14 | 3.28 | 3.28 | 2.47 | 2.67 | 000
29365 |  | A | Application of long leg cast | 1.18 | 1.42 | 1.30 | 0.69 | 0.75 | 0.12 | 2.72 | 2.60 | 1.99 | 2.05 | 000
29405 |  | A | Apply short leg cast | 0.86 | 1.12 | 1.06 | 0.49 | 0.58 | 0.09 | 2.07 | 2.01 | 1.44 | 1.53 | 000
29425 |  | A | Apply short leg cast | 1.01 | 1.10 | 1.09 | 0.55 | 0.68 | 0.10 | 2.21 | 2.20 | 1.66 | 1.79 | 000
29435 |  | A | Apply short leg cast | 1.18 | 1.63 | 1.54 | 0.75 | 0.88 | 0.11 | 2.92 | 2.83 | 2.04 | 2.17 | 000
29440 |  | A | Addition of walker to cast | 0.57 | 0.85 | 0.70 | 0.30 | 0.29 | 0.06 | 1.48 | 1.33 | 0.93 | 0.92 | 000
29445 |  | A | Apply rigid leg cast | 1.78 | 1.85 | 1.85 | 0.85 | 1.10 | 0.16 | 3.79 | 3.79 | 2.79 | 3.04 | 000
29450 |  | A | Application of leg cast | 1.02 | 1.06 | 0.90 | 0.54 | 0.51 | 0.08 | 2.16 | 2.00 | 1.64 | 1.61 | 000
29505 |  | A | Application, long leg splint | 0.69 | 1.34 | 1.16 | 0.35 | 0.42 | 0.07 | 2.10 | 1.92 | 1.11 | 1.18 | 000
29515 |  | A | Application lower leg splint | 0.73 | 1.01 | 0.89 | 0.35 | 0.39 | 0.06 | 1.80 | 1.68 | 1.14 | 1.18 | 000
29520 |  | A | Strapping of hip | 0.54 | 1.06 | 0.89 | 0.36 | 0.37 | 0.03 | 1.63 | 1.46 | 0.93 | 0.94 | 000
29530 |  | A | Strapping of knee | 0.57 | 0.97 | 0.82 | 0.24 | 0.28 | 0.05 | 1.59 | 1.44 | 0.86 | 0.90 | 000
29540 |  | A | Strapping of ankle | 0.51 | 0.46 | 0.43 | 0.23 | 0.26 | 0.03 | 1.00 | 0.97 | 0.77 | 0.80 | 000
29550 |  | A | Strapping of toes | 0.47 | 0.44 | 0.41 | 0.22 | 0.24 | 0.03 | 0.94 | 0.91 | 0.72 | 0.74 | 000
29580 |  | A | Application of paste boot | 0.57 | 0.76 | 0.79 | 0.29 | 0.43 | 0.05 | 1.38 | 1.41 | 0.91 | 1.05 | 000
29590 |  | A | Application of foot splint | 0.76 | 0.67 | 0.58 | 0.37 | 0.35 | 0.05 | 1.48 | 1.39 | 1.18 | 1.16 | 000
29700 |  | A | Removal/revision of cast | 0.57 | 0.72 | 0.63 | 0.29 | 0.31 | 0.06 | 1.35 | 1.26 | 0.92 | 0.94 | 000
29705 |  | A | Removal/revision of cast | 0.76 | 0.89 | 0.76 | 0.39 | 0.39 | 0.08 | 1.73 | 1.60 | 1.23 | 1.23 | 000
29710 |  | A | Removal/revision of cast | 1.34 | 1.50 | 1.25 | 0.76 | 0.69 | 0.12 | 2.96 | 2.71 | 2.22 | 2.15 | 000
29715 |  | A | Removal/revision of cast | 0.94 | 1.16 | 1.10 | 0.40 | 0.53 | 0.10 | 2.20 | 2.14 | 1.44 | 1.57 | 000
29720 |  | A | Repair of body cast | 0.68 | 1.34 | 1.07 | 0.47 | 0.42 | 0.07 | 2.09 | 1.82 | 1.22 | 1.17 | 000
29730 |  | A | Windowing of cast | 0.75 | 0.86 | 0.72 | 0.37 | 0.35 | 0.08 | 1.69 | 1.55 | 1.20 | 1.18 | 000
29740 |  | A | Wedging of cast | 1.12 | 1.26 | 1.05 | 0.51 | 0.49 | 0.11 | 2.49 | 2.28 | 1.74 | 1.72 | 000
29750 |  | A | Wedging of clubfoot cast | 1.26 | 1.19 | 1.03 | 0.69 | 0.65 | 0.11 | 2.56 | 2.40 | 2.06 | 2.02 | 000
29799 |  | C | Casting/strapping procedure | 0.00 | 0.00 | 0.00 | 0.00 | 0.00 | 0.00 | 0.00 | 0.00 | 0.00 | 0.00 | YYY
29800 |  | A | Jaw arthroscopy/surgery | 6.43 | NA | NA | 7.69 | 6.86 | 0.59 | NA | NA | 14.71 | 13.88 | 090
29804 |  | A | Jaw arthroscopy/surgery | 8.14 | NA | NA | 8.18 | 8.56 | 0.62 | NA | NA | 16.94 | 17.32 | 090
29815 |  | A | Shoulder arthroscopy | 5.89 | NA | NA | 6.70 | 6.34 | 0.58 | NA | NA | 13.17 | 12.81 | 090
29819 |  | A | Shoulder arthroscopy/surgery | 7.62 | NA | NA | 8.57 | 8.70 | 0.78 | NA | NA | 16.97 | 17.10 | 090
29820 |  | A | Shoulder arthroscopy/surgery | 7.07 | NA | NA | 8.28 | 8.32 | 0.73 | NA | NA | 16.08 | 16.12 | 090
29821 |  | A | Shoulder arthroscopy/surgery | 7.72 | NA | NA | 8.60 | 8.75 | 0.78 | NA | NA | 17.10 | 17.25 | 090
29822 |  | A | Shoulder arthroscopy/surgery | 7.43 | NA | NA | 8.51 | 8.60 | 0.76 | NA | NA | 16.70 | 16.79 | 090
29823 |  | A | Shoulder arthroscopy/surgery | 8.17 | NA | NA | 8.92 | 9.13 | 0.83 | NA | NA | 17.92 | 18.13 | 090
29825 |  | A | Shoulder arthroscopy/surgery | 7.62 | NA | NA | 8.63 | 8.75 | 0.78 | NA | NA | 17.03 | 17.15 | 090
29826 |  | A | Shoulder arthroscopy/surgery | 8.99 | NA | NA | 9.34 | 9.69 | 0.93 | NA | NA | 19.26 | 19.61 | 090
29830 |  | A | Elbow arthroscopy | 5.76 | NA | NA | 5.44 | 5.52 | 0.62 | NA | NA | 11.82 | 11.90 | 090
29834 |  | A | Elbow arthroscopy/surgery | 6.28 | NA | NA | 6.10 | 6.16 | 0.64 | NA | NA | 13.02 | 13.08 | 090
29835 |  | A | Elbow arthroscopy/surgery | 6.48 | NA | NA | 6.15 | 6.25 | 0.66 | NA | NA | 13.29 | 13.39 | 090
29836 |  | A | Elbow arthroscopy/surgery | 7.55 | NA | NA | 6.84 | 7.04 | 0.77 | NA | NA | 15.16 | 15.36 | 090
29837 |  | A | Elbow arthroscopy/surgery | 6.87 | NA | NA | 6.34 | 6.49 | 0.71 | NA | NA | 13.92 | 14.07 | 090
29838 |  | A | Elbow arthroscopy/surgery | 7.71 | NA | NA | 6.91 | 7.10 | 0.80 | NA | NA | 15.42 | 15.61 | 090
29840 |  | A | Wrist arthroscopy | 5.54 | NA | NA | 7.35 | 6.41 | 0.57 | NA | NA | 13.46 | 12.52 | 090
29843 |  | A | Wrist arthroscopy/surgery | 6.01 | NA | NA | 7.45 | 7.11 | 0.66 | NA | NA | 14.12 | 13.78 | 090
29844 |  | A | rist arthroscopy/surgery | 6.37 | NA | NA | 7.70 | 7.29 | 0.67 | NA | NA | 14.74 | 14.33 | 090
29845 |  | A | Wrist arthroscopy/surgery | 7.52 | NA | NA | 7.72 | 7.69 | 0.77 | NA | NA | 16.01 | 15.98 | 090
29846 |  | A | Wrist arthroscopy/surgery | 6.75 | NA | NA | 9.98 | 9.50 | 0.71 | NA | NA | 17.44 | 16.96 | 090
29847 |  | A | Wrist arthroscopy/surgery | 7.08 | NA | NA | 9.84 | 9.22 | 0.74 | NA | NA | 17.66 | 17.04 | 090
29848 |  | A | Wrist endoscopy/surgery | 5.44 | NA | NA | 7.30 | 6.52 | 0.58 | NA | NA | 13.32 | 12.54 | 090
29850 |  | A | Knee arthroscopy/surgery | 8.19 | NA | NA | 6.68 | 7.46 | 0.71 | NA | NA | 15.58 | 16.36 | 090
29851 |  | A | Knee arthroscopy/surgery | 13.10 | NA | NA | 10.43 | 10.79 | 1.37 | NA | NA | 24.90 | 25.26 | 090
29855 |  | A | Tibial arthroscopy/surgery | 10.62 | NA | NA | 9.42 | 10.24 | 1.09 | NA | NA | 21.13 | 21.95 | 090
29856 |  | A | Tibial arthroscopy/surgery | 14.14 | NA | NA | 11.36 | 11.69 | 1.47 | NA | NA | 26.97 | 27.30 | 090
29860 |  | A | Hip arthroscopy, dx | 8.05 | NA | NA | 7.10 | 6.64 | 0.77 | NA | NA | 15.92 | 15.46 | 090
29861 |  | A | Hip arthroscopy/surgery | 9.15 | NA | NA | 8.23 | 8.72 | 0.88 | NA | NA | 18.26 | 18.75 | 090
29862 |  | A | Hip arthroscopy/surgery | 9.90 | NA | NA | 8.63 | 9.21 | 0.95 | NA | NA | 19.48 | 20.06 | 090
29863 |  | A | Hip arthroscopy/surgery | 9.90 | NA | NA | 8.97 | 9.09 | 0.95 | NA | NA | 19.82 | 19.94 | 090
29870 |  | A | Knee arthroscopy, dx | 5.07 | NA | NA | 5.50 | 5.22 | 0.52 | NA | NA | 11.09 | 10.81 | 090
29871 |  | A | Knee arthroscopy/drainage | 6.55 | NA | NA | 7.26 | 7.28 | 0.59 | NA | NA | 14.40 | 14.42 | 090
29874 |  | A | Knee arthroscopy/surgery | 7.05 | NA | NA | 7.02 | 7.37 | 0.68 | NA | NA | 14.75 | 15.10 | 090
29875 |  | A | Knee arthroscopy/surgery | 6.31 | NA | NA | 6.72 | 6.92 | 0.66 | NA | NA | 13.69 | 13.89 | 090
29876 |  | A | Knee arthroscopy/surgery | 7.92 | NA | NA | 8.07 | 8.42 | 0.80 | NA | NA | 16.79 | 17.14 | 090
29877 |  | A | Knee arthroscopy/surgery | 7.35 | NA | NA | 7.30 | 7.67 | 0.76 | NA | NA | 15.41 | 15.78 | 090
29879 |  | A | Knee arthroscopy/surgery | 8.04 | NA | NA | 7.67 | 8.15 | 0.84 | NA | NA | 16.55 | 17.03 | 090
29880 |  | A | Knee arthroscopy/surgery | 8.50 | NA | NA | 7.93 | 8.49 | 0.89 | NA | NA | 17.32 | 17.88 | 090
29881 |  | A | Knee arthroscopy/surgery | 7.76 | NA | NA | 7.53 | 7.97 | 0.80 | NA | NA | 16.09 | 16.53 | 090
29882 |  | A | Knee arthroscopy/surgery | 8.65 | NA | NA | 7.96 | 8.55 | 0.90 | NA | NA | 17.51 | 18.10 | 090
29883 |  | A | Knee arthroscopy/surgery | 9.46 | NA | NA | 8.45 | 9.16 | 0.98 | NA | NA | 18.89 | 19.60 | 090
29884 |  | A | Knee arthroscopy/surgery | 7.33 | NA | NA | 7.74 | 7.99 | 0.75 | NA | NA | 15.82 | 16.07 | 090
29885 |  | A | Knee arthroscopy/surgery | 9.09 | NA | NA | 8.72 | 8.77 | 0.95 | NA | NA | 18.76 | 18.81 | 090
29886 |  | A | Knee arthroscopy/surgery | 7.54 | NA | NA | 7.89 | 7.76 | 0.78 | NA | NA | 16.21 | 16.08 | 090
29887 |  | A | Knee arthroscopy/surgery | 9.04 | NA | NA | 8.69 | 9.22 | 0.94 | NA | NA | 18.67 | 19.20 | 090
29888 |  | A | Knee arthroscopy/surgery | 13.90 | NA | NA | 11.22 | 12.56 | 1.41 | NA | NA | 26.53 | 27.87 | 090
29889 |  | A | Knee arthroscopy/surgery | 15.13 | NA | NA | 12.34 | 12.04 | 1.56 | NA | NA | 29.03 | 28.73 | 090
29891 |  | A | Ankle arthroscopy/surgery | 8.40 | NA | NA | 8.15 | 8.52 | 0.81 | NA | NA | 17.36 | 17.73 | 090
29892 |  | A | Ankle arthroscopy/surgery | 0.09 | NA | NA | 8.53 | 8.80 | 0.87 | NA | NA | 9.49 | 9.76 | 090
29893 |  | A | Scope, plantar fasciotomy | 5.22 | NA | NA | 4.74 | 4.97 | 0.37 | NA | NA | 10.33 | 10.56 | 090
29894 |  | A | Ankle arthroscopy/surgery | 7.21 | NA | NA | 7.25 | 7.59 | 0.65 | NA | NA | 15.11 | 15.45 | 090
29895 |  | A | Ankle arthroscopy/surgery | 6.99 | NA | NA | 7.16 | 7.46 | 0.65 | NA | NA | 14.80 | 15.10 | 090
29897 |  | A | Ankle arthroscopy/surgery | 7.18 | NA | NA | 7.69 | 7.91 | 0.68 | NA | NA | 15.55 | 15.77 | 090
29898 |  | A | Ankle arthroscopy/surgery | 8.32 | NA | NA | 7.47 | 8.09 | 0.74 | NA | NA | 16.53 | 17.15 | 090
29909 |  | C | Arthroscopy of joint | 0.00 | 0.00 | 0.00 | 0.00 | 0.00 | 0.00 | 0.00 | 0.00 | 0.00 | 0.00 | YYY
30000 |  | A | Drainage of nose lesion | 1.43 | 2.14 | 1.76 | 1.31 | 1.14 | 0.11 | 3.68 | 3.30 | 2.85 | 2.68 | 010
30020 |  | A | Drainage of nose lesion | 1.43 | 2.30 | 1.89 | 1.36 | 1.18 | 0.07 | 3.80 | 3.39 | 2.86 | 2.68 | 010
30100 |  | A | Intranasal biopsy | 0.94 | 1.12 | 1.03 | 0.51 | 0.57 | 0.07 | 2.13 | 2.04 | 1.52 | 1.58 | 000
30110 |  | A | Removal of nose polyp(s) | 1.63 | 2.28 | 2.06 | 0.85 | 0.99 | 0.11 | 4.02 | 3.80 | 2.59 | 2.73 | 010
30115 |  | A | Removal of nose polyp(s) | 4.35 | NA | NA | 3.92 | 3.70 | 0.31 | NA | NA | 8.58 | 8.36 | 090
30117 |  | A | Removal of intranasal lesion | 3.16 | 3.90 | 3.70 | 2.79 | 2.86 | 0.23 | 7.29 | 7.09 | 6.18 | 6.25 | 090
30118 |  | A | Removal of intranasal lesion | 9.69 | NA | NA | 7.57 | 7.85 | 0.71 | NA | NA | 17.97 | 18.25 | 090
30120 |  | A | Revision of nose | 5.27 | 5.38 | 5.61 | 5.38 | 5.61 | 0.40 | 11.05 | 11.28 | 11.05 | 11.28 | 090
30124 |  | A | Removal of nose lesion | 3.10 | NA | NA | 2.98 | 2.60 | 0.21 | NA | NA | 6.29 | 5.91 | 090
30125 |  | A | Removal of nose lesion | 7.16 | NA | NA | 5.89 | 5.92 | 0.48 | NA | NA | 13.53 | 13.56 | 090
30130 |  | A | Removal of turbinate bones | 3.38 | NA | NA | 3.45 | 3.04 | 0.23 | NA | NA | 7.06 | 6.65 | 090
30140 |  | A | Removal of turbinate bones | 3.43 | NA | NA | 3.87 | 3.73 | 0.25 | NA | NA | 7.55 | 7.41 | 090
30150 |  | A | Partial removal of nose | 9.14 | NA | NA | 7.75 | 7.96 | 0.77 | NA | NA | 17.66 | 17.87 | 090
30160 |  | A | Removal of nose | 9.58 | NA | NA | 7.80 | 8.71 | 0.75 | NA | NA | 18.13 | 19.04 | 090
30200 |  | A | Injection treatment of nose | 0.78 | 1.02 | 0.87 | 0.42 | 0.42 | 0.06 | 1.86 | 1.71 | 1.26 | 1.26 | 000
30210 |  | A | Nasal sinus therapy | 1.08 | 1.75 | 1.38 | 0.60 | 0.52 | 0.08 | 2.91 | 2.54 | 1.76 | 1.68 | 010
30220 |  | A | Insert nasal septal button | 1.54 | 2.09 | 1.98 | 0.84 | 1.04 | 0.11 | 3.74 | 3.63 | 2.49 | 2.69 | 010
30300 |  | A | Remove nasal foreign body | 1.04 | 2.18 | 1.76 | 0.38 | 0.41 | 0.08 | 3.30 | 2.88 | 1.50 | 1.53 | 010
30310 |  | A | Remove nasal foreign body | 1.96 | NA | NA | 1.72 | 1.73 | 0.14 | NA | NA | 3.82 | 3.83 | 010
30320 |  | A | Remove nasal foreign body | 4.52 | NA | NA | 4.79 | 4.76 | 0.33 | NA | NA | 9.64 | 9.61 | 090
30400 |  | R | Reconstruction of nose | 9.83 | NA | NA | 7.94 | 8.66 | 0.84 | NA | NA | 18.61 | 19.33 | 090
30410 |  | R | Reconstruction of nose | 12.98 | NA | NA | 9.79 | 11.22 | 1.14 | NA | NA | 23.91 | 25.34 | 090
30420 |  | R | Reconstruction of nose | 15.88 | NA | NA | 11.32 | 13.23 | 1.25 | NA | NA | 28.45 | 30.36 | 090
30430 |  | R | Revision of nose | 7.21 | NA | NA | 6.40 | 6.45 | 0.62 | NA | NA | 14.23 | 14.28 | 090
30435 |  | R | Revision of nose | 11.71 | NA | NA | 9.22 | 9.68 | 1.03 | NA | NA | 21.96 | 22.42 | 090
30450 |  | R | Revision of nose | 18.65 | NA | NA | 13.02 | 12.82 | 1.65 | NA | NA | 33.32 | 33.12 | 090
30460 |  | A | Revision of nose | 9.96 | NA | NA | 8.39 | 8.62 | 0.87 | NA | NA | 19.22 | 19.45 | 090
30462 |  | A | Revision of nose | 19.57 | NA | NA | 13.07 | 14.46 | 1.90 | NA | NA | 34.54 | 35.93 | 090
30520 |  | A | Repair of nasal septum | 5.70 | NA | NA | 5.13 | 5.55 | 0.41 | NA | NA | 11.24 | 11.66 | 090
30540 |  | A | Repair nasal defect | 7.75 | NA | NA | 5.44 | 5.88 | 0.54 | NA | NA | 13.73 | 14.17 | 090
30545 |  | A | Repair nasal defect | 11.38 | NA | NA | 8.13 | 9.04 | 0.88 | NA | NA | 20.39 | 21.30 | 090
30560 |  | A | Release of nasal adhesions | 1.26 | 1.92 | 1.59 | 1.30 | 1.13 | 0.09 | 3.27 | 2.94 | 2.65 | 2.48 | 010
30580 |  | A | Repair upper jaw fistula | 6.69 | 4.64 | 5.17 | 4.64 | 5.17 | 0.49 | 11.82 | 12.35 | 11.82 | 12.35 | 090
30600 |  | A | Repair mouth/nose fistula | 6.02 | 4.17 | 4.15 | 4.17 | 4.15 | 0.47 | 10.66 | 10.64 | 10.66 | 10.64 | 090
30620 |  | A | Intranasal reconstruction | 5.97 | NA | NA | 5.72 | 6.07 | 0.45 | NA | NA | 12.14 | 12.49 | 090
30630 |  | A | Repair nasal septum defect | 7.12 | NA | NA | 6.25 | 6.38 | 0.53 | NA | NA | 13.90 | 14.03 | 090
30801 |  | A | Cauterization, inner nose | 1.09 | 2.14 | 1.73 | 1.88 | 1.54 | 0.08 | 3.31 | 2.90 | 3.05 | 2.71 | 010
30802 |  | A | Cauterization, inner nose | 2.03 | 2.62 | 2.22 | 2.41 | 2.06 | 0.14 | 4.79 | 4.39 | 4.58 | 4.23 | 010
30901 |  | A | Control of nosebleed | 1.21 | 1.84 | 1.53 | 0.40 | 0.45 | 0.10 | 3.15 | 2.84 | 1.71 | 1.76 | 000
30903 |  | A | Control of nosebleed | 1.54 | 2.18 | 1.87 | 0.58 | 0.67 | 0.12 | 3.84 | 3.53 | 2.24 | 2.33 | 000
30905 |  | A | Control of nosebleed | 1.97 | 3.88 | 3.40 | 0.85 | 1.12 | 0.15 | 6.00 | 5.52 | 2.97 | 3.24 | 000
30906 |  | A | Repeat control of nosebleed | 2.45 | 4.16 | 3.41 | 1.29 | 1.26 | 0.18 | 6.79 | 6.04 | 3.92 | 3.89 | 000
30915 |  | A | Ligation, nasal sinus artery | 7.20 | NA | NA | 6.04 | 5.87 | 0.52 | NA | NA | 13.76 | 13.59 | 090
30920 |  | A | Ligation, upper jaw artery | 9.83 | NA | NA | 7.56 | 8.26 | 0.70 | NA | NA | 18.09 | 18.79 | 090
30930 |  | A | Therapy, fracture of nose | 1.26 | NA | NA | 1.77 | 1.52 | 0.09 | NA | NA | 3.12 | 2.87 | 010
30999 |  | C | Nasal surgery procedure | 0.00 | 0.00 | 0.00 | 0.00 | 0.00 | 0.00 | 0.00 | 0.00 | 0.00 | 0.00 | YYY
31000 |  | A | Irrigation, maxillary sinus | 1.15 | 2.00 | 1.62 | 0.62 | 0.58 | 0.08 | 3.23 | 2.85 | 1.85 | 1.81 | 010
31002 |  | A | Irrigation, sphenoid sinus | 1.91 | NA | NA | 1.76 | 1.45 | 0.13 | NA | NA | 3.80 | 3.49 | 010
31020 |  | A | Exploration, maxillary sinus | 2.94 | 3.60 | 3.42 | 3.15 | 3.09 | 0.21 | 6.75 | 6.57 | 6.30 | 6.24 | 090
31030 |  | A | Exploration, maxillary sinus | 5.92 | 4.44 | 5.10 | 4.24 | 4.95 | 0.43 | 10.79 | 11.45 | 10.59 | 11.30 | 090
31032 |  | A | Explore sinus,remove polyps | 6.57 | NA | NA | 5.41 | 6.02 | 0.48 | NA | NA | 12.46 | 13.07 | 090
31040 |  | A | Exploration behind upper jaw | 9.42 | NA | NA | 6.21 | 6.82 | 0.69 | NA | NA | 16.32 | 16.93 | 090
31050 |  | A | Exploration, sphenoid sinus | 5.28 | NA | NA | 4.47 | 4.93 | 0.39 | NA | NA | 10.14 | 10.60 | 090
31051 |  | A | Sphenoid sinus surgery | 7.11 | NA | NA | 5.79 | 6.47 | 0.55 | NA | NA | 13.45 | 14.13 | 090
31070 |  | A | Exploration of frontal sinus | 4.28 | NA | NA | 4.30 | 4.50 | 0.31 | NA | NA | 8.89 | 9.09 | 090
31075 |  | A | Exploration of frontal sinus | 9.16 | NA | NA | 7.33 | 8.23 | 0.63 | NA | NA | 17.12 | 18.02 | 090
31080 |  | A | Removal of frontal sinus | 11.42 | NA | NA | 8.36 | 8.77 | 0.81 | NA | NA | 20.59 | 21.00 | 090
31081 |  | A | Removal of frontal sinus | 12.75 | NA | NA | 8.91 | 9.48 | 1.86 | NA | NA | 23.52 | 24.09 | 090
31084 |  | A | Removal of frontal sinus | 13.51 | NA | NA | 9.56 | 11.18 | 1.03 | NA | NA | 24.10 | 25.72 | 090
31085 |  | A | Removal of frontal sinus | 14.20 | NA | NA | 9.85 | 11.63 | 1.35 | NA | NA | 25.40 | 27.18 | 090
31086 |  | A | Removal of frontal sinus | 12.86 | NA | NA | 9.37 | 9.98 | 0.96 | NA | NA | 23.19 | 23.80 | 090
31087 |  | A | Removal of frontal sinus | 13.10 | NA | NA | 9.24 | 9.75 | 0.93 | NA | NA | 23.27 | 23.78 | 090
31090 |  | A | Exploration of sinuses | 9.53 | NA | NA | 7.89 | 8.76 | 0.68 | NA | NA | 18.10 | 18.97 | 090
31200 |  | A | Removal of ethmoid sinus | 4.97 | NA | NA | 5.43 | 5.33 | 0.28 | NA | NA | 10.68 | 10.58 | 090
31201 |  | A | Removal of ethmoid sinus | 8.37 | NA | NA | 6.87 | 7.06 | 0.59 | NA | NA | 15.83 | 16.02 | 090
31205 |  | A | Removal of ethmoid sinus | 10.24 | NA | NA | 8.10 | 8.25 | 0.61 | NA | NA | 18.95 | 19.10 | 090
31225 |  | A | Removal of upper jaw | 19.23 | NA | NA | 13.72 | 15.57 | 1.41 | NA | NA | 34.36 | 36.21 | 090
31230 |  | A | Removal of upper jaw | 21.94 | NA | NA | 15.38 | 17.43 | 1.67 | NA | NA | 38.99 | 41.04 | 090
31231 |  | A | Nasal endoscopy, dx | 1.10 | 1.68 | 1.63 | 0.58 | 0.81 | 0.08 | 2.86 | 2.81 | 1.76 | 1.99 | 000
31233 |  | A | Nasal/sinus endoscopy, dx | 2.18 | 2.28 | 2.47 | 1.20 | 1.66 | 0.15 | 4.61 | 4.80 | 3.53 | 3.99 | 000
31235 |  | A | Nasal/sinus endoscopy, dx | 2.64 | 2.54 | 2.55 | 1.45 | 1.74 | 0.18 | 5.36 | 5.37 | 4.27 | 4.56 | 000
31237 |  | A | Nasal/sinus endoscopy, surg | 2.98 | 2.80 | 2.99 | 1.60 | 2.09 | 0.21 | 5.99 | 6.18 | 4.79 | 5.28 | 000
31238 |  | A | Nasal/sinus endoscopy, surg | 3.26 | 3.21 | 3.38 | 1.79 | 2.32 | 0.23 | 6.70 | 6.87 | 5.28 | 5.81 | 000
31239 |  | A | Nasal/sinus endoscopy, surg | 8.70 | NA | NA | 6.28 | 7.31 | 0.44 | NA | NA | 15.42 | 16.45 | 010
31240 |  | A | Nasal/sinus endoscopy, surg | 2.61 | NA | NA | 1.47 | 1.88 | 0.18 | NA | NA | 4.26 | 4.67 | 000
31254 |  | A | Revision of ethmoid sinus | 4.65 | NA | NA | 2.65 | 3.38 | 0.32 | NA | NA | 7.62 | 8.35 | 000
31255 |  | A | Removal of ethmoid sinus | 6.96 | NA | NA | 3.92 | 5.02 | 0.50 | NA | NA | 11.38 | 12.48 | 000
31256 |  | A | Exploration maxillary sinus | 3.29 | NA | NA | 1.89 | 2.40 | 0.23 | NA | NA | 5.41 | 5.92 | 000
31267 |  | A | Endoscopy, maxillary sinus | 5.46 | NA | NA | 3.09 | 3.74 | 0.39 | NA | NA | 8.94 | 9.59 | 000
31276 |  | A | Sinus endoscopy, surgical | 8.85 | NA | NA | 4.88 | 5.48 | 0.63 | NA | NA | 14.36 | 14.96 | 000
31287 |  | A | Nasal/sinus endoscopy, surg | 3.92 | NA | NA | 2.24 | 2.85 | 0.28 | NA | NA | 6.44 | 7.05 | 000
31288 |  | A | Nasal/sinus endoscopy, surg | 4.58 | NA | NA | 2.61 | 3.33 | 0.32 | NA | NA | 7.51 | 8.23 | 000
31290 |  | A | Nasal/sinus endoscopy, surg | 17.24 | NA | NA | 10.95 | 12.68 | 1.28 | NA | NA | 29.47 | 31.20 | 010
31291 |  | A | Nasal/sinus endoscopy, surg | 18.19 | NA | NA | 11.31 | 13.18 | 1.73 | NA | NA | 31.23 | 33.10 | 010
31292 |  | A | Nasal/sinus endoscopy, surg | 14.76 | NA | NA | 9.54 | 10.79 | 1.03 | NA | NA | 25.33 | 26.58 | 010
31293 |  | A | Nasal/sinus endoscopy, surg | 16.21 | NA | NA | 10.18 | 11.61 | 1.09 | NA | NA | 27.48 | 28.91 | 010
31294 |  | A | Nasal/sinus endoscopy, surg | 19.06 | NA | NA | 11.83 | 13.41 | 1.71 | NA | NA | 32.60 | 34.18 | 010
31299 |  | C | Sinus surgery procedure | 0.00 | 0.00 | 0.00 | 0.00 | 0.00 | 0.00 | 0.00 | 0.00 | 0.00 | 0.00 | YYY
31300 |  | A | Removal of larynx lesion | 14.29 | NA | NA | 14.94 | 14.35 | 1.02 | NA | NA | 30.25 | 29.66 | 090
31320 |  | A | Diagnostic incision, larynx | 5.26 | NA | NA | 11.08 | 9.36 | 0.39 | NA | NA | 16.73 | 15.01 | 090
31360 |  | A | Removal of larynx | 17.08 | NA | NA | 16.69 | 17.62 | 1.24 | NA | NA | 35.01 | 35.94 | 090
31365 |  | A | Removal of larynx | 24.16 | NA | NA | 20.46 | 22.56 | 1.77 | NA | NA | 46.39 | 48.49 | 090
31367 |  | A | Partial removal of larynx | 21.86 | NA | NA | 21.00 | 20.42 | 1.59 | NA | NA | 44.45 | 43.87 | 090
31368 |  | A | Partial removal of larynx | 27.09 | NA | NA | 24.85 | 25.90 | 1.98 | NA | NA | 53.92 | 54.97 | 090
31370 |  | A | Partial removal of larynx | 21.38 | NA | NA | 20.88 | 20.32 | 1.60 | NA | NA | 43.86 | 43.30 | 090
31375 |  | A | Partial removal of larynx | 20.21 | NA | NA | 18.41 | 17.84 | 1.41 | NA | NA | 40.03 | 39.46 | 090
31380 |  | A | Partial removal of larynx | 20.21 | NA | NA | 18.61 | 18.64 | 1.44 | NA | NA | 40.26 | 40.29 | 090
31382 |  | A | Partial removal of larynx | 20.52 | NA | NA | 20.08 | 19.42 | 1.51 | NA | NA | 42.11 | 41.45 | 090
31390 |  | A | Removal of larynx & pharynx | 27.53 | NA | NA | 25.18 | 26.23 | 1.99 | NA | NA | 54.70 | 55.75 | 090
31395 |  | A | Reconstruct larynx & pharynx | 31.09 | NA | NA | 29.74 | 31.40 | 2.25 | NA | NA | 63.08 | 64.74 | 090
31400 |  | A | Revision of larynx | 10.31 | NA | NA | 13.34 | 12.13 | 0.74 | NA | NA | 24.39 | 23.18 | 090
31420 |  | A | Removal of epiglottis | 10.22 | NA | NA | 13.25 | 12.13 | 0.74 | NA | NA | 24.21 | 23.09 | 090
31500 |  | A | Insert emergency airway | 2.33 | NA | NA | 0.64 | 0.79 | 0.17 | NA | NA | 3.14 | 3.29 | 000
31502 |  | A | Change of windpipe airway | 0.65 | 1.59 | 1.35 | 0.26 | 0.35 | 0.04 | 2.28 | 2.04 | 0.95 | 1.04 | 000
31505 |  | A | Diagnostic laryngoscopy | 0.61 | 1.49 | 1.24 | 0.31 | 0.35 | 0.05 | 2.15 | 1.90 | 0.97 | 1.01 | 000
31510 |  | A | Laryngoscopy with biopsy | 1.92 | 2.37 | 1.93 | 0.96 | 0.87 | 0.14 | 4.43 | 3.99 | 3.02 | 2.93 | 000
31511 |  | A | Remove foreign body, larynx | 2.16 | 2.56 | 2.18 | 0.78 | 0.85 | 0.18 | 4.90 | 4.52 | 3.12 | 3.19 | 000
31512 |  | A | Removal of larynx lesion | 2.07 | 2.49 | 2.35 | 1.07 | 1.29 | 0.19 | 4.75 | 4.61 | 3.33 | 3.55 | 000
31513 |  | A | Injection into vocal cord | 2.10 | NA | NA | 1.24 | 1.56 | 0.15 | NA | NA | 3.49 | 3.81 | 000
31515 |  | A | Laryngoscopy for aspiration | 1.80 | 2.18 | 1.94 | 0.81 | 0.92 | 0.12 | 4.10 | 3.86 | 2.73 | 2.84 | 000
31520 |  | A | Diagnostic laryngoscopy | 2.56 | NA | NA | 1.34 | 1.45 | 0.18 | NA | NA | 4.08 | 4.19 | 000
31525 |  | A | Diagnostic laryngoscopy | 2.63 | 2.54 | 2.50 | 1.44 | 1.68 | 0.18 | 5.35 | 5.31 | 4.25 | 4.49 | 000
31526 |  | A | Diagnostic laryngoscopy | 2.57 | NA | NA | 1.49 | 1.89 | 0.18 | NA | NA | 4.24 | 4.64 | 000
31527 |  | A | Laryngoscopy for treatment | 3.27 | NA | NA | 1.66 | 2.06 | 0.23 | NA | NA | 5.16 | 5.56 | 000
31528 |  | A | Laryngoscopy and dilatation | 2.37 | NA | NA | 1.28 | 1.67 | 0.18 | NA | NA | 3.83 | 4.22 | 000
31529 |  | A | Laryngoscopy and dilatation | 2.68 | NA | NA | 1.46 | 1.76 | 0.19 | NA | NA | 4.33 | 4.63 | 000
31530 |  | A | Operative laryngoscopy | 3.39 | NA | NA | 1.72 | 2.28 | 0.23 | NA | NA | 5.34 | 5.90 | 000
31531 |  | A | Operative laryngoscopy | 3.59 | NA | NA | 2.07 | 2.63 | 0.26 | NA | NA | 5.92 | 6.48 | 000
31535 |  | A | Operative laryngoscopy | 3.16 | NA | NA | 1.78 | 2.28 | 0.23 | NA | NA | 5.17 | 5.67 | 000
31536 |  | A | Operative laryngoscopy | 3.56 | NA | NA | 2.04 | 2.59 | 0.26 | NA | NA | 5.86 | 6.41 | 000
31540 |  | A | Operative laryngoscopy | 4.13 | NA | NA | 2.34 | 2.99 | 0.30 | NA | NA | 6.77 | 7.42 | 000
31541 |  | A | Operative laryngoscopy | 4.53 | NA | NA | 2.56 | 3.16 | 0.32 | NA | NA | 7.41 | 8.01 | 000
31560 |  | A | Operative laryngoscopy | 5.46 | NA | NA | 3.02 | 3.62 | 0.39 | NA | NA | 8.87 | 9.47 | 000
31561 |  | A | Operative laryngoscopy | 0.06 | NA | NA | 3.33 | 4.20 | 0.43 | NA | NA | 3.82 | 4.69 | 000
31570 |  | A | Laryngoscopy with injection | 3.87 | 3.80 | 4.01 | 2.16 | 2.78 | 0.29 | 7.96 | 8.17 | 6.32 | 6.94 | 000
31571 |  | A | Laryngoscopy with injection | 4.27 | NA | NA | 2.40 | 3.02 | 0.31 | NA | NA | 6.98 | 7.60 | 000
31575 |  | A | Diagnostic laryngoscopy | 1.10 | 1.81 | 1.78 | 0.60 | 0.87 | 0.08 | 2.99 | 2.96 | 1.78 | 2.05 | 000
31576 |  | A | Laryngoscopy with biopsy | 1.97 | 1.95 | 2.05 | 1.03 | 1.36 | 0.13 | 4.05 | 4.15 | 3.13 | 3.46 | 000
31577 |  | A | Remove foreign body, larynx | 2.47 | 2.26 | 2.43 | 1.26 | 1.68 | 0.18 | 4.91 | 5.08 | 3.91 | 4.33 | 000
31578 |  | A | Removal of larynx lesion | 2.84 | 2.57 | 2.78 | 0.94 | 1.55 | 0.20 | 5.61 | 5.82 | 3.98 | 4.59 | 000
31579 |  | A | Diagnostic laryngoscopy | 2.26 | 2.52 | 2.52 | 1.19 | 1.53 | 0.16 | 4.94 | 4.94 | 3.61 | 3.95 | 000
31580 |  | A | Revision of larynx | 12.38 | NA | NA | 13.61 | 13.90 | 0.88 | NA | NA | 26.87 | 27.16 | 090
31582 |  | A | Revision of larynx | 21.62 | NA | NA | 19.32 | 19.34 | 1.54 | NA | NA | 42.48 | 42.50 | 090
31584 |  | A | Treat larynx fracture | 19.64 | NA | NA | 16.79 | 16.04 | 1.54 | NA | NA | 37.97 | 37.22 | 090
31585 |  | A | Treat larynx fracture | 4.64 | NA | NA | 7.46 | 6.62 | 0.32 | NA | NA | 12.42 | 11.58 | 090
31586 |  | A | Treat larynx fracture | 8.03 | NA | NA | 10.88 | 9.94 | 0.57 | NA | NA | 19.48 | 18.54 | 090
31587 |  | A | Revision of larynx | 11.99 | NA | NA | 12.34 | 11.21 | 0.88 | NA | NA | 25.21 | 24.08 | 090
31588 |  | A | Revision of larynx | 13.11 | NA | NA | 14.69 | 13.92 | 0.94 | NA | NA | 28.74 | 27.97 | 090
31590 |  | A | Reinnervate larynx | 6.97 | NA | NA | 10.11 | 9.15 | 0.47 | NA | NA | 17.55 | 16.59 | 090
31595 |  | A | Larynx nerve surgery | 8.34 | NA | NA | 9.68 | 9.12 | 0.61 | NA | NA | 18.63 | 18.07 | 090
31599 |  | C | Larynx surgery procedure | 0.00 | 0.00 | 0.00 | 0.00 | 0.00 | 0.00 | 0.00 | 0.00 | 0.00 | 0.00 | YYY
31600 |  | A | Incision of windpipe | 3.62 | NA | NA | 1.61 | 2.29 | 0.34 | NA | NA | 5.57 | 6.25 | 000
31601 |  | A | Incision of windpipe | 4.45 | NA | NA | 2.16 | 2.95 | 0.36 | NA | NA | 6.97 | 7.76 | 000
31603 |  | A | Incision of windpipe | 4.15 | NA | NA | 1.86 | 2.54 | 0.38 | NA | NA | 6.39 | 7.07 | 000
31605 |  | A | Incision of windpipe | 3.58 | NA | NA | 1.31 | 2.05 | 0.36 | NA | NA | 5.25 | 5.99 | 000
31610 |  | A | Incision of windpipe | 8.76 | NA | NA | 9.71 | 9.09 | 0.70 | NA | NA | 19.17 | 18.55 | 090
31611 |  | A | Surgery/speech prosthesis | 5.64 | NA | NA | 8.30 | 7.98 | 0.41 | NA | NA | 14.35 | 14.03 | 090
31612 |  | A | Puncture/clear windpipe | 0.91 | 1.24 | 1.25 | 0.40 | 0.62 | 0.06 | 2.21 | 2.22 | 1.37 | 1.59 | 000
31613 |  | A | Repair windpipe opening | 4.59 | NA | NA | 8.03 | 6.62 | 0.37 | NA | NA | 12.99 | 11.58 | 090
31614 |  | A | Repair windpipe opening | 7.12 | NA | NA | 10.28 | 9.54 | 0.53 | NA | NA | 17.93 | 17.19 | 090
31615 |  | A | Visualization of windpipe | 2.09 | 2.90 | 2.71 | 1.10 | 1.36 | 0.14 | 5.13 | 4.94 | 3.33 | 3.59 | 000
31622 |  | A | Dx bronchoscope/wash | 2.78 | 3.12 | 3.18 | 1.12 | 1.68 | 0.13 | 6.03 | 6.09 | 4.03 | 4.59 | 000
31623 |  | A | Dx bronchoscope/brush | 2.88 | 3.16 | 3.21 | 1.16 | 1.71 | 0.15 | 6.19 | 6.24 | 4.19 | 4.74 | 000
31624 |  | A | Dx bronchoscope/lavage | 2.88 | 2.68 | 2.85 | 1.16 | 1.71 | 0.15 | 5.71 | 5.88 | 4.19 | 4.74 | 000
31625 |  | A | Bronchoscopy with biopsy | 3.37 | 2.68 | 3.02 | 1.27 | 1.96 | 0.16 | 6.21 | 6.55 | 4.80 | 5.49 | 000
31628 |  | A | Bronchoscopy with biopsy | 3.81 | 3.13 | 3.49 | 1.33 | 2.14 | 0.13 | 7.07 | 7.43 | 5.27 | 6.08 | 000
31629 |  | A | Bronchoscopy with biopsy | 3.37 | NA | NA | 1.20 | 1.91 | 0.11 | NA | NA | 4.68 | 5.39 | 000
31630 |  | A | Bronchoscopy with repair | 3.82 | NA | NA | 2.06 | 2.56 | 0.34 | NA | NA | 6.22 | 6.72 | 000
31631 |  | A | Bronchoscopy with dilation | 4.37 | NA | NA | 2.07 | 2.62 | 0.31 | NA | NA | 6.75 | 7.30 | 000
31635 |  | A | Remove foreign body, airway | 3.68 | NA | NA | 1.64 | 2.33 | 0.23 | NA | NA | 5.55 | 6.24 | 000
31640 |  | A | Bronchoscopy & remove lesion | 4.94 | NA | NA | 2.47 | 3.22 | 0.37 | NA | NA | 7.78 | 8.53 | 000
31641 |  | A | Bronchoscopy, treat blockage | 5.03 | NA | NA | 2.09 | 3.07 | 0.28 | NA | NA | 7.40 | 8.38 | 000
31643 |  | A | Diag bronchoscope/catheter | 3.50 | 1.73 | 2.13 | 1.47 | 1.94 | 0.20 | 5.43 | 5.83 | 5.17 | 5.64 | 000
31645 |  | A | Bronchoscopy, clear airways | 3.16 | NA | NA | 1.17 | 1.82 | 0.13 | NA | NA | 4.46 | 5.11 | 000
31646 |  | A | Bronchoscopy, reclear airway | 2.72 | NA | NA | 1.04 | 1.59 | 0.12 | NA | NA | 3.88 | 4.43 | 000
31656 |  | A | Bronchoscopy, inj for xray | 2.17 | NA | NA | 0.91 | 1.33 | 0.10 | NA | NA | 3.18 | 3.60 | 000
31700 |  | A | Insertion of airway catheter | 1.34 | 1.69 | 1.64 | 0.61 | 0.83 | 0.08 | 3.11 | 3.06 | 2.03 | 2.25 | 000
31708 |  | A | Instill airway contrast dye | 1.41 | NA | NA | 0.59 | 0.65 | 0.06 | NA | NA | 2.06 | 2.12 | 000
31710 |  | A | Insertion of airway catheter | 1.30 | NA | NA | 0.70 | 0.77 | 0.05 | NA | NA | 2.05 | 2.12 | 000
31715 |  | A | Injection for bronchus x-ray | 1.11 | NA | NA | 0.71 | 0.66 | 0.04 | NA | NA | 1.86 | 1.81 | 000
31717 |  | A | Bronchial brush biopsy | 2.12 | 2.92 | 2.39 | 0.82 | 0.81 | 0.08 | 5.12 | 4.59 | 3.02 | 3.01 | 000
31720 |  | A | Clearance of airways | 1.06 | 1.74 | 1.51 | 0.33 | 0.45 | 0.06 | 2.86 | 2.63 | 1.45 | 1.57 | 000
31725 |  | A | Clearance of airways | 1.96 | NA | NA | 0.64 | 0.86 | 0.08 | NA | NA | 2.68 | 2.90 | 000
31730 |  | A | Intro, windpipe wire/tube | 2.85 | 2.27 | 2.37 | 1.07 | 1.47 | 0.15 | 5.27 | 5.37 | 4.07 | 4.47 | 000
31750 |  | A | Repair of windpipe | 13.02 | NA | NA | 14.19 | 13.05 | 0.01 | NA | NA | 27.22 | 26.08 | 090
31755 |  | A | Repair of windpipe | 15.93 | NA | NA | 16.14 | 15.71 | 1.20 | NA | NA | 33.27 | 32.84 | 090
31760 |  | A | Repair of windpipe | 22.35 | NA | NA | 13.56 | 13.13 | 2.09 | NA | NA | 38.00 | 37.57 | 090
31766 |  | A | Reconstruction of windpipe | 30.43 | NA | NA | 16.74 | 17.55 | 3.73 | NA | NA | 50.90 | 51.71 | 090
31770 |  | A | Repair/graft of bronchus | 22.51 | NA | NA | 16.73 | 16.64 | 2.06 | NA | NA | 41.30 | 41.21 | 090
31775 |  | A | Reconstruct bronchus | 23.54 | NA | NA | 18.57 | 18.37 | 2.80 | NA | NA | 44.91 | 44.71 | 090
31780 |  | A | Reconstruct windpipe | 17.72 | NA | NA | 13.24 | 14.63 | 1.70 | NA | NA | 32.66 | 34.05 | 090
31781 |  | A | Reconstruct windpipe | 23.53 | NA | NA | 16.29 | 16.79 | 2.83 | NA | NA | 42.65 | 43.15 | 090
31785 |  | A | Remove windpipe lesion | 17.23 | NA | NA | 12.42 | 11.74 | 1.35 | NA | NA | 31.00 | 30.32 | 090
31786 |  | A | Remove windpipe lesion | 23.98 | NA | NA | 17.54 | 16.76 | 1.99 | NA | NA | 43.51 | 42.73 | 090
31800 |  | A | Repair of windpipe injury | 7.43 | NA | NA | 6.72 | 6.37 | 0.74 | NA | NA | 14.89 | 14.54 | 090
31805 |  | A | Repair of windpipe injury | 13.13 | NA | NA | 12.40 | 11.97 | 1.72 | NA | NA | 27.25 | 26.82 | 090
31820 |  | A | Closure of windpipe lesion | 4.49 | 7.10 | 6.30 | 7.10 | 6.30 | 0.34 | 11.93 | 11.13 | 11.93 | 11.13 | 090
31825 |  | A | Repair of windpipe defect | 6.81 | 9.62 | 8.57 | 9.62 | 8.57 | 0.52 | 16.95 | 15.90 | 16.95 | 15.90 | 090
31830 |  | A | Revise windpipe scar | 4.50 | 6.87 | 6.15 | 6.87 | 6.15 | 0.36 | 11.73 | 11.01 | 11.73 | 11.01 | 090
31899 |  | C | Airways surgical procedure | 0.00 | 0.00 | 0.00 | 0.00 | 0.00 | 0.00 | 0.00 | 0.00 | 0.00 | 0.00 | YYY
32000 |  | A | Drainage of chest | 1.54 | 3.01 | 2.50 | 0.50 | 0.62 | 0.07 | 4.62 | 4.11 | 2.11 | 2.23 | 000
32001 |  | D | Total lung lavage | 0.06 | 2.38 | 2.38 | 2.38 | 2.38 | 0.60 | 3.04 | 3.04 | 3.04 | 3.04 | 000
32002 |  | A | Treatment of collapsed lung | 2.19 | NA | NA | 0.84 | 0.99 | 0.11 | NA | NA | 3.14 | 3.29 | 000
32005 |  | A | Treat lung lining chemically | 2.19 | NA | NA | 0.93 | 0.99 | 0.18 | NA | NA | 3.30 | 3.36 | 000
32020 |  | A | Insertion of chest tube | 3.98 | NA | NA | 1.57 | 1.89 | 0.37 | NA | NA | 5.92 | 6.24 | 000
32035 |  | A | Exploration of chest | 8.67 | NA | NA | 10.06 | 9.38 | 1.05 | NA | NA | 19.78 | 19.10 | 090
32036 |  | A | Exploration of chest | 9.68 | NA | NA | 11.25 | 10.37 | 1.19 | NA | NA | 22.12 | 21.24 | 090
32095 |  | A | Biopsy through chest wall | 8.36 | NA | NA | 10.17 | 9.87 | 0.98 | NA | NA | 19.51 | 19.21 | 090
32100 |  | A | Exploration/biopsy of chest | 11.84 | NA | NA | 11.45 | 11.64 | 1.45 | NA | NA | 24.74 | 24.93 | 090
32110 |  | A | Explore/repair chest | 13.62 | NA | NA | 11.89 | 12.04 | 1.67 | NA | NA | 27.18 | 27.33 | 090
32120 |  | A | Re-exploration of chest | 11.54 | NA | NA | 12.00 | 11.57 | 1.45 | NA | NA | 24.99 | 24.56 | 090
32124 |  | A | Explore chest free adhesions | 12.72 | NA | NA | 11.18 | 11.35 | 1.57 | NA | NA | 25.47 | 25.64 | 090
32140 |  | A | Removal of lung lesion(s) | 13.93 | NA | NA | 12.89 | 13.02 | 1.68 | NA | NA | 28.50 | 28.63 | 090
32141 |  | A | Remove/treat lung lesions | 0.14 | NA | NA | 10.96 | 11.86 | 1.74 | NA | NA | 12.84 | 13.74 | 090
32150 |  | A | Removal of lung lesion(s) | 14.15 | NA | NA | 12.31 | 12.04 | 1.71 | NA | NA | 28.17 | 27.90 | 090
32151 |  | A | Remove lung foreign body | 14.21 | NA | NA | 13.42 | 12.55 | 1.76 | NA | NA | 29.39 | 28.52 | 090
32160 |  | A | Open chest heart massage | 9.30 | NA | NA | 7.25 | 7.92 | 1.07 | NA | NA | 17.62 | 18.29 | 090
32200 |  | A | Drain, open, lung lesion | 15.29 | NA | NA | 11.18 | 10.26 | 1.25 | NA | NA | 27.72 | 26.80 | 090
32201 |  | A | Drain, percut, lung lesion | 0.04 | NA | NA | 6.43 | 5.65 | 0.32 | NA | NA | 6.79 | 6.01 | 000
32215 |  | A | Treat chest lining | 11.33 | NA | NA | 12.10 | 11.14 | 1.37 | NA | NA | 24.80 | 23.84 | 090
32220 |  | A | Release of lung | 19.27 | NA | NA | 15.25 | 15.73 | 2.28 | NA | NA | 36.80 | 37.28 | 090
32225 |  | A | Partial release of lung | 13.96 | NA | NA | 12.48 | 12.57 | 1.74 | NA | NA | 28.18 | 28.27 | 090
32310 |  | A | Removal of chest lining | 13.44 | NA | NA | 12.13 | 12.26 | 1.65 | NA | NA | 27.22 | 27.35 | 090
32320 |  | A | Free/remove chest lining | 20.54 | NA | NA | 14.86 | 16.06 | 2.50 | NA | NA | 37.90 | 39.10 | 090
32400 |  | A | Needle biopsy chest lining | 1.76 | 1.69 | 1.67 | 0.57 | 0.83 | 0.07 | 3.52 | 3.50 | 2.40 | 2.66 | 000
32402 |  | A | Open biopsy chest lining | 7.56 | NA | NA | 10.48 | 9.92 | 0.94 | NA | NA | 18.98 | 18.42 | 090
32405 |  | A | Biopsy, lung or mediastinum | 1.93 | 2.45 | 2.41 | 0.67 | 1.08 | 0.08 | 4.46 | 4.42 | 2.68 | 3.09 | 000
32420 |  | A | Puncture/clear lung | 2.18 | NA | NA | 0.83 | 1.03 | 0.10 | NA | NA | 3.11 | 3.31 | 000
32440 |  | A | Removal of lung | 21.02 | NA | NA | 15.28 | 16.50 | 2.60 | NA | NA | 38.90 | 40.12 | 090
32442 |  | A | Sleeve pneumonectomy | 26.24 | NA | NA | 16.28 | 17.08 | 3.28 | NA | NA | 45.80 | 46.60 | 090
32445 |  | A | Removal of lung | 25.09 | NA | NA | 16.11 | 17.63 | 3.09 | NA | NA | 44.29 | 45.81 | 090
32480 |  | A | Partial removal of lung | 18.32 | NA | NA | 13.25 | 14.59 | 2.25 | NA | NA | 33.82 | 35.16 | 090
32482 |  | A | Bilobectomy | 19.71 | NA | NA | 14.24 | 15.33 | 2.38 | NA | NA | 36.33 | 37.42 | 090
32484 |  | A | Segmentectomy | 20.69 | NA | NA | 14.81 | 15.76 | 2.54 | NA | NA | 38.04 | 38.99 | 090
32486 |  | A | Sleeve lobectomy | 23.92 | NA | NA | 17.05 | 17.28 | 3.04 | NA | NA | 44.01 | 44.24 | 090
32488 |  | A | Completion pneumonectomy | 25.71 | NA | NA | 17.26 | 17.76 | 3.19 | NA | NA | 46.16 | 46.66 | 090
32491 |  | R | Lung volume reduction | 21.25 | NA | NA | 15.68 | 15.95 | 2.84 | NA | NA | 39.77 | 40.04 | 090
32500 |  | A | Partial removal of lung | 14.30 | NA | NA | 12.90 | 13.33 | 1.79 | NA | NA | 28.99 | 29.42 | 090
32501 |  | A | Repair bronchus add-on | 4.69 | NA | NA | 1.86 | 2.57 | 0.53 | NA | NA | 7.08 | 7.79 | ZZZ
32520 |  | A | Remove lung & revise chest | 21.68 | NA | NA | 15.82 | 17.47 | 2.75 | NA | NA | 40.25 | 41.90 | 090
32522 |  | A | Remove lung & revise chest | 24.20 | NA | NA | 16.66 | 18.44 | 3.03 | NA | NA | 43.89 | 45.67 | 090
32525 |  | A | Remove lung & revise chest | 26.50 | NA | NA | 17.13 | 19.22 | 3.29 | NA | NA | 46.92 | 49.01 | 090
32540 |  | A | Removal of lung lesion | 14.64 | NA | NA | 13.15 | 13.03 | 1.81 | NA | NA | 29.60 | 29.48 | 090
32601 |  | A | Thoracoscopy, diagnostic | 5.46 | NA | NA | 4.52 | 4.33 | 0.68 | NA | NA | 10.66 | 10.47 | 000
32602 |  | A | Thoracoscopy, diagnostic | 5.96 | NA | NA | 4.71 | 4.58 | 0.74 | NA | NA | 11.41 | 11.28 | 000
32603 |  | A | Thoracoscopy, diagnostic | 7.81 | NA | NA | 5.26 | 4.89 | 0.78 | NA | NA | 13.85 | 13.48 | 000
32604 |  | A | Thoracoscopy, diagnostic | 8.78 | NA | NA | 6.02 | 5.57 | 1.07 | NA | NA | 15.87 | 15.42 | 000
32605 |  | A | Thoracoscopy, diagnostic | 6.93 | NA | NA | 5.50 | 5.07 | 0.86 | NA | NA | 13.29 | 12.86 | 000
32606 |  | A | Thoracoscopy, diagnostic | 8.40 | NA | NA | 5.71 | 5.33 | 1.04 | NA | NA | 15.15 | 14.77 | 000
32650 |  | A | Thoracoscopy, surgical | 10.75 | NA | NA | 10.60 | 10.02 | 1.26 | NA | NA | 22.61 | 22.03 | 090
32651 |  | A | Thoracoscopy, surgical | 12.91 | NA | NA | 10.60 | 11.16 | 1.55 | NA | NA | 25.06 | 25.62 | 090
32652 |  | A | Thoracoscopy, surgical | 18.66 | NA | NA | 13.59 | 14.48 | 2.30 | NA | NA | 34.55 | 35.44 | 090
32653 |  | A | Thoracoscopy, surgical | 12.87 | NA | NA | 11.41 | 11.36 | 1.55 | NA | NA | 25.83 | 25.78 | 090
32654 |  | A | Thoracoscopy, surgical | 12.44 | NA | NA | 8.98 | 9.86 | 1.48 | NA | NA | 22.90 | 23.78 | 090
32655 |  | A | Thoracoscopy, surgical | 13.10 | NA | NA | 10.70 | 11.67 | 1.54 | NA | NA | 25.34 | 26.31 | 090
32656 |  | A | Thoracoscopy, surgical | 12.91 | NA | NA | 11.57 | 12.30 | 1.61 | NA | NA | 26.09 | 26.82 | 090
32657 |  | A | Thoracoscopy, surgical | 13.65 | NA | NA | 11.49 | 12.27 | 1.65 | NA | NA | 26.79 | 27.57 | 090
32658 |  | A | Thoracoscopy, surgical | 11.63 | NA | NA | 11.47 | 12.07 | 1.45 | NA | NA | 24.55 | 25.15 | 090
32659 |  | A | Thoracoscopy, surgical | 11.59 | NA | NA | 11.18 | 11.85 | 1.46 | NA | NA | 24.23 | 24.90 | 090
32660 |  | A | Thoracoscopy, surgical | 17.43 | NA | NA | 15.53 | 16.85 | 2.29 | NA | NA | 35.25 | 36.57 | 090
32661 |  | A | Thoracoscopy, surgical | 13.25 | NA | NA | 12.02 | 11.53 | 1.65 | NA | NA | 26.92 | 26.43 | 090
32662 |  | A | Thoracoscopy, surgical | 16.44 | NA | NA | 12.76 | 13.52 | 2.03 | NA | NA | 31.23 | 31.99 | 090
32663 |  | A | Thoracoscopy, surgical | 18.47 | NA | NA | 13.50 | 14.78 | 2.25 | NA | NA | 34.22 | 35.50 | 090
32664 |  | A | Thoracoscopy, surgical | 14.20 | NA | NA | 10.80 | 10.96 | 1.64 | NA | NA | 26.64 | 26.80 | 090
32665 |  | A | Thoracoscopy, surgical | 15.54 | NA | NA | 11.27 | 12.34 | 1.80 | NA | NA | 28.61 | 29.68 | 090
32800 |  | A | Repair lung hernia | 13.69 | NA | NA | 13.17 | 12.13 | 1.41 | NA | NA | 28.27 | 27.23 | 090
32810 |  | A | Close chest after drainage | 13.05 | NA | NA | 12.42 | 11.08 | 1.66 | NA | NA | 27.13 | 25.79 | 090
32815 |  | A | Close bronchial fistula | 23.15 | NA | NA | 17.73 | 17.43 | 2.94 | NA | NA | 43.82 | 43.52 | 090
32820 |  | A | Reconstruct injured chest | 21.48 | NA | NA | 15.97 | 17.14 | 2.40 | NA | NA | 39.85 | 41.02 | 090
32850 |  | X | Donor pneumonectomy | 0.00 | 0.00 | 0.00 | 0.00 | 0.00 | 0.00 | 0.00 | 0.00 | 0.00 | 0.00 | XXX
32851 |  | A | Lung transplant, single | 38.63 | NA | NA | 24.89 | 25.60 | 5.21 | NA | NA | 68.73 | 69.44 | 090
32852 |  | A | Lung transplant with bypass | 41.80 | NA | NA | 25.98 | 27.00 | 5.81 | NA | NA | 73.59 | 74.61 | 090
32853 |  | A | Lung transplant, double | 47.81 | NA | NA | 28.44 | 30.00 | 6.43 | NA | NA | 82.68 | 84.24 | 090
32854 |  | A | Lung transplant with bypass | 50.98 | NA | NA | 30.44 | 32.08 | 6.75 | NA | NA | 88.17 | 89.81 | 090
32900 |  | A | Removal of rib(s) | 20.27 | NA | NA | 14.63 | 13.27 | 2.40 | NA | NA | 37.30 | 35.94 | 090
32905 |  | A | Revise & repair chest wall | 20.75 | NA | NA | 14.48 | 14.32 | 2.55 | NA | NA | 37.78 | 37.62 | 090
32906 |  | A | Revise & repair chest wall | 26.77 | NA | NA | 17.44 | 17.26 | 3.34 | NA | NA | 47.55 | 47.37 | 090
32940 |  | A | Revision of lung | 19.43 | NA | NA | 14.32 | 13.83 | 2.37 | NA | NA | 36.12 | 35.63 | 090
32960 |  | A | Therapeutic pneumothorax | 1.84 | 1.90 | 1.68 | 0.55 | 0.67 | 0.13 | 3.87 | 3.65 | 2.52 | 2.64 | 000
32997 |  | A | Total lung lavage | 0.06 | NA | NA | 2.28 | 2.28 | 0.58 | NA | NA | 2.92 | 2.92 | 000
32999 |  | C | Chest surgery procedure | 0.00 | 0.00 | 0.00 | 0.00 | 0.00 | 0.00 | 0.00 | 0.00 | 0.00 | 0.00 | YYY
33010 |  | A | Drainage of heart sac | 2.24 | NA | NA | 0.99 | 1.16 | 0.27 | NA | NA | 3.50 | 3.67 | 000
33011 |  | A | Repeat drainage of heart sac | 2.24 | NA | NA | 1.02 | 1.07 | 0.26 | NA | NA | 3.52 | 3.57 | 000
33015 |  | A | Incision of heart sac | 6.80 | NA | NA | 5.20 | 5.06 | 0.88 | NA | NA | 12.88 | 12.74 | 090
33020 |  | A | Incision of heart sac | 12.61 | NA | NA | 10.08 | 11.16 | 1.63 | NA | NA | 24.32 | 25.40 | 090
33025 |  | A | Incision of heart sac | 12.09 | NA | NA | 10.01 | 11.12 | 1.55 | NA | NA | 23.65 | 24.76 | 090
33030 |  | A | Partial removal of heart sac | 18.71 | NA | NA | 15.79 | 17.43 | 2.41 | NA | NA | 36.91 | 38.55 | 090
33031 |  | A | Partial removal of heart sac | 21.79 | NA | NA | 17.76 | 16.92 | 2.90 | NA | NA | 42.45 | 41.61 | 090
33050 |  | A | Removal of heart sac lesion | 14.36 | NA | NA | 12.85 | 12.15 | 1.77 | NA | NA | 28.98 | 28.28 | 090
33120 |  | A | Removal of heart lesion | 24.56 | NA | NA | 21.22 | 23.25 | 3.19 | NA | NA | 48.97 | 51.00 | 090
33130 |  | A | Removal of heart lesion | 21.39 | NA | NA | 15.50 | 15.29 | 2.42 | NA | NA | 39.31 | 39.10 | 090
33140 |  | A | Heart revascularize (tmr) | 0.20 | NA | NA | 12.66 | 12.66 | 2.56 | NA | NA | 15.42 | 15.42 | 090
33200 |  | A | Insertion of heart pacemaker | 12.48 | NA | NA | 11.57 | 12.01 | 1.45 | NA | NA | 25.50 | 25.94 | 090
33201 |  | A | Insertion of heart pacemaker | 10.18 | NA | NA | 12.09 | 12.10 | 1.34 | NA | NA | 23.61 | 23.62 | 090
33206 |  | A | Insertion of heart pacemaker | 3.11 | NA | NA | 1.28 | 2.95 | 0.84 | NA | NA | 5.23 | 6.90 | 000
33207 |  | A | Insertion of heart pacemaker | 3.30 | NA | NA | 1.36 | 3.42 | 1.03 | NA | NA | 5.69 | 7.75 | 000
33208 |  | A | Insertion of heart pacemaker | 2.64 | NA | NA | 1.10 | 3.25 | 1.07 | NA | NA | 4.81 | 6.96 | 000
33210 |  | A | Insertion of heart electrode | 3.30 | NA | NA | 1.35 | 1.91 | 0.42 | NA | NA | 5.07 | 5.63 | 000
33211 |  | A | Insertion of heart electrode | 3.40 | NA | NA | 1.44 | 1.98 | 0.44 | NA | NA | 5.28 | 5.82 | 000
33212 |  | A | Insertion of pulse generator | 3.32 | NA | NA | 1.36 | 2.48 | 0.71 | NA | NA | 5.39 | 6.51 | 000
33213 |  | A | Insertion of pulse generator | 4.92 | NA | NA | 2.03 | 2.98 | 0.82 | NA | NA | 7.77 | 8.72 | 000
33214 |  | A | Upgrade of pacemaker system | 4.27 | NA | NA | 1.75 | 2.78 | 0.99 | NA | NA | 7.01 | 8.04 | 000
33216 |  | A | Revise eltrd pacing-defib | 3.21 | NA | NA | 1.33 | 2.36 | 0.70 | NA | NA | 5.24 | 6.27 | 000
33217 |  | A | Revise eltrd pacing-defib | 3.57 | NA | NA | 1.48 | 2.47 | 0.76 | NA | NA | 5.81 | 6.80 | 000
33218 |  | A | Revise eltrd pacing-defib | 3.26 | NA | NA | 1.34 | 2.25 | 0.70 | NA | NA | 5.30 | 6.21 | 000
33220 |  | A | Revise eltrd pacing-defib | 2.90 | NA | NA | 1.19 | 2.14 | 0.71 | NA | NA | 4.80 | 5.75 | 000
33222 |  | A | Revise pocket, pacemaker | 4.96 | NA | NA | 4.21 | 4.64 | 0.62 | NA | NA | 9.79 | 10.22 | 090
33223 |  | A | Revise pocket, pacing-defib | 6.46 | NA | NA | 5.63 | 5.77 | 0.88 | NA | NA | 12.97 | 13.11 | 090
33233 |  | A | Removal of pacemaker system | 1.11 | NA | NA | 0.46 | 1.06 | 0.44 | NA | NA | 2.01 | 2.61 | 000
33234 |  | A | Removal of pacemaker system | 5.64 | NA | NA | 2.35 | 2.53 | 1.05 | NA | NA | 9.04 | 9.22 | 000
33235 |  | A | Removal pacemaker electrode | 4.58 | NA | NA | 1.91 | 2.29 | 1.26 | NA | NA | 7.75 | 8.13 | 000
33236 |  | A | Remove electrode/thoracotomy | 12.60 | NA | NA | 11.19 | 9.47 | 1.63 | NA | NA | 25.42 | 23.70 | 090
33237 |  | A | Remove electrode/thoracotomy | 13.71 | NA | NA | 12.01 | 11.61 | 1.77 | NA | NA | 27.49 | 27.09 | 090
33238 |  | A | Remove electrode/thoracotomy | 15.22 | NA | NA | 11.41 | 11.35 | 1.41 | NA | NA | 28.04 | 27.98 | 090
33240 |  | A | Insert pulse generator | 5.13 | NA | NA | 2.14 | 3.07 | 1.03 | NA | NA | 8.30 | 9.23 | 000
33241 |  | A | Remove pulse generator | 1.51 | NA | NA | 0.63 | 1.06 | 0.44 | NA | NA | 2.58 | 3.01 | 000
33242 |  | D | Repair pulse generator/leads | 6.17 | 2.45 | 3.68 | 2.45 | 3.68 | 0.83 | 9.45 | 10.68 | 9.45 | 10.68 | 090
33243 |  | A | Remove eltrd/thoracotomy | 22.64 | NA | NA | 13.53 | 12.60 | 3.03 | NA | NA | 39.20 | 38.27 | 090
33244 |  | A | Remove eltrd, transven | 9.85 | NA | NA | 4.11 | 5.53 | 1.83 | NA | NA | 15.79 | 17.21 | 000
33245 |  | A | Insert epic eltrd pace-defib | 14.30 | NA | NA | 13.63 | 14.49 | 1.83 | NA | NA | 29.76 | 30.62 | 090
33246 |  | A | Insert epic eltrd/generator | 20.71 | NA | NA | 17.00 | 18.39 | 2.74 | NA | NA | 40.45 | 41.84 | 090
33247 |  | D | Insert/replace leads | 10.21 | 4.05 | 6.09 | 4.05 | 6.09 | 1.27 | 15.53 | 17.57 | 15.53 | 17.57 | 090
33249 |  | A | Eltrd/insert pace-defib | 11.41 | NA | NA | 4.80 | 7.57 | 1.79 | NA | NA | 18.00 | 20.77 | 000
33250 |  | A | Ablate heart dysrhythm focus | 21.85 | NA | NA | 14.28 | 13.85 | 2.97 | NA | NA | 39.10 | 38.67 | 090
33251 |  | A | Ablate heart dysrhythm focus | 24.88 | NA | NA | 18.57 | 18.38 | 3.26 | NA | NA | 46.71 | 46.52 | 090
33253 |  | A | Reconstruct atria | 31.06 | NA | NA | 21.60 | 22.12 | 4.12 | NA | NA | 56.78 | 57.30 | 090
33261 |  | A | Ablate heart dysrhythm focus | 24.88 | NA | NA | 18.92 | 17.98 | 2.94 | NA | NA | 46.74 | 45.80 | 090
33282 |  | A | Implant pat-active ht record | 2.83 | NA | NA | 1.15 | 1.15 | 0.53 | NA | NA | 4.51 | 4.51 | 000
33284 |  | A | Remove pat-active ht record | 1.16 | NA | NA | 0.47 | 0.47 | 0.33 | NA | NA | 1.96 | 1.96 | 000
33300 |  | A | Repair of heart wound | 17.92 | NA | NA | 14.78 | 14.98 | 2.33 | NA | NA | 35.03 | 35.23 | 090
33305 |  | A | Repair of heart wound | 21.44 | NA | NA | 17.53 | 17.87 | 2.81 | NA | NA | 41.78 | 42.12 | 090
33310 |  | A | Exploratory heart surgery | 18.51 | NA | NA | 16.72 | 15.60 | 2.48 | NA | NA | 37.71 | 36.59 | 090
33315 |  | A | Exploratory heart surgery | 22.37 | NA | NA | 17.98 | 17.41 | 0.03 | NA | NA | 40.38 | 39.81 | 090
33320 |  | A | Repair major blood vessel(s) | 16.79 | NA | NA | 13.62 | 14.05 | 2.14 | NA | NA | 32.55 | 32.98 | 090
33321 |  | A | Repair major vessel | 20.20 | NA | NA | 16.08 | 17.96 | 2.36 | NA | NA | 38.64 | 40.52 | 090
33322 |  | A | Repair major blood vessel(s) | 20.62 | NA | NA | 16.85 | 18.54 | 2.70 | NA | NA | 40.17 | 41.86 | 090
33330 |  | A | Insert major vessel graft | 21.43 | NA | NA | 15.66 | 15.18 | 2.79 | NA | NA | 39.88 | 39.40 | 090
33332 |  | A | Insert major vessel graft | 23.96 | NA | NA | 15.85 | 15.98 | 3.29 | NA | NA | 43.10 | 43.23 | 090
33335 |  | A | Insert major vessel graft | 30.01 | NA | NA | 20.81 | 19.70 | 3.99 | NA | NA | 54.81 | 53.70 | 090
33400 |  | A | Repair of aortic valve | 25.34 | NA | NA | 22.27 | 23.81 | 3.34 | NA | NA | 50.95 | 52.49 | 090
33401 |  | A | Valvuloplasty, open | 23.91 | NA | NA | 18.29 | 20.83 | 3.19 | NA | NA | 45.39 | 47.93 | 090
33403 |  | A | Valvuloplasty, w/cp bypass | 24.89 | NA | NA | 21.83 | 23.48 | 3.47 | NA | NA | 50.19 | 51.84 | 090
33404 |  | A | Prepare heart-aorta conduit | 28.54 | NA | NA | 23.34 | 25.98 | 3.68 | NA | NA | 55.56 | 58.20 | 090
33405 |  | A | Replacement of aortic valve | 30.61 | NA | NA | 21.23 | 24.19 | 3.97 | NA | NA | 55.81 | 58.77 | 090
33406 |  | A | Replacement of aortic valve | 32.30 | NA | NA | 22.08 | 26.20 | 4.18 | NA | NA | 58.56 | 62.68 | 090
33410 |  | A | Replacement of aortic valve | 32.46 | NA | NA | 21.99 | 21.99 | 4.21 | NA | NA | 58.66 | 58.66 | 090
33411 |  | A | Replacement of aortic valve | 32.47 | NA | NA | 22.05 | 26.23 | 4.21 | NA | NA | 58.73 | 62.91 | 090
33412 |  | A | Replacement of aortic valve | 34.79 | NA | NA | 25.59 | 29.58 | 4.18 | NA | NA | 64.56 | 68.55 | 090
33413 |  | A | Replacement of aortic valve | 35.24 | NA | NA | 26.30 | 30.24 | 4.59 | NA | NA | 66.13 | 70.07 | 090
33414 |  | A | Repair of aortic valve | 30.35 | NA | NA | 26.14 | 28.67 | 3.88 | NA | NA | 60.37 | 62.90 | 090
33415 |  | A | Revision, subvalvular tissue | 27.15 | NA | NA | 22.75 | 25.17 | 2.84 | NA | NA | 52.74 | 55.16 | 090
33416 |  | A | Revise ventricle muscle | 30.35 | NA | NA | 21.71 | 23.92 | 0.04 | NA | NA | 52.10 | 54.31 | 090
33417 |  | A | Repair of aortic valve | 28.53 | NA | NA | 25.47 | 27.62 | 3.72 | NA | NA | 57.72 | 59.87 | 090
33420 |  | A | Revision of mitral valve | 22.70 | NA | NA | 11.43 | 13.95 | 1.58 | NA | NA | 35.71 | 38.23 | 090
33422 |  | A | Revision of mitral valve | 25.94 | NA | NA | 19.74 | 22.55 | 3.34 | NA | NA | 49.02 | 51.83 | 090
33425 |  | A | Repair of mitral valve | 0.27 | NA | NA | 19.58 | 22.74 | 3.47 | NA | NA | 23.32 | 26.48 | 090
33426 |  | A | Repair of mitral valve | 31.03 | NA | NA | 21.42 | 24.74 | 4.03 | NA | NA | 56.48 | 59.80 | 090
33427 |  | A | Repair of mitral valve | 33.72 | NA | NA | 22.50 | 26.29 | 4.42 | NA | NA | 60.64 | 64.43 | 090
33430 |  | A | Replacement of mitral valve | 31.43 | NA | NA | 21.56 | 25.55 | 4.09 | NA | NA | 57.08 | 61.07 | 090
33460 |  | A | Revision of tricuspid valve | 23.60 | NA | NA | 18.32 | 20.78 | 0.03 | NA | NA | 41.95 | 44.41 | 090
33463 |  | A | Valvuloplasty, tricuspid | 25.62 | NA | NA | 19.22 | 22.06 | 3.34 | NA | NA | 48.18 | 51.02 | 090
33464 |  | A | Valvuloplasty, tricuspid | 27.33 | NA | NA | 20.03 | 23.18 | 3.57 | NA | NA | 50.93 | 54.08 | 090
33465 |  | A | Replace tricuspid valve | 28.79 | NA | NA | 20.61 | 24.05 | 3.65 | NA | NA | 53.05 | 56.49 | 090
33468 |  | A | Revision of tricuspid valve | 30.12 | NA | NA | 28.69 | 30.51 | 3.93 | NA | NA | 62.74 | 64.56 | 090
33470 |  | A | Revision of pulmonary valve | 20.81 | NA | NA | 11.28 | 13.84 | 2.50 | NA | NA | 34.59 | 37.15 | 090
33471 |  | A | Valvotomy, pulmonary valve | 22.25 | NA | NA | 13.15 | 16.51 | 1.75 | NA | NA | 37.15 | 40.51 | 090
33472 |  | A | Revision of pulmonary valve | 22.25 | NA | NA | 14.81 | 17.75 | 2.53 | NA | NA | 39.59 | 42.53 | 090
33474 |  | A | Revision of pulmonary valve | 23.04 | NA | NA | 19.11 | 21.21 | 2.62 | NA | NA | 44.77 | 46.87 | 090
33475 |  | A | Replacement, pulmonary valve | 28.41 | NA | NA | 22.03 | 25.00 | 3.73 | NA | NA | 54.17 | 57.14 | 090
33476 |  | A | Revision of heart chamber | 25.77 | NA | NA | 16.56 | 20.06 | 2.38 | NA | NA | 44.71 | 48.21 | 090
33478 |  | A | Revision of heart chamber | 26.74 | NA | NA | 22.18 | 24.62 | 3.68 | NA | NA | 52.60 | 55.04 | 090
33496 |  | A | Repair, prosth valve clot | 27.25 | NA | NA | 22.69 | 25.15 | 3.63 | NA | NA | 53.57 | 56.03 | 090
33500 |  | A | Repair heart vessel fistula | 25.55 | NA | NA | 19.25 | 22.07 | 3.10 | NA | NA | 47.90 | 50.72 | 090
33501 |  | A | Repair heart vessel fistula | 17.78 | NA | NA | 14.32 | 14.58 | 2.09 | NA | NA | 34.19 | 34.45 | 090
33502 |  | A | Coronary artery correction | 21.04 | NA | NA | 23.68 | 21.60 | 2.86 | NA | NA | 47.58 | 45.50 | 090
33503 |  | A | Coronary artery graft | 21.78 | NA | NA | 14.97 | 17.73 | 2.70 | NA | NA | 39.45 | 42.21 | 090
33504 |  | A | Coronary artery graft | 24.66 | NA | NA | 23.84 | 25.24 | 2.63 | NA | NA | 51.13 | 52.53 | 090
33505 |  | A | Repair artery w/tunnel | 26.84 | NA | NA | 15.91 | 19.94 | 3.16 | NA | NA | 45.91 | 49.94 | 090
33506 |  | A | Repair artery, translocation | 26.71 | NA | NA | 19.83 | 22.84 | 2.94 | NA | NA | 49.48 | 52.49 | 090
33510 |  | A | CABG, vein, single | 25.12 | NA | NA | 18.98 | 21.73 | 3.27 | NA | NA | 47.37 | 50.12 | 090
33511 |  | A | CABG, vein, two | 27.40 | NA | NA | 19.87 | 23.08 | 3.56 | NA | NA | 50.83 | 54.04 | 090
33512 |  | A | CABG, vein, three | 29.67 | NA | NA | 20.57 | 24.28 | 3.79 | NA | NA | 54.03 | 57.74 | 090
33513 |  | A | CABG, vein, four | 31.95 | NA | NA | 21.68 | 25.80 | 4.11 | NA | NA | 57.74 | 61.86 | 090
33514 |  | A | CABG, vein, five | 0.35 | NA | NA | 23.07 | 27.75 | 4.49 | NA | NA | 27.91 | 32.59 | 090
33516 |  | A | Cabg, vein, six or more | 37.40 | NA | NA | 24.08 | 29.22 | 4.78 | NA | NA | 66.26 | 71.40 | 090
33517 |  | A | CABG, artery-vein, single | 2.57 | NA | NA | 1.05 | 1.56 | 0.33 | NA | NA | 3.95 | 4.46 | ZZZ
33518 |  | A | CABG, artery-vein, two | 4.85 | NA | NA | 1.98 | 2.94 | 0.63 | NA | NA | 7.46 | 8.42 | ZZZ
33519 |  | A | CABG, artery-vein, three | 7.12 | NA | NA | 2.91 | 4.31 | 0.92 | NA | NA | 10.95 | 12.35 | ZZZ
33521 |  | A | CABG, artery-vein, four | 9.40 | NA | NA | 3.84 | 5.69 | 1.21 | NA | NA | 14.45 | 16.30 | ZZZ
33522 |  | A | CABG, artery-vein, five | 11.67 | NA | NA | 4.78 | 7.07 | 1.49 | NA | NA | 17.94 | 20.23 | ZZZ
33523 |  | A | Cabg, art-vein, six or more | 13.95 | NA | NA | 5.73 | 8.46 | 1.78 | NA | NA | 21.46 | 24.19 | ZZZ
33530 |  | A | Coronary artery, bypass/reop | 5.86 | NA | NA | 2.39 | 3.54 | 0.76 | NA | NA | 9.01 | 10.16 | ZZZ
33533 |  | A | CABG, arterial, single | 25.83 | NA | NA | 19.25 | 22.15 | 3.33 | NA | NA | 48.41 | 51.31 | 090
33534 |  | A | CABG, arterial, two | 28.82 | NA | NA | 19.86 | 23.50 | 3.68 | NA | NA | 52.36 | 56.00 | 090
33535 |  | A | CABG, arterial, three | 31.81 | NA | NA | 20.88 | 25.15 | 3.96 | NA | NA | 56.65 | 60.92 | 090
33536 |  | A | Cabg, arterial, four or more | 34.79 | NA | NA | 21.59 | 26.58 | 4.39 | NA | NA | 60.77 | 65.76 | 090
33542 |  | A | Removal of heart lesion | 28.85 | NA | NA | 22.46 | 25.18 | 3.76 | NA | NA | 55.07 | 57.79 | 090
33545 |  | A | Repair of heart damage | 36.78 | NA | NA | 25.43 | 28.55 | 4.80 | NA | NA | 67.01 | 70.13 | 090
33572 |  | A | Open coronary endarterectomy | 4.45 | NA | NA | 1.82 | 2.24 | 0.58 | NA | NA | 6.85 | 7.27 | ZZZ
33600 |  | A | Closure of valve | 29.51 | NA | NA | 20.23 | 23.98 | 2.58 | NA | NA | 52.32 | 56.07 | 090
33602 |  | A | Closure of valve | 28.54 | NA | NA | 20.00 | 23.27 | 2.84 | NA | NA | 51.38 | 54.65 | 090
33606 |  | A | Anastomosis/artery-aorta | 30.74 | NA | NA | 22.08 | 25.73 | 3.97 | NA | NA | 56.79 | 60.44 | 090
33608 |  | A | Repair anomaly w/conduit | 31.09 | NA | NA | 24.35 | 27.54 | 4.27 | NA | NA | 59.71 | 62.90 | 090
33610 |  | A | Repair by enlargement | 30.61 | NA | NA | 25.44 | 28.22 | 3.64 | NA | NA | 59.69 | 62.47 | 090
33611 |  | A | Repair double ventricle | 32.30 | NA | NA | 23.19 | 27.03 | 4.44 | NA | NA | 59.93 | 63.77 | 090
33612 |  | A | Repair double ventricle | 33.26 | NA | NA | 26.76 | 30.00 | 4.51 | NA | NA | 64.53 | 67.77 | 090
33615 |  | A | Repair, simple fontan | 32.06 | NA | NA | 26.81 | 29.68 | 3.88 | NA | NA | 62.75 | 65.62 | 090
33617 |  | A | Repair, modified fontan | 34.03 | NA | NA | 28.98 | 31.89 | 4.75 | NA | NA | 67.76 | 70.67 | 090
33619 |  | A | Repair single ventricle | 37.57 | NA | NA | 34.35 | 36.98 | 5.03 | NA | NA | 76.95 | 79.58 | 090
33641 |  | A | Repair heart septum defect | 21.39 | NA | NA | 15.27 | 17.84 | 2.78 | NA | NA | 39.44 | 42.01 | 090
33645 |  | A | Revision of heart veins | 24.82 | NA | NA | 20.05 | 22.45 | 3.32 | NA | NA | 48.19 | 50.59 | 090
33647 |  | A | Repair heart septum defects | 28.73 | NA | NA | 23.71 | 26.36 | 3.81 | NA | NA | 56.25 | 58.90 | 090
33660 |  | A | Repair of heart defects | 25.54 | NA | NA | 22.37 | 24.40 | 3.13 | NA | NA | 51.04 | 53.07 | 090
33665 |  | A | Repair of heart defects | 28.60 | NA | NA | 23.01 | 25.74 | 0.04 | NA | NA | 51.65 | 54.38 | 090
33670 |  | A | Repair of heart chambers | 32.73 | NA | NA | 16.81 | 22.38 | 3.35 | NA | NA | 52.89 | 58.46 | 090
33681 |  | A | Repair heart septum defect | 27.67 | NA | NA | 23.93 | 26.21 | 3.60 | NA | NA | 55.20 | 57.48 | 090
33684 |  | A | Repair heart septum defect | 29.65 | NA | NA | 22.11 | 25.43 | 3.63 | NA | NA | 55.39 | 58.71 | 090
33688 |  | A | Repair heart septum defect | 30.62 | NA | NA | 13.26 | 19.08 | 3.74 | NA | NA | 47.62 | 53.44 | 090
33690 |  | A | Reinforce pulmonary artery | 19.55 | NA | NA | 17.97 | 19.31 | 2.38 | NA | NA | 39.90 | 41.24 | 090
33692 |  | A | Repair of heart defects | 30.75 | NA | NA | 21.05 | 24.97 | 4.22 | NA | NA | 56.02 | 59.94 | 090
33694 |  | A | Repair of heart defects | 31.73 | NA | NA | 21.44 | 25.55 | 3.36 | NA | NA | 56.53 | 60.64 | 090
33697 |  | A | Repair of heart defects | 33.71 | NA | NA | 22.24 | 26.74 | 4.52 | NA | NA | 60.47 | 64.97 | 090
33702 |  | A | Repair of heart defects | 26.54 | NA | NA | 22.68 | 24.93 | 3.55 | NA | NA | 52.77 | 55.02 | 090
33710 |  | A | Repair of heart defects | 29.71 | NA | NA | 20.63 | 24.34 | 4.15 | NA | NA | 54.49 | 58.20 | 090
33720 |  | A | Repair of heart defect | 26.56 | NA | NA | 21.31 | 23.91 | 3.56 | NA | NA | 51.43 | 54.03 | 090
33722 |  | A | Repair of heart defect | 28.41 | NA | NA | 24.35 | 26.53 | 3.97 | NA | NA | 56.73 | 58.91 | 090
33730 |  | A | Repair heart-vein defect(s) | 31.67 | NA | NA | 18.46 | 23.30 | 4.24 | NA | NA | 54.37 | 59.21 | 090
33732 |  | A | Repair heart-vein defect | 28.16 | NA | NA | 19.98 | 23.39 | 3.93 | NA | NA | 52.07 | 55.48 | 090
33735 |  | A | Revision of heart chamber | 21.39 | NA | NA | 16.06 | 19.02 | 2.21 | NA | NA | 39.66 | 42.62 | 090
33736 |  | A | Revision of heart chamber | 23.52 | NA | NA | 21.57 | 23.15 | 3.03 | NA | NA | 48.12 | 49.70 | 090
33737 |  | A | Revision of heart chamber | 21.76 | NA | NA | 18.24 | 20.18 | 0.86 | NA | NA | 40.86 | 42.80 | 090
33750 |  | A | Major vessel shunt | 21.41 | NA | NA | 13.17 | 15.87 | 2.72 | NA | NA | 37.30 | 40.00 | 090
33755 |  | A | Major vessel shunt | 21.79 | NA | NA | 12.97 | 15.72 | 1.37 | NA | NA | 36.13 | 38.88 | 090
33762 |  | A | Major vessel shunt | 21.79 | NA | NA | 12.97 | 15.72 | 2.95 | NA | NA | 37.71 | 40.46 | 090
33764 |  | A | Major vessel shunt & graft | 21.79 | NA | NA | 14.29 | 16.71 | 2.07 | NA | NA | 38.15 | 40.57 | 090
33766 |  | A | Major vessel shunt | 22.76 | NA | NA | 20.06 | 21.04 | 3.08 | NA | NA | 45.90 | 46.88 | 090
33767 |  | A | Major vessel shunt | 24.50 | NA | NA | 15.20 | 18.37 | 3.49 | NA | NA | 43.19 | 46.36 | 090
33770 |  | A | Repair great vessels defect | 33.29 | NA | NA | 22.08 | 26.50 | 2.76 | NA | NA | 58.13 | 62.55 | 090
33771 |  | A | Repair great vessels defect | 34.65 | NA | NA | 16.38 | 22.63 | 2.87 | NA | NA | 53.90 | 60.15 | 090
33774 |  | A | Repair great vessels defect | 30.98 | NA | NA | 23.14 | 25.84 | 1.18 | NA | NA | 55.30 | 58.00 | 090
33775 |  | A | Repair great vessels defect | 32.20 | NA | NA | 17.10 | 21.31 | 2.67 | NA | NA | 51.97 | 56.18 | 090
33776 |  | A | Repair great vessels defect | 34.04 | NA | NA | 17.83 | 22.85 | 2.82 | NA | NA | 54.69 | 59.71 | 090
33777 |  | A | Repair great vessels defect | 33.46 | NA | NA | 17.60 | 21.69 | 2.77 | NA | NA | 53.83 | 57.92 | 090
33778 |  | A | Repair great vessels defect | 35.82 | NA | NA | 24.62 | 29.16 | 2.97 | NA | NA | 63.41 | 67.95 | 090
33779 |  | A | Repair great vessels defect | 36.21 | NA | NA | 16.37 | 23.09 | 4.72 | NA | NA | 57.30 | 64.02 | 090
33780 |  | A | Repair great vessels defect | 36.94 | NA | NA | 18.98 | 25.26 | 5.08 | NA | NA | 61.00 | 67.28 | 090
33781 |  | A | Repair great vessels defect | 36.45 | NA | NA | 16.86 | 23.53 | 3.02 | NA | NA | 56.33 | 63.00 | 090
33786 |  | A | Repair arterial trunk | 34.84 | NA | NA | 18.14 | 24.00 | 2.88 | NA | NA | 55.86 | 61.72 | 090
33788 |  | A | Revision of pulmonary artery | 26.62 | NA | NA | 14.64 | 18.93 | 2.21 | NA | NA | 43.47 | 47.76 | 090
33800 |  | A | Aortic suspension | 16.24 | NA | NA | 17.96 | 17.31 | 1.95 | NA | NA | 36.15 | 35.50 | 090
33802 |  | A | Repair vessel defect | 17.66 | NA | NA | 17.86 | 18.67 | 2.40 | NA | NA | 37.92 | 38.73 | 090
33803 |  | A | Repair vessel defect | 19.60 | NA | NA | 12.10 | 14.93 | 2.35 | NA | NA | 34.05 | 36.88 | 090
33813 |  | A | Repair septal defect | 20.65 | NA | NA | 16.34 | 18.25 | 2.92 | NA | NA | 39.91 | 41.82 | 090
33814 |  | A | Repair septal defect | 25.77 | NA | NA | 21.49 | 23.81 | 3.47 | NA | NA | 50.73 | 53.05 | 090
33820 |  | A | Revise major vessel | 16.29 | NA | NA | 16.46 | 17.21 | 2.05 | NA | NA | 34.80 | 35.55 | 090
33822 |  | A | Revise major vessel | 17.32 | NA | NA | 11.20 | 13.57 | 2.19 | NA | NA | 30.71 | 33.08 | 090
33824 |  | A | Revise major vessel | 19.52 | NA | NA | 17.41 | 18.88 | 2.45 | NA | NA | 39.38 | 40.85 | 090
33840 |  | A | Remove aorta constriction | 20.63 | NA | NA | 19.94 | 21.11 | 2.89 | NA | NA | 43.46 | 44.63 | 090
33845 |  | A | Remove aorta constriction | 22.12 | NA | NA | 18.65 | 20.59 | 3.10 | NA | NA | 43.87 | 45.81 | 090
33851 |  | A | Remove aorta constriction | 21.27 | NA | NA | 22.24 | 23.03 | 2.92 | NA | NA | 46.43 | 47.22 | 090
33852 |  | A | Repair septal defect | 23.71 | NA | NA | 21.42 | 23.14 | 3.07 | NA | NA | 48.20 | 49.92 | 090
33853 |  | A | Repair septal defect | 31.72 | NA | NA | 28.53 | 30.86 | 4.07 | NA | NA | 64.32 | 66.65 | 090
33860 |  | A | Ascending aortic graft | 33.96 | NA | NA | 22.70 | 26.44 | 4.46 | NA | NA | 61.12 | 64.86 | 090
33861 |  | A | Ascending aortic graft | 34.52 | NA | NA | 22.46 | 26.26 | 4.58 | NA | NA | 61.56 | 65.36 | 090
33863 |  | A | Ascending aortic graft | 36.47 | NA | NA | 23.38 | 26.95 | 4.77 | NA | NA | 64.62 | 68.19 | 090
33870 |  | A | Transverse aortic arch graft | 40.31 | NA | NA | 25.09 | 30.84 | 5.38 | NA | NA | 70.78 | 76.53 | 090
33875 |  | A | Thoracic aortic graft | 33.06 | NA | NA | 21.33 | 24.48 | 4.27 | NA | NA | 58.66 | 61.81 | 090
33877 |  | A | Thoracoabdominal graft | 42.60 | NA | NA | 26.55 | 31.88 | 5.48 | NA | NA | 74.63 | 79.96 | 090
33910 |  | A | Remove lung artery emboli | 24.59 | NA | NA | 17.98 | 17.46 | 3.12 | NA | NA | 45.69 | 45.17 | 090
33915 |  | A | Remove lung artery emboli | 21.02 | NA | NA | 13.96 | 13.73 | 2.26 | NA | NA | 37.24 | 37.01 | 090
33916 |  | A | Surgery of great vessel | 25.83 | NA | NA | 17.22 | 17.68 | 3.27 | NA | NA | 46.32 | 46.78 | 090
33917 |  | A | Repair pulmonary artery | 24.50 | NA | NA | 20.89 | 22.98 | 3.30 | NA | NA | 48.69 | 50.78 | 090
33918 |  | A | Repair pulmonary atresia | 26.45 | NA | NA | 14.82 | 19.01 | 3.77 | NA | NA | 45.04 | 49.23 | 090
33919 |  | A | Repair pulmonary atresia | 32.67 | NA | NA | 17.28 | 22.71 | 4.56 | NA | NA | 54.51 | 59.94 | 090
33920 |  | A | Repair pulmonary atresia | 31.95 | NA | NA | 23.86 | 27.43 | 4.47 | NA | NA | 60.28 | 63.85 | 090
33922 |  | A | Transect pulmonary artery | 23.52 | NA | NA | 20.14 | 22.13 | 2.40 | NA | NA | 46.06 | 48.05 | 090
33924 |  | A | Remove pulmonary shunt | 5.50 | NA | NA | 2.25 | 2.77 | 0.77 | NA | NA | 8.52 | 9.04 | ZZZ
33930 |  | X | Removal of donor heart/lung | 0.00 | 0.00 | 0.00 | 0.00 | 0.00 | 0.00 | 0.00 | 0.00 | 0.00 | 0.00 | XXX
33935 |  | R | Transplantation, heart/lung | 60.96 | NA | NA | 33.84 | 43.58 | 8.06 | NA | NA | 102.86 | 112.60 | 090
33940 |  | X | Removal of donor heart | 0.00 | 0.00 | 0.00 | 0.00 | 0.00 | 0.00 | 0.00 | 0.00 | 0.00 | 0.00 | XXX
33945 |  | R | Transplantation of heart | 42.10 | NA | NA | 26.76 | 32.64 | 5.60 | NA | NA | 74.46 | 80.34 | 090
33960 |  | A | External circulation assist | 19.36 | NA | NA | 6.06 | 6.45 | 1.59 | NA | NA | 27.01 | 27.40 | XXX
33961 |  | A | External circulation assist | 10.93 | NA | NA | 4.16 | 5.02 | 1.35 | NA | NA | 16.44 | 17.30 | ZZZ
33968 |  | A | Remove aortic assist device | 0.64 | NA | NA | 0.25 | 0.25 | 0.27 | NA | NA | 1.16 | 1.16 | 000
33970 |  | A | Aortic circulation assist | 6.75 | NA | NA | 2.77 | 4.09 | 0.91 | NA | NA | 10.43 | 11.75 | 000
33971 |  | A | Aortic circulation assist | 9.69 | NA | NA | 9.64 | 8.63 | 1.29 | NA | NA | 20.62 | 19.61 | 090
33973 |  | A | Insert balloon device | 9.76 | NA | NA | 3.98 | 5.03 | 1.32 | NA | NA | 15.06 | 16.11 | 000
33974 |  | A | Remove intra-aortic balloon | 14.41 | NA | NA | 12.73 | 11.06 | 1.94 | NA | NA | 29.08 | 27.41 | 090
33975 |  | A | Implant ventricular device | 0.21 | NA | NA | 8.53 | 10.25 | 2.86 | NA | NA | 11.60 | 13.32 | XXX
33976 |  | A | Implant ventricular device | 0.23 | NA | NA | 9.36 | 12.27 | 3.91 | NA | NA | 13.50 | 16.41 | XXX
33977 |  | A | Remove ventricular device | 19.29 | NA | NA | 13.26 | 13.31 | 2.56 | NA | NA | 35.11 | 35.16 | 090
33978 |  | A | Remove ventricular device | 21.73 | NA | NA | 14.17 | 14.48 | 2.89 | NA | NA | 38.79 | 39.10 | 090
33999 |  | C | Cardiac surgery procedure | 0.00 | 0.00 | 0.00 | 0.00 | 0.00 | 0.00 | 0.00 | 0.00 | 0.00 | 0.00 | YYY
34001 |  | A | Removal of artery clot | 12.91 | NA | NA | 6.36 | 7.37 | 1.56 | NA | NA | 20.83 | 21.84 | 090
34051 |  | A | Removal of artery clot | 15.21 | NA | NA | 7.77 | 8.22 | 1.85 | NA | NA | 24.83 | 25.28 | 090
34101 |  | A | Removal of artery clot | 9.97 | NA | NA | 5.04 | 6.04 | 1.13 | NA | NA | 16.14 | 17.14 | 090
34111 |  | A | Removal of arm artery clot | 8.07 | NA | NA | 4.36 | 5.33 | 0.84 | NA | NA | 13.27 | 14.24 | 090
34151 |  | A | Removal of artery clot | 16.86 | NA | NA | 7.91 | 9.18 | 1.87 | NA | NA | 26.64 | 27.91 | 090
34201 |  | A | Removal of artery clot | 9.13 | NA | NA | 5.09 | 6.23 | 1.06 | NA | NA | 15.28 | 16.42 | 090
34203 |  | A | Removal of leg artery clot | 12.21 | NA | NA | 6.34 | 7.10 | 1.43 | NA | NA | 19.98 | 20.74 | 090
34401 |  | A | Removal of vein clot | 12.86 | NA | NA | 6.31 | 6.92 | 1.25 | NA | NA | 20.42 | 21.03 | 090
34421 |  | A | Removal of vein clot | 9.93 | NA | NA | 5.56 | 6.19 | 0.97 | NA | NA | 16.46 | 17.09 | 090
34451 |  | A | Removal of vein clot | 14.44 | NA | NA | 6.90 | 8.08 | 1.60 | NA | NA | 22.94 | 24.12 | 090
34471 |  | A | Removal of vein clot | 10.18 | NA | NA | 4.96 | 4.67 | 0.01 | NA | NA | 15.15 | 14.86 | 090
34490 |  | A | Removal of vein clot | 7.60 | NA | NA | 5.56 | 6.14 | 0.76 | NA | NA | 13.92 | 14.50 | 090
34501 |  | A | Repair valve, femoral vein | 10.93 | NA | NA | 8.35 | 8.26 | 1.43 | NA | NA | 20.71 | 20.62 | 090
34502 |  | A | Reconstruct vena cava | 26.95 | NA | NA | 12.48 | 14.42 | 2.97 | NA | NA | 42.40 | 44.34 | 090
34510 |  | A | Transposition of vein valve | 13.25 | NA | NA | 10.63 | 10.39 | 1.64 | NA | NA | 25.52 | 25.28 | 090
34520 |  | A | Cross-over vein graft | 13.74 | NA | NA | 7.91 | 8.47 | 1.64 | NA | NA | 23.29 | 23.85 | 090
34530 |  | A | Leg vein fusion | 17.61 | NA | NA | 9.52 | 10.49 | 0.02 | NA | NA | 27.15 | 28.12 | 090
35001 |  | A | Repair defect of artery | 19.64 | NA | NA | 9.31 | 11.30 | 2.51 | NA | NA | 31.46 | 33.45 | 090
35002 |  | A | Repair artery rupture, neck | 0.21 | NA | NA | 9.42 | 10.50 | 2.43 | NA | NA | 12.06 | 13.14 | 090
35005 |  | A | Repair defect of artery | 18.12 | NA | NA | 8.19 | 8.93 | 1.40 | NA | NA | 27.71 | 28.45 | 090
35011 |  | A | Repair defect of artery | 11.65 | NA | NA | 5.72 | 7.77 | 1.36 | NA | NA | 18.73 | 20.78 | 090
35013 |  | A | Repair artery rupture, arm | 17.40 | NA | NA | 7.73 | 9.79 | 0.02 | NA | NA | 25.15 | 27.21 | 090
35021 |  | A | Repair defect of artery | 19.65 | NA | NA | 10.14 | 12.53 | 2.42 | NA | NA | 32.21 | 34.60 | 090
35022 |  | A | Repair artery rupture, chest | 23.18 | NA | NA | 9.78 | 11.35 | 2.15 | NA | NA | 35.11 | 6.68 | 090
35045 |  | A | Repair defect of arm artery | 11.26 | NA | NA | 6.68 | 8.36 | 1.26 | NA | NA | 19.20 | 20.88 | 090
35081 |  | A | Repair defect of artery | 28.01 | NA | NA | 12.65 | 15.31 | 3.30 | NA | NA | 43.96 | 46.62 | 090
35082 |  | A | Repair artery rupture, aorta | 36.35 | NA | NA | 14.91 | 17.40 | 4.14 | NA | NA | 55.40 | 57.89 | 090
35091 |  | A | Repair defect of artery | 35.40 | NA | NA | 15.36 | 17.67 | 4.28 | NA | NA | 55.04 | 57.35 | 090
35092 |  | A | Repair artery rupture, aorta | 38.39 | NA | NA | 16.08 | 19.19 | 4.48 | NA | NA | 58.95 | 62.06 | 090
35102 |  | A | Repair defect of artery | 30.76 | NA | NA | 13.47 | 16.11 | 3.65 | NA | NA | 47.88 | 50.52 | 090
35103 |  | A | Repair artery rupture, groin | 33.57 | NA | NA | 14.15 | 17.71 | 3.84 | NA | NA | 51.56 | 55.12 | 090
35111 |  | A | Repair defect of artery | 16.43 | NA | NA | 7.76 | 10.60 | 1.82 | NA | NA | 26.01 | 28.85 | 090
35112 |  | A | Repair artery rupture,spleen | 18.69 | NA | NA | 8.32 | 9.08 | 2.14 | NA | NA | 29.15 | 29.91 | 090
35121 |  | A | Repair defect of artery | 25.99 | NA | NA | 11.71 | 13.97 | 3.10 | NA | NA | 40.80 | 43.06 | 090
35122 |  | A | Repair artery rupture, belly | 33.45 | NA | NA | 14.23 | 15.54 | 3.69 | NA | NA | 51.37 | 52.68 | 090
35131 |  | A | Repair defect of artery | 18.55 | NA | NA | 8.94 | 11.01 | 2.20 | NA | NA | 29.69 | 31.76 | 090
35132 |  | A | Repair artery rupture, groin | 21.95 | NA | NA | 9.94 | 12.52 | 2.47 | NA | NA | 34.36 | 36.94 | 090
35141 |  | A | Repair defect of artery | 14.46 | NA | NA | 7.31 | 9.47 | 1.73 | NA | NA | 23.50 | 25.66 | 090
35142 |  | A | Repair artery rupture, thigh | 15.86 | NA | NA | 7.63 | 10.09 | 1.92 | NA | NA | 25.41 | 27.87 | 090
35151 |  | A | Repair defect of artery | 0.17 | NA | NA | 8.20 | 10.32 | 2.01 | NA | NA | 10.38 | 12.50 | 090
35152 |  | A | Repair artery rupture, knee | 16.70 | NA | NA | 8.18 | 8.65 | 2.01 | NA | NA | 26.89 | 27.36 | 090
35161 |  | A | Repair defect of artery | 18.76 | NA | NA | 9.56 | 11.48 | 2.19 | NA | NA | 30.51 | 32.43 | 090
35162 |  | A | Repair artery rupture | 19.78 | NA | NA | 9.78 | 12.40 | 2.26 | NA | NA | 31.82 | 34.44 | 090
35180 |  | A | Repair blood vessel lesion | 13.62 | NA | NA | 6.97 | 7.23 | 1.53 | NA | NA | 22.12 | 22.38 | 090
35182 |  | A | Repair blood vessel lesion | 17.74 | NA | NA | 8.93 | 9.59 | 2.19 | NA | NA | 28.86 | 29.52 | 090
35184 |  | A | Repair blood vessel lesion | 12.25 | NA | NA | 6.22 | 7.31 | 1.45 | NA | NA | 19.92 | 21.01 | 090
35188 |  | A | Repair blood vessel lesion | 14.28 | NA | NA | 6.78 | 7.29 | 1.70 | NA | NA | 22.76 | 23.27 | 090
35189 |  | A | Repair blood vessel lesion | 18.43 | NA | NA | 9.10 | 9.90 | 2.17 | NA | NA | 29.70 | 30.50 | 090
35190 |  | A | Repair blood vessel lesion | 12.75 | NA | NA | 6.37 | 7.58 | 1.48 | NA | NA | 20.60 | 21.81 | 090
35201 |  | A | Repair blood vessel lesion | 9.99 | NA | NA | 5.28 | 6.69 | 1.23 | NA | NA | 16.50 | 17.91 | 090
35206 |  | A | Repair blood vessel lesion | 9.25 | NA | NA | 6.15 | 7.37 | 1.06 | NA | NA | 16.46 | 17.68 | 090
35207 |  | A | Repair blood vessel lesion | 10.15 | NA | NA | 8.67 | 9.43 | 1.06 | NA | NA | 19.88 | 20.64 | 090
35211 |  | A | Repair blood vessel lesion | 22.12 | NA | NA | 17.68 | 16.89 | 2.91 | NA | NA | 42.71 | 41.92 | 090
35216 |  | A | Repair blood vessel lesion | 18.75 | NA | NA | 13.90 | 13.32 | 2.24 | NA | NA | 34.89 | 34.31 | 090
35221 |  | A | Repair blood vessel lesion | 16.42 | NA | NA | 7.89 | 8.93 | 1.81 | NA | NA | 26.12 | 27.16 | 090
35226 |  | A | Repair blood vessel lesion | 9.06 | NA | NA | 6.96 | 7.93 | 1.15 | NA | NA | 17.17 | 18.14 | 090
35231 |  | A | Repair blood vessel lesion | 0.12 | NA | NA | 6.65 | 8.57 | 1.38 | NA | NA | 8.15 | 10.07 | 090
35236 |  | A | Repair blood vessel lesion | 10.54 | NA | NA | 6.73 | 8.19 | 1.23 | NA | NA | 18.50 | 19.96 | 090
35241 |  | A | Repair blood vessel lesion | 23.12 | NA | NA | 19.86 | 18.56 | 2.84 | NA | NA | 45.82 | 44.52 | 090
35246 |  | A | Repair blood vessel lesion | 19.84 | NA | NA | 14.12 | 15.19 | 2.42 | NA | NA | 36.38 | 37.45 | 090
35251 |  | A | Repair blood vessel lesion | 17.49 | NA | NA | 8.01 | 8.61 | 1.87 | NA | NA | 27.37 | 27.97 | 090
35256 |  | A | Repair blood vessel lesion | 11.38 | NA | NA | 7.05 | 8.65 | 1.37 | NA | NA | 19.80 | 21.40 | 090
35261 |  | A | Repair blood vessel lesion | 11.63 | NA | NA | 5.81 | 7.83 | 1.38 | NA | NA | 18.82 | 20.84 | 090
35266 |  | A | Repair blood vessel lesion | 10.30 | NA | NA | 6.37 | 7.85 | 1.24 | NA | NA | 17.91 | 19.39 | 090
35271 |  | A | Repair blood vessel lesion | 22.12 | NA | NA | 17.64 | 16.63 | 2.95 | NA | NA | 42.71 | 41.70 | 090
35276 |  | A | Repair blood vessel lesion | 18.75 | NA | NA | 15.11 | 14.28 | 2.50 | NA | NA | 36.36 | 35.53 | 090
35281 |  | A | Repair blood vessel lesion | 16.48 | NA | NA | 7.93 | 10.64 | 1.84 | NA | NA | 26.25 | 28.96 | 090
35286 |  | A | Repair blood vessel lesion | 11.87 | NA | NA | 7.52 | 8.82 | 1.39 | NA | NA | 20.78 | 22.08 | 090
35301 |  | A | Rechanneling of artery | 18.70 | NA | NA | 9.48 | 11.03 | 2.29 | NA | NA | 30.47 | 32.02 | 090
35311 |  | A | Rechanneling of artery | 23.85 | NA | NA | 12.09 | 15.05 | 3.12 | NA | NA | 39.06 | 42.02 | 090
35321 |  | A | Rechanneling of artery | 11.97 | NA | NA | 5.92 | 7.96 | 1.40 | NA | NA | 19.29 | 21.33 | 090
35331 |  | A | Rechanneling of artery | 23.52 | NA | NA | 10.77 | 11.70 | 2.88 | NA | NA | 37.17 | 38.10 | 090
35341 |  | A | Rechanneling of artery | 25.11 | NA | NA | 11.34 | 13.22 | 3.07 | NA | NA | 39.52 | 41.40 | 090
35351 |  | A | Rechanneling of artery | 20.11 | NA | NA | 9.40 | 11.11 | 2.33 | NA | NA | 31.84 | 33.55 | 090
35355 |  | A | Rechanneling of artery | 16.09 | NA | NA | 7.85 | 10.07 | 1.86 | NA | NA | 25.80 | 28.02 | 090
35361 |  | A | Rechanneling of artery | 23.59 | NA | NA | 10.70 | 13.28 | 2.74 | NA | NA | 37.03 | 39.61 | 090
35363 |  | A | Rechanneling of artery | 24.66 | NA | NA | 11.26 | 14.62 | 2.81 | NA | NA | 38.73 | 42.09 | 090
35371 |  | A | Rechanneling of artery | 11.64 | NA | NA | 5.94 | 7.85 | 1.37 | NA | NA | 18.95 | 20.86 | 090
35372 |  | A | Rechanneling of artery | 13.56 | NA | NA | 6.68 | 8.05 | 1.59 | NA | NA | 21.83 | 23.20 | 090
35381 |  | A | Rechanneling of artery | 15.81 | NA | NA | 7.75 | 9.52 | 1.85 | NA | NA | 25.41 | 27.18 | 090
35390 |  | A | Reoperation, carotid add-on | 3.19 | NA | NA | 1.22 | 1.37 | 0.40 | NA | NA | 4.81 | 4.96 | ZZZ
35400 |  | A | Angioscopy | 0.03 | NA | NA | 1.14 | 1.47 | 0.27 | NA | NA | 1.44 | 1.77 | ZZZ
35450 |  | A | Repair arterial blockage | 10.07 | NA | NA | 4.51 | 6.39 | 1.17 | NA | NA | 15.75 | 17.63 | 000
35452 |  | A | Repair arterial blockage | 6.91 | NA | NA | 3.31 | 3.66 | 0.83 | NA | NA | 11.05 | 11.40 | 000
35454 |  | A | Repair arterial blockage | 6.04 | NA | NA | 2.87 | 3.96 | 0.71 | NA | NA | 9.62 | 10.71 | 000
35456 |  | A | Repair arterial blockage | 7.35 | NA | NA | 3.42 | 4.76 | 0.87 | NA | NA | 11.64 | 12.98 | 000
35458 |  | A | Repair arterial blockage | 9.49 | NA | NA | 4.26 | 5.94 | 1.13 | NA | NA | 14.88 | 16.56 | 000
35459 |  | A | Repair arterial blockage | 8.63 | NA | NA | 3.85 | 5.46 | 0.99 | NA | NA | 13.47 | 15.08 | 000
35460 |  | A | Repair venous blockage | 6.04 | NA | NA | 2.71 | 2.89 | 0.64 | NA | NA | 9.39 | 9.57 | 000
35470 |  | A | Repair arterial blockage | 8.63 | NA | NA | 4.00 | 5.58 | 0.68 | NA | NA | 13.31 | 14.89 | 000
35471 |  | A | Repair arterial blockage | 10.07 | NA | NA | 4.60 | 6.46 | 0.82 | NA | NA | 15.49 | 17.35 | 000
35472 |  | A | Repair arterial blockage | 6.91 | NA | NA | 3.34 | 3.49 | 0.55 | NA | NA | 10.80 | 10.95 | 000
35473 |  | A | Repair arterial blockage | 6.04 | NA | NA | 2.97 | 4.03 | 0.41 | NA | NA | 9.42 | 10.48 | 000
35474 |  | A | Repair arterial blockage | 7.36 | NA | NA | 3.48 | 4.81 | 0.53 | NA | NA | 11.37 | 12.70 | 000
35475 |  | R | Repair arterial blockage | 9.49 | NA | NA | 4.15 | 5.86 | 0.51 | NA | NA | 14.15 | 15.86 | 000
35476 |  | A | Repair venous blockage | 6.04 | NA | NA | 2.87 | 3.01 | 0.26 | NA | NA | 9.17 | 9.31 | 000
35480 |  | A | Atherectomy, open | 11.08 | NA | NA | 4.78 | 6.89 | 1.16 | NA | NA | 17.02 | 19.13 | 000
35481 |  | A | Atherectomy, open | 7.61 | NA | NA | 3.77 | 4.01 | 0.95 | NA | NA | 12.33 | 12.57 | 000
35482 |  | A | Atherectomy, open | 6.65 | NA | NA | 3.27 | 4.44 | 0.83 | NA | NA | 10.75 | 11.92 | 000
35483 |  | A | Atherectomy, open | 8.10 | NA | NA | 3.70 | 5.19 | 0.98 | NA | NA | 12.78 | 14.27 | 000
35484 |  | A | Atherectomy, open | 10.44 | NA | NA | 4.65 | 6.24 | 1.11 | NA | NA | 16.20 | 17.79 | 000
35485 |  | A | Atherectomy, open | 9.49 | NA | NA | 4.26 | 4.42 | 1.15 | NA | NA | 14.90 | 15.06 | 000
35490 |  | A | Atherectomy, percutaneous | 11.08 | NA | NA | 4.91 | 6.99 | 1.03 | NA | NA | 17.02 | 19.10 | 000
35491 |  | A | Atherectomy, percutaneous | 7.61 | NA | NA | 3.51 | 3.81 | 0.77 | NA | NA | 11.89 | 12.19 | 000
35492 |  | A | Atherectomy, percutaneous | 6.65 | NA | NA | 3.22 | 4.40 | 0.71 | NA | NA | 10.58 | 11.76 | 000
35493 |  | A | Atherectomy, percutaneous | 8.10 | NA | NA | 4.06 | 5.46 | 0.91 | NA | NA | 13.07 | 14.47 | 000
35494 |  | A | Atherectomy, percutaneous | 10.44 | NA | NA | 4.53 | 6.15 | 0.50 | NA | NA | 15.47 | 17.09 | 000
35495 |  | A | Atherectomy, percutaneous | 9.49 | NA | NA | 4.74 | 4.78 | 1.09 | NA | NA | 15.32 | 15.36 | 000
35500 |  | A | Harvest vein for bypass | 6.45 | NA | NA | 2.42 | 2.42 | 0.73 | NA | NA | 9.60 | 9.60 | ZZZ
35501 |  | A | Artery bypass graft | 19.19 | NA | NA | 7.22 | 10.67 | 2.39 | NA | NA | 28.80 | 32.25 | 090
35506 |  | A | Artery bypass graft | 19.67 | NA | NA | 9.22 | 12.12 | 2.41 | NA | NA | 31.30 | 34.20 | 090
35507 |  | A | Artery bypass graft | 19.67 | NA | NA | 9.17 | 11.74 | 2.43 | NA | NA | 31.27 | 33.84 | 090
35508 |  | A | Artery bypass graft | 18.65 | NA | NA | 9.04 | 11.69 | 2.42 | NA | NA | 30.11 | 32.76 | 090
35509 |  | A | Artery bypass graft | 18.07 | NA | NA | 8.17 | 11.26 | 2.21 | NA | NA | 28.45 | 31.54 | 090
35511 |  | A | Artery bypass graft | 16.83 | NA | NA | 8.06 | 8.87 | 0.02 | NA | NA | 24.91 | 25.72 | 090
35515 |  | A | Artery bypass graft | 18.65 | NA | NA | 8.73 | 9.60 | 2.39 | NA | NA | 29.77 | 30.64 | 090
35516 |  | A | Artery bypass graft | 16.32 | NA | NA | 7.60 | 10.41 | 0.02 | NA | NA | 23.94 | 26.75 | 090
35518 |  | A | Artery bypass graft | 15.42 | NA | NA | 6.88 | 9.76 | 1.74 | NA | NA | 24.04 | 26.92 | 090
35521 |  | A | Artery bypass graft | 16.17 | NA | NA | 7.91 | 10.69 | 1.88 | NA | NA | 25.96 | 28.74 | 090
35526 |  | A | Artery bypass graft | 0.20 | NA | NA | 10.05 | 11.05 | 2.48 | NA | NA | 12.73 | 13.73 | 090
35531 |  | A | Artery bypass graft | 25.61 | NA | NA | 11.45 | 14.08 | 3.04 | NA | NA | 40.10 | 42.73 | 090
35533 |  | A | Artery bypass graft | 20.52 | NA | NA | 9.51 | 12.84 | 2.27 | NA | NA | 32.30 | 35.63 | 090
35536 |  | A | Artery bypass graft | 23.11 | NA | NA | 10.45 | 13.64 | 2.90 | NA | NA | 36.46 | 39.65 | 090
35541 |  | A | Artery bypass graft | 25.80 | NA | NA | 11.88 | 14.22 | 3.08 | NA | NA | 40.76 | 43.10 | 090
35546 |  | A | Artery bypass graft | 25.54 | NA | NA | 11.51 | 14.44 | 2.91 | NA | NA | 39.96 | 42.89 | 090
35548 |  | A | Artery bypass graft | 21.57 | NA | NA | 10.11 | 12.89 | 2.34 | NA | NA | 34.02 | 36.80 | 090
35549 |  | A | Artery bypass graft | 23.35 | NA | NA | 10.99 | 14.05 | 2.69 | NA | NA | 37.03 | 40.09 | 090
35551 |  | A | Artery bypass graft | 26.67 | NA | NA | 12.32 | 14.46 | 2.85 | NA | NA | 41.84 | 43.98 | 090
35556 |  | A | Artery bypass graft | 21.76 | NA | NA | 10.06 | 12.62 | 2.57 | NA | NA | 34.39 | 36.95 | 090
35558 |  | A | Artery bypass graft | 14.04 | NA | NA | 7.06 | 9.49 | 1.61 | NA | NA | 22.71 | 25.14 | 090
35560 |  | A | Artery bypass graft | 23.56 | NA | NA | 11.13 | 13.83 | 2.84 | NA | NA | 37.53 | 40.23 | 090
35563 |  | A | Artery bypass graft | 15.14 | NA | NA | 7.86 | 8.15 | 1.71 | NA | NA | 24.71 | 25.00 | 090
35565 |  | A | Artery bypass graft | 15.14 | NA | NA | 7.51 | 10.15 | 1.78 | NA | NA | 24.43 | 27.07 | 090
35566 |  | A | Artery bypass graft | 26.92 | NA | NA | 15.00 | 16.85 | 3.22 | NA | NA | 45.14 | 46.99 | 090
35571 |  | A | Artery bypass graft | 18.58 | NA | NA | 10.37 | 13.03 | 2.22 | NA | NA | 31.17 | 33.83 | 090
35582 |  | A | Vein bypass graft | 27.13 | NA | NA | 11.64 | 15.17 | 3.14 | NA | NA | 41.91 | 45.44 | 090
35583 |  | A | Vein bypass graft | 22.37 | NA | NA | 11.14 | 13.90 | 2.63 | NA | NA | 36.14 | 38.90 | 090
35585 |  | A | Vein bypass graft | 28.39 | NA | NA | 14.75 | 17.29 | 3.33 | NA | NA | 46.47 | 49.01 | 090
35587 |  | A | Vein bypass graft | 19.05 | NA | NA | 11.39 | 14.23 | 2.23 | NA | NA | 32.67 | 35.51 | 090
35601 |  | A | Artery bypass graft | 17.50 | NA | NA | 7.99 | 11.10 | 2.16 | NA | NA | 27.65 | 30.76 | 090
35606 |  | A | Artery bypass graft | 18.71 | NA | NA | 8.65 | 11.25 | 2.27 | NA | NA | 29.63 | 32.23 | 090
35612 |  | A | Artery bypass graft | 15.76 | NA | NA | 7.68 | 10.31 | 1.90 | NA | NA | 25.34 | 27.97 | 090
35616 |  | A | Artery bypass graft | 15.70 | NA | NA | 7.35 | 10.07 | 1.93 | NA | NA | 24.98 | 27.70 | 090
35621 |  | A | Artery bypass graft | 14.54 | NA | NA | 7.40 | 9.89 | 1.74 | NA | NA | 23.68 | 26.17 | 090
35623 |  | A | Bypass graft, not vein | 16.62 | NA | NA | 8.02 | 8.20 | 0.02 | NA | NA | 24.66 | 24.84 | 090
35626 |  | A | Artery bypass graft | 23.63 | NA | NA | 11.33 | 14.06 | 2.98 | NA | NA | 37.94 | 40.67 | 090
35631 |  | A | Artery bypass graft | 24.60 | NA | NA | 11.14 | 13.20 | 0.03 | NA | NA | 35.77 | 37.83 | 090
35636 |  | A | Artery bypass graft | 22.46 | NA | NA | 10.15 | 11.28 | 2.70 | NA | NA | 35.31 | 36.44 | 090
35641 |  | A | Artery bypass graft | 24.57 | NA | NA | 11.55 | 14.24 | 0.03 | NA | NA | 36.15 | 38.84 | 090
35642 |  | A | Artery bypass graft | 17.98 | NA | NA | 7.79 | 8.65 | 2.16 | NA | NA | 27.93 | 28.79 | 090
35645 |  | A | Artery bypass graft | 17.47 | NA | NA | 7.99 | 9.02 | 1.85 | NA | NA | 27.31 | 28.34 | 090
35646 |  | A | Artery bypass graft | 25.81 | NA | NA | 11.76 | 15.27 | 3.08 | NA | NA | 40.65 | 44.16 | 090
35650 |  | A | Artery bypass graft | 14.36 | NA | NA | 6.73 | 9.34 | 1.71 | NA | NA | 22.80 | 25.41 | 090
35651 |  | A | Artery bypass graft | 25.04 | NA | NA | 11.42 | 15.10 | 2.81 | NA | NA | 39.27 | 42.95 | 090
35654 |  | A | Artery bypass graft | 18.61 | NA | NA | 8.81 | 12.16 | 2.20 | NA | NA | 29.62 | 32.97 | 090
35656 |  | A | Artery bypass graft | 19.53 | NA | NA | 9.10 | 11.64 | 2.27 | NA | NA | 30.90 | 33.44 | 090
35661 |  | A | Artery bypass graft | 13.18 | NA | NA | 6.64 | 8.92 | 1.55 | NA | NA | 21.37 | 23.65 | 090
35663 |  | A | Artery bypass graft | 14.17 | NA | NA | 7.32 | 9.72 | 1.72 | NA | NA | 23.21 | 25.61 | 090
35665 |  | A | Artery bypass graft | 15.40 | NA | NA | 7.58 | 10.28 | 1.84 | NA | NA | 24.82 | 27.52 | 090
35666 |  | A | Artery bypass graft | 19.19 | NA | NA | 11.41 | 14.00 | 2.28 | NA | NA | 32.88 | 35.47 | 090
35671 |  | A | Artery bypass graft | 14.80 | NA | NA | 9.43 | 11.31 | 1.75 | NA | NA | 25.98 | 27.86 | 090
35681 |  | A | Composite bypass graft | 1.60 | NA | NA | 2.45 | 4.24 | 0.19 | NA | NA | 4.24 | 6.03 | ZZZ
35682 |  | A | Composite bypass graft | 7.20 | 2.71 | 4.44 | 2.70 | 4.43 | 0.85 | 10.76 | 12.49 | 10.75 | 12.48 | ZZZ
35683 |  | A | Composite bypass graft | 8.50 | 3.20 | 4.81 | 3.18 | 4.79 | 1.01 | 12.71 | 14.32 | 12.69 | 14.30 | ZZZ
35691 |  | A | Arterial transposition | 18.05 | NA | NA | 8.23 | 11.50 | 2.27 | NA | NA | 28.55 | 31.82 | 090
35693 |  | A | Arterial transposition | 15.36 | NA | NA | 7.00 | 7.80 | 1.94 | NA | NA | 24.30 | 25.10 | 090
35694 |  | A | Arterial transposition | 19.16 | NA | NA | 8.26 | 8.73 | 2.33 | NA | NA | 29.75 | 30.22 | 090
35695 |  | A | Arterial transposition | 19.16 | NA | NA | 8.42 | 8.85 | 2.16 | NA | NA | 29.74 | 30.17 | 090
35700 |  | A | Reoperation, bypass graft | 3.08 | NA | NA | 3.17 | 2.82 | 0.38 | NA | NA | 6.63 | 6.28 | ZZZ
35701 |  | A | Exploration, carotid artery | 5.55 | NA | NA | 3.58 | 4.27 | 0.64 | NA | NA | 9.77 | 10.46 | 090
35721 |  | A | Exploration, femoral artery | 5.28 | NA | NA | 4.73 | 5.06 | 0.62 | NA | NA | 10.63 | 10.96 | 090
35741 |  | A | Exploration popliteal artery | 5.37 | NA | NA | 4.39 | 4.85 | 0.62 | NA | NA | 10.38 | 10.84 | 090
35761 |  | A | Exploration of artery/vein | 5.37 | NA | NA | 4.30 | 4.80 | 0.61 | NA | NA | 10.28 | 10.78 | 090
35800 |  | A | Explore neck vessels | 7.02 | NA | NA | 4.16 | 4.55 | 0.82 | NA | NA | 12.00 | 12.39 | 090
35820 |  | A | Explore chest vessels | 12.88 | NA | NA | 5.28 | 6.11 | 1.70 | NA | NA | 19.86 | 20.69 | 090
35840 |  | A | Explore abdominal vessels | 9.77 | NA | NA | 5.36 | 5.98 | 1.08 | NA | NA | 16.21 | 16.83 | 090
35860 |  | A | Explore limb vessels | 5.55 | NA | NA | 3.71 | 4.36 | 0.65 | NA | NA | 9.91 | 10.56 | 090
35870 |  | A | Repair vessel graft defect | 22.17 | NA | NA | 10.63 | 10.86 | 2.63 | NA | NA | 35.43 | 35.66 | 090
35875 |  | A | Removal of clot in graft | 10.13 | NA | NA | 6.31 | 6.96 | 1.08 | NA | NA | 17.52 | 18.17 | 090
35876 |  | A | Removal of clot in graft | 0.17 | NA | NA | 9.03 | 9.00 | 1.92 | NA | NA | 11.12 | 11.09 | 090
35879 |  | A | Revise graft w/vein | 0.16 | NA | NA | 8.30 | 8.30 | 1.97 | NA | NA | 10.43 | 10.43 | 090
35881 |  | A | Revise graft w/vein | 0.18 | NA | NA | 8.83 | 8.83 | 2.21 | NA | NA | 11.22 | 11.22 | 090
35901 |  | A | Excision, graft, neck | 8.19 | NA | NA | 5.91 | 6.38 | 0.97 | NA | NA | 15.07 | 15.54 | 090
35903 |  | A | Excision, graft, extremity | 9.39 | NA | NA | 8.10 | 8.02 | 1.08 | NA | NA | 18.57 | 18.49 | 090
35905 |  | A | Excision, graft, thorax | 18.19 | NA | NA | 12.25 | 11.14 | 2.15 | NA | NA | 32.59 | 31.48 | 090
35907 |  | A | Excision, graft, abdomen | 19.24 | NA | NA | 9.67 | 9.20 | 2.29 | NA | NA | 31.20 | 30.73 | 090
36000 |  | A | Place needle in vein | 0.18 | 0.55 | 0.48 | 0.05 | 0.10 | 0.01 | 0.74 | 0.67 | 0.24 | 0.29 | XXX
36005 |  | A | Injection, venography | 0.95 | 15.60 | 11.83 | 0.33 | 0.38 | 0.05 | 16.60 | 12.83 | 1.33 | 1.38 | 000
36010 |  | A | Place catheter in vein | 2.43 | NA | NA | 0.87 | 1.23 | 0.16 | NA | NA | 3.46 | 3.82 | XXX
36011 |  | A | Place catheter in vein | 3.14 | NA | NA | 1.13 | 1.36 | 0.20 | NA | NA | 4.47 | 4.70 | XXX
36012 |  | A | Place catheter in vein | 3.52 | NA | NA | 1.26 | 1.67 | 0.15 | NA | NA | 4.93 | 5.34 | XXX
36013 |  | A | Place catheter in artery | 2.52 | NA | NA | 0.83 | 1.20 | 0.21 | NA | NA | 3.56 | 3.93 | XXX
36014 |  | A | Place catheter in artery | 3.02 | NA | NA | 1.09 | 1.44 | 0.12 | NA | NA | 4.23 | 4.58 | XXX
36015 |  | A | Place catheter in artery | 3.52 | NA | NA | 1.26 | 1.67 | 0.15 | NA | NA | 4.93 | 5.34 | XXX
36100 |  | A | Establish access to artery | 3.02 | NA | NA | 1.23 | 1.63 | 0.32 | NA | NA | 4.57 | 4.97 | XXX
36120 |  | A | Establish access to artery | 2.01 | NA | NA | 0.73 | 1.15 | 0.12 | NA | NA | 2.86 | 3.28 | XXX
36140 |  | A | Establish access to artery | 2.01 | NA | NA | 0.72 | 0.92 | 0.13 | NA | NA | 2.86 | 3.06 | XXX
36145 |  | A | Artery to vein shunt | 2.01 | NA | NA | 0.73 | 1.15 | 0.09 | NA | NA | 2.83 | 3.25 | XXX
36160 |  | A | Establish access to aorta | 2.52 | NA | NA | 0.97 | 1.36 | 0.23 | NA | NA | 3.72 | 4.11 | XXX
36200 |  | A | Place catheter in aorta | 3.02 | NA | NA | 1.08 | 1.55 | 0.16 | NA | NA | 4.26 | 4.73 | XXX
36215 |  | A | Place catheter in artery | 4.68 | NA | NA | 1.71 | 2.04 | 0.28 | NA | NA | 6.67 | 7.00 | XXX
36216 |  | A | Place catheter in artery | 5.28 | NA | NA | 1.90 | 2.32 | 0.25 | NA | NA | 7.43 | 7.85 | XXX
36217 |  | A | Place catheter in artery | 6.30 | NA | NA | 2.32 | 2.80 | 0.36 | NA | NA | 8.98 | 9.46 | XXX
36218 |  | A | Place catheter in artery | 1.01 | NA | NA | 0.40 | 0.47 | 0.06 | NA | NA | 1.47 | 1.54 | ZZZ
36245 |  | A | Place catheter in artery | 4.68 | NA | NA | 1.80 | 2.21 | 0.35 | NA | NA | 6.83 | 7.24 | XXX
36246 |  | A | Place catheter in artery | 5.28 | NA | NA | 1.95 | 2.36 | 0.33 | NA | NA | 7.56 | 7.97 | XXX
36247 |  | A | Place catheter in artery | 6.30 | NA | NA | 2.28 | 2.77 | 0.35 | NA | NA | 8.93 | 9.42 | XXX
36248 |  | A | Place catheter in artery | 1.01 | NA | NA | 0.41 | 0.48 | 0.07 | NA | NA | 1.49 | 1.56 | ZZZ
36260 |  | A | Insertion of infusion pump | 9.71 | NA | NA | 5.40 | 5.88 | 0.93 | NA | NA | 16.04 | 16.52 | 090
36261 |  | A | Revision of infusion pump | 5.45 | NA | NA | 3.05 | 2.89 | 0.53 | NA | NA | 9.03 | 8.87 | 090
36262 |  | A | Removal of infusion pump | 4.02 | NA | NA | 2.50 | 2.40 | 0.41 | NA | NA | 6.93 | 6.83 | 090
36299 |  | C | Vessel injection procedure | 0.00 | 0.00 | 0.00 | 0.00 | 0.00 | 0.00 | 0.00 | 0.00 | 0.00 | 0.00 | YYY
36400 |  | A | Drawing blood | 0.18 | 0.56 | 0.45 | 0.05 | 0.06 | 0.02 | 0.76 | 0.65 | 0.25 | 0.26 | XXX
36405 |  | A | Drawing blood | 0.18 | 0.44 | 0.45 | 0.05 | 0.16 | 0.01 | 0.63 | 0.64 | 0.24 | 0.35 | XXX
36406 |  | A | Drawing blood | 0.18 | 0.50 | 0.42 | 0.05 | 0.08 | 0.01 | 0.69 | 0.61 | 0.24 | 0.27 | XXX
36410 |  | A | Drawing blood | 0.18 | 0.43 | 0.38 | 0.05 | 0.10 | 0.01 | 0.62 | 0.57 | 0.24 | 0.29 | XXX
36415 |  | I | Drawing blood | 0.00 | 0.00 | 0.00 | 0.00 | 0.00 | 0.00 | 0.00 | 0.00 | 0.00 | 0.00 | XXX
36420 |  | A | Establish access to vein | 1.01 | NA | NA | 0.34 | 0.39 | 0.10 | NA | NA | 1.45 | 1.50 | XXX
36425 |  | A | Establish access to vein | 0.76 | 2.63 | 2.00 | 0.18 | 0.16 | 0.06 | 3.45 | 2.82 | 1.00 | 0.98 | XXX
36430 |  | A | Blood transfusion service | 0.00 | 1.02 | 1.03 | 1.02 | 1.03 | 0.05 | 1.07 | 1.08 | 1.07 | 1.08 | XXX
36440 |  | A | Blood transfusion service | 1.03 | NA | NA | 0.28 | 0.47 | 0.10 | NA | NA | 1.41 | 1.60 | XXX
36450 |  | A | Exchange transfusion service | 2.23 | NA | NA | 0.70 | 1.04 | 0.14 | NA | NA | 3.07 | 3.41 | XXX
36455 |  | A | Exchange transfusion service | 2.43 | NA | NA | 0.91 | 1.30 | 0.14 | NA | NA | 3.48 | 3.87 | XXX
36460 |  | A | Transfusion service, fetal | 6.59 | NA | NA | 2.32 | 3.02 | 0.60 | NA | NA | 9.51 | 10.21 | XXX
36468 |  | R | Injection(s), spider veins | 0.00 | 0.00 | 0.00 | 0.00 | 0.00 | 0.00 | 0.00 | 0.00 | 0.00 | 0.00 | XXX
36469 |  | R | Injection(s), spider veins | 0.00 | 0.00 | 0.00 | 0.00 | 0.00 | 0.00 | 0.00 | 0.00 | 0.00 | 0.00 | XXX
36470 |  | A | Injection therapy of vein | 1.09 | 2.65 | 2.06 | 0.41 | 0.38 | 0.11 | 3.85 | 3.26 | 1.61 | 1.58 | 010
36471 |  | A | Injection therapy of veins | 1.57 | 3.07 | 2.41 | 0.58 | 0.54 | 0.14 | 4.78 | 4.12 | 2.29 | 2.25 | 010
36481 |  | A | Insertion of catheter, vein | 6.99 | NA | NA | 2.84 | 3.57 | 0.40 | NA | NA | 10.23 | 10.96 | 000
36488 |  | A | Insertion of catheter, vein | 1.35 | NA | NA | 0.67 | 0.77 | 0.11 | NA | NA | 2.13 | 2.23 | 000
36489 |  | A | Insertion of catheter, vein | 1.22 | 3.56 | 2.98 | 0.62 | 0.77 | 0.09 | 4.87 | 4.29 | 1.93 | 2.08 | 000
36490 |  | A | Insertion of catheter, vein | 1.67 | NA | NA | 0.81 | 0.98 | 0.13 | NA | NA | 2.61 | 2.78 | 000
36491 |  | A | Insertion of catheter, vein | 1.43 | NA | NA | 0.73 | 0.97 | 0.13 | NA | NA | 2.29 | 2.53 | 000
36493 |  | A | Repositioning of cvc | 1.21 | NA | NA | 0.82 | 0.79 | 0.06 | NA | NA | 2.09 | 2.06 | 000
36500 |  | A | Insertion of catheter, vein | 3.52 | NA | NA | 1.28 | 0.98 | 0.17 | NA | NA | 4.97 | 4.67 | 000
36510 |  | A | Insertion of catheter, vein | 1.09 | NA | NA | 0.65 | 0.58 | 0.07 | NA | NA | 1.81 | 1.74 | 000
36520 |  | A | Plasma and/or cell exchange | 1.74 | NA | NA | 0.96 | 1.24 | 0.10 | NA | NA | 2.80 | 3.08 | 000
36521 |  | A | Apheresis w/ adsorp/reinfuse | 1.74 | NA | NA | 0.96 | 0.96 | 0.09 | NA | NA | 2.79 | 2.79 | 000
36522 |  | A | Photopheresis | 1.67 | 6.96 | 5.89 | 1.08 | 1.48 | 0.06 | 8.69 | 7.62 | 2.81 | 3.21 | 000
36530 |  | R | Insertion of infusion pump | 6.20 | NA | NA | 3.49 | 3.93 | 0.63 | NA | NA | 10.32 | 10.76 | 010
36531 |  | R | Revision of infusion pump | 4.87 | NA | NA | 3.26 | 3.63 | 0.49 | NA | NA | 8.62 | 8.99 | 010
36532 |  | R | Removal of infusion pump | 3.30 | NA | NA | 1.58 | 1.67 | 0.33 | NA | NA | 5.21 | 5.30 | 010
36533 |  | A | Insertion of access device | 5.32 | 4.17 | 4.29 | 3.32 | 3.66 | 0.52 | 10.01 | 10.13 | 9.16 | 9.50 | 010
36534 |  | A | Revision of access device | 2.80 | NA | NA | 1.43 | 1.91 | 0.22 | NA | NA | 4.45 | 4.93 | 010
36535 |  | A | Removal of access device | 2.27 | 2.66 | 2.49 | 1.90 | 1.92 | 0.23 | 5.16 | 4.99 | 4.40 | 4.42 | 010
36550 |  | A | Declot vascular device | 0.00 | 0.54 | 0.54 | 0.06 | 0.06 | 0.32 | 0.86 | 0.86 | 0.38 | 0.38 | XXX
36600 |  | A | Withdrawal of arterial blood | 0.32 | 0.36 | 0.35 | 0.09 | 0.14 | 0.02 | 0.70 | 0.69 | 0.43 | 0.48 | XXX
36620 |  | A | Insertion catheter, artery | 1.15 | NA | NA | 0.25 | 0.37 | 0.08 | NA | NA | 1.48 | 1.60 | 000
36625 |  | A | Insertion catheter, artery | 2.11 | NA | NA | 0.56 | 0.65 | 0.17 | NA | NA | 2.84 | 2.93 | 000
36640 |  | A | Insertion catheter, artery | 2.10 | NA | NA | 0.77 | 1.21 | 0.19 | NA | NA | 3.06 | 3.50 | 000
36660 |  | A | Insertion catheter, artery | 1.40 | NA | NA | 0.45 | 0.47 | 0.07 | NA | NA | 1.92 | 1.94 | 000
36680 |  | A | Insert needle, bone cavity | 1.20 | NA | NA | 0.51 | 0.72 | 0.11 | NA | NA | 1.82 | 2.03 | 000
36800 |  | A | Insertion of cannula | 2.43 | NA | NA | 1.55 | 1.77 | 0.21 | NA | NA | 4.19 | 4.41 | 000
36810 |  | A | Insertion of cannula | 3.97 | NA | NA | 2.27 | 2.89 | 0.39 | NA | NA | 6.63 | 7.25 | 000
36815 |  | A | Insertion of cannula | 2.62 | NA | NA | 1.81 | 2.14 | 0.27 | NA | NA | 4.70 | 5.03 | 000
36819 |  | A | Av fusion by basilic vein | 0.14 | NA | NA | 6.63 | 6.63 | 1.55 | NA | NA | 8.32 | 8.32 | 090
36821 |  | A | Av fusion direct any site | 8.93 | NA | NA | 4.95 | 5.68 | 0.99 | NA | NA | 14.87 | 15.60 | 090
36822 |  | A | Insertion of cannula(s) | 5.42 | NA | NA | 9.86 | 8.92 | 0.70 | NA | NA | 15.98 | 15.04 | 090
36823 |  | A | Insertion of cannula(s) | 0.21 | NA | NA | 11.62 | 11.62 | 0.67 | NA | NA | 12.50 | 12.50 | 090
36825 |  | A | Artery-vein graft | 9.84 | NA | NA | 5.64 | 7.17 | 1.10 | NA | NA | 16.58 | 18.11 | 090
36830 |  | A | Artery-vein graft | 0.12 | NA | NA | 6.26 | 7.40 | 1.36 | NA | NA | 7.74 | 8.88 | 090
36831 |  | A | Av fistula excision | 0.08 | 2.77 | 2.77 | 2.77 | 2.77 | 0.85 | 3.70 | 3.70 | 3.70 | 3.70 | 090
36832 |  | A | Av fistula revision | 10.50 | NA | NA | 5.63 | 6.15 | 1.16 | NA | NA | 17.29 | 17.81 | 090
36833 |  | A | Av fistula revision | 11.95 | 4.44 | 4.44 | 4.44 | 4.44 | 1.33 | 17.72 | 17.72 | 17.72 | 17.72 | 090
36834 |  | A | Repair A-V aneurysm | 9.93 | NA | NA | 3.95 | 5.08 | 1.13 | NA | NA | 15.01 | 16.14 | 090
36835 |  | A | Artery to vein shunt | 7.15 | NA | NA | 4.94 | 4.63 | 0.80 | NA | NA | 12.89 | 12.58 | 090
36860 |  | A | External cannula declotting | 2.01 | 1.97 | 2.18 | 1.58 | 1.88 | 0.13 | 4.11 | 4.32 | 3.72 | 4.02 | 000
36861 |  | A | Cannula declotting | 2.52 | NA | NA | 1.72 | 2.04 | 0.22 | NA | NA | 4.46 | 4.78 | 000
37140 |  | A | Revision of circulation | 23.60 | NA | NA | 10.40 | 12.22 | 1.06 | NA | NA | 35.06 | 36.88 | 090
37145 |  | A | Revision of circulation | 24.61 | NA | NA | 9.22 | 11.56 | 0.95 | NA | NA | 34.78 | 37.12 | 090
37160 |  | A | Revision of circulation | 21.60 | NA | NA | 9.43 | 11.89 | 2.29 | NA | NA | 33.32 | 35.78 | 090
37180 |  | A | Revision of circulation | 24.61 | NA | NA | 10.80 | 11.95 | 2.45 | NA | NA | 37.86 | 39.01 | 090
37181 |  | A | Splice spleen/kidney veins | 26.68 | NA | NA | 11.53 | 13.10 | 2.56 | NA | NA | 40.77 | 42.34 | 090
37195 |  | A | Thrombolytic therapy, stroke | 0.00 | 8.14 | 8.19 | 8.14 | 8.19 | 0.39 | 8.53 | 8.58 | 8.53 | 8.58 | XXX
37200 |  | A | Transcatheter biopsy | 4.56 | NA | NA | 1.62 | 1.65 | 0.25 | NA | NA | 6.43 | 6.46 | 000
37201 |  | A | Transcatheter therapy infuse | 0.05 | NA | NA | 2.52 | 3.38 | 0.25 | NA | NA | 2.82 | 3.68 | 000
37202 |  | A | Transcatheter therapy infuse | 5.68 | NA | NA | 3.08 | 3.48 | 0.74 | NA | NA | 9.50 | 9.90 | 000
37203 |  | A | Transcatheter retrieval | 5.03 | NA | NA | 2.56 | 2.96 | 0.25 | NA | NA | 7.84 | 8.24 | 000
37204 |  | A | Transcatheter occlusion | 18.14 | NA | NA | 6.41 | 8.54 | 0.77 | NA | NA | 25.32 | 27.45 | 000
37205 |  | A | Transcatheter stent | 8.28 | NA | NA | 3.84 | 4.28 | 0.61 | NA | NA | 12.73 | 13.17 | 000
37206 |  | A | Transcatheter stent add-on | 4.13 | NA | NA | 1.58 | 1.89 | 0.32 | NA | NA | 6.03 | 6.34 | ZZZ
37207 |  | A | Transcatheter stent | 8.28 | NA | NA | 3.72 | 4.19 | 0.97 | NA | NA | 12.97 | 13.44 | 000
37208 |  | A | Transcatheter stent add-on | 4.13 | NA | NA | 1.57 | 1.88 | 0.49 | NA | NA | 6.19 | 6.50 | ZZZ
37209 |  | A | Exchange arterial catheter | 2.27 | NA | NA | 0.83 | 1.01 | 0.11 | NA | NA | 3.21 | 3.39 | 000
37250 |  | A | Iv us first vessel add-on | 2.10 | NA | NA | 0.88 | 0.97 | 0.24 | NA | NA | 3.22 | 3.31 | ZZZ
37251 |  | A | Iv us each add vessel add-on | 1.60 | NA | NA | 0.68 | 0.75 | 0.19 | NA | NA | 2.47 | 2.54 | ZZZ
37565 |  | A | Ligation of neck vein | 4.44 | NA | NA | 2.61 | 2.99 | 0.44 | NA | NA | 7.49 | 7.87 | 090
37600 |  | A | Ligation of neck artery | 4.57 | NA | NA | 3.29 | 3.82 | 0.42 | NA | NA | 8.28 | 8.81 | 090
37605 |  | A | Ligation of neck artery | 6.19 | NA | NA | 3.72 | 4.30 | 0.75 | NA | NA | 10.66 | 11.24 | 090
37606 |  | A | Ligation of neck artery | 6.28 | NA | NA | 4.11 | 4.69 | 1.11 | NA | NA | 11.50 | 12.08 | 090
37607 |  | A | Ligation of a-v fistula | 6.16 | NA | NA | 3.66 | 3.58 | 0.69 | NA | NA | 10.51 | 10.43 | 090
37609 |  | A | Temporal artery procedure | 2.30 | 6.02 | 5.12 | 2.13 | 2.20 | 0.22 | 8.54 | 7.64 | 4.65 | 4.72 | 010
37615 |  | A | Ligation of neck artery | 5.73 | NA | NA | 3.72 | 4.32 | 0.58 | NA | NA | 10.03 | 10.63 | 090
37616 |  | A | Ligation of chest artery | 16.49 | NA | NA | 12.76 | 10.71 | 1.70 | NA | NA | 30.95 | 28.90 | 090
37617 |  | A | Ligation of abdomen artery | 15.95 | NA | NA | 7.53 | 7.82 | 1.61 | NA | NA | 25.09 | 25.38 | 090
37618 |  | A | Ligation of extremity artery | 4.84 | NA | NA | 3.47 | 3.95 | 0.54 | NA | NA | 8.85 | 9.33 | 090
37620 |  | A | Revision of major vein | 10.56 | NA | NA | 5.50 | 6.52 | 0.78 | NA | NA | 16.84 | 17.86 | 090
37650 |  | A | Revision of major vein | 5.13 | NA | NA | 3.72 | 3.88 | 0.60 | NA | NA | 9.45 | 9.61 | 090
37660 |  | A | Revision of major vein | 10.61 | NA | NA | 6.05 | 6.10 | 1.19 | NA | NA | 17.85 | 17.90 | 090
37700 |  | A | Revise leg vein | 3.73 | NA | NA | 3.00 | 3.24 | 0.41 | NA | NA | 7.14 | 7.38 | 090
37720 |  | A | Removal of leg vein | 5.66 | NA | NA | 3.59 | 4.08 | 0.62 | NA | NA | 9.87 | 10.36 | 090
37730 |  | A | Removal of leg veins | 7.33 | NA | NA | 4.50 | 5.26 | 0.80 | NA | NA | 12.63 | 13.39 | 090
37735 |  | A | Removal of leg veins/lesion | 10.53 | NA | NA | 5.92 | 6.70 | 1.16 | NA | NA | 17.61 | 18.39 | 090
37760 |  | A | Revision of leg veins | 10.47 | NA | NA | 5.64 | 6.26 | 1.08 | NA | NA | 17.19 | 17.81 | 090
37780 |  | A | Revision of leg vein | 3.84 | NA | NA | 3.03 | 2.79 | 0.43 | NA | NA | 7.30 | 7.06 | 090
37785 |  | A | Revise secondary varicosity | 3.88 | 6.63 | 5.24 | 2.84 | 2.40 | 0.40 | 10.91 | 9.52 | 7.12 | 6.68 | 090
37788 |  | A | Revascularization, penis | 22.01 | NA | NA | 11.76 | 12.93 | 1.43 | NA | NA | 35.20 | 36.37 | 090
37790 |  | A | Penile venous occlusion | 8.34 | NA | NA | 7.25 | 6.99 | 0.53 | NA | NA | 16.12 | 15.86 | 090
37799 |  | C | Vascular surgery procedure | 0.00 | 0.00 | 0.00 | 0.00 | 0.00 | 0.00 | 0.00 | 0.00 | 0.00 | 0.00 | YYY
38100 |  | A | Removal of spleen, total | 13.01 | NA | NA | 6.20 | 6.97 | 1.30 | NA | NA | 20.51 | 21.28 | 090
38101 |  | A | Removal of spleen, partial | 13.74 | NA | NA | 6.39 | 6.69 | 1.39 | NA | NA | 21.52 | 21.82 | 090
38102 |  | A | Removal of spleen, total | 4.80 | NA | NA | 1.80 | 2.03 | 0.48 | NA | NA | 7.08 | 7.31 | ZZZ
38115 |  | A | Repair of ruptured spleen | 14.19 | NA | NA | 6.68 | 7.08 | 1.43 | NA | NA | 22.30 | 22.70 | 090
38120 |  | A | Laparoscopy, splenectomy | 0.17 | NA | NA | 7.66 | 7.66 | 1.04 | NA | NA | 8.87 | 8.87 | 090
38129 |  | C | Laparoscope proc, spleen | 0.00 | 0.00 | 0.00 | 0.00 | 0.00 | 0.00 | 0.00 | 0.00 | 0.00 | 0.00 | YYY
38200 |  | A | Injection for spleen x-ray | 2.64 | NA | NA | 0.97 | 1.19 | 0.12 | NA | NA | 3.73 | 3.95 | 000
38230 |  | R | Bone marrow collection | 4.54 | NA | NA | 2.39 | 2.55 | 0.23 | NA | NA | 7.16 | 7.32 | 010
38231 |  | R | Stem cell collection | 1.50 | NA | NA | 0.59 | 0.82 | 0.06 | NA | NA | 2.15 | 2.38 | 000
38240 |  | R | Bone marrow/stem transplant | 2.24 | NA | NA | 0.82 | 1.18 | 0.11 | NA | NA | 3.17 | 3.53 | XXX
38241 |  | R | Bone marrow/stem transplant | 2.24 | NA | NA | 0.85 | 1.19 | 0.10 | NA | NA | 3.19 | 3.53 | XXX
38300 |  | A | Drainage, lymph node lesion | 1.53 | 3.69 | 2.93 | 2.21 | 1.82 | 0.14 | 5.36 | 4.60 | 3.88 | 3.49 | 010
38305 |  | A | Drainage, lymph node lesion | 4.61 | 6.96 | 5.75 | 5.53 | 4.68 | 0.36 | 11.93 | 10.72 | 10.50 | 9.65 | 090
38308 |  | A | Incision of lymph channels | 4.95 | NA | NA | 4.88 | 4.58 | 0.43 | NA | NA | 10.26 | 9.96 | 090
38380 |  | A | Thoracic duct procedure | 7.46 | NA | NA | 7.35 | 6.72 | 0.60 | NA | NA | 15.41 | 14.78 | 090
38381 |  | A | Thoracic duct procedure | 12.88 | NA | NA | 11.92 | 10.99 | 1.66 | NA | NA | 26.46 | 25.53 | 090
38382 |  | A | Thoracic duct procedure | 10.08 | NA | NA | 8.65 | 7.80 | 1.06 | NA | NA | 19.79 | 18.94 | 090
38500 |  | A | Biopsy/removal, lymph nodes | 2.88 | 2.47 | 2.29 | 2.11 | 2.02 | 0.28 | 5.63 | 5.45 | 5.27 | 5.18 | 010
38505 |  | A | Needle biopsy, lymph nodes | 1.14 | 2.75 | 2.37 | 1.05 | 1.09 | 0.09 | 3.98 | 3.60 | 2.28 | 2.32 | 000
38510 |  | A | Biopsy/removal, lymph nodes | 4.14 | NA | NA | 4.00 | 3.69 | 0.38 | NA | NA | 8.52 | 8.21 | 090
38520 |  | A | Biopsy/removal, lymph nodes | 5.12 | NA | NA | 4.95 | 4.52 | 0.53 | NA | NA | 10.60 | 10.17 | 090
38525 |  | A | Biopsy/removal, lymph nodes | 4.66 | NA | NA | 3.67 | 3.46 | 0.47 | NA | NA | 8.80 | 8.59 | 090
38530 |  | A | Biopsy/removal, lymph nodes | 6.13 | NA | NA | 5.96 | 5.33 | 0.66 | NA | NA | 12.75 | 12.12 | 090
38542 |  | A | Explore deep node(s), neck | 5.91 | NA | NA | 5.46 | 5.25 | 0.50 | NA | NA | 11.87 | 11.66 | 090
38550 |  | A | Removal, neck/armpit lesion | 6.92 | NA | NA | 5.22 | 4.79 | 0.50 | NA | NA | 12.64 | 12.21 | 090
38555 |  | A | Removal, neck/armpit lesion | 14.14 | NA | NA | 10.98 | 10.21 | 1.53 | NA | NA | 26.65 | 25.88 | 090
38562 |  | A | Removal, pelvic lymph nodes | 10.49 | NA | NA | 6.19 | 6.51 | 0.84 | NA | NA | 17.52 | 17.84 | 090
38564 |  | A | Removal, abdomen lymph nodes | 10.83 | NA | NA | 6.04 | 6.54 | 0.01 | NA | NA | 16.88 | 17.38 | 090
38570 |  | A | Laparoscopy, lymph node biop | 9.25 | NA | NA | 4.49 | 5.10 | 0.81 | NA | NA | 14.55 | 15.16 | 010
38571 |  | A | Laparoscopy, lymphadenectomy | 12.38 | NA | NA | 5.27 | 6.28 | 0.78 | NA | NA | 18.43 | 19.44 | 010
38572 |  | A | Laparoscopy, lymphadenectomy | 14.32 | NA | NA | 6.18 | 7.35 | 1.04 | NA | NA | 21.54 | 22.71 | 010
38589 |  | C | Laparoscope proc, lymphatic | 0.00 | 0.00 | 0.00 | 0.00 | 0.00 | 0.00 | 0.00 | 0.00 | 0.00 | 0.00 | YYY
38700 |  | A | Removal of lymph nodes, neck | 8.24 | NA | NA | 11.93 | 11.41 | 0.63 | NA | NA | 20.80 | 20.28 | 090
38720 |  | A | Removal of lymph nodes, neck | 13.61 | NA | NA | 14.13 | 14.66 | 1.03 | NA | NA | 28.77 | 29.30 | 090
38724 |  | A | Removal of lymph nodes, neck | 14.54 | NA | NA | 14.51 | 14.78 | 1.11 | NA | NA | 30.16 | 30.43 | 090
38740 |  | A | Remove armpit lymph nodes | 6.77 | NA | NA | 4.44 | 4.61 | 0.67 | NA | NA | 11.88 | 12.05 | 090
38745 |  | A | Remove armpit lymph nodes | 8.84 | NA | NA | 6.35 | 7.01 | 0.86 | NA | NA | 16.05 | 16.71 | 090
38746 |  | A | Remove thoracic lymph nodes | 4.39 | NA | NA | 1.76 | 1.94 | 0.56 | NA | NA | 6.71 | 6.89 | ZZZ
38747 |  | A | Remove abdominal lymph nodes | 4.89 | NA | NA | 1.82 | 2.06 | 0.45 | NA | NA | 7.16 | 7.40 | ZZZ
38760 |  | A | Remove groin lymph nodes | 8.74 | NA | NA | 5.38 | 5.84 | 0.83 | NA | NA | 14.95 | 15.41 | 090
38765 |  | A | Remove groin lymph nodes | 16.06 | NA | NA | 9.64 | 10.67 | 1.34 | NA | NA | 27.04 | 28.07 | 090
38770 |  | A | Remove pelvis lymph nodes | 13.23 | NA | NA | 6.48 | 8.81 | 0.85 | NA | NA | 20.56 | 22.89 | 090
38780 |  | A | Remove abdomen lymph nodes | 16.59 | NA | NA | 8.63 | 10.83 | 1.26 | NA | NA | 26.48 | 28.68 | 090
38790 |  | A | Inject for lymphatic x-ray | 1.29 | 21.16 | 16.32 | 0.48 | 0.81 | 0.09 | 22.54 | 17.70 | 1.86 | 2.19 | 000
38792 |  | A | Identify sentinel node | 0.52 | NA | NA | 0.21 | 0.21 | 0.01 | NA | NA | 0.74 | 0.74 | 000
38794 |  | A | Access thoracic lymph duct | 4.45 | NA | NA | 1.51 | 1.90 | 0.17 | NA | NA | 6.13 | 6.52 | 090
38999 |  | C | Blood/lymph system procedure | 0.00 | 0.00 | 0.00 | 0.00 | 0.00 | 0.00 | 0.00 | 0.00 | 0.00 | 0.00 | YYY
39000 |  | A | Exploration of chest | 6.10 | NA | NA | 9.45 | 8.73 | 0.75 | NA | NA | 16.30 | 15.58 | 090
39010 |  | A | Exploration of chest | 11.79 | NA | NA | 12.37 | 12.39 | 1.52 | NA | NA | 25.68 | 25.70 | 090
39200 |  | A | Removal chest lesion | 13.62 | NA | NA | 12.96 | 12.86 | 1.65 | NA | NA | 28.23 | 28.13 | 090
39220 |  | A | Removal chest lesion | 17.42 | NA | NA | 14.12 | 14.64 | 2.16 | NA | NA | 33.70 | 34.22 | 090
39400 |  | A | Visualization of chest | 5.61 | NA | NA | 9.32 | 8.38 | 0.72 | NA | NA | 15.65 | 14.71 | 010
39499 |  | C | Chest procedure | 0.00 | 0.00 | 0.00 | 0.00 | 0.00 | 0.00 | 0.00 | 0.00 | 0.00 | 0.00 | YYY
39501 |  | A | Repair diaphragm laceration | 13.19 | NA | NA | 8.29 | 9.11 | 1.35 | NA | NA | 22.83 | 23.65 | 090
39502 |  | A | Repair paraesophageal hernia | 16.33 | NA | NA | 8.51 | 9.62 | 1.64 | NA | NA | 26.48 | 27.59 | 090
39503 |  | A | Repair of diaphragm hernia | 37.54 | NA | NA | 15.86 | 18.73 | 3.26 | NA | NA | 56.66 | 59.53 | 090
39520 |  | A | Repair of diaphragm hernia | 16.10 | NA | NA | 11.26 | 11.85 | 1.82 | NA | NA | 29.18 | 29.77 | 090
39530 |  | A | Repair of diaphragm hernia | 15.41 | NA | NA | 9.17 | 10.69 | 1.68 | NA | NA | 26.26 | 27.78 | 090
39531 |  | A | Repair of diaphragm hernia | 16.42 | NA | NA | 9.08 | 9.52 | 1.79 | NA | NA | 27.29 | 27.73 | 090
39540 |  | A | Repair of diaphragm hernia | 13.32 | NA | NA | 8.75 | 9.81 | 1.39 | NA | NA | 23.46 | 24.52 | 090
39541 |  | A | Repair of diaphragm hernia | 14.41 | NA | NA | 8.37 | 9.58 | 1.47 | NA | NA | 24.25 | 25.46 | 090
39545 |  | A | Revision of diaphragm | 13.37 | NA | NA | 11.21 | 10.55 | 1.59 | NA | NA | 26.17 | 25.51 | 090
39560 |  | A | Resect diaphragm, simple | 0.12 | NA | NA | 8.66 | 8.66 | 1.22 | NA | NA | 10.00 | 10.00 | 090
39561 |  | A | Resect diaphragm, complex | 17.50 | NA | NA | 10.85 | 10.85 | 1.79 | NA | NA | 30.14 | 30.14 | 090
39599 |  | C | Diaphragm surgery procedure | 0.00 | 0.00 | 0.00 | 0.00 | 0.00 | 0.00 | 0.00 | 0.00 | 0.00 | 0.00 | YYY
40490 |  | A | Biopsy of lip | 1.22 | 1.56 | 1.37 | 0.61 | 0.66 | 0.06 | 2.84 | 2.65 | 1.89 | 1.94 | 000
40500 |  | A | Partial excision of lip | 4.28 | 5.19 | 5.17 | 5.07 | 5.08 | 0.31 | 9.78 | 9.76 | 9.66 | 9.67 | 090
40510 |  | A | Partial excision of lip | 4.70 | 5.84 | 5.78 | 5.76 | 5.72 | 0.37 | 10.91 | 10.85 | 10.83 | 10.79 | 090
40520 |  | A | Partial excision of lip | 4.67 | 6.77 | 6.30 | 6.05 | 5.76 | 0.41 | 11.85 | 11.38 | 11.13 | 10.84 | 090
40525 |  | A | Reconstruct lip with flap | 7.55 | NA | NA | 7.43 | 7.83 | 0.69 | NA | NA | 15.67 | 16.07 | 090
40527 |  | A | Reconstruct lip with flap | 9.13 | NA | NA | 8.34 | 8.98 | 0.79 | NA | NA | 18.26 | 18.90 | 090
40530 |  | A | Partial removal of lip | 5.40 | 5.98 | 5.87 | 5.54 | 5.54 | 0.45 | 11.83 | 11.72 | 11.39 | 11.39 | 090
40650 |  | A | Repair lip | 3.64 | 4.89 | 4.75 | 3.95 | 4.05 | 0.32 | 8.85 | 8.71 | 7.91 | 8.01 | 090
40652 |  | A | Repair lip | 4.26 | 6.11 | 5.86 | 5.73 | 5.57 | 0.40 | 10.77 | 10.52 | 10.39 | 10.23 | 090
40654 |  | A | Repair lip | 5.31 | 6.68 | 6.60 | 6.48 | 6.45 | 0.48 | 12.47 | 12.39 | 12.27 | 12.24 | 090
40700 |  | A | Repair cleft lip/nasal | 12.79 | NA | NA | 9.72 | 9.59 | 0.98 | NA | NA | 23.49 | 23.36 | 090
40701 |  | A | Repair cleft lip/nasal | 15.85 | NA | NA | 10.38 | 13.03 | 1.38 | NA | NA | 27.61 | 30.26 | 090
40702 |  | A | Repair cleft lip/nasal | 13.04 | NA | NA | 8.77 | 9.12 | 0.95 | NA | NA | 22.76 | 23.11 | 090
40720 |  | A | Repair cleft lip/nasal | 13.55 | NA | NA | 10.71 | 10.64 | 1.31 | NA | NA | 25.57 | 25.50 | 090
40761 |  | A | Repair cleft lip/nasal | 14.72 | NA | NA | 11.41 | 11.50 | 1.31 | NA | NA | 27.44 | 27.53 | 090
40799 |  | C | Lip surgery procedure | 0.00 | 0.00 | 0.00 | 0.00 | 0.00 | 0.00 | 0.00 | 0.00 | 0.00 | 0.00 | YYY
40800 |  | A | Drainage of mouth lesion | 1.17 | 1.68 | 1.46 | 0.48 | 0.56 | 0.09 | 2.94 | 2.72 | 1.74 | 1.82 | 010
40801 |  | A | Drainage of mouth lesion | 2.53 | 2.22 | 2.13 | 1.69 | 1.73 | 0.18 | 4.93 | 4.84 | 4.40 | 4.44 | 010
40804 |  | A | Removal, foreign body, mouth | 1.24 | 2.27 | 1.86 | 1.85 | 1.55 | 0.09 | 3.60 | 3.19 | 3.18 | 2.88 | 010
40805 |  | A | Removal, foreign body, mouth | 2.69 | 2.72 | 2.72 | 2.34 | 2.43 | 0.19 | 5.60 | 5.60 | 5.22 | 5.31 | 010
40806 |  | A | Incision of lip fold | 0.31 | 0.70 | 0.62 | 0.51 | 0.48 | 0.03 | 1.04 | 0.96 | 0.85 | 0.82 | 000
40808 |  | A | Biopsy of mouth lesion | 0.96 | 1.77 | 1.53 | 1.76 | 1.53 | 0.07 | 2.80 | 2.56 | 2.79 | 2.56 | 010
40810 |  | A | Excision of mouth lesion | 1.31 | 2.31 | 2.05 | 1.97 | 1.80 | 0.10 | 3.72 | 3.46 | 3.38 | 3.21 | 010
40812 |  | A | Excise/repair mouth lesion | 2.31 | 2.60 | 2.36 | 2.48 | 2.27 | 0.17 | 5.08 | 4.84 | 4.96 | 4.75 | 010
40814 |  | A | Excise/repair mouth lesion | 3.42 | 3.66 | 3.62 | 3.66 | 3.62 | 0.25 | 7.33 | 7.29 | 7.33 | 7.29 | 090
40816 |  | A | Excision of mouth lesion | 3.67 | 3.95 | 3.84 | 3.95 | 3.84 | 0.26 | 7.88 | 7.77 | 7.88 | 7.77 | 090
40818 |  | A | Excise oral mucosa for graft | 2.41 | 3.82 | 3.48 | 3.82 | 3.48 | 0.14 | 6.37 | 6.03 | 6.37 | 6.03 | 090
40819 |  | A | Excise lip or cheek fold | 2.41 | 3.18 | 2.72 | 3.05 | 2.62 | 0.17 | 5.76 | 5.30 | 5.63 | 5.20 | 090
40820 |  | A | Treatment of mouth lesion | 1.28 | 2.07 | 1.70 | 1.90 | 1.57 | 0.09 | 3.44 | 3.07 | 3.27 | 2.94 | 010
40830 |  | A | Repair mouth laceration | 1.76 | 2.20 | 1.83 | 1.89 | 1.60 | 0.15 | 4.11 | 3.74 | 3.80 | 3.51 | 010
40831 |  | A | Repair mouth laceration | 2.46 | 2.28 | 2.24 | 2.28 | 2.24 | 0.21 | 4.95 | 4.91 | 4.95 | 4.91 | 010
40840 |  | R | Reconstruction of mouth | 8.73 | 5.72 | 6.00 | 5.72 | 6.00 | 0.66 | 15.11 | 15.39 | 15.11 | 15.39 | 090
40842 |  | R | Reconstruction of mouth | 8.73 | 5.44 | 5.79 | 5.44 | 5.79 | 0.71 | 14.88 | 15.23 | 14.88 | 15.23 | 090
40843 |  | R | Reconstruction of mouth | 12.10 | 8.08 | 8.45 | 6.31 | 7.12 | 0.63 | 20.81 | 21.18 | 19.04 | 19.85 | 090
40844 |  | R | Reconstruction of mouth | 16.01 | 8.60 | 9.61 | 8.60 | 9.61 | 1.44 | 26.05 | 27.06 | 26.05 | 27.06 | 090
40845 |  | R | Reconstruction of mouth | 18.58 | 10.03 | 13.07 | 10.03 | 13.07 | 1.56 | 30.17 | 33.21 | 30.17 | 33.21 | 090
40899 |  | C | Mouth surgery procedure | 0.00 | 0.00 | 0.00 | 0.00 | 0.00 | 0.00 | 0.00 | 0.00 | 0.00 | 0.00 | YYY
41000 |  | A | Drainage of mouth lesion | 1.30 | 2.00 | 1.71 | 1.27 | 1.16 | 0.10 | 3.40 | 3.11 | 2.67 | 2.56 | 010
41005 |  | A | Drainage of mouth lesion | 1.26 | 1.83 | 1.54 | 1.28 | 1.13 | 0.10 | 3.19 | 2.90 | 2.64 | 2.49 | 010
41006 |  | A | Drainage of mouth lesion | 3.24 | 3.56 | 2.95 | 3.01 | 2.53 | 0.24 | 7.04 | 6.43 | 6.49 | 6.01 | 090
41007 |  | A | Drainage of mouth lesion | 3.10 | 3.24 | 3.22 | 2.80 | 2.89 | 0.16 | 6.50 | 6.48 | 6.06 | 6.15 | 090
41008 |  | A | Drainage of mouth lesion | 3.37 | 3.12 | 2.63 | 2.99 | 2.53 | 0.24 | 6.73 | 6.24 | 6.60 | 6.14 | 090
41009 |  | A | Drainage of mouth lesion | 3.59 | 3.26 | 3.34 | 2.79 | 2.99 | 0.27 | 7.12 | 7.20 | 6.65 | 6.85 | 090
41010 |  | A | Incision of tongue fold | 1.06 | 2.80 | 2.20 | 2.80 | 2.20 | 0.06 | 3.92 | 3.32 | 3.92 | 3.32 | 010
41015 |  | A | Drainage of mouth lesion | 3.96 | 3.74 | 3.04 | 2.98 | 2.47 | 0.29 | 7.99 | 7.29 | 7.23 | 6.72 | 090
41016 |  | A | Drainage of mouth lesion | 4.07 | 3.55 | 3.66 | 3.00 | 3.25 | 0.32 | 7.94 | 8.05 | 7.39 | 7.64 | 090
41017 |  | A | Drainage of mouth lesion | 4.07 | 3.74 | 3.19 | 3.05 | 2.67 | 0.32 | 8.13 | 7.58 | 7.44 | 7.06 | 090
41018 |  | A | Drainage of mouth lesion | 5.10 | 4.17 | 4.20 | 3.46 | 3.66 | 0.34 | 9.61 | 9.64 | 8.90 | 9.10 | 090
41100 |  | A | Biopsy of tongue | 1.63 | 2.26 | 1.91 | 2.18 | 1.85 | 0.11 | 4.00 | 3.65 | 3.92 | 3.59 | 010
41105 |  | A | Biopsy of tongue | 1.42 | 2.04 | 1.81 | 2.04 | 1.81 | 0.11 | 3.57 | 3.34 | 3.57 | 3.34 | 010
41108 |  | A | Biopsy of floor of mouth | 1.05 | 1.96 | 1.70 | 1.88 | 1.64 | 0.08 | 3.09 | 2.83 | 3.01 | 2.77 | 010
41110 |  | A | Excision of tongue lesion | 1.51 | 2.60 | 2.30 | 2.17 | 1.98 | 0.11 | 4.22 | 3.92 | 3.79 | 3.60 | 010
41112 |  | A | Excision of tongue lesion | 2.73 | 3.15 | 3.01 | 3.15 | 3.01 | 0.20 | 6.08 | 5.94 | 6.08 | 5.94 | 090
41113 |  | A | Excision of tongue lesion | 3.19 | 3.13 | 3.27 | 3.13 | 3.27 | 0.23 | 6.55 | 6.69 | 6.55 | 6.69 | 090
41114 |  | A | Excision of tongue lesion | 8.47 | NA | NA | 5.85 | 6.12 | 0.62 | NA | NA | 14.94 | 15.21 | 090
41115 |  | A | Excision of tongue fold | 1.74 | 2.37 | 2.26 | 2.15 | 2.10 | 0.12 | 4.23 | 4.12 | 4.01 | 3.96 | 010
41116 |  | A | Excision of mouth lesion | 2.44 | 3.06 | 2.97 | 3.02 | 2.94 | 0.18 | 5.68 | 5.59 | 5.64 | 5.56 | 090
41120 |  | A | Partial removal of tongue | 9.77 | NA | NA | 7.88 | 7.89 | 0.73 | NA | NA | 18.38 | 18.39 | 090
41130 |  | A | Partial removal of tongue | 11.15 | NA | NA | 8.64 | 8.94 | 0.82 | NA | NA | 20.61 | 20.91 | 090
41135 |  | A | Tongue and neck surgery | 23.09 | NA | NA | 14.89 | 16.13 | 1.71 | NA | NA | 39.69 | 40.93 | 090
41140 |  | A | Removal of tongue | 25.50 | NA | NA | 15.51 | 16.76 | 1.90 | NA | NA | 42.91 | 44.16 | 090
41145 |  | A | Tongue removal, neck surgery | 30.06 | NA | NA | 19.45 | 20.77 | 2.20 | NA | NA | 51.71 | 53.03 | 090
41150 |  | A | Tongue, mouth, jaw surgery | 23.04 | NA | NA | 15.76 | 16.97 | 1.70 | NA | NA | 40.50 | 41.71 | 090
41153 |  | A | Tongue, mouth, neck surgery | 23.77 | NA | NA | 16.30 | 19.01 | 1.79 | NA | NA | 41.86 | 44.57 | 090
41155 |  | A | Tongue, jaw, & neck surgery | 27.72 | NA | NA | 18.54 | 22.03 | 2.03 | NA | NA | 48.29 | 51.78 | 090
41250 |  | A | Repair tongue laceration | 1.91 | 2.35 | 2.05 | 1.44 | 1.37 | 0.16 | 4.42 | 4.12 | 3.51 | 3.44 | 010
41251 |  | A | Repair tongue laceration | 2.27 | 2.15 | 2.18 | 1.72 | 1.85 | 0.17 | 4.59 | 4.62 | 4.16 | 4.29 | 010
41252 |  | A | Repair tongue laceration | 2.97 | 2.95 | 2.85 | 2.12 | 2.23 | 0.24 | 6.16 | 6.06 | 5.33 | 5.44 | 010
41500 |  | A | Fixation of tongue | 3.71 | NA | NA | 3.72 | 3.68 | 0.25 | NA | NA | 7.68 | 7.64 | 090
41510 |  | A | Tongue to lip surgery | 3.42 | NA | NA | 4.55 | 4.10 | 0.21 | NA | NA | 8.18 | 7.73 | 090
41520 |  | A | Reconstruction, tongue fold | 2.73 | 2.62 | 2.75 | 2.62 | 2.75 | 0.20 | 5.55 | 5.68 | 5.55 | 5.68 | 090
41599 |  | C | Tongue and mouth surgery | 0.00 | 0.00 | 0.00 | 0.00 | 0.00 | 0.00 | 0.00 | 0.00 | 0.00 | 0.00 | YYY
41800 |  | A | Drainage of gum lesion | 1.17 | 1.69 | 1.46 | 1.06 | 0.98 | 0.10 | 2.96 | 2.73 | 2.33 | 2.25 | 010
41805 |  | A | Removal foreign body, gum | 1.24 | 1.68 | 1.49 | 1.68 | 1.49 | 0.09 | 3.01 | 2.82 | 3.01 | 2.82 | 010
41806 |  | A | Removal foreign body,jawbone | 2.69 | 2.33 | 2.19 | 2.13 | 2.04 | 0.20 | 5.22 | 5.08 | 5.02 | 4.93 | 010
41820 |  | R | Excision, gum, each quadrant | 0.00 | 0.00 | 0.00 | 0.00 | 0.00 | 0.00 | 0.00 | 0.00 | 0.00 | 0.00 | XXX
41821 |  | R | Excision of gum flap | 0.00 | 0.00 | 0.00 | 0.00 | 0.00 | 0.00 | 0.00 | 0.00 | 0.00 | 0.00 | XXX
41822 |  | R | Excision of gum lesion | 2.31 | 2.52 | 2.71 | 0.97 | 1.55 | 0.18 | 5.01 | 5.20 | 3.46 | 4.04 | 010
41823 |  | R | Excision of gum lesion | 3.30 | 3.19 | 3.38 | 2.69 | 3.00 | 0.23 | 6.72 | 6.91 | 6.22 | 6.53 | 090
41825 |  | A | Excision of gum lesion | 1.31 | 2.10 | 1.98 | 1.92 | 1.85 | 0.10 | 3.51 | 3.39 | 3.33 | 3.26 | 010
41826 |  | A | Excision of gum lesion | 2.31 | 2.39 | 2.36 | 2.36 | 2.33 | 0.17 | 4.87 | 4.84 | 4.84 | 4.81 | 010
41827 |  | A | Excision of gum lesion | 3.42 | 3.22 | 3.44 | 3.22 | 3.44 | 0.25 | 6.89 | 7.11 | 6.89 | 7.11 | 090
41828 |  | R | Excision of gum lesion | 3.09 | 2.77 | 3.18 | 2.16 | 2.73 | 0.21 | 6.07 | 6.48 | 5.46 | 6.03 | 010
41830 |  | R | Removal of gum tissue | 3.35 | 2.96 | 3.22 | 2.57 | 2.93 | 0.24 | 6.55 | 6.81 | 6.16 | 6.52 | 010
41850 |  | R | Treatment of gum lesion | 0.00 | 0.00 | 0.00 | 0.00 | 0.00 | 0.00 | 0.00 | 0.00 | 0.00 | 0.00 | XXX
41870 |  | R | Gum graft | 0.00 | 0.00 | 0.00 | 0.00 | 0.00 | 0.00 | 0.00 | 0.00 | 0.00 | 0.00 | XXX
41872 |  | R | Repair gum | 2.59 | 2.77 | 2.85 | 2.15 | 2.39 | 0.19 | 5.55 | 5.63 | 4.93 | 5.17 | 090
41874 |  | R | Repair tooth socket | 3.09 | 2.64 | 2.90 | 2.18 | 2.56 | 0.24 | 5.97 | 6.23 | 5.51 | 5.89 | 090
41899 |  | C | Dental surgery procedure | 0.00 | 0.00 | 0.00 | 0.00 | 0.00 | 0.00 | 0.00 | 0.00 | 0.00 | 0.00 | YYY
42000 |  | A | Drainage mouth roof lesion | 1.23 | 2.11 | 1.75 | 1.32 | 1.16 | 0.09 | 3.43 | 3.07 | 2.64 | 2.48 | 010
42100 |  | A | Biopsy roof of mouth | 1.31 | 2.05 | 1.75 | 2.03 | 1.74 | 0.10 | 3.46 | 3.16 | 3.44 | 3.15 | 010
42104 |  | A | Excision lesion, mouth roof | 1.64 | 2.11 | 2.02 | 2.11 | 2.02 | 0.11 | 3.86 | 3.77 | 3.86 | 3.77 | 010
42106 |  | A | Excision lesion, mouth roof | 2.10 | 2.37 | 2.38 | 2.37 | 2.38 | 0.15 | 4.62 | 4.63 | 4.62 | 4.63 | 010
42107 |  | A | Excision lesion, mouth roof | 4.44 | 3.76 | 4.15 | 3.76 | 4.15 | 0.32 | 8.52 | 8.91 | 8.52 | 8.91 | 090
42120 |  | A | Remove palate/lesion | 6.17 | NA | NA | 5.39 | 5.89 | 0.45 | NA | NA | 12.01 | 12.51 | 090
42140 |  | A | Excision of uvula | 1.62 | 3.07 | 2.67 | 2.69 | 2.39 | 0.11 | 4.80 | 4.40 | 4.42 | 4.12 | 090
42145 |  | A | Repair palate, pharynx/uvula | 8.05 | NA | NA | 6.65 | 7.39 | 0.57 | NA | NA | 15.27 | 16.01 | 090
42160 |  | A | Treatment mouth roof lesion | 1.80 | 2.62 | 2.38 | 2.20 | 2.07 | 0.13 | 4.55 | 4.31 | 4.13 | 4.00 | 010
42180 |  | A | Repair palate | 2.50 | 2.35 | 2.37 | 1.86 | 2.00 | 0.18 | 5.03 | 5.05 | 4.54 | 4.68 | 010
42182 |  | A | Repair palate | 3.83 | 2.74 | 3.00 | 2.74 | 3.00 | 0.29 | 6.86 | 7.12 | 6.86 | 7.12 | 010
42200 |  | A | Reconstruct cleft palate | 0.12 | NA | NA | 9.18 | 8.84 | 1.03 | NA | NA | 10.33 | 9.99 | 090
42205 |  | A | Reconstruct cleft palate | 9.59 | NA | NA | 6.94 | 8.07 | 0.85 | NA | NA | 17.38 | 18.51 | 090
42210 |  | A | Reconstruct cleft palate | 14.50 | NA | NA | 8.56 | 9.82 | 1.15 | NA | NA | 24.21 | 25.47 | 090
42215 |  | A | Reconstruct cleft palate | 8.82 | NA | NA | 7.61 | 7.79 | 0.76 | NA | NA | 17.19 | 17.37 | 090
42220 |  | A | Reconstruct cleft palate | 7.02 | NA | NA | 5.90 | 5.89 | 0.49 | NA | NA | 13.41 | 13.40 | 090
42225 |  | A | Reconstruct cleft palate | 9.54 | NA | NA | 8.73 | 8.42 | 0.80 | NA | NA | 19.07 | 18.76 | 090
42226 |  | A | Lengthening of palate | 10.01 | NA | NA | 8.28 | 8.35 | 0.79 | NA | NA | 19.08 | 19.15 | 090
42227 |  | A | Lengthening of palate | 9.52 | NA | NA | 6.01 | 6.52 | 0.78 | NA | NA | 16.31 | 16.82 | 090
42235 |  | A | Repair palate | 7.87 | NA | NA | 5.85 | 5.89 | 0.59 | NA | NA | 14.31 | 14.35 | 090
42260 |  | A | Repair nose to lip fistula | 9.80 | 6.88 | 6.24 | 6.88 | 6.24 | 0.76 | 17.44 | 16.80 | 17.44 | 16.80 | 090
42280 |  | A | Preparation, palate mold | 1.54 | 1.31 | 1.52 | 0.73 | 1.09 | 0.10 | 2.95 | 3.16 | 2.37 | 2.73 | 010
42281 |  | A | Insertion, palate prosthesis | 1.93 | 1.58 | 1.59 | 0.95 | 1.11 | 0.13 | 3.64 | 3.65 | 3.01 | 3.17 | 010
42299 |  | C | Palate/uvula surgery | 0.00 | 0.00 | 0.00 | 0.00 | 0.00 | 0.00 | 0.00 | 0.00 | 0.00 | 0.00 | YYY
42300 |  | A | Drainage of salivary gland | 1.93 | 2.27 | 1.96 | 1.69 | 1.53 | 0.14 | 4.34 | 4.03 | 3.76 | 3.60 | 010
42305 |  | A | Drainage of salivary gland | 6.07 | NA | NA | 4.81 | 4.20 | 0.46 | NA | NA | 11.34 | 10.73 | 090
42310 |  | A | Drainage of salivary gland | 1.56 | 2.04 | 1.81 | 1.39 | 1.32 | 0.11 | 3.71 | 3.48 | 3.06 | 2.99 | 010
42320 |  | A | Drainage of salivary gland | 2.35 | 2.43 | 2.32 | 1.97 | 1.98 | 0.17 | 4.95 | 4.84 | 4.49 | 4.50 | 010
42325 |  | A | Create salivary cyst drain | 2.75 | 2.87 | 2.73 | 1.02 | 1.34 | 0.22 | 5.84 | 5.70 | 3.99 | 4.31 | 090
42326 |  | A | Create salivary cyst drain | 3.78 | 4.10 | 4.20 | 1.55 | 2.29 | 0.27 | 8.15 | 8.25 | 5.60 | 6.34 | 090
42330 |  | A | Removal of salivary stone | 2.21 | 2.40 | 2.10 | 1.13 | 1.15 | 0.16 | 4.77 | 4.47 | 3.50 | 3.52 | 010
42335 |  | A | Removal of salivary stone | 3.31 | 3.13 | 3.02 | 3.13 | 3.02 | 0.24 | 6.68 | 6.57 | 6.68 | 6.57 | 090
42340 |  | A | Removal of salivary stone | 4.60 | 4.26 | 4.35 | 4.26 | 4.35 | 0.32 | 9.18 | 9.27 | 9.18 | 9.27 | 090
42400 |  | A | Biopsy of salivary gland | 0.78 | 2.06 | 1.76 | 0.39 | 0.51 | 0.06 | 2.90 | 2.60 | 1.23 | 1.35 | 000
42405 |  | A | Biopsy of salivary gland | 3.29 | 2.95 | 2.63 | 2.92 | 2.61 | 0.24 | 6.48 | 6.16 | 6.45 | 6.14 | 010
42408 |  | A | Excision of salivary cyst | 4.54 | 3.84 | 3.76 | 3.84 | 3.76 | 0.34 | 8.72 | 8.64 | 8.72 | 8.64 | 090
42409 |  | A | Drainage of salivary cyst | 2.81 | 3.00 | 3.01 | 3.00 | 3.01 | 0.20 | 6.01 | 6.02 | 6.01 | 6.02 | 090
42410 |  | A | Excise parotid gland/lesion | 9.34 | NA | NA | 7.15 | 6.98 | 0.78 | NA | NA | 17.27 | 17.10 | 090
42415 |  | A | Excise parotid gland/lesion | 16.89 | NA | NA | 11.50 | 12.07 | 1.30 | NA | NA | 29.69 | 30.26 | 090
42420 |  | A | Excise parotid gland/lesion | 19.59 | NA | NA | 13.03 | 13.79 | 1.48 | NA | NA | 34.10 | 34.86 | 090
42425 |  | A | Excise parotid gland/lesion | 13.02 | NA | NA | 9.62 | 10.23 | 0.99 | NA | NA | 23.63 | 24.24 | 090
42426 |  | A | Excise parotid gland/lesion | 21.26 | NA | NA | 13.97 | 16.82 | 1.60 | NA | NA | 36.83 | 39.68 | 090
42440 |  | A | Excise submaxillary gland | 6.97 | NA | NA | 5.37 | 6.11 | 0.53 | NA | NA | 12.87 | 3.61 | 090
42450 |  | A | Excise sublingual gland | 4.62 | 4.28 | 4.14 | 4.28 | 4.14 | 0.34 | 9.24 | 9.10 | 9.24 | 9.10 | 090
42500 |  | A | Repair salivary duct | 4.30 | 4.26 | 4.45 | 4.26 | 4.45 | 0.32 | 8.88 | 9.07 | 8.88 | 9.07 | 090
42505 |  | A | Repair salivary duct | 6.18 | 4.72 | 5.39 | 4.72 | 5.39 | 0.47 | 11.37 | 12.04 | 11.37 | 12.04 | 090
42507 |  | A | Parotid duct diversion | 6.11 | NA | NA | 5.60 | 5.46 | 0.46 | NA | NA | 12.17 | 12.03 | 090
42508 |  | A | Parotid duct diversion | 9.10 | NA | NA | 6.93 | 7.26 | 0.68 | NA | NA | 16.71 | 17.04 | 090
42509 |  | A | Parotid duct diversion | 11.54 | NA | NA | 8.74 | 8.54 | 0.82 | NA | NA | 21.10 | 20.90 | 090
42510 |  | A | Parotid duct diversion | 8.15 | NA | NA | 6.60 | 7.03 | 0.81 | NA | NA | 15.56 | 15.99 | 090
42550 |  | A | Injection for salivary x-ray | 1.25 | 11.98 | 9.11 | 0.44 | 0.45 | 0.05 | 13.28 | 10.41 | 1.74 | 1.75 | 000
42600 |  | A | Closure of salivary fistula | 4.82 | 5.56 | 5.23 | 4.93 | 4.75 | 0.37 | 10.75 | 10.42 | 10.12 | 9.94 | 090
42650 |  | A | Dilation of salivary duct | 0.77 | 0.94 | 0.81 | 0.39 | 0.40 | 0.06 | 1.77 | 1.64 | 1.22 | 1.23 | 000
42660 |  | A | Dilation of salivary duct | 1.13 | 1.08 | 0.95 | 1.08 | 0.95 | 0.07 | 2.28 | 2.15 | 2.28 | 2.15 | 000
42665 |  | A | Ligation of salivary duct | 2.53 | 3.15 | 2.92 | 3.02 | 2.82 | 0.18 | 5.86 | 5.63 | 5.73 | 5.53 | 090
42699 |  | C | Salivary surgery procedure | 0.00 | 0.00 | 0.00 | 0.00 | 0.00 | 0.00 | 0.00 | 0.00 | 0.00 | 0.00 | YYY
42700 |  | A | Drainage of tonsil abscess | 1.62 | 2.57 | 2.16 | 1.62 | 1.45 | 0.11 | 4.30 | 3.89 | 3.35 | 3.18 | 010
42720 |  | A | Drainage of throat abscess | 5.42 | 4.43 | 3.84 | 4.26 | 3.71 | 0.39 | 10.24 | 9.65 | 10.07 | 9.52 | 010
42725 |  | A | Drainage of throat abscess | 10.72 | NA | NA | 7.92 | 7.15 | 0.84 | NA | NA | 19.48 | 18.71 | 090
42800 |  | A | Biopsy of throat | 1.39 | 2.43 | 2.02 | 2.13 | 1.80 | 0.10 | 3.92 | 3.51 | 3.62 | 3.29 | 010
42802 |  | A | Biopsy of throat | 1.54 | 2.49 | 2.15 | 2.20 | 1.93 | 0.11 | 4.14 | 3.80 | 3.85 | 3.58 | 010
42804 |  | A | Biopsy of upper nose/throat | 1.24 | 2.37 | 2.07 | 2.05 | 1.83 | 0.09 | 3.70 | 3.40 | 3.38 | 3.16 | 010
42806 |  | A | Biopsy of upper nose/throat | 1.58 | 2.74 | 2.44 | 2.25 | 2.07 | 0.11 | 4.43 | 4.13 | 3.94 | 3.76 | 010
42808 |  | A | Excise pharynx lesion | 2.30 | 3.89 | 3.60 | 2.64 | 2.66 | 0.16 | 6.35 | 6.06 | 5.10 | 5.12 | 010
42809 |  | A | Remove pharynx foreign body | 1.81 | 2.77 | 2.30 | 1.49 | 1.34 | 0.14 | 4.72 | 4.25 | 3.44 | 3.29 | 010
42810 |  | A | Excision of neck cyst | 3.25 | 4.76 | 4.42 | 3.81 | 3.71 | 0.27 | 8.28 | 7.94 | 7.33 | 7.23 | 090
42815 |  | A | Excision of neck cyst | 7.07 | NA | NA | 5.89 | 6.58 | 0.55 | NA | NA | 13.51 | 14.20 | 090
42820 |  | A | Remove tonsils and adenoids | 3.91 | NA | NA | 3.48 | 3.47 | 0.26 | NA | NA | 7.65 | 7.64 | 090
42821 |  | A | Remove tonsils and adenoids | 4.29 | NA | NA | 3.68 | 3.83 | 0.31 | NA | NA | 8.28 | 8.43 | 090
42825 |  | A | Removal of tonsils | 3.42 | NA | NA | 3.27 | 3.17 | 0.25 | NA | NA | 6.94 | 6.84 | 090
42826 |  | A | Removal of tonsils | 3.38 | NA | NA | 3.22 | 3.43 | 0.24 | NA | NA | 6.84 | 7.05 | 090
42830 |  | A | Removal of adenoids | 2.57 | NA | NA | 2.16 | 2.13 | 0.18 | NA | NA | 4.91 | 4.88 | 090
42831 |  | A | Removal of adenoids | 2.71 | NA | NA | 2.26 | 2.34 | 0.19 | NA | NA | 5.16 | 5.24 | 090
42835 |  | A | Removal of adenoids | 2.30 | NA | NA | 2.53 | 2.40 | 0.16 | NA | NA | 4.99 | 4.86 | 090
42836 |  | A | Removal of adenoids | 3.18 | NA | NA | 3.13 | 3.11 | 0.23 | NA | NA | 6.54 | 6.52 | 090
42842 |  | A | Extensive surgery of throat | 8.76 | NA | NA | 6.93 | 7.01 | 0.63 | NA | NA | 16.32 | 16.40 | 090
42844 |  | A | Extensive surgery of throat | 14.31 | NA | NA | 10.50 | 10.82 | 1.07 | NA | NA | 25.88 | 26.20 | 090
42845 |  | A | Extensive surgery of throat | 24.29 | NA | NA | 16.02 | 17.07 | 1.82 | NA | NA | 42.13 | 43.18 | 090
42860 |  | A | Excision of tonsil tags | 2.22 | NA | NA | 2.59 | 2.46 | 0.16 | NA | NA | 4.97 | 4.84 | 090
42870 |  | A | Excision of lingual tonsil | 5.40 | NA | NA | 5.28 | 4.59 | 0.38 | NA | NA | 11.06 | 10.37 | 090
42890 |  | A | Partial removal of pharynx | 12.94 | NA | NA | 9.75 | 9.75 | 0.94 | NA | NA | 23.63 | 23.63 | 090
42892 |  | A | Revision of pharyngeal walls | 15.83 | NA | NA | 11.21 | 11.37 | 1.15 | NA | NA | 28.19 | 28.35 | 090
42894 |  | A | Revision of pharyngeal walls | 22.88 | NA | NA | 15.71 | 16.14 | 1.69 | NA | NA | 40.28 | 40.71 | 090
42900 |  | A | Repair throat wound | 5.25 | NA | NA | 3.50 | 3.78 | 0.39 | NA | NA | 9.14 | 9.42 | 010
42950 |  | A | Reconstruction of throat | 8.10 | NA | NA | 6.67 | 7.42 | 0.62 | NA | NA | 15.39 | 16.14 | 090
42953 |  | A | Repair throat, esophagus | 8.96 | NA | NA | 8.11 | 7.80 | 0.75 | NA | NA | 17.82 | 17.51 | 090
42955 |  | A | Surgical opening of throat | 7.39 | NA | NA | 5.88 | 5.31 | 0.59 | NA | NA | 13.86 | 13.29 | 090
42960 |  | A | Control throat bleeding | 2.33 | NA | NA | 1.87 | 1.70 | 0.17 | NA | NA | 4.37 | 4.20 | 010
42961 |  | A | Control throat bleeding | 5.59 | NA | NA | 4.66 | 3.97 | 0.40 | NA | NA | 10.65 | 9.96 | 090
42962 |  | A | Control throat bleeding | 7.14 | NA | NA | 5.44 | 5.70 | 0.52 | NA | NA | 13.10 | 13.36 | 090
42970 |  | A | Control nose/throat bleeding | 5.43 | NA | NA | 3.38 | 2.82 | 0.34 | NA | NA | 9.15 | 8.59 | 090
42971 |  | A | Control nose/throat bleeding | 6.21 | NA | NA | 4.91 | 4.47 | 0.45 | NA | NA | 11.57 | 11.13 | 090
42972 |  | A | Control nose/throat bleeding | 7.20 | NA | NA | 5.08 | 5.05 | 0.53 | NA | NA | 12.81 | 12.78 | 090
42999 |  | C | Throat surgery procedure | 0.00 | 0.00 | 0.00 | 0.00 | 0.00 | 0.00 | 0.00 | 0.00 | 0.00 | 0.00 | YYY
43020 |  | A | Incision of esophagus | 8.09 | NA | NA | 6.52 | 6.68 | 0.76 | NA | NA | 15.37 | 15.53 | 090
43030 |  | A | Throat muscle surgery | 7.69 | NA | NA | 6.15 | 6.91 | 0.62 | NA | NA | 14.46 | 15.22 | 090
43045 |  | A | Incision of esophagus | 20.12 | NA | NA | 12.89 | 13.05 | 2.34 | NA | NA | 35.35 | 35.51 | 090
43100 |  | A | Excision of esophagus lesion | 9.19 | NA | NA | 6.75 | 6.74 | 0.87 | NA | NA | 16.81 | 16.80 | 090
43101 |  | A | Excision of esophagus lesion | 16.24 | NA | NA | 10.02 | 10.09 | 1.88 | NA | NA | 28.14 | 28.21 | 090
43107 |  | A | Removal of esophagus | 28.79 | NA | NA | 16.57 | 18.53 | 3.29 | NA | NA | 48.65 | 50.61 | 090
43108 |  | A | Removal of esophagus | 34.19 | NA | NA | 16.97 | 19.58 | 3.79 | NA | NA | 54.95 | 57.56 | 090
43112 |  | A | Removal of esophagus | 31.22 | NA | NA | 18.51 | 19.76 | 3.63 | NA | NA | 53.36 | 54.61 | 090
43113 |  | A | Removal of esophagus | 35.27 | NA | NA | 18.53 | 20.75 | 4.18 | NA | NA | 57.98 | 60.20 | 090
43116 |  | A | Partial removal of esophagus | 31.22 | NA | NA | 17.68 | 20.12 | 3.01 | NA | NA | 51.91 | 54.35 | 090
43117 |  | A | Partial removal of esophagus | 30.02 | NA | NA | 17.24 | 19.79 | 3.45 | NA | NA | 50.71 | 53.26 | 090
43118 |  | A | Partial removal of esophagus | 33.20 | NA | NA | 17.18 | 19.74 | 3.39 | NA | NA | 53.77 | 56.33 | 090
43121 |  | A | Partial removal of esophagus | 29.19 | NA | NA | 17.78 | 19.13 | 3.40 | NA | NA | 50.37 | 51.72 | 090
43122 |  | A | Parital removal of esophagus | 29.11 | NA | NA | 15.73 | 17.59 | 3.21 | NA | NA | 48.05 | 49.91 | 090
43123 |  | A | Partial removal of esophagus | 33.20 | NA | NA | 19.23 | 21.28 | 3.58 | NA | NA | 56.01 | 58.06 | 090
43124 |  | A | Removal of esophagus | 27.32 | NA | NA | 16.53 | 18.50 | 2.94 | NA | NA | 46.79 | 48.76 | 090
43130 |  | A | Removal of esophagus pouch | 11.75 | NA | NA | 8.86 | 9.50 | 1.06 | NA | NA | 21.67 | 22.31 | 090
43135 |  | A | Removal of esophagus pouch | 16.10 | NA | NA | 11.12 | 11.52 | 1.90 | NA | NA | 29.12 | 29.52 | 090
43200 |  | A | Esophagus endoscopy | 1.59 | 5.33 | 4.55 | 1.09 | 1.37 | 0.11 | 7.03 | 6.25 | 2.79 | 3.07 | 000
43202 |  | A | Esophagus endoscopy, biopsy | 1.89 | 4.72 | 4.20 | 1.04 | 1.44 | 0.13 | 6.74 | 6.22 | 3.06 | 3.46 | 000
43204 |  | A | Esophagus endoscopy & inject | 3.77 | NA | NA | 1.58 | 2.31 | 0.24 | NA | NA | 5.59 | 6.32 | 000
43205 |  | A | Esophagus endoscopy/ligation | 3.79 | NA | NA | 1.57 | 1.91 | 0.23 | NA | NA | 5.59 | 5.93 | 000
43215 |  | A | Esophagus endoscopy | 2.60 | NA | NA | 1.20 | 1.68 | 0.19 | NA | NA | 3.99 | 4.47 | 000
43216 |  | A | Esophagus endoscopy/lesion | 2.40 | NA | NA | 1.11 | 1.55 | 0.17 | NA | NA | 3.68 | 4.12 | 000
43217 |  | A | Esophagus endoscopy | 2.90 | NA | NA | 1.28 | 1.83 | 0.19 | NA | NA | 4.37 | 4.92 | 000
43219 |  | A | Esophagus endoscopy | 2.80 | NA | NA | 1.36 | 1.86 | 0.20 | NA | NA | 4.36 | 4.86 | 000
43220 |  | A | Esoph endoscopy, dilation | 2.10 | NA | NA | 1.03 | 1.40 | 0.13 | NA | NA | 3.26 | 3.63 | 000
43226 |  | A | Esoph endoscopy, dilation | 2.34 | NA | NA | 1.09 | 1.52 | 0.15 | NA | NA | 3.58 | 4.01 | 000
43227 |  | A | Esoph endoscopy, repair | 3.60 | NA | NA | 1.51 | 2.21 | 0.23 | NA | NA | 5.34 | 6.04 | 000
43228 |  | A | Esoph endoscopy, ablation | 3.77 | NA | NA | 1.66 | 2.37 | 0.26 | NA | NA | 5.69 | 6.40 | 000
43234 |  | A | Upper GI endoscopy, exam | 2.01 | 3.50 | 3.32 | 0.98 | 1.43 | 0.14 | 5.65 | 5.47 | 3.13 | 3.58 | 000
43235 |  | A | Uppr gi endoscopy, diagnosis | 2.39 | 4.70 | 4.36 | 1.11 | 1.67 | 0.15 | 7.24 | 6.90 | 3.65 | 4.21 | 000
43239 |  | A | Upper GI endoscopy, biopsy | 2.69 | 4.92 | 4.62 | 1.21 | 1.84 | 0.17 | 7.78 | 7.48 | 4.07 | 4.70 | 000
43241 |  | A | Upper GI endoscopy with tube | 2.59 | NA | NA | 1.16 | 1.64 | 0.17 | NA | NA | 3.92 | 4.40 | 000
43243 |  | A | Upper gi endoscopy & inject | 4.57 | NA | NA | 1.86 | 2.76 | 0.28 | NA | NA | 6.71 | 7.61 | 000
43244 |  | A | Upper GI endoscopy/ligation | 4.59 | NA | NA | 1.86 | 2.34 | 0.28 | NA | NA | 6.73 | 7.21 | 000
43245 |  | A | Operative upper GI endoscopy | 3.39 | NA | NA | 1.44 | 2.09 | 0.22 | NA | NA | 5.05 | 5.70 | 000
43246 |  | A | Place gastrostomy tube | 4.33 | NA | NA | 1.74 | 2.60 | 0.30 | NA | NA | 6.37 | 7.23 | 000
43247 |  | A | Operative upper GI endoscopy | 3.39 | NA | NA | 1.44 | 2.09 | 0.22 | NA | NA | 5.05 | 5.70 | 000
43248 |  | A | Uppr gi endoscopy/guide wire | 3.15 | NA | NA | 1.36 | 1.96 | 0.20 | NA | NA | 4.71 | 5.31 | 000
43249 |  | A | Esoph endoscopy, dilation | 2.90 | NA | NA | 1.26 | 1.81 | 0.18 | NA | NA | 4.34 | 4.89 | 000
43250 |  | A | Upper GI endoscopy/tumor | 3.20 | NA | NA | 1.37 | 1.98 | 0.21 | NA | NA | 4.78 | 5.39 | 000
43251 |  | A | Operative upper GI endoscopy | 3.70 | NA | NA | 1.54 | 2.26 | 0.24 | NA | NA | 5.48 | 6.20 | 000
43255 |  | A | Operative upper GI endoscopy | 4.40 | NA | NA | 1.71 | 2.60 | 0.27 | NA | NA | 6.38 | 7.27 | 000
43258 |  | A | Operative upper GI endoscopy | 4.55 | NA | NA | 1.85 | 2.75 | 0.29 | NA | NA | 6.69 | 7.59 | 000
43259 |  | A | Endoscopic ultrasound exam | 4.89 | NA | NA | 2.03 | 2.61 | 0.30 | NA | NA | 7.22 | 7.80 | 000
43260 |  | A | Endo cholangiopancreatograph | 5.96 | NA | NA | 2.34 | 3.38 | 0.36 | NA | NA | 8.66 | 9.70 | 000
43261 |  | A | Endo cholangiopancreatograph | 6.27 | NA | NA | 2.45 | 3.46 | 0.38 | NA | NA | 9.10 | 10.11 | 000
43262 |  | A | Endo cholangiopancreatograph | 7.39 | NA | NA | 2.85 | 4.34 | 0.46 | NA | NA | 10.70 | 12.19 | 000
43263 |  | A | Endo cholangiopancreatograph | 6.19 | NA | NA | 2.42 | 3.40 | 0.38 | NA | NA | 8.99 | 9.97 | 000
43264 |  | A | Endo cholangiopancreatograph | 8.90 | NA | NA | 3.39 | 4.96 | 0.54 | NA | NA | 12.83 | 14.40 | 000
43265 |  | A | Endo cholangiopancreatograph | 8.90 | NA | NA | 3.38 | 4.39 | 0.54 | NA | NA | 12.82 | 13.83 | 000
43267 |  | A | Endo cholangiopancreatograph | 7.39 | NA | NA | 2.85 | 4.15 | 0.46 | NA | NA | 10.70 | 12.00 | 000
43268 |  | A | Endo cholangiopancreatograph | 7.39 | NA | NA | 2.85 | 4.34 | 0.46 | NA | NA | 10.70 | 12.19 | 000
43269 |  | A | Endo cholangiopancreatograph | 6.04 | NA | NA | 2.37 | 3.58 | 0.37 | NA | NA | 8.78 | 9.99 | 000
43271 |  | A | Endo cholangiopancreatograph | 7.39 | NA | NA | 2.84 | 4.20 | 0.44 | NA | NA | 10.67 | 12.03 | 000
43272 |  | A | Endo cholangiopancreatograph | 7.39 | NA | NA | 2.85 | 3.66 | 0.44 | NA | NA | 10.68 | 11.49 | 000
43280 |  | A | Laparoscopy, fundoplasty | 17.25 | NA | NA | 8.58 | 9.66 | 1.72 | NA | NA | 27.55 | 28.63 | 090
43289 |  | C | Laparoscope proc, esoph | 0.00 | 0.00 | 0.00 | 0.00 | 0.00 | 0.00 | 0.00 | 0.00 | 0.00 | 0.00 | YYY
43300 |  | A | Repair of esophagus | 9.14 | NA | NA | 6.78 | 7.81 | 0.88 | NA | NA | 16.80 | 17.83 | 090
43305 |  | A | Repair esophagus and fistula | 17.39 | NA | NA | 12.11 | 12.80 | 1.32 | NA | NA | 30.82 | 31.51 | 090
43310 |  | A | Repair of esophagus | 27.47 | NA | NA | 17.92 | 18.05 | 3.07 | NA | NA | 48.46 | 48.59 | 090
43312 |  | A | Repair esophagus and fistula | 30.50 | NA | NA | 22.78 | 20.81 | 3.46 | NA | NA | 56.74 | 54.77 | 090
43320 |  | A | Fuse esophagus & stomach | 16.07 | NA | NA | 10.44 | 11.00 | 1.69 | NA | NA | 28.20 | 28.76 | 090
43324 |  | A | Revise esophagus & stomach | 16.58 | NA | NA | 8.54 | 9.63 | 1.66 | NA | NA | 26.78 | 27.87 | 090
43325 |  | A | Revise esophagus & stomach | 16.17 | NA | NA | 8.91 | 9.83 | 1.66 | NA | NA | 26.74 | 27.66 | 090
43326 |  | A | Revise esophagus & stomach | 15.91 | NA | NA | 10.41 | 9.85 | 1.84 | NA | NA | 28.16 | 27.60 | 090
43330 |  | A | Repair of esophagus | 15.94 | NA | NA | 8.50 | 9.46 | 1.54 | NA | NA | 25.98 | 26.94 | 090
43331 |  | A | Repair of esophagus | 16.23 | NA | NA | 10.62 | 11.85 | 1.72 | NA | NA | 28.57 | 29.80 | 090
43340 |  | A | Fuse esophagus & intestine | 15.81 | NA | NA | 10.01 | 10.88 | 1.70 | NA | NA | 27.52 | 28.39 | 090
43341 |  | A | Fuse esophagus & intestine | 16.81 | NA | NA | 14.01 | 13.19 | 1.33 | NA | NA | 32.15 | 31.33 | 090
43350 |  | A | Surgical opening, esophagus | 12.72 | NA | NA | 8.22 | 8.30 | 1.19 | NA | NA | 22.13 | 22.21 | 090
43351 |  | A | Surgical opening, esophagus | 14.79 | NA | NA | 10.69 | 10.40 | 1.76 | NA | NA | 27.24 | 26.95 | 090
43352 |  | A | Surgical opening, esophagus | 12.30 | NA | NA | 9.57 | 9.58 | 1.29 | NA | NA | 23.16 | 23.17 | 090
43360 |  | A | Gastrointestinal repair | 28.78 | NA | NA | 16.03 | 17.82 | 2.97 | NA | NA | 47.78 | 49.57 | 090
43361 |  | A | Gastrointestinal repair | 32.65 | NA | NA | 18.56 | 20.78 | 3.21 | NA | NA | 54.42 | 56.64 | 090
43400 |  | A | Ligate esophagus veins | 17.09 | NA | NA | 8.46 | 9.28 | 1.39 | NA | NA | 26.94 | 27.76 | 090
43401 |  | A | Esophagus surgery for veins | 17.81 | NA | NA | 9.27 | 9.56 | 1.76 | NA | NA | 28.84 | 29.13 | 090
43405 |  | A | Ligate/staple esophagus | 16.13 | NA | NA | 8.97 | 10.62 | 1.77 | NA | NA | 26.87 | 28.52 | 090
43410 |  | A | Repair esophagus wound | 10.86 | NA | NA | 8.91 | 9.10 | 1.16 | NA | NA | 20.93 | 21.12 | 090
43415 |  | A | Repair esophagus wound | 17.06 | NA | NA | 10.65 | 11.45 | 1.90 | NA | NA | 29.61 | 30.41 | 090
43420 |  | A | Repair esophagus opening | 11.57 | NA | NA | 7.50 | 7.22 | 0.85 | NA | NA | 19.92 | 19.64 | 090
43425 |  | A | Repair esophagus opening | 16.95 | NA | NA | 11.60 | 11.40 | 0.02 | NA | NA | 28.57 | 28.37 | 090
43450 |  | A | Dilate esophagus | 1.38 | 1.22 | 1.10 | 0.59 | 0.63 | 0.09 | 2.69 | 2.57 | 2.06 | 2.10 | 000
43453 |  | A | Dilate esophagus | 1.51 | NA | NA | 0.63 | 0.88 | 0.10 | NA | NA | 2.24 | 2.49 | 000
43456 |  | A | Dilate esophagus | 2.57 | NA | NA | 1.01 | 1.43 | 0.16 | NA | NA | 3.74 | 4.16 | 000
43458 |  | A | Dilate esophagus | 3.06 | NA | NA | 1.20 | 1.31 | 0.20 | NA | NA | 4.46 | 4.57 | 000
43460 |  | A | Pressure treatment esophagus | 3.80 | NA | NA | 1.46 | 1.55 | 0.28 | NA | NA | 5.54 | 5.63 | 000
43496 |  | C | Free jejunum flap, microvasc | 0.00 | 0.00 | 0.00 | 0.00 | 0.00 | 0.00 | 0.00 | 0.00 | 0.00 | 0.00 | 090
43499 |  | C | Esophagus surgery procedure | 0.00 | 0.00 | 0.00 | 0.00 | 0.00 | 0.00 | 0.00 | 0.00 | 0.00 | 0.00 | YYY
43500 |  | A | Surgical opening of stomach | 8.44 | NA | NA | 4.25 | 4.85 | 0.82 | NA | NA | 13.51 | 14.11 | 090
43501 |  | A | Surgical repair of stomach | 15.31 | NA | NA | 7.11 | 7.66 | 1.53 | NA | NA | 23.95 | 24.50 | 090
43502 |  | A | Surgical repair of stomach | 17.67 | NA | NA | 8.22 | 8.49 | 1.80 | NA | NA | 27.69 | 27.96 | 090
43510 |  | A | Surgical opening of stomach | 9.99 | NA | NA | 5.93 | 6.70 | 0.77 | NA | NA | 16.69 | 17.46 | 090
43520 |  | A | Incision of pyloric muscle | 7.63 | NA | NA | 5.17 | 5.09 | 0.88 | NA | NA | 13.68 | 13.60 | 090
43600 |  | A | Biopsy of stomach | 1.91 | NA | NA | 0.93 | 0.83 | 0.12 | NA | NA | 2.96 | 2.86 | 000
43605 |  | A | Biopsy of stomach | 9.15 | NA | NA | 4.55 | 5.02 | 0.90 | NA | NA | 14.60 | 15.07 | 090
43610 |  | A | Excision of stomach lesion | 11.15 | NA | NA | 5.60 | 6.42 | 1.11 | NA | NA | 17.86 | 18.68 | 090
43611 |  | A | Excision of stomach lesion | 13.63 | NA | NA | 6.59 | 7.16 | 1.33 | NA | NA | 21.55 | 22.12 | 090
43620 |  | A | Removal of stomach | 22.54 | NA | NA | 10.41 | 11.98 | 2.25 | NA | NA | 35.20 | 36.77 | 090
43621 |  | A | Removal of stomach | 23.06 | NA | NA | 10.53 | 12.07 | 2.29 | NA | NA | 35.88 | 37.42 | 090
43622 |  | A | Removal of stomach | 24.41 | NA | NA | 11.08 | 12.48 | 2.44 | NA | NA | 37.93 | 39.33 | 090
43631 |  | A | Removal of stomach, partial | 19.66 | NA | NA | 8.75 | 9.93 | 1.96 | NA | NA | 30.37 | 31.55 | 090
43632 |  | A | Removal of stomach, partial | 19.66 | NA | NA | 8.72 | 9.91 | 1.95 | NA | NA | 30.33 | 31.52 | 090
43633 |  | A | Removal of stomach, partial | 20.10 | NA | NA | 8.87 | 10.02 | 0.02 | NA | NA | 28.99 | 30.14 | 090
43634 |  | A | Removal of stomach, partial | 21.86 | NA | NA | 9.57 | 12.83 | 2.21 | NA | NA | 33.64 | 36.90 | 090
43635 |  | A | Removal of stomach, partial | 2.06 | NA | NA | 0.77 | 0.87 | 0.20 | NA | NA | 3.03 | 3.13 | ZZZ
43638 |  | A | Removal of stomach, partial | 21.76 | NA | NA | 9.67 | 10.71 | 2.19 | NA | NA | 33.62 | 34.66 | 090
43639 |  | A | Removal of stomach, partial | 22.25 | NA | NA | 9.92 | 10.90 | 2.25 | NA | NA | 34.42 | 35.40 | 090
43640 |  | A | Vagotomy & pylorus repair | 14.81 | NA | NA | 6.93 | 8.00 | 1.47 | NA | NA | 23.21 | 24.28 | 090
43641 |  | A | Vagotomy & pylorus repair | 15.03 | NA | NA | 7.26 | 8.25 | 1.50 | NA | NA | 23.79 | 24.78 | 090
43651 |  | A | Laparoscopy, vagus nerve | 10.15 | NA | NA | 4.70 | 4.90 | 1.01 | NA | NA | 15.86 | 16.06 | 090
43652 |  | A | Laparoscopy, vagus nerve | 12.15 | NA | NA | 5.44 | 5.73 | 1.03 | NA | NA | 18.62 | 18.91 | 090
43653 |  | A | Laparoscopy, gastrostomy | 7.73 | NA | NA | 4.27 | 4.88 | 0.74 | NA | NA | 12.74 | 13.35 | 090
43659 |  | C | Laparoscope proc, stom | 0.00 | 0.00 | 0.00 | 0.00 | 0.00 | 0.00 | 0.00 | 0.00 | 0.00 | 0.00 | YYY
43750 |  | A | Place gastrostomy tube | 4.49 | NA | NA | 2.51 | 3.06 | 0.34 | NA | NA | 7.34 | 7.89 | 010
43760 |  | A | Change gastrostomy tube | 1.10 | 1.24 | 1.12 | 0.44 | 0.52 | 0.08 | 2.42 | 2.30 | 1.62 | 1.70 | 000
43761 |  | A | Reposition gastrostomy tube | 2.01 | NA | NA | 0.80 | 0.89 | 0.10 | NA | NA | 2.91 | 3.00 | 000
43800 |  | A | Reconstruction of pylorus | 10.46 | NA | NA | 5.44 | 5.94 | 1.04 | NA | NA | 16.94 | 17.44 | 090
43810 |  | A | Fusion of stomach and bowel | 11.19 | NA | NA | 5.57 | 6.25 | 1.07 | NA | NA | 17.83 | 18.51 | 090
43820 |  | A | Fusion of stomach and bowel | 11.74 | NA | NA | 5.78 | 6.59 | 1.16 | NA | NA | 18.68 | 19.49 | 090
43825 |  | A | Fusion of stomach and bowel | 14.68 | NA | NA | 6.87 | 8.16 | 1.45 | NA | NA | 23.00 | 24.29 | 090
43830 |  | A | Place gastrostomy tube | 7.28 | NA | NA | 4.12 | 4.77 | 0.70 | NA | NA | 12.10 | 12.75 | 090
43831 |  | A | Place gastrostomy tube | 7.84 | NA | NA | 4.28 | 4.62 | 0.74 | NA | NA | 12.86 | 13.20 | 090
43832 |  | A | Place gastrostomy tube | 11.92 | NA | NA | 6.20 | 6.81 | 1.14 | NA | NA | 19.26 | 19.87 | 090
43840 |  | A | Repair of stomach lesion | 11.89 | NA | NA | 5.83 | 6.50 | 1.18 | NA | NA | 18.90 | 19.57 | 090
43842 |  | A | Gastroplasty for obesity | 14.71 | NA | NA | 9.81 | 11.08 | 1.49 | NA | NA | 26.01 | 27.28 | 090
43843 |  | A | Gastroplasty for obesity | 14.85 | NA | NA | 9.14 | 10.58 | 1.47 | NA | NA | 25.46 | 26.90 | 090
43846 |  | A | Gastric bypass for obesity | 19.15 | NA | NA | 11.04 | 12.30 | 1.90 | NA | NA | 32.09 | 33.35 | 090
43847 |  | A | Gastric bypass for obesity | 21.44 | NA | NA | 12.44 | 13.35 | 2.06 | NA | NA | 35.94 | 36.85 | 090
43848 |  | A | Revision gastroplasty | 23.41 | NA | NA | 13.40 | 14.07 | 2.34 | NA | NA | 39.15 | 39.82 | 090
43850 |  | A | Revise stomach-bowel fusion | 19.69 | NA | NA | 8.65 | 9.65 | 1.91 | NA | NA | 30.25 | 31.25 | 090
43855 |  | A | Revise stomach-bowel fusion | 20.83 | NA | NA | 9.19 | 9.73 | 1.92 | NA | NA | 31.94 | 32.48 | 090
43860 |  | A | Revise stomach-bowel fusion | 19.91 | NA | NA | 8.82 | 9.73 | 1.98 | NA | NA | 30.71 | 31.62 | 090
43865 |  | A | Revise stomach-bowel fusion | 21.12 | NA | NA | 9.32 | 10.62 | 2.12 | NA | NA | 32.56 | 33.86 | 090
43870 |  | A | Repair stomach opening | 7.40 | NA | NA | 4.20 | 4.72 | 0.72 | NA | NA | 12.32 | 12.84 | 090
43880 |  | A | Repair stomach-bowel fistula | 19.63 | NA | NA | 9.10 | 9.06 | 1.97 | NA | NA | 30.70 | 30.66 | 090
43999 |  | C | Stomach surgery procedure | 0.00 | 0.00 | 0.00 | 0.00 | 0.00 | 0.00 | 0.00 | 0.00 | 0.00 | 0.00 | YYY
44005 |  | A | Freeing of bowel adhesion | 13.84 | NA | NA | 6.49 | 7.12 | 1.37 | NA | NA | 21.70 | 22.33 | 090
44010 |  | A | Incision of small bowel | 10.68 | NA | NA | 5.65 | 6.11 | 1.06 | NA | NA | 17.39 | 17.85 | 090
44015 |  | A | Insert needle cath bowel | 2.62 | NA | NA | 0.97 | 1.51 | 0.25 | NA | NA | 3.84 | 4.38 | ZZZ
44020 |  | A | Exploration of small bowel | 11.93 | NA | NA | 5.74 | 6.43 | 1.15 | NA | NA | 18.82 | 19.51 | 090
44021 |  | A | Decompress small bowel | 12.01 | NA | NA | 6.17 | 6.53 | 1.17 | NA | NA | 19.35 | 19.71 | 090
44025 |  | A | Incision of large bowel | 12.18 | NA | NA | 5.84 | 6.48 | 1.20 | NA | NA | 19.22 | 19.86 | 090
44050 |  | A | Reduce bowel obstruction | 11.40 | NA | NA | 5.56 | 6.28 | 1.13 | NA | NA | 18.09 | 18.81 | 090
44055 |  | A | Correct malrotation of bowel | 13.14 | NA | NA | 6.14 | 6.68 | 1.28 | NA | NA | 20.56 | 21.10 | 090
44100 |  | A | Biopsy of bowel | 2.01 | NA | NA | 0.99 | 1.12 | 0.14 | NA | NA | 3.14 | 3.27 | 000
44110 |  | A | Excision of bowel lesion(s) | 10.07 | NA | NA | 5.10 | 5.91 | 0.97 | NA | NA | 16.14 | 16.95 | 090
44111 |  | A | Excision of bowel lesion(s) | 12.19 | NA | NA | 6.31 | 7.36 | 1.17 | NA | NA | 19.67 | 20.72 | 090
44120 |  | A | Removal of small intestine | 14.50 | NA | NA | 6.72 | 7.61 | 1.43 | NA | NA | 22.65 | 23.54 | 090
44121 |  | A | Removal of small intestine | 4.45 | NA | NA | 1.67 | 1.88 | 0.44 | NA | NA | 6.56 | 6.77 | ZZZ
44125 |  | A | Removal of small intestine | 14.96 | NA | NA | 6.91 | 8.10 | 1.48 | NA | NA | 23.35 | 24.54 | 090
44130 |  | A | Bowel to bowel fusion | 12.36 | NA | NA | 5.92 | 6.79 | 1.22 | NA | NA | 19.50 | 20.37 | 090
44139 |  | A | Mobilization of colon | 2.23 | NA | NA | 0.83 | 0.94 | 0.22 | NA | NA | 3.28 | 3.39 | ZZZ
44140 |  | A | Partial removal of colon | 18.35 | NA | NA | 8.53 | 9.48 | 1.81 | NA | NA | 28.69 | 29.64 | 090
44141 |  | A | Partial removal of colon | 19.51 | NA | NA | 11.51 | 11.85 | 1.94 | NA | NA | 32.96 | 33.30 | 090
44143 |  | A | Partial removal of colon | 20.17 | NA | NA | 11.77 | 12.16 | 0.02 | NA | NA | 31.96 | 32.35 | 090
44144 |  | A | Partial removal of colon | 18.89 | NA | NA | 10.59 | 11.22 | 1.88 | NA | NA | 31.36 | 31.99 | 090
44145 |  | A | Partial removal of colon | 23.18 | NA | NA | 10.67 | 11.60 | 2.30 | NA | NA | 36.15 | 37.08 | 090
44146 |  | A | Partial removal of colon | 24.16 | NA | NA | 13.81 | 14.42 | 2.40 | NA | NA | 40.37 | 40.98 | 090
44147 |  | A | Partial removal of colon | 18.17 | NA | NA | 9.06 | 10.96 | 1.81 | NA | NA | 29.04 | 30.94 | 090
44150 |  | A | Removal of colon | 21.01 | NA | NA | 12.63 | 13.50 | 2.11 | NA | NA | 35.75 | 36.62 | 090
44151 |  | A | Removal of colon/ileostomy | 20.04 | NA | NA | 12.85 | 12.41 | 1.98 | NA | NA | 34.87 | 34.43 | 090
44152 |  | A | Removal of colon/ileostomy | 24.41 | NA | NA | 14.96 | 15.41 | 2.39 | NA | NA | 41.76 | 42.21 | 090
44153 |  | A | Removal of colon/ileostomy | 26.83 | NA | NA | 15.33 | 16.75 | 2.72 | NA | NA | 44.88 | 46.30 | 090
44155 |  | A | Removal of colon/ileostomy | 24.44 | NA | NA | 13.60 | 14.72 | 2.44 | NA | NA | 40.48 | 41.60 | 090
44156 |  | A | Removal of colon/ileostomy | 23.01 | NA | NA | 14.36 | 13.86 | 2.33 | NA | NA | 39.70 | 39.20 | 090
44160 |  | A | Removal of colon | 15.88 | NA | NA | 7.58 | 9.06 | 1.58 | NA | NA | 25.04 | 26.52 | 090
44200 |  | A | Laparoscopy, enterolysis | 14.44 | NA | NA | 6.71 | 7.28 | 1.41 | NA | NA | 22.56 | 23.13 | 090
44201 |  | A | Laparoscopy, jejunostomy | 9.78 | NA | NA | 5.28 | 5.28 | 1.35 | NA | NA | 16.41 | 16.41 | 090
44202 |  | A | Laparo, resect intestine | 22.04 | NA | NA | 9.89 | 11.01 | 2.17 | NA | NA | 34.10 | 35.22 | 090
44209 |  | C | Laparoscope proc, intestine | 0.00 | 0.00 | 0.00 | 0.00 | 0.00 | 0.00 | 0.00 | 0.00 | 0.00 | 0.00 | YYY
44300 |  | A | Open bowel to skin | 8.88 | NA | NA | 5.48 | 5.75 | 0.88 | NA | NA | 15.24 | 15.51 | 090
44310 |  | A | Ileostomy/jejunostomy | 11.70 | NA | NA | 8.53 | 8.54 | 1.16 | NA | NA | 21.39 | 21.40 | 090
44312 |  | A | Revision of ileostomy | 5.88 | NA | NA | 4.39 | 4.13 | 0.53 | NA | NA | 10.80 | 10.54 | 090
44314 |  | A | Revision of ileostomy | 11.04 | NA | NA | 8.64 | 8.29 | 1.05 | NA | NA | 20.73 | 20.38 | 090
44316 |  | A | Devise bowel pouch | 15.47 | NA | NA | 11.30 | 11.09 | 1.47 | NA | NA | 28.24 | 28.03 | 090
44320 |  | A | Colostomy | 12.94 | NA | NA | 9.77 | 9.35 | 1.28 | NA | NA | 23.99 | 23.57 | 090
44322 |  | A | Colostomy with biopsies | 11.98 | NA | NA | 9.54 | 9.62 | 1.18 | NA | NA | 22.70 | 22.78 | 090
44340 |  | A | Revision of colostomy | 5.66 | NA | NA | 3.91 | 3.39 | 0.55 | NA | NA | 10.12 | 9.60 | 090
44345 |  | A | Revision of colostomy | 11.32 | NA | NA | 6.66 | 6.31 | 1.12 | NA | NA | 19.10 | 18.75 | 090
44346 |  | A | Revision of colostomy | 12.46 | NA | NA | 7.06 | 7.10 | 1.23 | NA | NA | 20.75 | 20.79 | 090
44360 |  | A | Small bowel endoscopy | 2.92 | NA | NA | 1.36 | 1.89 | 0.18 | NA | NA | 4.46 | 4.99 | 000
44361 |  | A | Small bowel endoscopy/biopsy | 3.23 | NA | NA | 1.45 | 2.05 | 0.19 | NA | NA | 4.87 | 5.47 | 000
44363 |  | A | Small bowel endoscopy | 3.94 | NA | NA | 1.67 | 2.06 | 0.23 | NA | NA | 5.84 | 6.23 | 000
44364 |  | A | Small bowel endoscopy | 4.22 | NA | NA | 1.81 | 2.62 | 0.27 | NA | NA | 6.30 | 7.11 | 000
44365 |  | A | Small bowel endoscopy | 3.73 | NA | NA | 1.66 | 2.36 | 0.24 | NA | NA | 5.63 | 6.33 | 000
44366 |  | A | Small bowel endoscopy | 4.97 | NA | NA | 2.08 | 3.05 | 0.31 | NA | NA | 7.36 | 8.33 | 000
44369 |  | A | Small bowel endoscopy | 5.09 | NA | NA | 2.13 | 3.12 | 0.32 | NA | NA | 7.54 | 8.53 | 000
44372 |  | A | Small bowel endoscopy | 4.97 | NA | NA | 2.11 | 3.07 | 0.33 | NA | NA | 7.41 | 8.37 | 000
44373 |  | A | Small bowel endoscopy | 3.94 | NA | NA | 1.75 | 2.49 | 0.25 | NA | NA | 5.94 | 6.68 | 000
44376 |  | A | Small bowel endoscopy | 5.69 | NA | NA | 2.33 | 2.85 | 0.37 | NA | NA | 8.39 | 8.91 | 000
44377 |  | A | Small bowel endoscopy/biopsy | 5.98 | NA | NA | 2.46 | 3.00 | 0.37 | NA | NA | 8.81 | 9.35 | 000
44378 |  | A | Small bowel endoscopy | 7.71 | NA | NA | 3.08 | 3.74 | 0.50 | NA | NA | 11.29 | 11.95 | 000
44380 |  | A | Small bowel endoscopy | 1.51 | NA | NA | 0.83 | 1.07 | 0.10 | NA | NA | 2.44 | 2.68 | 000
44382 |  | A | Small bowel endoscopy | 1.82 | NA | NA | 0.95 | 1.26 | 0.11 | NA | NA | 2.88 | 3.19 | 000
44385 |  | A | Endoscopy of bowel pouch | 1.82 | 3.11 | 2.97 | 0.89 | 1.30 | 0.13 | 5.06 | 4.92 | 2.84 | 3.25 | 000
44386 |  | A | Endoscopy, bowel pouch/biop | 2.12 | 4.25 | 3.61 | 1.06 | 1.21 | 0.17 | 6.54 | 5.90 | 3.35 | 3.50 | 000
44388 |  | A | Colon endoscopy | 2.82 | 4.27 | 4.18 | 1.31 | 1.96 | 0.22 | 7.31 | 7.22 | 4.35 | 5.00 | 000
44389 |  | A | Colonoscopy with biopsy | 3.13 | 4.68 | 4.60 | 1.43 | 2.16 | 0.22 | 8.03 | 7.95 | 4.78 | 5.51 | 000
44390 |  | A | Colonoscopy for foreign body | 3.83 | 5.47 | 4.82 | 1.64 | 1.94 | 0.31 | 9.61 | 8.96 | 5.78 | 6.08 | 000
44391 |  | A | Colonoscopy for bleeding | 4.32 | 5.14 | 5.28 | 1.69 | 2.70 | 0.29 | 9.75 | 9.89 | 6.30 | 7.31 | 000
44392 |  | A | Colonoscopy & polypectomy | 3.82 | 5.07 | 5.20 | 1.67 | 2.65 | 0.28 | 9.17 | 9.30 | 5.77 | 6.75 | 000
44393 |  | A | Colonoscopy, lesion removal | 4.84 | 5.39 | 5.51 | 2.03 | 2.99 | 0.34 | 10.57 | 10.69 | 7.21 | 8.17 | 000
44394 |  | A | Colonoscopy w/snare | 4.43 | 6.60 | 6.35 | 1.90 | 2.83 | 0.32 | 11.35 | 11.10 | 6.65 | 7.58 | 000
44500 |  | A | Intro, gastrointestinal tube | 0.49 | NA | NA | 0.34 | 0.35 | 0.02 | NA | NA | 0.85 | 0.86 | 000
44602 |  | A | Suture, small intestine | 10.61 | NA | NA | 5.30 | 6.05 | 1.05 | NA | NA | 16.96 | 17.71 | 090
44603 |  | A | Suture, small intestine | 0.14 | NA | NA | 6.56 | 7.39 | 1.38 | NA | NA | 8.08 | 8.91 | 090
44604 |  | A | Suture, large intestine | 14.28 | NA | NA | 6.64 | 7.12 | 1.39 | NA | NA | 22.31 | 22.79 | 090
44605 |  | A | Repair of bowel lesion | 15.37 | NA | NA | 7.32 | 8.03 | 1.50 | NA | NA | 24.19 | 24.90 | 090
44615 |  | A | Intestinal stricturoplasty | 14.19 | NA | NA | 6.60 | 6.78 | 1.39 | NA | NA | 22.18 | 22.36 | 090
44620 |  | A | Repair bowel opening | 10.87 | NA | NA | 5.31 | 5.60 | 1.08 | NA | NA | 17.26 | 17.55 | 090
44625 |  | A | Repair bowel opening | 13.41 | NA | NA | 6.26 | 7.30 | 1.33 | NA | NA | 21.00 | 22.04 | 090
44626 |  | A | Repair bowel opening | 22.59 | NA | NA | 9.70 | 10.36 | 2.23 | NA | NA | 34.52 | 35.18 | 090
44640 |  | A | Repair bowel-skin fistula | 14.83 | NA | NA | 7.19 | 7.17 | 1.48 | NA | NA | 23.50 | 23.48 | 090
44650 |  | A | Repair bowel fistula | 15.25 | NA | NA | 7.31 | 7.47 | 1.50 | NA | NA | 24.06 | 24.22 | 090
44660 |  | A | Repair bowel-bladder fistula | 14.63 | NA | NA | 6.83 | 7.39 | 1.24 | NA | NA | 22.70 | 23.26 | 090
44661 |  | A | Repair bowel-bladder fistula | 16.99 | NA | NA | 7.85 | 9.67 | 1.57 | NA | NA | 26.41 | 28.23 | 090
44680 |  | A | Surgical revision, intestine | 13.72 | NA | NA | 6.82 | 7.75 | 1.37 | NA | NA | 21.91 | 22.84 | 090
44700 |  | A | Suspend bowel w/prosthesis | 14.35 | NA | NA | 7.02 | 8.35 | 1.25 | NA | NA | 22.62 | 23.95 | 090
44799 |  | C | Intestine surgery procedure | 0.00 | 0.00 | 0.00 | 0.00 | 0.00 | 0.00 | 0.00 | 0.00 | 0.00 | 0.00 | YYY
44800 |  | A | Excision of bowel pouch | 11.23 | NA | NA | 5.53 | 5.57 | 1.09 | NA | NA | 17.85 | 17.89 | 090
44820 |  | A | Excision of mesentery lesion | 10.31 | NA | NA | 5.32 | 5.56 | 1.01 | NA | NA | 16.64 | 16.88 | 090
44850 |  | A | Repair of mesentery | 9.57 | NA | NA | 4.96 | 5.24 | 0.95 | NA | NA | 15.48 | 15.76 | 090
44899 |  | C | Bowel surgery procedure | 0.00 | 0.00 | 0.00 | 0.00 | 0.00 | 0.00 | 0.00 | 0.00 | 0.00 | 0.00 | YYY
44900 |  | A | Drain app abscess, open | 8.82 | NA | NA | 5.13 | 5.01 | 0.81 | NA | NA | 14.76 | 14.64 | 090
44901 |  | A | Drain app abscess, percut | 3.38 | NA | NA | 4.22 | 3.86 | 0.32 | NA | NA | 7.92 | 7.56 | 000
44950 |  | A | Appendectomy | 8.70 | NA | NA | 4.70 | 4.85 | 0.86 | NA | NA | 14.26 | 14.41 | 090
44955 |  | A | Appendectomy add-on | 1.53 | NA | NA | 0.57 | 0.88 | 0.14 | NA | NA | 2.24 | 2.55 | ZZZ
44960 |  | A | Appendectomy | 10.74 | NA | NA | 5.75 | 5.91 | 1.07 | NA | NA | 17.56 | 17.72 | 090
44970 |  | A | Laparoscopy, appendectomy | 8.70 | NA | NA | 4.18 | 4.46 | 0.86 | NA | NA | 13.74 | 14.02 | 090
44979 |  | C | Laparoscope proc, app | 0.00 | 0.00 | 0.00 | 0.00 | 0.00 | 0.00 | 0.00 | 0.00 | 0.00 | 0.00 | YYY
45000 |  | A | Drainage of pelvic abscess | 4.52 | NA | NA | 3.55 | 3.10 | 0.38 | NA | NA | 8.45 | 8.00 | 090
45005 |  | A | Drainage of rectal abscess | 1.99 | 4.11 | 3.43 | 1.45 | 1.44 | 0.19 | 6.29 | 5.61 | 3.63 | 3.62 | 010
45020 |  | A | Drainage of rectal abscess | 4.72 | NA | NA | 3.39 | 3.25 | 0.45 | NA | NA | 8.56 | 8.42 | 090
45100 |  | A | Biopsy of rectum | 3.68 | 4.47 | 3.86 | 1.98 | 2.00 | 0.35 | 8.50 | 7.89 | 6.01 | 6.03 | 090
45108 |  | A | Removal of anorectal lesion | 4.76 | 5.51 | 4.86 | 3.01 | 2.98 | 0.48 | 10.75 | 10.10 | 8.25 | 8.22 | 090
45110 |  | A | Removal of rectum | 23.80 | NA | NA | 11.62 | 13.14 | 2.33 | NA | NA | 37.75 | 39.27 | 090
45111 |  | A | Partial removal of rectum | 16.48 | NA | NA | 8.49 | 9.56 | 1.63 | NA | NA | 26.60 | 27.67 | 090
45112 |  | A | Removal of rectum | 25.96 | NA | NA | 11.93 | 13.31 | 2.55 | NA | NA | 40.44 | 41.82 | 090
45113 |  | A | Partial proctectomy | 25.99 | NA | NA | 11.18 | 12.74 | 2.48 | NA | NA | 39.65 | 41.21 | 090
45114 |  | A | Partial removal of rectum | 23.22 | NA | NA | 10.86 | 12.32 | 2.29 | NA | NA | 36.37 | 37.83 | 090
45116 |  | A | Partial removal of rectum | 20.89 | NA | NA | 9.88 | 10.33 | 2.04 | NA | NA | 32.81 | 33.26 | 090
45119 |  | A | Remove rectum w/reservoir | 26.21 | NA | NA | 11.68 | 13.12 | 2.58 | NA | NA | 40.47 | 41.91 | 090
45120 |  | A | Removal of rectum | 0.25 | NA | NA | 11.47 | 13.05 | 2.31 | NA | NA | 14.03 | 15.61 | 090
45121 |  | A | Removal of rectum and colon | 27.51 | NA | NA | 12.98 | 12.66 | 2.65 | NA | NA | 43.14 | 42.82 | 090
45123 |  | A | Partial proctectomy | 14.20 | NA | NA | 6.99 | 8.44 | 1.41 | NA | NA | 22.60 | 24.05 | 090
45126 |  | A | Pelvic exenteration | 38.39 | 14.50 | 14.50 | 14.50 | 14.50 | 2.73 | 55.62 | 55.62 | 55.62 | 55.62 | 090
45130 |  | A | Excision of rectal prolapse | 13.97 | NA | NA | 6.76 | 7.49 | 1.41 | NA | NA | 22.14 | 22.87 | 090
45135 |  | A | Excision of rectal prolapse | 16.39 | NA | NA | 8.01 | 10.34 | 1.62 | NA | NA | 26.02 | 28.35 | 090
45150 |  | A | Excision of rectal stricture | 5.67 | 5.23 | 4.84 | 3.05 | 3.21 | 0.56 | 11.46 | 11.07 | 9.28 | 9.44 | 090
45160 |  | A | Excision of rectal lesion | 13.02 | NA | NA | 6.28 | 6.74 | 1.30 | NA | NA | 20.60 | 21.06 | 090
45170 |  | A | Excision of rectal lesion | 9.77 | NA | NA | 5.01 | 5.01 | 0.98 | NA | NA | 15.76 | 15.76 | 090
45190 |  | A | Destruction, rectal tumor | 8.28 | NA | NA | 4.45 | 4.72 | 0.83 | NA | NA | 13.56 | 13.83 | 090
45300 |  | A | Proctosigmoidoscopy | 0.70 | 1.27 | 1.10 | 0.33 | 0.40 | 0.06 | 2.03 | 1.86 | 1.09 | 1.16 | 000
45303 |  | A | Proctosigmoidoscopy | 0.80 | 1.46 | 1.27 | 0.37 | 0.45 | 0.07 | 2.33 | 2.14 | 1.24 | 1.32 | 000
45305 |  | A | Proctosigmoidoscopy & biopsy | 1.01 | 1.43 | 1.30 | 0.45 | 0.57 | 0.10 | 2.54 | 2.41 | 1.56 | 1.68 | 000
45307 |  | A | Proctosigmoidoscopy | 1.71 | 2.57 | 2.27 | 0.69 | 0.86 | 0.16 | 4.44 | 4.14 | 2.56 | 2.73 | 000
45308 |  | A | Proctosigmoidoscopy | 1.51 | 1.62 | 1.52 | 0.64 | 0.79 | 0.14 | 3.27 | 3.17 | 2.29 | 2.44 | 000
45309 |  | A | Proctosigmoidoscopy | 2.01 | 2.19 | 1.95 | 0.81 | 0.92 | 0.19 | 4.39 | 4.15 | 3.01 | 3.12 | 000
45315 |  | A | Proctosigmoidoscopy | 2.54 | 2.66 | 2.32 | 1.00 | 1.07 | 0.23 | 5.43 | 5.09 | 3.77 | 3.84 | 000
45317 |  | A | Proctosigmoidoscopy | 2.73 | 2.08 | 1.90 | 1.08 | 1.15 | 0.25 | 5.06 | 4.88 | 4.06 | 4.13 | 000
45320 |  | A | Proctosigmoidoscopy | 2.88 | 2.07 | 2.06 | 1.13 | 1.36 | 0.26 | 5.21 | 5.20 | 4.27 | 4.50 | 000
45321 |  | A | Proctosigmoidoscopy | 2.12 | NA | NA | 0.85 | 1.04 | 0.18 | NA | NA | 3.15 | 3.34 | 000
45330 |  | A | Diagnostic sigmoidoscopy | 0.96 | 1.68 | 1.59 | 0.42 | 0.65 | 0.07 | 2.71 | 2.62 | 1.45 | 1.68 | 000
45331 |  | A | Sigmoidoscopy and biopsy | 1.26 | 1.93 | 1.89 | 0.53 | 0.84 | 0.09 | 3.28 | 3.24 | 1.88 | 2.19 | 000
45332 |  | A | Sigmoidoscopy | 1.96 | 3.39 | 3.02 | 0.78 | 1.06 | 0.14 | 5.49 | 5.12 | 2.88 | 3.16 | 000
45333 |  | A | Sigmoidoscopy & polypectomy | 1.96 | 3.04 | 2.89 | 0.78 | 1.19 | 0.14 | 5.14 | 4.99 | 2.88 | 3.29 | 000
45334 |  | A | Sigmoidoscopy for bleeding | 2.99 | NA | NA | 1.15 | 1.60 | 0.20 | NA | NA | 4.34 | 4.79 | 000
45337 |  | A | Sigmoidoscopy & decompress | 2.36 | NA | NA | 0.93 | 1.40 | 0.17 | NA | NA | 3.46 | 3.93 | 000
45338 |  | A | Sigmoidoscopy | 2.57 | 3.29 | 3.08 | 1.01 | 1.37 | 0.18 | 6.04 | 5.83 | 3.76 | 4.12 | 000
45339 |  | A | Sigmoidoscopy | 3.14 | 2.36 | 2.65 | 1.20 | 1.78 | 0.22 | 5.72 | 6.01 | 4.56 | 5.14 | 000
45355 |  | A | Surgical colonoscopy | 3.52 | NA | NA | 1.26 | 1.26 | 0.28 | NA | NA | 5.06 | 5.06 | 000
45378 |  | A | Diagnostic colonoscopy | 3.70 | 5.39 | 5.16 | 1.63 | 2.34 | 0.26 | 9.35 | 9.12 | 5.59 | 6.30 | 000
45378 | 53 | A | Diagnostic colonoscopy | 0.96 | 1.68 | 1.59 | 0.42 | 0.65 | 0.07 | 2.71 | 2.62 | 1.45 | 1.68 | 000
45379 |  | A | Colonoscopy | 4.72 | 5.92 | 5.89 | 1.99 | 2.94 | 0.34 | 10.98 | 10.95 | 7.05 | 8.00 | 000
45380 |  | A | Colonoscopy and biopsy | 4.01 | 5.61 | 5.51 | 1.74 | 2.61 | 0.26 | 9.88 | 9.78 | 6.01 | 6.88 | 000
45382 |  | A | Colonoscopy/control bleeding | 5.73 | 6.72 | 6.63 | 2.18 | 3.23 | 0.36 | 12.81 | 12.72 | 8.27 | 9.32 | 000
45383 |  | A | Lesion removal colonoscopy | 5.87 | 6.47 | 6.46 | 2.40 | 3.41 | 0.40 | 12.74 | 12.73 | 8.67 | 9.68 | 000
45384 |  | A | Colonoscopy | 4.70 | 7.26 | 6.85 | 1.98 | 2.89 | 0.32 | 12.28 | 11.87 | 7.00 | 7.91 | 000
45385 |  | A | Lesion removal colonoscopy | 5.31 | 7.43 | 7.38 | 2.20 | 3.46 | 0.35 | 13.09 | 13.04 | 7.86 | 9.12 | 000
45500 |  | A | Repair of rectum | 7.29 | NA | NA | 3.96 | 4.59 | 0.73 | NA | NA | 11.98 | 12.61 | 090
45505 |  | A | Repair of rectum | 6.02 | NA | NA | 3.07 | 4.01 | 0.60 | NA | NA | 9.69 | 10.63 | 090
45520 |  | A | Treatment of rectal prolapse | 0.55 | 0.65 | 0.65 | 0.19 | 0.31 | 0.06 | 1.26 | 1.26 | 0.80 | 0.92 | 000
45540 |  | A | Correct rectal prolapse | 12.92 | NA | NA | 6.67 | 7.69 | 1.26 | NA | NA | 20.85 | 21.87 | 090
45541 |  | A | Correct rectal prolapse | 10.64 | NA | NA | 5.78 | 7.10 | 1.07 | NA | NA | 17.49 | 18.81 | 090
45550 |  | A | Repair rectum/remove sigmoid | 18.26 | NA | NA | 8.56 | 9.54 | 1.82 | NA | NA | 28.64 | 29.62 | 090
45560 |  | A | Repair of rectocele | 8.40 | NA | NA | 4.74 | 4.86 | 0.68 | NA | NA | 13.82 | 13.94 | 090
45562 |  | A | Exploration/repair of rectum | 12.21 | NA | NA | 6.06 | 6.74 | 1.14 | NA | NA | 19.41 | 20.09 | 090
45563 |  | A | Exploration/repair of rectum | 18.63 | NA | NA | 9.22 | 10.38 | 1.80 | NA | NA | 29.65 | 30.81 | 090
45800 |  | A | Repair rect/bladder fistula | 14.11 | NA | NA | 6.53 | 7.56 | 1.11 | NA | NA | 21.75 | 22.78 | 090
45805 |  | A | Repair fistula w/colostomy | 16.50 | NA | NA | 8.45 | 9.68 | 1.49 | NA | NA | 26.44 | 27.67 | 090
45820 |  | A | Repair rectourethral fistula | 14.67 | NA | NA | 6.76 | 7.51 | 1.28 | NA | NA | 22.71 | 23.46 | 090
45825 |  | A | Repair fistula w/colostomy | 16.87 | NA | NA | 8.91 | 9.36 | 1.49 | NA | NA | 27.27 | 27.72 | 090
45900 |  | A | Reduction of rectal prolapse | 1.83 | NA | NA | 0.76 | 0.73 | 0.18 | NA | NA | 2.77 | 2.74 | 010
45905 |  | A | Dilation of anal sphincter | 1.61 | 2.85 | 2.33 | 0.70 | 0.72 | 0.15 | 4.61 | 4.09 | 2.46 | 2.48 | 010
45910 |  | A | Dilation of rectal narrowing | 1.96 | 3.89 | 3.15 | 0.82 | 0.85 | 0.16 | 6.01 | 5.27 | 2.94 | 2.97 | 010
45915 |  | A | Remove rectal obstruction | 2.20 | 3.90 | 3.14 | 0.78 | 0.80 | 0.19 | 6.29 | 5.53 | 3.17 | 3.19 | 010
45999 |  | C | Rectum surgery procedure | 0.00 | 0.00 | 0.00 | 0.00 | 0.00 | 0.00 | 0.00 | 0.00 | 0.00 | 0.00 | YYY
46030 |  | A | Removal of rectal marker | 1.23 | 2.61 | 2.07 | 1.08 | 0.92 | 0.12 | 3.96 | 3.42 | 2.43 | 2.27 | 010
46040 |  | A | Incision of rectal abscess | 4.96 | 5.00 | 4.21 | 2.94 | 2.66 | 0.50 | 10.46 | 9.67 | 8.40 | 8.12 | 090
46045 |  | A | Incision of rectal abscess | 4.32 | NA | NA | 2.64 | 2.48 | 0.43 | NA | NA | 7.39 | 7.23 | 090
46050 |  | A | Incision of anal abscess | 1.19 | 3.17 | 2.54 | 1.12 | 1.00 | 0.11 | 4.47 | 3.84 | 2.42 | 2.30 | 010
46060 |  | A | Incision of rectal abscess | 5.69 | NA | NA | 3.51 | 4.09 | 0.57 | NA | NA | 9.77 | 10.35 | 090
46070 |  | A | Incision of anal septum | 2.71 | NA | NA | 2.56 | 2.29 | 0.28 | NA | NA | 5.55 | 5.28 | 090
46080 |  | A | Incision of anal sphincter | 2.49 | 3.29 | 3.05 | 1.55 | 1.74 | 0.25 | 6.03 | 5.79 | 4.29 | 4.48 | 010
46083 |  | A | Incise external hemorrhoid | 1.40 | 4.20 | 3.32 | 1.23 | 1.09 | 0.11 | 5.71 | 4.83 | 2.74 | 2.60 | 010
46200 |  | A | Removal of anal fissure | 3.42 | 3.38 | 3.43 | 2.19 | 2.54 | 0.34 | 7.14 | 19 | 5.95 | 6.30 | 090
46210 |  | A | Removal of anal crypt | 2.67 | 4.94 | 3.92 | 2.01 | 1.72 | 0.25 | 7.86 | 6.84 | 4.93 | 4.64 | 090
46211 |  | A | Removal of anal crypts | 4.25 | 4.53 | 3.91 | 2.65 | 2.50 | 0.41 | 9.19 | 8.57 | 7.31 | 7.16 | 090
46220 |  | A | Removal of anal tab | 1.56 | 1.22 | 1.09 | 0.58 | 0.61 | 0.15 | 2.93 | 2.80 | 2.29 | 2.32 | 010
46221 |  | A | Ligation of hemorrhoid(s) | 1.43 | 2.79 | 2.27 | 0.53 | 0.58 | 0.14 | 4.36 | 3.84 | 2.10 | 2.15 | 010
46230 |  | A | Removal of anal tabs | 2.57 | 3.87 | 3.13 | 1.59 | 1.42 | 0.25 | 6.69 | 5.95 | 4.41 | 4.24 | 010
46250 |  | A | Hemorrhoidectomy | 4.53 | 5.02 | 4.54 | 2.77 | 2.85 | 0.44 | 9.99 | 9.51 | 7.74 | 7.82 | 090
46255 |  | A | Hemorrhoidectomy | 5.36 | 5.69 | 5.55 | 3.05 | 3.57 | 0.53 | 11.58 | 11.44 | 8.94 | 9.46 | 090
46257 |  | A | Remove hemorrhoids & fissure | 6.28 | NA | NA | 3.35 | 3.93 | 0.63 | NA | NA | 10.26 | 10.84 | 090
46258 |  | A | Remove hemorrhoids & fistula | 6.67 | NA | NA | 3.43 | 4.17 | 0.66 | NA | NA | 10.76 | 11.50 | 090
46260 |  | A | Hemorrhoidectomy | 7.42 | NA | NA | 4.17 | 4.78 | 0.74 | NA | NA | 12.33 | 12.94 | 090
46261 |  | A | Remove hemorrhoids & fissure | 8.24 | NA | NA | 4.39 | 5.09 | 0.83 | NA | NA | 13.46 | 14.16 | 090
46262 |  | A | Remove hemorrhoids & fistula | 8.73 | NA | NA | 4.61 | 5.28 | 0.87 | NA | NA | 14.21 | 14.88 | 090
46270 |  | A | Removal of anal fistula | 3.72 | 4.65 | 4.00 | 2.44 | 2.34 | 0.37 | 8.74 | 8.09 | 6.53 | 6.43 | 090
46275 |  | A | Removal of anal fistula | 4.56 | 4.41 | 4.67 | 2.65 | 3.35 | 0.46 | 9.43 | 9.69 | 7.67 | 8.37 | 090
46280 |  | A | Removal of anal fistula | 5.98 | NA | NA | 3.54 | 4.31 | 0.61 | NA | NA | 10.13 | 10.90 | 090
46285 |  | A | Removal of anal fistula | 4.09 | 3.61 | 3.33 | 2.45 | 2.46 | 0.41 | 8.11 | 7.83 | 6.95 | 6.96 | 090
46288 |  | A | Repair anal fistula | 7.13 | NA | NA | 4.06 | 4.01 | 0.71 | NA | NA | 11.90 | 11.85 | 090
46320 |  | A | Removal of hemorrhoid clot | 1.61 | 3.45 | 2.78 | 1.26 | 1.14 | 0.15 | 5.21 | 4.54 | 3.02 | 2.90 | 010
46500 |  | A | Injection into hemorrhoids | 1.61 | 2.33 | 1.84 | 0.59 | 0.53 | 0.16 | 4.10 | 3.61 | 2.36 | 2.30 | 010
46600 |  | A | Diagnostic anoscopy | 0.50 | 0.70 | 0.60 | 0.15 | 0.19 | 0.04 | 1.24 | 1.14 | 0.69 | 0.73 | 000
46604 |  | A | Anoscopy and dilation | 1.31 | 0.90 | 0.78 | 0.48 | 0.46 | 0.11 | 2.32 | 2.20 | 1.90 | 1.88 | 000
46606 |  | A | Anoscopy and biopsy | 0.81 | 0.79 | 0.69 | 0.30 | 0.32 | 0.08 | 1.68 | 1.58 | 1.19 | 1.21 | 000
46608 |  | A | Anoscopy/ remove for body | 1.51 | 1.72 | 1.58 | 0.49 | 0.66 | 0.13 | 3.36 | 3.22 | 2.13 | 2.30 | 000
46610 |  | A | Anoscopy/remove lesion | 1.32 | 1.34 | 1.24 | 0.49 | 0.60 | 0.11 | 2.77 | 2.67 | 1.92 | 2.03 | 000
46611 |  | A | Anoscopy | 1.81 | 1.86 | 1.63 | 0.67 | 0.73 | 0.16 | 3.83 | 3.60 | 2.64 | 2.70 | 000
46612 |  | A | Anoscopy/ remove lesions | 2.34 | 2.23 | 2.05 | 0.87 | 1.03 | 0.20 | 4.77 | 4.59 | 3.41 | 3.57 | 000
46614 |  | A | Anoscopy/control bleeding | 2.01 | 1.56 | 1.59 | 0.72 | 0.96 | 0.17 | 3.74 | 3.77 | 2.90 | 3.14 | 000
46615 |  | A | Anoscopy | 2.68 | 1.63 | 1.64 | 1.00 | 1.17 | 0.23 | 4.54 | 4.55 | 3.91 | 4.08 | 000
46700 |  | A | Repair of anal stricture | 7.25 | NA | NA | 3.89 | 4.58 | 0.74 | NA | NA | 11.88 | 12.57 | 090
46705 |  | A | Repair of anal stricture | 7.17 | NA | NA | 4.16 | 4.10 | 0.73 | NA | NA | 12.06 | 12.00 | 090
46715 |  | A | Repair of anovaginal fistula | 7.46 | NA | NA | 4.26 | 4.15 | 0.86 | NA | NA | 12.58 | 12.47 | 090
46716 |  | A | Repair of anovaginal fistula | 12.85 | NA | NA | 6.75 | 6.71 | 1.21 | NA | NA | 20.81 | 20.77 | 090
46730 |  | A | Construction of absent anus | 22.39 | NA | NA | 12.17 | 12.04 | 1.91 | NA | NA | 36.47 | 36.34 | 090
46735 |  | A | Construction of absent anus | 27.02 | NA | NA | 12.49 | 12.91 | 2.59 | NA | NA | 42.10 | 42.52 | 090
46740 |  | A | Construction of absent anus | 24.19 | NA | NA | 10.81 | 11.24 | 2.31 | NA | NA | 37.31 | 37.74 | 090
46742 |  | A | Repair of imperforated anus | 29.67 | NA | NA | 15.06 | 16.65 | 0.03 | NA | NA | 44.76 | 46.35 | 090
46744 |  | A | Repair of cloacal anomaly | 33.21 | NA | NA | 14.24 | 16.70 | 2.51 | NA | NA | 49.96 | 52.42 | 090
46746 |  | A | Repair of cloacal anomaly | 36.74 | NA | NA | 17.86 | 19.98 | 3.23 | NA | NA | 57.83 | 59.95 | 090
46748 |  | A | Repair of cloacal anomaly | 40.52 | NA | NA | 19.36 | 21.85 | 1.94 | NA | NA | 61.82 | 64.31 | 090
46750 |  | A | Repair of anal sphincter | 8.14 | NA | NA | 4.60 | 5.08 | 0.74 | NA | NA | 13.48 | 13.96 | 090
46751 |  | A | Repair of anal sphincter | 8.77 | NA | NA | 5.63 | 5.33 | 0.86 | NA | NA | 15.26 | 14.96 | 090
46753 |  | A | Reconstruction of anus | 6.58 | NA | NA | 3.36 | 3.85 | 0.67 | NA | NA | 10.61 | 11.10 | 090
46754 |  | A | Removal of suture from anus | 1.54 | 4.61 | 3.86 | 1.07 | 1.21 | 0.13 | 6.28 | 5.53 | 2.74 | 2.88 | 010
46760 |  | A | Repair of anal sphincter | 11.46 | NA | NA | 5.98 | 6.33 | 1.08 | NA | NA | 18.52 | 18.87 | 090
46761 |  | A | Repair of anal sphincter | 10.99 | NA | NA | 5.34 | 5.86 | 1.06 | NA | NA | 17.39 | 17.91 | 090
46762 |  | A | Implant artificial sphincter | 10.09 | NA | NA | 4.91 | 5.24 | 0.93 | NA | NA | 15.93 | 16.26 | 090
46900 |  | A | Destruction, anal lesion(s) | 1.91 | 3.10 | 2.43 | 0.76 | 0.68 | 0.16 | 5.17 | 4.50 | 2.83 | 2.75 | 010
46910 |  | A | Destruction, anal lesion(s) | 1.86 | 3.34 | 2.68 | 1.34 | 1.18 | 0.15 | 5.35 | 4.69 | 3.35 | 3.19 | 010
46916 |  | A | Cryosurgery, anal lesion(s) | 1.86 | 3.17 | 2.56 | 1.55 | 1.35 | 0.09 | 5.12 | 4.51 | 3.50 | 3.30 | 010
46917 |  | A | Laser surgery, anal lesions | 1.86 | 4.07 | 3.58 | 1.37 | 1.56 | 0.16 | 6.09 | 5.60 | 3.39 | 3.58 | 010
46922 |  | A | Excision of anal lesion(s) | 1.86 | 3.38 | 2.88 | 1.35 | 1.36 | 0.18 | 5.42 | 4.92 | 3.39 | 3.40 | 010
46924 |  | A | Destruction, anal lesion(s) | 2.76 | 4.63 | 4.17 | 1.62 | 1.91 | 0.22 | 7.61 | 7.15 | 4.60 | 4.89 | 010
46934 |  | A | Destruction of hemorrhoids | 4.08 | 5.46 | 4.42 | 3.21 | 2.73 | 0.33 | 9.87 | 8.83 | 7.62 | 7.14 | 090
46935 |  | A | Destruction of hemorrhoids | 2.43 | 3.74 | 3.25 | 0.88 | 1.10 | 0.22 | 6.39 | 5.90 | 3.53 | 3.75 | 010
46936 |  | A | Destruction of hemorrhoids | 4.30 | 5.01 | 4.38 | 3.22 | 3.04 | 0.37 | 9.68 | 9.05 | 7.89 | 7.71 | 090
46937 |  | A | Cryotherapy of rectal lesion | 2.69 | 3.86 | 3.53 | 1.69 | 1.91 | 0.12 | 6.67 | 6.34 | 4.50 | 4.72 | 010
46938 |  | A | Cryotherapy of rectal lesion | 4.66 | 5.32 | 4.67 | 2.92 | 2.87 | 0.47 | 10.45 | 9.80 | 8.05 | 8.00 | 090
46940 |  | A | Treatment of anal fissure | 2.32 | 2.67 | 2.14 | 0.85 | 0.78 | 0.23 | 5.22 | 4.69 | 3.40 | 3.33 | 010
46942 |  | A | Treatment of anal fissure | 2.04 | 2.43 | 1.95 | 0.70 | 0.65 | 0.21 | 4.68 | 4.20 | 2.95 | 2.90 | 010
46945 |  | A | Ligation of hemorrhoids | 2.14 | 3.51 | 2.80 | 1.93 | 1.62 | 0.20 | 5.85 | 5.14 | 4.27 | 3.96 | 090
46946 |  | A | Ligation of hemorrhoids | 0.03 | 4.40 | 3.56 | 2.21 | 1.91 | 0.27 | 4.70 | 3.86 | 2.51 | 2.21 | 090
46999 |  | C | Anus surgery procedure | 0.00 | 0.00 | 0.00 | 0.00 | 0.00 | 0.00 | 0.00 | 0.00 | 0.00 | 0.00 | YYY
47000 |  | A | Needle biopsy of liver | 1.90 | 8.42 | 6.70 | 0.66 | 0.88 | 0.09 | 10.41 | 8.69 | 2.65 | 2.87 | 000
47001 |  | A | Needle biopsy, liver add-on | 1.90 | NA | NA | 0.71 | 0.91 | 0.18 | NA | NA | 2.79 | 2.99 | ZZZ
47010 |  | A | Open drainage, liver lesion | 10.28 | NA | NA | 7.57 | 7.51 | 0.54 | NA | NA | 18.39 | 18.33 | 090
47011 |  | A | Percut drain, liver lesion | 3.70 | NA | NA | 5.55 | 4.92 | 0.20 | NA | NA | 9.45 | 8.82 | 000
47015 |  | A | Inject/aspirate liver cyst | 9.70 | NA | NA | 5.96 | 6.30 | 0.85 | NA | NA | 16.51 | 16.85 | 090
47100 |  | A | Wedge biopsy of liver | 7.49 | NA | NA | 4.82 | 4.51 | 0.74 | NA | NA | 13.05 | 12.74 | 090
47120 |  | A | Partial removal of liver | 22.79 | NA | NA | 12.23 | 12.43 | 2.21 | NA | NA | 37.23 | 37.43 | 090
47122 |  | A | Extensive removal of liver | 35.39 | NA | NA | 16.94 | 17.48 | 3.39 | NA | NA | 55.72 | 56.26 | 090
47125 |  | A | Partial removal of liver | 31.58 | NA | NA | 15.59 | 16.42 | 3.05 | NA | NA | 50.22 | 51.05 | 090
47130 |  | A | Partial removal of liver | 34.25 | NA | NA | 16.58 | 17.64 | 3.31 | NA | NA | 54.14 | 55.20 | 090
47133 |  | X | Removal of donor liver | 0.00 | 0.00 | 0.00 | 0.00 | 0.00 | 0.00 | 0.00 | 0.00 | 0.00 | 0.00 | XXX
47134 |  | R | Partial removal, donor liver | 39.15 | NA | NA | 15.52 | 17.20 | 3.78 | NA | NA | 58.45 | 60.13 | XXX
47135 |  | R | Transplantation of liver | 81.52 | NA | NA | 41.25 | 45.72 | 8.02 | NA | NA | 130.79 | 135.26 | 090
47136 |  | R | Transplantation of liver | 68.60 | NA | NA | 39.63 | 38.81 | 6.62 | NA | NA | 114.85 | 114.03 | 090
47300 |  | A | Surgery for liver lesion | 9.68 | NA | NA | 5.63 | 6.30 | 0.95 | NA | NA | 16.26 | 16.93 | 090
47350 |  | A | Repair liver wound | 12.56 | NA | NA | 6.89 | 7.19 | 1.23 | NA | NA | 20.68 | 20.98 | 090
47360 |  | A | Repair liver wound | 17.28 | NA | NA | 9.41 | 10.02 | 1.70 | NA | NA | 28.39 | 29.00 | 090
47361 |  | A | Repair liver wound | 30.25 | NA | NA | 14.23 | 14.65 | 2.96 | NA | NA | 47.44 | 47.86 | 090
47362 |  | A | Repair liver wound | 11.88 | NA | NA | 6.85 | 6.56 | 1.12 | NA | NA | 19.85 | 19.56 | 090
47399 |  | C | Liver surgery procedure | 0.00 | 0.00 | 0.00 | 0.00 | 0.00 | 0.00 | 0.00 | 0.00 | 0.00 | 0.00 | YYY
47400 |  | A | Incision of liver duct | 20.86 | NA | NA | 10.64 | 10.30 | 1.96 | NA | NA | 33.46 | 33.12 | 090
47420 |  | A | Incision of bile duct | 16.72 | NA | NA | 8.24 | 8.75 | 1.67 | NA | NA | 26.63 | 27.14 | 090
47425 |  | A | Incision of bile duct | 16.68 | NA | NA | 8.53 | 9.58 | 1.63 | NA | NA | 26.84 | 27.89 | 090
47460 |  | A | Incise bile duct sphincter | 15.17 | NA | NA | 7.83 | 10.09 | 1.26 | NA | NA | 24.26 | 26.52 | 090
47480 |  | A | Incision of gallbladder | 9.10 | NA | NA | 5.92 | 6.50 | 0.89 | NA | NA | 15.91 | 16.49 | 090
47490 |  | A | Incision of gallbladder | 7.23 | NA | NA | 7.41 | 6.53 | 0.30 | NA | NA | 14.94 | 14.06 | 090
47500 |  | A | Injection for liver x-rays | 1.96 | NA | NA | 0.68 | 0.92 | 0.08 | NA | NA | 2.72 | 2.96 | 000
47505 |  | A | Injection for liver x-rays | 0.76 | 14.95 | 11.48 | 0.26 | 0.46 | 0.03 | 15.74 | 12.27 | 1.05 | 1.25 | 000
47510 |  | A | Insert catheter, bile duct | 7.83 | NA | NA | 8.28 | 6.99 | 0.32 | NA | NA | 16.43 | 15.14 | 090
47511 |  | A | Insert bile duct drain | 10.50 | NA | NA | 9.50 | 7.90 | 0.41 | NA | NA | 20.41 | 18.81 | 090
47525 |  | A | Change bile duct catheter | 5.55 | NA | NA | 3.24 | 2.86 | 0.22 | NA | NA | 9.01 | 8.63 | 010
47530 |  | A | Revise/reinsert bile tube | 5.85 | NA | NA | 4.84 | 4.04 | 0.28 | NA | NA | 10.97 | 10.17 | 090
47550 |  | A | Bile duct endoscopy add-on | 3.02 | NA | NA | 1.13 | 1.27 | 0.30 | NA | NA | 4.45 | 4.59 | ZZZ
47552 |  | A | Biliary endoscopy thru skin | 6.04 | NA | NA | 2.51 | 2.25 | 0.49 | NA | NA | 9.04 | 8.78 | 000
47553 |  | A | Biliary endoscopy thru skin | 6.35 | NA | NA | 2.67 | 3.03 | 0.28 | NA | NA | 9.30 | 9.66 | 000
47554 |  | A | Biliary endoscopy thru skin | 9.06 | NA | NA | 3.58 | 3.75 | 0.74 | NA | NA | 13.38 | 13.55 | 000
47555 |  | A | Biliary endoscopy thru skin | 7.56 | NA | NA | 3.09 | 3.03 | 0.31 | NA | NA | 10.96 | 10.90 | 000
47556 |  | A | Biliary endoscopy thru skin | 8.56 | NA | NA | 3.44 | 3.29 | 0.33 | NA | NA | 12.33 | 12.18 | 000
47560 |  | A | Laparoscopy w/cholangio | 4.89 | NA | NA | 1.94 | 2.21 | 0.46 | NA | NA | 7.29 | 7.56 | 000
47561 |  | A | Laparo w/cholangio/biopsy | 5.18 | NA | NA | 2.17 | 2.70 | 0.47 | NA | NA | 7.82 | 8.35 | 000
47562 |  | A | Laparoscopic cholecystectomy | 11.09 | NA | NA | 4.91 | 5.85 | 1.09 | NA | NA | 17.09 | 18.03 | 090
47563 |  | A | Laparo cholecystectomy/graph | 11.94 | NA | NA | 5.39 | 6.33 | 1.17 | NA | NA | 18.50 | 19.44 | 090
47564 |  | A | Laparo cholecystectomy/explr | 14.23 | NA | NA | 6.97 | 7.77 | 1.37 | NA | NA | 22.57 | 23.37 | 090
47570 |  | A | Laparo cholecystoenterostomy | 12.58 | NA | NA | 6.01 | 6.99 | 1.27 | NA | NA | 19.86 | 20.84 | 090
47579 |  | C | Laparoscope proc, biliary | 0.00 | 0.00 | 0.00 | 0.00 | 0.00 | 0.00 | 0.00 | 0.00 | 0.00 | 0.00 | YYY
47600 |  | A | Removal of gallbladder | 11.42 | NA | NA | 6.01 | 6.55 | 1.14 | NA | NA | 18.57 | 19.11 | 090
47605 |  | A | Removal of gallbladder | 12.36 | NA | NA | 6.32 | 6.95 | 1.22 | NA | NA | 19.90 | 20.53 | 090
47610 |  | A | Removal of gallbladder | 15.83 | NA | NA | 7.71 | 8.33 | 1.57 | NA | NA | 25.11 | 25.73 | 090
47612 |  | A | Removal of gallbladder | 15.80 | NA | NA | 7.59 | 9.55 | 1.58 | NA | NA | 24.97 | 26.93 | 090
47620 |  | A | Removal of gallbladder | 17.36 | NA | NA | 8.26 | 9.24 | 1.73 | NA | NA | 27.35 | 28.33 | 090
47630 |  | A | Remove bile duct stone | 9.11 | NA | NA | 3.19 | 3.41 | 0.47 | NA | NA | 12.77 | 12.99 | 090
47700 |  | A | Exploration of bile ducts | 15.62 | NA | NA | 8.29 | 8.29 | 1.37 | NA | NA | 25.28 | 25.28 | 090
47701 |  | A | Bile duct revision | 29.55 | NA | NA | 13.79 | 12.57 | 2.87 | NA | NA | 46.21 | 44.99 | 090
47711 |  | A | Excision of bile duct tumor | 19.37 | NA | NA | 9.86 | 10.67 | 1.86 | NA | NA | 31.09 | 31.90 | 090
47712 |  | A | Excision of bile duct tumor | 25.44 | NA | NA | 12.03 | 12.30 | 2.67 | NA | NA | 40.14 | 40.41 | 090
47715 |  | A | Excision of bile duct cyst | 15.81 | NA | NA | 8.14 | 8.34 | 1.55 | NA | NA | 25.50 | 25.70 | 090
47716 |  | A | Fusion of bile duct cyst | 13.83 | NA | NA | 7.50 | 7.41 | 1.30 | NA | NA | 22.63 | 22.54 | 090
47720 |  | A | Fuse gallbladder & bowel | 13.38 | NA | NA | 7.62 | 8.20 | 1.33 | NA | NA | 22.33 | 22.91 | 090
47721 |  | A | Fuse upper gi structures | 16.08 | NA | NA | 8.58 | 9.53 | 1.58 | NA | NA | 26.24 | 27.19 | 090
47740 |  | A | Fuse gallbladder & bowel | 15.54 | NA | NA | 8.50 | 9.15 | 1.57 | NA | NA | 25.61 | 26.26 | 090
47741 |  | A | Fuse gallbladder & bowel | 17.95 | NA | NA | 9.26 | 10.84 | 1.78 | NA | NA | 28.99 | 30.57 | 090
47760 |  | A | Fuse bile ducts and bowel | 21.74 | NA | NA | 10.66 | 11.15 | 2.17 | NA | NA | 34.57 | 35.06 | 090
47765 |  | A | Fuse liver ducts & bowel | 20.93 | NA | NA | 10.91 | 12.15 | 2.07 | NA | NA | 33.91 | 35.15 | 090
47780 |  | A | Fuse bile ducts and bowel | 22.29 | NA | NA | 10.93 | 11.74 | 2.21 | NA | NA | 35.43 | 36.24 | 090
47785 |  | A | Fuse bile ducts and bowel | 26.23 | NA | NA | 12.90 | 13.22 | 2.63 | NA | NA | 41.76 | 42.08 | 090
47800 |  | A | Reconstruction of bile ducts | 19.60 | NA | NA | 10.05 | 11.13 | 1.91 | NA | NA | 31.56 | 32.64 | 090
47801 |  | A | Placement, bile duct support | 12.76 | NA | NA | 9.29 | 8.46 | 0.74 | NA | NA | 22.79 | 21.96 | 090
47802 |  | A | Fuse liver duct & intestine | 18.13 | NA | NA | 10.16 | 10.41 | 1.85 | NA | NA | 30.14 | 30.39 | 090
47900 |  | A | Suture bile duct injury | 16.74 | NA | NA | 8.90 | 10.26 | 1.68 | NA | NA | 27.32 | 28.68 | 090
47999 |  | C | Bile tract surgery procedure | 0.00 | 0.00 | 0.00 | 0.00 | 0.00 | 0.00 | 0.00 | 0.00 | 0.00 | 0.00 | YYY
48000 |  | A | Drainage of abdomen | 14.91 | NA | NA | 7.96 | 7.88 | 1.32 | NA | NA | 24.19 | 24.11 | 090
48001 |  | A | Placement of drain, pancreas | 18.83 | NA | NA | 8.88 | 8.87 | 1.85 | NA | NA | 29.56 | 29.55 | 090
48005 |  | A | Resect/debride pancreas | 22.40 | NA | NA | 10.42 | 10.31 | 2.21 | NA | NA | 35.03 | 34.92 | 090
48020 |  | A | Removal of pancreatic stone | 14.22 | NA | NA | 6.90 | 7.02 | 1.02 | NA | NA | 22.14 | 22.26 | 090
48100 |  | A | Biopsy of pancreas | 11.08 | NA | NA | 6.40 | 5.94 | 1.08 | NA | NA | 18.56 | 18.10 | 090
48102 |  | A | Needle biopsy, pancreas | 4.68 | 8.18 | 6.79 | 2.36 | 2.43 | 0.19 | 13.05 | 11.66 | 7.23 | 7.30 | 010
48120 |  | A | Removal of pancreas lesion | 14.36 | NA | NA | 6.86 | 7.78 | 1.42 | NA | NA | 22.64 | 23.56 | 090
48140 |  | A | Partial removal of pancreas | 20.78 | NA | NA | 9.96 | 11.08 | 2.05 | NA | NA | 32.79 | 33.91 | 090
48145 |  | A | Partial removal of pancreas | 21.76 | NA | NA | 10.48 | 12.12 | 2.16 | NA | NA | 34.40 | 36.04 | 090
48146 |  | A | Pancreatectomy | 23.91 | NA | NA | 12.41 | 13.78 | 2.44 | NA | NA | 38.76 | 40.13 | 090
48148 |  | A | Removal of pancreatic duct | 15.71 | NA | NA | 8.55 | 8.65 | 1.54 | NA | NA | 25.80 | 25.90 | 090
48150 |  | A | Partial removal of pancreas | 43.48 | NA | NA | 20.63 | 21.59 | 4.28 | NA | NA | 68.39 | 69.35 | 090
48152 |  | A | Pancreatectomy | 39.63 | NA | NA | 19.18 | 20.50 | 4.06 | NA | NA | 62.87 | 64.19 | 090
48153 |  | A | Pancreatectomy | 43.38 | NA | NA | 20.61 | 21.57 | 4.31 | NA | NA | 68.30 | 69.26 | 090
48154 |  | A | Pancreatectomy | 39.95 | NA | NA | 18.95 | 20.33 | 3.99 | NA | NA | 62.89 | 64.27 | 090
48155 |  | A | Removal of pancreas | 22.32 | NA | NA | 12.72 | 15.08 | 2.20 | NA | NA | 37.24 | 39.60 | 090
48160 |  | N | Pancreas removal/transplant | 0.00 | 0.00 | 0.00 | 0.00 | 0.00 | 0.00 | 0.00 | 0.00 | 0.00 | 0.00 | XXX
48180 |  | A | Fuse pancreas and bowel | 22.39 | NA | NA | 10.26 | 11.11 | 2.22 | NA | NA | 34.87 | 35.72 | 090
48400 |  | A | Injection, intraop add-on | 1.95 | NA | NA | 0.70 | 0.81 | 0.10 | NA | NA | 2.75 | 2.86 | ZZZ
48500 |  | A | Surgery of pancreas cyst | 13.84 | NA | NA | 6.28 | 7.03 | 1.23 | NA | NA | 21.35 | 22.10 | 090
48510 |  | A | Drain pancreatic pseudocyst | 12.96 | NA | NA | 7.05 | 7.33 | 0.92 | NA | NA | 20.93 | 21.21 | 090
48511 |  | A | Drain pancreatic pseudocyst | 0.04 | NA | NA | 4.03 | 3.85 | 0.29 | NA | NA | 4.36 | 4.18 | 000
48520 |  | A | Fuse pancreas cyst and bowel | 14.12 | NA | NA | 6.77 | 8.14 | 1.38 | NA | NA | 22.27 | 23.64 | 090
48540 |  | A | Fuse pancreas cyst and bowel | 17.86 | NA | NA | 8.20 | 9.59 | 1.80 | NA | NA | 27.86 | 29.25 | 090
48545 |  | A | Pancreatorrhaphy | 16.47 | NA | NA | 8.27 | 8.28 | 1.76 | NA | NA | 26.50 | 26.51 | 090
48547 |  | A | Duodenal exclusion | 23.40 | NA | NA | 10.30 | 10.73 | 2.42 | NA | NA | 36.12 | 36.55 | 090
48550 |  | X | Donor pancreatectomy | 0.00 | 0.00 | 0.00 | 0.00 | 0.00 | 0.00 | 0.00 | 0.00 | 0.00 | 0.00 | XXX
48554 |  | R | Transpl allograft pancreas | 34.17 | NA | NA | 13.55 | 15.01 | 3.26 | NA | NA | 50.98 | 52.44 | 090
48556 |  | A | Removal, allograft pancreas | 15.71 | NA | NA | 8.37 | 8.25 | 1.50 | NA | NA | 25.58 | 25.46 | 090
48999 |  | C | Pancreas surgery procedure | 0.00 | 0.00 | 0.00 | 0.00 | 0.00 | 0.00 | 0.00 | 0.00 | 0.00 | 0.00 | YYY
49000 |  | A | Exploration of abdomen | 11.68 | NA | NA | 6.06 | 6.39 | 1.14 | NA | NA | 18.88 | 19.21 | 090
49002 |  | A | Reopening of abdomen | 10.49 | NA | NA | 5.89 | 6.06 | 1.03 | NA | NA | 17.41 | 17.58 | 090
49010 |  | A | Exploration behind abdomen | 12.28 | NA | NA | 6.94 | 7.09 | 1.22 | NA | NA | 20.44 | 20.59 | 090
49020 |  | A | Drain abdominal abscess | 16.79 | NA | NA | 9.33 | 8.31 | 1.12 | NA | NA | 27.24 | 26.22 | 090
49021 |  | A | Drain abdominal abscess | 3.38 | NA | NA | 5.05 | 4.80 | 0.20 | NA | NA | 8.63 | 8.38 | 000
49040 |  | A | Drain, open, abdom abscess | 9.94 | NA | NA | 6.76 | 6.85 | 0.67 | NA | NA | 17.37 | 17.46 | 090
49041 |  | A | Drain, percut, abdom abscess | 0.04 | NA | NA | 5.31 | 4.81 | 0.27 | NA | NA | 5.62 | 5.12 | 000
49060 |  | A | Drain, open, retrop abscess | 11.66 | NA | NA | 7.76 | 7.32 | 0.65 | NA | NA | 20.07 | 19.63 | 090
49061 |  | A | Drain, percut, retroper absc | 3.70 | NA | NA | 5.44 | 4.84 | 0.21 | NA | NA | 9.35 | 8.75 | 000
49062 |  | A | Drain to peritoneal cavity | 11.36 | NA | NA | 6.91 | 7.37 | 1.07 | NA | NA | 19.34 | 19.80 | 090
49080 |  | A | Puncture, peritoneal cavity | 1.35 | 2.99 | 2.48 | 0.59 | 0.68 | 0.08 | 4.42 | 3.91 | 2.02 | 2.11 | 000
49081 |  | A | Removal of abdominal fluid | 1.26 | 2.80 | 2.30 | 0.55 | 0.62 | 0.08 | 4.14 | 3.64 | 1.89 | 1.96 | 000
49085 |  | A | Remove abdomen foreign body | 8.93 | NA | NA | 5.26 | 4.88 | 0.90 | NA | NA | 15.09 | 14.71 | 090
49180 |  | A | Biopsy, abdominal mass | 1.73 | 6.65 | 5.48 | 0.60 | 0.95 | 0.08 | 8.46 | 7.29 | 2.41 | 2.76 | 000
49200 |  | A | Removal of abdominal lesion | 10.25 | NA | NA | 6.01 | 6.78 | 0.92 | NA | NA | 17.18 | 17.95 | 090
49201 |  | A | Removal of abdominal lesion | 14.84 | NA | NA | 8.23 | 9.46 | 1.28 | NA | NA | 24.35 | 25.58 | 090
49215 |  | A | Excise sacral spine tumor | 23.20 | NA | NA | 10.76 | 10.38 | 2.18 | NA | NA | 36.14 | 35.76 | 090
49220 |  | A | Multiple surgery, abdomen | 14.88 | NA | NA | 7.69 | 9.11 | 1.45 | NA | NA | 24.02 | 25.44 | 090
49250 |  | A | Excision of umbilicus | 8.35 | NA | NA | 5.00 | 4.98 | 0.79 | NA | NA | 14.14 | 14.12 | 090
49255 |  | A | Removal of omentum | 11.14 | NA | NA | 6.28 | 6.11 | 1.04 | NA | NA | 18.46 | 18.29 | 090
49320 |  | A | Diag laparo separate proc | 5.10 | NA | NA | 2.89 | 3.38 | 0.47 | NA | NA | 8.46 | 8.95 | 010
49321 |  | A | Laparoscopy, biopsy | 5.40 | NA | NA | 2.95 | 3.54 | 0.49 | NA | NA | 8.84 | 9.43 | 010
49322 |  | A | Laparoscopy, aspiration | 5.70 | NA | NA | 3.23 | 3.75 | 0.49 | NA | NA | 9.42 | 9.94 | 010
49323 |  | A | Laparo drain lymphocele | 9.48 | NA | NA | 4.25 | 5.01 | 0.90 | NA | NA | 14.63 | 15.39 | 090
49329 |  | C | Laparo proc, abdm/per/oment | 0.00 | 0.00 | 0.00 | 0.00 | 0.00 | 0.00 | 0.00 | 0.00 | 0.00 | 0.00 | YYY
49400 |  | A | Air injection into abdomen | 1.88 | NA | NA | 0.81 | 0.91 | 0.11 | NA | NA | 2.80 | 2.90 | 000
49420 |  | A | Insert abdominal drain | 2.22 | NA | NA | 0.94 | 1.13 | 0.16 | NA | NA | 3.32 | 3.51 | 000
49421 |  | A | Insert abdominal drain | 5.54 | NA | NA | 3.81 | 3.98 | 0.56 | NA | NA | 9.91 | 10.08 | 090
49422 |  | A | Remove perm cannula/catheter | 6.25 | NA | NA | 2.98 | 3.36 | 0.63 | NA | NA | 9.86 | 10.24 | 010
49423 |  | A | Exchange drainage catheter | 1.46 | NA | NA | 0.67 | 0.80 | 0.15 | NA | NA | 2.28 | 2.41 | 000
49424 |  | A | Assess cyst, contrast inject | 0.76 | NA | NA | 0.43 | 0.48 | 0.05 | NA | NA | 1.24 | 1.29 | 000
49425 |  | A | Insert abdomen-venous drain | 11.37 | NA | NA | 7.00 | 7.55 | 1.21 | NA | NA | 19.58 | 20.13 | 090
49426 |  | A | Revise abdomen-venous shunt | 9.63 | NA | NA | 5.77 | 5.79 | 0.99 | NA | NA | 16.39 | 16.41 | 090
49427 |  | A | Injection, abdominal shunt | 0.89 | NA | NA | 0.47 | 0.49 | 0.04 | NA | NA | 1.40 | 1.42 | 000
49428 |  | A | Ligation of shunt | 2.38 | NA | NA | 1.88 | 1.69 | 0.29 | NA | NA | 4.55 | 4.36 | 010
49429 |  | A | Removal of shunt | 7.40 | NA | NA | 3.71 | 3.68 | 0.79 | NA | NA | 11.90 | 11.87 | 010
49495 |  | A | Repair inguinal hernia, init | 5.84 | NA | NA | 3.22 | 3.77 | 0.56 | NA | NA | 9.62 | 10.17 | 090
49496 |  | A | Repair inguinal hernia, init | 8.79 | NA | NA | 6.12 | 5.96 | 0.85 | NA | NA | 15.76 | 15.60 | 090
49500 |  | A | Repair inguinal hernia | 4.68 | NA | NA | 3.04 | 3.63 | 0.43 | NA | NA | 8.15 | 8.74 | 090
49501 |  | A | Repair inguinal hernia, init | 7.58 | NA | NA | 3.99 | 4.36 | 0.75 | NA | NA | 12.32 | 12.69 | 090
49505 |  | A | Repair inguinal hernia | 6.49 | 3.90 | 4.15 | 3.58 | 3.91 | 0.64 | 11.03 | 11.28 | 10.71 | 11.04 | 090
49507 |  | A | Repair inguinal hernia | 8.17 | NA | NA | 5.30 | 5.34 | 0.81 | NA | NA | 14.28 | 14.32 | 090
49520 |  | A | Rerepair inguinal hernia | 8.22 | NA | NA | 4.75 | 4.98 | 0.82 | NA | NA | 13.79 | 14.02 | 090
49521 |  | A | Repair inguinal hernia, rec | 10.22 | NA | NA | 5.09 | 5.19 | 1.02 | NA | NA | 16.33 | 16.43 | 090
49525 |  | A | Repair inguinal hernia | 7.32 | NA | NA | 4.28 | 4.72 | 0.73 | NA | NA | 12.33 | 12.77 | 090
49540 |  | A | Repair lumbar hernia | 8.87 | NA | NA | 5.01 | 5.17 | 0.89 | NA | NA | 14.77 | 14.93 | 090
49550 |  | A | Repair femoral hernia | 7.37 | NA | NA | 3.95 | 4.21 | 0.74 | NA | NA | 12.06 | 12.32 | 090
49553 |  | A | Repair femoral hernia, init | 8.06 | NA | NA | 4.32 | 4.49 | 0.80 | NA | NA | 13.18 | 13.35 | 090
49555 |  | A | Repair femoral hernia | 7.71 | NA | NA | 4.59 | 5.09 | 0.77 | NA | NA | 13.07 | 13.57 | 090
49557 |  | A | Repair femoral hernia, recur | 9.52 | NA | NA | 4.85 | 5.29 | 0.95 | NA | NA | 15.32 | 15.76 | 090
49560 |  | A | Repair abdominal hernia | 9.88 | NA | NA | 5.33 | 5.53 | 0.99 | NA | NA | 16.20 | 16.40 | 090
49561 |  | A | Repair incisional hernia | 12.17 | NA | NA | 5.87 | 5.94 | 1.21 | NA | NA | 19.25 | 19.32 | 090
49565 |  | A | Rerepair abdominal hernia | 9.88 | NA | NA | 5.44 | 5.82 | 0.98 | NA | NA | 16.30 | 16.68 | 090
49566 |  | A | Repair incisional hernia | 12.30 | NA | NA | 5.91 | 6.17 | 1.22 | NA | NA | 19.43 | 19.69 | 090
49568 |  | A | Hernia repair w/mesh | 4.89 | NA | NA | 1.84 | 2.08 | 0.49 | NA | NA | 7.22 | 7.46 | ZZZ
49570 |  | A | Repair epigastric hernia | 4.86 | NA | NA | 3.11 | 3.52 | 0.49 | NA | NA | 8.46 | 8.87 | 090
49572 |  | A | Repair epigastric hernia | 5.75 | NA | NA | 3.47 | 4.12 | 0.57 | NA | NA | 9.79 | 10.44 | 090
49580 |  | A | Repair umbilical hernia | 3.34 | NA | NA | 2.52 | 2.94 | 0.34 | NA | NA | 6.20 | 6.62 | 090
49582 |  | A | Repair umbilical hernia | 5.68 | NA | NA | 4.23 | 4.42 | 0.57 | NA | NA | 10.48 | 10.67 | 090
49585 |  | A | Repair umbilical hernia | 5.32 | NA | NA | 3.55 | 3.86 | 0.53 | NA | NA | 9.40 | 9.71 | 090
49587 |  | A | Repair umbilical hernia | 6.46 | NA | NA | 3.68 | 3.96 | 0.64 | NA | NA | 10.78 | 11.06 | 090
49590 |  | A | Repair abdominal hernia | 7.29 | NA | NA | 4.29 | 4.75 | 0.73 | NA | NA | 12.31 | 12.77 | 090
49600 |  | A | Repair umbilical lesion | 10.96 | NA | NA | 5.89 | 5.85 | 0.95 | NA | NA | 17.80 | 17.76 | 090
49605 |  | A | Repair umbilical lesion | 24.94 | NA | NA | 12.12 | 11.42 | 2.20 | NA | NA | 39.26 | 38.56 | 090
49606 |  | A | Repair umbilical lesion | 21.31 | NA | NA | 9.86 | 9.65 | 1.91 | NA | NA | 33.08 | 32.87 | 090
49610 |  | A | Repair umbilical lesion | 10.50 | NA | NA | 6.57 | 6.42 | 1.05 | NA | NA | 18.12 | 17.97 | 090
49611 |  | A | Repair umbilical lesion | 8.92 | NA | NA | 6.05 | 6.98 | 0.68 | NA | NA | 15.65 | 16.58 | 090
49650 |  | A | Laparo hernia repair initial | 6.27 | NA | NA | 3.26 | 3.67 | 0.62 | NA | NA | 10.15 | 10.56 | 090
49651 |  | A | Laparo hernia repair recur | 8.24 | NA | NA | 4.34 | 4.67 | 0.82 | NA | NA | 13.40 | 13.73 | 090
49659 |  | C | Laparo proc, hernia repair | 0.00 | 0.00 | 0.00 | 0.00 | 0.00 | 0.00 | 0.00 | 0.00 | 0.00 | 0.00 | YYY
49900 |  | A | Repair of abdominal wall | 12.28 | NA | NA | 6.77 | 6.07 | 1.20 | NA | NA | 20.25 | 19.55 | 090
49905 |  | A | Omental flap | 6.55 | NA | NA | 2.52 | 2.82 | 0.64 | NA | NA | 9.71 | 10.01 | ZZZ
49906 |  | C | Free omental flap, microvasc | 0.00 | 0.00 | 0.00 | 0.00 | 0.00 | 0.00 | 0.00 | 0.00 | 0.00 | 0.00 | 090
49999 |  | C | Abdomen surgery procedure | 0.00 | 0.00 | 0.00 | 0.00 | 0.00 | 0.00 | 0.00 | 0.00 | 0.00 | 0.00 | YYY
50010 |  | A | Exploration of kidney | 10.98 | NA | NA | 6.47 | 7.44 | 0.75 | NA | NA | 18.20 | 19.17 | 090
50020 |  | A | Renal abscess, open drain | 14.66 | NA | NA | 12.90 | 11.52 | 0.68 | NA | NA | 28.24 | 26.86 | 090
50021 |  | A | Renal abscess, percut drain | 3.38 | NA | NA | 10.51 | 8.58 | 0.15 | NA | NA | 14.04 | 12.11 | 000
50040 |  | A | Drainage of kidney | 14.94 | NA | NA | 10.67 | 9.95 | 0.79 | NA | NA | 26.40 | 25.68 | 090
50045 |  | A | Exploration of kidney | 15.46 | NA | NA | 7.82 | 8.53 | 1.13 | NA | NA | 24.41 | 25.12 | 090
50060 |  | A | Removal of kidney stone | 19.30 | NA | NA | 9.13 | 10.17 | 1.14 | NA | NA | 29.57 | 30.61 | 090
50065 |  | A | Incision of kidney | 20.79 | NA | NA | 9.72 | 11.07 | 1.17 | NA | NA | 31.68 | 33.03 | 090
50070 |  | A | Incision of kidney | 20.32 | NA | NA | 9.53 | 10.64 | 1.44 | NA | NA | 31.29 | 32.40 | 090
50075 |  | A | Removal of kidney stone | 25.34 | NA | NA | 11.47 | 13.18 | 1.50 | NA | NA | 38.31 | 40.02 | 090
50080 |  | A | Removal of kidney stone | 14.71 | NA | NA | 9.85 | 10.70 | 0.81 | NA | NA | 25.37 | 26.22 | 090
50081 |  | A | Removal of kidney stone | 21.80 | NA | NA | 12.02 | 13.08 | 1.23 | NA | NA | 35.05 | 36.11 | 090
50100 |  | A | Revise kidney blood vessels | 16.09 | NA | NA | 9.23 | 9.73 | 1.74 | NA | NA | 27.06 | 27.56 | 090
50120 |  | A | Exploration of kidney | 15.91 | NA | NA | 8.04 | 8.99 | 0.95 | NA | NA | 24.90 | 25.85 | 090
50125 |  | A | Explore and drain kidney | 16.52 | NA | NA | 8.39 | 9.26 | 1.24 | NA | NA | 26.15 | 27.02 | 090
50130 |  | A | Removal of kidney stone | 17.29 | NA | NA | 8.52 | 9.86 | 1.05 | NA | NA | 26.86 | 28.20 | 090
50135 |  | A | Exploration of kidney | 19.18 | NA | NA | 9.15 | 11.49 | 1.18 | NA | NA | 29.51 | 31.85 | 090
50200 |  | A | Biopsy of kidney | 2.63 | NA | NA | 0.92 | 1.40 | 0.14 | NA | NA | 3.69 | 4.17 | 000
50205 |  | A | Biopsy of kidney | 11.31 | NA | NA | 6.15 | 6.14 | 0.88 | NA | NA | 18.34 | 18.33 | 090
50220 |  | A | Removal of kidney | 17.15 | NA | NA | 8.57 | 10.04 | 1.18 | NA | NA | 26.90 | 28.37 | 090
50225 |  | A | Removal of kidney | 20.23 | NA | NA | 9.50 | 11.61 | 1.26 | NA | NA | 30.99 | 33.10 | 090
50230 |  | A | Removal of kidney | 22.07 | NA | NA | 10.07 | 12.55 | 1.37 | NA | NA | 33.51 | 35.99 | 090
50234 |  | A | Removal of kidney & ureter | 22.40 | NA | NA | 10.18 | 12.15 | 1.38 | NA | NA | 33.96 | 35.93 | 090
50236 |  | A | Removal of kidney & ureter | 24.86 | NA | NA | 12.99 | 14.56 | 1.51 | NA | NA | 39.36 | 40.93 | 090
50240 |  | A | Partial removal of kidney | 0.22 | NA | NA | 11.95 | 13.30 | 1.37 | NA | NA | 13.54 | 14.89 | 090
50280 |  | A | Removal of kidney lesion | 15.67 | NA | NA | 7.90 | 8.87 | 0.01 | NA | NA | 23.58 | 24.55 | 090
50290 |  | A | Removal of kidney lesion | 14.73 | NA | NA | 7.49 | 8.03 | 1.16 | NA | NA | 23.38 | 23.92 | 090
50300 |  | X | Removal of donor kidney | 0.00 | 0.00 | 0.00 | 0.00 | 0.00 | 0.00 | 0.00 | 0.00 | 0.00 | 0.00 | XXX
50320 |  | A | Removal of donor kidney | 22.21 | NA | NA | 10.33 | 12.22 | 1.74 | NA | NA | 34.28 | 36.17 | 090
50340 |  | A | Removal of kidney | 12.15 | NA | NA | 9.28 | 10.35 | 1.03 | NA | NA | 22.46 | 23.53 | 090
50360 |  | A | Transplantation of kidney | 31.53 | NA | NA | 17.33 | 19.63 | 2.91 | NA | NA | 51.77 | 54.07 | 090
50365 |  | A | Transplantation of kidney | 36.81 | NA | NA | 20.38 | 23.62 | 3.32 | NA | NA | 60.51 | 63.75 | 090
50370 |  | A | Remove transplanted kidney | 13.72 | NA | NA | 9.07 | 9.81 | 1.24 | NA | NA | 24.03 | 24.77 | 090
50380 |  | A | Reimplantation of kidney | 20.76 | NA | NA | 12.42 | 12.06 | 1.79 | NA | NA | 34.97 | 34.61 | 090
50390 |  | A | Drainage of kidney lesion | 1.96 | NA | NA | 0.68 | 0.97 | 0.08 | NA | NA | 2.72 | 3.01 | 000
50392 |  | A | Insert kidney drain | 3.38 | NA | NA | 1.17 | 1.52 | 0.13 | NA | NA | 4.68 | 5.03 | 000
50393 |  | A | Insert ureteral tube | 4.16 | NA | NA | 1.43 | 1.89 | 0.16 | NA | NA | 5.75 | 6.21 | 000
50394 |  | A | Injection for kidney x-ray | 0.76 | 13.48 | 10.26 | 0.26 | 0.35 | 0.03 | 14.27 | 11.05 | 1.05 | 1.14 | 000
50395 |  | A | Create passage to kidney | 3.38 | NA | NA | 1.16 | 1.77 | 0.13 | NA | NA | 4.67 | 5.28 | 000
50396 |  | A | Measure kidney pressure | 2.09 | NA | NA | 0.87 | 0.79 | 0.09 | NA | NA | 3.05 | 2.97 | 000
50398 |  | A | Change kidney tube | 1.46 | 0.94 | 0.85 | 0.50 | 0.52 | 0.06 | 2.46 | 2.37 | 2.02 | 2.04 | 000
50400 |  | A | Revision of kidney/ureter | 19.50 | NA | NA | 9.19 | 10.60 | 1.17 | NA | NA | 29.86 | 31.27 | 090
50405 |  | A | Revision of kidney/ureter | 23.93 | NA | NA | 12.24 | 13.87 | 1.48 | NA | NA | 37.65 | 39.28 | 090
50500 |  | A | Repair of kidney wound | 19.57 | NA | NA | 10.73 | 11.43 | 1.54 | NA | NA | 31.84 | 32.54 | 090
50520 |  | A | Close kidney-skin fistula | 17.23 | NA | NA | 10.77 | 10.88 | 1.08 | NA | NA | 29.08 | 29.19 | 090
50525 |  | A | Repair renal-abdomen fistula | 22.27 | NA | NA | 12.53 | 12.82 | 0.02 | NA | NA | 34.82 | 35.11 | 090
50526 |  | A | Repair renal-abdomen fistula | 24.02 | NA | NA | 15.04 | 13.29 | 2.40 | NA | NA | 41.46 | 39.71 | 090
50540 |  | A | Revision of horseshoe kidney | 19.93 | NA | NA | 9.46 | 10.73 | 1.37 | NA | NA | 30.76 | 32.03 | 090
50541 |  | A | Laparo ablate renal cyst | 0.16 | NA | NA | 6.40 | 6.40 | 1.03 | NA | NA | 7.59 | 7.59 | 090
50544 |  | A | Laparoscopy, pyeloplasty | 22.40 | NA | NA | 8.49 | 8.49 | 1.36 | NA | NA | 32.25 | 32.25 | 090
50546 |  | A | Laparoscopic nephrectomy | 20.48 | NA | NA | 8.03 | 8.03 | 1.41 | NA | NA | 29.92 | 29.92 | 090
50547 |  | A | Laparo removal donor kidney | 25.50 | NA | NA | 11.10 | 11.10 | 1.98 | NA | NA | 38.58 | 38.58 | 090
50548 |  | A | Laparo-asst remove k/ureter | 24.40 | NA | NA | 9.19 | 9.19 | 1.52 | NA | NA | 35.11 | 35.11 | 090
50549 |  | C | Laparoscope proc, renal | 0.00 | 0.00 | 0.00 | 0.00 | 0.00 | 0.00 | 0.00 | 0.00 | 0.00 | 0.00 | YYY
50551 |  | A | Kidney endoscopy | 5.60 | 4.47 | 3.95 | 1.82 | 1.96 | 0.32 | 10.39 | 9.87 | 7.74 | 7.88 | 000
50553 |  | A | Kidney endoscopy | 5.99 | 16.44 | 12.78 | 2.02 | 1.97 | 0.33 | 22.76 | 19.10 | 8.34 | 8.29 | 000
50555 |  | A | Kidney endoscopy & biopsy | 6.53 | 12.06 | 10.32 | 2.15 | 2.89 | 0.34 | 18.93 | 17.19 | 9.02 | 9.76 | 000
50557 |  | A | Kidney endoscopy & treatment | 6.62 | 18.22 | 14.94 | 2.16 | 2.90 | 0.37 | 25.21 | 21.93 | 9.15 | 9.89 | 000
50559 |  | A | Renal endoscopy/radiotracer | 6.78 | NA | NA | 2.44 | 2.19 | 0.30 | NA | NA | 9.52 | 9.27 | 000
50561 |  | A | Kidney endoscopy & treatment | 7.59 | 16.47 | 13.74 | 2.50 | 3.27 | 0.42 | 24.48 | 21.75 | 10.51 | 11.28 | 000
50570 |  | A | Kidney endoscopy | 9.54 | NA | NA | 3.10 | 2.72 | 0.54 | NA | NA | 13.18 | 12.80 | 000
50572 |  | A | Kidney endoscopy | 10.35 | NA | NA | 3.42 | 4.53 | 0.56 | NA | NA | 4.33 | 15.44 | 000
50574 |  | A | Kidney endoscopy & biopsy | 11.02 | NA | NA | 3.67 | 4.67 | 0.62 | NA | NA | 15.31 | 16.31 | 000
50575 |  | A | Kidney endoscopy | 13.98 | NA | NA | 4.56 | 6.12 | 0.79 | NA | NA | 19.33 | 20.89 | 000
50576 |  | A | Kidney endoscopy & treatment | 10.99 | NA | NA | 3.60 | 5.06 | 0.64 | NA | NA | 15.23 | 16.69 | 000
50578 |  | A | Renal endoscopy/radiotracer | 11.35 | NA | NA | 4.50 | 4.40 | 0.57 | NA | NA | 16.42 | 16.32 | 000
50580 |  | A | Kidney endoscopy & treatment | 11.86 | NA | NA | 3.86 | 3.87 | 0.68 | NA | NA | 16.40 | 16.41 | 000
50590 |  | A | Fragmenting of kidney stone | 9.09 | 9.63 | 9.94 | 4.74 | 6.27 | 0.52 | 19.24 | 19.55 | 14.35 | 15.88 | 090
50600 |  | A | Exploration of ureter | 15.84 | NA | NA | 8.00 | 8.63 | 0.99 | NA | NA | 24.83 | 25.46 | 090
50605 |  | A | Insert ureteral support | 15.46 | NA | NA | 8.13 | 7.76 | 1.10 | NA | NA | 24.69 | 24.32 | 090
50610 |  | A | Removal of ureter stone | 15.92 | NA | NA | 8.35 | 9.46 | 0.99 | NA | NA | 25.26 | 26.37 | 090
50620 |  | A | Removal of ureter stone | 15.16 | NA | NA | 7.68 | 8.88 | 0.90 | NA | NA | 23.74 | 24.94 | 090
50630 |  | A | Removal of ureter stone | 14.94 | NA | NA | 7.54 | 9.10 | 0.92 | NA | NA | 23.40 | 24.96 | 090
50650 |  | A | Removal of ureter | 17.41 | NA | NA | 8.68 | 9.79 | 1.06 | NA | NA | 27.15 | 28.26 | 090
50660 |  | A | Removal of ureter | 19.55 | NA | NA | 9.71 | 10.67 | 1.20 | NA | NA | 30.46 | 31.42 | 090
50684 |  | A | Injection for ureter x-ray | 0.76 | 12.30 | 9.36 | 0.25 | 0.32 | 0.04 | 13.10 | 10.16 | 1.05 | 1.12 | 000
50686 |  | A | Measure ureter pressure | 1.51 | 4.53 | 3.50 | 0.70 | 0.63 | 0.09 | 6.13 | 5.10 | 2.30 | 2.23 | 000
50688 |  | A | Change of ureter tube | 1.17 | NA | NA | 1.68 | 1.37 | 0.05 | NA | NA | 2.90 | 2.59 | 010
50690 |  | A | Injection for ureter x-ray | 1.16 | 13.98 | 10.57 | 0.39 | 0.38 | 0.06 | 15.20 | 11.79 | 1.61 | 1.60 | 000
50700 |  | A | Revision of ureter | 15.21 | NA | NA | 8.84 | 10.04 | 0.94 | NA | NA | 24.99 | 26.19 | 090
50715 |  | A | Release of ureter | 18.90 | NA | NA | 10.86 | 11.20 | 1.38 | NA | NA | 31.14 | 31.48 | 090
50722 |  | A | Release of ureter | 16.35 | NA | NA | 8.85 | 9.44 | 1.17 | NA | NA | 26.37 | 26.96 | 090
50725 |  | A | Release/revise ureter | 18.49 | NA | NA | 9.63 | 10.49 | 1.34 | NA | NA | 29.46 | 30.32 | 090
50727 |  | A | Revise ureter | 8.18 | NA | NA | 5.83 | 5.83 | 0.52 | NA | NA | 14.53 | 14.53 | 090
50728 |  | A | Revise ureter | 12.02 | NA | NA | 7.31 | 7.63 | 0.91 | NA | NA | 20.24 | 20.56 | 090
50740 |  | A | Fusion of ureter & kidney | 18.42 | NA | NA | 9.01 | 10.29 | 1.49 | NA | NA | 28.92 | 30.20 | 090
50750 |  | A | Fusion of ureter & kidney | 19.51 | NA | NA | 9.68 | 11.07 | 1.13 | NA | NA | 30.32 | 31.71 | 090
50760 |  | A | Fusion of ureters | 18.42 | NA | NA | 9.26 | 10.60 | 1.19 | NA | NA | 28.87 | 30.21 | 090
50770 |  | A | Splicing of ureters | 19.51 | NA | NA | 9.50 | 11.26 | 1.19 | NA | NA | 30.20 | 31.96 | 090
50780 |  | A | Reimplant ureter in bladder | 18.36 | NA | NA | 9.14 | 10.59 | 1.18 | NA | NA | 28.68 | 30.13 | 090
50782 |  | A | Reimplant ureter in bladder | 19.54 | NA | NA | 9.98 | 11.22 | 1.29 | NA | NA | 30.81 | 32.05 | 090
50783 |  | A | Reimplant ureter in bladder | 20.55 | NA | NA | 10.13 | 11.34 | 1.32 | NA | NA | 32.00 | 33.21 | 090
50785 |  | A | Reimplant ureter in bladder | 20.52 | NA | NA | 9.91 | 11.62 | 1.30 | NA | NA | 31.73 | 33.44 | 090
50800 |  | A | Implant ureter in bowel | 14.52 | NA | NA | 8.88 | 10.64 | 0.92 | NA | NA | 24.32 | 26.08 | 090
50810 |  | A | Fusion of ureter & bowel | 20.05 | NA | NA | 11.82 | 12.28 | 1.62 | NA | NA | 33.49 | 33.95 | 090
50815 |  | A | Urine shunt to bowel | 19.93 | NA | NA | 10.71 | 13.39 | 1.28 | NA | NA | 31.92 | 34.60 | 090
50820 |  | A | Construct bowel bladder | 21.89 | NA | NA | 11.13 | 13.50 | 1.46 | NA | NA | 34.48 | 36.85 | 090
50825 |  | A | Construct bowel bladder | 28.18 | NA | NA | 13.90 | 18.71 | 1.71 | NA | NA | 43.79 | 48.60 | 090
50830 |  | A | Revise urine flow | 31.28 | NA | NA | 14.48 | 16.54 | 2.15 | NA | NA | 47.91 | 49.97 | 090
50840 |  | A | Replace ureter by bowel | 0.20 | NA | NA | 10.89 | 11.78 | 1.25 | NA | NA | 12.34 | 13.23 | 090
50845 |  | A | Appendico-vesicostomy | 20.89 | NA | NA | 9.44 | 10.84 | 1.26 | NA | NA | 31.59 | 32.99 | 090
50860 |  | A | Transplant ureter to skin | 15.36 | NA | NA | 8.30 | 9.19 | 1.01 | NA | NA | 24.67 | 25.56 | 090
50900 |  | A | Repair of ureter | 13.62 | NA | NA | 7.39 | 8.25 | 0.97 | NA | NA | 21.98 | 22.84 | 090
50920 |  | A | Closure ureter/skin fistula | 14.33 | NA | NA | 7.86 | 8.48 | 1.03 | NA | NA | 23.22 | 23.84 | 090
50930 |  | A | Closure ureter/bowel fistula | 18.72 | NA | NA | 9.15 | 10.26 | 1.34 | NA | NA | 29.21 | 30.32 | 090
50940 |  | A | Release of ureter | 14.51 | NA | NA | 7.70 | 8.46 | 0.95 | NA | NA | 23.16 | 23.92 | 090
50945 |  | A | Laparoscopy ureterolithotomy | 0.17 | NA | NA | 7.00 | 7.00 | 1.07 | NA | NA | 8.24 | 8.24 | 090
50951 |  | A | Endoscopy of ureter | 5.84 | 4.70 | 3.98 | 1.91 | 1.89 | 0.34 | 10.88 | 10.16 | 8.09 | 8.07 | 000
50953 |  | A | Endoscopy of ureter | 6.24 | 16.67 | 12.95 | 2.04 | 1.98 | 0.36 | 23.27 | 19.55 | 8.64 | 8.58 | 000
50955 |  | A | Ureter endoscopy & biopsy | 6.75 | 11.95 | 9.66 | 2.21 | 2.35 | 0.37 | 19.07 | 16.78 | 9.33 | 9.47 | 000
50957 |  | A | Ureter endoscopy & treatment | 6.79 | 12.00 | 9.68 | 2.24 | 2.36 | 0.38 | 19.17 | 16.85 | 9.41 | 9.53 | 000
50959 |  | A | Ureter endoscopy & tracer | 4.40 | NA | NA | 1.41 | 1.98 | 0.25 | NA | NA | 6.06 | 6.63 | 000
50961 |  | A | Ureter endoscopy & treatment | 6.05 | 22.24 | 17.39 | 1.98 | 2.20 | 0.33 | 28.62 | 23.77 | 8.36 | 8.58 | 000
50970 |  | A | Ureter endoscopy | 7.14 | NA | NA | 2.36 | 3.17 | 0.41 | NA | NA | 9.91 | 10.72 | 000
50972 |  | A | Ureter endoscopy & catheter | 6.89 | NA | NA | 2.27 | 2.12 | 0.40 | NA | NA | 9.56 | 9.41 | 000
50974 |  | A | Ureter endoscopy & biopsy | 9.17 | NA | NA | 3.02 | 4.17 | 0.50 | NA | NA | 12.69 | 13.84 | 000
50976 |  | A | Ureter endoscopy & treatment | 9.04 | NA | NA | 2.99 | 3.98 | 0.51 | NA | NA | 12.54 | 13.53 | 000
50978 |  | A | Ureter endoscopy & tracer | 5.10 | NA | NA | 2.02 | 2.62 | 0.33 | NA | NA | 7.45 | 8.05 | 000
50980 |  | A | Ureter endoscopy & treatment | 6.85 | NA | NA | 2.24 | 2.53 | 0.38 | NA | NA | 9.47 | 9.76 | 000
51000 |  | A | Drainage of bladder | 0.78 | 1.70 | 1.41 | 0.25 | 0.32 | 0.05 | 2.53 | 2.24 | 1.08 | 1.15 | 000
51005 |  | A | Drainage of bladder | 1.02 | 2.85 | 2.26 | 0.35 | 0.39 | 0.08 | 3.95 | 3.36 | 1.45 | 1.49 | 000
51010 |  | A | Drainage of bladder | 3.53 | 6.54 | 5.17 | 1.74 | 1.57 | 0.22 | 10.29 | 8.92 | 5.49 | 5.32 | 010
51020 |  | A | Incise & treat bladder | 6.71 | NA | NA | 5.06 | 5.65 | 0.42 | NA | NA | 12.19 | 12.78 | 090
51030 |  | A | Incise & treat bladder | 6.77 | NA | NA | 5.30 | 5.21 | 0.40 | NA | NA | 12.47 | 12.38 | 090
51040 |  | A | Incise & drain bladder | 4.40 | NA | NA | 3.88 | 4.22 | 0.27 | NA | NA | 8.55 | 8.89 | 090
51045 |  | A | Incise bladder/drain ureter | 6.77 | NA | NA | 5.03 | 5.12 | 0.43 | NA | NA | 12.23 | 12.32 | 090
51050 |  | A | Removal of bladder stone | 6.92 | NA | NA | 4.59 | 5.38 | 0.41 | NA | NA | 11.92 | 12.71 | 090
51060 |  | A | Removal of ureter stone | 8.85 | NA | NA | 5.53 | 6.79 | 0.53 | NA | NA | 14.91 | 16.17 | 090
51065 |  | A | Removal of ureter stone | 8.85 | NA | NA | 5.62 | 6.14 | 0.52 | NA | NA | 14.99 | 15.51 | 090
51080 |  | A | Drainage of bladder abscess | 5.96 | NA | NA | 5.17 | 5.28 | 0.36 | NA | NA | 11.49 | 11.60 | 090
51500 |  | A | Removal of bladder cyst | 10.14 | NA | NA | 6.01 | 6.37 | 0.82 | NA | NA | 16.97 | 17.33 | 090
51520 |  | A | Removal of bladder lesion | 9.29 | NA | NA | 5.81 | 6.67 | 0.57 | NA | NA | 15.67 | 16.53 | 090
51525 |  | A | Removal of bladder lesion | 13.97 | NA | NA | 7.33 | 8.39 | 0.85 | NA | NA | 22.15 | 23.21 | 090
51530 |  | A | Removal of bladder lesion | 12.38 | NA | NA | 6.96 | 7.73 | 0.85 | NA | NA | 20.19 | 20.96 | 090
51535 |  | A | Repair of ureter lesion | 12.57 | NA | NA | 7.28 | 7.54 | 0.84 | NA | NA | 20.69 | 20.95 | 090
51550 |  | A | Partial removal of bladder | 15.66 | NA | NA | 8.00 | 8.91 | 1.10 | NA | NA | 24.76 | 25.67 | 090
51555 |  | A | Partial removal of bladder | 21.23 | NA | NA | 10.20 | 10.98 | 1.38 | NA | NA | 32.81 | 33.59 | 090
51565 |  | A | Revise bladder & ureter(s) | 21.62 | NA | NA | 10.54 | 12.20 | 1.37 | NA | NA | 33.53 | 35.19 | 090
51570 |  | A | Removal of bladder | 24.24 | NA | NA | 11.55 | 12.91 | 1.50 | NA | NA | 37.29 | 38.65 | 090
51575 |  | A | Removal of bladder & nodes | 30.45 | NA | NA | 14.21 | 16.86 | 1.90 | NA | NA | 46.56 | 49.21 | 090
51580 |  | A | Remove bladder/revise tract | 31.08 | NA | NA | 14.62 | 16.38 | 1.93 | NA | NA | 47.63 | 49.39 | 090
51585 |  | A | Removal of bladder & nodes | 35.23 | NA | NA | 15.82 | 18.68 | 2.21 | NA | NA | 53.26 | 56.12 | 090
51590 |  | A | Remove bladder/revise tract | 32.66 | NA | NA | 14.75 | 17.72 | 2.03 | NA | NA | 49.44 | 52.41 | 090
51595 |  | A | Remove bladder/revise tract | 37.14 | NA | NA | 16.05 | 21.21 | 2.21 | NA | NA | 55.40 | 60.56 | 090
51596 |  | A | Remove bladder/create pouch | 39.52 | NA | NA | 17.23 | 22.39 | 2.37 | NA | NA | 59.12 | 64.28 | 090
51597 |  | A | Removal of pelvic structures | 38.35 | NA | NA | 17.07 | 21.11 | 2.53 | NA | NA | 57.95 | 61.99 | 090
51600 |  | A | Injection for bladder x-ray | 0.88 | 13.95 | 10.54 | 0.30 | 0.30 | 0.04 | 14.87 | 11.46 | 1.22 | 1.22 | 000
51605 |  | A | Preparation for bladder xray | 0.64 | 12.73 | 9.63 | 0.22 | 0.25 | 0.03 | 13.40 | 10.30 | 0.89 | 0.92 | 000
51610 |  | A | Injection for bladder x-ray | 1.05 | 14.61 | 11.03 | 0.35 | 0.34 | 0.05 | 15.71 | 12.13 | 1.45 | 1.44 | 000
51700 |  | A | Irrigation of bladder | 0.88 | 3.59 | 2.75 | 0.31 | 0.29 | 0.05 | 4.52 | 3.68 | 1.24 | 1.22 | 000
51705 |  | A | Change of bladder tube | 1.02 | 2.41 | 1.91 | 1.19 | 1.00 | 0.06 | 3.49 | 2.99 | 2.27 | 2.08 | 010
51710 |  | A | Change of bladder tube | 1.49 | 4.56 | 3.58 | 1.33 | 1.15 | 0.09 | 6.14 | 5.16 | 2.91 | 2.73 | 010
51715 |  | A | Endoscopic injection/implant | 3.74 | 3.88 | 3.63 | 1.23 | 1.64 | 0.22 | 7.84 | 7.59 | 5.19 | 5.60 | 000
51720 |  | A | Treatment of bladder lesion | 1.96 | 3.79 | 2.97 | 0.64 | 0.60 | 0.11 | 5.86 | 5.04 | 2.71 | 2.67 | 000
51725 |  | A | Simple cystometrogram | 1.51 | 0.90 | 0.95 | NA | NA | 0.12 | 2.53 | 2.58 | NA | NA | 000
51725 | 26 | A | Simple cystometrogram | 1.51 | 0.50 | 0.55 | 0.50 | 0.55 | 0.09 | 2.10 | 2.15 | 2.10 | 2.15 | 000
51725 | TC | A | Simple cystometrogram | 0.00 | 0.40 | 0.40 | NA | NA | 0.03 | 0.43 | 0.43 | NA | NA | 000
51726 |  | A | Complex cystometrogram | 1.71 | 1.08 | 1.16 | NA | NA | 0.14 | 2.93 | 3.01 | NA | NA | 000
51726 | 26 | A | Complex cystometrogram | 1.71 | 0.57 | 0.65 | 0.57 | 0.65 | 0.10 | 2.38 | 2.46 | 2.38 | 2.46 | 000
51726 | TC | A | Complex cystometrogram | 0.00 | 0.51 | 0.51 | NA | NA | 0.04 | 0.55 | 0.55 | NA | NA | 000
51736 |  | A | Urine flow measurement | 0.61 | 0.36 | 0.38 | NA | NA | 0.05 | 1.02 | 1.04 | NA | NA | 000
51736 | 26 | A | Urine flow measurement | 0.61 | 0.20 | 0.22 | 0.20 | 0.22 | 0.04 | 0.85 | 0.87 | 0.85 | 0.87 | 000
51736 | TC | A | Urine flow measurement | 0.00 | 0.16 | 0.16 | NA | NA | 0.01 | 0.17 | 0.17 | NA | NA | 000
51741 |  | A | Electro-uroflowmetry, first | 1.14 | 0.60 | 0.60 | NA | NA | 0.09 | 1.83 | 1.83 | NA | NA | 000
51741 | 26 | A | Electro-uroflowmetry, first | 1.14 | 0.38 | 0.38 | 0.38 | 0.38 | 0.07 | 1.59 | 1.59 | 1.59 | 1.59 | 000
51741 | TC | A | Electro-uroflowmetry, first | 0.00 | 0.22 | 0.22 | NA | NA | 0.02 | 0.24 | 0.24 | NA | NA | 000
51772 |  | A | Urethra pressure profile | 1.61 | 1.00 | 1.00 | NA | NA | 0.14 | 2.75 | 2.75 | NA | NA | 000
51772 | 26 | A | Urethra pressure profile | 1.61 | 0.55 | 0.55 | 0.55 | 0.55 | 0.10 | 2.26 | 2.26 | 2.26 | 2.26 | 000
51772 | TC | A | Urethra pressure profile | 0.00 | 0.45 | 0.45 | NA | NA | 0.04 | 0.49 | 0.49 | NA | NA | 000
51784 |  | A | Anal/urinary muscle study | 1.53 | 0.92 | 0.97 | NA | NA | 0.13 | 2.58 | 2.63 | NA | NA | 000
51784 | 26 | A | Anal/urinary muscle study | 1.53 | 0.51 | 0.56 | 0.51 | 0.56 | 0.10 | 2.14 | 2.19 | 2.14 | 2.19 | 000
51784 | TC | A | Anal/urinary muscle study | 0.00 | 0.41 | 0.41 | NA | NA | 0.03 | 0.44 | 0.44 | NA | NA | 000
51785 |  | A | Anal/urinary muscle study | 1.53 | 0.92 | 0.97 | NA | NA | 0.12 | 2.57 | 2.62 | NA | NA | 000
51785 | 26 | A | Anal/urinary muscle study | 1.53 | 0.51 | 0.56 | 0.51 | 0.56 | 0.09 | 2.13 | 2.18 | 2.13 | 2.18 | 000
51785 | TC | A | Anal/urinary muscle study | 0.00 | 0.41 | 0.41 | NA | NA | 0.03 | 0.44 | 0.44 | NA | NA | 000
51792 |  | A | Urinary reflex study | 1.10 | 1.86 | 1.92 | NA | NA | 0.17 | 3.13 | 3.19 | NA | NA | 000
51792 | 26 | A | Urinary reflex study | 1.10 | 0.44 | 0.49 | 0.44 | 0.49 | 0.06 | 1.60 | 1.65 | 1.60 | 1.65 | 000
51792 | TC | A | Urinary reflex study | 0.00 | 1.42 | 1.43 | NA | NA | 0.11 | 1.53 | 1.54 | NA | NA | 000
51795 |  | A | Urine voiding pressure study | 1.53 | 1.43 | 1.47 | NA | NA | 0.17 | 3.13 | 3.17 | NA | NA | 000
51795 | 26 | A | Urine voiding pressure study | 1.53 | 0.51 | 0.54 | 0.51 | 0.54 | 0.09 | 2.13 | 2.16 | 2.13 | 2.16 | 000
51795 | TC | A | Urine voiding pressure study | 0.00 | 0.92 | 0.93 | NA | NA | 0.08 | 1.00 | 1.01 | NA | NA | 000
51797 |  | A | Intraabdominal pressure test | 1.60 | 1.02 | 1.02 | NA | NA | 0.14 | 2.76 | 2.76 | NA | NA | 000
51797 | 26 | A | Intraabdominal pressure test | 1.60 | 0.54 | 0.54 | 0.54 | 0.54 | 0.10 | 2.24 | 2.24 | 2.24 | 2.24 | 000
51797 | TC | A | Intraabdominal pressure test | 0.00 | 0.48 | 0.48 | NA | NA | 0.04 | 0.52 | 0.52 | NA | NA | 000
51800 |  | A | Revision of bladder/urethra | 17.42 | NA | NA | 8.67 | 9.76 | 1.09 | NA | NA | 27.18 | 28.27 | 090
51820 |  | A | Revision of urinary tract | 17.89 | NA | NA | 9.70 | 9.28 | 1.37 | NA | NA | 28.96 | 28.54 | 090
51840 |  | A | Attach bladder/urethra | 10.71 | NA | NA | 6.15 | 7.12 | 0.74 | NA | NA | 17.60 | 18.57 | 090
51841 |  | A | Attach bladder/urethra | 13.03 | NA | NA | 7.54 | 8.64 | 0.90 | NA | NA | 21.47 | 22.57 | 090
51845 |  | A | Repair bladder neck | 9.73 | NA | NA | 6.06 | 7.45 | 0.59 | NA | NA | 16.38 | 17.77 | 090
51860 |  | A | Repair of bladder wound | 12.02 | NA | NA | 7.20 | 7.47 | 0.93 | NA | NA | 20.15 | 20.42 | 090
51865 |  | A | Repair of bladder wound | 15.04 | NA | NA | 8.04 | 9.00 | 1.05 | NA | NA | 24.13 | 25.09 | 090
51880 |  | A | Repair of bladder opening | 7.66 | NA | NA | 5.11 | 5.18 | 0.53 | NA | NA | 13.30 | 13.37 | 090
51900 |  | A | Repair bladder/vagina lesion | 12.97 | NA | NA | 7.39 | 8.70 | 0.89 | NA | NA | 21.25 | 22.56 | 090
51920 |  | A | Close bladder-uterus fistula | 11.81 | NA | NA | 6.58 | 6.97 | 0.85 | NA | NA | 19.24 | 19.63 | 090
51925 |  | A | Hysterectomy/bladder repair | 15.58 | NA | NA | 8.84 | 9.36 | 1.17 | NA | NA | 25.59 | 26.11 | 090
51940 |  | A | Correction of bladder defect | 28.43 | NA | NA | 14.08 | 15.70 | 1.90 | NA | NA | 44.41 | 46.03 | 090
51960 |  | A | Revision of bladder & bowel | 23.01 | NA | NA | 11.95 | 14.77 | 1.39 | NA | NA | 36.35 | 39.17 | 090
51980 |  | A | Construct bladder opening | 11.36 | NA | NA | 6.52 | 6.92 | 0.73 | NA | NA | 18.61 | 19.01 | 090
51990 |  | A | Laparo urethral suspension | 12.50 | NA | NA | 5.95 | 5.95 | 0.87 | NA | NA | 19.32 | 19.32 | 090
51992 |  | A | Laparo sling operation | 14.01 | NA | NA | 6.10 | 6.10 | 0.86 | NA | NA | 20.97 | 20.97 | 090
52000 |  | A | Cystoscopy | 2.01 | 3.01 | 2.62 | 0.66 | 0.86 | 0.11 | 5.13 | 4.74 | 2.78 | 2.98 | 000
52005 |  | A | Cystoscopy & ureter catheter | 2.37 | 4.72 | 4.14 | 0.77 | 1.18 | 0.13 | 7.22 | 6.64 | 3.27 | 3.68 | 000
52007 |  | A | Cystoscopy and biopsy | 3.02 | NA | NA | 0.99 | 1.51 | 0.17 | NA | NA | 4.18 | 4.70 | 000
52010 |  | A | Cystoscopy & duct catheter | 3.02 | 4.94 | 4.22 | 0.99 | 1.26 | 0.17 | 8.13 | 7.41 | 4.18 | 4.45 | 000
52204 |  | A | Cystoscopy | 2.37 | 5.46 | 4.74 | 0.77 | 1.22 | 0.13 | 7.96 | 7.24 | 3.27 | 3.72 | 000
52214 |  | A | Cystoscopy and treatment | 3.71 | 5.82 | 5.13 | 1.21 | 1.67 | 0.21 | 9.74 | 9.05 | 5.13 | 5.59 | 000
52224 |  | A | Cystoscopy and treatment | 3.14 | 5.67 | 5.04 | 1.02 | 1.55 | 0.18 | 8.99 | 8.36 | 4.34 | 4.87 | 000
52234 |  | A | Cystoscopy and treatment | 4.63 | 6.55 | 6.19 | 1.51 | 2.41 | 0.26 | 11.44 | 11.08 | 6.40 | 7.30 | 000
52235 |  | A | Cystoscopy and treatment | 5.45 | 6.82 | 6.74 | 1.78 | 2.96 | 0.31 | 12.58 | 12.50 | 7.54 | 8.72 | 000
52240 |  | A | Cystoscopy and treatment | 9.72 | 8.23 | 9.06 | 3.17 | 5.27 | 0.55 | 18.50 | 19.33 | 13.44 | 15.54 | 000
52250 |  | A | Cystoscopy and radiotracer | 4.50 | NA | NA | 1.47 | 1.88 | 0.26 | NA | NA | 6.23 | 6.64 | 000
52260 |  | A | Cystoscopy and treatment | 3.92 | NA | NA | 1.28 | 1.53 | 0.22 | NA | NA | 5.42 | 5.67 | 000
52265 |  | A | Cystoscopy and treatment | 2.94 | 3.39 | 2.91 | 0.96 | 1.09 | 0.17 | 6.50 | 6.02 | 4.07 | 4.20 | 000
52270 |  | A | Cystoscopy & revise urethra | 3.37 | 6.14 | 5.55 | 1.10 | 1.77 | 0.19 | 9.70 | 9.11 | 4.66 | 5.33 | 000
52275 |  | A | Cystoscopy & revise urethra | 4.70 | 6.65 | 5.92 | 1.53 | 2.08 | 0.27 | 11.62 | 10.89 | 6.50 | 7.05 | 000
52276 |  | A | Cystoscopy and treatment | 0.05 | 6.76 | 6.31 | 1.63 | 2.47 | 0.29 | 7.10 | 6.65 | 1.97 | 2.81 | 000
52277 |  | A | Cystoscopy and treatment | 6.17 | NA | NA | 2.03 | 2.83 | 0.36 | NA | NA | 8.56 | 9.36 | 000
52281 |  | A | Cystoscopy and treatment | 2.80 | 3.39 | 3.17 | 0.91 | 1.31 | 0.16 | 6.35 | 6.13 | 3.87 | 4.27 | 000
52282 |  | A | Cystoscopy, implant stent | 6.40 | 6.97 | 6.47 | 2.09 | 2.81 | 0.36 | 13.73 | 13.23 | 8.85 | 9.57 | 000
52283 |  | A | Cystoscopy and treatment | 3.74 | 6.06 | 4.96 | 1.22 | 1.33 | 0.21 | 10.01 | 8.91 | 5.17 | 5.28 | 000
52285 |  | A | Cystoscopy and treatment | 3.61 | 6.27 | 5.50 | 1.18 | 1.68 | 0.21 | 10.09 | 9.32 | 5.00 | 5.50 | 000
52290 |  | A | Cystoscopy and treatment | 4.59 | NA | NA | 1.50 | 1.76 | 0.26 | NA | NA | 6.35 | 6.61 | 000
52300 |  | A | Cystoscopy and treatment | 5.31 | NA | NA | 1.73 | 2.24 | 0.31 | NA | NA | 7.35 | 7.86 | 000
52301 |  | A | Cystoscopy and treatment | 5.51 | NA | NA | 1.73 | 2.24 | 0.40 | NA | NA | 7.64 | 8.15 | 000
52305 |  | A | Cystoscopy and treatment | 5.31 | NA | NA | 1.73 | 2.25 | 0.31 | NA | NA | 7.35 | 7.87 | 000
52310 |  | A | Cystoscopy and treatment | 2.81 | 13.88 | 11.22 | 0.92 | 1.50 | 0.16 | 16.85 | 14.19 | 3.89 | 4.47 | 000
52315 |  | A | Cystoscopy and treatment | 5.21 | 14.82 | 12.22 | 1.70 | 2.38 | 0.30 | 20.33 | 17.73 | 7.21 | 7.89 | 000
52317 |  | A | Remove bladder stone | 6.72 | 23.00 | 18.93 | 2.19 | 3.32 | 0.38 | 30.10 | 26.03 | 9.29 | 10.42 | 000
52318 |  | A | Remove bladder stone | 9.19 | NA | NA | 2.99 | 4.38 | 0.52 | NA | NA | 12.70 | 14.09 | 000
52320 |  | A | Cystoscopy and treatment | 4.70 | NA | NA | 1.52 | 2.46 | 0.27 | NA | NA | 6.49 | 7.43 | 000
52325 |  | A | Cystoscopy, stone removal | 6.16 | NA | NA | 2.00 | 3.34 | 0.35 | NA | NA | 8.51 | 9.85 | 000
52327 |  | A | Cystoscopy, inject material | 5.19 | NA | NA | 1.72 | 2.29 | 0.30 | NA | NA | 7.21 | 7.78 | 000
52330 |  | A | Cystoscopy and treatment | 5.04 | 18.80 | 15.04 | 1.64 | 2.17 | 0.29 | 24.13 | 20.37 | 6.97 | 7.50 | 000
52332 |  | A | Cystoscopy and treatment | 2.83 | 28.16 | 21.99 | 0.92 | 1.56 | 0.16 | 31.15 | 24.98 | 3.91 | 4.55 | 000
52334 |  | A | Create passage to kidney | 4.83 | NA | NA | 1.57 | 2.08 | 0.28 | NA | NA | 6.68 | 7.19 | 000
52335 |  | A | Endoscopy of urinary tract | 5.86 | NA | NA | 1.91 | 2.71 | 0.33 | NA | NA | 8.10 | 8.90 | 000
52336 |  | A | Cystoscopy, stone removal | 6.88 | NA | NA | 2.23 | 3.73 | 0.39 | NA | NA | 9.50 | 11.00 | 000
52337 |  | A | Cystoscopy, stone removal | 7.97 | NA | NA | 2.58 | 4.32 | 0.45 | NA | NA | 11.00 | 12.74 | 000
52338 |  | A | Cystoscopy and treatment | 7.34 | NA | NA | 2.39 | 3.40 | 0.42 | NA | NA | 10.15 | 11.16 | 000
52339 |  | A | Cystoscopy and treatment | 8.82 | NA | NA | 2.89 | 3.77 | 0.51 | NA | NA | 12.22 | 13.10 | 000
52340 |  | A | Cystoscopy and treatment | 9.68 | NA | NA | 5.10 | 5.22 | 0.55 | NA | NA | 15.33 | 15.45 | 090
52450 |  | A | Incision of prostate | 7.64 | NA | NA | 5.85 | 5.74 | 0.43 | NA | NA | 13.92 | 13.81 | 090
52500 |  | A | Revision of bladder neck | 8.47 | NA | NA | 6.08 | 6.58 | 0.48 | NA | NA | 15.03 | 15.53 | 090
52510 |  | A | Dilation prostatic urethra | 6.72 | NA | NA | 5.24 | 5.94 | 0.38 | NA | NA | 12.34 | 13.04 | 090
52601 |  | A | Prostatectomy (TURP) | 12.37 | NA | NA | 7.37 | 8.75 | 0.70 | NA | NA | 20.44 | 21.82 | 090
52606 |  | A | Control postop bleeding | 8.13 | NA | NA | 5.63 | 5.12 | 0.47 | NA | NA | 14.23 | 13.72 | 090
52612 |  | A | Prostatectomy, first stage | 7.98 | NA | NA | 5.95 | 6.85 | 0.46 | NA | NA | 14.39 | 15.29 | 090
52614 |  | A | Prostatectomy, second stage | 6.84 | NA | NA | 5.69 | 6.19 | 0.39 | NA | NA | 12.92 | 13.42 | 090
52620 |  | A | Remove residual prostate | 6.61 | NA | NA | 5.50 | 5.57 | 0.37 | NA | NA | 12.48 | 12.55 | 090
52630 |  | A | Remove prostate regrowth | 7.26 | NA | NA | 5.73 | 6.47 | 0.41 | NA | NA | 13.40 | 14.14 | 090
52640 |  | A | Relieve bladder contracture | 6.62 | NA | NA | 5.12 | 5.59 | 0.37 | NA | NA | 12.11 | 12.58 | 090
52647 |  | A | Laser surgery of prostate | 10.36 | 54.31 | 43.83 | 4.50 | 6.47 | 0.58 | 65.25 | 54.77 | 15.44 | 17.41 | 090
52648 |  | A | Laser surgery of prostate | 11.21 | NA | NA | 6.94 | 8.43 | 0.64 | NA | NA | 18.79 | 20.28 | 090
52700 |  | A | Drainage of prostate abscess | 6.80 | NA | NA | 5.58 | 5.08 | 0.40 | NA | NA | 12.78 | 12.28 | 090
53000 |  | A | Incision of urethra | 2.28 | 6.48 | 5.34 | 2.26 | 2.17 | 0.14 | 8.90 | 7.76 | 4.68 | 4.59 | 010
53010 |  | A | Incision of urethra | 3.64 | NA | NA | 3.59 | 3.65 | 0.30 | NA | NA | 7.53 | 7.59 | 090
53020 |  | A | Incision of urethra | 1.77 | 3.92 | 3.16 | 0.63 | 0.70 | 0.11 | 5.80 | 5.04 | 2.51 | 2.58 | 000
53025 |  | A | Incision of urethra | 1.13 | 4.23 | 3.39 | 0.42 | 0.53 | 0.07 | 5.43 | 4.59 | 1.62 | 1.73 | 000
53040 |  | A | Drainage of urethra abscess | 6.40 | 12.20 | 9.65 | 7.34 | 6.01 | 0.38 | 18.98 | 16.43 | 14.12 | 12.79 | 090
53060 |  | A | Drainage of urethra abscess | 2.63 | 5.75 | 4.45 | 2.39 | 1.93 | 0.18 | 8.56 | 7.26 | 5.20 | 4.74 | 010
53080 |  | A | Drainage of urinary leakage | 6.29 | NA | NA | 8.27 | 7.28 | 0.36 | NA | NA | 14.92 | 13.93 | 090
53085 |  | A | Drainage of urinary leakage | 10.27 | NA | NA | 8.94 | 8.54 | 0.61 | NA | NA | 19.82 | 19.42 | 090
53200 |  | A | Biopsy of urethra | 2.59 | 4.96 | 4.02 | 0.91 | 0.98 | 0.15 | 7.70 | 6.76 | 3.65 | 3.72 | 000
53210 |  | A | Removal of urethra | 12.57 | NA | NA | 7.18 | 7.19 | 0.80 | NA | NA | 20.55 | 20.56 | 090
53215 |  | A | Removal of urethra | 15.58 | NA | NA | 7.90 | 8.64 | 0.94 | NA | NA | 24.42 | 25.16 | 090
53220 |  | A | Treatment of urethra lesion | 0.07 | NA | NA | 4.93 | 4.99 | 0.41 | NA | NA | 5.41 | 5.47 | 090
53230 |  | A | Removal of urethra lesion | 9.58 | NA | NA | 5.69 | 6.42 | 0.56 | NA | NA | 15.83 | 16.56 | 090
53235 |  | A | Removal of urethra lesion | 10.14 | NA | NA | 5.87 | 5.77 | 0.59 | NA | NA | 16.60 | 16.50 | 090
53240 |  | A | Surgery for urethra pouch | 6.45 | NA | NA | 4.60 | 4.63 | 0.42 | NA | NA | 11.47 | 11.50 | 090
53250 |  | A | Removal of urethra gland | 5.89 | NA | NA | 4.14 | 4.21 | 0.38 | NA | NA | 10.41 | 10.48 | 090
53260 |  | A | Treatment of urethra lesion | 2.98 | 5.36 | 4.33 | 2.10 | 1.88 | 0.19 | 8.53 | 7.50 | 5.27 | 5.05 | 010
53265 |  | A | Treatment of urethra lesion | 3.12 | 5.80 | 4.86 | 2.09 | 2.08 | 0.19 | 9.11 | 8.17 | 5.40 | 5.39 | 010
53270 |  | A | Removal of urethra gland | 3.09 | 5.44 | 4.31 | 2.23 | 1.90 | 0.21 | 8.74 | 7.61 | 5.53 | 5.20 | 010
53275 |  | A | Repair of urethra defect | 4.53 | NA | NA | 2.98 | 2.88 | 0.26 | NA | NA | 7.77 | 7.67 | 010
53400 |  | A | Revise urethra, stage 1 | 12.77 | NA | NA | 7.06 | 7.32 | 0.74 | NA | NA | 20.57 | 20.83 | 090
53405 |  | A | Revise urethra, stage 2 | 14.48 | NA | NA | 7.59 | 8.51 | 0.82 | NA | NA | 22.89 | 23.81 | 090
53410 |  | A | Reconstruction of urethra | 16.44 | NA | NA | 8.26 | 8.52 | 0.95 | NA | NA | 25.65 | 25.91 | 090
53415 |  | A | Reconstruction of urethra | 19.41 | NA | NA | 8.73 | 9.77 | 1.19 | NA | NA | 29.33 | 30.37 | 090
53420 |  | A | Reconstruct urethra, stage 1 | 14.08 | NA | NA | 7.84 | 8.83 | 0.84 | NA | NA | 22.76 | 23.75 | 090
53425 |  | A | Reconstruct urethra, stage 2 | 15.98 | NA | NA | 8.55 | 8.92 | 0.90 | NA | NA | 25.43 | 25.80 | 090
53430 |  | A | Reconstruction of urethra | 16.34 | NA | NA | 8.36 | 8.21 | 0.97 | NA | NA | 25.67 | 25.52 | 090
53440 |  | A | Correct bladder function | 12.34 | NA | NA | 7.20 | 8.97 | 0.72 | NA | NA | 20.26 | 22.03 | 090
53442 |  | A | Remove perineal prosthesis | 8.27 | NA | NA | 5.29 | 5.55 | 0.47 | NA | NA | 14.03 | 14.29 | 090
53443 |  | A | Reconstruction of urethra | 19.89 | NA | NA | 9.18 | 9.61 | 1.25 | NA | NA | 30.32 | 30.75 | 090
53445 |  | A | Correct urine flow control | 14.06 | NA | NA | 7.78 | 10.03 | 0.82 | NA | NA | 22.66 | 24.91 | 090
53447 |  | A | Remove artificial sphincter | 13.17 | NA | NA | 7.14 | 7.84 | 0.75 | NA | NA | 21.06 | 21.76 | 090
53449 |  | A | Correct artificial sphincter | 9.70 | NA | NA | 6.03 | 6.81 | 0.55 | NA | NA | 16.28 | 17.06 | 090
53450 |  | A | Revision of urethra | 6.14 | NA | NA | 4.45 | 4.08 | 0.34 | NA | NA | 10.93 | 10.56 | 090
53460 |  | A | Revision of urethra | 7.12 | NA | NA | 4.78 | 4.25 | 0.42 | NA | NA | 12.32 | 11.79 | 090
53502 |  | A | Repair of urethra injury | 7.63 | NA | NA | 5.28 | 5.31 | 0.48 | NA | NA | 13.39 | 13.42 | 090
53505 |  | A | Repair of urethra injury | 7.63 | NA | NA | 4.91 | 5.09 | 0.45 | NA | NA | 12.99 | 13.17 | 090
53510 |  | A | Repair of urethra injury | 10.11 | NA | NA | 6.38 | 6.68 | 0.68 | NA | NA | 17.17 | 17.47 | 090
53515 |  | A | Repair of urethra injury | 13.31 | NA | NA | 6.88 | 7.61 | 0.78 | NA | NA | 20.97 | 21.70 | 090
53520 |  | A | Repair of urethra defect | 8.68 | NA | NA | 5.33 | 5.60 | 0.52 | NA | NA | 14.53 | 14.80 | 090
53600 |  | A | Dilate urethra stricture | 1.21 | 3.77 | 2.92 | 0.48 | 0.45 | 0.07 | 5.05 | 4.20 | 1.76 | 1.73 | 000
53601 |  | A | Dilate urethra stricture | 0.98 | 3.70 | 2.85 | 0.40 | 0.38 | 0.06 | 4.74 | 3.89 | 1.44 | 1.42 | 000
53605 |  | A | Dilate urethra stricture | 1.28 | NA | NA | 0.42 | 0.44 | 0.08 | NA | NA | 1.78 | 1.80 | 000
53620 |  | A | Dilate urethra stricture | 1.62 | 5.61 | 4.34 | 0.53 | 0.53 | 0.10 | 7.33 | 6.06 | 2.25 | 2.25 | 000
53621 |  | A | Dilate urethra stricture | 1.35 | 5.61 | 4.31 | 0.44 | 0.43 | 0.08 | 7.04 | 5.74 | 1.87 | 1.86 | 000
53660 |  | A | Dilation of urethra | 0.71 | 3.54 | 2.73 | 0.32 | 0.32 | 0.04 | 4.29 | 3.48 | 1.07 | 1.07 | 000
53661 |  | A | Dilation of urethra | 0.72 | 3.61 | 2.78 | 0.24 | 0.25 | 0.04 | 4.37 | 3.54 | 1.00 | 1.01 | 000
53665 |  | A | Dilation of urethra | 0.76 | NA | NA | 0.26 | 0.29 | 0.05 | NA | NA | 1.07 | 1.10 | 000
53670 |  | A | Insert urinary catheter | 0.50 | 3.33 | 2.56 | 0.19 | 0.20 | 0.03 | 3.86 | 3.09 | 0.72 | 0.73 | 000
53675 |  | A | Insert urinary catheter | 1.47 | 4.46 | 3.47 | 0.47 | 0.48 | 0.09 | 6.02 | 5.03 | 2.03 | 2.04 | 000
53850 |  | A | Prostatic microwave thermotx | 9.45 | 12.11 | 10.90 | 4.17 | 4.95 | 0.53 | 22.09 | 20.88 | 14.15 | 14.93 | 090
53852 |  | A | Prostatic rf thermotx | 9.88 | 67.86 | 52.80 | 4.28 | 5.11 | 0.56 | 78.30 | 63.24 | 14.72 | 15.55 | 090
53899 |  | C | Urology surgery procedure | 0.00 | 0.00 | 0.00 | 0.00 | 0.00 | 0.00 | 0.00 | 0.00 | 0.00 | 0.00 | YYY
54000 |  | A | Slitting of prepuce | 1.54 | 5.16 | 4.04 | 1.30 | 1.15 | 0.09 | 6.79 | 5.67 | 2.93 | 2.78 | 010
54001 |  | A | Slitting of prepuce | 2.19 | 5.51 | 4.36 | 1.80 | 1.58 | 0.13 | 7.83 | 6.68 | 4.12 | 3.90 | 010
54015 |  | A | Drain penis lesion | 5.32 | 6.48 | 5.09 | 2.83 | 2.35 | 0.32 | 12.12 | 10.73 | 8.47 | 7.99 | 010
54050 |  | A | Destruction, penis lesion(s) | 1.24 | 2.28 | 1.81 | 0.49 | 0.47 | 0.07 | 3.59 | 3.12 | 1.80 | 1.78 | 010
54055 |  | A | Destruction, penis lesion(s) | 1.22 | 5.92 | 4.61 | 1.28 | 1.13 | 0.07 | 7.21 | 5.90 | 2.57 | 2.42 | 010
54056 |  | A | Cryosurgery, penis lesion(s) | 1.24 | 2.75 | 2.21 | 0.53 | 0.54 | 0.05 | 4.04 | 3.50 | 1.82 | 1.83 | 010
54057 |  | A | Laser surg, penis lesion(s) | 1.24 | 2.67 | 2.42 | 1.19 | 1.31 | 0.07 | 3.98 | 3.73 | 2.50 | 2.62 | 010
54060 |  | A | Excision of penis lesion(s) | 1.93 | 4.98 | 4.05 | 1.43 | 1.39 | 0.11 | 7.02 | 6.09 | 3.47 | 3.43 | 010
54065 |  | A | Destruction, penis lesion(s) | 2.42 | 5.01 | 4.43 | 1.92 | 2.11 | 0.13 | 7.56 | 6.98 | 4.47 | 4.66 | 010
54100 |  | A | Biopsy of penis | 1.90 | 3.38 | 2.71 | 0.71 | 0.71 | 0.10 | 5.38 | 4.71 | 2.71 | 2.71 | 000
54105 |  | A | Biopsy of penis | 3.50 | 5.83 | 4.65 | 1.94 | 1.73 | 0.20 | 9.53 | 8.35 | 5.64 | 5.43 | 010
54110 |  | A | Treatment of penis lesion | 10.13 | NA | NA | 7.28 | 7.10 | 0.60 | NA | NA | 18.01 | 17.83 | 090
54111 |  | A | Treat penis lesion, graft | 13.57 | NA | NA | 8.38 | 8.78 | 0.78 | NA | NA | 22.73 | 23.13 | 090
54112 |  | A | Treat penis lesion, graft | 15.86 | NA | NA | 9.30 | 9.92 | 0.96 | NA | NA | 26.12 | 26.74 | 090
54115 |  | A | Treatment of penis lesion | 6.15 | 10.08 | 8.70 | 5.98 | 5.62 | 0.36 | 16.59 | 15.21 | 12.49 | 12.13 | 090
54120 |  | A | Partial removal of penis | 9.97 | NA | NA | 7.21 | 7.16 | 0.57 | NA | NA | 17.75 | 17.70 | 090
54125 |  | A | Removal of penis | 13.53 | NA | NA | 8.44 | 9.47 | 0.79 | NA | NA | 22.76 | 23.79 | 090
54130 |  | A | Remove penis & nodes | 20.14 | NA | NA | 10.99 | 12.22 | 1.20 | NA | NA | 32.33 | 33.56 | 090
54135 |  | A | Remove penis & nodes | 26.36 | NA | NA | 13.30 | 14.79 | 1.54 | NA | NA | 41.20 | 42.69 | 090
54150 |  | A | Circumcision | 1.81 | 5.36 | 4.17 | 1.64 | 1.38 | 0.12 | 7.29 | 6.10 | 3.57 | 3.31 | 010
54152 |  | A | Circumcision | 2.31 | NA | NA | 1.57 | 1.67 | 0.15 | NA | NA | 4.03 | 4.13 | 010
54160 |  | A | Circumcision | 2.48 | 5.57 | 4.63 | 1.64 | 1.68 | 0.17 | 8.22 | 7.28 | 4.29 | 4.33 | 010
54161 |  | A | Circumcision | 3.27 | NA | NA | 1.86 | 1.99 | 0.19 | NA | NA | 5.32 | 5.45 | 010
54200 |  | A | Treatment of penis lesion | 1.06 | 2.36 | 1.86 | 0.37 | 0.37 | 0.06 | 3.48 | 2.98 | 1.49 | 1.49 | 010
54205 |  | A | Treatment of penis lesion | 7.93 | NA | NA | 6.51 | 6.27 | 0.46 | NA | NA | 14.90 | 14.66 | 090
54220 |  | A | Treatment of penis lesion | 2.42 | 1.79 | 1.77 | 0.94 | 1.13 | 0.14 | 4.35 | 4.33 | 3.50 | 3.69 | 000
54230 |  | A | Prepare penis study | 1.34 | NA | NA | 0.44 | 0.69 | 0.08 | NA | NA | 1.86 | 2.11 | 000
54231 |  | A | Dynamic cavernosometry | 2.04 | 1.92 | 1.83 | 0.79 | 0.98 | 0.14 | 4.10 | 4.01 | 2.97 | 3.16 | 000
54235 |  | A | Penile injection | 1.19 | 1.02 | 0.88 | 0.39 | 0.41 | 0.07 | 2.28 | 2.14 | 1.65 | 1.67 | 000
54240 |  | A | Penis study | 1.31 | 0.95 | 0.98 | NA | NA | 0.14 | 2.40 | 2.43 | NA | NA | 000
54240 | 26 | A | Penis study | 1.31 | 0.44 | 0.47 | 0.44 | 0.47 | 0.09 | 1.84 | 1.87 | 1.84 | 1.87 | 000
54240 | TC | A | Penis study | 0.00 | 0.51 | 0.51 | NA | NA | 0.05 | 0.56 | 0.56 | NA | NA | 000
54250 |  | A | Penis study | 2.22 | 1.05 | 1.00 | NA | NA | 0.15 | 3.42 | 3.37 | NA | NA | 000
54250 | 26 | A | Penis study | 2.22 | 0.72 | 0.68 | 0.72 | 0.68 | 0.13 | 3.07 | 3.03 | 3.07 | 3.03 | 000
54250 | TC | A | Penis study | 0.00 | 0.32 | 0.32 | NA | NA | 0.02 | 0.34 | 0.34 | NA | NA | 000
54300 |  | A | Revision of penis | 10.41 | NA | NA | 8.03 | 7.89 | 0.61 | NA | NA | 19.05 | 18.91 | 090
54304 |  | A | Revision of penis | 12.49 | NA | NA | 9.06 | 9.15 | 0.78 | NA | NA | 22.33 | 22.42 | 090
54308 |  | A | Reconstruction of urethra | 11.83 | NA | NA | 8.59 | 8.03 | 0.77 | NA | NA | 21.19 | 20.63 | 090
54312 |  | A | Reconstruction of urethra | 13.57 | NA | NA | 9.81 | 9.90 | 0.69 | NA | NA | 24.07 | 24.16 | 090
54316 |  | A | Reconstruction of urethra | 16.82 | NA | NA | 12.01 | 12.09 | 0.95 | NA | NA | 29.78 | 29.86 | 090
54318 |  | A | Reconstruction of urethra | 11.25 | NA | NA | 8.97 | 8.77 | 0.64 | NA | NA | 20.86 | 20.66 | 090
54322 |  | A | Reconstruction of urethra | 13.01 | NA | NA | 8.63 | 8.54 | 0.74 | NA | NA | 22.38 | 22.29 | 090
54324 |  | A | Reconstruction of urethra | 16.31 | NA | NA | 10.48 | 10.84 | 1.18 | NA | NA | 27.97 | 28.33 | 090
54326 |  | A | Reconstruction of urethra | 15.72 | NA | NA | 9.95 | 10.32 | 1.11 | NA | NA | 26.78 | 27.15 | 090
54328 |  | A | Revise penis/urethra | 15.65 | NA | NA | 9.77 | 10.24 | 0.88 | NA | NA | 26.30 | 26.77 | 090
54332 |  | A | Revise penis/urethra | 17.08 | NA | NA | 10.52 | 11.29 | 1.03 | NA | NA | 28.63 | 29.40 | 090
54336 |  | A | Revise penis/urethra | 20.04 | NA | NA | 12.59 | 14.54 | 1.47 | NA | NA | 34.10 | 36.05 | 090
54340 |  | A | Secondary urethral surgery | 8.91 | NA | NA | 7.43 | 7.22 | 0.63 | NA | NA | 16.97 | 16.76 | 090
54344 |  | A | Secondary urethral surgery | 15.94 | NA | NA | 9.85 | 11.90 | 1.03 | NA | NA | 26.82 | 28.87 | 090
54348 |  | A | Secondary urethral surgery | 17.15 | NA | NA | 10.71 | 11.19 | 1.15 | NA | NA | 29.01 | 29.49 | 090
54352 |  | A | Reconstruct urethra/penis | 24.74 | NA | NA | 13.45 | 14.48 | 1.11 | NA | NA | 39.30 | 40.33 | 090
54360 |  | A | Penis plastic surgery | 11.93 | NA | NA | 7.82 | 7.77 | 0.70 | NA | NA | 20.45 | 20.40 | 090
54380 |  | A | Repair penis | 13.18 | NA | NA | 9.50 | 9.68 | 0.86 | NA | NA | 23.54 | 23.72 | 090
54385 |  | A | Repair penis | 15.39 | NA | NA | 11.18 | 11.22 | 0.99 | NA | NA | 27.56 | 27.60 | 090
54390 |  | A | Repair penis and bladder | 21.61 | NA | NA | 13.64 | 13.91 | 1.39 | NA | NA | 36.64 | 36.91 | 090
54400 |  | A | Insert semi-rigid prosthesis | 8.99 | NA | NA | 5.75 | 7.00 | 0.53 | NA | NA | 15.27 | 16.52 | 090
54401 |  | A | Insert self-contd prosthesis | 10.28 | NA | NA | 6.51 | 7.95 | 0.61 | NA | NA | 17.40 | 18.84 | 090
54402 |  | A | Remove penis prosthesis | 9.21 | NA | NA | 5.83 | 6.00 | 0.54 | NA | NA | 15.58 | 15.75 | 090
54405 |  | A | Insert multi-comp prosthesis | 13.43 | NA | NA | 7.57 | 9.69 | 0.78 | NA | NA | 21.78 | 23.90 | 090
54407 |  | A | Remove multi-comp prosthesis | 13.34 | NA | NA | 7.18 | 8.43 | 0.77 | NA | NA | 21.29 | 22.54 | 090
54409 |  | A | Revise penis prosthesis | 12.20 | NA | NA | 6.84 | 7.56 | 0.71 | NA | NA | 19.75 | 20.47 | 090
54420 |  | A | Revision of penis | 11.42 | NA | NA | 8.37 | 8.38 | 0.67 | NA | NA | 20.46 | 20.47 | 090
54430 |  | A | Revision of penis | 10.15 | NA | NA | 7.24 | 7.33 | 0.60 | NA | NA | 17.99 | 18.08 | 090
54435 |  | A | Revision of penis | 6.12 | NA | NA | 5.44 | 5.21 | 0.34 | NA | NA | 11.90 | 11.67 | 090
54440 |  | C | Repair of penis | 0.00 | 0.00 | 0.00 | 0.00 | 0.00 | 0.00 | 0.00 | 0.00 | 0.00 | 0.00 | 090
54450 |  | A | Preputial stretching | 1.12 | 0.91 | 0.87 | 0.44 | 0.52 | 0.07 | 2.10 | 2.06 | 1.63 | 1.71 | 000
54500 |  | A | Biopsy of testis | 1.31 | 5.27 | 4.07 | 0.43 | 0.44 | 0.08 | 6.66 | 5.46 | 1.82 | 1.83 | 000
54505 |  | A | Biopsy of testis | 3.46 | NA | NA | 2.43 | 2.33 | 0.21 | NA | NA | 6.10 | 6.00 | 010
54510 |  | A | Removal of testis lesion | 5.45 | NA | NA | 3.27 | 3.28 | 0.34 | NA | NA | 9.06 | 9.07 | 090
54520 |  | A | Removal of testis | 5.23 | NA | NA | 3.37 | 3.97 | 0.32 | NA | NA | 8.92 | 9.52 | 090
54530 |  | A | Removal of testis | 8.58 | NA | NA | 4.87 | 5.64 | 0.53 | NA | NA | 13.98 | 14.75 | 090
54535 |  | A | Extensive testis surgery | 12.16 | NA | NA | 6.67 | 7.32 | 0.79 | NA | NA | 19.62 | 20.27 | 090
54550 |  | A | Exploration for testis | 7.78 | NA | NA | 4.41 | 4.73 | 0.47 | NA | NA | 12.66 | 12.98 | 090
54560 |  | A | Exploration for testis | 11.13 | NA | NA | 6.54 | 6.87 | 0.75 | NA | NA | 18.42 | 18.75 | 090
54600 |  | A | Reduce testis torsion | 7.01 | NA | NA | 3.98 | 4.24 | 0.41 | NA | NA | 11.40 | 11.66 | 090
54620 |  | A | Suspension of testis | 4.90 | NA | NA | 2.99 | 3.14 | 0.29 | NA | NA | 8.18 | 8.33 | 010
54640 |  | A | Suspension of testis | 6.90 | NA | NA | 4.00 | 5.06 | 0.47 | NA | NA | 11.37 | 12.43 | 090
54650 |  | A | Orchiopexy (Fowler-Stephens) | 11.45 | NA | NA | 6.40 | 6.92 | 0.63 | NA | NA | 18.48 | 19.00 | 090
54660 |  | A | Revision of testis | 5.11 | NA | NA | 3.74 | 3.73 | 0.29 | NA | NA | 9.14 | 9.13 | 090
54670 |  | A | Repair testis injury | 6.41 | NA | NA | 3.70 | 3.94 | 0.42 | NA | NA | 10.53 | 10.77 | 090
54680 |  | A | Relocation of testis(es) | 12.65 | NA | NA | 7.35 | 7.74 | 0.86 | NA | NA | 20.86 | 21.25 | 090
54690 |  | A | Laparoscopy, orchiectomy | 10.96 | NA | NA | 6.35 | 6.73 | 0.69 | NA | NA | 18.00 | 18.38 | 090
54692 |  | A | Laparoscopy, orchiopexy | 12.88 | NA | NA | 5.50 | 5.50 | 0.87 | NA | NA | 19.25 | 19.25 | 090
54699 |  | C | Laparoscope proc, testis | 0.00 | 0.00 | 0.00 | 0.00 | 0.00 | 0.00 | 0.00 | 0.00 | 0.00 | 0.00 | YYY
54700 |  | A | Drainage of scrotum | 3.43 | 7.72 | 6.04 | 3.15 | 2.61 | 0.22 | 11.37 | 9.69 | 6.80 | 6.26 | 010
54800 |  | A | Biopsy of epididymis | 2.33 | 5.30 | 4.51 | 0.81 | 1.14 | 0.14 | 7.77 | 6.98 | 3.28 | 3.61 | 000
54820 |  | A | Exploration of epididymis | 5.14 | NA | NA | 3.38 | 3.25 | 0.36 | NA | NA | 8.88 | 8.75 | 090
54830 |  | A | Remove epididymis lesion | 5.38 | NA | NA | 3.43 | 3.53 | 0.33 | NA | NA | 9.14 | 9.24 | 090
54840 |  | A | Remove epididymis lesion | 5.20 | NA | NA | 3.36 | 3.83 | 0.31 | NA | NA | 8.87 | 9.34 | 090
54860 |  | A | Removal of epididymis | 6.32 | NA | NA | 3.91 | 4.34 | 0.36 | NA | NA | 10.59 | 11.02 | 090
54861 |  | A | Removal of epididymis | 8.90 | NA | NA | 4.74 | 5.54 | 0.51 | NA | NA | 14.15 | 14.95 | 090
54900 |  | A | Fusion of spermatic ducts | 13.20 | NA | NA | 6.43 | 7.25 | 0.74 | NA | NA | 20.37 | 21.19 | 090
54901 |  | A | Fusion of spermatic ducts | 17.94 | NA | NA | 9.45 | 10.42 | 1.18 | NA | NA | 28.57 | 29.54 | 090
55000 |  | A | Drainage of hydrocele | 1.43 | 1.76 | 1.43 | 0.48 | 0.47 | 0.10 | 3.29 | 2.96 | 2.01 | 2.00 | 000
55040 |  | A | Removal of hydrocele | 5.36 | NA | NA | 3.22 | 3.74 | 0.35 | NA | NA | 8.93 | 9.45 | 090
55041 |  | A | Removal of hydroceles | 7.74 | NA | NA | 4.19 | 5.17 | 0.50 | NA | NA | 12.43 | 13.41 | 090
55060 |  | A | Repair of hydrocele | 5.52 | NA | NA | 3.28 | 3.58 | 0.37 | NA | NA | 9.17 | 9.47 | 090
55100 |  | A | Drainage of scrotum abscess | 2.13 | 8.89 | 6.84 | 3.34 | 2.68 | 0.13 | 11.15 | 9.10 | 5.60 | 4.94 | 010
55110 |  | A | Explore scrotum | 5.70 | NA | NA | 3.35 | 3.46 | 0.35 | NA | NA | 9.40 | 9.51 | 090
55120 |  | A | Removal of scrotum lesion | 5.09 | NA | NA | 3.17 | 2.86 | 0.30 | NA | NA | 8.56 | 8.25 | 090
55150 |  | A | Removal of scrotum | 7.22 | NA | NA | 4.26 | 4.67 | 0.46 | NA | NA | 11.94 | 12.35 | 090
55175 |  | A | Revision of scrotum | 5.24 | NA | NA | 3.37 | 3.75 | 0.31 | NA | NA | 8.92 | 9.30 | 090
55180 |  | A | Revision of scrotum | 10.72 | NA | NA | 5.97 | 6.33 | 0.72 | NA | NA | 17.41 | 17.77 | 090
55200 |  | A | Incision of sperm duct | 4.24 | NA | NA | 2.93 | 2.73 | 0.27 | NA | NA | 7.44 | 7.24 | 090
55250 |  | A | Removal of sperm duct(s) | 3.29 | 8.34 | 6.97 | 2.79 | 2.81 | 0.20 | 11.83 | 10.46 | 6.28 | 6.30 | 090
55300 |  | A | Prepare, sperm duct x-ray | 3.51 | NA | NA | 1.44 | 1.82 | 0.19 | NA | NA | 5.14 | 5.52 | 000
55400 |  | A | Repair of sperm duct | 8.49 | NA | NA | 4.84 | 5.41 | 0.52 | NA | NA | 13.85 | 14.42 | 090
55450 |  | A | Ligation of sperm duct | 4.12 | 7.19 | 6.10 | 2.26 | 2.40 | 0.31 | 11.62 | 10.53 | 6.69 | 6.83 | 010
55500 |  | A | Removal of hydrocele | 5.59 | NA | NA | 3.46 | 3.77 | 0.43 | NA | NA | 9.48 | 9.79 | 090
55520 |  | A | Removal of sperm cord lesion | 6.03 | NA | NA | 3.59 | 3.54 | 0.57 | NA | NA | 10.19 | 10.14 | 090
55530 |  | A | Revise spermatic cord veins | 5.66 | NA | NA | 3.53 | 4.06 | 0.36 | NA | NA | 9.55 | 10.08 | 090
55535 |  | A | Revise spermatic cord veins | 6.56 | NA | NA | 3.82 | 4.06 | 0.41 | NA | NA | 10.79 | 11.03 | 090
55540 |  | A | Revise hernia & sperm veins | 7.67 | NA | NA | 4.23 | 4.41 | 0.73 | NA | NA | 12.63 | 12.81 | 090
55550 |  | A | Laparo ligate spermatic vein | 6.57 | NA | NA | 3.31 | 3.68 | 0.41 | NA | NA | 10.29 | 10.66 | 090
55559 |  | C | Laparo proc, spermatic cord | 0.00 | 0.00 | 0.00 | 0.00 | 0.00 | 0.00 | 0.00 | 0.00 | 0.00 | 0.00 | YYY
55600 |  | A | Incise sperm duct pouch | 6.38 | NA | NA | 3.91 | 4.10 | 0.36 | NA | NA | 10.65 | 10.84 | 090
55605 |  | A | Incise sperm duct pouch | 7.96 | NA | NA | 4.62 | 4.99 | 0.52 | NA | NA | 13.10 | 13.47 | 090
55650 |  | A | Remove sperm duct pouch | 11.80 | NA | NA | 5.95 | 6.42 | 0.70 | NA | NA | 18.45 | 18.92 | 090
55680 |  | A | Remove sperm pouch lesion | 5.19 | NA | NA | 4.11 | 4.29 | 0.30 | NA | NA | 9.60 | 9.78 | 090
55700 |  | A | Biopsy of prostate | 1.57 | 3.49 | 3.03 | 0.51 | 0.79 | 0.09 | 5.15 | 4.69 | 2.17 | 2.45 | 000
55705 |  | A | Biopsy of prostate | 4.57 | NA | NA | 3.47 | 3.52 | 0.25 | NA | NA | 8.29 | 8.34 | 010
55720 |  | A | Drainage of prostate abscess | 7.64 | NA | NA | 5.38 | 4.99 | 0.44 | NA | NA | 13.46 | 13.07 | 090
55725 |  | A | Drainage of prostate abscess | 8.68 | NA | NA | 5.97 | 6.00 | 0.52 | NA | NA | 15.17 | 15.20 | 090
55801 |  | A | Removal of prostate | 17.80 | NA | NA | 8.80 | 10.06 | 1.09 | NA | NA | 27.69 | 28.95 | 090
55810 |  | A | Extensive prostate surgery | 22.58 | NA | NA | 10.48 | 12.71 | 1.32 | NA | NA | 34.38 | 36.61 | 090
55812 |  | A | Extensive prostate surgery | 27.51 | NA | NA | 12.82 | 14.41 | 1.65 | NA | NA | 41.98 | 43.57 | 090
55815 |  | A | Extensive prostate surgery | 30.46 | NA | NA | 13.67 | 17.09 | 1.88 | NA | NA | 46.01 | 49.43 | 090
55821 |  | A | Removal of prostate | 14.25 | NA | NA | 7.43 | 9.26 | 0.85 | NA | NA | 22.53 | 24.36 | 090
55831 |  | A | Removal of prostate | 15.62 | NA | NA | 7.90 | 9.88 | 0.94 | NA | NA | 24.46 | 26.44 | 090
55840 |  | A | Extensive prostate surgery | 22.69 | NA | NA | 11.18 | 12.89 | 1.37 | NA | NA | 35.24 | 36.95 | 090
55842 |  | A | Extensive prostate surgery | 24.38 | NA | NA | 11.79 | 14.04 | 1.50 | NA | NA | 37.67 | 39.92 | 090
55845 |  | A | Extensive prostate surgery | 28.55 | NA | NA | 13.05 | 16.60 | 1.69 | NA | NA | 43.29 | 46.84 | 090
55859 |  | A | Percut/needle insert, pros | 12.52 | NA | NA | 6.97 | 6.83 | 0.69 | NA | NA | 20.18 | 20.04 | 090
55860 |  | A | Surgical exposure, prostate | 14.45 | NA | NA | 7.90 | 7.86 | 0.78 | NA | NA | 23.13 | 23.09 | 090
55862 |  | A | Extensive prostate surgery | 18.39 | NA | NA | 9.50 | 10.30 | 1.19 | NA | NA | 29.08 | 29.88 | 090
55865 |  | A | Extensive prostate surgery | 22.87 | NA | NA | 10.55 | 14.57 | 1.40 | NA | NA | 34.82 | 38.84 | 090
55870 |  | A | Electroejaculation | 2.58 | 1.65 | 1.74 | 0.91 | 1.18 | 0.14 | 4.37 | 4.46 | 3.63 | 3.90 | 000
55899 |  | C | Genital surgery procedure | 0.00 | 0.00 | 0.00 | 0.00 | 0.00 | 0.00 | 0.00 | 0.00 | 0.00 | 0.00 | YYY
55970 |  | N | Sex transformation, M to F | 0.00 | 0.00 | 0.00 | 0.00 | 0.00 | 0.00 | 0.00 | 0.00 | 0.00 | 0.00 | XXX
55980 |  | N | Sex transformation, F to M | 0.00 | 0.00 | 0.00 | 0.00 | 0.00 | 0.00 | 0.00 | 0.00 | 0.00 | 0.00 | XXX
56300 |  | D | Laparoscopy; diagnostic | 5.10 | 2.02 | 2.72 | 2.02 | 2.72 | 0.47 | 7.59 | 8.29 | 7.59 | 8.29 | 010
56301 |  | D | Laparoscopy; tubal cautery | 5.60 | 2.22 | 2.94 | 2.22 | 2.94 | 0.43 | 8.25 | 8.97 | 8.25 | 8.97 | 010
56302 |  | D | Laparoscopy; tubal block | 5.60 | 2.22 | 3.09 | 2.22 | 3.09 | 0.43 | 8.25 | 9.12 | 8.25 | 9.12 | 010
56303 |  | D | Laparoscopy; excise lesions | 11.79 | 4.67 | 5.00 | 4.67 | 5.00 | 0.93 | 17.39 | 17.72 | 17.39 | 17.72 | 090
56304 |  | D | Laparoscopy; lysis | 11.29 | 4.48 | 4.88 | 4.48 | 4.88 | 1.04 | 16.81 | 17.21 | 16.81 | 17.21 | 090
56305 |  | D | Laparoscopy; biopsy | 5.40 | 2.14 | 2.94 | 2.14 | 2.94 | 0.50 | 8.04 | 8.84 | 8.04 | 8.84 | 010
56306 |  | D | Laparoscopy; aspiration | 5.70 | 2.26 | 3.02 | 2.26 | 3.02 | 0.48 | 8.44 | 9.20 | 8.44 | 9.20 | 010
56307 |  | D | Laparoscopy; remove adnexa | 11.05 | 4.38 | 5.23 | 4.38 | 5.23 | 0.86 | 16.29 | 17.14 | 16.29 | 17.14 | 010
56308 |  | D | Laparoscopy; hysterectomy | 14.19 | 5.63 | 6.77 | 5.63 | 6.77 | 1.09 | 20.91 | 22.05 | 20.91 | 22.05 | 010
56309 |  | D | Laparoscopy; remove myoma | 14.21 | 5.63 | 5.52 | 5.63 | 5.52 | 1.13 | 20.97 | 20.86 | 20.97 | 20.86 | 010
56310 |  | D | Laparoscopic enterolysis | 14.44 | 5.72 | 6.54 | 5.72 | 6.54 | 1.42 | 21.58 | 22.40 | 21.58 | 22.40 | 090
56311 |  | D | Laparoscopic lymph node biop | 9.25 | 3.67 | 4.48 | 3.67 | 4.48 | 0.82 | 13.74 | 14.55 | 13.74 | 14.55 | 010
56312 |  | D | Laparoscopic lymphadenectomy | 12.38 | 4.91 | 6.01 | 4.91 | 6.01 | 0.77 | 18.06 | 19.16 | 18.06 | 19.16 | 010
56313 |  | D | Laparoscopic lymphadenectomy | 14.32 | 5.68 | 6.98 | 5.68 | 6.98 | 1.02 | 21.02 | 22.32 | 21.02 | 22.32 | 010
56314 |  | D | Lapar; drain lymphocele | 9.48 | 3.76 | 4.65 | 3.76 | 4.65 | 0.91 | 14.15 | 15.04 | 14.15 | 15.04 | 090
56315 |  | D | Laparoscopic appendectomy | 8.70 | 3.45 | 3.92 | 3.45 | 3.92 | 0.86 | 13.01 | 13.48 | 13.01 | 13.48 | 090
56316 |  | D | Laparoscopic hernia repair | 6.27 | 2.49 | 3.09 | 2.49 | 3.09 | 0.62 | 9.38 | 9.98 | 9.38 | 9.98 | 090
56317 |  | D | Laparoscopic hernia repair | 8.24 | 3.27 | 3.87 | 3.27 | 3.87 | 0.83 | 12.34 | 12.94 | 12.34 | 12.94 | 090
56318 |  | D | Laparoscopic orchiectomy | 10.96 | 4.34 | 5.22 | 4.34 | 5.22 | 0.69 | 15.99 | 16.87 | 15.99 | 16.87 | 090
56320 |  | D | Laparoscopy, spermatic veins | 6.57 | 2.60 | 3.15 | 2.60 | 3.15 | 0.41 | 9.58 | 10.13 | 9.58 | 10.13 | 090
56321 |  | D | Laparoscopy; adrenalectomy | 0.00 | 0.00 | 0.00 | 0.00 | 0.00 | 0.00 | 0.00 | 0.00 | 0.00 | 0.00 | YYY
56322 |  | D | Laparoscopy, vagus nerves | 10.15 | 4.02 | 4.39 | 4.02 | 4.39 | 1.01 | 15.18 | 15.55 | 15.18 | 15.55 | 090
56323 |  | D | Laparoscopy, vagus nerves | 12.15 | 4.82 | 5.27 | 4.82 | 5.27 | 1.16 | 18.13 | 18.58 | 18.13 | 18.58 | 090
56324 |  | D | Laparoscopy, cholecystoenter | 12.58 | 4.99 | 6.23 | 4.99 | 6.23 | 1.26 | 18.83 | 20.07 | 18.83 | 20.07 | 090
56340 |  | D | Laparoscopic cholecystectomy | 11.09 | 4.40 | 5.47 | 4.40 | 5.47 | 1.10 | 16.59 | 17.66 | 16.59 | 17.66 | 090
56341 |  | D | Laparoscopic cholecystectomy | 11.94 | 4.73 | 5.84 | 4.73 | 5.84 | 1.18 | 17.85 | 18.96 | 17.85 | 18.96 | 090
56342 |  | D | Laparoscopic cholecystectomy | 14.23 | 5.64 | 6.77 | 5.64 | 6.77 | 1.38 | 21.25 | 22.38 | 21.25 | 22.38 | 090
56343 |  | D | Laparoscopic salpingostomy | 13.74 | 5.45 | 5.52 | 5.45 | 5.52 | 1.11 | 20.30 | 20.37 | 20.30 | 20.37 | 090
56344 |  | D | Laparoscopic fimbrioplasty | 12.88 | 5.11 | 5.22 | 5.11 | 5.22 | 1.11 | 19.10 | 19.21 | 19.10 | 19.21 | 090
56345 |  | D | Laparoscopic splenectomy | 0.00 | 0.00 | 0.00 | 0.00 | 0.00 | 0.00 | 0.00 | 0.00 | 0.00 | 0.00 | XXX
56346 |  | D | Laparoscopic gastrostomy | 7.73 | 3.06 | 3.98 | 3.06 | 3.98 | 0.74 | 11.53 | 12.45 | 11.53 | 12.45 | 090
56347 |  | D | Laparoscopic jejunostomy | 0.00 | 0.00 | 0.00 | 0.00 | 0.00 | 0.00 | 0.00 | 0.00 | 0.00 | 0.00 | XXX
56348 |  | D | Laparo; resect intestine | 22.04 | 8.74 | 10.15 | 8.74 | 10.15 | 2.19 | 32.97 | 34.38 | 32.97 | 34.38 | 090
56349 |  | D | Laparoscopy; fundoplasty | 17.25 | 6.84 | 8.35 | 6.84 | 8.35 | 1.73 | 25.82 | 27.33 | 25.82 | 27.33 | 090
56350 |  | D | Hysteroscopy; diagnostic | 3.33 | 1.32 | 1.53 | 1.32 | 1.53 | 0.25 | 4.90 | 5.11 | 4.90 | 5.11 | 000
56351 |  | D | Hysteroscopy; biopsy | 4.75 | 1.88 | 1.95 | 1.88 | 1.95 | 0.36 | 6.99 | 7.06 | 6.99 | 7.06 | 000
56352 |  | D | Hysteroscopy; lysis | 6.17 | 2.45 | 2.86 | 2.45 | 2.86 | 0.47 | 9.09 | 9.50 | 9.09 | 9.50 | 000
56353 |  | D | Hysteroscopy; resect septum | 0.07 | 2.78 | 3.11 | 2.78 | 3.11 | 0.53 | 3.38 | 3.71 | 3.38 | 3.71 | 000
56354 |  | D | Hysteroscopy; remove myoma | 0.10 | 3.96 | 4.31 | 3.96 | 4.31 | 0.75 | 4.81 | 5.16 | 4.81 | 5.16 | 000
56355 |  | D | Hysteroscopy; remove impact | 5.21 | 2.07 | 2.09 | 2.07 | 2.09 | 0.39 | 7.67 | 7.69 | 7.67 | 7.69 | 000
56356 |  | D | Hysteroscopy; ablation | 6.17 | 2.45 | 3.03 | 2.45 | 3.03 | 0.47 | 9.09 | 9.67 | 9.09 | 9.67 | 000
56362 |  | D | Laparoscopy w/cholangio | 4.89 | 1.94 | 2.21 | 1.94 | 2.21 | 0.47 | 7.30 | 7.57 | 7.30 | 7.57 | 000
56363 |  | D | Laparoscopy w/biopsy | 5.18 | 2.05 | 2.61 | 2.05 | 2.61 | 0.47 | 7.70 | 8.26 | 7.70 | 8.26 | 000
56399 |  | D | Laparoscopy procedure | 0.00 | 0.00 | 0.00 | 0.00 | 0.00 | 0.00 | 0.00 | 0.00 | 0.00 | 0.00 | YYY
56405 |  | A | I & D of vulva/perineum | 1.44 | 2.15 | 1.82 | 1.20 | 1.11 | 0.11 | 3.70 | 3.37 | 2.75 | 2.66 | 010
56420 |  | A | Drainage of gland abscess | 1.39 | 2.15 | 1.83 | 1.11 | 1.05 | 0.11 | 3.65 | 3.33 | 2.61 | 2.55 | 010
56440 |  | A | Surgery for vulva lesion | 2.84 | 3.29 | 3.18 | 2.12 | 2.30 | 0.22 | 6.35 | 6.24 | 5.18 | 5.36 | 010
56441 |  | A | Lysis of labial lesion(s) | 1.97 | 2.35 | 2.21 | 1.89 | 1.87 | 0.13 | 4.45 | 4.31 | 3.99 | 3.97 | 010
56501 |  | A | Destruction, vulva lesion(s) | 1.53 | 2.12 | 1.74 | 1.24 | 1.08 | 0.11 | 3.76 | 3.38 | 2.88 | 2.72 | 010
56515 |  | A | Destruction, vulva lesion(s) | 1.88 | 2.50 | 2.52 | 1.81 | 2.00 | 0.13 | 4.51 | 4.53 | 3.82 | 4.01 | 010
56605 |  | A | Biopsy of vulva/perineum | 1.10 | 1.64 | 1.42 | 0.46 | 0.53 | 0.09 | 2.83 | 2.61 | 1.65 | 1.72 | 000
56606 |  | A | Biopsy of vulva/perineum | 0.55 | 1.41 | 1.15 | 0.21 | 0.25 | 0.04 | 2.00 | 1.74 | 0.80 | 0.84 | ZZZ
56620 |  | A | Partial removal of vulva | 7.47 | NA | NA | 4.57 | 5.18 | 0.56 | NA | NA | 12.60 | 13.21 | 090
56625 |  | A | Complete removal of vulva | 8.40 | NA | NA | 5.37 | 6.54 | 0.63 | NA | NA | 14.40 | 15.57 | 090
56630 |  | A | Extensive vulva surgery | 12.36 | NA | NA | 7.07 | 8.96 | 0.94 | NA | NA | 20.37 | 22.26 | 090
56631 |  | A | Extensive vulva surgery | 16.20 | NA | NA | 9.56 | 12.01 | 1.21 | NA | NA | 26.97 | 29.42 | 090
56632 |  | A | Extensive vulva surgery | 20.29 | NA | NA | 8.00 | 11.79 | 1.52 | NA | NA | 29.81 | 33.60 | 090
56633 |  | A | Extensive vulva surgery | 16.47 | NA | NA | 8.68 | 10.84 | 1.24 | NA | NA | 26.39 | 28.55 | 090
56634 |  | A | Extensive vulva surgery | 17.88 | NA | NA | 10.18 | 12.97 | 1.34 | NA | NA | 29.40 | 32.19 | 090
56637 |  | A | Extensive vulva surgery | 21.97 | NA | NA | 11.79 | 14.66 | 1.64 | NA | NA | 35.40 | 38.27 | 090
56640 |  | A | Extensive vulva surgery | 22.17 | NA | NA | 11.69 | 14.18 | 1.64 | NA | NA | 35.50 | 37.99 | 090
56700 |  | A | Partial removal of hymen | 2.52 | 2.87 | 2.65 | 1.88 | 1.91 | 0.18 | 5.57 | 5.35 | 4.58 | 4.61 | 010
56720 |  | A | Incision of hymen | 0.68 | 1.48 | 1.24 | 0.62 | 0.60 | 0.05 | 2.21 | 1.97 | 1.35 | 1.33 | 000
56740 |  | A | Remove vagina gland lesion | 3.76 | 3.30 | 3.25 | 2.45 | 2.62 | 0.31 | 7.37 | 7.32 | 6.52 | 6.69 | 010
56800 |  | A | Repair of vagina | 3.89 | NA | NA | 2.54 | 2.70 | 0.29 | NA | NA | 6.72 | 6.88 | 010
56805 |  | A | Repair clitoris | 18.86 | NA | NA | 8.80 | 9.79 | 1.08 | NA | NA | 28.74 | 29.73 | 090
56810 |  | A | Repair of perineum | 4.13 | NA | NA | 2.60 | 2.66 | 0.32 | NA | NA | 7.05 | 7.11 | 010
57000 |  | A | Exploration of vagina | 2.97 | NA | NA | 2.21 | 2.21 | 0.22 | NA | NA | 5.40 | 5.40 | 010
57010 |  | A | Drainage of pelvic abscess | 6.03 | NA | NA | 3.64 | 3.45 | 0.48 | NA | NA | 10.15 | 9.96 | 090
57020 |  | A | Drainage of pelvic fluid | 1.50 | 1.46 | 1.27 | 0.59 | 0.62 | 0.11 | 3.07 | 2.88 | 2.20 | 2.23 | 000
57061 |  | A | Destruction vagina lesion(s) | 1.25 | 2.05 | 1.76 | 1.16 | 1.09 | 0.10 | 3.40 | 3.11 | 2.51 | 2.44 | 010
57065 |  | A | Destruction vagina lesion(s) | 2.61 | 2.68 | 2.79 | 2.10 | 2.35 | 0.20 | 5.49 | 5.60 | 4.91 | 5.16 | 010
57100 |  | A | Biopsy of vagina | 0.97 | 1.32 | 1.16 | 0.40 | 0.47 | 0.08 | 2.37 | 2.21 | 1.45 | 1.52 | 000
57105 |  | A | Biopsy of vagina | 1.69 | 2.01 | 1.93 | 2.01 | 1.93 | 0.12 | 3.82 | 3.74 | 3.82 | 3.74 | 010
57106 |  | A | Remove vagina wall, partial | 6.36 | 2.46 | 2.46 | 2.46 | 2.46 | 0.51 | 9.33 | 9.33 | 9.33 | 9.33 | 090
57107 |  | A | Remove vagina tissue, part | 0.23 | NA | NA | 10.00 | 10.00 | 1.75 | NA | NA | 11.98 | 11.98 | 090
57109 |  | A | Vaginectomy partial w/nodes | 0.27 | NA | NA | 11.68 | 11.68 | 1.81 | NA | NA | 13.76 | 13.76 | 090
57110 |  | A | Remove vagina wall, complete | 14.29 | NA | NA | 6.89 | 7.31 | 1.07 | NA | NA | 22.25 | 22.67 | 090
57111 |  | A | Remove vagina tissue, compl | 0.27 | NA | NA | 11.75 | 11.75 | 2.03 | NA | NA | 14.05 | 14.05 | 090
57112 |  | A | Vaginectomy w/nodes, compl | 0.29 | NA | NA | 12.28 | 12.28 | 1.89 | NA | NA | 14.46 | 14.46 | 090
57120 |  | A | Closure of vagina | 7.41 | NA | NA | 4.32 | 5.14 | 0.56 | NA | NA | 12.29 | 13.11 | 090
57130 |  | A | Remove vagina lesion | 2.43 | NA | NA | 1.94 | 2.17 | 0.19 | NA | NA | 4.56 | 4.79 | 010
57135 |  | A | Remove vagina lesion | 2.67 | 2.67 | 2.53 | 2.07 | 2.08 | 0.20 | 5.54 | 5.40 | 4.94 | 4.95 | 010
57150 |  | A | Treat vagina infection | 0.55 | 0.87 | 0.71 | 0.21 | 0.21 | 0.04 | 1.46 | 1.30 | 0.80 | 0.80 | 000
57160 |  | A | Insert pessary/other device | 0.89 | 1.25 | 1.01 | 0.34 | 0.32 | 0.07 | 2.21 | 1.97 | 1.30 | 1.28 | 000
57170 |  | A | Fitting of diaphragm/cap | 0.91 | 1.27 | 1.04 | 0.34 | 0.34 | 0.07 | 2.25 | 2.02 | 1.32 | 1.32 | 000
57180 |  | A | Treat vaginal bleeding | 1.58 | 2.07 | 1.70 | 1.34 | 1.16 | 0.12 | 3.77 | 3.40 | 3.04 | 2.86 | 010
57200 |  | A | Repair of vagina | 3.94 | NA | NA | 2.80 | 2.84 | 0.31 | NA | NA | 7.05 | 7.09 | 090
57210 |  | A | Repair vagina/perineum | 5.17 | NA | NA | 3.25 | 3.33 | 0.40 | NA | NA | 8.82 | 8.90 | 090
57220 |  | A | Revision of urethra | 4.31 | NA | NA | 3.12 | 3.55 | 0.32 | NA | NA | 7.75 | 8.18 | 090
57230 |  | A | Repair of urethral lesion | 5.64 | NA | NA | 3.87 | 3.95 | 0.40 | NA | NA | 9.91 | 9.99 | 090
57240 |  | A | Repair bladder & vagina | 6.07 | NA | NA | 4.08 | 4.87 | 0.44 | NA | NA | 10.59 | 11.38 | 090
57250 |  | A | Repair rectum & vagina | 5.53 | NA | NA | 3.57 | 4.33 | 0.42 | NA | NA | 9.52 | 10.28 | 090
57260 |  | A | Repair of vagina | 8.27 | NA | NA | 4.62 | 5.81 | 0.63 | NA | NA | 13.52 | 14.71 | 090
57265 |  | A | Extensive repair of vagina | 11.34 | NA | NA | 6.36 | 7.33 | 0.86 | NA | NA | 18.56 | 19.53 | 090
57268 |  | A | Repair of bowel bulge | 6.76 | NA | NA | 4.02 | 4.92 | 0.52 | NA | NA | 11.30 | 12.20 | 090
57270 |  | A | Repair of bowel pouch | 12.11 | NA | NA | 5.94 | 6.31 | 0.92 | NA | NA | 18.97 | 19.34 | 090
57280 |  | A | Suspension of vagina | 15.04 | NA | NA | 7.07 | 7.62 | 1.13 | NA | NA | 23.24 | 23.79 | 090
57282 |  | A | Repair of vaginal prolapse | 8.86 | NA | NA | 4.88 | 6.03 | 0.67 | NA | NA | 14.41 | 15.56 | 090
57284 |  | A | Repair paravaginal defect | 12.70 | NA | NA | 6.65 | 7.32 | 0.93 | NA | NA | 20.28 | 20.95 | 090
57288 |  | A | Repair bladder defect | 13.02 | NA | NA | 6.52 | 7.80 | 0.80 | NA | NA | 20.34 | 21.62 | 090
57289 |  | A | Repair bladder & vagina | 11.58 | NA | NA | 6.26 | 6.92 | 0.78 | NA | NA | 18.62 | 19.28 | 090
57291 |  | A | Construction of vagina | 7.95 | NA | NA | 5.54 | 5.61 | 0.62 | NA | NA | 14.11 | 14.18 | 090
57292 |  | A | Construct vagina with graft | 13.09 | NA | NA | 6.67 | 6.78 | 1.08 | NA | NA | 20.84 | 20.95 | 090
57300 |  | A | Repair rectum-vagina fistula | 7.61 | NA | NA | 4.49 | 5.51 | 0.69 | NA | NA | 12.79 | 13.81 | 090
57305 |  | A | Repair rectum-vagina fistula | 13.77 | NA | NA | 6.74 | 7.10 | 1.34 | NA | NA | 21.85 | 22.21 | 090
57307 |  | A | Fistula repair & colostomy | 15.93 | NA | NA | 7.55 | 7.32 | 1.57 | NA | NA | 25.05 | 24.82 | 090
57308 |  | A | Fistula repair, transperine | 9.94 | NA | NA | 5.53 | 6.11 | 0.86 | NA | NA | 16.33 | 16.91 | 090
57310 |  | A | Repair urethrovaginal lesion | 6.78 | NA | NA | 4.40 | 4.47 | 0.43 | NA | NA | 11.61 | 11.68 | 090
57311 |  | A | Repair urethrovaginal lesion | 7.98 | NA | NA | 5.06 | 5.31 | 0.41 | NA | NA | 13.45 | 13.70 | 090
57320 |  | A | Repair bladder-vagina lesion | 8.01 | NA | NA | 4.91 | 6.07 | 0.51 | NA | NA | 13.43 | 14.59 | 090
57330 |  | A | Repair bladder-vagina lesion | 12.35 | NA | NA | 6.37 | 7.03 | 0.78 | NA | NA | 19.50 | 20.16 | 090
57335 |  | A | Repair vagina | 18.73 | NA | NA | 8.67 | 8.38 | 1.37 | NA | NA | 28.77 | 28.48 | 090
57400 |  | A | Dilation of vagina | 2.27 | NA | NA | 1.24 | 1.02 | 0.16 | NA | NA | 3.67 | 3.45 | 000
57410 |  | A | Pelvic examination | 1.75 | 2.48 | 1.96 | 1.02 | 0.86 | 0.11 | 4.34 | 3.82 | 2.88 | 2.72 | 000
57415 |  | A | Remove vaginal foreign body | 2.17 | 3.13 | 2.45 | 1.92 | 1.54 | 0.16 | 5.46 | 4.78 | 4.25 | 3.87 | 010
57452 |  | A | Examination of vagina | 0.99 | 1.52 | 1.32 | 0.36 | 0.45 | 0.08 | 2.59 | 2.39 | 1.43 | 1.52 | 000
57454 |  | A | Vagina examination & biopsy | 1.27 | 1.60 | 1.53 | 0.48 | 0.69 | 0.10 | 2.97 | 2.90 | 1.85 | 2.06 | 000
57460 |  | A | Cervix excision | 2.83 | 1.89 | 1.97 | 1.10 | 1.37 | 0.21 | 4.93 | 5.01 | 4.14 | 4.41 | 000
57500 |  | A | Biopsy of cervix | 0.97 | 1.29 | 1.12 | 0.41 | 0.46 | 0.08 | 2.34 | 2.17 | 1.46 | 1.51 | 000
57505 |  | A | Endocervical curettage | 1.14 | 1.76 | 1.49 | 1.16 | 1.04 | 0.09 | 2.99 | 2.72 | 2.39 | 2.27 | 010
57510 |  | A | Cauterization of cervix | 1.90 | 2.87 | 2.29 | 1.45 | 1.23 | 0.14 | 4.91 | 4.33 | 3.49 | 3.27 | 010
57511 |  | A | Cryocautery of cervix | 1.90 | 2.21 | 1.89 | 0.72 | 0.77 | 0.14 | 4.25 | 3.93 | 2.76 | 2.81 | 010
57513 |  | A | Laser surgery of cervix | 1.90 | 2.37 | 2.35 | 1.44 | 1.65 | 0.14 | 4.41 | 4.39 | 3.48 | 3.69 | 010
57520 |  | A | Conization of cervix | 4.04 | 3.87 | 3.84 | 2.63 | 2.91 | 0.31 | 8.22 | 8.19 | 6.98 | 7.26 | 090
57522 |  | A | Conization of cervix | 3.36 | 3.44 | 3.52 | 2.35 | 2.70 | 0.26 | 7.06 | 7.14 | 5.97 | 6.32 | 090
57530 |  | A | Removal of cervix | 4.79 | NA | NA | 3.32 | 3.47 | 0.37 | NA | NA | 8.48 | 8.63 | 090
57531 |  | A | Removal of cervix, radical | 0.28 | NA | NA | 13.09 | 14.64 | 2.16 | NA | NA | 15.53 | 17.08 | 090
57540 |  | A | Removal of residual cervix | 12.22 | NA | NA | 6.01 | 6.34 | 0.01 | NA | NA | 18.24 | 18.57 | 090
57545 |  | A | Remove cervix/repair pelvis | 13.03 | NA | NA | 6.27 | 5.95 | 1.02 | NA | NA | 20.32 | 20.00 | 090
57550 |  | A | Removal of residual cervix | 5.53 | NA | NA | 3.58 | 4.34 | 0.43 | NA | NA | 9.54 | 10.30 | 090
57555 |  | A | Remove cervix/repair vagina | 8.95 | NA | NA | 5.28 | 6.63 | 0.70 | NA | NA | 14.93 | 16.28 | 090
57556 |  | A | Remove cervix, repair bowel | 8.37 | NA | NA | 4.61 | 5.96 | 0.64 | NA | NA | 13.62 | 14.97 | 090
57700 |  | A | Revision of cervix | 3.55 | NA | NA | 2.43 | 2.47 | 0.26 | NA | NA | 6.24 | 6.28 | 090
57720 |  | A | Revision of cervix | 4.13 | NA | NA | 3.05 | 3.04 | 0.31 | NA | NA | 7.49 | 7.48 | 090
57800 |  | A | Dilation of cervical canal | 0.77 | 1.06 | 0.93 | 0.33 | 0.38 | 0.06 | 1.89 | 1.76 | 1.16 | 1.21 | 000
57820 |  | A | D & c of residual cervix | 1.67 | 2.36 | 2.34 | 2.02 | 2.08 | 0.13 | 4.16 | 4.14 | 3.82 | 3.88 | 010
58100 |  | A | Biopsy of uterus lining | 0.71 | 1.91 | 1.61 | 0.27 | 0.38 | 0.06 | 2.68 | 2.38 | 1.04 | 1.15 | 000
58120 |  | A | Dilation and curettage | 3.27 | 3.48 | 3.34 | 2.26 | 2.43 | 0.25 | 7.00 | 6.86 | 5.78 | 5.95 | 010
58140 |  | A | Removal of uterus lesion | 14.60 | NA | NA | 6.86 | 7.41 | 1.24 | NA | NA | 22.70 | 23.25 | 090
58145 |  | A | Removal of uterus lesion | 8.04 | NA | NA | 4.58 | 5.67 | 0.60 | NA | NA | 13.22 | 14.31 | 090
58150 |  | A | Total hysterectomy | 15.24 | NA | NA | 7.21 | 8.01 | 1.19 | NA | NA | 23.64 | 24.44 | 090
58152 |  | A | Total hysterectomy | 15.09 | NA | NA | 7.16 | 8.62 | 1.16 | NA | NA | 23.41 | 24.87 | 090
58180 |  | A | Partial hysterectomy | 15.29 | NA | NA | 7.22 | 8.06 | 1.23 | NA | NA | 23.74 | 24.58 | 090
58200 |  | A | Extensive hysterectomy | 21.59 | NA | NA | 10.53 | 11.42 | 1.65 | NA | NA | 33.77 | 34.66 | 090
58210 |  | A | Extensive hysterectomy | 28.85 | NA | NA | 13.32 | 14.81 | 2.18 | NA | NA | 44.35 | 45.84 | 090
58240 |  | A | Removal of pelvis contents | 38.39 | NA | NA | 17.96 | 21.27 | 2.98 | NA | NA | 59.33 | 62.64 | 090
58260 |  | A | Vaginal hysterectomy | 12.20 | NA | NA | 5.65 | 6.79 | 0.94 | NA | NA | 18.79 | 19.93 | 090
58262 |  | A | Vaginal hysterectomy | 13.99 | NA | NA | 6.41 | 7.36 | 1.06 | NA | NA | 21.46 | 22.41 | 090
58263 |  | A | Vaginal hysterectomy | 15.28 | NA | NA | 6.89 | 7.97 | 1.16 | NA | NA | 23.33 | 24.41 | 090
58267 |  | A | Hysterectomy & vagina repair | 0.15 | NA | NA | 6.76 | 8.20 | 1.15 | NA | NA | 8.06 | 9.50 | 090
58270 |  | A | Hysterectomy & vagina repair | 13.48 | NA | NA | 6.19 | 7.44 | 1.03 | NA | NA | 20.70 | 21.95 | 090
58275 |  | A | Hysterectomy/revise vagina | 14.98 | NA | NA | 6.76 | 8.06 | 1.17 | NA | NA | 22.91 | 24.21 | 090
58280 |  | A | Hysterectomy/revise vagina | 15.41 | NA | NA | 6.92 | 8.04 | 1.18 | NA | NA | 23.51 | 24.63 | 090
58285 |  | A | Extensive hysterectomy | 18.57 | NA | NA | 9.33 | 10.15 | 1.42 | NA | NA | 29.32 | 30.14 | 090
58300 |  | N | Insert intrauterine device | 1.01 | 1.31 | 1.19 | 0.40 | 0.51 | 0.08 | 2.40 | 2.28 | 1.49 | 1.60 | XXX
58301 |  | A | Remove intrauterine device | 1.27 | 1.41 | 1.18 | 0.48 | 0.48 | 0.10 | 2.78 | 2.55 | 1.85 | 1.85 | 000
58321 |  | A | Artificial insemination | 0.92 | 0.90 | 0.87 | 0.36 | 0.46 | 0.07 | 1.89 | 1.86 | 1.35 | 1.45 | 000
58322 |  | A | Artificial insemination | 1.10 | 0.94 | 0.90 | 0.42 | 0.51 | 0.08 | 2.12 | 2.08 | 1.60 | 1.69 | 000
58323 |  | A | Sperm washing | 0.23 | 0.46 | 0.39 | 0.09 | 0.11 | 0.02 | 0.71 | 0.64 | 0.34 | 0.36 | 000
58340 |  | A | Catheter for hysterography | 0.88 | 8.09 | 6.22 | 0.32 | 0.40 | 0.06 | 9.03 | 7.16 | 1.26 | 1.34 | 000
58345 |  | A | Reopen fallopian tube | 4.66 | NA | NA | 1.72 | 2.24 | 0.26 | NA | NA | 6.64 | 7.16 | 010
58350 |  | A | Reopen fallopian tube | 1.01 | 1.81 | 1.55 | 1.02 | 0.95 | 0.08 | 2.90 | 2.64 | 2.11 | 2.04 | 010
58400 |  | A | Suspension of uterus | 6.36 | NA | NA | 3.79 | 4.37 | 0.49 | NA | NA | 10.64 | 11.22 | 090
58410 |  | A | Suspension of uterus | 12.73 | NA | NA | 6.43 | 6.32 | 0.94 | NA | NA | 20.10 | 19.99 | 090
58520 |  | A | Repair of ruptured uterus | 11.92 | NA | NA | 5.93 | 5.60 | 1.03 | NA | NA | 18.88 | 18.55 | 090
58540 |  | A | Revision of uterus | 14.64 | NA | NA | 5.92 | 6.10 | 1.11 | NA | NA | 21.67 | 21.85 | 090
58550 |  | A | Laparo-asst vag hysterectomy | 14.19 | NA | NA | 6.44 | 7.38 | 1.11 | NA | NA | 21.74 | 22.68 | 010
58551 |  | A | Laparoscopy, remove myoma | 14.21 | NA | NA | 6.35 | 6.06 | 1.15 | NA | NA | 21.71 | 21.42 | 010
58555 |  | A | Hysteroscopy, dx, sep proc | 3.33 | 2.58 | 2.48 | 1.39 | 1.58 | 0.26 | 6.17 | 6.07 | 4.98 | 5.17 | 000
58558 |  | A | Hysteroscopy, biopsy | 4.75 | 3.14 | 2.90 | 1.95 | 2.00 | 0.36 | 8.25 | 8.01 | 7.06 | 7.11 | 000
58559 |  | A | Hysteroscopy, lysis | 6.17 | 2.43 | 2.85 | 2.43 | 2.85 | 0.48 | 9.08 | 9.50 | 9.08 | 9.50 | 000
58560 |  | A | Hysteroscopy, resect septum | 0.07 | 2.76 | 3.09 | 2.76 | 3.09 | 0.54 | 3.37 | 3.70 | 3.37 | 3.70 | 000
58561 |  | A | Hysteroscopy, remove myoma | 0.10 | 3.94 | 4.29 | 3.94 | 4.29 | 0.77 | 4.81 | 5.16 | 4.81 | 5.16 | 000
58562 |  | A | Hysteroscopy, remove fb | 5.21 | NA | NA | 2.12 | 2.13 | 0.40 | A | NA | 7.73 | 7.74 | 000
58563 |  | A | Hysteroscopy, ablation | 6.17 | 2.41 | 3.00 | 2.41 | 3.00 | 0.48 | 9.06 | 9.65 | 9.06 | 9.65 | 000
58578 |  | C | Laparo proc, uterus | 0.00 | 0.00 | 0.00 | 0.00 | 0.00 | 0.00 | 0.00 | 0.00 | 0.00 | 0.00 | YYY
58579 |  | C | Hysteroscope procedure | 0.00 | 0.00 | 0.00 | 0.00 | 0.00 | 0.00 | 0.00 | 0.00 | 0.00 | 0.00 | YYY
58600 |  | A | Division of fallopian tube | 3.84 | NA | NA | 2.44 | 2.98 | 0.30 | NA | NA | 6.58 | 7.12 | 090
58605 |  | A | Division of fallopian tube | 3.34 | NA | NA | 2.36 | 2.77 | 0.26 | NA | NA | 5.96 | 6.37 | 090
58611 |  | A | Ligate oviduct(s) add-on | 0.63 | NA | NA | 0.24 | 0.31 | 0.05 | NA | NA | 0.92 | 0.99 | ZZZ
58615 |  | A | Occlude fallopian tube(s) | 3.90 | NA | NA | 3.03 | 3.06 | 0.30 | NA | NA | 7.23 | 7.26 | 010
58660 |  | A | Laparoscopy, lysis | 11.29 | NA | NA | 5.31 | 5.50 | 1.04 | NA | NA | 17.64 | 17.83 | 090
58661 |  | A | Laparoscopy, remove adnexa | 11.05 | NA | NA | 5.00 | 5.69 | 0.87 | NA | NA | 16.92 | 17.61 | 010
58662 |  | A | Laparoscopy, excise lesions | 11.79 | NA | NA | 5.26 | 5.45 | 0.94 | NA | NA | 17.99 | 18.18 | 090
58670 |  | A | Laparoscopy, tubal cautery | 5.60 | NA | NA | 3.32 | 3.77 | 0.43 | NA | NA | 9.35 | 9.80 | 090
58671 |  | A | Laparoscopy, tubal block | 5.60 | NA | NA | 3.38 | 3.96 | 0.43 | NA | NA | 9.41 | 9.99 | 090
58672 |  | A | Laparoscopy, fimbrioplasty | 12.88 | NA | NA | 6.14 | 5.99 | 1.10 | NA | NA | 20.12 | 19.97 | 090
58673 |  | A | Laparoscopy, salpingostomy | 13.74 | NA | NA | 6.54 | 6.34 | 1.12 | NA | NA | 21.40 | 21.20 | 090
58679 |  | C | Laparo proc, oviduct-ovary | 0.00 | 0.00 | 0.00 | 0.00 | 0.00 | 0.00 | 0.00 | 0.00 | 0.00 | 0.00 | YYY
58700 |  | A | Removal of fallopian tube | 6.49 | NA | NA | 3.66 | 4.46 | 0.58 | NA | NA | 10.73 | 11.53 | 090
58720 |  | A | Removal of ovary/tube(s) | 11.36 | NA | NA | 5.60 | 6.24 | 0.95 | NA | NA | 17.91 | 18.55 | 090
58740 |  | A | Revise fallopian tube(s) | 5.83 | NA | NA | 3.55 | 4.40 | 0.46 | NA | NA | 9.84 | 10.69 | 090
58750 |  | A | Repair oviduct | 14.84 | NA | NA | 7.02 | 6.98 | 1.20 | NA | NA | 23.06 | 23.02 | 090
58752 |  | A | Revise ovarian tube(s) | 14.84 | NA | NA | 6.85 | 6.97 | 1.09 | NA | NA | 22.78 | 22.90 | 090
58760 |  | A | Remove tubal obstruction | 13.13 | NA | NA | 6.39 | 6.18 | 0.99 | NA | NA | 20.51 | 20.30 | 090
58770 |  | A | Create new tubal opening | 13.97 | NA | NA | 6.66 | 6.43 | 1.14 | NA | NA | 21.77 | 21.54 | 090
58800 |  | A | Drainage of ovarian cyst(s) | 4.14 | 3.80 | 3.58 | 3.80 | 3.58 | 0.28 | 8.22 | 8.00 | 8.22 | 8.00 | 090
58805 |  | A | Drainage of ovarian cyst(s) | 5.88 | NA | NA | 3.39 | 4.27 | 0.52 | NA | NA | 9.79 | 10.67 | 090
58820 |  | A | Drain ovary abscess, open | 4.22 | NA | NA | 3.23 | 3.17 | 0.25 | NA | NA | 7.70 | 7.64 | 090
58822 |  | A | Drain ovary abscess, percut | 10.13 | NA | NA | 5.20 | 4.86 | 0.85 | NA | NA | 16.18 | 15.84 | 090
58823 |  | A | Drain pelvic abscess, percut | 3.38 | NA | NA | 3.02 | 2.96 | 0.23 | NA | NA | 6.63 | 6.57 | 000
58825 |  | A | Transposition, ovary(s) | 6.13 | NA | NA | 3.72 | 3.88 | 0.48 | NA | NA | 10.33 | 10.49 | 090
58900 |  | A | Biopsy of ovary(s) | 5.99 | NA | NA | 3.50 | 4.03 | 0.51 | NA | NA | 10.00 | 10.53 | 090
58920 |  | A | Partial removal of ovary(s) | 6.78 | NA | NA | 3.78 | 4.68 | 0.60 | NA | NA | 11.16 | 12.06 | 090
58925 |  | A | Removal of ovarian cyst(s) | 11.36 | NA | NA | 5.51 | 5.91 | 0.01 | NA | NA | 16.88 | 17.28 | 090
58940 |  | A | Removal of ovary(s) | 7.29 | NA | NA | 3.90 | 4.69 | 0.66 | NA | NA | 11.85 | 12.64 | 090
58943 |  | A | Removal of ovary(s) | 18.43 | NA | NA | 9.10 | 10.11 | 1.53 | NA | NA | 29.06 | 30.07 | 090
58950 |  | A | Resect ovarian malignancy | 15.27 | NA | NA | 7.94 | 9.01 | 1.24 | NA | NA | 24.45 | 25.52 | 090
58951 |  | A | Resect ovarian malignancy | 21.81 | NA | NA | 10.57 | 12.90 | 1.70 | NA | NA | 34.08 | 36.41 | 090
58952 |  | A | Resect ovarian malignancy | 25.01 | NA | NA | 11.83 | 13.79 | 1.94 | NA | NA | 38.78 | 40.74 | 090
58960 |  | A | Exploration of abdomen | 14.65 | NA | NA | 7.72 | 9.31 | 1.16 | NA | NA | 23.53 | 25.12 | 090
58970 |  | A | Retrieval of oocyte | 3.53 | 7.26 | 6.13 | 1.70 | 1.96 | 0.25 | 11.04 | 9.91 | 5.48 | 5.74 | 000
58974 |  | C | Transfer of embryo | 0.00 | 0.00 | 0.00 | 0.00 | 0.00 | 0.00 | 0.00 | 0.00 | 0.00 | 0.00 | 000
58976 |  | A | Transfer of embryo | 3.83 | 2.20 | 2.39 | 1.52 | 1.88 | 0.29 | 6.32 | 6.51 | 5.64 | 6.00 | 000
58999 |  | C | Genital surgery procedure | 0.00 | 0.00 | 0.00 | 0.00 | 0.00 | 0.00 | 0.00 | 0.00 | 0.00 | 0.00 | YYY
59000 |  | A | Amniocentesis | 1.30 | 1.49 | 1.38 | 0.50 | 0.64 | 0.19 | 2.98 | 2.87 | 1.99 | 2.13 | 000
59012 |  | A | Fetal cord puncture,prenatal | 3.45 | NA | NA | 1.64 | 1.94 | 0.51 | NA | NA | 5.60 | 5.90 | 000
59015 |  | A | Chorion biopsy | 2.20 | 1.25 | 1.26 | 0.87 | 0.98 | 0.32 | 3.77 | 3.78 | 3.39 | 3.50 | 000
59020 |  | A | Fetal contract stress test | 0.66 | 0.79 | 0.92 | NA | NA | 0.21 | 1.66 | 1.79 | NA | NA | 000
59020 | 26 | A | Fetal contract stress test | 0.66 | 0.26 | 0.39 | 0.26 | 0.39 | 0.13 | 1.05 | 1.18 | 1.05 | 1.18 | 000
59020 | TC | A | Fetal contract stress test | 0.00 | 0.53 | 0.53 | NA | NA | 0.08 | 0.61 | 0.61 | NA | NA | 000
59025 |  | A | Fetal non-stress test | 0.53 | 0.44 | 0.49 | NA | NA | 0.10 | 1.07 | 1.12 | NA | NA | 000
59025 | 26 | A | Fetal non-stress test | 0.53 | 0.21 | 0.26 | 0.21 | 0.26 | 0.08 | 0.82 | 0.87 | 0.82 | 0.87 | 000
59025 | TC | A | Fetal non-stress test | 0.00 | 0.23 | 0.23 | NA | NA | 0.02 | 0.25 | 0.25 | NA | NA | 000
59030 |  | A | Fetal scalp blood sample | 1.99 | NA | NA | 1.02 | 1.19 | 0.30 | NA | NA | 3.31 | 3.48 | 000
59050 |  | A | Fetal monitor w/report | 0.89 | NA | NA | 0.34 | 0.48 | 0.12 | NA | NA | 1.35 | 1.49 | XXX
59051 |  | A | Fetal monitor/interpret only | 0.74 | NA | NA | 0.28 | 0.43 | 0.10 | NA | NA | 1.12 | 1.27 | XXX
59100 |  | A | Remove uterus lesion | 12.35 | NA | NA | 6.08 | 5.68 | 1.80 | NA | NA | 20.23 | 19.83 | 090
59120 |  | A | Treat ectopic pregnancy | 11.49 | NA | NA | 5.77 | 6.46 | 1.67 | NA | NA | 18.93 | 19.62 | 090
59121 |  | A | Treat ectopic pregnancy | 11.67 | NA | NA | 5.90 | 5.89 | 1.70 | NA | NA | 19.27 | 19.26 | 090
59130 |  | A | Treat ectopic pregnancy | 14.22 | NA | NA | 6.97 | 6.85 | 2.07 | NA | NA | 23.26 | 23.14 | 090
59135 |  | A | Treat ectopic pregnancy | 13.88 | NA | NA | 6.83 | 7.80 | 2.01 | NA | NA | 22.72 | 23.69 | 090
59136 |  | A | Treat ectopic pregnancy | 13.18 | NA | NA | 6.55 | 6.60 | 1.92 | NA | NA | 21.65 | 21.70 | 090
59140 |  | A | Treat ectopic pregnancy | 5.46 | NA | NA | 3.41 | 3.82 | 0.79 | NA | NA | 9.66 | 10.07 | 090
59150 |  | A | Treat ectopic pregnancy | 6.89 | NA | NA | 4.06 | 4.28 | 0.01 | NA | NA | 10.96 | 11.18 | 090
59151 |  | A | Treat ectopic pregnancy | 7.86 | NA | NA | 4.07 | 5.39 | 1.15 | NA | NA | 13.08 | 14.40 | 090
59160 |  | A | D & c after delivery | 2.71 | 3.24 | 3.23 | 2.06 | 2.34 | 0.39 | 6.34 | 6.33 | 5.16 | 5.44 | 010
59200 |  | A | Insert cervical dilator | 0.79 | 1.21 | 1.06 | 0.30 | 0.37 | 0.11 | 2.11 | 1.96 | 1.20 | 1.27 | 000
59300 |  | A | Episiotomy or vaginal repair | 2.41 | 1.57 | 1.45 | 0.96 | 0.99 | 0.34 | 4.32 | 4.20 | 3.71 | 3.74 | 000
59320 |  | A | Revision of cervix | 2.48 | NA | NA | 1.36 | 1.50 | 0.36 | NA | NA | 4.20 | 4.34 | 000
59325 |  | A | Revision of cervix | 4.07 | NA | NA | 1.99 | 2.28 | 0.59 | NA | NA | 6.65 | 6.94 | 000
59350 |  | A | Repair of uterus | 4.95 | NA | NA | 1.96 | 2.43 | 0.73 | NA | NA | 7.64 | 8.11 | 000
59400 |  | A | Obstetrical care | 23.06 | NA | NA | 13.43 | 14.14 | 3.35 | NA | NA | 39.84 | 40.55 | MMM
59409 |  | A | Obstetrical care | 13.50 | NA | NA | 5.14 | 6.43 | 1.97 | NA | NA | 20.61 | 21.90 | MMM
59410 |  | A | Obstetrical care | 14.78 | NA | NA | 6.05 | 7.34 | 2.15 | NA | NA | 22.98 | 24.27 | MMM
59412 |  | A | Antepartum manipulation | 1.71 | 1.19 | 1.22 | 0.66 | 0.83 | 0.25 | 3.15 | 3.18 | 2.62 | 2.79 | MMM
59414 |  | A | Deliver placenta | 1.61 | NA | NA | 1.14 | 1.17 | 0.24 | NA | NA | 2.99 | 3.02 | MMM
59425 |  | A | Antepartum care only | 4.81 | 4.65 | 4.27 | 4.65 | 4.27 | 0.71 | 10.17 | 9.79 | 10.17 | 9.79 | MMM
59426 |  | A | Antepartum care only | 8.28 | 7.95 | 7.30 | 7.93 | 7.29 | 1.20 | 17.43 | 16.78 | 17.41 | 16.77 | MMM
59430 |  | A | Care after delivery | 2.13 | 1.16 | 0.97 | 1.15 | 0.97 | 0.32 | 3.61 | 3.42 | 3.60 | 3.42 | MMM
59510 |  | A | Cesarean delivery | 26.22 | NA | NA | 15.65 | 16.32 | 3.82 | NA | NA | 45.69 | 46.36 | MMM
59514 |  | A | Cesarean delivery only | 15.97 | NA | NA | 6.06 | 7.53 | 2.32 | NA | NA | 24.35 | 25.82 | MMM
59515 |  | A | Cesarean delivery | 17.37 | NA | NA | 7.63 | 8.93 | 2.53 | NA | NA | 27.53 | 28.83 | MMM
59525 |  | A | Remove uterus after cesarean | 8.54 | NA | NA | 3.23 | 3.46 | 1.24 | NA | NA | 13.01 | 13.24 | ZZZ
59610 |  | A | Vbac delivery | 24.62 | NA | NA | 14.37 | 14.85 | 3.58 | NA | NA | 42.57 | 43.05 | MMM
59612 |  | A | Vbac delivery only | 15.06 | NA | NA | 5.85 | 6.96 | 2.20 | NA | NA | 23.11 | 24.22 | MMM
59614 |  | A | Vbac care after delivery | 16.34 | NA | NA | 7.07 | 8.10 | 2.38 | NA | NA | 25.79 | 26.82 | MMM
59618 |  | A | Attempted vbac delivery | 27.78 | NA | NA | 11.46 | 13.18 | 4.05 | NA | NA | 43.29 | 45.01 | MMM
59620 |  | A | Attempted vbac delivery only | 17.53 | NA | NA | 6.75 | 8.05 | 2.55 | NA | NA | 26.83 | 28.13 | MMM
59622 |  | A | Attempted vbac after care | 18.93 | NA | NA | 8.55 | 9.62 | 2.76 | NA | NA | 30.24 | 31.31 | MMM
59812 |  | A | Treatment of miscarriage | 3.25 | 2.94 | 3.19 | 2.23 | 2.65 | 0.48 | 6.67 | 6.92 | 5.96 | 6.38 | 090
59820 |  | A | Care of miscarriage | 4.01 | 3.22 | 3.43 | 2.50 | 2.89 | 0.59 | 7.82 | 8.03 | 7.10 | 7.49 | 090
59821 |  | A | Treatment of miscarriage | 4.47 | 3.48 | 3.35 | 2.69 | 2.76 | 0.66 | 8.61 | 8.48 | 7.82 | 7.89 | 090
59830 |  | A | Treat uterus infection | 6.11 | NA | NA | 3.65 | 3.97 | 0.89 | NA | NA | 10.65 | 10.97 | 090
59840 |  | R | Abortion | 3.01 | 3.26 | 3.32 | 2.12 | 2.46 | 0.44 | 6.71 | 6.77 | 5.57 | 5.91 | 010
59841 |  | R | Abortion | 5.24 | 4.80 | 4.62 | 3.34 | 3.52 | 0.75 | 10.79 | 10.61 | 9.33 | 9.51 | 010
59850 |  | R | Abortion | 5.91 | NA | NA | 2.50 | 2.96 | 0.86 | NA | NA | 9.27 | 9.73 | 090
59851 |  | R | Abortion | 5.93 | NA | NA | 2.90 | 3.34 | 0.86 | NA | NA | 9.69 | 10.13 | 090
59852 |  | R | Abortion | 8.24 | NA | NA | 4.36 | 4.77 | 1.19 | NA | NA | 13.79 | 14.20 | 090
59855 |  | R | Abortion | 6.12 | NA | NA | 3.18 | 3.51 | 0.89 | NA | NA | 10.19 | 10.52 | 090
59856 |  | R | Abortion | 7.48 | NA | NA | 3.58 | 4.07 | 1.09 | NA | NA | 12.15 | 12.64 | 090
59857 |  | R | Abortion | 9.29 | NA | NA | 4.34 | 4.94 | 1.36 | NA | NA | 14.99 | 15.59 | 090
59866 |  | R | Abortion (mpr) | 0.04 | NA | NA | 1.59 | 1.97 | 0.58 | NA | NA | 2.21 | 2.59 | 000
59870 |  | A | Evacuate mole of uterus | 4.28 | NA | NA | 2.85 | 2.93 | 0.62 | NA | NA | 7.75 | 7.83 | 090
59871 |  | A | Remove cerclage suture | 2.13 | 1.89 | 1.90 | 0.85 | 1.12 | 0.32 | 4.34 | 4.35 | 3.30 | 3.57 | 000
59898 |  | C | Laparo proc, ob care/deliver | 0.00 | 0.00 | 0.00 | 0.00 | 0.00 | 0.00 | 0.00 | 0.00 | 0.00 | 0.00 | YYY
59899 |  | C | Maternity care procedure | 0.00 | 0.00 | 0.00 | 0.00 | 0.00 | 0.00 | 0.00 | 0.00 | 0.00 | 0.00 | YYY
60000 |  | A | Drain thyroid/tongue cyst | 1.76 | 2.10 | 1.74 | 1.80 | 1.51 | 0.11 | 3.97 | 3.61 | 3.67 | 3.38 | 010
60001 |  | A | Aspirate/inject thyriod cyst | 0.97 | 1.51 | 1.42 | 0.36 | 0.56 | 0.07 | 2.55 | 2.46 | 1.40 | 1.60 | 000
60100 |  | A | Biopsy of thyroid | 0.97 | 2.09 | 1.85 | 0.35 | 0.55 | 0.06 | 3.12 | 2.88 | 1.38 | 1.58 | 000
60200 |  | A | Remove thyroid lesion | 9.55 | NA | NA | 6.22 | 6.30 | 0.87 | NA | NA | 16.64 | 16.72 | 090
60210 |  | A | Partial thyroid excision | 10.88 | NA | NA | 6.24 | 7.04 | 1.01 | NA | NA | 18.13 | 18.93 | 090
60212 |  | A | Parital thyroid excision | 16.03 | NA | NA | 8.05 | 8.49 | 1.54 | NA | NA | 25.62 | 26.06 | 090
60220 |  | A | Partial removal of thyroid | 10.53 | NA | NA | 6.21 | 6.98 | 0.97 | NA | NA | 17.71 | 18.48 | 090
60225 |  | A | Partial removal of thyroid | 14.19 | NA | NA | 7.67 | 8.60 | 1.30 | NA | NA | 23.16 | 24.09 | 090
60240 |  | A | Removal of thyroid | 16.06 | NA | NA | 8.92 | 9.56 | 1.49 | NA | NA | 26.47 | 27.11 | 090
60252 |  | A | Removal of thyroid | 18.20 | NA | NA | 10.11 | 11.29 | 1.64 | NA | NA | 29.95 | 31.13 | 090
60254 |  | A | Extensive thyroid surgery | 23.88 | NA | NA | 13.75 | 15.53 | 1.99 | NA | NA | 39.62 | 41.40 | 090
60260 |  | A | Repeat thyroid surgery | 15.46 | NA | NA | 8.98 | 7.59 | 1.42 | NA | NA | 25.86 | 24.47 | 090
60270 |  | A | Removal of thyroid | 17.94 | NA | NA | 11.42 | 12.36 | 1.86 | NA | NA | 31.22 | 32.16 | 090
60271 |  | A | Removal of thyroid | 14.89 | NA | NA | 8.95 | 10.01 | 1.39 | NA | NA | 25.23 | 26.29 | 090
60280 |  | A | Remove thyroid duct lesion | 5.87 | NA | NA | 4.56 | 5.24 | 0.48 | NA | NA | 10.91 | 11.59 | 090
60281 |  | A | Remove thyroid duct lesion | 8.53 | NA | NA | 6.21 | 6.03 | 0.74 | NA | NA | 15.48 | 15.30 | 090
60500 |  | A | Explore parathyroid glands | 16.23 | NA | NA | 7.86 | 8.98 | 1.58 | NA | NA | 25.67 | 26.79 | 090
60502 |  | A | Re-explore parathyroids | 20.35 | NA | NA | 9.85 | 10.48 | 1.97 | NA | NA | 32.17 | 32.80 | 090
60505 |  | A | Explore parathyroid glands | 21.49 | NA | NA | 12.26 | 12.76 | 2.20 | NA | NA | 35.95 | 36.45 | 090
60512 |  | A | Autotransplant parathyroid | 4.45 | NA | NA | 1.77 | 1.96 | 0.44 | NA | NA | 6.66 | 6.85 | ZZZ
60520 |  | A | Removal of thymus gland | 16.81 | NA | NA | 11.17 | 12.05 | 1.90 | NA | NA | 29.88 | 30.76 | 090
60521 |  | A | Removal of thymus gland | 18.87 | NA | NA | 14.18 | 14.31 | 2.43 | NA | NA | 35.48 | 35.61 | 090
60522 |  | A | Removal of thymus gland | 23.09 | NA | NA | 15.47 | 15.28 | 2.88 | NA | NA | 41.44 | 41.25 | 090
60540 |  | A | Explore adrenal gland | 17.03 | NA | NA | 7.84 | 9.15 | 1.40 | NA | NA | 26.27 | 27.58 | 090
60545 |  | A | Explore adrenal gland | 19.88 | NA | NA | 9.60 | 11.07 | 1.68 | NA | NA | 31.16 | 32.63 | 090
60600 |  | A | Remove carotid body lesion | 17.93 | NA | NA | 14.06 | 13.66 | 1.95 | NA | NA | 33.94 | 33.54 | 090
60605 |  | A | Remove carotid body lesion | 20.24 | NA | NA | 17.41 | 15.96 | 1.89 | NA | NA | 39.54 | 38.09 | 090
60650 |  | A | Laparoscopy adrenalectomy | 0.20 | NA | NA | 9.24 | 9.24 | 1.35 | NA | NA | 10.79 | 10.79 | 090
60659 |  | C | Laparo proc, endocrine | 0.00 | 0.00 | 0.00 | 0.00 | 0.00 | 0.00 | 0.00 | 0.00 | 0.00 | 0.00 | YYY
60699 |  | C | Endocrine surgery procedure | 0.00 | 0.00 | 0.00 | 0.00 | 0.00 | 0.00 | 0.00 | 0.00 | 0.00 | 0.00 | YYY
61000 |  | A | Remove cranial cavity fluid | 1.58 | 1.54 | 1.45 | 1.39 | 1.33 | 0.13 | 3.25 | 3.16 | 3.10 | 3.04 | 000
61001 |  | A | Remove cranial cavity fluid | 1.49 | 1.53 | 1.39 | 1.35 | 1.25 | 0.13 | 3.15 | 3.01 | 2.97 | 2.87 | 000
61020 |  | A | Remove brain cavity fluid | 1.51 | 1.96 | 1.81 | 1.38 | 1.38 | 0.28 | 3.75 | 3.60 | 3.17 | 3.17 | 000
61026 |  | A | Injection into brain canal | 1.69 | 1.96 | 1.98 | 1.50 | 1.63 | 0.24 | 3.89 | 3.91 | 3.43 | 3.56 | 000
61050 |  | A | Remove brain canal fluid | 1.51 | NA | NA | 1.43 | 1.41 | 0.16 | NA | NA | 3.10 | 3.08 | 000
61055 |  | A | Injection into brain canal | 2.10 | NA | NA | 1.55 | 1.67 | 0.12 | NA | NA | 3.77 | 3.89 | 000
61070 |  | A | Brain canal shunt procedure | 0.89 | 6.07 | 4.69 | 1.07 | 0.94 | 0.09 | 7.05 | 5.67 | 2.05 | 1.92 | 000
61105 |  | A | Twist drill hole | 5.14 | NA | NA | 3.47 | 4.14 | 1.03 | NA | NA | 9.64 | 10.31 | 090
61107 |  | A | Drill skull for implantation | 0.05 | NA | NA | 3.03 | 3.77 | 0.01 | NA | NA | 3.09 | 3.83 | 000
61108 |  | A | Drill skull for drainage | 10.19 | NA | NA | 6.74 | 8.10 | 2.04 | NA | NA | 18.97 | 20.33 | 090
61120 |  | A | Burr hole for puncture | 8.76 | NA | NA | 5.61 | 5.82 | 1.78 | NA | NA | 16.15 | 16.36 | 090
61140 |  | A | Pierce skull for biopsy | 15.90 | NA | NA | 9.47 | 10.94 | 3.06 | NA | NA | 28.43 | 29.90 | 090
61150 |  | A | Pierce skull for drainage | 17.57 | NA | NA | 10.72 | 12.02 | 3.40 | NA | NA | 31.69 | 32.99 | 090
61151 |  | A | Pierce skull for drainage | 12.42 | NA | NA | 7.98 | 6.56 | 2.51 | NA | NA | 22.91 | 21.49 | 090
61154 |  | A | Pierce skull & remove clot | 14.99 | NA | NA | 9.72 | 11.77 | 2.94 | NA | NA | 27.65 | 29.70 | 090
61156 |  | A | Pierce skull for drainage | 16.32 | NA | NA | 9.90 | 11.82 | 3.25 | NA | NA | 29.47 | 31.39 | 090
61210 |  | A | Pierce skull, implant device | 5.84 | NA | NA | 3.46 | 4.23 | 1.15 | NA | NA | 10.45 | 11.22 | 000
61215 |  | A | Insert brain-fluid device | 4.89 | NA | NA | 3.95 | 4.42 | 0.95 | NA | NA | 9.79 | 10.26 | 090
61250 |  | A | Pierce skull & explore | 10.42 | NA | NA | 6.47 | 7.03 | 2.07 | NA | NA | 18.96 | 19.52 | 090
61253 |  | A | Pierce skull & explore | 12.36 | NA | NA | 7.27 | 8.06 | 2.40 | NA | NA | 22.03 | 22.82 | 090
61304 |  | A | Open skull for exploration | 21.96 | NA | NA | 12.11 | 15.64 | 4.20 | NA | NA | 38.27 | 41.80 | 090
61305 |  | A | Open skull for exploration | 26.61 | NA | NA | 14.68 | 18.91 | 0.05 | NA | NA | 41.34 | 45.57 | 090
61312 |  | A | Open skull for drainage | 24.57 | NA | NA | 14.00 | 17.05 | 4.77 | NA | NA | 43.34 | 46.39 | 090
61313 |  | A | Open skull for drainage | 24.93 | NA | NA | 14.21 | 17.18 | 4.81 | NA | NA | 43.95 | 46.92 | 090
61314 |  | A | Open skull for drainage | 24.23 | NA | NA | 13.79 | 17.29 | 4.73 | NA | NA | 42.75 | 46.25 | 090
61315 |  | A | Open skull for drainage | 27.68 | NA | NA | 15.59 | 18.32 | 5.37 | NA | NA | 48.64 | 51.37 | 090
61320 |  | A | Open skull for drainage | 25.62 | NA | NA | 14.44 | 15.90 | 4.90 | NA | NA | 44.96 | 46.42 | 090
61321 |  | A | Open skull for drainage | 28.50 | NA | NA | 15.58 | 17.07 | 5.28 | NA | NA | 49.36 | 50.85 | 090
61330 |  | A | Decompress eye socket | 23.32 | NA | NA | 15.92 | 15.46 | 2.77 | NA | NA | 42.01 | 41.55 | 090
61332 |  | A | Explore/biopsy eye socket | 27.28 | NA | NA | 18.15 | 19.24 | 4.31 | NA | NA | 49.74 | 50.83 | 090
61333 |  | A | Explore orbit/remove lesion | 27.95 | NA | NA | 16.54 | 17.96 | 3.08 | NA | NA | 47.57 | 48.99 | 090
61334 |  | A | Explore orbit/remove object | 18.27 | NA | NA | 11.69 | 12.74 | 2.49 | NA | NA | 32.45 | 33.50 | 090
61340 |  | A | Relieve cranial pressure | 18.66 | NA | NA | 11.26 | 12.46 | 3.47 | NA | NA | 33.39 | 34.59 | 090
61343 |  | A | Incise skull (press relief) | 29.77 | NA | NA | 17.15 | 21.02 | 5.80 | NA | NA | 52.72 | 56.59 | 090
61345 |  | A | Relieve cranial pressure | 27.20 | NA | NA | 16.05 | 17.24 | 5.29 | NA | NA | 48.54 | 49.73 | 090
61440 |  | A | Incise skull for surgery | 26.63 | NA | NA | 13.99 | 16.12 | 2.95 | NA | NA | 43.57 | 45.70 | 090
61450 |  | A | Incise skull for surgery | 25.95 | NA | NA | 14.08 | 16.10 | 5.14 | NA | NA | 45.17 | 47.19 | 090
61458 |  | A | Incise skull for brain wound | 27.29 | NA | NA | 15.32 | 18.89 | 5.28 | NA | NA | 47.89 | 51.46 | 090
61460 |  | A | Incise skull for surgery | 28.39 | NA | NA | 16.16 | 18.92 | 4.73 | NA | NA | 49.28 | 52.04 | 090
61470 |  | A | Incise skull for surgery | 26.06 | NA | NA | 14.01 | 14.27 | 4.30 | NA | NA | 44.37 | 44.63 | 090
61480 |  | A | Incise skull for surgery | 26.49 | NA | NA | 14.70 | 15.11 | 4.97 | NA | NA | 46.16 | 46.57 | 090
61490 |  | A | Incise skull for surgery | 25.66 | NA | NA | 14.23 | 13.85 | 4.81 | NA | NA | 44.70 | 44.32 | 090
61500 |  | A | Removal of skull lesion | 17.92 | NA | NA | 10.53 | 13.25 | 3.14 | NA | NA | 31.59 | 34.31 | 090
61501 |  | A | Remove infected skull bone | 14.84 | NA | NA | 8.90 | 11.10 | 2.53 | NA | NA | 26.27 | 28.47 | 090
61510 |  | A | Removal of brain lesion | 28.45 | NA | NA | 15.99 | 19.33 | 5.53 | NA | NA | 49.97 | 53.31 | 090
61512 |  | A | Remove brain lining lesion | 35.09 | NA | NA | 19.46 | 22.47 | 6.83 | NA | NA | 61.38 | 64.39 | 090
61514 |  | A | Removal of brain abscess | 25.26 | NA | NA | 14.44 | 17.76 | 4.82 | NA | NA | 44.52 | 47.84 | 090
61516 |  | A | Removal of brain lesion | 24.61 | NA | NA | 14.35 | 17.95 | 4.78 | NA | NA | 43.74 | 47.34 | 090
61518 |  | A | Removal of brain lesion | 37.32 | NA | NA | 21.33 | 24.14 | 7.20 | NA | NA | 65.85 | 68.66 | 090
61519 |  | A | Remove brain lining lesion | 41.39 | NA | NA | 23.33 | 25.97 | 8.02 | NA | NA | 72.74 | 75.38 | 090
61520 |  | A | Removal of brain lesion | 54.84 | NA | NA | 30.85 | 32.32 | 9.62 | NA | NA | 95.31 | 96.78 | 090
61521 |  | A | Removal of brain lesion | 44.48 | NA | NA | 24.54 | 27.35 | 8.18 | NA | NA | 77.20 | 80.01 | 090
61522 |  | A | Removal of brain abscess | 29.45 | NA | NA | 16.97 | 18.14 | 5.79 | NA | NA | 52.21 | 53.38 | 090
61524 |  | A | Removal of brain lesion | 27.86 | NA | NA | 16.22 | 19.61 | 5.32 | NA | NA | 49.40 | 52.79 | 090
61526 |  | A | Removal of brain lesion | 52.17 | NA | NA | 29.68 | 31.49 | 6.38 | NA | NA | 88.23 | 90.04 | 090
61530 |  | A | Removal of brain lesion | 43.86 | NA | NA | 25.95 | 28.69 | 6.16 | NA | NA | 75.97 | 78.71 | 090
61531 |  | A | Implant brain electrodes | 14.63 | NA | NA | 9.29 | 11.03 | 2.88 | NA | NA | 26.80 | 28.54 | 090
61533 |  | A | Implant brain electrodes | 19.71 | NA | NA | 11.78 | 13.45 | 3.88 | NA | NA | 35.37 | 37.04 | 090
61534 |  | A | Removal of brain lesion | 20.97 | NA | NA | 12.50 | 11.11 | 3.84 | NA | NA | 37.31 | 35.92 | 090
61535 |  | A | Remove brain electrodes | 11.63 | NA | NA | 7.51 | 7.71 | 2.13 | NA | NA | 21.27 | 21.47 | 090
61536 |  | A | Removal of brain lesion | 35.52 | NA | NA | 20.13 | 21.06 | 7.13 | NA | NA | 62.78 | 63.71 | 090
61538 |  | A | Removal of brain tissue | 26.81 | NA | NA | 15.73 | 19.69 | 5.27 | NA | NA | 47.81 | 51.77 | 090
61539 |  | A | Removal of brain tissue | 32.08 | NA | NA | 18.32 | 19.97 | 6.37 | NA | NA | 56.77 | 58.42 | 090
61541 |  | A | Incision of brain tissue | 28.85 | NA | NA | 16.71 | 17.91 | 5.40 | NA | NA | 50.96 | 52.16 | 090
61542 |  | A | Removal of brain tissue | 31.02 | NA | NA | 18.34 | 19.16 | 6.27 | NA | NA | 55.63 | 56.45 | 090
61543 |  | A | Removal of brain tissue | 29.22 | NA | NA | 16.60 | 17.13 | 5.25 | NA | NA | 51.07 | 51.60 | 090
61544 |  | A | Remove & treat brain lesion | 25.50 | NA | NA | 13.80 | 17.96 | 3.85 | NA | NA | 43.15 | 47.31 | 090
61545 |  | A | Excision of brain tumor | 43.80 | NA | NA | 24.49 | 25.33 | 8.32 | NA | NA | 76.61 | 77.45 | 090
61546 |  | A | Removal of pituitary gland | 31.30 | NA | NA | 18.13 | 20.93 | 5.86 | NA | NA | 55.29 | 58.09 | 090
61548 |  | A | Removal of pituitary gland | 21.53 | NA | NA | 13.00 | 16.18 | 3.48 | NA | NA | 38.01 | 41.19 | 090
61550 |  | A | Release of skull seams | 14.65 | NA | NA | 8.48 | 9.57 | 0.57 | NA | NA | 23.70 | 24.79 | 090
61552 |  | A | Release of skull seams | 19.56 | NA | NA | 9.50 | 10.88 | 1.48 | NA | NA | 30.54 | 31.92 | 090
61556 |  | A | Incise skull/sutures | 22.26 | NA | NA | 11.57 | 12.89 | 3.45 | NA | NA | 37.28 | 38.60 | 090
61557 |  | A | Incise skull/sutures | 22.38 | NA | NA | 12.04 | 13.27 | 4.12 | NA | NA | 38.54 | 39.77 | 090
61558 |  | A | Excision of skull/sutures | 25.58 | NA | NA | 13.85 | 15.20 | 5.17 | NA | NA | 44.60 | 45.95 | 090
61559 |  | A | Excision of skull/sutures | 32.79 | NA | NA | 18.43 | 20.07 | 6.63 | NA | NA | 57.85 | 59.49 | 090
61563 |  | A | Excision of skull tumor | 26.83 | NA | NA | 15.39 | 16.65 | 4.50 | NA | NA | 46.72 | 47.98 | 090
61564 |  | A | Excision of skull tumor | 33.83 | NA | NA | 14.31 | 17.17 | 0.05 | NA | NA | 48.19 | 51.05 | 090
61570 |  | A | Remove foreign body, brain | 24.60 | NA | NA | 13.36 | 14.50 | 4.45 | NA | NA | 42.41 | 43.55 | 090
61571 |  | A | Incise skull for brain wound | 26.39 | NA | NA | 14.48 | 15.83 | 4.79 | NA | NA | 45.66 | 47.01 | 090
61575 |  | A | Skull base/brainstem surgery | 34.36 | NA | NA | 20.37 | 24.23 | 5.12 | NA | NA | 59.85 | 63.71 | 090
61576 |  | A | Skull base/brainstem surgery | 52.43 | NA | NA | 30.84 | 30.79 | 6.55 | NA | NA | 89.82 | 89.77 | 090
61580 |  | A | Craniofacial approach, skull | 30.35 | NA | NA | 18.00 | 19.20 | 2.98 | NA | NA | 51.33 | 52.53 | 090
61581 |  | A | Craniofacial approach, skull | 34.60 | NA | NA | 0.50 | 21.84 | 2.46 | NA | NA | 57.56 | 58.90 | 090
61582 |  | A | Craniofacial approach, skull | 31.66 | NA | NA | 18.04 | 19.41 | 5.44 | NA | NA | 55.14 | 56.51 | 090
61583 |  | A | Craniofacial approach, skull | 36.21 | NA | NA | 21.39 | 22.75 | 6.91 | NA | NA | 64.51 | 65.87 | 090
61584 |  | A | Orbitocranial approach/skull | 34.65 | NA | NA | 19.94 | 21.44 | 6.45 | NA | NA | 61.04 | 62.54 | 090
61585 |  | A | Orbitocranial approach/skull | 38.61 | NA | NA | 21.82 | 23.62 | 7.01 | NA | NA | 67.44 | 69.24 | 090
61586 |  | A | Resect nasopharynx, skull | 25.10 | NA | NA | 15.15 | 17.16 | 3.10 | NA | NA | 43.35 | 45.36 | 090
61590 |  | A | Infratemporal approach/skull | 41.78 | NA | NA | 24.15 | 26.01 | 4.74 | NA | NA | 70.67 | 72.53 | 090
61591 |  | A | Infratemporal approach/skull | 43.68 | NA | NA | 25.73 | 27.58 | 5.52 | NA | NA | 74.93 | 76.78 | 090
61592 |  | A | Orbitocranial approach/skull | 39.64 | NA | NA | 22.75 | 24.57 | 7.30 | NA | NA | 69.69 | 71.51 | 090
61595 |  | A | Transtemporal approach/skull | 29.57 | NA | NA | 18.42 | 19.36 | 3.03 | NA | NA | 51.02 | 51.96 | 090
61596 |  | A | Transcochlear approach/skull | 35.63 | NA | NA | 21.17 | 22.62 | 4.03 | NA | NA | 60.83 | 62.28 | 090
61597 |  | A | Transcondylar approach/skull | 37.96 | NA | NA | 21.90 | 23.55 | 5.65 | NA | NA | 65.51 | 67.16 | 090
61598 |  | A | Transpetrosal approach/skull | 33.41 | NA | NA | 19.41 | 20.83 | 5.09 | NA | NA | 57.91 | 59.33 | 090
61600 |  | A | Resect/excise cranial lesion | 25.85 | NA | NA | 15.58 | 16.50 | 2.80 | NA | NA | 44.23 | 45.15 | 090
61601 |  | A | Resect/excise cranial lesion | 27.89 | NA | NA | 16.37 | 17.44 | 5.14 | NA | NA | 49.40 | 50.47 | 090
61605 |  | A | Resect/excise cranial lesion | 29.33 | NA | NA | 17.76 | 18.77 | 2.67 | NA | NA | 49.76 | 50.77 | 090
61606 |  | A | Resect/excise cranial lesion | 38.83 | NA | NA | 22.70 | 24.32 | 7.06 | NA | NA | 68.59 | 70.21 | 090
61607 |  | A | Resect/excise cranial lesion | 36.27 | NA | NA | 20.76 | 22.39 | 6.59 | NA | NA | 63.62 | 65.25 | 090
61608 |  | A | Resect/excise cranial lesion | 42.10 | NA | NA | 23.94 | 25.89 | 8.11 | NA | NA | 74.15 | 76.10 | 090
61609 |  | A | Transect artery, sinus | 9.89 | NA | NA | 4.59 | 5.39 | 0.02 | NA | NA | 14.50 | 15.30 | ZZZ
61610 |  | A | Transect artery, sinus | 29.67 | NA | NA | 14.59 | 16.80 | 4.63 | NA | NA | 48.89 | 51.10 | ZZZ
61611 |  | A | Transect artery, sinus | 7.42 | NA | NA | 2.94 | 3.67 | 1.50 | NA | NA | 11.86 | 12.59 | ZZZ
61612 |  | A | Transect artery, sinus | 27.88 | NA | NA | 14.12 | 16.09 | 4.21 | NA | NA | 46.21 | 48.18 | ZZZ
61613 |  | A | Remove aneurysm, sinus | 40.86 | NA | NA | 23.29 | 25.25 | 8.27 | NA | NA | 72.42 | 74.38 | 090
61615 |  | A | Resect/excise lesion, skull | 32.07 | NA | NA | 19.39 | 20.53 | 4.42 | NA | NA | 55.88 | 57.02 | 090
61616 |  | A | Resect/excise lesion, skull | 43.33 | NA | NA | 25.79 | 27.49 | 7.27 | NA | NA | 76.39 | 78.09 | 090
61618 |  | A | Repair dura | 16.99 | NA | NA | 10.79 | 11.17 | 2.83 | NA | NA | 30.61 | 30.99 | 090
61619 |  | A | Repair dura | 20.71 | NA | NA | 12.44 | 13.18 | 3.40 | NA | NA | 36.55 | 37.29 | 090
61624 |  | A | Occlusion/embolization cath | 20.15 | NA | NA | 7.28 | 9.61 | 1.04 | NA | NA | 28.47 | 30.80 | 000
61626 |  | A | Occlusion/embolization cath | 16.62 | NA | NA | 5.88 | 7.83 | 0.74 | NA | NA | 23.24 | 25.19 | 000
61680 |  | A | Intracranial vessel surgery | 30.71 | NA | NA | 17.66 | 21.67 | 5.90 | NA | NA | 54.27 | 58.28 | 090
61682 |  | A | Intracranial vessel surgery | 61.57 | NA | NA | 33.18 | 34.47 | 11.84 | NA | NA | 106.59 | 107.88 | 090
61684 |  | A | Intracranial vessel surgery | 39.81 | NA | NA | 22.68 | 25.09 | 8.05 | NA | NA | 70.54 | 72.95 | 090
61686 |  | A | Intracranial vessel surgery | 64.49 | NA | NA | 35.15 | 36.13 | 12.87 | NA | NA | 112.51 | 113.49 | 090
61690 |  | A | Intracranial vessel surgery | 29.31 | NA | NA | 16.43 | 19.77 | 5.46 | NA | NA | 51.20 | 54.54 | 090
61692 |  | A | Intracranial vessel surgery | 51.87 | NA | NA | 28.24 | 28.99 | 9.05 | NA | NA | 89.16 | 89.91 | 090
61700 |  | A | Inner skull vessel surgery | 50.52 | NA | NA | 27.43 | 29.17 | 9.86 | NA | NA | 87.81 | 89.55 | 090
61702 |  | A | Inner skull vessel surgery | 48.41 | NA | NA | 26.43 | 29.68 | 9.56 | NA | NA | 84.40 | 87.65 | 090
61703 |  | A | Clamp neck artery | 17.47 | NA | NA | 10.57 | 11.24 | 3.28 | NA | NA | 31.32 | 31.99 | 090
61705 |  | A | Revise circulation to head | 36.20 | NA | NA | 19.36 | 22.77 | 6.67 | NA | NA | 62.23 | 65.64 | 090
61708 |  | A | Revise circulation to head | 35.30 | NA | NA | 15.57 | 18.52 | 2.42 | NA | NA | 53.29 | 56.24 | 090
61710 |  | A | Revise circulation to head | 29.67 | NA | NA | 13.92 | 14.95 | 3.62 | NA | NA | 47.21 | 48.24 | 090
61711 |  | A | Fusion of skull arteries | 36.33 | NA | NA | 20.00 | 23.97 | 7.04 | NA | NA | 63.37 | 67.34 | 090
61720 |  | A | Incise skull/brain surgery | 16.77 | NA | NA | 10.36 | 12.78 | 3.29 | NA | NA | 30.42 | 32.84 | 090
61735 |  | A | Incise skull/brain surgery | 20.43 | NA | NA | 12.35 | 12.78 | 3.98 | NA | NA | 36.76 | 37.19 | 090
61750 |  | A | Incise skull/brain biopsy | 18.20 | NA | NA | 10.57 | 11.60 | 3.52 | NA | NA | 32.29 | 33.32 | 090
61751 |  | A | Brain biopsy w/ ct/mr guide | 17.62 | NA | NA | 10.41 | 13.07 | 3.47 | NA | NA | 31.50 | 34.16 | 090
61760 |  | A | Implant brain electrodes | 22.27 | NA | NA | 6.98 | 9.30 | 4.18 | NA | NA | 33.43 | 35.75 | 090
61770 |  | A | Incise skull for treatment | 21.44 | NA | NA | 12.86 | 14.90 | 3.85 | NA | NA | 38.15 | 40.19 | 090
61790 |  | A | Treat trigeminal nerve | 10.86 | NA | NA | 5.06 | 7.04 | 1.75 | NA | NA | 17.67 | 19.65 | 090
61791 |  | A | Treat trigeminal tract | 14.61 | NA | NA | 8.91 | 9.33 | 2.90 | NA | NA | 26.42 | 26.84 | 090
61793 |  | A | Focus radiation beam | 17.24 | NA | NA | 10.48 | 13.01 | 3.31 | NA | NA | 31.03 | 33.56 | 090
61795 |  | A | Brain surgery using computer | 4.04 | NA | NA | 2.08 | 2.77 | 0.80 | NA | NA | 6.92 | 7.61 | ZZZ
61850 |  | A | Implant neuroelectrodes | 12.39 | NA | NA | 7.71 | 8.94 | 2.10 | NA | NA | 22.20 | 23.43 | 090
61855 |  | D | Implant neuroelectrodes | 13.39 | 5.31 | 6.80 | 5.31 | 6.80 | 2.63 | 21.33 | 22.82 | 21.33 | 22.82 | 090
61860 |  | A | Implant neuroelectrodes | 20.87 | NA | NA | 12.64 | 11.69 | 4.22 | NA | NA | 37.73 | 36.78 | 090
61862 |  | A | Implant neurostimul, subcort | 19.34 | NA | NA | 11.59 | 11.59 | 3.89 | NA | NA | 34.82 | 34.82 | 090
61865 |  | D | Implant neuroelectrodes | 22.97 | 9.11 | 11.12 | 9.11 | 11.12 | 4.65 | 36.73 | 38.74 | 36.73 | 38.74 | 090
61870 |  | A | Implant neuroelectrodes | 14.94 | NA | NA | 8.59 | 7.58 | 3.03 | NA | NA | 26.56 | 25.55 | 090
61875 |  | A | Implant neuroelectrodes | 15.06 | NA | NA | 8.64 | 8.30 | 3.05 | NA | NA | 26.75 | 26.41 | 090
61880 |  | A | Revise/remove neuroelectrode | 6.29 | NA | NA | 4.94 | 5.01 | 1.25 | NA | NA | 12.48 | 12.55 | 090
61885 |  | A | Implant neurostim one array | 5.85 | NA | NA | 4.03 | 3.56 | 1.18 | NA | NA | 11.06 | 10.59 | 090
61886 |  | A | Implant neurostim arrays | 0.08 | NA | NA | 5.82 | 5.82 | 1.43 | NA | NA | 7.33 | 7.33 | 090
61888 |  | A | Revise/remove neuroreceiver | 5.07 | NA | NA | 3.74 | 3.42 | 1.02 | NA | NA | 9.83 | 9.51 | 010
62000 |  | A | Treat skull fracture | 12.53 | NA | NA | 5.31 | 5.54 | 0.90 | NA | NA | 18.74 | 18.97 | 090
62005 |  | A | Treat skull fracture | 16.17 | NA | NA | 8.46 | 9.35 | 2.61 | NA | NA | 27.24 | 28.13 | 090
62010 |  | A | Treatment of head injury | 19.81 | NA | NA | 11.42 | 13.78 | 3.72 | NA | NA | 34.95 | 37.31 | 090
62100 |  | A | Repair brain fluid leakage | 22.03 | NA | NA | 13.45 | 15.95 | 3.82 | NA | NA | 39.30 | 41.80 | 090
62115 |  | A | Reduction of skull defect | 21.66 | NA | NA | 11.16 | 12.58 | 2.96 | NA | NA | 35.78 | 37.20 | 090
62116 |  | A | Reduction of skull defect | 23.59 | NA | NA | 12.76 | 14.18 | 4.47 | NA | NA | 40.82 | 42.24 | 090
62117 |  | A | Reduction of skull defect | 26.60 | NA | NA | 15.26 | 16.66 | 5.38 | NA | NA | 47.24 | 48.64 | 090
62120 |  | A | Repair skull cavity lesion | 23.35 | NA | NA | 13.79 | 14.93 | 3.46 | NA | NA | 40.60 | 41.74 | 090
62121 |  | A | Incise skull repair | 21.58 | NA | NA | 13.05 | 14.54 | 3.52 | NA | NA | 38.15 | 39.64 | 090
62140 |  | A | Repair of skull defect | 13.51 | NA | NA | 8.29 | 9.86 | 2.56 | NA | NA | 24.36 | 25.93 | 090
62141 |  | A | Repair of skull defect | 14.91 | NA | NA | 9.38 | 11.49 | 2.80 | NA | NA | 27.09 | 29.20 | 090
62142 |  | A | Remove skull plate/flap | 10.79 | NA | NA | 7.00 | 8.47 | 2.06 | NA | NA | 19.85 | 21.32 | 090
62143 |  | A | Replace skull plate/flap | 13.05 | NA | NA | 8.43 | 8.81 | 2.47 | NA | NA | 23.95 | 24.33 | 090
62145 |  | A | Repair of skull & brain | 18.82 | NA | NA | 11.28 | 12.03 | 3.76 | NA | NA | 33.86 | 34.61 | 090
62146 |  | A | Repair of skull with graft | 16.12 | NA | NA | 9.96 | 10.45 | 2.93 | NA | NA | 29.01 | 29.50 | 090
62147 |  | A | Repair of skull with graft | 19.34 | NA | NA | 11.52 | 12.21 | 3.22 | NA | NA | 34.08 | 34.77 | 090
62180 |  | A | Establish brain cavity shunt | 21.06 | NA | NA | 12.49 | 13.22 | 0.04 | NA | NA | 33.59 | 34.32 | 090
62190 |  | A | Establish brain cavity shunt | 11.07 | NA | NA | 7.06 | 8.60 | 2.21 | NA | NA | 20.34 | 21.88 | 090
62192 |  | A | Establish brain cavity shunt | 12.25 | NA | NA | 8.00 | 9.66 | 2.28 | NA | NA | 22.53 | 24.19 | 090
62194 |  | A | Replace/irrigate catheter | 5.03 | NA | NA | 1.94 | 1.97 | 0.47 | NA | NA | 7.44 | 7.47 | 010
62200 |  | A | Establish brain cavity shunt | 18.32 | NA | NA | 11.14 | 12.96 | 3.67 | NA | NA | 33.13 | 34.95 | 090
62201 |  | A | Establish brain cavity shunt | 14.86 | NA | NA | 9.34 | 9.39 | 2.71 | NA | NA | 26.91 | 26.96 | 090
62220 |  | A | Establish brain cavity shunt | 0.13 | NA | NA | 8.26 | 10.08 | 2.52 | NA | NA | 10.91 | 12.73 | 090
62223 |  | A | Establish brain cavity shunt | 12.87 | NA | NA | 8.15 | 9.96 | 2.43 | NA | NA | 23.45 | 25.26 | 090
62225 |  | A | Replace/irrigate catheter | 5.41 | NA | NA | 3.91 | 4.24 | 1.07 | NA | NA | 10.39 | 10.72 | 090
62230 |  | A | Replace/revise brain shunt | 10.54 | NA | NA | 6.44 | 7.50 | 2.02 | NA | NA | 19.00 | 20.06 | 090
62256 |  | A | Remove brain cavity shunt | 6.60 | NA | NA | 5.08 | 5.54 | 1.30 | NA | NA | 12.98 | 13.44 | 090
62258 |  | A | Replace brain cavity shunt | 14.54 | NA | NA | 8.43 | 10.33 | 2.80 | NA | NA | 25.77 | 27.67 | 090
62263 |  | A | Lysis epidural adhesions | 6.02 | 5.33 | 5.33 | 2.27 | 2.27 | 0.88 | 12.23 | 12.23 | 9.17 | 9.17 | 010
62268 |  | A | Drain spinal cord cyst | 4.74 | NA | NA | 2.52 | 2.70 | 0.42 | NA | NA | 7.68 | 7.86 | 000
62269 |  | A | Needle biopsy, spinal cord | 5.02 | NA | NA | 2.42 | 2.29 | 0.28 | NA | NA | 7.72 | 7.59 | 000
62270 |  | A | Spinal fluid tap, diagnostic | 1.13 | 3.10 | 2.52 | 0.45 | 0.53 | 0.14 | 4.37 | 3.79 | 1.72 | 1.80 | 000
62272 |  | A | Drain spinal fluid | 1.35 | 2.97 | 2.50 | 0.61 | 0.73 | 0.19 | 4.51 | 4.04 | 2.15 | 2.27 | 000
62273 |  | A | Treat epidural spine lesion | 2.15 | 1.27 | 1.26 | 1.06 | 1.10 | 0.14 | 3.56 | 3.55 | 3.35 | 3.39 | 000
62274 |  | D | Inject spinal anesthetic | 1.78 | 0.71 | 0.73 | 0.71 | 0.73 | 0.12 | 2.61 | 2.63 | 2.61 | 2.63 | 000
62275 |  | D | Inject spinal anesthetic | 1.79 | 0.71 | 0.69 | 0.71 | 0.69 | 0.12 | 2.62 | 2.60 | 2.62 | 2.60 | 000
62276 |  | D | Inject spinal anesthetic | 2.04 | 0.81 | 0.94 | 0.81 | 0.94 | 0.14 | 2.99 | 3.12 | 2.99 | 3.12 | 000
62277 |  | D | Inject spinal anesthetic | 2.15 | 0.85 | 0.87 | 0.85 | 0.87 | 0.14 | 3.14 | 3.16 | 3.14 | 3.16 | 000
62278 |  | D | Inject spinal anesthetic | 1.51 | 0.60 | 0.72 | 0.60 | 0.72 | 0.11 | 2.22 | 2.34 | 2.22 | 2.34 | 000
62279 |  | D | Inject spinal anesthetic | 1.58 | 0.63 | 0.70 | 0.63 | 0.70 | 0.11 | 2.32 | 2.39 | 2.32 | 2.39 | 000
62280 |  | A | Treat spinal cord lesion | 2.63 | 4.36 | 3.46 | 0.71 | 0.73 | 0.17 | 7.16 | 6.26 | 3.51 | 3.53 | 010
62281 |  | A | Treat spinal cord lesion | 2.66 | 3.46 | 2.83 | 0.58 | 0.67 | 0.18 | 6.30 | 5.67 | 3.42 | 3.51 | 010
62282 |  | A | Treat spinal canal lesion | 2.33 | 5.32 | 4.45 | 0.59 | 0.90 | 0.15 | 7.80 | 6.93 | 3.07 | 3.38 | 010
62284 |  | A | Injection for myelogram | 1.54 | 4.00 | 3.54 | 0.67 | 1.04 | 0.11 | 5.65 | 5.19 | 2.32 | 2.69 | 000
62287 |  | A | Percutaneous diskectomy | 8.08 | NA | NA | 4.88 | 5.55 | 0.83 | NA | NA | 13.79 | 14.46 | 090
62288 |  | D | Injection into spinal canal | 1.74 | 0.69 | 0.82 | 0.69 | 0.82 | 0.14 | 2.57 | 2.70 | 2.57 | 2.70 | 000
62289 |  | D | Injection into spinal canal | 1.64 | 0.65 | 0.78 | 0.65 | 0.78 | 0.11 | 2.40 | 2.53 | 2.40 | 2.53 | 000
62290 |  | A | Inject for spine disk x-ray | 0.03 | 4.16 | 3.63 | 1.30 | 1.48 | 0.21 | 4.40 | 3.87 | 1.54 | 1.72 | 000
62291 |  | A | Inject for spine disk x-ray | 2.91 | 5.21 | 4.39 | 1.13 | 1.33 | 0.21 | 8.33 | 7.51 | 4.25 | 4.45 | 000
62292 |  | A | Injection into disk lesion | 7.86 | NA | NA | 3.98 | 5.33 | 0.71 | NA | NA | 12.55 | 13.90 | 090
62294 |  | A | Injection into spinal artery | 11.83 | NA | NA | 6.37 | 6.36 | 0.68 | NA | NA | 18.88 | 18.87 | 090
62298 |  | D | Injection into spinal canal | 2.20 | 0.87 | 0.94 | 0.87 | 0.94 | 0.14 | 3.21 | 3.28 | 3.21 | 3.28 | 000
62310 |  | A | Inject spine c/t | 1.91 | 3.22 | 3.22 | 0.42 | 0.42 | 0.26 | 5.39 | 5.39 | 2.59 | 2.59 | 000
62311 |  | A | Inject spine l/s (cd) | 1.54 | 3.71 | 3.71 | 0.36 | 0.36 | 0.25 | 5.50 | 5.50 | 2.15 | 2.15 | 000
62318 |  | A | Inject spine w/cath, c/t | 2.04 | 3.28 | 3.28 | 0.45 | 0.45 | 0.32 | 5.64 | 5.64 | 2.81 | 2.81 | 000
62319 |  | A | Inject spine w/cath l/s (cd) | 1.87 | 3.26 | 3.26 | 0.39 | 0.39 | 0.28 | 5.41 | 5.41 | 2.54 | 2.54 | 000
62350 |  | A | Implant spinal canal cath | 6.87 | NA | NA | 3.38 | 3.48 | 0.67 | NA | NA | 10.92 | 11.02 | 090
62351 |  | A | Implant spinal canal cath | 0.10 | NA | NA | 6.49 | 6.27 | 1.61 | NA | NA | 8.20 | 7.98 | 090
62355 |  | A | Remove spinal canal catheter | 5.45 | NA | NA | 2.58 | 2.88 | 0.51 | NA | NA | 8.54 | 8.84 | 090
62360 |  | A | Insert spine infusion device | 2.62 | NA | NA | 1.93 | 1.75 | 0.23 | NA | NA | 4.78 | 4.60 | 090
62361 |  | A | Implant spine infusion pump | 5.42 | NA | NA | 2.93 | 2.93 | 0.54 | NA | NA | 8.89 | 8.89 | 090
62362 |  | A | Implant spine infusion pump | 7.04 | NA | NA | 3.83 | 3.83 | 0.86 | NA | NA | 11.73 | 11.73 | 090
62365 |  | A | Remove spine infusion device | 5.42 | NA | NA | 2.95 | 3.16 | 0.72 | NA | NA | 9.09 | 9.30 | 090
62367 |  | C | Analyze spine infusion pump | 0.00 | 0.00 | 0.00 | NA | NA | 0.00 | 0.00 | 0.00 | NA | NA | XXX
62367 | 26 | A | Analyze spine infusion pump | 0.48 | 0.13 | 0.19 | 0.13 | 0.19 | 0.05 | 0.66 | 0.72 | 0.66 | 0.72 | XXX
62367 | TC | C | Analyze spine infusion pump | 0.00 | 0.00 | 0.00 | NA | NA | 0.00 | 0.00 | 0.00 | NA | NA | XXX
62368 |  | C | Analyze spine infusion pump | 0.00 | 0.00 | 0.00 | NA | NA | 0.00 | 0.00 | 0.00 | NA | NA | XXX
62368 | 26 | A | Analyze spine infusion pump | 0.75 | 0.20 | 0.30 | 0.20 | 0.30 | 0.06 | 1.01 | 1.11 | 1.01 | 1.11 | XXX
62368 | TC | C | Analyze spine infusion pump | 0.00 | 0.00 | 0.00 | NA | NA | 0.00 | 0.00 | 0.00 | NA | NA | XXX
63001 |  | A | Removal of spinal lamina | 15.82 | NA | NA | 10.93 | 12.92 | 2.62 | NA | NA | 29.37 | 31.36 | 090
63003 |  | A | Removal of spinal lamina | 15.95 | NA | NA | 11.15 | 13.13 | 2.70 | NA | NA | 29.80 | 31.78 | 090
63005 |  | A | Removal of spinal lamina | 14.92 | NA | NA | 10.68 | 12.46 | 2.29 | NA | NA | 27.89 | 29.67 | 090
63011 |  | A | Removal of spinal lamina | 14.52 | NA | NA | 8.83 | 9.33 | 1.74 | NA | NA | 25.09 | 25.59 | 090
63012 |  | A | Removal of spinal lamina | 15.40 | NA | NA | 9.82 | 11.96 | 2.25 | NA | NA | 27.47 | 29.61 | 090
63015 |  | A | Removal of spinal lamina | 19.35 | NA | NA | 12.81 | 15.37 | 3.59 | NA | NA | 35.75 | 38.31 | 090
63016 |  | A | Removal of spinal lamina | 19.20 | NA | NA | 12.92 | 15.42 | 3.29 | NA | NA | 35.41 | 37.91 | 090
63017 |  | A | Removal of spinal lamina | 15.94 | NA | NA | 11.19 | 13.15 | 2.55 | NA | NA | 29.68 | 31.64 | 090
63020 |  | A | Neck spine disk surgery | 14.81 | NA | NA | 10.52 | 12.24 | 2.69 | NA | NA | 28.02 | 29.74 | 090
63030 |  | A | Low back disk surgery | 0.12 | NA | NA | 9.13 | 10.43 | 1.95 | NA | NA | 11.20 | 12.50 | 090
63035 |  | A | Spinal disk surgery add-on | 3.15 | NA | NA | 1.63 | 2.17 | 0.51 | NA | NA | 5.29 | 5.83 | ZZZ
63040 |  | A | Neck spine disk surgery | 18.81 | NA | NA | 12.60 | 15.06 | 3.09 | NA | NA | 34.50 | 36.96 | 090
63042 |  | A | Low back disk surgery | 17.47 | NA | NA | 11.98 | 14.20 | 2.69 | NA | NA | 32.14 | 34.36 | 090
63045 |  | A | Removal of spinal lamina | 16.50 | NA | NA | 11.36 | 13.45 | 2.91 | NA | NA | 30.77 | 32.86 | 090
63046 |  | A | Removal of spinal lamina | 15.80 | NA | NA | 11.12 | 13.06 | 2.63 | NA | NA | 29.55 | 31.49 | 090
63047 |  | A | Removal of spinal lamina | 14.61 | NA | NA | 10.50 | 12.24 | 2.22 | NA | NA | 27.33 | 29.07 | 090
63048 |  | A | Remove spinal lamina add-on | 3.26 | NA | NA | 1.70 | 2.25 | 0.51 | NA | NA | 5.47 | 6.02 | ZZZ
63055 |  | A | Decompress spinal cord | 21.99 | NA | NA | 14.25 | 17.13 | 3.94 | NA | NA | 40.18 | 43.06 | 090
63056 |  | A | Decompress spinal cord | 20.36 | NA | NA | 13.44 | 16.01 | 3.01 | NA | NA | 36.81 | 39.38 | 090
63057 |  | A | Decompress spine cord add-on | 5.26 | NA | NA | 2.65 | 3.03 | 0.86 | NA | NA | 8.77 | 9.15 | ZZZ
63064 |  | A | Decompress spinal cord | 24.61 | NA | NA | 15.92 | 18.41 | 4.26 | NA | NA | 44.79 | 47.28 | 090
63066 |  | A | Decompress spine cord add-on | 3.26 | NA | NA | 1.65 | 1.91 | 0.53 | NA | NA | 5.44 | 5.70 | ZZZ
63075 |  | A | Neck spine disk surgery | 19.41 | NA | NA | 12.94 | 14.47 | 3.38 | NA | NA | 35.73 | 37.26 | 090
63076 |  | A | Neck spine disk surgery | 4.05 | NA | NA | 2.09 | 2.78 | 0.70 | NA | NA | 6.84 | 7.53 | ZZZ
63077 |  | A | Spine disk surgery, thorax | 21.44 | NA | NA | 14.55 | 15.91 | 2.72 | NA | NA | 38.71 | 40.07 | 090
63078 |  | A | Spine disk surgery, thorax | 3.28 | NA | NA | 1.69 | 1.98 | 0.40 | NA | NA | 5.37 | 5.66 | ZZZ
63081 |  | A | Removal of vertebral body | 23.73 | NA | NA | 15.60 | 18.78 | 4.08 | NA | NA | 43.41 | 46.59 | 090
63082 |  | A | Remove vertebral body add-on | 4.37 | NA | NA | 2.27 | 3.01 | 0.74 | NA | NA | 7.38 | 8.12 | ZZZ
63085 |  | A | Removal of vertebral body | 26.92 | NA | NA | 17.62 | 20.65 | 4.10 | NA | NA | 48.64 | 51.67 | 090
63086 |  | A | Remove vertebral body add-on | 3.19 | NA | NA | 1.63 | 2.18 | 0.49 | NA | NA | 5.31 | 5.86 | ZZZ
63087 |  | A | Removal of vertebral body | 35.57 | NA | NA | 21.82 | 24.03 | 4.66 | NA | NA | 62.05 | 64.26 | 090
63088 |  | A | Remove vertebral body add-on | 4.33 | NA | NA | 2.25 | 2.98 | 0.61 | NA | NA | 7.19 | 7.92 | ZZZ
63090 |  | A | Removal of vertebral body | 28.16 | NA | NA | 17.58 | 21.11 | 3.66 | NA | NA | 49.40 | 52.93 | 090
63091 |  | A | Remove vertebral body add-on | 3.03 | NA | NA | 1.54 | 1.90 | 0.37 | NA | NA | 4.94 | 5.30 | ZZZ
63170 |  | A | Incise spinal cord tract(s) | 19.83 | NA | NA | 13.14 | 14.98 | 3.84 | NA | NA | 36.81 | 38.65 | 090
63172 |  | A | Drainage of spinal cyst | 17.66 | NA | NA | 12.50 | 14.65 | 3.36 | NA | NA | 33.52 | 35.67 | 090
63173 |  | A | Drainage of spinal cyst | 21.99 | NA | NA | 14.53 | 15.10 | 4.25 | NA | NA | 40.77 | 41.34 | 090
63180 |  | A | Revise spinal cord ligaments | 18.27 | NA | NA | 12.60 | 12.60 | 2.76 | NA | NA | 33.63 | 33.63 | 090
63182 |  | A | Revise spinal cord ligaments | 20.50 | NA | NA | 12.26 | 13.66 | 3.22 | NA | NA | 35.98 | 37.38 | 090
63185 |  | A | Incise spinal column/nerves | 15.04 | NA | NA | 9.08 | 11.03 | 2.43 | NA | NA | 26.55 | 28.50 | 090
63190 |  | A | Incise spinal column/nerves | 17.45 | NA | NA | 11.60 | 13.91 | 2.84 | NA | NA | 31.89 | 34.20 | 090
63191 |  | A | Incise spinal column/nerves | 17.54 | NA | NA | 10.76 | 11.61 | 2.78 | NA | NA | 31.08 | 31.93 | 090
63194 |  | A | Incise spinal column & cord | 19.19 | NA | NA | 12.06 | 12.58 | 3.89 | NA | NA | 35.14 | 35.66 | 090
63195 |  | A | Incise spinal column & cord | 18.84 | NA | NA | 12.39 | 13.05 | 3.71 | NA | NA | 34.94 | 35.60 | 090
63196 |  | A | Incise spinal column & cord | 22.30 | NA | NA | 11.82 | 13.10 | 4.52 | NA | NA | 38.64 | 39.92 | 090
63197 |  | A | Incise spinal column & cord | 21.11 | NA | NA | 12.24 | 13.08 | 4.27 | NA | NA | 37.62 | 38.46 | 090
63198 |  | A | Incise spinal column & cord | 25.38 | NA | NA | 10.42 | 12.24 | 5.14 | NA | NA | 40.94 | 42.76 | 090
63199 |  | A | Incise spinal column & cord | 26.89 | NA | NA | 16.23 | 17.98 | 4.52 | NA | NA | 47.64 | 49.39 | 090
63200 |  | A | Release of spinal cord | 19.18 | NA | NA | 12.71 | 12.92 | 3.23 | NA | NA | 35.12 | 35.33 | 090
63250 |  | A | Revise spinal cord vessels | 40.76 | NA | NA | 21.25 | 23.53 | 5.30 | NA | NA | 67.31 | 69.59 | 090
63251 |  | A | Revise spinal cord vessels | 41.20 | NA | NA | 22.47 | 23.02 | 7.84 | NA | NA | 71.51 | 72.06 | 090
63252 |  | A | Revise spinal cord vessels | 41.19 | NA | NA | 22.29 | 24.38 | 7.47 | NA | NA | 70.95 | 73.04 | 090
63265 |  | A | Excise intraspinal lesion | 21.56 | NA | NA | 12.65 | 15.46 | 4.01 | NA | NA | 38.22 | 41.03 | 090
63266 |  | A | Excise intraspinal lesion | 22.30 | NA | NA | 13.25 | 16.59 | 4.17 | NA | NA | 39.72 | 43.06 | 090
63267 |  | A | Excise intraspinal lesion | 17.95 | NA | NA | 10.97 | 13.59 | 3.14 | NA | NA | 32.06 | 34.68 | 090
63268 |  | A | Excise intraspinal lesion | 18.52 | NA | NA | 9.47 | 10.51 | 3.31 | NA | NA | 31.30 | 32.34 | 090
63270 |  | A | Excise intraspinal lesion | 26.80 | NA | NA | 15.44 | 16.50 | 5.33 | NA | NA | 47.57 | 48.63 | 090
63271 |  | A | Excise intraspinal lesion | 26.92 | NA | NA | 15.53 | 18.87 | 5.19 | NA | NA | 47.64 | 50.98 | 090
63272 |  | A | Excise intraspinal lesion | 25.32 | NA | NA | 14.59 | 17.22 | 4.72 | NA | NA | 44.63 | 47.26 | 090
63273 |  | A | Excise intraspinal lesion | 24.29 | NA | NA | 14.34 | 15.52 | 4.53 | NA | NA | 43.16 | 44.34 | 090
63275 |  | A | Biopsy/excise spinal tumor | 23.68 | NA | NA | 13.69 | 17.34 | 4.31 | NA | NA | 41.68 | 45.33 | 090
63276 |  | A | Biopsy/excise spinal tumor | 23.45 | NA | NA | 13.66 | 17.11 | 4.29 | NA | NA | 41.40 | 44.85 | 090
63277 |  | A | Biopsy/excise spinal tumor | 20.83 | NA | NA | 12.43 | 15.54 | 3.64 | NA | NA | 36.90 | 40.01 | 090
63278 |  | A | Biopsy/excise spinal tumor | 20.56 | NA | NA | 12.29 | 15.36 | 3.52 | NA | NA | 36.37 | 39.44 | 090
63280 |  | A | Biopsy/excise spinal tumor | 28.35 | NA | NA | 16.18 | 19.75 | 5.51 | NA | NA | 50.04 | 53.61 | 090
63281 |  | A | Biopsy/excise spinal tumor | 28.05 | NA | NA | 15.97 | 19.49 | 5.42 | NA | NA | 49.44 | 52.96 | 090
63282 |  | A | Biopsy/excise spinal tumor | 26.39 | NA | NA | 15.33 | 18.04 | 4.95 | NA | NA | 46.67 | 49.38 | 090
63283 |  | A | Biopsy/excise spinal tumor | 0.25 | NA | NA | 13.15 | 14.96 | 4.52 | NA | NA | 17.92 | 19.73 | 090
63285 |  | A | Biopsy/excise spinal tumor | 0.36 | NA | NA | 20.07 | 21.70 | 7.01 | NA | NA | 27.44 | 29.07 | 090
63286 |  | A | Biopsy/excise spinal tumor | 35.63 | NA | NA | 19.65 | 22.54 | 6.85 | NA | NA | 62.13 | 65.02 | 090
63287 |  | A | Biopsy/excise spinal tumor | 36.70 | NA | NA | 20.64 | 22.46 | 7.13 | NA | NA | 64.47 | 66.29 | 090
63290 |  | A | Biopsy/excise spinal tumor | 37.38 | NA | NA | 20.76 | 22.94 | 6.99 | NA | NA | 65.13 | 67.31 | 090
63300 |  | A | Removal of vertebral body | 24.43 | NA | NA | 14.23 | 15.36 | 4.35 | NA | NA | 43.01 | 44.14 | 090
63301 |  | A | Removal of vertebral body | 27.60 | NA | NA | 15.56 | 16.68 | 4.63 | NA | NA | 47.79 | 48.91 | 090
63302 |  | A | Removal of vertebral body | 27.81 | NA | NA | 15.88 | 17.71 | 4.56 | NA | NA | 48.25 | 50.08 | 090
63303 |  | A | Removal of vertebral body | 30.50 | NA | NA | 16.81 | 17.63 | 4.47 | NA | NA | 51.78 | 52.60 | 090
63304 |  | A | Removal of vertebral body | 30.33 | NA | NA | 17.38 | 18.82 | 6.14 | NA | NA | 53.85 | 55.29 | 090
63305 |  | A | Removal of vertebral body | 32.03 | NA | NA | 17.54 | 19.26 | 5.24 | NA | NA | 54.81 | 56.53 | 090
63306 |  | A | Removal of vertebral body | 32.22 | NA | NA | 17.96 | 19.65 | 5.44 | NA | NA | 55.62 | 57.31 | 090
63307 |  | A | Removal of vertebral body | 31.63 | NA | NA | 16.57 | 19.05 | 4.17 | NA | NA | 52.37 | 54.85 | 090
63308 |  | A | Remove vertebral body add-on | 5.25 | NA | NA | 2.63 | 3.07 | 0.86 | NA | NA | 8.74 | 9.18 | ZZZ
63600 |  | A | Remove spinal cord lesion | 14.02 | NA | NA | 5.67 | 7.16 | 1.51 | NA | NA | 21.20 | 22.69 | 090
63610 |  | A | Stimulation of spinal cord | 8.73 | NA | NA | 3.15 | 4.19 | 0.54 | NA | NA | 12.42 | 13.46 | 000
63615 |  | A | Remove lesion of spinal cord | 16.28 | NA | NA | 9.65 | 10.37 | 3.14 | NA | NA | 29.07 | 29.79 | 090
63650 |  | A | Implant neuroelectrodes | 6.74 | NA | NA | 3.62 | 4.73 | 0.55 | NA | NA | 10.91 | 12.02 | 090
63655 |  | A | Implant neuroelectrodes | 10.29 | NA | NA | 6.79 | 8.17 | 1.75 | NA | NA | 18.83 | 20.21 | 090
63660 |  | A | Revise/remove neuroelectrode | 6.16 | NA | NA | 3.54 | 4.50 | 0.71 | NA | NA | 10.41 | 11.37 | 090
63685 |  | A | Implant neuroreceiver | 7.04 | NA | NA | 3.95 | 4.97 | 0.89 | NA | NA | 11.88 | 12.90 | 090
63688 |  | A | Revise/remove neuroreceiver | 5.39 | NA | NA | 3.23 | 4.03 | 0.73 | NA | NA | 9.35 | 10.15 | 090
63700 |  | A | Repair of spinal herniation | 16.53 | NA | NA | 10.18 | 10.72 | 2.48 | NA | NA | 29.19 | 29.73 | 090
63702 |  | A | Repair of spinal herniation | 18.48 | NA | NA | 11.60 | 12.17 | 3.04 | NA | NA | 33.12 | 33.69 | 090
63704 |  | A | Repair of spinal herniation | 21.18 | NA | NA | 12.09 | 12.92 | 3.87 | NA | NA | 37.14 | 37.97 | 090
63706 |  | A | Repair of spinal herniation | 24.11 | NA | NA | 13.90 | 14.86 | 2.61 | NA | NA | 40.62 | 41.58 | 090
63707 |  | A | Repair spinal fluid leakage | 11.26 | NA | NA | 7.60 | 9.06 | 1.78 | NA | NA | 20.64 | 22.10 | 090
63709 |  | A | Repair spinal fluid leakage | 14.32 | NA | NA | 9.24 | 11.20 | 2.18 | NA | NA | 25.74 | 27.70 | 090
63710 |  | A | Graft repair of spine defect | 14.07 | NA | NA | 8.98 | 9.38 | 2.49 | NA | NA | 25.54 | 25.94 | 090
63740 |  | A | Install spinal shunt | 11.36 | NA | NA | 7.38 | 8.93 | 2.15 | NA | NA | 20.89 | 22.44 | 090
63741 |  | A | Install spinal shunt | 8.25 | NA | NA | 4.63 | 5.94 | 1.28 | NA | NA | 14.16 | 15.47 | 090
63744 |  | A | Revision of spinal shunt | 8.10 | NA | NA | 5.35 | 6.22 | 1.41 | NA | NA | 14.86 | 15.73 | 090
63746 |  | A | Removal of spinal shunt | 6.43 | NA | NA | 3.61 | 4.21 | 0.73 | NA | NA | 10.77 | 11.37 | 090
64400 |  | A | Injection for nerve block | 1.11 | 2.10 | 1.71 | 0.26 | 0.33 | 0.09 | 3.30 | 2.91 | 1.46 | 1.53 | 000
64402 |  | A | Injection for nerve block | 1.25 | 3.65 | 2.91 | 0.45 | 0.51 | 0.08 | 4.98 | 4.24 | 1.78 | 1.84 | 000
64405 |  | A | Injection for nerve block | 1.32 | 2.26 | 1.87 | 0.30 | 0.40 | 0.12 | 3.70 | 3.31 | 1.74 | 1.84 | 000
64408 |  | A | Injection for nerve block | 1.41 | 2.39 | 2.08 | 0.59 | 0.73 | 0.13 | 3.93 | 3.62 | 2.13 | 2.27 | 000
64410 |  | A | Injection for nerve block | 1.43 | 2.32 | 1.93 | 0.30 | 0.42 | 0.09 | 3.84 | 3.45 | 1.82 | 1.94 | 000
64412 |  | A | Injection for nerve block | 1.18 | 2.63 | 2.14 | 0.25 | 0.36 | 0.10 | 3.91 | 3.42 | 1.53 | 1.64 | 000
64413 |  | A | Injection for nerve block | 1.40 | 2.47 | 2.05 | 0.37 | 0.48 | 0.11 | 3.98 | 3.56 | 1.88 | 1.99 | 000
64415 |  | A | Injection for nerve block | 1.48 | 2.66 | 2.07 | 0.31 | 0.30 | 0.11 | 4.25 | 3.66 | 1.90 | 1.89 | 000
64417 |  | A | Injection for nerve block | 1.44 | 2.26 | 1.87 | 0.32 | 0.41 | 0.11 | 3.81 | 3.42 | 1.87 | 1.96 | 000
64418 |  | A | Injection for nerve block | 1.32 | 2.13 | 1.83 | 0.28 | 0.44 | 0.10 | 3.55 | 3.25 | 1.70 | 1.86 | 000
64420 |  | A | Injection for nerve block | 1.18 | 2.18 | 1.81 | 0.27 | 0.38 | 0.08 | 3.44 | 3.07 | 1.53 | 1.64 | 000
64421 |  | A | Injection for nerve block | 1.68 | 2.51 | 2.11 | 0.37 | 0.50 | 0.11 | 4.30 | 3.90 | 2.16 | 2.29 | 000
64425 |  | A | Injection for nerve block | 1.75 | 2.15 | 1.77 | 0.40 | 0.46 | 0.12 | 4.02 | 3.64 | 2.27 | 2.33 | 000
64430 |  | A | Injection for nerve block | 1.46 | 2.58 | 2.13 | 0.42 | 0.51 | 0.10 | 4.14 | 3.69 | 1.98 | 2.07 | 000
64435 |  | A | Injection for nerve block | 1.45 | 2.71 | 2.16 | 0.52 | 0.52 | 0.11 | 4.27 | 3.72 | 2.08 | 2.08 | 000
64440 |  | D | Injection for nerve block | 1.34 | 0.53 | 0.61 | 0.53 | 0.61 | 0.10 | 1.97 | 2.05 | 1.97 | 2.05 | 000
64441 |  | D | Injection for nerve block | 1.79 | 0.71 | 0.81 | 0.71 | 0.81 | 0.12 | 2.62 | 2.72 | 2.62 | 2.72 | 000
64442 |  | D | Injection for nerve block | 1.41 | 0.56 | 0.74 | 0.56 | 0.74 | 0.11 | 2.08 | 2.26 | 2.08 | 2.26 | 000
64443 |  | D | Inject, nerve block add-on | 0.98 | 0.39 | 0.46 | 0.39 | 0.46 | 0.07 | 1.44 | 1.51 | 1.44 | 1.51 | ZZZ
64445 |  | A | Injection for nerve block | 1.48 | 2.98 | 2.37 | 0.34 | 0.39 | 0.10 | 4.56 | 3.95 | 1.92 | 1.97 | 000
64450 |  | A | Injection for nerve block | 1.27 | 1.54 | 1.30 | 0.33 | 0.39 | 0.09 | 2.90 | 2.66 | 1.69 | 1.75 | 000
64470 |  | A | Inj paravertebral c/t | 1.85 | 3.62 | 3.62 | 0.50 | 0.50 | 0.12 | 5.59 | 5.59 | 2.47 | 2.47 | 000
64472 |  | A | Inj paravertebral c/t add-on | 1.29 | 3.29 | 3.29 | 0.37 | 0.37 | 0.09 | 4.67 | 4.67 | 1.75 | 1.75 | ZZZ
64475 |  | A | Inj paravertebral l/s | 1.41 | 3.45 | 3.45 | 0.38 | 0.38 | 0.10 | 4.96 | 4.96 | 1.89 | 1.89 | 000
64476 |  | A | Inj paravertebral l/s add-on | 0.98 | 3.58 | 3.58 | 0.26 | 0.26 | 0.07 | 4.63 | 4.63 | 1.31 | 1.31 | ZZZ
64479 |  | A | Inj foramen epidural c/t | 2.20 | 3.71 | 3.71 | 0.61 | 0.61 | 0.15 | 6.06 | 6.06 | 2.96 | 2.96 | 000
64480 |  | A | Inj foramen epidural add-on | 1.54 | 3.77 | 3.77 | 0.39 | 0.39 | 0.11 | 5.42 | 5.42 | 2.04 | 2.04 | ZZZ
64483 |  | A | Inj foramen epidural l/s | 1.90 | 3.59 | 3.59 | 0.52 | 0.52 | 0.10 | 5.59 | 5.59 | 2.52 | 2.52 | 000
64484 |  | A | Inj foramen epidural add-on | 1.33 | 3.69 | 3.69 | 0.34 | 0.34 | 0.10 | 5.12 | 5.12 | 1.77 | 1.77 | ZZZ
64505 |  | A | Injection for nerve block | 1.36 | 2.06 | 1.71 | 0.35 | 0.43 | 0.09 | 3.51 | 3.16 | 1.80 | 1.88 | 000
64508 |  | A | Injection for nerve block | 1.12 | 1.93 | 1.73 | 0.40 | 0.58 | 0.13 | 3.18 | 2.98 | 1.65 | 1.83 | 000
64510 |  | A | Injection for nerve block | 1.22 | 2.16 | 1.81 | 0.26 | 0.39 | 0.08 | 3.46 | 3.11 | 1.56 | 1.69 | 000
64520 |  | A | Injection for nerve block | 1.35 | 3.35 | 2.71 | 0.29 | 0.41 | 0.10 | 4.80 | 4.16 | 1.74 | 1.86 | 000
64530 |  | A | Injection for nerve block | 1.58 | 2.63 | 2.29 | 0.36 | 0.59 | 0.11 | 4.32 | 3.98 | 2.05 | 2.28 | 000
64550 |  | A | Apply neurostimulator | 0.18 | 0.47 | 0.47 | 0.05 | 0.16 | 0.01 | 0.66 | 0.66 | 0.24 | 0.35 | 000
64553 |  | A | Implant neuroelectrodes | 2.31 | 1.58 | 1.46 | 1.21 | 1.19 | 0.06 | 3.95 | 3.83 | 3.58 | 3.56 | 010
64555 |  | A | Implant neuroelectrodes | 2.27 | 2.10 | 1.69 | 0.52 | 0.51 | 0.16 | 4.53 | 4.12 | 2.95 | 2.94 | 010
64560 |  | A | Implant neuroelectrodes | 2.36 | 2.11 | 1.98 | 0.85 | 1.03 | 0.17 | 4.64 | 4.51 | 3.38 | 3.56 | 010
64565 |  | A | Implant neuroelectrodes | 1.76 | 2.27 | 1.91 | 0.56 | 0.63 | 0.13 | 4.16 | 3.80 | 2.45 | 2.52 | 010
64573 |  | A | Implant neuroelectrodes | 7.50 | NA | NA | 5.19 | 4.75 | 0.84 | NA | NA | 13.53 | 13.09 | 090
64575 |  | A | Implant neuroelectrodes | 4.35 | NA | NA | 3.30 | 3.31 | 0.68 | NA | NA | 8.33 | 8.34 | 090
64577 |  | A | Implant neuroelectrodes | 4.62 | NA | NA | 3.51 | 3.38 | 0.74 | NA | NA | 8.87 | 8.74 | 090
64580 |  | A | Implant neuroelectrodes | 4.12 | NA | NA | 3.50 | 3.42 | 0.38 | NA | NA | 8.00 | 7.92 | 090
64585 |  | A | Revise/remove neuroelectrode | 2.06 | 4.14 | 3.37 | 1.89 | 1.68 | 0.26 | 6.46 | 5.69 | 4.21 | 4.00 | 010
64590 |  | A | Implant neuroreceiver | 2.40 | NA | NA | 2.27 | 2.20 | 0.37 | NA | NA | 5.04 | 4.97 | 010
64595 |  | A | Revise/remove neuroreceiver | 1.73 | NA | NA | 1.95 | 1.77 | 0.14 | NA | NA | 3.82 | 3.64 | 010
64600 |  | A | Injection treatment of nerve | 3.45 | 3.01 | 2.72 | 1.92 | 1.90 | 0.34 | 6.80 | 6.51 | 5.71 | 5.69 | 010
64605 |  | A | Injection treatment of nerve | 5.61 | 3.48 | 3.03 | 2.44 | 2.25 | 0.43 | 9.52 | 9.07 | 8.48 | 8.29 | 010
64610 |  | A | Injection treatment of nerve | 7.16 | NA | NA | 4.01 | 4.98 | 1.28 | NA | NA | 12.45 | 13.42 | 010
64612 |  | A | Destroy nerve, face muscle | 1.96 | 2.62 | 2.36 | 1.58 | 1.58 | 0.14 | 4.72 | 4.46 | 3.68 | 3.68 | 010
64613 |  | A | Destroy nerve, spine muscle | 1.96 | 1.48 | 1.50 | 1.25 | 1.33 | 0.36 | 3.80 | 3.82 | 3.57 | 3.65 | 010
64620 |  | A | Injection treatment of nerve | 2.84 | 2.78 | 2.36 | 0.63 | 0.75 | 0.20 | 5.82 | 5.40 | 3.67 | 3.79 | 010
64622 |  | A | Destr paravertebrl nerve l/s | 0.03 | 4.03 | 3.52 | 0.73 | 1.04 | 0.21 | 4.27 | 3.76 | 0.97 | 1.28 | 010
64623 |  | A | Destr paravertebral n add-on | 0.99 | 3.01 | 2.49 | 0.24 | 0.41 | 0.07 | 4.07 | 3.55 | 1.30 | 1.47 | ZZZ
64626 |  | A | Destr paravertebrl nerve c/t | 3.28 | 3.64 | 3.64 | 0.94 | 0.94 | 0.22 | 7.14 | 7.14 | 4.44 | 4.44 | 010
64627 |  | A | Destr paravertebral n add-on | 1.16 | 3.00 | 3.00 | 0.33 | 0.33 | 0.08 | 4.24 | 4.24 | 1.57 | 1.57 | ZZZ
64630 |  | A | Injection treatment of nerve | 0.03 | 2.79 | 2.57 | 0.72 | 1.01 | 0.25 | 3.07 | 2.85 | 1.00 | 1.29 | 010
64640 |  | A | Injection treatment of nerve | 2.76 | 4.44 | 3.58 | 0.93 | 0.95 | 0.20 | 7.40 | 6.54 | 3.89 | 3.91 | 010
64680 |  | A | Injection treatment of nerve | 2.62 | 2.46 | 2.27 | 0.69 | 0.94 | 0.16 | 5.24 | 5.05 | 3.47 | 3.72 | 010
64702 |  | A | Revise finger/toe nerve | 4.23 | NA | NA | 3.63 | 3.87 | 0.44 | NA | NA | 8.30 | 8.54 | 090
64704 |  | A | Revise hand/foot nerve | 4.57 | NA | NA | 2.95 | 3.58 | 0.36 | NA | NA | 7.88 | 8.51 | 090
64708 |  | A | Revise arm/leg nerve | 6.12 | NA | NA | 4.69 | 5.34 | 0.66 | NA | NA | 11.47 | 12.12 | 090
64712 |  | A | Revision of sciatic nerve | 7.75 | NA | NA | 4.63 | 5.79 | 0.74 | NA | NA | 13.12 | 14.28 | 090
64713 |  | A | Revision of arm nerve(s) | 0.11 | NA | NA | 5.02 | 6.32 | 1.14 | NA | NA | 6.27 | 7.57 | 090
64714 |  | A | Revise low back nerve(s) | 10.33 | NA | NA | 3.77 | 4.49 | 0.78 | NA | NA | 14.88 | 15.60 | 090
64716 |  | A | Revision of cranial nerve | 6.31 | NA | NA | 4.65 | 4.80 | 0.59 | NA | NA | 11.55 | 11.70 | 090
64718 |  | A | Revise ulnar nerve at elbow | 5.99 | NA | NA | 4.81 | 5.40 | 0.74 | NA | NA | 11.54 | 12.13 | 090
64719 |  | A | Revise ulnar nerve at wrist | 4.85 | NA | NA | 4.28 | 4.55 | 0.53 | NA | NA | 9.66 | 9.93 | 090
64721 |  | A | Carpal tunnel surgery | 4.29 | 5.58 | 5.47 | 5.31 | 5.26 | 0.49 | 10.36 | 10.25 | 10.09 | 10.04 | 090
64722 |  | A | Relieve pressure on nerve(s) | 4.70 | NA | NA | 2.81 | 3.51 | 0.40 | NA | NA | 7.91 | 8.61 | 090
64726 |  | A | Release foot/toe nerve | 4.18 | NA | NA | 2.85 | 2.33 | 0.31 | NA | NA | 7.34 | 6.82 | 090
64727 |  | A | Internal nerve revision | 3.10 | NA | NA | 1.49 | 2.00 | 0.33 | NA | NA | 4.92 | 5.43 | ZZZ
64732 |  | A | Incision of brow nerve | 4.41 | NA | NA | 3.36 | 3.69 | 0.75 | NA | NA | 8.52 | 8.85 | 090
64734 |  | A | Incision of cheek nerve | 4.92 | NA | NA | 3.30 | 3.73 | 0.72 | NA | NA | 8.94 | 9.37 | 090
64736 |  | A | Incision of chin nerve | 4.60 | NA | NA | 2.77 | 3.29 | 0.39 | NA | NA | 7.76 | 8.28 | 090
64738 |  | A | Incision of jaw nerve | 5.73 | NA | NA | 3.28 | 3.84 | 0.58 | NA | NA | 9.59 | 10.15 | 090
64740 |  | A | Incision of tongue nerve | 5.59 | NA | NA | 3.39 | 3.95 | 0.38 | NA | NA | 9.36 | 9.92 | 090
64742 |  | A | Incision of facial nerve | 6.22 | NA | NA | 4.51 | 4.74 | 0.53 | NA | NA | 11.26 | 11.49 | 090
64744 |  | A | Incise nerve, back of head | 5.24 | NA | NA | 3.50 | 4.19 | 0.92 | NA | NA | 9.66 | 10.35 | 090
64746 |  | A | Incise diaphragm nerve | 5.93 | NA | NA | 4.98 | 4.76 | 0.68 | NA | NA | 11.59 | 11.37 | 090
64752 |  | A | Incision of vagus nerve | 7.06 | NA | NA | 5.30 | 5.04 | 0.67 | NA | NA | 13.03 | 12.77 | 090
64755 |  | A | Incision of stomach nerves | 13.52 | NA | NA | 6.15 | 7.45 | 1.22 | NA | NA | 20.89 | 22.19 | 090
64760 |  | A | Incision of vagus nerve | 6.96 | NA | NA | 3.39 | 4.35 | 0.64 | NA | NA | 10.99 | 11.95 | 090
64761 |  | A | Incision of pelvis nerve | 6.41 | NA | NA | 3.68 | 4.03 | 0.44 | NA | NA | 10.53 | 10.88 | 090
64763 |  | A | Incise hip/thigh nerve | 6.93 | NA | NA | 5.18 | 5.19 | 0.71 | NA | NA | 12.82 | 12.83 | 090
64766 |  | A | Incise hip/thigh nerve | 8.67 | NA | NA | 5.11 | 5.64 | 1.34 | NA | NA | 15.12 | 15.65 | 090
64771 |  | A | Sever cranial nerve | 7.35 | NA | NA | 5.17 | 5.62 | 0.86 | NA | NA | 13.38 | 13.83 | 090
64772 |  | A | Incision of spinal nerve | 7.21 | NA | NA | 4.72 | 5.38 | 1.14 | NA | NA | 13.07 | 13.73 | 090
64774 |  | A | Remove skin nerve lesion | 5.17 | NA | NA | 3.54 | 3.40 | 0.52 | NA | NA | 9.23 | 9.09 | 090
64776 |  | A | Remove digit nerve lesion | 5.12 | NA | NA | 3.70 | 3.53 | 0.44 | NA | NA | 9.26 | 9.09 | 090
64778 |  | A | Digit nerve surgery add-on | 3.11 | NA | NA | 1.45 | 1.83 | 0.34 | NA | NA | 4.90 | 5.28 | ZZZ
64782 |  | A | Remove limb nerve lesion | 6.23 | NA | NA | 3.47 | 3.88 | 0.45 | NA | NA | 10.15 | 10.56 | 090
64783 |  | A | Limb nerve surgery add-on | 3.72 | NA | NA | 1.85 | 2.27 | 0.37 | NA | NA | 5.94 | 6.36 | ZZZ
64784 |  | A | Remove nerve lesion | 9.82 | NA | NA | 6.37 | 6.31 | 1.06 | NA | NA | 17.25 | 17.19 | 090
64786 |  | A | Remove sciatic nerve lesion | 15.46 | NA | NA | 9.79 | 10.78 | 1.93 | NA | NA | 27.18 | 28.17 | 090
64787 |  | A | Implant nerve end | 4.30 | NA | NA | 2.20 | 2.59 | 0.43 | NA | NA | 6.93 | 7.32 | ZZZ
64788 |  | A | Remove skin nerve lesion | 4.61 | NA | NA | 3.22 | 3.40 | 0.49 | NA | NA | 8.32 | 8.50 | 090
64790 |  | A | Removal of nerve lesion | 11.31 | NA | NA | 6.84 | 7.06 | 1.47 | NA | NA | 19.62 | 19.84 | 090
64792 |  | A | Removal of nerve lesion | 14.92 | NA | NA | 8.43 | 8.76 | 1.97 | NA | NA | 25.32 | 25.65 | 090
64795 |  | A | Biopsy of nerve | 3.01 | NA | NA | 1.77 | 1.97 | 0.43 | NA | NA | 5.21 | 5.41 | 000
64802 |  | A | Remove sympathetic nerves | 9.15 | NA | NA | 6.02 | 5.98 | 1.03 | NA | NA | 16.20 | 16.16 | 090
64804 |  | A | Remove sympathetic nerves | 14.64 | NA | NA | 7.75 | 9.28 | 1.83 | NA | NA | 24.22 | 25.75 | 090
64809 |  | A | Remove sympathetic nerves | 13.67 | NA | NA | 6.71 | 7.90 | 1.68 | NA | NA | 22.06 | 23.25 | 090
64818 |  | A | Remove sympathetic nerves | 10.30 | NA | NA | 6.01 | 6.83 | 1.16 | NA | NA | 17.47 | 18.29 | 090
64820 |  | A | Remove sympathetic nerves | 10.37 | NA | NA | 7.51 | 7.61 | 1.08 | NA | NA | 18.96 | 19.06 | 090
64831 |  | A | Repair of digit nerve | 9.44 | NA | NA | 6.77 | 6.00 | 0.99 | NA | NA | 17.20 | 16.43 | 090
64832 |  | A | Repair nerve add-on | 5.66 | NA | NA | 3.03 | 2.65 | 0.59 | NA | NA | 9.28 | 8.90 | ZZZ
64834 |  | A | Repair of hand or foot nerve | 10.19 | NA | NA | 6.82 | 6.07 | 1.06 | NA | NA | 18.07 | 17.32 | 090
64835 |  | A | Repair of hand or foot nerve | 10.94 | NA | NA | 7.51 | 7.25 | 1.14 | NA | NA | 19.59 | 19.33 | 090
64836 |  | A | Repair of hand or foot nerve | 10.94 | NA | NA | 7.50 | 7.44 | 1.17 | NA | NA | 19.61 | 19.55 | 090
64837 |  | A | Repair nerve add-on | 6.26 | NA | NA | 3.16 | 3.58 | 0.65 | NA | NA | 10.07 | 10.49 | ZZZ
64840 |  | A | Repair of leg nerve | 13.02 | NA | NA | 8.76 | 9.38 | 1.03 | NA | NA | 22.81 | 23.43 | 090
64856 |  | A | Repair/transpose nerve | 13.80 | NA | NA | 8.98 | 8.96 | 1.52 | NA | NA | 24.30 | 24.28 | 090
64857 |  | A | Repair arm/leg nerve | 14.49 | NA | NA | 9.50 | 9.71 | 1.54 | NA | NA | 25.53 | 25.74 | 090
64858 |  | A | Repair sciatic nerve | 16.49 | NA | NA | 9.97 | 10.46 | 2.38 | NA | NA | 28.84 | 29.33 | 090
64859 |  | A | Nerve surgery | 4.26 | NA | NA | 2.27 | 2.65 | 0.45 | NA | NA | 6.98 | 7.36 | ZZZ
64861 |  | A | Repair of arm nerves | 19.24 | NA | NA | 12.35 | 12.90 | 1.68 | NA | NA | 33.27 | 33.82 | 090
64862 |  | A | Repair of low back nerves | 19.44 | NA | NA | 11.27 | 14.30 | 3.93 | NA | NA | 34.64 | 37.67 | 090
64864 |  | A | Repair of facial nerve | 12.55 | NA | NA | 9.35 | 9.15 | 1.12 | NA | NA | 23.02 | 22.82 | 090
64865 |  | A | Repair of facial nerve | 15.24 | NA | NA | 10.71 | 11.38 | 1.37 | NA | NA | 27.32 | 27.99 | 090
64866 |  | A | Fusion of facial/other nerve | 15.74 | NA | NA | 10.98 | 11.27 | 1.42 | NA | NA | 28.14 | 28.43 | 090
64868 |  | A | Fusion of facial/other nerve | 14.04 | NA | NA | 10.55 | 10.95 | 1.62 | NA | NA | 26.21 | 26.61 | 090
64870 |  | A | Fusion of facial/other nerve | 15.99 | NA | NA | 9.58 | 10.96 | 1.71 | NA | NA | 27.28 | 28.66 | 090
64872 |  | A | Subsequent repair of nerve | 1.99 | NA | NA | 1.11 | 1.22 | 0.22 | NA | NA | 3.32 | 3.43 | ZZZ
64874 |  | A | Repair & revise nerve add-on | 2.98 | NA | NA | 1.47 | 1.69 | 0.32 | NA | NA | 4.77 | 4.99 | ZZZ
64876 |  | A | Repair nerve/shorten bone | 3.38 | NA | NA | 1.34 | 1.67 | 0.37 | NA | NA | 5.09 | 5.42 | ZZZ
64885 |  | A | Nerve graft, head or neck | 17.53 | NA | NA | 11.23 | 11.87 | 1.47 | NA | NA | 30.23 | 30.87 | 090
64886 |  | A | Nerve graft, head or neck | 20.75 | NA | NA | 13.47 | 14.21 | 1.74 | NA | NA | 35.96 | 36.70 | 090
64890 |  | A | Nerve graft, hand or foot | 15.15 | NA | NA | 11.58 | 12.01 | 1.57 | NA | NA | 28.30 | 28.73 | 090
64891 |  | A | Nerve graft, hand or foot | 16.14 | NA | NA | 11.15 | 11.19 | 1.54 | NA | NA | 28.83 | 28.87 | 090
64892 |  | A | Nerve graft, arm or leg | 14.65 | NA | NA | 9.04 | 9.78 | 1.74 | NA | NA | 25.43 | 26.17 | 090
64893 |  | A | Nerve graft, arm or leg | 15.60 | NA | NA | 9.64 | 11.01 | 2.41 | NA | NA | 27.65 | 29.02 | 090
64895 |  | A | Nerve graft, hand or foot | 19.25 | NA | NA | 13.16 | 13.44 | 1.81 | NA | NA | 34.22 | 34.50 | 090
64896 |  | A | Nerve graft, hand or foot | 20.49 | NA | NA | 13.13 | 14.60 | 2.18 | NA | NA | 35.80 | 37.27 | 090
64897 |  | A | Nerve graft, arm or leg | 18.24 | NA | NA | 11.21 | 11.84 | 1.91 | NA | NA | 31.36 | 31.99 | 090
64898 |  | A | Nerve graft, arm or leg | 19.50 | NA | NA | 12.61 | 13.37 | 1.97 | NA | NA | 34.08 | 34.84 | 090
64901 |  | A | Nerve graft add-on | 10.22 | NA | NA | 5.56 | 6.93 | 1.02 | NA | NA | 16.80 | 18.17 | ZZZ
64902 |  | A | Nerve graft add-on | 11.83 | NA | NA | 5.81 | 7.59 | 1.07 | NA | NA | 18.71 | 20.49 | ZZZ
64905 |  | A | Nerve pedicle transfer | 14.02 | NA | NA | 8.70 | 9.08 | 1.02 | NA | NA | 23.74 | 24.12 | 090
64907 |  | A | Nerve pedicle transfer | 18.83 | NA | NA | 11.86 | 12.43 | 1.97 | NA | NA | 32.66 | 33.23 | 090
64999 |  | C | Nervous system surgery | 0.00 | 0.00 | 0.00 | 0.00 | 0.00 | 0.00 | 0.00 | 0.00 | 0.00 | 0.00 | YYY
65091 |  | A | Revise eye | 6.46 | NA | NA | 9.51 | 9.06 | 0.27 | NA | NA | 16.24 | 15.79 | 090
65093 |  | A | Revise eye with implant | 6.87 | NA | NA | 9.66 | 9.30 | 0.28 | NA | NA | 16.81 | 16.45 | 090
65101 |  | A | Removal of eye | 7.03 | NA | NA | 9.87 | 9.50 | 0.30 | NA | NA | 17.20 | 16.83 | 090
65103 |  | A | Remove eye/insert implant | 7.57 | NA | NA | 9.90 | 9.69 | 0.30 | NA | NA | 17.77 | 17.56 | 090
65105 |  | A | Remove eye/attach implant | 8.49 | NA | NA | 10.42 | 10.35 | 0.33 | NA | NA | 19.24 | 19.17 | 090
65110 |  | A | Removal of eye | 13.95 | NA | NA | 13.21 | 14.07 | 0.68 | NA | NA | 27.84 | 28.70 | 090
65112 |  | A | Remove eye/revise socket | 16.38 | NA | NA | 15.27 | 14.75 | 1.19 | NA | NA | 32.84 | 32.32 | 090
65114 |  | A | Remove eye/revise socket | 17.53 | NA | NA | 15.13 | 14.89 | 0.82 | NA | NA | 33.48 | 33.24 | 090
65125 |  | A | Revise ocular implant | 3.12 | 4.76 | 4.24 | 1.53 | 1.82 | 0.16 | 8.04 | 7.52 | 4.81 | 5.10 | 090
65130 |  | A | Insert ocular implant | 7.15 | NA | NA | 9.61 | 9.34 | 0.30 | NA | NA | 17.06 | 16.79 | 090
65135 |  | A | Insert ocular implant | 7.33 | NA | NA | 9.42 | 8.54 | 0.31 | NA | NA | 17.06 | 16.18 | 090
65140 |  | A | Attach ocular implant | 8.02 | NA | NA | 10.08 | 9.25 | 0.32 | NA | NA | 18.42 | 17.59 | 090
65150 |  | A | Revise ocular implant | 6.26 | NA | NA | 8.93 | 8.57 | 0.25 | NA | NA | 15.44 | 15.08 | 090
65155 |  | A | Reinsert ocular implant | 8.66 | NA | NA | 10.99 | 10.83 | 0.40 | NA | NA | 20.05 | 19.89 | 090
65175 |  | A | Removal of ocular implant | 6.28 | NA | NA | 9.04 | 8.66 | 0.25 | NA | NA | 15.57 | 15.19 | 090
65205 |  | A | Remove foreign body from eye | 0.71 | 5.10 | 3.93 | 0.20 | 0.25 | 0.04 | 5.85 | 4.68 | 0.95 | 1.00 | 000
65210 |  | A | Remove foreign body from eye | 0.84 | 5.26 | 4.07 | 0.30 | 0.35 | 0.04 | 6.14 | 4.95 | 1.18 | 1.23 | 000
65220 |  | A | Remove foreign body from eye | 0.71 | 6.81 | 5.25 | 0.19 | 0.28 | 0.06 | 7.58 | 6.02 | 0.96 | 1.05 | 000
65222 |  | A | Remove foreign body from eye | 0.93 | 5.21 | 4.06 | 0.27 | 0.36 | 0.04 | 6.18 | 5.03 | 1.24 | 1.33 | 000
65235 |  | A | Remove foreign body from eye | 7.57 | NA | NA | 6.79 | 6.62 | 0.32 | NA | NA | 14.68 | 14.51 | 090
65260 |  | A | Remove foreign body from eye | 10.96 | NA | NA | 11.60 | 11.04 | 0.42 | NA | NA | 22.98 | 22.42 | 090
65265 |  | A | Remove foreign body from eye | 12.59 | NA | NA | 13.36 | 12.75 | 0.50 | NA | NA | 26.45 | 25.84 | 090
65270 |  | A | Repair of eye wound | 1.90 | 3.47 | 2.92 | 2.06 | 1.86 | 0.08 | 5.45 | 4.90 | 4.04 | 3.84 | 010
65272 |  | A | Repair of eye wound | 3.82 | 5.06 | 4.24 | 4.10 | 3.52 | 0.15 | 9.03 | 8.21 | 8.07 | 7.49 | 090
65273 |  | A | Repair of eye wound | 4.36 | NA | NA | 4.48 | 4.23 | 0.17 | NA | NA | 9.01 | 8.76 | 090
65275 |  | A | Repair of eye wound | 5.34 | 4.96 | 3.90 | 4.39 | 3.47 | 0.27 | 10.57 | 9.51 | 10.00 | 9.08 | 090
65280 |  | A | Repair of eye wound | 7.66 | NA | NA | 7.28 | 7.75 | 0.30 | NA | NA | 15.24 | 15.71 | 090
65285 |  | A | Repair of eye wound | 12.90 | NA | NA | 13.49 | 13.45 | 0.51 | NA | NA | 26.90 | 26.86 | 090
65286 |  | A | Repair of eye wound | 5.51 | 7.87 | 7.20 | 6.72 | 6.34 | 0.22 | 13.60 | 12.93 | 12.45 | 12.07 | 090
65290 |  | A | Repair of eye socket wound | 5.41 | NA | NA | 6.06 | 6.16 | 0.22 | NA | NA | 11.69 | 11.79 | 090
65400 |  | A | Removal of eye lesion | 6.06 | 7.21 | 7.16 | 6.02 | 6.27 | 0.24 | 13.51 | 13.46 | 12.32 | 12.57 | 090
65410 |  | A | Biopsy of cornea | 1.47 | 1.71 | 1.72 | 0.70 | 0.96 | 0.06 | 3.24 | 3.25 | 2.23 | 2.49 | 000
65420 |  | A | Removal of eye lesion | 4.17 | 7.11 | 6.49 | 6.03 | 5.68 | 0.16 | 11.44 | 10.82 | 10.36 | 10.01 | 090
65426 |  | A | Removal of eye lesion | 5.25 | 7.24 | 7.00 | 6.14 | 6.17 | 0.21 | 12.70 | 12.46 | 11.60 | 11.63 | 090
65430 |  | A | Corneal smear | 1.47 | 5.77 | 4.48 | 0.70 | 0.67 | 0.06 | 7.30 | 6.01 | 2.23 | 2.20 | 000
65435 |  | A | Curette/treat cornea | 0.92 | 1.34 | 1.22 | 0.42 | 0.53 | 0.04 | 2.30 | 2.18 | 1.38 | 1.49 | 000
65436 |  | A | Curette/treat cornea | 4.19 | 5.20 | 4.32 | 4.27 | 3.62 | 0.16 | 9.55 | 8.67 | 8.62 | 7.97 | 090
65450 |  | A | Treatment of corneal lesion | 3.27 | 6.87 | 6.04 | 5.61 | 5.10 | 0.12 | 10.26 | 9.43 | 9.00 | 8.49 | 090
65600 |  | A | Revision of cornea | 3.40 | 4.82 | 4.33 | 1.54 | 1.87 | 0.14 | 8.36 | 7.87 | 5.08 | 5.41 | 090
65710 |  | A | Corneal transplant | 12.35 | NA | NA | 12.32 | 12.62 | 0.49 | NA | NA | 25.16 | 25.46 | 090
65730 |  | A | Corneal transplant | 14.25 | NA | NA | 13.79 | 14.45 | 0.55 | NA | NA | 28.59 | 29.25 | 090
65750 |  | A | Corneal transplant | 0.15 | NA | NA | 14.19 | 15.01 | 0.58 | NA | NA | 14.92 | 15.74 | 090
65755 |  | A | Corneal transplant | 14.89 | NA | NA | 12.87 | 14.02 | 0.58 | NA | NA | 28.34 | 29.49 | 090
65760 |  | N | Revision of cornea | 0.00 | 0.00 | 0.00 | 0.00 | 0.00 | 0.00 | 0.00 | 0.00 | 0.00 | 0.00 | XXX
65765 |  | N | Revision of cornea | 0.00 | 0.00 | 0.00 | 0.00 | 0.00 | 0.00 | 0.00 | 0.00 | 0.00 | 0.00 | XXX
65767 |  | N | Corneal tissue transplant | 0.00 | 0.00 | 0.00 | 0.00 | 0.00 | 0.00 | 0.00 | 0.00 | 0.00 | 0.00 | XXX
65770 |  | A | Revise cornea with implant | 17.56 | NA | NA | 15.04 | 15.03 | 0.69 | NA | NA | 33.29 | 33.28 | 090
65771 |  | N | Radial keratotomy | 0.00 | 0.00 | 0.00 | 0.00 | 0.00 | 0.00 | 0.00 | 0.00 | 0.00 | 0.00 | XXX
65772 |  | A | Correction of astigmatism | 4.29 | 5.92 | 5.72 | 5.32 | 5.27 | 0.17 | 10.38 | 10.18 | 9.78 | 9.73 | 090
65775 |  | A | Correction of astigmatism | 5.79 | NA | NA | 7.37 | 7.26 | 0.23 | NA | NA | 13.39 | 13.28 | 090
65800 |  | A | Drainage of eye | 1.91 | 2.04 | 2.00 | 1.39 | 1.51 | 0.08 | 4.03 | 3.99 | 3.38 | 3.50 | 000
65805 |  | A | Drainage of eye | 1.91 | 2.04 | 2.02 | 1.39 | 1.53 | 0.08 | 4.03 | 4.01 | 3.38 | 3.52 | 000
65810 |  | A | Drainage of eye | 4.87 | NA | NA | 7.40 | 7.01 | 0.19 | NA | NA | 12.46 | 12.07 | 090
65815 |  | A | Drainage of eye | 5.05 | 8.08 | 7.28 | 6.93 | 6.42 | 0.20 | 13.33 | 12.53 | 12.18 | 11.67 | 090
65820 |  | A | Relieve inner eye pressure | 8.13 | NA | NA | 9.40 | 9.64 | 0.32 | NA | NA | 17.85 | 18.09 | 090
65850 |  | A | Incision of eye | 10.52 | NA | NA | 9.59 | 10.33 | 0.41 | NA | NA | 20.52 | 21.26 | 090
65855 |  | A | Laser surgery of eye | 4.30 | 4.31 | 4.86 | 3.28 | 4.09 | 0.17 | 8.78 | 9.33 | 7.75 | 8.56 | 090
65860 |  | A | Incise inner eye adhesions | 3.55 | 3.83 | 3.93 | 2.99 | 3.30 | 0.14 | 7.52 | 7.62 | 6.68 | 6.99 | 090
65865 |  | A | Incise inner eye adhesions | 5.60 | NA | NA | 6.28 | 6.38 | 0.22 | NA | NA | 12.10 | 12.20 | 090
65870 |  | A | Incise inner eye adhesions | 6.27 | NA | NA | 6.62 | 6.56 | 0.25 | NA | NA | 13.14 | 13.08 | 090
65875 |  | A | Incise inner eye adhesions | 6.54 | NA | NA | 6.74 | 6.76 | 0.26 | NA | NA | 13.54 | 13.56 | 090
65880 |  | A | Incise inner eye adhesions | 7.09 | NA | NA | 6.98 | 7.09 | 0.28 | NA | NA | 14.35 | 14.46 | 090
65900 |  | A | Remove eye lesion | 10.93 | NA | NA | 11.68 | 10.91 | 0.48 | NA | NA | 23.09 | 22.32 | 090
65920 |  | A | Remove implant from eye | 8.40 | NA | NA | 7.63 | 7.99 | 0.33 | NA | NA | 16.36 | 16.72 | 090
65930 |  | A | Remove blood clot from eye | 7.44 | NA | NA | 8.12 | 8.17 | 0.29 | NA | NA | 15.85 | 15.90 | 090
66020 |  | A | Injection treatment of eye | 1.59 | 2.30 | 2.20 | 1.49 | 1.59 | 0.07 | 3.96 | 3.86 | 3.15 | 3.25 | 010
66030 |  | A | Injection treatment of eye | 1.25 | 2.13 | 1.75 | 1.32 | 1.14 | 0.05 | 3.43 | 3.05 | 2.62 | 2.44 | 010
66130 |  | A | Remove eye lesion | 7.69 | 6.85 | 6.57 | 5.97 | 5.91 | 0.31 | 14.85 | 14.57 | 13.97 | 13.91 | 090
66150 |  | A | Glaucoma surgery | 8.30 | NA | NA | 8.55 | 8.89 | 0.32 | NA | NA | 17.17 | 17.51 | 090
66155 |  | A | Glaucoma surgery | 8.29 | NA | NA | 8.49 | 8.84 | 0.32 | NA | NA | 17.10 | 17.45 | 090
66160 |  | A | Glaucoma surgery | 10.17 | NA | NA | 9.99 | 10.42 | 0.41 | NA | NA | 20.57 | 21.00 | 090
66165 |  | A | Glaucoma surgery | 8.01 | NA | NA | 8.86 | 9.04 | 0.32 | NA | NA | 17.19 | 17.37 | 090
66170 |  | A | Glaucoma surgery | 12.16 | NA | NA | 11.02 | 11.56 | 0.48 | NA | NA | 23.66 | 24.20 | 090
66172 |  | A | Incision of eye | 15.04 | NA | NA | 12.79 | 12.89 | 0.59 | NA | NA | 28.42 | 28.52 | 090
66180 |  | A | Implant eye shunt | 14.55 | NA | NA | 12.25 | 13.53 | 0.57 | NA | NA | 27.37 | 28.65 | 090
66185 |  | A | Revise eye shunt | 8.14 | NA | NA | 8.41 | 8.74 | 0.32 | NA | NA | 16.87 | 17.20 | 090
66220 |  | A | Repair eye lesion | 7.77 | NA | NA | 10.07 | 9.17 | 0.32 | NA | NA | 18.16 | 17.26 | 090
66225 |  | A | Repair/graft eye lesion | 11.05 | NA | NA | 9.69 | 10.57 | 0.43 | NA | NA | 21.17 | 22.05 | 090
66250 |  | A | Follow-up surgery of eye | 5.98 | 7.20 | 7.19 | 5.98 | 6.27 | 0.24 | 13.42 | 13.41 | 12.20 | 12.49 | 090
66500 |  | A | Incision of iris | 3.71 | NA | NA | 4.07 | 4.16 | 0.14 | NA | NA | 7.92 | 8.01 | 090
66505 |  | A | Incision of iris | 4.08 | NA | NA | 4.18 | 4.02 | 0.16 | NA | NA | 8.42 | 8.26 | 090
66600 |  | A | Remove iris and lesion | 8.68 | NA | NA | 9.15 | 9.40 | 0.34 | NA | NA | 18.17 | 18.42 | 090
66605 |  | A | Removal of iris | 12.79 | NA | NA | 12.30 | 12.45 | 0.53 | NA | NA | 25.62 | 25.77 | 090
66625 |  | A | Removal of iris | 5.13 | 7.37 | 7.06 | 6.97 | 6.76 | 0.20 | 12.70 | 12.39 | 12.30 | 12.09 | 090
66630 |  | A | Removal of iris | 6.16 | NA | NA | 8.01 | 7.85 | 0.24 | NA | NA | 14.41 | 14.25 | 090
66635 |  | A | Removal of iris | 6.25 | NA | NA | 6.13 | 6.47 | 0.25 | NA | NA | 12.63 | 12.97 | 090
66680 |  | A | Repair iris & ciliary body | 5.44 | NA | NA | 5.71 | 5.91 | 0.21 | NA | NA | 11.36 | 11.56 | 090
66682 |  | A | Repair iris & ciliary body | 6.21 | NA | NA | 8.04 | 7.88 | 0.24 | NA | NA | 14.49 | 14.33 | 090
66700 |  | A | Destruction, ciliary body | 4.78 | 7.63 | 7.15 | 6.35 | 6.19 | 0.20 | 12.61 | 12.13 | 11.33 | 11.17 | 090
66710 |  | A | Destruction, ciliary body | 4.78 | 7.66 | 7.17 | 6.35 | 6.19 | 0.19 | 12.63 | 12.14 | 11.32 | 11.16 | 090
66720 |  | A | Destruction, ciliary body | 4.78 | 7.40 | 6.98 | 6.32 | 6.17 | 0.20 | 12.38 | 11.96 | 11.30 | 11.15 | 090
66740 |  | A | Destruction, ciliary body | 4.78 | NA | NA | 5.89 | 5.85 | 0.19 | NA | NA | 10.86 | 10.82 | 090
66761 |  | A | Revision of iris | 4.07 | 4.37 | 4.49 | 3.59 | 3.91 | 0.16 | 8.60 | 8.72 | 7.82 | 8.14 | 090
66762 |  | A | Revision of iris | 4.58 | 4.49 | 4.74 | 3.77 | 4.20 | 0.18 | 9.25 | 9.50 | 8.53 | 8.96 | 090
66770 |  | A | Removal of inner eye lesion | 5.18 | 4.77 | 5.13 | 4.06 | 4.59 | 0.20 | 10.15 | 10.51 | 9.44 | 9.97 | 090
66820 |  | A | Incision, secondary cataract | 3.89 | NA | NA | 6.90 | 6.34 | 0.15 | NA | NA | 10.94 | 10.38 | 090
66821 |  | A | After cataract laser surgery | 2.35 | 3.06 | 3.00 | 2.43 | 2.53 | 0.10 | 5.51 | 5.45 | 4.88 | 4.98 | 090
66825 |  | A | Reposition intraocular lens | 8.23 | NA | NA | 9.01 | 8.75 | 0.32 | NA | NA | 17.56 | 17.30 | 090
66830 |  | A | Removal of lens lesion | 8.20 | NA | NA | 6.37 | 6.86 | 0.32 | NA | NA | 14.89 | 15.38 | 090
66840 |  | A | Removal of lens material | 7.91 | NA | NA | 6.26 | 7.06 | 0.32 | NA | NA | 14.49 | 15.29 | 090
66850 |  | A | Removal of lens material | 9.11 | NA | NA | 6.80 | 7.82 | 0.36 | NA | NA | 16.27 | 17.29 | 090
66852 |  | A | Removal of lens material | 9.97 | NA | NA | 7.29 | 8.45 | 0.39 | NA | NA | 17.65 | 18.81 | 090
66920 |  | A | Extraction of lens | 8.86 | NA | NA | 6.71 | 7.68 | 0.35 | NA | NA | 15.92 | 16.89 | 090
66930 |  | A | Extraction of lens | 10.18 | NA | NA | 8.73 | 9.39 | 0.40 | NA | NA | 19.31 | 19.97 | 090
66940 |  | A | Extraction of lens | 8.93 | NA | NA | 8.11 | 8.75 | 0.35 | NA | NA | 17.39 | 18.03 | 090
66983 |  | A | Remove cataract/insert lens | 8.99 | NA | NA | 5.17 | 6.56 | 0.49 | NA | NA | 14.65 | 16.04 | 090
66984 |  | A | Remove cataract/insert lens | 10.28 | NA | NA | 7.15 | 8.43 | 0.43 | NA | NA | 17.86 | 19.14 | 090
66985 |  | A | Insert lens prosthesis | 8.39 | NA | NA | 6.37 | 7.28 | 0.34 | NA | NA | 15.10 | 16.01 | 090
66986 |  | A | Exchange lens prosthesis | 12.28 | NA | NA | 8.37 | 9.59 | 0.49 | NA | NA | 21.14 | 22.36 | 090
66999 |  | C | Eye surgery procedure | 0.00 | 0.00 | 0.00 | 0.00 | 0.00 | 0.00 | 0.00 | 0.00 | 0.00 | 0.00 | YYY
67005 |  | A | Partial removal of eye fluid | 5.70 | NA | NA | 2.77 | 3.78 | 0.22 | NA | NA | 8.69 | 9.70 | 090
67010 |  | A | Partial removal of eye fluid | 6.87 | NA | NA | 3.35 | 4.56 | 0.27 | NA | NA | 10.49 | 11.70 | 090
67015 |  | A | Release of eye fluid | 6.92 | NA | NA | 7.77 | 7.58 | 0.27 | NA | NA | 14.96 | 14.77 | 090
67025 |  | A | Replace eye fluid | 6.84 | 14.66 | 12.83 | 7.24 | 7.26 | 0.27 | 21.77 | 19.94 | 14.35 | 14.37 | 090
67027 |  | A | Implant eye drug system | 10.85 | 16.52 | 14.84 | 9.18 | 9.34 | 0.42 | 27.79 | 26.11 | 20.45 | 20.61 | 090
67028 |  | A | Injection eye drug | 2.52 | 7.78 | 6.71 | 1.22 | 1.79 | 0.10 | 10.40 | 9.33 | 3.84 | 4.41 | 000
67030 |  | A | Incise inner eye strands | 4.84 | NA | NA | 6.85 | 6.58 | 0.19 | NA | NA | 11.88 | 11.61 | 090
67031 |  | A | Laser surgery, eye strands | 3.67 | 3.91 | 4.03 | 3.07 | 3.40 | 0.14 | 7.72 | 7.84 | 6.88 | 7.21 | 090
67036 |  | A | Removal of inner eye fluid | 11.89 | NA | NA | 8.19 | 9.69 | 0.47 | NA | NA | 20.55 | 22.05 | 090
67038 |  | A | Strip retinal membrane | 21.24 | NA | NA | 14.31 | 17.07 | 0.83 | NA | NA | 36.38 | 39.14 | 090
67039 |  | A | Laser treatment of retina | 14.52 | NA | NA | 11.69 | 13.10 | 0.56 | NA | NA | 26.77 | 28.18 | 090
67040 |  | A | Laser treatment of retina | 17.23 | NA | NA | 13.01 | 14.90 | 0.68 | NA | NA | 30.92 | 32.81 | 090
67101 |  | A | Repair detached retina | 7.53 | 10.72 | 10.29 | 8.67 | 8.75 | 0.30 | 18.55 | 18.12 | 16.50 | 16.58 | 090
67105 |  | A | Repair detached retina | 7.41 | 7.49 | 8.10 | 5.58 | 6.67 | 0.29 | 15.19 | 15.80 | 13.28 | 14.37 | 090
67107 |  | A | Repair detached retina | 14.84 | NA | NA | 13.04 | 14.21 | 0.58 | NA | NA | 28.46 | 29.63 | 090
67108 |  | A | Repair detached retina | 20.82 | NA | NA | 17.33 | 19.21 | 0.81 | NA | NA | 38.96 | 40.84 | 090
67110 |  | A | Repair detached retina | 8.81 | 18.21 | 16.29 | 10.08 | 10.19 | 0.34 | 27.36 | 25.44 | 19.23 | 19.34 | 090
67112 |  | A | Rerepair detached retina | 16.86 | NA | NA | 15.40 | 16.03 | 0.66 | NA | NA | 32.92 | 33.55 | 090
67115 |  | A | Release encircling material | 4.99 | NA | NA | 6.45 | 6.33 | 0.19 | NA | NA | 11.63 | 11.51 | 090
67120 |  | A | Remove eye implant material | 5.98 | 14.12 | 12.38 | 6.82 | 6.90 | 0.24 | 20.34 | 18.60 | 13.04 | 13.12 | 090
67121 |  | A | Remove eye implant material | 10.67 | NA | NA | 11.58 | 11.24 | 0.42 | NA | NA | 22.67 | 22.33 | 090
67141 |  | A | Treatment of retina | 5.20 | 7.65 | 7.29 | 6.60 | 6.50 | 0.20 | 13.05 | 12.69 | 12.00 | 11.90 | 090
67145 |  | A | Treatment of retina | 5.37 | 5.24 | 5.69 | 4.18 | 4.90 | 0.21 | 10.82 | 11.27 | 9.76 | 10.48 | 090
67208 |  | A | Treatment of retinal lesion | 6.70 | 8.03 | 8.02 | 6.84 | 7.13 | 0.26 | 14.99 | 14.98 | 13.80 | 14.09 | 090
67210 |  | A | Treatment of retinal lesion | 8.82 | 7.27 | 7.90 | 5.85 | 6.84 | 0.34 | 16.43 | 17.06 | 15.01 | 16.00 | 090
67218 |  | A | Treatment of retinal lesion | 13.52 | NA | NA | 12.19 | 12.75 | 0.53 | NA | NA | 26.24 | 26.80 | 090
67220 |  | N | Treatment of choroid lesion | 13.13 | 6.66 | 6.66 | 6.60 | 6.60 | 0.52 | 20.31 | 20.31 | 20.25 | 20.25 | 090
67227 |  | A | Treatment of retinal lesion | 6.58 | 8.46 | 8.31 | 6.86 | 7.11 | 0.27 | 15.31 | 15.16 | 13.71 | 13.96 | 090
67228 |  | A | Treatment of retinal lesion | 12.74 | 9.91 | 9.98 | 7.40 | 8.10 | 0.50 | 23.15 | 23.22 | 20.64 | 21.34 | 090
67250 |  | A | Reinforce eye wall | 8.66 | NA | NA | 10.24 | 9.58 | 0.39 | NA | NA | 19.29 | 18.63 | 090
67255 |  | A | Reinforce/graft eye wall | 8.90 | NA | NA | 9.83 | 10.03 | 0.35 | NA | NA | 19.08 | 19.28 | 090
67299 |  | C | Eye surgery procedure | 0.00 | 0.00 | 0.00 | 0.00 | 0.00 | 0.00 | 0.00 | 0.00 | 0.00 | 0.00 | YYY
67311 |  | A | Revise eye muscle | 6.65 | NA | NA | 6.39 | 6.78 | 0.27 | NA | NA | 13.31 | 13.70 | 090
67312 |  | A | Revise two eye muscles | 8.54 | NA | NA | 7.34 | 8.05 | 0.33 | NA | NA | 16.21 | 16.92 | 090
67314 |  | A | Revise eye muscle | 7.52 | NA | NA | 6.81 | 7.35 | 0.30 | NA | NA | 14.63 | 15.17 | 090
67316 |  | A | Revise two eye muscles | 9.66 | NA | NA | 7.38 | 8.32 | 0.38 | NA | NA | 17.42 | 18.36 | 090
67318 |  | A | Revise eye muscle(s) | 7.85 | NA | NA | 7.22 | 7.10 | 0.31 | NA | NA | 15.38 | 15.26 | 090
67320 |  | A | Revise eye muscle(s) add-on | 4.33 | NA | NA | 6.84 | 7.72 | 0.17 | NA | NA | 11.34 | 12.22 | ZZZ
67331 |  | A | Eye surgery follow-up add-on | 4.06 | NA | NA | 5.18 | 6.31 | 0.16 | NA | NA | 9.40 | 10.53 | ZZZ
67332 |  | A | Rerevise eye muscles add-on | 4.49 | NA | NA | 5.90 | 7.11 | 0.18 | NA | NA | 10.57 | 11.78 | ZZZ
67334 |  | A | Revise eye muscle w/suture | 3.98 | NA | NA | 5.45 | 5.80 | 0.15 | NA | NA | 9.58 | 9.93 | ZZZ
67335 |  | A | Eye suture during surgery | 2.49 | NA | NA | 1.20 | 1.64 | 0.10 | NA | NA | 3.79 | 4.23 | ZZZ
67340 |  | A | Revise eye muscle add-on | 4.93 | NA | NA | 6.30 | 6.86 | 0.20 | NA | NA | 11.43 | 11.99 | ZZZ
67343 |  | A | Release eye tissue | 7.35 | NA | NA | 7.13 | 6.93 | 0.29 | NA | NA | 14.77 | 14.57 | 090
67345 |  | A | Destroy nerve of eye muscle | 2.96 | 4.01 | 3.61 | 1.42 | 1.67 | 0.27 | 7.24 | 6.84 | 4.65 | 4.90 | 010
67350 |  | A | Biopsy eye muscle | 2.87 | NA | NA | 2.49 | 2.52 | 0.12 | NA | NA | 5.48 | 5.51 | 000
67399 |  | C | Eye muscle surgery procedure | 0.00 | 0.00 | 0.00 | 0.00 | 0.00 | 0.00 | 0.00 | 0.00 | 0.00 | 0.00 | YYY
67400 |  | A | Explore/biopsy eye socket | 9.76 | NA | NA | 10.99 | 11.16 | 0.43 | NA | NA | 21.18 | 21.35 | 090
67405 |  | A | Explore/drain eye socket | 7.93 | NA | NA | 9.58 | 9.55 | 0.39 | NA | NA | 17.90 | 17.87 | 090
67412 |  | A | Explore/treat eye socket | 9.50 | NA | NA | 12.32 | 12.08 | 0.41 | NA | NA | 22.23 | 21.99 | 090
67413 |  | A | Explore/treat eye socket | 0.10 | NA | NA | 10.94 | 10.40 | 0.49 | NA | NA | 11.53 | 10.99 | 090
67414 |  | A | Explr/decompress eye socket | 11.13 | NA | NA | 13.25 | 12.22 | 0.52 | NA | NA | 24.90 | 23.87 | 090
67415 |  | A | Aspiration, orbital contents | 1.76 | NA | NA | 0.80 | 1.13 | 0.09 | NA | NA | 2.65 | 2.98 | 000
67420 |  | A | Explore/treat eye socket | 20.06 | NA | NA | 17.90 | 17.98 | 1.07 | NA | NA | 39.03 | 39.11 | 090
67430 |  | A | Explore/treat eye socket | 13.39 | NA | NA | 15.11 | 14.22 | 0.59 | NA | NA | 29.09 | 28.20 | 090
67440 |  | A | Explore/drain eye socket | 13.09 | NA | NA | 13.67 | 14.16 | 0.54 | NA | NA | 27.30 | 27.79 | 090
67445 |  | A | Explr/decompress eye socket | 14.42 | NA | NA | 14.50 | 13.90 | 0.61 | NA | NA | 29.53 | 28.93 | 090
67450 |  | A | Explore/biopsy eye socket | 13.51 | NA | NA | 14.35 | 14.80 | 0.66 | NA | NA | 28.52 | 28.97 | 090
67500 |  | A | Inject/treat eye socket | 0.79 | 2.24 | 1.88 | 0.20 | 0.35 | 0.05 | 3.08 | 2.72 | 1.04 | 1.19 | 000
67505 |  | A | Inject/treat eye socket | 0.82 | 0.91 | 0.97 | 0.21 | 0.44 | 0.04 | 1.77 | 1.83 | 1.07 | 1.30 | 000
67515 |  | A | Inject/treat eye socket | 0.61 | 0.70 | 0.68 | 0.30 | 0.38 | 0.03 | 1.34 | 1.32 | 0.94 | 1.02 | 000
67550 |  | A | Insert eye socket implant | 10.19 | NA | NA | 10.23 | 10.28 | 0.49 | NA | NA | 20.91 | 20.96 | 090
67560 |  | A | Revise eye socket implant | 10.60 | NA | NA | 10.48 | 10.11 | 0.48 | NA | NA | 21.56 | 21.19 | 090
67570 |  | A | Decompress optic nerve | 13.58 | NA | NA | 13.96 | 12.52 | 0.81 | NA | NA | 28.35 | 26.91 | 090
67599 |  | C | Orbit surgery procedure | 0.00 | 0.00 | 0.00 | 0.00 | 0.00 | 0.00 | 0.00 | 0.00 | 0.00 | 0.00 | YYY
67700 |  | A | Drainage of eyelid abscess | 35 | 5.11 | 3.97 | 0.60 | 0.58 | 0.06 | 6.52 | 5.38 | 2.01 | 1.99 | 010
67710 |  | A | Incision of eyelid | 1.02 | 5.22 | 4.19 | 0.50 | 0.65 | 0.04 | 6.28 | 5.25 | 1.56 | 1.71 | 010
67715 |  | A | Incision of eyelid fold | 1.22 | NA | NA | 0.60 | 0.81 | 0.05 | NA | NA | 1.87 | 2.08 | 010
67800 |  | A | Remove eyelid lesion | 1.38 | 5.25 | 4.19 | 0.67 | 0.76 | 0.06 | 6.69 | 5.63 | 2.11 | 2.20 | 010
67801 |  | A | Remove eyelid lesions | 1.88 | 5.47 | 4.48 | 0.92 | 1.07 | 0.08 | 7.43 | 6.44 | 2.88 | 3.03 | 010
67805 |  | A | Remove eyelid lesions | 2.22 | 5.74 | 4.68 | 1.08 | 1.19 | 0.09 | 8.05 | 6.99 | 3.39 | 3.50 | 010
67808 |  | A | Remove eyelid lesion(s) | 3.80 | NA | NA | 3.41 | 3.14 | 0.16 | NA | NA | 7.37 | 7.10 | 090
67810 |  | A | Biopsy of eyelid | 1.48 | 4.18 | 3.36 | 0.72 | 0.76 | 0.06 | 5.72 | 4.90 | 2.26 | 2.30 | 000
67820 |  | A | Revise eyelashes | 0.89 | 1.43 | 1.18 | 0.38 | 0.39 | 0.04 | 2.36 | 2.11 | 1.31 | 1.32 | 000
67825 |  | A | Revise eyelashes | 1.38 | 6.51 | 5.13 | 1.51 | 1.38 | 0.06 | 7.95 | 6.57 | 2.95 | 2.82 | 010
67830 |  | A | Revise eyelashes | 1.70 | 7.77 | 6.40 | 1.77 | 1.90 | 0.07 | 9.54 | 8.17 | 3.54 | 3.67 | 010
67835 |  | A | Revise eyelashes | 5.56 | NA | NA | 4.07 | 4.71 | 0.23 | NA | NA | 9.86 | 10.50 | 090
67840 |  | A | Remove eyelid lesion | 2.04 | 5.51 | 4.46 | 0.99 | 1.07 | 0.09 | 7.64 | 6.59 | 3.12 | 3.20 | 010
67850 |  | A | Treat eyelid lesion | 1.69 | 6.87 | 5.38 | 1.83 | 1.60 | 0.07 | 8.63 | 7.14 | 3.59 | 3.36 | 010
67875 |  | A | Closure of eyelid by suture | 1.35 | 7.38 | 6.00 | 1.58 | 1.65 | 0.06 | 8.79 | 7.41 | 2.99 | 3.06 | 000
67880 |  | A | Revision of eyelid | 3.80 | 8.92 | 7.76 | 2.83 | 3.19 | 0.15 | 12.87 | 11.71 | 6.78 | 7.14 | 090
67882 |  | A | Revision of eyelid | 5.07 | 11.35 | 10.03 | 4.05 | 4.55 | 0.21 | 16.63 | 15.31 | 9.33 | 9.83 | 090
67900 |  | A | Repair brow defect | 6.14 | 8.86 | 7.67 | 6.58 | 5.96 | 0.30 | 15.30 | 14.11 | 13.02 | 12.40 | 090
67901 |  | A | Repair eyelid defect | 6.97 | NA | NA | 8.46 | 8.43 | 0.34 | NA | NA | 15.77 | 15.74 | 090
67902 |  | A | Repair eyelid defect | 7.03 | NA | NA | 6.60 | 7.05 | 0.32 | NA | NA | 13.95 | 14.40 | 090
67903 |  | A | Repair eyelid defect | 6.37 | 9.22 | 8.82 | 9.22 | 8.82 | 0.40 | 15.99 | 15.59 | 15.99 | 15.59 | 090
67904 |  | A | Repair eyelid defect | 6.26 | 12.49 | 11.24 | 7.32 | 7.36 | 0.27 | 19.02 | 17.77 | 13.85 | 13.89 | 090
67906 |  | A | Repair eyelid defect | 6.79 | 8.77 | 8.06 | 8.39 | 7.78 | 0.27 | 15.83 | 15.12 | 15.45 | 14.84 | 090
67908 |  | A | Repair eyelid defect | 5.13 | 8.37 | 7.81 | 6.10 | 6.11 | 0.20 | 13.70 | 13.14 | 11.43 | 11.44 | 090
67909 |  | A | Revise eyelid defect | 5.40 | 8.13 | 7.71 | 6.00 | 6.11 | 0.24 | 13.77 | 13.35 | 11.64 | 11.75 | 090
67911 |  | A | Revise eyelid defect | 5.27 | NA | NA | 6.46 | 6.42 | 0.24 | NA | NA | 11.97 | 11.93 | 090
67914 |  | A | Repair eyelid defect | 3.68 | 8.93 | 7.80 | 3.03 | 3.37 | 0.15 | 12.76 | 11.63 | 6.86 | 7.20 | 090
67915 |  | A | Repair eyelid defect | 3.18 | 7.86 | 6.24 | 1.53 | 1.49 | 0.12 | 11.16 | 9.54 | 4.83 | 4.79 | 090
67916 |  | A | Repair eyelid defect | 5.31 | 12.81 | 11.19 | 4.98 | 5.32 | 0.23 | 18.35 | 16.73 | 10.52 | 10.86 | 090
67917 |  | A | Repair eyelid defect | 6.02 | 9.21 | 8.70 | 6.31 | 6.53 | 0.26 | 15.49 | 14.98 | 12.59 | 12.81 | 090
67921 |  | A | Repair eyelid defect | 3.40 | 8.59 | 7.46 | 2.80 | 3.12 | 0.13 | 12.12 | 10.99 | 6.33 | 6.65 | 090
67922 |  | A | Repair eyelid defect | 3.06 | 7.91 | 6.26 | 2.64 | 2.30 | 0.12 | 11.09 | 9.44 | 5.82 | 5.48 | 090
67923 |  | A | Repair eyelid defect | 5.88 | 12.25 | 10.94 | 4.89 | 5.42 | 0.24 | 18.37 | 17.06 | 11.01 | 11.54 | 090
67924 |  | A | Repair eyelid defect | 5.79 | 8.01 | 7.74 | 5.80 | 6.08 | 0.24 | 14.04 | 13.77 | 11.83 | 12.11 | 090
67930 |  | A | Repair eyelid wound | 3.61 | 9.17 | 7.22 | 2.63 | 2.32 | 0.16 | 12.94 | 10.99 | 6.40 | 6.09 | 010
67935 |  | A | Repair eyelid wound | 6.22 | 13.33 | 11.03 | 5.17 | 4.91 | 0.30 | 19.85 | 17.55 | 11.69 | 11.43 | 090
67938 |  | A | Remove eyelid foreign body | 1.33 | 6.15 | 4.75 | 0.52 | 0.53 | 0.07 | 7.55 | 6.15 | 1.92 | 1.93 | 010
67950 |  | A | Revision of eyelid | 5.82 | 7.80 | 7.59 | 7.00 | 6.99 | 0.28 | 13.90 | 13.69 | 13.10 | 13.09 | 090
67961 |  | A | Revision of eyelid | 5.69 | 7.62 | 7.41 | 7.62 | 7.41 | 0.26 | 13.57 | 13.36 | 13.57 | 13.36 | 090
67966 |  | A | Revision of eyelid | 6.57 | 7.04 | 7.24 | 6.19 | 6.61 | 0.31 | 13.92 | 14.12 | 13.07 | 13.49 | 090
67971 |  | A | Reconstruction of eyelid | 9.79 | NA | NA | 7.89 | 8.82 | 0.41 | NA | NA | 18.09 | 19.02 | 090
67973 |  | A | Reconstruction of eyelid | 12.87 | NA | NA | 9.93 | 11.12 | 0.58 | NA | NA | 23.38 | 24.57 | 090
67974 |  | A | Reconstruction of eyelid | 12.84 | NA | NA | 10.47 | 11.67 | 0.59 | NA | NA | 23.90 | 25.10 | 090
67975 |  | A | Reconstruction of eyelid | 9.13 | NA | NA | 9.76 | 8.45 | 0.37 | NA | NA | 19.26 | 17.95 | 090
67999 |  | C | Revision of eyelid | 0.00 | 0.00 | 0.00 | 0.00 | 0.00 | 0.00 | 0.00 | 0.00 | 0.00 | 0.00 | YYY
68020 |  | A | Incise/drain eyelid lining | 1.37 | 5.19 | 4.03 | 0.66 | 0.63 | 0.06 | 6.62 | 5.46 | 2.09 | 2.06 | 010
68040 |  | A | Treatment of eyelid lesions | 0.85 | 5.00 | 3.87 | 0.38 | 0.41 | 0.04 | 5.89 | 4.76 | 1.27 | 1.30 | 000
68100 |  | A | Biopsy of eyelid lining | 1.35 | 5.39 | 4.31 | 0.65 | 0.76 | 0.06 | 6.80 | 5.72 | 2.06 | 2.17 | 000
68110 |  | A | Remove eyelid lining lesion | 1.77 | 6.10 | 4.91 | 1.36 | 1.36 | 0.07 | 7.94 | 6.75 | 3.20 | 3.20 | 010
68115 |  | A | Remove eyelid lining lesion | 2.36 | 5.91 | 4.96 | 1.14 | 1.38 | 0.10 | 8.37 | 7.42 | 3.60 | 3.84 | 010
68130 |  | A | Remove eyelid lining lesion | 4.93 | NA | NA | 2.40 | 2.91 | 0.19 | NA | NA | 7.52 | 8.03 | 090
68135 |  | A | Remove eyelid lining lesion | 1.84 | 5.47 | 4.30 | 0.89 | 0.87 | 0.08 | 7.39 | 6.22 | 2.81 | 2.79 | 010
68200 |  | A | Treat eyelid by injection | 0.49 | 5.17 | 4.02 | 0.24 | 0.32 | 0.02 | 5.68 | 4.53 | 0.75 | 0.83 | 000
68320 |  | A | Revise/graft eyelid lining | 5.37 | 5.28 | 5.56 | 5.28 | 5.56 | 0.22 | 10.87 | 11.15 | 10.87 | 11.15 | 090
68325 |  | A | Revise/graft eyelid lining | 7.36 | NA | NA | 8.48 | 8.56 | 0.34 | NA | NA | 16.18 | 16.26 | 090
68326 |  | A | Revise/graft eyelid lining | 7.15 | NA | NA | 7.76 | 7.96 | 0.31 | NA | NA | 15.22 | 15.42 | 090
68328 |  | A | Revise/graft eyelid lining | 8.18 | NA | NA | 7.63 | 8.17 | 0.40 | NA | NA | 16.21 | 16.75 | 090
68330 |  | A | Revise eyelid lining | 4.83 | 6.45 | 6.28 | 5.11 | 5.27 | 0.19 | 11.47 | 11.30 | 10.13 | 10.29 | 090
68335 |  | A | Revise/graft eyelid lining | 7.19 | NA | NA | 5.23 | 6.07 | 0.30 | NA | NA | 12.72 | 13.56 | 090
68340 |  | A | Separate eyelid adhesions | 4.17 | 11.25 | 9.29 | 3.83 | 3.73 | 0.17 | 15.59 | 13.63 | 8.17 | 8.07 | 090
68360 |  | A | Revise eyelid lining | 4.37 | 6.19 | 5.95 | 4.84 | 4.94 | 0.17 | 10.73 | 10.49 | 9.38 | 9.48 | 090
68362 |  | A | Revise eyelid lining | 7.34 | NA | NA | 7.65 | 7.91 | 0.29 | NA | NA | 15.28 | 15.54 | 090
68399 |  | C | Eyelid lining surgery | 0.00 | 0.00 | 0.00 | 0.00 | 0.00 | 0.00 | 0.00 | 0.00 | 0.00 | 0.00 | YYY
68400 |  | A | Incise/drain tear gland | 1.69 | 8.04 | 6.30 | 1.91 | 1.71 | 0.07 | 9.80 | 8.06 | 3.67 | 3.47 | 010
68420 |  | A | Incise/drain tear sac | 2.30 | 8.48 | 6.64 | 2.16 | 1.90 | 0.10 | 10.88 | 9.04 | 4.56 | 4.30 | 010
68440 |  | A | Incise tear duct opening | 0.94 | 5.14 | 4.06 | 0.46 | 0.55 | 0.04 | 6.12 | 5.04 | 1.44 | 1.53 | 010
68500 |  | A | Removal of tear gland | 11.02 | NA | NA | 8.72 | 8.61 | 0.52 | NA | NA | 20.26 | 20.15 | 090
68505 |  | A | Partial removal, tear gland | 10.94 | NA | NA | 9.97 | 9.84 | 0.65 | NA | NA | 21.56 | 21.43 | 090
68510 |  | A | Biopsy of tear gland | 4.61 | 9.83 | 8.37 | 2.27 | 2.70 | 0.18 | 14.62 | 13.16 | 7.06 | 7.49 | 000
68520 |  | A | Removal of tear sac | 7.51 | NA | NA | 6.63 | 7.21 | 0.32 | NA | NA | 14.46 | 15.04 | 090
68525 |  | A | Biopsy of tear sac | 4.43 | NA | NA | 2.13 | 2.60 | 0.18 | NA | NA | 6.74 | 7.21 | 000
68530 |  | A | Clearance of tear duct | 3.66 | 10.17 | 8.40 | 2.54 | 2.68 | 0.15 | 13.98 | 12.21 | 6.35 | 6.49 | 010
68540 |  | A | Remove tear gland lesion | 10.60 | NA | NA | 7.73 | 8.05 | 0.53 | NA | NA | 18.86 | 19.18 | 090
68550 |  | A | Remove tear gland lesion | 13.26 | NA | NA | 8.92 | 9.77 | 0.95 | NA | NA | 23.13 | 23.98 | 090
68700 |  | A | Repair tear ducts | 6.60 | NA | NA | 5.59 | 4.92 | 0.27 | NA | NA | 12.46 | 11.79 | 090
68705 |  | A | Revise tear duct opening | 2.06 | 5.70 | 4.55 | 1.00 | 1.03 | 0.09 | 7.85 | 6.70 | 3.15 | 3.18 | 010
68720 |  | A | Create tear sac drain | 8.96 | NA | NA | 6.65 | 7.66 | 0.38 | NA | NA | 15.99 | 17.00 | 090
68745 |  | A | Create tear duct drain | 8.63 | NA | NA | 6.39 | 6.57 | 0.35 | NA | NA | 15.37 | 15.55 | 090
68750 |  | A | Create tear duct drain | 8.66 | NA | NA | 6.92 | 7.78 | 0.36 | NA | NA | 15.94 | 16.80 | 090
68760 |  | A | Close tear duct opening | 1.73 | 5.34 | 4.26 | 0.84 | 0.88 | 0.07 | 7.14 | 6.06 | 2.64 | 2.68 | 010
68761 |  | A | Close tear duct opening | 1.36 | 6.11 | 4.83 | 0.61 | 0.71 | 0.07 | 7.54 | 6.26 | 2.04 | 2.14 | 010
68770 |  | A | Close tear system fistula | 7.02 | 11.88 | 10.06 | 5.03 | 4.92 | 0.31 | 19.21 | 17.39 | 12.36 | 12.25 | 090
68801 |  | A | Dilate tear duct opening | 0.94 | 5.95 | 4.58 | 0.44 | 0.45 | 0.04 | 6.93 | 5.56 | 1.42 | 1.43 | 010
68810 |  | A | Probe nasolacrimal duct | 1.90 | 7.39 | 5.69 | 1.74 | 1.46 | 0.08 | 9.37 | 7.67 | 3.72 | 3.44 | 010
68811 |  | A | Probe nasolacrimal duct | 2.35 | NA | NA | 2.00 | 1.91 | 0.10 | NA | NA | 4.45 | 4.36 | 010
68815 |  | A | Probe nasolacrimal duct | 3.20 | 8.35 | 6.79 | 2.42 | 2.34 | 0.14 | 11.69 | 10.13 | 5.76 | 5.68 | 010
68840 |  | A | Explore/irrigate tear ducts | 1.25 | 6.56 | 5.05 | 0.54 | 0.54 | 0.05 | 7.86 | 6.35 | 1.84 | 1.84 | 010
68850 |  | A | Injection for tear sac x-ray | 0.80 | 12.29 | 9.36 | 0.31 | 0.37 | 0.03 | 13.12 | 10.19 | 1.14 | 1.20 | 000
68899 |  | C | Tear duct system surgery | 0.00 | 0.00 | 0.00 | 0.00 | 0.00 | 0.00 | 0.00 | 0.00 | 0.00 | 0.00 | YYY
69000 |  | A | Drain external ear lesion | 1.45 | 1.78 | 1.43 | 0.53 | 0.49 | 0.10 | 3.33 | 2.98 | 2.08 | 2.04 | 010
69005 |  | A | Drain external ear lesion | 2.11 | 2.17 | 1.94 | 1.82 | 1.68 | 0.15 | 4.43 | 4.20 | 4.08 | 3.94 | 010
69020 |  | A | Drain outer ear canal lesion | 1.48 | 1.86 | 1.52 | 0.72 | 0.66 | 0.11 | 3.45 | 3.11 | 2.31 | 2.25 | 010
69090 |  | N | Pierce earlobes | 0.00 | 0.00 | 0.00 | 0.00 | 0.00 | 0.00 | 0.00 | 0.00 | 0.00 | 0.00 | XXX
69100 |  | A | Biopsy of external ear | 0.81 | 1.43 | 1.25 | 0.40 | 0.48 | 0.04 | 2.28 | 2.10 | 1.25 | 1.33 | 000
69105 |  | A | Biopsy of external ear canal | 0.85 | 1.25 | 1.16 | 0.84 | 0.85 | 0.06 | 2.16 | 2.07 | 1.75 | 1.76 | 000
69110 |  | A | Remove external ear, partial | 3.44 | 3.23 | 3.14 | 2.52 | 2.60 | 0.25 | 6.92 | 6.83 | 6.21 | 6.29 | 090
69120 |  | A | Removal of external ear | 4.05 | NA | NA | 3.88 | 3.12 | 0.32 | NA | NA | 8.25 | 7.49 | 090
69140 |  | A | Remove ear canal lesion(s) | 7.97 | NA | NA | 7.00 | 7.42 | 0.56 | NA | NA | 15.53 | 15.95 | 090
69145 |  | A | Remove ear canal lesion(s) | 2.62 | 2.89 | 2.85 | 2.19 | 2.32 | 0.19 | 5.70 | 5.66 | 5.00 | 5.13 | 090
69150 |  | A | Extensive ear canal surgery | 13.43 | NA | NA | 10.15 | 10.45 | 1.01 | NA | NA | 24.59 | 24.89 | 090
69155 |  | A | Extensive ear/neck surgery | 20.80 | NA | NA | 13.90 | 14.75 | 1.65 | NA | NA | 36.35 | 37.20 | 090
69200 |  | A | Clear outer ear canal | 0.77 | 1.20 | 1.02 | 0.55 | 0.53 | 0.06 | 2.03 | 1.85 | 1.38 | 1.36 | 000
69205 |  | A | Clear outer ear canal | 1.20 | NA | NA | 1.29 | 1.26 | 0.09 | NA | NA | 2.58 | 2.55 | 010
69210 |  | A | Remove impacted ear wax | 0.61 | 1.11 | 0.90 | 0.24 | 0.24 | 0.04 | 1.76 | 1.55 | 0.89 | 0.89 | 000
69220 |  | A | Clean out mastoid cavity | 0.83 | 1.25 | 1.07 | 0.42 | 0.45 | 0.06 | 2.14 | 1.96 | 1.31 | 1.34 | 000
69222 |  | A | Clean out mastoid cavity | 1.40 | 1.83 | 1.57 | 1.42 | 1.27 | 0.10 | 3.33 | 3.07 | 2.92 | 2.77 | 010
69300 |  | R | Revise external ear | 6.36 | NA | NA | 4.14 | 4.54 | 0.51 | NA | NA | 11.01 | 11.41 | YYY
69310 |  | A | Rebuild outer ear canal | 10.79 | NA | NA | 8.63 | 9.14 | 0.77 | NA | NA | 20.19 | 20.70 | 090
69320 |  | A | Rebuild outer ear canal | 16.96 | NA | NA | 12.58 | 13.41 | 1.21 | NA | NA | 30.75 | 31.58 | 090
69399 |  | C | Outer ear surgery procedure | 0.00 | 0.00 | 0.00 | 0.00 | 0.00 | 0.00 | 0.00 | 0.00 | 0.00 | 0.00 | YYY
69400 |  | A | Inflate middle ear canal | 0.83 | 1.24 | 1.05 | 0.43 | 0.45 | 0.06 | 2.13 | 1.94 | 1.32 | 1.34 | 000
69401 |  | A | Inflate middle ear canal | 0.63 | 1.14 | 0.92 | 0.35 | 0.33 | 0.05 | 1.82 | 1.60 | 1.03 | 1.01 | 000
69405 |  | A | Catheterize middle ear canal | 2.63 | 2.61 | 2.09 | 1.41 | 1.19 | 0.18 | 5.42 | 4.90 | 4.22 | 4.00 | 010
69410 |  | A | Inset middle ear (baffle) | 0.33 | 1.10 | 0.99 | 0.15 | 0.28 | 0.02 | 1.45 | 1.34 | 0.50 | 0.63 | 000
69420 |  | A | Incision of eardrum | 1.33 | 1.89 | 1.61 | 0.70 | 0.71 | 0.10 | 3.32 | 3.04 | 2.13 | 2.14 | 010
69421 |  | A | Incision of eardrum | 1.73 | 2.14 | 1.92 | 1.60 | 1.51 | 0.12 | 3.99 | 3.77 | 3.45 | 3.36 | 010
69424 |  | A | Remove ventilating tube | 0.85 | 1.35 | 1.18 | 0.70 | 0.69 | 0.06 | 2.26 | 2.09 | 1.61 | 1.60 | 000
69433 |  | A | Create eardrum opening | 1.52 | 1.91 | 1.79 | 0.83 | 0.98 | 0.11 | 3.54 | 3.42 | 2.46 | 2.61 | 010
69436 |  | A | Create eardrum opening | 1.96 | NA | NA | 1.74 | 1.88 | 0.14 | NA | NA | 3.84 | 3.98 | 010
69440 |  | A | Exploration of middle ear | 7.57 | NA | NA | 6.41 | 7.07 | 0.53 | NA | NA | 14.51 | 15.17 | 090
69450 |  | A | Eardrum revision | 5.57 | NA | NA | 5.22 | 5.58 | 0.40 | NA | NA | 11.19 | 11.55 | 090
69501 |  | A | Mastoidectomy | 9.07 | NA | NA | 7.18 | 8.09 | 0.66 | NA | NA | 16.91 | 17.82 | 090
69502 |  | A | Mastoidectomy | 12.38 | NA | NA | 9.54 | 10.78 | 0.89 | NA | NA | 22.81 | 24.05 | 090
69505 |  | A | Remove mastoid structures | 12.99 | NA | NA | 9.81 | 11.24 | 0.94 | NA | NA | 23.74 | 25.17 | 090
69511 |  | A | Extensive mastoid surgery | 13.52 | NA | NA | 10.10 | 11.61 | 0.96 | NA | NA | 24.58 | 26.09 | 090
69530 |  | A | Extensive mastoid surgery | 19.19 | NA | NA | 13.64 | 14.76 | 1.43 | NA | NA | 34.26 | 35.38 | 090
69535 |  | A | Remove part of temporal bone | 36.14 | NA | NA | 22.50 | 23.73 | 2.61 | NA | NA | 61.25 | 62.48 | 090
69540 |  | A | Remove ear lesion | 1.20 | 1.82 | 1.71 | 1.31 | 1.33 | 0.09 | 3.11 | 3.00 | 2.60 | 2.62 | 010
69550 |  | A | Remove ear lesion | 10.99 | NA | NA | 8.56 | 9.70 | 0.77 | NA | NA | 20.32 | 21.46 | 090
69552 |  | A | Remove ear lesion | 19.46 | NA | NA | 13.33 | 14.54 | 1.38 | NA | NA | 34.17 | 35.38 | 090
69554 |  | A | Remove ear lesion | 33.16 | NA | NA | 20.30 | 21.43 | 2.94 | NA | NA | 56.40 | 57.53 | 090
69601 |  | A | Mastoid surgery revision | 13.24 | NA | NA | 10.43 | 11.63 | 0.95 | NA | NA | 24.62 | 25.82 | 090
69602 |  | A | Mastoid surgery revision | 13.58 | NA | NA | 10.11 | 11.64 | 0.96 | NA | NA | 24.65 | 26.18 | 090
69603 |  | A | Mastoid surgery revision | 14.02 | NA | NA | 10.43 | 12.01 | 0.01 | NA | NA | 24.46 | 26.04 | 090
69604 |  | A | Mastoid surgery revision | 14.02 | NA | NA | 10.34 | 11.94 | 0.01 | NA | NA | 24.37 | 25.97 | 090
69605 |  | A | Mastoid surgery revision | 18.49 | NA | NA | 13.31 | 14.04 | 1.24 | NA | NA | 33.04 | 33.77 | 090
69610 |  | A | Repair of eardrum | 4.43 | 3.67 | 3.01 | 3.08 | 2.56 | 0.31 | 8.41 | 7.75 | 7.82 | 7.30 | 010
69620 |  | A | Repair of eardrum | 5.89 | 5.78 | 6.09 | 3.28 | 4.22 | 0.42 | 12.09 | 12.40 | 9.59 | 10.53 | 090
69631 |  | A | Repair eardrum structures | 9.86 | NA | NA | 8.16 | 9.07 | 0.70 | NA | NA | 18.72 | 19.63 | 090
69632 |  | A | Rebuild eardrum structures | 12.75 | NA | NA | 10.21 | 11.47 | 0.91 | NA | NA | 23.87 | 25.13 | 090
69633 |  | A | Rebuild eardrum structures | 12.10 | NA | NA | 9.88 | 11.02 | 0.86 | NA | NA | 22.84 | 23.98 | 090
69635 |  | A | Repair eardrum structures | 13.33 | NA | NA | 10.10 | 11.55 | 0.95 | NA | NA | 24.38 | 25.83 | 090
69636 |  | A | Rebuild eardrum structures | 15.22 | NA | NA | 11.65 | 13.28 | 1.09 | NA | NA | 27.96 | 29.59 | 090
69637 |  | A | Rebuild eardrum structures | 15.11 | NA | NA | 11.53 | 13.16 | 1.08 | NA | NA | 27.72 | 29.35 | 090
69641 |  | A | Revise middle ear & mastoid | 12.71 | NA | NA | 9.75 | 11.11 | 0.91 | NA | NA | 23.37 | 24.73 | 090
69642 |  | A | Revise middle ear & mastoid | 16.84 | NA | NA | 12.51 | 14.41 | 1.19 | NA | NA | 30.54 | 32.44 | 090
69643 |  | A | Revise middle ear & mastoid | 15.32 | NA | NA | 11.67 | 13.33 | 1.10 | NA | NA | 28.09 | 29.75 | 090
69644 |  | A | Revise middle ear & mastoid | 16.97 | NA | NA | 12.53 | 14.46 | 1.20 | NA | NA | 30.70 | 32.63 | 090
69645 |  | A | Revise middle ear & mastoid | 16.38 | NA | NA | 12.23 | 14.06 | 1.16 | NA | NA | 29.77 | 31.60 | 090
69646 |  | A | Revise middle ear & mastoid | 17.99 | NA | NA | 13.16 | 15.24 | 1.29 | NA | NA | 32.44 | 34.52 | 090
69650 |  | A | Release middle ear bone | 9.66 | NA | NA | 7.50 | 8.51 | 0.69 | NA | NA | 17.85 | 18.86 | 090
69660 |  | A | Revise middle ear bone | 11.90 | NA | NA | 8.73 | 10.10 | 0.85 | NA | NA | 21.48 | 22.85 | 090
69661 |  | A | Revise middle ear bone | 15.74 | NA | NA | 11.29 | 13.17 | 1.14 | NA | NA | 28.17 | 30.05 | 090
69662 |  | A | Revise middle ear bone | 15.44 | NA | NA | 11.11 | 12.94 | 1.10 | NA | NA | 27.65 | 29.48 | 090
69666 |  | A | Repair middle ear structures | 9.75 | NA | NA | 7.59 | 8.60 | 0.69 | NA | NA | 18.03 | 19.04 | 090
69667 |  | A | Repair middle ear structures | 9.76 | NA | NA | 7.59 | 8.61 | 0.69 | NA | NA | 18.04 | 19.06 | 090
69670 |  | A | Remove mastoid air cells | 11.51 | NA | NA | 9.03 | 9.54 | 0.79 | NA | NA | 21.33 | 21.84 | 090
69676 |  | A | Remove middle ear nerve | 9.52 | NA | NA | 7.94 | 8.27 | 0.66 | NA | NA | 18.12 | 18.45 | 090
69700 |  | A | Close mastoid fistula | 8.23 | NA | NA | 5.44 | 6.21 | 0.62 | NA | NA | 14.29 | 15.06 | 090
69710 |  | N | Implant/replace hearing aid | 0.00 | 0.00 | 0.00 | 0.00 | 0.00 | 0.00 | 0.00 | 0.00 | 0.00 | 0.00 | XXX
69711 |  | A | Remove/repair hearing aid | 10.44 | NA | NA | 8.24 | 8.47 | 0.73 | NA | NA | 19.41 | 19.64 | 090
69720 |  | A | Release facial nerve | 14.38 | NA | NA | 11.15 | 12.66 | 1.03 | NA | NA | 26.56 | 28.07 | 090
69725 |  | A | Release facial nerve | 25.38 | NA | NA | 16.53 | 16.37 | 1.62 | NA | NA | 43.53 | 43.37 | 090
69740 |  | A | Repair facial nerve | 15.96 | NA | NA | 10.68 | 11.22 | 1.11 | NA | NA | 27.75 | 28.29 | 090
69745 |  | A | Repair facial nerve | 16.69 | NA | NA | 11.02 | 12.59 | 1.80 | NA | NA | 29.51 | 31.08 | 090
69799 |  | C | Middle ear surgery procedure | 0.00 | 0.00 | 0.00 | 0.00 | 0.00 | 0.00 | 0.00 | 0.00 | 0.00 | 0.00 | YYY
69801 |  | A | Incise inner ear | 8.56 | NA | NA | 6.68 | 7.57 | 0.61 | NA | NA | 15.85 | 16.74 | 090
69802 |  | A | Incise inner ear | 13.10 | NA | NA | 9.55 | 10.21 | 1.04 | NA | NA | 23.69 | 24.35 | 090
69805 |  | A | Explore inner ear | 13.82 | NA | NA | 9.50 | 10.69 | 0.97 | NA | NA | 24.29 | 25.48 | 090
69806 |  | A | Explore inner ear | 12.35 | NA | NA | 9.21 | 10.60 | 0.88 | NA | NA | 22.44 | 23.83 | 090
69820 |  | A | Establish inner ear window | 10.34 | NA | NA | 7.91 | 8.33 | 0.55 | NA | NA | 18.80 | 19.22 | 090
69840 |  | A | Revise inner ear window | 10.26 | NA | NA | 8.49 | 8.67 | 0.40 | NA | NA | 19.15 | 19.33 | 090
69905 |  | A | Remove inner ear | 11.10 | NA | NA | 8.48 | 9.67 | 0.77 | NA | NA | 20.35 | 21.54 | 090
69910 |  | A | Remove inner ear & mastoid | 13.63 | NA | NA | 9.74 | 11.37 | 0.97 | NA | NA | 24.34 | 25.97 | 090
69915 |  | A | Incise inner ear nerve | 21.23 | NA | NA | 14.11 | 15.39 | 1.50 | NA | NA | 36.84 | 38.12 | 090
69930 |  | A | Implant cochlear device | 16.81 | NA | NA | 11.34 | 13.52 | 1.21 | NA | NA | 29.36 | 31.54 | 090
69949 |  | C | Inner ear surgery procedure | 0.00 | 0.00 | 0.00 | 0.00 | 0.00 | 0.00 | 0.00 | 0.00 | 0.00 | 0.00 | YYY
69950 |  | A | Incise inner ear nerve | 25.64 | NA | NA | 15.46 | 16.48 | 2.34 | NA | NA | 43.44 | 44.46 | 090
69955 |  | A | Release facial nerve | 27.04 | NA | NA | 17.99 | 19.00 | 2.31 | NA | NA | 47.34 | 48.35 | 090
69960 |  | A | Release inner ear canal | 27.04 | NA | NA | 16.77 | 17.42 | 2.52 | NA | NA | 46.33 | 46.98 | 090
69970 |  | A | Remove inner ear lesion | 30.04 | NA | NA | 18.13 | 18.94 | 2.13 | NA | NA | 50.30 | 51.11 | 090
69979 |  | C | Temporal bone surgery | 0.00 | 0.00 | 0.00 | 0.00 | 0.00 | 0.00 | 0.00 | 0.00 | 0.00 | 0.00 | YYY
69990 |  | R | Microsurgery add-on | 3.47 | NA | NA | 1.79 | 1.79 | 0.64 | NA | NA | 5.90 | 5.90 | ZZZ
70010 |  | A | Contrast x-ray of brain | 1.19 | 4.79 | 4.86 | NA | NA | 0.24 | 6.22 | 6.29 | NA | NA | XXX
70010 | 26 | A | Contrast x-ray of brain | 1.19 | 0.41 | 0.45 | 0.41 | 0.45 | 0.05 | 1.65 | 1.69 | 1.65 | 1.69 | XXX
70010 | TC | A | Contrast x-ray of brain | 0.00 | 4.38 | 4.41 | NA | NA | 0.19 | 4.57 | 4.60 | NA | NA | XXX
70015 |  | A | Contrast x-ray of brain | 1.19 | 1.77 | 1.82 | NA | NA | 0.12 | 3.08 | 3.13 | NA | NA | XXX
70015 | 26 | A | Contrast x-ray of brain | 1.19 | 0.40 | 0.44 | 0.40 | 0.44 | 0.05 | 1.64 | 1.68 | 1.64 | 1.68 | XXX
70015 | TC | A | Contrast x-ray of brain | 0.00 | 1.37 | 1.38 | NA | NA | 0.07 | 1.44 | 1.45 | NA | NA | XXX
70030 |  | A | X-ray eye for foreign body | 0.17 | 0.48 | 0.49 | NA | NA | 0.03 | 0.68 | 0.69 | NA | NA | XXX
70030 | 26 | A | X-ray eye for foreign body | 0.17 | 0.06 | 0.07 | 0.06 | 0.07 | 0.01 | 0.24 | 0.25 | 0.24 | 0.25 | XXX
70030 | TC | A | X-ray eye for foreign body | 0.00 | 0.42 | 0.42 | NA | NA | 0.02 | 0.44 | 0.44 | NA | NA | XXX
70100 |  | A | X-ray exam of jaw | 0.18 | 0.59 | 0.60 | NA | NA | 0.03 | 0.80 | 0.81 | NA | NA | XXX
70100 | 26 | A | X-ray exam of jaw | 0.18 | 0.06 | 0.07 | 0.06 | 0.07 | 0.01 | 0.25 | 0.26 | 0.25 | 0.26 | XXX
70100 | TC | A | X-ray exam of jaw | 0.00 | 0.53 | 0.53 | NA | NA | 0.02 | 0.55 | 0.55 | NA | NA | XXX
70110 |  | A | X-ray exam of jaw | 0.25 | 0.72 | 0.73 | NA | NA | 0.04 | 1.01 | 1.02 | NA | NA | XXX
70110 | 26 | A | X-ray exam of jaw | 0.25 | 0.09 | 0.10 | 0.09 | 0.10 | 0.01 | 0.35 | 0.36 | 0.35 | 0.36 | XXX
70110 | TC | A | X-ray exam of jaw | 0.00 | 0.63 | 0.63 | NA | NA | 0.03 | 0.66 | 0.66 | NA | NA | XXX
70120 |  | A | X-ray exam of mastoids | 0.18 | 0.69 | 0.70 | NA | NA | 0.04 | 0.91 | 0.92 | NA | NA | XXX
70120 | 26 | A | X-ray exam of mastoids | 0.18 | 0.06 | 0.07 | 0.06 | 0.07 | 0.01 | 0.25 | 0.26 | 0.25 | 0.26 | XXX
70120 | TC | A | X-ray exam of mastoids | 0.00 | 0.63 | 0.63 | NA | NA | 0.03 | 0.66 | 0.66 | NA | NA | XXX
70130 |  | A | X-ray exam of mastoids | 0.34 | 0.91 | 0.93 | NA | NA | 0.05 | 1.30 | 1.32 | NA | NA | XXX
70130 | 26 | A | X-ray exam of mastoids | 0.34 | 0.12 | 0.13 | 0.12 | 0.13 | 0.01 | 0.47 | 0.48 | 0.47 | 0.48 | XXX
70130 | TC | A | X-ray exam of mastoids | 0.00 | 0.79 | 0.80 | NA | NA | 0.04 | 0.83 | 0.84 | NA | NA | XXX
70134 |  | A | X-ray exam of middle ear | 0.34 | 0.86 | 0.88 | NA | NA | 0.05 | 1.25 | 1.27 | NA | NA | XXX
70134 | 26 | A | X-ray exam of middle ear | 0.34 | 0.12 | 0.13 | 0.12 | 0.13 | 0.01 | 0.47 | 0.48 | 0.47 | 0.48 | XXX
70134 | TC | A | X-ray exam of middle ear | 0.00 | 0.74 | 0.75 | NA | NA | 0.04 | 0.78 | 0.79 | NA | NA | XXX
70140 |  | A | X-ray exam of facial bones | 0.19 | 0.70 | 0.71 | NA | NA | 0.04 | 0.93 | 0.94 | NA | NA | XXX
70140 | 26 | A | X-ray exam of facial bones | 0.19 | 0.07 | 0.08 | 0.07 | 0.08 | 0.01 | 0.27 | 0.28 | 0.27 | 0.28 | XXX
70140 | TC | A | X-ray exam of facial bones | 0.00 | 0.63 | 0.63 | NA | NA | 0.03 | 0.66 | 0.66 | NA | NA | XXX
70150 |  | A | X-ray exam of facial bones | 0.26 | 0.88 | 0.90 | NA | NA | 0.05 | 1.19 | 1.21 | NA | NA | XXX
70150 | 26 | A | X-ray exam of facial bones | 0.26 | 0.09 | 0.10 | 0.09 | 0.10 | 0.01 | 0.36 | 0.37 | 0.36 | 0.37 | XXX
70150 | TC | A | X-ray exam of facial bones | 0.00 | 0.79 | 0.80 | NA | NA | 0.04 | 0.83 | 0.84 | NA | NA | XXX
70160 |  | A | X-ray exam of nasal bones | 0.17 | 0.59 | 0.60 | NA | NA | 0.03 | 0.79 | 0.80 | NA | NA | XXX
70160 | 26 | A | X-ray exam of nasal bones | 0.17 | 0.06 | 0.07 | 0.06 | 0.07 | 0.01 | 0.24 | 0.25 | 0.24 | 0.25 | XXX
70160 | TC | A | X-ray exam of nasal bones | 0.00 | 0.53 | 0.53 | NA | NA | 0.02 | 0.55 | 0.55 | NA | NA | XXX
70170 |  | A | X-ray exam of tear duct | 0.30 | 1.07 | 1.09 | NA | NA | 0.06 | 1.43 | 1.45 | NA | NA | XXX
70170 | 26 | A | X-ray exam of tear duct | 0.30 | 0.11 | 0.12 | 0.11 | 0.12 | 0.01 | 0.42 | 0.43 | 0.42 | 0.43 | XXX
70170 | TC | A | X-ray exam of tear duct | 0.00 | 0.96 | 0.97 | NA | NA | 0.05 | 1.01 | 1.02 | NA | NA | XXX
70190 |  | A | X-ray exam of eye sockets | 0.21 | 0.70 | 0.71 | NA | NA | 0.04 | 0.95 | 0.96 | NA | NA | XXX
70190 | 26 | A | X-ray exam of eye sockets | 0.21 | 0.07 | 0.08 | 0.07 | 0.08 | 0.01 | 0.29 | 0.30 | 0.29 | 0.30 | XXX
70190 | TC | A | X-ray exam of eye sockets | 0.00 | 0.63 | 0.63 | NA | NA | 0.03 | 0.66 | 0.66 | NA | NA | XXX
70200 |  | A | X-ray exam of eye sockets | 0.28 | 0.89 | 0.91 | NA | NA | 0.05 | 1.22 | 1.24 | NA | NA | XXX
70200 | 26 | A | X-ray exam of eye sockets | 0.28 | 0.10 | 0.11 | 0.10 | 0.11 | 0.01 | 0.39 | 0.40 | 0.39 | 0.40 | XXX
70200 | TC | A | X-ray exam of eye sockets | 0.00 | 0.79 | 0.80 | NA | NA | 0.04 | 0.83 | 0.84 | NA | NA | XXX
70210 |  | A | X-ray exam of sinuses | 0.17 | 0.69 | 0.70 | NA | NA | 0.04 | 0.90 | 0.91 | NA | NA | XXX
70210 | 26 | A | X-ray exam of sinuses | 0.17 | 0.06 | 0.07 | 0.06 | 0.07 | 0.01 | 0.24 | 0.25 | 0.24 | 0.25 | XXX
70210 | TC | A | X-ray exam of sinuses | 0.00 | 0.63 | 0.63 | NA | NA | 0.03 | 0.66 | 0.66 | NA | NA | XXX
70220 |  | A | X-ray exam of sinuses | 0.25 | 0.88 | 0.90 | NA | NA | 0.05 | 1.18 | 1.20 | NA | NA | XXX
70220 | 26 | A | X-ray exam of sinuses | 0.25 | 0.09 | 0.10 | 0.09 | 0.10 | 0.01 | 0.35 | 0.36 | 0.35 | 0.36 | XXX
70220 | TC | A | X-ray exam of sinuses | 0.00 | 0.79 | 0.80 | NA | NA | 0.04 | 0.83 | 0.84 | NA | NA | XXX
70240 |  | A | X-ray exam, pituitary saddle | 0.19 | 0.49 | 0.50 | NA | NA | 0.03 | 0.71 | 0.72 | NA | NA | XXX
70240 | 26 | A | X-ray exam, pituitary saddle | 0.19 | 0.07 | 0.08 | 0.07 | 0.08 | 0.01 | 0.27 | 0.28 | 0.27 | 0.28 | XXX
70240 | TC | A | X-ray exam, pituitary saddle | 0.00 | 0.42 | 0.42 | NA | NA | 0.02 | 0.44 | 0.44 | NA | NA | XXX
70250 |  | A | X-ray exam of skull | 0.24 | 0.71 | 0.72 | NA | NA | 0.04 | 0.99 | 1.00 | NA | NA | XXX
70250 | 26 | A | X-ray exam of skull | 0.24 | 0.08 | 0.09 | 0.08 | 0.09 | 0.01 | 0.33 | 0.34 | 0.33 | 0.34 | XXX
70250 | TC | A | X-ray exam of skull | 0.00 | 0.63 | 0.63 | NA | NA | 0.03 | 0.66 | 0.66 | NA | NA | XXX
70260 |  | A | X-ray exam of skull | 0.34 | 1.02 | 1.04 | NA | NA | 0.06 | 1.42 | 1.44 | NA | NA | XXX
70260 | 26 | A | X-ray exam of skull | 0.34 | 0.12 | 0.13 | 0.12 | 0.13 | 0.01 | 0.47 | 0.48 | 0.47 | 0.48 | XXX
70260 | TC | A | X-ray exam of skull | 0.00 | 0.90 | 0.91 | NA | NA | 0.05 | 0.95 | 0.96 | NA | NA | XXX
70300 |  | A | X-ray exam of teeth | 0.10 | 0.30 | 0.30 | NA | NA | 0.03 | 0.43 | 0.43 | NA | NA | XXX
70300 | 26 | A | X-ray exam of teeth | 0.10 | 0.04 | 0.04 | 0.04 | 0.04 | 0.01 | 0.15 | 0.15 | 0.15 | 0.15 | XXX
70300 | TC | A | X-ray exam of teeth | 0.00 | 0.26 | 0.26 | NA | NA | 0.02 | 0.28 | 0.28 | NA | NA | XXX
70310 |  | A | X-ray exam of teeth | 0.16 | 0.48 | 0.49 | NA | NA | 0.03 | 0.67 | 0.68 | NA | NA | XXX
70310 | 26 | A | X-ray exam of teeth | 0.16 | 0.06 | 0.07 | 0.06 | 0.07 | 0.01 | 0.23 | 0.24 | 0.23 | 0.24 | XXX
70310 | TC | A | X-ray exam of teeth | 0.00 | 0.42 | 0.42 | NA | NA | 0.02 | 0.44 | 0.44 | NA | NA | XXX
70320 |  | A | Full mouth x-ray of teeth | 0.22 | 0.87 | 0.89 | NA | NA | 0.05 | 1.14 | 1.16 | NA | NA | XXX
70320 | 26 | A | Full mouth x-ray of teeth | 0.22 | 0.08 | 0.09 | 0.08 | 0.09 | 0.01 | 0.31 | 0.32 | 0.31 | 0.32 | XXX
70320 | TC | A | Full mouth x-ray of teeth | 0.00 | 0.79 | 0.80 | NA | NA | 0.04 | 0.83 | 0.84 | NA | NA | XXX
70328 |  | A | X-ray exam of jaw joint | 0.18 | 0.56 | 0.57 | NA | NA | 0.03 | 0.77 | 0.78 | NA | NA | XXX
70328 | 26 | A | X-ray exam of jaw joint | 0.18 | 0.06 | 0.07 | 0.06 | 0.07 | 0.01 | 0.25 | 0.26 | 0.25 | 0.26 | XXX
70328 | TC | A | X-ray exam of jaw joint | 0.00 | 0.50 | 0.50 | NA | NA | 0.02 | 0.52 | 0.52 | NA | NA | XXX
70330 |  | A | X-ray exam of jaw joints | 0.24 | 0.93 | 0.95 | NA | NA | 0.05 | 1.22 | 1.24 | NA | NA | XXX
70330 | 26 | A | X-ray exam of jaw joints | 0.24 | 0.08 | 0.09 | 0.08 | 0.09 | 0.01 | 0.33 | 0.34 | 0.33 | 0.34 | XXX
70330 | TC | A | X-ray exam of jaw joints | 0.00 | 0.85 | 0.86 | NA | NA | 0.04 | 0.89 | 0.90 | NA | NA | XXX
70332 |  | A | X-ray exam of jaw joint | 0.54 | 2.31 | 2.34 | NA | NA | 0.12 | 2.97 | 3.00 | NA | NA | XXX
70332 | 26 | A | X-ray exam of jaw joint | 0.54 | 0.19 | 0.21 | 0.19 | 0.21 | 0.02 | 0.75 | 0.77 | 0.75 | 0.77 | XXX
70332 | TC | A | X-ray exam of jaw joint | 0.00 | 2.12 | 2.13 | NA | NA | 0.10 | 2.22 | 2.23 | NA | NA | XXX
70336 |  | A | Magnetic image, jaw joint | 1.48 | 11.85 | 11.91 | NA | NA | 0.56 | 13.89 | 13.95 | NA | NA | XXX
70336 | 26 | A | Magnetic image, jaw joint | 1.48 | 0.52 | 0.51 | 0.52 | 0.51 | 0.06 | 2.06 | 2.05 | 2.06 | 2.05 | XXX
70336 | TC | A | Magnetic image, jaw joint | 0.00 | 11.33 | 11.40 | NA | NA | 0.50 | 11.83 | 11.90 | NA | NA | XXX
70350 |  | A | X-ray head for orthodontia | 0.17 | 0.44 | 0.45 | NA | NA | 0.03 | 0.64 | 0.65 | NA | NA | XXX
70350 | 26 | A | X-ray head for orthodontia | 0.17 | 0.06 | 0.07 | 0.06 | 0.07 | 0.01 | 0.24 | 0.25 | 0.24 | 0.25 | XXX
70350 | TC | A | X-ray head for orthodontia | 0.00 | 0.38 | 0.38 | NA | NA | 0.02 | 0.40 | 0.40 | NA | NA | XXX
70355 |  | A | Panoramic x-ray of jaws | 0.20 | 0.65 | 0.66 | NA | NA | 0.04 | 0.89 | 0.90 | NA | NA | XXX
70355 | 26 | A | Panoramic x-ray of jaws | 0.20 | 0.07 | 0.08 | 0.07 | 0.08 | 0.01 | 0.28 | 0.29 | 0.28 | 0.29 | XXX
70355 | TC | A | Panoramic x-ray of jaws | 0.00 | 0.58 | 0.58 | NA | NA | 0.03 | 0.61 | 0.61 | NA | NA | XXX
70360 |  | A | X-ray exam of neck | 0.17 | 0.48 | 0.49 | NA | NA | 0.03 | 0.68 | 0.69 | NA | NA | XXX
70360 | 26 | A | X-ray exam of neck | 0.17 | 0.06 | 0.07 | 0.06 | 0.07 | 0.01 | 0.24 | 0.25 | 0.24 | 0.25 | XXX
70360 | TC | A | X-ray exam of neck | 0.00 | 0.42 | 0.42 | NA | NA | 0.02 | 0.44 | 0.44 | NA | NA | XXX
70370 |  | A | Throat x-ray & fluoroscopy | 0.32 | 1.43 | 1.45 | NA | NA | 0.07 | 1.82 | 1.84 | NA | NA | XXX
70370 | 26 | A | Throat x-ray & fluoroscopy | 0.32 | 0.11 | 0.12 | 0.11 | 0.12 | 0.01 | 0.44 | 0.45 | 0.44 | 0.45 | XXX
70370 | TC | A | Throat x-ray & fluoroscopy | 0.00 | 1.32 | 1.33 | NA | NA | 0.06 | 1.38 | 1.39 | NA | NA | XXX
70371 |  | A | Speech evaluation, complex | 0.84 | 2.41 | 2.45 | NA | NA | 0.13 | 3.38 | 3.42 | NA | NA | XXX
70371 | 26 | A | Speech evaluation, complex | 0.84 | 0.29 | 0.32 | 0.29 | 0.32 | 0.03 | 1.16 | 1.19 | 1.16 | 1.19 | XXX
70371 | TC | A | Speech evaluation, complex | 0.00 | 2.12 | 2.13 | NA | NA | 0.10 | 2.22 | 2.23 | NA | NA | XXX
70373 |  | A | Contrast x-ray of larynx | 0.44 | 1.95 | 1.98 | NA | NA | 0.11 | 2.50 | 2.53 | NA | NA | XXX
70373 | 26 | A | Contrast x-ray of larynx | 0.44 | 0.15 | 0.17 | 0.15 | 0.17 | 0.02 | 0.61 | 0.63 | 0.61 | 0.63 | XXX
70373 | TC | A | Contrast x-ray of larynx | 0.00 | 1.80 | 1.81 | NA | NA | 0.09 | 1.89 | 1.90 | NA | NA | XXX
70380 |  | A | X-ray exam of salivary gland | 0.17 | 0.73 | 0.75 | NA | NA | 0.04 | 0.94 | 0.96 | NA | NA | XXX
70380 | 26 | A | X-ray exam of salivary gland | 0.17 | 0.06 | 0.07 | 0.06 | 0.07 | 0.01 | 0.24 | 0.25 | 0.24 | 0.25 | XXX
70380 | TC | A | X-ray exam of salivary gland | 0.00 | 0.67 | 0.68 | NA | NA | 0.03 | 0.70 | 0.71 | NA | NA | XXX
70390 |  | A | X-ray exam of salivary duct | 0.38 | 1.93 | 1.95 | NA | NA | 0.11 | 2.42 | 2.44 | NA | NA | XXX
70390 | 26 | A | X-ray exam of salivary duct | 0.38 | 0.13 | 0.14 | 0.13 | 0.14 | 0.02 | 0.53 | 0.54 | 0.53 | 0.54 | XXX
70390 | TC | A | X-ray exam of salivary duct | 0.00 | 1.80 | 1.81 | NA | NA | 0.09 | 1.89 | 1.90 | NA | NA | XXX
70450 |  | A | CAT scan of head or brain | 0.85 | 5.07 | 5.13 | NA | NA | 0.25 | 6.17 | 6.23 | NA | NA | XXX
70450 | 26 | A | CAT scan of head or brain | 0.85 | 0.30 | 0.33 | 0.30 | 0.33 | 0.03 | 1.18 | 1.21 | 1.18 | 1.21 | XXX
70450 | TC | A | CAT scan of head or brain | 0.00 | 4.77 | 4.80 | NA | NA | 0.22 | 4.99 | 5.02 | NA | NA | XXX
70460 |  | A | Contrast CAT scan of head | 1.13 | 6.11 | 6.18 | NA | NA | 0.31 | 7.55 | 7.62 | NA | NA | XXX
70460 | 26 | A | Contrast CAT scan of head | 1.13 | 0.39 | 0.43 | 0.39 | 0.43 | 0.05 | 1.57 | 1.61 | 1.57 | 1.61 | XXX
70460 | TC | A | Contrast CAT scan of head | 0.00 | 5.72 | 5.75 | NA | NA | 0.26 | 5.98 | 6.01 | NA | NA | XXX
70470 |  | A | Contrast CAT scans of head | 1.27 | 7.59 | 7.67 | NA | NA | 0.37 | 9.23 | 9.31 | NA | NA | XXX
70470 | 26 | A | Contrast CAT scans of head | 1.27 | 0.44 | 0.48 | 0.44 | 0.48 | 0.05 | 1.76 | 1.80 | 1.76 | 1.80 | XXX
70470 | TC | A | Contrast CAT scans of head | 0.00 | 7.15 | 7.19 | NA | NA | 0.32 | 7.47 | 7.51 | NA | NA | XXX
70480 |  | A | CAT scan of skull | 1.28 | 5.22 | 5.29 | NA | NA | 0.27 | 6.77 | 6.84 | NA | NA | XXX
70480 | 26 | A | CAT scan of skull | 1.28 | 0.45 | 0.49 | 0.45 | 0.49 | 0.05 | 1.78 | 1.82 | 1.78 | 1.82 | XXX
70480 | TC | A | CAT scan of skull | 0.00 | 4.77 | 4.80 | NA | NA | 0.22 | 4.99 | 5.02 | NA | NA | XXX
70481 |  | A | Contrast CAT scan of skull | 1.38 | 6.20 | 6.28 | NA | NA | 0.31 | 7.89 | 7.97 | NA | NA | XXX
70481 | 26 | A | Contrast CAT scan of skull | 1.38 | 0.48 | 0.53 | 0.48 | 0.53 | 0.05 | 1.91 | 1.96 | 1.91 | 1.96 | XXX
70481 | TC | A | Contrast CAT scan of skull | 0.00 | 5.72 | 5.75 | NA | NA | 0.26 | 5.98 | 6.01 | NA | NA | XXX
70482 |  | A | Contrast CAT scans of skull | 1.45 | 7.66 | 7.75 | 7.50 | 0.56 | 0.38 | 9.49 | 9.58 | 9.33 | 2.39 | XXX
70482 | 26 | A | Contrast CAT scans of skull | 1.45 | 0.51 | 0.56 | 0.51 | 0.56 | 0.06 | 2.02 | 2.07 | 2.02 | 2.07 | XXX
70482 | TC | A | Contrast CAT scans of skull | 0.00 | 7.15 | 7.19 | NA | NA | 0.32 | 7.47 | 7.51 | NA | NA | XXX
70486 |  | A | Cat scan of face/jaw | 1.14 | 5.17 | 5.24 | 5.05 | 0.44 | 0.27 | 6.58 | 6.65 | 6.46 | 1.85 | XXX
70486 | 26 | A | Cat scan of face/jaw | 1.14 | 0.40 | 0.44 | 0.40 | 0.44 | 0.05 | 1.59 | 1.63 | 1.59 | 1.63 | XXX
70486 | TC | A | Cat scan of face/jaw | 0.00 | 4.77 | 4.80 | NA | NA | 0.22 | 4.99 | 5.02 | NA | NA | XXX
70487 |  | A | Contrast CAT scan, face/jaw | 1.30 | 6.17 | 6.24 | 6.04 | 0.49 | 0.31 | 7.78 | 7.85 | 7.65 | 2.10 | XXX
70487 | 26 | A | Contrast CAT scan, face/jaw | 1.30 | 0.45 | 0.49 | 0.45 | 0.49 | 0.05 | 1.80 | 1.84 | 1.80 | 1.84 | XXX
70487 | TC | A | Contrast CAT scan, face/jaw | 0.00 | 5.72 | 5.75 | NA | NA | 0.26 | 5.98 | 6.01 | NA | NA | XXX
70488 |  | A | Contrast cat scans, face/jaw | 1.42 | 7.64 | 7.73 | 7.49 | 0.54 | 0.38 | 9.44 | 9.53 | 9.29 | 2.34 | XXX
70488 | 26 | A | Contrast cat scans, face/jaw | 1.42 | 0.49 | 0.54 | 0.49 | 0.54 | 0.06 | 1.97 | 2.02 | 1.97 | 2.02 | XXX
70488 | TC | A | Contrast cat scans, face/jaw | 0.00 | 7.15 | 7.19 | NA | NA | 0.32 | 7.47 | 7.51 | NA | NA | XXX
70490 |  | A | CAT scan of neck tissue | 1.28 | 5.22 | 5.29 | 5.09 | 0.49 | 0.27 | 6.77 | 6.84 | 6.64 | 2.04 | XXX
70490 | 26 | A | CAT scan of neck tissue | 1.28 | 0.45 | 0.49 | 0.45 | 0.49 | 0.05 | 1.78 | 1.82 | 1.78 | 1.82 | XXX
70490 | TC | A | CAT scan of neck tissue | 0.00 | 4.77 | 4.80 | NA | NA | 0.22 | 4.99 | 5.02 | NA | NA | XXX
70491 |  | A | Contrast CAT of neck tissue | 1.38 | 6.20 | 6.28 | 6.06 | 0.53 | 0.31 | 7.89 | 7.97 | 7.75 | 2.22 | XXX
70491 | 26 | A | Contrast CAT of neck tissue | 1.38 | 0.48 | 0.53 | 0.48 | 0.53 | 0.05 | 1.91 | 1.96 | 1.91 | 1.96 | XXX
70491 | TC | A | Contrast CAT of neck tissue | 0.00 | 5.72 | 5.75 | NA | NA | 0.26 | 5.98 | 6.01 | NA | NA | XXX
70492 |  | A | Contrast CAT of neck tissue | 1.45 | 7.65 | 7.74 | 7.49 | 0.55 | 0.38 | 9.48 | 9.57 | 9.32 | 2.38 | XXX
70492 | 26 | A | Contrast CAT of neck tissue | 1.45 | 0.50 | 0.55 | 0.50 | 0.55 | 0.06 | 2.01 | 2.06 | 2.01 | 2.06 | XXX
70492 | TC | A | Contrast CAT of neck tissue | 0.00 | 7.15 | 7.19 | NA | NA | 0.32 | 7.47 | 7.51 | NA | NA | XXX
70540 |  | A | Magnetic image, face/neck | 1.48 | 11.85 | 11.97 | NA | NA | 0.56 | 13.89 | 14.01 | NA | NA | XXX
70540 | 26 | A | Magnetic image, face/neck | 1.48 | 0.52 | 0.57 | 0.52 | 0.57 | 0.06 | 2.06 | 2.11 | 2.06 | 2.11 | XXX
70540 | TC | A | Magnetic image, face/neck | 0.00 | 11.33 | 11.40 | NA | NA | 0.50 | 11.83 | 11.90 | NA | NA | XXX
70541 |  | R | Magnetic image, head (MRA) | 1.81 | 11.96 | 12.05 | NA | NA | 0.57 | 14.34 | 14.43 | NA | NA | XXX
70541 | 26 | R | Magnetic image, head (MRA) | 1.81 | 0.63 | 0.65 | 0.63 | 0.65 | 0.07 | 2.51 | 2.53 | 2.51 | 2.53 | XXX
70541 | TC | R | Magnetic image, head (MRA) | 0.00 | 11.33 | 11.40 | NA | NA | 0.50 | 11.83 | 11.90 | NA | NA | XXX
70551 |  | A | Magnetic image, brain (MRI) | 1.48 | 11.85 | 11.97 | NA | NA | 0.56 | 13.89 | 14.01 | NA | NA | XXX
70551 | 26 | A | Magnetic image, brain (MRI) | 1.48 | 0.52 | 0.57 | 0.52 | 0.57 | 0.06 | 2.06 | 2.11 | 2.06 | 2.11 | XXX
70551 | TC | A | Magnetic image, brain (MRI) | 0.00 | 11.33 | 11.40 | NA | NA | 0.50 | 11.83 | 11.90 | NA | NA | XXX
70552 |  | A | Magnetic image, brain (MRI) | 1.78 | 14.22 | 14.36 | NA | NA | 0.67 | 16.67 | 16.81 | NA | NA | XXX
70552 | 26 | A | Magnetic image, brain (MRI) | 1.78 | 0.63 | 0.69 | 0.63 | 0.69 | 0.07 | 2.48 | 2.54 | 2.48 | 2.54 | XXX
70552 | TC | A | Magnetic image, brain (MRI) | 0.00 | 13.59 | 13.67 | NA | NA | 0.60 | 14.19 | 14.27 | NA | NA | XXX
70553 |  | A | Magnetic image, brain (mri) | 2.36 | 25.98 | 26.22 | NA | NA | 1.21 | 29.55 | 29.79 | NA | NA | XXX
70553 | 26 | A | Magnetic image, brain (mri) | 2.36 | 0.82 | 0.91 | 0.82 | 0.91 | 0.09 | 3.27 | 3.36 | 3.27 | 3.36 | XXX
70553 | TC | A | Magnetic image, brain (mri) | 0.00 | 25.16 | 25.31 | NA | NA | 1.12 | 26.28 | 26.43 | NA | NA | XXX
71010 |  | A | Chest x-ray | 0.18 | 0.54 | 0.55 | NA | NA | 0.03 | 0.75 | 0.76 | NA | NA | XXX
71010 | 26 | A | Chest x-ray | 0.18 | 0.06 | 0.07 | 0.06 | 0.07 | 0.01 | 0.25 | 0.26 | 0.25 | 0.26 | XXX
71010 | TC | A | Chest x-ray | 0.00 | 0.48 | 0.48 | NA | NA | 0.02 | 0.50 | 0.50 | NA | NA | XXX
71015 |  | A | Chest x-ray | 0.21 | 0.60 | 0.61 | NA | NA | 0.03 | 0.84 | 0.85 | NA | NA | XXX
71015 | 26 | A | Chest x-ray | 0.21 | 0.07 | 0.08 | 0.07 | 0.08 | 0.01 | 0.29 | 0.30 | 0.29 | 0.30 | XXX
71015 | TC | A | Chest x-ray | 0.00 | 0.53 | 0.53 | NA | NA | 0.02 | 0.55 | 0.55 | NA | NA | XXX
71020 |  | A | Chest x-ray | 0.22 | 0.71 | 0.72 | NA | NA | 0.04 | 0.97 | 0.98 | NA | NA | XXX
71020 | 26 | A | Chest x-ray | 0.22 | 0.08 | 0.09 | 0.08 | 0.09 | 0.01 | 0.31 | 0.32 | 0.31 | 0.32 | XXX
71020 | TC | A | Chest x-ray | 0.00 | 0.63 | 0.63 | NA | NA | 0.03 | 0.66 | 0.66 | NA | NA | XXX
71021 |  | A | Chest x-ray | 0.27 | 0.83 | 0.85 | NA | NA | 0.05 | 1.15 | 1.17 | NA | NA | XXX
71021 | 26 | A | Chest x-ray | 0.27 | 0.09 | 0.10 | 0.09 | 0.10 | 0.01 | 0.37 | 0.38 | 0.37 | 0.38 | XXX
71021 | TC | A | Chest x-ray | 0.00 | 0.74 | 0.75 | NA | NA | 0.04 | 0.78 | 0.79 | NA | NA | XXX
71022 |  | A | Chest x-ray | 0.31 | 0.85 | 0.87 | NA | NA | 0.05 | 1.21 | 1.23 | NA | NA | XXX
71022 | 26 | A | Chest x-ray | 0.31 | 0.11 | 0.12 | 0.11 | 0.12 | 0.01 | 0.43 | 0.44 | 0.43 | 0.44 | XXX
71022 | TC | A | Chest x-ray | 0.00 | 0.74 | 0.75 | NA | NA | 0.04 | 0.78 | 0.79 | NA | NA | XXX
71023 |  | A | Chest x-ray and fluoroscopy | 0.38 | 0.93 | 0.95 | NA | NA | 0.05 | 1.36 | 1.38 | NA | NA | XXX
71023 | 26 | A | Chest x-ray and fluoroscopy | 0.38 | 0.14 | 0.15 | 0.14 | 0.15 | 0.01 | 0.53 | 0.54 | 0.53 | 0.54 | XXX
71023 | TC | A | Chest x-ray and fluoroscopy | 0.00 | 0.79 | 0.80 | NA | NA | 0.04 | 0.83 | 0.84 | NA | NA | XXX
71030 |  | A | Chest x-ray | 0.31 | 0.90 | 0.92 | NA | NA | 0.05 | 1.26 | 1.28 | NA | NA | XXX
71030 | 26 | A | Chest x-ray | 0.31 | 0.11 | 0.12 | 0.11 | 0.12 | 0.01 | 0.43 | 0.44 | 0.43 | 0.44 | XXX
71030 | TC | A | Chest x-ray | 0.00 | 0.79 | 0.80 | NA | NA | 0.04 | 0.83 | 0.84 | NA | NA | XXX
71034 |  | A | Chest x-ray and fluoroscopy | 0.46 | 1.63 | 1.66 | NA | NA | 0.09 | 2.18 | 2.21 | NA | NA | XXX
71034 | 26 | A | Chest x-ray and fluoroscopy | 0.46 | 0.17 | 0.19 | 0.17 | 0.19 | 0.02 | 0.65 | 0.67 | 0.65 | 0.67 | XXX
71034 | TC | A | Chest x-ray and fluoroscopy | 0.00 | 1.46 | 1.47 | NA | NA | 0.07 | 1.53 | 1.54 | NA | NA | XXX
71035 |  | A | Chest x-ray | 0.18 | 0.59 | 0.60 | NA | NA | 0.03 | 0.80 | 0.81 | NA | NA | XXX
71035 | 26 | A | Chest x-ray | 0.18 | 0.06 | 0.07 | 0.06 | 0.07 | 0.01 | 0.25 | 0.26 | 0.25 | 0.26 | XXX
71035 | TC | A | Chest x-ray | 0.00 | 0.53 | 0.53 | NA | NA | 0.02 | 0.55 | 0.55 | NA | NA | XXX
71036 |  | A | X-ray guidance for biopsy | 0.54 | 1.77 | 1.80 | NA | NA | 0.10 | 2.41 | 2.44 | NA | NA | XXX
71036 | 26 | A | X-ray guidance for biopsy | 0.54 | 0.18 | 0.20 | 0.18 | 0.20 | 0.02 | 0.74 | 0.76 | 0.74 | 0.76 | XXX
71036 | TC | A | X-ray guidance for biopsy | 0.00 | 1.59 | 1.60 | NA | NA | 0.08 | 1.67 | 1.68 | NA | NA | XXX
71040 |  | A | Contrast x-ray of bronchi | 0.58 | 1.68 | 1.71 | NA | NA | 0.09 | 2.35 | 2.38 | NA | NA | XXX
71040 | 26 | A | Contrast x-ray of bronchi | 0.58 | 0.20 | 0.22 | 0.20 | 0.22 | 0.02 | 0.80 | 0.82 | 0.80 | 0.82 | XXX
71040 | TC | A | Contrast x-ray of bronchi | 0.00 | 1.48 | 1.49 | NA | NA | 0.07 | 1.55 | 1.56 | NA | NA | XXX
71060 |  | A | Contrast x-ray of bronchi | 0.74 | 2.49 | 2.53 | NA | NA | 0.14 | 3.37 | 3.41 | NA | NA | XXX
71060 | 26 | A | Contrast x-ray of bronchi | 0.74 | 0.26 | 0.29 | 0.26 | 0.29 | 0.03 | 1.03 | 1.06 | 1.03 | 1.06 | XXX
71060 | TC | A | Contrast x-ray of bronchi | 0.00 | 2.23 | 2.24 | NA | NA | 0.11 | 2.34 | 2.35 | NA | NA | XXX
71090 |  | A | X-ray & pacemaker insertion | 0.54 | 1.92 | 1.94 | NA | NA | 0.11 | 2.57 | 2.59 | NA | NA | XXX
71090 | 26 | A | X-ray & pacemaker insertion | 0.54 | 0.22 | 0.23 | 0.22 | 0.23 | 0.02 | 0.78 | 0.79 | 0.78 | 0.79 | XXX
71090 | TC | A | X-ray & pacemaker insertion | 0.00 | 1.70 | 1.71 | NA | NA | 0.09 | 1.79 | 1.80 | NA | NA | XXX
71100 |  | A | X-ray exam of ribs | 0.22 | 0.66 | 0.67 | NA | NA | 0.04 | 0.92 | 0.93 | NA | NA | XXX
71100 | 26 | A | X-ray exam of ribs | 0.22 | 0.08 | 0.09 | 0.08 | 0.09 | 0.01 | 0.31 | 0.32 | 0.31 | 0.32 | XXX
71100 | TC | A | X-ray exam of ribs | 0.00 | 0.58 | 0.58 | NA | NA | 0.03 | 0.61 | 0.61 | NA | NA | XXX
71101 |  | A | X-ray exam of ribs/chest | 0.27 | 0.76 | 0.78 | NA | NA | 0.04 | 1.07 | 1.09 | NA | NA | XXX
71101 | 26 | A | X-ray exam of ribs/chest | 0.27 | 0.09 | 0.10 | 0.09 | 0.10 | 0.01 | 0.37 | 0.38 | 0.37 | 0.38 | XXX
71101 | TC | A | X-ray exam of ribs/chest | 0.00 | 0.67 | 0.68 | NA | NA | 0.03 | 0.70 | 0.71 | NA | NA | XXX
71110 |  | A | X-ray exam of ribs | 0.27 | 0.88 | 0.90 | NA | NA | 0.05 | 1.20 | 1.22 | NA | NA | XXX
71110 | 26 | A | X-ray exam of ribs | 0.27 | 0.09 | 0.10 | 0.09 | 0.10 | 0.01 | 0.37 | 0.38 | 0.37 | 0.38 | XXX
71110 | TC | A | X-ray exam of ribs | 0.00 | 0.79 | 0.80 | NA | NA | 0.04 | 0.83 | 0.84 | NA | NA | XXX
71111 |  | A | X-ray exam of ribs/ chest | 0.32 | 1.01 | 1.03 | NA | NA | 0.06 | 1.39 | 1.41 | NA | NA | XXX
71111 | 26 | A | X-ray exam of ribs/ chest | 0.32 | 0.11 | 0.12 | 0.11 | 0.12 | 0.01 | 0.44 | 0.45 | 0.44 | 0.45 | XXX
71111 | TC | A | X-ray exam of ribs/ chest | 0.00 | 0.90 | 0.91 | NA | NA | 0.05 | 0.95 | 0.96 | NA | NA | XXX
71120 |  | A | X-ray exam of breastbone | 0.20 | 0.72 | 0.74 | NA | NA | 0.04 | 0.96 | 0.98 | NA | NA | XXX
71120 | 26 | A | X-ray exam of breastbone | 0.20 | 0.07 | 0.08 | 0.07 | 0.08 | 0.01 | 0.28 | 0.29 | 0.28 | 0.29 | XXX
71120 | TC | A | X-ray exam of breastbone | 0.00 | 0.65 | 0.66 | NA | NA | 0.03 | 0.68 | 0.69 | NA | NA | XXX
71130 |  | A | X-ray exam of breastbone | 0.22 | 0.79 | 0.81 | NA | NA | 0.04 | 1.05 | 1.07 | NA | NA | XXX
71130 | 26 | A | X-ray exam of breastbone | 0.22 | 0.08 | 0.09 | 0.08 | 0.09 | 0.01 | 0.31 | 0.32 | 0.31 | 0.32 | XXX
71130 | TC | A | X-ray exam of breastbone | 0.00 | 0.71 | 0.72 | NA | NA | 0.03 | 0.74 | 0.75 | NA | NA | XXX
71250 |  | A | Cat scan of chest | 1.16 | 6.37 | 6.45 | NA | NA | 0.32 | 7.85 | 7.93 | NA | NA | XXX
71250 | 26 | A | Cat scan of chest | 1.16 | 0.40 | 0.44 | 0.40 | 0.44 | 0.05 | 1.61 | 1.65 | 1.61 | 1.65 | XXX
71250 | TC | A | Cat scan of chest | 0.00 | 5.97 | 6.01 | NA | NA | 0.27 | 6.24 | 6.28 | NA | NA | XXX
71260 |  | A | Contrast CAT scan of chest | 1.24 | 7.58 | 7.66 | NA | NA | 0.37 | 9.19 | 9.27 | NA | NA | XXX
71260 | 26 | A | Contrast CAT scan of chest | 1.24 | 0.43 | 0.47 | 0.43 | 0.47 | 0.05 | 1.72 | 1.76 | 1.72 | 1.76 | XXX
71260 | TC | A | Contrast CAT scan of chest | 0.00 | 7.15 | 7.19 | NA | NA | 0.32 | 7.47 | 7.51 | NA | NA | XXX
71270 |  | A | Contrast CAT scans of chest | 1.38 | 9.42 | 9.52 | NA | NA | 0.44 | 11.24 | 11.34 | NA | NA | XXX
71270 | 26 | A | Contrast CAT scans of chest | 1.38 | 0.48 | 0.53 | 0.48 | 0.53 | 0.05 | 1.91 | 1.96 | 1.91 | 1.96 | XXX
71270 | TC | A | Contrast CAT scans of chest | 0.00 | 8.94 | 8.99 | NA | NA | 0.39 | 9.33 | 9.38 | NA | NA | XXX
71550 |  | A | Magnetic image, chest (mri) | 1.60 | 11.89 | 12.02 | NA | NA | 0.56 | 14.05 | 14.18 | NA | NA | XXX
71550 | 26 | A | Magnetic image, chest (mri) | 1.60 | 0.56 | 0.62 | 0.56 | 0.62 | 0.06 | 2.22 | 2.28 | 2.22 | 2.28 | XXX
71550 | TC | A | Magnetic image, chest (mri) | 0.00 | 11.33 | 11.40 | NA | NA | 0.50 | 11.83 | 11.90 | NA | NA | XXX
71555 |  | R | Magnetic image, chest (mra) | 1.81 | 11.96 | 12.07 | NA | NA | 0.57 | 14.34 | 14.45 | NA | NA | XXX
71555 | 26 | R | Magnetic image, chest (mra) | 1.81 | 0.63 | 0.67 | 0.63 | 0.67 | 0.07 | 2.51 | 2.55 | 2.51 | 2.55 | XXX
71555 | TC | R | Magnetic image, chest (mra) | 0.00 | 11.33 | 11.40 | NA | NA | 0.50 | 11.83 | 11.90 | NA | NA | XXX
72010 |  | A | X-ray exam of spine | 0.45 | 1.20 | 1.23 | NA | NA | 0.07 | 1.72 | 1.75 | NA | NA | XXX
72010 | 26 | A | X-ray exam of spine | 0.45 | 0.16 | 0.18 | 0.16 | 0.18 | 0.02 | 0.63 | 0.65 | 0.63 | 0.65 | XXX
72010 | TC | A | X-ray exam of spine | 0.00 | 1.04 | 1.05 | NA | NA | 0.05 | 1.09 | 1.10 | NA | NA | XXX
72020 |  | A | X-ray exam of spine | 0.15 | 0.47 | 0.48 | NA | NA | 0.03 | 0.65 | 0.66 | NA | NA | XXX
72020 | 26 | A | X-ray exam of spine | 0.15 | 0.05 | 0.06 | 0.05 | 0.06 | 0.01 | 0.21 | 0.22 | 0.21 | 0.22 | XXX
72020 | TC | A | X-ray exam of spine | 0.00 | 0.42 | 0.42 | NA | NA | 0.02 | 0.44 | 0.44 | NA | NA | XXX
72040 |  | A | X-ray exam of neck spine | 0.22 | 0.69 | 0.70 | NA | NA | 0.04 | 0.95 | 0.96 | NA | NA | XXX
72040 | 26 | A | X-ray exam of neck spine | 0.22 | 0.08 | 0.09 | 0.08 | 0.09 | 0.01 | 0.31 | 0.32 | 0.31 | 0.32 | XXX
72040 | TC | A | X-ray exam of neck spine | 0.00 | 0.61 | 0.61 | NA | NA | 0.03 | 0.64 | 0.64 | NA | NA | XXX
72050 |  | A | X-ray exam of neck spine | 0.31 | 1.01 | 1.03 | NA | NA | 0.06 | 1.38 | 1.40 | NA | NA | XXX
72050 | 26 | A | X-ray exam of neck spine | 0.31 | 0.11 | 0.12 | 0.11 | 0.12 | 0.01 | 0.43 | 0.44 | 0.43 | 0.44 | XXX
72050 | TC | A | X-ray exam of neck spine | 0.00 | 0.90 | 0.91 | NA | NA | 0.05 | 0.95 | 0.96 | NA | NA | XXX
72052 |  | A | X-ray exam of neck spine | 0.36 | 1.27 | 1.29 | NA | NA | 0.06 | 1.69 | 1.71 | NA | NA | XXX
72052 | 26 | A | X-ray exam of neck spine | 0.36 | 0.13 | 0.14 | 0.13 | 0.14 | 0.01 | 0.50 | 0.51 | 0.50 | 0.51 | XXX
72052 | TC | A | X-ray exam of neck spine | 0.00 | 1.14 | 1.15 | NA | NA | 0.05 | 1.19 | 1.20 | NA | NA | XXX
72069 |  | A | X-ray exam of trunk spine | 0.22 | 0.58 | 0.59 | NA | NA | 0.03 | 0.83 | 0.84 | NA | NA | XXX
72069 | 26 | A | X-ray exam of trunk spine | 0.22 | 0.08 | 0.09 | 0.08 | 0.09 | 0.01 | 0.31 | 0.32 | 0.31 | 0.32 | XXX
72069 | TC | A | X-ray exam of trunk spine | 0.00 | 0.50 | 0.50 | NA | NA | 0.02 | 0.52 | 0.52 | NA | NA | XXX
72070 |  | A | X-ray exam of thoracic spine | 0.22 | 0.73 | 0.75 | NA | NA | 0.04 | 0.99 | 1.01 | NA | NA | XXX
72070 | 26 | A | X-ray exam of thoracic spine | 0.22 | 0.08 | 0.09 | 0.08 | 0.09 | 0.01 | 0.31 | 0.32 | 0.31 | 0.32 | XXX
72070 | TC | A | X-ray exam of thoracic spine | 0.00 | 0.65 | 0.66 | NA | NA | 0.03 | 0.68 | 0.69 | NA | NA | XXX
72072 |  | A | X-ray exam of thoracic spine | 0.22 | 0.82 | 0.84 | NA | NA | 0.05 | 1.09 | 1.11 | NA | NA | XXX
72072 | 26 | A | X-ray exam of thoracic spine | 0.22 | 0.08 | 0.09 | 0.08 | 0.09 | 0.01 | 0.31 | 0.32 | 0.31 | 0.32 | XXX
72072 | TC | A | X-ray exam of thoracic spine | 0.00 | 0.74 | 0.75 | NA | NA | 0.04 | 0.78 | 0.79 | NA | NA | XXX
72074 |  | A | X-ray exam of thoracic spine | 0.22 | 1.00 | 1.02 | NA | NA | 0.06 | 1.28 | 1.30 | NA | NA | XXX
72074 | 26 | A | X-ray exam of thoracic spine | 0.22 | 0.08 | 0.09 | 0.08 | 0.09 | 0.01 | 0.31 | 0.32 | 0.31 | 0.32 | XXX
72074 | TC | A | X-ray exam of thoracic spine | 0.00 | 0.92 | 0.93 | NA | NA | 0.05 | 0.97 | 0.98 | NA | NA | XXX
72080 |  | A | X-ray exam of trunk spine | 0.22 | 0.75 | 0.77 | NA | NA | 0.04 | 1.01 | 1.03 | NA | NA | XXX
72080 | 26 | A | X-ray exam of trunk spine | 0.22 | 0.08 | 0.09 | 0.08 | 0.09 | 0.01 | 0.31 | 0.32 | 0.31 | 0.32 | XXX
72080 | TC | A | X-ray exam of trunk spine | 0.00 | 0.67 | 0.68 | NA | NA | 0.03 | 0.70 | 0.71 | NA | NA | XXX
72090 |  | A | X-ray exam of trunk spine | 0.28 | 0.77 | 0.79 | NA | NA | 0.04 | 1.09 | 1.11 | NA | NA | XXX
72090 | 26 | A | X-ray exam of trunk spine | 0.28 | 0.10 | 0.11 | 0.10 | 0.11 | 0.01 | 0.39 | 0.40 | 0.39 | 0.40 | XXX
72090 | TC | A | X-ray exam of trunk spine | 0.00 | 0.67 | 0.68 | NA | NA | 0.03 | 0.70 | 0.71 | NA | NA | XXX
72100 |  | A | X-ray exam of lower spine | 0.22 | 0.75 | 0.77 | NA | NA | 0.04 | 1.01 | 1.03 | NA | NA | XXX
72100 | 26 | A | X-ray exam of lower spine | 0.22 | 0.08 | 0.09 | 0.08 | 0.09 | 0.01 | 0.31 | 0.32 | 0.31 | 0.32 | XXX
72100 | TC | A | X-ray exam of lower spine | 0.00 | 0.67 | 0.68 | NA | NA | 0.03 | 0.70 | 0.71 | NA | NA | XXX
72110 |  | A | X-ray exam of lower spine | 0.31 | 1.03 | 1.05 | NA | NA | 0.06 | 1.40 | 1.42 | NA | NA | XXX
72110 | 26 | A | X-ray exam of lower spine | 0.31 | 0.11 | 0.12 | 0.11 | 0.12 | 0.01 | 0.43 | 0.44 | 0.43 | 0.44 | XXX
72110 | TC | A | X-ray exam of lower spine | 0.00 | 0.92 | 0.93 | NA | NA | 0.05 | 0.97 | 0.98 | NA | NA | XXX
72114 |  | A | X-ray exam of lower spine | 0.36 | 1.33 | 1.35 | NA | NA | 0.07 | 1.76 | 1.78 | NA | NA | XXX
72114 | 26 | A | X-ray exam of lower spine | 0.36 | 0.13 | 0.14 | 0.13 | 0.14 | 0.02 | 0.51 | 0.52 | 0.51 | 0.52 | XXX
72114 | TC | A | X-ray exam of lower spine | 0.00 | 1.20 | 1.21 | NA | NA | 0.05 | 1.25 | 1.26 | NA | NA | XXX
72120 |  | A | X-ray exam of lower spine | 0.22 | 0.98 | 1.00 | NA | NA | 0.06 | 1.26 | 1.28 | NA | NA | XXX
72120 | 26 | A | X-ray exam of lower spine | 0.22 | 0.08 | 0.09 | 0.08 | 0.09 | 0.01 | 0.31 | 0.32 | 0.31 | 0.32 | XXX
72120 | TC | A | X-ray exam of lower spine | 0.00 | 0.90 | 0.91 | NA | NA | 0.05 | 0.95 | 0.96 | NA | NA | XXX
72125 |  | A | CAT scan of neck spine | 1.16 | 6.37 | 6.45 | NA | NA | 0.32 | 7.85 | 7.93 | NA | NA | XXX
72125 | 26 | A | CAT scan of neck spine | 1.16 | 0.40 | 0.44 | 0.40 | 0.44 | 0.05 | 1.61 | 1.65 | 1.61 | 1.65 | XXX
72125 | TC | A | CAT scan of neck spine | 0.00 | 5.97 | 6.01 | NA | NA | 0.27 | 6.24 | 6.28 | NA | NA | XXX
72126 |  | A | Contrast CAT scan of neck | 1.22 | 7.57 | 7.65 | NA | NA | 0.37 | 9.16 | 9.24 | NA | NA | XXX
72126 | 26 | A | Contrast CAT scan of neck | 1.22 | 0.42 | 0.46 | 0.42 | 0.46 | 0.05 | 1.69 | 1.73 | 1.69 | 1.73 | XXX
72126 | TC | A | Contrast CAT scan of neck | 0.00 | 7.15 | 7.19 | NA | NA | 0.32 | 7.47 | 7.51 | NA | NA | XXX
72127 |  | A | Contrast CAT scans of neck | 1.27 | 9.38 | 9.47 | NA | NA | 0.44 | 11.09 | 11.18 | NA | NA | XXX
72127 | 26 | A | Contrast CAT scans of neck | 1.27 | 0.44 | 0.48 | 0.44 | 0.48 | 0.05 | 1.76 | 1.80 | 1.76 | 1.80 | XXX
72127 | TC | A | Contrast CAT scans of neck | 0.00 | 8.94 | 8.99 | NA | NA | 0.39 | 9.33 | 9.38 | NA | NA | XXX
72128 |  | A | CAT scan of thorax spine | 1.16 | 6.37 | 6.45 | NA | NA | 0.32 | 7.85 | 7.93 | NA | NA | XXX
72128 | 26 | A | CAT scan of thorax spine | 1.16 | 0.40 | 0.44 | 0.40 | 0.44 | 0.05 | 1.61 | 1.65 | 1.61 | 1.65 | XXX
72128 | TC | A | CAT scan of thorax spine | 0.00 | 5.97 | 6.01 | NA | NA | 0.27 | 6.24 | 6.28 | NA | NA | XXX
72129 |  | A | Contrast CAT scan of thorax | 1.22 | 7.57 | 7.65 | NA | NA | 0.37 | 9.16 | 9.24 | NA | NA | XXX
72129 | 26 | A | Contrast CAT scan of thorax | 1.22 | 0.42 | 0.46 | 0.42 | 0.46 | 0.05 | 1.69 | 1.73 | 1.69 | 1.73 | XXX
72129 | TC | A | Contrast CAT scan of thorax | 0.00 | 7.15 | 7.19 | NA | NA | 0.32 | 7.47 | 7.51 | NA | NA | XXX
72130 |  | A | Contrast CAT scans of thorax | 1.27 | 9.38 | 9.47 | NA | NA | 0.44 | 11.09 | 11.18 | NA | NA | XXX
72130 | 26 | A | Contrast CAT scans of thorax | 1.27 | 0.44 | 0.48 | 0.44 | 0.48 | 0.05 | 1.76 | 1.80 | 1.76 | 1.80 | XXX
72130 | TC | A | Contrast CAT scans of thorax | 0.00 | 8.94 | 8.99 | NA | NA | 0.39 | 9.33 | 9.38 | NA | NA | XXX
72131 |  | A | CAT scan of lower spine | 1.16 | 6.37 | 6.45 | NA | NA | 0.32 | 7.85 | 7.93 | NA | NA | XXX
72131 | 26 | A | CAT scan of lower spine | 1.16 | 0.40 | 0.44 | 0.40 | 0.44 | 0.05 | 1.61 | 1.65 | 1.61 | 1.65 | XXX
72131 | TC | A | CAT scan of lower spine | 0.00 | 5.97 | 6.01 | NA | NA | 0.27 | 6.24 | 6.28 | NA | NA | XXX
72132 |  | A | Contrast CAT of lower spine | 1.22 | 7.57 | 7.65 | NA | NA | 0.37 | 9.16 | 9.24 | NA | NA | XXX
72132 | 26 | A | Contrast CAT of lower spine | 1.22 | 0.42 | 0.46 | 0.42 | 0.46 | 0.05 | 1.69 | 1.73 | 1.69 | 1.73 | XXX
72132 | TC | A | Contrast CAT of lower spine | 0.00 | 7.15 | 7.19 | NA | NA | 0.32 | 7.47 | 7.51 | NA | NA | XXX
72133 |  | A | Contrst cat scans, low spine | 1.27 | 9.39 | 9.48 | NA | NA | 0.44 | 11.10 | 11.19 | NA | NA | XXX
72133 | 26 | A | Contrst cat scans, low spine | 1.27 | 0.45 | 0.49 | 0.45 | 0.49 | 0.05 | 1.77 | 1.81 | 1.77 | 1.81 | XXX
72133 | TC | A | Contrst cat scans, low spine | 0.00 | 8.94 | 8.99 | NA | NA | 0.39 | 9.33 | 9.38 | NA | NA | XXX
72141 |  | A | Magnetic image, neck spine | 1.60 | 11.89 | 12.02 | NA | NA | 0.56 | 14.05 | 14.18 | NA | NA | XXX
72141 | 26 | A | Magnetic image, neck spine | 1.60 | 0.56 | 0.62 | 0.56 | 0.62 | 0.06 | 2.22 | 2.28 | 2.22 | 2.28 | XXX
72141 | TC | A | Magnetic image, neck spine | 0.00 | 11.33 | 11.40 | NA | NA | 0.50 | 11.83 | 11.90 | NA | NA | XXX
72142 |  | A | Magnetic image, neck spine | 1.92 | 14.27 | 14.41 | NA | NA | 0.68 | 16.87 | 17.01 | NA | NA | XXX
72142 | 26 | A | Magnetic image, neck spine | 1.92 | 0.68 | 0.74 | 0.68 | 0.74 | 0.08 | 2.68 | 2.74 | 2.68 | 2.74 | XXX
72142 | TC | A | Magnetic image, neck spine | 0.00 | 13.59 | 13.67 | NA | NA | 0.60 | 14.19 | 14.27 | NA | NA | XXX
72146 |  | A | Magnetic image, chest spine | 1.60 | 13.14 | 13.27 | NA | NA | 0.61 | 15.35 | 15.48 | NA | NA | XXX
72146 | 26 | A | Magnetic image, chest spine | 1.60 | 0.56 | 0.62 | 0.56 | 0.62 | 0.06 | 2.22 | 2.28 | 2.22 | 2.28 | XXX
72146 | TC | A | Magnetic image, chest spine | 0.00 | 12.58 | 12.65 | NA | NA | 0.55 | 13.13 | 13.20 | NA | NA | XXX
72147 |  | A | Magnetic image, chest spine | 1.92 | 14.26 | 14.41 | NA | NA | 0.68 | 16.86 | 17.01 | NA | NA | XXX
72147 | 26 | A | Magnetic image, chest spine | 1.92 | 0.67 | 0.74 | 0.67 | 0.74 | 0.08 | 2.67 | 2.74 | 2.67 | 2.74 | XXX
72147 | TC | A | Magnetic image, chest spine | 0.00 | 13.59 | 13.67 | NA | NA | 0.60 | 14.19 | 14.27 | NA | NA | XXX
72148 |  | A | Magnetic image, lumbar spine | 1.48 | 13.10 | 13.22 | NA | NA | 0.61 | 15.19 | 15.31 | NA | NA | XXX
72148 | 26 | A | Magnetic image, lumbar spine | 1.48 | 0.52 | 0.57 | 0.52 | 0.57 | 0.06 | 2.06 | 2.11 | 2.06 | 2.11 | XXX
72148 | TC | A | Magnetic image, lumbar spine | 0.00 | 12.58 | 12.65 | NA | NA | 0.55 | 13.13 | 13.20 | NA | NA | XXX
72149 |  | A | Magnetic image, lumbar spine | 1.78 | 14.22 | 14.36 | NA | NA | 0.67 | 16.67 | 16.81 | NA | NA | XXX
72149 | 26 | A | Magnetic image, lumbar spine | 1.78 | 0.63 | 0.69 | 0.63 | 0.69 | 0.07 | 2.48 | 2.54 | 2.48 | 2.54 | XXX
72149 | TC | A | Magnetic image, lumbar spine | 0.00 | 13.59 | 13.67 | NA | NA | 0.60 | 14.19 | 14.27 | NA | NA | XXX
72156 |  | A | Magnetic image, neck spine | 2.57 | 26.06 | 26.30 | NA | NA | 1.22 | 29.85 | 30.09 | NA | NA | XXX
72156 | 26 | A | Magnetic image, neck spine | 2.57 | 0.90 | 0.99 | 0.90 | 0.99 | 0.10 | 3.57 | 3.66 | 3.57 | 3.66 | XXX
72156 | TC | A | Magnetic image, neck spine | 0.00 | 25.16 | 25.31 | NA | NA | 1.12 | 26.28 | 26.43 | NA | NA | XXX
72157 |  | A | Magnetic image, chest spine | 2.57 | 26.06 | 26.30 | NA | NA | 1.22 | 29.85 | 30.09 | NA | NA | XXX
72157 | 26 | A | Magnetic image, chest spine | 2.57 | 0.90 | 0.99 | 0.90 | 0.99 | 0.10 | 3.57 | 3.66 | 3.57 | 3.66 | XXX
72157 | TC | A | Magnetic image, chest spine | 0.00 | 25.16 | 25.31 | NA | NA | 1.12 | 26.28 | 26.43 | NA | NA | XXX
72158 |  | A | Magnetic image, lumbar spine | 2.36 | 25.98 | 26.22 | NA | NA | 1.21 | 29.55 | 29.79 | NA | NA | XXX
72158 | 26 | A | Magnetic image, lumbar spine | 2.36 | 0.82 | 0.91 | 0.82 | 0.91 | 0.09 | 3.27 | 3.36 | 3.27 | 3.36 | XXX
72158 | TC | A | Magnetic image, lumbar spine | 0.00 | 25.16 | 25.31 | NA | NA | 1.12 | 26.28 | 26.43 | NA | NA | XXX
72159 |  | N | Magnetic image, spine (mra) | 1.80 | 13.29 | 13.36 | NA | NA | 0.62 | 15.71 | 15.78 | NA | NA | XXX
72159 | 26 | N | Magnetic image, spine (mra) | 1.80 | 0.71 | 0.71 | 0.71 | 0.71 | 0.07 | 2.58 | 2.58 | 2.58 | 2.58 | XXX
72159 | TC | N | Magnetic image, spine (mra) | 0.00 | 12.58 | 12.65 | NA | NA | 0.55 | 13.13 | 13.20 | NA | NA | XXX
72170 |  | A | X-ray exam of pelvis | 0.17 | 0.59 | 0.60 | NA | NA | 0.03 | 0.79 | 0.80 | NA | NA | XXX
72170 | 26 | A | X-ray exam of pelvis | 0.17 | 0.06 | 0.07 | 0.06 | 0.07 | 0.01 | 0.24 | 0.25 | 0.24 | 0.25 | XXX
72170 | TC | A | X-ray exam of pelvis | 0.00 | 0.53 | 0.53 | NA | NA | 0.02 | 0.55 | 0.55 | NA | NA | XXX
72190 |  | A | X-ray exam of pelvis | 0.21 | 0.74 | 0.76 | NA | NA | 0.04 | 0.99 | 1.01 | NA | NA | XXX
72190 | 26 | A | X-ray exam of pelvis | 0.21 | 0.07 | 0.08 | 0.07 | 0.08 | 0.01 | 0.29 | 0.30 | 0.29 | 0.30 | XXX
72190 | TC | A | X-ray exam of pelvis | 0.00 | 0.67 | 0.68 | NA | NA | 0.03 | 0.70 | 0.71 | NA | NA | XXX
72192 |  | A | CAT scan of pelvis | 1.09 | 6.35 | 6.43 | NA | NA | 0.31 | 7.75 | 7.83 | NA | NA | XXX
72192 | 26 | A | CAT scan of pelvis | 1.09 | 0.38 | 0.42 | 0.38 | 0.42 | 0.04 | 1.51 | 1.55 | 1.51 | 1.55 | XXX
72192 | TC | A | CAT scan of pelvis | 0.00 | 5.97 | 6.01 | NA | NA | 0.27 | 6.24 | 6.28 | NA | NA | XXX
72193 |  | A | Contrast CAT scan of pelvis | 1.16 | 7.32 | 7.40 | NA | NA | 0.36 | 8.84 | 8.92 | NA | NA | XXX
72193 | 26 | A | Contrast CAT scan of pelvis | 1.16 | 0.40 | 0.44 | 0.40 | 0.44 | 0.05 | 1.61 | 1.65 | 1.61 | 1.65 | XXX
72193 | TC | A | Contrast CAT scan of pelvis | 0.00 | 6.92 | 6.96 | NA | NA | 0.31 | 7.23 | 7.27 | NA | NA | XXX
72194 |  | A | Contrast CAT scans of pelvis | 1.22 | 9.00 | 9.09 | NA | NA | 0.42 | 10.64 | 10.73 | NA | NA | XXX
72194 | 26 | A | Contrast CAT scans of pelvis | 1.22 | 0.42 | 0.46 | 0.42 | 0.46 | 0.05 | 1.69 | 1.73 | 1.69 | 1.73 | XXX
72194 | TC | A | Contrast CAT scans of pelvis | 0.00 | 8.58 | 8.63 | NA | NA | 0.37 | 8.95 | 9.00 | NA | NA | XXX
72196 |  | A | Magnetic image, pelvis | 1.60 | 11.89 | 12.02 | NA | NA | 0.56 | 14.05 | 14.18 | NA | NA | XXX
72196 | 26 | A | Magnetic image, pelvis | 1.60 | 0.56 | 0.62 | 0.56 | 0.62 | 0.06 | 2.22 | 2.28 | 2.22 | 2.28 | XXX
72196 | TC | A | Magnetic image, pelvis | 0.00 | 11.33 | 11.40 | NA | NA | 0.50 | 11.83 | 11.90 | NA | NA | XXX
72198 |  | N | Magnetic image, pelvis (mra) | 1.80 | 12.04 | 12.13 | NA | NA | 0.57 | 14.41 | 14.50 | NA | NA | XXX
72198 | 26 | N | Magnetic image, pelvis (mra) | 1.80 | 0.71 | 0.73 | 0.71 | 0.73 | 0.07 | 2.58 | 2.60 | 2.58 | 2.60 | XXX
72198 | TC | N | Magnetic image, pelvis (mra) | 0.00 | 11.33 | 11.40 | NA | NA | 0.50 | 11.83 | 11.90 | NA | NA | XXX
72200 |  | A | X-ray exam sacroiliac joints | 0.17 | 0.59 | 0.60 | NA | NA | 0.03 | 0.79 | 0.80 | NA | NA | XXX
72200 | 26 | A | X-ray exam sacroiliac joints | 0.17 | 0.06 | 0.07 | 0.06 | 0.07 | 0.01 | 0.24 | 0.25 | 0.24 | 0.25 | XXX
72200 | TC | A | X-ray exam sacroiliac joints | 0.00 | 0.53 | 0.53 | NA | NA | 0.02 | 0.55 | 0.55 | NA | NA | XXX
72202 |  | A | X-ray exam sacroiliac joints | 0.19 | 0.70 | 0.71 | NA | NA | 0.04 | 0.93 | 0.94 | NA | NA | XXX
72202 | 26 | A | X-ray exam sacroiliac joints | 0.19 | 0.07 | 0.08 | 0.07 | 0.08 | 0.01 | 0.27 | 0.28 | 0.27 | 0.28 | XXX
72202 | TC | A | X-ray exam sacroiliac joints | 0.00 | 0.63 | 0.63 | NA | NA | 0.03 | 0.66 | 0.66 | NA | NA | XXX
72220 |  | A | X-ray exam of tailbone | 0.17 | 0.64 | 0.65 | NA | NA | 0.04 | 0.85 | 0.86 | NA | NA | XXX
72220 | 26 | A | X-ray exam of tailbone | 0.17 | 0.06 | 0.07 | 0.06 | 0.07 | 0.01 | 0.24 | 0.25 | 0.24 | 0.25 | XXX
72220 | TC | A | X-ray exam of tailbone | 0.00 | 0.58 | 0.58 | NA | NA | 0.03 | 0.61 | 0.61 | NA | NA | XXX
72240 |  | A | Contrast x-ray of neck spine | 0.91 | 5.10 | 5.17 | NA | NA | 0.26 | 6.27 | 6.34 | NA | NA | XXX
72240 | 26 | A | Contrast x-ray of neck spine | 0.91 | 0.30 | 0.34 | 0.30 | 0.34 | 0.04 | 1.25 | 1.29 | 1.25 | 1.29 | XXX
72240 | TC | A | Contrast x-ray of neck spine | 0.00 | 4.80 | 4.83 | NA | NA | 0.22 | 5.02 | 5.05 | NA | NA | XXX
72255 |  | A | Contrast x-ray, thorax spine | 0.91 | 4.66 | 4.73 | NA | NA | 0.23 | 5.80 | 5.87 | NA | NA | XXX
72255 | 26 | A | Contrast x-ray, thorax spine | 0.91 | 0.28 | 0.32 | 0.28 | 0.32 | 0.04 | 1.23 | 1.27 | 1.23 | 1.27 | XXX
72255 | TC | A | Contrast x-ray, thorax spine | 0.00 | 4.38 | 4.41 | NA | NA | 0.19 | 4.57 | 4.60 | NA | NA | XXX
72265 |  | A | Contrast x-ray, lower spine | 0.83 | 4.38 | 4.44 | NA | NA | 0.23 | 5.44 | 5.50 | NA | NA | XXX
72265 | 26 | A | Contrast x-ray, lower spine | 0.83 | 0.26 | 0.30 | 0.26 | 0.30 | 0.04 | 1.13 | 1.17 | 1.13 | 1.17 | XXX
72265 | TC | A | Contrast x-ray, lower spine | 0.00 | 4.12 | 4.14 | NA | NA | 0.19 | 4.31 | 4.33 | NA | NA | XXX
72270 |  | A | Contrast x-ray of spine | 1.33 | 6.61 | 6.70 | NA | NA | 0.34 | 8.28 | 8.37 | NA | NA | XXX
72270 | 26 | A | Contrast x-ray of spine | 1.33 | 0.44 | 0.49 | 0.44 | 0.49 | 0.06 | 1.83 | 1.88 | 1.83 | 1.88 | XXX
72270 | TC | A | Contrast x-ray of spine | 0.00 | 6.17 | 6.21 | NA | NA | 0.28 | 6.45 | 6.49 | NA | NA | XXX
72275 |  | A | Epidurography | 0.54 | 2.23 | 2.24 | NA | NA | 0.24 | 3.01 | 3.02 | NA | NA | XXX
72275 | 26 | A | Epidurography | 0.54 | 0.17 | 0.17 | 0.17 | 0.17 | 0.05 | 0.76 | 0.76 | 0.76 | 0.76 | XXX
72275 | TC | A | Epidurography | 0.00 | 2.06 | 2.07 | NA | NA | 0.19 | 2.25 | 2.26 | NA | NA | XXX
72285 |  | A | X-ray c/t spine disk | 1.16 | 8.88 | 8.93 | NA | NA | 0.41 | 10.45 | 10.50 | NA | NA | XXX
72285 | 26 | A | X-ray c/t spine disk | 1.16 | 0.41 | 0.41 | 0.41 | 0.41 | 0.04 | 1.61 | 1.61 | 1.61 | 1.61 | XXX
72285 | TC | A | X-ray c/t spine disk | 0.00 | 8.47 | 8.52 | NA | NA | 0.37 | 8.84 | 8.89 | NA | NA | XXX
72295 |  | A | X-ray of lower spine disk | 0.83 | 8.24 | 8.32 | NA | NA | 0.38 | 9.45 | 9.53 | NA | NA | XXX
72295 | 26 | A | X-ray of lower spine disk | 0.83 | 0.29 | 0.32 | 0.29 | 0.32 | 0.04 | 1.16 | 1.19 | 1.16 | 1.19 | XXX
72295 | TC | A | X-ray of lower spine disk | 0.00 | 7.95 | 8.00 | NA | NA | 0.34 | 8.29 | 8.34 | NA | NA | XXX
73000 |  | A | X-ray exam of collar bone | 0.16 | 0.59 | 0.60 | NA | NA | 0.03 | 0.78 | 0.79 | NA | NA | XXX
73000 | 26 | A | X-ray exam of collar bone | 0.16 | 0.06 | 0.07 | 0.06 | 0.07 | 0.01 | 0.23 | 0.24 | 0.23 | 0.24 | XXX
73000 | TC | A | X-ray exam of collar bone | 0.00 | 0.53 | 0.53 | NA | NA | 0.02 | 0.55 | 0.55 | NA | NA | XXX
73010 |  | A | X-ray exam of shoulder blade | 0.17 | 0.59 | 0.60 | NA | NA | 0.03 | 0.79 | 0.80 | NA | NA | XXX
73010 | 26 | A | X-ray exam of shoulder blade | 0.17 | 0.06 | 0.07 | 0.06 | 0.07 | 0.01 | 0.24 | 0.25 | 0.24 | 0.25 | XXX
73010 | TC | A | X-ray exam of shoulder blade | 0.00 | 0.53 | 0.53 | NA | NA | 0.02 | 0.55 | 0.55 | NA | NA | XXX
73020 |  | A | X-ray exam of shoulder | 0.15 | 0.53 | 0.54 | NA | NA | 0.03 | 0.71 | 0.72 | NA | NA | XXX
73020 | 26 | A | X-ray exam of shoulder | 0.15 | 0.05 | 0.06 | 0.05 | 0.06 | 0.01 | 0.21 | 0.22 | 0.21 | 0.22 | XXX
73020 | TC | A | X-ray exam of shoulder | 0.00 | 0.48 | 0.48 | NA | NA | 0.02 | 0.50 | 0.50 | NA | NA | XXX
73030 |  | A | X-ray exam of shoulder | 0.18 | 0.64 | 0.65 | NA | NA | 0.04 | 0.86 | 0.87 | NA | NA | XXX
73030 | 26 | A | X-ray exam of shoulder | 0.18 | 0.06 | 0.07 | 0.06 | 0.07 | 0.01 | 0.25 | 0.26 | 0.25 | 0.26 | XXX
73030 | TC | A | X-ray exam of shoulder | 0.00 | 0.58 | 0.58 | NA | NA | 0.03 | 0.61 | 0.61 | NA | NA | XXX
73040 |  | A | Contrast x-ray of shoulder | 0.54 | 2.31 | 2.34 | NA | NA | 0.12 | 2.97 | 3.00 | NA | NA | XXX
73040 | 26 | A | Contrast x-ray of shoulder | 0.54 | 0.19 | 0.21 | 0.19 | 0.21 | 0.02 | 0.75 | 0.77 | 0.75 | 0.77 | XXX
73040 | TC | A | Contrast x-ray of shoulder | 0.00 | 2.12 | 2.13 | NA | NA | 0.10 | 2.22 | 2.23 | NA | NA | XXX
73050 |  | A | X-ray exam of shoulders | 0.20 | 0.74 | 0.76 | NA | NA | 0.04 | 0.98 | 1.00 | NA | NA | XXX
73050 | 26 | A | X-ray exam of shoulders | 0.20 | 0.07 | 0.08 | 0.07 | 0.08 | 0.01 | 0.28 | 0.29 | 0.28 | 0.29 | XXX
73050 | TC | A | X-ray exam of shoulders | 0.00 | 0.67 | 0.68 | NA | NA | 0.03 | 0.70 | 0.71 | NA | NA | XXX
73060 |  | A | X-ray exam of humerus | 0.17 | 0.64 | 0.65 | NA | NA | 0.04 | 0.85 | 0.86 | NA | NA | XXX
73060 | 26 | A | X-ray exam of humerus | 0.17 | 0.06 | 0.07 | 0.06 | 0.07 | 0.01 | 0.24 | 0.25 | 0.24 | 0.25 | XXX
73060 | TC | A | X-ray exam of humerus | 0.00 | 0.58 | 0.58 | NA | NA | 0.03 | 0.61 | 0.61 | NA | NA | XXX
73070 |  | A | X-ray exam of elbow | 15 | 0.58 | 0.59 | NA | NA | 0.03 | 0.76 | 0.77 | NA | NA | XXX
73070 | 26 | A | X-ray exam of elbow | 0.15 | 0.05 | 0.06 | 0.05 | 0.06 | 0.01 | 0.21 | 0.22 | 0.21 | 0.22 | XXX
73070 | TC | A | X-ray exam of elbow | 0.00 | 0.53 | 0.53 | NA | NA | 0.02 | 0.55 | 0.55 | NA | NA | XXX
73080 |  | A | X-ray exam of elbow | 0.17 | 0.64 | 0.65 | NA | NA | 0.04 | 0.85 | 0.86 | NA | NA | XXX
73080 | 26 | A | X-ray exam of elbow | 0.17 | 0.06 | 0.07 | 0.06 | 0.07 | 0.01 | 0.24 | 0.25 | 0.24 | 0.25 | XXX
73080 | TC | A | X-ray exam of elbow | 0.00 | 0.58 | 0.58 | NA | NA | 0.03 | 0.61 | 0.61 | NA | NA | XXX
73085 |  | A | Contrast x-ray of elbow | 0.54 | 2.32 | 2.35 | NA | NA | 0.12 | 2.98 | 3.01 | NA | NA | XXX
73085 | 26 | A | Contrast x-ray of elbow | 0.54 | 0.20 | 0.22 | 0.20 | 0.22 | 0.02 | 0.76 | 0.78 | 0.76 | 0.78 | XXX
73085 | TC | A | Contrast x-ray of elbow | 0.00 | 2.12 | 2.13 | NA | NA | 0.10 | 2.22 | 2.23 | NA | NA | XXX
73090 |  | A | X-ray exam of forearm | 0.16 | 0.59 | 0.60 | NA | NA | 0.03 | 0.78 | 0.79 | NA | NA | XXX
73090 | 26 | A | X-ray exam of forearm | 0.16 | 0.06 | 0.07 | 0.06 | 0.07 | 0.01 | 0.23 | 0.24 | 0.23 | 0.24 | XXX
73090 | TC | A | X-ray exam of forearm | 0.00 | 0.53 | 0.53 | NA | NA | 0.02 | 0.55 | 0.55 | NA | NA | XXX
73092 |  | A | X-ray exam of arm, infant | 0.16 | 0.56 | 0.57 | NA | NA | 0.03 | 0.75 | 0.76 | NA | NA | XXX
73092 | 26 | A | X-ray exam of arm, infant | 0.16 | 0.06 | 0.07 | 0.06 | 0.07 | 0.01 | 0.23 | 0.24 | 0.23 | 0.24 | XXX
73092 | TC | A | X-ray exam of arm, infant | 0.00 | 0.50 | 0.50 | NA | NA | 0.02 | 0.52 | 0.52 | NA | NA | XXX
73100 |  | A | X-ray exam of wrist | 0.16 | 0.56 | 0.57 | NA | NA | 0.03 | 0.75 | 0.76 | NA | NA | XXX
73100 | 26 | A | X-ray exam of wrist | 0.16 | 0.06 | 0.07 | 0.06 | 0.07 | 0.01 | 0.23 | 0.24 | 0.23 | 0.24 | XXX
73100 | TC | A | X-ray exam of wrist | 0.00 | 0.50 | 0.50 | NA | NA | 0.02 | 0.52 | 0.52 | NA | NA | XXX
73110 |  | A | X-ray exam of wrist | 0.17 | 0.60 | 0.61 | NA | NA | 0.03 | 0.80 | 0.81 | NA | NA | XXX
73110 | 26 | A | X-ray exam of wrist | 0.17 | 0.06 | 0.07 | 0.06 | 0.07 | 0.01 | 0.24 | 0.25 | 0.24 | 0.25 | XXX
73110 | TC | A | X-ray exam of wrist | 0.00 | 0.54 | 0.54 | NA | NA | 0.02 | 0.56 | 0.56 | NA | NA | XXX
73115 |  | A | Contrast x-ray of wrist | 0.54 | 1.79 | 1.82 | NA | NA | 0.10 | 2.43 | 2.46 | NA | NA | XXX
73115 | 26 | A | Contrast x-ray of wrist | 0.54 | 0.20 | 0.22 | 0.20 | 0.22 | 0.02 | 0.76 | 0.78 | 0.76 | 0.78 | XXX
73115 | TC | A | Contrast x-ray of wrist | 0.00 | 1.59 | 1.60 | NA | NA | 0.08 | 1.67 | 1.68 | NA | NA | XXX
73120 |  | A | X-ray exam of hand | 0.16 | 0.56 | 0.57 | NA | NA | 0.03 | 0.75 | 0.76 | NA | NA | XXX
73120 | 26 | A | X-ray exam of hand | 0.16 | 0.06 | 0.07 | 0.06 | 0.07 | 0.01 | 0.23 | 0.24 | 0.23 | 0.24 | XXX
73120 | TC | A | X-ray exam of hand | 0.00 | 0.50 | 0.50 | NA | NA | 0.02 | 0.52 | 0.52 | NA | NA | XXX
73130 |  | A | X-ray exam of hand | 0.17 | 0.60 | 0.61 | NA | NA | 0.03 | 0.80 | 0.81 | NA | NA | XXX
73130 | 26 | A | X-ray exam of hand | 0.17 | 0.06 | 0.07 | 0.06 | 0.07 | 0.01 | 0.24 | 0.25 | 0.24 | 0.25 | XXX
73130 | TC | A | X-ray exam of hand | 0.00 | 0.54 | 0.54 | NA | NA | 0.02 | 0.56 | 0.56 | NA | NA | XXX
73140 |  | A | X-ray exam of finger(s) | 0.13 | 0.47 | 0.48 | NA | NA | 0.03 | 0.63 | 0.64 | NA | NA | XXX
73140 | 26 | A | X-ray exam of finger(s) | 0.13 | 0.05 | 0.06 | 0.05 | 0.06 | 0.01 | 0.19 | 0.20 | 0.19 | 0.20 | XXX
73140 | TC | A | X-ray exam of finger(s) | 0.00 | 0.42 | 0.42 | NA | NA | 0.02 | 0.44 | 0.44 | NA | NA | XXX
73200 |  | A | CAT scan of arm | 1.09 | 5.39 | 5.46 | NA | NA | 0.26 | 6.74 | 6.81 | NA | NA | XXX
73200 | 26 | A | CAT scan of arm | 1.09 | 0.38 | 0.42 | 0.38 | 0.42 | 0.04 | 1.51 | 1.55 | 1.51 | 1.55 | XXX
73200 | TC | A | CAT scan of arm | 0.00 | 5.01 | 5.04 | NA | NA | 0.22 | 5.23 | 5.26 | NA | NA | XXX
73201 |  | A | Contrast CAT scan of arm | 1.16 | 6.37 | 6.45 | NA | NA | 0.32 | 7.85 | 7.93 | NA | NA | XXX
73201 | 26 | A | Contrast CAT scan of arm | 1.16 | 0.40 | 0.44 | 0.40 | 0.44 | 0.05 | 1.61 | 1.65 | 1.61 | 1.65 | XXX
73201 | TC | A | Contrast CAT scan of arm | 0.00 | 5.97 | 6.01 | NA | NA | 0.27 | 6.24 | 6.28 | NA | NA | XXX
73202 |  | A | Contrast CAT scans of arm | 1.22 | 7.94 | 8.02 | NA | NA | 0.38 | 9.54 | 9.62 | NA | NA | XXX
73202 | 26 | A | Contrast CAT scans of arm | 1.22 | 0.43 | 0.47 | 0.43 | 0.47 | 0.05 | 1.70 | 1.74 | 1.70 | 1.74 | XXX
73202 | TC | A | Contrast CAT scans of arm | 0.00 | 7.51 | 7.55 | NA | NA | 0.33 | 7.84 | 7.88 | NA | NA | XXX
73220 |  | A | Magnetic image, arm/hand | 1.48 | 11.85 | 11.97 | NA | NA | 0.56 | 13.89 | 14.01 | NA | NA | XXX
73220 | 26 | A | Magnetic image, arm/hand | 1.48 | 0.52 | 0.57 | 0.52 | 0.57 | 0.06 | 2.06 | 2.11 | 2.06 | 2.11 | XXX
73220 | TC | A | Magnetic image, arm/hand | 0.00 | 11.33 | 11.40 | NA | NA | 0.50 | 11.83 | 11.90 | NA | NA | XXX
73221 |  | A | Magnetic image, joint of arm | 1.48 | 11.85 | 11.91 | NA | NA | 0.56 | 13.89 | 13.95 | NA | NA | XXX
73221 | 26 | A | Magnetic image, joint of arm | 1.48 | 0.52 | 0.51 | 0.52 | 0.51 | 0.06 | 2.06 | 2.05 | 2.06 | 2.05 | XXX
73221 | TC | A | Magnetic image, joint of arm | 0.00 | 11.33 | 11.40 | NA | NA | 0.50 | 11.83 | 11.90 | NA | NA | XXX
73225 |  | N | Magnetic image, upper (mra) | 1.73 | 12.02 | 12.10 | NA | NA | 0.57 | 14.32 | 14.40 | NA | NA | XXX
73225 | 26 | N | Magnetic image, upper (mra) | 1.73 | 0.69 | 0.70 | 0.69 | 0.70 | 0.07 | 2.49 | 2.50 | 2.49 | 2.50 | XXX
73225 | TC | N | Magnetic image, upper (mra) | 0.00 | 11.33 | 11.40 | NA | NA | 0.50 | 11.83 | 11.90 | NA | NA | XXX
73500 |  | A | X-ray exam of hip | 0.17 | 0.54 | 0.55 | NA | NA | 0.03 | 0.74 | 0.75 | NA | NA | XXX
73500 | 26 | A | X-ray exam of hip | 0.17 | 0.06 | 0.07 | 0.06 | 0.07 | 0.01 | 0.24 | 0.25 | 0.24 | 0.25 | XXX
73500 | TC | A | X-ray exam of hip | 0.00 | 0.48 | 0.48 | NA | NA | 0.02 | 0.50 | 0.50 | NA | NA | XXX
73510 |  | A | X-ray exam of hip | 0.21 | 0.65 | 0.66 | NA | NA | 0.04 | 0.90 | 0.91 | NA | NA | XXX
73510 | 26 | A | X-ray exam of hip | 0.21 | 0.07 | 0.08 | 0.07 | 0.08 | 0.01 | 0.29 | 0.30 | 0.29 | 0.30 | XXX
73510 | TC | A | X-ray exam of hip | 0.00 | 0.58 | 0.58 | NA | NA | 0.03 | 0.61 | 0.61 | NA | NA | XXX
73520 |  | A | X-ray exam of hips | 0.26 | 0.76 | 0.78 | NA | NA | 0.04 | 1.06 | 1.08 | NA | NA | XXX
73520 | 26 | A | X-ray exam of hips | 0.26 | 0.09 | 0.10 | 0.09 | 0.10 | 0.01 | 0.36 | 0.37 | 0.36 | 0.37 | XXX
73520 | TC | A | X-ray exam of hips | 0.00 | 0.67 | 0.68 | NA | NA | 0.03 | 0.70 | 0.71 | NA | NA | XXX
73525 |  | A | Contrast x-ray of hip | 0.54 | 2.31 | 2.34 | NA | NA | 0.12 | 2.97 | 3.00 | NA | NA | XXX
73525 | 26 | A | Contrast x-ray of hip | 0.54 | 0.19 | 0.21 | 0.19 | 0.21 | 0.02 | 0.75 | 0.77 | 0.75 | 0.77 | XXX
73525 | TC | A | Contrast x-ray of hip | 0.00 | 2.12 | 2.13 | NA | NA | 0.10 | 2.22 | 2.23 | NA | NA | XXX
73530 |  | A | X-ray exam of hip | 0.29 | 0.63 | 0.64 | NA | NA | 0.03 | 0.95 | 0.96 | NA | NA | XXX
73530 | 26 | A | X-ray exam of hip | 0.29 | 0.10 | 0.11 | 0.10 | 0.11 | 0.01 | 0.40 | 0.41 | 0.40 | 0.41 | XXX
73530 | TC | A | X-ray exam of hip | 0.00 | 0.53 | 0.53 | NA | NA | 0.02 | 0.55 | 0.55 | NA | NA | XXX
73540 |  | A | X-ray exam of pelvis & hips | 0.20 | 0.65 | 0.66 | NA | NA | 0.04 | 0.89 | 0.90 | NA | NA | XXX
73540 | 26 | A | X-ray exam of pelvis & hips | 0.20 | 0.07 | 0.08 | 0.07 | 0.08 | 0.01 | 0.28 | 0.29 | 0.28 | 0.29 | XXX
73540 | TC | A | X-ray exam of pelvis & hips | 0.00 | 0.58 | 0.58 | NA | NA | 0.03 | 0.61 | 0.61 | NA | NA | XXX
73542 |  | A | X-ray exam, sacroiliac joint | 0.54 | 2.25 | 2.26 | NA | NA | 0.14 | 2.93 | 2.94 | NA | NA | XXX
73542 | 26 | A | X-ray exam, sacroiliac joint | 0.54 | 0.19 | 0.19 | 0.19 | 0.19 | 0.04 | 0.77 | 0.77 | 0.77 | 0.77 | XXX
73542 | TC | A | X-ray exam, sacroiliac joint | 0.00 | 2.06 | 2.07 | NA | NA | 0.10 | 2.16 | 2.17 | NA | NA | XXX
73550 |  | A | X-ray exam of thigh | 0.17 | 0.64 | 0.65 | NA | NA | 0.04 | 0.85 | 0.86 | NA | NA | XXX
73550 | 26 | A | X-ray exam of thigh | 0.17 | 0.06 | 0.07 | 0.06 | 0.07 | 0.01 | 0.24 | 0.25 | 0.24 | 0.25 | XXX
73550 | TC | A | X-ray exam of thigh | 0.00 | 0.58 | 0.58 | NA | NA | 0.03 | 0.61 | 0.61 | NA | NA | XXX
73560 |  | A | X-ray exam of knee, 1 or 2 | 0.17 | 0.59 | 0.60 | NA | NA | 0.03 | 0.79 | 0.80 | NA | NA | XXX
73560 | 26 | A | X-ray exam of knee, 1 or 2 | 0.17 | 0.06 | 0.07 | 0.06 | 0.07 | 0.01 | 0.24 | 0.25 | 0.24 | 0.25 | XXX
73560 | TC | A | X-ray exam of knee, 1 or 2 | 0.00 | 0.53 | 0.53 | NA | NA | 0.02 | 0.55 | 0.55 | NA | NA | XXX
73562 |  | A | X-ray exam of knee, 3 | 0.18 | 0.64 | 0.65 | NA | NA | 0.04 | 0.86 | 0.87 | NA | NA | XXX
73562 | 26 | A | X-ray exam of knee, 3 | 0.18 | 0.06 | 0.07 | 0.06 | 0.07 | 0.01 | 0.25 | 0.26 | 0.25 | 0.26 | XXX
73562 | TC | A | X-ray exam of knee, 3 | 0.00 | 0.58 | 0.58 | NA | NA | 0.03 | 0.61 | 0.61 | NA | NA | XXX
73564 |  | A | X-ray exam, knee, 4 or more | 0.22 | 0.71 | 0.72 | NA | NA | 0.04 | 0.97 | 0.98 | NA | NA | XXX
73564 | 26 | A | X-ray exam, knee, 4 or more | 0.22 | 0.08 | 0.09 | 0.08 | 0.09 | 0.01 | 0.31 | 0.32 | 0.31 | 0.32 | XXX
73564 | TC | A | X-ray exam, knee, 4 or more | 0.00 | 0.63 | 0.63 | NA | NA | 0.03 | 0.66 | 0.66 | NA | NA | XXX
73565 |  | A | X-ray exam of knees | 0.17 | 0.56 | 0.57 | NA | NA | 0.03 | 0.76 | 0.77 | NA | NA | XXX
73565 | 26 | A | X-ray exam of knees | 0.17 | 0.06 | 0.07 | 0.06 | 0.07 | 0.01 | 0.24 | 0.25 | 0.24 | 0.25 | XXX
73565 | TC | A | X-ray exam of knees | 0.00 | 0.50 | 0.50 | NA | NA | 0.02 | 0.52 | 0.52 | NA | NA | XXX
73580 |  | A | Contrast x-ray of knee joint | 0.54 | 2.83 | 2.87 | NA | NA | 0.14 | 3.51 | 3.55 | NA | NA | XXX
73580 | 26 | A | Contrast x-ray of knee joint | 0.54 | 0.18 | 0.20 | 0.18 | 0.20 | 0.02 | 0.74 | 0.76 | 0.74 | 0.76 | XXX
73580 | TC | A | Contrast x-ray of knee joint | 0.00 | 2.65 | 2.67 | NA | NA | 0.12 | 2.77 | 2.79 | NA | NA | XXX
73590 |  | A | X-ray exam of lower leg | 0.17 | 0.59 | 0.60 | NA | NA | 0.03 | 0.79 | 0.80 | NA | NA | XXX
73590 | 26 | A | X-ray exam of lower leg | 0.17 | 0.06 | 0.07 | 0.06 | 0.07 | 0.01 | 0.24 | 0.25 | 0.24 | 0.25 | XXX
73590 | TC | A | X-ray exam of lower leg | 0.00 | 0.53 | 0.53 | NA | NA | 0.02 | 0.55 | 0.55 | NA | NA | XXX
73592 |  | A | X-ray exam of leg, infant | 0.16 | 0.56 | 0.57 | NA | NA | 0.03 | 0.75 | 0.76 | NA | NA | XXX
73592 | 26 | A | X-ray exam of leg, infant | 0.16 | 0.06 | 0.07 | 0.06 | 0.07 | 0.01 | 0.23 | 0.24 | 0.23 | 0.24 | XXX
73592 | TC | A | X-ray exam of leg, infant | 0.00 | 0.50 | 0.50 | NA | NA | 0.02 | 0.52 | 0.52 | NA | NA | XXX
73600 |  | A | X-ray exam of ankle | 0.16 | 0.56 | 0.57 | NA | NA | 0.03 | 0.75 | 0.76 | NA | NA | XXX
73600 | 26 | A | X-ray exam of ankle | 0.16 | 0.06 | 0.07 | 0.06 | 0.07 | 0.01 | 0.23 | 0.24 | 0.23 | 0.24 | XXX
73600 | TC | A | X-ray exam of ankle | 0.00 | 0.50 | 0.50 | NA | NA | 0.02 | 0.52 | 0.52 | NA | NA | XXX
73610 |  | A | X-ray exam of ankle | 0.17 | 0.60 | 0.61 | NA | NA | 0.03 | 0.80 | 0.81 | NA | NA | XXX
73610 | 26 | A | X-ray exam of ankle | 0.17 | 0.06 | 0.07 | 0.06 | 0.07 | 0.01 | 0.24 | 0.25 | 0.24 | 0.25 | XXX
73610 | TC | A | X-ray exam of ankle | 0.00 | 0.54 | 0.54 | NA | NA | 0.02 | 0.56 | 0.56 | NA | NA | XXX
73615 |  | A | Contrast x-ray of ankle | 0.54 | 2.31 | 2.34 | NA | NA | 0.12 | 2.97 | 3.00 | NA | NA | XXX
73615 | 26 | A | Contrast x-ray of ankle | 0.54 | 0.19 | 0.21 | 0.19 | 0.21 | 0.02 | 0.75 | 0.77 | 0.75 | 0.77 | XXX
73615 | TC | A | Contrast x-ray of ankle | 0.00 | 2.12 | 2.13 | NA | NA | 0.10 | 2.22 | 2.23 | NA | NA | XXX
73620 |  | A | X-ray exam of foot | 0.16 | 0.56 | 0.57 | NA | NA | 0.03 | 0.75 | 0.76 | NA | NA | XXX
73620 | 26 | A | X-ray exam of foot | 0.16 | 0.06 | 0.07 | 0.06 | 0.07 | 0.01 | 0.23 | 0.24 | 0.23 | 0.24 | XXX
73620 | TC | A | X-ray exam of foot | 0.00 | 0.50 | 0.50 | NA | NA | 0.02 | 0.52 | 0.52 | NA | NA | XXX
73630 |  | A | X-ray exam of foot | 0.17 | 0.60 | 0.61 | NA | NA | 0.03 | 0.80 | 0.81 | NA | NA | XXX
73630 | 26 | A | X-ray exam of foot | 0.17 | 0.06 | 0.07 | 0.06 | 0.07 | 0.01 | 0.24 | 0.25 | 0.24 | 0.25 | XXX
73630 | TC | A | X-ray exam of foot | 0.00 | 0.54 | 0.54 | NA | NA | 0.02 | 0.56 | 0.56 | NA | NA | XXX
73650 |  | A | X-ray exam of heel | 0.16 | 0.54 | 0.55 | NA | NA | 0.03 | 0.73 | 0.74 | NA | NA | XXX
73650 | 26 | A | X-ray exam of heel | 0.16 | 0.06 | 0.07 | 0.06 | 0.07 | 0.01 | 0.23 | 0.24 | 0.23 | 0.24 | XXX
73650 | TC | A | X-ray exam of heel | 0.00 | 0.48 | 0.48 | NA | NA | 0.02 | 0.50 | 0.50 | NA | NA | XXX
73660 |  | A | X-ray exam of toe(s) | 0.13 | 0.47 | 0.48 | NA | NA | 0.03 | 0.63 | 0.64 | NA | NA | XXX
73660 | 26 | A | X-ray exam of toe(s) | 0.13 | 0.05 | 0.06 | 0.05 | 0.06 | 0.01 | 0.19 | 0.20 | 0.19 | 0.20 | XXX
73660 | TC | A | X-ray exam of toe(s) | 0.00 | 0.42 | 0.42 | NA | NA | 0.02 | 0.44 | 0.44 | NA | NA | XXX
3700 |  | A | CAT scan of leg | 1.09 | 5.39 | 5.46 | NA | NA | 0.26 | 6.74 | 6.81 | NA | NA | XXX
73700 | 26 | A | CAT scan of leg | 1.09 | 0.38 | 0.42 | 0.38 | 0.42 | 0.04 | 1.51 | 1.55 | 1.51 | 1.55 | XXX
73700 | TC | A | CAT scan of leg | 0.00 | 5.01 | 5.04 | NA | NA | 0.22 | 5.23 | 5.26 | NA | NA | XXX
73701 |  | A | Contrast CAT scan of leg | 1.16 | 6.37 | 6.45 | NA | NA | 0.32 | 7.85 | 7.93 | NA | NA | XXX
73701 | 26 | A | Contrast CAT scan of leg | 1.16 | 0.40 | 0.44 | 0.40 | 0.44 | 0.05 | 1.61 | 1.65 | 1.61 | 1.65 | XXX
73701 | TC | A | Contrast CAT scan of leg | 0.00 | 5.97 | 6.01 | NA | NA | 0.27 | 6.24 | 6.28 | NA | NA | XXX
73702 |  | A | Contrast CAT scans of leg | 1.22 | 7.93 | 8.01 | NA | NA | 0.38 | 9.53 | 9.61 | NA | NA | XXX
73702 | 26 | A | Contrast CAT scans of leg | 1.22 | 0.42 | 0.46 | 0.42 | 0.46 | 0.05 | 1.69 | 1.73 | 1.69 | 1.73 | XXX
73702 | TC | A | Contrast CAT scans of leg | 0.00 | 7.51 | 7.55 | NA | NA | 0.33 | 7.84 | 7.88 | NA | NA | XXX
73720 |  | A | Magnetic image, leg/foot | 1.48 | 11.85 | 11.97 | NA | NA | 0.56 | 13.89 | 14.01 | NA | NA | XXX
73720 | 26 | A | Magnetic image, leg/foot | 1.48 | 0.52 | 0.57 | 0.52 | 0.57 | 0.06 | 2.06 | 2.11 | 2.06 | 2.11 | XXX
73720 | TC | A | Magnetic image, leg/foot | 0.00 | 11.33 | 11.40 | NA | NA | 0.50 | 11.83 | 11.90 | NA | NA | XXX
73721 |  | A | Magnetic image, joint of leg | 1.48 | 11.85 | 11.91 | NA | NA | 0.56 | 13.89 | 13.95 | NA | NA | XXX
73721 | 26 | A | Magnetic image, joint of leg | 1.48 | 0.52 | 0.51 | 0.52 | 0.51 | 0.06 | 2.06 | 2.05 | 2.06 | 2.05 | XXX
73721 | TC | A | Magnetic image, joint of leg | 0.00 | 11.33 | 11.40 | NA | NA | 0.50 | 11.83 | 11.90 | NA | NA | XXX
73725 |  | R | Magnetic image/lower (mra) | 1.82 | 11.96 | 12.05 | NA | NA | 0.57 | 14.35 | 14.44 | NA | NA | XXX
73725 | 26 | R | Magnetic image/lower (mra) | 1.82 | 0.63 | 0.65 | 0.63 | 0.65 | 0.07 | 2.52 | 2.54 | 2.52 | 2.54 | XXX
73725 | TC | R | Magnetic image/lower (mra) | 0.00 | 11.33 | 11.40 | NA | NA | 0.50 | 11.83 | 11.90 | NA | NA | XXX
74000 |  | A | X-ray exam of abdomen | 0.18 | 0.59 | 0.60 | NA | NA | 0.03 | 0.80 | 0.81 | NA | NA | XXX
74000 | 26 | A | X-ray exam of abdomen | 0.18 | 0.06 | 0.07 | 0.06 | 0.07 | 0.01 | 0.25 | 0.26 | 0.25 | 0.26 | XXX
74000 | TC | A | X-ray exam of abdomen | 0.00 | 0.53 | 0.53 | NA | NA | 0.02 | 0.55 | 0.55 | NA | NA | XXX
74010 |  | A | X-ray exam of abdomen | 0.23 | 0.66 | 0.67 | NA | NA | 0.04 | 0.93 | 0.94 | NA | NA | XXX
74010 | 26 | A | X-ray exam of abdomen | 0.23 | 0.08 | 0.09 | 0.08 | 0.09 | 0.01 | 0.32 | 0.33 | 0.32 | 0.33 | XXX
74010 | TC | A | X-ray exam of abdomen | 0.00 | 0.58 | 0.58 | NA | NA | 0.03 | 0.61 | 0.61 | NA | NA | XXX
74020 |  | A | X-ray exam of abdomen | 0.27 | 0.72 | 0.73 | NA | NA | 0.04 | 1.03 | 1.04 | NA | NA | XXX
74020 | 26 | A | X-ray exam of abdomen | 0.27 | 0.09 | 0.10 | 0.09 | 0.10 | 0.01 | 0.37 | 0.38 | 0.37 | 0.38 | XXX
74020 | TC | A | X-ray exam of abdomen | 0.00 | 0.63 | 0.63 | NA | NA | 0.03 | 0.66 | 0.66 | NA | NA | XXX
74022 |  | A | X-ray exam series, abdomen | 0.32 | 0.85 | 0.87 | NA | NA | 0.05 | 1.22 | 1.24 | NA | NA | XXX
74022 | 26 | A | X-ray exam series, abdomen | 0.32 | 0.11 | 0.12 | 0.11 | 0.12 | 0.01 | 0.44 | 0.45 | 0.44 | 0.45 | XXX
74022 | TC | A | X-ray exam series, abdomen | 0.00 | 0.74 | 0.75 | NA | NA | 0.04 | 0.78 | 0.79 | NA | NA | XXX
74150 |  | A | CAT scan of abdomen | 1.19 | 6.13 | 6.20 | NA | NA | 0.31 | 7.63 | 7.70 | NA | NA | XXX
74150 | 26 | A | CAT scan of abdomen | 1.19 | 0.41 | 0.45 | 0.41 | 0.45 | 0.05 | 1.65 | 1.69 | 1.65 | 1.69 | XXX
74150 | TC | A | CAT scan of abdomen | 0.00 | 5.72 | 5.75 | NA | NA | 0.26 | 5.98 | 6.01 | NA | NA | XXX
74160 |  | A | Contrast CAT scan of abdomen | 1.27 | 7.36 | 7.44 | NA | NA | 0.36 | 8.99 | 9.07 | NA | NA | XXX
74160 | 26 | A | Contrast CAT scan of abdomen | 1.27 | 0.44 | 0.48 | 0.44 | 0.48 | 0.05 | 1.76 | 1.80 | 1.76 | 1.80 | XXX
74160 | TC | A | Contrast CAT scan of abdomen | 0.00 | 6.92 | 6.96 | NA | NA | 0.31 | 7.23 | 7.27 | NA | NA | XXX
74170 |  | A | Contrast CAT scans, abdomen | 1.40 | 9.07 | 9.17 | NA | NA | 0.43 | 10.90 | 11.00 | NA | NA | XXX
74170 | 26 | A | Contrast CAT scans, abdomen | 1.40 | 0.49 | 0.54 | 0.49 | 0.54 | 0.06 | 1.95 | 2.00 | 1.95 | 2.00 | XXX
74170 | TC | A | Contrast CAT scans, abdomen | 0.00 | 8.58 | 8.63 | NA | NA | 0.37 | 8.95 | 9.00 | NA | NA | XXX
74181 |  | A | Magnetic image/abdomen (mri) | 1.60 | 11.89 | 12.02 | NA | NA | 0.56 | 14.05 | 14.18 | NA | NA | XXX
74181 | 26 | A | Magnetic image/abdomen (mri) | 1.60 | 0.56 | 0.62 | 0.56 | 0.62 | 0.06 | 2.22 | 2.28 | 2.22 | 2.28 | XXX
74181 | TC | A | Magnetic image/abdomen (mri) | 0.00 | 11.33 | 11.40 | NA | NA | 0.50 | 11.83 | 11.90 | NA | NA | XXX
74185 |  | R | Magnetic image/abdomen (MRA) | 1.80 | 11.96 | 12.07 | NA | NA | 0.57 | 14.33 | 14.44 | NA | NA | XXX
74185 | 26 | R | Magnetic image/abdomen (MRA) | 1.80 | 0.63 | 0.67 | 0.63 | 0.67 | 0.07 | 2.50 | 2.54 | 2.50 | 2.54 | XXX
74185 | TC | R | Magnetic image/abdomen (MRA) | 0.00 | 11.33 | 11.40 | NA | NA | 0.50 | 11.83 | 11.90 | NA | NA | XXX
74190 |  | A | X-ray exam of peritoneum | 0.48 | 1.49 | 1.49 | NA | NA | 0.08 | 2.05 | 2.05 | NA | NA | XXX
74190 | 26 | A | X-ray exam of peritoneum | 0.48 | 0.17 | 0.16 | 0.17 | 0.16 | 0.02 | 0.67 | 0.66 | 0.67 | 0.66 | XXX
74190 | TC | A | X-ray exam of peritoneum | 0.00 | 1.32 | 1.33 | NA | NA | 0.06 | 1.38 | 1.39 | NA | NA | XXX
74210 |  | A | Contrst x-ray exam of throat | 0.36 | 1.33 | 1.35 | NA | NA | 0.06 | 1.75 | 1.77 | NA | NA | XXX
74210 | 26 | A | Contrst x-ray exam of throat | 0.36 | 0.13 | 0.14 | 0.13 | 0.14 | 0.01 | 0.50 | 0.51 | 0.50 | 0.51 | XXX
74210 | TC | A | Contrst x-ray exam of throat | 0.00 | 1.20 | 1.21 | NA | NA | 0.05 | 1.25 | 1.26 | NA | NA | XXX
74220 |  | A | Contrast x-ray, esophagus | 0.46 | 1.36 | 1.39 | NA | NA | 0.07 | 1.89 | 1.92 | NA | NA | XXX
74220 | 26 | A | Contrast x-ray, esophagus | 0.46 | 0.16 | 0.18 | 0.16 | 0.18 | 0.02 | 0.64 | 0.66 | 0.64 | 0.66 | XXX
74220 | TC | A | Contrast x-ray, esophagus | 0.00 | 1.20 | 1.21 | NA | NA | 0.05 | 1.25 | 1.26 | NA | NA | XXX
74230 |  | A | Cinema x-ray, throat/esoph | 0.53 | 1.51 | 1.54 | NA | NA | 0.08 | 2.12 | 2.15 | NA | NA | XXX
74230 | 26 | A | Cinema x-ray, throat/esoph | 0.53 | 0.19 | 0.21 | 0.19 | 0.21 | 0.02 | 0.74 | 0.76 | 0.74 | 0.76 | XXX
74230 | TC | A | Cinema x-ray, throat/esoph | 0.00 | 1.32 | 1.33 | NA | NA | 0.06 | 1.38 | 1.39 | NA | NA | XXX
74235 |  | A | Remove esophagus obstruction | 1.19 | 3.06 | 3.12 | NA | NA | 0.17 | 4.42 | 4.48 | NA | NA | XXX
74235 | 26 | A | Remove esophagus obstruction | 1.19 | 0.41 | 0.45 | 0.41 | 0.45 | 0.05 | 1.65 | 1.69 | 1.65 | 1.69 | XXX
74235 | TC | A | Remove esophagus obstruction | 0.00 | 2.65 | 2.67 | NA | NA | 0.12 | 2.77 | 2.79 | NA | NA | XXX
74240 |  | A | X-ray exam, upper gi tract | 0.69 | 1.72 | 1.76 | NA | NA | 0.10 | 2.51 | 2.55 | NA | NA | XXX
74240 | 26 | A | X-ray exam, upper gi tract | 0.69 | 0.24 | 0.27 | 0.24 | 0.27 | 0.03 | 0.96 | 0.99 | 0.96 | 0.99 | XXX
74240 | TC | A | X-ray exam, upper gi tract | 0.00 | 1.48 | 1.49 | NA | NA | 0.07 | 1.55 | 1.56 | NA | NA | XXX
74241 |  | A | X-ray exam, upper gi tract | 0.69 | 1.75 | 1.79 | NA | NA | 0.10 | 2.54 | 2.58 | NA | NA | XXX
74241 | 26 | A | X-ray exam, upper gi tract | 0.69 | 0.24 | 0.27 | 0.24 | 0.27 | 0.03 | 0.96 | 0.99 | 0.96 | 0.99 | XXX
74241 | TC | A | X-ray exam, upper gi tract | 0.00 | 1.51 | 1.52 | NA | NA | 0.07 | 1.58 | 1.59 | NA | NA | XXX
74245 |  | A | X-ray exam, upper gi tract | 0.91 | 2.72 | 2.77 | NA | NA | 0.15 | 3.78 | 3.83 | NA | NA | XXX
74245 | 26 | A | X-ray exam, upper gi tract | 0.91 | 0.32 | 0.35 | 0.32 | 0.35 | 0.04 | 1.27 | 1.30 | 1.27 | 1.30 | XXX
74245 | TC | A | X-ray exam, upper gi tract | 0.00 | 2.40 | 2.42 | NA | NA | 0.11 | 2.51 | 2.53 | NA | NA | XXX
74246 |  | A | Contrst x-ray uppr gi tract | 0.69 | 1.90 | 1.94 | NA | NA | 0.11 | 2.70 | 2.74 | NA | NA | XXX
74246 | 26 | A | Contrst x-ray uppr gi tract | 0.69 | 0.24 | 0.27 | 0.24 | 0.27 | 0.03 | 0.96 | 0.99 | 0.96 | 0.99 | XXX
74246 | TC | A | Contrst x-ray uppr gi tract | 0.00 | 1.66 | 1.67 | NA | NA | 0.08 | 1.74 | 1.75 | NA | NA | XXX
74247 |  | A | Contrst x-ray uppr gi tract | 0.69 | 1.94 | 1.98 | NA | NA | 0.12 | 2.75 | 2.79 | NA | NA | XXX
74247 | 26 | A | Contrst x-ray uppr gi tract | 0.69 | 0.24 | 0.27 | 0.24 | 0.27 | 0.03 | 0.96 | 0.99 | 0.96 | 0.99 | XXX
74247 | TC | A | Contrst x-ray uppr gi tract | 0.00 | 1.70 | 1.71 | NA | NA | 0.09 | 1.79 | 1.80 | NA | NA | XXX
74249 |  | A | Contrst x-ray uppr gi tract | 0.91 | 2.92 | 2.97 | NA | NA | 0.16 | 3.99 | 4.04 | NA | NA | XXX
74249 | 26 | A | Contrst x-ray uppr gi tract | 0.91 | 0.32 | 0.35 | 0.32 | 0.35 | 0.04 | 1.27 | 1.30 | 1.27 | 1.30 | XXX
74249 | TC | A | Contrst x-ray uppr gi tract | 0.00 | 2.60 | 2.62 | NA | NA | 0.12 | 2.72 | 2.74 | NA | NA | XXX
74250 |  | A | X-ray exam of small bowel | 0.47 | 1.48 | 1.51 | NA | NA | 0.08 | 2.03 | 2.06 | NA | NA | XXX
74250 | 26 | A | X-ray exam of small bowel | 0.47 | 0.16 | 0.18 | 0.16 | 0.18 | 0.02 | 0.65 | 0.67 | 0.65 | 0.67 | XXX
74250 | TC | A | X-ray exam of small bowel | 0.00 | 1.32 | 1.33 | NA | NA | 0.06 | 1.38 | 1.39 | NA | NA | XXX
74251 |  | A | X-ray exam of small bowel | 0.69 | 1.56 | 1.57 | NA | NA | 0.09 | 2.34 | 2.35 | NA | NA | XXX
74251 | 26 | A | X-ray exam of small bowel | 0.69 | 0.24 | 0.24 | 0.24 | 0.24 | 0.03 | 0.96 | 0.96 | 0.96 | 0.96 | XXX
74251 | TC | A | X-ray exam of small bowel | 0.00 | 1.32 | 1.33 | NA | NA | 0.06 | 1.38 | 1.39 | NA | NA | XXX
74260 |  | A | X-ray exam of small bowel | 0.50 | 1.68 | 1.71 | NA | NA | 0.09 | 2.27 | 2.30 | NA | NA | XXX
74260 | 26 | A | X-ray exam of small bowel | 0.50 | 0.17 | 0.19 | 0.17 | 0.19 | 0.02 | 0.69 | 0.71 | 0.69 | 0.71 | XXX
74260 | TC | A | X-ray exam of small bowel | 0.00 | 1.51 | 1.52 | NA | NA | 0.07 | 1.58 | 1.59 | NA | NA | XXX
74270 |  | A | Contrast x-ray exam of colon | 0.69 | 1.96 | 2.00 | NA | NA | 0.12 | 2.77 | 2.81 | NA | NA | XXX
74270 | 26 | A | Contrast x-ray exam of colon | 0.69 | 0.24 | 0.27 | 0.24 | 0.27 | 0.03 | 0.96 | 0.99 | 0.96 | 0.99 | XXX
74270 | TC | A | Contrast x-ray exam of colon | 0.00 | 1.72 | 1.73 | NA | NA | 0.09 | 1.81 | 1.82 | NA | NA | XXX
74280 |  | A | Contrast x-ray exam of colon | 0.99 | 2.60 | 2.65 | NA | NA | 0.15 | 3.74 | 3.79 | NA | NA | XXX
74280 | 26 | A | Contrast x-ray exam of colon | 0.99 | 0.34 | 0.38 | 0.34 | 0.38 | 0.04 | 1.37 | 1.41 | 1.37 | 1.41 | XXX
74280 | TC | A | Contrast x-ray exam of colon | 0.00 | 2.26 | 2.27 | NA | NA | 0.11 | 2.37 | 2.38 | NA | NA | XXX
74283 |  | A | Contrast x-ray exam of colon | 2.02 | 3.29 | 3.38 | NA | NA | 0.20 | 5.51 | 5.60 | NA | NA | XXX
74283 | 26 | A | Contrast x-ray exam of colon | 2.02 | 0.70 | 0.77 | 0.70 | 0.77 | 0.08 | 2.80 | 2.87 | 2.80 | 2.87 | XXX
74283 | TC | A | Contrast x-ray exam of colon | 0.00 | 2.59 | 2.61 | NA | NA | 0.12 | 2.71 | 2.73 | NA | NA | XXX
74290 |  | A | Contrast x-ray, gallbladder | 0.32 | 0.85 | 0.87 | NA | NA | 0.05 | 1.22 | 1.24 | NA | NA | XXX
74290 | 26 | A | Contrast x-ray, gallbladder | 0.32 | 0.11 | 0.12 | 0.11 | 0.12 | 0.01 | 0.44 | 0.45 | 0.44 | 0.45 | XXX
74290 | TC | A | Contrast x-ray, gallbladder | 0.00 | 0.74 | 0.75 | NA | NA | 0.04 | 0.78 | 0.79 | NA | NA | XXX
74291 |  | A | Contrast x-rays, gallbladder | 0.20 | 0.49 | 0.50 | NA | NA | 0.03 | 0.72 | 0.73 | NA | NA | XXX
74291 | 26 | A | Contrast x-rays, gallbladder | 0.20 | 0.07 | 0.08 | 0.07 | 0.08 | 0.01 | 0.28 | 0.29 | 0.28 | 0.29 | XXX
74291 | TC | A | Contrast x-rays, gallbladder | 0.00 | 0.42 | 0.42 | NA | NA | 0.02 | 0.44 | 0.44 | NA | NA | XXX
74300 |  | C | X-ray bile ducts/pancreas | 0.00 | 0.00 | 0.00 | NA | NA | 0.00 | 0.00 | 0.00 | NA | NA | XXX
74300 | 26 | A | X-ray bile ducts/pancreas | 0.36 | 0.13 | 0.14 | 0.13 | 0.14 | 0.01 | 0.50 | 0.51 | 0.50 | 0.51 | XXX
74300 | TC | C | X-ray bile ducts/pancreas | 0.00 | 0.00 | 0.00 | NA | NA | 0.00 | 0.00 | 0.00 | NA | NA | XXX
74301 |  | C | X-rays at surgery add-on | 0.00 | 0.00 | 0.00 | NA | NA | 0.00 | 0.00 | 0.00 | NA | NA | ZZZ
74301 | 26 | A | X-rays at surgery add-on | 0.21 | 0.07 | 0.08 | 0.07 | 0.08 | 0.01 | 0.29 | 0.30 | 0.29 | 0.30 | ZZZ
74301 | TC | C | X-rays at surgery add-on | 0.00 | 0.00 | 0.00 | NA | NA | 0.00 | 0.00 | 0.00 | NA | NA | ZZZ
74305 |  | A | X-ray bile ducts/pancreas | 0.42 | 0.94 | 0.97 | NA | NA | 0.06 | 1.42 | 1.45 | NA | NA | XXX
74305 | 26 | A | X-ray bile ducts/pancreas | 0.42 | 0.15 | 0.17 | 0.15 | 0.17 | 0.02 | 0.59 | 0.61 | 0.59 | 0.61 | XXX
74305 | TC | A | X-ray bile ducts/pancreas | 0.00 | 0.79 | 0.80 | NA | NA | 0.04 | 0.83 | 0.84 | NA | NA | XXX
74320 |  | A | Contrast x-ray of bile ducts | 0.54 | 3.38 | 3.42 | NA | NA | 0.16 | 4.08 | 4.12 | NA | NA | XXX
74320 | 26 | A | Contrast x-ray of bile ducts | 0.54 | 0.19 | 0.21 | 0.19 | 0.21 | 0.02 | 0.75 | 0.77 | 0.75 | 0.77 | XXX
74320 | TC | A | Contrast x-ray of bile ducts | 0.00 | 3.19 | 3.21 | NA | NA | 0.14 | 3.33 | 3.35 | NA | NA | XXX
74327 |  | A | X-ray bile stone removal | 0.70 | 2.02 | 2.06 | NA | NA | 0.12 | 2.84 | 2.88 | NA | NA | XXX
74327 | 26 | A | X-ray bile stone removal | 0.70 | 0.24 | 0.27 | 0.24 | 0.27 | 0.03 | 0.97 | 1.00 | 0.97 | 1.00 | XXX
74327 | TC | A | X-ray bile stone removal | 0.00 | 1.78 | 1.79 | NA | NA | 0.09 | 1.87 | 1.88 | NA | NA | XXX
74328 |  | A | Xray bile duct endoscopy | 0.70 | 3.43 | 3.48 | NA | NA | 0.17 | 4.30 | 4.35 | NA | NA | XXX
74328 | 26 | A | Xray bile duct endoscopy | 0.70 | 0.24 | 0.27 | 0.24 | 0.27 | 0.03 | 0.97 | 1.00 | 0.97 | 1.00 | XXX
74328 | TC | A | Xray bile duct endoscopy | 0.00 | 3.19 | 3.21 | NA | NA | 0.14 | 3.33 | 3.35 | NA | NA | XXX
74329 |  | A | X-ray for pancreas endoscopy | 0.70 | 3.43 | 3.48 | NA | NA | 0.17 | 4.30 | 4.35 | NA | NA | XXX
74329 | 26 | A | X-ray for pancreas endoscopy | 0.70 | 0.24 | 0.27 | 0.24 | 0.27 | 0.03 | 0.97 | 1.00 | 0.97 | 1.00 | XXX
74329 | TC | A | X-ray for pancreas endoscopy | 0.00 | 3.19 | 3.21 | NA | NA | 0.14 | 3.33 | 3.35 | NA | NA | XXX
74330 |  | A | X-ray bile/panc endoscopy | 0.90 | 3.50 | 3.53 | NA | NA | 0.18 | 4.58 | 4.61 | NA | NA | XXX
74330 | 26 | A | X-ray bile/panc endoscopy | 0.90 | 0.31 | 0.32 | 0.31 | 0.32 | 0.04 | 1.25 | 1.26 | 1.25 | 1.26 | XXX
74330 | TC | A | X-ray bile/panc endoscopy | 0.00 | 3.19 | 3.21 | NA | NA | 0.14 | 3.33 | 3.35 | NA | NA | XXX
74340 |  | A | X-ray guide for GI tube | 0.54 | 2.84 | 2.88 | NA | NA | 0.14 | 3.52 | 3.56 | NA | NA | XXX
74340 | 26 | A | X-ray guide for GI tube | 0.54 | 0.19 | 0.21 | 0.19 | 0.21 | 0.02 | 0.75 | 0.77 | 0.75 | 0.77 | XXX
74340 | TC | A | X-ray guide for GI tube | 0.00 | 2.65 | 2.67 | NA | NA | 0.12 | 2.77 | 2.79 | NA | NA | XXX
74350 |  | A | X-ray guide, stomach tube | 0.76 | 3.45 | 3.50 | NA | NA | 0.17 | 4.38 | 4.43 | NA | NA | XXX
74350 | 26 | A | X-ray guide, stomach tube | 0.76 | 0.26 | 0.29 | 0.26 | 0.29 | 0.03 | 1.05 | 1.08 | 1.05 | 1.08 | XXX
74350 | TC | A | X-ray guide, stomach tube | 0.00 | 3.19 | 3.21 | NA | NA | 0.14 | 3.33 | 3.35 | NA | NA | XXX
74355 |  | A | X-ray guide, intestinal tube | 0.76 | 2.91 | 2.96 | NA | NA | 0.15 | 3.82 | 3.87 | NA | NA | XXX
74355 | 26 | A | X-ray guide, intestinal tube | 0.76 | 0.26 | 0.29 | 0.26 | 0.29 | 0.03 | 1.05 | 1.08 | 1.05 | 1.08 | XXX
74355 | TC | A | X-ray guide, intestinal tube | 0.00 | 2.65 | 2.67 | NA | NA | 0.12 | 2.77 | 2.79 | NA | NA | XXX
74360 |  | A | X-ray guide, GI dilation | 0.54 | 3.38 | 3.42 | NA | NA | 0.16 | 4.08 | 4.12 | NA | NA | XXX
74360 | 26 | A | X-ray guide, GI dilation | 0.54 | 0.19 | 0.21 | 0.19 | 0.21 | 0.02 | 0.75 | 0.77 | 0.75 | 0.77 | XXX
74360 | TC | A | X-ray guide, GI dilation | 0.00 | 3.19 | 3.21 | NA | NA | 0.14 | 3.33 | 3.35 | NA | NA | XXX
74363 |  | A | X-ray, bile duct dilation | 0.88 | 6.47 | 6.54 | NA | NA | 0.32 | 7.67 | 7.74 | NA | NA | XXX
74363 | 26 | A | X-ray, bile duct dilation | 0.88 | 0.30 | 0.33 | 0.30 | 0.33 | 0.04 | 1.22 | 1.25 | 1.22 | 1.25 | XXX
74363 | TC | A | X-ray, bile duct dilation | 0.00 | 6.17 | 6.21 | NA | NA | 0.28 | 6.45 | 6.49 | NA | NA | XXX
74400 |  | A | Contrst x-ray, urinary tract | 0.49 | 1.87 | 1.90 | NA | NA | 0.11 | 2.47 | 2.50 | NA | NA | XXX
74400 | 26 | A | Contrst x-ray, urinary tract | 0.49 | 0.17 | 0.19 | 0.17 | 0.19 | 0.02 | 0.68 | 0.70 | 0.68 | 0.70 | XXX
74400 | TC | A | Contrst x-ray, urinary tract | 0.00 | 1.70 | 1.71 | NA | NA | 0.09 | 1.79 | 1.80 | NA | NA | XXX
74410 |  | A | Contrst x-ray, urinary tract | 0.49 | 2.14 | 2.17 | NA | NA | 0.11 | 2.74 | 2.77 | NA | NA | XXX
74410 | 26 | A | Contrst x-ray, urinary tract | 0.49 | 0.17 | 0.19 | 0.17 | 0.19 | 0.02 | 0.68 | 0.70 | 0.68 | 0.70 | XXX
74410 | TC | A | Contrst x-ray, urinary tract | 0.00 | 1.97 | 1.98 | NA | NA | 0.09 | 2.06 | 2.07 | NA | NA | XXX
74415 |  | A | Contrst x-ray, urinary tract | 0.49 | 2.31 | 2.34 | NA | NA | 0.12 | 2.92 | 2.95 | NA | NA | XXX
74415 | 26 | A | Contrst x-ray, urinary tract | 0.49 | 0.17 | 0.19 | 0.17 | 0.19 | 0.02 | 0.68 | 0.70 | 0.68 | 0.70 | XXX
74415 | TC | A | Contrst x-ray, urinary tract | 0.00 | 2.14 | 2.15 | NA | NA | 0.10 | 2.24 | 2.25 | NA | NA | XXX
74420 |  | A | Contrst x-ray, urinary tract | 0.36 | 2.77 | 2.80 | NA | NA | 0.14 | 3.27 | 3.30 | NA | NA | XXX
74420 | 26 | A | Contrst x-ray, urinary tract | 0.36 | 0.12 | 0.13 | 0.12 | 0.13 | 0.02 | 0.50 | 0.51 | 0.50 | 0.51 | XXX
74420 | TC | A | Contrst x-ray, urinary tract | 0.00 | 2.65 | 2.67 | NA | NA | 0.12 | 2.77 | 2.79 | NA | NA | XXX
74425 |  | A | Contrst x-ray, urinary tract | 0.36 | 1.44 | 1.46 | NA | NA | 0.07 | 1.87 | 1.89 | NA | NA | XXX
74425 | 26 | A | Contrst x-ray, urinary tract | 0.36 | 0.12 | 0.13 | 0.12 | 0.13 | 0.01 | 0.49 | 0.50 | 0.49 | 0.50 | XXX
74425 | TC | A | Contrst x-ray, urinary tract | 0.00 | 1.32 | 1.33 | NA | NA | 0.06 | 1.38 | 1.39 | NA | NA | XXX
74430 |  | A | Contrast x-ray, bladder | 0.32 | 1.18 | 1.20 | NA | NA | 0.06 | 1.56 | 1.58 | NA | NA | XXX
74430 | 26 | A | Contrast x-ray, bladder | 0.32 | 0.11 | 0.12 | 0.11 | 0.12 | 0.01 | 0.44 | 0.45 | 0.44 | 0.45 | XXX
74430 | TC | A | Contrast x-ray, bladder | 0.00 | 1.07 | 1.08 | NA | NA | 0.05 | 1.12 | 1.13 | NA | NA | XXX
74440 |  | A | X-ray, male genital tract | 0.38 | 1.27 | 1.29 | NA | NA | 0.07 | 1.72 | 1.74 | NA | NA | XXX
74440 | 26 | A | X-ray, male genital tract | 0.38 | 0.13 | 0.14 | 0.13 | 0.14 | 0.02 | 0.53 | 0.54 | 0.53 | 0.54 | XXX
74440 | TC | A | X-ray, male genital tract | 0.00 | 1.14 | 1.15 | NA | NA | 0.05 | 1.19 | 1.20 | NA | NA | XXX
74445 |  | A | X-ray exam of penis | 1.14 | 1.53 | 1.58 | NA | NA | 0.11 | 2.78 | 2.83 | NA | NA | XXX
74445 | 26 | A | X-ray exam of penis | 1.14 | 0.39 | 0.43 | 0.39 | 0.43 | 0.06 | 1.59 | 1.63 | 1.59 | 1.63 | XXX
74445 | TC | A | X-ray exam of penis | 0.00 | 1.14 | 1.15 | NA | NA | 0.05 | 1.19 | 1.20 | NA | NA | XXX
74450 |  | A | X-ray, urethra/bladder | 0.33 | 1.59 | 1.61 | NA | NA | 0.08 | 2.00 | 2.02 | NA | NA | XXX
74450 | 26 | A | X-ray, urethra/bladder | 0.33 | 0.11 | 0.12 | 0.11 | 0.12 | 0.01 | 0.45 | 0.46 | 0.45 | 0.46 | XXX
74450 | TC | A | X-ray, urethra/bladder | 0.00 | 1.48 | 1.49 | NA | NA | 0.07 | 1.55 | 1.56 | NA | NA | XXX
74455 |  | A | X-ray, urethra/bladder | 0.33 | 1.70 | 1.72 | NA | NA | 0.09 | 2.12 | 2.14 | NA | NA | XXX
74455 | 26 | A | X-ray, urethra/bladder | 0.33 | 0.11 | 0.12 | 0.11 | 0.12 | 0.01 | 0.45 | 0.46 | 0.45 | 0.46 | XXX
74455 | TC | A | X-ray, urethra/bladder | 0.00 | 1.59 | 1.60 | NA | NA | 0.08 | 1.67 | 1.68 | NA | NA | XXX
74470 |  | A | X-ray exam of kidney lesion | 0.54 | 1.45 | 1.48 | NA | NA | 0.08 | 2.07 | 2.10 | NA | NA | XXX
74470 | 26 | A | X-ray exam of kidney lesion | 0.54 | 0.19 | 0.21 | 0.19 | 0.21 | 0.02 | 0.75 | 0.77 | 0.75 | 0.77 | XXX
74470 | TC | A | X-ray exam of kidney lesion | 0.00 | 1.26 | 1.27 | NA | NA | 0.06 | 1.32 | 1.33 | NA | NA | XXX
74475 |  | A | X-ray control, cath insert | 0.54 | 4.31 | 4.35 | NA | NA | 0.21 | 5.06 | 5.10 | NA | NA | XXX
74475 | 26 | A | X-ray control, cath insert | 0.54 | 0.19 | 0.21 | 0.19 | 0.21 | 0.02 | 0.75 | 0.77 | 0.75 | 0.77 | XXX
74475 | TC | A | X-ray control, cath insert | 0.00 | 4.12 | 4.14 | NA | NA | 0.19 | 4.31 | 4.33 | NA | NA | XXX
74480 |  | A | X-ray control, cath insert | 0.54 | 4.31 | 4.35 | NA | NA | 0.21 | 5.06 | 5.10 | NA | NA | XXX
74480 | 26 | A | X-ray control, cath insert | 0.54 | 0.19 | 0.21 | 0.19 | 0.21 | 0.02 | 0.75 | 0.77 | 0.75 | 0.77 | XXX
74480 | TC | A | X-ray control, cath insert | 0.00 | 4.12 | 4.14 | NA | NA | 0.19 | 4.31 | 4.33 | NA | NA | XXX
74485 |  | A | X-ray guide, GU dilation | 0.54 | 3.37 | 3.41 | NA | NA | 0.16 | 4.07 | 4.11 | NA | NA | XXX
74485 | 26 | A | X-ray guide, GU dilation | 0.54 | 0.18 | 0.20 | 0.18 | 0.20 | 0.02 | 0.74 | 0.76 | 0.74 | 0.76 | XXX
74485 | TC | A | X-ray guide, GU dilation | 0.00 | 3.19 | 3.21 | NA | NA | 0.14 | 3.33 | 3.35 | NA | NA | XXX
74710 |  | A | X-ray measurement of pelvis | 0.34 | 1.19 | 1.21 | NA | NA | 0.06 | 1.59 | 1.61 | NA | NA | XXX
74710 | 26 | A | X-ray measurement of pelvis | 0.34 | 0.12 | 0.13 | 0.12 | 0.13 | 0.01 | 0.47 | 0.48 | 0.47 | 0.48 | XXX
74710 | TC | A | X-ray measurement of pelvis | 0.00 | 1.07 | 1.08 | NA | NA | 0.05 | 1.12 | 1.13 | NA | NA | XXX
74740 |  | A | X-ray, female genital tract | 0.38 | 1.45 | 1.47 | NA | NA | 0.08 | 1.91 | 1.93 | NA | NA | XXX
74740 | 26 | A | X-ray, female genital tract | 0.38 | 0.13 | 0.14 | 0.13 | 0.14 | 0.02 | 0.53 | 0.54 | 0.53 | 0.54 | XXX
74740 | TC | A | X-ray, female genital tract | 0.00 | 1.32 | 1.33 | NA | NA | 0.06 | 1.38 | 1.39 | NA | NA | XXX
74742 |  | A | X-ray, fallopian tube | 0.61 | 3.40 | 3.44 | NA | NA | 0.16 | 4.17 | 4.21 | NA | NA | XXX
74742 | 26 | A | X-ray, fallopian tube | 0.61 | 0.21 | 0.23 | 0.21 | 0.23 | 0.02 | 0.84 | 0.86 | 0.84 | 0.86 | XXX
74742 | TC | A | X-ray, fallopian tube | 0.00 | 3.19 | 3.21 | NA | NA | 0.14 | 3.33 | 3.35 | NA | NA | XXX
74775 |  | A | X-ray exam of perineum | 0.62 | 1.70 | 1.73 | NA | NA | 0.10 | 2.42 | 2.45 | NA | NA | XXX
74775 | 26 | A | X-ray exam of perineum | 0.62 | 0.22 | 0.24 | 0.22 | 0.24 | 0.03 | 0.87 | 0.89 | 0.87 | 0.89 | XXX
74775 | TC | A | X-ray exam of perineum | 0.00 | 1.48 | 1.49 | NA | NA | 0.07 | 1.55 | 1.56 | NA | NA | XXX
75552 |  | A | Magnetic image, myocardium | 1.60 | 11.89 | 12.02 | NA | NA | 0.56 | 14.05 | 14.18 | NA | NA | XXX
75552 | 26 | A | Magnetic image, myocardium | 1.60 | 0.56 | 0.62 | 0.56 | 0.62 | 0.06 | 2.22 | 2.28 | 2.22 | 2.28 | XXX
75552 | TC | A | Magnetic image, myocardium | 0.00 | 11.33 | 11.40 | NA | NA | 0.50 | 11.83 | 11.90 | NA | NA | XXX
75553 |  | A | Magnetic image, myocardium | 0.02 | 12.03 | 12.12 | NA | NA | 0.58 | 12.63 | 12.72 | NA | NA | XXX
75553 | 26 | A | Magnetic image, myocardium | 0.02 | 0.70 | 0.72 | 0.70 | 0.72 | 0.08 | 0.80 | 0.82 | 0.80 | 0.82 | XXX
75553 | TC | A | Magnetic image, myocardium | 0.00 | 11.33 | 11.40 | NA | NA | 0.50 | 11.83 | 11.90 | NA | NA | XXX
75554 |  | A | Cardiac MRI/function | 1.83 | 12.01 | 12.11 | NA | NA | 0.57 | 14.41 | 14.51 | NA | NA | XXX
75554 | 26 | A | Cardiac MRI/function | 1.83 | 0.68 | 0.71 | 0.68 | 0.71 | 0.07 | 2.58 | 2.61 | 2.58 | 2.61 | XXX
75554 | TC | A | Cardiac MRI/function | 0.00 | 11.33 | 11.40 | NA | NA | 0.50 | 11.83 | 11.90 | NA | NA | XXX
75555 |  | A | Cardiac MRI/limited study | 1.74 | 12.02 | 12.11 | NA | NA | 0.56 | 14.32 | 14.41 | NA | NA | XXX
75555 | 26 | A | Cardiac MRI/limited study | 1.74 | 0.69 | 0.71 | 0.69 | 0.71 | 0.06 | 2.49 | 2.51 | 2.49 | 2.51 | XXX
75555 | TC | A | Cardiac MRI/limited study | 0.00 | 11.33 | 11.40 | NA | NA | 0.50 | 11.83 | 11.90 | NA | NA | XXX
75556 |  | N | Cardiac MRI/flow mapping | 0.00 | 0.00 | 0.00 | 0.00 | 0.00 | 0.00 | 0.00 | 0.00 | 0.00 | 0.00 | XXX
75600 |  | A | Contrast x-ray exam of aorta | 0.49 | 12.94 | 13.02 | NA | NA | 0.58 | 14.01 | 14.09 | NA | NA | XXX
75600 | 26 | A | Contrast x-ray exam of aorta | 0.49 | 0.20 | 0.21 | 0.20 | 0.21 | 0.02 | 0.71 | 0.72 | 0.71 | 0.72 | XXX
75600 | TC | A | Contrast x-ray exam of aorta | 0.00 | 12.74 | 12.81 | NA | NA | 0.56 | 13.30 | 13.37 | NA | NA | XXX
75605 |  | A | Contrast x-ray exam of aorta | 1.14 | 13.17 | 13.27 | NA | NA | 0.60 | 14.91 | 15.01 | NA | NA | XXX
75605 | 26 | A | Contrast x-ray exam of aorta | 1.14 | 0.43 | 0.46 | 0.43 | 0.46 | 0.04 | 1.61 | 1.64 | 1.61 | 1.64 | XXX
75605 | TC | A | Contrast x-ray exam of aorta | 0.00 | 12.74 | 12.81 | NA | NA | 0.56 | 13.30 | 13.37 | NA | NA | XXX
75625 |  | A | Contrast x-ray exam of aorta | 1.14 | 13.14 | 13.25 | NA | NA | 0.61 | 14.89 | 15.00 | NA | NA | XXX
75625 | 26 | A | Contrast x-ray exam of aorta | 1.14 | 0.40 | 0.44 | 0.40 | 0.44 | 0.05 | 1.59 | 1.63 | 1.59 | 1.63 | XXX
75625 | TC | A | Contrast x-ray exam of aorta | 0.00 | 12.74 | 12.81 | NA | NA | 0.56 | 13.30 | 13.37 | NA | NA | XXX
75630 |  | A | X-ray aorta, leg arteries | 1.79 | 13.92 | 14.00 | NA | NA | 0.66 | 16.37 | 16.45 | NA | NA | XXX
75630 | 26 | A | X-ray aorta, leg arteries | 1.79 | 0.65 | 0.65 | 0.65 | 0.65 | 0.07 | 2.51 | 2.51 | 2.51 | 2.51 | XXX
75630 | TC | A | X-ray aorta, leg arteries | 0.00 | 13.27 | 13.35 | NA | NA | 0.59 | 13.86 | 13.94 | NA | NA | XXX
75650 |  | A | Artery x-rays, head & neck | 1.49 | 13.26 | 13.38 | NA | NA | 0.62 | 15.37 | 15.49 | NA | NA | XXX
75650 | 26 | A | Artery x-rays, head & neck | 1.49 | 0.52 | 0.57 | 0.52 | 0.57 | 0.06 | 2.07 | 2.12 | 2.07 | 2.12 | XXX
75650 | TC | A | Artery x-rays, head & neck | 0.00 | 12.74 | 12.81 | NA | NA | 0.56 | 13.30 | 13.37 | NA | NA | XXX
75658 |  | A | Artery x-rays, arm | 1.31 | 13.25 | 13.35 | NA | NA | 0.61 | 15.17 | 15.27 | NA | NA | XXX
75658 | 26 | A | Artery x-rays, arm | 1.31 | 0.51 | 0.54 | 0.51 | 0.54 | 0.05 | 1.87 | 1.90 | 1.87 | 1.90 | XXX
75658 | TC | A | Artery x-rays, arm | 0.00 | 12.74 | 12.81 | NA | NA | 0.56 | 13.30 | 13.37 | NA | NA | XXX
75660 |  | A | Artery x-rays, head & neck | 1.31 | 13.21 | 13.32 | NA | NA | 0.61 | 15.13 | 15.24 | NA | NA | XXX
75660 | 26 | A | Artery x-rays, head & neck | 1.31 | 0.47 | 0.51 | 0.47 | 0.51 | 0.05 | 1.83 | 1.87 | 1.83 | 1.87 | XXX
75660 | TC | A | Artery x-rays, head & neck | 0.00 | 12.74 | 12.81 | NA | NA | 0.56 | 13.30 | 13.37 | NA | NA | XXX
75662 |  | A | Artery x-rays, head & neck | 1.66 | 13.37 | 13.48 | NA | NA | 0.62 | 15.65 | 15.76 | NA | NA | XXX
75662 | 26 | A | Artery x-rays, head & neck | 1.66 | 0.63 | 0.67 | 0.63 | 0.67 | 0.06 | 2.35 | 2.39 | 2.35 | 2.39 | XXX
75662 | TC | A | Artery x-rays, head & neck | 0.00 | 12.74 | 12.81 | NA | NA | 0.56 | 13.30 | 13.37 | NA | NA | XXX
75665 |  | A | Artery x-rays, head & neck | 1.31 | 13.21 | 13.32 | NA | NA | 0.62 | 15.14 | 15.25 | NA | NA | XXX
75665 | 26 | A | Artery x-rays, head & neck | 1.31 | 0.47 | 0.51 | 0.47 | 0.51 | 0.06 | 1.84 | 1.88 | 1.84 | 1.88 | XXX
75665 | TC | A | Artery x-rays, head & neck | 0.00 | 12.74 | 12.81 | NA | NA | 0.56 | 13.30 | 13.37 | NA | NA | XXX
75671 |  | A | Artery x-rays, head & neck | 1.66 | 13.32 | 13.45 | NA | NA | 0.63 | 15.61 | 15.74 | NA | NA | XXX
75671 | 26 | A | Artery x-rays, head & neck | 1.66 | 0.58 | 0.64 | 0.58 | 0.64 | 0.07 | 2.31 | 2.37 | 2.31 | 2.37 | XXX
75671 | TC | A | Artery x-rays, head & neck | 0.00 | 12.74 | 12.81 | NA | NA | 0.56 | 13.30 | 13.37 | NA | NA | XXX
75676 |  | A | Artery x-rays, neck | 1.31 | 13.21 | 13.32 | NA | NA | 0.62 | 15.14 | 15.25 | NA | NA | XXX
75676 | 26 | A | Artery x-rays, neck | 1.31 | 0.47 | 0.51 | 0.47 | 0.51 | 0.06 | 1.84 | 1.88 | 1.84 | 1.88 | XXX
75676 | TC | A | Artery x-rays, neck | 0.00 | 12.74 | 12.81 | NA | NA | 0.56 | 13.30 | 13.37 | NA | NA | XXX
75680 |  | A | Artery x-rays, neck | 1.66 | 13.32 | 13.45 | NA | NA | 0.63 | 15.61 | 15.74 | NA | NA | XXX
75680 | 26 | A | Artery x-rays, neck | 1.66 | 0.58 | 0.64 | 0.58 | 0.64 | 0.07 | 2.31 | 2.37 | 2.31 | 2.37 | XXX
75680 | TC | A | Artery x-rays, neck | 0.00 | 12.74 | 12.81 | NA | NA | 0.56 | 13.30 | 13.37 | NA | NA | XXX
75685 |  | A | Artery x-rays, spine | 1.31 | 13.20 | 13.31 | NA | NA | 0.61 | 15.12 | 15.23 | NA | NA | XXX
75685 | 26 | A | Artery x-rays, spine | 1.31 | 0.46 | 0.50 | 0.46 | 0.50 | 0.05 | 1.82 | 1.86 | 1.82 | 1.86 | XXX
75685 | TC | A | Artery x-rays, spine | 0.00 | 12.74 | 12.81 | NA | NA | 0.56 | 13.30 | 13.37 | NA | NA | XXX
75705 |  | A | Artery x-rays, spine | 2.18 | 13.51 | 13.65 | NA | NA | 0.65 | 16.34 | 16.48 | NA | NA | XXX
75705 | 26 | A | Artery x-rays, spine | 2.18 | 0.77 | 0.84 | 0.77 | 0.84 | 0.09 | 3.04 | 3.11 | 3.04 | 3.11 | XXX
75705 | TC | A | Artery x-rays, spine | 0.00 | 12.74 | 12.81 | NA | NA | 0.56 | 13.30 | 13.37 | NA | NA | XXX
75710 |  | A | Artery x-rays, arm/leg | 1.14 | 13.15 | 13.25 | NA | NA | 0.61 | 14.90 | 15.00 | NA | NA | XXX
75710 | 26 | A | Artery x-rays, arm/leg | 1.14 | 0.41 | 0.44 | 0.41 | 0.44 | 0.05 | 1.60 | 1.63 | 1.60 | 1.63 | XXX
75710 | TC | A | Artery x-rays, arm/leg | 0.00 | 12.74 | 12.81 | NA | NA | 0.56 | 13.30 | 13.37 | NA | NA | XXX
75716 |  | A | Artery x-rays, arms/legs | 1.31 | 13.20 | 13.31 | NA | NA | 0.61 | 15.12 | 15.23 | NA | NA | XXX
75716 | 26 | A | Artery x-rays, arms/legs | 1.31 | 0.46 | 0.50 | 0.46 | 0.50 | 0.05 | 1.82 | 1.86 | 1.82 | 1.86 | XXX
75716 | TC | A | Artery x-rays, arms/legs | 0.00 | 12.74 | 12.81 | NA | NA | 0.56 | 13.30 | 13.37 | NA | NA | XXX
75722 |  | A | Artery x-rays, kidney | 1.14 | 13.17 | 13.27 | NA | NA | 0.60 | 14.91 | 15.01 | NA | NA | XXX
75722 | 26 | A | Artery x-rays, kidney | 1.14 | 0.43 | 0.46 | 0.43 | 0.46 | 0.04 | 1.61 | 1.64 | 1.61 | 1.64 | XXX
75722 | TC | A | Artery x-rays, kidney | 0.00 | 12.74 | 12.81 | NA | NA | 0.56 | 13.30 | 13.37 | NA | NA | XXX
75724 |  | A | Artery x-rays, kidneys | 1.49 | 13.34 | 13.44 | NA | NA | 0.61 | 15.44 | 15.54 | NA | NA | XXX
75724 | 26 | A | Artery x-rays, kidneys | 1.49 | 0.60 | 0.63 | 0.60 | 0.63 | 0.05 | 2.14 | 2.17 | 2.14 | 2.17 | XXX
75724 | TC | A | Artery x-rays, kidneys | 0.00 | 12.74 | 12.81 | NA | NA | 0.56 | 13.30 | 13.37 | NA | NA | XXX
75726 |  | A | Artery x-rays, abdomen | 1.14 | 13.14 | 13.25 | NA | NA | 0.61 | 14.89 | 15.00 | NA | NA | XXX
75726 | 26 | A | Artery x-rays, abdomen | 1.14 | 0.40 | 0.44 | 0.40 | 0.44 | 0.05 | 1.59 | 1.63 | 1.59 | 1.63 | XXX
75726 | TC | A | Artery x-rays, abdomen | 0.00 | 12.74 | 12.81 | NA | NA | 0.56 | 13.30 | 13.37 | NA | NA | XXX
75731 |  | A | Artery x-rays, adrenal gland | 1.14 | 13.14 | 13.25 | NA | NA | 0.61 | 14.89 | 15.00 | NA | NA | XXX
75731 | 26 | A | Artery x-rays, adrenal gland | 1.14 | 0.40 | 0.44 | 0.40 | 0.44 | 0.05 | 1.59 | 1.63 | 1.59 | 1.63 | XXX
75731 | TC | A | Artery x-rays, adrenal gland | 0.00 | 12.74 | 12.81 | NA | NA | 0.56 | 13.30 | 13.37 | NA | NA | XXX
75733 |  | A | Artery x-rays, adrenals | 1.31 | 13.21 | 13.32 | NA | NA | 0.61 | 15.13 | 15.24 | NA | NA | XXX
75733 | 26 | A | Artery x-rays, adrenals | 1.31 | 0.47 | 0.51 | 0.47 | 0.51 | 0.05 | 1.83 | 1.87 | 1.83 | 1.87 | XXX
75733 | TC | A | Artery x-rays, adrenals | 0.00 | 12.74 | 12.81 | NA | NA | 0.56 | 13.30 | 13.37 | NA | NA | XXX
75736 |  | A | Artery x-rays, pelvis | 1.14 | 13.14 | 13.25 | NA | NA | 0.61 | 14.89 | 15.00 | NA | NA | XXX
75736 | 26 | A | Artery x-rays, pelvis | 1.14 | 0.40 | 0.44 | 0.40 | 0.44 | 0.05 | 1.59 | 1.63 | 1.59 | 1.63 | XXX
75736 | TC | A | Artery x-rays, pelvis | 0.00 | 12.74 | 12.81 | NA | NA | 0.56 | 13.30 | 13.37 | NA | NA | XXX
75741 |  | A | Artery x-rays, lung | 1.31 | 13.19 | 13.31 | NA | NA | 0.61 | 15.11 | 15.23 | NA | NA | XXX
75741 | 26 | A | Artery x-rays, lung | 1.31 | 0.45 | 0.50 | 0.45 | 0.50 | 0.05 | 1.81 | 1.86 | 1.81 | 1.86 | XXX
75741 | TC | A | Artery x-rays, lung | 0.00 | 12.74 | 12.81 | NA | NA | 0.56 | 13.30 | 13.37 | NA | NA | XXX
75743 |  | A | Artery x-rays, lungs | 1.66 | 13.32 | 13.45 | NA | NA | 0.63 | 15.61 | 15.74 | NA | NA | XXX
75743 | 26 | A | Artery x-rays, lungs | 1.66 | 0.58 | 0.64 | 0.58 | 0.64 | 0.07 | 2.31 | 2.37 | 2.31 | 2.37 | XXX
75743 | TC | A | Artery x-rays, lungs | 0.00 | 12.74 | 12.81 | NA | NA | 0.56 | 13.30 | 13.37 | NA | NA | XXX
75746 |  | A | Artery x-rays, lung | 1.14 | 13.14 | 13.25 | NA | NA | 0.60 | 14.88 | 14.99 | NA | NA | XXX
75746 | 26 | A | Artery x-rays, lung | 1.14 | 0.40 | 0.44 | 0.40 | 0.44 | 0.04 | 1.58 | 1.62 | 1.58 | 1.62 | XXX
75746 | TC | A | Artery x-rays, lung | 0.00 | 12.74 | 12.81 | NA | NA | 0.56 | 13.30 | 13.37 | NA | NA | XXX
75756 |  | A | Artery x-rays, chest | 1.14 | 13.22 | 13.31 | NA | NA | 0.60 | 14.96 | 15.05 | NA | NA | XXX
75756 | 26 | A | Artery x-rays, chest | 1.14 | 0.48 | 0.50 | 0.48 | 0.50 | 0.04 | 1.66 | 1.68 | 1.66 | 1.68 | XXX
75756 | TC | A | Artery x-rays, chest | 0.00 | 12.74 | 12.81 | NA | NA | 0.56 | 13.30 | 13.37 | NA | NA | XXX
75774 |  | A | Artery x-ray, each vessel | 0.36 | 12.87 | 12.95 | NA | NA | 0.57 | 13.80 | 13.88 | NA | NA | ZZZ
75774 | 26 | A | Artery x-ray, each vessel | 0.36 | 0.13 | 0.14 | 0.13 | 0.14 | 0.01 | 0.50 | 0.51 | 0.50 | 0.51 | ZZZ
75774 | TC | A | Artery x-ray, each vessel | 0.00 | 12.74 | 12.81 | NA | NA | 0.56 | 13.30 | 13.37 | NA | NA | ZZZ
75790 |  | A | Visualize A-V shunt | 1.84 | 2.01 | 2.09 | NA | NA | 0.15 | 4.00 | 4.08 | NA | NA | XXX
75790 | 26 | A | Visualize A-V shunt | 1.84 | 0.64 | 0.71 | 0.64 | 0.71 | 0.08 | 2.56 | 2.63 | 2.56 | 2.63 | XXX
75790 | TC | A | Visualize A-V shunt | 0.00 | 1.37 | 1.38 | NA | NA | 0.07 | 1.44 | 1.45 | NA | NA | XXX
75801 |  | A | Lymph vessel x-ray, arm/leg | 0.81 | 5.75 | 5.81 | NA | NA | 0.29 | 6.85 | 6.91 | NA | NA | XXX
75801 | 26 | A | Lymph vessel x-ray, arm/leg | 0.81 | 0.28 | 0.31 | 0.28 | 0.31 | 0.04 | 1.13 | 1.16 | 1.13 | 1.16 | XXX
75801 | TC | A | Lymph vessel x-ray, arm/leg | 0.00 | 5.47 | 5.50 | NA | NA | 0.25 | 5.72 | 5.75 | NA | NA | XXX
75803 |  | A | Lymph vessel x-ray,arms/legs | 1.17 | 5.87 | 5.94 | NA | NA | 0.30 | 7.34 | 7.41 | NA | NA | XXX
75803 | 26 | A | Lymph vessel x-ray,arms/legs | 1.17 | 0.40 | 0.44 | 0.40 | 0.44 | 0.05 | 1.62 | 1.66 | 1.62 | 1.66 | XXX
75803 | TC | A | Lymph vessel x-ray,arms/legs | 0.00 | 5.47 | 5.50 | NA | NA | 0.25 | 5.72 | 5.75 | NA | NA | XXX
75805 |  | A | Lymph vessel x-ray, trunk | 0.81 | 6.46 | 6.53 | NA | NA | 0.31 | 7.58 | 7.65 | NA | NA | XXX
75805 | 26 | A | Lymph vessel x-ray, trunk | 0.81 | 0.29 | 0.32 | 0.29 | 0.32 | 0.03 | 1.13 | 1.16 | 1.13 | 1.16 | XXX
75805 | TC | A | Lymph vessel x-ray, trunk | 0.00 | 6.17 | 6.21 | NA | NA | 0.28 | 6.45 | 6.49 | NA | NA | XXX
75807 |  | A | Lymph vessel x-ray, trunk | 1.17 | 6.57 | 6.65 | NA | NA | 0.33 | 8.07 | 8.15 | NA | NA | XXX
75807 | 26 | A | Lymph vessel x-ray, trunk | 1.17 | 0.40 | 0.44 | 0.40 | 0.44 | 0.05 | 1.62 | 1.66 | 1.62 | 1.66 | XXX
75807 | TC | A | Lymph vessel x-ray, trunk | 0.00 | 6.17 | 6.21 | NA | NA | 0.28 | 6.45 | 6.49 | NA | NA | XXX
75809 |  | A | Nonvascular shunt, x-ray | 0.47 | 0.95 | 0.97 | NA | NA | 0.06 | 1.48 | 1.50 | NA | NA | XXX
75809 | 26 | A | Nonvascular shunt, x-ray | 0.47 | 0.16 | 0.17 | 0.16 | 0.17 | 0.02 | 0.65 | 0.66 | 0.65 | 0.66 | XXX
75809 | TC | A | Nonvascular shunt, x-ray | 0.00 | 0.79 | 0.80 | NA | NA | 0.04 | 0.83 | 0.84 | NA | NA | XXX
75810 |  | A | Vein x-ray, spleen/liver | 1.14 | 13.13 | 13.24 | NA | NA | 0.61 | 14.88 | 14.99 | NA | NA | XXX
75810 | 26 | A | Vein x-ray, spleen/liver | 1.14 | 0.39 | 0.43 | 0.39 | 0.43 | 0.05 | 1.58 | 1.62 | 1.58 | 1.62 | XXX
75810 | TC | A | Vein x-ray, spleen/liver | 0.00 | 12.74 | 12.81 | NA | NA | 0.56 | 13.30 | 13.37 | NA | NA | XXX
75820 |  | A | Vein x-ray, arm/leg | 0.70 | 1.20 | 1.24 | NA | NA | 0.08 | 1.98 | 2.02 | NA | NA | XXX
75820 | 26 | A | Vein x-ray, arm/leg | 0.70 | 0.24 | 0.27 | 0.24 | 0.27 | 0.03 | 0.97 | 1.00 | 0.97 | 1.00 | XXX
75820 | TC | A | Vein x-ray, arm/leg | 0.00 | 0.96 | 0.97 | NA | NA | 0.05 | 1.01 | 1.02 | NA | NA | XXX
75822 |  | A | Vein x-ray, arms/legs | 1.06 | 1.87 | 1.92 | NA | NA | 0.11 | 3.04 | 3.09 | NA | NA | XXX
75822 | 26 | A | Vein x-ray, arms/legs | 1.06 | 0.37 | 0.41 | 0.37 | 0.41 | 0.04 | 1.47 | 1.51 | 1.47 | 1.51 | XXX
75822 | TC | A | Vein x-ray, arms/legs | 0.00 | 1.50 | 1.51 | NA | NA | 0.07 | 1.57 | 1.58 | NA | NA | XXX
75825 |  | A | Vein x-ray, trunk | 1.14 | 13.14 | 13.25 | NA | NA | 0.61 | 14.89 | 15.00 | NA | NA | XXX
75825 | 26 | A | Vein x-ray, trunk | 1.14 | 0.40 | 0.44 | 0.40 | 0.44 | 0.05 | 1.59 | 1.63 | 1.59 | 1.63 | XXX
75825 | TC | A | Vein x-ray, trunk | 0.00 | 12.74 | 12.81 | NA | NA | 0.56 | 13.30 | 13.37 | NA | NA | XXX
75827 |  | A | Vein x-ray, chest | 1.14 | 13.13 | 13.24 | NA | NA | 0.61 | 14.88 | 14.99 | NA | NA | XXX
75827 | 26 | A | Vein x-ray, chest | 1.14 | 0.39 | 0.43 | 0.39 | 0.43 | 0.05 | 1.58 | 1.62 | 1.58 | 1.62 | XXX
75827 | TC | A | Vein x-ray, chest | 0.00 | 12.74 | 12.81 | NA | NA | 0.56 | 13.30 | 13.37 | NA | NA | XXX
75831 |  | A | Vein x-ray, kidney | 1.14 | 13.14 | 13.25 | NA | NA | 0.61 | 14.89 | 15.00 | NA | NA | XXX
75831 | 26 | A | Vein x-ray, kidney | 1.14 | 0.40 | 0.44 | 0.40 | 0.44 | 0.05 | 1.59 | 1.63 | 1.59 | 1.63 | XXX
75831 | TC | A | Vein x-ray, kidney | 0.00 | 12.74 | 12.81 | NA | NA | 0.56 | 13.30 | 13.37 | NA | NA | XXX
75833 |  | A | Vein x-ray, kidneys | 1.49 | 13.26 | 13.38 | NA | NA | 0.62 | 15.37 | 15.49 | NA | NA | XXX
75833 | 26 | A | Vein x-ray, kidneys | 1.49 | 0.52 | 0.57 | 0.52 | 0.57 | 0.06 | 2.07 | 2.12 | 2.07 | 2.12 | XXX
75833 | TC | A | Vein x-ray, kidneys | 0.00 | 12.74 | 12.81 | NA | NA | 0.56 | 13.30 | 13.37 | NA | NA | XXX
75840 |  | A | Vein x-ray, adrenal gland | 1.14 | 13.14 | 13.25 | NA | NA | 0.61 | 14.89 | 15.00 | NA | NA | XXX
75840 | 26 | A | Vein x-ray, adrenal gland | 1.14 | 0.40 | 0.44 | 0.40 | 0.44 | 0.05 | 1.59 | 1.63 | 1.59 | 1.63 | XXX
75840 | TC | A | Vein x-ray, adrenal gland | 0.00 | 12.74 | 12.81 | NA | NA | 0.56 | 13.30 | 13.37 | NA | NA | XXX
75842 |  | A | Vein x-ray, adrenal glands | 1.49 | 13.26 | 13.38 | NA | NA | 0.62 | 15.37 | 15.49 | NA | NA | XXX
75842 | 26 | A | Vein x-ray, adrenal glands | 1.49 | 0.52 | 0.57 | 0.52 | 0.57 | 0.06 | 2.07 | 2.12 | 2.07 | 2.12 | XXX
75842 | TC | A | Vein x-ray, adrenal glands | 0.00 | 12.74 | 12.81 | NA | NA | 0.56 | 13.30 | 13.37 | NA | NA | XXX
75860 |  | A | Vein x-ray, neck | 1.14 | 13.14 | 13.25 | NA | NA | 0.61 | 14.89 | 15.00 | NA | NA | XXX
75860 | 26 | A | Vein x-ray, neck | 1.14 | 0.40 | 0.44 | 0.40 | 0.44 | 0.05 | 1.59 | 1.63 | 1.59 | 1.63 | XXX
75860 | TC | A | Vein x-ray, neck | 0.00 | 12.74 | 12.81 | NA | NA | 0.56 | 13.30 | 13.37 | NA | NA | XXX
75870 |  | A | Vein x-ray, skull | 1.14 | 13.14 | 13.25 | NA | NA | 0.61 | 14.89 | 15.00 | NA | NA | XXX
75870 | 26 | A | Vein x-ray, skull | 1.14 | 0.40 | 0.44 | 0.40 | 0.44 | 0.05 | 1.59 | 1.63 | 1.59 | 1.63 | XXX
75870 | TC | A | Vein x-ray, skull | 0.00 | 12.74 | 12.81 | NA | NA | 0.56 | 13.30 | 13.37 | NA | NA | XXX
75872 |  | A | Vein x-ray, skull | 1.14 | 13.13 | 13.24 | NA | NA | 0.61 | 14.88 | 14.99 | NA | NA | XXX
75872 | 26 | A | Vein x-ray, skull | 1.14 | 0.39 | 0.43 | 0.39 | 0.43 | 0.05 | 1.58 | 1.62 | 1.58 | 1.62 | XXX
75872 | TC | A | Vein x-ray, skull | 0.00 | 12.74 | 12.81 | NA | NA | 0.56 | 13.30 | 13.37 | NA | NA | XXX
75880 |  | A | Vein x-ray, eye socket | 0.70 | 1.20 | 1.24 | NA | NA | 0.08 | 1.98 | 2.02 | NA | NA | XXX
75880 | 26 | A | Vein x-ray, eye socket | 0.70 | 0.24 | 0.27 | 0.24 | 0.27 | 0.03 | 0.97 | 1.00 | 0.97 | 1.00 | XXX
75880 | TC | A | Vein x-ray, eye socket | 0.00 | 0.96 | 0.97 | NA | NA | 0.05 | 1.01 | 1.02 | NA | NA | XXX
75885 |  | A | Vein x-ray, liver | 1.44 | 13.24 | 13.36 | NA | NA | 0.62 | 15.30 | 15.42 | NA | NA | XXX
75885 | 26 | A | Vein x-ray, liver | 1.44 | 0.50 | 0.55 | 0.50 | 0.55 | 0.06 | 2.00 | 2.05 | 2.00 | 2.05 | XXX
75885 | TC | A | Vein x-ray, liver | 0.00 | 12.74 | 12.81 | NA | NA | 0.56 | 13.30 | 13.37 | NA | NA | XXX
75887 |  | A | Vein x-ray, liver | 1.44 | 13.24 | 13.36 | NA | NA | 0.62 | 15.30 | 15.42 | NA | NA | XXX
75887 | 26 | A | Vein x-ray, liver | 1.44 | 0.50 | 0.55 | 0.50 | 0.55 | 0.06 | 2.00 | 2.05 | 2.00 | 2.05 | XXX
75887 | TC | A | Vein x-ray, liver | 0.00 | 12.74 | 12.81 | NA | NA | 0.56 | 13.30 | 13.37 | NA | NA | XXX
75889 |  | A | Vein x-ray, liver | 1.14 | 13.13 | 13.24 | NA | NA | 0.61 | 14.88 | 14.99 | NA | NA | XXX
75889 | 26 | A | Vein x-ray, liver | 1.14 | 0.39 | 0.43 | 0.39 | 0.43 | 0.05 | 1.58 | 1.62 | 1.58 | 1.62 | XXX
75889 | TC | A | Vein x-ray, liver | 0.00 | 12.74 | 12.81 | NA | NA | 0.56 | 13.30 | 13.37 | NA | NA | XXX
75891 |  | A | Vein x-ray, liver | 1.14 | 13.13 | 13.24 | NA | NA | 0.61 | 14.88 | 14.99 | NA | NA | XXX
75891 | 26 | A | Vein x-ray, liver | 1.14 | 0.39 | 0.43 | 0.39 | 0.43 | 0.05 | 1.58 | 1.62 | 1.58 | 1.62 | XXX
75891 | TC | A | Vein x-ray, liver | 0.00 | 12.74 | 12.81 | NA | NA | 0.56 | 13.30 | 13.37 | NA | NA | XXX
75893 |  | A | Venous sampling by catheter | 0.54 | 12.93 | 13.02 | NA | NA | 0.58 | 14.05 | 14.14 | NA | NA | XXX
75893 | 26 | A | Venous sampling by catheter | 0.54 | 0.19 | 0.21 | 0.19 | 0.21 | 0.02 | 0.75 | 0.77 | 0.75 | 0.77 | XXX
75893 | TC | A | Venous sampling by catheter | 0.00 | 12.74 | 12.81 | NA | NA | 0.56 | 13.30 | 13.37 | NA | NA | XXX
75894 |  | A | X-rays, transcath therapy | 1.31 | 24.86 | 25.04 | NA | NA | 1.13 | 27.30 | 27.48 | NA | NA | XXX
75894 | 26 | A | X-rays, transcath therapy | 1.31 | 0.46 | 0.50 | 0.46 | 0.50 | 0.05 | 1.82 | 1.86 | 1.82 | 1.86 | XXX
75894 | TC | A | X-rays, transcath therapy | 0.00 | 24.40 | 24.54 | NA | NA | 1.08 | 25.48 | 25.62 | NA | NA | XXX
75896 |  | A | X-rays, transcath therapy | 1.31 | 21.70 | 21.86 | NA | NA | 0.99 | 24.00 | 24.16 | NA | NA | XXX
75896 | 26 | A | X-rays, transcath therapy | 1.31 | 0.48 | 0.52 | 0.48 | 0.52 | 0.05 | 1.84 | 1.88 | 1.84 | 1.88 | XXX
75896 | TC | A | X-rays, transcath therapy | 0.00 | 21.22 | 21.34 | NA | NA | 0.94 | 22.16 | 22.28 | NA | NA | XXX
75898 |  | A | Follow-up angiogram | 1.65 | 1.66 | 1.72 | NA | NA | 0.12 | 3.43 | 3.49 | NA | NA | XXX
75898 | 26 | A | Follow-up angiogram | 1.65 | 0.59 | 0.64 | 0.59 | 0.64 | 0.07 | 2.31 | 2.36 | 2.31 | 2.36 | XXX
75898 | TC | A | Follow-up angiogram | 0.00 | 1.07 | 1.08 | NA | NA | 0.05 | 1.12 | 1.13 | NA | NA | XXX
75900 |  | A | Arterial catheter exchange | 0.49 | 21.37 | 21.51 | NA | NA | 0.97 | 22.83 | 22.97 | NA | NA | XXX
75900 | 26 | A | Arterial catheter exchange | 0.49 | 0.17 | 0.19 | 0.17 | 0.19 | 0.02 | 0.68 | 0.70 | 0.68 | 0.70 | XXX
75900 | TC | A | Arterial catheter exchange | 0.00 | 21.20 | 21.32 | NA | NA | 0.95 | 22.15 | 22.27 | NA | NA | XXX
75940 |  | A | X-ray placement, vein filter | 0.54 | 12.93 | 13.02 | NA | NA | 0.58 | 14.05 | 14.14 | NA | NA | XXX
75940 | 26 | A | X-ray placement, vein filter | 0.54 | 0.19 | 0.21 | 0.19 | 0.21 | 0.02 | 0.75 | 0.77 | 0.75 | 0.77 | XXX
75940 | TC | A | X-ray placement, vein filter | 0.00 | 12.74 | 12.81 | NA | NA | 0.56 | 13.30 | 13.37 | NA | NA | XXX
75945 |  | A | Intravascular us | 0.40 | 4.76 | 4.81 | NA | NA | 0.24 | 5.40 | 5.45 | NA | NA | XXX
75945 | 26 | A | Intravascular us | 0.40 | 0.15 | 0.17 | 0.15 | 0.17 | 0.03 | 0.58 | 0.60 | 0.58 | 0.60 | XXX
75945 | TC | A | Intravascular us | 0.00 | 4.61 | 4.64 | NA | NA | 0.21 | 4.82 | 4.85 | NA | NA | XXX
75946 |  | A | Intravascular us add-on | 0.40 | 2.47 | 2.50 | NA | NA | 0.13 | 3.00 | 3.03 | NA | NA | ZZZ
75946 | 26 | A | Intravascular us add-on | 0.40 | 0.15 | 0.17 | 0.15 | 0.17 | 0.02 | 0.57 | 0.59 | 0.57 | 0.59 | ZZZ
75946 | TC | A | Intravascular us add-on | 0.00 | 2.32 | 2.33 | NA | NA | 0.11 | 2.43 | 2.44 | NA | NA | ZZZ
75960 |  | A | Transcatheter intro, stent | 0.82 | 15.36 | 15.48 | NA | NA | 0.70 | 16.88 | 17.00 | NA | NA | XXX
75960 | 26 | A | Transcatheter intro, stent | 0.82 | 0.30 | 0.33 | 0.30 | 0.33 | 0.04 | 1.16 | 1.19 | 1.16 | 1.19 | XXX
75960 | TC | A | Transcatheter intro, stent | 0.00 | 15.06 | 15.15 | NA | NA | 0.66 | 15.72 | 15.81 | NA | NA | XXX
75961 |  | A | Retrieval, broken catheter | 4.25 | 12.10 | 12.31 | NA | NA | 0.63 | 16.98 | 17.19 | NA | NA | XXX
75961 | 26 | A | Retrieval, broken catheter | 4.25 | 1.48 | 1.63 | 1.48 | 1.63 | 0.16 | 5.89 | 6.04 | 5.89 | 6.04 | XXX
75961 | TC | A | Retrieval, broken catheter | 0.00 | 10.62 | 10.68 | NA | NA | 0.47 | 11.09 | 11.15 | NA | NA | XXX
75962 |  | A | Repair arterial blockage | 0.54 | 16.11 | 16.22 | NA | NA | 0.73 | 17.38 | 17.49 | NA | NA | XXX
75962 | 26 | A | Repair arterial blockage | 0.54 | 0.20 | 0.22 | 0.20 | 0.22 | 0.02 | 0.76 | 0.78 | 0.76 | 0.78 | XXX
75962 | TC | A | Repair arterial blockage | 0.00 | 15.91 | 16.00 | NA | NA | 0.71 | 16.62 | 16.71 | NA | NA | XXX
75964 |  | A | Repair artery blockage, each | 0.36 | 8.61 | 8.67 | NA | NA | 0.39 | 9.36 | 9.42 | NA | NA | ZZZ
75964 | 26 | A | Repair artery blockage, each | 0.36 | 0.13 | 0.14 | 0.13 | 0.14 | 0.02 | 0.51 | 0.52 | 0.51 | 0.52 | ZZZ
75964 | TC | A | Repair artery blockage, each | 0.00 | 8.48 | 8.53 | NA | NA | 0.37 | 8.85 | 8.90 | NA | NA | ZZZ
75966 |  | A | Repair arterial blockage | 1.31 | 16.40 | 16.53 | NA | NA | 0.76 | 18.47 | 18.60 | NA | NA | XXX
75966 | 26 | A | Repair arterial blockage | 1.31 | 0.49 | 0.53 | 0.49 | 0.53 | 0.05 | 1.85 | 1.89 | 1.85 | 1.89 | XXX
75966 | TC | A | Repair arterial blockage | 0.00 | 15.91 | 16.00 | NA | NA | 0.71 | 16.62 | 16.71 | NA | NA | XXX
75968 |  | A | Repair artery blockage, each | 0.36 | 8.62 | 8.68 | NA | NA | 0.38 | 9.36 | 9.42 | NA | NA | ZZZ
75968 | 26 | A | Repair artery blockage, each | 0.36 | 0.14 | 0.15 | 0.14 | 0.15 | 0.01 | 0.51 | 0.52 | 0.51 | 0.52 | ZZZ
75968 | TC | A | Repair artery blockage, each | 0.00 | 8.48 | 8.53 | NA | NA | 0.37 | 8.85 | 8.90 | NA | NA | ZZZ
75970 |  | A | Vascular biopsy | 0.83 | 11.97 | 12.07 | NA | NA | 0.55 | 13.35 | 13.45 | NA | NA | XXX
75970 | 26 | A | Vascular biopsy | 0.83 | 0.30 | 0.33 | 0.30 | 0.33 | 0.03 | 1.16 | 1.19 | 1.16 | 1.19 | XXX
75970 | TC | A | Vascular biopsy | 0.00 | 11.67 | 11.74 | NA | NA | 0.52 | 12.19 | 12.26 | NA | NA | XXX
75978 |  | A | Repair venous blockage | 0.54 | 16.10 | 16.27 | NA | NA | 0.73 | 17.37 | 17.54 | NA | NA | XXX
75978 | 26 | A | Repair venous blockage | 0.54 | 0.19 | 0.27 | 0.19 | 0.27 | 0.02 | 0.75 | 0.83 | 0.75 | 0.83 | XXX
75978 | TC | A | Repair venous blockage | 0.00 | 15.91 | 16.00 | NA | NA | 0.71 | 16.62 | 16.71 | NA | NA | XXX
75980 |  | A | Contrast xray exam bile duct | 1.44 | 5.97 | 6.05 | NA | NA | 0.31 | 7.72 | 7.80 | NA | NA | XXX
75980 | 26 | A | Contrast xray exam bile duct | 1.44 | 0.50 | 0.55 | 0.50 | 0.55 | 0.06 | 2.00 | 2.05 | 2.00 | 2.05 | XXX
75980 | TC | A | Contrast xray exam bile duct | 0.00 | 5.47 | 5.50 | NA | NA | 0.25 | 5.72 | 5.75 | NA | NA | XXX
75982 |  | A | Contrast xray exam bile duct | 1.44 | 6.67 | 6.76 | NA | NA | 0.34 | 8.45 | 8.54 | NA | NA | XXX
75982 | 26 | A | Contrast xray exam bile duct | 1.44 | 0.50 | 0.55 | 0.50 | 0.55 | 0.06 | 2.00 | 2.05 | 2.00 | 2.05 | XXX
75982 | TC | A | Contrast xray exam bile duct | 0.00 | 6.17 | 6.21 | NA | NA | 0.28 | 6.45 | 6.49 | NA | NA | XXX
75984 |  | A | Xray control catheter change | 0.72 | 2.22 | .26 | NA | NA | 0.12 | 3.06 | 3.10 | NA | NA | XXX
75984 | 26 | A | Xray control catheter change | 0.72 | 0.25 | 0.28 | 0.25 | 0.28 | 0.03 | 1.00 | 1.03 | 1.00 | 1.03 | XXX
75984 | TC | A | Xray control catheter change | 0.00 | 1.97 | 1.98 | NA | NA | 0.09 | 2.06 | 2.07 | NA | NA | XXX
75989 |  | A | Abscess drainage under x-ray | 1.19 | 3.60 | 3.66 | NA | NA | 0.19 | 4.98 | 5.04 | NA | NA | XXX
75989 | 26 | A | Abscess drainage under x-ray | 1.19 | 0.41 | 0.45 | 0.41 | 0.45 | 0.05 | 1.65 | 1.69 | 1.65 | 1.69 | XXX
75989 | TC | A | Abscess drainage under x-ray | 0.00 | 3.19 | 3.21 | NA | NA | 0.14 | 3.33 | 3.35 | NA | NA | XXX
75992 |  | A | Atherectomy, x-ray exam | 0.54 | 16.12 | 16.23 | NA | NA | 0.73 | 17.39 | 17.50 | NA | NA | XXX
75992 | 26 | A | Atherectomy, x-ray exam | 0.54 | 0.21 | 0.23 | 0.21 | 0.23 | 0.02 | 0.77 | 0.79 | 0.77 | 0.79 | XXX
75992 | TC | A | Atherectomy, x-ray exam | 0.00 | 15.91 | 16.00 | NA | NA | 0.71 | 16.62 | 16.71 | NA | NA | XXX
75993 |  | A | Atherectomy, x-ray exam | 0.36 | 8.63 | 8.69 | NA | NA | 0.38 | 9.37 | 9.43 | NA | NA | ZZZ
75993 | 26 | A | Atherectomy, x-ray exam | 0.36 | 0.15 | 0.16 | 0.15 | 0.16 | 0.01 | 0.52 | 0.53 | 0.52 | 0.53 | ZZZ
75993 | TC | A | Atherectomy, x-ray exam | 0.00 | 8.48 | 8.53 | NA | NA | 0.37 | 8.85 | 8.90 | NA | NA | ZZZ
75994 |  | A | Atherectomy, x-ray exam | 1.31 | 16.41 | 16.53 | NA | NA | 0.77 | 18.49 | 18.61 | NA | NA | XXX
75994 | 26 | A | Atherectomy, x-ray exam | 1.31 | 0.50 | 0.53 | 0.50 | 0.53 | 0.06 | 1.87 | 1.90 | 1.87 | 1.90 | XXX
75994 | TC | A | Atherectomy, x-ray exam | 0.00 | 15.91 | 16.00 | NA | NA | 0.71 | 16.62 | 16.71 | NA | NA | XXX
75995 |  | A | Atherectomy, x-ray exam | 1.31 | 16.38 | 16.51 | NA | NA | 0.75 | 18.44 | 18.57 | NA | NA | XXX
75995 | 26 | A | Atherectomy, x-ray exam | 1.31 | 0.47 | 0.51 | 0.47 | 0.51 | 0.04 | 1.82 | 1.86 | 1.82 | 1.86 | XXX
75995 | TC | A | Atherectomy, x-ray exam | 0.00 | 15.91 | 16.00 | NA | NA | 0.71 | 16.62 | 16.71 | NA | NA | XXX
75996 |  | A | Atherectomy, x-ray exam | 0.36 | 8.61 | 8.67 | NA | NA | 0.38 | 9.35 | 9.41 | NA | NA | ZZZ
75996 | 26 | A | Atherectomy, x-ray exam | 0.36 | 0.13 | 0.14 | 0.13 | 0.14 | 0.01 | 0.50 | 0.51 | 0.50 | 0.51 | ZZZ
75996 | TC | A | Atherectomy, x-ray exam | 0.00 | 8.48 | 8.53 | NA | NA | 0.37 | 8.85 | 8.90 | NA | NA | ZZZ
76000 |  | A | Fluoroscope examination | 0.17 | 1.38 | 1.40 | NA | NA | 0.07 | 1.62 | 1.64 | NA | NA | XXX
76000 | 26 | A | Fluoroscope examination | 0.17 | 0.06 | 0.07 | 0.06 | 0.07 | 0.01 | 0.24 | 0.25 | 0.24 | 0.25 | XXX
76000 | TC | A | Fluoroscope examination | 0.00 | 1.32 | 1.33 | NA | NA | 0.06 | 1.38 | 1.39 | NA | NA | XXX
76001 |  | A | Fluoroscope exam, extensive | 0.67 | 2.88 | 2.93 | NA | NA | 0.15 | 3.70 | 3.75 | NA | NA | XXX
76001 | 26 | A | Fluoroscope exam, extensive | 0.67 | 0.23 | 0.26 | 0.23 | 0.26 | 0.03 | 0.93 | 0.96 | 0.93 | 0.96 | XXX
76001 | TC | A | Fluoroscope exam, extensive | 0.00 | 2.65 | 2.67 | NA | NA | 0.12 | 2.77 | 2.79 | NA | NA | XXX
76003 |  | A | Needle localization by x-ray | 0.54 | 1.50 | 1.53 | NA | NA | 0.08 | 2.12 | 2.15 | NA | NA | XXX
76003 | 26 | A | Needle localization by x-ray | 0.54 | 0.18 | 0.20 | 0.18 | 0.20 | 0.02 | 0.74 | 0.76 | 0.74 | 0.76 | XXX
76003 | TC | A | Needle localization by x-ray | 0.00 | 1.32 | 1.33 | NA | NA | 0.06 | 1.38 | 1.39 | NA | NA | XXX
76005 |  | A | Fluoroguide for spine inject | 0.60 | 1.48 | 1.49 | NA | NA | 0.09 | 2.17 | 2.18 | NA | NA | XXX
76005 | 26 | A | Fluoroguide for spine inject | 0.60 | 0.20 | 0.20 | 0.20 | 0.20 | 0.03 | 0.83 | 0.83 | 0.83 | 0.83 | XXX
76005 | TC | A | Fluoroguide for spine inject | 0.00 | 1.28 | 1.29 | NA | NA | 0.06 | 1.34 | 1.35 | NA | NA | XXX
76006 |  | A | X-ray stress view | 0.41 | 0.14 | 0.14 | NA | NA | 0.02 | 0.57 | 0.57 | NA | NA | XXX
76010 |  | A | X-ray, nose to rectum | 0.18 | 0.59 | 0.60 | NA | NA | 0.03 | 0.80 | 0.81 | NA | NA | XXX
76010 | 26 | A | X-ray, nose to rectum | 0.18 | 0.06 | 0.07 | 0.06 | 0.07 | 0.01 | 0.25 | 0.26 | 0.25 | 0.26 | XXX
76010 | TC | A | X-ray, nose to rectum | 0.00 | 0.53 | 0.53 | NA | NA | 0.02 | 0.55 | 0.55 | NA | NA | XXX
76020 |  | A | X-rays for bone age | 0.19 | 0.60 | 0.61 | NA | NA | 0.03 | 0.82 | 0.83 | NA | NA | XXX
76020 | 26 | A | X-rays for bone age | 0.19 | 0.07 | 0.08 | 0.07 | 0.08 | 0.01 | 0.27 | 0.28 | 0.27 | 0.28 | XXX
76020 | TC | A | X-rays for bone age | 0.00 | 0.53 | 0.53 | NA | NA | 0.02 | 0.55 | 0.55 | NA | NA | XXX
76040 |  | A | X-rays, bone evaluation | 0.27 | 0.89 | 0.91 | NA | NA | 0.05 | 1.21 | 1.23 | NA | NA | XXX
76040 | 26 | A | X-rays, bone evaluation | 0.27 | 0.10 | 0.11 | 0.10 | 0.11 | 0.01 | 0.38 | 0.39 | 0.38 | 0.39 | XXX
76040 | TC | A | X-rays, bone evaluation | 0.00 | 0.79 | 0.80 | NA | NA | 0.04 | 0.83 | 0.84 | NA | NA | XXX
76061 |  | A | X-rays, bone survey | 0.45 | 1.17 | 1.20 | NA | NA | 0.07 | 1.69 | 1.72 | NA | NA | XXX
76061 | 26 | A | X-rays, bone survey | 0.45 | 0.16 | 0.18 | 0.16 | 0.18 | 0.02 | 0.63 | 0.65 | 0.63 | 0.65 | XXX
76061 | TC | A | X-rays, bone survey | 0.00 | 1.01 | 1.02 | NA | NA | 0.05 | 1.06 | 1.07 | NA | NA | XXX
76062 |  | A | X-rays, bone survey | 0.54 | 1.65 | 1.68 | NA | NA | 0.09 | 2.28 | 2.31 | NA | NA | XXX
76062 | 26 | A | X-rays, bone survey | 0.54 | 0.19 | 0.21 | 0.19 | 0.21 | 0.02 | 0.75 | 0.77 | 0.75 | 0.77 | XXX
76062 | TC | A | X-rays, bone survey | 0.00 | 1.46 | 1.47 | NA | NA | 0.07 | 1.53 | 1.54 | NA | NA | XXX
76065 |  | A | X-rays, bone evaluation | 0.28 | 0.84 | 0.86 | NA | NA | 0.05 | 1.17 | 1.19 | NA | NA | XXX
76065 | 26 | A | X-rays, bone evaluation | 0.28 | 0.10 | 0.11 | 0.10 | 0.11 | 0.01 | 0.39 | 0.40 | 0.39 | 0.40 | XXX
76065 | TC | A | X-rays, bone evaluation | 0.00 | 0.74 | 0.75 | NA | NA | 0.04 | 0.78 | 0.79 | NA | NA | XXX
76066 |  | A | Joint(s) survey, single film | 0.31 | 1.23 | 1.25 | NA | NA | 0.06 | 1.60 | 1.62 | NA | NA | XXX
76066 | 26 | A | Joint(s) survey, single film | 0.31 | 0.11 | 0.12 | 0.11 | 0.12 | 0.01 | 0.43 | 0.44 | 0.43 | 0.44 | XXX
76066 | TC | A | Joint(s) survey, single film | 0.00 | 1.12 | 1.13 | NA | NA | 0.05 | 1.17 | 1.18 | NA | NA | XXX
76070 |  | I | CT scan, bone density study | 0.25 | 3.08 | 3.11 | NA | NA | 0.14 | 3.47 | 3.50 | NA | NA | XXX
76070 | 26 | I | CT scan, bone density study | 0.25 | 0.10 | 0.11 | 0.10 | 0.11 | 0.01 | 0.36 | 0.37 | 0.36 | 0.37 | XXX
76070 | TC | I | CT scan, bone density study | 0.00 | 2.98 | 3.00 | NA | NA | 0.13 | 3.11 | 3.13 | NA | NA | XXX
76075 |  | A | Dual energy x-ray study | 0.30 | 3.24 | 3.27 | NA | NA | 0.15 | 3.69 | 3.72 | NA | NA | XXX
76075 | 26 | A | Dual energy x-ray study | 0.30 | 0.11 | 0.12 | 0.11 | 0.12 | 0.01 | 0.42 | 0.43 | 0.42 | 0.43 | XXX
76075 | TC | A | Dual energy x-ray study | 0.00 | 3.13 | 3.15 | NA | NA | 0.14 | 3.27 | 3.29 | NA | NA | XXX
76076 |  | A | Dual energy x-ray study | 0.22 | 0.84 | 0.86 | NA | NA | 0.05 | 1.11 | 1.13 | NA | NA | XXX
76076 | 26 | A | Dual energy x-ray study | 0.22 | 0.08 | 0.09 | 0.08 | 0.09 | 0.01 | 0.31 | 0.32 | 0.31 | 0.32 | XXX
76076 | TC | A | Dual energy x-ray study | 0.00 | 0.76 | 0.77 | NA | NA | 0.04 | 0.80 | 0.81 | NA | NA | XXX
76078 |  | A | Photodensitometry | 0.20 | 0.83 | 0.85 | NA | NA | 0.05 | 1.08 | 1.10 | NA | NA | XXX
76078 | 26 | A | Photodensitometry | 0.20 | 0.07 | 0.08 | 0.07 | 0.08 | 0.01 | 0.28 | 0.29 | 0.28 | 0.29 | XXX
76078 | TC | A | Photodensitometry | 0.00 | 0.76 | 0.77 | NA | NA | 0.04 | 0.80 | 0.81 | NA | NA | XXX
76080 |  | A | X-ray exam of fistula | 0.54 | 1.26 | 1.29 | NA | NA | 0.07 | 1.87 | 1.90 | NA | NA | XXX
76080 | 26 | A | X-ray exam of fistula | 0.54 | 0.19 | 0.21 | 0.19 | 0.21 | 0.02 | 0.75 | 0.77 | 0.75 | 0.77 | XXX
76080 | TC | A | X-ray exam of fistula | 0.00 | 1.07 | 1.08 | NA | NA | 0.05 | 1.12 | 1.13 | NA | NA | XXX
76086 |  | A | X-ray of mammary duct | 0.36 | 2.78 | 2.81 | NA | NA | 0.13 | 3.27 | 3.30 | NA | NA | XXX
76086 | 26 | A | X-ray of mammary duct | 0.36 | 0.13 | 0.14 | 0.13 | 0.14 | 0.01 | 0.50 | 0.51 | 0.50 | 0.51 | XXX
76086 | TC | A | X-ray of mammary duct | 0.00 | 2.65 | 2.67 | NA | NA | 0.12 | 2.77 | 2.79 | NA | NA | XXX
76088 |  | A | X-ray of mammary ducts | 0.45 | 3.86 | 3.90 | NA | NA | 0.18 | 4.49 | 4.53 | NA | NA | XXX
76088 | 26 | A | X-ray of mammary ducts | 0.45 | 0.16 | 0.18 | 0.16 | 0.18 | 0.02 | 0.63 | 0.65 | 0.63 | 0.65 | XXX
76088 | TC | A | X-ray of mammary ducts | 0.00 | 3.70 | 3.72 | NA | NA | 0.16 | 3.86 | 3.88 | NA | NA | XXX
76090 |  | A | Mammogram, one breast | 0.58 | 1.27 | 1.26 | NA | NA | 0.07 | 1.92 | 1.91 | NA | NA | XXX
76090 | 26 | A | Mammogram, one breast | 0.58 | 0.20 | 0.18 | 0.20 | 0.18 | 0.02 | 0.80 | 0.78 | 0.80 | 0.78 | XXX
76090 | TC | A | Mammogram, one breast | 0.00 | 1.07 | 1.08 | NA | NA | 0.05 | 1.12 | 1.13 | NA | NA | XXX
76091 |  | A | Mammogram, both breasts | 0.69 | 1.56 | 1.56 | NA | NA | 0.09 | 2.34 | 2.34 | NA | NA | XXX
76091 | 26 | A | Mammogram, both breasts | 0.69 | 0.24 | 0.23 | 0.24 | 0.23 | 0.03 | 0.96 | 0.95 | 0.96 | 0.95 | XXX
76091 | TC | A | Mammogram, both breasts | 0.00 | 1.32 | 1.33 | NA | NA | 0.06 | 1.38 | 1.39 | NA | NA | XXX
76092 |  | X | Mamm0gram, screening | 0.00 | 0.00 | 0.00 | 0.00 | 0.00 | 0.00 | 0.00 | 0.00 | 0.00 | 0.00 | XXX
76093 |  | A | Magnetic image, breast | 1.63 | 18.39 | 18.54 | NA | NA | 0.84 | 20.86 | 21.01 | NA | NA | XXX
76093 | 26 | A | Magnetic image, breast | 1.63 | 0.57 | 0.62 | 0.57 | 0.62 | 0.06 | 2.26 | 2.31 | 2.26 | 2.31 | XXX
76093 | TC | A | Magnetic image, breast | 0.00 | 17.82 | 17.92 | NA | NA | 0.78 | 18.60 | 18.70 | NA | NA | XXX
76094 |  | A | Magnetic image, both breasts | 1.63 | 24.74 | 24.93 | NA | NA | 1.12 | 27.49 | 27.68 | NA | NA | XXX
76094 | 26 | A | Magnetic image, both breasts | 1.63 | 0.57 | 0.62 | 0.57 | 0.62 | 0.06 | 2.26 | 2.31 | 2.26 | 2.31 | XXX
76094 | TC | A | Magnetic image, both breasts | 0.00 | 24.17 | 24.31 | NA | NA | 1.06 | 25.23 | 25.37 | NA | NA | XXX
76095 |  | A | Stereotactic breast biopsy | 1.59 | 7.80 | 7.89 | NA | NA | 0.40 | 9.79 | 9.88 | NA | NA | XXX
76095 | 26 | A | Stereotactic breast biopsy | 1.59 | 0.56 | 0.61 | 0.56 | 0.61 | 0.08 | 2.23 | 2.28 | 2.23 | 2.28 | XXX
76095 | TC | A | Stereotactic breast biopsy | 0.00 | 7.24 | 7.28 | NA | NA | 0.32 | 7.56 | 7.60 | NA | NA | XXX
76096 |  | A | X-ray of needle wire, breast | 0.56 | 1.52 | 1.55 | NA | NA | 0.08 | 2.16 | 2.19 | NA | NA | XXX
76096 | 26 | A | X-ray of needle wire, breast | 0.56 | 0.20 | 0.22 | 0.20 | 0.22 | 0.02 | 0.78 | 0.80 | 0.78 | 0.80 | XXX
76096 | TC | A | X-ray of needle wire, breast | 0.00 | 1.32 | 1.33 | NA | NA | 0.06 | 1.38 | 1.39 | NA | NA | XXX
76098 |  | A | X-ray exam, breast specimen | 0.16 | 0.48 | 0.49 | NA | NA | 0.03 | 0.67 | 0.68 | NA | NA | XXX
76098 | 26 | A | X-ray exam, breast specimen | 0.16 | 0.06 | 0.07 | 0.06 | 0.07 | 0.01 | 0.23 | 0.24 | 0.23 | 0.24 | XXX
76098 | TC | A | X-ray exam, breast specimen | 0.00 | 0.42 | 0.42 | NA | NA | 0.02 | 0.44 | 0.44 | NA | NA | XXX
76100 |  | A | X-ray exam of body section | 0.58 | 1.46 | 1.49 | NA | NA | 0.08 | 2.12 | 2.15 | NA | NA | XXX
76100 | 26 | A | X-ray exam of body section | 0.58 | 0.20 | 0.22 | 0.20 | 0.22 | 0.02 | 0.80 | 0.82 | 0.80 | 0.82 | XXX
76100 | TC | A | X-ray exam of body section | 0.00 | 1.26 | 1.27 | NA | NA | 0.06 | 1.32 | 1.33 | NA | NA | XXX
76101 |  | A | Complex body section x-ray | 0.58 | 1.64 | 1.67 | NA | NA | 0.09 | 2.31 | 2.34 | NA | NA | XXX
76101 | 26 | A | Complex body section x-ray | 0.58 | 0.20 | 0.22 | 0.20 | 0.22 | 0.02 | 0.80 | 0.82 | 0.80 | 0.82 | XXX
76101 | TC | A | Complex body section x-ray | 0.00 | 1.44 | 1.45 | NA | NA | 0.07 | 1.51 | 1.52 | NA | NA | XXX
76102 |  | A | Complex body section x-rays | 0.58 | 1.95 | 1.98 | NA | NA | 0.11 | 2.64 | 2.67 | NA | NA | XXX
76102 | 26 | A | Complex body section x-rays | 0.58 | 0.20 | 0.22 | 0.20 | 0.22 | 0.02 | 0.80 | 0.82 | 0.80 | 0.82 | XXX
76102 | TC | A | Complex body section x-rays | 0.00 | 1.75 | 1.76 | NA | NA | 0.09 | 1.84 | 1.85 | NA | NA | XXX
76120 |  | A | Cinematic x-rays | 0.38 | 1.21 | 1.23 | NA | NA | 0.07 | 1.66 | 1.68 | NA | NA | XXX
76120 | 26 | A | Cinematic x-rays | 0.38 | 0.14 | 0.15 | 0.14 | 0.15 | 0.02 | 0.54 | 0.55 | 0.54 | 0.55 | XXX
76120 | TC | A | Cinematic x-rays | 0.00 | 1.07 | 1.08 | NA | NA | 0.05 | 1.12 | 1.13 | NA | NA | XXX
76125 |  | A | Cinematic x-rays add-on | 0.27 | 0.89 | 0.91 | NA | NA | 0.05 | 1.21 | 1.23 | NA | NA | ZZZ
76125 | 26 | A | Cinematic x-rays add-on | 0.27 | 0.10 | 0.11 | 0.10 | 0.11 | 0.01 | 0.38 | 0.39 | 0.38 | 0.39 | ZZZ
76125 | TC | A | Cinematic x-rays add-on | 0.00 | 0.79 | 0.80 | NA | NA | 0.04 | 0.83 | 0.84 | NA | NA | ZZZ
76140 |  | I | X-ray consultation | 0.00 | 0.00 | 0.00 | 0.00 | 0.00 | 0.00 | 0.00 | 0.00 | 0.00 | 0.00 | XXX
76150 |  | A | X-ray exam, dry process | 0.00 | 0.42 | 0.42 | NA | NA | 0.02 | 0.44 | 0.44 | NA | NA | XXX
76350 |  | C | Special x-ray contrast study | 0.00 | 0.00 | 0.00 | NA | NA | 0.00 | 0.00 | 0.00 | NA | NA | XXX
76355 |  | A | CAT scan for localization | 1.21 | 8.77 | 8.86 | NA | NA | 0.41 | 10.39 | 10.48 | NA | NA | XXX
76355 | 26 | A | CAT scan for localization | 1.21 | 0.42 | 0.46 | 0.42 | 0.46 | 0.05 | 1.68 | 1.72 | 1.68 | 1.72 | XXX
76355 | TC | A | CAT scan for localization | 0.00 | 8.35 | 8.40 | NA | NA | 0.36 | 8.71 | 8.76 | NA | NA | XXX
76360 |  | A | CAT scan for needle biopsy | 1.16 | 8.75 | 8.84 | NA | NA | 0.41 | 10.32 | 10.41 | NA | NA | XXX
76360 | 26 | A | CAT scan for needle biopsy | 1.16 | 0.40 | 0.44 | 0.40 | 0.44 | 0.05 | 1.61 | 1.65 | 1.61 | 1.65 | XXX
76360 | TC | A | CAT scan for needle biopsy | 0.00 | 8.35 | 8.40 | NA | NA | 0.36 | 8.71 | 8.76 | NA | NA | XXX
76365 |  | A | CAT scan for cyst aspiration | 1.16 | 8.75 | 8.84 | NA | NA | 0.41 | 10.32 | 10.41 | NA | NA | XXX
76365 | 26 | A | CAT scan for cyst aspiration | 1.16 | 0.40 | 0.44 | 0.40 | 0.44 | 0.05 | 1.61 | 1.65 | 1.61 | 1.65 | XXX
76365 | TC | A | CAT scan for cyst aspiration | 0.00 | 8.35 | 8.40 | NA | NA | 0.36 | 8.71 | 8.76 | NA | NA | XXX
76370 |  | A | CAT scan for therapy guide | 0.85 | 3.27 | 3.32 | NA | NA | 0.16 | 4.28 | 4.33 | NA | NA | XXX
76370 | 26 | A | CAT scan for therapy guide | 0.85 | 0.29 | 0.32 | 0.29 | 0.32 | 0.03 | 1.17 | 1.20 | 1.17 | 1.20 | XXX
76370 | TC | A | CAT scan for therapy guide | 0.00 | 2.98 | 3.00 | NA | NA | 0.13 | 3.11 | 3.13 | NA | NA | XXX
76375 |  | A | 3d/holograph reconstr add-on | 0.16 | 3.64 | 3.67 | NA | NA | 0.16 | 3.96 | 3.99 | NA | NA | XXX
76375 | 26 | A | 3d/holograph reconstr add-on | 0.16 | 0.06 | 0.07 | 0.06 | 0.07 | 0.01 | 0.23 | 0.24 | 0.23 | 0.24 | XXX
76375 | TC | A | 3d/holograph reconstr add-on | 0.00 | 3.58 | 3.60 | NA | NA | 0.15 | 3.73 | 3.75 | NA | NA | XXX
76380 |  | A | CAT scan follow-up study | 0.98 | 3.88 | 3.94 | NA | NA | 0.19 | 5.05 | 5.11 | NA | NA | XXX
76380 | 26 | A | CAT scan follow-up study | 0.98 | 0.34 | 0.38 | 0.34 | 0.38 | 0.04 | 1.36 | 1.40 | 1.36 | 1.40 | XXX
76380 | TC | A | CAT scan follow-up study | 0.00 | 3.54 | 3.56 | NA | NA | 0.15 | 3.69 | 3.71 | NA | NA | XXX
76390 |  | A | Mr spectroscopy | 1.40 | 11.82 | 11.95 | NA | NA | 0.56 | 13.78 | 13.91 | NA | NA | XXX
76390 | 26 | A | Mr spectroscopy | 1.40 | 0.49 | 0.55 | 0.49 | 0.55 | 0.06 | 1.95 | 2.01 | 1.95 | 2.01 | XXX
76390 | TC | A | Mr spectroscopy | 0.00 | 11.33 | 11.40 | NA | NA | 0.50 | 11.83 | 11.90 | NA | NA | XXX
76400 |  | A | Magnetic image, bone marrow | 1.60 | 11.89 | 12.02 | NA | NA | 0.56 | 14.05 | 14.18 | NA | NA | XXX
76400 | 26 | A | Magnetic image, bone marrow | 1.60 | 0.56 | 0.62 | 0.56 | 0.62 | 0.06 | 2.22 | 2.28 | 2.22 | 2.28 | XXX
76400 | TC | A | Magnetic image, bone marrow | 0.00 | 11.33 | 11.40 | NA | NA | 0.50 | 11.83 | 11.90 | NA | NA | XXX
76499 |  | C | Radiographic procedure | 0.00 | 0.00 | 0.00 | NA | NA | 0.00 | 0.00 | 0.00 | NA | NA | XXX
76499 | 26 | C | Radiographic procedure | 0.00 | 0.00 | 0.00 | 0.00 | 0.00 | 0.00 | 0.00 | 0.00 | 0.00 | 0.00 | XXX
76499 | TC | C | Radiographic procedure | 0.00 | 0.00 | 0.00 | NA | NA | 0.00 | 0.00 | 0.00 | NA | NA | XXX
76506 |  | A | Echo exam of head | 0.63 | 1.68 | 1.71 | NA | NA | 0.10 | 2.41 | 2.44 | NA | NA | XXX
76506 | 26 | A | Echo exam of head | 0.63 | 0.24 | 0.26 | 0.24 | 0.26 | 0.03 | 0.90 | 0.92 | 0.90 | 0.92 | XXX
76506 | TC | A | Echo exam of head | 0.00 | 1.44 | 1.45 | NA | NA | 0.07 | 1.51 | 1.52 | NA | NA | XXX
76511 |  | A | Echo exam of eye | 0.94 | 1.69 | 1.66 | NA | NA | 0.09 | 2.72 | 2.69 | NA | NA | XXX
76511 | 26 | A | Echo exam of eye | 0.94 | 0.43 | 0.39 | 0.43 | 0.39 | 0.03 | 1.40 | 1.36 | 1.40 | 1.36 | XXX
76511 | TC | A | Echo exam of eye | 0.00 | 1.26 | 1.27 | NA | NA | 0.06 | 1.32 | 1.33 | NA | NA | XXX
76512 |  | A | Echo exam of eye | 0.66 | 1.84 | 1.86 | NA | NA | 0.10 | 2.60 | 2.62 | NA | NA | XXX
76512 | 26 | A | Echo exam of eye | 0.66 | 0.31 | 0.32 | 0.31 | 0.32 | 0.02 | 0.99 | 1.00 | 0.99 | 1.00 | XXX
76512 | TC | A | Echo exam of eye | 0.00 | 1.53 | 1.54 | NA | NA | 0.08 | 1.61 | 1.62 | NA | NA | XXX
76513 |  | A | Echo exam of eye, water bath | 0.66 | 1.83 | 1.85 | NA | NA | 0.10 | 2.59 | 2.61 | NA | NA | XXX
76513 | 26 | A | Echo exam of eye, water bath | 0.66 | 0.30 | 0.31 | 0.30 | 0.31 | 0.02 | 0.98 | 0.99 | 0.98 | 0.99 | XXX
76513 | TC | A | Echo exam of eye, water bath | 0.00 | 1.53 | 1.54 | NA | NA | 0.08 | 1.61 | 1.62 | NA | NA | XXX
76516 |  | A | Echo exam of eye | 0.54 | 1.52 | 1.53 | NA | NA | 0.08 | 2.14 | 2.15 | NA | NA | XXX
76516 | 26 | A | Echo exam of eye | 0.54 | 0.26 | 0.26 | 0.26 | 0.26 | 0.02 | 0.82 | 0.82 | 0.82 | 0.82 | XXX
76516 | TC | A | Echo exam of eye | 0.00 | 1.26 | 1.27 | NA | NA | 0.06 | 1.32 | 1.33 | NA | NA | XXX
76519 |  | A | Echo exam of eye | 0.54 | 1.52 | 1.53 | NA | NA | 0.08 | 2.14 | 2.15 | NA | NA | XXX
76519 | 26 | A | Echo exam of eye | 0.54 | 0.26 | 0.26 | 0.26 | 0.26 | 0.02 | 0.82 | 0.82 | 0.82 | 0.82 | XXX
76519 | TC | A | Echo exam of eye | 0.00 | 1.26 | 1.27 | NA | NA | 0.06 | 1.32 | 1.33 | NA | NA | XXX
76529 |  | A | Echo exam of eye | 0.57 | 1.65 | 1.66 | NA | NA | 0.09 | 2.31 | 2.32 | NA | NA | XXX
76529 | 26 | A | Echo exam of eye | 0.57 | 0.27 | 0.27 | 0.27 | 0.27 | 0.02 | 0.86 | 0.86 | 0.86 | 0.86 | XXX
76529 | TC | A | Echo exam of eye | 0.00 | 1.38 | 1.39 | NA | NA | 0.07 | 1.45 | 1.46 | NA | NA | XXX
76536 |  | A | Echo exam of head and neck | 0.56 | 1.64 | 1.67 | NA | NA | 0.09 | 2.29 | 2.32 | NA | NA | XXX
76536 | 26 | A | Echo exam of head and neck | 0.56 | 0.20 | 0.22 | 0.20 | 0.22 | 0.02 | 0.78 | 0.80 | 0.78 | 0.80 | XXX
76536 | TC | A | Echo exam of head and neck | 0.00 | 1.44 | 1.45 | NA | NA | 0.07 | 1.51 | 1.52 | NA | NA | XXX
76604 |  | A | Echo exam of chest | 0.55 | 1.51 | 1.54 | NA | NA | 0.08 | 2.14 | 2.17 | NA | NA | XXX
76604 | 26 | A | Echo exam of chest | 0.55 | 0.19 | 0.21 | 0.19 | 0.21 | 0.02 | 0.76 | 0.78 | 0.76 | 0.78 | XXX
76604 | TC | A | Echo exam of chest | 0.00 | 1.32 | 1.33 | NA | NA | 0.06 | 1.38 | 1.39 | NA | NA | XXX
76645 |  | A | Echo exam of breast(s) | 0.54 | 1.26 | 1.29 | NA | NA | 0.07 | 1.87 | 1.90 | NA | NA | XXX
76645 | 26 | A | Echo exam of breast(s) | 0.54 | 0.19 | 0.21 | 0.19 | 0.21 | 0.02 | 0.75 | 0.77 | 0.75 | 0.77 | XXX
76645 | TC | A | Echo exam of breast(s) | 0.00 | 1.07 | 1.08 | NA | NA | 0.05 | 1.12 | 1.13 | NA | NA | XXX
76700 |  | A | Echo exam of abdomen | 0.81 | 2.27 | 2.31 | NA | NA | 0.12 | 3.20 | 3.24 | NA | NA | XXX
76700 | 26 | A | Echo exam of abdomen | 0.81 | 0.28 | 0.31 | 0.28 | 0.31 | 0.03 | 1.12 | 1.15 | 1.12 | 1.15 | XXX
76700 | TC | A | Echo exam of abdomen | 0.00 | 1.99 | 2.00 | NA | NA | 0.09 | 2.08 | 2.09 | NA | NA | XXX
76705 |  | A | Echo exam of abdomen | 0.59 | 1.65 | 1.68 | NA | NA | 0.09 | 2.33 | 2.36 | NA | NA | XXX
76705 | 26 | A | Echo exam of abdomen | 0.59 | 0.21 | 0.23 | 0.21 | 0.23 | 0.02 | 0.82 | 0.84 | 0.82 | 0.84 | XXX
76705 | TC | A | Echo exam of abdomen | 0.00 | 1.44 | 1.45 | NA | NA | 0.07 | 1.51 | 1.52 | NA | NA | XXX
76770 |  | A | Echo exam abdomen back wall | 0.74 | 2.25 | 2.29 | NA | NA | 0.12 | 3.11 | 3.15 | NA | NA | XXX
76770 | 26 | A | Echo exam abdomen back wall | 0.74 | 0.26 | 0.29 | 0.26 | 0.29 | 0.03 | 1.03 | 1.06 | 1.03 | 1.06 | XXX
76770 | TC | A | Echo exam abdomen back wall | 0.00 | 1.99 | 2.00 | NA | NA | 0.09 | 2.08 | 2.09 | NA | NA | XXX
76775 |  | A | Echo exam abdomen back wall | 0.58 | 1.64 | 1.67 | NA | NA | 0.09 | 2.31 | 2.34 | NA | NA | XXX
76775 | 26 | A | Echo exam abdomen back wall | 0.58 | 0.20 | 0.22 | 0.20 | 0.22 | 0.02 | 0.80 | 0.82 | 0.80 | 0.82 | XXX
76775 | TC | A | Echo exam abdomen back wall | 0.00 | 1.44 | 1.45 | NA | NA | 0.07 | 1.51 | 1.52 | NA | NA | XXX
76778 |  | A | Echo exam kidney transplant | 0.74 | 2.25 | 2.29 | NA | NA | 0.12 | 3.11 | 3.15 | NA | NA | XXX
76778 | 26 | A | Echo exam kidney transplant | 0.74 | 0.26 | 0.29 | 0.26 | 0.29 | 0.03 | 1.03 | 1.06 | 1.03 | 1.06 | XXX
76778 | TC | A | Echo exam kidney transplant | 0.00 | 1.99 | 2.00 | NA | NA | 0.09 | 2.08 | 2.09 | NA | NA | XXX
76800 |  | A | Echo exam spinal canal | 1.13 | 1.81 | 1.86 | NA | NA | 0.12 | 3.06 | 3.11 | NA | NA | XXX
76800 | 26 | A | Echo exam spinal canal | 1.13 | 0.37 | 0.41 | 0.37 | 0.41 | 0.05 | 1.55 | 1.59 | 1.55 | 1.59 | XXX
76800 | TC | A | Echo exam spinal canal | 0.00 | 1.44 | 1.45 | NA | NA | 0.07 | 1.51 | 1.52 | NA | NA | XXX
76805 |  | A | Echo exam of pregnant uterus | 0.99 | 2.47 | 2.52 | NA | NA | 0.14 | 3.60 | 3.65 | NA | NA | XXX
76805 | 26 | A | Echo exam of pregnant uterus | 0.99 | 0.35 | 0.39 | 0.35 | 0.39 | 0.04 | 1.38 | 1.42 | 1.38 | 1.42 | XXX
76805 | TC | A | Echo exam of pregnant uterus | 0.00 | 2.12 | 2.13 | NA | NA | 0.10 | 2.22 | 2.23 | NA | NA | XXX
76810 |  | A | Echo exam of pregnant uterus | 1.97 | 4.95 | 5.04 | NA | NA | 0.26 | 7.18 | 7.27 | NA | NA | XXX
76810 | 26 | A | Echo exam of pregnant uterus | 1.97 | 0.71 | 0.77 | 0.71 | 0.77 | 0.07 | 2.75 | 2.81 | 2.75 | 2.81 | XXX
76810 | TC | A | Echo exam of pregnant uterus | 0.00 | 4.24 | 4.27 | NA | NA | 0.19 | 4.43 | 4.46 | NA | NA | XXX
76815 |  | A | Echo exam of pregnant uterus | 0.65 | 1.68 | 1.71 | NA | NA | 0.09 | 2.42 | 2.45 | NA | NA | XXX
76815 | 26 | A | Echo exam of pregnant uterus | 0.65 | 0.24 | 0.26 | 0.24 | 0.26 | 0.02 | 0.91 | 0.93 | 0.91 | 0.93 | XXX
76815 | TC | A | Echo exam of pregnant uterus | 0.00 | 1.44 | 1.45 | NA | NA | 0.07 | 1.51 | 1.52 | NA | NA | XXX
76816 |  | A | Echo exam follow-up/repeat | 0.57 | 1.33 | 1.36 | NA | NA | 0.07 | 1.97 | 2.00 | NA | NA | XXX
76816 | 26 | A | Echo exam follow-up/repeat | 0.57 | 0.21 | 0.23 | 0.21 | 0.23 | 0.02 | 0.80 | 0.82 | 0.80 | 0.82 | XXX
76816 | TC | A | Echo exam follow-up/repeat | 0.00 | 1.12 | 1.13 | NA | NA | 0.05 | 1.17 | 1.18 | NA | NA | XXX
76818 |  | A | Fetal biophysical profile | 0.77 | 1.92 | 1.95 | NA | NA | 0.11 | 2.80 | 2.83 | NA | NA | XXX
76818 | 26 | A | Fetal biophysical profile | 0.77 | 0.29 | 0.31 | 0.29 | 0.31 | 0.03 | 1.09 | 1.11 | 1.09 | 1.11 | XXX
76818 | TC | A | Fetal biophysical profile | 0.00 | 1.63 | 1.64 | NA | NA | 0.08 | 1.71 | 1.72 | NA | NA | XXX
76825 |  | A | Echo exam of fetal heart | 1.67 | 2.63 | 2.58 | NA | NA | 0.15 | 4.45 | 4.40 | NA | NA | XXX
76825 | 26 | A | Echo exam of fetal heart | 1.67 | 0.64 | 0.58 | 0.64 | 0.58 | 0.06 | 2.37 | 2.31 | 2.37 | 2.31 | XXX
76825 | TC | A | Echo exam of fetal heart | 0.00 | 1.99 | 2.00 | NA | NA | 0.09 | 2.08 | 2.09 | NA | NA | XXX
76826 |  | A | Echo exam of fetal heart | 0.83 | 1.03 | 1.15 | NA | NA | 0.07 | 1.93 | 2.05 | NA | NA | XXX
76826 | 26 | A | Echo exam of fetal heart | 0.83 | 0.32 | 0.43 | 0.32 | 0.43 | 0.03 | 1.18 | 1.29 | 1.18 | 1.29 | XXX
76826 | TC | A | Echo exam of fetal heart | 0.00 | 0.71 | 0.72 | NA | NA | 0.04 | 0.75 | 0.76 | NA | NA | XXX
76827 |  | A | Echo exam of fetal heart | 0.58 | 1.96 | 2.09 | NA | NA | 0.12 | 2.66 | 2.79 | NA | NA | XXX
76827 | 26 | A | Echo exam of fetal heart | 0.58 | 0.22 | 0.34 | 0.22 | 0.34 | 0.02 | 0.82 | 0.94 | 0.82 | 0.94 | XXX
76827 | TC | A | Echo exam of fetal heart | 0.00 | 1.74 | 1.75 | NA | NA | 0.10 | 1.84 | 1.85 | NA | NA | XXX
76828 |  | A | Echo exam of fetal heart | 0.56 | 1.34 | 1.37 | NA | NA | 0.09 | 1.99 | 2.02 | NA | NA | XXX
76828 | 26 | A | Echo exam of fetal heart | 0.56 | 0.22 | 0.24 | 0.22 | 0.24 | 0.02 | 0.80 | 0.82 | 0.80 | 0.82 | XXX
76828 | TC | A | Echo exam of fetal heart | 0.00 | 1.12 | 1.13 | NA | NA | 0.07 | 1.19 | 1.20 | NA | NA | XXX
76830 |  | A | Echo exam, transvaginal | 0.69 | 1.77 | 1.81 | NA | NA | 0.11 | 2.57 | 2.61 | NA | NA | XXX
76830 | 26 | A | Echo exam, transvaginal | 0.69 | 0.24 | 0.27 | 0.24 | 0.27 | 0.03 | 0.96 | 0.99 | 0.96 | 0.99 | XXX
76830 | TC | A | Echo exam, transvaginal | 0.00 | 1.53 | 1.54 | NA | NA | 0.08 | 1.61 | 1.62 | NA | NA | XXX
76831 |  | A | Echo exam, uterus | 0.72 | 1.79 | 1.82 | NA | NA | 0.11 | 2.62 | 2.65 | NA | NA | XXX
76831 | 26 | A | Echo exam, uterus | 0.72 | 0.26 | 0.28 | 0.26 | 0.28 | 0.03 | 1.01 | 1.03 | 1.01 | 1.03 | XXX
76831 | TC | A | Echo exam, uterus | 0.00 | 1.53 | 1.54 | NA | NA | 0.08 | 1.61 | 1.62 | NA | NA | XXX
76856 |  | A | Echo exam of pelvis | 0.69 | 1.77 | 1.81 | NA | NA | 0.11 | 2.57 | 2.61 | NA | NA | XXX
76856 | 26 | A | Echo exam of pelvis | 0.69 | 0.24 | 0.27 | 0.24 | 0.27 | 0.03 | 0.96 | 0.99 | 0.96 | 0.99 | XXX
76856 | TC | A | Echo exam of pelvis | 0.00 | 1.53 | 1.54 | NA | NA | 0.08 | 1.61 | 1.62 | NA | NA | XXX
76857 |  | A | Echo exam of pelvis | 0.38 | 1.20 | 1.22 | NA | NA | 0.07 | 1.65 | 1.67 | NA | NA | XXX
76857 | 26 | A | Echo exam of pelvis | 0.38 | 0.13 | 0.14 | 0.13 | 0.14 | 0.02 | 0.53 | 0.54 | 0.53 | 0.54 | XXX
76857 | TC | A | Echo exam of pelvis | 0.00 | 1.07 | 1.08 | NA | NA | 0.05 | 1.12 | 1.13 | NA | NA | XXX
76870 |  | A | Echo exam of scrotum | 0.64 | 1.75 | 1.78 | NA | NA | 0.11 | 2.50 | 2.53 | NA | NA | XXX
76870 | 26 | A | Echo exam of scrotum | 0.64 | 0.22 | 0.24 | 0.22 | 0.24 | 0.03 | 0.89 | 0.91 | 0.89 | 0.91 | XXX
76870 | TC | A | Echo exam of scrotum | 0.00 | 1.53 | 1.54 | NA | NA | 0.08 | 1.61 | 1.62 | NA | NA | XXX
76872 |  | A | Echo exam, transrectal | 0.69 | 1.76 | 1.80 | NA | NA | 0.11 | 2.56 | 2.60 | NA | NA | XXX
76872 | 26 | A | Echo exam, transrectal | 0.69 | 0.23 | 0.26 | 0.23 | 0.26 | 0.03 | 0.95 | 0.98 | 0.95 | 0.98 | XXX
76872 | TC | A | Echo exam, transrectal | 0.00 | 1.53 | 1.54 | NA | NA | 0.08 | 1.61 | 1.62 | NA | NA | XXX
76873 |  | A | Echograp trans r, pros study | 1.38 | 2.53 | 2.54 | NA | NA | 0.20 | 4.11 | 4.12 | NA | NA | XXX
76873 | 26 | A | Echograp trans r, pros study | 1.38 | 0.47 | 0.47 | 0.47 | 0.47 | 0.07 | 1.92 | 1.92 | 1.92 | 1.92 | XXX
76873 | TC | A | Echograp trans r, pros study | 0.00 | 2.06 | 2.07 | NA | NA | 0.13 | 2.19 | 2.20 | NA | NA | XXX
76880 |  | A | Echo exam of extremity | 0.59 | 1.65 | 1.68 | NA | NA | 0.09 | 2.33 | 2.36 | NA | NA | XXX
76880 | 26 | A | Echo exam of extremity | 0.59 | 0.21 | 0.23 | 0.21 | 0.23 | 0.02 | 0.82 | 0.84 | 0.82 | 0.84 | XXX
76880 | TC | A | Echo exam of extremity | 0.00 | 1.44 | 1.45 | NA | NA | 0.07 | 1.51 | 1.52 | NA | NA | XXX
76885 |  | A | Echo exam, infant hips | 0.74 | 1.79 | 1.82 | NA | NA | 0.11 | 2.64 | 2.67 | NA | NA | XXX
76885 | 26 | A | Echo exam, infant hips | 0.74 | 0.26 | 0.28 | 0.26 | 0.28 | 0.03 | 1.03 | 1.05 | 1.03 | 1.05 | XXX
76885 | TC | A | Echo exam, infant hips | 0.00 | 1.53 | 1.54 | NA | NA | 0.08 | 1.61 | 1.62 | NA | NA | XXX
76886 |  | A | Echo exam, infant hips | 0.62 | 1.66 | 1.69 | NA | NA | 0.09 | 2.37 | 2.40 | NA | NA | XXX
76886 | 26 | A | Echo exam, infant hips | 0.62 | 0.22 | 0.24 | 0.22 | 0.24 | 0.02 | 0.86 | 0.88 | 0.86 | 0.88 | XXX
76886 | TC | A | Echo exam, infant hips | 0.00 | 1.44 | 1.45 | NA | NA | 0.07 | 1.51 | 1.52 | NA | NA | XXX
76930 |  | A | Echo guide for heart sac tap | 0.67 | 1.80 | 1.83 | NA | NA | 0.10 | 2.57 | 2.60 | NA | NA | XXX
76930 | 26 | A | Echo guide for heart sac tap | 0.67 | 0.27 | 0.29 | 0.27 | 0.29 | 0.02 | 0.96 | 0.98 | 0.96 | 0.98 | XXX
76930 | TC | A | Echo guide for heart sac tap | 0.00 | 1.53 | 1.54 | NA | NA | 0.08 | 1.61 | 1.62 | NA | NA | XXX
76932 |  | A | Echo guide for heart biopsy | 0.67 | 1.80 | 1.83 | NA | NA | 0.10 | 2.57 | 2.60 | NA | NA | XXX
76932 | 26 | A | Echo guide for heart biopsy | 0.67 | 0.27 | 0.29 | 0.27 | 0.29 | 0.02 | 0.96 | 0.98 | 0.96 | 0.98 | XXX
76932 | TC | A | Echo guide for heart biopsy | 0.00 | 1.53 | 1.54 | NA | NA | 0.08 | 1.61 | 1.62 | NA | NA | XXX
76934 |  | A | Echo guide for chest tap | 0.67 | 1.76 | 1.80 | NA | NA | 0.11 | 2.54 | 2.58 | NA | NA | XXX
76934 | 26 | A | Echo guide for chest tap | 0.67 | 0.23 | 0.26 | 0.23 | 0.26 | 0.03 | 0.93 | 0.96 | 0.93 | 0.96 | XXX
76934 | TC | A | Echo guide for chest tap | 0.00 | 1.53 | 1.54 | NA | NA | 0.08 | 1.61 | 1.62 | NA | NA | XXX
76936 |  | A | Echo guide for artery repair | 1.99 | 7.07 | 7.27 | NA | NA | 0.40 | 9.46 | 9.66 | NA | NA | XXX
76936 | 26 | A | Echo guide for artery repair | 1.99 | 0.71 | 0.87 | 0.71 | 0.87 | 0.11 | 2.81 | 2.97 | 2.81 | 2.97 | XXX
76936 | TC | A | Echo guide for artery repair | 0.00 | 6.36 | 6.40 | NA | NA | 0.29 | 6.65 | 6.69 | NA | NA | XXX
76938 |  | A | Echo exam for drainage | 0.67 | 1.76 | 1.80 | NA | NA | 0.11 | 2.54 | 2.58 | NA | NA | XXX
76938 | 26 | A | Echo exam for drainage | 0.67 | 0.23 | 0.26 | 0.23 | 0.26 | 0.03 | 0.93 | 0.96 | 0.93 | 0.96 | XXX
76938 | TC | A | Echo exam for drainage | 0.00 | 1.53 | 1.54 | NA | NA | 0.08 | 1.61 | 1.62 | NA | NA | XXX
76941 |  | A | Echo guide for transfusion | 1.34 | 2.07 | 2.11 | NA | NA | 0.12 | 3.53 | 3.57 | NA | NA | XXX
76941 | 26 | A | Echo guide for transfusion | 1.34 | 0.53 | 0.56 | 0.53 | 0.56 | 0.05 | 1.92 | 1.95 | 1.92 | 1.95 | XXX
76941 | TC | A | Echo guide for transfusion | 0.00 | 1.54 | 1.55 | NA | NA | 0.07 | 1.61 | 1.62 | NA | NA | XXX
76942 |  | A | Echo guide for biopsy | 0.67 | 1.76 | 1.80 | NA | NA | 0.11 | 2.54 | 2.58 | NA | NA | XXX
76942 | 26 | A | Echo guide for biopsy | 0.67 | 0.23 | 0.26 | 0.23 | 0.26 | 0.03 | 0.93 | 0.96 | 0.93 | 0.96 | XXX
76942 | TC | A | Echo guide for biopsy | 0.00 | 1.53 | 1.54 | NA | NA | 0.08 | 1.61 | 1.62 | NA | NA | XXX
76945 |  | A | Echo guide, villus sampling | 0.67 | 1.77 | 1.89 | NA | NA | 0.10 | 2.54 | 2.66 | NA | NA | XXX
76945 | 26 | A | Echo guide, villus sampling | 0.67 | 0.23 | 0.34 | 0.23 | 0.34 | 0.03 | 0.93 | 1.04 | 0.93 | 1.04 | XXX
76945 | TC | A | Echo guide, villus sampling | 0.00 | 1.54 | 1.55 | NA | NA | 0.07 | 1.61 | 1.62 | NA | NA | XXX
76946 |  | A | Echo guide for amniocentesis | 0.38 | 1.67 | 1.69 | NA | NA | 0.09 | 2.14 | 2.16 | NA | NA | XXX
76946 | 26 | A | Echo guide for amniocentesis | 0.38 | 0.14 | 0.15 | 0.14 | 0.15 | 0.01 | 0.53 | 0.54 | 0.53 | 0.54 | XXX
76946 | TC | A | Echo guide for amniocentesis | 0.00 | 1.53 | 1.54 | NA | NA | 0.08 | 1.61 | 1.62 | NA | NA | XXX
76948 |  | A | Echo guide, ova aspiration | 0.38 | 1.66 | 1.68 | NA | NA | 0.10 | 2.14 | 2.16 | NA | NA | XXX
76948 | 26 | A | Echo guide, ova aspiration | 0.38 | 0.13 | 0.14 | 0.13 | 0.14 | 0.02 | 0.53 | 0.54 | 0.53 | 0.54 | XXX
76948 | TC | A | Echo guide, ova aspiration | 0.00 | 1.53 | 1.54 | NA | NA | 0.08 | 1.61 | 1.62 | NA | NA | XXX
76950 |  | A | Echo guidance radiotherapy | 0.58 | 1.52 | 1.55 | NA | NA | 0.09 | 2.19 | 2.22 | NA | NA | XXX
76950 | 26 | A | Echo guidance radiotherapy | 0.58 | 0.20 | 0.22 | 0.20 | 0.22 | 0.03 | 0.81 | 0.83 | 0.81 | 0.83 | XXX
76950 | TC | A | Echo guidance radiotherapy | 0.00 | 1.32 | 1.33 | NA | NA | 0.06 | 1.38 | 1.39 | NA | NA | XXX
76960 |  | A | Echo guidance radiotherapy | 0.58 | 1.52 | 1.55 | NA | NA | 0.09 | 2.19 | 2.22 | NA | NA | XXX
76960 | 26 | A | Echo guidance radiotherapy | 0.58 | 0.20 | 0.22 | 0.20 | 0.22 | 0.03 | 0.81 | 0.83 | 0.81 | 0.83 | XXX
76960 | TC | A | Echo guidance radiotherapy | 0.00 | 1.32 | 1.33 | NA | NA | 0.06 | 1.38 | 1.39 | NA | NA | XXX
76965 |  | A | Echo guidance radiotherapy | 1.34 | 6.08 | 6.40 | NA | NA | 0.32 | 7.74 | 8.06 | NA | NA | XXX
76965 | 26 | A | Echo guidance radiotherapy | 1.34 | 0.45 | 0.74 | 0.45 | 0.74 | 0.07 | 1.86 | 2.15 | 1.86 | 2.15 | XXX
76965 | TC | A | Echo guidance radiotherapy | 0.00 | 5.63 | 5.66 | NA | NA | 0.25 | 5.88 | 5.91 | NA | NA | XXX
76970 |  | A | Ultrasound exam follow-up | 0.40 | 1.21 | 1.24 | NA | NA | 0.07 | 1.68 | 1.71 | NA | NA | XXX
76970 | 26 | A | Ultrasound exam follow-up | 0.40 | 0.14 | 0.16 | 0.14 | 0.16 | 0.02 | 0.56 | 0.58 | 0.56 | 0.58 | XXX
76970 | TC | A | Ultrasound exam follow-up | 0.00 | 1.07 | 1.08 | NA | NA | 0.05 | 1.12 | 1.13 | NA | NA | XXX
76975 |  | A | GI endoscopic ultrasound | 0.81 | 1.81 | 1.84 | NA | NA | 0.11 | 2.73 | 2.76 | NA | NA | XXX
76975 | 26 | A | GI endoscopic ultrasound | 0.81 | 0.28 | 0.30 | 0.28 | 0.30 | 0.03 | 1.12 | 1.14 | 1.12 | 1.14 | XXX
76975 | TC | A | GI endoscopic ultrasound | 0.00 | 1.53 | 1.54 | NA | NA | 0.08 | 1.61 | 1.62 | NA | NA | XXX
76977 |  | A | Us bone density measure | 0.05 | 0.86 | 0.87 | NA | NA | 0.05 | 0.96 | 0.97 | NA | NA | XXX
76977 | 26 | A | Us bone density measure | 0.05 | 0.02 | 0.02 | 0.02 | 0.02 | 0.01 | 0.08 | 0.08 | 0.08 | 0.08 | XXX
76977 | TC | A | Us bone density measure | 0.00 | 0.84 | 0.85 | NA | NA | 0.04 | 0.88 | 0.89 | NA | NA | XXX
76986 |  | A | Echo exam at surgery | 1.20 | 3.08 | 3.14 | NA | NA | 0.18 | 4.46 | 4.52 | NA | NA | XXX
76986 | 26 | A | Echo exam at surgery | 1.20 | 0.43 | 0.47 | 0.43 | 0.47 | 0.06 | 1.69 | 1.73 | 1.69 | 1.73 | XXX
76986 | TC | A | Echo exam at surgery | 0.00 | 2.65 | 2.67 | NA | NA | 0.12 | 2.77 | 2.79 | NA | NA | XXX
76999 |  | C | Echo examination procedure | 0.00 | 0.00 | 0.00 | NA | NA | 0.00 | 0.00 | 0.00 | NA | NA | XXX
76999 | 26 | C | Echo examination procedure | 0.00 | 0.00 | 0.00 | 0.00 | 0.00 | 0.00 | 0.00 | 0.00 | 0.00 | 0.00 | XXX
76999 | TC | C | Echo examination procedure | 0.00 | 0.00 | 0.00 | NA | NA | 0.00 | 0.00 | 0.00 | NA | NA | XXX
77261 |  | A | Radiation therapy planning | 1.39 | 0.55 | 0.58 | 0.55 | 0.58 | 0.05 | 1.99 | 2.02 | 1.99 | 2.02 | XXX
77262 |  | A | Radiation therapy planning | 2.11 | 0.81 | 0.86 | 0.81 | 0.86 | 0.08 | 3.00 | 3.05 | 3.00 | 3.05 | XXX
77263 |  | A | Radiation therapy planning | 3.14 | 1.20 | 1.28 | 1.20 | 1.28 | 0.12 | 4.46 | 4.54 | 4.46 | 4.54 | XXX
77280 |  | A | Set radiation therapy field | 0.70 | 3.75 | 3.80 | NA | NA | 0.18 | 4.63 | 4.68 | NA | NA | XXX
77280 | 26 | A | Set radiation therapy field | 0.70 | 0.24 | 0.27 | 0.24 | 0.27 | 0.03 | 0.97 | 1.00 | 0.97 | 1.00 | XXX
77280 | TC | A | Set radiation therapy field | 0.00 | 3.51 | 3.53 | NA | NA | 0.15 | 3.66 | 3.68 | NA | NA | XXX
77285 |  | A | Set radiation therapy field | 1.05 | 5.99 | 6.06 | NA | NA | 0.30 | 7.34 | 7.41 | NA | NA | XXX
77285 | 26 | A | Set radiation therapy field | 1.05 | 0.36 | 0.40 | 0.36 | 0.40 | 0.04 | 1.45 | 1.49 | 1.45 | 1.49 | XXX
77285 | TC | A | Set radiation therapy field | 0.00 | 5.63 | 5.66 | NA | NA | 0.26 | 5.89 | 5.92 | NA | NA | XXX
77290 |  | A | Set radiation therapy field | 1.56 | 7.12 | 7.22 | NA | NA | 0.36 | 9.04 | 9.14 | NA | NA | XXX
77290 | 26 | A | Set radiation therapy field | 1.56 | 0.54 | 0.60 | 0.54 | 0.60 | 0.06 | 2.16 | 2.22 | 2.16 | 2.22 | XXX
77290 | TC | A | Set radiation therapy field | 0.00 | 6.58 | 6.62 | NA | NA | 0.30 | 6.88 | 6.92 | NA | NA | XXX
77295 |  | A | Set radiation therapy field | 4.57 | 29.82 | 30.15 | NA | NA | 1.44 | 35.83 | 36.16 | NA | NA | XXX
77295 | 26 | A | Set radiation therapy field | 4.57 | 1.58 | 1.75 | 1.58 | 1.75 | 0.17 | 6.32 | 6.49 | 6.32 | 6.49 | XXX
77295 | TC | A | Set radiation therapy field | 0.00 | 28.24 | 28.40 | NA | NA | 1.27 | 29.51 | 29.67 | NA | NA | XXX
77299 |  | C | Radiation therapy planning | 0.00 | 0.00 | 0.00 | NA | NA | 0.00 | 0.00 | 0.00 | NA | NA | XXX
77299 | 26 | C | Radiation therapy planning | 0.00 | 0.00 | 0.00 | 0.00 | 0.00 | 0.00 | 0.00 | 0.00 | 0.00 | 0.00 | XXX
77299 | TC | C | Radiation therapy planning | 0.00 | 0.00 | 0.00 | NA | NA | 0.00 | 0.00 | 0.00 | NA | NA | XXX
77300 |  | A | Radiation therapy dose plan | 0.62 | 1.57 | 1.60 | NA | NA | 0.08 | 2.27 | 2.30 | NA | NA | XXX
77300 | 26 | A | Radiation therapy dose plan | 0.62 | 0.21 | 0.23 | 0.21 | 0.23 | 0.02 | 0.85 | 0.87 | 0.85 | 0.87 | XXX
77300 | TC | A | Radiation therapy dose plan | 0.00 | 1.36 | 1.37 | NA | NA | 0.06 | 1.42 | 1.43 | NA | NA | XXX
77305 |  | A | Radiation therapy dose plan | 0.70 | 2.12 | 2.16 | NA | NA | 0.12 | 2.94 | 2.98 | NA | NA | XXX
77305 | 26 | A | Radiation therapy dose plan | 0.70 | 0.24 | 0.27 | 0.24 | 0.27 | 0.03 | 0.97 | 1.00 | 0.97 | 1.00 | XXX
77305 | TC | A | Radiation therapy dose plan | 0.00 | 1.88 | 1.89 | NA | NA | 0.09 | 1.97 | 1.98 | NA | NA | XXX
77310 |  | A | Radiation therapy dose plan | 1.05 | 2.72 | 2.77 | NA | NA | 0.15 | 3.92 | 3.97 | NA | NA | XXX
77310 | 26 | A | Radiation therapy dose plan | 1.05 | 0.36 | 0.40 | 0.36 | 0.40 | 0.04 | 1.45 | 1.49 | 1.45 | 1.49 | XXX
77310 | TC | A | Radiation therapy dose plan | 0.00 | 2.36 | 2.37 | NA | NA | 0.11 | 2.47 | 2.48 | NA | NA | XXX
77315 |  | A | Radiation therapy dose plan | 1.56 | 3.23 | 3.31 | NA | NA | 0.18 | 4.97 | 5.05 | NA | NA | XXX
77315 | 26 | A | Radiation therapy dose plan | 1.56 | 0.54 | 0.60 | 0.54 | 0.60 | 0.06 | 2.16 | 2.22 | 2.16 | 2.22 | XXX
77315 | TC | A | Radiation therapy dose plan | 0.00 | 2.69 | 2.71 | NA | NA | 0.12 | 2.81 | 2.83 | NA | NA | XXX
77321 |  | A | Radiation therapy port plan | 0.95 | 4.42 | 4.48 | NA | NA | 0.22 | 5.59 | 5.65 | NA | NA | XXX
77321 | 26 | A | Radiation therapy port plan | 0.95 | 0.33 | 0.37 | 0.33 | 0.37 | 0.04 | 1.32 | 1.36 | 1.32 | 1.36 | XXX
77321 | TC | A | Radiation therapy port plan | 0.00 | 4.09 | 4.11 | NA | NA | 0.18 | 4.27 | 4.29 | NA | NA | XXX
77326 |  | A | Radiation therapy dose plan | 0.93 | 2.71 | 2.76 | NA | NA | 0.15 | 3.79 | 3.84 | NA | NA | XXX
77326 | 26 | A | Radiation therapy dose plan | 0.93 | 0.32 | 0.36 | 0.32 | 0.36 | 0.04 | 1.29 | 1.33 | 1.29 | 1.33 | XXX
77326 | TC | A | Radiation therapy dose plan | 0.00 | 2.39 | 2.40 | NA | NA | 0.11 | 2.50 | 2.51 | NA | NA | XXX
77327 |  | A | Radiation therapy dose plan | 1.39 | 3.99 | 4.06 | NA | NA | 0.21 | 5.59 | 5.66 | NA | NA | XXX
77327 | 26 | A | Radiation therapy dose plan | 1.39 | 0.48 | 0.53 | 0.48 | 0.53 | 0.06 | 1.93 | 1.98 | 1.93 | 1.98 | XXX
77327 | TC | A | Radiation therapy dose plan | 0.00 | 3.51 | 3.53 | NA | NA | 0.15 | 3.66 | 3.68 | NA | NA | XXX
77328 |  | A | Radiation therapy dose plan | 2.09 | 5.73 | 5.83 | NA | NA | 0.30 | 8.12 | 8.22 | NA | NA | XXX
77328 | 26 | A | Radiation therapy dose plan | 2.09 | 0.72 | 0.79 | 0.72 | 0.79 | 0.08 | 2.89 | 2.96 | 2.89 | 2.96 | XXX
77328 | TC | A | Radiation therapy dose plan | 0.00 | 5.01 | 5.04 | NA | NA | 0.22 | 5.23 | 5.26 | NA | NA | XXX
77331 |  | A | Special radiation dosimetry | 0.87 | 0.81 | 0.84 | NA | NA | 0.05 | 1.73 | 1.76 | NA | NA | XXX
77331 | 26 | A | Special radiation dosimetry | 0.87 | 0.30 | 0.33 | 0.30 | 0.33 | 0.03 | 1.20 | 1.23 | 1.20 | 1.23 | XXX
77331 | TC | A | Special radiation dosimetry | 0.00 | 0.51 | 0.51 | NA | NA | 0.02 | 0.53 | 0.53 | NA | NA | XXX
77332 |  | A | Radiation treatment aid(s) | 0.54 | 1.55 | 1.58 | NA | NA | 0.08 | 2.17 | 2.20 | NA | NA | XXX
77332 | 26 | A | Radiation treatment aid(s) | 0.54 | 0.19 | 0.21 | 0.19 | 0.21 | 0.02 | 0.75 | 0.77 | 0.75 | 0.77 | XXX
77332 | TC | A | Radiation treatment aid(s) | 0.00 | 1.36 | 1.37 | NA | NA | 0.06 | 1.42 | 1.43 | NA | NA | XXX
77333 |  | A | Radiation treatment aid(s) | 0.84 | 2.21 | 2.25 | NA | NA | 0.12 | 3.17 | 3.21 | NA | NA | XXX
77333 | 26 | A | Radiation treatment aid(s) | 0.84 | 0.29 | 0.32 | 0.29 | 0.32 | 0.03 | 1.16 | 1.19 | 1.16 | 1.19 | XXX
77333 | TC | A | Radiation treatment aid(s) | 0.00 | 1.92 | 1.93 | NA | NA | 0.09 | 2.01 | 2.02 | NA | NA | XXX
77334 |  | A | Radiation treatment aid(s) | 1.24 | 3.71 | 3.77 | NA | NA | 0.19 | 5.14 | 5.20 | NA | NA | XXX
77334 | 26 | A | Radiation treatment aid(s) | 1.24 | 0.43 | 0.47 | 0.43 | 0.47 | 0.05 | 1.72 | 1.76 | 1.72 | 1.76 | XXX
77334 | TC | A | Radiation treatment aid(s) | 0.00 | 3.28 | 3.30 | NA | NA | 0.14 | 3.42 | 3.44 | NA | NA | XXX
77336 |  | A | Radiation physics consult | 0.00 | 3.01 | 3.03 | NA | NA | 0.13 | 3.14 | 3.16 | NA | NA | XXX
77370 |  | A | Radiation physics consult | 0.00 | 3.53 | 3.55 | NA | NA | 0.15 | 3.68 | 3.70 | NA | NA | XXX
77380 |  | D | Proton beam delivery | 0.00 | 0.00 | 0.00 | NA | NA | 0.00 | 0.00 | 0.00 | NA | NA | XXX
77380 | 26 | D | Proton beam delivery | 0.00 | 0.00 | 0.00 | 0.00 | 0.00 | 0.00 | 0.00 | 0.00 | 0.00 | 0.00 | XXX
77380 | TC | D | Proton beam delivery | 0.00 | 0.00 | 0.00 | NA | NA | 0.00 | 0.00 | 0.00 | NA | NA | XXX
77381 |  | D | Proton beam treatment | 0.00 | 0.00 | 0.00 | NA | NA | 0.00 | 0.00 | 0.00 | NA | NA | XXX
77381 | 26 | D | Proton beam treatment | 0.00 | 0.00 | 0.00 | 0.00 | 0.00 | 0.00 | 0.00 | 0.00 | 0.00 | 0.00 | XXX
77381 | TC | D | Proton beam treatment | 0.00 | 0.00 | 0.00 | NA | NA | 0.00 | 0.00 | 0.00 | NA | NA | XXX
77399 |  | C | External radiation dosimetry | 0.00 | 0.00 | 0.00 | NA | NA | 0.00 | 0.00 | 0.00 | NA | NA | XXX
77399 | 26 | C | External radiation dosimetry | 0.00 | 0.00 | 0.00 | 0.00 | 0.00 | 0.00 | 0.00 | 0.00 | 0.00 | 0.00 | XXX
77399 | TC | C | External radiation dosimetry | 0.00 | 0.00 | 0.00 | NA | NA | 0.00 | 0.00 | 0.00 | NA | NA | XXX
77401 |  | A | Radiation treatment delivery | 0.00 | 1.79 | 1.80 | NA | NA | 0.09 | 1.88 | 1.89 | NA | NA | XXX
77402 |  | A | Radiation treatment delivery | 0.00 | 1.79 | 1.80 | NA | NA | 0.09 | 1.88 | 1.89 | NA | NA | XXX
77403 |  | A | Radiation treatment delivery | 0.00 | 1.79 | 1.80 | NA | NA | 0.09 | 1.88 | 1.89 | NA | NA | XXX
77404 |  | A | Radiation treatment delivery | 0.00 | 1.79 | 1.80 | NA | NA | 0.09 | 1.88 | 1.89 | NA | NA | XXX
77406 |  | A | Radiation treatment delivery | 0.00 | 1.79 | 1.80 | NA | NA | 0.09 | 1.88 | 1.89 | NA | NA | XXX
77407 |  | A | Radiation treatment delivery | 0.00 | 2.11 | 2.12 | NA | NA | 0.10 | 2.21 | 2.22 | NA | NA | XXX
77408 |  | A | Radiation treatment delivery | 0.00 | 2.11 | 2.12 | NA | NA | 0.10 | 2.21 | 2.22 | NA | NA | XXX
77409 |  | A | Radiation treatment delivery | 0.00 | 2.11 | 2.12 | NA | NA | 0.10 | 2.21 | 2.22 | NA | NA | XXX
77411 |  | A | Radiation treatment delivery | 0.00 | 2.11 | 2.12 | NA | NA | 0.10 | 2.21 | 2.22 | NA | NA | XXX
77412 |  | A | Radiation treatment delivery | 0.00 | 2.36 | 2.37 | NA | NA | 0.11 | 2.47 | 2.48 | NA | NA | XXX
77413 |  | A | Radiation treatment delivery | 0.00 | 2.36 | 2.37 | NA | NA | 0.11 | 2.47 | 2.48 | NA | NA | XXX
77414 |  | A | Radiation treatment delivery | 0.00 | 2.36 | 2.37 | NA | NA | 0.11 | 2.47 | 2.48 | NA | NA | XXX
77416 |  | A | Radiation treatment delivery | 0.00 | 2.36 | 2.37 | NA | NA | 0.11 | 2.47 | 2.48 | NA | NA | XXX
77417 |  | A | Radiology port film(s) | 0.00 | 0.60 | 0.60 | NA | NA | 0.03 | 0.63 | 0.63 | NA | NA | XXX
77419 |  | D | Weekly radiation therapy | 3.60 | 1.43 | 1.51 | 1.43 | 1.51 | 0.13 | 5.16 | 5.24 | 5.16 | 5.24 | XXX
77420 |  | D | Weekly radiation therapy | 1.61 | 0.64 | 0.68 | 0.64 | 0.68 | 0.06 | 2.31 | 2.35 | 2.31 | 2.35 | XXX
77425 |  | D | Weekly radiation therapy | 2.44 | 0.97 | 1.03 | 0.97 | 1.03 | 0.10 | 3.51 | 3.57 | 3.51 | 3.57 | XXX
77427 |  | A | Radiation tx management, x5 | 3.31 | 1.14 | 1.14 | 1.14 | 1.14 | 0.11 | 4.56 | 4.56 | 4.56 | 4.56 | XXX
77430 |  | D | Weekly radiation therapy | 3.60 | 1.43 | 1.51 | 1.43 | 1.51 | 0.13 | 5.16 | 5.24 | 5.16 | 5.24 | XXX
77431 |  | A | Radiation therapy management | 1.81 | 0.73 | 0.77 | 0.73 | 0.77 | 0.07 | 2.61 | 2.65 | 2.61 | 2.65 | XXX
77432 |  | A | Stereotactic radiation trmt | 7.93 | 3.10 | 3.67 | 3.10 | 3.67 | 0.31 | 11.34 | 11.91 | 11.34 | 11.91 | XXX
77470 |  | A | Special radiation treatment | 2.09 | 11.99 | 12.13 | NA | NA | 0.58 | 14.66 | 14.80 | NA | NA | XXX
77470 | 26 | A | Special radiation treatment | 2.09 | 0.72 | 0.79 | 0.72 | 0.79 | 0.08 | 2.89 | 2.96 | 2.89 | 2.96 | XXX
77470 | TC | A | Special radiation treatment | 0.00 | 11.27 | 11.34 | NA | NA | 0.50 | 11.77 | 11.84 | NA | NA | XXX
77499 |  | C | Radiation therapy management | 0.00 | 0.00 | 0.00 | NA | NA | 0.00 | 0.00 | 0.00 | NA | NA | XXX
77499 | 26 | C | Radiation therapy management | 0.00 | 0.00 | 0.00 | 0.00 | 0.00 | 0.00 | 0.00 | 0.00 | 0.00 | 0.00 | XXX
77499 | TC | C | Radiation therapy management | 0.00 | 0.00 | 0.00 | NA | NA | 0.00 | 0.00 | 0.00 | NA | NA | XXX
77520 |  | C | Proton beam delivery | 0.00 | 0.00 | 0.00 | NA | NA | 0.00 | 0.00 | 0.00 | NA | NA | XXX
77523 |  | C | Proton beam delivery | 0.00 | 0.00 | 0.00 | NA | NA | 0.00 | 0.00 | 0.00 | NA | NA | XXX
77600 |  | R | Hyperthermia treatment | 1.56 | 3.62 | 3.70 | NA | NA | 0.19 | 5.37 | 5.45 | NA | NA | XXX
77600 | 26 | R | Hyperthermia treatment | 1.56 | 0.54 | 0.60 | 0.54 | 0.60 | 0.06 | 2.16 | 2.22 | 2.16 | 2.22 | XXX
77600 | TC | R | Hyperthermia treatment | 0.00 | 3.08 | 3.10 | NA | NA | 0.13 | 3.21 | 3.23 | NA | NA | XXX
77605 |  | R | Hyperthermia treatment | 2.09 | 4.85 | 4.94 | NA | NA | 0.28 | 7.22 | 7.31 | NA | NA | XXX
77605 | 26 | R | Hyperthermia treatment | 2.09 | 0.74 | 0.81 | 0.74 | 0.81 | 0.09 | 2.92 | 2.99 | 2.92 | 2.99 | XXX
77605 | TC | R | Hyperthermia treatment | 0.00 | 4.11 | 4.13 | NA | NA | 0.19 | 4.30 | 4.32 | NA | NA | XXX
77610 |  | R | Hyperthermia treatment | 1.56 | 3.62 | 3.70 | NA | NA | 0.19 | 5.37 | 5.45 | NA | NA | XXX
77610 | 26 | R | Hyperthermia treatment | 1.56 | 0.54 | 0.60 | 0.54 | 0.60 | 0.06 | 2.16 | 2.22 | 2.16 | 2.22 | XXX
77610 | TC | R | Hyperthermia treatment | 0.00 | 3.08 | 3.10 | NA | NA | 0.13 | 3.21 | 3.23 | NA | NA | XXX
77615 |  | R | Hyperthermia treatment | 2.09 | 4.83 | 4.92 | NA | NA | 0.27 | 7.19 | 7.28 | NA | NA | XXX
77615 | 26 | R | Hyperthermia treatment | 2.09 | 0.72 | 0.79 | 0.72 | 0.79 | 0.08 | 2.89 | 2.96 | 2.89 | 2.96 | XXX
77615 | TC | R | Hyperthermia treatment | 0.00 | 4.11 | 4.13 | NA | NA | 0.19 | 4.30 | 4.32 | NA | NA | XXX
77620 |  | R | Hyperthermia treatment | 1.56 | 3.70 | 3.76 | NA | NA | 0.19 | 5.45 | 5.51 | NA | NA | XXX
77620 | 26 | R | Hyperthermia treatment | 1.56 | 0.62 | 0.66 | 0.62 | 0.66 | 0.06 | 2.24 | 2.28 | 2.24 | 2.28 | XXX
77620 | TC | R | Hyperthermia treatment | 0.00 | 3.08 | 3.10 | NA | NA | 0.13 | 3.21 | 3.23 | NA | NA | XXX
77750 |  | A | Infuse radioactive materials | 4.91 | 3.05 | 3.19 | NA | NA | 0.24 | 8.20 | 8.34 | NA | NA | 090
77750 | 26 | A | Infuse radioactive materials | 4.91 | 1.70 | 1.83 | 1.70 | 1.83 | 0.18 | 6.79 | 6.92 | 6.79 | 6.92 | 090
77750 | TC | A | Infuse radioactive materials | 0.00 | 1.35 | 1.36 | NA | NA | 0.06 | 1.41 | 1.42 | NA | NA | 090
77761 |  | A | Radioelement application | 3.81 | 3.68 | 3.85 | NA | NA | 0.28 | 7.77 | 7.94 | NA | NA | 090
77761 | 26 | A | Radioelement application | 3.81 | 1.15 | 1.30 | 1.15 | 1.30 | 0.16 | 5.12 | 5.27 | 5.12 | 5.27 | 090
77761 | TC | A | Radioelement application | 0.00 | 2.53 | 2.55 | NA | NA | 0.12 | 2.65 | 2.67 | NA | NA | 090
77762 |  | A | Radioelement application | 5.72 | 5.66 | 5.83 | NA | NA | 0.40 | 11.78 | 11.95 | NA | NA | 090
77762 | 26 | A | Radioelement application | 5.72 | 2.01 | 2.16 | 2.01 | 2.16 | 0.24 | 7.97 | 8.12 | 7.97 | 8.12 | 090
77762 | TC | A | Radioelement application | 0.00 | 3.65 | 3.67 | NA | NA | 0.16 | 3.81 | 3.83 | NA | NA | 090
77763 |  | A | Radioelement application | 8.57 | 7.50 | 7.76 | NA | NA | 0.55 | 16.62 | 16.88 | NA | NA | 090
77763 | 26 | A | Radioelement application | 8.57 | 2.96 | 3.19 | 2.96 | 3.19 | 0.35 | 11.88 | 12.11 | 11.88 | 12.11 | 090
77763 | TC | A | Radioelement application | 0.00 | 4.54 | 4.57 | NA | NA | 0.20 | 4.74 | 4.77 | NA | NA | 090
77776 |  | A | Radioelement application | 4.66 | 3.16 | 3.50 | NA | NA | 0.31 | 8.13 | 8.47 | NA | NA | XXX
77776 | 26 | A | Radioelement application | 4.66 | 0.96 | 1.29 | 0.96 | 1.29 | 0.20 | 5.82 | 6.15 | 5.82 | 6.15 | XXX
77776 | TC | A | Radioelement application | 0.00 | 2.20 | 2.21 | NA | NA | 0.11 | 2.31 | 2.32 | NA | NA | XXX
77777 |  | A | Radioelement application | 7.48 | 6.85 | 7.09 | NA | NA | 0.50 | 14.83 | 15.07 | NA | NA | 090
77777 | 26 | A | Radioelement application | 7.48 | 2.57 | 2.78 | 2.57 | 2.78 | 0.31 | 10.36 | 10.57 | 10.36 | 10.57 | 090
77777 | TC | A | Radioelement application | 0.00 | 4.28 | 4.31 | NA | NA | 0.19 | 4.47 | 4.50 | NA | NA | 090
77778 |  | A | Radioelement application | 11.19 | 9.04 | 9.38 | NA | NA | 0.67 | 20.90 | 21.24 | NA | NA | 090
77778 | 26 | A | Radioelement application | 11.19 | 3.85 | 4.16 | 3.85 | 4.16 | 0.44 | 15.48 | 15.79 | 15.48 | 15.79 | 090
77778 | TC | A | Radioelement application | 0.00 | 5.19 | 5.22 | NA | NA | 0.23 | 5.42 | 5.45 | NA | NA | 090
77781 |  | A | High intensity brachytherapy | 1.66 | 21.10 | 21.27 | NA | NA | 0.98 | 23.74 | 23.91 | NA | NA | 090
77781 | 26 | A | High intensity brachytherapy | 1.66 | 0.57 | 0.62 | 0.57 | 0.62 | 0.07 | 2.30 | 2.35 | 2.30 | 2.35 | 090
77781 | TC | A | High intensity brachytherapy | 0.00 | 20.53 | 20.65 | NA | NA | 0.91 | 21.44 | 21.56 | NA | NA | 090
77782 |  | A | High intensity brachytherapy | 2.49 | 21.39 | 21.58 | NA | NA | 1.01 | 24.89 | 25.08 | NA | NA | 090
77782 | 26 | A | High intensity brachytherapy | 2.49 | 0.86 | 0.93 | 0.86 | 0.93 | 0.10 | 3.45 | 3.52 | 3.45 | 3.52 | 090
77782 | TC | A | High intensity brachytherapy | 0.00 | 20.53 | 20.65 | NA | NA | 0.91 | 21.44 | 21.56 | NA | NA | 090
77783 |  | A | High intensity brachytherapy | 3.73 | 21.81 | 22.03 | NA | NA | 1.05 | 26.59 | 26.81 | NA | NA | 090
77783 | 26 | A | High intensity brachytherapy | 3.73 | 1.28 | 1.38 | 1.28 | 1.38 | 0.14 | 5.15 | 5.25 | 5.15 | 5.25 | 090
77783 | TC | A | High intensity brachytherapy | 0.00 | 20.53 | 20.65 | NA | NA | 0.91 | 21.44 | 21.56 | NA | NA | 090
77784 |  | A | High intensity brachytherapy | 5.61 | 22.46 | 22.73 | NA | NA | 1.12 | 29.19 | 29.46 | NA | NA | 090
77784 | 26 | A | High intensity brachytherapy | 5.61 | 1.93 | 2.08 | 1.93 | 2.08 | 0.21 | 7.75 | 7.90 | 7.75 | 7.90 | 090
77784 | TC | A | High intensity brachytherapy | 0.00 | 20.53 | 20.65 | NA | NA | 0.91 | 21.44 | 21.56 | NA | NA | 090
77789 |  | A | Radioelement application | 1.12 | 0.86 | 0.89 | NA | NA | 0.06 | 2.04 | 2.07 | NA | NA | 090
77789 | 26 | A | Radioelement application | 1.12 | 0.40 | 0.43 | 0.40 | 0.43 | 0.04 | 1.56 | 1.59 | 1.56 | 1.59 | 090
77789 | TC | A | Radioelement application | 0.00 | 0.46 | 0.46 | NA | NA | 0.02 | 0.48 | 0.48 | NA | NA | 090
77790 |  | A | Radioelement handling | 1.05 | 0.87 | 0.91 | NA | NA | 0.06 | 1.98 | 2.02 | NA | NA | XXX
77790 | 26 | A | Radioelement handling | 1.05 | 0.36 | 0.40 | 0.36 | 0.40 | 0.04 | 1.45 | 1.49 | 1.45 | 1.49 | XXX
77790 | TC | A | Radioelement handling | 0.00 | 0.51 | 0.51 | NA | NA | 0.02 | 0.53 | 0.53 | NA | NA | XXX
77799 |  | C | Radium/radioisotope therapy | 0.00 | 0.00 | 0.00 | NA | NA | 0.00 | 0.00 | 0.00 | NA | NA | XXX
77799 | 26 | C | Radium/radioisotope therapy | 0.00 | 0.00 | 0.00 | 0.00 | 0.00 | 0.00 | 0.00 | 0.00 | 0.00 | 0.00 | XXX
77799 | TC | C | Radium/radioisotope therapy | 0.00 | 0.00 | 0.00 | NA | NA | 0.00 | 0.00 | 0.00 | NA | NA | XXX
78000 |  | A | Thyroid, single uptake | 0.19 | 1.05 | 1.07 | NA | NA | 0.06 | 1.30 | 1.32 | NA | NA | XXX
78000 | 26 | A | Thyroid, single uptake | 0.19 | 0.07 | 0.08 | 0.07 | 0.08 | 0.01 | 0.27 | 0.28 | 0.27 | 0.28 | XXX
78000 | TC | A | Thyroid, single uptake | 0.00 | 0.98 | 0.99 | NA | NA | 0.05 | 1.03 | 1.04 | NA | NA | XXX
78001 |  | A | Thyroid, multiple uptakes | 0.26 | 1.41 | 1.43 | NA | NA | 0.07 | 1.74 | 1.76 | NA | NA | XXX
78001 | 26 | A | Thyroid, multiple uptakes | 0.26 | 0.09 | 0.10 | 0.09 | 0.10 | 0.01 | 0.36 | 0.37 | 0.36 | 0.37 | XXX
78001 | TC | A | Thyroid, multiple uptakes | 0.00 | 1.32 | 1.33 | NA | NA | 0.06 | 1.38 | 1.39 | NA | NA | XXX
78003 |  | A | Thyroid suppress/stimul | 0.33 | 1.10 | 1.12 | NA | NA | 0.06 | 1.49 | 1.51 | NA | NA | XXX
78003 | 26 | A | Thyroid suppress/stimul | 0.33 | 0.12 | 0.13 | 0.12 | 0.13 | 0.01 | 0.46 | 0.47 | 0.46 | 0.47 | XXX
78003 | TC | A | Thyroid suppress/stimul | 0.00 | 0.98 | 0.99 | NA | NA | 0.05 | 1.03 | 1.04 | NA | NA | XXX
78006 |  | A | Thyroid imaging with uptake | 0.49 | 2.57 | 2.61 | NA | NA | 0.13 | 3.19 | 3.23 | NA | NA | XXX
78006 | 26 | A | Thyroid imaging with uptake | 0.49 | 0.17 | 0.19 | 0.17 | 0.19 | 0.02 | 0.68 | 0.70 | 0.68 | 0.70 | XXX
78006 | TC | A | Thyroid imaging with uptake | 0.00 | 2.40 | 2.42 | NA | NA | 0.11 | 2.51 | 2.53 | NA | NA | XXX
78007 |  | A | Thyroid image, mult uptakes | 0.50 | 2.78 | 2.82 | NA | NA | 0.14 | 3.42 | 3.46 | NA | NA | XXX
78007 | 26 | A | Thyroid image, mult uptakes | 0.50 | 0.18 | 0.20 | 0.18 | 0.20 | 0.02 | 0.70 | 0.72 | 0.70 | 0.72 | XXX
78007 | TC | A | Thyroid image, mult uptakes | 0.00 | 2.60 | 2.62 | NA | NA | 0.12 | 2.72 | 2.74 | NA | NA | XXX
78010 |  | A | Thyroid imaging | 0.39 | 1.98 | 2.00 | NA | NA | 0.11 | 2.48 | 2.50 | NA | NA | XXX
78010 | 26 | A | Thyroid imaging | 0.39 | 0.14 | 0.15 | 0.14 | 0.15 | 0.02 | 0.55 | 0.56 | 0.55 | 0.56 | XXX
78010 | TC | A | Thyroid imaging | 0.00 | 1.84 | 1.85 | NA | NA | 0.09 | 1.93 | 1.94 | NA | NA | XXX
78011 |  | A | Thyroid imaging with flow | 0.45 | 2.59 | 2.63 | NA | NA | 0.13 | 3.17 | 3.21 | NA | NA | XXX
78011 | 26 | A | Thyroid imaging with flow | 0.45 | 0.16 | 0.18 | 0.16 | 0.18 | 0.02 | 0.63 | 0.65 | 0.63 | 0.65 | XXX
78011 | TC | A | Thyroid imaging with flow | 0.00 | 2.43 | 2.45 | NA | NA | 0.11 | 2.54 | 2.56 | NA | NA | XXX
78015 |  | A | Thyroid met imaging | 0.67 | 2.84 | 2.89 | NA | NA | 0.15 | 3.66 | 3.71 | NA | NA | XXX
78015 | 26 | A | Thyroid met imaging | 0.67 | 0.24 | 0.27 | 0.24 | 0.27 | 0.03 | 0.94 | 0.97 | 0.94 | 0.97 | XXX
78015 | TC | A | Thyroid met imaging | 0.00 | 2.60 | 2.62 | NA | NA | 0.12 | 2.72 | 2.74 | NA | NA | XXX
78016 |  | A | Thyroid met imaging/studies | 0.82 | 3.82 | 3.87 | NA | NA | 0.18 | 4.82 | 4.87 | NA | NA | XXX
78016 | 26 | A | Thyroid met imaging/studies | 0.82 | 0.30 | 0.33 | 0.30 | 0.33 | 0.03 | 1.15 | 1.18 | 1.15 | 1.18 | XXX
78016 | TC | A | Thyroid met imaging/studies | 0.00 | 3.52 | 3.54 | NA | NA | 0.15 | 3.67 | 3.69 | NA | NA | XXX
78018 |  | A | Thyroid met imaging, body | 0.86 | 5.79 | 5.86 | NA | NA | 0.28 | 6.93 | 7.00 | NA | NA | XXX
78018 | 26 | A | Thyroid met imaging, body | 0.86 | 0.31 | 0.35 | 0.31 | 0.35 | 0.03 | 1.20 | 1.24 | 1.20 | 1.24 | XXX
78018 | TC | A | Thyroid met imaging, body | 0.00 | 5.48 | 5.51 | NA | NA | 0.25 | 5.73 | 5.76 | NA | NA | XXX
78020 |  | A | Thyroid met uptake | 0.60 | 0.39 | 0.39 | NA | NA | 0.00 | 0.99 | 0.99 | NA | NA | ZZZ
78020 | 26 | A | Thyroid met uptake | 0.60 | 0.24 | 0.24 | 0.24 | 0.24 | 0.00 | 0.84 | 0.84 | 0.84 | 0.84 | ZZZ
78020 | TC | A | Thyroid met uptake | 0.00 | 0.15 | 0.15 | NA | NA | 0.00 | 0.15 | 0.15 | NA | NA | ZZZ
78070 |  | A | Parathyroid nuclear imaging | 0.82 | 2.13 | 2.13 | NA | NA | 0.12 | 3.07 | 3.07 | NA | NA | XXX
78070 | 26 | A | Parathyroid nuclear imaging | 0.82 | 0.29 | 0.28 | 0.29 | 0.28 | 0.03 | 1.14 | 1.13 | 1.14 | 1.13 | XXX
78070 | TC | A | Parathyroid nuclear imaging | 0.00 | 1.84 | 1.85 | NA | NA | 0.09 | 1.93 | 1.94 | NA | NA | XXX
78075 |  | A | Adrenal nuclear imaging | 0.74 | 5.76 | 5.81 | NA | NA | 0.28 | 6.78 | 6.83 | NA | NA | XXX
78075 | 26 | A | Adrenal nuclear imaging | 0.74 | 0.28 | 0.30 | 0.28 | 0.30 | 0.03 | 1.05 | 1.07 | 1.05 | 1.07 | XXX
78075 | TC | A | Adrenal nuclear imaging | 0.00 | 5.48 | 5.51 | NA | NA | 0.25 | 5.73 | 5.76 | NA | NA | XXX
78099 |  | C | Endocrine nuclear procedure | 0.00 | 0.00 | 0.00 | NA | NA | 0.00 | 0.00 | 0.00 | NA | NA | XXX
78099 | 26 | C | Endocrine nuclear procedure | 0.00 | 0.00 | 0.00 | 0.00 | 0.00 | 0.00 | 0.00 | 0.00 | 0.00 | 0.00 | XXX
78099 | TC | C | Endocrine nuclear procedure | 0.00 | 0.00 | 0.00 | NA | NA | 0.00 | 0.00 | 0.00 | NA | NA | XXX
78102 |  | A | Bone marrow imaging, ltd | 0.55 | 2.26 | 2.29 | NA | NA | 0.12 | 2.93 | 2.96 | NA | NA | XXX
78102 | 26 | A | Bone marrow imaging, ltd | 0.55 | 0.20 | 0.22 | 0.20 | 0.22 | 0.02 | 0.77 | 0.79 | 0.77 | 0.79 | XXX
78102 | TC | A | Bone marrow imaging, ltd | 0.00 | 2.06 | 2.07 | NA | NA | 0.10 | 2.16 | 2.17 | NA | NA | XXX
78103 |  | A | Bone marrow imaging, mult | 0.75 | 3.48 | 3.53 | NA | NA | 0.17 | 4.40 | 4.45 | NA | NA | XXX
78103 | 26 | A | Bone marrow imaging, mult | 0.75 | 0.27 | 0.30 | 0.27 | 0.30 | 0.03 | 1.05 | 1.08 | 1.05 | 1.08 | XXX
78103 | TC | A | Bone marrow imaging, mult | 0.00 | 3.21 | 3.23 | NA | NA | 0.14 | 3.35 | 3.37 | NA | NA | XXX
78104 |  | A | Bone marrow imaging, body | 0.80 | 4.41 | 4.46 | NA | NA | 0.22 | 5.43 | 5.48 | NA | NA | XXX
78104 | 26 | A | Bone marrow imaging, body | 0.80 | 0.29 | 0.32 | 0.29 | 0.32 | 0.03 | 1.12 | 1.15 | 1.12 | 1.15 | XXX
78104 | TC | A | Bone marrow imaging, body | 0.00 | 4.12 | 4.14 | NA | NA | 0.19 | 4.31 | 4.33 | NA | NA | XXX
78110 |  | A | Plasma volume, single | 0.19 | 1.03 | 1.05 | NA | NA | 0.06 | 1.28 | 1.30 | NA | NA | XXX
78110 | 26 | A | Plasma volume, single | 0.19 | 0.07 | 0.08 | 0.07 | 0.08 | 0.01 | 0.27 | 0.28 | 0.27 | 0.28 | XXX
78110 | TC | A | Plasma volume, single | 0.00 | 0.96 | 0.97 | NA | NA | 0.05 | 1.01 | 1.02 | NA | NA | XXX
78111 |  | A | Plasma volume, multiple | 0.22 | 2.68 | 2.71 | NA | NA | 0.13 | 3.03 | 3.06 | NA | NA | XXX
78111 | 26 | A | Plasma volume, multiple | 0.22 | 0.08 | 0.09 | 0.08 | 0.09 | 0.01 | 0.31 | 0.32 | 0.31 | 0.32 | XXX
78111 | TC | A | Plasma volume, multiple | 0.00 | 2.60 | 2.62 | NA | NA | 0.12 | 2.72 | 2.74 | NA | NA | XXX
78120 |  | A | Red cell mass, single | 0.23 | 1.83 | 1.85 | NA | NA | 0.10 | 2.16 | 2.18 | NA | NA | XXX
78120 | 26 | A | Red cell mass, single | 0.23 | 0.08 | 0.09 | 0.08 | 0.09 | 0.01 | 0.32 | 0.33 | 0.32 | 0.33 | XXX
78120 | TC | A | Red cell mass, single | 0.00 | 1.75 | 1.76 | NA | NA | 0.09 | 1.84 | 1.85 | NA | NA | XXX
78121 |  | A | Red cell mass, multiple | 0.32 | 3.06 | 3.09 | NA | NA | 0.13 | 3.51 | 3.54 | NA | NA | XXX
78121 | 26 | A | Red cell mass, multiple | 0.32 | 0.12 | 0.13 | 0.12 | 0.13 | 0.01 | 0.45 | 0.46 | 0.45 | 0.46 | XXX
78121 | TC | A | Red cell mass, multiple | 0.00 | 2.94 | 2.96 | NA | NA | 0.12 | 3.06 | 3.08 | NA | NA | XXX
78122 |  | A | Blood volume | 0.45 | 4.81 | 4.86 | NA | NA | 0.23 | 5.49 | 5.54 | NA | NA | XXX
78122 | 26 | A | Blood volume | 0.45 | 0.16 | 0.18 | 0.16 | 0.18 | 0.02 | 0.63 | 0.65 | 0.63 | 0.65 | XXX
78122 | TC | A | Blood volume | 0.00 | 4.65 | 4.68 | NA | NA | 0.21 | 4.86 | 4.89 | NA | NA | XXX
78130 |  | A | Red cell survival study | 0.61 | 3.10 | 3.14 | NA | NA | 0.14 | 3.85 | 3.89 | NA | NA | XXX
78130 | 26 | A | Red cell survival study | 0.61 | 0.22 | 0.24 | 0.22 | 0.24 | 0.02 | 0.85 | 0.87 | 0.85 | 0.87 | XXX
78130 | TC | A | Red cell survival study | 0.00 | 2.88 | 2.90 | NA | NA | 0.12 | 3.00 | 3.02 | NA | NA | XXX
78135 |  | A | Red cell survival kinetics | 0.64 | 5.16 | 5.21 | NA | NA | 0.24 | 6.04 | 6.09 | NA | NA | XXX
78135 | 26 | A | Red cell survival kinetics | 0.64 | 0.23 | 0.25 | 0.23 | 0.25 | 0.02 | 0.89 | 0.91 | 0.89 | 0.91 | XXX
78135 | TC | A | Red cell survival kinetics | 0.00 | 4.93 | 4.96 | NA | NA | 0.22 | 5.15 | 5.18 | NA | NA | XXX
78140 |  | A | Red cell sequestration | 0.61 | 4.19 | 4.23 | NA | NA | 0.20 | 5.00 | 5.04 | NA | NA | XXX
78140 | 26 | A | Red cell sequestration | 0.61 | 0.21 | 0.23 | 0.21 | 0.23 | 0.02 | 0.84 | 0.86 | 0.84 | 0.86 | XXX
78140 | TC | A | Red cell sequestration | 0.00 | 3.98 | 4.00 | NA | NA | 0.18 | 4.16 | 4.18 | NA | NA | XXX
78160 |  | A | Plasma iron turnover | 0.33 | 3.82 | 3.85 | NA | NA | 0.17 | 4.32 | 4.35 | NA | NA | XXX
78160 | 26 | A | Plasma iron turnover | 0.33 | 0.12 | 0.13 | 0.12 | 0.13 | 0.01 | 0.46 | 0.47 | 0.46 | 0.47 | XXX
78160 | TC | A | Plasma iron turnover | 0.00 | 3.70 | 3.72 | NA | NA | 0.16 | 3.86 | 3.88 | NA | NA | XXX
78162 |  | A | Iron absorption exam | 0.45 | 3.42 | 3.45 | NA | NA | 0.15 | 4.02 | 4.05 | NA | NA | XXX
78162 | 26 | A | Iron absorption exam | 0.45 | 0.18 | 0.19 | 0.18 | 0.19 | 0.01 | 0.64 | 0.65 | 0.64 | 0.65 | XXX
78162 | TC | A | Iron absorption exam | 0.00 | 3.24 | 3.26 | NA | NA | 0.14 | 3.38 | 3.40 | NA | NA | XXX
78170 |  | A | Red cell iron utilization | 0.41 | 5.52 | 5.56 | NA | NA | 0.26 | 6.19 | 6.23 | NA | NA | XXX
78170 | 26 | A | Red cell iron utilization | 0.41 | 0.15 | 0.16 | 0.15 | 0.16 | 0.02 | 0.58 | 0.59 | 0.58 | 0.59 | XXX
78170 | TC | A | Red cell iron utilization | 0.00 | 5.37 | 5.40 | NA | NA | 0.24 | 5.61 | 5.64 | NA | NA | XXX
78172 |  | C | Total body iron estimation | 0.00 | 0.00 | 0.00 | NA | NA | 0.00 | 0.00 | 0.00 | NA | NA | XXX
78172 | 26 | A | Total body iron estimation | 0.53 | 0.19 | 0.21 | 0.19 | 0.21 | 0.02 | 0.74 | 0.76 | 0.74 | 0.76 | XXX
78172 | TC | C | Total body iron estimation | 0.00 | 0.00 | 0.00 | NA | NA | 0.00 | 0.00 | 0.00 | NA | NA | XXX
78185 |  | A | Spleen imaging | 0.40 | 2.53 | 2.56 | NA | NA | 0.13 | 3.06 | 3.09 | NA | NA | XXX
78185 | 26 | A | Spleen imaging | 0.40 | 0.14 | 0.16 | 0.14 | 0.16 | 0.02 | 0.56 | 0.58 | 0.56 | 0.58 | XXX
78185 | TC | A | Spleen imaging | 0.00 | 2.39 | 2.40 | NA | NA | 0.11 | 2.50 | 2.51 | NA | NA | XXX
78190 |  | A | Platelet survival, kinetics | 1.09 | 6.21 | 6.26 | NA | NA | 0.30 | 7.60 | 7.65 | NA | NA | XXX
78190 | 26 | A | Platelet survival, kinetics | 1.09 | 0.43 | 0.45 | 0.43 | 0.45 | 0.04 | 1.56 | 1.58 | 1.56 | 1.58 | XXX
78190 | TC | A | Platelet survival, kinetics | 0.00 | 5.78 | 5.81 | NA | NA | 0.26 | 6.04 | 6.07 | NA | NA | XXX
78191 |  | A | Platelet survival | 0.61 | 7.64 | 7.70 | NA | NA | 0.34 | 8.59 | 8.65 | NA | NA | XXX
78191 | 26 | A | Platelet survival | 0.61 | 0.22 | 0.24 | 0.22 | 0.24 | 0.02 | 0.85 | 0.87 | 0.85 | 0.87 | XXX
78191 | TC | A | Platelet survival | 0.00 | 7.42 | 7.46 | NA | NA | 0.32 | 7.74 | 7.78 | NA | NA | XXX
78195 |  | A | Lymph system imaging | 1.20 | 4.55 | 4.55 | NA | NA | 0.24 | 5.99 | 5.99 | NA | NA | XXX
78195 | 26 | A | Lymph system imaging | 1.20 | 0.43 | 0.41 | 0.43 | 0.41 | 0.05 | 1.68 | 1.66 | 1.68 | 1.66 | XXX
78195 | TC | A | Lymph system imaging | 0.00 | 4.12 | 4.14 | NA | NA | 0.19 | 4.31 | 4.33 | NA | NA | XXX
78199 |  | C | Blood/lymph nuclear exam | 0.00 | 0.00 | 0.00 | NA | NA | 0.00 | 0.00 | 0.00 | NA | NA | XXX
78199 | 26 | C | Blood/lymph nuclear exam | 0.00 | 0.00 | 0.00 | 0.00 | 0.00 | 0.00 | 0.00 | 0.00 | 0.00 | 0.00 | XXX
78199 | TC | C | Blood/lymph nuclear exam | 0.00 | 0.00 | 0.00 | NA | NA | 0.00 | 0.00 | 0.00 | NA | NA | XXX
78201 |  | A | Liver imaging | 0.44 | 2.55 | 2.57 | NA | NA | 0.13 | 3.12 | 3.14 | NA | NA | XXX
78201 | 26 | A | Liver imaging | 0.44 | 0.16 | 0.17 | 0.16 | 0.17 | 0.02 | 0.62 | 0.63 | 0.62 | 0.63 | XXX
78201 | TC | A | Liver imaging | 0.00 | 2.39 | 2.40 | NA | NA | 0.11 | 2.50 | 2.51 | NA | NA | XXX
78202 |  | A | Liver imaging with flow | 0.51 | 3.09 | 3.13 | NA | NA | 0.14 | 3.74 | 3.78 | NA | NA | XXX
78202 | 26 | A | Liver imaging with flow | 0.51 | 0.18 | 0.20 | 0.18 | 0.20 | 0.02 | 0.71 | 0.73 | 0.71 | 0.73 | XXX
78202 | TC | A | Liver imaging with flow | 0.00 | 2.91 | 2.93 | NA | NA | 0.12 | 3.03 | 3.05 | NA | NA | XXX
78205 |  | A | Liver imaging (3D) | 0.71 | 6.22 | 6.29 | NA | NA | 0.30 | 7.23 | 7.30 | NA | NA | XXX
78205 | 26 | A | Liver imaging (3D) | 0.71 | 0.25 | 0.28 | 0.25 | 0.28 | 0.03 | 0.99 | 1.02 | 0.99 | 1.02 | XXX
78205 | TC | A | Liver imaging (3D) | 0.00 | 5.97 | 6.01 | NA | NA | 0.27 | 6.24 | 6.28 | NA | NA | XXX
78206 |  | A | Liver image (3d) w/flow | 0.96 | 6.34 | 6.38 | NA | NA | 0.13 | 7.43 | 7.47 | NA | NA | XXX
78206 | 26 | A | Liver image (3d) w/flow | 0.96 | 0.35 | 0.35 | 0.35 | 0.35 | 0.04 | 1.35 | 1.35 | 1.35 | 1.35 | XXX
78206 | TC | A | Liver image (3d) w/flow | 0.00 | 5.99 | 6.03 | NA | NA | 0.09 | 6.08 | 6.12 | NA | NA | XXX
78215 |  | A | Liver and spleen imaging | 0.49 | 3.14 | 3.18 | NA | NA | 0.14 | 3.77 | 3.81 | NA | NA | XXX
78215 | 26 | A | Liver and spleen imaging | 0.49 | 0.17 | 0.19 | 0.17 | 0.19 | 0.02 | 0.68 | 0.70 | 0.68 | 0.70 | XXX
78215 | TC | A | Liver and spleen imaging | 0.00 | 2.97 | 2.99 | NA | NA | 0.12 | 3.09 | 3.11 | NA | NA | XXX
78216 |  | A | Liver & spleen image/flow | 0.57 | 3.72 | 3.76 | NA | NA | 0.17 | 4.46 | 4.50 | NA | NA | XXX
78216 | 26 | A | Liver & spleen image/flow | 0.57 | 0.20 | 0.22 | 0.20 | 0.22 | 0.02 | 0.79 | 0.81 | 0.79 | 0.81 | XXX
78216 | TC | A | Liver & spleen image/flow | 0.00 | 3.52 | 3.54 | NA | NA | 0.15 | 3.67 | 3.69 | NA | NA | XXX
78220 |  | A | Liver function study | 0.49 | 3.93 | 3.97 | NA | NA | 0.18 | 4.60 | 4.64 | NA | NA | XXX
78220 | 26 | A | Liver function study | 0.49 | 0.17 | 0.19 | 0.17 | 0.19 | 0.02 | 0.68 | 0.70 | 0.68 | 0.70 | XXX
78220 | TC | A | Liver function study | 0.00 | 3.76 | 3.78 | NA | NA | 0.16 | 3.92 | 3.94 | NA | NA | XXX
78223 |  | A | Hepatobiliary imaging | 0.84 | 4.00 | 4.05 | NA | NA | 0.19 | 5.03 | 5.08 | NA | NA | XXX
78223 | 26 | A | Hepatobiliary imaging | 0.84 | 0.30 | 0.33 | 0.30 | 0.33 | 0.03 | 1.17 | 1.20 | 1.17 | 1.20 | XXX
78223 | TC | A | Hepatobiliary imaging | 0.00 | 3.70 | 3.72 | NA | NA | 0.16 | 3.86 | 3.88 | NA | NA | XXX
78230 |  | A | Salivary gland imaging | 0.45 | 2.35 | 2.38 | NA | NA | 0.13 | 2.93 | 2.96 | NA | NA | XXX
78230 | 26 | A | Salivary gland imaging | 0.45 | 0.15 | 0.17 | 0.15 | 0.17 | 0.02 | 0.62 | 0.64 | 0.62 | 0.64 | XXX
78230 | TC | A | Salivary gland imaging | 0.00 | 2.20 | 2.21 | NA | NA | 0.11 | 2.31 | 2.32 | NA | NA | XXX
78231 |  | A | Serial salivary imaging | 0.52 | 3.40 | 3.44 | NA | NA | 0.16 | 4.08 | 4.12 | NA | NA | XXX
78231 | 26 | A | Serial salivary imaging | 0.52 | 0.19 | 0.21 | 0.19 | 0.21 | 0.02 | 0.73 | 0.75 | 0.73 | 0.75 | XXX
78231 | TC | A | Serial salivary imaging | 0.00 | 3.21 | 3.23 | NA | NA | 0.14 | 3.35 | 3.37 | NA | NA | XXX
78232 |  | A | Salivary gland function exam | 0.47 | 3.75 | 3.79 | NA | NA | 0.17 | 4.39 | 4.43 | NA | NA | XXX
78232 | 26 | A | Salivary gland function exam | 0.47 | 0.17 | 0.19 | 0.17 | 0.19 | 0.02 | 0.66 | 0.68 | 0.66 | 0.68 | XXX
78232 | TC | A | Salivary gland function exam | 0.00 | 3.58 | 3.60 | NA | NA | 0.15 | 3.73 | 3.75 | NA | NA | XXX
78258 |  | A | Esophageal motility study | 0.74 | 3.17 | 3.22 | NA | NA | 0.15 | 4.06 | 4.11 | NA | NA | XXX
78258 | 26 | A | Esophageal motility study | 0.74 | 0.26 | 0.29 | 0.26 | 0.29 | 0.03 | 1.03 | 1.06 | 1.03 | 1.06 | XXX
78258 | TC | A | Esophageal motility study | 0.00 | 2.91 | 2.93 | NA | NA | 0.12 | 3.03 | 3.05 | NA | NA | XXX
78261 |  | A | Gastric mucosa imaging | 0.69 | 4.40 | 4.45 | NA | NA | 0.22 | 5.31 | 5.36 | NA | NA | XXX
78261 | 26 | A | Gastric mucosa imaging | 0.69 | 0.26 | 0.28 | 0.26 | 0.28 | 0.03 | 0.98 | 1.00 | 0.98 | 1.00 | XXX
78261 | TC | A | Gastric mucosa imaging | 0.00 | 4.14 | 4.17 | NA | NA | 0.19 | 4.33 | 4.36 | NA | NA | XXX
78262 |  | A | Gastroesophageal reflux exam | 0.68 | 4.55 | 4.60 | NA | NA | 0.21 | 5.44 | 5.49 | NA | NA | XXX
78262 | 26 | A | Gastroesophageal reflux exam | 0.68 | 0.25 | 0.27 | 0.25 | 0.27 | 0.02 | 0.95 | 0.97 | 0.95 | 0.97 | XXX
78262 | TC | A | Gastroesophageal reflux exam | 0.00 | 4.30 | 4.33 | NA | NA | 0.19 | 4.49 | 4.52 | NA | NA | XXX
78264 |  | A | Gastric emptying study | 0.78 | 4.45 | 4.51 | NA | NA | 0.22 | 5.45 | 5.51 | NA | NA | XXX
78264 | 26 | A | Gastric emptying study | 0.78 | 0.28 | 0.31 | 0.28 | 0.31 | 0.03 | 1.09 | 1.12 | 1.09 | 1.12 | XXX
78264 | TC | A | Gastric emptying study | 0.00 | 4.17 | 4.20 | NA | NA | 0.19 | 4.36 | 4.39 | NA | NA | XXX
78267 |  | X | Breath tst attain/anal c-14 | 0.00 | 0.00 | 0.00 | 0.00 | 0.00 | 0.00 | 0.00 | 0.00 | 0.00 | 0.00 | XXX
78268 |  | X | Breath test analysis, c-14 | 0.00 | 0.00 | 0.00 | 0.00 | 0.00 | 0.00 | 0.00 | 0.00 | 0.00 | 0.00 | XXX
78270 |  | A | Vit B-12 absorption exam | 0.20 | 1.63 | 1.65 | NA | NA | 0.09 | 1.92 | 1.94 | NA | NA | XXX
78270 | 26 | A | Vit B-12 absorption exam | 0.20 | 0.07 | 0.08 | 0.07 | 0.08 | 0.01 | 0.28 | 0.29 | 0.28 | 0.29 | XXX
78270 | TC | A | Vit B-12 absorption exam | 0.00 | 1.56 | 1.57 | NA | NA | 0.08 | 1.64 | 1.65 | NA | NA | XXX
78271 |  | A | Vit B-12 absorp exam, IF | 0.20 | 1.73 | 1.75 | NA | NA | 0.09 | 2.02 | 2.04 | NA | NA | XXX
78271 | 26 | A | Vit B-12 absorp exam, IF | 0.20 | 0.07 | 0.08 | 0.07 | 0.08 | 0.01 | 0.28 | 0.29 | 0.28 | 0.29 | XXX
78271 | TC | A | Vit B-12 absorp exam, IF | 0.00 | 1.66 | 1.67 | NA | NA | 0.08 | 1.74 | 1.75 | NA | NA | XXX
78272 |  | A | Vit B-12 absorp, combined | 0.27 | 2.45 | 2.47 | NA | NA | 0.12 | 2.84 | 2.86 | NA | NA | XXX
78272 | 26 | A | Vit B-12 absorp, combined | 0.27 | 0.10 | 0.11 | 0.10 | 0.11 | 0.01 | 0.38 | 0.39 | 0.38 | 0.39 | XXX
78272 | TC | A | Vit B-12 absorp, combined | 0.00 | 2.35 | 2.36 | NA | NA | 0.11 | 2.46 | 2.47 | NA | NA | XXX
78278 |  | A | Acute GI blood loss imaging | 0.99 | 5.28 | 5.35 | NA | NA | 0.26 | 6.53 | 6.60 | NA | NA | XXX
78278 | 26 | A | Acute GI blood loss imaging | 0.99 | 0.35 | 0.39 | 0.35 | 0.39 | 0.04 | 1.38 | 1.42 | 1.38 | 1.42 | XXX
78278 | TC | A | Acute GI blood loss imaging | 0.00 | 4.93 | 4.96 | NA | NA | 0.22 | 5.15 | 5.18 | NA | NA | XXX
78282 |  | C | GI protein loss exam | 0.00 | 0.00 | 0.00 | NA | NA | 0.00 | 0.00 | 0.00 | NA | NA | XXX
78282 | 26 | A | GI protein loss exam | 0.38 | 0.14 | 0.15 | 0.14 | 0.15 | 0.01 | 0.53 | 0.54 | 0.53 | 0.54 | XXX
78282 | TC | C | GI protein loss exam | 0.00 | 0.00 | 0.00 | NA | NA | 0.00 | 0.00 | 0.00 | NA | NA | XXX
78290 |  | A | Meckel's divert exam | 0.68 | 3.32 | 3.37 | NA | NA | 0.16 | 4.16 | 4.21 | NA | NA | XXX
78290 | 26 | A | Meckel's divert exam | 0.68 | 0.24 | 0.27 | 0.24 | 0.27 | 0.03 | 0.95 | 0.98 | 0.95 | 0.98 | XXX
78290 | TC | A | Meckel's divert exam | 0.00 | 3.08 | 3.10 | NA | NA | 0.13 | 3.21 | 3.23 | NA | NA | XXX
78291 |  | A | Leveen/shunt patency exam | 0.88 | 3.42 | 3.47 | NA | NA | 0.16 | 4.46 | 4.51 | NA | NA | XXX
78291 | 26 | A | Leveen/shunt patency exam | 0.88 | 0.32 | 0.35 | 0.32 | 0.35 | 0.03 | 1.23 | 1.26 | 1.23 | 1.26 | XXX
78291 | TC | A | Leveen/shunt patency exam | 0.00 | 3.10 | 3.12 | NA | NA | 0.13 | 3.23 | 3.25 | NA | NA | XXX
78299 |  | C | GI nuclear procedure | 0.00 | 0.00 | 0.00 | NA | NA | 0.00 | 0.00 | 0.00 | NA | NA | XXX
78299 | 26 | C | GI nuclear procedure | 0.00 | 0.00 | 0.00 | 0.00 | 0.00 | 0.00 | 0.00 | 0.00 | 0.00 | 0.00 | XXX
78299 | TC | C | GI nuclear procedure | 0.00 | 0.00 | 0.00 | NA | NA | 0.00 | 0.00 | 0.00 | NA | NA | XXX
78300 |  | A | Bone imaging, limited area | 0.62 | 2.73 | 2.77 | NA | NA | 0.14 | 3.49 | 3.53 | NA | NA | XXX
78300 | 26 | A | Bone imaging, limited area | 0.62 | 0.22 | 0.24 | 0.22 | 0.24 | 0.02 | 0.86 | 0.88 | 0.86 | 0.88 | XXX
78300 | TC | A | Bone imaging, limited area | 0.00 | 2.51 | 2.53 | NA | NA | 0.12 | 2.63 | 2.65 | NA | NA | XXX
78305 |  | A | Bone imaging, multiple areas | 0.83 | 3.99 | 4.04 | NA | NA | 0.19 | 5.01 | 5.06 | NA | NA | XXX
78305 | 26 | A | Bone imaging, multiple areas | 0.83 | 0.29 | 0.32 | 0.29 | 0.32 | 0.03 | 1.15 | 1.18 | 1.15 | 1.18 | XXX
78305 | TC | A | Bone imaging, multiple areas | 0.00 | 3.70 | 3.72 | NA | NA | 0.16 | 3.86 | 3.88 | NA | NA | XXX
78306 |  | A | Bone imaging, whole body | 0.86 | 4.62 | 4.68 | NA | NA | 0.22 | 5.70 | 5.76 | NA | NA | XXX
78306 | 26 | A | Bone imaging, whole body | 0.86 | 0.30 | 0.33 | 0.30 | 0.33 | 0.03 | 1.19 | 1.22 | 1.19 | 1.22 | XXX
78306 | TC | A | Bone imaging, whole body | 0.00 | 4.32 | 4.35 | NA | NA | 0.19 | 4.51 | 4.54 | NA | NA | XXX
78315 |  | A | Bone imaging, 3 phase | 1.02 | 5.19 | 5.25 | NA | NA | 0.26 | 6.47 | 6.53 | NA | NA | XXX
78315 | 26 | A | Bone imaging, 3 phase | 1.02 | 0.36 | 0.39 | 0.36 | 0.39 | 0.04 | 1.42 | 1.45 | 1.42 | 1.45 | XXX
78315 | TC | A | Bone imaging, 3 phase | 0.00 | 4.83 | 4.86 | NA | NA | 0.22 | 5.05 | 5.08 | NA | NA | XXX
78320 |  | A | Bone imaging (3D) | 1.04 | 6.35 | 6.42 | NA | NA | 0.31 | 7.70 | 7.77 | NA | NA | XXX
78320 | 26 | A | Bone imaging (3D) | 1.04 | 0.38 | 0.41 | 0.38 | 0.41 | 0.04 | 1.46 | 1.49 | 1.46 | 1.49 | XXX
78320 | TC | A | Bone imaging (3D) | 0.00 | 5.97 | 6.01 | NA | NA | 0.27 | 6.24 | 6.28 | NA | NA | XXX
78350 |  | A | Bone mineral, single photon | 0.22 | 0.84 | 0.86 | NA | NA | 0.05 | 1.11 | 1.13 | NA | NA | XXX
78350 | 26 | A | Bone mineral, single photon | 0.22 | 0.08 | 0.09 | 0.08 | 0.09 | 0.01 | 0.31 | 0.32 | 0.31 | 0.32 | XXX
78350 | TC | A | Bone mineral, single photon | 0.00 | 0.76 | 0.77 | NA | NA | 0.04 | 0.80 | 0.81 | NA | NA | XXX
78351 |  | N | Bone mineral, dual photon | 0.30 | 1.45 | 1.14 | 0.12 | 0.14 | 0.01 | 1.76 | 1.45 | 0.43 | 0.45 | XXX
78399 |  | C | Musculoskeletal nuclear exam | 0.00 | 0.00 | 0.00 | NA | NA | 0.00 | 0.00 | 0.00 | NA | NA | XXX
78399 | 26 | C | Musculoskeletal nuclear exam | 0.00 | 0.00 | 0.00 | 0.00 | 0.00 | 0.00 | 0.00 | 0.00 | 0.00 | 0.00 | XXX
78399 | TC | C | Musculoskeletal nuclear exam | 0.00 | 0.00 | 0.00 | NA | NA | 0.00 | 0.00 | 0.00 | NA | NA | XXX
78414 |  | C | Non-imaging heart function | 0.00 | 0.00 | 0.18 | NA | NA | 0.00 | 0.00 | 0.18 | NA | NA | XXX
78414 | 26 | A | Non-imaging heart function | 0.45 | 0.17 | 0.18 | 0.17 | 0.18 | 0.02 | 0.64 | 0.65 | 0.64 | 0.65 | XXX
78414 | TC | C | Non-imaging heart function | 0.00 | 0.00 | 0.00 | NA | NA | 0.00 | 0.00 | 0.00 | NA | NA | XXX
78428 |  | A | Cardiac shunt imaging | 0.78 | 2.59 | 2.62 | NA | NA | 0.14 | 3.51 | 3.54 | NA | NA | XXX
78428 | 26 | A | Cardiac shunt imaging | 0.78 | 0.31 | 0.33 | 0.31 | 0.33 | 0.03 | 1.12 | 1.14 | 1.12 | 1.14 | XXX
78428 | TC | A | Cardiac shunt imaging | 0.00 | 2.28 | 2.29 | NA | NA | 0.11 | 2.39 | 2.40 | NA | NA | XXX
78445 |  | A | Vascular flow imaging | 0.49 | 2.06 | 2.09 | NA | NA | 0.11 | 2.66 | 2.69 | NA | NA | XXX
78445 | 26 | A | Vascular flow imaging | 0.49 | 0.18 | 0.20 | 0.18 | 0.20 | 0.02 | 0.69 | 0.71 | 0.69 | 0.71 | XXX
78445 | TC | A | Vascular flow imaging | 0.00 | 1.88 | 1.89 | NA | NA | 0.09 | 1.97 | 1.98 | NA | NA | XXX
78455 |  | A | Venous thrombosis study | 0.73 | 4.29 | 4.34 | NA | NA | 0.21 | 5.23 | 5.28 | NA | NA | XXX
78455 | 26 | A | Venous thrombosis study | 0.73 | 0.26 | 0.29 | 0.26 | 0.29 | 0.03 | 1.02 | 1.05 | 1.02 | 1.05 | XXX
78455 | TC | A | Venous thrombosis study | 0.00 | 4.03 | 4.05 | NA | NA | 0.18 | 4.21 | 4.23 | NA | NA | XXX
78456 |  | A | Acute venous thrombus image | 0.01 | 4.28 | 4.30 | NA | NA | 0.30 | 4.59 | 4.61 | NA | NA | XXX
78456 | 26 | A | Acute venous thrombus image | 0.01 | 0.37 | 0.37 | 0.37 | 0.37 | 0.05 | 0.43 | 0.43 | 0.43 | 0.43 | XXX
78456 | TC | A | Acute venous thrombus image | 0.00 | 3.91 | 3.93 | NA | NA | 0.25 | 4.16 | 4.18 | NA | NA | XXX
78457 |  | A | Venous thrombosis imaging | 0.77 | 2.96 | 3.01 | NA | NA | 0.15 | 3.88 | 3.93 | NA | NA | XXX
78457 | 26 | A | Venous thrombosis imaging | 0.77 | 0.27 | 0.30 | 0.27 | 0.30 | 0.03 | 1.07 | 1.10 | 1.07 | 1.10 | XXX
78457 | TC | A | Venous thrombosis imaging | 0.00 | 2.69 | 2.71 | NA | NA | 0.12 | 2.81 | 2.83 | NA | NA | XXX
78458 |  | A | Ven thrombosis images, bilat | 0.90 | 4.41 | 4.45 | NA | NA | 0.21 | 5.52 | 5.56 | NA | NA | XXX
78458 | 26 | A | Ven thrombosis images, bilat | 0.90 | 0.34 | 0.36 | 0.34 | 0.36 | 0.03 | 1.27 | 1.29 | 1.27 | 1.29 | XXX
78458 | TC | A | Ven thrombosis images, bilat | 0.00 | 4.07 | 4.09 | NA | NA | 0.18 | 4.25 | 4.27 | NA | NA | XXX
78459 |  | I | Heart muscle imaging (PET) | 0.00 | 0.00 | 0.00 | NA | NA | 0.00 | 0.00 | 0.00 | NA | NA | XXX
78459 | 26 | I | Heart muscle imaging (PET) | 1.88 | 0.75 | 0.93 | 0.75 | 0.93 | 0.07 | 2.70 | 2.88 | 2.70 | 2.88 | XXX
78459 | TC | I | Heart muscle imaging (PET) | 0.00 | 0.00 | 0.00 | NA | NA | 0.00 | 0.00 | 0.00 | NA | NA | XXX
78460 |  | A | Heart muscle blood, single | 0.86 | 2.70 | 2.74 | NA | NA | 0.14 | 3.70 | 3.74 | NA | NA | XXX
78460 | 26 | A | Heart muscle blood, single | 0.86 | 0.31 | 0.34 | 0.31 | 0.34 | 0.03 | 1.20 | 1.23 | 1.20 | 1.23 | XXX
78460 | TC | A | Heart muscle blood, single | 0.00 | 2.39 | 2.40 | NA | NA | 0.11 | 2.50 | 2.51 | NA | NA | XXX
78461 |  | A | Heart muscle blood, multiple | 1.23 | 5.23 | 5.29 | NA | NA | 0.26 | 6.72 | 6.78 | NA | NA | XXX
78461 | 26 | A | Heart muscle blood, multiple | 1.23 | 0.46 | 0.49 | 0.46 | 0.49 | 0.04 | 1.73 | 1.76 | 1.73 | 1.76 | XXX
78461 | TC | A | Heart muscle blood, multiple | 0.00 | 4.77 | 4.80 | NA | NA | 0.22 | 4.99 | 5.02 | NA | NA | XXX
78464 |  | A | Heart image (3d), single | 1.09 | 7.55 | 7.62 | NA | NA | 0.36 | 9.00 | 9.07 | NA | NA | XXX
78464 | 26 | A | Heart image (3d), single | 1.09 | 0.40 | 0.43 | 0.40 | 0.43 | 0.04 | 1.53 | 1.56 | 1.53 | 1.56 | XXX
78464 | TC | A | Heart image (3d), single | 0.00 | 7.15 | 7.19 | NA | NA | 0.32 | 7.47 | 7.51 | NA | NA | XXX
78465 |  | A | Heart image (3d), multiple | 1.46 | 12.49 | 12.60 | NA | NA | 0.58 | 14.53 | 14.64 | NA | NA | XXX
78465 | 26 | A | Heart image (3d), multiple | 1.46 | 0.56 | 0.60 | 0.56 | 0.60 | 0.05 | 2.07 | 2.11 | 2.07 | 2.11 | XXX
78465 | TC | A | Heart image (3d), multiple | 0.00 | 11.93 | 12.00 | NA | NA | 0.53 | 12.46 | 12.53 | NA | NA | XXX
78466 |  | A | Heart infarct image | 0.69 | 2.91 | 2.95 | NA | NA | 0.15 | 3.75 | 3.79 | NA | NA | XXX
78466 | 26 | A | Heart infarct image | 0.69 | 0.26 | 0.28 | 0.26 | 0.28 | 0.03 | 0.98 | 1.00 | 0.98 | 1.00 | XXX
78466 | TC | A | Heart infarct image | 0.00 | 2.65 | 2.67 | NA | NA | 0.12 | 2.77 | 2.79 | NA | NA | XXX
78468 |  | A | Heart infarct image (ef) | 0.80 | 3.99 | 4.04 | NA | NA | 0.19 | 4.98 | 5.03 | NA | NA | XXX
78468 | 26 | A | Heart infarct image (ef) | 0.80 | 0.29 | 0.32 | 0.29 | 0.32 | 0.03 | 1.12 | 1.15 | 1.12 | 1.15 | XXX
78468 | TC | A | Heart infarct image (ef) | 0.00 | 3.70 | 3.72 | NA | NA | 0.16 | 3.86 | 3.88 | NA | NA | XXX
78469 |  | A | Heart infarct image (3D) | 0.92 | 5.60 | 5.66 | NA | NA | 0.27 | 6.79 | 6.85 | NA | NA | XXX
78469 | 26 | A | Heart infarct image (3D) | 0.92 | 0.32 | 0.35 | 0.32 | 0.35 | 0.03 | 1.27 | 1.30 | 1.27 | 1.30 | XXX
78469 | TC | A | Heart infarct image (3D) | 0.00 | 5.28 | 5.31 | NA | NA | 0.24 | 5.52 | 5.55 | NA | NA | XXX
78472 |  | A | Gated heart, planar, single | 0.98 | 5.93 | 5.99 | NA | NA | 0.30 | 7.21 | 7.27 | NA | NA | XXX
78472 | 26 | A | Gated heart, planar, single | 0.98 | 0.36 | 0.39 | 0.36 | 0.39 | 0.04 | 1.38 | 1.41 | 1.38 | 1.41 | XXX
78472 | TC | A | Gated heart, planar, single | 0.00 | 5.57 | 5.60 | NA | NA | 0.26 | 5.83 | 5.86 | NA | NA | XXX
78473 |  | A | Gated heart, multiple | 1.47 | 8.89 | 8.98 | NA | NA | 0.41 | 10.77 | 10.86 | NA | NA | XXX
78473 | 26 | A | Gated heart, multiple | 1.47 | 0.54 | 0.58 | 0.54 | 0.58 | 0.05 | 2.06 | 2.10 | 2.06 | 2.10 | XXX
78473 | TC | A | Gated heart, multiple | 0.00 | 8.35 | 8.40 | NA | NA | 0.36 | 8.71 | 8.76 | NA | NA | XXX
78478 |  | A | Heart wall motion add-on | 0.62 | 1.81 | 1.84 | NA | NA | 0.10 | 2.53 | 2.56 | NA | NA | ZZZ
78478 | 26 | A | Heart wall motion add-on | 0.62 | 0.24 | 0.26 | 0.24 | 0.26 | 0.02 | 0.88 | 0.90 | 0.88 | 0.90 | ZZZ
78478 | TC | A | Heart wall motion add-on | 0.00 | 1.57 | 1.58 | NA | NA | 0.08 | 1.65 | 1.66 | NA | NA | ZZZ
78480 |  | A | Heart function add-on | 0.62 | 1.81 | 1.84 | NA | NA | 0.10 | 2.53 | 2.56 | NA | NA | ZZZ
78480 | 26 | A | Heart function add-on | 0.62 | 0.24 | 0.26 | 0.24 | 0.26 | 0.02 | 0.88 | 0.90 | 0.88 | 0.90 | ZZZ
78480 | TC | A | Heart function add-on | 0.00 | 1.57 | 1.58 | NA | NA | 0.08 | 1.65 | 1.66 | NA | NA | ZZZ
78481 |  | A | Heart first pass, single | 0.98 | 5.66 | 5.72 | NA | NA | 0.27 | 6.91 | 6.97 | NA | NA | XXX
78481 | 26 | A | Heart first pass, single | 0.98 | 0.38 | 0.41 | 0.38 | 0.41 | 0.03 | 1.39 | 1.42 | 1.39 | 1.42 | XXX
78481 | TC | A | Heart first pass, single | 0.00 | 5.28 | 5.31 | NA | NA | 0.24 | 5.52 | 5.55 | NA | NA | XXX
78483 |  | A | Heart first pass, multiple | 1.47 | 8.53 | 8.62 | NA | NA | 0.40 | 10.40 | 10.49 | NA | NA | XXX
78483 | 26 | A | Heart first pass, multiple | 1.47 | 0.57 | 0.61 | 0.57 | 0.61 | 0.05 | 2.09 | 2.13 | 2.09 | 2.13 | XXX
78483 | TC | A | Heart first pass, multiple | 0.00 | 7.96 | 8.01 | NA | NA | 0.35 | 8.31 | 8.36 | NA | NA | XXX
78491 |  | I | Heart image (pet), single | 0.00 | 0.00 | 0.00 | NA | NA | 0.00 | 0.00 | 0.00 | NA | NA | XXX
78491 | 26 | I | Heart image (pet), single | 1.50 | 0.59 | 0.81 | 0.59 | 0.81 | 0.05 | 2.14 | 2.36 | 2.14 | 2.36 | XXX
78491 | TC | I | Heart image (pet), single | 0.00 | 0.00 | 0.00 | NA | NA | 0.00 | 0.00 | 0.00 | NA | NA | XXX
78492 |  | I | Heart image (pet), multiple | 0.00 | 0.00 | 0.00 | NA | NA | 0.00 | 0.00 | 0.00 | NA | NA | XXX
78492 | 26 | I | Heart image (pet), multiple | 1.87 | 0.74 | 0.92 | 0.74 | 0.92 | 0.07 | 2.68 | 2.86 | 2.68 | 2.86 | XXX
78492 | TC | I | Heart image (pet), multiple | 0.00 | 0.00 | 0.00 | NA | NA | 0.00 | 0.00 | 0.00 | NA | NA | XXX
78494 |  | A | Heart image, spect | 1.19 | 6.02 | 6.05 | NA | NA | 0.30 | 7.51 | 7.54 | NA | NA | XXX
78494 | 26 | A | Heart image, spect | 1.19 | 0.44 | 0.44 | 0.44 | 0.44 | 0.04 | 1.67 | 1.67 | 1.67 | 1.67 | XXX
78494 | TC | A | Heart image, spect | 0.00 | 5.58 | 5.61 | NA | NA | 0.26 | 5.84 | 5.87 | NA | NA | XXX
78496 |  | A | Heart first pass add-on | 0.50 | 1.77 | 1.78 | NA | NA | 0.28 | 2.55 | 2.56 | NA | NA | ZZZ
78496 | 26 | A | Heart first pass add-on | 0.50 | 0.20 | 0.20 | 0.20 | 0.20 | 0.02 | 0.72 | 0.72 | 0.72 | 0.72 | ZZZ
78496 | TC | A | Heart first pass add-on | 0.00 | 1.57 | 1.58 | NA | NA | 0.26 | 1.83 | 1.84 | NA | NA | ZZZ
78499 |  | C | Cardiovascular nuclear exam | 0.00 | 0.00 | 0.00 | NA | NA | 0.00 | 0.00 | 0.00 | NA | NA | XXX
78499 | 26 | C | Cardiovascular nuclear exam | 0.00 | 0.00 | 0.00 | 0.00 | 0.00 | 0.00 | 0.00 | 0.00 | 0.00 | 0.00 | XXX
78499 | TC | C | Cardiovascular nuclear exam | 0.00 | 0.00 | 0.00 | NA | NA | 0.00 | 0.00 | 0.00 | NA | NA | XXX
78580 |  | A | Lung perfusion imaging | 0.74 | 3.73 | 3.78 | NA | NA | 0.18 | 4.65 | 4.70 | NA | NA | XXX
78580 | 26 | A | Lung perfusion imaging | 0.74 | 0.26 | 0.29 | 0.26 | 0.29 | 0.03 | 1.03 | 1.06 | 1.03 | 1.06 | XXX
78580 | TC | A | Lung perfusion imaging | 0.00 | 3.47 | 3.49 | NA | NA | 0.15 | 3.62 | 3.64 | NA | NA | XXX
78584 |  | A | Lung V/Q image single breath | 0.99 | 3.59 | 3.65 | NA | NA | 0.18 | 4.76 | 4.82 | NA | NA | XXX
78584 | 26 | A | Lung V/Q image single breath | 0.99 | 0.35 | 0.39 | 0.35 | 0.39 | 0.04 | 1.38 | 1.42 | 1.38 | 1.42 | XXX
78584 | TC | A | Lung V/Q image single breath | 0.00 | 3.24 | 3.26 | NA | NA | 0.14 | 3.38 | 3.40 | NA | NA | XXX
78585 |  | A | Lung V/Q imaging | 1.09 | 6.08 | 6.15 | NA | NA | 0.30 | 7.47 | 7.54 | NA | NA | XXX
78585 | 26 | A | Lung V/Q imaging | 1.09 | 0.38 | 0.42 | 0.38 | 0.42 | 0.04 | 1.51 | 1.55 | 1.51 | 1.55 | XXX
78585 | TC | A | Lung V/Q imaging | 0.00 | 5.70 | 5.73 | NA | NA | 0.26 | 5.96 | 5.99 | NA | NA | XXX
78586 |  | A | Aerosol lung image, single | 0.40 | 2.76 | 2.80 | NA | NA | 0.14 | 3.30 | 3.34 | NA | NA | XXX
78586 | 26 | A | Aerosol lung image, single | 0.40 | 0.14 | 0.16 | 0.14 | 0.16 | 0.02 | 0.56 | 0.58 | 0.56 | 0.58 | XXX
78586 | TC | A | Aerosol lung image, single | 0.00 | 2.62 | 2.64 | NA | NA | 0.12 | 2.74 | 2.76 | NA | NA | XXX
78587 |  | A | Aerosol lung image, multiple | 0.49 | 3.00 | 3.04 | NA | NA | 0.14 | 3.63 | 3.67 | NA | NA | XXX
78587 | 26 | A | Aerosol lung image, multiple | 0.49 | 0.17 | 0.19 | 0.17 | 0.19 | 0.02 | 0.68 | 0.70 | 0.68 | 0.70 | XXX
78587 | TC | A | Aerosol lung image, multiple | 0.00 | 2.83 | 2.85 | NA | NA | 0.12 | 2.95 | 2.97 | NA | NA | XXX
78588 |  | A | Perfusion lung image | 1.09 | 3.87 | 3.89 | NA | NA | 0.19 | 5.15 | 5.17 | NA | NA | XXX
78588 | 26 | A | Perfusion lung image | 1.09 | 0.39 | 0.39 | 0.39 | 0.39 | 0.04 | 1.52 | 1.52 | 1.52 | 1.52 | XXX
78588 | TC | A | Perfusion lung image | 0.00 | 3.48 | 3.50 | NA | NA | 0.15 | 3.63 | 3.65 | NA | NA | XXX
78591 |  | A | Vent image, 1 breath, 1 proj | 0.40 | 3.02 | 3.06 | NA | NA | 0.14 | 3.56 | 3.60 | NA | NA | XXX
78591 | 26 | A | Vent image, 1 breath, 1 proj | 0.40 | 0.14 | 0.16 | 0.14 | 0.16 | 0.02 | 0.56 | 0.58 | 0.56 | 0.58 | XXX
78591 | TC | A | Vent image, 1 breath, 1 proj | 0.00 | 2.88 | 2.90 | NA | NA | 0.12 | 3.00 | 3.02 | NA | NA | XXX
78593 |  | A | Vent image, 1 proj, gas | 0.49 | 3.66 | 3.70 | NA | NA | 0.17 | 4.32 | 4.36 | NA | NA | XXX
78593 | 26 | A | Vent image, 1 proj, gas | 0.49 | 0.17 | 0.19 | 0.17 | 0.19 | 0.02 | 0.68 | 0.70 | 0.68 | 0.70 | XXX
78593 | TC | A | Vent image, 1 proj, gas | 0.00 | 3.49 | 3.51 | NA | NA | 0.15 | 3.64 | 3.66 | NA | NA | XXX
78594 |  | A | Vent image, mult proj, gas | 0.53 | 5.22 | 5.27 | NA | NA | 0.24 | 5.99 | 6.04 | NA | NA | XXX
78594 | 26 | A | Vent image, mult proj, gas | 0.53 | 0.19 | 0.21 | 0.19 | 0.21 | 0.02 | 0.74 | 0.76 | 0.74 | 0.76 | XXX
78594 | TC | A | Vent image, mult proj, gas | 0.00 | 5.03 | 5.06 | NA | NA | 0.22 | 5.25 | 5.28 | NA | NA | XXX
78596 |  | A | Lung differential function | 1.27 | 7.60 | 7.68 | NA | NA | 0.37 | 9.24 | 9.32 | NA | NA | XXX
78596 | 26 | A | Lung differential function | 1.27 | 0.45 | 0.49 | 0.45 | 0.49 | 0.05 | 1.77 | 1.81 | 1.77 | 1.81 | XXX
78596 | TC | A | Lung differential function | 0.00 | 7.15 | 7.19 | NA | NA | 0.32 | 7.47 | 7.51 | NA | NA | XXX
78599 |  | C | Respiratory nuclear exam | 0.00 | 0.00 | 0.00 | NA | NA | 0.00 | 0.00 | 0.00 | NA | NA | XXX
78599 | 26 | C | Respiratory nuclear exam | 0.00 | 0.00 | 0.00 | 0.00 | 0.00 | 0.00 | 0.00 | 0.00 | 0.00 | 0.00 | XXX
78599 | TC | C | Respiratory nuclear exam | 0.00 | 0.00 | 0.00 | NA | NA | 0.00 | 0.00 | 0.00 | NA | NA | XXX
78600 |  | A | Brain imaging, ltd static | 0.44 | 3.07 | 3.11 | NA | NA | 0.14 | 3.65 | 3.69 | NA | NA | XXX
78600 | 26 | A | Brain imaging, ltd static | 0.44 | 0.16 | 0.18 | 0.16 | 0.18 | 0.02 | 0.62 | 0.64 | 0.62 | 0.64 | XXX
78600 | TC | A | Brain imaging, ltd static | 0.00 | 2.91 | 2.93 | NA | NA | 0.12 | 3.03 | 3.05 | NA | NA | XXX
78601 |  | A | Brain imaging, ltd w/ flow | 0.51 | 3.62 | 3.66 | NA | NA | 0.17 | 4.30 | 4.34 | NA | NA | XXX
78601 | 26 | A | Brain imaging, ltd w/ flow | 0.51 | 0.18 | 0.20 | 0.18 | 0.20 | 0.02 | 0.71 | 0.73 | 0.71 | 0.73 | XXX
78601 | TC | A | Brain imaging, ltd w/ flow | 0.00 | 3.44 | 3.46 | NA | NA | 0.15 | 3.59 | 3.61 | NA | NA | XXX
78605 |  | A | Brain imaging, complete | 0.53 | 3.63 | 3.67 | NA | NA | 0.17 | 4.33 | 4.37 | NA | NA | XXX
78605 | 26 | A | Brain imaging, complete | 0.53 | 0.19 | 0.21 | 0.19 | 0.21 | 0.02 | 0.74 | 0.76 | 0.74 | 0.76 | XXX
78605 | TC | A | Brain imaging, complete | 0.00 | 3.44 | 3.46 | NA | NA | 0.15 | 3.59 | 3.61 | NA | NA | XXX
78606 |  | A | Brain imaging, compl w/flow | 0.64 | 4.14 | 4.18 | NA | NA | 0.19 | 4.97 | 5.01 | NA | NA | XXX
78606 | 26 | A | Brain imaging, compl w/flow | 0.64 | 0.23 | 0.25 | 0.23 | 0.25 | 0.02 | 0.89 | 0.91 | 0.89 | 0.91 | XXX
78606 | TC | A | Brain imaging, compl w/flow | 0.00 | 3.91 | 3.93 | NA | NA | 0.17 | 4.08 | 4.10 | NA | NA | XXX
78607 |  | A | Brain imaging (3D) | 1.23 | 7.08 | 7.16 | NA | NA | 0.35 | 8.66 | 8.74 | NA | NA | XXX
78607 | 26 | A | Brain imaging (3D) | 1.23 | 0.45 | 0.49 | 0.45 | 0.49 | 0.05 | 1.73 | 1.77 | 1.73 | 1.77 | XXX
78607 | TC | A | Brain imaging (3D) | 0.00 | 6.63 | 6.67 | NA | NA | 0.30 | 6.93 | 6.97 | NA | NA | XXX
78608 |  | N | Brain imaging (PET) | 0.00 | 0.00 | 0.00 | 0.00 | 0.00 | 0.00 | 0.00 | 0.00 | 0.00 | 0.00 | XXX
78609 |  | N | Brain imaging (PET) | 0.00 | 0.00 | 0.00 | 0.00 | 0.00 | 0.00 | 0.00 | 0.00 | 0.00 | 0.00 | XXX
78610 |  | A | Brain flow imaging only | 0.30 | 1.70 | 1.72 | NA | NA | 0.09 | 2.09 | 2.11 | NA | NA | XXX
78610 | 26 | A | Brain flow imaging only | 0.30 | 0.11 | 0.12 | 0.11 | 0.12 | 0.01 | 0.42 | 0.43 | 0.42 | 0.43 | XXX
78610 | TC | A | Brain flow imaging only | 0.00 | 1.59 | 1.60 | NA | NA | 0.08 | 1.67 | 1.68 | NA | NA | XXX
78615 |  | A | Cerebral blood flow imaging | 0.42 | 4.05 | 4.08 | NA | NA | 0.19 | 4.66 | 4.69 | NA | NA | XXX
78615 | 26 | A | Cerebral blood flow imaging | 0.42 | 0.16 | 0.17 | 0.16 | 0.17 | 0.02 | 0.60 | 0.61 | 0.60 | 0.61 | XXX
78615 | TC | A | Cerebral blood flow imaging | 0.00 | 3.89 | 3.91 | NA | NA | 0.17 | 4.06 | 4.08 | NA | NA | XXX
78630 |  | A | Cerebrospinal fluid scan | 0.68 | 5.33 | 5.39 | NA | NA | 0.26 | 6.27 | 6.33 | NA | NA | XXX
78630 | 26 | A | Cerebrospinal fluid scan | 0.68 | 0.24 | 0.27 | 0.24 | 0.27 | 0.03 | 0.95 | 0.98 | 0.95 | 0.98 | XXX
78630 | TC | A | Cerebrospinal fluid scan | 0.00 | 5.09 | 5.12 | NA | NA | 0.23 | 5.32 | 5.35 | NA | NA | XXX
78635 |  | A | CSF ventriculography | 0.61 | 2.83 | 2.86 | NA | NA | 0.14 | 3.58 | 3.61 | NA | NA | XXX
78635 | 26 | A | CSF ventriculography | 0.61 | 0.26 | 0.27 | 0.26 | 0.27 | 0.02 | 0.89 | 0.90 | 0.89 | 0.90 | XXX
78635 | TC | A | CSF ventriculography | 0.00 | 2.57 | 2.59 | NA | NA | 0.12 | 2.69 | 2.71 | NA | NA | XXX
78645 |  | A | CSF shunt evaluation | 0.57 | 3.68 | 3.72 | NA | NA | 0.17 | 4.42 | 4.46 | NA | NA | XXX
78645 | 26 | A | CSF shunt evaluation | 0.57 | 0.21 | 0.23 | 0.21 | 0.23 | 0.02 | 0.80 | 0.82 | 0.80 | 0.82 | XXX
78645 | TC | A | CSF shunt evaluation | 0.00 | 3.47 | 3.49 | NA | NA | 0.15 | 3.62 | 3.64 | NA | NA | XXX
78647 |  | A | Cerebrospinal fluid scan | 0.90 | 6.30 | 6.37 | NA | NA | 0.30 | 7.50 | 7.57 | NA | NA | XXX
78647 | 26 | A | Cerebrospinal fluid scan | 0.90 | 0.33 | 0.36 | 0.33 | 0.36 | 0.03 | 1.26 | 1.29 | 1.26 | 1.29 | XXX
78647 | TC | A | Cerebrospinal fluid scan | 0.00 | 5.97 | 6.01 | NA | NA | 0.27 | 6.24 | 6.28 | NA | NA | XXX
78650 |  | A | CSF leakage imaging | 0.61 | 4.91 | 4.96 | NA | NA | 0.23 | 5.75 | 5.80 | NA | NA | XXX
78650 | 26 | A | CSF leakage imaging | 0.61 | 0.22 | 0.24 | 0.22 | 0.24 | 0.02 | 0.85 | 0.87 | 0.85 | 0.87 | XXX
78650 | TC | A | CSF leakage imaging | 0.00 | 4.69 | 4.72 | NA | NA | 0.21 | 4.90 | 4.93 | NA | NA | XXX
78660 |  | A | Nuclear exam of tear flow | 0.53 | 2.33 | 2.36 | NA | NA | 0.12 | 2.98 | 3.01 | NA | NA | XXX
78660 | 26 | A | Nuclear exam of tear flow | 0.53 | 0.19 | 0.21 | 0.19 | 0.21 | 0.02 | 0.74 | 0.76 | 0.74 | 0.76 | XXX
78660 | TC | A | Nuclear exam of tear flow | 0.00 | 2.14 | 2.15 | NA | NA | 0.10 | 2.24 | 2.25 | NA | NA | XXX
78699 |  | C | Nervous system nuclear exam | 0.00 | 0.00 | 0.00 | NA | NA | 0.00 | 0.00 | 0.00 | NA | NA | XXX
78699 | 26 | C | Nervous system nuclear exam | 0.00 | 0.00 | 0.00 | 0.00 | 0.00 | 0.00 | 0.00 | 0.00 | 0.00 | 0.00 | XXX
78699 | TC | C | Nervous system nuclear exam | 0.00 | 0.00 | 0.00 | NA | NA | 0.00 | 0.00 | 0.00 | NA | NA | XXX
78700 |  | A | Kidney imaging, static | 0.45 | 3.24 | 3.28 | NA | NA | 0.15 | 3.84 | 3.88 | NA | NA | XXX
78700 | 26 | A | Kidney imaging, static | 0.45 | 0.16 | 0.18 | 0.16 | 0.18 | 0.02 | 0.63 | 0.65 | 0.63 | 0.65 | XXX
78700 | TC | A | Kidney imaging, static | 0.00 | 3.08 | 3.10 | NA | NA | 0.13 | 3.21 | 3.23 | NA | NA | XXX
78701 |  | A | Kidney imaging with flow | 0.49 | 3.77 | 3.81 | NA | NA | 0.17 | 4.43 | 4.47 | NA | NA | XXX
78701 | 26 | A | Kidney imaging with flow | 0.49 | 0.17 | 0.19 | 0.17 | 0.19 | 0.02 | 0.68 | 0.70 | 0.68 | 0.70 | XXX
78701 | TC | A | Kidney imaging with flow | 0.00 | 3.60 | 3.62 | NA | NA | 0.15 | 3.75 | 3.77 | NA | NA | XXX
78704 |  | A | Imaging renogram | 0.74 | 4.26 | 4.31 | NA | NA | 0.21 | 5.21 | 5.26 | NA | NA | XXX
78704 | 26 | A | Imaging renogram | 0.74 | 0.26 | 0.29 | 0.26 | 0.29 | 0.03 | 1.03 | 1.06 | 1.03 | 1.06 | XXX
78704 | TC | A | Imaging renogram | 0.00 | 4.00 | 4.02 | NA | NA | 0.18 | 4.18 | 4.20 | NA | NA | XXX
78707 |  | A | Kidney flow/function image | 0.96 | 4.86 | 4.92 | NA | NA | 0.24 | 6.06 | 6.12 | NA | NA | XXX
78707 | 26 | A | Kidney flow/function image | 0.96 | 0.34 | 0.37 | 0.34 | 0.37 | 0.04 | 1.34 | 1.37 | 1.34 | 1.37 | XXX
78707 | TC | A | Kidney flow/function image | 0.00 | 4.52 | 4.55 | NA | NA | 0.20 | 4.72 | 4.75 | NA | NA | XXX
78708 |  | A | Kidney flow/function image | 1.21 | 4.95 | 4.99 | NA | NA | 0.25 | 6.41 | 6.45 | NA | NA | XXX
78708 | 26 | A | Kidney flow/function image | 1.21 | 0.43 | 0.44 | 0.43 | 0.44 | 0.05 | 1.69 | 1.70 | 1.69 | 1.70 | XXX
78708 | TC | A | Kidney flow/function image | 0.00 | 4.52 | 4.55 | NA | NA | 0.20 | 4.72 | 4.75 | NA | NA | XXX
78709 |  | A | Kidney flow/function image | 1.41 | 5.02 | 5.04 | NA | NA | 0.25 | 6.68 | 6.70 | NA | NA | XXX
78709 | 26 | A | Kidney flow/function image | 1.41 | 0.50 | 0.49 | 0.50 | 0.49 | 0.05 | 1.96 | 1.95 | 1.96 | 1.95 | XXX
78709 | TC | A | Kidney flow/function image | 0.00 | 4.52 | 4.55 | NA | NA | 0.20 | 4.72 | 4.75 | NA | NA | XXX
78710 |  | A | Kidney imaging (3D) | 0.66 | 6.20 | 6.27 | NA | NA | 0.30 | 7.16 | 7.23 | NA | NA | XXX
78710 | 26 | A | Kidney imaging (3D) | 0.66 | 0.23 | 0.26 | 0.23 | 0.26 | 0.03 | 0.92 | 0.95 | 0.92 | 0.95 | XXX
78710 | TC | A | Kidney imaging (3D) | 0.00 | 5.97 | 6.01 | NA | NA | 0.27 | 6.24 | 6.28 | NA | NA | XXX
78715 |  | A | Renal vascular flow exam | 0.30 | 1.70 | 1.72 | NA | NA | 0.09 | 2.09 | 2.11 | NA | NA | XXX
78715 | 26 | A | Renal vascular flow exam | 0.30 | 0.11 | 0.12 | 0.11 | 0.12 | 0.01 | 0.42 | 0.43 | 0.42 | 0.43 | XXX
78715 | TC | A | Renal vascular flow exam | 0.00 | 1.59 | 1.60 | NA | NA | 0.08 | 1.67 | 1.68 | NA | NA | XXX
78725 |  | A | Kidney function study | 0.38 | 1.94 | 1.96 | NA | NA | 0.10 | 2.42 | 2.44 | NA | NA | XXX
78725 | 26 | A | Kidney function study | 0.38 | 0.14 | 0.15 | 0.14 | 0.15 | 0.01 | 0.53 | 0.54 | 0.53 | 0.54 | XXX
78725 | TC | A | Kidney function study | 0.00 | 1.80 | 1.81 | NA | NA | 0.09 | 1.89 | 1.90 | NA | NA | XXX
78730 |  | A | Urinary bladder retention | 0.36 | 1.61 | 1.63 | NA | NA | 0.09 | 2.06 | 2.08 | NA | NA | XXX
78730 | 26 | A | Urinary bladder retention | 0.36 | 0.13 | 0.14 | 0.13 | 0.14 | 0.02 | 0.51 | 0.52 | 0.51 | 0.52 | XXX
78730 | TC | A | Urinary bladder retention | 0.00 | 1.48 | 1.49 | NA | NA | 0.07 | 1.55 | 1.56 | NA | NA | XXX
78740 |  | A | Ureteral reflux study | 0.57 | 2.34 | 2.37 | NA | NA | 0.12 | 3.03 | 3.06 | NA | NA | XXX
78740 | 26 | A | Ureteral reflux study | 0.57 | 0.20 | 0.22 | 0.20 | 0.22 | 0.02 | 0.79 | 0.81 | 0.79 | 0.81 | XXX
78740 | TC | A | Ureteral reflux study | 0.00 | 2.14 | 2.15 | NA | NA | 0.10 | 2.24 | 2.25 | NA | NA | XXX
78760 |  | A | Testicular imaging | 0.66 | 2.94 | 2.99 | NA | NA | 0.15 | 3.75 | 3.80 | NA | NA | XXX
78760 | 26 | A | Testicular imaging | 0.66 | 0.23 | 0.26 | 0.23 | 0.26 | 0.03 | 0.92 | 0.95 | 0.92 | 0.95 | XXX
78760 | TC | A | Testicular imaging | 0.00 | 2.71 | 2.73 | NA | NA | 0.12 | 2.83 | 2.85 | NA | NA | XXX
78761 |  | A | Testicular imaging/flow | 0.71 | 3.49 | 3.54 | NA | NA | 0.17 | 4.37 | 4.42 | NA | NA | XXX
78761 | 26 | A | Testicular imaging/flow | 0.71 | 0.25 | 0.28 | 0.25 | 0.28 | 0.03 | 0.99 | 1.02 | 0.99 | 1.02 | XXX
78761 | TC | A | Testicular imaging/flow | 0.00 | 3.24 | 3.26 | NA | NA | 0.14 | 3.38 | 3.40 | NA | NA | XXX
78799 |  | C | Genitourinary nuclear exam | 0.00 | 0.00 | 0.00 | NA | NA | 0.00 | 0.00 | 0.00 | NA | NA | XXX
78799 | 26 | C | Genitourinary nuclear exam | 0.00 | 0.00 | 0.00 | 0.00 | 0.00 | 0.00 | 0.00 | 0.00 | 0.00 | 0.00 | XXX
78799 | TC | C | Genitourinary nuclear exam | 0.00 | 0.00 | 0.00 | NA | NA | 0.00 | 0.00 | 0.00 | NA | NA | XXX
78800 |  | A | Tumor imaging, limited area | 0.66 | 3.67 | 3.72 | NA | NA | 0.18 | 4.51 | 4.56 | NA | NA | XXX
78800 | 26 | A | Tumor imaging, limited area | 0.66 | 0.23 | 0.26 | 0.23 | 0.26 | 0.03 | 0.92 | 0.95 | 0.92 | 0.95 | XXX
78800 | TC | A | Tumor imaging, limited area | 0.00 | 3.44 | 3.46 | NA | NA | 0.15 | 3.59 | 3.61 | NA | NA | XXX
78801 |  | A | Tumor imaging, mult areas | 0.79 | 4.55 | 4.61 | NA | NA | 0.22 | 5.56 | 5.62 | NA | NA | XXX
78801 | 26 | A | Tumor imaging, mult areas | 0.79 | 0.28 | 0.31 | 0.28 | 0.31 | 0.03 | 1.10 | 1.13 | 1.10 | 1.13 | XXX
78801 | TC | A | Tumor imaging, mult areas | 0.00 | 4.27 | 4.30 | NA | NA | 0.19 | 4.46 | 4.49 | NA | NA | XXX
78802 |  | A | Tumor imaging, whole body | 0.86 | 5.90 | 5.96 | NA | NA | 0.29 | 7.05 | 7.11 | NA | NA | XXX
78802 | 26 | A | Tumor imaging, whole body | 0.86 | 0.31 | 0.34 | 0.31 | 0.34 | 0.03 | 1.20 | 1.23 | 1.20 | 1.23 | XXX
78802 | TC | A | Tumor imaging, whole body | 0.00 | 5.59 | 5.62 | NA | NA | 0.26 | 5.85 | 5.88 | NA | NA | XXX
78803 |  | A | Tumor imaging (3D) | 1.09 | 7.03 | 7.10 | NA | NA | 0.34 | 8.46 | 8.53 | NA | NA | XXX
78803 | 26 | A | Tumor imaging (3D) | 1.09 | 0.40 | 0.43 | 0.40 | 0.43 | 0.04 | 1.53 | 1.56 | 1.53 | 1.56 | XXX
78803 | TC | A | Tumor imaging (3D) | 0.00 | 6.63 | 6.67 | NA | NA | 0.30 | 6.93 | 6.97 | NA | NA | XXX
78805 |  | A | Abscess imaging, ltd area | 0.73 | 3.70 | 3.75 | NA | NA | 0.18 | 4.61 | 4.66 | NA | NA | XXX
78805 | 26 | A | Abscess imaging, ltd area | 0.73 | 0.26 | 0.29 | 0.26 | 0.29 | 0.03 | 1.02 | 1.05 | 1.02 | 1.05 | XXX
78805 | TC | A | Abscess imaging, ltd area | 0.00 | 3.44 | 3.46 | NA | NA | 0.15 | 3.59 | 3.61 | NA | NA | XXX
78806 |  | A | Abscess imaging, whole body | 0.86 | 6.81 | 6.88 | NA | NA | 0.33 | 8.00 | 8.07 | NA | NA | XXX
78806 | 26 | A | Abscess imaging, whole body | 0.86 | 0.31 | 0.34 | 0.31 | 0.34 | 0.03 | 1.20 | 1.23 | 1.20 | 1.23 | XXX
78806 | TC | A | Abscess imaging, whole body | 0.00 | 6.50 | 6.54 | NA | NA | 0.30 | 6.80 | 6.84 | NA | NA | XXX
78807 |  | A | Nuclear localization/abscess | 1.09 | 7.04 | 7.11 | NA | NA | 0.34 | 8.47 | 8.54 | NA | NA | XXX
78807 | 26 | A | Nuclear localization/abscess | 1.09 | 0.41 | 0.44 | 0.41 | 0.44 | 0.04 | 1.54 | 1.57 | 1.54 | 1.57 | XXX
78807 | TC | A | Nuclear localization/abscess | 0.00 | 6.63 | 6.67 | NA | NA | 0.30 | 6.93 | 6.97 | NA | NA | XXX
78810 |  | N | Tumor imaging (PET) | 0.00 | 0.00 | 0.00 | NA | NA | 0.00 | 0.00 | 0.00 | NA | NA | XXX
78810 | 26 | N | Tumor imaging (PET) | 1.93 | 0.77 | 0.95 | 0.77 | 0.95 | 0.07 | 2.77 | 2.95 | 2.77 | 2.95 | XXX
78810 | TC | N | Tumor imaging (PET) | 0.00 | 0.00 | 0.00 | NA | NA | 0.00 | 0.00 | 0.00 | NA | NA | XXX
78890 |  | B | Nuclear medicine data proc | 0.05 | 1.34 | 1.35 | NA | NA | 0.06 | 1.45 | 1.46 | NA | NA | XXX
78890 | 26 | B | Nuclear medicine data proc | 0.05 | 0.02 | 0.02 | 0.02 | 0.02 | 0.01 | 0.08 | 0.08 | 0.08 | 0.08 | XXX
78890 | TC | B | Nuclear medicine data proc | 0.00 | 1.32 | 1.33 | NA | NA | 0.05 | 1.37 | 1.38 | NA | NA | XXX
78891 |  | B | Nuclear med data proc | 0.10 | 2.69 | 2.71 | NA | NA | 0.12 | 2.91 | 2.93 | NA | NA | XXX
78891 | 26 | B | Nuclear med data proc | 0.10 | 0.04 | 0.04 | 0.04 | 0.04 | 0.01 | 0.15 | 0.15 | 0.15 | 0.15 | XXX
78891 | TC | B | Nuclear med data proc | 0.00 | 2.65 | 2.67 | NA | NA | 0.11 | 2.76 | 2.78 | NA | NA | XXX
78990 |  | I | Provide diag radionuclide(s) | 0.00 | 0.00 | 0.00 | 0.00 | 0.00 | 0.00 | 0.00 | 0.00 | 0.00 | 0.00 | XXX
78999 |  | C | Nuclear diagnostic exam | 0.00 | 0.00 | 0.00 | NA | NA | 0.00 | 0.00 | 0.00 | NA | NA | XXX
78999 | 26 | C | Nuclear diagnostic exam | 0.00 | 0.00 | 0.00 | 0.00 | 0.00 | 0.00 | 0.00 | 0.00 | 0.00 | 0.00 | XXX
78999 | TC | C | Nuclear diagnostic exam | 0.00 | 0.00 | 0.00 | NA | NA | 0.00 | 0.00 | 0.00 | NA | NA | XXX
79000 |  | A | Init hyperthyroid therapy | 1.80 | 3.29 | 3.37 | NA | NA | 0.19 | 5.28 | 5.36 | NA | NA | XXX
79000 | 26 | A | Init hyperthyroid therapy | 1.80 | 0.64 | 0.70 | 0.64 | 0.70 | 0.07 | 2.51 | 2.57 | 2.51 | 2.57 | XXX
79000 | TC | A | Init hyperthyroid therapy | 0.00 | 2.65 | 2.67 | NA | NA | 0.12 | 2.77 | 2.79 | NA | NA | XXX
79001 |  | A | Repeat hyperthyroid therapy | 1.05 | 1.69 | 1.73 | NA | NA | 0.10 | 2.84 | 2.88 | NA | NA | XXX
79001 | 26 | A | Repeat hyperthyroid therapy | 1.05 | 0.37 | 0.40 | 0.37 | 0.40 | 0.04 | 1.46 | 1.49 | 1.46 | 1.49 | XXX
79001 | TC | A | Repeat hyperthyroid therapy | 0.00 | 1.32 | 1.33 | NA | NA | 0.06 | 1.38 | 1.39 | NA | NA | XXX
79020 |  | A | Thyroid ablation | 1.81 | 3.28 | 3.36 | NA | NA | 0.19 | 5.28 | 5.36 | NA | NA | XXX
79020 | 26 | A | Thyroid ablation | 1.81 | 0.63 | 0.69 | 0.63 | 0.69 | 0.07 | 2.51 | 2.57 | 2.51 | 2.57 | XXX
79020 | TC | A | Thyroid ablation | 0.00 | 2.65 | 2.67 | NA | NA | 0.12 | 2.77 | 2.79 | NA | NA | XXX
79030 |  | A | Thyroid ablation, carcinoma | 2.10 | 3.39 | 3.48 | NA | NA | 0.20 | 5.69 | 5.78 | NA | NA | XXX
79030 | 26 | A | Thyroid ablation, carcinoma | 2.10 | 0.74 | 0.81 | 0.74 | 0.81 | 0.08 | 2.92 | 2.99 | 2.92 | 2.99 | XXX
79030 | TC | A | Thyroid ablation, carcinoma | 0.00 | 2.65 | 2.67 | NA | NA | 0.12 | 2.77 | 2.79 | NA | NA | XXX
79035 |  | A | Thyroid metastatic therapy | 2.52 | 3.57 | 3.67 | NA | NA | 0.21 | 6.30 | 6.40 | NA | NA | XXX
79035 | 26 | A | Thyroid metastatic therapy | 2.52 | 0.92 | 1.00 | 0.92 | 1.00 | 0.09 | 3.53 | 3.61 | 3.53 | 3.61 | XXX
79035 | TC | A | Thyroid metastatic therapy | 0.00 | 2.65 | 2.67 | NA | NA | 0.12 | 2.77 | 2.79 | NA | NA | XXX
79100 |  | A | Hematopoetic nuclear therapy | 1.32 | 3.13 | 3.19 | NA | NA | 0.17 | 4.62 | 4.68 | NA | NA | XXX
79100 | 26 | A | Hematopoetic nuclear therapy | 1.32 | 0.48 | 0.52 | 0.48 | 0.52 | 0.05 | 1.85 | 1.89 | 1.85 | 1.89 | XXX
79100 | TC | A | Hematopoetic nuclear therapy | 0.00 | 2.65 | 2.67 | NA | NA | 0.12 | 2.77 | 2.79 | NA | NA | XXX
79200 |  | A | Intracavitary nuclear trmt | 1.99 | 3.37 | 3.45 | NA | NA | 0.19 | 5.55 | 5.63 | NA | NA | XXX
79200 | 26 | A | Intracavitary nuclear trmt | 1.99 | 0.72 | 0.78 | 0.72 | 0.78 | 0.07 | 2.78 | 2.84 | 2.78 | 2.84 | XXX
79200 | TC | A | Intracavitary nuclear trmt | 0.00 | 2.65 | 2.67 | NA | NA | 0.12 | 2.77 | 2.79 | NA | NA | XXX
79300 |  | C | Interstitial nuclear therapy | 0.00 | 0.00 | 0.00 | NA | NA | 0.00 | 0.00 | 0.00 | NA | NA | XXX
79300 | 26 | A | Interstitial nuclear therapy | 1.60 | 0.58 | 0.63 | 0.58 | 0.63 | 0.06 | 2.24 | 2.29 | 2.24 | 2.29 | XXX
79300 | TC | C | Interstitial nuclear therapy | 0.00 | 0.00 | 0.00 | NA | NA | 0.00 | 0.00 | 0.00 | NA | NA | XXX
79400 |  | A | Nonhemato nuclear therapy | 1.96 | 3.36 | 3.44 | NA | NA | 0.19 | 5.51 | 5.59 | NA | NA | XXX
79400 | 26 | A | Nonhemato nuclear therapy | 1.96 | 0.71 | 0.77 | 0.71 | 0.77 | 0.07 | 2.74 | 2.80 | 2.74 | 2.80 | XXX
79400 | TC | A | Nonhemato nuclear therapy | 0.00 | 2.65 | 2.67 | NA | NA | 0.12 | 2.77 | 2.79 | NA | NA | XXX
79420 |  | C | Intravascular nuclear ther | 0.00 | 0.00 | 0.00 | NA | NA | 0.00 | 0.00 | 0.00 | NA | NA | XXX
79420 | 26 | A | Intravascular nuclear ther | 1.51 | 0.53 | 0.58 | 0.53 | 0.58 | 0.06 | 2.10 | 2.15 | 2.10 | 2.15 | XXX
79420 | TC | C | Intravascular nuclear ther | 0.00 | 0.00 | 0.00 | NA | NA | 0.00 | 0.00 | 0.00 | NA | NA | XXX
79440 |  | A | Nuclear joint therapy | 1.99 | 3.42 | 3.49 | NA | NA | 0.20 | 5.61 | 5.68 | NA | NA | XXX
79440 | 26 | A | Nuclear joint therapy | 1.99 | 0.77 | 0.82 | 0.77 | 0.82 | 0.08 | 2.84 | 2.89 | 2.84 | 2.89 | XXX
79440 | TC | A | Nuclear joint therapy | 0.00 | 2.65 | 2.67 | NA | NA | 0.12 | 2.77 | 2.79 | NA | NA | XXX
79900 |  | C | Provide ther radiopharm(s) | 0.00 | 0.00 | 0.00 | NA | NA | 0.00 | 0.00 | 0.00 | NA | NA | XXX
79999 |  | C | Nuclear medicine therapy | 0.00 | 0.00 | 0.00 | NA | NA | 0.00 | 0.00 | 0.00 | NA | NA | XXX
79999 | 26 | C | Nuclear medicine therapy | 0.00 | 0.00 | 0.00 | 0.00 | 0.00 | 0.00 | 0.00 | 0.00 | 0.00 | 0.00 | XXX
79999 | TC | C | Nuclear medicine therapy | 0.00 | 0.00 | 0.00 | NA | NA | 0.00 | 0.00 | 0.00 | NA | NA | XXX
80048 |  | X | Basic metabolic panel | 0.00 | 0.00 | 0.00 | 0.00 | 0.00 | 0.00 | 0.00 | 0.00 | 0.00 | 0.00 | XXX
80049 |  | D | Metabolic panel, basic | 0.00 | 0.00 | 0.00 | 0.00 | 0.00 | 0.00 | 0.00 | 0.00 | 0.00 | 0.00 | XXX
80050 |  | N | General health panel | 0.00 | 0.00 | 0.00 | 0.00 | 0.00 | 0.00 | 0.00 | 0.00 | 0.00 | 0.00 | XXX
80051 |  | X | Electrolyte panel | 0.00 | 0.00 | 0.00 | 0.00 | 0.00 | 0.00 | 0.00 | 0.00 | 0.00 | 0.00 | XXX
80053 |  | X | Comprehen metabolic panel | 0.00 | 0.00 | 0.00 | 0.00 | 0.00 | 0.00 | 0.00 | 0.00 | 0.00 | 0.00 | XXX
80054 |  | D | Comprehen metabolic panel | 0.00 | 0.00 | 0.00 | 0.00 | 0.00 | 0.00 | 0.00 | 0.00 | 0.00 | 0.00 | XXX
80055 |  | I | Obstetric panel | 0.00 | 0.00 | 0.00 | 0.00 | 0.00 | 0.00 | 0.00 | 0.00 | 0.00 | 0.00 | XXX
80058 |  | D | Hepatic function panel | 0.00 | 0.00 | 0.00 | 0.00 | 0.00 | 0.00 | 0.00 | 0.00 | 0.00 | 0.00 | XXX
80059 |  | D | Hepatitis panel | 0.00 | 0.00 | 0.00 | 0.00 | 0.00 | 0.00 | 0.00 | 0.00 | 0.00 | 0.00 | XXX
80061 |  | X | Lipid panel | 0.00 | 0.00 | 0.00 | 0.00 | 0.00 | 0.00 | 0.00 | 0.00 | 0.00 | 0.00 | XXX
80069 |  | X | Renal function panel | 0.00 | 0.00 | 0.00 | 0.00 | 0.00 | 0.00 | 0.00 | 0.00 | 0.00 | 0.00 | XXX
80072 |  | X | Arthritis panel | 0.00 | 0.00 | 0.00 | 0.00 | 0.00 | 0.00 | 0.00 | 0.00 | 0.00 | 0.00 | XXX
80074 |  | X | Acute hepatitis panel | 0.00 | 0.00 | 0.00 | 0.00 | 0.00 | 0.00 | 0.00 | 0.00 | 0.00 | 0.00 | XXX
80076 |  | X | Hepatic function panel | 0.00 | 0.00 | 0.00 | 0.00 | 0.00 | 0.00 | 0.00 | 0.00 | 0.00 | 0.00 | XXX
80090 |  | X | Torch antibody panel | 0.00 | 0.00 | 0.00 | 0.00 | 0.00 | 0.00 | 0.00 | 0.00 | 0.00 | 0.00 | XXX
80091 |  | D | Thyroid panel | 0.00 | 0.00 | 0.00 | 0.00 | 0.00 | 0.00 | 0.00 | 0.00 | 0.00 | 0.00 | XXX
80092 |  | D | Thyroid panel w/TSH | 0.00 | 0.00 | 0.00 | 0.00 | 0.00 | 0.00 | 0.00 | 0.00 | 0.00 | 0.00 | XXX
80100 |  | X | Drug screen | 0.00 | 0.00 | 0.00 | 0.00 | 0.00 | 0.00 | 0.00 | 0.00 | 0.00 | 0.00 | XXX
80101 |  | X | Drug screen | 0.00 | 0.00 | 0.00 | 0.00 | 0.00 | 0.00 | 0.00 | 0.00 | 0.00 | 0.00 | XXX
80102 |  | X | Drug confirmation | 0.00 | 0.00 | 0.00 | 0.00 | 0.00 | 0.00 | 0.00 | 0.00 | 0.00 | 0.00 | XXX
80103 |  | X | Drug analysis, tissue prep | 0.00 | 0.00 | 0.00 | 0.00 | 0.00 | 0.00 | 0.00 | 0.00 | 0.00 | 0.00 | XXX
80150 |  | X | Assay of amikacin | 0.00 | 0.00 | 0.00 | 0.00 | 0.00 | 0.00 | 0.00 | 0.00 | 0.00 | 0.00 | XXX
80152 |  | X | Assay of amitriptyline | 0.00 | 0.00 | 0.00 | 0.00 | 0.00 | 0.00 | 0.00 | 0.00 | 0.00 | 0.00 | XXX
80154 |  | X | Assay of benzodiazepines | 0.00 | 0.00 | 0.00 | 0.00 | 0.00 | 0.00 | 0.00 | 0.00 | 0.00 | 0.00 | XXX
80156 |  | X | Assay of carbamazepine | 0.00 | 0.00 | 0.00 | 0.00 | 0.00 | 0.00 | 0.00 | 0.00 | 0.00 | 0.00 | XXX
80158 |  | X | Assay of cyclosporine | 0.00 | 0.00 | 0.00 | 0.00 | 0.00 | 0.00 | 0.00 | 0.00 | 0.00 | 0.00 | XXX
80160 |  | X | Assay of desipramine | 0.00 | 0.00 | 0.00 | 0.00 | 0.00 | 0.00 | 0.00 | 0.00 | 0.00 | 0.00 | XXX
80162 |  | X | Assay of digoxin | 0.00 | 0.00 | 0.00 | 0.00 | 0.00 | 0.00 | 0.00 | 0.00 | 0.00 | 0.00 | XXX
80164 |  | X | Assay, dipropylacetic acid | 0.00 | 0.00 | 0.00 | 0.00 | 0.00 | 0.00 | 0.00 | 0.00 | 0.00 | 0.00 | XXX
80166 |  | X | Assay of doxepin | 0.00 | 0.00 | 0.00 | 0.00 | 0.00 | 0.00 | 0.00 | 0.00 | 0.00 | 0.00 | XXX
80168 |  | X | Assay of ethosuximide | 0.00 | 0.00 | 0.00 | 0.00 | 0.00 | 0.00 | 0.00 | 0.00 | 0.00 | 0.00 | XXX
80170 |  | X | Assay of gentamicin | 0.00 | 0.00 | 0.00 | 0.00 | 0.00 | 0.00 | 0.00 | 0.00 | 0.00 | 0.00 | XXX
80172 |  | X | Assay of gold | 0.00 | 0.00 | 0.00 | 0.00 | 0.00 | 0.00 | 0.00 | 0.00 | 0.00 | 0.00 | XXX
80174 |  | X | Assay of imipramine | 0.00 | 0.00 | 0.00 | 0.00 | 0.00 | 0.00 | 0.00 | 0.00 | 0.00 | 0.00 | XXX
80176 |  | X | Assay of lidocaine | 0.00 | 0.00 | 0.00 | 0.00 | 0.00 | 0.00 | 0.00 | 0.00 | 0.00 | 0.00 | XXX
80178 |  | X | Assay of lithium | 0.00 | 0.00 | 0.00 | 0.00 | 0.00 | 0.00 | 0.00 | 0.00 | 0.00 | 0.00 | XXX
80182 |  | X | Assay of nortriptyline | 0.00 | 0.00 | 0.00 | 0.00 | 0.00 | 0.00 | 0.00 | 0.00 | 0.00 | 0.00 | XXX
80184 |  | X | Assay of phenobarbital | 0.00 | 0.00 | 0.00 | 0.00 | 0.00 | 0.00 | 0.00 | 0.00 | 0.00 | 0.00 | XXX
80185 |  | X | Assay of phenytoin, total | 0.00 | 0.00 | 0.00 | 0.00 | 0.00 | 0.00 | 0.00 | 0.00 | 0.00 | 0.00 | XXX
80186 |  | X | Assay of phenytoin, free | 0.00 | 0.00 | 0.00 | 0.00 | 0.00 | 0.00 | 0.00 | 0.00 | 0.00 | 0.00 | XXX
80188 |  | X | Assay of primidone | 0.00 | 0.00 | 0.00 | 0.00 | 0.00 | 0.00 | 0.00 | 0.00 | 0.00 | 0.00 | XXX
80190 |  | X | Assay of procainamide | 0.00 | 0.00 | 0.00 | 0.00 | 0.00 | 0.00 | 0.00 | 0.00 | 0.00 | 0.00 | XXX
80192 |  | X | Assay of procainamide | 0.00 | 0.00 | 0.00 | 0.00 | 0.00 | 0.00 | 0.00 | 0.00 | 0.00 | 0.00 | XXX
80194 |  | X | Assay of quinidine | 0.00 | 0.00 | 0.00 | 0.00 | 0.00 | 0.00 | 0.00 | 0.00 | 0.00 | 0.00 | XXX
80196 |  | X | Assay of salicylate | 0.00 | 0.00 | 0.00 | 0.00 | 0.00 | 0.00 | 0.00 | 0.00 | 0.00 | 0.00 | XXX
80197 |  | X | Assay of tacrolimus | 0.00 | 0.00 | 0.00 | 0.00 | 0.00 | 0.00 | 0.00 | 0.00 | 0.00 | 0.00 | XXX
80198 |  | X | Assay of theophylline | 0.00 | 0.00 | 0.00 | 0.00 | 0.00 | 0.00 | 0.00 | 0.00 | 0.00 | 0.00 | XXX
80200 |  | X | Assay of tobramycin | 0.00 | 0.00 | 0.00 | 0.00 | 0.00 | 0.00 | 0.00 | 0.00 | 0.00 | 0.00 | XXX
80201 |  | X | Assay of topiramate | 0.00 | 0.00 | 0.00 | 0.00 | 0.00 | 0.00 | 0.00 | 0.00 | 0.00 | 0.00 | XXX
80202 |  | X | Assay of vancomycin | 0.00 | 0.00 | 0.00 | 0.00 | 0.00 | 0.00 | 0.00 | 0.00 | 0.00 | 0.00 | XXX
80299 |  | X | Quantitative assay, drug | 0.00 | 0.00 | 0.00 | 0.00 | 0.00 | 0.00 | 0.00 | 0.00 | 0.00 | 0.00 | XXX
80400 |  | X | Acth stimulation panel | 0.00 | 0.00 | 0.00 | 0.00 | 0.00 | 0.00 | 0.00 | 0.00 | 0.00 | 0.00 | XXX
80402 |  | X | Acth stimulation panel | 0.00 | 0.00 | 0.00 | 0.00 | 0.00 | 0.00 | 0.00 | 0.00 | 0.00 | 0.00 | XXX
80406 |  | X | Acth stimulation panel | 0.00 | 0.00 | 0.00 | 0.00 | 0.00 | 0.00 | 0.00 | 0.00 | 0.00 | 0.00 | XXX
80408 |  | X | Aldosterone suppression eval | 0.00 | 0.00 | 0.00 | 0.00 | 0.00 | 0.00 | 0.00 | 0.00 | 0.00 | 0.00 | XXX
80410 |  | X | Calcitonin stimul panel | 0.00 | 0.00 | 0.00 | 0.00 | 0.00 | 0.00 | 0.00 | 0.00 | 0.00 | 0.00 | XXX
80412 |  | X | CRH stimulation panel | 0.00 | 0.00 | 0.00 | 0.00 | 0.00 | 0.00 | 0.00 | 0.00 | 0.00 | 0.00 | XXX
80414 |  | X | Testosterone response | 0.00 | 0.00 | 0.00 | 0.00 | 0.00 | 0.00 | 0.00 | 0.00 | 0.00 | 0.00 | XXX
80415 |  | X | Estradiol response panel | 0.00 | 0.00 | 0.00 | 0.00 | 0.00 | 0.00 | 0.00 | 0.00 | 0.00 | 0.00 | XXX
80416 |  | X | Renin stimulation panel | 0.00 | 0.00 | 0.00 | 0.00 | 0.00 | 0.00 | 0.00 | 0.00 | 0.00 | 0.00 | XXX
80417 |  | X | Renin stimulation panel | 0.00 | 0.00 | 0.00 | 0.00 | 0.00 | 0.00 | 0.00 | 0.00 | 0.00 | 0.00 | XXX
80418 |  | X | Pituitary evaluation panel | 0.00 | 0.00 | 0.00 | 0.00 | 0.00 | 0.00 | 0.00 | 0.00 | 0.00 | 0.00 | XXX
80420 |  | X | Dexamethasone panel | 0.00 | 0.00 | 0.00 | 0.00 | 0.00 | 0.00 | 0.00 | 0.00 | 0.00 | 0.00 | XXX
80422 |  | X | Glucagon tolerance panel | 0.00 | 0.00 | 0.00 | 0.00 | 0.00 | 0.00 | 0.00 | 0.00 | 0.00 | 0.00 | XXX
80424 |  | X | Glucagon tolerance panel | 0.00 | 0.00 | 0.00 | 0.00 | 0.00 | 0.00 | 0.00 | 0.00 | 0.00 | 0.00 | XXX
80426 |  | X | Gonadotropin hormone panel | 0.00 | 0.00 | 0.00 | 0.00 | 0.00 | 0.00 | 0.00 | 0.00 | 0.00 | 0.00 | XXX
80428 |  | X | Growth hormone panel | 0.00 | 0.00 | 0.00 | 0.00 | 0.00 | 0.00 | 0.00 | 0.00 | 0.00 | 0.00 | XXX
80430 |  | X | Growth hormone panel | 0.00 | 0.00 | 0.00 | 0.00 | 0.00 | 0.00 | 0.00 | 0.00 | 0.00 | 0.00 | XXX
80432 |  | X | Insulin suppression panel | 0.00 | 0.00 | 0.00 | 0.00 | 0.00 | 0.00 | 0.00 | 0.00 | 0.00 | 0.00 | XXX
80434 |  | X | Insulin tolerance panel | 0.00 | 0.00 | 0.00 | 0.00 | 0.00 | 0.00 | 0.00 | 0.00 | 0.00 | 0.00 | XXX
80435 |  | X | Insulin tolerance panel | 0.00 | 0.00 | 0.00 | 0.00 | 0.00 | 0.00 | 0.00 | 0.00 | 0.00 | 0.00 | XXX
80436 |  | X | Metyrapone panel | 0.00 | 0.00 | 0.00 | 0.00 | 0.00 | 0.00 | 0.00 | 0.00 | 0.00 | 0.00 | XXX
80438 |  | X | TRH stimulation panel | 0.00 | 0.00 | 0.00 | 0.00 | 0.00 | 0.00 | 0.00 | 0.00 | 0.00 | 0.00 | XXX
80439 |  | X | TRH stimulation panel | 0.00 | 0.00 | 0.00 | 0.00 | 0.00 | 0.00 | 0.00 | 0.00 | 0.00 | 0.00 | XXX
80440 |  | X | TRH stimulation panel | 0.00 | 0.00 | 0.00 | 0.00 | 0.00 | 0.00 | 0.00 | 0.00 | 0.00 | 0.00 | XXX
80500 |  | A | Lab pathology consultation | 0.37 | 0.19 | 0.20 | 0.16 | 0.18 | 0.01 | 0.57 | 0.58 | 0.54 | 0.56 | XXX
80502 |  | A | Lab pathology consultation | 1.33 | 0.63 | 0.56 | 0.57 | 0.52 | 0.04 | 2.00 | 1.93 | 1.94 | 1.89 | XXX
81000 |  | X | Urinalysis, nonauto w/scope | 0.00 | 0.00 | 0.00 | 0.00 | 0.00 | 0.00 | 0.00 | 0.00 | 0.00 | 0.00 | XXX
81001 |  | X | Urinalysis, auto w/scope | 0.00 | 0.00 | 0.00 | 0.00 | 0.00 | 0.00 | 0.00 | 0.00 | 0.00 | 0.00 | XXX
81002 |  | X | Urinalysis nonauto w/o scope | 0.00 | 0.00 | 0.00 | 0.00 | 0.00 | 0.00 | 0.00 | 0.00 | 0.00 | 0.00 | XXX
81003 |  | X | Urinalysis, auto, w/o scope | 0.00 | 0.00 | 0.00 | 0.00 | 0.00 | 0.00 | 0.00 | 0.00 | 0.00 | 0.00 | XXX
81005 |  | X | Urinalysis | 0.00 | 0.00 | 0.00 | 0.00 | 0.00 | 0.00 | 0.00 | 0.00 | 0.00 | 0.00 | XXX
81007 |  | X | Urine screen for bacteria | 0.00 | 0.00 | 0.00 | 0.00 | 0.00 | 0.00 | 0.00 | 0.00 | 0.00 | 0.00 | XXX
81015 |  | X | Microscopic exam of urine | 0.00 | 0.00 | 0.00 | 0.00 | 0.00 | 0.00 | 0.00 | 0.00 | 0.00 | 0.00 | XXX
81020 |  | X | Urinalysis, glass test | 0.00 | 0.00 | 0.00 | 0.00 | 0.00 | 0.00 | 0.00 | 0.00 | 0.00 | 0.00 | XXX
81025 |  | X | Urine pregnancy test | 0.00 | 0.00 | 0.00 | 0.00 | 0.00 | 0.00 | 0.00 | 0.00 | 0.00 | 0.00 | XXX
81050 |  | X | Urinalysis, volume measure | 0.00 | 0.00 | 0.00 | 0.00 | 0.00 | 0.00 | 0.00 | 0.00 | 0.00 | 0.00 | XXX
81099 |  | X | Urinalysis test procedure | 0.00 | 0.00 | 0.00 | 0.00 | 0.00 | 0.00 | 0.00 | 0.00 | 0.00 | 0.00 | XXX
82000 |  | X | Assay of blood acetaldehyde | 0.00 | 0.00 | 0.00 | 0.00 | 0.00 | 0.00 | 0.00 | 0.00 | 0.00 | 0.00 | XXX
82003 |  | X | Assay of acetaminophen | 0.00 | 0.00 | 0.00 | 0.00 | 0.00 | 0.00 | 0.00 | 0.00 | 0.00 | 0.00 | XXX
82009 |  | X | Test for acetone/ketones | 0.00 | 0.00 | 0.00 | 0.00 | 0.00 | 0.00 | 0.00 | 0.00 | 0.00 | 0.00 | XXX
82010 |  | X | Acetone assay | 0.00 | 0.00 | 0.00 | 0.00 | 0.00 | 0.00 | 0.00 | 0.00 | 0.00 | 0.00 | XXX
82013 |  | X | Acetylcholinesterase assay | 0.00 | 0.00 | 0.00 | 0.00 | 0.00 | 0.00 | 0.00 | 0.00 | 0.00 | 0.00 | XXX
82016 |  | X | Acylcarnitines, qual | 0.00 | 0.00 | 0.00 | 0.00 | 0.00 | 0.00 | 0.00 | 0.00 | 0.00 | 0.00 | XXX
82017 |  | X | Acylcarnitines, quant | 0.00 | 0.00 | 0.00 | 0.00 | 0.00 | 0.00 | 0.00 | 0.00 | 0.00 | 0.00 | XXX
82024 |  | X | Assay of acth | 0.00 | 0.00 | 0.00 | 0.00 | 0.00 | 0.00 | 0.00 | 0.00 | 0.00 | 0.00 | XXX
82030 |  | X | Assay of adp & amp | 0.00 | 0.00 | 0.00 | 0.00 | 0.00 | 0.00 | 0.00 | 0.00 | 0.00 | 0.00 | XXX
82040 |  | X | Assay of serum albumin | 0.00 | 0.00 | 0.00 | 0.00 | 0.00 | 0.00 | 0.00 | 0.00 | 0.00 | 0.00 | XXX
82042 |  | X | Assay of urine albumin | 0.00 | 0.00 | 0.00 | 0.00 | 0.00 | 0.00 | 0.00 | 0.00 | 0.00 | 0.00 | XXX
82043 |  | X | Microalbumin, quantitative | 0.00 | 0.00 | 0.00 | 0.00 | 0.00 | 0.00 | 0.00 | 0.00 | 0.00 | 0.00 | XXX
82044 |  | X | Microalbumin, semiquant | 0.00 | 0.00 | 0.00 | 0.00 | 0.00 | 0.00 | 0.00 | 0.00 | 0.00 | 0.00 | XXX
82055 |  | X | Assay of ethanol | 0.00 | 0.00 | 0.00 | 0.00 | 0.00 | 0.00 | 0.00 | 0.00 | 0.00 | 0.00 | XXX
82075 |  | X | Assay of breath ethanol | 0.00 | 0.00 | 0.00 | 0.00 | 0.00 | 0.00 | 0.00 | 0.00 | 0.00 | 0.00 | XXX
82085 |  | X | Assay of aldolase | 0.00 | 0.00 | 0.00 | 0.00 | 0.00 | 0.00 | 0.00 | 0.00 | 0.00 | 0.00 | XXX
82088 |  | X | Assay of aldosterone | 0.00 | 0.00 | 0.00 | 0.00 | 0.00 | 0.00 | 0.00 | 0.00 | 0.00 | 0.00 | XXX
82101 |  | X | Assay of urine alkaloids | 0.00 | 0.00 | 0.00 | 0.00 | 0.00 | 0.00 | 0.00 | 0.00 | 0.00 | 0.00 | XXX
82103 |  | X | Alpha-1-antitrypsin, total | 0.00 | 0.00 | 0.00 | 0.00 | 0.00 | 0.00 | 0.00 | 0.00 | 0.00 | 0.00 | XXX
82104 |  | X | Alpha-1-antitrypsin, pheno | 0.00 | 0.00 | 0.00 | 0.00 | 0.00 | 0.00 | 0.00 | 0.00 | 0.00 | 0.00 | XXX
82105 |  | X | Alpha-fetoprotein, serum | 0.00 | 0.00 | 0.00 | 0.00 | 0.00 | 0.00 | 0.00 | 0.00 | 0.00 | 0.00 | XXX
82106 |  | X | Alpha-fetoprotein, amniotic | 0.00 | 0.00 | 0.00 | 0.00 | 0.00 | 0.00 | 0.00 | 0.00 | 0.00 | 0.00 | XXX
82108 |  | X | Assay of aluminum | 0.00 | 0.00 | 0.00 | 0.00 | 0.00 | 0.00 | 0.00 | 0.00 | 0.00 | 0.00 | XXX
82120 |  | X | Amines, vaginal fluid qual | 0.00 | 0.00 | 0.00 | 0.00 | 0.00 | 0.00 | 0.00 | 0.00 | 0.00 | 0.00 | XXX
82127 |  | X | Amino acid, single qual | 0.00 | 0.00 | 0.00 | 0.00 | 0.00 | 0.00 | 0.00 | 0.00 | 0.00 | 0.00 | XXX
82128 |  | X | Amino acids, mult qual | 0.00 | 0.00 | 0.00 | 0.00 | 0.00 | 0.00 | 0.00 | 0.00 | 0.00 | 0.00 | XXX
82131 |  | X | Amino acids, single quant | 0.00 | 0.00 | 0.00 | 0.00 | 0.00 | 0.00 | 0.00 | 0.00 | 0.00 | 0.00 | XXX
82135 |  | X | Assay, aminolevulinic acid | 0.00 | 0.00 | 0.00 | 0.00 | 0.00 | 0.00 | 0.00 | 0.00 | 0.00 | 0.00 | XXX
82136 |  | X | Amino acids, quant, 2-5 | 0.00 | 0.00 | 0.00 | 0.00 | 0.00 | 0.00 | 0.00 | 0.00 | 0.00 | 0.00 | XXX
82139 |  | X | Amino acids, quan, 6 or more | 0.00 | 0.00 | 0.00 | 0.00 | 0.00 | 0.00 | 0.00 | 0.00 | 0.00 | 0.00 | XXX
82140 |  | X | Assay of ammonia | 0.00 | 0.00 | 0.00 | 0.00 | 0.00 | 0.00 | 0.00 | 0.00 | 0.00 | 0.00 | XXX
82143 |  | X | Amniotic fluid scan | 0.00 | 0.00 | 0.00 | 0.00 | 0.00 | 0.00 | 0.00 | 0.00 | 0.00 | 0.00 | XXX
82145 |  | X | Assay of amphetamines | 0.00 | 0.00 | 0.00 | 0.00 | 0.00 | 0.00 | 0.00 | 0.00 | 0.00 | 0.00 | XXX
82150 |  | X | Assay of amylase | 0.00 | 0.00 | 0.00 | 0.00 | 0.00 | 0.00 | 0.00 | 0.00 | 0.00 | 0.00 | XXX
82154 |  | X | Androstanediol glucuronide | 0.00 | 0.00 | 0.00 | 0.00 | 0.00 | 0.00 | 0.00 | 0.00 | 0.00 | 0.00 | XXX
82157 |  | X | Assay of androstenedione | 0.00 | 0.00 | 0.00 | 0.00 | 0.00 | 0.00 | 0.00 | 0.00 | 0.00 | 0.00 | XXX
82160 |  | X | Assay of androsterone | 0.00 | 0.00 | 0.00 | 0.00 | 0.00 | 0.00 | 0.00 | 0.00 | 0.00 | 0.00 | XXX
82163 |  | X | Assay of angiotensin II | 0.00 | 0.00 | 0.00 | 0.00 | 0.00 | 0.00 | 0.00 | 0.00 | 0.00 | 0.00 | XXX
82164 |  | X | Angiotensin I enzyme test | 0.00 | 0.00 | 0.00 | 0.00 | 0.00 | 0.00 | 0.00 | 0.00 | 0.00 | 0.00 | XXX
82172 |  | X | Assay of apolipoprotein | 0.00 | 0.00 | 0.00 | 0.00 | 0.00 | 0.00 | 0.00 | 0.00 | 0.00 | 0.00 | XXX
82175 |  | X | Assay of arsenic | 0.00 | 0.00 | 0.00 | 0.00 | 0.00 | 0.00 | 0.00 | 0.00 | 0.00 | 0.00 | XXX
82180 |  | X | Assay of ascorbic acid | 0.00 | 0.00 | 0.00 | 0.00 | 0.00 | 0.00 | 0.00 | 0.00 | 0.00 | 0.00 | XXX
82190 |  | X | Atomic absorption | 0.00 | 0.00 | 0.00 | 0.00 | 0.00 | 0.00 | 0.00 | 0.00 | 0.00 | 0.00 | XXX
82205 |  | X | Assay of barbiturates | 0.00 | 0.00 | 0.00 | 0.00 | 0.00 | 0.00 | 0.00 | 0.00 | 0.00 | 0.00 | XXX
82232 |  | X | Assay of beta-2 protein | 0.00 | 0.00 | 0.00 | 0.00 | 0.00 | 0.00 | 0.00 | 0.00 | 0.00 | 0.00 | XXX
82239 |  | X | Bile acids, total | 0.00 | 0.00 | 0.00 | 0.00 | 0.00 | 0.00 | 0.00 | 0.00 | 0.00 | 0.00 | XXX
82240 |  | X | Bile acids, cholylglycine | 0.00 | 0.00 | 0.00 | 0.00 | 0.00 | 0.00 | 0.00 | 0.00 | 0.00 | 0.00 | XXX
82247 |  | X | Bilirubin, total | 0.00 | 0.00 | 0.00 | 0.00 | 0.00 | 0.00 | 0.00 | 0.00 | 0.00 | 0.00 | XXX
82248 |  | X | Bilirubin, direct | 0.00 | 0.00 | 0.00 | 0.00 | 0.00 | 0.00 | 0.00 | 0.00 | 0.00 | 0.00 | XXX
82251 |  | I | Assay of bilirubin | 0.00 | 0.00 | 0.00 | 0.00 | 0.00 | 0.00 | 0.00 | 0.00 | 0.00 | 0.00 | XXX
82252 |  | X | Fecal bilirubin test | 0.00 | 0.00 | 0.00 | 0.00 | 0.00 | 0.00 | 0.00 | 0.00 | 0.00 | 0.00 | XXX
82261 |  | X | Assay of biotinidase | 0.00 | 0.00 | 0.00 | 0.00 | 0.00 | 0.00 | 0.00 | 0.00 | 0.00 | 0.00 | XXX
82270 |  | X | Test for blood, feces | 0.00 | 0.00 | 0.00 | 0.00 | 0.00 | 0.00 | 0.00 | 0.00 | 0.00 | 0.00 | XXX
82273 |  | X | Test for blood, other source | 0.00 | 0.00 | 0.00 | 0.00 | 0.00 | 0.00 | 0.00 | 0.00 | 0.00 | 0.00 | XXX
82286 |  | X | Assay of bradykinin | 0.00 | 0.00 | 0.00 | 0.00 | 0.00 | 0.00 | 0.00 | 0.00 | 0.00 | 0.00 | XXX
82300 |  | X | Assay of cadmium | 0.00 | 0.00 | 0.00 | 0.00 | 0.00 | 0.00 | 0.00 | 0.00 | 0.00 | 0.00 | XXX
82306 |  | X | Assay of vitamin D | 0.00 | 0.00 | 0.00 | 0.00 | 0.00 | 0.00 | 0.00 | 0.00 | 0.00 | 0.00 | XXX
82307 |  | X | Assay of vitamin D | 0.00 | 0.00 | 0.00 | 0.00 | 0.00 | 0.00 | 0.00 | 0.00 | 0.00 | 0.00 | XXX
82308 |  | X | Assay of calcitonin | 0.00 | 0.00 | 0.00 | 0.00 | 0.00 | 0.00 | 0.00 | 0.00 | 0.00 | 0.00 | XXX
82310 |  | X | Assay of calcium | 0.00 | 0.00 | 0.00 | 0.00 | 0.00 | 0.00 | 0.00 | 0.00 | 0.00 | 0.00 | XXX
82330 |  | X | Assay of calcium | 0.00 | 0.00 | 0.00 | 0.00 | 0.00 | 0.00 | 0.00 | 0.00 | 0.00 | 0.00 | XXX
82331 |  | X | Calcium infusion test | 0.00 | 0.00 | 0.00 | 0.00 | 0.00 | 0.00 | 0.00 | 0.00 | 0.00 | 0.00 | XXX
82340 |  | X | Assay of calcium in urine | 0.00 | 0.00 | 0.00 | 0.00 | 0.00 | 0.00 | 0.00 | 0.00 | 0.00 | 0.00 | XXX
82355 |  | X | Calculus (stone) analysis | 0.00 | 0.00 | 0.00 | 0.00 | 0.00 | 0.00 | 0.00 | 0.00 | 0.00 | 0.00 | XXX
82360 |  | X | Calculus (stone) assay | 0.00 | 0.00 | 0.00 | 0.00 | 0.00 | 0.00 | 0.00 | 0.00 | 0.00 | 0.00 | XXX
82365 |  | X | Calculus (stone) assay | 0.00 | 0.00 | 0.00 | 0.00 | 0.00 | 0.00 | 0.00 | 0.00 | 0.00 | 0.00 | XXX
82370 |  | X | X-ray assay, calculus | 0.00 | 0.00 | 0.00 | 0.00 | 0.00 | 0.00 | 0.00 | 0.00 | 0.00 | 0.00 | XXX
82374 |  | X | Assay, blood carbon dioxide | 0.00 | 0.00 | 0.00 | 0.00 | 0.00 | 0.00 | 0.00 | 0.00 | 0.00 | 0.00 | XXX
82375 |  | X | Assay, blood carbon monoxide | 0.00 | 0.00 | 0.00 | 0.00 | 0.00 | 0.00 | 0.00 | 0.00 | 0.00 | 0.00 | XXX
82376 |  | X | Test for carbon monoxide | 0.00 | 0.00 | 0.00 | 0.00 | 0.00 | 0.00 | 0.00 | 0.00 | 0.00 | 0.00 | XXX
82378 |  | X | Carcinoembryonic antigen | 0.00 | 0.00 | 0.00 | 0.00 | 0.00 | 0.00 | 0.00 | 0.00 | 0.00 | 0.00 | XXX
82379 |  | X | Assay of carnitine | 0.00 | 0.00 | 0.00 | 0.00 | 0.00 | 0.00 | 0.00 | 0.00 | 0.00 | 0.00 | XXX
82380 |  | X | Assay of carotene | 0.00 | 0.00 | 0.00 | 0.00 | 0.00 | 0.00 | 0.00 | 0.00 | 0.00 | 0.00 | XXX
82382 |  | X | Assay, urine catecholamines | 0.00 | 0.00 | 0.00 | 0.00 | 0.00 | 0.00 | 0.00 | 0.00 | 0.00 | 0.00 | XXX
82383 |  | X | Assay, blood catecholamines | 0.00 | 0.00 | 0.00 | 0.00 | 0.00 | 0.00 | 0.00 | 0.00 | 0.00 | 0.00 | XXX
82384 |  | X | Assay, three catecholamines | 0.00 | 0.00 | 0.00 | 0.00 | 0.00 | 0.00 | 0.00 | 0.00 | 0.00 | 0.00 | XXX
82387 |  | X | Assay of cathepsin-d | 0.00 | 0.00 | 0.00 | 0.00 | 0.00 | 0.00 | 0.00 | 0.00 | 0.00 | 0.00 | XXX
82390 |  | X | Assay of ceruloplasmin | 0.00 | 0.00 | 0.00 | 0.00 | 0.00 | 0.00 | 0.00 | 0.00 | 0.00 | 0.00 | XXX
82397 |  | X | Chemiluminescent assay | 0.00 | 0.00 | 0.00 | 0.00 | 0.00 | 0.00 | 0.00 | 0.00 | 0.00 | 0.00 | XXX
82415 |  | X | Assay of chloramphenicol | 0.00 | 0.00 | 0.00 | 0.00 | 0.00 | 0.00 | 0.00 | 0.00 | 0.00 | 0.00 | XXX
82435 |  | X | Assay of blood chloride | 0.00 | 0.00 | 0.00 | 0.00 | 0.00 | 0.00 | 0.00 | 0.00 | 0.00 | 0.00 | XXX
82436 |  | X | Assay of urine chloride | 0.00 | 0.00 | 0.00 | 0.00 | 0.00 | 0.00 | 0.00 | 0.00 | 0.00 | 0.00 | XXX
82438 |  | X | Assay, other fluid chlorides | 0.00 | 0.00 | 0.00 | 0.00 | 0.00 | 0.00 | 0.00 | 0.00 | 0.00 | 0.00 | XXX
82441 |  | X | Test for chlorohydrocarbons | 0.00 | 0.00 | 0.00 | 0.00 | 0.00 | 0.00 | 0.00 | 0.00 | 0.00 | 0.00 | XXX
82465 |  | X | Assay of serum cholesterol | 0.00 | 0.00 | 0.00 | 0.00 | 0.00 | 0.00 | 0.00 | 0.00 | 0.00 | 0.00 | XXX
82480 |  | X | Assay, serum cholinesterase | 0.00 | 0.00 | 0.00 | 0.00 | 0.00 | 0.00 | 0.00 | 0.00 | 0.00 | 0.00 | XXX
82482 |  | X | Assay, rbc cholinesterase | 0.00 | 0.00 | 0.00 | 0.00 | 0.00 | 0.00 | 0.00 | 0.00 | 0.00 | 0.00 | XXX
82485 |  | X | Assay, chondroitin sulfate | 0.00 | 0.00 | 0.00 | 0.00 | 0.00 | 0.00 | 0.00 | 0.00 | 0.00 | 0.00 | XXX
82486 |  | X | Gas/liquid chromatography | 0.00 | 0.00 | 0.00 | 0.00 | 0.00 | 0.00 | 0.00 | 0.00 | 0.00 | 0.00 | XXX
82487 |  | X | Paper chromatography | 0.00 | 0.00 | 0.00 | 0.00 | 0.00 | 0.00 | 0.00 | 0.00 | 0.00 | 0.00 | XXX
82488 |  | X | Paper chromatography | 0.00 | 0.00 | 0.00 | 0.00 | 0.00 | 0.00 | 0.00 | 0.00 | 0.00 | 0.00 | XXX
82489 |  | X | Thin layer chromatography | 0.00 | 0.00 | 0.00 | 0.00 | 0.00 | 0.00 | 0.00 | 0.00 | 0.00 | 0.00 | XXX
82491 |  | X | Chromotography, quant, sing | 0.00 | 0.00 | 0.00 | 0.00 | 0.00 | 0.00 | 0.00 | 0.00 | 0.00 | 0.00 | XXX
82492 |  | X | Chromotography, quant, mult | 0.00 | 0.00 | 0.00 | 0.00 | 0.00 | 0.00 | 0.00 | 0.00 | 0.00 | 0.00 | XXX
82495 |  | X | Assay of chromium | 0.00 | 0.00 | 0.00 | 0.00 | 0.00 | 0.00 | 0.00 | 0.00 | 0.00 | 0.00 | XXX
82507 |  | X | Assay of citrate | 0.00 | 0.00 | 0.00 | 0.00 | 0.00 | 0.00 | 0.00 | 0.00 | 0.00 | 0.00 | XXX
82520 |  | X | Assay of cocaine | 0.00 | 0.00 | 0.00 | 0.00 | 0.00 | 0.00 | 0.00 | 0.00 | 0.00 | 0.00 | XXX
82523 |  | X | Collagen crosslinks | 0.00 | 0.00 | 0.00 | 0.00 | 0.00 | 0.00 | 0.00 | 0.00 | 0.00 | 0.00 | XXX
82525 |  | X | Assay of copper | 0.00 | 0.00 | 0.00 | 0.00 | 0.00 | 0.00 | 0.00 | 0.00 | 0.00 | 0.00 | XXX
82528 |  | X | Assay of corticosterone | 0.00 | 0.00 | 0.00 | 0.00 | 0.00 | 0.00 | 0.00 | 0.00 | 0.00 | 0.00 | XXX
82530 |  | X | Cortisol, free | 0.00 | 0.00 | 0.00 | 0.00 | 0.00 | 0.00 | 0.00 | 0.00 | 0.00 | 0.00 | XXX
82533 |  | X | Total cortisol | 0.00 | 0.00 | 0.00 | 0.00 | 0.00 | 0.00 | 0.00 | 0.00 | 0.00 | 0.00 | XXX
82540 |  | X | Assay of creatine | 0.00 | 0.00 | 0.00 | 0.00 | 0.00 | 0.00 | 0.00 | 0.00 | 0.00 | 0.00 | XXX
82541 |  | X | Column chromotography, qual | 0.00 | 0.00 | 0.00 | 0.00 | 0.00 | 0.00 | 0.00 | 0.00 | 0.00 | 0.00 | XXX
82542 |  | X | Column chromotography, quant | 0.00 | 0.00 | 0.00 | 0.00 | 0.00 | 0.00 | 0.00 | 0.00 | 0.00 | 0.00 | XXX
82543 |  | X | Column chromotograph/isotope | 0.00 | 0.00 | 0.00 | 0.00 | 0.00 | 0.00 | 0.00 | 0.00 | 0.00 | 0.00 | XXX
82544 |  | X | Column chromotograph/isotope | 0.00 | 0.00 | 0.00 | 0.00 | 0.00 | 0.00 | 0.00 | 0.00 | 0.00 | 0.00 | XXX
82550 |  | X | Assay of ck (cpk) | 0.00 | 0.00 | 0.00 | 0.00 | 0.00 | 0.00 | 0.00 | 0.00 | 0.00 | 0.00 | XXX
82552 |  | X | Assay of cpk in blood | 0.00 | 0.00 | 0.00 | 0.00 | 0.00 | 0.00 | 0.00 | 0.00 | 0.00 | 0.00 | XXX
82553 |  | X | Creatine, MB fraction | 0.00 | 0.00 | 0.00 | 0.00 | 0.00 | 0.00 | 0.00 | 0.00 | 0.00 | 0.00 | XXX
82554 |  | X | Creatine, isoforms | 0.00 | 0.00 | 0.00 | 0.00 | 0.00 | 0.00 | 00 | 0.00 | 0.00 | 0.00 | XXX
82565 |  | X | Assay of creatinine | 0.00 | 0.00 | 0.00 | 0.00 | 0.00 | 0.00 | 0.00 | 0.00 | 0.00 | 0.00 | XXX
82570 |  | X | Assay of urine creatinine | 0.00 | 0.00 | 0.00 | 0.00 | 0.00 | 0.00 | 0.00 | 0.00 | 0.00 | 0.00 | XXX
82575 |  | X | Creatinine clearance test | 0.00 | 0.00 | 0.00 | 0.00 | 0.00 | 0.00 | 0.00 | 0.00 | 0.00 | 0.00 | XXX
82585 |  | X | Assay of cryofibrinogen | 0.00 | 0.00 | 0.00 | 0.00 | 0.00 | 0.00 | 0.00 | 0.00 | 0.00 | 0.00 | XXX
82595 |  | X | Assay of cryoglobulin | 0.00 | 0.00 | 0.00 | 0.00 | 0.00 | 0.00 | 0.00 | 0.00 | 0.00 | 0.00 | XXX
82600 |  | X | Assay of cyanide | 0.00 | 0.00 | 0.00 | 0.00 | 0.00 | 0.00 | 0.00 | 0.00 | 0.00 | 0.00 | XXX
82607 |  | X | Vitamin B-12 | 0.00 | 0.00 | 0.00 | 0.00 | 0.00 | 0.00 | 0.00 | 0.00 | 0.00 | 0.00 | XXX
82608 |  | X | B-12 binding capacity | 0.00 | 0.00 | 0.00 | 0.00 | 0.00 | 0.00 | 0.00 | 0.00 | 0.00 | 0.00 | XXX
82615 |  | X | Test for urine cystines | 0.00 | 0.00 | 0.00 | 0.00 | 0.00 | 0.00 | 0.00 | 0.00 | 0.00 | 0.00 | XXX
82626 |  | X | Dehydroepiandrosterone | 0.00 | 0.00 | 0.00 | 0.00 | 0.00 | 0.00 | 0.00 | 0.00 | 0.00 | 0.00 | XXX
82627 |  | X | Dehydroepiandrosterone | 0.00 | 0.00 | 0.00 | 0.00 | 0.00 | 0.00 | 0.00 | 0.00 | 0.00 | 0.00 | XXX
82633 |  | X | Desoxycorticosterone | 0.00 | 0.00 | 0.00 | 0.00 | 0.00 | 0.00 | 0.00 | 0.00 | 0.00 | 0.00 | XXX
82634 |  | X | Deoxycortisol | 0.00 | 0.00 | 0.00 | 0.00 | 0.00 | 0.00 | 0.00 | 0.00 | 0.00 | 0.00 | XXX
82638 |  | X | Assay of dibucaine number | 0.00 | 0.00 | 0.00 | 0.00 | 0.00 | 0.00 | 0.00 | 0.00 | 0.00 | 0.00 | XXX
82646 |  | X | Assay of dihydrocodeinone | 0.00 | 0.00 | 0.00 | 0.00 | 0.00 | 0.00 | 0.00 | 0.00 | 0.00 | 0.00 | XXX
82649 |  | X | Assay of dihydromorphinone | 0.00 | 0.00 | 0.00 | 0.00 | 0.00 | 0.00 | 0.00 | 0.00 | 0.00 | 0.00 | XXX
82651 |  | X | Assay of dihydrotestosterone | 0.00 | 0.00 | 0.00 | 0.00 | 0.00 | 0.00 | 0.00 | 0.00 | 0.00 | 0.00 | XXX
82652 |  | X | Assay of dihydroxyvitamin d | 0.00 | 0.00 | 0.00 | 0.00 | 0.00 | 0.00 | 0.00 | 0.00 | 0.00 | 0.00 | XXX
82654 |  | X | Assay of dimethadione | 0.00 | 0.00 | 0.00 | 0.00 | 0.00 | 0.00 | 0.00 | 0.00 | 0.00 | 0.00 | XXX
82657 |  | X | Enzyme cell activity | 0.00 | 0.00 | 0.00 | 0.00 | 0.00 | 0.00 | 0.00 | 0.00 | 0.00 | 0.00 | XXX
82658 |  | X | Enzyme cell activity, ra | 0.00 | 0.00 | 0.00 | 0.00 | 0.00 | 0.00 | 0.00 | 0.00 | 0.00 | 0.00 | XXX
82664 |  | X | Electrophoretic test | 0.00 | 0.00 | 0.00 | 0.00 | 0.00 | 0.00 | 0.00 | 0.00 | 0.00 | 0.00 | XXX
82666 |  | X | Assay of epiandrosterone | 0.00 | 0.00 | 0.00 | 0.00 | 0.00 | 0.00 | 0.00 | 0.00 | 0.00 | 0.00 | XXX
82668 |  | X | Assay of erythropoietin | 0.00 | 0.00 | 0.00 | 0.00 | 0.00 | 0.00 | 0.00 | 0.00 | 0.00 | 0.00 | XXX
82670 |  | X | Assay of estradiol | 0.00 | 0.00 | 0.00 | 0.00 | 0.00 | 0.00 | 0.00 | 0.00 | 0.00 | 0.00 | XXX
82671 |  | X | Assay of estrogens | 0.00 | 0.00 | 0.00 | 0.00 | 0.00 | 0.00 | 0.00 | 0.00 | 0.00 | 0.00 | XXX
82672 |  | X | Assay of estrogen | 0.00 | 0.00 | 0.00 | 0.00 | 0.00 | 0.00 | 0.00 | 0.00 | 0.00 | 0.00 | XXX
82677 |  | X | Assay of estriol | 0.00 | 0.00 | 0.00 | 0.00 | 0.00 | 0.00 | 0.00 | 0.00 | 0.00 | 0.00 | XXX
82679 |  | X | Assay of estrone | 0.00 | 0.00 | 0.00 | 0.00 | 0.00 | 0.00 | 0.00 | 0.00 | 0.00 | 0.00 | XXX
82690 |  | X | Assay of ethchlorvynol | 0.00 | 0.00 | 0.00 | 0.00 | 0.00 | 0.00 | 0.00 | 0.00 | 0.00 | 0.00 | XXX
82693 |  | X | Assay of ethylene glycol | 0.00 | 0.00 | 0.00 | 0.00 | 0.00 | 0.00 | 0.00 | 0.00 | 0.00 | 0.00 | XXX
82696 |  | X | Assay of etiocholanolone | 0.00 | 0.00 | 0.00 | 0.00 | 0.00 | 0.00 | 0.00 | 0.00 | 0.00 | 0.00 | XXX
82705 |  | X | Fats/lipids, feces, qual | 0.00 | 0.00 | 0.00 | 0.00 | 0.00 | 0.00 | 0.00 | 0.00 | 0.00 | 0.00 | XXX
82710 |  | X | Fats/lipids, feces, quant | 0.00 | 0.00 | 0.00 | 0.00 | 0.00 | 0.00 | 0.00 | 0.00 | 0.00 | 0.00 | XXX
82715 |  | X | Assay of fecal fat | 0.00 | 0.00 | 0.00 | 0.00 | 0.00 | 0.00 | 0.00 | 0.00 | 0.00 | 0.00 | XXX
82725 |  | X | Assay of blood fatty acids | 0.00 | 0.00 | 0.00 | 0.00 | 0.00 | 0.00 | 0.00 | 0.00 | 0.00 | 0.00 | XXX
82726 |  | X | Long chain fatty acids | 0.00 | 0.00 | 0.00 | 0.00 | 0.00 | 0.00 | 0.00 | 0.00 | 0.00 | 0.00 | XXX
82728 |  | X | Assay of ferritin | 0.00 | 0.00 | 0.00 | 0.00 | 0.00 | 0.00 | 0.00 | 0.00 | 0.00 | 0.00 | XXX
82731 |  | X | Assay of fetal fibronectin | 0.00 | 0.00 | 0.00 | 0.00 | 0.00 | 0.00 | 0.00 | 0.00 | 0.00 | 0.00 | XXX
82735 |  | X | Assay of fluoride | 0.00 | 0.00 | 0.00 | 0.00 | 0.00 | 0.00 | 0.00 | 0.00 | 0.00 | 0.00 | XXX
82742 |  | X | Assay of flurazepam | 0.00 | 0.00 | 0.00 | 0.00 | 0.00 | 0.00 | 0.00 | 0.00 | 0.00 | 0.00 | XXX
82746 |  | X | Blood folic acid serum | 0.00 | 0.00 | 0.00 | 0.00 | 0.00 | 0.00 | 0.00 | 0.00 | 0.00 | 0.00 | XXX
82747 |  | X | Assay of folic acid, rbc | 0.00 | 0.00 | 0.00 | 0.00 | 0.00 | 0.00 | 0.00 | 0.00 | 0.00 | 0.00 | XXX
82757 |  | X | Assay of semen fructose | 0.00 | 0.00 | 0.00 | 0.00 | 0.00 | 0.00 | 0.00 | 0.00 | 0.00 | 0.00 | XXX
82759 |  | X | Assay of rbc galactokinase | 0.00 | 0.00 | 0.00 | 0.00 | 0.00 | 0.00 | 0.00 | 0.00 | 0.00 | 0.00 | XXX
82760 |  | X | Assay of galactose | 0.00 | 0.00 | 0.00 | 0.00 | 0.00 | 0.00 | 0.00 | 0.00 | 0.00 | 0.00 | XXX
82775 |  | X | Assay galactose transferase | 0.00 | 0.00 | 0.00 | 0.00 | 0.00 | 0.00 | 0.00 | 0.00 | 0.00 | 0.00 | XXX
82776 |  | X | Galactose transferase test | 0.00 | 0.00 | 0.00 | 0.00 | 0.00 | 0.00 | 0.00 | 0.00 | 0.00 | 0.00 | XXX
82784 |  | X | Assay of gammaglobulin igm | 0.00 | 0.00 | 0.00 | 0.00 | 0.00 | 0.00 | 0.00 | 0.00 | 0.00 | 0.00 | XXX
82785 |  | X | Assay of gammaglobulin ige | 0.00 | 0.00 | 0.00 | 0.00 | 0.00 | 0.00 | 0.00 | 0.00 | 0.00 | 0.00 | XXX
82787 |  | X | Igg 1, 2, 3 and 4 | 0.00 | 0.00 | 0.00 | 0.00 | 0.00 | 0.00 | 0.00 | 0.00 | 0.00 | 0.00 | XXX
82800 |  | X | Blood pH | 0.00 | 0.00 | 0.00 | 0.00 | 0.00 | 0.00 | 0.00 | 0.00 | 0.00 | 0.00 | XXX
82803 |  | X | Blood gases: pH, pO2 & pCO2 | 0.00 | 0.00 | 0.00 | 0.00 | 0.00 | 0.00 | 0.00 | 0.00 | 0.00 | 0.00 | XXX
82805 |  | X | Blood gases W/02 saturation | 0.00 | 0.00 | 0.00 | 0.00 | 0.00 | 0.00 | 0.00 | 0.00 | 0.00 | 0.00 | XXX
82810 |  | X | Blood gases, O2 sat only | 0.00 | 0.00 | 0.00 | 0.00 | 0.00 | 0.00 | 0.00 | 0.00 | 0.00 | 0.00 | XXX
82820 |  | X | Hemoglobin-oxygen affinity | 0.00 | 0.00 | 0.00 | 0.00 | 0.00 | 0.00 | 0.00 | 0.00 | 0.00 | 0.00 | XXX
82926 |  | X | Assay of gastric acid | 0.00 | 0.00 | 0.00 | 0.00 | 0.00 | 0.00 | 0.00 | 0.00 | 0.00 | 0.00 | XXX
82928 |  | X | Assay of gastric acid | 0.00 | 0.00 | 0.00 | 0.00 | 0.00 | 0.00 | 0.00 | 0.00 | 0.00 | 0.00 | XXX
82938 |  | X | Gastrin test | 0.00 | 0.00 | 0.00 | 0.00 | 0.00 | 0.00 | 0.00 | 0.00 | 0.00 | 0.00 | XXX
82941 |  | X | Assay of gastrin | 0.00 | 0.00 | 0.00 | 0.00 | 0.00 | 0.00 | 0.00 | 0.00 | 0.00 | 0.00 | XXX
82943 |  | X | Assay of glucagon | 0.00 | 0.00 | 0.00 | 0.00 | 0.00 | 0.00 | 0.00 | 0.00 | 0.00 | 0.00 | XXX
82946 |  | X | Glucagon tolerance test | 0.00 | 0.00 | 0.00 | 0.00 | 0.00 | 0.00 | 0.00 | 0.00 | 0.00 | 0.00 | XXX
82947 |  | X | Assay of glucose, quant | 0.00 | 0.00 | 0.00 | 0.00 | 0.00 | 0.00 | 0.00 | 0.00 | 0.00 | 0.00 | XXX
82948 |  | X | Reagent strip/blood glucose | 0.00 | 0.00 | 0.00 | 0.00 | 0.00 | 0.00 | 0.00 | 0.00 | 0.00 | 0.00 | XXX
82950 |  | X | Glucose test | 0.00 | 0.00 | 0.00 | 0.00 | 0.00 | 0.00 | 0.00 | 0.00 | 0.00 | 0.00 | XXX
82951 |  | X | Glucose tolerance test (GTT) | 0.00 | 0.00 | 0.00 | 0.00 | 0.00 | 0.00 | 0.00 | 0.00 | 0.00 | 0.00 | XXX
82952 |  | X | GTT-added samples | 0.00 | 0.00 | 0.00 | 0.00 | 0.00 | 0.00 | 0.00 | 0.00 | 0.00 | 0.00 | XXX
82953 |  | X | Glucose-tolbutamide test | 0.00 | 0.00 | 0.00 | 0.00 | 0.00 | 0.00 | 0.00 | 0.00 | 0.00 | 0.00 | XXX
82955 |  | X | Assay of g6pd enzyme | 0.00 | 0.00 | 0.00 | 0.00 | 0.00 | 0.00 | 0.00 | 0.00 | 0.00 | 0.00 | XXX
82960 |  | X | Test for G6PD enzyme | 0.00 | 0.00 | 0.00 | 0.00 | 0.00 | 0.00 | 0.00 | 0.00 | 0.00 | 0.00 | XXX
82962 |  | X | Glucose blood test | 0.00 | 0.00 | 0.00 | 0.00 | 0.00 | 0.00 | 0.00 | 0.00 | 0.00 | 0.00 | XXX
82963 |  | X | Assay of glucosidase | 0.00 | 0.00 | 0.00 | 0.00 | 0.00 | 0.00 | 0.00 | 0.00 | 0.00 | 0.00 | XXX
82965 |  | X | Assay of gdh enzyme | 0.00 | 0.00 | 0.00 | 0.00 | 0.00 | 0.00 | 0.00 | 0.00 | 0.00 | 0.00 | XXX
82975 |  | X | Assay of glutamine | 0.00 | 0.00 | 0.00 | 0.00 | 0.00 | 0.00 | 0.00 | 0.00 | 0.00 | 0.00 | XXX
82977 |  | X | Assay of GGT | 0.00 | 0.00 | 0.00 | 0.00 | 0.00 | 0.00 | 0.00 | 0.00 | 0.00 | 0.00 | XXX
82978 |  | X | Assay of glutathione | 0.00 | 0.00 | 0.00 | 0.00 | 0.00 | 0.00 | 0.00 | 0.00 | 0.00 | 0.00 | XXX
82979 |  | X | Assay, rbc glutathione | 0.00 | 0.00 | 0.00 | 0.00 | 0.00 | 0.00 | 0.00 | 0.00 | 0.00 | 0.00 | XXX
82980 |  | X | Assay of glutethimide | 0.00 | 0.00 | 0.00 | 0.00 | 0.00 | 0.00 | 0.00 | 0.00 | 0.00 | 0.00 | XXX
82985 |  | X | Glycated protein | 0.00 | 0.00 | 0.00 | 0.00 | 0.00 | 0.00 | 0.00 | 0.00 | 0.00 | 0.00 | XXX
83001 |  | X | Gonadotropin (FSH) | 0.00 | 0.00 | 0.00 | 0.00 | 0.00 | 0.00 | 0.00 | 0.00 | 0.00 | 0.00 | XXX
83002 |  | X | Gonadotropin (LH) | 0.00 | 0.00 | 0.00 | 0.00 | 0.00 | 0.00 | 0.00 | 0.00 | 0.00 | 0.00 | XXX
83003 |  | X | Assay, growth hormone (hgh) | 0.00 | 0.00 | 0.00 | 0.00 | 0.00 | 0.00 | 0.00 | 0.00 | 0.00 | 0.00 | XXX
????? |  | X | Assay of guanosine | 0.00 | 0.00 | 0.00 | 0.00 | 0.00 | 0.00 | 0.00 | 0.00 | 0.00 | 0.00 | XXX
83010 |  | X | Assay of haptoglobin, quant | 0.00 | 0.00 | 0.00 | 0.00 | 0.00 | 0.00 | 0.00 | 0.00 | 0.00 | 0.00 | XXX
83012 |  | X | Assay of haptoglobins | 0.00 | 0.00 | 0.00 | 0.00 | 0.00 | 0.00 | 0.00 | 0.00 | 0.00 | 0.00 | XXX
83013 |  | X | H pylori breath tst analysis | 0.00 | 0.00 | 0.00 | 0.00 | 0.00 | 0.00 | 0.00 | 0.00 | 0.00 | 0.00 | XXX
83014 |  | X | H pylori drug admin/collect | 0.00 | 0.00 | 0.00 | 0.00 | 0.00 | 0.00 | 0.00 | 0.00 | 0.00 | 0.00 | XXX
83015 |  | X | Heavy metal screen | 0.00 | 0.00 | 0.00 | 0.00 | 0.00 | 0.00 | 0.00 | 0.00 | 0.00 | 0.00 | XXX
83018 |  | X | Quantitative screen, metals | 0.00 | 0.00 | 0.00 | 0.00 | 0.00 | 0.00 | 0.00 | 0.00 | 0.00 | 0.00 | XXX
83020 |  | X | Hemoglobin electrophoresis | 0.00 | 0.00 | 0.00 | 0.00 | 0.00 | 0.00 | 0.00 | 0.00 | 0.00 | 0.00 | XXX
83020 | 26 | A | Hemoglobin electrophoresis | 0.37 | 0.16 | 0.18 | 0.16 | 0.18 | 0.01 | 0.54 | 0.56 | 0.54 | 0.56 | XXX
83021 |  | X | Hemoglobin chromotography | 0.00 | 0.00 | 0.00 | 0.00 | 0.00 | 0.00 | 0.00 | 0.00 | 0.00 | 0.00 | XXX
83026 |  | X | Hemoglobin, copper sulfate | 0.00 | 0.00 | 0.00 | 0.00 | 0.00 | 0.00 | 0.00 | 0.00 | 0.00 | 0.00 | XXX
83030 |  | X | Fetal hemoglobin assay | 0.00 | 0.00 | 0.00 | 0.00 | 0.00 | 0.00 | 0.00 | 0.00 | 0.00 | 0.00 | XXX
83033 |  | X | Fetal fecal hemoglobin assay | 0.00 | 0.00 | 0.00 | 0.00 | 0.00 | 0.00 | 0.00 | 0.00 | 0.00 | 0.00 | XXX
83036 |  | X | Glycated hemoglobin test | 0.00 | 0.00 | 0.00 | 0.00 | 0.00 | 0.00 | 0.00 | 0.00 | 0.00 | 0.00 | XXX
83045 |  | X | Blood methemoglobin test | 0.00 | 0.00 | 0.00 | 0.00 | 0.00 | 0.00 | 0.00 | 0.00 | 0.00 | 0.00 | XXX
83050 |  | X | Blood methemoglobin assay | 0.00 | 0.00 | 0.00 | 0.00 | 0.00 | 0.00 | 0.00 | 0.00 | 0.00 | 0.00 | XXX
83051 |  | X | Assay of plasma hemoglobin | 0.00 | 0.00 | 0.00 | 0.00 | 0.00 | 0.00 | 0.00 | 0.00 | 0.00 | 0.00 | XXX
83055 |  | X | Blood sulfhemoglobin test | 0.00 | 0.00 | 0.00 | 0.00 | 0.00 | 0.00 | 0.00 | 0.00 | 0.00 | 0.00 | XXX
83060 |  | X | Blood sulfhemoglobin assay | 0.00 | 0.00 | 0.00 | 0.00 | 0.00 | 0.00 | 0.00 | 0.00 | 0.00 | 0.00 | XXX
83065 |  | X | Assay of hemoglobin heat | 0.00 | 0.00 | 0.00 | 0.00 | 0.00 | 0.00 | 0.00 | 0.00 | 0.00 | 0.00 | XXX
83068 |  | X | Hemoglobin stability screen | 0.00 | 0.00 | 0.00 | 0.00 | 0.00 | 0.00 | 0.00 | 0.00 | 0.00 | 0.00 | XXX
83069 |  | X | Assay of urine hemoglobin | 0.00 | 0.00 | 0.00 | 0.00 | 0.00 | 0.00 | 0.00 | 0.00 | 0.00 | 0.00 | XXX
83070 |  | X | Assay of hemosiderin, qual | 0.00 | 0.00 | 0.00 | 0.00 | 0.00 | 0.00 | 0.00 | 0.00 | 0.00 | 0.00 | XXX
83071 |  | X | Assay of hemosiderin, quant | 0.00 | 0.00 | 0.00 | 0.00 | 0.00 | 0.00 | 0.00 | 0.00 | 0.00 | 0.00 | XXX
83080 |  | X | Assay of b hexosaminidase | 0.00 | 0.00 | 0.00 | 0.00 | 0.00 | 0.00 | 0.00 | 0.00 | 0.00 | 0.00 | XXX
83088 |  | X | Assay of histamine | 0.00 | 0.00 | 0.00 | 0.00 | 0.00 | 0.00 | 0.00 | 0.00 | 0.00 | 0.00 | XXX
83150 |  | X | Assay of for hva | 0.00 | 0.00 | 0.00 | 0.00 | 0.00 | 0.00 | 0.00 | 0.00 | 0.00 | 0.00 | XXX
83491 |  | X | Assay of corticosteroids | 0.00 | 0.00 | 0.00 | 0.00 | 0.00 | 0.00 | 0.00 | 0.00 | 0.00 | 0.00 | XXX
83497 |  | X | Assay of 5-hiaa | 0.00 | 0.00 | 0.00 | 0.00 | 0.00 | 0.00 | 0.00 | 0.00 | 0.00 | 0.00 | XXX
83498 |  | X | Assay of progesterone | 0.00 | 0.00 | 0.00 | 0.00 | 0.00 | 0.00 | 0.00 | 0.00 | 0.00 | 0.00 | XXX
83499 |  | X | Assay of progesterone | 0.00 | 0.00 | 0.00 | 0.00 | 0.00 | 0.00 | 0.00 | 0.00 | 0.00 | 0.00 | XXX
83500 |  | X | Assay, free hydroxyproline | 0.00 | 0.00 | 0.00 | 0.00 | 0.00 | 0.00 | 0.00 | 0.00 | 0.00 | 0.00 | XXX
83505 |  | X | Assay, total hydroxyproline | 0.00 | 0.00 | 0.00 | 0.00 | 0.00 | 0.00 | 0.00 | 0.00 | 0.00 | 0.00 | XXX
83516 |  | X | Immunoassay, nonantibody | 0.00 | 0.00 | 0.00 | 0.00 | 0.00 | 0.00 | 0.00 | 0.00 | 0.00 | 0.00 | XXX
83518 |  | X | Immunoassay, dipstick | 0.00 | 0.00 | 0.00 | 0.00 | 0.00 | 0.00 | 0.00 | 0.00 | 0.00 | 0.00 | XXX
83519 |  | X | Immunoassay, nonantibody | 0.00 | 0.00 | 0.00 | 0.00 | 0.00 | 0.00 | 0.00 | 0.00 | 0.00 | 0.00 | XXX
83520 |  | X | Immunoassay, RIA | 0.00 | 0.00 | 0.00 | 0.00 | 0.00 | 0.00 | 0.00 | 0.00 | 0.00 | 0.00 | XXX
83525 |  | X | Assay of insulin | 0.00 | 0.00 | 0.00 | 0.00 | 0.00 | 0.00 | 0.00 | 0.00 | 0.00 | 0.00 | XXX
83527 |  | X | Assay of insulin | 0.00 | 0.00 | 0.00 | 0.00 | 0.00 | 0.00 | 0.00 | 0.00 | 0.00 | 0.00 | XXX
83528 |  | X | Assay of intrinsic factor | 0.00 | 0.00 | 0.00 | 0.00 | 0.00 | 0.00 | 0.00 | 0.00 | 0.00 | 0.00 | XXX
83540 |  | X | Assay of iron | 0.00 | 0.00 | 0.00 | 0.00 | 0.00 | 0.00 | 0.00 | 0.00 | 0.00 | 0.00 | XXX
83550 |  | X | Iron binding test | 0.00 | 0.00 | 0.00 | 0.00 | 0.00 | 0.00 | 0.00 | 0.00 | 0.00 | 0.00 | XXX
83570 |  | X | Assay of idh enzyme | 0.00 | 0.00 | 0.00 | 0.00 | 0.00 | 0.00 | 0.00 | 0.00 | 0.00 | 0.00 | XXX
83582 |  | X | Assay of ketogenic steroids | 0.00 | 0.00 | 0.00 | 0.00 | 0.00 | 0.00 | 0.00 | 0.00 | 0.00 | 0.00 | XXX
83586 |  | X | Assay 17-ketosteroids | 0.00 | 0.00 | 0.00 | 0.00 | 0.00 | 0.00 | 0.00 | 0.00 | 0.00 | 0.00 | XXX
83593 |  | X | Fractionation, ketosteroids | 0.00 | 0.00 | 0.00 | 0.00 | 0.00 | 0.00 | 0.00 | 0.00 | 0.00 | 0.00 | XXX
83605 |  | X | Assay of lactic acid | 0.00 | 0.00 | 0.00 | 0.00 | 0.00 | 0.00 | 0.00 | 0.00 | 0.00 | 0.00 | XXX
83615 |  | X | Lactate (LD) (LDH) enzyme | 0.00 | 0.00 | 0.00 | 0.00 | 0.00 | 0.00 | 0.00 | 0.00 | 0.00 | 0.00 | XXX
83625 |  | X | Assay of ldh enzymes | 0.00 | 0.00 | 0.00 | 0.00 | 0.00 | 0.00 | 0.00 | 0.00 | 0.00 | 0.00 | XXX
83632 |  | X | Placental lactogen | 0.00 | 0.00 | 0.00 | 0.00 | 0.00 | 0.00 | 0.00 | 0.00 | 0.00 | 0.00 | XXX
83633 |  | X | Test urine for lactose | 0.00 | 0.00 | 0.00 | 0.00 | 0.00 | 0.00 | 0.00 | 0.00 | 0.00 | 0.00 | XXX
83634 |  | X | Assay of urine for lactose | 0.00 | 0.00 | 0.00 | 0.00 | 0.00 | 0.00 | 0.00 | 0.00 | 0.00 | 0.00 | XXX
83655 |  | X | Assay of lead | 0.00 | 0.00 | 0.00 | 0.00 | 0.00 | 0.00 | 0.00 | 0.00 | 0.00 | 0.00 | XXX
83661 |  | X | Assay of l/s ratio | 0.00 | 0.00 | 0.00 | 0.00 | 0.00 | 0.00 | 0.00 | 0.00 | 0.00 | 0.00 | XXX
83662 |  | X | L/S ratio, foam stability | 0.00 | 0.00 | 0.00 | 0.00 | 0.00 | 0.00 | 0.00 | 0.00 | 0.00 | 0.00 | XXX
83670 |  | X | Assay of lap enzyme | 0.00 | 0.00 | 0.00 | 0.00 | 0.00 | 0.00 | 0.00 | 0.00 | 0.00 | 0.00 | XXX
83690 |  | X | Assay of lipase | 0.00 | 0.00 | 0.00 | 0.00 | 0.00 | 0.00 | 0.00 | 0.00 | 0.00 | 0.00 | XXX
83715 |  | X | Assay of blood lipoproteins | 0.00 | 0.00 | 0.00 | 0.00 | 0.00 | 0.00 | 0.00 | 0.00 | 0.00 | 0.00 | XXX
83716 |  | X | Assay of blood lipoproteins | 0.00 | 0.00 | 0.00 | 0.00 | 0.00 | 0.00 | 0.00 | 0.00 | 0.00 | 0.00 | XXX
83718 |  | X | Assay of lipoprotein | 0.00 | 0.00 | 0.00 | 0.00 | 0.00 | 0.00 | 0.00 | 0.00 | 0.00 | 0.00 | XXX
83719 |  | X | Assay of blood lipoprotein | 0.00 | 0.00 | 0.00 | 0.00 | 0.00 | 0.00 | 0.00 | 0.00 | 0.00 | 0.00 | XXX
83721 |  | X | Assay of blood lipoprotein | 0.00 | 0.00 | 0.00 | 0.00 | 0.00 | 0.00 | 0.00 | 0.00 | 0.00 | 0.00 | XXX
83727 |  | X | Assay of lrh hormone | 0.00 | 0.00 | 0.00 | 0.00 | 0.00 | 0.00 | 0.00 | 0.00 | 0.00 | 0.00 | XXX
83735 |  | X | Assay of magnesium | 0.00 | 0.00 | 0.00 | 0.00 | 0.00 | 0.00 | 0.00 | 0.00 | 0.00 | 0.00 | XXX
83775 |  | X | Assay of md enzyme | 0.00 | 0.00 | 0.00 | 0.00 | 0.00 | 0.00 | 0.00 | 0.00 | 0.00 | 0.00 | XXX
83785 |  | X | Assay of manganese | 0.00 | 0.00 | 0.00 | 0.00 | 0.00 | 0.00 | 0.00 | 0.00 | 0.00 | 0.00 | XXX
83788 |  | X | Mass spectrometry qual | 0.00 | 0.00 | 0.00 | 0.00 | 0.00 | 0.00 | 0.00 | 0.00 | 0.00 | 0.00 | XXX
83789 |  | X | Mass spectrometry quant | 0.00 | 0.00 | 0.00 | 0.00 | 0.00 | 0.00 | 0.00 | 0.00 | 0.00 | 0.00 | XXX
83805 |  | X | Assay of meprobamate | 0.00 | 0.00 | 0.00 | 0.00 | 0.00 | 0.00 | 0.00 | 0.00 | 0.00 | 0.00 | XXX
83825 |  | X | Assay of mercury | 0.00 | 0.00 | 0.00 | 0.00 | 0.00 | 0.00 | 0.00 | 0.00 | 0.00 | 0.00 | XXX
83835 |  | X | Assay of metanephrines | 0.00 | 0.00 | 0.00 | 0.00 | 0.00 | 0.00 | 0.00 | 0.00 | 0.00 | 0.00 | XXX
83840 |  | X | Assay of methadone | 0.00 | 0.00 | 0.00 | 0.00 | 0.00 | 0.00 | 0.00 | 0.00 | 0.00 | 0.00 | XXX
83857 |  | X | Assay of methemalbumin | 0.00 | 0.00 | 0.00 | 0.00 | 0.00 | 0.00 | 0.00 | 0.00 | 0.00 | 0.00 | XXX
83858 |  | X | Assay of methsuximide | 0.00 | 0.00 | 0.00 | 0.00 | 0.00 | 0.00 | 0.00 | 0.00 | 0.00 | 0.00 | XXX
83864 |  | X | Mucopolysaccharides | 0.00 | 0.00 | 0.00 | 0.00 | 0.00 | 0.00 | 0.00 | 0.00 | 0.00 | 0.00 | XXX
83866 |  | X | Mucopolysaccharides screen | 0.00 | 0.00 | 0.00 | 0.00 | 0.00 | 0.00 | 0.00 | 0.00 | 0.00 | 0.00 | XXX
83872 |  | X | Assay synovial fluid mucin | 0.00 | 0.00 | 0.00 | 0.00 | 0.00 | 0.00 | 0.00 | 0.00 | 0.00 | 0.00 | XXX
83873 |  | X | Assay of csf protein | 0.00 | 0.00 | 0.00 | 0.00 | 0.00 | 0.00 | 0.00 | 0.00 | 0.00 | 0.00 | XXX
83874 |  | X | Assay of myoglobin | 0.00 | 0.00 | 0.00 | 0.00 | 0.00 | 0.00 | 0.00 | 0.00 | 0.00 | 0.00 | XXX
83883 |  | X | Assay, nephelometry not spec | 0.00 | 0.00 | 0.00 | 0.00 | 0.00 | 0.00 | 0.00 | 0.00 | 0.00 | 0.00 | XXX
83885 |  | X | Assay of nickel | 0.00 | 0.00 | 0.00 | 0.00 | 0.00 | 0.00 | 0.00 | 0.00 | 0.00 | 0.00 | XXX
83887 |  | X | Assay of nicotine | 0.00 | 0.00 | 0.00 | 0.00 | 0.00 | 0.00 | 0.00 | 0.00 | 0.00 | 0.00 | XXX
83890 |  | X | Molecule isolate | 0.00 | 0.00 | 0.00 | 0.00 | 0.00 | 0.00 | 0.00 | 0.00 | 0.00 | 0.00 | XXX
83891 |  | X | Molecule isolate nucleic | 0.00 | 0.00 | 0.00 | 0.00 | 0.00 | 0.00 | 0.00 | 0.00 | 0.00 | 0.00 | XXX
83892 |  | X | Molecular diagnostics | 0.00 | 0.00 | 0.00 | 0.00 | 0.00 | 0.00 | 0.00 | 0.00 | 0.00 | 0.00 | XXX
83893 |  | X | Molecule dot/slot/blot | 0.00 | 0.00 | 0.00 | 0.00 | 0.00 | 0.00 | 0.00 | 0.00 | 0.00 | 0.00 | XXX
83894 |  | X | Molecule gel electrophor | 0.00 | 0.00 | 0.00 | 0.00 | 0.00 | 0.00 | 0.00 | 0.00 | 0.00 | 0.00 | XXX
83896 |  | X | Molecular diagnostics | 0.00 | 0.00 | 0.00 | 0.00 | 0.00 | 0.00 | 0.00 | 0.00 | 0.00 | 0.00 | XXX
83897 |  | X | Molecule nucleic transfer | 0.00 | 0.00 | 0.00 | 0.00 | 0.00 | 0.00 | 0.00 | 0.00 | 0.00 | 0.00 | XXX
83898 |  | X | Molecule nucleic ampli | 0.00 | 0.00 | 0.00 | 0.00 | 0.00 | 0.00 | 0.00 | 0.00 | 0.00 | 0.00 | XXX
83901 |  | X | Molecule nucleic ampli | 0.00 | 0.00 | 0.00 | 0.00 | 0.00 | 0.00 | 0.00 | 0.00 | 0.00 | 0.00 | XXX
83902 |  | X | Molecular diagnostics | 0.00 | 0.00 | 0.00 | 0.00 | 0.00 | 0.00 | 0.00 | 0.00 | 0.00 | 0.00 | XXX
83903 |  | X | Molecule mutation scan | 0.00 | 0.00 | 0.00 | 0.00 | 0.00 | 0.00 | 0.00 | 0.00 | 0.00 | 0.00 | XXX
83904 |  | X | Molecule mutation identify | 0.00 | 0.00 | 0.00 | 0.00 | 0.00 | 0.00 | 0.00 | 0.00 | 0.00 | 0.00 | XXX
83905 |  | X | Molecule mutation identify | 0.00 | 0.00 | 0.00 | 0.00 | 0.00 | 0.00 | 0.00 | 0.00 | 0.00 | 0.00 | XXX
83906 |  | X | Molecule mutation identify | 0.00 | 0.00 | 0.00 | 0.00 | 0.00 | 0.00 | 0.00 | 0.00 | 0.00 | 0.00 | XXX
83912 |  | X | Genetic examination | 0.00 | 0.00 | 0.00 | 0.00 | 0.00 | 0.00 | 0.00 | 0.00 | 0.00 | 0.00 | XXX
83912 | 26 | A | Genetic examination | 0.37 | 0.18 | 0.19 | 0.16 | 0.18 | 0.01 | 0.56 | 0.57 | 0.54 | 0.56 | XXX
83915 |  | X | Assay of nucleotidase | 0.00 | 0.00 | 0.00 | 0.00 | 0.00 | 0.00 | 0.00 | 0.00 | 0.00 | 0.00 | XXX
83916 |  | X | Oligoclonal bands | 0.00 | 0.00 | 0.00 | 0.00 | 0.00 | 0.00 | 0.00 | 0.00 | 0.00 | 0.00 | XXX
83918 |  | X | Assay, organic acids quant | 0.00 | 0.00 | 0.00 | 0.00 | 0.00 | 0.00 | 0.00 | 0.00 | 0.00 | 0.00 | XXX
83919 |  | X | Assay, organic acids qual | 0.00 | 0.00 | 0.00 | 0.00 | 0.00 | 0.00 | 0.00 | 0.00 | 0.00 | 0.00 | XXX
83925 |  | X | Assay of opiates | 0.00 | 0.00 | 0.00 | 0.00 | 0.00 | 0.00 | 0.00 | 0.00 | 0.00 | 0.00 | XXX
83930 |  | X | Assay of blood osmolality | 0.00 | 0.00 | 0.00 | 0.00 | 0.00 | 0.00 | 0.00 | 0.00 | 0.00 | 0.00 | XXX
83935 |  | X | Assay of urine osmolality | 0.00 | 0.00 | 0.00 | 0.00 | 0.00 | 0.00 | 0.00 | 0.00 | 0.00 | 0.00 | XXX
83937 |  | X | Assay of osteocalcin | 0.00 | 0.00 | 0.00 | 0.00 | 0.00 | 0.00 | 0.00 | 0.00 | 0.00 | 0.00 | XXX
83945 |  | X | Assay of oxalate | 0.00 | 0.00 | 0.00 | 0.00 | 0.00 | 0.00 | 0.00 | 0.00 | 0.00 | 0.00 | XXX
83970 |  | X | Assay of parathormone | 0.00 | 0.00 | 0.00 | 0.00 | 0.00 | 0.00 | 0.00 | 0.00 | 0.00 | 0.00 | XXX
83986 |  | X | Assay of body fluid acidity | 0.00 | 0.00 | 0.00 | 0.00 | 0.00 | 0.00 | 0.00 | 0.00 | 0.00 | 0.00 | XXX
83992 |  | X | Assay for phencyclidine | 0.00 | 0.00 | 0.00 | 0.00 | 0.00 | 0.00 | 0.00 | 0.00 | 0.00 | 0.00 | XXX
84022 |  | X | Assay of phenothiazine | 0.00 | 0.00 | 0.00 | 0.00 | 0.00 | 0.00 | 0.00 | 0.00 | 0.00 | 0.00 | XXX
84030 |  | X | Assay of blood pku | 0.00 | 0.00 | 0.00 | 0.00 | 0.00 | 0.00 | 0.00 | 0.00 | 0.00 | 0.00 | XXX
84035 |  | X | Assay of phenylketones | 0.00 | 0.00 | 0.00 | 0.00 | 0.00 | 0.00 | 0.00 | 0.00 | 0.00 | 0.00 | XXX
84060 |  | X | Assay acid phosphatase | 0.00 | 0.00 | 0.00 | 0.00 | 0.00 | 0.00 | 0.00 | 0.00 | 0.00 | 0.00 | XXX
84061 |  | X | Phosphatase, forensic exam | 0.00 | 0.00 | 0.00 | 0.00 | 0.00 | 0.00 | 0.00 | 0.00 | 0.00 | 0.00 | XXX
84066 |  | X | Assay prostate phosphatase | 0.00 | 0.00 | 0.00 | 0.00 | 0.00 | 0.00 | 0.00 | 0.00 | 0.00 | 0.00 | XXX
84075 |  | X | Assay alkaline phosphatase | 0.00 | 0.00 | 0.00 | 0.00 | 0.00 | 0.00 | 0.00 | 0.00 | 0.00 | 0.00 | XXX
84078 |  | X | Assay alkaline phosphatase | 0.00 | 0.00 | 0.00 | 0.00 | 0.00 | 0.00 | 0.00 | 0.00 | 0.00 | 0.00 | XXX
84080 |  | X | Assay alkaline phosphatases | 0.00 | 0.00 | 0.00 | 0.00 | 0.00 | 0.00 | 0.00 | 0.00 | 0.00 | 0.00 | XXX
84081 |  | X | Amniotic fluid enzyme test | 0.00 | 0.00 | 0.00 | 0.00 | 0.00 | 0.00 | 0.00 | 0.00 | 0.00 | 0.00 | XXX
84085 |  | X | Assay of rbc pg6d enzyme | 0.00 | 0.00 | 0.00 | 0.00 | 0.00 | 0.00 | 0.00 | 0.00 | 0.00 | 0.00 | XXX
84087 |  | X | Assay phosphohexose enzymes | 0.00 | 0.00 | 0.00 | 0.00 | 0.00 | 0.00 | 0.00 | 0.00 | 0.00 | 0.00 | XXX
84100 |  | X | Assay of phosphorus | 0.00 | 0.00 | 0.00 | 0.00 | 0.00 | 0.00 | 0.00 | 0.00 | 0.00 | 0.00 | XXX
84105 |  | X | Assay of urine phosphorus | 0.00 | 0.00 | 0.00 | 0.00 | 0.00 | 0.00 | 0.00 | 0.00 | 0.00 | 0.00 | XXX
84106 |  | X | Test for porphobilinogen | 0.00 | 0.00 | 0.00 | 0.00 | 0.00 | 0.00 | 0.00 | 0.00 | 0.00 | 0.00 | XXX
84110 |  | X | Assay of porphobilinogen | 0.00 | 0.00 | 0.00 | 0.00 | 0.00 | 0.00 | 0.00 | 0.00 | 0.00 | 0.00 | XXX
84119 |  | X | Test urine for porphyrins | 0.00 | 0.00 | 0.00 | 0.00 | 0.00 | 0.00 | 0.00 | 0.00 | 0.00 | 0.00 | XXX
84120 |  | X | Assay of urine porphyrins | 0.00 | 0.00 | 0.00 | 0.00 | 0.00 | 0.00 | 0.00 | 0.00 | 0.00 | 0.00 | XXX
84126 |  | X | Assay of feces porphyrins | 0.00 | 0.00 | 0.00 | 0.00 | 0.00 | 0.00 | 0.00 | 0.00 | 0.00 | 0.00 | XXX
84127 |  | X | Assay of feces porphyrins | 0.00 | 0.00 | 0.00 | 0.00 | 0.00 | 0.00 | 0.00 | 0.00 | 0.00 | 0.00 | XXX
84132 |  | X | Assay of serum potassium | 0.00 | 0.00 | 0.00 | 0.00 | 0.00 | 0.00 | 0.00 | 0.00 | 0.00 | 0.00 | XXX
84133 |  | X | Assay of urine potassium | 0.00 | 0.00 | 0.00 | 0.00 | 0.00 | 0.00 | 0.00 | 0.00 | 0.00 | 0.00 | XXX
84134 |  | X | Assay of prealbumin | 0.00 | 0.00 | 0.00 | 0.00 | 0.00 | 0.00 | 0.00 | 0.00 | 0.00 | 0.00 | XXX
84135 |  | X | Assay of pregnanediol | 0.00 | 0.00 | 0.00 | 0.00 | 0.00 | 0.00 | 0.00 | 0.00 | 0.00 | 0.00 | XXX
84138 |  | X | Assay of pregnanetriol | 0.00 | 0.00 | 0.00 | 0.00 | 0.00 | 0.00 | 0.00 | 0.00 | 0.00 | 0.00 | XXX
84140 |  | X | Assay of pregnenolone | 0.00 | 0.00 | 0.00 | 0.00 | 0.00 | 0.00 | 0.00 | 0.00 | 0.00 | 0.00 | XXX
84143 |  | X | Assay of 17-hydroxypregneno | 0.00 | 0.00 | 0.00 | 0.00 | 0.00 | 0.00 | 0.00 | 0.00 | 0.00 | 0.00 | XXX
84144 |  | X | Assay of progesterone | 0.00 | 0.00 | 0.00 | 0.00 | 0.00 | 0.00 | 0.00 | 0.00 | 0.00 | 0.00 | XXX
84146 |  | X | Assay of prolactin | 0.00 | 0.00 | 0.00 | 0.00 | 0.00 | 0.00 | 0.00 | 0.00 | 0.00 | 0.00 | XXX
84150 |  | X | Assay of prostaglandin | 0.00 | 0.00 | 0.00 | 0.00 | 0.00 | 0.00 | 0.00 | 0.00 | 0.00 | 0.00 | XXX
84153 |  | X | Assay of psa, total | 0.00 | 0.00 | 0.00 | 0.00 | 0.00 | 0.00 | 0.00 | 0.00 | 0.00 | 0.00 | XXX
84154 |  | X | Assay of psa, free | 0.00 | 0.00 | 0.00 | 0.00 | 0.00 | 0.00 | 0.00 | 0.00 | 0.00 | 0.00 | XXX
84155 |  | X | Assay of protein | 0.00 | 0.00 | 0.00 | 0.00 | 0.00 | 0.00 | 0.00 | 0.00 | 0.00 | 0.00 | XXX
84160 |  | X | Assay of serum protein | 0.00 | 0.00 | 0.00 | 0.00 | 0.00 | 0.00 | 0.00 | 0.00 | 0.00 | 0.00 | XXX
84165 |  | X | Assay of serum proteins | 0.00 | 0.00 | 0.00 | 0.00 | 0.00 | 0.00 | 0.00 | 0.00 | 0.00 | 0.00 | XXX
84165 | 26 | A | Assay of serum proteins | 0.37 | 0.17 | 0.18 | 0.16 | 0.18 | 0.01 | 0.55 | 0.56 | 0.54 | 0.56 | XXX
84181 |  | X | Western blot test | 0.00 | 0.00 | 0.00 | 0.00 | 0.00 | 0.00 | 0.00 | 0.00 | 0.00 | 0.00 | XXX
84181 | 26 | A | Western blot test | 0.37 | 0.15 | 0.17 | 0.15 | 0.17 | 0.01 | 0.53 | 0.55 | 0.53 | 0.55 | XXX
84182 |  | X | Protein, western blot test | 0.00 | 0.00 | 0.00 | 0.00 | 0.00 | 0.00 | 0.00 | 0.00 | 0.00 | 0.00 | XXX
84182 | 26 | A | Protein, western blot test | 0.37 | 0.15 | 0.17 | 0.15 | 0.17 | 0.01 | 0.53 | 0.55 | 0.53 | 0.55 | XXX
84202 |  | X | Assay RBC protoporphyrin | 0.00 | 0.00 | 0.00 | 0.00 | 0.00 | 0.00 | 0.00 | 0.00 | 0.00 | 0.00 | XXX
84203 |  | X | Test RBC protoporphyrin | 0.00 | 0.00 | 0.00 | 0.00 | 0.00 | 0.00 | 0.00 | 0.00 | 0.00 | 0.00 | XXX
84206 |  | X | Assay of proinsulin | 0.00 | 0.00 | 0.00 | 0.00 | 0.00 | 0.00 | 0.00 | 0.00 | 0.00 | 0.00 | XXX
84207 |  | X | Assay of vitamin b-6 | 0.00 | 0.00 | 0.00 | 0.00 | 0.00 | 0.00 | 0.00 | 0.00 | 0.00 | 0.00 | XXX
84210 |  | X | Assay of pyruvate | 0.00 | 0.00 | 0.00 | 0.00 | 0.00 | 0.00 | 0.00 | 0.00 | 0.00 | 0.00 | XXX
84220 |  | X | Assay of pyruvate kinase | 0.00 | 0.00 | 0.00 | 0.00 | 0.00 | 0.00 | 0.00 | 0.00 | 0.00 | 0.00 | XXX
84228 |  | X | Assay of quinine | 0.00 | 0.00 | 0.00 | 0.00 | 0.00 | 0.00 | 0.00 | 0.00 | 0.00 | 0.00 | XXX
84233 |  | X | Assay of estrogen | 0.00 | 0.00 | 0.00 | 0.00 | 0.00 | 0.00 | 0.00 | 0.00 | 0.00 | 0.00 | XXX
84234 |  | X | Assay of progesterone | 0.00 | 0.00 | 0.00 | 0.00 | 0.00 | 0.00 | 0.00 | 0.00 | 0.00 | 0.00 | XXX
84235 |  | X | Assay of endocrine hormone | 0.00 | 0.00 | 0.00 | 0.00 | 0.00 | 0.00 | 0.00 | 0.00 | 0.00 | 0.00 | XXX
84238 |  | X | Assay, nonendocrine receptor | 0.00 | 0.00 | 0.00 | 0.00 | 0.00 | 0.00 | 0.00 | 0.00 | 0.00 | 0.00 | XXX
84244 |  | X | Assay of renin | 0.00 | 0.00 | 0.00 | 0.00 | 0.00 | 0.00 | 0.00 | 0.00 | 0.00 | 0.00 | XXX
84252 |  | X | Assay of vitamin b-2 | 0.00 | 0.00 | 0.00 | 0.00 | 0.00 | 0.00 | 0.00 | 0.00 | 0.00 | 0.00 | XXX
84255 |  | X | Assay of selenium | 0.00 | 0.00 | 0.00 | 0.00 | 0.00 | 0.00 | 0.00 | 0.00 | 0.00 | 0.00 | XXX
84260 |  | X | Assay of serotonin | 0.00 | 0.00 | 0.00 | 0.00 | 0.00 | 0.00 | 0.00 | 0.00 | 0.00 | 0.00 | XXX
84270 |  | X | Assay of sex hormone globul | 0.00 | 00 | 0.00 | 0.00 | 0.00 | 0.00 | 0.00 | 0.00 | 0.00 | 0.00 | XXX
84275 |  | X | Assay of sialic acid | 0.00 | 0.00 | 0.00 | 0.00 | 0.00 | 0.00 | 0.00 | 0.00 | 0.00 | 0.00 | XXX
84285 |  | X | Assay of silica | 0.00 | 0.00 | 0.00 | 0.00 | 0.00 | 0.00 | 0.00 | 0.00 | 0.00 | 0.00 | XXX
84295 |  | X | Assay of serum sodium | 0.00 | 0.00 | 0.00 | 0.00 | 0.00 | 0.00 | 0.00 | 0.00 | 0.00 | 0.00 | XXX
84300 |  | X | Assay of urine sodium | 0.00 | 0.00 | 0.00 | 0.00 | 0.00 | 0.00 | 0.00 | 0.00 | 0.00 | 0.00 | XXX
84305 |  | X | Assay of somatomedin | 0.00 | 0.00 | 0.00 | 0.00 | 0.00 | 0.00 | 0.00 | 0.00 | 0.00 | 0.00 | XXX
84307 |  | X | Assay of somatostatin | 0.00 | 0.00 | 0.00 | 0.00 | 0.00 | 0.00 | 0.00 | 0.00 | 0.00 | 0.00 | XXX
84311 |  | X | Spectrophotometry | 0.00 | 0.00 | 0.00 | 0.00 | 0.00 | 0.00 | 0.00 | 0.00 | 0.00 | 0.00 | XXX
84315 |  | X | Body fluid specific gravity | 0.00 | 0.00 | 0.00 | 0.00 | 0.00 | 0.00 | 0.00 | 0.00 | 0.00 | 0.00 | XXX
84375 |  | X | Chromatogram assay, sugars | 0.00 | 0.00 | 0.00 | 0.00 | 0.00 | 0.00 | 0.00 | 0.00 | 0.00 | 0.00 | XXX
84376 |  | X | Sugars, single, qual | 0.00 | 0.00 | 0.00 | 0.00 | 0.00 | 0.00 | 0.00 | 0.00 | 0.00 | 0.00 | XXX
84377 |  | X | Sugars, multiple, qual | 0.00 | 0.00 | 0.00 | 0.00 | 0.00 | 0.00 | 0.00 | 0.00 | 0.00 | 0.00 | XXX
84378 |  | X | Sugars single quant | 0.00 | 0.00 | 0.00 | 0.00 | 0.00 | 0.00 | 0.00 | 0.00 | 0.00 | 0.00 | XXX
84379 |  | X | Sugars multiple quant | 0.00 | 0.00 | 0.00 | 0.00 | 0.00 | 0.00 | 0.00 | 0.00 | 0.00 | 0.00 | XXX
84392 |  | X | Assay of urine sulfate | 0.00 | 0.00 | 0.00 | 0.00 | 0.00 | 0.00 | 0.00 | 0.00 | 0.00 | 0.00 | XXX
84402 |  | X | Assay of testosterone | 0.00 | 0.00 | 0.00 | 0.00 | 0.00 | 0.00 | 0.00 | 0.00 | 0.00 | 0.00 | XXX
84403 |  | X | Assay of total testosterone | 0.00 | 0.00 | 0.00 | 0.00 | 0.00 | 0.00 | 0.00 | 0.00 | 0.00 | 0.00 | XXX
84425 |  | X | Assay of vitamin b-1 | 0.00 | 0.00 | 0.00 | 0.00 | 0.00 | 0.00 | 0.00 | 0.00 | 0.00 | 0.00 | XXX
84430 |  | X | Assay of thiocyanate | 0.00 | 0.00 | 0.00 | 0.00 | 0.00 | 0.00 | 0.00 | 0.00 | 0.00 | 0.00 | XXX
84432 |  | X | Assay of thyroglobulin | 0.00 | 0.00 | 0.00 | 0.00 | 0.00 | 0.00 | 0.00 | 0.00 | 0.00 | 0.00 | XXX
84436 |  | X | Assay of total thyroxine | 0.00 | 0.00 | 0.00 | 0.00 | 0.00 | 0.00 | 0.00 | 0.00 | 0.00 | 0.00 | XXX
84437 |  | X | Assay of neonatal thyroxine | 0.00 | 0.00 | 0.00 | 0.00 | 0.00 | 0.00 | 0.00 | 0.00 | 0.00 | 0.00 | XXX
84439 |  | X | Assay of free thyroxine | 0.00 | 0.00 | 0.00 | 0.00 | 0.00 | 0.00 | 0.00 | 0.00 | 0.00 | 0.00 | XXX
84442 |  | X | Assay of thyroid activity | 0.00 | 0.00 | 0.00 | 0.00 | 0.00 | 0.00 | 0.00 | 0.00 | 0.00 | 0.00 | XXX
84443 |  | X | Assay thyroid stim hormone | 0.00 | 0.00 | 0.00 | 0.00 | 0.00 | 0.00 | 0.00 | 0.00 | 0.00 | 0.00 | XXX
84445 |  | X | Assay of tsi | 0.00 | 0.00 | 0.00 | 0.00 | 0.00 | 0.00 | 0.00 | 0.00 | 0.00 | 0.00 | XXX
84446 |  | X | Assay of vitamin e | 0.00 | 0.00 | 0.00 | 0.00 | 0.00 | 0.00 | 0.00 | 0.00 | 0.00 | 0.00 | XXX
84449 |  | X | Assay of transcortin | 0.00 | 0.00 | 0.00 | 0.00 | 0.00 | 0.00 | 0.00 | 0.00 | 0.00 | 0.00 | XXX
84450 |  | X | Transferase (AST) (SGOT) | 0.00 | 0.00 | 0.00 | 0.00 | 0.00 | 0.00 | 0.00 | 0.00 | 0.00 | 0.00 | XXX
84460 |  | X | Alanine amino (ALT) (SGPT) | 0.00 | 0.00 | 0.00 | 0.00 | 0.00 | 0.00 | 0.00 | 0.00 | 0.00 | 0.00 | XXX
84466 |  | X | Assay of transferrin | 0.00 | 0.00 | 0.00 | 0.00 | 0.00 | 0.00 | 0.00 | 0.00 | 0.00 | 0.00 | XXX
84478 |  | X | Assay of triglycerides | 0.00 | 0.00 | 0.00 | 0.00 | 0.00 | 0.00 | 0.00 | 0.00 | 0.00 | 0.00 | XXX
84479 |  | X | Assay of thyroid (t3 or t4) | 0.00 | 0.00 | 0.00 | 0.00 | 0.00 | 0.00 | 0.00 | 0.00 | 0.00 | 0.00 | XXX
84480 |  | X | Assay, triiodothyronine (t3) | 0.00 | 0.00 | 0.00 | 0.00 | 0.00 | 0.00 | 0.00 | 0.00 | 0.00 | 0.00 | XXX
84481 |  | X | Free assay (FT-3) | 0.00 | 0.00 | 0.00 | 0.00 | 0.00 | 0.00 | 0.00 | 0.00 | 0.00 | 0.00 | XXX
84482 |  | X | T3 reverse | 0.00 | 0.00 | 0.00 | 0.00 | 0.00 | 0.00 | 0.00 | 0.00 | 0.00 | 0.00 | XXX
84484 |  | X | Assay of troponin, quant | 0.00 | 0.00 | 0.00 | 0.00 | 0.00 | 0.00 | 0.00 | 0.00 | 0.00 | 0.00 | XXX
84485 |  | X | Assay duodenal fluid trypsin | 0.00 | 0.00 | 0.00 | 0.00 | 0.00 | 0.00 | 0.00 | 0.00 | 0.00 | 0.00 | XXX
84488 |  | X | Test feces for trypsin | 0.00 | 0.00 | 0.00 | 0.00 | 0.00 | 0.00 | 0.00 | 0.00 | 0.00 | 0.00 | XXX
84490 |  | X | Assay of feces for trypsin | 0.00 | 0.00 | 0.00 | 0.00 | 0.00 | 0.00 | 0.00 | 0.00 | 0.00 | 0.00 | XXX
84510 |  | X | Assay of tyrosine | 0.00 | 0.00 | 0.00 | 0.00 | 0.00 | 0.00 | 0.00 | 0.00 | 0.00 | 0.00 | XXX
84512 |  | X | Assay of troponin, qual | 0.00 | 0.00 | 0.00 | 0.00 | 0.00 | 0.00 | 0.00 | 0.00 | 0.00 | 0.00 | XXX
84520 |  | X | Assay of urea nitrogen | 0.00 | 0.00 | 0.00 | 0.00 | 0.00 | 0.00 | 0.00 | 0.00 | 0.00 | 0.00 | XXX
84525 |  | X | Urea nitrogen semi-quant | 0.00 | 0.00 | 0.00 | 0.00 | 0.00 | 0.00 | 0.00 | 0.00 | 0.00 | 0.00 | XXX
84540 |  | X | Assay of urine/urea-n | 0.00 | 0.00 | 0.00 | 0.00 | 0.00 | 0.00 | 0.00 | 0.00 | 0.00 | 0.00 | XXX
84545 |  | X | Urea-N clearance test | 0.00 | 0.00 | 0.00 | 0.00 | 0.00 | 0.00 | 0.00 | 0.00 | 0.00 | 0.00 | XXX
84550 |  | X | Assay of blood/uric acid | 0.00 | 0.00 | 0.00 | 0.00 | 0.00 | 0.00 | 0.00 | 0.00 | 0.00 | 0.00 | XXX
84560 |  | X | Assay of urine/uric acid | 0.00 | 0.00 | 0.00 | 0.00 | 0.00 | 0.00 | 0.00 | 0.00 | 0.00 | 0.00 | XXX
84577 |  | X | Assay of feces/urobilinogen | 0.00 | 0.00 | 0.00 | 0.00 | 0.00 | 0.00 | 0.00 | 0.00 | 0.00 | 0.00 | XXX
84578 |  | X | Test urine urobilinogen | 0.00 | 0.00 | 0.00 | 0.00 | 0.00 | 0.00 | 0.00 | 0.00 | 0.00 | 0.00 | XXX
84580 |  | X | Assay of urine urobilinogen | 0.00 | 0.00 | 0.00 | 0.00 | 0.00 | 0.00 | 0.00 | 0.00 | 0.00 | 0.00 | XXX
84583 |  | X | Assay of urine urobilinogen | 0.00 | 0.00 | 0.00 | 0.00 | 0.00 | 0.00 | 0.00 | 0.00 | 0.00 | 0.00 | XXX
84585 |  | X | Assay of urine vma | 0.00 | 0.00 | 0.00 | 0.00 | 0.00 | 0.00 | 0.00 | 0.00 | 0.00 | 0.00 | XXX
84586 |  | X | Assay of vip | 0.00 | 0.00 | 0.00 | 0.00 | 0.00 | 0.00 | 0.00 | 0.00 | 0.00 | 0.00 | XXX
84588 |  | X | Assay of vasopressin | 0.00 | 0.00 | 0.00 | 0.00 | 0.00 | 0.00 | 0.00 | 0.00 | 0.00 | 0.00 | XXX
84590 |  | X | Assay of vitamin a | 0.00 | 0.00 | 0.00 | 0.00 | 0.00 | 0.00 | 0.00 | 0.00 | 0.00 | 0.00 | XXX
84597 |  | X | Assay of vitamin k | 0.00 | 0.00 | 0.00 | 0.00 | 0.00 | 0.00 | 0.00 | 0.00 | 0.00 | 0.00 | XXX
84600 |  | X | Assay of volatiles | 0.00 | 0.00 | 0.00 | 0.00 | 0.00 | 0.00 | 0.00 | 0.00 | 0.00 | 0.00 | XXX
84620 |  | X | Xylose tolerance test | 0.00 | 0.00 | 0.00 | 0.00 | 0.00 | 0.00 | 0.00 | 0.00 | 0.00 | 0.00 | XXX
84630 |  | X | Assay of zinc | 0.00 | 0.00 | 0.00 | 0.00 | 0.00 | 0.00 | 0.00 | 0.00 | 0.00 | 0.00 | XXX
84681 |  | X | Assay of c-peptide | 0.00 | 0.00 | 0.00 | 0.00 | 0.00 | 0.00 | 0.00 | 0.00 | 0.00 | 0.00 | XXX
84702 |  | X | Chorionic gonadotropin test | 0.00 | 0.00 | 0.00 | 0.00 | 0.00 | 0.00 | 0.00 | 0.00 | 0.00 | 0.00 | XXX
84703 |  | X | Chorionic gonadotropin assay | 0.00 | 0.00 | 0.00 | 0.00 | 0.00 | 0.00 | 0.00 | 0.00 | 0.00 | 0.00 | XXX
84830 |  | X | Ovulation tests | 0.00 | 0.00 | 0.00 | 0.00 | 0.00 | 0.00 | 0.00 | 0.00 | 0.00 | 0.00 | XXX
84999 |  | X | Clinical chemistry test | 0.00 | 0.00 | 0.00 | 0.00 | 0.00 | 0.00 | 0.00 | 0.00 | 0.00 | 0.00 | XXX
85002 |  | X | Bleeding time test | 0.00 | 0.00 | 0.00 | 0.00 | 0.00 | 0.00 | 0.00 | 0.00 | 0.00 | 0.00 | XXX
85007 |  | X | Differential WBC count | 0.00 | 0.00 | 0.00 | 0.00 | 0.00 | 0.00 | 0.00 | 0.00 | 0.00 | 0.00 | XXX
85008 |  | X | Nondifferential WBC count | 0.00 | 0.00 | 0.00 | 0.00 | 0.00 | 0.00 | 0.00 | 0.00 | 0.00 | 0.00 | XXX
85009 |  | X | Differential WBC count | 0.00 | 0.00 | 0.00 | 0.00 | 0.00 | 0.00 | 0.00 | 0.00 | 0.00 | 0.00 | XXX
85013 |  | X | Hematocrit | 0.00 | 0.00 | 0.00 | 0.00 | 0.00 | 0.00 | 0.00 | 0.00 | 0.00 | 0.00 | XXX
85014 |  | X | Hematocrit | 0.00 | 0.00 | 0.00 | 0.00 | 0.00 | 0.00 | 0.00 | 0.00 | 0.00 | 0.00 | XXX
85018 |  | X | Hemoglobin | 0.00 | 0.00 | 0.00 | 0.00 | 0.00 | 0.00 | 0.00 | 0.00 | 0.00 | 0.00 | XXX
85021 |  | X | Automated hemogram | 0.00 | 0.00 | 0.00 | 0.00 | 0.00 | 0.00 | 0.00 | 0.00 | 0.00 | 0.00 | XXX
85022 |  | X | Automated hemogram | 0.00 | 0.00 | 0.00 | 0.00 | 0.00 | 0.00 | 0.00 | 0.00 | 0.00 | 0.00 | XXX
85023 |  | X | Automated hemogram | 0.00 | 0.00 | 0.00 | 0.00 | 0.00 | 0.00 | 0.00 | 0.00 | 0.00 | 0.00 | XXX
85024 |  | X | Automated hemogram | 0.00 | 0.00 | 0.00 | 0.00 | 0.00 | 0.00 | 0.00 | 0.00 | 0.00 | 0.00 | XXX
85025 |  | X | Automated hemogram | 0.00 | 0.00 | 0.00 | 0.00 | 0.00 | 0.00 | 0.00 | 0.00 | 0.00 | 0.00 | XXX
85027 |  | X | Automated hemogram | 0.00 | 0.00 | 0.00 | 0.00 | 0.00 | 0.00 | 0.00 | 0.00 | 0.00 | 0.00 | XXX
85031 |  | X | Manual hemogram, cbc | 0.00 | 0.00 | 0.00 | 0.00 | 0.00 | 0.00 | 0.00 | 0.00 | 0.00 | 0.00 | XXX
85041 |  | X | Red blood cell (RBC) count | 0.00 | 0.00 | 0.00 | 0.00 | 0.00 | 0.00 | 0.00 | 0.00 | 0.00 | 0.00 | XXX
85044 |  | X | Reticulocyte count | 0.00 | 0.00 | 0.00 | 0.00 | 0.00 | 0.00 | 0.00 | 0.00 | 0.00 | 0.00 | XXX
85045 |  | X | Reticulocyte count | 0.00 | 0.00 | 0.00 | 0.00 | 0.00 | 0.00 | 0.00 | 0.00 | 0.00 | 0.00 | XXX
85046 |  | X | Reticyte/hgb concentrate | 0.00 | 0.00 | 0.00 | 0.00 | 0.00 | 0.00 | 0.00 | 0.00 | 0.00 | 0.00 | XXX
85048 |  | X | White blood cell (WBC) count | 0.00 | 0.00 | 0.00 | 0.00 | 0.00 | 0.00 | 0.00 | 0.00 | 0.00 | 0.00 | XXX
85060 |  | A | Blood smear interpretation | 0.45 | 0.20 | 0.21 | 0.19 | 0.20 | 0.01 | 0.66 | 0.67 | 0.65 | 0.66 | XXX
85095 |  | A | Bone marrow aspiration | 1.08 | 4.30 | 3.41 | 0.42 | 0.50 | 0.03 | 5.41 | 4.52 | 1.53 | 1.61 | XXX
85097 |  | A | Bone marrow interpretation | 0.94 | 0.40 | 0.43 | 0.40 | 0.43 | 0.03 | 1.37 | 1.40 | 1.37 | 1.40 | XXX
85102 |  | A | Bone marrow biopsy | 1.37 | 4.41 | 3.53 | 0.53 | 0.62 | 0.04 | 5.82 | 4.94 | 1.94 | 2.03 | XXX
85130 |  | X | Chromogenic substrate assay | 0.00 | 0.00 | 0.00 | 0.00 | 0.00 | 0.00 | 0.00 | 0.00 | 0.00 | 0.00 | XXX
85170 |  | X | Blood clot retraction | 0.00 | 0.00 | 0.00 | 0.00 | 0.00 | 0.00 | 0.00 | 0.00 | 0.00 | 0.00 | XXX
85175 |  | X | Blood clot lysis time | 0.00 | 0.00 | 0.00 | 0.00 | 0.00 | 0.00 | 0.00 | 0.00 | 0.00 | 0.00 | XXX
85210 |  | X | Blood clot factor II test | 0.00 | 0.00 | 0.00 | 0.00 | 0.00 | 0.00 | 0.00 | 0.00 | 0.00 | 0.00 | XXX
85220 |  | X | Blood clot factor V test | 0.00 | 0.00 | 0.00 | 0.00 | 0.00 | 0.00 | 0.00 | 0.00 | 0.00 | 0.00 | XXX
85230 |  | X | Blood clot factor VII test | 0.00 | 0.00 | 0.00 | 0.00 | 0.00 | 0.00 | 0.00 | 0.00 | 0.00 | 0.00 | XXX
85240 |  | X | Blood clot factor VIII test | 0.00 | 0.00 | 0.00 | 0.00 | 0.00 | 0.00 | 0.00 | 0.00 | 0.00 | 0.00 | XXX
85244 |  | X | Blood clot factor VIII test | 0.00 | 0.00 | 0.00 | 0.00 | 0.00 | 0.00 | 0.00 | 0.00 | 0.00 | 0.00 | XXX
85245 |  | X | Blood clot factor VIII test | 0.00 | 0.00 | 0.00 | 0.00 | 0.00 | 0.00 | 0.00 | 0.00 | 0.00 | 0.00 | XXX
85246 |  | X | Blood clot factor VIII test | 0.00 | 0.00 | 0.00 | 0.00 | 0.00 | 0.00 | 0.00 | 0.00 | 0.00 | 0.00 | XXX
85247 |  | X | Blood clot factor VIII test | 0.00 | 0.00 | 0.00 | 0.00 | 0.00 | 0.00 | 0.00 | 0.00 | 0.00 | 0.00 | XXX
85250 |  | X | Blood clot factor IX test | 0.00 | 0.00 | 0.00 | 0.00 | 0.00 | 0.00 | 0.00 | 0.00 | 0.00 | 0.00 | XXX
85260 |  | X | Blood clot factor X test | 0.00 | 0.00 | 0.00 | 0.00 | 0.00 | 0.00 | 0.00 | 0.00 | 0.00 | 0.00 | XXX
85270 |  | X | Blood clot factor XI test | 0.00 | 0.00 | 0.00 | 0.00 | 0.00 | 0.00 | 0.00 | 0.00 | 0.00 | 0.00 | XXX
85280 |  | X | Blood clot factor XII test | 0.00 | 0.00 | 0.00 | 0.00 | 0.00 | 0.00 | 0.00 | 0.00 | 0.00 | 0.00 | XXX
85290 |  | X | Blood clot factor XIII test | 0.00 | 0.00 | 0.00 | 0.00 | 0.00 | 0.00 | 0.00 | 0.00 | 0.00 | 0.00 | XXX
85291 |  | X | Blood clot factor XIII test | 0.00 | 0.00 | 0.00 | 0.00 | 0.00 | 0.00 | 0.00 | 0.00 | 0.00 | 0.00 | XXX
85292 |  | X | Blood clot factor assay | 0.00 | 0.00 | 0.00 | 0.00 | 0.00 | 0.00 | 0.00 | 0.00 | 0.00 | 0.00 | XXX
85293 |  | X | Blood clot factor assay | 0.00 | 0.00 | 0.00 | 0.00 | 0.00 | 0.00 | 0.00 | 0.00 | 0.00 | 0.00 | XXX
85300 |  | X | Antithrombin III test | 0.00 | 0.00 | 0.00 | 0.00 | 0.00 | 0.00 | 0.00 | 0.00 | 0.00 | 0.00 | XXX
85301 |  | X | Antithrombin III test | 0.00 | 0.00 | 0.00 | 0.00 | 0.00 | 0.00 | 0.00 | 0.00 | 0.00 | 0.00 | XXX
85302 |  | X | Blood clot inhibitor antigen | 0.00 | 0.00 | 0.00 | 0.00 | 0.00 | 0.00 | 0.00 | 0.00 | 0.00 | 0.00 | XXX
85303 |  | X | Blood clot inhibitor test | 0.00 | 0.00 | 0.00 | 0.00 | 0.00 | 0.00 | 0.00 | 0.00 | 0.00 | 0.00 | XXX
85305 |  | X | Blood clot inhibitor assay | 0.00 | 0.00 | 0.00 | 0.00 | 0.00 | 0.00 | 0.00 | 0.00 | 0.00 | 0.00 | XXX
85306 |  | X | Blood clot inhibitor test | 0.00 | 0.00 | 0.00 | 0.00 | 0.00 | 0.00 | 0.00 | 0.00 | 0.00 | 0.00 | XXX
85335 |  | X | Factor inhibitor test | 0.00 | 0.00 | 0.00 | 0.00 | 0.00 | 0.00 | 0.00 | 0.00 | 0.00 | 0.00 | XXX
85337 |  | X | Thrombomodulin | 0.00 | 0.00 | 0.00 | 0.00 | 0.00 | 0.00 | 0.00 | 0.00 | 0.00 | 0.00 | XXX
85345 |  | X | Coagulation time | 0.00 | 0.00 | 0.00 | 0.00 | 0.00 | 0.00 | 0.00 | 0.00 | 0.00 | 0.00 | XXX
85347 |  | X | Coagulation time | 0.00 | 0.00 | 0.00 | 0.00 | 0.00 | 0.00 | 0.00 | 0.00 | 0.00 | 0.00 | XXX
85348 |  | X | Coagulation time | 0.00 | 0.00 | 0.00 | 0.00 | 0.00 | 0.00 | 0.00 | 0.00 | 0.00 | 0.00 | XXX
85360 |  | X | Euglobulin lysis | 0.00 | 0.00 | 0.00 | 0.00 | 0.00 | 0.00 | 0.00 | 0.00 | 0.00 | 0.00 | XXX
85362 |  | X | Fibrin degradation products | 0.00 | 0.00 | 0.00 | 0.00 | 0.00 | 0.00 | 0.00 | 0.00 | 0.00 | 0.00 | XXX
85366 |  | X | Fibrinogen test | 0.00 | 0.00 | 0.00 | 0.00 | 0.00 | 0.00 | 0.00 | 0.00 | 0.00 | 0.00 | XXX
85370 |  | X | Fibrinogen test | 0.00 | 0.00 | 0.00 | 0.00 | 0.00 | 0.00 | 0.00 | 0.00 | 0.00 | 0.00 | XXX
85378 |  | X | Fibrin degradation | 0.00 | 0.00 | 0.00 | 0.00 | 0.00 | 0.00 | 0.00 | 0.00 | 0.00 | 0.00 | XXX
85379 |  | X | Fibrin degradation | 0.00 | 0.00 | 0.00 | 0.00 | 0.00 | 0.00 | 0.00 | 0.00 | 0.00 | 0.00 | XXX
85384 |  | X | Fibrinogen | 0.00 | 0.00 | 0.00 | 0.00 | 0.00 | 0.00 | 0.00 | 0.00 | 0.00 | 0.00 | XXX
85385 |  | X | Fibrinogen | 0.00 | 0.00 | 0.00 | 0.00 | 0.00 | 0.00 | 0.00 | 0.00 | 0.00 | 0.00 | XXX
85390 |  | X | Fibrinolysins screen | 0.00 | 0.00 | 0.00 | 0.00 | 0.00 | 0.00 | 0.00 | 0.00 | 0.00 | 0.00 | XXX
85390 | 26 | A | Fibrinolysins screen | 0.37 | 0.12 | 0.15 | 0.12 | 0.15 | 0.01 | 0.50 | 0.53 | 0.50 | 0.53 | XXX
85400 |  | X | Fibrinolytic plasmin | 0.00 | 0.00 | 0.00 | 0.00 | 0.00 | 0.00 | 0.00 | 0.00 | 0.00 | 0.00 | XXX
85410 |  | X | Fibrinolytic antiplasmin | 0.00 | 0.00 | 0.00 | 0.00 | 0.00 | 0.00 | 0.00 | 0.00 | 0.00 | 0.00 | XXX
85415 |  | X | Fibrinolytic plasminogen | 0.00 | 0.00 | 0.00 | 0.00 | 0.00 | 0.00 | 0.00 | 0.00 | 0.00 | 0.00 | XXX
85420 |  | X | Fibrinolytic plasminogen | 0.00 | 0.00 | 0.00 | 0.00 | 0.00 | 0.00 | 0.00 | 0.00 | 0.00 | 0.00 | XXX
85421 |  | X | Fibrinolytic plasminogen | 0.00 | 0.00 | 0.00 | 0.00 | 0.00 | 0.00 | 0.00 | 0.00 | 0.00 | 0.00 | XXX
85441 |  | X | Heinz bodies, direct | 0.00 | 0.00 | 0.00 | 0.00 | 0.00 | 0.00 | 0.00 | 0.00 | 0.00 | 0.00 | XXX
85445 |  | X | Heinz bodies, induced | 0.00 | 0.00 | 0.00 | 0.00 | 0.00 | 0.00 | 0.00 | 0.00 | 0.00 | 0.00 | XXX
85460 |  | X | Hemoglobin, fetal | 0.00 | 0.00 | 0.00 | 0.00 | 0.00 | 0.00 | 0.00 | 0.00 | 0.00 | 0.00 | XXX
85461 |  | X | Hemoglobin, fetal | 0.00 | 0.00 | 0.00 | 0.00 | 0.00 | 0.00 | 0.00 | 0.00 | 0.00 | 0.00 | XXX
85475 |  | X | Hemolysin | 0.00 | 0.00 | 0.00 | 0.00 | 0.00 | 0.00 | 0.00 | 0.00 | 0.00 | 0.00 | XXX
85520 |  | X | Heparin assay | 0.00 | 0.00 | 0.00 | 0.00 | 0.00 | 0.00 | 0.00 | 0.00 | 0.00 | 0.00 | XXX
85525 |  | X | Heparin | 0.00 | 0.00 | 0.00 | 0.00 | 0.00 | 0.00 | 0.00 | 0.00 | 0.00 | 0.00 | XXX
85530 |  | X | Heparin-protamine tolerance | 0.00 | 0.00 | 0.00 | 0.00 | 0.00 | 0.00 | 0.00 | 0.00 | 0.00 | 0.00 | XXX
85535 |  | X | Iron stain, blood cells | 0.00 | 0.00 | 0.00 | 0.00 | 0.00 | 0.00 | 0.00 | 0.00 | 0.00 | 0.00 | XXX
85540 |  | X | Wbc alkaline phosphatase | 0.00 | 0.00 | 0.00 | 0.00 | 0.00 | 0.00 | 0.00 | 0.00 | 0.00 | 0.00 | XXX
85547 |  | X | RBC mechanical fragility | 0.00 | 0.00 | 0.00 | 0.00 | 0.00 | 0.00 | 0.00 | 0.00 | 0.00 | 0.00 | XXX
85549 |  | X | Muramidase | 0.00 | 0.00 | 0.00 | 0.00 | 0.00 | 0.00 | 0.00 | 0.00 | 0.00 | 0.00 | XXX
85555 |  | X | RBC osmotic fragility | 0.00 | 0.00 | 0.00 | 0.00 | 0.00 | 0.00 | 0.00 | 0.00 | 0.00 | 0.00 | XXX
85557 |  | X | RBC osmotic fragility | 0.00 | 0.00 | 0.00 | 0.00 | 0.00 | 0.00 | 0.00 | 0.00 | 0.00 | 0.00 | XXX
85576 |  | X | Blood platelet aggregation | 0.00 | 0.00 | 0.00 | 0.00 | 0.00 | 0.00 | 0.00 | 0.00 | 0.00 | 0.00 | XXX
85576 | 26 | A | Blood platelet aggregation | 0.37 | 0.16 | 0.18 | 0.16 | 0.18 | 0.01 | 0.54 | 0.56 | 0.54 | 0.56 | XXX
85585 |  | X | Blood platelet estimation | 0.00 | 0.00 | 0.00 | 0.00 | 0.00 | 0.00 | 0.00 | 0.00 | 0.00 | 0.00 | XXX
85590 |  | X | Platelet count, manual | 0.00 | 0.00 | 0.00 | 0.00 | 0.00 | 0.00 | 0.00 | 0.00 | 0.00 | 0.00 | XXX
85595 |  | X | Platelet count, automated | 0.00 | 0.00 | 0.00 | 0.00 | 0.00 | 0.00 | 0.00 | 0.00 | 0.00 | 0.00 | XXX
85597 |  | X | Platelet neutralization | 0.00 | 0.00 | 0.00 | 0.00 | 0.00 | 0.00 | 0.00 | 0.00 | 0.00 | 0.00 | XXX
85610 |  | X | Prothrombin time | 0.00 | 0.00 | 0.00 | 0.00 | 0.00 | 0.00 | 0.00 | 0.00 | 0.00 | 0.00 | XXX
85611 |  | X | Prothrombin test | 0.00 | 0.00 | 0.00 | 0.00 | 0.00 | 0.00 | 0.00 | 0.00 | 0.00 | 0.00 | XXX
85612 |  | X | Viper venom prothrombin time | 0.00 | 0.00 | 0.00 | 0.00 | 0.00 | 0.00 | 0.00 | 0.00 | 0.00 | 0.00 | XXX
85613 |  | X | Russell viper venom, diluted | 0.00 | 0.00 | 0.00 | 0.00 | 0.00 | 0.00 | 0.00 | 0.00 | 0.00 | 0.00 | XXX
85635 |  | X | Reptilase test | 0.00 | 0.00 | 0.00 | 0.00 | 0.00 | 0.00 | 0.00 | 0.00 | 0.00 | 0.00 | XXX
85651 |  | X | Rbc sed rate, nonautomated | 0.00 | 0.00 | 0.00 | 0.00 | 0.00 | 0.00 | 0.00 | 0.00 | 0.00 | 0.00 | XXX
85652 |  | X | Rbc sed rate, automated | 0.00 | 0.00 | 0.00 | 0.00 | 0.00 | 0.00 | 0.00 | 0.00 | 0.00 | 0.00 | XXX
85660 |  | X | RBC sickle cell test | 0.00 | 0.00 | 0.00 | 0.00 | 0.00 | 0.00 | 0.00 | 0.00 | 0.00 | 0.00 | XXX
85670 |  | X | Thrombin time, plasma | 0.00 | 0.00 | 0.00 | 0.00 | 0.00 | 0.00 | 0.00 | 0.00 | 0.00 | 0.00 | XXX
85675 |  | X | Thrombin time, titer | 0.00 | 0.00 | 0.00 | 0.00 | 0.00 | 0.00 | 0.00 | 0.00 | 0.00 | 0.00 | XXX
85705 |  | X | Thromboplastin inhibition | 0.00 | 0.00 | 0.00 | 0.00 | 0.00 | 0.00 | 0.00 | 0.00 | 0.00 | 0.00 | XXX
85730 |  | X | Thromboplastin time, partial | 0.00 | 0.00 | 0.00 | 0.00 | 0.00 | 0.00 | 0.00 | 0.00 | 0.00 | 0.00 | XXX
85732 |  | X | Thromboplastin time, partial | 0.00 | 0.00 | 0.00 | 0.00 | 0.00 | 0.00 | 0.00 | 0.00 | 0.00 | 0.00 | XXX
85810 |  | X | Blood viscosity examination | 0.00 | 0.00 | 0.00 | 0.00 | 0.00 | 0.00 | 0.00 | 0.00 | 0.00 | 0.00 | XXX
85999 |  | X | Hematology procedure | 0.00 | 0.00 | 0.00 | 0.00 | 0.00 | 0.00 | 0.00 | 0.00 | 0.00 | 0.00 | XXX
86000 |  | X | Agglutinins, febrile | 0.00 | 0.00 | 0.00 | 0.00 | 0.00 | 0.00 | 0.00 | 0.00 | 0.00 | 0.00 | XXX
86003 |  | X | Allergen specific IgE | 0.00 | 0.00 | 0.00 | 0.00 | 0.00 | 0.00 | 0.00 | 0.00 | 0.00 | 0.00 | XXX
86005 |  | X | Allergen specific IgE | 0.00 | 0.00 | 0.00 | 0.00 | 0.00 | 0.00 | 0.00 | 0.00 | 0.00 | 0.00 | XXX
86021 |  | X | WBC antibody identification | 0.00 | 0.00 | 0.00 | 0.00 | 0.00 | 0.00 | 0.00 | 0.00 | 0.00 | 0.00 | XXX
86022 |  | X | Platelet antibodies | 0.00 | 0.00 | 0.00 | 0.00 | 0.00 | 0.00 | 0.00 | 0.00 | 0.00 | 0.00 | XXX
86023 |  | X | Immunoglobulin assay | 0.00 | 0.00 | 0.00 | 0.00 | 0.00 | 0.00 | 0.00 | 0.00 | 0.00 | 0.00 | XXX
86038 |  | X | Antinuclear antibodies | 0.00 | 0.00 | 0.00 | 0.00 | 0.00 | 0.00 | 0.00 | 0.00 | 0.00 | 0.00 | XXX
86039 |  | X | Antinuclear antibodies (ANA) | 0.00 | 0.00 | 0.00 | 0.00 | 0.00 | 0.00 | 0.00 | 0.00 | 0.00 | 0.00 | XXX
86060 |  | X | Antistreptolysin o, titer | 0.00 | 0.00 | 0.00 | 0.00 | 0.00 | 0.00 | 0.00 | 0.00 | 0.00 | 0.00 | XXX
86063 |  | X | Antistreptolysin o, screen | 0.00 | 0.00 | 0.00 | 0.00 | 0.00 | 0.00 | 0.00 | 0.00 | 0.00 | 0.00 | XXX
86077 |  | A | Physician blood bank service | 0.94 | 0.50 | 0.46 | 0.40 | 0.38 | 0.03 | 1.47 | 1.43 | 1.37 | 1.35 | XXX
86078 |  | A | Physician blood bank service | 0.94 | 0.52 | 0.48 | 0.40 | 0.39 | 0.02 | 1.48 | 1.44 | 1.36 | 1.35 | XXX
86079 |  | A | Physician blood bank service | 0.94 | 0.51 | 0.47 | 0.40 | 0.39 | 0.02 | 1.47 | 1.43 | 1.36 | 1.35 | XXX
86140 |  | X | C-reactive protein | 0.00 | 0.00 | 0.00 | 0.00 | 0.00 | 0.00 | 0.00 | 0.00 | 0.00 | 0.00 | XXX
86147 |  | X | Cardiolipin antibody | 0.00 | 0.00 | 0.00 | 0.00 | 0.00 | 0.00 | 0.00 | 0.00 | 0.00 | 0.00 | XXX
86148 |  | X | Phospholipid antibody | 0.00 | 0.00 | 0.00 | 0.00 | 0.00 | 0.00 | 0.00 | 0.00 | 0.00 | 0.00 | XXX
86155 |  | X | Chemotaxis assay | 0.00 | 0.00 | 0.00 | 0.00 | 0.00 | 0.00 | 0.00 | 0.00 | 0.00 | 0.00 | XXX
86156 |  | X | Cold agglutinin, screen | 0.00 | 0.00 | 0.00 | 0.00 | 0.00 | 0.00 | 0.00 | 0.00 | 0.00 | 0.00 | XXX
86157 |  | X | Cold agglutinin, titer | 0.00 | 0.00 | 0.00 | 0.00 | 0.00 | 0.00 | 0.00 | 0.00 | 0.00 | 0.00 | XXX
86160 |  | X | Complement, antigen | 0.00 | 0.00 | 0.00 | 0.00 | 0.00 | 0.00 | 0.00 | 0.00 | 0.00 | 0.00 | XXX
86161 |  | X | Complement/function activity | 0.00 | 0.00 | 0.00 | 0.00 | 0.00 | 0.00 | 0.00 | 0.00 | 0.00 | 0.00 | XXX
86162 |  | X | Complement, total (CH50) | 0.00 | 0.00 | 0.00 | 0.00 | 0.00 | 0.00 | 0.00 | 0.00 | 0.00 | 0.00 | XXX
86171 |  | X | Complement fixation, each | 0.00 | 0.00 | 0.00 | 0.00 | 0.00 | 0.00 | 0.00 | 0.00 | 0.00 | 0.00 | XXX
86185 |  | X | Counterimmunoelectrophoresis | 0.00 | 0.00 | 0.00 | 0.00 | 0.00 | 0.00 | 0.00 | 0.00 | 0.00 | 0.00 | XXX
86215 |  | X | Deoxyribonuclease, antibody | 0.00 | 0.00 | 0.00 | 0.00 | 0.00 | 0.00 | 0.00 | 0.00 | 0.00 | 0.00 | XXX
86225 |  | X | DNA antibody | 0.00 | 0.00 | 0.00 | 0.00 | 0.00 | 0.00 | 0.00 | 0.00 | 0.00 | 0.00 | XXX
86226 |  | X | DNA antibody, single strand | 0.00 | 0.00 | 0.00 | 0.00 | 0.00 | 0.00 | 0.00 | 0.00 | 0.00 | 0.00 | XXX
86235 |  | X | Nuclear antigen antibody | 0.00 | 0.00 | 0.00 | 0.00 | 0.00 | 0.00 | 0.00 | 0.00 | 0.00 | 0.00 | XXX
86243 |  | X | Fc receptor | 0.00 | 0.00 | 0.00 | 0.00 | 0.00 | 0.00 | 0.00 | 0.00 | 0.00 | 0.00 | XXX
86255 |  | X | Fluorescent antibody, screen | 0.00 | 0.00 | 0.00 | 0.00 | 0.00 | 0.00 | 0.00 | 0.00 | 0.00 | 0.00 | XXX
86255 | 26 | A | Fluorescent antibody, screen | 0.37 | 0.18 | 0.19 | 0.16 | 0.18 | 0.01 | 0.56 | 0.57 | 0.54 | 0.56 | XXX
86256 |  | X | Fluorescent antibody, titer | 0.00 | 0.00 | 0.00 | 0.00 | 0.00 | 0.00 | 0.00 | 0.00 | 0.00 | 0.00 | XXX
86256 | 26 | A | Fluorescent antibody, titer | 0.37 | 0.16 | 0.18 | 0.16 | 0.18 | 0.01 | 0.54 | 0.56 | 0.54 | 0.56 | XXX
86277 |  | X | Growth hormone antibody | 0.00 | 0.00 | 0.00 | 0.00 | 0.00 | 0.00 | 0.00 | 0.00 | 0.00 | 0.00 | XXX
86280 |  | X | Hemagglutination inhibition | 0.00 | 0.00 | 0.00 | 0.00 | 0.00 | 0.00 | 0.00 | 0.00 | 0.00 | 0.00 | XXX
86308 |  | X | Heterophile antibodies | 0.00 | 0.00 | 0.00 | 0.00 | 0.00 | 0.00 | 0.00 | 0.00 | 0.00 | 0.00 | XXX
86309 |  | X | Heterophile antibodies | 0.00 | 0.00 | 0.00 | 0.00 | 0.00 | 0.00 | 0.00 | 0.00 | 0.00 | 0.00 | XXX
86310 |  | X | Heterophile antibodies | 0.00 | 0.00 | 0.00 | 0.00 | 0.00 | 0.00 | 0.00 | 0.00 | 0.00 | 0.00 | XXX
86316 |  | X | Immunoassay, tumor antigen | 0.00 | 0.00 | 0.00 | 0.00 | 0.00 | 0.00 | 0.00 | 0.00 | 0.00 | 0.00 | XXX
86317 |  | X | Immunoassay,infectious agent | 0.00 | 0.00 | 0.00 | 0.00 | 0.00 | 0.00 | 0.00 | 0.00 | 0.00 | 0.00 | XXX
86318 |  | X | Immunoassay,infectious agent | 0.00 | 0.00 | 0.00 | 0.00 | 0.00 | 0.00 | 0.00 | 0.00 | 0.00 | 0.00 | XXX
86320 |  | X | Serum immunoelectrophoresis | 0.00 | 0.00 | 0.00 | 0.00 | 0.00 | 0.00 | 0.00 | 0.00 | 0.00 | 0.00 | XXX
86320 | 26 | A | Serum immunoelectrophoresis | 0.37 | 0.16 | 0.18 | 0.16 | 0.18 | 0.01 | 0.54 | 0.56 | 0.54 | 0.56 | XXX
86325 |  | X | Other immunoelectrophoresis | 0.00 | 0.00 | 0.00 | 0.00 | 0.00 | 0.00 | 0.00 | 0.00 | 0.00 | 0.00 | XXX
86325 | 26 | A | Other immunoelectrophoresis | 0.37 | 0.18 | 0.19 | 0.15 | 0.17 | 0.01 | 0.56 | 0.57 | 0.53 | 0.55 | XXX
86327 |  | X | Immunoelectrophoresis assay | 0.00 | 0.00 | 0.00 | 0.00 | 0.00 | 0.00 | 0.00 | 0.00 | 0.00 | 0.00 | XXX
86327 | 26 | A | Immunoelectrophoresis assay | 0.42 | 0.17 | 0.18 | 0.17 | 0.18 | 0.01 | 0.60 | 0.61 | 0.60 | 0.61 | XXX
86329 |  | X | Immunodiffusion | 0.00 | 0.00 | 0.00 | 0.00 | 0.00 | 0.00 | 0.00 | 0.00 | 0.00 | 0.00 | XXX
86331 |  | X | Immunodiffusion ouchterlony | 0.00 | 0.00 | 0.00 | 0.00 | 0.00 | 0.00 | 0.00 | 0.00 | 0.00 | 0.00 | XXX
86332 |  | X | Immune complex assay | 0.00 | 0.00 | 0.00 | 0.00 | 0.00 | 0.00 | 0.00 | 0.00 | 0.00 | 0.00 | XXX
86334 |  | X | Immunofixation procedure | 0.00 | 0.00 | 0.00 | 0.00 | 0.00 | 0.00 | 0.00 | 0.00 | 0.00 | 0.00 | XXX
86334 | 26 | A | Immunofixation procedure | 0.37 | 0.16 | 0.18 | 0.16 | 0.18 | 0.01 | 0.54 | 0.56 | 0.54 | 0.56 | XXX
86337 |  | X | Insulin antibodies | 0.00 | 0.00 | 0.00 | 0.00 | 0.00 | 0.00 | 0.00 | 0.00 | 0.00 | 0.00 | XXX
86340 |  | X | Intrinsic factor antibody | 0.00 | 0.00 | 0.00 | 0.00 | 0.00 | 0.00 | 0.00 | 0.00 | 0.00 | 0.00 | XXX
86341 |  | X | Islet cell antibody | 0.00 | 0.00 | 0.00 | 0.00 | 0.00 | 0.00 | 0.00 | 0.00 | 0.00 | 0.00 | XXX
86343 |  | X | Leukocyte histamine release | 0.00 | 0.00 | 0.00 | 0.00 | 0.00 | 0.00 | 0.00 | 0.00 | 0.00 | 0.00 | XXX
86344 |  | X | Leukocyte phagocytosis | 0.00 | 0.00 | 0.00 | 0.00 | 0.00 | 0.00 | 0.00 | 0.00 | 0.00 | 0.00 | XXX
86353 |  | X | Lymphocyte transformation | 0.00 | 0.00 | 0.00 | 0.00 | 0.00 | 0.00 | 0.00 | 0.00 | 0.00 | 0.00 | XXX
86359 |  | X | T cells, total count | 0.00 | 0.00 | 0.00 | 0.00 | 0.00 | 0.00 | 0.00 | 0.00 | 0.00 | 0.00 | XXX
86360 |  | X | T cell, absolute count/ratio | 0.00 | 0.00 | 0.00 | 0.00 | 0.00 | 0.00 | 0.00 | 0.00 | 0.00 | 0.00 | XXX
86361 |  | X | T cell, absolute count | 0.00 | 0.00 | 0.00 | 0.00 | 0.00 | 0.00 | 0.00 | 0.00 | 0.00 | 0.00 | XXX
86376 |  | X | Microsomal antibody | 0.00 | 0.00 | 0.00 | 0.00 | 0.00 | 0.00 | 0.00 | 0.00 | 0.00 | .00 | XXX
86378 |  | X | Migration inhibitory factor | 0.00 | 0.00 | 0.00 | 0.00 | 0.00 | 0.00 | 0.00 | 0.00 | 0.00 | 0.00 | XXX
86382 |  | X | Neutralization test, viral | 0.00 | 0.00 | 0.00 | 0.00 | 0.00 | 0.00 | 0.00 | 0.00 | 0.00 | 0.00 | XXX
86384 |  | X | Nitroblue tetrazolium dye | 0.00 | 0.00 | 0.00 | 0.00 | 0.00 | 0.00 | 0.00 | 0.00 | 0.00 | 0.00 | XXX
86403 |  | X | Particle agglutination test | 0.00 | 0.00 | 0.00 | 0.00 | 0.00 | 0.00 | 0.00 | 0.00 | 0.00 | 0.00 | XXX
86406 |  | X | Particle agglutination test | 0.00 | 0.00 | 0.00 | 0.00 | 0.00 | 0.00 | 0.00 | 0.00 | 0.00 | 0.00 | XXX
86430 |  | X | Rheumatoid factor test | 0.00 | 0.00 | 0.00 | 0.00 | 0.00 | 0.00 | 0.00 | 0.00 | 0.00 | 0.00 | XXX
86431 |  | X | Rheumatoid factor, quant | 0.00 | 0.00 | 0.00 | 0.00 | 0.00 | 0.00 | 0.00 | 0.00 | 0.00 | 0.00 | XXX
86485 |  | C | Skin test, candida | 0.00 | 0.00 | 0.00 | NA | NA | 0.00 | 0.00 | 0.00 | NA | NA | XXX
86490 |  | A | Coccidioidomycosis skin test | 0.00 | 0.29 | 0.29 | NA | NA | 0.02 | 0.31 | 0.31 | NA | NA | XXX
86510 |  | A | Histoplasmosis skin test | 0.00 | 0.32 | 0.32 | NA | NA | 0.02 | 0.34 | 0.34 | NA | NA | XXX
86580 |  | A | TB intradermal test | 0.00 | 0.25 | 0.25 | NA | NA | 0.02 | 0.27 | 0.27 | NA | NA | XXX
86585 |  | A | TB tine test | 0.00 | 0.21 | 0.21 | NA | NA | 0.01 | 0.22 | 0.22 | NA | NA | XXX
86586 |  | C | Skin test, unlisted | 0.00 | 0.00 | 0.00 | NA | NA | 0.00 | 0.00 | 0.00 | NA | NA | XXX
86588 |  | D | Streptocollus, direct screen | 0.00 | 0.00 | 0.00 | 0.00 | 0.00 | 0.00 | 0.00 | 0.00 | 0.00 | 0.00 | XXX
86590 |  | X | Streptokinase, antibody | 0.00 | 0.00 | 0.00 | 0.00 | 0.00 | 0.00 | 0.00 | 0.00 | 0.00 | 0.00 | XXX
86592 |  | X | Blood serology, qualitative | 0.00 | 0.00 | 0.00 | 0.00 | 0.00 | 0.00 | 0.00 | 0.00 | 0.00 | 0.00 | XXX
86593 |  | X | Blood serology, quantitative | 0.00 | 0.00 | 0.00 | 0.00 | 0.00 | 0.00 | 0.00 | 0.00 | 0.00 | 0.00 | XXX
86602 |  | X | Antinomyces antibody | 0.00 | 0.00 | 0.00 | 0.00 | 0.00 | 0.00 | 0.00 | 0.00 | 0.00 | 0.00 | XXX
86603 |  | X | Adenovirus antibody | 0.00 | 0.00 | 0.00 | 0.00 | 0.00 | 0.00 | 0.00 | 0.00 | 0.00 | 0.00 | XXX
86606 |  | X | Aspergillus antibody | 0.00 | 0.00 | 0.00 | 0.00 | 0.00 | 0.00 | 0.00 | 0.00 | 0.00 | 0.00 | XXX
86609 |  | X | Bacterium antibody | 0.00 | 0.00 | 0.00 | 0.00 | 0.00 | 0.00 | 0.00 | 0.00 | 0.00 | 0.00 | XXX
86612 |  | X | Blastomyces antibody | 0.00 | 0.00 | 0.00 | 0.00 | 0.00 | 0.00 | 0.00 | 0.00 | 0.00 | 0.00 | XXX
86615 |  | X | Bordetella antibody | 0.00 | 0.00 | 0.00 | 0.00 | 0.00 | 0.00 | 0.00 | 0.00 | 0.00 | 0.00 | XXX
86617 |  | X | Lyme disease antibody | 0.00 | 0.00 | 0.00 | 0.00 | 0.00 | 0.00 | 0.00 | 0.00 | 0.00 | 0.00 | XXX
86618 |  | X | Lyme disease antibody | 0.00 | 0.00 | 0.00 | 0.00 | 0.00 | 0.00 | 0.00 | 0.00 | 0.00 | 0.00 | XXX
86619 |  | X | Borrelia antibody | 0.00 | 0.00 | 0.00 | 0.00 | 0.00 | 0.00 | 0.00 | 0.00 | 0.00 | 0.00 | XXX
86622 |  | X | Brucella antibody | 0.00 | 0.00 | 0.00 | 0.00 | 0.00 | 0.00 | 0.00 | 0.00 | 0.00 | 0.00 | XXX
86625 |  | X | Campylobacter antibody | 0.00 | 0.00 | 0.00 | 0.00 | 0.00 | 0.00 | 0.00 | 0.00 | 0.00 | 0.00 | XXX
86628 |  | X | Candida antibody | 0.00 | 0.00 | 0.00 | 0.00 | 0.00 | 0.00 | 0.00 | 0.00 | 0.00 | 0.00 | XXX
86631 |  | X | Chlamydia antibody | 0.00 | 0.00 | 0.00 | 0.00 | 0.00 | 0.00 | 0.00 | 0.00 | 0.00 | 0.00 | XXX
86632 |  | X | Chlamydia igm antibody | 0.00 | 0.00 | 0.00 | 0.00 | 0.00 | 0.00 | 0.00 | 0.00 | 0.00 | 0.00 | XXX
86635 |  | X | Coccidioides antibody | 0.00 | 0.00 | 0.00 | 0.00 | 0.00 | 0.00 | 0.00 | 0.00 | 0.00 | 0.00 | XXX
86638 |  | X | Q fever antibody | 0.00 | 0.00 | 0.00 | 0.00 | 0.00 | 0.00 | 0.00 | 0.00 | 0.00 | 0.00 | XXX
86641 |  | X | Cryptococcus antibody | 0.00 | 0.00 | 0.00 | 0.00 | 0.00 | 0.00 | 0.00 | 0.00 | 0.00 | 0.00 | XXX
86644 |  | X | CMV antibody | 0.00 | 0.00 | 0.00 | 0.00 | 0.00 | 0.00 | 0.00 | 0.00 | 0.00 | 0.00 | XXX
86645 |  | X | CMV antibody, IgM | 0.00 | 0.00 | 0.00 | 0.00 | 0.00 | 0.00 | 0.00 | 0.00 | 0.00 | 0.00 | XXX
86648 |  | X | Diphtheria antibody | 0.00 | 0.00 | 0.00 | 0.00 | 0.00 | 0.00 | 0.00 | 0.00 | 0.00 | 0.00 | XXX
86651 |  | X | Encephalitis antibody | 0.00 | 0.00 | 0.00 | 0.00 | 0.00 | 0.00 | 0.00 | 0.00 | 0.00 | 0.00 | XXX
86652 |  | X | Encephalitis antibody | 0.00 | 0.00 | 0.00 | 0.00 | 0.00 | 0.00 | 0.00 | 0.00 | 0.00 | 0.00 | XXX
86653 |  | X | Encephalitis antibody | 0.00 | 0.00 | 0.00 | 0.00 | 0.00 | 0.00 | 0.00 | 0.00 | 0.00 | 0.00 | XXX
86654 |  | X | Encephalitis antibody | 0.00 | 0.00 | 0.00 | 0.00 | 0.00 | 0.00 | 0.00 | 0.00 | 0.00 | 0.00 | XXX
86658 |  | X | Enterovirus antibody | 0.00 | 0.00 | 0.00 | 0.00 | 0.00 | 0.00 | 0.00 | 0.00 | 0.00 | 0.00 | XXX
86663 |  | X | Epstein-barr antibody | 0.00 | 0.00 | 0.00 | 0.00 | 0.00 | 0.00 | 0.00 | 0.00 | 0.00 | 0.00 | XXX
86664 |  | X | Epstein-barr antibody | 0.00 | 0.00 | 0.00 | 0.00 | 0.00 | 0.00 | 0.00 | 0.00 | 0.00 | 0.00 | XXX
86665 |  | X | Epstein-barr antibody | 0.00 | 0.00 | 0.00 | 0.00 | 0.00 | 0.00 | 0.00 | 0.00 | 0.00 | 0.00 | XXX
86668 |  | X | Francisella tularensis | 0.00 | 0.00 | 0.00 | 0.00 | 0.00 | 0.00 | 0.00 | 0.00 | 0.00 | 0.00 | XXX
86671 |  | X | Fungus antibody | 0.00 | 0.00 | 0.00 | 0.00 | 0.00 | 0.00 | 0.00 | 0.00 | 0.00 | 0.00 | XXX
86674 |  | X | Giardia lamblia antibody | 0.00 | 0.00 | 0.00 | 0.00 | 0.00 | 0.00 | 0.00 | 0.00 | 0.00 | 0.00 | XXX
86677 |  | X | Helicobacter pylori | 0.00 | 0.00 | 0.00 | 0.00 | 0.00 | 0.00 | 0.00 | 0.00 | 0.00 | 0.00 | XXX
86682 |  | X | Helminth antibody | 0.00 | 0.00 | 0.00 | 0.00 | 0.00 | 0.00 | 0.00 | 0.00 | 0.00 | 0.00 | XXX
86684 |  | X | Hemophilus influenza | 0.00 | 0.00 | 0.00 | 0.00 | 0.00 | 0.00 | 0.00 | 0.00 | 0.00 | 0.00 | XXX
86687 |  | X | Htlv-i antibody | 0.00 | 0.00 | 0.00 | 0.00 | 0.00 | 0.00 | 0.00 | 0.00 | 0.00 | 0.00 | XXX
86688 |  | X | Htlv-ii antibody | 0.00 | 0.00 | 0.00 | 0.00 | 0.00 | 0.00 | 0.00 | 0.00 | 0.00 | 0.00 | XXX
86689 |  | X | HTLV/HIV confirmatory test | 0.00 | 0.00 | 0.00 | 0.00 | 0.00 | 0.00 | 0.00 | 0.00 | 0.00 | 0.00 | XXX
86692 |  | X | Hepatitis, delta agent | 0.00 | 0.00 | 0.00 | 0.00 | 0.00 | 0.00 | 0.00 | 0.00 | 0.00 | 0.00 | XXX
86694 |  | X | Herpes simplex test | 0.00 | 0.00 | 0.00 | 0.00 | 0.00 | 0.00 | 0.00 | 0.00 | 0.00 | 0.00 | XXX
86695 |  | X | Herpes simplex test | 0.00 | 0.00 | 0.00 | 0.00 | 0.00 | 0.00 | 0.00 | 0.00 | 0.00 | 0.00 | XXX
86698 |  | X | Histoplasma | 0.00 | 0.00 | 0.00 | 0.00 | 0.00 | 0.00 | 0.00 | 0.00 | 0.00 | 0.00 | XXX
86701 |  | X | HIV-1 | 0.00 | 0.00 | 0.00 | 0.00 | 0.00 | 0.00 | 0.00 | 0.00 | 0.00 | 0.00 | XXX
86702 |  | X | HIV-2 | 0.00 | 0.00 | 0.00 | 0.00 | 0.00 | 0.00 | 0.00 | 0.00 | 0.00 | 0.00 | XXX
86703 |  | X | HIV-1/HIV-2, single assay | 0.00 | 0.00 | 0.00 | 0.00 | 0.00 | 0.00 | 0.00 | 0.00 | 0.00 | 0.00 | XXX
86704 |  | X | Hep b core antibody, igg/igm | 0.00 | 0.00 | 0.00 | 0.00 | 0.00 | 0.00 | 0.00 | 0.00 | 0.00 | 0.00 | XXX
86705 |  | X | Hep b core antibody, igm | 0.00 | 0.00 | 0.00 | 0.00 | 0.00 | 0.00 | 0.00 | 0.00 | 0.00 | 0.00 | XXX
86706 |  | X | Hep b surface antibody | 0.00 | 0.00 | 0.00 | 0.00 | 0.00 | 0.00 | 0.00 | 0.00 | 0.00 | 0.00 | XXX
86707 |  | X | Hep be antibody | 0.00 | 0.00 | 0.00 | 0.00 | 0.00 | 0.00 | 0.00 | 0.00 | 0.00 | 0.00 | XXX
86708 |  | X | Hep a antibody, igg/igm | 0.00 | 0.00 | 0.00 | 0.00 | 0.00 | 0.00 | 0.00 | 0.00 | 0.00 | 0.00 | XXX
86709 |  | X | Hep a antibody, igm | 0.00 | 0.00 | 0.00 | 0.00 | 0.00 | 0.00 | 0.00 | 0.00 | 0.00 | 0.00 | XXX
86710 |  | X | Influenza virus antibody | 0.00 | 0.00 | 0.00 | 0.00 | 0.00 | 0.00 | 0.00 | 0.00 | 0.00 | 0.00 | XXX
86713 |  | X | Legionella antibody | 0.00 | 0.00 | 0.00 | 0.00 | 0.00 | 0.00 | 0.00 | 0.00 | 0.00 | 0.00 | XXX
86717 |  | X | Leishmania antibody | 0.00 | 0.00 | 0.00 | 0.00 | 0.00 | 0.00 | 0.00 | 0.00 | 0.00 | 0.00 | XXX
86720 |  | X | Leptospira antibody | 0.00 | 0.00 | 0.00 | 0.00 | 0.00 | 0.00 | 0.00 | 0.00 | 0.00 | 0.00 | XXX
86723 |  | X | Listeria monocytogenes ab | 0.00 | 0.00 | 0.00 | 0.00 | 0.00 | 0.00 | 0.00 | 0.00 | 0.00 | 0.00 | XXX
86727 |  | X | Lymph choriomeningitis ab | 0.00 | 0.00 | 0.00 | 0.00 | 0.00 | 0.00 | 0.00 | 0.00 | 0.00 | 0.00 | XXX
86729 |  | X | Lympho venereum antibody | 0.00 | 0.00 | 0.00 | 0.00 | 0.00 | 0.00 | 0.00 | 0.00 | 0.00 | 0.00 | XXX
86732 |  | X | Mucormycosis antibody | 0.00 | 0.00 | 0.00 | 0.00 | 0.00 | 0.00 | 0.00 | 0.00 | 0.00 | 0.00 | XXX
86735 |  | X | Mumps antibody | 0.00 | 0.00 | 0.00 | 0.00 | 0.00 | 0.00 | 0.00 | 0.00 | 0.00 | 0.00 | XXX
86738 |  | X | Mycoplasma antibody | 0.00 | 0.00 | 0.00 | 0.00 | 0.00 | 0.00 | 0.00 | 0.00 | 0.00 | 0.00 | XXX
86741 |  | X | Neisseria meningitidis | 0.00 | 0.00 | 0.00 | 0.00 | 0.00 | 0.00 | 0.00 | 0.00 | 0.00 | 0.00 | XXX
86744 |  | X | Nocardia antibody | 0.00 | 0.00 | 0.00 | 0.00 | 0.00 | 0.00 | 0.00 | 0.00 | 0.00 | 0.00 | XXX
86747 |  | X | Parvovirus antibody | 0.00 | 0.00 | 0.00 | 0.00 | 0.00 | 0.00 | 0.00 | 0.00 | 0.00 | 0.00 | XXX
86750 |  | X | Malaria antibody | 0.00 | 0.00 | 0.00 | 0.00 | 0.00 | 0.00 | 0.00 | 0.00 | 0.00 | 0.00 | XXX
86753 |  | X | Protozoa antibody nos | 0.00 | 0.00 | 0.00 | 0.00 | 0.00 | 0.00 | 0.00 | 0.00 | 0.00 | 0.00 | XXX
86756 |  | X | Respiratory virus antibody | 0.00 | 0.00 | 0.00 | 0.00 | 0.00 | 0.00 | 0.00 | 0.00 | 0.00 | 0.00 | XXX
86759 |  | X | Rotavirus antibody | 0.00 | 0.00 | 0.00 | 0.00 | 0.00 | 0.00 | 0.00 | 0.00 | 0.00 | 0.00 | XXX
86762 |  | X | Rubella antibody | 0.00 | 0.00 | 0.00 | 0.00 | 0.00 | 0.00 | 0.00 | 0.00 | 0.00 | 0.00 | XXX
86765 |  | X | Rubeola antibody | 0.00 | 0.00 | 0.00 | 0.00 | 0.00 | 0.00 | 0.00 | 0.00 | 0.00 | 0.00 | XXX
86768 |  | X | Salmonella antibody | 0.00 | 0.00 | 0.00 | 0.00 | 0.00 | 0.00 | 0.00 | 0.00 | 0.00 | 0.00 | XXX
86771 |  | X | Shigella antibody | 0.00 | 0.00 | 0.00 | 0.00 | 0.00 | 0.00 | 0.00 | 0.00 | 0.00 | 0.00 | XXX
86774 |  | X | Tetanus antibody | 0.00 | 0.00 | 0.00 | 0.00 | 0.00 | 0.00 | 0.00 | 0.00 | 0.00 | 0.00 | XXX
86777 |  | X | Toxoplasma antibody | 0.00 | 0.00 | 0.00 | 0.00 | 0.00 | 0.00 | 0.00 | 0.00 | 0.00 | 0.00 | XXX
86778 |  | X | Toxoplasma antibody, igm | 0.00 | 0.00 | 0.00 | 0.00 | 0.00 | 0.00 | 0.00 | 0.00 | 0.00 | 0.00 | XXX
86781 |  | X | Treponema pallidum, confirm | 0.00 | 0.00 | 0.00 | 0.00 | 0.00 | 0.00 | 0.00 | 0.00 | 0.00 | 0.00 | XXX
86784 |  | X | Trichinella antibody | 0.00 | 0.00 | 0.00 | 0.00 | 0.00 | 0.00 | 0.00 | 0.00 | 0.00 | 0.00 | XXX
86787 |  | X | Varicella-zoster antibody | 0.00 | 0.00 | 0.00 | 0.00 | 0.00 | 0.00 | 0.00 | 0.00 | 0.00 | 0.00 | XXX
86790 |  | X | Virus antibody nos | 0.00 | 0.00 | 0.00 | 0.00 | 0.00 | 0.00 | 0.00 | 0.00 | 0.00 | 0.00 | XXX
86793 |  | X | Yersinia antibody | 0.00 | 0.00 | 0.00 | 0.00 | 0.00 | 0.00 | 0.00 | 0.00 | 0.00 | 0.00 | XXX
86800 |  | X | Thyroglobulin antibody | 0.00 | 0.00 | 0.00 | 0.00 | 0.00 | 0.00 | 0.00 | 0.00 | 0.00 | 0.00 | XXX
86803 |  | X | Hepatitis c ab test | 0.00 | 0.00 | 0.00 | 0.00 | 0.00 | 0.00 | 0.00 | 0.00 | 0.00 | 0.00 | XXX
86804 |  | X | Hep c ab test, confirm | 0.00 | 0.00 | 0.00 | 0.00 | 0.00 | 0.00 | 0.00 | 0.00 | 0.00 | 0.00 | XXX
86805 |  | X | Lymphocytotoxicity assay | 0.00 | 0.00 | 0.00 | 0.00 | 0.00 | 0.00 | 0.00 | 0.00 | 0.00 | 0.00 | XXX
86806 |  | X | Lymphocytotoxicity assay | 0.00 | 0.00 | 0.00 | 0.00 | 0.00 | 0.00 | 0.00 | 0.00 | 0.00 | 0.00 | XXX
86807 |  | X | Cytotoxic antibody screening | 0.00 | 0.00 | 0.00 | 0.00 | 0.00 | 0.00 | 0.00 | 0.00 | 0.00 | 0.00 | XXX
86808 |  | X | Cytotoxic antibody screening | 0.00 | 0.00 | 0.00 | 0.00 | 0.00 | 0.00 | 0.00 | 0.00 | 0.00 | 0.00 | XXX
86812 |  | X | HLA typing, A, B, or C | 0.00 | 0.00 | 0.00 | 0.00 | 0.00 | 0.00 | 0.00 | 0.00 | 0.00 | 0.00 | XXX
86813 |  | X | HLA typing, A, B, or C | 0.00 | 0.00 | 0.00 | 0.00 | 0.00 | 0.00 | 0.00 | 0.00 | 0.00 | 0.00 | XXX
86816 |  | X | HLA typing, DR/DQ | 0.00 | 0.00 | 0.00 | 0.00 | 0.00 | 0.00 | 0.00 | 0.00 | 0.00 | 0.00 | XXX
86817 |  | X | HLA typing, DR/DQ | 0.00 | 0.00 | 0.00 | 0.00 | 0.00 | 0.00 | 0.00 | 0.00 | 0.00 | 0.00 | XXX
86821 |  | X | Lymphocyte culture, mixed | 0.00 | 0.00 | 0.00 | 0.00 | 0.00 | 0.00 | 0.00 | 0.00 | 0.00 | 0.00 | XXX
86822 |  | X | Lymphocyte culture, primed | 0.00 | 0.00 | 0.00 | 0.00 | 0.00 | 0.00 | 0.00 | 0.00 | 0.00 | 0.00 | XXX
86849 |  | X | Immunology procedure | 0.00 | 0.00 | 0.00 | 0.00 | 0.00 | 0.00 | 0.00 | 0.00 | 0.00 | 0.00 | XXX
86850 |  | X | RBC antibody screen | 0.00 | 0.00 | 0.00 | 0.00 | 0.00 | 0.00 | 0.00 | 0.00 | 0.00 | 0.00 | XXX
86860 |  | X | RBC antibody elution | 0.00 | 0.00 | 0.00 | 0.00 | 0.00 | 0.00 | 0.00 | 0.00 | 0.00 | 0.00 | XXX
86870 |  | X | RBC antibody identification | 0.00 | 0.00 | 0.00 | 0.00 | 0.00 | 0.00 | 0.00 | 0.00 | 0.00 | 0.00 | XXX
86880 |  | X | Coombs test | 0.00 | 0.00 | 0.00 | 0.00 | 0.00 | 0.00 | 0.00 | 0.00 | 0.00 | 0.00 | XXX
86885 |  | X | Coombs test | 0.00 | 0.00 | 0.00 | 0.00 | 0.00 | 0.00 | 0.00 | 0.00 | 0.00 | 0.00 | XXX
86886 |  | X | Coombs test | 0.00 | 0.00 | 0.00 | 0.00 | 0.00 | 0.00 | 0.00 | 0.00 | 0.00 | 0.00 | XXX
86890 |  | X | Autologous blood process | 0.00 | 0.00 | 0.00 | 0.00 | 0.00 | 0.00 | 0.00 | 0.00 | 0.00 | 0.00 | XXX
86891 |  | X | Autologous blood, op salvage | 0.00 | 0.00 | 0.00 | 0.00 | 0.00 | 0.00 | 0.00 | 0.00 | 0.00 | 0.00 | XXX
86900 |  | X | Blood typing, ABO | 0.00 | 0.00 | 0.00 | 0.00 | 0.00 | 0.00 | 0.00 | 0.00 | 0.00 | 0.00 | XXX
86901 |  | X | Blood typing, Rh (D) | 0.00 | 0.00 | 0.00 | 0.00 | 0.00 | 0.00 | 0.00 | 0.00 | 0.00 | 0.00 | XXX
86903 |  | X | Blood typing, antigen screen | 0.00 | 0.00 | 0.00 | 0.00 | 0.00 | 0.00 | 0.00 | 0.00 | 0.00 | 0.00 | XXX
86904 |  | X | Blood typing, patient serum | 0.00 | 0.00 | 0.00 | 0.00 | 0.00 | 0.00 | 0.00 | 0.00 | 0.00 | 0.00 | XXX
86905 |  | X | Blood typing, RBC antigens | 0.00 | 0.00 | 0.00 | 0.00 | 0.00 | 0.00 | 0.00 | 0.00 | 0.00 | 0.00 | XXX
86906 |  | X | Blood typing, Rh phenotype | 0.00 | 0.00 | 0.00 | 0.00 | 0.00 | 0.00 | 0.00 | 0.00 | 0.00 | 0.00 | XXX
86910 |  | N | Blood typing, paternity test | 0.00 | 0.00 | 0.00 | 0.00 | 0.00 | 0.00 | 0.00 | 0.00 | 0.00 | 0.00 | XXX
86911 |  | N | Blood typing, antigen system | 0.00 | 0.00 | 0.00 | 0.00 | 0.00 | 0.00 | 0.00 | 0.00 | 0.00 | 0.00 | XXX
86915 |  | X | Bone marrow/stem cell prep | 0.00 | 0.00 | 0.00 | 0.00 | 0.00 | 0.00 | 0.00 | 0.00 | 0.00 | 0.00 | XXX
86920 |  | X | Compatibility test | 0.00 | 0.00 | 0.00 | 0.00 | 0.00 | 0.00 | 0.00 | 0.00 | 0.00 | 0.00 | XXX
86921 |  | X | Compatibility test | 0.00 | 0.00 | 0.00 | 0.00 | 0.00 | 0.00 | 0.00 | 0.00 | 0.00 | 0.00 | XXX
86922 |  | X | Compatibility test | 0.00 | 0.00 | 0.00 | 0.00 | 0.00 | 0.00 | 0.00 | 0.00 | 0.00 | 0.00 | XXX
86927 |  | X | Plasma, fresh frozen | 0.00 | 0.00 | 0.00 | 0.00 | 0.00 | 0.00 | 0.00 | 0.00 | 0.00 | 0.00 | XXX
86930 |  | X | Frozen blood prep | 0.00 | 0.00 | 0.00 | 0.00 | 0.00 | 0.00 | 0.00 | 0.00 | 0.00 | 0.00 | XXX
86931 |  | X | Frozen blood thaw | 0.00 | 0.00 | 0.00 | 0.00 | 0.00 | 0.00 | 0.00 | 0.00 | 0.00 | 0.00 | XXX
86932 |  | X | Frozen blood freeze/thaw | 0.00 | 0.00 | 0.00 | 0.00 | 0.00 | 0.00 | 0.00 | 0.00 | 0.00 | 0.00 | XXX
86940 |  | X | Hemolysins/agglutinins, auto | 0.00 | 0.00 | 0.00 | 0.00 | 0.00 | 0.00 | 0.00 | 0.00 | 0.00 | 0.00 | XXX
86941 |  | X | Hemolysins/agglutinins | 0.00 | 0.00 | 0.00 | 0.00 | 0.00 | 0.00 | 0.00 | 0.00 | 0.00 | 0.00 | XXX
86945 |  | X | Blood product/irradiation | 0.00 | 0.00 | 0.00 | 0.00 | 0.00 | 0.00 | 0.00 | 0.00 | 0.00 | 0.00 | XXX
86950 |  | X | Leukacyte transfusion | 0.00 | 0.00 | 0.00 | 0.00 | 0.00 | 0.00 | 0.00 | 0.00 | 0.00 | 0.00 | XXX
86965 |  | X | Pooling blood platelets | 0.00 | 0.00 | 0.00 | 0.00 | 0.00 | 0.00 | 0.00 | 0.00 | 0.00 | 0.00 | XXX
86970 |  | X | RBC pretreatment | 0.00 | 0.00 | 0.00 | 0.00 | 0.00 | 0.00 | 0.00 | 0.00 | 0.00 | 0.00 | XXX
86971 |  | X | RBC pretreatment | 0.00 | 0.00 | 0.00 | 0.00 | 0.00 | 0.00 | 0.00 | 0.00 | 0.00 | 0.00 | XXX
86972 |  | X | RBC pretreatment | 0.00 | 0.00 | 0.00 | 0.00 | 0.00 | 0.00 | 0.00 | 0.00 | 0.00 | 0.00 | XXX
86975 |  | X | RBC pretreatment, serum | 0.00 | 0.00 | 0.00 | 0.00 | 0.00 | 0.00 | 0.00 | 0.00 | 0.00 | 0.00 | XXX
86976 |  | X | RBC pretreatment, serum | 0.00 | 0.00 | 0.00 | 0.00 | 0.00 | 0.00 | 0.00 | 0.00 | 0.00 | 0.00 | XXX
86977 |  | X | RBC pretreatment, serum | 0.00 | 0.00 | 0.00 | 0.00 | 0.00 | 0.00 | 0.00 | 0.00 | 0.00 | 0.00 | XXX
86978 |  | X | RBC pretreatment, serum | 0.00 | 0.00 | 0.00 | 0.00 | 0.00 | 0.00 | 0.00 | 0.00 | 0.00 | 0.00 | XXX
86985 |  | X | Split blood or products | 0.00 | 0.00 | 0.00 | 0.00 | 0.00 | 0.00 | 0.00 | 0.00 | 0.00 | 0.00 | XXX
86999 |  | X | Transfusion procedure | 0.00 | 0.00 | 0.00 | 0.00 | 0.00 | 0.00 | 0.00 | 0.00 | 0.00 | 0.00 | XXX
87001 |  | X | Small animal inoculation | 0.00 | 0.00 | 0.00 | 0.00 | 0.00 | 0.00 | 0.00 | 0.00 | 0.00 | 0.00 | XXX
87003 |  | X | Small animal inoculation | 0.00 | 0.00 | 0.00 | 0.00 | 0.00 | 0.00 | 0.00 | 0.00 | 0.00 | 0.00 | XXX
87015 |  | X | Specimen concentration | 0.00 | 0.00 | 0.00 | 0.00 | 0.00 | 0.00 | 0.00 | 0.00 | 0.00 | 0.00 | XXX
87040 |  | X | Blood culture for bacteria | 0.00 | 0.00 | 0.00 | 0.00 | 0.00 | 0.00 | 0.00 | 0.00 | 0.00 | 0.00 | XXX
87045 |  | X | Stool culture for bacteria | 0.00 | 0.00 | 0.00 | 0.00 | 0.00 | 0.00 | 0.00 | 0.00 | 0.00 | 0.00 | XXX
87060 |  | X | Nose/throat culture, bact | 0.00 | 0.00 | 0.00 | 0.00 | 0.00 | 0.00 | 0.00 | 0.00 | 0.00 | 0.00 | XXX
87070 |  | X | Culture specimen, bacteria | 0.00 | 0.00 | 0.00 | 0.00 | 0.00 | 0.00 | 0.00 | 0.00 | 0.00 | 0.00 | XXX
87072 |  | X | Culture of specimen by kit | 0.00 | 0.00 | 0.00 | 0.00 | 0.00 | 0.00 | 0.00 | 0.00 | 0.00 | 0.00 | XXX
87075 |  | X | Culture specimen, bacteria | 0.00 | 0.00 | 0.00 | 0.00 | 0.00 | 0.00 | 0.00 | 0.00 | 0.00 | 0.00 | XXX
87076 |  | X | Bacteria identification | 0.00 | 0.00 | 0.00 | 0.00 | 0.00 | 0.00 | 0.00 | 0.00 | 0.00 | 0.00 | XXX
87081 |  | X | Bacteria culture screen | 0.00 | 0.00 | 0.00 | 0.00 | 0.00 | 0.00 | 0.00 | 0.00 | 0.00 | 0.00 | XXX
87082 |  | X | Culture of specimen by kit | 0.00 | 0.00 | 0.00 | 0.00 | 0.00 | 0.00 | 0.00 | 0.00 | 0.00 | 0.00 | XXX
87083 |  | X | Culture of specimen by kit | 0.00 | 0.00 | 0.00 | 0.00 | 0.00 | 0.00 | 0.00 | 0.00 | 0.00 | 0.00 | XXX
87084 |  | X | Culture of specimen by kit | 0.00 | 0.00 | 0.00 | 0.00 | 0.00 | 0.00 | 0.00 | 0.00 | 0.00 | 0.00 | XXX
87085 |  | X | Culture of specimen by kit | 0.00 | 0.00 | 0.00 | 0.00 | 0.00 | 0.00 | 0.00 | 0.00 | 0.00 | 0.00 | XXX
87086 |  | X | Urine culture/colony count | 0.00 | 0.00 | 0.00 | 0.00 | 0.00 | 0.00 | 0.00 | 0.00 | 0.00 | 0.00 | XXX
87087 |  | X | Urine bacteria culture | 0.00 | 0.00 | 0.00 | 0.00 | 0.00 | 0.00 | 0.00 | 0.00 | 0.00 | 0.00 | XXX
87088 |  | X | Urine bacteria culture | 0.00 | 0.00 | 0.00 | 0.00 | 0.00 | 0.00 | 0.00 | 0.00 | 0.00 | 0.00 | XXX
87101 |  | X | Skin fungus culture | 0.00 | 0.00 | 0.00 | 0.00 | 0.00 | 0.00 | 0.00 | 0.00 | 0.00 | 0.00 | XXX
87102 |  | X | Fungus isolation culture | 0.00 | 0.00 | 0.00 | 0.00 | 0.00 | 0.00 | 0.00 | 0.00 | 0.00 | 0.00 | XXX
87103 |  | X | Blood fungus culture | 0.00 | 0.00 | 0.00 | 0.00 | 0.00 | 0.00 | 0.00 | 0.00 | 0.00 | 0.00 | XXX
87106 |  | X | Fungus identification | 0.00 | 0.00 | 0.00 | 0.00 | 0.00 | 0.00 | 0.00 | 0.00 | 0.00 | 0.00 | XXX
87109 |  | X | Mycoplasma culture | 0.00 | 0.00 | 0.00 | 0.00 | 0.00 | 0.00 | 0.00 | 0.00 | 0.00 | 0.00 | XXX
87110 |  | X | Culture, chlamydia | 0.00 | 0.00 | 0.00 | 0.00 | 0.00 | 0.00 | 0.00 | 0.00 | 0.00 | 0.00 | XXX
87116 |  | X | Mycobacteria culture | 0.00 | 0.00 | 0.00 | 0.00 | 0.00 | 0.00 | 0.00 | 0.00 | 0.00 | 0.00 | XXX
87117 |  | X | Mycobacteria culture | 0.00 | 0.00 | 0.00 | 0.00 | 0.00 | 0.00 | 0.00 | 0.00 | 0.00 | 0.00 | XXX
87118 |  | X | Mycobacteria identification | 0.00 | 0.00 | 0.00 | 0.00 | 0.00 | 0.00 | 0.00 | 0.00 | 0.00 | 0.00 | XXX
87140 |  | X | Culture typing, fluorescent | 0.00 | 0.00 | 0.00 | 0.00 | 0.00 | 0.00 | 0.00 | 0.00 | 0.00 | 0.00 | XXX
87143 |  | X | Culture typing, GLC method | 0.00 | 0.00 | 0.00 | 0.00 | 0.00 | 0.00 | 0.00 | 0.00 | 0.00 | 0.00 | XXX
87145 |  | X | Culture typing, phage method | 0.00 | 0.00 | 0.00 | 0.00 | 0.00 | 0.00 | 0.00 | 0.00 | 0.00 | 0.00 | XXX
87147 |  | X | Culture typing, serologic | 0.00 | 0.00 | 0.00 | 0.00 | 0.00 | 0.00 | 0.00 | 0.00 | 0.00 | 0.00 | XXX
87151 |  | X | Culture typing, serologic | 0.00 | 0.00 | 0.00 | 0.00 | 0.00 | 0.00 | 0.00 | 0.00 | 0.00 | 0.00 | XXX
87155 |  | X | Culture typing, precipitin | 0.00 | 0.00 | 0.00 | 0.00 | 0.00 | 0.00 | 0.00 | 0.00 | 0.00 | 0.00 | XXX
87158 |  | X | Culture typing, added method | 0.00 | 0.00 | 0.00 | 0.00 | 0.00 | 0.00 | 0.00 | 0.00 | 0.00 | 0.00 | XXX
87163 |  | X | Special microbiology culture | 0.00 | 0.00 | 0.00 | 0.00 | 0.00 | 0.00 | 0.00 | 0.00 | 0.00 | 0.00 | XXX
87164 |  | X | Dark field examination | 0.00 | 0.00 | 0.00 | 0.00 | 0.00 | 0.00 | 0.00 | 0.00 | 0.00 | 0.00 | XXX
87164 | 26 | A | Dark field examination | 0.37 | 0.15 | 0.17 | 0.15 | 0.17 | 0.01 | 0.53 | 0.55 | 0.53 | 0.55 | XXX
87166 |  | X | Dark field examination | 0.00 | 0.00 | 0.00 | 0.00 | 0.00 | 0.00 | 0.00 | 0.00 | 0.00 | 0.00 | XXX
87174 |  | X | Endotoxin, bacterial | 0.00 | 0.00 | 0.00 | 0.00 | 0.00 | 0.00 | 0.00 | 0.00 | 0.00 | 0.00 | XXX
87175 |  | X | Assay, endotoxin, bacterial | 0.00 | 0.00 | 0.00 | 0.00 | 0.00 | 0.00 | 0.00 | 0.00 | 0.00 | 0.00 | XXX
87176 |  | X | Endotoxin, bacterial | 0.00 | 0.00 | 0.00 | 0.00 | 0.00 | 0.00 | 0.00 | 0.00 | 0.00 | 0.00 | XXX
87177 |  | X | Ova and parasites smears | 0.00 | 0.00 | 0.00 | 0.00 | 0.00 | 0.00 | 0.00 | 0.00 | 0.00 | 0.00 | XXX
87181 |  | X | Antibiotic sensitivity, each | 0.00 | 0.00 | 0.00 | 0.00 | 0.00 | 0.00 | 0.00 | 0.00 | 0.00 | 0.00 | XXX
87184 |  | X | Antibiotic sensitivity, each | 0.00 | 0.00 | 0.00 | 0.00 | 0.00 | 0.00 | 0.00 | 0.00 | 0.00 | 0.00 | XXX
87186 |  | X | Antibiotic sensitivity, MIC | 0.00 | 0.00 | 0.00 | 0.00 | 0.00 | 0.00 | 0.00 | 0.00 | 0.00 | 0.00 | XXX
87187 |  | X | Antibiotic sensitivity, MBC | 0.00 | 0.00 | 0.00 | 0.00 | 0.00 | 0.00 | 0.00 | 0.00 | 0.00 | 0.00 | XXX
87188 |  | X | Antibiotic sensitivity, each | 0.00 | 0.00 | 0.00 | 0.00 | 0.00 | 0.00 | 0.00 | 0.00 | 0.00 | 0.00 | XXX
87190 |  | X | TB antibiotic sensitivity | 0.00 | 0.00 | 0.00 | 0.00 | 0.00 | 0.00 | 0.00 | 0.00 | 0.00 | 0.00 | XXX
87192 |  | X | Antibiotic sensitivity, each | 0.00 | 0.00 | 0.00 | 0.00 | 0.00 | 0.00 | 0.00 | 0.00 | 0.00 | 0.00 | XXX
87197 |  | X | Bactericidal level, serum | 0.00 | 0.00 | 0.00 | 0.00 | 0.00 | 0.00 | 0.00 | 0.00 | 0.00 | 0.00 | XXX
87205 |  | X | Smear, stain & interpret | 0.00 | 0.00 | 0.00 | 0.00 | 0.00 | 0.00 | 0.00 | 0.00 | 0.00 | 0.00 | XXX
87206 |  | X | Smear, stain & interpret | 0.00 | 0.00 | 0.00 | 0.00 | 0.00 | 0.00 | 0.00 | 0.00 | 0.00 | 0.00 | XXX
87207 |  | X | Smear, stain & interpret | 0.00 | 0.00 | 0.00 | 0.00 | 0.00 | 0.00 | 0.00 | 0.00 | 0.00 | 0.00 | XXX
87207 | 26 | A | Smear, stain & interpret | 0.37 | 0.18 | 0.19 | 0.16 | 0.18 | 0.01 | 0.56 | 0.57 | 0.54 | 0.56 | XXX
87208 |  | X | Smear, stain & interpret | 0.00 | 0.00 | 0.00 | 0.00 | 0.00 | 0.00 | 0.00 | 0.00 | 0.00 | 0.00 | XXX
87210 |  | X | Smear, stain & interpret | 0.00 | 0.00 | 0.00 | 0.00 | 0.00 | 0.00 | 0.00 | 0.00 | 0.00 | 0.00 | XXX
87211 |  | X | Smear, stain & interpret | 0.00 | 0.00 | 0.00 | 0.00 | 0.00 | 0.00 | 0.00 | 0.00 | 0.00 | 0.00 | XXX
87220 |  | X | Tissue exam for fungi | 0.00 | 0.00 | 0.00 | 0.00 | 0.00 | 0.00 | 0.00 | 0.00 | 0.00 | 0.00 | XXX
87230 |  | X | Assay, toxin or antitoxin | 0.00 | 0.00 | 0.00 | 0.00 | 0.00 | 0.00 | 0.00 | 0.00 | 0.00 | 0.00 | XXX
87250 |  | X | Virus inoculation for test | 0.00 | 0.00 | 0.00 | 0.00 | 0.00 | 0.00 | 0.00 | 0.00 | 0.00 | 0.00 | XXX
87252 |  | X | Virus inoculation for test | 0.00 | 0.00 | 0.00 | 0.00 | 0.00 | 0.00 | 0.00 | 0.00 | 0.00 | 0.00 | XXX
87253 |  | X | Virus inoculation for test | 0.00 | 0.00 | 0.00 | 0.00 | 0.00 | 0.00 | 0.00 | 0.00 | 0.00 | 0.00 | XXX
87260 |  | X | Adenovirus ag, dfa | 0.00 | 0.00 | 0.00 | 0.00 | 0.00 | 0.00 | 0.00 | 0.00 | 0.00 | 0.00 | XXX
87265 |  | X | Pertussis ag, dfa | 0.00 | 0.00 | 0.00 | 0.00 | 0.00 | 0.00 | 0.00 | 0.00 | 0.00 | 0.00 | XXX
87270 |  | X | Chylmd trach ag, dfa | 0.00 | 0.00 | 0.00 | 0.00 | 0.00 | 0.00 | 0.00 | 0.00 | 0.00 | 0.00 | XXX
87272 |  | X | Cryptosporidum ag, dfa | 0.00 | 0.00 | 0.00 | 0.00 | 0.00 | 0.00 | 0.00 | 0.00 | 0.00 | 0.00 | XXX
87274 |  | X | Herpes simplex ag, dfa | 0.00 | 0.00 | 0.00 | 0.00 | 0.00 | 0.00 | 0.00 | 0.00 | 0.00 | 0.00 | XXX
87276 |  | X | Influenza ag, dfa | 0.00 | 0.00 | 0.00 | 0.00 | 0.00 | 0.00 | 0.00 | 0.00 | 0.00 | 0.00 | XXX
87278 |  | X | Legion pneumo ag, dfa | 0.00 | 0.00 | 0.00 | 0.00 | 0.00 | 0.00 | 0.00 | 0.00 | 0.00 | 0.00 | XXX
87280 |  | X | Resp syncytial ag, dfa | 0.00 | 0.00 | 0.00 | 0.00 | 0.00 | 0.00 | 0.00 | 0.00 | 0.00 | 0.00 | XXX
87285 |  | X | Trepon pallidum ag, dfa | 0.00 | 0.00 | 0.00 | 0.00 | 0.00 | 0.00 | 0.00 | 0.00 | 0.00 | 0.00 | XXX
87290 |  | X | Varicella ag, dfa | 0.00 | 0.00 | 0.00 | 0.00 | 0.00 | 0.00 | 0.00 | 0.00 | 0.00 | 0.00 | XXX
87299 |  | X | Ag detection nos, dfa | 0.00 | 0.00 | 0.00 | 0.00 | 0.00 | 0.00 | 0.00 | 0.00 | 0.00 | 0.00 | XXX
87301 |  | X | Adenovirus ag, eia | 0.00 | 0.00 | 0.00 | 0.00 | 0.00 | 0.00 | 0.00 | 0.00 | 0.00 | 0.00 | XXX
87320 |  | X | Chylmd trach ag, eia | 0.00 | 0.00 | 0.00 | 0.00 | 0.00 | 0.00 | 0.00 | 0.00 | 0.00 | 0.00 | XXX
87324 |  | X | Clostridium ag, eia | 0.00 | 0.00 | 0.00 | 0.00 | 0.00 | 0.00 | 0.00 | 0.00 | 0.00 | 0.00 | XXX
87328 |  | X | Cryptospor ag, eia | 0.00 | 0.00 | 0.00 | 0.00 | 0.00 | 0.00 | 0.00 | 0.00 | 0.00 | 0.00 | XXX
87332 |  | X | Cytomegalovirus ag, eia | 0.00 | 0.00 | 0.00 | 0.00 | 0.00 | 0.00 | 0.00 | 0.00 | 0.00 | 0.00 | XXX
87335 |  | X | E coli 0157 ag, eia | 0.00 | 0.00 | 0.00 | 0.00 | 0.00 | 0.00 | 0.00 | 0.00 | 0.00 | 0.00 | XXX
87338 |  | X | Hpylori, stool, eia | 0.00 | 0.00 | 0.00 | 0.00 | 0.00 | 0.00 | 0.00 | 0.00 | 0.00 | 0.00 | XXX
87340 |  | X | Hepatitis b surface ag, eia | 0.00 | 0.00 | 0.00 | 0.00 | 0.00 | 0.00 | 0.00 | 0.00 | 0.00 | 0.00 | XXX
87350 |  | X | Hepatitis be ag, eia | 0.00 | 0.00 | 0.00 | 0.00 | 0.00 | 0.00 | 0.00 | 0.00 | 0.00 | 0.00 | XXX
87380 |  | X | Hepatitis delta ag, eia | 0.00 | 0.00 | 0.00 | 0.00 | 0.00 | 0.00 | 0.00 | 0.00 | 0.00 | 0.00 | XXX
87385 |  | X | Histoplasma capsul ag, eia | 0.00 | 0.00 | 0.00 | 0.00 | 0.00 | 0.00 | 0.00 | 0.00 | 0.00 | 0.00 | XXX
87390 |  | X | Hiv-1 ag, eia | 0.00 | 0.00 | 0.00 | 0.00 | 0.00 | 0.00 | 0.00 | 0.00 | 0.00 | 0.00 | XXX
87391 |  | X | Hiv-2 ag, eia | 0.00 | 0.00 | 0.00 | 0.00 | 0.00 | 0.00 | 0.00 | 0.00 | 0.00 | 0.00 | XXX
87420 |  | X | Resp syncytial ag, eia | 0.00 | 0.00 | 0.00 | 0.00 | 0.00 | 0.00 | 0.00 | 0.00 | 0.00 | 0.00 | XXX
87425 |  | X | Rotavirus ag, eia | 0.00 | 0.00 | 0.00 | 0.00 | 0.00 | 0.00 | 0.00 | 0.00 | 0.00 | 0.00 | XXX
87430 |  | X | Strep a ag, eia | 0.00 | 0.00 | 0.00 | 0.00 | 0.00 | 0.00 | 0.00 | 0.00 | 0.00 | 0.00 | XXX
87449 |  | X | Ag detect nos, eia, mult | 0.00 | 0.00 | 0.00 | 0.00 | 0.00 | 0.00 | 0.00 | 0.00 | 0.00 | 0.00 | XXX
87450 |  | X | Ag detect nos, eia, single | 0.00 | 0.00 | 0.00 | 0.00 | 0.00 | 0.00 | 0.00 | 0.00 | 0.00 | 0.00 | XXX
87470 |  | X | Bartonella, dna, dir probe | 0.00 | 0.00 | 0.00 | 0.00 | 0.00 | 0.00 | 0.00 | 0.00 | 0.00 | 0.00 | XXX
87471 |  | X | Bartonella, dna, amp probe | 0.00 | 0.00 | 0.00 | 0.00 | 0.00 | 0.00 | 0.00 | 0.00 | 0.00 | 0.00 | XXX
87472 |  | X | Bartonella, dna, quant | 0.00 | 0.00 | 0.00 | 0.00 | 0.00 | 0.00 | 0.00 | 0.00 | 0.00 | 0.00 | XXX
87475 |  | X | Lyme dis, dna, dir probe | 0.00 | 0.00 | 0.00 | 0.00 | 0.00 | 0.00 | 0.00 | 0.00 | 0.00 | 0.00 | XXX
87476 |  | X | Lyme dis, dna, amp probe | 0.00 | 0.00 | 0.00 | 0.00 | 0.00 | 0.00 | 0.00 | 0.00 | 0.00 | 0.00 | XXX
87477 |  | X | Lyme dis, dna, quant | 0.00 | 0.00 | 0.00 | 0.00 | 0.00 | 0.00 | 0.00 | 0.00 | 0.00 | 0.00 | XXX
87480 |  | X | Candida, dna, dir probe | 0.00 | 0.00 | 0.00 | 0.00 | 0.00 | 0.00 | 0.00 | 0.00 | 0.00 | 0.00 | XXX
87481 |  | X | Candida, dna, amp probe | 0.00 | 0.00 | 0.00 | 0.00 | 0.00 | 0.00 | 0.00 | 0.00 | 0.00 | 0.00 | XXX
87482 |  | X | Candida, dna, quant | 0.00 | 0.00 | 0.00 | 0.00 | 0.00 | 0.00 | 0.00 | 0.00 | 0.00 | 0.00 | XXX
87485 |  | X | Chylmd pneum, dna, dir probe | 0.00 | 0.00 | 0.00 | 0.00 | 0.00 | 0.00 | 0.00 | 0.00 | 0.00 | 0.00 | XXX
87486 |  | X | Chylmd pneum, dna, amp probe | 0.00 | 0.00 | 0.00 | 0.00 | 0.00 | 0.00 | 0.00 | 0.00 | 0.00 | 0.00 | XXX
87487 |  | X | Chylmd pneum, dna, quant | 0.00 | 0.00 | 0.00 | 0.00 | 0.00 | 0.00 | 0.00 | 0.00 | 0.00 | 0.00 | XXX
87490 |  | X | Chylmd trach, dna, dir probe | 0.00 | 0.00 | 0.00 | 0.00 | 0.00 | 0.00 | 0.00 | 0.00 | 0.00 | 0.00 | XXX
87491 |  | X | Chylmd trach, dna, amp probe | 0.00 | 0.00 | 0.00 | 0.00 | 0.00 | 0.00 | 0.00 | 0.00 | 0.00 | 0.00 | XXX
87492 |  | X | Chylmd trach, dna, quant | 0.00 | 0.00 | 0.00 | 0.00 | 0.00 | 0.00 | 0.00 | 0.00 | 0.00 | 0.00 | XXX
87495 |  | X | Cytomeg, dna, dir probe | 0.00 | 0.00 | 0.00 | 0.00 | 0.00 | 0.00 | 0.00 | 0.00 | 0.00 | 0.00 | XXX
87496 |  | X | Cytomeg, dna, amp probe | 0.00 | 0.00 | 0.00 | 0.00 | 0.00 | 0.00 | 0.00 | 0.00 | 0.00 | 0.00 | XXX
87497 |  | X | Cytomeg, dna, quant | 0.00 | 0.00 | 0.00 | 0.00 | 0.00 | 0.00 | 0.00 | 0.00 | 0.00 | 0.00 | XXX
87510 |  | X | Gardner vag, dna, dir probe | 0.00 | 0.00 | 0.00 | 0.00 | 0.00 | 0.00 | 0.00 | 0.00 | 0.00 | 0.00 | XXX
87511 |  | X | Gardner vag, dna, amp probe | 0.00 | 0.00 | 0.00 | 0.00 | 0.00 | 0.00 | 0.00 | 0.00 | 0.00 | 0.00 | XXX
87512 |  | X | Gardner vag, dna, quant | 0.00 | 0.00 | 0.00 | 0.00 | 0.00 | 0.00 | 0.00 | 0.00 | 0.00 | 0.00 | XXX
87515 |  | X | Hepatitis b, dna, dir probe | 0.00 | 0.00 | 0.00 | 0.00 | 0.00 | 0.00 | 0.00 | 0.00 | 0.00 | 0.00 | XXX
87516 |  | X | Hepatitis b , dna, amp probe | 0.00 | 0.00 | 0.00 | 0.00 | 0.00 | 0.00 | 0.00 | 0.00 | 0.00 | 0.00 | XXX
87517 |  | X | Hepatitis b , dna, quant | 0.00 | 0.00 | 0.00 | 0.00 | 0.00 | 0.00 | 0.00 | 0.00 | 0.00 | 0.00 | XXX
87520 |  | X | Hepatitis c , rna, dir probe | 0.00 | 0.00 | 0.00 | 0.00 | 0.00 | 0.00 | 0.00 | 0.00 | 0.00 | 0.00 | XXX
87521 |  | X | Hepatitis c , rna, amp probe | 0.00 | 0.00 | 0.00 | 0.00 | 0.00 | 0.00 | 0.00 | 0.00 | 0.00 | 0.00 | XXX
87522 |  | X | Hepatitis c, rna, quant | 0.00 | 0.00 | 0.00 | 0.00 | 0.00 | 0.00 | 0.00 | 0.00 | 0.00 | 0.00 | XXX
87525 |  | X | Hepatitis g , dna, dir probe | 0.00 | 0.00 | 0.00 | 0.00 | 0.00 | 0.00 | 0.00 | 0.00 | 0.00 | 0.00 | XXX
87526 |  | X | Hepatitis g, dna, amp probe | 0.00 | 0.00 | 0.00 | 0.00 | 0.00 | 0.00 | 0.00 | 0.00 | 0.00 | 0.00 | XXX
87527 |  | X | Hepatitis g, dna, quant | 0.00 | 0.00 | 0.00 | 0.00 | 0.00 | 0.00 | 0.00 | 0.00 | 0.00 | 0.00 | XXX
87528 |  | X | Hsv, dna, dir probe | 0.00 | 0.00 | 0.00 | 0.00 | 0.00 | 0.00 | 0.00 | 0.00 | 0.00 | 0.00 | XXX
87529 |  | X | Hsv, dna, amp probe | 0.00 | 0.00 | 0.00 | 0.00 | 0.00 | 0.00 | 0.00 | 0.00 | 0.00 | 0.00 | XXX
87530 |  | X | Hsv, dna, quant | 0.00 | 0.00 | 0.00 | 0.00 | 0.00 | 0.00 | 0.00 | 0.00 | 0.00 | 0.00 | XXX
87531 |  | X | Hhv-6, dna, dir probe | 0.00 | 0.00 | 0.00 | 0.00 | 0.00 | 0.00 | 0.00 | 0.00 | 0.00 | 0.00 | XXX
87532 |  | X | Hhv-6, dna, amp probe | 0.00 | 0.00 | 0.00 | 0.00 | 0.00 | 0.00 | 0.00 | 0.00 | 0.00 | 0.00 | XXX
87533 |  | X | Hhv-6, dna, quant | 0.00 | 0.00 | 0.00 | 0.00 | 0.00 | 0.00 | 0.00 | 0.00 | 0.00 | 0.00 | XXX
87534 |  | X | Hiv-1, dna, dir probe | 0.00 | 0.00 | 0.00 | 0.00 | 0.00 | 0.00 | 0.00 | 0.00 | 0.00 | 0.00 | XXX
87535 |  | X | Hiv-1, dna, amp probe | 0.00 | 0.00 | 0.00 | 0.00 | 0.00 | 0.00 | 0.00 | 0.00 | 0.00 | 0.00 | XXX
87536 |  | X | Hiv-1, dna, quant | 0.00 | 0.00 | 0.00 | 0.00 | 0.00 | 0.00 | 0.00 | 0.00 | 0.00 | 0.00 | XXX
87537 |  | X | Hiv-2, dna, dir probe | 0.00 | 0.00 | 0.00 | 0.00 | 0.00 | 0.00 | 0.00 | 0.00 | 0.00 | 0.00 | XXX
87538 |  | X | Hiv-2, dna, amp probe | 0.00 | 0.00 | 0.00 | 0.00 | 0.00 | 0.00 | 0.00 | 0.00 | 0.00 | 0.00 | XXX
87539 |  | X | Hiv-2, dna, quant | 0.00 | 0.00 | 0.00 | 0.00 | 0.00 | 0.00 | 0.00 | 0.00 | 0.00 | 0.00 | XXX
87540 |  | X | Legion pneumo, dna, dir prob | 0.00 | 0.00 | 0.00 | 0.00 | 0.00 | 0.00 | 0.00 | 0.00 | 0.00 | 0.00 | XXX
87541 |  | X | Legion pneumo, dna, amp prob | 0.00 | 0.00 | 0.00 | 0.00 | 0.00 | 0.00 | 0.00 | 0.00 | 0.00 | 0.00 | XXX
87542 |  | X | Legion pneumo, dna, quant | 0.00 | 0.00 | 0.00 | 0.00 | 0.00 | 0.00 | 0.00 | 0.00 | 0.00 | 0.00 | XXX
87550 |  | X | Mycobacteria, dna, dir probe | 0.00 | 0.00 | 0.00 | 0.00 | 0.00 | 0.00 | 0.00 | 0.00 | 0.00 | 0.00 | XXX
87551 |  | X | Mycobacteria, dna, amp probe | 0.00 | 0.00 | 0.00 | 0.00 | 0.00 | 0.00 | 0.00 | 0.00 | 0.00 | 0.00 | XXX
87552 |  | X | Mycobacteria, dna, quant | 0.00 | 0.00 | 0.00 | 0.00 | 0.00 | 0.00 | 0.00 | 0.00 | 0.00 | 0.00 | XXX
87555 |  | X | M.tuberculo, dna, dir probe | 0.00 | 0.00 | 0.00 | 0.00 | 0.00 | 0.00 | 0.00 | 0.00 | 0.00 | 0.00 | XXX
87556 |  | X | M.tuberculo, dna, amp probe | 0.00 | 0.00 | 0.00 | 0.00 | 0.00 | 0.00 | 0.00 | 0.00 | 0.00 | 0.00 | XXX
87557 |  | X | M.tuberculo, dna, quant | 0.00 | 0.00 | 0.00 | 0.00 | 0.00 | 0.00 | 0.00 | 0.00 | 0.00 | 0.00 | XXX
87560 |  | X | M.avium-intra, dna, dir prob | 0.00 | 0.00 | 0.00 | 0.00 | 0.00 | 0.00 | 0.00 | 0.00 | 0.00 | 0.00 | XXX
87561 |  | X | M.avium-intra, dna, amp prob | 0.00 | 0.00 | 0.00 | 0.00 | 0.00 | 0.00 | 0.00 | 0.00 | 0.00 | 0.00 | XXX
87562 |  | X | M.avium-intra, dna, quant | 0.00 | 0.00 | 0.00 | 0.00 | 0.00 | 0.00 | 0.00 | 0.00 | 0.00 | 0.00 | XXX
87580 |  | X | M.pneumon, dna, dir probe | 0.00 | 0.00 | 0.00 | 0.00 | 0.00 | 0.00 | 0.00 | 0.00 | 0.00 | 0.00 | XXX
87581 |  | X | M.pneumon, dna, amp probe | 0.00 | 0.00 | 0.00 | 0.00 | 0.00 | 0.00 | 0.00 | 0.00 | 0.00 | 0.00 | XXX
87582 |  | X | M.pneumon, dna, quant | 0.00 | 0.00 | 0.00 | 0.00 | 0.00 | 0.00 | 0.00 | 0.00 | 0.00 | 0.00 | XXX
87590 |  | X | N.gonorrhoeae, dna, dir prob | 0.00 | 0.00 | 0.00 | 0.00 | 0.00 | 0.00 | 0.00 | 0.00 | 0.00 | 0.00 | XXX
87591 |  | X | N.gonorrhoeae, dna, amp prob | 0.00 | 0.00 | 0.00 | 0.00 | 0.00 | 0.00 | 0.00 | 0.00 | 0.00 | 0.00 | XXX
87592 |  | X | N.gonorrhoeae, dna, quant | 0.00 | 0.00 | 0.00 | 0.00 | 0.00 | 0.00 | 0.00 | 0.00 | 0.00 | 0.00 | XXX
87620 |  | X | Hpv, dna, dir probe | 0.00 | 0.00 | 0.00 | 0.00 | 0.00 | 0.00 | 0.00 | 0.00 | 0.00 | 0.00 | XXX
87621 |  | X | Hpv, dna, amp probe | 0.00 | 0.00 | 0.00 | 0.00 | 0.00 | 0.00 | 0.00 | 0.00 | 0.00 | 0.00 | XXX
87622 |  | X | Hpv, dna, quant | 0.00 | 0.00 | 0.00 | 0.00 | 0.00 | 0.00 | 0.00 | 0.00 | 0.00 | 0.00 | XXX
87650 |  | X | Strep a, dna, dir probe | 0.00 | 0.00 | 0.00 | 0.00 | 0.00 | 0.00 | 0.00 | 0.00 | 0.00 | 0.00 | XXX
87651 |  | X | Strep a, dna, amp probe | 0.00 | 0.00 | 0.00 | 0.00 | 0.00 | 0.00 | 0.00 | 0.00 | 0.00 | 0.00 | XXX
87652 |  | X | Strep a, dna, quant | 0.00 | 0.00 | 0.00 | 0.00 | 0.00 | 0.00 | 0.00 | 0.00 | 0.00 | 0.00 | XXX
87797 |  | X | Detect agent nos, dna, dir | 0.00 | 0.00 | 0.00 | 0.00 | 0.00 | 0.00 | 0.00 | 0.00 | 0.00 | 0.00 | XXX
87798 |  | X | Detect agent nos, dna, amp | 0.00 | 0.00 | 0.00 | 0.00 | 0.00 | 0.00 | 0.00 | 0.00 | 0.00 | 0.00 | XXX
87799 |  | X | Detect agent nos, dna, quant | 0.00 | 0.00 | 0.00 | 0.00 | 0.00 | 0.00 | 0.00 | 0.00 | 0.00 | 0.00 | XXX
87810 |  | X | Chylmd trach assay w/optic | 0.00 | 0.00 | 0.00 | 0.00 | 0.00 | 0.00 | 0.00 | 0.00 | 0.00 | 0.00 | XXX
87850 |  | X | N. gonorrhoeae assay w/optic | 0.00 | 0.00 | 0.00 | 0.00 | 0.00 | 0.00 | 0.00 | 0.00 | 0.00 | 0.00 | XXX
87880 |  | X | Strep a assay w/optic | 0.00 | 0.00 | 0.00 | 0.00 | 0.00 | 0.00 | 0.00 | 0.00 | 0.00 | 0.00 | XXX
87899 |  | X | Agent nos assay w/optic | 0.00 | 0.00 | 0.00 | 0.00 | 0.00 | 0.00 | 0.00 | 0.00 | 0.00 | 0.00 | XXX
87999 |  | X | Microbiology procedure | 0.00 | 0.00 | 0.00 | 0.00 | 0.00 | 0.00 | 0.00 | 0.00 | 0.00 | 0.00 | XXX
88000 |  | N | Autopsy (necropsy), gross | 0.00 | 0.00 | 0.00 | 0.00 | 0.00 | 0.00 | 0.00 | 0.00 | 0.00 | 0.00 | XXX
88005 |  | N | Autopsy (necropsy), gross | 0.00 | 0.00 | 0.00 | 0.00 | 0.00 | 0.00 | 0.00 | 0.00 | 0.00 | 0.00 | XXX
88007 |  | N | Autopsy (necropsy), gross | 0.00 | 0.00 | 0.00 | 0.00 | 0.00 | 0.00 | 0.00 | 0.00 | 0.00 | 0.00 | XXX
88012 |  | N | Autopsy (necropsy), gross | 0.00 | 0.00 | 0.00 | 0.00 | 0.00 | 0.00 | 0.00 | 0.00 | 0.00 | 0.00 | XXX
88014 |  | N | Autopsy (necropsy), gross | 0.00 | 0.00 | 0.00 | 0.00 | 0.00 | 0.00 | 0.00 | 0.00 | 0.00 | 0.00 | XXX
88016 |  | N | Autopsy (necropsy), gross | 0.00 | 0.00 | 0.00 | 0.00 | 0.00 | 0.00 | 0.00 | 0.00 | 0.00 | 0.00 | XXX
88020 |  | N | Autopsy (necropsy), complete | 0.00 | 0.00 | 0.00 | 0.00 | 0.00 | 0.00 | 0.00 | 0.00 | 0.00 | 0.00 | XXX
88025 |  | N | Autopsy (necropsy), complete | 0.00 | 0.00 | 0.00 | 0.00 | 0.00 | 0.00 | 0.00 | 0.00 | 0.00 | 0.00 | XXX
88027 |  | N | Autopsy (necropsy), complete | 0.00 | 0.00 | 0.00 | 0.00 | 0.00 | 0.00 | 0.00 | 0.00 | 0.00 | 0.00 | XXX
88028 |  | N | Autopsy (necropsy), complete | 0.00 | 0.00 | 0.00 | 0.00 | 0.00 | 0.00 | 0.00 | 0.00 | 0.00 | 0.00 | XXX
88029 |  | N | Autopsy (necropsy), complete | 0.00 | 0.00 | 0.00 | 0.00 | 0.00 | 0.00 | 0.00 | 0.00 | 0.00 | 0.00 | XXX
88036 |  | N | Limited autopsy | 0.00 | 0.00 | 0.00 | 0.00 | 0.00 | 0.00 | 0.00 | 0.00 | 0.00 | 0.00 | XXX
88037 |  | N | Limited autopsy | 0.00 | 0.00 | 0.00 | 0.00 | 0.00 | 0.00 | 0.00 | 0.00 | 0.00 | 0.00 | XXX
88040 |  | N | Forensic autopsy (necropsy) | 0.00 | 0.00 | 0.00 | 0.00 | 0.00 | 0.00 | 0.00 | 0.00 | 0.00 | 0.00 | XXX
88045 |  | N | Coroner's autopsy (necropsy) | 0.00 | 0.00 | 0.00 | 0.00 | 0.00 | 0.00 | 0.00 | 0.00 | 0.00 | 0.00 | XXX
88099 |  | N | Necropsy (autopsy) procedure | 0.00 | 0.00 | 0.00 | 0.00 | 0.00 | 0.00 | 0.00 | 0.00 | 0.00 | 0.00 | XXX
88104 |  | A | Cytopathology, fluids | 0.56 | 0.90 | 0.79 | NA | NA | 0.03 | 1.49 | 1.38 | NA | NA | XXX
88104 | 26 | A | Cytopathology, fluids | 0.56 | 0.24 | 0.24 | 0.24 | 0.24 | 0.01 | 0.81 | 0.81 | 0.81 | 0.81 | XXX
88104 | TC | A | Cytopathology, fluids | 0.00 | 0.66 | 0.55 | NA | NA | 0.02 | 0.68 | 0.57 | NA | NA | XXX
88106 |  | A | Cytopathology, fluids | 0.56 | 0.56 | 0.53 | NA | NA | 0.03 | 1.15 | 1.12 | NA | NA | XXX
88106 | 26 | A | Cytopathology, fluids | 0.56 | 0.24 | 0.24 | 0.24 | 0.24 | 0.01 | 0.81 | 0.81 | 0.81 | 0.81 | XXX
88106 | TC | A | Cytopathology, fluids | 0.00 | 0.32 | 0.29 | NA | NA | 0.02 | 0.34 | 0.31 | NA | NA | XXX
88107 |  | A | Cytopathology, fluids | 0.76 | 0.94 | 0.83 | NA | NA | 0.04 | 1.74 | 1.63 | NA | NA | XXX
88107 | 26 | A | Cytopathology, fluids | 0.76 | 0.33 | 0.31 | 0.33 | 0.31 | 0.02 | 1.11 | 1.09 | 1.11 | 1.09 | XXX
88107 | TC | A | Cytopathology, fluids | 0.00 | 0.61 | 0.52 | NA | NA | 0.02 | 0.63 | 0.54 | NA | NA | XXX
88108 |  | A | Cytopath, concentrate tech | 0.56 | 0.81 | 0.74 | NA | NA | 0.03 | 1.40 | 1.33 | NA | NA | XXX
88108 | 26 | A | Cytopath, concentrate tech | 0.56 | 0.24 | 0.25 | 0.24 | 0.25 | 0.01 | 0.81 | 0.82 | 0.81 | 0.82 | XXX
88108 | TC | A | Cytopath, concentrate tech | 0.00 | 0.57 | 0.49 | NA | NA | 0.02 | 0.59 | 0.51 | NA | NA | XXX
88125 |  | A | Forensic cytopathology | 0.26 | 0.30 | 0.25 | NA | NA | 0.02 | 0.58 | 0.53 | NA | NA | XXX
88125 | 26 | A | Forensic cytopathology | 0.26 | 0.11 | 0.10 | 0.11 | 0.10 | 0.01 | 0.38 | 0.37 | 0.38 | 0.37 | XXX
88125 | TC | A | Forensic cytopathology | 0.00 | 0.19 | 0.15 | NA | NA | 0.01 | 0.20 | 0.16 | NA | NA | XXX
88130 |  | X | Sex chromatin identification | 0.00 | 0.00 | 0.00 | 0.00 | 0.00 | 0.00 | 0.00 | 0.00 | 0.00 | 0.00 | XXX
88140 |  | X | Sex chromatin identification | 0.00 | 0.00 | 0.00 | 0.00 | 0.00 | 0.00 | 0.00 | 0.00 | 0.00 | 0.00 | XXX
88141 |  | A | Cytopath, c/v, interpret | 0.42 | 0.19 | 0.23 | 0.19 | 0.23 | 0.01 | 0.62 | 0.66 | 0.62 | 0.66 | XXX
88142 |  | X | Cytopath, c/v, thin layer | 0.00 | 0.00 | 0.00 | 0.00 | 0.00 | 0.00 | 0.00 | 0.00 | 0.00 | 0.00 | XXX
88143 |  | X | Cytopath c/v thin layer redo | 0.00 | 0.00 | 0.00 | 0.00 | 0.00 | 0.00 | 0.00 | 0.00 | 0.00 | 0.00 | XXX
88144 |  | X | Cytopath, c/v thin lyr redo | 0.00 | 0.00 | 0.00 | 0.00 | 0.00 | 0.00 | 0.00 | 0.00 | 0.00 | 0.00 | XXX
88145 |  | X | Cytopath, c/v thin lyr sel | 0.00 | 0.00 | 0.00 | 0.00 | 0.00 | 0.00 | 0.00 | 0.00 | 0.00 | 0.00 | XXX
88147 |  | X | Cytopath, c/v, automated | 0.00 | 0.00 | 0.00 | 0.00 | 0.00 | 0.00 | 0.00 | 0.00 | 0.00 | 0.00 | XXX
88148 |  | X | Cytopath, c/v, auto rescreen | 0.00 | 0.00 | 0.00 | 0.00 | 0.00 | 0.00 | 0.00 | 0.00 | 0.00 | 0.00 | XXX
88150 |  | X | Cytopath, c/v, manual | 0.00 | 0.00 | 0.00 | 0.00 | 0.00 | 0.00 | 0.00 | 0.00 | 0.00 | 0.00 | XXX
88152 |  | X | Cytopath, c/v, auto redo | 0.00 | 0.00 | 0.00 | 0.00 | 0.00 | 0.00 | 0.00 | 0.00 | 0.00 | 0.00 | XXX
88153 |  | X | Cytopath, c/v, redo | 0.00 | 0.00 | 0.00 | 0.00 | 0.00 | 0.00 | 0.00 | 0.00 | 0.00 | 0.00 | XXX
88154 |  | X | Cytopath, c/v, select | 0.00 | 0.00 | 0.00 | 0.00 | 0.00 | 0.00 | 0.00 | 0.00 | 0.00 | 0.00 | XXX
88155 |  | X | Cytopath, c/v, index add-on | 0.00 | 0.00 | 0.00 | 0.00 | 0.00 | 0.00 | 0.00 | 0.00 | 0.00 | 0.00 | XXX
88160 |  | A | Cytopath smear, other source | 0.50 | 1.08 | 0.90 | NA | NA | 0.03 | 1.61 | 1.43 | NA | NA | XXX
88160 | 26 | A | Cytopath smear, other source | 0.50 | 0.21 | 0.20 | 0.21 | 0.20 | 0.01 | 0.72 | 0.71 | 0.72 | 0.71 | XXX
88160 | TC | A | Cytopath smear, other source | 0.00 | 0.87 | 0.70 | NA | NA | 0.02 | 0.89 | 0.72 | NA | NA | XXX
88161 |  | A | Cytopath smear, other source | 0.50 | 0.52 | 0.50 | NA | NA | 0.03 | 1.05 | 1.03 | NA | NA | XXX
88161 | 26 | A | Cytopath smear, other source | 0.50 | 0.21 | 0.21 | 0.21 | 0.21 | 0.01 | 0.72 | 0.72 | 0.72 | 0.72 | XXX
88161 | TC | A | Cytopath smear, other source | 0.00 | 0.31 | 0.29 | NA | NA | 0.02 | 0.33 | 0.31 | NA | NA | XXX
88162 |  | A | Cytopath smear, other source | 0.76 | 0.94 | 0.92 | NA | NA | 0.04 | 1.74 | 1.72 | NA | NA | XXX
88162 | 26 | A | Cytopath smear, other source | 0.76 | 0.33 | 0.36 | 0.33 | 0.36 | 0.02 | 1.11 | 1.14 | 1.11 | 1.14 | XXX
88162 | TC | A | Cytopath smear, other source | 0.00 | 0.61 | 0.56 | NA | NA | 0.02 | 0.63 | 0.58 | NA | NA | XXX
88164 |  | X | Cytopath tbs, c/v, manual | 0.00 | 0.00 | 0.00 | 0.00 | 0.00 | 0.00 | 0.00 | 0.00 | 0.00 | 0.00 | XXX
88165 |  | X | Cytopath tbs, c/v, redo | 0.00 | 0.00 | 0.00 | 0.00 | 0.00 | 0.00 | 0.00 | 0.00 | 0.00 | 0.00 | XXX
88166 |  | X | Cytopath tbs, c/v, auto redo | 0.00 | 0.00 | 0.00 | 0.00 | 0.00 | 0.00 | 0.00 | 0.00 | 0.00 | 0.00 | XXX
88167 |  | X | Cytopath tbs, c/v, select | 0.00 | 0.00 | 0.00 | 0.00 | 0.00 | 0.00 | 0.00 | 0.00 | 0.00 | 0.00 | XXX
88170 |  | A | Fine needle aspiration | 1.27 | 0.88 | 0.93 | NA | NA | 0.08 | 2.23 | 2.28 | NA | NA | XXX
88170 | 26 | A | Fine needle aspiration | 1.27 | 0.53 | 0.54 | 0.53 | 0.54 | 0.05 | 1.85 | 1.86 | 1.85 | 1.86 | XXX
88170 | TC | A | Fine needle aspiration | 0.00 | 0.35 | 0.39 | NA | NA | 0.03 | 0.38 | 0.42 | NA | NA | XXX
88171 |  | A | Fine needle aspiration | 1.27 | 0.75 | 0.93 | NA | NA | 0.07 | 2.09 | 2.27 | NA | NA | XXX
88171 | 26 | A | Fine needle aspiration | 1.27 | 0.48 | 0.55 | 0.48 | 0.55 | 0.04 | 1.79 | 1.86 | 1.79 | 1.86 | XXX
88171 | TC | A | Fine needle aspiration | 0.00 | 0.27 | 0.38 | NA | NA | 0.03 | 0.30 | 0.41 | NA | NA | XXX
88172 |  | A | Evaluation of smear | 0.60 | 1.13 | 1.04 | NA | NA | 0.04 | 1.77 | 1.68 | NA | NA | XXX
88172 | 26 | A | Evaluation of smear | 0.60 | 0.26 | 0.29 | 0.26 | 0.29 | 0.02 | 0.88 | 0.91 | 0.88 | 0.91 | XXX
88172 | TC | A | Evaluation of smear | 0.00 | 0.87 | 0.75 | NA | NA | 0.02 | 0.89 | 0.77 | NA | NA | XXX
88173 |  | A | Interpretation of smear | 1.39 | 1.42 | 1.30 | NA | NA | 0.06 | 2.87 | 2.75 | NA | NA | XXX
88173 | 26 | A | Interpretation of smear | 1.39 | 0.60 | 0.57 | 0.60 | 0.57 | 0.04 | 2.03 | 2.00 | 2.03 | 2.00 | XXX
88173 | TC | A | Interpretation of smear | 0.00 | 0.82 | 0.73 | NA | NA | 0.02 | 0.84 | 0.75 | NA | NA | XXX
88180 |  | A | Cell marker study | 0.36 | 0.76 | 0.66 | NA | NA | 0.03 | 1.15 | 1.05 | NA | NA | XXX
88180 | 26 | A | Cell marker study | 0.36 | 0.15 | 0.16 | 0.15 | 0.16 | 0.01 | 0.52 | 0.53 | 0.52 | 0.53 | XXX
88180 | TC | A | Cell marker study | 0.00 | 0.61 | 0.50 | NA | NA | 0.02 | 0.63 | 0.52 | NA | NA | XXX
88182 |  | A | Cell marker study | 0.77 | 1.15 | 1.11 | NA | NA | 0.05 | 1.97 | 1.93 | NA | NA | XXX
88182 | 26 | A | Cell marker study | 0.77 | 0.33 | 0.37 | 0.33 | 0.37 | 0.02 | 1.12 | 1.16 | 1.12 | 1.16 | XXX
88182 | TC | A | Cell marker study | 0.00 | 0.82 | 0.74 | NA | NA | 0.03 | 0.85 | 0.77 | NA | NA | XXX
88199 |  | C | Cytopathology procedure | 0.00 | 0.00 | 0.00 | NA | NA | 0.00 | 0.00 | 0.00 | NA | NA | XXX
88199 | 26 | C | Cytopathology procedure | 0.00 | 0.00 | 0.00 | 0.00 | 0.00 | 0.00 | 0.00 | 0.00 | 0.00 | 0.00 | XXX
88199 | TC | C | Cytopathology procedure | 0.00 | 0.00 | 0.00 | NA | NA | 0.00 | 0.00 | 0.00 | NA | NA | XXX
88230 |  | X | Tissue culture, lymphocyte | 0.00 | 0.00 | 0.00 | 0.00 | 0.00 | 0.00 | 0.00 | 0.00 | 0.00 | 0.00 | XXX
88233 |  | X | Tissue culture, skin/biopsy | 0.00 | 0.00 | 0.00 | 0.00 | 0.00 | 0.00 | 0.00 | 0.00 | 0.00 | 0.00 | XXX
88235 |  | X | Tissue culture, placenta | 0.00 | 0.00 | 0.00 | 0.00 | 0.00 | 0.00 | 0.00 | 0.00 | 0.00 | 0.00 | XXX
88237 |  | X | Tissue culture, bone marrow | 0.00 | 0.00 | 0.00 | 0.00 | 0.00 | 0.00 | 0.00 | 0.00 | 0.00 | 0.00 | XXX
88239 |  | X | Tissue culture, tumor | 0.00 | 0.00 | 0.00 | 0.00 | 0.00 | 0.00 | 0.00 | 0.00 | 0.00 | 0.00 | XXX
88240 |  | X | Cell cryopreserve/storage | 0.00 | 0.00 | 0.00 | 0.00 | 0.00 | 0.00 | 0.00 | 0.00 | 0.00 | 0.00 | XXX
88241 |  | X | Frozen cell preparation | 0.00 | 0.00 | 0.00 | 0.00 | 0.00 | 0.00 | 0.00 | 0.00 | 0.00 | 0.00 | XXX
88245 |  | X | Chromosome analysis, 20-25 | 0.00 | 0.00 | 0.00 | 0.00 | 0.00 | 0.00 | 0.00 | 0.00 | 0.00 | 0.00 | XXX
88248 |  | X | Chromosome analysis, 50-100 | 0.00 | 0.00 | 0.00 | 0.00 | 0.00 | 0.00 | 0.00 | 0.00 | 0.00 | 0.00 | XXX
88249 |  | X | Chromosome analysis, 100 | 0.00 | 0.00 | 0.00 | 0.00 | 0.00 | 0.00 | 0.00 | 0.00 | 0.00 | 0.00 | XXX
88261 |  | X | Chromosome analysis, 5 | 0.00 | 0.00 | 0.00 | 0.00 | 0.00 | 0.00 | 0.00 | 0.00 | 0.00 | 0.00 | XXX
88262 |  | X | Chromosome analysis, 15-20 | 0.00 | 0.00 | 0.00 | 0.00 | 0.00 | 0.00 | 0.00 | 0.00 | 0.00 | 0.00 | XXX
88263 |  | X | Chromosome analysis, 45 | 0.00 | 0.00 | 0.00 | 0.00 | 0.00 | 0.00 | 0.00 | 0.00 | 0.00 | 0.00 | XXX
88264 |  | X | Chromosome analysis, 20-25 | 0.00 | 0.00 | 0.00 | 0.00 | 0.00 | 0.00 | 0.00 | 0.00 | 0.00 | 0.00 | XXX
88267 |  | X | Chromosome analys, placenta | 0.00 | 0.00 | 0.00 | 0.00 | 0.00 | 0.00 | 0.00 | 0.00 | 0.00 | 0.00 | XXX
88269 |  | X | Chromosome analys, amniotic | 0.00 | 0.00 | 0.00 | 0.00 | 0.00 | 0.00 | 0.00 | 0.00 | 0.00 | 0.00 | XXX
88271 |  | X | Cytogenetics, dna probe | 0.00 | 0.00 | 0.00 | 0.00 | 0.00 | 0.00 | 0.00 | 0.00 | 0.00 | 0.00 | XXX
88272 |  | X | Cytogenetics, 3-5 | 0.00 | 0.00 | 0.00 | 0.00 | 0.00 | 0.00 | 0.00 | 0.00 | 0.00 | 0.00 | XXX
88273 |  | X | Cytogenetics, 10-30 | 0.00 | 0.00 | 0.00 | 0.00 | 0.00 | 0.00 | 0.00 | 0.00 | 0.00 | 0.00 | XXX
88274 |  | X | Cytogenetics, 25-99 | 0.00 | 0.00 | 0.00 | 0.00 | 0.00 | 0.00 | 0.00 | 0.00 | 0.00 | 0.00 | XXX
88275 |  | X | Cytogenetics, 100-300 | 0.00 | 0.00 | 0.00 | 0.00 | 0.00 | 0.00 | 0.00 | 0.00 | 0.00 | 0.00 | XXX
88280 |  | X | Chromosome karyotype study | 0.00 | 0.00 | 0.00 | 0.00 | 0.00 | 0.00 | 0.00 | 0.00 | 0.00 | 0.00 | XXX
88283 |  | X | Chromosome banding study | 0.00 | 0.00 | 0.00 | 0.00 | 0.00 | 0.00 | 0.00 | 0.00 | 0.00 | 0.00 | XXX
88285 |  | X | Chromosome count, additional | 0.00 | 0.00 | 0.00 | 0.00 | 0.00 | 0.00 | 0.00 | 0.00 | 0.00 | 0.00 | XXX
88289 |  | X | Chromosome study, additional | 0.00 | 0.00 | 0.00 | 0.00 | 0.00 | 0.00 | 0.00 | 0.00 | 0.00 | 0.00 | XXX
88291 |  | A | Cyto/molecular report | 0.52 | 0.22 | 0.22 | 0.22 | 0.22 | 0.01 | 0.75 | 0.75 | 0.75 | 0.75 | XXX
88299 |  | C | Cytogenetic study | 0.00 | 0.00 | 0.00 | 0.00 | 0.00 | 0.00 | 0.00 | 0.00 | 0.00 | 0.00 | XXX
88300 |  | A | Surgical path, gross | 0.08 | 0.40 | 0.36 | NA | NA | 0.02 | 0.50 | 0.46 | NA | NA | XXX
88300 | 26 | A | Surgical path, gross | 0.08 | 0.03 | 0.05 | 0.03 | 0.05 | 0.01 | 0.12 | 0.14 | 0.12 | 0.14 | XXX
88300 | TC | A | Surgical path, gross | 0.00 | 0.37 | 0.31 | NA | NA | 0.01 | 0.38 | 0.32 | NA | NA | XXX
88302 |  | A | Tissue exam by pathologist | 0.13 | 1.29 | 1.08 | NA | NA | 0.03 | 1.45 | 1.24 | NA | NA | XXX
88302 | 26 | A | Tissue exam by pathologist | 0.13 | 0.06 | 0.09 | 0.06 | 0.09 | 0.01 | 0.20 | 0.23 | 0.20 | 0.23 | XXX
88302 | TC | A | Tissue exam by pathologist | 0.00 | 1.23 | 0.99 | NA | NA | 0.02 | 1.25 | 1.01 | NA | NA | XXX
88304 |  | A | Tissue exam by pathologist | 0.22 | 0.82 | 0.77 | NA | NA | 0.03 | 1.07 | 1.02 | NA | NA | XXX
88304 | 26 | A | Tissue exam by pathologist | 0.22 | 0.09 | 0.13 | 0.09 | 0.13 | 0.01 | 0.32 | 0.36 | 0.32 | 0.36 | XXX
88304 | TC | A | Tissue exam by pathologist | 0.00 | 0.73 | 0.64 | NA | NA | 0.02 | 0.75 | 0.66 | NA | NA | XXX
88305 |  | A | Tissue exam by pathologist | 0.75 | 1.57 | 1.46 | NA | NA | 0.05 | 2.37 | 2.26 | NA | NA | XXX
88305 | 26 | A | Tissue exam by pathologist | 0.75 | 0.33 | 0.39 | 0.33 | 0.39 | 0.02 | 1.10 | 1.16 | 1.10 | 1.16 | XXX
88305 | TC | A | Tissue exam by pathologist | 0.00 | 1.24 | 1.07 | NA | NA | 0.03 | 1.27 | 1.10 | NA | NA | XXX
88307 |  | A | Tissue exam by pathologist | 1.59 | 2.92 | 2.60 | NA | NA | 0.09 | 4.60 | 4.28 | NA | NA | XXX
88307 | 26 | A | Tissue exam by pathologist | 1.59 | 0.68 | 0.72 | 0.68 | 0.72 | 0.04 | 2.31 | 2.35 | 2.31 | 2.35 | XXX
88307 | TC | A | Tissue exam by pathologist | 0.00 | 2.24 | 1.88 | NA | NA | 0.05 | 2.29 | 1.93 | NA | NA | XXX
88309 |  | A | Tissue exam by pathologist | 2.28 | 3.90 | 3.44 | NA | NA | 0.11 | 6.29 | 5.83 | NA | NA | XXX
88309 | 26 | A | Tissue exam by pathologist | 2.28 | 0.98 | 1.00 | 0.98 | 1.00 | 0.06 | 3.32 | 3.34 | 3.32 | 3.34 | XXX
88309 | TC | A | Tissue exam by pathologist | 0.00 | 2.92 | 2.44 | NA | NA | 0.05 | 2.97 | 2.49 | NA | NA | XXX
88311 |  | A | Decalcify tissue | 0.24 | 0.18 | 0.20 | NA | NA | 0.02 | 0.44 | 0.46 | NA | NA | XXX
88311 | 26 | A | Decalcify tissue | 0.24 | 0.10 | 0.11 | 0.10 | 0.11 | 0.01 | 0.35 | 0.36 | 0.35 | 0.36 | XXX
88311 | TC | A | Decalcify tissue | 0.00 | 0.08 | 0.09 | NA | NA | 0.01 | 0.09 | 0.10 | NA | NA | XXX
88312 |  | A | Special stains | 0.54 | 1.62 | 1.29 | NA | NA | 0.02 | 2.18 | 1.85 | NA | NA | XXX
88312 | 26 | A | Special stains | 0.54 | 0.23 | 0.21 | 0.23 | 0.21 | 0.01 | 0.78 | 0.76 | 0.78 | 0.76 | XXX
88312 | TC | A | Special stains | 0.00 | 1.39 | 1.08 | NA | NA | 0.01 | 1.40 | 1.09 | NA | NA | XXX
88313 |  | A | Special stains | 0.24 | 1.14 | 0.92 | NA | NA | 0.02 | 1.40 | 1.18 | NA | NA | XXX
88313 | 26 | A | Special stains | 0.24 | 0.10 | 0.11 | 0.10 | 0.11 | 0.01 | 0.35 | 0.36 | 0.35 | 0.36 | XXX
88313 | TC | A | Special stains | 0.00 | 1.04 | 0.81 | NA | NA | 0.01 | 1.05 | 0.82 | NA | NA | XXX
88314 |  | A | Histochemical stain | 0.45 | 2.25 | 1.86 | NA | NA | 0.03 | 2.73 | 2.34 | NA | NA | XXX
88314 | 26 | A | Histochemical stain | 0.45 | 0.19 | 0.24 | 0.19 | 0.24 | 0.01 | 0.65 | 0.70 | 0.65 | 0.70 | XXX
88314 | TC | A | Histochemical stain | 0.00 | 2.06 | 1.62 | NA | NA | 0.02 | 2.08 | 1.64 | NA | NA | XXX
88318 |  | A | Chemical histochemistry | 0.42 | 0.71 | 0.60 | NA | NA | 0.02 | 1.15 | 1.04 | NA | NA | XXX
88318 | 26 | A | Chemical histochemistry | 0.42 | 0.18 | 0.17 | 0.18 | 0.17 | 0.01 | 0.61 | 0.60 | 0.61 | 0.60 | XXX
88318 | TC | A | Chemical histochemistry | 0.00 | 0.53 | 0.43 | NA | NA | 0.01 | 0.54 | 0.44 | NA | NA | XXX
88319 |  | A | Enzyme histochemistry | 0.53 | 2.16 | 1.75 | NA | NA | 0.03 | 2.72 | 2.31 | NA | NA | XXX
88319 | 26 | A | Enzyme histochemistry | 0.53 | 0.23 | 0.24 | 0.23 | 0.24 | 0.01 | 0.77 | 0.78 | 0.77 | 0.78 | XXX
88319 | TC | A | Enzyme histochemistry | 0.00 | 1.93 | 1.51 | NA | NA | 0.02 | 1.95 | 1.53 | NA | NA | XXX
88321 |  | A | Microslide consultation | 1.30 | 0.62 | 0.58 | 0.56 | 0.53 | 0.04 | 1.96 | 1.92 | 1.90 | 1.87 | XXX
88323 |  | A | Microslide consultation | 1.35 | 1.82 | 1.56 | NA | NA | 0.06 | 3.23 | 2.97 | NA | NA | XXX
88323 | 26 | A | Microslide consultation | 1.35 | 0.59 | 0.55 | 0.59 | 0.55 | 0.04 | 1.98 | 1.94 | 1.98 | 1.94 | XXX
88323 | TC | A | Microslide consultation | 0.00 | 1.23 | 1.01 | NA | NA | 0.02 | 1.25 | 1.03 | NA | NA | XXX
88325 |  | A | Comprehensive review of data | 2.22 | 0.99 | 0.87 | 0.95 | 0.84 | 0.06 | 3.27 | 3.15 | 3.23 | 3.12 | XXX
88329 |  | A | Pathology consult in surgery | 0.67 | 0.40 | 0.40 | 0.29 | 0.32 | 0.02 | 1.09 | 1.09 | 0.98 | 1.01 | XXX
88331 |  | A | Pathology consult in surgery | 1.19 | 0.84 | 0.94 | NA | NA | 0.06 | 2.09 | 2.19 | NA | NA | XXX
88331 | 26 | A | Pathology consult in surgery | 1.19 | 0.51 | 0.54 | 0.51 | 0.54 | 0.03 | 1.73 | 1.76 | 1.73 | 1.76 | XXX
88331 | TC | A | Pathology consult in surgery | 0.00 | 0.33 | 0.40 | NA | NA | 0.03 | 0.36 | 0.43 | NA | NA | XXX
88332 |  | A | Pathology consult in surgery | 0.59 | 0.47 | 0.51 | NA | NA | 0.04 | 1.10 | 1.14 | NA | NA | XXX
88332 | 26 | A | Pathology consult in surgery | 0.59 | 0.25 | 0.27 | 0.25 | 0.27 | 0.02 | 0.86 | 0.88 | 0.86 | 0.88 | XXX
88332 | TC | A | Pathology consult in surgery | 0.00 | 0.22 | 0.24 | NA | NA | 0.02 | 0.24 | 0.26 | NA | NA | XXX
88342 |  | A | Immunocytochemistry | 0.85 | 1.34 | 1.18 | NA | NA | 0.04 | 2.23 | 2.07 | NA | NA | XXX
88342 | 26 | A | Immunocytochemistry | 0.85 | 0.36 | 0.36 | 0.36 | 0.36 | 0.02 | 1.23 | 1.23 | 1.23 | 1.23 | XXX
88342 | TC | A | Immunocytochemistry | 0.00 | 0.98 | 0.82 | NA | NA | 0.02 | 1.00 | 0.84 | NA | NA | XXX
88346 |  | A | Immunofluorescent study | 0.86 | 1.60 | 1.36 | NA | NA | 0.04 | 2.50 | 2.26 | NA | NA | XXX
88346 | 26 | A | Immunofluorescent study | 0.86 | 0.37 | 0.36 | 0.37 | 0.36 | 0.02 | 1.25 | 1.24 | 1.25 | 1.24 | XXX
88346 | TC | A | Immunofluorescent study | 0.00 | 1.23 | 1.00 | NA | NA | 0.02 | 1.25 | 1.02 | NA | NA | XXX
88347 |  | A | Immunofluorescent study | 0.86 | 1.17 | 0.99 | NA | NA | 0.04 | 2.07 | 1.89 | NA | NA | XXX
88347 | 26 | A | Immunofluorescent study | 0.86 | 0.33 | 0.29 | 0.33 | 0.29 | 0.02 | 1.21 | 1.17 | 1.21 | 1.17 | XXX
88347 | TC | A | Immunofluorescent study | 0.00 | 0.84 | 0.70 | NA | NA | 0.02 | 0.86 | 0.72 | NA | NA | XXX
88348 |  | A | Electron microscopy | 1.51 | 9.91 | 8.05 | NA | NA | 0.10 | 11.52 | 9.66 | NA | NA | XXX
88348 | 26 | A | Electron microscopy | 1.51 | 0.64 | 0.80 | 0.64 | 0.80 | 0.04 | 2.19 | 2.35 | 2.19 | 2.35 | XXX
88348 | TC | A | Electron microscopy | 0.00 | 9.27 | 7.25 | NA | NA | 0.06 | 9.33 | 7.31 | NA | NA | XXX
88349 |  | A | Scanning electron microscopy | 0.76 | 7.58 | 6.10 | NA | NA | 0.07 | 8.41 | 6.93 | NA | NA | XXX
88349 | 26 | A | Scanning electron microscopy | 0.76 | 0.33 | 0.46 | 0.33 | 0.46 | 0.02 | 1.11 | 1.24 | 1.11 | 1.24 | XXX
88349 | TC | A | Scanning electron microscopy | 0.00 | 7.25 | 5.64 | NA | NA | 0.05 | 7.30 | 5.69 | NA | NA | XXX
88355 |  | A | Analysis, skeletal muscle | 1.85 | 2.74 | 2.53 | NA | NA | 0.10 | 4.69 | 4.48 | NA | NA | XXX
88355 | 26 | A | Analysis, skeletal muscle | 1.85 | 0.80 | 0.85 | 0.80 | 0.85 | 0.05 | 2.70 | 2.75 | 2.70 | 2.75 | XXX
88355 | TC | A | Analysis, skeletal muscle | 0.00 | 1.94 | 1.68 | NA | NA | 0.05 | 1.99 | 1.73 | NA | NA | XXX
88356 |  | A | Analysis, nerve | 3.02 | 4.05 | 3.76 | NA | NA | 0.15 | 7.22 | 6.93 | NA | NA | XXX
88356 | 26 | A | Analysis, nerve | 3.02 | 1.27 | 1.33 | 1.27 | 1.33 | 0.09 | 4.38 | 4.44 | 4.38 | 4.44 | XXX
88356 | TC | A | Analysis, nerve | 0.00 | 2.78 | 2.43 | NA | NA | 0.06 | 2.84 | 2.49 | NA | NA | XXX
88358 |  | A | Analysis, tumor | 2.82 | 2.17 | 2.26 | NA | NA | 0.13 | 5.12 | 5.21 | NA | NA | XXX
88358 | 26 | A | Analysis, tumor | 2.82 | 1.22 | 1.23 | 1.22 | 1.23 | 0.07 | 4.11 | 4.12 | 4.11 | 4.12 | XXX
88358 | TC | A | Analysis, tumor | 0.00 | 0.95 | 1.03 | NA | NA | 0.06 | 1.01 | 1.09 | NA | NA | XXX
88362 |  | A | Nerve teasing preparations | 2.17 | 3.99 | 3.53 | NA | NA | 0.12 | 6.28 | 5.82 | NA | NA | XXX
88362 | 26 | A | Nerve teasing preparations | 2.17 | 0.92 | 0.96 | 0.92 | 0.96 | 0.07 | 3.16 | 3.20 | 3.16 | 3.20 | XXX
88362 | TC | A | Nerve teasing preparations | 0.00 | 3.07 | 2.57 | NA | NA | 0.05 | 3.12 | 2.62 | NA | NA | XXX
88365 |  | A | Tissue hybridization | 0.93 | 2.17 | 1.84 | NA | NA | 0.04 | 3.14 | 2.81 | NA | NA | XXX
88365 | 26 | A | Tissue hybridization | 0.93 | 0.39 | 0.40 | 0.39 | 0.40 | 0.02 | 1.34 | 1.35 | 1.34 | 1.35 | XXX
88365 | TC | A | Tissue hybridization | 0.00 | 1.78 | 1.44 | NA | NA | 0.02 | 1.80 | 1.46 | NA | NA | XXX
88371 |  | X | Protein, western blot tissue | 0.00 | 0.00 | 0.00 | 0.00 | 0.00 | 0.00 | 0.00 | 0.00 | 0.00 | 0.00 | XXX
88371 | 26 | A | Protein, western blot tissue | 0.37 | 0.15 | 0.17 | 0.15 | 0.17 | 0.01 | 0.53 | 0.55 | 0.53 | 0.55 | XXX
88372 |  | X | Protein analysis w/probe | 0.00 | 0.00 | 0.00 | 0.00 | 0.00 | 0.00 | 0.00 | 0.00 | 0.00 | 0.00 | XXX
88372 | 26 | A | Protein analysis w/probe | 0.37 | 0.16 | 0.18 | 0.16 | 0.18 | 0.01 | 0.54 | 0.56 | 0.54 | 0.56 | XXX
88399 |  | C | Surgical pathology procedure | 0.00 | 0.00 | 0.00 | NA | NA | 0.00 | 0.00 | 0.00 | NA | NA | XXX
88399 | 26 | C | Surgical pathology procedure | 0.00 | 0.00 | 0.00 | 0.00 | 0.00 | 0.00 | 0.00 | 0.00 | 0.00 | 0.00 | XXX
88399 | TC | C | Surgical pathology procedure | 0.00 | 0.00 | 0.00 | NA | NA | 0.00 | 0.00 | 0.00 | NA | NA | XXX
89050 |  | X | Body fluid cell count | 0.00 | 0.00 | 0.00 | 0.00 | 0.00 | 0.00 | 0.00 | 0.00 | 0.00 | 0.00 | XXX
89051 |  | X | Body fluid cell count | 0.00 | 0.00 | 0.00 | 0.00 | 0.00 | 0.00 | 0.00 | 0.00 | 0.00 | 0.00 | XXX
89060 |  | X | Exam,synovial fluid crystals | 0.00 | 0.00 | 0.00 | 0.00 | 0.00 | 0.00 | 0.00 | 0.00 | 0.00 | 0.00 | XXX
89060 | 26 | A | Exam,synovial fluid crystals | 0.37 | 0.17 | 0.18 | 0.16 | 0.18 | 0.01 | 0.55 | 0.56 | 0.54 | 0.56 | XXX
89100 |  | A | Sample intestinal contents | 0.60 | 1.37 | 1.14 | 0.22 | 0.28 | 0.02 | 1.99 | 1.76 | 0.84 | 0.90 | XXX
89105 |  | A | Sample intestinal contents | 0.50 | 2.37 | 1.88 | 0.17 | 0.23 | 0.02 | 2.89 | 2.40 | 0.69 | 0.75 | XXX
89125 |  | X | Specimen fat stain | 0.00 | 0.00 | 0.00 | 0.00 | 0.00 | 0.00 | 0.00 | 0.00 | 0.00 | 0.00 | XXX
89130 |  | A | Sample stomach contents | 0.45 | 1.59 | 1.30 | 0.14 | 0.22 | 0.02 | 2.06 | 1.77 | 0.61 | 0.69 | XXX
89132 |  | A | Sample stomach contents | 0.19 | 1.59 | 1.25 | 0.07 | 0.11 | 0.01 | 1.79 | 1.45 | 0.27 | 0.31 | XXX
89135 |  | A | Sample stomach contents | 0.79 | 1.82 | 1.52 | 0.25 | 0.35 | 0.03 | 2.64 | 2.34 | 1.07 | 1.17 | XXX
89136 |  | A | Sample stomach contents | 0.21 | 1.77 | 1.39 | 0.08 | 0.12 | 0.01 | 1.99 | 1.61 | 0.30 | 0.34 | XXX
89140 |  | A | Sample stomach contents | 0.94 | 1.91 | 1.65 | 0.34 | 0.48 | 0.04 | 2.89 | 2.63 | 1.32 | 1.46 | XXX
89141 |  | A | Sample stomach contents | 0.85 | 2.95 | 2.41 | 0.34 | 0.45 | 0.03 | 3.83 | 3.29 | 1.22 | 1.33 | XXX
89160 |  | X | Exam feces for meat fibers | 0.00 | 0.00 | 0.00 | 0.00 | 0.00 | 0.00 | 0.00 | 0.00 | 0.00 | 0.00 | XXX
89190 |  | X | Nasal smear for eosinophils | 0.00 | 0.00 | 0.00 | 0.00 | 0.00 | 0.00 | 0.00 | 0.00 | 0.00 | 0.00 | XXX
89250 |  | X | Fertilization of oocyte | 0.00 | 0.00 | 0.00 | 0.00 | 0.00 | 0.00 | 0.00 | 0.00 | 0.00 | 0.00 | XXX
89251 |  | X | Culture oocyte w/embryos | 0.00 | 0.00 | 0.00 | 0.00 | 0.00 | 0.00 | 0.00 | 0.00 | 0.00 | 0.00 | XXX
89252 |  | X | Assist oocyte fertilization | 0.00 | 0.00 | 0.00 | 0.00 | 0.00 | 0.00 | 0.00 | 0.00 | 0.00 | 0.00 | XXX
89253 |  | X | Embryo hatching | 0.00 | 0.00 | 0.00 | 0.00 | 0.00 | 0.00 | 0.00 | 0.00 | 0.00 | 0.00 | XXX
89254 |  | X | Oocyte identification | 0.00 | 0.00 | 0.00 | 0.00 | 0.00 | 0.00 | 0.00 | 0.00 | 0.00 | 0.00 | XXX
89255 |  | X | Prepare embryo for transfer | 0.00 | 0.00 | 0.00 | 0.00 | 0.00 | 0.00 | 0.00 | 0.00 | 0.00 | 0.00 | XXX
89256 |  | X | Prepare cryopreserved embryo | 0.00 | 0.00 | 0.00 | 0.00 | 0.00 | 0.00 | 0.00 | 0.00 | 0.00 | 0.00 | XXX
89257 |  | X | Sperm identification | 0.00 | 0.00 | 0.00 | 0.00 | 0.00 | 0.00 | 0.00 | 0.00 | 0.00 | 0.00 | XXX
89258 |  | X | Cryopreservation, embryo | 0.00 | 0.00 | 0.00 | 0.00 | 0.00 | 0.00 | 0.00 | 0.00 | 0.00 | 0.00 | XXX
89259 |  | X | Cryopreservation, sperm | 0.00 | 0.00 | 0.00 | 0.00 | 0.00 | 0.00 | 0.00 | 0.00 | 0.00 | 0.00 | XXX
89260 |  | X | Sperm isolation, simple | 0.00 | 0.00 | 0.00 | 0.00 | 0.00 | 0.00 | 0.00 | 0.00 | 0.00 | 0.00 | XXX
89261 |  | X | Sperm isolation, complex | 0.00 | 0.00 | 0.00 | 0.00 | 0.00 | 0.00 | 0.00 | 0.00 | 0.00 | 0.00 | XXX
89264 |  | X | Identify sperm tissue | 0.00 | 0.00 | 0.00 | 0.00 | 0.00 | 0.00 | 0.00 | 0.00 | 0.00 | 0.00 | XXX
89300 |  | X | Semen analysis | 0.00 | 0.00 | 0.00 | 0.00 | 0.00 | 0.00 | 0.00 | 0.00 | 0.00 | 0.00 | XXX
89310 |  | X | Semen analysis | 0.00 | 0.00 | 0.00 | 0.00 | 0.00 | 0.00 | 0.00 | 0.00 | 0.00 | 0.00 | XXX
89320 |  | X | Semen analysis | 0.00 | 0.00 | 0.00 | 0.00 | 0.00 | 0.00 | 0.00 | 0.00 | 0.00 | 0.00 | XXX
89325 |  | X | Sperm antibody test | 0.00 | 0.00 | 0.00 | 0.00 | 0.00 | 0.00 | 0.00 | 0.00 | 0.00 | 0.00 | XXX
89329 |  | X | Sperm evaluation test | 0.00 | 0.00 | 0.00 | 0.00 | 0.00 | 0.00 | 0.00 | 0.00 | 0.00 | 0.00 | XXX
89330 |  | X | Evaluation, cervical mucus | 0.00 | 0.00 | 0.00 | 0.00 | 0.00 | 0.00 | 0.00 | 0.00 | 0.00 | 0.00 | XXX
89350 |  | A | Sputum specimen collection | 0.00 | 0.41 | 0.41 | NA | NA | 0.02 | 0.43 | 0.43 | NA | NA | XXX
89355 |  | X | Exam feces for starch | 0.00 | 0.00 | 0.00 | 0.00 | 0.00 | 0.00 | 0.00 | 0.00 | 0.00 | 0.00 | XXX
89360 |  | A | Collect sweat for test | 0.00 | 0.46 | 0.46 | NA | NA | 0.02 | 0.48 | 0.48 | NA | NA | XXX
89365 |  | X | Water load test | 0.00 | 0.00 | 0.00 | 0.00 | 0.00 | 0.00 | 0.00 | 0.00 | 0.00 | 0.00 | XXX
89399 |  | C | Pathology lab procedure | 0.00 | 0.00 | 0.00 | NA | NA | 0.00 | 0.00 | 0.00 | NA | NA | XXX
89399 | 26 | C | Pathology lab procedure | 0.00 | 0.00 | 0.00 | 0.00 | 0.00 | 0.00 | 0.00 | 0.00 | 0.00 | 0.00 | XXX
89399 | TC | C | Pathology lab procedure | 0.00 | 0.00 | 0.00 | NA | NA | 0.00 | 0.00 | 0.00 | NA | NA | XXX
90281 |  | I | Human ig, im | 0.00 | 0.00 | 0.00 | 0.00 | 0.00 | 0.00 | 0.00 | 0.00 | 0.00 | 0.00 | XXX
90283 |  | I | Human ig, iv | 0.00 | 0.00 | 0.00 | 0.00 | 0.00 | 0.00 | 0.00 | 0.00 | 0.00 | 0.00 | XXX
90287 |  | I | Botulinum antitoxin | 0.00 | 0.00 | 0.00 | 0.00 | 0.00 | 0.00 | 0.00 | 0.00 | 0.00 | 0.00 | XXX
90288 |  | I | Botulism ig, iv | 0.00 | 0.00 | 0.00 | 0.00 | 0.00 | 0.00 | 0.00 | 0.00 | 0.00 | 0.00 | XXX
90291 |  | I | Cmv ig, iv | 0.00 | 0.00 | 0.00 | 0.00 | 0.00 | 0.00 | 0.00 | 0.00 | 0.00 | 0.00 | XXX
90296 |  | E | Diphtheria antitoxin | 0.00 | 0.00 | 0.00 | 0.00 | 0.00 | 0.00 | 0.00 | 0.00 | 0.00 | 0.00 | XXX
90371 |  | E | Hep b ig, im | 0.00 | 0.00 | 0.00 | 0.00 | 0.00 | 0.00 | 0.00 | 0.00 | 0.00 | 0.00 | XXX
90375 |  | E | Rabies ig, im/sc | 0.00 | 0.00 | 0.00 | 0.00 | 0.00 | 0.00 | 0.00 | 0.00 | 0.00 | 0.00 | XXX
90376 |  | E | Rabies ig, heat treated | 0.00 | 0.00 | 0.00 | 0.00 | 0.00 | 0.00 | 0.00 | 0.00 | 0.00 | 0.00 | XXX
90378 |  | X | Rsv ig, im | 0.00 | 0.00 | 0.00 | 0.00 | 0.00 | 0.00 | 0.00 | 0.00 | 0.00 | 0.00 | XXX
90379 |  | E | Rsv ig, iv | 0.00 | 0.00 | 0.00 | 0.00 | 0.00 | 0.00 | 0.00 | 0.00 | 0.00 | 0.00 | XXX
90384 |  | I | Rh ig, full-dose, im | 0.00 | 0.00 | 0.00 | 0.00 | 0.00 | 0.00 | 0.00 | 0.00 | 0.00 | 0.00 | XXX
90385 |  | E | Rh ig, minidose, im | 0.00 | 0.00 | 0.00 | 0.00 | 0.00 | 0.00 | 0.00 | 0.00 | 0.00 | 0.00 | XXX
90386 |  | I | Rh ig, iv | 0.00 | 0.00 | 0.00 | 0.00 | 0.00 | 0.00 | 0.00 | 0.00 | 0.00 | 0.00 | XXX
90389 |  | E | Tetanus ig, im | 0.00 | 0.00 | 0.00 | 0.00 | 0.00 | 0.00 | 0.00 | 0.00 | 0.00 | 0.00 | XXX
90393 |  | E | Vaccina ig, im | 0.00 | 0.00 | 0.00 | 0.00 | 0.00 | 0.00 | 0.00 | 0.00 | 0.00 | 0.00 | XXX
90396 |  | E | Varicella-zoster ig, im | 0.00 | 0.00 | 0.00 | 0.00 | 0.00 | 0.00 | 0.00 | 0.00 | 0.00 | 0.00 | XXX
90399 |  | I | Immune globulin | 0.00 | 0.00 | 0.00 | 0.00 | 0.00 | 0.00 | 0.00 | 0.00 | 0.00 | 0.00 | XXX
90471 |  | X | Immunization admin | 0.00 | 0.00 | 0.00 | 0.00 | 0.00 | 0.00 | 0.00 | 0.00 | 0.00 | 0.00 | XXX
90472 |  | X | Immunization admin, each add | 0.00 | 0.00 | 0.00 | 0.00 | 0.00 | 0.00 | 0.00 | 0.00 | 0.00 | 0.00 | XXX
90476 |  | E | Adenovirus vaccine, type 4 | 0.00 | 0.00 | 0.00 | 0.00 | 0.00 | 0.00 | 0.00 | 0.00 | 0.00 | 0.00 | XXX
90477 |  | E | Adenovirus vaccine, type 7 | 0.00 | 0.00 | 0.00 | 0.00 | 0.00 | 0.00 | 0.00 | 0.00 | 0.00 | 0.00 | XXX
90581 |  | E | Anthrax vaccine, sc | 0.00 | 0.00 | 0.00 | 0.00 | 0.00 | 0.00 | 0.00 | 0.00 | 0.00 | 0.00 | XXX
90585 |  | E | Bcg vaccine, percut | 0.00 | 0.00 | 0.00 | 0.00 | 0.00 | 0.00 | 0.00 | 0.00 | 0.00 | 0.00 | XXX
90586 |  | E | Bcg vaccine, intravesical | 0.00 | 0.00 | 0.00 | 0.00 | 0.00 | 0.00 | 0.00 | 0.00 | 0.00 | 0.00 | XXX
90592 |  | D | Cholera vaccine, oral | 0.00 | 0.00 | 0.00 | 0.00 | 0.00 | 0.00 | 0.00 | 0.00 | 0.00 | 0.00 | XXX
90632 |  | E | Hep a vaccine, adult im | 0.00 | 0.00 | 0.00 | 0.00 | 0.00 | 0.00 | 0.00 | 0.00 | 0.00 | 0.00 | XXX
90633 |  | E | Hep a vacc, ped/adol, 2 dose | 0.00 | 0.00 | 0.00 | 0.00 | 0.00 | 0.00 | 0.00 | 0.00 | 0.00 | 0.00 | XXX
90634 |  | E | Hep a vacc, ped/adol, 3 dose | 0.00 | 0.00 | 0.00 | 0.00 | 0.00 | 0.00 | 0.00 | 0.00 | 0.00 | 0.00 | XXX
90636 |  | E | Hep a/hep b vacc, adult im | 0.00 | 0.00 | 0.00 | 0.00 | 0.00 | 0.00 | 0.00 | 0.00 | 0.00 | 0.00 | XXX
90645 |  | E | Hib vaccine, hboc, im | 0.00 | 0.00 | 0.00 | 0.00 | 0.00 | 0.00 | 0.00 | 0.00 | 0.00 | 0.00 | XXX
90646 |  | E | Hib vaccine, prp-d, im | 0.00 | 0.00 | 0.00 | 0.00 | 0.00 | 0.00 | 0.00 | 0.00 | 0.00 | 0.00 | XXX
90647 |  | E | Hib vaccine, prp-omp, im | 0.00 | 0.00 | 0.00 | 0.00 | 0.00 | 0.00 | 0.00 | 0.00 | 0.00 | 0.00 | XXX
90648 |  | E | Hib vaccine, prp-t, im | 0.00 | 0.00 | 0.00 | 0.00 | 0.00 | 0.00 | 0.00 | 0.00 | 0.00 | 0.00 | XXX
90657 |  | X | Flu vaccine, 6-35 mo, im | 0.00 | 0.00 | 0.00 | 0.00 | 0.00 | 0.00 | 0.00 | 0.00 | 0.00 | 0.00 | XXX
90658 |  | X | Flu vaccine, 3 yrs, im | 0.00 | 0.00 | 0.00 | 0.00 | 0.00 | 0.00 | 0.00 | 0.00 | 0.00 | 0.00 | XXX
90659 |  | X | Flu vaccine, whole, im | 0.00 | 0.00 | 0.00 | 0.00 | 0.00 | 0.00 | 0.00 | 0.00 | 0.00 | 0.00 | XXX
90660 |  | X | Flu vaccine, nasal | 0.00 | 0.00 | 0.00 | 0.00 | 0.00 | 0.00 | 0.00 | 0.00 | 0.00 | 0.00 | XXX
90665 |  | E | Lyme disease vaccine, im | 0.00 | 0.00 | 0.00 | 0.00 | 0.00 | 0.00 | 0.00 | 0.00 | 0.00 | 0.00 | XXX
90669 |  | N | Pneumococcal vaccine, ped | 0.00 | 0.00 | 0.00 | 0.00 | 0.00 | 0.00 | 0.00 | 0.00 | 0.00 | 0.00 | XXX
90675 |  | E | Rabies vaccine, im | 0.00 | 0.00 | 0.00 | 0.00 | 0.00 | 0.00 | 0.00 | 0.00 | 0.00 | 0.00 | XXX
90676 |  | E | Rabies vaccine, id | 0.00 | 0.00 | 0.00 | 0.00 | 0.00 | 0.00 | 0.00 | 0.00 | 0.00 | 0.00 | XXX
90680 |  | E | Rotovirus vaccine, oral | 0.00 | 0.00 | 0.00 | 0.00 | 0.00 | 0.00 | 0.00 | 0.00 | 0.00 | 0.00 | XXX
90690 |  | E | Typhoid vaccine, oral | 0.00 | 0.00 | 0.00 | 0.00 | 0.00 | 0.00 | 0.00 | 0.00 | 0.00 | 0.00 | XXX
90691 |  | E | Typhoid vaccine, im | 0.00 | 0.00 | 0.00 | 0.00 | 0.00 | 0.00 | 0.00 | 0.00 | 0.00 | 0.00 | XXX
90692 |  | E | Typhoid vaccine, h-p, sc/id | 0.00 | 0.00 | 0.00 | 0.00 | 0.00 | 0.00 | 0.00 | 0.00 | 0.00 | 0.00 | XXX
90693 |  | E | Typhoid vaccine, akd, sc | 0.00 | 0.00 | 0.00 | 0.00 | 0.00 | 0.00 | 0.00 | 0.00 | 0.00 | 0.00 | XXX
90700 |  | E | Dtap vaccine, im | 0.00 | 0.00 | 0.00 | 0.00 | 0.00 | 0.00 | 0.00 | 0.00 | 0.00 | 0.00 | XXX
90701 |  | E | Dtp vaccine, im | 0.00 | 0.00 | 0.00 | 0.00 | 0.00 | 0.00 | 0.00 | 0.00 | 0.00 | 0.00 | XXX
90702 |  | E | Dt vaccine, im | 0.00 | 0.00 | 0.00 | 0.00 | 0.00 | 0.00 | 0.00 | 0.00 | 0.00 | 0.00 | XXX
90703 |  | E | Tetanus vaccine, im | 0.00 | 0.00 | 0.00 | 0.00 | 0.00 | 0.00 | 0.00 | 0.00 | 0.00 | 0.00 | XXX
90704 |  | E | Mumps vaccine, sc | 0.00 | 0.00 | .00 | 0.00 | 0.00 | 0.00 | 0.00 | 0.00 | 0.00 | 0.00 | XXX
90705 |  | E | Measles vaccine, sc | 0.00 | 0.00 | 0.00 | 0.00 | 0.00 | 0.00 | 0.00 | 0.00 | 0.00 | 0.00 | XXX
90706 |  | E | Rubella vaccine, sc | 0.00 | 0.00 | 0.00 | 0.00 | 0.00 | 0.00 | 0.00 | 0.00 | 0.00 | 0.00 | XXX
90707 |  | E | Mmr vaccine, sc | 0.00 | 0.00 | 0.00 | 0.00 | 0.00 | 0.00 | 0.00 | 0.00 | 0.00 | 0.00 | XXX
90708 |  | E | Measles-rubella vaccine, sc | 0.00 | 0.00 | 0.00 | 0.00 | 0.00 | 0.00 | 0.00 | 0.00 | 0.00 | 0.00 | XXX
90709 |  | E | Rubella & mumps vaccine, sc | 0.00 | 0.00 | 0.00 | 0.00 | 0.00 | 0.00 | 0.00 | 0.00 | 0.00 | 0.00 | XXX
90710 |  | E | Mmrv vaccine, sc | 0.00 | 0.00 | 0.00 | 0.00 | 0.00 | 0.00 | 0.00 | 0.00 | 0.00 | 0.00 | XXX
90712 |  | E | Oral poliovirus vaccine | 0.00 | 0.00 | 0.00 | 0.00 | 0.00 | 0.00 | 0.00 | 0.00 | 0.00 | 0.00 | XXX
90713 |  | E | Poliovirus, ipv, sc | 0.00 | 0.00 | 0.00 | 0.00 | 0.00 | 0.00 | 0.00 | 0.00 | 0.00 | 0.00 | XXX
90716 |  | E | Chicken pox vaccine, sc | 0.00 | 0.00 | 0.00 | 0.00 | 0.00 | 0.00 | 0.00 | 0.00 | 0.00 | 0.00 | XXX
90717 |  | E | Yellow fever vaccine, sc | 0.00 | 0.00 | 0.00 | 0.00 | 0.00 | 0.00 | 0.00 | 0.00 | 0.00 | 0.00 | XXX
90718 |  | E | Td vaccine, im | 0.00 | 0.00 | 0.00 | 0.00 | 0.00 | 0.00 | 0.00 | 0.00 | 0.00 | 0.00 | XXX
90719 |  | E | Diphtheria vaccine, im | 0.00 | 0.00 | 0.00 | 0.00 | 0.00 | 0.00 | 0.00 | 0.00 | 0.00 | 0.00 | XXX
90720 |  | E | Dtp/hib vaccine, im | 0.00 | 0.00 | 0.00 | 0.00 | 0.00 | 0.00 | 0.00 | 0.00 | 0.00 | 0.00 | XXX
90721 |  | E | Dtap/hib vaccine, im | 0.00 | 0.00 | 0.00 | 0.00 | 0.00 | 0.00 | 0.00 | 0.00 | 0.00 | 0.00 | XXX
90725 |  | E | Cholera vaccine, injectable | 0.00 | 0.00 | 0.00 | 0.00 | 0.00 | 0.00 | 0.00 | 0.00 | 0.00 | 0.00 | XXX
90727 |  | E | Plague vaccine, im | 0.00 | 0.00 | 0.00 | 0.00 | 0.00 | 0.00 | 0.00 | 0.00 | 0.00 | 0.00 | XXX
90732 |  | X | Pneumococcal vaccine, adult | 0.00 | 0.00 | 0.00 | 0.00 | 0.00 | 0.00 | 0.00 | 0.00 | 0.00 | 0.00 | XXX
90733 |  | E | Meningococcal vaccine, sc | 0.00 | 0.00 | 0.00 | 0.00 | 0.00 | 0.00 | 0.00 | 0.00 | 0.00 | 0.00 | XXX
90735 |  | E | Encephalitis vaccine, sc | 0.00 | 0.00 | 0.00 | 0.00 | 0.00 | 0.00 | 0.00 | 0.00 | 0.00 | 0.00 | XXX
90744 |  | X | Hep b vaccine, ped/adol, im | 0.00 | 0.00 | 0.00 | 0.00 | 0.00 | 0.00 | 0.00 | 0.00 | 0.00 | 0.00 | XXX
90745 |  | D | Hepb vaccine, adol/risk, im | 0.00 | 0.00 | 0.00 | 0.00 | 0.00 | 0.00 | 0.00 | 0.00 | 0.00 | 0.00 | XXX
90746 |  | X | Hep b vaccine, adult, im | 0.00 | 0.00 | 0.00 | 0.00 | 0.00 | 0.00 | 0.00 | 0.00 | 0.00 | 0.00 | XXX
90747 |  | X | Hep b vaccine, ill pat, im | 0.00 | 0.00 | 0.00 | 0.00 | 0.00 | 0.00 | 0.00 | 0.00 | 0.00 | 0.00 | XXX
90748 |  | E | Hep b/hib vaccine, im | 0.00 | 0.00 | 0.00 | 0.00 | 0.00 | 0.00 | 0.00 | 0.00 | 0.00 | 0.00 | XXX
90749 |  | E | Vaccine toxoid | 0.00 | 0.00 | 0.00 | 0.00 | 0.00 | 0.00 | 0.00 | 0.00 | 0.00 | 0.00 | XXX
90780 |  | A | IV infusion therapy, 1 hour | 0.00 | 1.12 | 1.13 | 1.12 | 1.13 | 0.06 | 1.18 | 1.19 | 1.18 | 1.19 | XXX
90781 |  | A | IV infusion, additional hour | 0.00 | 0.57 | 0.57 | 0.57 | 0.57 | 0.03 | 0.60 | 0.60 | 0.60 | 0.60 | ZZZ
90782 |  | T | Injection, sc/im | 0.00 | 0.11 | 0.11 | 0.11 | 0.11 | 0.01 | 0.12 | 0.12 | 0.12 | 0.12 | XXX
90783 |  | T | Injection, ia | 0.00 | 0.41 | 0.41 | 0.41 | 0.41 | 0.02 | 0.43 | 0.43 | 0.43 | 0.43 | XXX
90784 |  | T | Injection, iv | 0.00 | 0.48 | 0.48 | 0.48 | 0.48 | 0.03 | 0.51 | 0.51 | 0.51 | 0.51 | XXX
90788 |  | T | Injection of antibiotic | 0.00 | 0.12 | 0.12 | 0.12 | 0.12 | 0.01 | 0.13 | 0.13 | 0.13 | 0.13 | XXX
90799 |  | C | Ther/prophylactic/dx inject | 0.00 | 0.00 | 0.00 | 0.00 | 0.00 | 0.00 | 0.00 | 0.00 | 0.00 | 0.00 | XXX
90801 |  | A | Psy dx interview | 2.80 | 1.09 | 1.00 | 0.91 | 0.87 | 0.07 | 3.96 | 3.87 | 3.78 | 3.74 | XXX
90802 |  | A | Intac psy dx interview | 3.01 | 1.12 | 0.94 | 0.95 | 0.82 | 0.08 | 4.21 | 4.03 | 4.04 | 3.91 | XXX
90804 |  | A | Psytx, office, 20-30 min | 1.21 | 0.50 | 0.47 | 0.40 | 0.40 | 0.03 | 1.74 | 1.71 | 1.64 | 1.64 | XXX
90805 |  | A | Psytx, off, 20-30 min w/e&m | 1.37 | 0.55 | 0.51 | 0.42 | 0.41 | 0.04 | 1.96 | 1.92 | 1.83 | 1.82 | XXX
90806 |  | A | Psytx, off, 45-50 min | 1.86 | 0.74 | 0.70 | 0.64 | 0.63 | 0.05 | 2.65 | 2.61 | 2.55 | 2.54 | XXX
90807 |  | A | Psytx, off, 45-50 min w/e&m | 2.02 | 0.74 | 0.70 | 0.63 | 0.62 | 0.05 | 2.81 | 2.77 | 2.70 | 2.69 | XXX
90808 |  | A | Psytx, office, 75-80 min | 2.79 | 1.08 | 1.10 | 0.97 | 1.01 | 0.07 | 3.94 | 3.96 | 3.83 | 3.87 | XXX
90809 |  | A | Psytx, off, 75-80, w/e&m | 2.95 | 1.06 | 1.08 | 0.92 | 0.98 | 0.08 | 4.09 | 4.11 | 3.95 | 4.01 | XXX
90810 |  | A | Intac psytx, off, 20-30 min | 1.32 | 0.52 | 0.55 | 0.42 | 0.48 | 0.03 | 1.87 | 1.90 | 1.77 | 1.83 | XXX
90811 |  | A | Intac psytx, 20-30, w/e&m | 1.48 | 0.58 | 0.60 | 0.46 | 0.51 | 0.04 | 2.10 | 2.12 | 1.98 | 2.03 | XXX
90812 |  | A | Intac psytx, off, 45-50 min | 1.97 | 0.81 | 0.77 | 0.67 | 0.66 | 0.05 | 2.83 | 2.79 | 2.69 | 2.68 | XXX
90813 |  | A | Intac psytx, 45-50 min w/e&m | 2.13 | 0.80 | 0.76 | 0.66 | 0.66 | 0.05 | 2.98 | 2.94 | 2.84 | 2.84 | XXX
90814 |  | A | Intac psytx, off, 75-80 min | 2.90 | 1.15 | 1.02 | 1.01 | 0.92 | 0.07 | 4.12 | 3.99 | 3.98 | 3.89 | XXX
90815 |  | A | Intac psytx, 75-80 w/e&m | 3.06 | 1.15 | 1.02 | 0.94 | 0.87 | 0.08 | 4.29 | 4.16 | 4.08 | 4.01 | XXX
90816 |  | A | Psytx, hosp, 20-30 min | 1.25 | 0.57 | 0.52 | 0.43 | 0.42 | 0.03 | 1.85 | 1.80 | 1.71 | 1.70 | XXX
90817 |  | A | Psytx, hosp, 20-30 min w/e&m | 1.41 | 0.57 | 0.52 | 0.43 | 0.42 | 0.04 | 2.02 | 1.97 | 1.88 | 1.87 | XXX
90818 |  | A | Psytx, hosp, 45-50 min | 1.89 | 0.79 | 0.74 | 0.65 | 0.64 | 0.05 | 2.73 | 2.68 | 2.59 | 2.58 | XXX
90819 |  | A | Psytx, hosp, 45-50 min w/e&m | 2.05 | 0.78 | 0.73 | 0.63 | 0.62 | 0.05 | 2.88 | 2.83 | 2.73 | 2.72 | XXX
90821 |  | A | Psytx, hosp, 75-80 min | 2.83 | 1.13 | 1.13 | 0.96 | 1.01 | 0.07 | 4.03 | 4.03 | 3.86 | 3.91 | XXX
90822 |  | A | Psytx, hosp, 75-80 min w/e&m | 2.99 | 1.07 | 1.09 | 0.92 | 0.98 | 0.08 | 4.14 | 4.16 | 3.99 | 4.05 | XXX
90823 |  | A | Intac psytx, hosp, 20-30 min | 1.36 | 0.65 | 0.65 | 0.44 | 0.49 | 0.03 | 2.04 | 2.04 | 1.83 | 1.88 | XXX
90824 |  | A | Intac psytx, hsp 20-30 w/e&m | 1.52 | 0.64 | 0.64 | 0.47 | 0.51 | 0.04 | 2.20 | 2.20 | 2.03 | 2.07 | XXX
90826 |  | A | Intac psytx, hosp, 45-50 min | 2.01 | 0.90 | 0.84 | 0.70 | 0.69 | 0.05 | 2.96 | 2.90 | 2.76 | 2.75 | XXX
90827 |  | A | Intac psytx, hsp 45-50 w/e&m | 2.16 | 0.85 | 0.80 | 0.66 | 0.66 | 0.06 | 3.07 | 3.02 | 2.88 | 2.88 | XXX
90828 |  | A | Intac psytx, hosp, 75-80 min | 2.94 | 1.25 | 1.10 | 1.04 | 0.94 | 0.08 | 4.27 | 4.12 | 4.06 | 3.96 | XXX
90829 |  | A | Intac psytx, hsp 75-80 w/e&m | 3.10 | 1.14 | 1.02 | 0.96 | 0.88 | 0.08 | 4.32 | 4.20 | 4.14 | 4.06 | XXX
90845 |  | A | Psychoanalysis | 1.79 | 0.66 | 0.61 | 0.56 | 0.53 | 0.05 | 2.50 | 2.45 | 2.40 | 2.37 | XXX
90846 |  | R | Family psytx w/o patient | 1.83 | 0.72 | 0.71 | 0.62 | 0.63 | 0.05 | 2.60 | 2.59 | 2.50 | 2.51 | XXX
90847 |  | R | Family psytx w/patient | 2.21 | 0.83 | 0.78 | 0.73 | 0.71 | 0.06 | 3.10 | 3.05 | 3.00 | 2.98 | XXX
90849 |  | R | Multiple family group psytx | 0.59 | 0.31 | 0.30 | 0.21 | 0.23 | 0.02 | 0.92 | 0.91 | 0.82 | 0.84 | XXX
90853 |  | A | Group psychotherapy | 0.59 | 0.33 | 0.32 | 0.20 | 0.22 | 0.02 | 0.94 | 0.93 | 0.81 | 0.83 | XXX
90857 |  | A | Intac group psytx | 0.63 | 0.33 | 0.29 | 0.22 | 0.21 | 0.02 | 0.98 | 0.94 | 0.87 | 0.86 | XXX
90862 |  | A | Medication management | 0.95 | 0.40 | 0.40 | 0.29 | 0.32 | 0.02 | 1.37 | 1.37 | 1.26 | 1.29 | XXX
90865 |  | A | Narcosynthesis | 2.84 | 1.31 | 1.12 | 0.87 | 0.79 | 0.10 | 4.25 | 4.06 | 3.81 | 3.73 | XXX
90870 |  | A | Electroconvulsive therapy | 1.88 | 0.68 | 0.66 | 0.68 | 0.66 | 0.05 | 2.61 | 2.59 | 2.61 | 2.59 | 000
90871 |  | A | Electroconvulsive therapy | 2.72 | NA | NA | 0.96 | 0.95 | 0.07 | NA | NA | 3.75 | 3.74 | 000
90875 |  | N | Psychophysiological therapy | 1.20 | 0.82 | 0.82 | 0.48 | 0.48 | 0.03 | 2.05 | 2.05 | 1.71 | 1.71 | XXX
90876 |  | N | Psychophysiological therapy | 1.90 | 1.09 | 1.09 | 0.75 | 0.75 | 0.05 | 3.04 | 3.04 | 2.70 | 2.70 | XXX
90880 |  | A | Hypnotherapy | 2.19 | 0.86 | 0.82 | 0.69 | 0.69 | 0.06 | 3.11 | 3.07 | 2.94 | 2.94 | XXX
90882 |  | N | Environmental manipulation | 0.00 | 0.00 | 0.00 | 0.00 | 0.00 | 0.00 | 0.00 | 0.00 | 0.00 | 0.00 | XXX
90885 |  | B | Psy evaluation of records | 0.97 | 0.38 | 0.37 | 0.38 | 0.37 | 0.02 | 1.37 | 1.36 | 1.37 | 1.36 | XXX
90887 |  | B | Consultation with family | 1.48 | 0.78 | 0.68 | 0.59 | 0.53 | 0.04 | 2.30 | 2.20 | 2.11 | 2.05 | XXX
90889 |  | B | Preparation of report | 0.00 | 0.00 | 0.00 | 0.00 | 0.00 | 0.00 | 0.00 | 0.00 | 0.00 | 0.00 | XXX
90899 |  | C | Psychiatric service/therapy | 0.00 | 0.00 | 0.00 | 0.00 | 0.00 | 0.00 | 0.00 | 0.00 | 0.00 | 0.00 | XXX
90901 |  | A | Biofeedback train, any meth | 0.41 | 0.66 | 0.76 | 0.18 | 0.40 | 0.02 | 1.09 | 1.19 | 0.61 | 0.83 | 000
90911 |  | A | Biofeedback peri/uro/rectal | 0.89 | 0.74 | 0.86 | 0.37 | 0.59 | 0.05 | 1.68 | 1.80 | 1.31 | 1.53 | 000
90918 |  | A | ESRD related services, month | 11.18 | 5.18 | 4.48 | 5.18 | 4.48 | 0.48 | 16.84 | 16.14 | 16.84 | 16.14 | XXX
90919 |  | A | ESRD related services, month | 8.54 | 4.20 | 3.75 | 4.20 | 3.75 | 0.39 | 13.13 | 12.68 | 13.13 | 12.68 | XXX
90920 |  | A | ESRD related services, month | 7.27 | 3.61 | 3.30 | 3.61 | 3.30 | 0.38 | 11.26 | 10.95 | 11.26 | 10.95 | XXX
90921 |  | A | ESRD related services, month | 4.47 | 2.54 | 2.50 | 2.54 | 2.50 | 0.26 | 7.27 | 7.23 | 7.27 | 7.23 | XXX
90922 |  | A | ESRD related services, day | 0.37 | 0.15 | 0.13 | 0.15 | 0.13 | 0.02 | 0.54 | 0.52 | 0.54 | 0.52 | XXX
90923 |  | A | Esrd related services, day | 0.28 | 0.14 | 0.13 | 0.14 | 0.13 | 0.01 | 0.43 | 0.42 | 0.43 | 0.42 | XXX
90924 |  | A | Esrd related services, day | 0.24 | 0.12 | 0.11 | 0.12 | 0.11 | 0.01 | 0.37 | 0.36 | 0.37 | 0.36 | XXX
90925 |  | A | Esrd related services, day | 0.15 | 0.09 | 0.09 | 0.09 | 0.09 | 0.01 | 0.25 | 0.25 | 0.25 | 0.25 | XXX
90935 |  | A | Hemodialysis, one evaluation | 1.22 | NA | NA | 0.73 | 0.91 | 0.07 | NA | NA | 2.02 | 2.20 | 000
90937 |  | A | Hemodialysis, repeated eval | 2.11 | NA | NA | 1.04 | 1.41 | 0.11 | NA | NA | 3.26 | 3.63 | 000
90945 |  | A | Dialysis, one evaluation | 1.28 | NA | NA | 0.76 | 0.92 | 0.08 | NA | NA | 2.12 | 2.28 | 000
90947 |  | A | Dialysis, repeated eval | 2.16 | NA | NA | 1.06 | 1.36 | 0.12 | NA | NA | 3.34 | 3.64 | 000
90989 |  | X | Dialysis training, complete | 0.00 | 0.00 | 0.00 | 0.00 | 0.00 | 0.00 | 0.00 | 0.00 | 0.00 | 0.00 | XXX
90993 |  | X | Dialysis training, incompl | 0.00 | 0.00 | 0.00 | 0.00 | 0.00 | 0.00 | 0.00 | 0.00 | 0.00 | 0.00 | XXX
90997 |  | A | Hemoperfusion | 1.84 | NA | NA | 1.05 | 1.34 | 0.10 | NA | NA | 2.99 | 3.28 | 000
90999 |  | C | Dialysis procedure | 0.00 | 0.00 | 0.00 | 0.00 | 0.00 | 0.00 | 0.00 | 0.00 | 0.00 | 0.00 | XXX
91000 |  | A | Esophageal intubation | 0.73 | 0.34 | 0.44 | NA | NA | 0.03 | 1.10 | 1.20 | NA | NA | 000
91000 | 26 | A | Esophageal intubation | 0.73 | 0.26 | 0.36 | 0.26 | 0.36 | 0.02 | 1.01 | 1.11 | 1.01 | 1.11 | 000
91000 | TC | A | Esophageal intubation | 0.00 | 0.08 | 0.08 | NA | NA | 0.01 | 0.09 | 0.09 | NA | NA | 000
91010 |  | A | Esophagus motility study | 1.25 | 1.27 | 1.55 | NA | NA | 0.09 | 2.61 | 2.89 | NA | NA | 000
91010 | 26 | A | Esophagus motility study | 1.25 | 0.44 | 0.71 | 0.44 | 0.71 | 0.04 | 1.73 | 2.00 | 1.73 | 2.00 | 000
91010 | TC | A | Esophagus motility study | 0.00 | 0.83 | 0.84 | NA | NA | 0.05 | 0.88 | 0.89 | NA | NA | 000
91011 |  | A | Esophagus motility study | 1.50 | 1.58 | 1.90 | NA | NA | 0.10 | 3.18 | 3.50 | NA | NA | 000
91011 | 26 | A | Esophagus motility study | 1.50 | 0.54 | 0.85 | 0.54 | 0.85 | 0.05 | 2.09 | 2.40 | 2.09 | 2.40 | 000
91011 | TC | A | Esophagus motility study | 0.00 | 1.04 | 1.05 | NA | NA | 0.05 | 1.09 | 1.10 | NA | NA | 000
91012 |  | A | Esophagus motility study | 1.46 | 1.69 | 2.01 | NA | NA | 0.12 | 3.27 | 3.59 | NA | NA | 000
91012 | 26 | A | Esophagus motility study | 1.46 | 0.53 | 0.84 | 0.53 | 0.84 | 0.06 | 2.05 | 2.36 | 2.05 | 2.36 | 000
91012 | TC | A | Esophagus motility study | 0.00 | 1.16 | 1.17 | NA | NA | 0.06 | 1.22 | 1.23 | NA | NA | 000
91020 |  | A | Gastric motility | 1.44 | 1.27 | 1.58 | NA | NA | 0.11 | 2.82 | 3.13 | NA | NA | 000
91020 | 26 | A | Gastric motility | 1.44 | 0.50 | 0.80 | 0.50 | 0.80 | 0.06 | 2.00 | 2.30 | 2.00 | 2.30 | 000
91020 | TC | A | Gastric motility | 0.00 | 0.77 | 0.78 | NA | NA | 0.05 | 0.82 | 0.83 | NA | NA | 000
91030 |  | A | Acid perfusion of esophagus | 0.91 | 0.55 | 0.56 | NA | NA | 0.05 | 1.51 | 1.52 | NA | NA | 000
91030 | 26 | A | Acid perfusion of esophagus | 0.91 | 0.33 | 0.34 | 0.33 | 0.34 | 0.03 | 1.27 | 1.28 | 1.27 | 1.28 | 000
91030 | TC | A | Acid perfusion of esophagus | 0.00 | 0.22 | 0.22 | NA | NA | 0.02 | 0.24 | 0.24 | NA | NA | 000
91032 |  | A | Esophagus, acid reflux test | 1.21 | 1.18 | 1.42 | NA | NA | 0.09 | 2.48 | 2.72 | NA | NA | 000
91032 | 26 | A | Esophagus, acid reflux test | 1.21 | 0.43 | 0.66 | 0.43 | 0.66 | 0.04 | 1.68 | 1.91 | 1.68 | 1.91 | 000
91032 | TC | A | Esophagus, acid reflux test | 0.00 | 0.75 | 0.76 | NA | NA | 0.05 | 0.80 | 0.81 | NA | NA | 000
91033 |  | A | Prolonged acid reflux test | 1.30 | 1.82 | 2.10 | NA | NA | 0.14 | 3.26 | 3.54 | NA | NA | 000
91033 | 26 | A | Prolonged acid reflux test | 1.30 | 0.46 | 0.73 | 0.46 | 0.73 | 0.05 | 1.81 | 2.08 | 1.81 | 2.08 | 000
91033 | TC | A | Prolonged acid reflux test | 0.00 | 1.36 | 1.37 | NA | NA | 0.09 | 1.45 | 1.46 | NA | NA | 000
91052 |  | A | Gastric analysis test | 0.79 | 0.62 | 0.69 | NA | NA | 0.05 | 1.46 | 1.53 | NA | NA | 000
91052 | 26 | A | Gastric analysis test | 0.79 | 0.28 | 0.35 | 0.28 | 0.35 | 0.03 | 1.10 | 1.17 | 1.10 | 1.17 | 000
91052 | TC | A | Gastric analysis test | 0.00 | 0.34 | 0.34 | NA | NA | 0.02 | 0.36 | 0.36 | NA | NA | 000
91055 |  | A | Gastric intubation for smear | 0.94 | 0.58 | 0.65 | NA | NA | 0.07 | 1.59 | 1.66 | NA | NA | 000
91055 | 26 | A | Gastric intubation for smear | 0.94 | 0.28 | 0.35 | 0.28 | 0.35 | 0.05 | 1.27 | 1.34 | 1.27 | 1.34 | 000
91055 | TC | A | Gastric intubation for smear | 0.00 | 0.30 | 0.30 | NA | NA | 0.02 | 0.32 | 0.32 | NA | NA | 000
91060 |  | A | Gastric saline load test | 0.45 | 0.37 | 0.47 | NA | NA | 0.04 | 0.86 | 0.96 | NA | NA | 000
91060 | 26 | A | Gastric saline load test | 0.45 | 0.15 | 0.25 | 0.15 | 0.25 | 0.02 | 0.62 | 0.72 | 0.62 | 0.72 | 000
91060 | TC | A | Gastric saline load test | 0.00 | 0.22 | 0.22 | NA | NA | 0.02 | 0.24 | 0.24 | NA | NA | 000
91065 |  | A | Breath hydrogen test | 0.20 | 0.43 | 0.47 | NA | NA | 0.03 | 0.66 | 0.70 | NA | NA | 000
91065 | 26 | A | Breath hydrogen test | 0.20 | 0.07 | 0.11 | 0.07 | 0.11 | 0.01 | 0.28 | 0.32 | 0.28 | 0.32 | 000
91065 | TC | A | Breath hydrogen test | 0.00 | 0.36 | 0.36 | NA | NA | 0.02 | 0.38 | 0.38 | NA | NA | 000
91100 |  | A | Pass intestine bleeding tube | 1.08 | NA | NA | 0.39 | 0.45 | 0.07 | NA | NA | 1.54 | 1.60 | 000
91105 |  | A | Gastric intubation treatment | 0.37 | NA | NA | 0.16 | 0.23 | 0.02 | NA | NA | 0.55 | 0.62 | 000
91122 |  | A | Anal pressure record | 1.77 | 1.35 | 1.49 | NA | NA | 0.18 | 3.30 | 3.44 | NA | NA | 000
91122 | 26 | A | Anal pressure record | 1.77 | 0.64 | 0.77 | 0.64 | 0.77 | 0.11 | 2.52 | 2.65 | 2.52 | 2.65 | 000
91122 | TC | A | Anal pressure record | 0.00 | 0.71 | 0.72 | NA | NA | 0.07 | 0.78 | 0.79 | NA | NA | 000
91299 |  | C | Gastroenterology procedure | 0.00 | 0.00 | 0.00 | NA | NA | 0.00 | 0.00 | 0.00 | NA | NA | XXX
91299 | 26 | C | Gastroenterology procedure | 0.00 | 0.00 | 0.00 | 0.00 | 0.00 | 0.00 | 0.00 | 0.00 | 0.00 | 0.00 | XXX
91299 | TC | C | Gastroenterology procedure | 0.00 | 0.00 | 0.00 | NA | NA | 0.00 | 0.00 | 0.00 | NA | NA | XXX
92002 |  | A | Eye exam, new patient | 0.88 | 1.11 | 0.97 | 0.34 | 0.39 | 0.03 | 2.02 | 1.88 | 1.25 | 1.30 | XXX
92004 |  | A | Eye exam, new patient | 1.67 | 1.50 | 1.28 | 0.68 | 0.67 | 0.06 | 3.23 | 3.01 | 2.41 | 2.40 | XXX
92012 |  | A | Eye exam established pat | 0.67 | 1.07 | 0.92 | 0.30 | 0.35 | 0.02 | 1.76 | 1.61 | 0.99 | 1.04 | XXX
92014 |  | A | Eye exam & treatment | 1.10 | 1.38 | 1.18 | 0.48 | 0.51 | 0.04 | 2.52 | 2.32 | 1.62 | 1.65 | XXX
92015 |  | N | Refraction | 0.38 | 1.40 | 1.14 | 0.15 | 0.20 | 0.01 | 1.79 | 1.53 | 0.54 | 0.59 | XXX
92018 |  | A | New eye exam & treatment | 1.51 | NA | NA | 0.69 | 0.65 | 0.05 | NA | NA | 2.25 | 2.21 | XXX
92019 |  | A | Eye exam & treatment | 1.31 | NA | NA | 0.58 | 0.56 | 0.05 | NA | NA | 1.94 | 1.92 | XXX
92020 |  | A | Special eye evaluation | 0.37 | 0.70 | 0.60 | 0.17 | 0.21 | 0.01 | 1.08 | 0.98 | 0.55 | 0.59 | XXX
92060 |  | A | Special eye evaluation | 0.69 | 1.24 | 1.04 | NA | NA | 0.03 | 1.96 | 1.76 | NA | NA | XXX
92060 | 26 | A | Special eye evaluation | 0.69 | 0.29 | 0.28 | 0.29 | 0.28 | 0.02 | 1.00 | 0.99 | 1.00 | 0.99 | XXX
92060 | TC | A | Special eye evaluation | 0.00 | 0.95 | 0.76 | NA | NA | 0.01 | 0.96 | 0.77 | NA | NA | XXX
92065 |  | A | Orthoptic/pleoptic training | 0.37 | 0.77 | 0.68 | NA | NA | 0.02 | 1.16 | 1.07 | NA | NA | XXX
92065 | 26 | A | Orthoptic/pleoptic training | 0.37 | 0.15 | 0.17 | 0.15 | 0.17 | 0.01 | 0.53 | 0.55 | 0.53 | 0.55 | XXX
92065 | TC | A | Orthoptic/pleoptic training | 0.00 | 0.62 | 0.51 | NA | NA | 0.01 | 0.63 | 0.52 | NA | NA | XXX
92070 |  | A | Fitting of contact lens | 0.70 | 1.04 | 1.11 | 0.34 | 0.58 | 0.02 | 1.76 | 1.83 | 1.06 | 1.30 | XXX
92081 |  | A | Visual field examination(s) | 0.36 | 1.34 | 1.10 | NA | NA | 0.02 | 1.72 | 1.48 | NA | NA | XXX
92081 | 26 | A | Visual field examination(s) | 0.36 | 0.16 | 0.17 | 0.16 | 0.17 | 0.01 | 0.53 | 0.54 | 0.53 | 0.54 | XXX
92081 | TC | A | Visual field examination(s) | 0.00 | 1.18 | 0.93 | NA | NA | 0.01 | 1.19 | 0.94 | NA | NA | XXX
92082 |  | A | Visual field examination(s) | 0.44 | 1.32 | 1.12 | NA | NA | 0.02 | 1.78 | 1.58 | NA | NA | XXX
92082 | 26 | A | Visual field examination(s) | 0.44 | 0.20 | 0.23 | 0.20 | 0.23 | 0.01 | 0.65 | 0.68 | 0.65 | 0.68 | XXX
92082 | TC | A | Visual field examination(s) | 0.00 | 1.12 | 0.89 | NA | NA | 0.01 | 1.13 | 0.90 | NA | NA | XXX
92083 |  | A | Visual field examination(s) | 0.50 | 1.09 | 1.04 | NA | NA | 0.03 | 1.62 | 1.57 | NA | NA | XXX
92083 | 26 | A | Visual field examination(s) | 0.50 | 0.23 | 0.32 | 0.23 | 0.32 | 0.02 | 0.75 | 0.84 | 0.75 | 0.84 | XXX
92083 | TC | A | Visual field examination(s) | 0.00 | 0.86 | 0.72 | NA | NA | 0.01 | 0.87 | 0.73 | NA | NA | XXX
92100 |  | A | Serial tonometry exam(s) | 0.92 | 0.78 | 0.65 | 0.36 | 0.34 | 0.03 | 1.73 | 1.60 | 1.31 | 1.29 | XXX
92120 |  | A | Tonography & eye evaluation | 0.81 | 0.76 | 0.66 | 0.31 | 0.32 | 0.03 | 1.60 | 1.50 | 1.15 | 1.16 | XXX
92130 |  | A | Water provocation tonography | 0.81 | 0.87 | 0.79 | 0.32 | 0.37 | 0.03 | 1.71 | 1.63 | 1.16 | 1.21 | XXX
92135 |  | A | Opthalmic dx imaging | 0.35 | 1.02 | 1.02 | NA | NA | 0.02 | 1.39 | 1.39 | NA | NA | XXX
92135 | 26 | A | Opthalmic dx imaging | 0.35 | 0.16 | 0.16 | 0.16 | 0.16 | 0.01 | 0.52 | 0.52 | 0.52 | 0.52 | XXX
92135 | TC | A | Opthalmic dx imaging | 0.00 | 0.86 | 0.86 | NA | NA | 0.01 | 0.87 | 0.87 | NA | NA | XXX
92140 |  | A | Glaucoma provocative tests | 0.50 | 0.93 | 0.78 | 0.22 | 0.25 | 0.02 | 1.45 | 1.30 | 0.74 | 0.77 | XXX
92225 |  | A | Special eye exam, initial | 0.38 | 1.64 | 1.35 | 0.16 | 0.24 | 0.01 | 2.03 | 1.74 | 0.55 | 0.63 | XXX
92226 |  | A | Special eye exam, subsequent | 0.33 | 1.72 | 1.40 | 0.15 | 0.22 | 0.01 | 2.06 | 1.74 | 0.49 | 0.56 | XXX
92230 |  | A | Eye exam with photos | 0.60 | 1.26 | 1.13 | 0.21 | 0.35 | 0.02 | 1.88 | 1.75 | 0.83 | 0.97 | XXX
92235 |  | A | Eye exam with photos | 0.81 | 2.08 | 1.99 | NA | NA | 0.08 | 2.97 | 2.88 | NA | NA | XXX
92235 | 26 | A | Eye exam with photos | 0.81 | 0.39 | 0.45 | 0.39 | 0.45 | 0.03 | 1.23 | 1.29 | 1.23 | 1.29 | XXX
92235 | TC | A | Eye exam with photos | 0.00 | 1.69 | 1.54 | NA | NA | 0.05 | 1.74 | 1.59 | NA | NA | XXX
92240 |  | A | Icg angiography | 1.10 | 2.72 | 2.47 | NA | NA | 0.08 | 3.90 | 3.65 | NA | NA | XXX
92240 | 26 | A | Icg angiography | 1.10 | 0.53 | 0.56 | 0.53 | 0.56 | 0.03 | 1.66 | 1.69 | 1.66 | 1.69 | XXX
92240 | TC | A | Icg angiography | 0.00 | 2.19 | 1.91 | NA | NA | 0.05 | 2.24 | 1.96 | NA | NA | XXX
92250 |  | A | Eye exam with photos | 0.44 | 1.73 | 1.41 | NA | NA | 0.02 | 2.19 | 1.87 | NA | NA | XXX
92250 | 26 | A | Eye exam with photos | 0.44 | 0.20 | 0.22 | 0.20 | 0.22 | 0.01 | 0.65 | 0.67 | 0.65 | 0.67 | XXX
92250 | TC | A | Eye exam with photos | 0.00 | 1.53 | 1.19 | NA | NA | 0.01 | 1.54 | 1.20 | NA | NA | XXX
92260 |  | A | Ophthalmoscopy/dynamometry | 0.20 | 0.21 | 0.31 | 0.09 | 0.22 | 0.01 | 0.42 | 0.52 | 0.30 | 0.43 | XXX
92265 |  | A | Eye muscle evaluation | 0.81 | 1.89 | 1.50 | NA | NA | 0.05 | 2.75 | 2.36 | NA | NA | XXX
92265 | 26 | A | Eye muscle evaluation | 0.81 | 0.31 | 0.25 | 0.31 | 0.25 | 0.03 | 1.15 | 1.09 | 1.15 | 1.09 | XXX
92265 | TC | A | Eye muscle evaluation | 0.00 | 1.58 | 1.25 | NA | NA | 0.02 | 1.60 | 1.27 | NA | NA | XXX
92270 |  | A | Electro-oculography | 0.81 | 1.37 | 1.22 | NA | NA | 0.05 | 2.23 | 2.08 | NA | NA | XXX
92270 | 26 | A | Electro-oculography | 0.81 | 0.34 | 0.36 | 0.34 | 0.36 | 0.03 | 1.18 | 1.20 | 1.18 | 1.20 | XXX
92270 | TC | A | Electro-oculography | 0.00 | 1.03 | 0.86 | NA | NA | 0.02 | 1.05 | 0.88 | NA | NA | XXX
92275 |  | A | Electroretinography | 1.01 | 1.12 | 1.09 | NA | NA | 0.06 | 2.19 | 2.16 | NA | NA | XXX
92275 | 26 | A | Electroretinography | 1.01 | 0.44 | 0.47 | 0.44 | 0.47 | 0.04 | 1.49 | 1.52 | 1.49 | 1.52 | XXX
92275 | TC | A | Electroretinography | 0.00 | 0.68 | 0.62 | NA | NA | 0.02 | 0.70 | 0.64 | NA | NA | XXX
92283 |  | A | Color vision examination | 0.17 | 0.86 | 0.73 | NA | NA | 0.02 | 1.05 | 0.92 | NA | NA | XXX
92283 | 26 | A | Color vision examination | 0.17 | 0.08 | 0.11 | 0.08 | 0.11 | 0.01 | 0.26 | 0.29 | 0.26 | 0.29 | XXX
92283 | TC | A | Color vision examination | 0.00 | 0.78 | 0.62 | NA | NA | 0.01 | 0.79 | 0.63 | NA | NA | XXX
92284 |  | A | Dark adaptation eye exam | 0.24 | 1.50 | 1.24 | NA | NA | 0.02 | 1.76 | 1.50 | NA | NA | XXX
92284 | 26 | A | Dark adaptation eye exam | 0.24 | 0.09 | 0.14 | 0.09 | 0.14 | 0.01 | 0.34 | 0.39 | 0.34 | 0.39 | XXX
92284 | TC | A | Dark adaptation eye exam | 0.00 | 1.41 | 1.10 | NA | NA | 0.01 | 1.42 | 1.11 | NA | NA | XXX
92285 |  | A | Eye photography | 0.20 | 1.90 | 1.51 | NA | NA | 0.02 | 2.12 | 1.73 | NA | NA | XXX
92285 | 26 | A | Eye photography | 0.20 | 0.09 | 0.12 | 0.09 | 0.12 | 0.01 | 0.30 | 0.33 | 0.30 | 0.33 | XXX
92285 | TC | A | Eye photography | 0.00 | 1.81 | 1.39 | NA | NA | 0.01 | 1.82 | 1.40 | NA | NA | XXX
92286 |  | A | Internal eye photography | 0.66 | 1.95 | 1.80 | NA | NA | 0.04 | 2.65 | 2.50 | NA | NA | XXX
92286 | 26 | A | Internal eye photography | 0.66 | 0.31 | 0.46 | 0.31 | 0.46 | 0.02 | 0.99 | 1.14 | 0.99 | 1.14 | XXX
92286 | TC | A | Internal eye photography | 0.00 | 1.64 | 1.34 | NA | NA | 0.02 | 1.66 | 1.36 | NA | NA | XXX
92287 |  | A | Internal eye photography | 0.81 | 1.84 | 1.79 | 0.36 | 0.68 | 0.03 | 2.68 | 2.63 | 1.20 | 1.52 | XXX
92310 |  | N | Contact lens fitting | 1.17 | 0.90 | 1.03 | 0.46 | 0.70 | 0.00 | 2.07 | 2.20 | 1.63 | 1.87 | XXX
92311 |  | A | Contact lens fitting | 1.08 | 0.92 | 0.94 | 0.39 | 0.54 | 0.04 | 2.04 | 2.06 | 1.51 | 1.66 | XXX
92312 |  | A | Contact lens fitting | 1.26 | 0.91 | 1.00 | 0.63 | 0.79 | 0.04 | 2.21 | 2.30 | 1.93 | 2.09 | XXX
92313 |  | A | Contact lens fitting | 0.92 | 0.84 | 0.87 | 0.27 | 0.44 | 0.03 | 1.79 | 1.82 | 1.22 | 1.39 | XXX
92314 |  | N | Prescription of contact lens | 0.69 | 0.70 | 0.73 | 0.27 | 0.41 | 0.00 | 1.39 | 1.42 | 0.96 | 1.10 | XXX
92315 |  | A | Prescription of contact lens | 0.45 | 0.63 | 0.65 | 0.18 | 0.32 | 0.02 | 1.10 | 1.12 | 0.65 | 0.79 | XXX
92316 |  | A | Prescription of contact lens | 0.68 | 0.71 | 0.79 | 0.27 | 0.46 | 0.02 | 1.41 | 1.49 | 0.97 | 1.16 | XXX
92317 |  | A | Prescription of contact lens | 0.45 | 0.79 | 0.70 | 0.18 | 0.24 | 0.01 | 1.25 | 1.16 | 0.64 | 0.70 | XXX
92325 |  | A | Modification of contact lens | 0.00 | 0.30 | 0.33 | 0.12 | 0.19 | 0.01 | 0.31 | 0.34 | 0.13 | 0.20 | XXX
92326 |  | A | Replacement of contact lens | 0.00 | 0.31 | 0.66 | 0.12 | 0.51 | 0.05 | 0.36 | 0.71 | 0.17 | 0.56 | XXX
92330 |  | A | Fitting of artificial eye | 1.08 | 0.75 | 0.87 | 0.28 | 0.52 | 0.04 | 1.87 | 1.99 | 1.40 | 1.64 | XXX
92335 |  | A | Fitting of artificial eye | 0.45 | 0.73 | 1.08 | 0.18 | 0.67 | 0.02 | 1.20 | 1.55 | 0.65 | 1.14 | XXX
92340 |  | N | Fitting of spectacles | 0.37 | 0.52 | 0.51 | 0.15 | 0.23 | 0.00 | 0.89 | 0.88 | 0.52 | 0.60 | XXX
92341 |  | N | Fitting of spectacles | 0.47 | 0.56 | 0.57 | 0.19 | 0.29 | 0.00 | 1.03 | 1.04 | 0.66 | 0.76 | XXX
92342 |  | N | Fitting of spectacles | 0.53 | 0.58 | 0.60 | 0.21 | 0.32 | 0.00 | 1.11 | 1.13 | 0.74 | 0.85 | XXX
92352 |  | B | Special spectacles fitting | 0.37 | 0.52 | 0.47 | 0.15 | 0.20 | 0.01 | 0.90 | 0.85 | 0.53 | 0.58 | XXX
92353 |  | B | Special spectacles fitting | 0.50 | 0.57 | 0.54 | 0.20 | 0.26 | 0.02 | 1.09 | 1.06 | 0.72 | 0.78 | XXX
92354 |  | B | Special spectacles fitting | 0.00 | 0.43 | 2.61 | 0.16 | 2.41 | 0.08 | 0.51 | 2.69 | 0.24 | 2.49 | XXX
92355 |  | B | Special spectacles fitting | 0.00 | 0.43 | 1.44 | 0.16 | 1.24 | 0.01 | 0.44 | 1.45 | 0.17 | 1.25 | XXX
92358 |  | B | Eye prosthesis service | 0.00 | 0.28 | 0.46 | 0.10 | 0.33 | 0.04 | 0.32 | 0.50 | 0.14 | 0.37 | XXX
92370 |  | N | Repair & adjust spectacles | 0.32 | 0.41 | 0.41 | 0.13 | 0.20 | 0.00 | 0.73 | 0.73 | 0.45 | 0.52 | XXX
92371 |  | B | Repair & adjust spectacles | 0.00 | 0.28 | 0.37 | 0.10 | 0.24 | 0.02 | 0.30 | 0.39 | 0.12 | 0.26 | XXX
92390 |  | N | Supply of spectacles | 0.00 | 0.00 | 0.00 | 0.00 | 0.00 | 0.00 | 0.00 | 0.00 | 0.00 | 0.00 | XXX
92391 |  | N | Supply of contact lenses | 0.00 | 0.00 | 0.00 | 0.00 | 0.00 | 0.00 | 0.00 | 0.00 | 0.00 | 0.00 | XXX
92392 |  | I | Supply of low vision aids | 0.00 | 0.28 | 1.26 | 0.10 | 1.12 | 0.02 | 0.30 | 1.28 | 0.12 | 1.14 | XXX
92393 |  | I | Supply of artificial eye | 0.00 | 0.28 | 3.46 | 0.10 | 3.32 | 0.48 | 0.76 | 3.94 | 0.58 | 3.80 | XXX
92395 |  | I | Supply of spectacles | 0.00 | 0.28 | 0.57 | 0.10 | 0.43 | 0.08 | 0.36 | 0.65 | 0.18 | 0.51 | XXX
92396 |  | I | Supply of contact lenses | 0.00 | 0.28 | 0.81 | 0.10 | 0.67 | 0.06 | 0.34 | 0.87 | 0.16 | 0.73 | XXX
92499 |  | C | Eye service or procedure | 0.00 | 0.00 | 0.00 | NA | NA | 0.00 | 0.00 | 0.00 | NA | NA | XXX
92499 | 26 | C | Eye service or procedure | 0.00 | 0.00 | 0.00 | 0.00 | 0.00 | 0.00 | 0.00 | 0.00 | 0.00 | 0.00 | XXX
92499 | TC | C | Eye service or procedure | 0.00 | 0.00 | 0.00 | NA | NA | 0.00 | 0.00 | 0.00 | NA | NA | XXX
92502 |  | A | Ear and throat examination | 1.51 | NA | NA | 1.16 | 1.18 | 0.05 | NA | NA | 2.72 | 2.74 | 000
92504 |  | A | Ear microscopy examination | 0.18 | 0.81 | 0.68 | 0.09 | 0.14 | 0.01 | 1.00 | 0.87 | 0.28 | 0.33 | XXX
92506 |  | A | Speech/hearing evaluation | 0.86 | 1.20 | 1.04 | 0.40 | 0.44 | 0.03 | 2.09 | 1.93 | 1.29 | 1.33 | XXX
92507 |  | A | Speech/hearing therapy | 0.52 | 1.11 | 0.92 | 0.25 | 0.28 | 0.02 | 1.65 | 1.46 | 0.79 | 0.82 | XXX
92508 |  | A | Speech/hearing therapy | 0.26 | 0.94 | 0.76 | 0.15 | 0.16 | 0.01 | 1.21 | 1.03 | 0.42 | 0.43 | XXX
92510 |  | A | Rehab for ear implant | 1.50 | 1.59 | 1.56 | 0.65 | 0.86 | 0.05 | 3.14 | 3.11 | 2.20 | 2.41 | XXX
92511 |  | A | Nasopharyngoscopy | 0.84 | 1.04 | 1.01 | 0.42 | 0.55 | 0.03 | 1.91 | 1.88 | 1.29 | 1.42 | 000
92512 |  | A | Nasal function studies | 0.55 | 0.88 | 0.79 | 0.25 | 0.32 | 0.02 | 1.45 | 1.36 | 0.82 | 0.89 | XXX
92516 |  | A | Facial nerve function test | 0.43 | 0.74 | 0.66 | 0.22 | 0.27 | 0.01 | 1.18 | 1.10 | 0.66 | 0.71 | XXX
92520 |  | A | Laryngeal function studies | 0.76 | 0.51 | 0.53 | 0.43 | 0.47 | 0.03 | 1.30 | 1.32 | 1.22 | 1.26 | XXX
92525 |  | A | Oral function evaluation | 1.50 | 1.76 | 1.60 | 0.74 | 0.83 | 0.05 | 3.31 | 3.15 | 2.29 | 2.38 | XXX
92526 |  | A | Oral function therapy | 0.55 | 1.39 | 1.17 | 0.21 | 0.29 | 0.02 | 1.96 | 1.74 | 0.78 | 0.86 | XXX
92531 |  | B | Spontaneous nystagmus study | 0.00 | 0.00 | 0.00 | 0.00 | 0.00 | 0.00 | 0.00 | 0.00 | 0.00 | 0.00 | XXX
92532 |  | B | Positional nystagmus study | 0.00 | 0.00 | 0.00 | 0.00 | 0.00 | 0.00 | 0.00 | 0.00 | 0.00 | 0.00 | XXX
92533 |  | B | Caloric vestibular test | 0.00 | 0.00 | 0.00 | 0.00 | 0.00 | 0.00 | 0.00 | 0.00 | 0.00 | 0.00 | XXX
92534 |  | B | Optokinetic nystagmus | 0.00 | 0.00 | 0.00 | 0.00 | 0.00 | 0.00 | 0.00 | 0.00 | 0.00 | 0.00 | XXX
92541 |  | A | Spontaneous nystagmus test | 0.40 | 0.42 | 0.50 | NA | NA | 0.03 | 0.85 | 0.93 | NA | NA | XXX
92541 | 26 | A | Spontaneous nystagmus test | 0.40 | 0.19 | 0.27 | 0.19 | 0.27 | 0.01 | 0.60 | 0.68 | 0.60 | 0.68 | XXX
92541 | TC | A | Spontaneous nystagmus test | 0.00 | 0.23 | 0.23 | NA | NA | 0.02 | 0.25 | 0.25 | NA | NA | XXX
92542 |  | A | Positional nystagmus test | 0.33 | 0.42 | 0.48 | NA | NA | 0.03 | 0.78 | 0.84 | NA | NA | XXX
92542 | 26 | A | Positional nystagmus test | 0.33 | 0.16 | 0.22 | 0.16 | 0.22 | 0.01 | 0.50 | 0.56 | 0.50 | 0.56 | XXX
92542 | TC | A | Positional nystagmus test | 0.00 | 0.26 | 0.26 | NA | NA | 0.02 | 0.28 | 0.28 | NA | NA | XXX
92543 |  | A | Caloric vestibular test | 0.10 | 0.16 | 0.18 | NA | NA | 0.02 | 0.28 | 0.30 | NA | NA | XXX
92543 | 26 | A | Caloric vestibular test | 0.10 | 0.05 | 0.07 | 0.05 | 0.07 | 0.01 | 0.16 | 0.18 | 0.16 | 0.18 | XXX
92543 | TC | A | Caloric vestibular test | 0.00 | 0.11 | 0.11 | NA | NA | 0.01 | 0.12 | 0.12 | NA | NA | XXX
92544 |  | A | Optokinetic nystagmus test | 0.26 | 0.34 | 0.38 | NA | NA | 0.03 | 0.63 | 0.67 | NA | NA | XXX
92544 | 26 | A | Optokinetic nystagmus test | 0.26 | 0.12 | 0.16 | 0.12 | 0.16 | 0.01 | 0.39 | 0.43 | 0.39 | 0.43 | XXX
92544 | TC | A | Optokinetic nystagmus test | 0.00 | 0.22 | 0.22 | NA | NA | 0.02 | 0.24 | 0.24 | NA | NA | XXX
92545 |  | A | Oscillating tracking test | 0.23 | 0.33 | 0.36 | NA | NA | 0.03 | 0.59 | 0.62 | NA | NA | XXX
92545 | 26 | A | Oscillating tracking test | 0.23 | 0.11 | 0.14 | 0.11 | 0.14 | 0.01 | 0.35 | 0.38 | 0.35 | 0.38 | XXX
92545 | TC | A | Oscillating tracking test | 0.00 | 0.22 | 0.22 | NA | NA | 0.02 | 0.24 | 0.24 | NA | NA | XXX
92546 |  | A | Sinusoidal rotational test | 0.29 | 0.37 | 0.42 | NA | NA | 0.03 | 0.69 | 0.74 | NA | NA | XXX
92546 | 26 | A | Sinusoidal rotational test | 0.29 | 0.13 | 0.18 | 0.13 | 0.18 | 0.01 | 0.43 | 0.48 | 0.43 | 0.48 | XXX
92546 | TC | A | Sinusoidal rotational test | 0.00 | 0.24 | 0.24 | NA | NA | 0.02 | 0.26 | 0.26 | NA | NA | XXX
92547 |  | A | Supplemental electrical test | 0.00 | 0.57 | 0.57 | NA | NA | 0.05 | 0.62 | 0.62 | NA | NA | ZZZ
92548 |  | A | Posturography | 0.50 | 1.75 | 1.82 | NA | NA | 0.13 | 2.38 | 2.45 | NA | NA | XXX
92548 | 26 | A | Posturography | 0.50 | 0.26 | 0.32 | 0.26 | 0.32 | 0.02 | 0.78 | 0.84 | 0.78 | 0.84 | XXX
92548 | TC | A | Posturography | 0.00 | 1.49 | 1.50 | NA | NA | 0.11 | 1.60 | 1.61 | NA | NA | XXX
92551 |  | N | Pure tone hearing test, air | 0.00 | 0.00 | 0.00 | 0.00 | 0.00 | 0.00 | 0.00 | 0.00 | 0.00 | 0.00 | XXX
92552 |  | A | Pure tone audiometry, air | 0.00 | 0.45 | 0.45 | NA | NA | 0.03 | 0.48 | 0.48 | NA | NA | XXX
92553 |  | A | Audiometry, air & bone | 0.00 | 0.66 | 0.67 | NA | NA | 0.05 | 0.71 | 0.72 | NA | NA | XXX
92555 |  | A | Speech threshold audiometry | 0.00 | 0.38 | 0.38 | NA | NA | 0.03 | 0.41 | 0.41 | NA | NA | XXX
92556 |  | A | Speech audiometry, complete | 0.00 | 0.58 | 0.58 | NA | NA | 0.05 | 0.63 | 0.63 | NA | NA | XXX
92557 |  | A | Comprehensive hearing test | 0.00 | 1.20 | 1.21 | NA | NA | 0.10 | 1.30 | 1.31 | NA | NA | XXX
92559 |  | N | Group audiometric testing | 0.00 | 0.00 | 0.00 | 0.00 | 0.00 | 0.00 | 0.00 | 0.00 | 0.00 | 0.00 | XXX
92560 |  | N | Bekesy audiometry, screen | 0.00 | 0.00 | 0.00 | 0.00 | 0.00 | 0.00 | 0.00 | 0.00 | 0.00 | 0.00 | XXX
92561 |  | A | Bekesy audiometry, diagnosis | 0.00 | 0.72 | 0.73 | NA | NA | 0.05 | 0.77 | 0.78 | NA | NA | XXX
92562 |  | A | Loudness balance test | 0.00 | 0.41 | 0.41 | NA | NA | 0.03 | 0.44 | 0.44 | NA | NA | XXX
92563 |  | A | Tone decay hearing test | 0.00 | 0.38 | 0.38 | NA | NA | 0.03 | 0.41 | 0.41 | NA | NA | XXX
92564 |  | A | Sisi hearing test | 0.00 | 0.48 | 0.48 | NA | NA | 0.04 | 0.52 | 0.52 | NA | NA | XXX
92565 |  | A | Stenger test, pure tone | 0.00 | 0.40 | 0.40 | NA | NA | 0.03 | 0.43 | 0.43 | NA | NA | XXX
92567 |  | A | Tympanometry | 0.00 | 0.53 | 0.53 | NA | NA | 0.05 | 0.58 | 0.58 | NA | NA | XXX
92568 |  | A | Acoustic reflex testing | 0.00 | 0.38 | 0.38 | NA | NA | 0.03 | 0.41 | 0.41 | NA | NA | XXX
92569 |  | A | Acoustic reflex decay test | 0.00 | 0.41 | 0.41 | NA | NA | 0.03 | 0.44 | 0.44 | NA | NA | XXX
92571 |  | A | Filtered speech hearing test | 0.00 | 0.39 | 0.39 | NA | NA | 0.03 | 0.42 | 0.42 | NA | NA | XXX
92572 |  | A | Staggered spondaic word test | 0.00 | 0.09 | 0.09 | NA | NA | 0.01 | 0.10 | 0.10 | NA | NA | XXX
92573 |  | A | Lombard test | 0.00 | 0.35 | 0.35 | NA | NA | 0.03 | 0.38 | 0.38 | NA | NA | XXX
92575 |  | A | Sensorineural acuity test | 0.00 | 0.30 | 0.30 | NA | NA | 0.02 | 0.32 | 0.32 | NA | NA | XXX
92576 |  | A | Synthetic sentence test | 0.00 | 0.45 | 0.45 | NA | NA | 0.04 | 0.49 | 0.49 | NA | NA | XXX
92577 |  | A | Stenger test, speech | 0.00 | 0.72 | 0.73 | NA | NA | 0.06 | 0.78 | 0.79 | NA | NA | XXX
92579 |  | A | Visual audiometry (vra) | 0.00 | 0.73 | 0.74 | NA | NA | 0.05 | 0.78 | 0.79 | NA | NA | XXX
92582 |  | A | Conditioning play audiometry | 0.00 | 0.73 | 0.74 | NA | NA | 0.05 | 0.78 | 0.79 | NA | NA | XXX
92583 |  | A | Select picture audiometry | 0.00 | 0.90 | 0.91 | NA | NA | 0.07 | 0.97 | 0.98 | NA | NA | XXX
92584 |  | A | Electrocochleography | 0.00 | 2.50 | 2.52 | NA | NA | 0.18 | 2.68 | 2.70 | NA | NA | XXX
92585 |  | A | Auditory evoked potential | 0.50 | 2.09 | 2.45 | NA | NA | 0.14 | 2.73 | 3.09 | NA | NA | XXX
92585 | 26 | A | Auditory evoked potential | 0.50 | 0.22 | 0.57 | 0.22 | 0.57 | 0.02 | 0.74 | 1.09 | 0.74 | 1.09 | XXX
92585 | TC | A | Auditory evoked potential | 0.00 | 1.87 | 1.88 | NA | NA | 0.12 | 1.99 | 2.00 | NA | NA | XXX
92587 |  | A | Evoked auditory test | 0.13 | 1.38 | 1.41 | NA | NA | 0.10 | 1.61 | 1.64 | NA | NA | XXX
92587 | 26 | A | Evoked auditory test | 0.13 | 0.06 | 0.08 | 0.06 | 0.08 | 0.01 | 0.20 | 0.22 | 0.20 | 0.22 | XXX
92587 | TC | A | Evoked auditory test | 0.00 | 1.32 | 1.33 | NA | NA | 0.09 | 1.41 | 1.42 | NA | NA | XXX
92588 |  | A | Evoked auditory test | 0.36 | 1.65 | 1.70 | NA | NA | 0.12 | 2.13 | 2.18 | NA | NA | XXX
92588 | 26 | A | Evoked auditory test | 0.36 | 0.16 | 0.20 | 0.16 | 0.20 | 0.01 | 0.53 | 0.57 | 0.53 | 0.57 | XXX
92588 | TC | A | Evoked auditory test | 0.00 | 1.49 | 1.50 | NA | NA | 0.11 | 1.60 | 1.61 | NA | NA | XXX
92589 |  | A | Auditory function test(s) | 0.00 | 0.54 | 0.54 | NA | NA | 0.05 | 0.59 | 0.59 | NA | NA | XXX
92590 |  | N | Hearing aid exam, one ear | 0.00 | 0.00 | 0.00 | 0.00 | 0.00 | 0.00 | 0.00 | 0.00 | 0.00 | 0.00 | XXX
92591 |  | N | Hearing aid exam, both ears | 0.00 | 0.00 | 0.00 | 0.00 | 0.00 | 0.00 | 0.00 | 0.00 | 0.00 | 0.00 | XXX
92592 |  | N | Hearing aid check, one ear | 0.00 | 0.00 | 0.00 | 0.00 | 0.00 | 0.00 | 0.00 | 0.00 | 0.00 | 0.00 | XXX
92593 |  | N | Hearing aid check, both ears | 0.00 | 0.00 | 0.00 | 0.00 | 0.00 | 0.00 | 0.00 | 0.00 | 0.00 | 0.00 | XXX
92594 |  | N | Electro hearng aid test, one | 0.00 | 0.00 | 0.00 | 0.00 | 0.00 | 0.00 | 0.00 | 0.00 | 0.00 | 0.00 | XXX
92595 |  | N | Electro hearng aid tst, both | 0.00 | 0.00 | 0.00 | 0.00 | 0.00 | 0.00 | 0.00 | 0.00 | 0.00 | 0.00 | XXX
92596 |  | A | Ear protector evaluation | 0.00 | 0.60 | 0.60 | NA | NA | 0.05 | 0.65 | 0.65 | NA | NA | XXX
92597 |  | A | Oral speech device eval | 1.35 | 1.48 | 1.39 | 0.73 | 0.82 | 0.04 | 2.87 | 2.78 | 2.12 | 2.21 | XXX
92598 |  | A | Modify oral speech device | 0.99 | 0.85 | 0.82 | 0.51 | 0.56 | 0.03 | 1.87 | 1.84 | 1.53 | 1.58 | XXX
92599 |  | C | ENT procedure/service | 0.00 | 0.00 | 0.00 | NA | NA | 0.00 | 0.00 | 0.00 | NA | NA | XXX
92599 | 26 | C | ENT procedure/service | 0.00 | 0.00 | 0.00 | 0.00 | 0.00 | 0.00 | 0.00 | 0.00 | 0.00 | 0.00 | XXX
92599 | TC | C | ENT procedure/service | 0.00 | 0.00 | 0.00 | NA | NA | 0.00 | 0.00 | 0.00 | NA | NA | XXX
92950 |  | A | Heart/lung resuscitation cpr | 3.80 | 1.57 | 1.79 | 1.11 | 1.45 | 0.21 | 5.58 | 5.80 | 5.12 | 5.46 | 000
92953 |  | A | Temporary external pacing | 0.23 | NA | NA | 0.19 | 0.21 | 0.01 | NA | NA | 0.43 | 0.45 | 000
92960 |  | A | Cardioversion electric, ext | 2.25 | 2.03 | 2.03 | 0.90 | 1.19 | 0.08 | 4.36 | 4.36 | 3.23 | 3.52 | 000
92961 |  | A | Cardioversion, electric, int | 4.60 | NA | NA | 1.92 | 1.92 | 0.31 | NA | NA | 6.83 | 6.83 | 000
92970 |  | A | Cardioassist, internal | 3.52 | NA | NA | 1.09 | 1.76 | 0.17 | NA | NA | 4.78 | 5.45 | 000
92971 |  | A | Cardioassist, external | 1.77 | NA | NA | 0.89 | 0.97 | 0.06 | NA | NA | 2.72 | 2.80 | 000
92975 |  | A | Dissolve clot, heart vessel | 7.25 | NA | NA | 3.08 | 3.86 | 0.22 | NA | NA | 10.55 | 11.33 | 000
92977 |  | A | Dissolve clot, heart vessel | 0.00 | NA | NA | 8.14 | 8.19 | 0.39 | NA | NA | 8.53 | 8.58 | XXX
92978 |  | A | Intravasc us, heart add-on | 1.80 | 5.37 | 5.50 | NA | NA | 0.27 | 7.44 | 7.57 | NA | NA | ZZZ
92978 | 26 | A | Intravasc us, heart add-on | 1.80 | 0.76 | 0.86 | 0.76 | 0.86 | 0.06 | 2.62 | 2.72 | 2.62 | 2.72 | ZZZ
92978 | TC | A | Intravasc us, heart add-on | 0.00 | 4.61 | 4.64 | NA | NA | 0.21 | 4.82 | 4.85 | NA | NA | ZZZ
92979 |  | A | Intravasc us, heart add-on | 1.44 | 2.93 | 3.02 | NA | NA | 0.15 | 4.52 | 4.61 | NA | NA | ZZZ
92979 | 26 | A | Intravasc us, heart add-on | 1.44 | 0.61 | 0.69 | 0.61 | 0.69 | 0.04 | 2.09 | 2.17 | 2.09 | 2.17 | ZZZ
92979 | TC | A | Intravasc us, heart add-on | 0.00 | 2.32 | 2.33 | NA | NA | 0.11 | 2.43 | 2.44 | NA | NA | ZZZ
92980 |  | A | Insert intracoronary stent | 14.84 | NA | NA | 6.33 | 9.18 | 0.02 | NA | NA | 21.19 | 24.04 | 000
92981 |  | A | Insert intracoronary stent | 4.17 | NA | NA | 1.77 | 2.57 | 0.56 | NA | NA | 6.50 | 7.30 | ZZZ
92982 |  | A | Coronary artery dilation | 10.98 | NA | NA | 4.70 | 6.80 | 1.48 | NA | NA | 17.16 | 19.26 | 000
92984 |  | A | Coronary artery dilation | 2.97 | NA | NA | 1.26 | 1.83 | 0.40 | NA | NA | 4.63 | 5.20 | ZZZ
92986 |  | A | Revision of aortic valve | 21.80 | NA | NA | 10.87 | 11.42 | 2.82 | NA | NA | 35.49 | 36.04 | 090
92987 |  | A | Revision of mitral valve | 22.70 | NA | NA | 11.23 | 11.73 | 2.99 | NA | NA | 36.92 | 37.42 | 090
92990 |  | A | Revision of pulmonary valve | 17.34 | NA | NA | 8.47 | 8.96 | 1.90 | NA | NA | 27.71 | 28.20 | 090
92992 |  | C | Revision of heart chamber | 0.00 | 0.00 | 0.00 | 0.00 | 0.00 | 0.00 | 0.00 | 0.00 | 0.00 | 0.00 | 090
92993 |  | C | Revision of heart chamber | 0.00 | 0.00 | 0.00 | 0.00 | 0.00 | 0.00 | 0.00 | 0.00 | 0.00 | 0.00 | 090
92995 |  | A | Coronary atherectomy | 12.09 | NA | NA | 5.16 | 7.48 | 1.63 | NA | NA | 18.88 | 21.20 | 000
92996 |  | A | Coronary atherectomy add-on | 3.26 | NA | NA | 1.43 | 2.05 | 0.44 | NA | NA | 5.13 | 5.75 | ZZZ
92997 |  | A | Pul art balloon repr, percut | 0.12 | NA | NA | 5.12 | 7.42 | 1.45 | NA | NA | 6.69 | 8.99 | 000
92998 |  | A | Pul art balloon repr, percut | 0.06 | NA | NA | 2.48 | 2.89 | 0.73 | NA | NA | 3.27 | 3.68 | ZZZ
93000 |  | A | Electrocardiogram, complete | 0.17 | 0.53 | 0.56 | NA | NA | 0.03 | 0.73 | 0.76 | NA | NA | XXX
93005 |  | A | Electrocardiogram, tracing | 0.00 | 0.46 | 0.46 | NA | NA | 0.02 | 0.48 | 0.48 | NA | NA | XXX
93010 |  | A | Electrocardiogram report | 0.17 | 0.07 | 0.10 | 0.07 | 0.10 | 0.01 | 0.25 | 0.28 | 0.25 | 0.28 | XXX
93012 |  | A | Transmission of ecg | 0.00 | 2.39 | 2.40 | NA | NA | 0.15 | 2.54 | 2.55 | NA | NA | XXX
93014 |  | A | Report on transmitted ecg | 0.52 | 0.20 | 0.26 | 0.20 | 0.26 | 0.02 | 0.74 | 0.80 | 0.74 | 0.80 | XXX
93015 |  | A | Cardiovascular stress test | 0.75 | 2.00 | 2.13 | NA | NA | 0.11 | 2.86 | 2.99 | NA | NA | XXX
93016 |  | A | Cardiovascular stress test | 0.45 | 0.18 | 0.24 | 0.18 | 0.24 | 0.01 | 0.64 | 0.70 | 0.64 | 0.70 | XXX
93017 |  | A | Cardiovascular stress test | 0.00 | 1.70 | 1.71 | NA | NA | 0.09 | 1.79 | 1.80 | NA | NA | XXX
93018 |  | A | Cardiovascular stress test | 0.30 | 0.12 | 0.18 | 0.12 | 0.18 | 0.01 | 0.43 | 0.49 | 0.43 | 0.49 | XXX
93024 |  | A | Cardiac drug stress test | 1.17 | 1.61 | 1.85 | NA | NA | 0.11 | 2.89 | 3.13 | NA | NA | XXX
93024 | 26 | A | Cardiac drug stress test | 1.17 | 0.48 | 0.71 | 0.48 | 0.71 | 0.04 | 1.69 | 1.92 | 1.69 | 1.92 | XXX
93024 | TC | A | Cardiac drug stress test | 0.00 | 1.13 | 1.14 | NA | NA | 0.07 | 1.20 | 1.21 | NA | NA | XXX
93040 |  | A | Rhythm ECG with report | 0.16 | 0.20 | 0.22 | NA | NA | 0.02 | 0.38 | 0.40 | NA | NA | XXX
93041 |  | A | Rhythm ECG, tracing | 0.00 | 0.15 | 0.15 | NA | NA | 0.01 | 0.16 | 0.16 | NA | NA | XXX
93042 |  | A | Rhythm ECG, report | 0.16 | 0.05 | 0.07 | 0.05 | 0.07 | 0.01 | 0.22 | 0.24 | 0.22 | 0.24 | XXX
93224 |  | A | ECG monitor/report, 24 hrs | 0.52 | 3.67 | 3.79 | NA | NA | 0.21 | 4.40 | 4.52 | NA | NA | XXX
93225 |  | A | ECG monitor/record, 24 hrs | 0.00 | 1.25 | 1.26 | NA | NA | 0.07 | 1.32 | 1.33 | NA | NA | XXX
93226 |  | A | ECG monitor/report, 24 hrs | 0.00 | 2.21 | 2.22 | NA | NA | 0.12 | 2.33 | 2.34 | NA | NA | XXX
93227 |  | A | ECG monitor/review, 24 hrs | 0.52 | 0.21 | 0.31 | 0.21 | 0.31 | 0.02 | 0.75 | 0.85 | 0.75 | 0.85 | XXX
93230 |  | A | ECG monitor/report, 24 hrs | 0.52 | 3.94 | 4.06 | NA | NA | 0.22 | 4.68 | 4.80 | NA | NA | XXX
93231 |  | A | Ecg monitor/record, 24 hrs | 0.00 | 1.53 | 1.54 | NA | NA | 0.09 | 1.62 | 1.63 | NA | NA | XXX
93232 |  | A | ECG monitor/report, 24 hrs | 0.00 | 2.20 | 2.21 | NA | NA | 0.11 | 2.31 | 2.32 | NA | NA | XXX
93233 |  | A | ECG monitor/review, 24 hrs | 0.52 | 0.21 | 0.31 | 0.21 | 0.31 | 0.02 | 0.75 | 0.85 | 0.75 | 0.85 | XXX
93235 |  | A | ECG monitor/report, 24 hrs | 0.45 | 2.83 | 2.94 | NA | NA | 0.13 | 3.41 | 3.52 | NA | NA | XXX
93236 |  | A | ECG monitor/report, 24 hrs | 0.00 | 2.65 | 2.67 | NA | NA | 0.12 | 2.77 | 2.79 | NA | NA | XXX
93237 |  | A | ECG monitor/review, 24 hrs | 0.45 | 0.18 | 0.27 | 0.18 | 0.27 | 0.01 | 0.64 | 0.73 | 0.64 | 0.73 | XXX
93268 |  | A | ECG record/review | 0.52 | 3.84 | 3.92 | NA | NA | 0.24 | 4.60 | 4.68 | NA | NA | XXX
93270 |  | A | ECG recording | 0.00 | 1.25 | 1.26 | NA | NA | 0.07 | 1.32 | 1.33 | NA | NA | XXX
93271 |  | A | Ecg/monitoring and analysis | 0.00 | 2.39 | 2.40 | NA | NA | 0.15 | 2.54 | 2.55 | NA | NA | XXX
93272 |  | A | Ecg/review,interpret only | 0.52 | 0.20 | 0.26 | 0.20 | 0.26 | 0.02 | 0.74 | 0.80 | 0.74 | 0.80 | XXX
93278 |  | A | ECG/signal-averaged | 0.25 | 1.26 | 1.32 | NA | NA | 0.10 | 1.61 | 1.67 | NA | NA | XXX
93278 | 26 | A | ECG/signal-averaged | 0.25 | 0.10 | 0.15 | 0.10 | 0.15 | 0.01 | 0.36 | 0.41 | 0.36 | 0.41 | XXX
93278 | TC | A | ECG/signal-averaged | 0.00 | 1.16 | 1.17 | NA | NA | 0.09 | 1.25 | 1.26 | NA | NA | XXX
93303 |  | A | Echo transthoracic | 1.30 | 4.40 | 4.57 | NA | NA | 0.24 | 5.94 | 6.11 | NA | NA | XXX
93303 | 26 | A | Echo transthoracic | 1.30 | 0.50 | 0.65 | 0.50 | 0.65 | 0.04 | 1.84 | 1.99 | 1.84 | 1.99 | XXX
93303 | TC | A | Echo transthoracic | 0.00 | 3.90 | 3.92 | NA | NA | 0.20 | 4.10 | 4.12 | NA | NA | XXX
93304 |  | A | Echo transthoracic | 0.75 | 2.25 | 2.37 | NA | NA | 0.13 | 3.13 | 3.25 | NA | NA | XXX
93304 | 26 | A | Echo transthoracic | 0.75 | 0.29 | 0.40 | 0.29 | 0.40 | 0.02 | 1.06 | 1.17 | 1.06 | 1.17 | XXX
93304 | TC | A | Echo transthoracic | 0.00 | 1.96 | 1.97 | NA | NA | 0.11 | 2.07 | 2.08 | NA | NA | XXX
93307 |  | A | Echo exam of heart | 0.92 | 4.28 | 4.48 | NA | NA | 0.23 | 5.43 | 5.63 | NA | NA | XXX
93307 | 26 | A | Echo exam of heart | 0.92 | 0.38 | 0.56 | 0.38 | 0.56 | 0.03 | 1.33 | 1.51 | 1.33 | 1.51 | XXX
93307 | TC | A | Echo exam of heart | 0.00 | 3.90 | 3.92 | NA | NA | 0.20 | 4.10 | 4.12 | NA | NA | XXX
93308 |  | A | Echo exam of heart | 0.53 | 2.18 | 2.29 | NA | NA | 0.13 | 2.84 | 2.95 | NA | NA | XXX
93308 | 26 | A | Echo exam of heart | 0.53 | 0.22 | 0.32 | 0.22 | 0.32 | 0.02 | 0.77 | 0.87 | 0.77 | 0.87 | XXX
93308 | TC | A | Echo exam of heart | 0.00 | 1.96 | 1.97 | NA | NA | 0.11 | 2.07 | 2.08 | NA | NA | XXX
93312 |  | A | Echo transesophageal | 2.20 | 4.69 | 4.86 | NA | NA | 0.34 | 7.23 | 7.40 | NA | NA | XXX
93312 | 26 | A | Echo transesophageal | 2.20 | 0.87 | 1.02 | 0.87 | 1.02 | 0.09 | 3.16 | 3.31 | 3.16 | 3.31 | XXX
93312 | TC | A | Echo transesophageal | 0.00 | 3.82 | 3.84 | NA | NA | 0.25 | 4.07 | 4.09 | NA | NA | XXX
93313 |  | A | Echo transesophageal | 0.95 | 5.13 | 4.03 | 0.23 | 0.36 | 0.05 | 6.13 | 5.03 | 1.23 | 1.36 | XXX
93314 |  | A | Echo transesophageal | 1.25 | 4.32 | 4.40 | NA | NA | 0.29 | 5.86 | 5.94 | NA | NA | XXX
93314 | 26 | A | Echo transesophageal | 1.25 | 0.50 | 0.56 | 0.50 | 0.56 | 0.04 | 1.79 | 1.85 | 1.79 | 1.85 | XXX
93314 | TC | A | Echo transesophageal | 0.00 | 3.82 | 3.84 | NA | NA | 0.25 | 4.07 | 4.09 | NA | NA | XXX
93315 |  | A | Echo transesophageal | 2.78 | 4.90 | 5.02 | NA | NA | 0.36 | 8.04 | 8.16 | NA | NA | XXX
93315 | 26 | A | Echo transesophageal | 2.78 | 1.08 | 1.18 | 1.08 | 1.18 | 0.11 | 3.97 | 4.07 | 3.97 | 4.07 | XXX
93315 | TC | A | Echo transesophageal | 0.00 | 3.82 | 3.84 | NA | NA | 0.25 | 4.07 | 4.09 | NA | NA | XXX
93316 |  | A | Echo transesophageal | 0.95 | 1.66 | 1.43 | 0.28 | 0.39 | 0.05 | 2.66 | 2.43 | 1.28 | 1.39 | XXX
93317 |  | A | Echo transesophageal | 1.83 | 4.54 | 4.56 | NA | NA | 0.32 | 6.69 | 6.71 | NA | NA | XXX
93317 | 26 | A | Echo transesophageal | 1.83 | 0.72 | 0.72 | 0.72 | 0.72 | 0.07 | 2.62 | 2.62 | 2.62 | 2.62 | XXX
93317 | TC | A | Echo transesophageal | 0.00 | 3.82 | 3.84 | NA | NA | 0.25 | 4.07 | 4.09 | NA | NA | XXX
93320 |  | A | Doppler echo exam, heart | 0.38 | 1.89 | 1.98 | NA | NA | 0.11 | 2.38 | 2.47 | NA | NA | ZZZ
93320 | 26 | A | Doppler echo exam, heart | 0.38 | 0.16 | 0.24 | 0.16 | 0.24 | 0.01 | 0.55 | 0.63 | 0.55 | 0.63 | ZZZ
93320 | TC | A | Doppler echo exam, heart | 0.00 | 1.73 | 1.74 | NA | NA | 0.10 | 1.83 | 1.84 | NA | NA | ZZZ
93321 |  | A | Doppler echo exam, heart | 0.15 | 1.18 | 1.22 | NA | NA | 0.08 | 1.41 | 1.45 | NA | NA | ZZZ
93321 | 26 | A | Doppler echo exam, heart | 0.15 | 0.06 | 0.09 | 0.06 | 0.09 | 0.01 | 0.22 | 0.25 | 0.22 | 0.25 | ZZZ
93321 | TC | A | Doppler echo exam, heart | 0.00 | 1.12 | 1.13 | NA | NA | 0.07 | 1.19 | 1.20 | NA | NA | ZZZ
93325 |  | A | Doppler color flow add-on | 0.07 | 2.96 | 2.98 | NA | NA | 0.19 | 3.22 | 3.24 | NA | NA | ZZZ
93325 | 26 | A | Doppler color flow add-on | 0.07 | 0.03 | 0.03 | 0.03 | 0.03 | 0.01 | 0.11 | 0.11 | 0.11 | 0.11 | ZZZ
93325 | TC | A | Doppler color flow add-on | 0.00 | 2.93 | 2.95 | NA | NA | 0.18 | 3.11 | 3.13 | NA | NA | ZZZ
93350 |  | A | Echo transthoracic | 0.78 | 2.10 | 2.26 | NA | NA | 0.13 | 3.01 | 3.17 | NA | NA | XXX
93350 | 26 | A | Echo transthoracic | 0.78 | 0.32 | 0.47 | 0.32 | 0.47 | 0.02 | 1.12 | 1.27 | 1.12 | 1.27 | XXX
93350 | TC | A | Echo transthoracic | 0.00 | 1.78 | 1.79 | NA | NA | 0.11 | 1.89 | 1.90 | NA | NA | XXX
93501 |  | A | Right heart catheterization | 3.02 | 17.58 | 18.46 | NA | NA | 1.27 | 21.87 | 22.75 | NA | NA | 000
93501 | 26 | A | Right heart catheterization | 3.02 | 1.24 | 1.83 | 1.24 | 1.83 | 0.37 | 4.63 | 5.22 | 4.63 | 5.22 | 000
93501 | TC | A | Right heart catheterization | 0.00 | 16.34 | 16.63 | NA | NA | 0.90 | 17.24 | 17.53 | NA | NA | 000
93503 |  | A | Insert/place heart catheter | 2.91 | 1.03 | 1.42 | 0.76 | 1.21 | 0.22 | 4.16 | 4.55 | 3.89 | 4.34 | 000
93505 |  | A | Biopsy of heart lining | 4.38 | 3.74 | 4.15 | NA | NA | 0.70 | 8.82 | 9.23 | NA | NA | 000
93505 | 26 | A | Biopsy of heart lining | 4.38 | 1.83 | 2.20 | 1.83 | 2.20 | 0.57 | 6.78 | 7.15 | 6.78 | 7.15 | 000
93505 | TC | A | Biopsy of heart lining | 0.00 | 1.91 | 1.95 | NA | NA | 0.13 | 2.04 | 2.08 | NA | NA | 000
93508 |  | A | Cath placement, angiography | 4.10 | 13.90 | 14.44 | NA | NA | 1.11 | 19.11 | 19.65 | NA | NA | 000
93508 | 26 | A | Cath placement, angiography | 4.10 | 1.72 | 2.05 | 1.72 | 2.05 | 0.55 | 6.37 | 6.70 | 6.37 | 6.70 | 000
93508 | TC | A | Cath placement, angiography | 0.00 | 12.18 | 12.39 | NA | NA | 0.56 | 12.74 | 12.95 | NA | NA | 000
93510 |  | A | Left heart catheterization | 4.33 | 37.53 | 38.53 | NA | NA | 2.55 | 44.41 | 45.41 | NA | NA | 000
93510 | 26 | A | Left heart catheterization | 4.33 | 1.83 | 2.20 | 1.83 | 2.20 | 0.58 | 6.74 | 7.11 | 6.74 | 7.11 | 000
93510 | TC | A | Left heart catheterization | 0.00 | 35.70 | 36.33 | NA | NA | 1.97 | 37.67 | 38.30 | NA | NA | 000
93511 |  | A | Left heart catheterization | 5.03 | 36.87 | 37.67 | NA | NA | 2.59 | 44.49 | 45.29 | NA | NA | 000
93511 | 26 | A | Left heart catheterization | 5.03 | 2.12 | 2.30 | 2.12 | 2.30 | 0.68 | 7.83 | 8.01 | 7.83 | 8.01 | 000
93511 | TC | A | Left heart catheterization | 0.00 | 34.75 | 35.37 | NA | NA | 1.91 | 36.66 | 37.28 | NA | NA | 000
93514 |  | A | Left heart catheterization | 7.05 | 37.65 | 38.78 | NA | NA | 2.87 | 47.57 | 48.70 | NA | NA | 000
93514 | 26 | A | Left heart catheterization | 7.05 | 2.90 | 3.41 | 2.90 | 3.41 | 0.96 | 10.91 | 11.42 | 10.91 | 11.42 | 000
93514 | TC | A | Left heart catheterization | 0.00 | 34.75 | 35.37 | NA | NA | 1.91 | 36.66 | 37.28 | NA | NA | 000
93524 |  | A | Left heart catheterization | 6.95 | 48.31 | 49.66 | NA | NA | 3.45 | 58.71 | 60.06 | NA | NA | 000
93524 | 26 | A | Left heart catheterization | 6.95 | 2.91 | 3.45 | 2.91 | 3.45 | 0.95 | 10.81 | 11.35 | 10.81 | 11.35 | 000
93524 | TC | A | Left heart catheterization | 0.00 | 45.40 | 46.21 | NA | NA | 2.50 | 47.90 | 48.71 | NA | NA | 000
93526 |  | A | Rt & Lt heart catheters | 5.99 | 49.17 | 50.85 | NA | NA | 3.37 | 58.53 | 60.21 | NA | NA | 000
93526 | 26 | A | Rt & Lt heart catheters | 5.99 | 2.52 | 3.37 | 2.52 | 3.37 | 0.80 | 9.31 | 10.16 | 9.31 | 10.16 | 000
93526 | TC | A | Rt & Lt heart catheters | 0.00 | 46.65 | 47.48 | NA | NA | 2.57 | 49.22 | 50.05 | NA | NA | 000
93527 |  | A | Rt & Lt heart catheters | 7.28 | 48.47 | 50.45 | NA | NA | 3.47 | 59.22 | 61.20 | NA | NA | 000
93527 | 26 | A | Rt & Lt heart catheters | 7.28 | 3.07 | 4.24 | 3.07 | 4.24 | 0.97 | 11.32 | 12.49 | 11.32 | 12.49 | 000
93527 | TC | A | Rt & Lt heart catheters | 0.00 | 45.40 | 46.21 | NA | NA | 2.50 | 47.90 | 48.71 | NA | NA | 000
93528 |  | A | Rt & Lt heart catheters | 0.09 | 49.24 | 50.29 | NA | NA | 3.73 | 53.06 | 54.11 | NA | NA | 000
93528 | 26 | A | Rt & Lt heart catheters | 0.09 | 3.84 | 4.08 | 3.84 | 4.08 | 1.23 | 5.16 | 5.40 | 5.16 | 5.40 | 000
93528 | TC | A | Rt & Lt heart catheters | 0.00 | 45.40 | 46.21 | NA | NA | 2.50 | 47.90 | 48.71 | NA | NA | 000
93529 |  | A | Rt, Lt heart catheterization | 4.80 | 47.32 | 48.45 | NA | NA | 3.08 | 55.20 | 56.33 | NA | NA | 000
93529 | 26 | A | Rt, Lt heart catheterization | 4.80 | 1.92 | 2.24 | 1.92 | 2.24 | 0.58 | 7.30 | 7.62 | 7.30 | 7.62 | 000
93529 | TC | A | Rt, Lt heart catheterization | 0.00 | 45.40 | 46.21 | NA | NA | 2.50 | 47.90 | 48.71 | NA | NA | 000
93530 |  | A | Rt heart cath, congenital | 4.23 | 18.00 | 18.86 | NA | NA | 1.45 | 23.68 | 24.54 | NA | NA | 000
93530 | 26 | A | Rt heart cath, congenital | 4.23 | 1.66 | 2.23 | 1.66 | 2.23 | 0.55 | 6.44 | 7.01 | 6.44 | 7.01 | 000
93530 | TC | A | Rt heart cath, congenital | 0.00 | 16.34 | 16.63 | NA | NA | 0.90 | 17.24 | 17.53 | NA | NA | 000
93531 |  | A | R & l heart cath, congenital | 8.35 | 50.10 | 51.55 | NA | NA | 3.70 | 62.15 | 63.60 | NA | NA | 000
93531 | 26 | A | R & l heart cath, congenital | 8.35 | 3.45 | 4.07 | 3.45 | 4.07 | 1.13 | 12.93 | 13.55 | 12.93 | 13.55 | 000
93531 | TC | A | R & l heart cath, congenital | 0.00 | 46.65 | 47.48 | NA | NA | 2.57 | 49.22 | 50.05 | NA | NA | 000
93532 |  | A | R & l heart cath, congenital | 0.10 | 49.31 | 51.08 | NA | NA | 3.92 | 53.33 | 55.10 | NA | NA | 000
93532 | 26 | A | R & l heart cath, congenital | 0.10 | 3.91 | 4.87 | 3.91 | 4.87 | 1.42 | 5.43 | 6.39 | 5.43 | 6.39 | 000
93532 | TC | A | R & l heart cath, congenital | 0.00 | 45.40 | 46.21 | NA | NA | 2.50 | 47.90 | 48.71 | NA | NA | 000
93533 |  | A | R & l heart cath, congenital | 6.70 | 47.91 | 48.89 | NA | NA | 3.40 | 58.01 | 58.99 | NA | NA | 000
93533 | 26 | A | R & l heart cath, congenital | 6.70 | 2.51 | 2.68 | 2.51 | 2.68 | 0.90 | 10.11 | 10.28 | 10.11 | 10.28 | 000
93533 | TC | A | R & l heart cath, congenital | 0.00 | 45.40 | 46.21 | NA | NA | 2.50 | 47.90 | 48.71 | NA | NA | 000
93536 |  | A | Insert circulation assi | 4.85 | NA | NA | 2.08 | 3.01 | 0.65 | NA | NA | 7.58 | 8.51 | 000
93539 |  | A | Injection, cardiac cath | 0.40 | 0.74 | 0.80 | 0.17 | 0.37 | 0.01 | 1.15 | 1.21 | 0.58 | 0.78 | 000
93540 |  | A | Injection, cardiac cath | 0.43 | 0.77 | 0.82 | 0.18 | 0.38 | 0.01 | 1.21 | 1.26 | 0.62 | 0.82 | 000
93541 |  | A | Injection for lung angiogram | 0.29 | NA | NA | 0.12 | 0.18 | 0.01 | NA | NA | 0.42 | 0.48 | 000
93542 |  | A | Injection for heart x-rays | 0.29 | NA | NA | 0.12 | 0.18 | 0.01 | NA | NA | 0.42 | 0.48 | 000
93543 |  | A | Injection for heart x-rays | 0.29 | 0.49 | 0.52 | 0.12 | 0.25 | 0.01 | 0.79 | 0.82 | 0.42 | 0.55 | 000
93544 |  | A | Injection for aortography | 0.25 | 0.47 | 0.51 | 0.11 | 0.24 | 0.01 | 0.73 | 0.77 | 0.37 | 0.50 | 000
93545 |  | A | Inject for coronary x-rays | 0.40 | 0.76 | 0.69 | 0.17 | 0.25 | 0.01 | 1.17 | 1.10 | 0.58 | 0.66 | 000
93555 |  | A | Imaging, cardiac cath | 0.81 | 6.40 | 6.50 | NA | NA | 0.32 | 7.53 | 7.63 | NA | NA | XXX
93555 | 26 | A | Imaging, cardiac cath | 0.81 | 0.34 | 0.33 | 0.34 | 0.33 | 0.03 | 1.18 | 1.17 | 1.18 | 1.17 | XXX
93555 | TC | A | Imaging, cardiac cath | 0.00 | 6.06 | 6.17 | NA | NA | 0.29 | 6.35 | 6.46 | NA | NA | XXX
93556 |  | A | Imaging, cardiac cath | 0.83 | 9.91 | 10.12 | NA | NA | 0.46 | 11.20 | 11.41 | NA | NA | XXX
93556 | 26 | A | Imaging, cardiac cath | 0.83 | 0.35 | 0.39 | 0.35 | 0.39 | 0.03 | 1.21 | 1.25 | 1.21 | 1.25 | XXX
93556 | TC | A | Imaging, cardiac cath | 0.00 | 9.56 | 9.73 | NA | NA | 0.43 | 9.99 | 10.16 | NA | NA | XXX
93561 |  | A | Cardiac output measurement | 0.50 | 0.69 | 0.81 | NA | NA | 0.07 | 1.26 | 1.38 | NA | NA | 000
93561 | 26 | A | Cardiac output measurement | 0.50 | 0.17 | 0.28 | 0.17 | 0.28 | 0.02 | 0.69 | 0.80 | 0.69 | 0.80 | 000
93561 | TC | A | Cardiac output measurement | 0.00 | 0.52 | 0.53 | NA | NA | 0.05 | 0.57 | 0.58 | NA | NA | 000
93562 |  | A | Cardiac output measurement | 0.16 | 0.35 | 0.40 | NA | NA | 0.04 | 0.55 | 0.60 | NA | NA | 000
93562 | 26 | A | Cardiac output measurement | 0.16 | 0.05 | 0.09 | 0.05 | 0.09 | 0.01 | 0.22 | 0.26 | 0.22 | 0.26 | 000
93562 | TC | A | Cardiac output measurement | 0.00 | 0.30 | 0.31 | NA | NA | 0.03 | 0.33 | 0.34 | NA | NA | 000
93571 |  | A | Heart flow reserve measure | 1.80 | 5.33 | 5.36 | NA | NA | 0.27 | 7.40 | 7.43 | NA | NA | ZZZ
93571 | 26 | A | Heart flow reserve measure | 1.80 | 0.71 | 0.71 | 0.71 | 0.71 | 0.06 | 2.57 | 2.57 | 2.57 | 2.57 | ZZZ
93571 | TC | A | Heart flow reserve measure | 0.00 | 4.62 | 4.65 | NA | NA | 0.21 | 4.83 | 4.86 | NA | NA | ZZZ
93572 |  | A | Heart flow reserve measure | 1.44 | 5.19 | 5.22 | NA | NA | 0.15 | 6.78 | 6.81 | NA | NA | ZZZ
93572 | 26 | A | Heart flow reserve measure | 1.44 | 0.57 | 0.57 | 0.57 | 0.57 | 0.04 | 2.05 | 2.05 | 2.05 | 2.05 | ZZZ
93572 | TC | A | Heart flow reserve measure | 0.00 | 4.62 | 4.65 | NA | NA | 0.11 | 4.73 | 4.76 | NA | NA | ZZZ
93600 |  | A | Bundle of His recording | 2.12 | 2.87 | 3.29 | NA | NA | 0.18 | 5.17 | 5.59 | NA | NA | 000
93600 | 26 | A | Bundle of His recording | 2.12 | 0.90 | 1.31 | 0.90 | 1.31 | 0.07 | 3.09 | 3.50 | 3.09 | 3.50 | 000
93600 | TC | A | Bundle of His recording | 0.00 | 1.97 | 1.98 | NA | NA | 0.11 | 2.08 | 2.09 | NA | NA | 000
93602 |  | A | Intra-atrial recording | 2.12 | 2.02 | 2.29 | NA | NA | 0.15 | 4.29 | 4.56 | NA | NA | 000
93602 | 26 | A | Intra-atrial recording | 2.12 | 0.90 | 1.16 | 0.90 | 1.16 | 0.09 | 3.11 | 3.37 | 3.11 | 3.37 | 000
93602 | TC | A | Intra-atrial recording | 0.00 | 1.12 | 1.13 | NA | NA | 0.06 | 1.18 | 1.19 | NA | NA | 000
93603 |  | A | Right ventricular recording | 2.12 | 2.60 | 2.98 | NA | NA | 0.18 | 4.90 | 5.28 | NA | NA | 000
93603 | 26 | A | Right ventricular recording | 2.12 | 0.90 | 1.27 | 0.90 | 1.27 | 0.09 | 3.11 | 3.48 | 3.11 | 3.48 | 000
93603 | TC | A | Right ventricular recording | 0.00 | 1.70 | 1.71 | NA | NA | 0.09 | 1.79 | 1.80 | NA | NA | 000
93607 |  | A | Left ventricular recording | 3.26 | 2.91 | 3.17 | NA | NA | 0.19 | 6.36 | 6.62 | NA | NA | 000
93607 | 26 | A | Left ventricular recording | 3.26 | 1.40 | 1.65 | 1.40 | 1.65 | 0.10 | 4.76 | 5.01 | 4.76 | 5.01 | 000
93607 | TC | A | Left ventricular recording | 0.00 | 1.51 | 1.52 | NA | NA | 0.09 | 1.60 | 1.61 | NA | NA | 000
93609 |  | A | Mapping of tachycardia | 10.07 | 6.99 | 6.99 | NA | NA | 0.46 | 17.52 | 17.52 | NA | NA | 000
93609 | 26 | A | Mapping of tachycardia | 10.07 | 4.24 | 4.22 | 4.24 | 4.22 | 0.32 | 14.63 | 14.61 | 14.63 | 14.61 | 000
93609 | TC | A | Mapping of tachycardia | 0.00 | 2.75 | 2.77 | NA | NA | 0.14 | 2.89 | 2.91 | NA | NA | 000
93610 |  | A | Intra-atrial pacing | 3.02 | 2.64 | 2.96 | NA | NA | 0.19 | 5.85 | 6.17 | NA | NA | 000
93610 | 26 | A | Intra-atrial pacing | 3.02 | 1.27 | 1.58 | 1.27 | 1.58 | 0.11 | 4.40 | 4.71 | 4.40 | 4.71 | 000
93610 | TC | A | Intra-atrial pacing | 0.00 | 1.37 | 1.38 | NA | NA | 0.08 | 1.45 | 1.46 | NA | NA | 000
93612 |  | A | Intraventricular pacing | 3.02 | 2.90 | 3.23 | NA | NA | 0.21 | 6.13 | 6.46 | NA | NA | 000
93612 | 26 | A | Intraventricular pacing | 3.02 | 1.27 | 1.59 | 1.27 | 1.59 | 0.12 | 4.41 | 4.73 | 4.41 | 4.73 | 000
93612 | TC | A | Intraventricular pacing | 0.00 | 1.63 | 1.64 | NA | NA | 0.09 | 1.72 | 1.73 | NA | NA | 000
93615 |  | A | Esophageal recording | 0.99 | 0.65 | 0.66 | NA | NA | 0.08 | 1.72 | 1.73 | NA | NA | 000
93615 | 26 | A | Esophageal recording | 0.99 | 0.33 | 0.34 | 0.33 | 0.34 | 0.06 | 1.38 | 1.39 | 1.38 | 1.39 | 000
93615 | TC | A | Esophageal recording | 0.00 | 0.32 | 0.32 | NA | NA | 0.02 | 0.34 | 0.34 | NA | NA | 000
93616 |  | A | Esophageal recording | 1.49 | 0.71 | 0.98 | NA | NA | 0.10 | 2.30 | 2.57 | NA | NA | 000
93616 | 26 | A | Esophageal recording | 1.49 | 0.39 | 0.66 | 0.39 | 0.66 | 0.08 | 1.96 | 2.23 | 1.96 | 2.23 | 000
93616 | TC | A | Esophageal recording | 0.00 | 0.32 | 0.32 | NA | NA | 0.02 | 0.34 | 0.34 | NA | NA | 000
93618 |  | A | Heart rhythm pacing | 4.26 | 5.82 | 6.66 | NA | NA | 0.33 | 10.41 | 11.25 | NA | NA | 000
93618 | 26 | A | Heart rhythm pacing | 4.26 | 1.81 | 2.63 | 1.81 | 2.63 | 0.12 | 6.19 | 7.01 | 6.19 | 7.01 | 000
93618 | TC | A | Heart rhythm pacing | 0.00 | 4.01 | 4.03 | NA | NA | 0.21 | 4.22 | 4.24 | NA | NA | 000
93619 |  | A | Electrophysiology evaluation | 7.32 | 10.90 | 12.36 | NA | NA | 0.62 | 18.84 | 20.30 | NA | NA | 000
93619 | 26 | A | Electrophysiology evaluation | 7.32 | 3.11 | 4.52 | 3.11 | 4.52 | 0.22 | 10.65 | 12.06 | 10.65 | 12.06 | 000
93619 | TC | A | Electrophysiology evaluation | 0.00 | 7.79 | 7.84 | NA | NA | 0.40 | 8.19 | 8.24 | NA | NA | 000
93620 |  | A | Electrophysiology evaluation | 11.59 | 13.90 | 16.20 | NA | NA | 0.79 | 26.28 | 28.58 | NA | NA | 000
93620 | 26 | A | Electrophysiology evaluation | 11.59 | 4.84 | 7.09 | 4.84 | 7.09 | 0.34 | 16.77 | 19.02 | 16.77 | 19.02 | 000
93620 | TC | A | Electrophysiology evaluation | 0.00 | 9.06 | 9.11 | NA | NA | 0.45 | 9.51 | 9.56 | NA | NA | 000
93621 |  | C | Electrophysiology evaluation | 0.00 | 0.00 | 0.00 | NA | NA | 0.00 | 0.00 | 0.00 | NA | NA | 000
93621 | 26 | A | Electrophysiology evaluation | 12.66 | 5.37 | 7.81 | 5.37 | 7.81 | 0.41 | 18.44 | 20.88 | 18.44 | 20.88 | 000
93621 | TC | C | Electrophysiology evaluation | 0.00 | 0.00 | 0.00 | NA | NA | 0.00 | 0.00 | 0.00 | NA | NA | 000
93622 |  | C | Electrophysiology evaluation | 0.00 | 0.00 | 0.00 | NA | NA | 0.00 | 0.00 | 0.00 | NA | NA | 000
93622 | 26 | A | Electrophysiology evaluation | 12.74 | 5.25 | 7.74 | 5.25 | 7.74 | 0.39 | 18.38 | 20.87 | 18.38 | 20.87 | 000
93622 | TC | C | Electrophysiology evaluation | 0.00 | 0.00 | 0.00 | NA | NA | 0.00 | 0.00 | 0.00 | NA | NA | 000
93623 |  | C | Stimulation, pacing heart | 0.00 | 0.00 | 0.00 | NA | NA | 0.00 | 0.00 | 0.00 | NA | NA | ZZZ
93623 | 26 | A | Stimulation, pacing heart | 2.85 | 1.20 | 1.66 | 1.20 | 1.66 | 0.10 | 4.15 | 4.61 | 4.15 | 4.61 | ZZZ
93623 | TC | C | Stimulation, pacing heart | 0.00 | 0.00 | 0.00 | NA | NA | 0.00 | 0.00 | 0.00 | NA | NA | ZZZ
93624 |  | A | Electrophysiologic study | 4.81 | 4.04 | 4.35 | NA | NA | 0.26 | 9.11 | 9.42 | NA | NA | 000
93624 | 26 | A | Electrophysiologic study | 4.81 | 2.04 | 2.34 | 2.04 | 2.34 | 0.15 | 7.00 | 7.30 | 7.00 | 7.30 | 000
93624 | TC | A | Electrophysiologic study | 0.00 | 2.00 | 2.01 | NA | NA | 0.11 | 2.11 | 2.12 | NA | NA | 000
93631 |  | A | Heart pacing, mapping | 7.60 | 9.37 | 10.19 | NA | NA | 0.95 | 17.92 | 18.74 | NA | NA | 000
93631 | 26 | A | Heart pacing, mapping | 7.60 | 3.15 | 3.93 | 3.15 | 3.93 | 0.42 | 11.17 | 11.95 | 11.17 | 11.95 | 000
93631 | TC | A | Heart pacing, mapping | 0.00 | 6.22 | 6.26 | NA | NA | 0.53 | 6.75 | 6.79 | NA | NA | 000
93640 |  | A | Evaluation heart device | 3.52 | 8.74 | 9.46 | NA | NA | 0.47 | 12.73 | 13.45 | NA | NA | 000
93640 | 26 | A | Evaluation heart device | 3.52 | 1.49 | 2.17 | 1.49 | 2.17 | 0.11 | 5.12 | 5.80 | 5.12 | 5.80 | 000
93640 | TC | A | Evaluation heart device | 0.00 | 7.25 | 7.29 | NA | NA | 0.36 | 7.61 | 7.65 | NA | NA | 000
93641 |  | A | Electrophysiology evaluation | 5.93 | 9.75 | 10.94 | NA | NA | 0.54 | 16.22 | 17.41 | NA | NA | 000
93641 | 26 | A | Electrophysiology evaluation | 5.93 | 2.50 | 3.65 | 2.50 | 3.65 | 0.18 | 8.61 | 9.76 | 8.61 | 9.76 | 000
93641 | TC | A | Electrophysiology evaluation | 0.00 | 7.25 | 7.29 | NA | NA | 0.36 | 7.61 | 7.65 | NA | NA | 000
93642 |  | A | Electrophysiology evaluation | 4.89 | 9.26 | 10.26 | NA | NA | 0.50 | 14.65 | 15.65 | NA | NA | 000
93642 | 26 | A | Electrophysiology evaluation | 4.89 | 2.01 | 2.97 | 2.01 | 2.97 | 0.14 | 7.04 | 8.00 | 7.04 | 8.00 | 000
93642 | TC | A | Electrophysiology evaluation | 0.00 | 7.25 | 7.29 | NA | NA | 0.36 | 7.61 | 7.65 | NA | NA | 000
93650 |  | A | Ablate heart dysrhythm focus | 10.51 | NA | NA | 4.50 | 6.51 | 0.32 | NA | NA | 15.33 | 17.34 | 000
93651 |  | A | Ablate heart dysrhythm focus | 16.25 | NA | NA | 6.86 | 9.98 | 0.50 | NA | NA | 23.61 | 26.73 | 000
93652 |  | A | Ablate heart dysrhythm focus | 17.68 | NA | NA | 7.49 | 10.46 | 0.54 | NA | NA | 25.71 | 28.68 | 000
93660 |  | A | Tilt table evaluation | 1.89 | 0.80 | 0.99 | NA | NA | 0.06 | 2.75 | 2.94 | NA | NA | 000
93660 | 26 | A | Tilt table evaluation | 1.89 | 0.80 | 0.99 | 0.80 | 0.99 | 0.06 | 2.75 | 2.94 | 2.75 | 2.94 | 000
93660 | TC | C | Tilt table evaluation | 0.00 | 0.00 | 0.00 | NA | NA | 0.00 | 0.00 | 0.00 | NA | NA | 000
93720 |  | A | Total body plethysmography | 0.17 | 0.76 | 0.82 | NA | NA | 0.06 | 0.99 | 1.05 | NA | NA | XXX
93721 |  | A | Plethysmography tracing | 0.00 | 0.71 | 0.72 | NA | NA | 0.05 | 0.76 | 0.77 | NA | NA | XXX
93722 |  | A | Plethysmography report | 0.17 | 0.05 | 0.10 | 0.05 | 0.10 | 0.01 | 0.23 | 0.28 | 0.23 | 0.28 | XXX
93724 |  | A | Analyze pacemaker system | 4.89 | 6.09 | 6.37 | NA | NA | 0.35 | 11.33 | 11.61 | NA | NA | 000
93724 | 26 | A | Analyze pacemaker system | 4.89 | 2.08 | 2.34 | 2.08 | 2.34 | 0.14 | 7.11 | 7.37 | 7.11 | 7.37 | 000
93724 | TC | A | Analyze pacemaker system | 0.00 | 4.01 | 4.03 | NA | NA | 0.21 | 4.22 | 4.24 | NA | NA | 000
93727 |  | A | Analyze ilr system | 0.52 | 0.21 | 0.21 | 0.21 | 0.21 | 0.02 | 0.75 | 0.75 | 0.75 | 0.75 | XXX
93731 |  | A | Analyze pacemaker system | 0.45 | 0.69 | 0.73 | NA | NA | 0.05 | 1.19 | 1.23 | NA | NA | XXX
93731 | 26 | A | Analyze pacemaker system | 0.45 | 0.19 | 0.23 | 0.19 | 0.23 | 0.02 | 0.66 | 0.70 | 0.66 | 0.70 | XXX
93731 | TC | A | Analyze pacemaker system | 0.00 | 0.50 | 0.50 | NA | NA | 0.03 | 0.53 | 0.53 | NA | NA | XXX
93732 |  | A | Analyze pacemaker system | 0.92 | 0.90 | 0.92 | NA | NA | 0.06 | 1.88 | 1.90 | NA | NA | XXX
93732 | 26 | A | Analyze pacemaker system | 0.92 | 0.38 | 0.40 | 0.38 | 0.40 | 0.03 | 1.33 | 1.35 | 1.33 | 1.35 | XXX
93732 | TC | A | Analyze pacemaker system | 0.00 | 0.52 | 0.52 | NA | NA | 0.03 | 0.55 | 0.55 | NA | NA | XXX
93733 |  | A | Telephone analy, pacemaker | 0.17 | 0.80 | 0.85 | NA | NA | 0.06 | 1.03 | 1.08 | NA | NA | XXX
93733 | 26 | A | Telephone analy, pacemaker | 0.17 | 0.07 | 0.11 | 0.07 | 0.11 | 0.01 | 0.25 | 0.29 | 0.25 | 0.29 | XXX
93733 | TC | A | Telephone analy, pacemaker | 0.00 | 0.73 | 0.74 | NA | NA | 0.05 | 0.78 | 0.79 | NA | NA | XXX
93734 |  | A | Analyze pacemaker system | 0.38 | 0.51 | 0.56 | NA | NA | 0.03 | 0.92 | 0.97 | NA | NA | XXX
93734 | 26 | A | Analyze pacemaker system | 0.38 | 0.16 | 0.21 | 0.16 | 0.21 | 0.01 | 0.55 | 0.60 | 0.55 | 0.60 | XXX
93734 | TC | A | Analyze pacemaker system | 0.00 | 0.35 | 0.35 | NA | NA | 0.02 | 0.37 | 0.37 | NA | NA | XXX
93735 |  | A | Analyze pacemaker system | 0.74 | 0.76 | 0.80 | NA | NA | 0.06 | 1.56 | 1.60 | NA | NA | XXX
93735 | 26 | A | Analyze pacemaker system | 0.74 | 0.31 | 0.35 | 0.31 | 0.35 | 0.03 | 1.08 | 1.12 | 1.08 | 1.12 | XXX
93735 | TC | A | Analyze pacemaker system | 0.00 | 0.45 | 0.45 | NA | NA | 0.03 | 0.48 | 0.48 | NA | NA | XXX
93736 |  | A | Telephone analy, pacemaker | 0.15 | 0.71 | 0.74 | NA | NA | 0.06 | 0.92 | 0.95 | NA | NA | XXX
93736 | 26 | A | Telephone analy, pacemaker | 0.15 | 0.07 | 0.10 | 0.07 | 0.10 | 0.01 | 0.23 | 0.26 | 0.23 | 0.26 | XXX
93736 | TC | A | Telephone analy, pacemaker | 0.00 | 0.64 | 0.64 | NA | NA | 0.05 | 0.69 | 0.69 | NA | NA | XXX
93737 |  | A | Analyze cardio/defibrillator | 0.45 | 0.69 | 0.72 | NA | NA | 0.04 | 1.18 | 1.21 | NA | NA | XXX
93737 | 26 | A | Analyze cardio/defibrillator | 0.45 | 0.19 | 0.22 | 0.19 | 0.22 | 0.01 | 0.65 | 0.68 | 0.65 | 0.68 | XXX
93737 | TC | A | Analyze cardio/defibrillator | 0.00 | 0.50 | 0.50 | NA | NA | 0.03 | 0.53 | 0.53 | NA | NA | XXX
93738 |  | A | Analyze cardio/defibrillator | 0.92 | 0.91 | 0.92 | NA | NA | 0.06 | 1.89 | 1.90 | NA | NA | XXX
93738 | 26 | A | Analyze cardio/defibrillator | 0.92 | 0.39 | 0.40 | 0.39 | 0.40 | 0.03 | 1.34 | 1.35 | 1.34 | 1.35 | XXX
93738 | TC | A | Analyze cardio/defibrillator | 0.00 | 0.52 | 0.52 | NA | NA | 0.03 | 0.55 | 0.55 | NA | NA | XXX
93740 |  | B | Temperature gradient studies | 0.16 | 0.21 | 0.28 | NA | NA | 0.02 | 0.39 | 0.46 | NA | NA | XXX
93740 | 26 | B | Temperature gradient studies | 0.16 | 0.05 | 0.12 | 0.05 | 0.12 | 0.01 | 0.22 | 0.29 | 0.22 | 0.29 | XXX
93740 | TC | B | Temperature gradient studies | 0.00 | 0.16 | 0.16 | NA | NA | 0.01 | 0.17 | 0.17 | NA | NA | XXX
93741 |  | A | Analyze ht pace device sngl | 0.64 | 1.16 | 1.17 | NA | NA | 0.05 | 1.85 | 1.86 | NA | NA | XXX
93741 | 26 | A | Analyze ht pace device sngl | 0.64 | 0.25 | 0.25 | 0.25 | 0.25 | 0.02 | 0.91 | 0.91 | 0.91 | 0.91 | XXX
93741 | TC | A | Analyze ht pace device sngl | 0.00 | 0.91 | 0.92 | NA | NA | 0.03 | 0.94 | 0.95 | NA | NA | XXX
93742 |  | A | Analyze ht pace device sngl | 0.73 | 1.54 | 1.55 | NA | NA | 0.05 | 2.32 | 2.33 | NA | NA | XXX
93742 | 26 | A | Analyze ht pace device sngl | 0.73 | 0.29 | 0.29 | 0.29 | 0.29 | 0.02 | 1.04 | 1.04 | 1.04 | 1.04 | XXX
93742 | TC | A | Analyze ht pace device sngl | 0.00 | 1.25 | 1.26 | NA | NA | 0.03 | 1.28 | 1.29 | NA | NA | XXX
93743 |  | A | Analyze ht pace device dual | 0.83 | 1.24 | 1.25 | NA | NA | 0.05 | 2.12 | 2.13 | NA | NA | XXX
93743 | 26 | A | Analyze ht pace device dual | 0.83 | 0.33 | 0.33 | 0.33 | 0.33 | 0.02 | 1.18 | 1.18 | 1.18 | 1.18 | XXX
93743 | TC | A | Analyze ht pace device dual | 0.00 | 0.91 | 0.92 | NA | NA | 0.03 | 0.94 | 0.95 | NA | NA | XXX
93744 |  | A | Analyze ht pace device dual | 0.95 | 1.63 | 1.64 | NA | NA | 0.05 | 2.63 | 2.64 | NA | NA | XXX
93744 | 26 | A | Analyze ht pace device dual | 0.95 | 0.38 | 0.38 | 0.38 | 0.38 | 0.02 | 1.35 | 1.35 | 1.35 | 1.35 | XXX
93744 | TC | A | Analyze ht pace device dual | 0.00 | 1.25 | 1.26 | NA | NA | 0.03 | 1.28 | 1.29 | NA | NA | XXX
93760 |  | N | Cephalic thermogram | 0.00 | 0.00 | 0.00 | 0.00 | 0.00 | 0.00 | 0.00 | 0.00 | 0.00 | 0.00 | XXX
93762 |  | N | Peripheral thermogram | 0.00 | 0.00 | 0.00 | 0.00 | 0.00 | 0.00 | 0.00 | 0.00 | 0.00 | 0.00 | XXX
93770 |  | B | Measure venous pressure | 0.16 | 0.08 | 0.11 | NA | NA | 0.02 | 0.26 | 0.29 | NA | NA | XXX
93770 | 26 | B | Measure venous pressure | 0.16 | 0.05 | 0.08 | 0.05 | 0.08 | 0.01 | 0.22 | 0.25 | 0.22 | 0.25 | XXX
93770 | TC | B | Measure venous pressure | 0.00 | 0.03 | 0.03 | NA | NA | 0.01 | 0.04 | 0.04 | NA | NA | XXX
93784 |  | N | Ambulatory BP monitoring | 0.00 | 0.00 | 0.00 | 0.00 | 0.00 | 0.00 | 0.00 | 0.00 | 0.00 | 0.00 | XXX
93786 |  | N | Ambulatory BP recording | 0.00 | 0.00 | 0.00 | 0.00 | 0.00 | 0.00 | 0.00 | 0.00 | 0.00 | 0.00 | XXX
93788 |  | N | Ambulatory BP analysis | 0.00 | 0.00 | 0.00 | 0.00 | 0.00 | 0.00 | 0.00 | 0.00 | 0.00 | 0.00 | XXX
93790 |  | N | Review/report BP recording | 0.00 | 0.00 | 0.00 | 0.00 | 0.00 | 0.00 | 0.00 | 0.00 | 0.00 | 0.00 | XXX
93797 |  | A | Cardiac rehab | 0.18 | 0.34 | 0.31 | 0.07 | 0.11 | 0.01 | 0.53 | 0.50 | 0.26 | 0.30 | 000
93798 |  | A | Cardiac rehab/monitor | 0.28 | 0.43 | 0.45 | 0.11 | 0.21 | 0.01 | 0.72 | 0.74 | 0.40 | 0.50 | 000
93799 |  | C | Cardiovascular procedure | 0.00 | 0.00 | 0.00 | NA | NA | 0.00 | 0.00 | 0.00 | NA | NA | XXX
93799 | 26 | C | Cardiovascular procedure | 0.00 | 0.00 | 0.00 | 0.00 | 0.00 | 0.00 | 0.00 | 0.00 | 0.00 | 0.00 | XXX
93799 | TC | C | Cardiovascular procedure | 0.00 | 0.00 | 0.00 | NA | NA | 0.00 | 0.00 | 0.00 | NA | NA | XXX
93875 |  | A | Extracranial study | 0.22 | 1.19 | 1.25 | NA | NA | 0.10 | 1.51 | 1.57 | NA | NA | XXX
93875 | 26 | A | Extracranial study | 0.22 | 0.08 | 0.13 | 0.08 | 0.13 | 0.01 | 0.31 | 0.36 | 0.31 | 0.36 | XXX
93875 | TC | A | Extracranial study | 0.00 | 1.11 | 1.12 | NA | NA | 0.09 | 1.20 | 1.21 | NA | NA | XXX
93880 |  | A | Extracranial study | 0.60 | 3.98 | 4.05 | NA | NA | 0.34 | 4.92 | 4.99 | NA | NA | XXX
93880 | 26 | A | Extracranial study | 0.60 | 0.22 | 0.27 | 0.22 | 0.27 | 0.04 | 0.86 | 0.91 | 0.86 | 0.91 | XXX
93880 | TC | A | Extracranial study | 0.00 | 3.76 | 3.78 | NA | NA | 0.30 | 4.06 | 4.08 | NA | NA | XXX
93882 |  | A | Extracranial study | 0.40 | 2.65 | 2.70 | NA | NA | 0.22 | 3.27 | 3.32 | NA | NA | XXX
93882 | 26 | A | Extracranial study | 0.40 | 0.15 | 0.18 | 0.15 | 0.18 | 0.03 | 0.58 | 0.61 | 0.58 | 0.61 | XXX
93882 | TC | A | Extracranial study | 0.00 | 2.50 | 2.52 | NA | NA | 0.19 | 2.69 | 2.71 | NA | NA | XXX
93886 |  | A | Intracranial study | 0.94 | 4.64 | 4.69 | NA | NA | 0.38 | 5.96 | 6.01 | NA | NA | XXX
93886 | 26 | A | Intracranial study | 0.94 | 0.38 | 0.40 | 0.38 | 0.40 | 0.05 | 1.37 | 1.39 | 1.37 | 1.39 | XXX
93886 | TC | A | Intracranial study | 0.00 | 4.26 | 4.29 | NA | NA | 0.33 | 4.59 | 4.62 | NA | NA | XXX
93888 |  | A | Intracranial study | 0.62 | 3.08 | 3.12 | NA | NA | 0.27 | 3.97 | 4.01 | NA | NA | XXX
93888 | 26 | A | Intracranial study | 0.62 | 0.24 | 0.26 | 0.24 | 0.26 | 0.04 | 0.90 | 0.92 | 0.90 | 0.92 | XXX
93888 | TC | A | Intracranial study | 0.00 | 2.84 | 2.86 | NA | NA | 0.23 | 3.07 | 3.09 | NA | NA | XXX
93922 |  | A | Extremity study | 0.25 | 1.25 | 1.31 | NA | NA | 0.13 | 1.63 | 1.69 | NA | NA | XXX
93922 | 26 | A | Extremity study | 0.25 | 0.09 | 0.14 | 0.09 | 0.14 | 0.02 | 0.36 | 0.41 | 0.36 | 0.41 | XXX
93922 | TC | A | Extremity study | 0.00 | 1.16 | 1.17 | NA | NA | 0.11 | 1.27 | 1.28 | NA | NA | XXX
93923 |  | A | Extremity study | 0.45 | 2.38 | 2.48 | NA | NA | 0.23 | 3.06 | 3.16 | NA | NA | XXX
93923 | 26 | A | Extremity study | 0.45 | 0.17 | 0.26 | 0.17 | 0.26 | 0.04 | 0.66 | 0.75 | 0.66 | 0.75 | XXX
93923 | TC | A | Extremity study | 0.00 | 2.21 | 2.22 | NA | NA | 0.19 | 2.40 | 2.41 | NA | NA | XXX
93924 |  | A | Extremity study | 0.50 | 2.57 | 2.70 | NA | NA | 0.27 | 3.34 | 3.47 | NA | NA | XXX
93924 | 26 | A | Extremity study | 0.50 | 0.18 | 0.29 | 0.18 | 0.29 | 0.05 | 0.73 | 0.84 | 0.73 | 0.84 | XXX
93924 | TC | A | Extremity study | 0.00 | 2.39 | 2.41 | NA | NA | 0.22 | 2.61 | 2.63 | NA | NA | XXX
93925 |  | A | Lower extremity study | 0.58 | 3.99 | 4.06 | NA | NA | 0.34 | 4.91 | 4.98 | NA | NA | XXX
93925 | 26 | A | Lower extremity study | 0.58 | 0.21 | 0.26 | 0.21 | 0.26 | 0.04 | 0.83 | 0.88 | 0.83 | 0.88 | XXX
93925 | TC | A | Lower extremity study | 0.00 | 3.78 | 3.80 | NA | NA | 0.30 | 4.08 | 4.10 | NA | NA | XXX
93926 |  | A | Lower extremity study | 0.39 | 2.66 | 2.72 | NA | NA | 0.23 | 3.28 | 3.34 | NA | NA | XXX
93926 | 26 | A | Lower extremity study | 0.39 | 0.14 | 0.18 | 0.14 | 0.18 | 0.03 | 0.56 | 0.60 | 0.56 | 0.60 | XXX
93926 | TC | A | Lower extremity study | 0.00 | 2.52 | 2.54 | NA | NA | 0.20 | 2.72 | 2.74 | NA | NA | XXX
93930 |  | A | Upper extremity study | 0.46 | 4.19 | 4.27 | NA | NA | 0.35 | 5.00 | 5.08 | NA | NA | XXX
93930 | 26 | A | Upper extremity study | 0.46 | 0.17 | 0.23 | 0.17 | 0.23 | 0.03 | 0.66 | 0.72 | 0.66 | 0.72 | XXX
93930 | TC | A | Upper extremity study | 0.00 | 4.02 | 4.04 | NA | NA | 0.32 | 4.34 | 4.36 | NA | NA | XXX
93931 |  | A | Upper extremity study | 0.31 | 2.78 | 2.84 | NA | NA | 0.23 | 3.32 | 3.38 | NA | NA | XXX
93931 | 26 | A | Upper extremity study | 0.31 | 0.11 | 0.15 | 0.11 | 0.15 | 0.02 | 0.44 | 0.48 | 0.44 | 0.48 | XXX
93931 | TC | A | Upper extremity study | 0.00 | 2.67 | 2.69 | NA | NA | 0.21 | 2.88 | 2.90 | NA | NA | XXX
93965 |  | A | Extremity study | 0.35 | 1.23 | 1.31 | NA | NA | 0.12 | 1.70 | 1.78 | NA | NA | XXX
93965 | 26 | A | Extremity study | 0.35 | 0.13 | 0.20 | 0.13 | 0.20 | 0.02 | 0.50 | 0.57 | 0.50 | 0.57 | XXX
93965 | TC | A | Extremity study | 0.00 | 1.10 | 1.11 | NA | NA | 0.10 | 1.20 | 1.21 | NA | NA | XXX
93970 |  | A | Extremity study | 0.68 | 4.42 | 4.50 | NA | NA | 0.39 | 5.49 | 5.57 | NA | NA | XXX
93970 | 26 | A | Extremity study | 0.68 | 0.25 | 0.30 | 0.25 | 0.30 | 0.05 | 0.98 | 1.03 | 0.98 | 1.03 | XXX
93970 | TC | A | Extremity study | 0.00 | 4.17 | 4.20 | NA | NA | 0.34 | 4.51 | 4.54 | NA | NA | XXX
93971 |  | A | Extremity study | 0.45 | 2.94 | 2.99 | NA | NA | 0.26 | 3.65 | 3.70 | NA | NA | XXX
93971 | 26 | A | Extremity study | 0.45 | 0.16 | 0.19 | 0.16 | 0.19 | 0.03 | 0.64 | 0.67 | 0.64 | 0.67 | XXX
93971 | TC | A | Extremity study | 0.00 | 2.78 | 2.80 | NA | NA | 0.23 | 3.01 | 3.03 | NA | NA | XXX
93975 |  | A | Vascular study | 1.80 | 5.39 | 5.38 | NA | NA | 0.47 | 7.66 | 7.65 | NA | NA | XXX
93975 | 26 | A | Vascular study | 1.80 | 0.64 | 0.60 | 0.64 | 0.60 | 0.10 | 2.54 | 2.50 | 2.54 | 2.50 | XXX
93975 | TC | A | Vascular study | 0.00 | 4.75 | 4.78 | NA | NA | 0.37 | 5.12 | 5.15 | NA | NA | XXX
93976 |  | A | Vascular study | 1.21 | 3.60 | 3.59 | NA | NA | 0.32 | 5.13 | 5.12 | NA | NA | XXX
93976 | 26 | A | Vascular study | 1.21 | 0.43 | 0.40 | 0.43 | 0.40 | 0.06 | 1.70 | 1.67 | 1.70 | 1.67 | XXX
93976 | TC | A | Vascular study | 0.00 | 3.17 | 3.19 | NA | NA | 0.26 | 3.43 | 3.45 | NA | NA | XXX
93978 |  | A | Vascular study | 0.65 | 4.13 | 4.20 | NA | NA | 0.37 | 5.15 | 5.22 | NA | NA | XXX
93978 | 26 | A | Vascular study | 0.65 | 0.24 | 0.29 | 0.24 | 0.29 | 0.05 | 0.94 | 0.99 | 0.94 | 0.99 | XXX
93978 | TC | A | Vascular study | 0.00 | 3.89 | 3.91 | NA | NA | 0.32 | 4.21 | 4.23 | NA | NA | XXX
93979 |  | A | Vascular study | 0.44 | 2.76 | 2.81 | NA | NA | 0.24 | 3.44 | 3.49 | NA | NA | XXX
93979 | 26 | A | Vascular study | 0.44 | 0.17 | 0.20 | 0.17 | 0.20 | 0.03 | 0.64 | 0.67 | 0.64 | 0.67 | XXX
93979 | TC | A | Vascular study | 0.00 | 2.59 | 2.61 | NA | NA | 0.21 | 2.80 | 2.82 | NA | NA | XXX
93980 |  | A | Penile vascular study | 1.25 | 3.96 | 4.10 | NA | NA | 0.37 | 5.58 | 5.72 | NA | NA | XXX
93980 | 26 | A | Penile vascular study | 1.25 | 0.43 | 0.55 | 0.43 | 0.55 | 0.08 | 1.76 | 1.88 | 1.76 | 1.88 | XXX
93980 | TC | A | Penile vascular study | 0.00 | 3.53 | 3.55 | NA | NA | 0.29 | 3.82 | 3.84 | NA | NA | XXX
93981 |  | A | Penile vascular study | 0.44 | 3.40 | 3.49 | NA | NA | 0.30 | 4.14 | 4.23 | NA | NA | XXX
93981 | 26 | A | Penile vascular study | 0.44 | 0.15 | 0.22 | 0.15 | 0.22 | 0.03 | 0.62 | 0.69 | 0.62 | 0.69 | XXX
93981 | TC | A | Penile vascular study | 0.00 | 3.25 | 3.27 | NA | NA | 0.27 | 3.52 | 3.54 | NA | NA | XXX
93990 |  | A | Doppler flow testing | 0.25 | 2.62 | 2.67 | NA | NA | 0.21 | 3.08 | 3.13 | NA | NA | XXX
93990 | 26 | A | Doppler flow testing | 0.25 | 0.10 | 0.13 | 0.10 | 0.13 | 0.01 | 0.36 | 0.39 | 0.36 | 0.39 | XXX
93990 | TC | A | Doppler flow testing | 0.00 | 2.52 | 2.54 | NA | NA | 0.20 | 2.72 | 2.74 | NA | NA | XXX
94010 |  | A | Breathing capacity test | 0.17 | 0.47 | 0.53 | NA | NA | 0.03 | 0.67 | 0.73 | NA | NA | XXX
94010 | 26 | A | Breathing capacity test | 0.17 | 0.05 | 0.11 | 0.05 | 0.11 | 0.01 | 0.23 | 0.29 | 0.23 | 0.29 | XXX
94010 | TC | A | Breathing capacity test | 0.00 | 0.42 | 0.42 | NA | NA | 0.02 | 0.44 | 0.44 | NA | NA | XXX
94014 |  | A | Patient recorded spirometry | 0.52 | 0.83 | 0.78 | NA | NA | 0.03 | 1.38 | 1.33 | NA | NA | XXX
94015 |  | A | Patient recorded spirometry | 0.00 | 0.62 | 0.57 | NA | NA | 0.01 | 0.63 | 0.58 | NA | NA | XXX
94016 |  | A | Review patient spirometry | 0.52 | 0.21 | 0.21 | 0.21 | 0.21 | 0.02 | 0.75 | 0.75 | 0.75 | 0.75 | XXX
94060 |  | A | Evaluation of wheezing | 0.31 | 1.04 | 1.12 | NA | NA | 0.06 | 1.41 | 1.49 | NA | NA | XXX
94060 | 26 | A | Evaluation of wheezing | 0.31 | 0.09 | 0.16 | 0.09 | 0.16 | 0.01 | 0.41 | 0.48 | 0.41 | 0.48 | XXX
94060 | TC | A | Evaluation of wheezing | 0.00 | 0.95 | 0.96 | NA | NA | 0.05 | 1.00 | 1.01 | NA | NA | XXX
94070 |  | A | Evaluation of wheezing | 0.60 | 1.66 | 1.73 | NA | NA | 0.10 | 2.36 | 2.43 | NA | NA | XXX
94070 | 26 | A | Evaluation of wheezing | 0.60 | 0.18 | 0.24 | 0.18 | 0.24 | 0.02 | 0.80 | 0.86 | 0.80 | 0.86 | XXX
94070 | TC | A | Evaluation of wheezing | 0.00 | 1.48 | 1.49 | NA | NA | 0.08 | 1.56 | 1.57 | NA | NA | XXX
94150 |  | B | Vital capacity test | 0.07 | 0.12 | 0.14 | NA | NA | 0.02 | 0.21 | 0.23 | NA | NA | XXX
94150 | 26 | B | Vital capacity test | 0.07 | 0.03 | 0.05 | 0.03 | 0.05 | 0.01 | 0.11 | 0.13 | 0.11 | 0.13 | XXX
94150 | TC | B | Vital capacity test | 0.00 | 0.09 | 0.09 | NA | NA | 0.01 | 0.10 | 0.10 | NA | NA | XXX
94200 |  | A | Lung function test (MBC/MVV) | 0.11 | 0.28 | 0.31 | NA | NA | 0.03 | 0.42 | 0.45 | NA | NA | XXX
94200 | 26 | A | Lung function test (MBC/MVV) | 0.11 | 0.03 | 0.06 | 0.03 | 0.06 | 0.01 | 0.15 | 0.18 | 0.15 | 0.18 | XXX
94200 | TC | A | Lung function test (MBC/MVV) | 0.00 | 0.25 | 0.25 | NA | NA | 0.02 | 0.27 | 0.27 | NA | NA | XXX
94240 |  | A | Residual lung capacity | 0.26 | 0.77 | 0.82 | NA | NA | 0.05 | 1.08 | 1.13 | NA | NA | XXX
94240 | 26 | A | Residual lung capacity | 0.26 | 0.08 | 0.12 | 0.08 | 0.12 | 0.01 | 0.35 | 0.39 | 0.35 | 0.39 | XXX
94240 | TC | A | Residual lung capacity | 0.00 | 0.69 | 0.70 | NA | NA | 0.04 | 0.73 | 0.74 | NA | NA | XXX
94250 |  | A | Expired gas collection | 0.11 | 0.17 | 0.20 | NA | NA | 0.02 | 0.30 | 0.33 | NA | NA | XXX
94250 | 26 | A | Expired gas collection | 0.11 | 0.03 | 0.06 | 0.03 | 0.06 | 0.01 | 0.15 | 0.18 | 0.15 | 0.18 | XXX
94250 | TC | A | Expired gas collection | 0.00 | 0.14 | 0.14 | NA | NA | 0.01 | 0.15 | 0.15 | NA | NA | XXX
94260 |  | A | Thoracic gas volume | 0.13 | 0.59 | 0.62 | NA | NA | 0.04 | 0.76 | 0.79 | NA | NA | XXX
94260 | 26 | A | Thoracic gas volume | 0.13 | 0.04 | 0.07 | 0.04 | 0.07 | 0.01 | 0.18 | 0.21 | 0.18 | 0.21 | XXX
94260 | TC | A | Thoracic gas volume | 0.00 | 0.55 | 0.55 | NA | NA | 0.03 | 0.58 | 0.58 | NA | NA | XXX
94350 |  | A | Lung nitrogen washout curve | 0.26 | 0.63 | 0.67 | NA | NA | 0.04 | 0.93 | 0.97 | NA | NA | XXX
94350 | 26 | A | Lung nitrogen washout curve | 0.26 | 0.08 | 0.12 | 0.08 | 0.12 | 0.01 | 0.35 | 0.39 | 0.35 | 0.39 | XXX
94350 | TC | A | Lung nitrogen washout curve | 0.00 | 0.55 | 0.55 | NA | NA | 0.03 | 0.58 | 0.58 | NA | NA | XXX
94360 |  | A | Measure airflow resistance | 0.26 | 1.06 | 1.10 | NA | NA | 0.06 | 1.38 | 1.42 | NA | NA | XXX
94360 | 26 | A | Measure airflow resistance | 0.26 | 0.08 | 0.11 | 0.08 | 0.11 | 0.01 | 0.35 | 0.38 | 0.35 | 0.38 | XXX
94360 | TC | A | Measure airflow resistance | 0.00 | 0.98 | 0.99 | NA | NA | 0.05 | 1.03 | 1.04 | NA | NA | XXX
94370 |  | A | Breath airway closing volume | 0.26 | 0.35 | 0.37 | NA | NA | 0.03 | 0.64 | 0.66 | NA | NA | XXX
94370 | 26 | A | Breath airway closing volume | 0.26 | 0.08 | 0.10 | 0.08 | 0.10 | 0.01 | 0.35 | 0.37 | 0.35 | 0.37 | XXX
94370 | TC | A | Breath airway closing volume | 0.00 | 0.27 | 0.27 | NA | NA | 0.02 | 0.29 | 0.29 | NA | NA | XXX
94375 |  | A | Respiratory flow volume loop | 0.31 | 0.58 | 0.62 | NA | NA | 0.03 | 0.92 | 0.96 | NA | NA | XXX
94375 | 26 | A | Respiratory flow volume loop | 0.31 | 0.09 | 0.13 | 0.09 | 0.13 | 0.01 | 0.41 | 0.45 | 0.41 | 0.45 | XXX
94375 | TC | A | Respiratory flow volume loop | 0.00 | 0.49 | 0.49 | NA | NA | 0.02 | 0.51 | 0.51 | NA | NA | XXX
94400 |  | A | CO2 breathing response curve | 0.40 | 0.45 | 0.55 | NA | NA | 0.07 | 0.92 | 1.02 | NA | NA | XXX
94400 | 26 | A | CO2 breathing response curve | 0.40 | 0.13 | 0.23 | 0.13 | 0.23 | 0.02 | 0.55 | 0.65 | 0.55 | 0.65 | XXX
94400 | TC | A | CO2 breathing response curve | 0.00 | 0.32 | 0.32 | NA | NA | 0.05 | 0.37 | 0.37 | NA | NA | XXX
94450 |  | A | Hypoxia response curve | 0.40 | 0.52 | 0.55 | NA | NA | 0.03 | 0.95 | 0.98 | NA | NA | XXX
94450 | 26 | A | Hypoxia response curve | 0.40 | 0.13 | 0.16 | 0.13 | 0.16 | 0.01 | 0.54 | 0.57 | 0.54 | 0.57 | XXX
94450 | TC | A | Hypoxia response curve | 0.00 | 0.39 | 0.39 | NA | NA | 0.02 | 0.41 | 0.41 | NA | NA | XXX
94620 |  | A | Pulmonary stress test/simple | 0.64 | 1.64 | 1.79 | NA | NA | 0.11 | 2.39 | 2.54 | NA | NA | XXX
94620 | 26 | A | Pulmonary stress test/simple | 0.64 | 0.20 | 0.34 | 0.20 | 0.34 | 0.03 | 0.87 | 1.01 | 0.87 | 1.01 | XXX
94620 | TC | A | Pulmonary stress test/simple | 0.00 | 1.44 | 1.45 | NA | NA | 0.08 | 1.52 | 1.53 | NA | NA | XXX
94621 |  | A | Pulm stress test/complex | 1.42 | 1.88 | 1.97 | NA | NA | 0.11 | 3.41 | 3.50 | NA | NA | XXX
94621 | 26 | A | Pulm stress test/complex | 1.42 | 0.44 | 0.52 | 0.44 | 0.52 | 0.03 | 1.89 | 1.97 | 1.89 | 1.97 | XXX
94621 | TC | A | Pulm stress test/complex | 0.00 | 1.44 | 1.45 | NA | NA | 0.08 | 1.52 | 1.53 | NA | NA | XXX
94640 |  | A | Airway inhalation treatment | 0.00 | 0.59 | 0.55 | 0.19 | 0.25 | 0.02 | 0.61 | 0.57 | 0.21 | 0.27 | XXX
94642 |  | C | Aerosol inhalation treatment | 0.00 | 0.00 | 0.00 | 0.00 | 0.00 | 0.00 | 0.00 | 0.00 | 0.00 | 0.00 | XXX
94650 |  | A | Pressure breathing (IPPB) | 0.00 | 0.56 | 0.52 | 0.18 | 0.24 | 0.02 | 0.58 | 0.54 | 0.20 | 0.26 | XXX
94651 |  | A | Pressure breathing (IPPB) | 0.00 | 0.51 | 0.48 | 0.17 | 0.23 | 0.02 | 0.53 | 0.50 | 0.19 | 0.25 | XXX
94652 |  | A | Pressure breathing (IPPB) | 0.00 | 0.60 | 0.56 | 0.19 | 0.25 | 0.06 | 0.66 | 0.62 | 0.25 | 0.31 | XXX
94656 |  | A | Initial ventilator mgmt | 1.22 | NA | NA | 0.33 | 0.56 | 0.06 | NA | NA | 1.61 | 1.84 | XXX
94657 |  | A | Continued ventilator mgmt | 0.83 | NA | NA | 0.25 | 0.36 | 0.03 | NA | NA | 1.11 | 1.22 | XXX
94660 |  | A | Pos airway pressure, CPAP | 0.76 | 0.57 | 0.62 | 0.23 | 0.37 | 0.03 | 1.36 | 1.41 | 1.02 | 1.16 | XXX
94662 |  | A | Neg press ventilation, cnp | 0.76 | NA | NA | 0.24 | 0.26 | 0.02 | NA | NA | 1.02 | 1.04 | XXX
94664 |  | A | Aerosol or vapor inhalations | 0.00 | 0.43 | 0.46 | 0.14 | 0.24 | 0.03 | 0.46 | 0.49 | 0.17 | 0.27 | XXX
94665 |  | A | Aerosol or vapor inhalations | 0.00 | 0.46 | 0.47 | 0.15 | 0.24 | 0.04 | 0.50 | 0.51 | 0.19 | 0.28 | XXX
94667 |  | A | Chest wall manipulation | 0.00 | 0.60 | 0.60 | 0.19 | 0.29 | 0.04 | 0.64 | 0.64 | 0.23 | 0.33 | XXX
94668 |  | A | Chest wall manipulation | 0.00 | 0.59 | 0.54 | 0.18 | 0.23 | 0.02 | 0.61 | 0.56 | 0.20 | 0.25 | XXX
94680 |  | A | Exhaled air analysis, o2 | 0.26 | 0.61 | 0.67 | NA | NA | 0.06 | 0.93 | 0.99 | NA | NA | XXX
94680 | 26 | A | Exhaled air analysis, o2 | 0.26 | 0.09 | 0.15 | 0.09 | 0.15 | 0.01 | 0.36 | 0.42 | 0.36 | 0.42 | XXX
94680 | TC | A | Exhaled air analysis, o2 | 0.00 | 0.52 | 0.52 | NA | NA | 0.05 | 0.57 | 0.57 | NA | NA | XXX
94681 |  | A | Exhaled air analysis, o2/co2 | 0.20 | 1.46 | 1.52 | NA | NA | 0.11 | 1.77 | 1.83 | NA | NA | XXX
94681 | 26 | A | Exhaled air analysis, o2/co2 | 0.20 | 0.06 | 0.11 | 0.06 | 0.11 | 0.01 | 0.27 | 0.32 | 0.27 | 0.32 | XXX
94681 | TC | A | Exhaled air analysis, o2/co2 | 0.00 | 1.40 | 1.41 | NA | NA | 0.10 | 1.50 | 1.51 | NA | NA | XXX
94690 |  | A | Exhaled air analysis | 0.07 | 0.56 | 0.57 | NA | NA | 0.04 | 0.67 | 0.68 | NA | NA | XXX
94690 | 26 | A | Exhaled air analysis | 0.07 | 0.02 | 0.03 | 0.02 | 0.03 | 0.01 | 0.10 | 0.11 | 0.10 | 0.11 | XXX
94690 | TC | A | Exhaled air analysis | 0.00 | 0.54 | 0.54 | NA | NA | 0.03 | 0.57 | 0.57 | NA | NA | XXX
94720 |  | A | Monoxide diffusing capacity | 0.26 | 0.93 | 0.98 | NA | NA | 0.06 | 1.25 | 1.30 | NA | NA | XXX
94720 | 26 | A | Monoxide diffusing capacity | 0.26 | 0.08 | 0.12 | 0.08 | 0.12 | 0.01 | 0.35 | 0.39 | 0.35 | 0.39 | XXX
94720 | TC | A | Monoxide diffusing capacity | 0.00 | 0.85 | 0.86 | NA | NA | 0.05 | 0.90 | 0.91 | NA | NA | XXX
94725 |  | A | Membrane diffusion capacity | 0.26 | 1.84 | 1.88 | NA | NA | 0.11 | 2.21 | 2.25 | NA | NA | XXX
94725 | 26 | A | Membrane diffusion capacity | 0.26 | 0.08 | 0.11 | 0.08 | 0.11 | 0.01 | 0.35 | 0.38 | 0.35 | 0.38 | XXX
94725 | TC | A | Membrane diffusion capacity | 0.00 | 1.76 | 1.77 | NA | NA | 0.10 | 1.86 | 1.87 | NA | NA | XXX
94750 |  | A | Pulmonary compliance study | 0.23 | 0.66 | 0.71 | NA | NA | 0.04 | 0.93 | 0.98 | NA | NA | XXX
94750 | 26 | A | Pulmonary compliance study | 0.23 | 0.07 | 0.12 | 0.07 | 0.12 | 0.01 | 0.31 | 0.36 | 0.31 | 0.36 | XXX
94750 | TC | A | Pulmonary compliance study | 0.00 | 0.59 | 0.59 | NA | NA | 0.03 | 0.62 | 0.62 | NA | NA | XXX
94760 |  | T | Measure blood oxygen level | 0.00 | 0.07 | 0.12 | 0.02 | 0.08 | 0.02 | 0.09 | 0.14 | 0.04 | 0.10 | XXX
94761 |  | T | Measure blood oxygen level | 0.00 | 0.14 | 0.28 | 0.05 | 0.21 | 0.05 | 0.19 | 0.33 | 0.10 | 0.26 | XXX
94762 |  | A | Measure blood oxygen level | 0.00 | 0.11 | 0.38 | NA | NA | 0.08 | 0.19 | 0.46 | NA | NA | XXX
94770 |  | A | Exhaled carbon dioxide test | 0.15 | 0.34 | 0.36 | NA | NA | 0.07 | 0.56 | 0.58 | NA | NA | XXX
94770 | 26 | A | Exhaled carbon dioxide test | 0.15 | 0.04 | 0.06 | 0.04 | 0.06 | 0.01 | 0.20 | 0.22 | 0.20 | 0.22 | XXX
94770 | TC | A | Exhaled carbon dioxide test | 0.00 | 0.30 | 0.30 | NA | NA | 0.06 | 0.36 | 0.36 | NA | NA | XXX
94772 |  | C | Breath recording, infant | 0.00 | 0.00 | 0.00 | NA | NA | 0.00 | 0.00 | 0.00 | NA | NA | XXX
94772 | 26 | C | Breath recording, infant | 0.00 | 0.00 | 0.00 | 0.00 | 0.00 | 0.00 | 0.00 | 0.00 | 0.00 | 0.00 | XXX
94772 | TC | C | Breath recording, infant | 0.00 | 0.00 | 0.00 | NA | NA | 0.00 | 0.00 | 0.00 | NA | NA | XXX
94799 |  | C | Pulmonary service/procedure | 0.00 | 0.00 | 0.00 | NA | NA | 0.00 | 0.00 | 0.00 | NA | NA | XXX
94799 | 26 | C | Pulmonary service/procedure | 0.00 | 0.00 | 0.00 | 0.00 | 0.00 | 0.00 | 0.00 | 0.00 | 0.00 | 0.00 | XXX
94799 | TC | C | Pulmonary service/procedure | 0.00 | 0.00 | 0.00 | NA | NA | 0.00 | 0.00 | 0.00 | NA | NA | XXX
95004 |  | A | Allergy skin tests | 0.00 | 0.10 | 0.10 | 0.10 | 0.10 | 0.01 | 0.11 | 0.11 | 0.11 | 0.11 | XXX
95010 |  | A | Sensitivity skin tests | 0.15 | 0.39 | 0.32 | 0.06 | 0.08 | 0.01 | 0.55 | 0.48 | 0.22 | 0.24 | XXX
95015 |  | A | Sensitivity skin tests | 0.15 | 0.41 | 0.34 | 0.07 | 0.08 | 0.01 | 0.57 | 0.50 | 0.23 | 0.24 | XXX
95024 |  | A | Allergy skin tests | 0.00 | 0.15 | 0.15 | 0.15 | 0.15 | 0.01 | 0.16 | 0.16 | 0.16 | 0.16 | XXX
95027 |  | A | Skin end point titration | 0.00 | 0.15 | 0.15 | NA | NA | 0.01 | 0.16 | 0.16 | NA | NA | XXX
95028 |  | A | Allergy skin tests | 0.00 | 0.23 | 0.23 | NA | NA | 0.01 | 0.24 | 0.24 | NA | NA | XXX
95044 |  | A | Allergy patch tests | 0.00 | 0.21 | 0.21 | 0.21 | 0.21 | 0.01 | 0.22 | 0.22 | 0.22 | 0.22 | XXX
95052 |  | A | Photo patch test | 0.00 | 0.25 | 0.25 | 0.25 | 0.25 | 0.01 | 0.26 | 0.26 | 0.26 | 0.26 | XXX
95056 |  | A | Photosensitivity tests | 0.00 | 0.18 | 0.18 | 0.18 | 0.18 | 0.01 | 0.19 | 0.19 | 0.19 | 0.19 | XXX
95060 |  | A | Eye allergy tests | 0.00 | 0.35 | 0.35 | NA | NA | 0.02 | 0.37 | 0.37 | NA | NA | XXX
95065 |  | A | Nose allergy test | 0.00 | 0.21 | 0.21 | NA | NA | 0.01 | 0.22 | 0.22 | NA | NA | XXX
95070 |  | A | Bronchial allergy tests | 0.00 | 2.31 | 2.32 | NA | NA | 0.02 | 2.33 | 2.34 | NA | NA | XXX
95071 |  | A | Bronchial allergy tests | 0.00 | 2.95 | 2.97 | NA | NA | 0.02 | 2.97 | 2.99 | NA | NA | XXX
95075 |  | A | Ingestion challenge test | 0.95 | 0.80 | 1.14 | 0.39 | 0.83 | 0.03 | 1.78 | 2.12 | 1.37 | 1.81 | XXX
95078 |  | A | Provocative testing | 0.00 | 0.25 | 0.25 | NA | NA | 0.02 | 0.27 | 0.27 | NA | NA | XXX
95115 |  | A | Immunotherapy, one injection | 0.00 | 0.39 | 0.39 | 0.39 | 0.39 | 0.02 | 0.41 | 0.41 | 0.41 | 0.41 | 000
95117 |  | A | Immunotherapy injections | 0.00 | 0.51 | 0.51 | 0.51 | 0.51 | 0.02 | 0.53 | 0.53 | 0.53 | 0.53 | 000
95120 |  | I | Immunotherapy, one injection | 0.00 | 0.00 | 0.00 | 0.00 | 0.00 | 0.00 | 0.00 | 0.00 | 0.00 | 0.00 | XXX
95125 |  | I | Immunotherapy, many antigens | 0.00 | 0.00 | 0.00 | 0.00 | 0.00 | 0.00 | 0.00 | 0.00 | 0.00 | 0.00 | XXX
95130 |  | I | Immunotherapy, insect venom | 0.00 | 0.00 | 0.00 | 0.00 | 0.00 | 0.00 | 0.00 | 0.00 | 0.00 | 0.00 | XXX
95131 |  | I | Immunotherapy, insect venoms | 0.00 | 0.00 | 0.00 | 0.00 | 0.00 | 0.00 | 0.00 | 0.00 | 0.00 | 0.00 | XXX
95132 |  | I | Immunotherapy, insect venoms | 0.00 | 0.00 | 0.00 | 0.00 | 0.00 | 0.00 | 0.00 | 0.00 | 0.00 | 0.00 | XXX
95133 |  | I | Immunotherapy, insect venoms | 0.00 | 0.00 | 0.00 | 0.00 | 0.00 | 0.00 | 0.00 | 0.00 | 0.00 | 0.00 | XXX
95134 |  | I | Immunotherapy, insect venoms | 0.00 | 0.00 | 0.00 | 0.00 | 0.00 | 0.00 | 0.00 | 0.00 | 0.00 | 0.00 | XXX
95144 |  | A | Antigen therapy services | 0.06 | 0.22 | 0.20 | 0.03 | 0.06 | 0.01 | 0.29 | 0.27 | 0.10 | 0.13 | 000
95145 |  | A | Antigen therapy services | 0.06 | 0.45 | 0.43 | 0.03 | 0.12 | 0.01 | 0.52 | 0.50 | 0.10 | 0.19 | 000
95146 |  | A | Antigen therapy services | 0.06 | 0.60 | 0.62 | 0.03 | 0.19 | 0.01 | 0.67 | 0.69 | 0.10 | 0.26 | 000
95147 |  | A | Antigen therapy services | 0.06 | 0.74 | 0.80 | 0.02 | 0.26 | 0.01 | 0.81 | 0.87 | 0.09 | 0.33 | 000
95148 |  | A | Antigen therapy services | 0.06 | 0.75 | 0.81 | 0.02 | 0.26 | 0.01 | 0.82 | 0.88 | 0.09 | 0.33 | 000
95149 |  | A | Antigen therapy services | 0.06 | 0.92 | 1.00 | 0.02 | 0.33 | 0.01 | 0.99 | 1.07 | 0.09 | 0.40 | 000
95165 |  | A | Antigen therapy services | 0.06 | 0.23 | 0.20 | 0.02 | 0.04 | 0.01 | 0.30 | 0.27 | 0.09 | 0.11 | 000
95170 |  | A | Antigen therapy services | 0.06 | 0.23 | 0.27 | 0.02 | 0.11 | 0.01 | 0.30 | 0.34 | 0.09 | 0.18 | 000
95180 |  | A | Rapid desensitization | 2.01 | 1.50 | 1.16 | 0.87 | 0.69 | 0.06 | 3.57 | 3.23 | 2.94 | 2.76 | 000
95199 |  | C | Allergy immunology services | 0.00 | 0.00 | 0.00 | 0.00 | 0.00 | 0.00 | 0.00 | 0.00 | 0.00 | 0.00 | 000
95805 |  | A | Multiple sleep latency test | 1.88 | 9.74 | 8.80 | NA | NA | 0.35 | 11.97 | 11.03 | NA | NA | XXX
95805 | 26 | A | Multiple sleep latency test | 1.88 | 0.66 | 0.65 | 0.66 | 0.65 | 0.06 | 2.60 | 2.59 | 2.60 | 2.59 | XXX
95805 | TC | A | Multiple sleep latency test | 0.00 | 9.08 | 8.15 | NA | NA | 0.29 | 9.37 | 8.44 | NA | NA | XXX
95806 |  | A | Sleep study, unattended | 1.66 | 2.21 | 3.60 | NA | NA | 0.32 | 4.19 | 5.58 | NA | NA | XXX
95806 | 26 | A | Sleep study, unattended | 1.66 | 0.53 | 1.06 | 0.53 | 1.06 | 0.05 | 2.24 | 2.77 | 2.24 | 2.77 | XXX
95806 | TC | A | Sleep study, unattended | 0.00 | 1.68 | 2.54 | NA | NA | 0.27 | 1.95 | 2.81 | NA | NA | XXX
95807 |  | A | Sleep study, attended | 1.66 | 7.01 | 7.47 | NA | NA | 0.41 | 9.08 | 9.54 | NA | NA | XXX
95807 | 26 | A | Sleep study, attended | 1.66 | 0.53 | 0.90 | 0.53 | 0.90 | 0.05 | 2.24 | 2.61 | 2.24 | 2.61 | XXX
95807 | TC | A | Sleep study, attended | 0.00 | 6.48 | 6.57 | NA | NA | 0.36 | 6.84 | 6.93 | NA | NA | XXX
95808 |  | A | Polysomnography, 1-3 | 2.65 | 10.89 | 10.55 | NA | NA | 0.45 | 13.99 | 13.65 | NA | NA | XXX
95808 | 26 | A | Polysomnography, 1-3 | 2.65 | 0.92 | 1.36 | 0.92 | 1.36 | 0.09 | 3.66 | 4.10 | 3.66 | 4.10 | XXX
95808 | TC | A | Polysomnography, 1-3 | 0.00 | 9.97 | 9.19 | NA | NA | 0.36 | 10.33 | 9.55 | NA | NA | XXX
95810 |  | A | Polysomnography, 4 or more | 3.53 | 17.47 | 15.48 | NA | NA | 0.47 | 21.47 | 19.48 | NA | NA | XXX
95810 | 26 | A | Polysomnography, 4 or more | 3.53 | 1.18 | 1.55 | 1.18 | 1.55 | 0.11 | 4.82 | 5.19 | 4.82 | 19 | XXX
95810 | TC | A | Polysomnography, 4 or more | 0.00 | 16.29 | 13.93 | NA | NA | 0.36 | 16.65 | 14.29 | NA | NA | XXX
95811 |  | A | Polysomnography w/cpap | 3.80 | 14.75 | 13.56 | NA | NA | 0.49 | 19.04 | 17.85 | NA | NA | XXX
95811 | 26 | A | Polysomnography w/cpap | 3.80 | 1.28 | 1.66 | 1.28 | 1.66 | 0.12 | 5.20 | 5.58 | 5.20 | 5.58 | XXX
95811 | TC | A | Polysomnography w/cpap | 0.00 | 13.47 | 11.90 | NA | NA | 0.37 | 13.84 | 12.27 | NA | NA | XXX
95812 |  | A | Electroencephalogram (EEG) | 1.08 | 3.00 | 2.75 | NA | NA | 0.13 | 4.21 | 3.96 | NA | NA | XXX
95812 | 26 | A | Electroencephalogram (EEG) | 1.08 | 0.45 | 0.47 | 0.45 | 0.47 | 0.04 | 1.57 | 1.59 | 1.57 | 1.59 | XXX
95812 | TC | A | Electroencephalogram (EEG) | 0.00 | 2.55 | 2.28 | NA | NA | 0.09 | 2.64 | 2.37 | NA | NA | XXX
95813 |  | A | Electroencephalogram (EEG) | 1.73 | 4.41 | 3.82 | NA | NA | 0.16 | 6.30 | 5.71 | NA | NA | XXX
95813 | 26 | A | Electroencephalogram (EEG) | 1.73 | 0.72 | 0.68 | 0.72 | 0.68 | 0.07 | 2.52 | 2.48 | 2.52 | 2.48 | XXX
95813 | TC | A | Electroencephalogram (EEG) | 0.00 | 3.69 | 3.14 | NA | NA | 0.09 | 3.78 | 3.23 | NA | NA | XXX
95816 |  | A | Electroencephalogram (EEG) | 1.08 | 3.06 | 2.71 | NA | NA | 0.12 | 4.26 | 3.91 | NA | NA | XXX
95816 | 26 | A | Electroencephalogram (EEG) | 1.08 | 0.46 | 0.42 | 0.46 | 0.42 | 0.04 | 1.58 | 1.54 | 1.58 | 1.54 | XXX
95816 | TC | A | Electroencephalogram (EEG) | 0.00 | 2.60 | 2.29 | NA | NA | 0.08 | 2.68 | 2.37 | NA | NA | XXX
95819 |  | A | Electroencephalogram (EEG) | 1.08 | 3.24 | 2.92 | NA | NA | 0.12 | 4.44 | 4.12 | NA | NA | XXX
95819 | 26 | A | Electroencephalogram (EEG) | 1.08 | 0.46 | 0.48 | 0.46 | 0.48 | 0.04 | 1.58 | 1.60 | 1.58 | 1.60 | XXX
95819 | TC | A | Electroencephalogram (EEG) | 0.00 | 2.78 | 2.44 | NA | NA | 0.08 | 2.86 | 2.52 | NA | NA | XXX
95822 |  | A | Sleep electroencephalogram | 1.08 | 2.07 | 2.18 | NA | NA | 0.15 | 3.30 | 3.41 | NA | NA | XXX
95822 | 26 | A | Sleep electroencephalogram | 1.08 | 0.46 | 0.50 | 0.46 | 0.50 | 0.04 | 1.58 | 1.62 | 1.58 | 1.62 | XXX
95822 | TC | A | Sleep electroencephalogram | 0.00 | 1.61 | 1.68 | NA | NA | 0.11 | 1.72 | 1.79 | NA | NA | XXX
95824 |  | A | Electroencephalography | 0.74 | 0.69 | 1.12 | NA | NA | 0.05 | 1.48 | 1.91 | NA | NA | XXX
95824 | 26 | A | Electroencephalography | 0.74 | 0.32 | 0.40 | 0.32 | 0.40 | 0.03 | 1.09 | 1.17 | 1.09 | 1.17 | XXX
95824 | TC | A | Electroencephalography | 0.00 | 0.37 | 0.72 | NA | NA | 0.02 | 0.39 | 0.74 | NA | NA | XXX
95827 |  | A | Night electroencephalogram | 1.08 | 2.71 | 2.86 | NA | NA | 0.16 | 3.95 | 4.10 | NA | NA | XXX
95827 | 26 | A | Night electroencephalogram | 1.08 | 0.39 | 0.53 | 0.39 | 0.53 | 0.04 | 1.51 | 1.65 | 1.51 | 1.65 | XXX
95827 | TC | A | Night electroencephalogram | 0.00 | 2.32 | 2.33 | NA | NA | 0.12 | 2.44 | 2.45 | NA | NA | XXX
95829 |  | A | Surgery electrocorticogram | 6.21 | 7.49 | 5.78 | NA | NA | 0.26 | 13.96 | 12.25 | NA | NA | XXX
95829 | 26 | A | Surgery electrocorticogram | 6.21 | 2.48 | 1.98 | 2.48 | 1.98 | 0.24 | 8.93 | 8.43 | 8.93 | 8.43 | XXX
95829 | TC | A | Surgery electrocorticogram | 0.00 | 5.01 | 3.80 | NA | NA | 0.02 | 5.03 | 3.82 | NA | NA | XXX
95830 |  | A | Insert electrodes for EEG | 1.70 | 2.80 | 2.31 | 0.74 | 0.77 | 0.07 | 4.57 | 4.08 | 2.51 | 2.54 | XXX
95831 |  | A | Limb muscle testing, manual | 0.28 | 0.38 | 0.36 | 0.14 | 0.18 | 0.01 | 0.67 | 0.65 | 0.43 | 0.47 | XXX
95832 |  | A | Hand muscle testing, manual | 0.29 | 0.33 | 0.32 | 0.14 | 0.17 | 0.01 | 0.63 | 0.62 | 0.44 | 0.47 | XXX
95833 |  | A | Body muscle testing, manual | 0.47 | 0.49 | 0.47 | 0.23 | 0.28 | 0.02 | 0.98 | 0.96 | 0.72 | 0.77 | XXX
95834 |  | A | Body muscle testing, manual | 0.60 | 0.58 | 0.60 | 0.29 | 0.38 | 0.02 | 1.20 | 1.22 | 0.91 | 1.00 | XXX
95851 |  | A | Range of motion measurements | 0.16 | 0.43 | 0.39 | 0.08 | 0.13 | 0.01 | 0.60 | 0.56 | 0.25 | 0.30 | XXX
95852 |  | A | Range of motion measurements | 0.11 | 0.36 | 0.31 | 0.06 | 0.09 | 0.01 | 0.48 | 0.43 | 0.18 | 0.21 | XXX
95857 |  | A | Tensilon test | 0.53 | 0.57 | 0.56 | 0.23 | 0.31 | 0.02 | 1.12 | 1.11 | 0.78 | 0.86 | XXX
95858 |  | A | Tensilon test & myogram | 1.56 | 1.07 | 1.08 | NA | NA | 0.09 | 2.72 | 2.73 | NA | NA | XXX
95858 | 26 | A | Tensilon test & myogram | 1.56 | 0.67 | 0.68 | 0.67 | 0.68 | 0.06 | 2.29 | 2.30 | 2.29 | 2.30 | XXX
95858 | TC | A | Tensilon test & myogram | 0.00 | 0.40 | 0.40 | NA | NA | 0.03 | 0.43 | 0.43 | NA | NA | XXX
95860 |  | A | Muscle test, one limb | 0.96 | 0.81 | 0.90 | NA | NA | 0.06 | 1.83 | 1.92 | NA | NA | XXX
95860 | 26 | A | Muscle test, one limb | 0.96 | 0.43 | 0.52 | 0.43 | 0.52 | 0.04 | 1.43 | 1.52 | 1.43 | 1.52 | XXX
95860 | TC | A | Muscle test, one limb | 0.00 | 0.38 | 0.38 | NA | NA | 0.02 | 0.40 | 0.40 | NA | NA | XXX
95861 |  | A | Muscle test, two limbs | 1.54 | 1.43 | 1.61 | NA | NA | 0.11 | 3.08 | 3.26 | NA | NA | XXX
95861 | 26 | A | Muscle test, two limbs | 1.54 | 0.69 | 0.86 | 0.69 | 0.86 | 0.06 | 2.29 | 2.46 | 2.29 | 2.46 | XXX
95861 | TC | A | Muscle test, two limbs | 0.00 | 0.74 | 0.75 | NA | NA | 0.05 | 0.79 | 0.80 | NA | NA | XXX
95863 |  | A | Muscle test, 3 limbs | 1.87 | 1.76 | 1.95 | NA | NA | 0.12 | 3.75 | 3.94 | NA | NA | XXX
95863 | 26 | A | Muscle test, 3 limbs | 1.87 | 0.81 | 0.99 | 0.81 | 0.99 | 0.07 | 2.75 | 2.93 | 2.75 | 2.93 | XXX
95863 | TC | A | Muscle test, 3 limbs | 0.00 | 0.95 | 0.96 | NA | NA | 0.05 | 1.00 | 1.01 | NA | NA | XXX
95864 |  | A | Muscle test, 4 limbs | 1.99 | 2.68 | 2.95 | NA | NA | 0.18 | 4.85 | 5.12 | NA | NA | XXX
95864 | 26 | A | Muscle test, 4 limbs | 1.99 | 0.88 | 1.14 | 0.88 | 1.14 | 0.08 | 2.95 | 3.21 | 2.95 | 3.21 | XXX
95864 | TC | A | Muscle test, 4 limbs | 0.00 | 1.80 | 1.81 | NA | NA | 0.10 | 1.90 | 1.91 | NA | NA | XXX
95867 |  | A | Muscle test, head or neck | 0.79 | 0.93 | 1.00 | NA | NA | 0.06 | 1.78 | 1.85 | NA | NA | XXX
95867 | 26 | A | Muscle test, head or neck | 0.79 | 0.34 | 0.41 | 0.34 | 0.41 | 0.03 | 1.16 | 1.23 | 1.16 | 1.23 | XXX
95867 | TC | A | Muscle test, head or neck | 0.00 | 0.59 | 0.59 | NA | NA | 0.03 | 0.62 | 0.62 | NA | NA | XXX
95868 |  | A | Muscle test, head or neck | 1.18 | 1.20 | 1.43 | NA | NA | 0.09 | 2.47 | 2.70 | NA | NA | XXX
95868 | 26 | A | Muscle test, head or neck | 1.18 | 0.50 | 0.72 | 0.50 | 0.72 | 0.05 | 1.73 | 1.95 | 1.73 | 1.95 | XXX
95868 | TC | A | Muscle test, head or neck | 0.00 | 0.70 | 0.71 | NA | NA | 0.04 | 0.74 | 0.75 | NA | NA | XXX
95869 |  | A | Muscle test, thor paraspinal | 0.37 | 0.38 | 0.43 | NA | NA | 0.03 | 0.78 | 0.83 | NA | NA | XXX
95869 | 26 | A | Muscle test, thor paraspinal | 0.37 | 0.16 | 0.21 | 0.16 | 0.21 | 0.01 | 0.54 | 0.59 | 0.54 | 0.59 | XXX
95869 | TC | A | Muscle test, thor paraspinal | 0.00 | 0.22 | 0.22 | NA | NA | 0.02 | 0.24 | 0.24 | NA | NA | XXX
95870 |  | A | Muscle test, nonparaspinal | 0.37 | 0.38 | 0.43 | NA | NA | 0.03 | 0.78 | 0.83 | NA | NA | XXX
95870 | 26 | A | Muscle test, nonparaspinal | 0.37 | 0.16 | 0.21 | 0.16 | 0.21 | 0.01 | 0.54 | 0.59 | 0.54 | 0.59 | XXX
95870 | TC | A | Muscle test, nonparaspinal | 0.00 | 0.22 | 0.22 | NA | NA | 0.02 | 0.24 | 0.24 | NA | NA | XXX
95872 |  | A | Muscle test, one fiber | 1.50 | 1.25 | 1.28 | NA | NA | 0.10 | 2.85 | 2.88 | NA | NA | XXX
95872 | 26 | A | Muscle test, one fiber | 1.50 | 0.64 | 0.67 | 0.64 | 0.67 | 0.06 | 2.20 | 2.23 | 2.20 | 2.23 | XXX
95872 | TC | A | Muscle test, one fiber | 0.00 | 0.61 | 0.61 | NA | NA | 0.04 | 0.65 | 0.65 | NA | NA | XXX
95875 |  | A | Limb exercise test | 1.34 | 1.25 | 1.10 | NA | NA | 0.10 | 2.69 | 2.54 | NA | NA | XXX
95875 | 26 | A | Limb exercise test | 1.34 | 0.57 | 0.49 | 0.57 | 0.49 | 0.05 | 1.96 | 1.88 | 1.96 | 1.88 | XXX
95875 | TC | A | Limb exercise test | 0.00 | 0.68 | 0.61 | NA | NA | 0.05 | 0.73 | 0.66 | NA | NA | XXX
95900 |  | A | Motor nerve conduction test | 0.42 | 0.47 | 0.52 | NA | NA | 0.04 | 0.93 | 0.98 | NA | NA | XXX
95900 | 26 | A | Motor nerve conduction test | 0.42 | 0.19 | 0.24 | 0.19 | 0.24 | 0.02 | 0.63 | 0.68 | 0.63 | 0.68 | XXX
95900 | TC | A | Motor nerve conduction test | 0.00 | 0.28 | 0.28 | NA | NA | 0.02 | 0.30 | 0.30 | NA | NA | XXX
95903 |  | A | Motor nerve conduction test | 0.60 | 0.51 | 0.54 | NA | NA | 0.04 | 1.15 | 1.18 | NA | NA | XXX
95903 | 26 | A | Motor nerve conduction test | 0.60 | 0.26 | 0.29 | 0.26 | 0.29 | 0.02 | 0.88 | 0.91 | 0.88 | 0.91 | XXX
95903 | TC | A | Motor nerve conduction test | 0.00 | 0.25 | 0.25 | NA | NA | 0.02 | 0.27 | 0.27 | NA | NA | XXX
95904 |  | A | Sense/mixed n conduction tst | 0.34 | 0.37 | 0.43 | NA | NA | 0.03 | 0.74 | 0.80 | NA | NA | XXX
95904 | 26 | A | Sense/mixed n conduction tst | 0.34 | 0.15 | 0.21 | 0.15 | 0.21 | 0.01 | 0.50 | 0.56 | 0.50 | 0.56 | XXX
95904 | TC | A | Sense/mixed n conduction tst | 0.00 | 0.22 | 0.22 | NA | NA | 0.02 | 0.24 | 0.24 | NA | NA | XXX
95920 |  | A | Intraop nerve test add-on | 2.11 | 2.26 | 2.42 | NA | NA | 0.15 | 4.52 | 4.68 | NA | NA | ZZZ
95920 | 26 | A | Intraop nerve test add-on | 2.11 | 0.94 | 1.09 | 0.94 | 1.09 | 0.09 | 3.14 | 3.29 | 3.14 | 3.29 | ZZZ
95920 | TC | A | Intraop nerve test add-on | 0.00 | 1.32 | 1.33 | NA | NA | 0.06 | 1.38 | 1.39 | NA | NA | ZZZ
95921 |  | A | Autonomic nerv function test | 0.90 | 0.71 | 0.72 | NA | NA | 0.05 | 1.66 | 1.67 | NA | NA | XXX
95921 | 26 | A | Autonomic nerv function test | 0.90 | 0.33 | 0.34 | 0.33 | 0.34 | 0.03 | 1.26 | 1.27 | 1.26 | 1.27 | XXX
95921 | TC | A | Autonomic nerv function test | 0.00 | 0.38 | 0.38 | NA | NA | 0.02 | 0.40 | 0.40 | NA | NA | XXX
95922 |  | A | Autonomic nerv function test | 0.96 | 0.78 | 0.77 | NA | NA | 0.06 | 1.80 | 1.79 | NA | NA | XXX
95922 | 26 | A | Autonomic nerv function test | 0.96 | 0.40 | 0.39 | 0.40 | 0.39 | 0.04 | 1.40 | 1.39 | 1.40 | 1.39 | XXX
95922 | TC | A | Autonomic nerv function test | 0.00 | 0.38 | 0.38 | NA | NA | 0.02 | 0.40 | 0.40 | NA | NA | XXX
95923 |  | A | Autonomic nerv function test | 0.90 | 2.84 | 2.31 | NA | NA | 0.06 | 3.80 | 3.27 | NA | NA | XXX
95923 | 26 | A | Autonomic nerv function test | 0.90 | 0.38 | 0.37 | 0.38 | 0.37 | 0.04 | 1.32 | 1.31 | 1.32 | 1.31 | XXX
95923 | TC | A | Autonomic nerv function test | 0.00 | 2.46 | 1.94 | NA | NA | 0.02 | 2.48 | 1.96 | NA | NA | XXX
95925 |  | A | Somatosensory testing | 0.54 | 1.15 | 1.28 | NA | NA | 0.07 | 1.76 | 1.89 | NA | NA | XXX
95925 | 26 | A | Somatosensory testing | 0.54 | 0.23 | 0.35 | 0.23 | 0.35 | 0.02 | 0.79 | 0.91 | 0.79 | 0.91 | XXX
95925 | TC | A | Somatosensory testing | 0.00 | 0.92 | 0.93 | NA | NA | 0.05 | 0.97 | 0.98 | NA | NA | XXX
95926 |  | A | Somatosensory testing | 0.54 | 1.16 | 1.28 | NA | NA | 0.07 | 1.77 | 1.89 | NA | NA | XXX
95926 | 26 | A | Somatosensory testing | 0.54 | 0.24 | 0.35 | 0.24 | 0.35 | 0.02 | 0.80 | 0.91 | 0.80 | 0.91 | XXX
95926 | TC | A | Somatosensory testing | 0.00 | 0.92 | 0.93 | NA | NA | 0.05 | 0.97 | 0.98 | NA | NA | XXX
95927 |  | A | Somatosensory testing | 0.54 | 1.18 | 1.30 | NA | NA | 0.07 | 1.79 | 1.91 | NA | NA | XXX
95927 | 26 | A | Somatosensory testing | 0.54 | 0.26 | 0.37 | 0.26 | 0.37 | 0.02 | 0.82 | 0.93 | 0.82 | 0.93 | XXX
95927 | TC | A | Somatosensory testing | 0.00 | 0.92 | 0.93 | NA | NA | 0.05 | 0.97 | 0.98 | NA | NA | XXX
95930 |  | A | Visual evoked potential test | 0.35 | 0.94 | 0.93 | NA | NA | 0.02 | 1.31 | 1.30 | NA | NA | XXX
95930 | 26 | A | Visual evoked potential test | 0.35 | 0.15 | 0.27 | 0.15 | 0.27 | 0.01 | 0.51 | 0.63 | 0.51 | 0.63 | XXX
95930 | TC | A | Visual evoked potential test | 0.00 | 0.79 | 0.66 | NA | NA | 0.01 | 0.80 | 0.67 | NA | NA | XXX
95933 |  | A | Blink reflex test | 0.59 | 1.02 | 1.11 | NA | NA | 0.07 | 1.68 | 1.77 | NA | NA | XXX
95933 | 26 | A | Blink reflex test | 0.59 | 0.23 | 0.31 | 0.23 | 0.31 | 0.02 | 0.84 | 0.92 | 0.84 | 0.92 | XXX
95933 | TC | A | Blink reflex test | 0.00 | 0.79 | 0.80 | NA | NA | 0.05 | 0.84 | 0.85 | NA | NA | XXX
95934 |  | A | H-reflex test | 0.51 | 0.45 | 0.49 | NA | NA | 0.04 | 1.00 | 1.04 | NA | NA | XXX
95934 | 26 | A | H-reflex test | 0.51 | 0.23 | 0.27 | 0.23 | 0.27 | 0.02 | 0.76 | 0.80 | 0.76 | 0.80 | XXX
95934 | TC | A | H-reflex test | 0.00 | 0.22 | 0.22 | NA | NA | 0.02 | 0.24 | 0.24 | NA | NA | XXX
95936 |  | A | H-reflex test | 0.55 | 0.46 | 0.49 | NA | NA | 0.04 | 1.05 | 1.08 | NA | NA | XXX
95936 | 26 | A | H-reflex test | 0.55 | 0.24 | 0.27 | 0.24 | 0.27 | 0.02 | 0.81 | 0.84 | 0.81 | 0.84 | XXX
95936 | TC | A | H-reflex test | 0.00 | 0.22 | 0.22 | NA | NA | 0.02 | 0.24 | 0.24 | NA | NA | XXX
95937 |  | A | Neuromuscular junction test | 0.65 | 0.60 | 0.66 | NA | NA | 0.05 | 1.30 | 1.36 | NA | NA | XXX
95937 | 26 | A | Neuromuscular junction test | 0.65 | 0.26 | 0.32 | 0.26 | 0.32 | 0.03 | 0.94 | 1.00 | 0.94 | 1.00 | XXX
95937 | TC | A | Neuromuscular junction test | 0.00 | 0.34 | 0.34 | NA | NA | 0.02 | 0.36 | 0.36 | NA | NA | XXX
95950 |  | A | Ambulatory eeg monitoring | 1.51 | 3.47 | 4.57 | NA | NA | 0.44 | 5.42 | 6.52 | NA | NA | XXX
95950 | 26 | A | Ambulatory eeg monitoring | 1.51 | 0.63 | 0.80 | 0.63 | 0.80 | 0.07 | 2.21 | 2.38 | 2.21 | 2.38 | XXX
95950 | TC | A | Ambulatory eeg monitoring | 0.00 | 2.84 | 3.77 | NA | NA | 0.37 | 3.21 | 4.14 | NA | NA | XXX
95951 |  | A | EEG monitoring/videorecord | 0.06 | 21.00 | 18.15 | NA | NA | 0.63 | 21.69 | 18.84 | NA | NA | XXX
95951 | 26 | A | EEG monitoring/videorecord | 0.06 | 2.55 | 2.32 | 2.55 | 2.32 | 0.24 | 2.85 | 2.62 | 2.85 | 2.62 | XXX
95951 | TC | A | EEG monitoring/videorecord | 0.00 | 18.45 | 15.83 | NA | NA | 0.39 | 18.84 | 16.22 | NA | NA | XXX
95953 |  | A | EEG monitoring/computer | 3.08 | 7.70 | 7.74 | NA | NA | 0.49 | 11.27 | 11.31 | NA | NA | XXX
95953 | 26 | A | EEG monitoring/computer | 3.08 | 1.30 | 1.30 | 1.30 | 1.30 | 0.12 | 4.50 | 4.50 | 4.50 | 4.50 | XXX
95953 | TC | A | EEG monitoring/computer | 0.00 | 6.40 | 6.44 | NA | NA | 0.37 | 6.77 | 6.81 | NA | NA | XXX
95954 |  | A | EEG monitoring/giving drugs | 2.45 | 3.66 | 3.37 | NA | NA | 0.15 | 6.26 | 5.97 | NA | NA | XXX
95954 | 26 | A | EEG monitoring/giving drugs | 2.45 | 1.06 | 1.30 | 1.06 | 1.30 | 0.10 | 3.61 | 3.85 | 3.61 | 3.85 | XXX
95954 | TC | A | EEG monitoring/giving drugs | 0.00 | 2.60 | 2.07 | NA | NA | 0.05 | 2.65 | 2.12 | NA | NA | XXX
95955 |  | A | EEG during surgery | 1.01 | 2.35 | 2.55 | NA | NA | 0.19 | 3.55 | 3.75 | NA | NA | XXX
95955 | 26 | A | EEG during surgery | 1.01 | 0.37 | 0.56 | 0.37 | 0.56 | 0.05 | 1.43 | 1.62 | 1.43 | 1.62 | XXX
95955 | TC | A | EEG during surgery | 0.00 | 1.98 | 1.99 | NA | NA | 0.14 | 2.12 | 2.13 | NA | NA | XXX
95956 |  | A | Eeg monitoring, cable/radio | 3.08 | 23.17 | 19.43 | NA | NA | 0.49 | 26.74 | 23.00 | NA | NA | XXX
95956 | 26 | A | Eeg monitoring, cable/radio | 3.08 | 1.32 | 1.40 | 1.32 | 1.40 | 0.12 | 4.52 | 4.60 | 4.52 | 4.60 | XXX
95956 | TC | A | Eeg monitoring, cable/radio | 0.00 | 21.85 | 18.03 | NA | NA | 0.37 | 22.22 | 18.40 | NA | NA | XXX
95957 |  | A | EEG digital analysis | 1.98 | 2.57 | 2.54 | NA | NA | 0.18 | 4.73 | 4.70 | NA | NA | XXX
95957 | 26 | A | EEG digital analysis | 1.98 | 0.85 | 0.81 | 0.85 | 0.81 | 0.08 | 2.91 | 2.87 | 2.91 | 2.87 | XXX
95957 | TC | A | EEG digital analysis | 0.00 | 1.72 | 1.73 | NA | NA | 0.10 | 1.82 | 1.83 | NA | NA | XXX
95958 |  | A | EEG monitoring/function test | 4.25 | 3.51 | 3.96 | NA | NA | 0.27 | 8.03 | 8.48 | NA | NA | XXX
95958 | 26 | A | EEG monitoring/function test | 4.25 | 1.75 | 2.19 | 1.75 | 2.19 | 0.16 | 6.16 | 6.60 | 6.16 | 6.60 | XXX
95958 | TC | A | EEG monitoring/function test | 0.00 | 1.76 | 1.77 | NA | NA | 0.11 | 1.87 | 1.88 | NA | NA | XXX
95961 |  | A | Electrode stimulation, brain | 2.97 | 2.64 | 2.71 | NA | NA | 0.17 | 5.78 | 5.85 | NA | NA | XXX
95961 | 26 | A | Electrode stimulation, brain | 2.97 | 1.32 | 1.38 | 1.32 | 1.38 | 0.11 | 4.40 | 4.46 | 4.40 | 4.46 | XXX
95961 | TC | A | Electrode stimulation, brain | 0.00 | 1.32 | 1.33 | NA | NA | 0.06 | 1.38 | 1.39 | NA | NA | XXX
95962 |  | A | Electrode stim, brain add-on | 3.21 | 2.72 | 2.77 | NA | NA | 0.19 | 6.12 | 6.17 | NA | NA | ZZZ
95962 | 26 | A | Electrode stim, brain add-on | 3.21 | 1.40 | 1.44 | 1.40 | 1.44 | 0.13 | 4.74 | 4.78 | 4.74 | 4.78 | ZZZ
95962 | TC | A | Electrode stim, brain add-on | 0.00 | 1.32 | 1.33 | NA | NA | 0.06 | 1.38 | 1.39 | NA | NA | ZZZ
95970 |  | A | Analyze neurostim, no prog | 0.45 | 0.15 | 0.15 | 0.13 | 0.13 | 0.03 | 0.63 | 0.63 | 0.61 | 0.61 | XXX
95971 |  | A | Analyze neurostim, simple | 0.78 | 0.28 | 0.28 | 0.23 | 0.23 | 0.05 | 1.11 | 1.11 | 1.06 | 1.06 | XXX
95972 |  | A | Analyze neurostim, complex | 1.50 | 0.54 | 0.54 | 0.45 | 0.45 | 0.09 | 2.13 | 2.13 | 2.04 | 2.04 | XXX
95973 |  | A | Analyze neurostim, complex | 0.92 | 0.33 | 0.33 | 0.28 | 0.28 | 0.06 | 1.31 | 1.31 | 1.26 | 1.26 | ZZZ
95974 |  | A | Cranial neurostim, complex | 0.03 | 1.07 | 1.07 | 0.95 | 0.95 | 0.16 | 1.26 | 1.26 | 1.14 | 1.14 | XXX
95975 |  | A | Cranial neurostim, complex | 1.70 | 0.62 | 0.62 | 0.58 | 0.58 | 0.09 | 2.41 | 2.41 | 2.37 | 2.37 | ZZZ
95999 |  | C | Neurological procedure | 0.00 | 0.00 | 0.00 | 0.00 | 0.00 | 0.00 | 0.00 | 0.00 | 0.00 | 0.00 | XXX
96100 |  | A | Psychological testing | 0.00 | 1.78 | 1.79 | 1.78 | 1.79 | 0.15 | 1.93 | 1.94 | 1.93 | 1.94 | XXX
96105 |  | A | Assessment of aphasia | 0.00 | 1.78 | 1.79 | 1.78 | 1.79 | 0.15 | 1.93 | 1.94 | 1.93 | 1.94 | XXX
96110 |  | C | Developmental test, lim | 0.00 | 0.00 | 0.00 | 0.00 | 0.00 | 0.00 | 0.00 | 0.00 | 0.00 | 0.00 | XXX
96111 |  | A | Developmental test, extend | 0.00 | 1.78 | 1.79 | 1.78 | 1.79 | 0.15 | 1.93 | 1.94 | 1.93 | 1.94 | XXX
96115 |  | A | Neurobehavior status exam | 0.00 | 1.78 | 1.79 | 1.78 | 1.79 | 0.15 | 1.93 | 1.94 | 1.93 | 1.94 | XXX
96117 |  | A | Neuropsych test battery | 0.00 | 1.78 | 1.79 | 1.78 | 1.79 | 0.15 | 1.93 | 1.94 | 1.93 | 1.94 | XXX
96400 |  | A | Chemotherapy, sc/im | 0.00 | 0.14 | 0.14 | 0.14 | 0.14 | 0.01 | 0.15 | 0.15 | 0.15 | 0.15 | XXX
96405 |  | A | Intralesional chemo admin | 0.52 | 1.72 | 1.39 | 0.24 | 0.28 | 0.02 | 2.26 | 1.93 | 0.78 | 0.82 | 000
96406 |  | A | Intralesional chemo admin | 0.80 | 2.20 | 1.80 | 0.26 | 0.35 | 0.02 | 3.02 | 2.62 | 1.08 | 1.17 | 000
96408 |  | A | Chemotherapy, push technique | 0.00 | 0.98 | 0.99 | 0.98 | 0.99 | 0.05 | 1.03 | 1.04 | 1.03 | 1.04 | XXX
96410 |  | A | Chemotherapy,infusion method | 0.00 | 1.56 | 1.57 | 1.56 | 1.57 | 0.07 | 1.63 | 1.64 | 1.63 | 1.64 | XXX
96412 |  | A | Chemo, infuse method add-on | 0.00 | 1.16 | 1.17 | 1.16 | 1.17 | 0.06 | 1.22 | 1.23 | 1.22 | 1.23 | ZZZ
96414 |  | A | Chemo, infuse method add-on | 0.00 | 1.35 | 1.36 | 1.35 | 1.36 | 0.07 | 1.42 | 1.43 | 1.42 | 1.43 | XXX
96420 |  | A | Chemotherapy, push technique | 0.00 | 1.26 | 1.27 | 1.26 | 1.27 | 0.07 | 1.33 | 1.34 | 1.33 | 1.34 | XXX
96422 |  | A | Chemotherapy,infusion method | 0.00 | 1.24 | 1.25 | 1.24 | 1.25 | 0.07 | 1.31 | 1.32 | 1.31 | 1.32 | XXX
96423 |  | A | Chemo, infuse method add-on | 0.00 | 0.49 | 0.49 | 0.49 | 0.49 | 0.02 | 0.51 | 0.51 | 0.51 | 0.51 | ZZZ
96425 |  | A | Chemotherapy,infusion method | 0.00 | 1.45 | 1.46 | 1.45 | 1.46 | 0.07 | 1.52 | 1.53 | 1.52 | 1.53 | XXX
96440 |  | A | Chemotherapy, intracavitary | 2.37 | 7.24 | 5.65 | 0.99 | 0.96 | 0.09 | 9.70 | 8.11 | 3.45 | 3.42 | 000
96445 |  | A | Chemotherapy, intracavitary | 2.20 | 7.39 | 5.81 | 0.97 | 0.99 | 0.07 | 9.66 | 8.08 | 3.24 | 3.26 | 000
96450 |  | A | Chemotherapy, into CNS | 1.89 | 5.81 | 4.59 | 0.89 | 0.90 | 0.06 | 7.76 | 6.54 | 2.84 | 2.85 | 000
96520 |  | A | Pump refilling, maintenance | 0.00 | 0.90 | 0.91 | 0.90 | 0.91 | 0.05 | 0.95 | 0.96 | 0.95 | 0.96 | XXX
96530 |  | A | Pump refilling, maintenance | 0.00 | 1.08 | 1.09 | 1.08 | 1.09 | 0.05 | 1.13 | 1.14 | 1.13 | 1.14 | XXX
96542 |  | A | Chemotherapy injection | 1.42 | 3.54 | 2.95 | 0.54 | 0.70 | 0.04 | 5.00 | 4.41 | 2.00 | 2.16 | XXX
96545 |  | B | Provide chemotherapy agent | 0.00 | 0.00 | 0.00 | 0.00 | 0.00 | 0.00 | 0.00 | 0.00 | 0.00 | 0.00 | XXX
96549 |  | C | Chemotherapy, unspecified | 0.00 | 0.00 | 0.00 | 0.00 | 0.00 | 0.00 | 0.00 | 0.00 | 0.00 | 0.00 | XXX
96570 |  | A | Photodynamic tx, 30 min | 1.10 | 0.73 | 0.73 | 0.44 | 0.44 | 0.28 | 2.11 | 2.11 | 1.82 | 1.82 | ZZZ
96571 |  | A | Photodynamic tx, addl 15 min | 0.55 | 0.31 | 0.31 | 0.22 | 0.22 | 0.28 | 1.14 | 1.14 | 1.05 | 1.05 | ZZZ
96900 |  | A | Ultraviolet light therapy | 0.00 | 0.40 | 0.40 | 0.40 | 0.40 | 0.02 | 0.42 | 0.42 | 0.42 | 0.42 | XXX
96902 |  | B | Trichogram | 0.41 | 0.23 | 0.25 | 0.16 | 0.20 | 0.01 | 0.65 | 0.67 | 0.58 | 0.62 | XXX
96910 |  | A | Photochemotherapy with UV-B | 0.00 | 0.59 | 0.59 | 0.59 | 0.59 | 0.03 | 0.62 | 0.62 | 0.62 | 0.62 | XXX
96912 |  | A | Photochemotherapy with UV-A | 0.00 | 0.66 | 0.67 | 0.66 | 0.67 | 0.04 | 0.70 | 0.71 | 0.70 | 0.71 | XXX
96913 |  | A | Photochemotherapy, UV-A or B | 0.00 | 1.37 | 1.38 | 1.37 | 1.38 | 0.08 | 1.45 | 1.46 | 1.45 | 1.46 | XXX
96999 |  | C | Dermatological procedure | 0.00 | 0.00 | 0.00 | 0.00 | 0.00 | 0.00 | 0.00 | 0.00 | 0.00 | 0.00 | XXX
97001 |  | A | Pt evaluation | 1.20 | 0.80 | 0.70 | 0.51 | 0.48 | 0.05 | 2.05 | 1.95 | 1.76 | 1.73 | XXX
97002 |  | A | Pt re-evaluation | 0.60 | 0.44 | 0.34 | 0.24 | 0.19 | 0.02 | 1.06 | 0.96 | 0.86 | 0.81 | XXX
97003 |  | A | Ot evaluation | 1.20 | 0.78 | 0.68 | 0.39 | 0.39 | 0.05 | 2.03 | 1.93 | 1.64 | 1.64 | XXX
97004 |  | A | Ot re-evaluation | 0.60 | 0.44 | 0.34 | 0.19 | 0.15 | 0.02 | 1.06 | 0.96 | 0.81 | 0.77 | XXX
97010 |  | B | Hot or cold packs therapy | 0.06 | 0.24 | 0.24 | 0.03 | 0.08 | 0.01 | 0.31 | 0.31 | 0.10 | 0.15 | XXX
97012 |  | A | Mechanical traction therapy | 0.25 | 0.32 | 0.29 | 0.12 | 0.14 | 0.01 | 0.58 | 0.55 | 0.38 | 0.40 | XXX
97014 |  | A | Electric stimulation therapy | 0.18 | 0.29 | 0.27 | 0.09 | 0.12 | 0.01 | 0.48 | 0.46 | 0.28 | 0.31 | XXX
97016 |  | A | Vasopneumatic device therapy | 0.18 | 0.29 | 0.29 | 0.09 | 0.14 | 0.01 | 0.48 | 0.48 | 0.28 | 0.33 | XXX
97018 |  | A | Paraffin bath therapy | 0.06 | 0.22 | 0.23 | 0.03 | 0.09 | 0.01 | 0.29 | 0.30 | 0.10 | 0.16 | XXX
97020 |  | A | Microwave therapy | 0.06 | 0.24 | 0.24 | 0.03 | 0.08 | 0.01 | 0.31 | 0.31 | 0.10 | 0.15 | XXX
97022 |  | A | Whirlpool therapy | 0.17 | 0.43 | 0.38 | 0.08 | 0.11 | 0.01 | 0.61 | 0.56 | 0.26 | 0.29 | XXX
97024 |  | A | Diathermy treatment | 0.06 | 0.24 | 0.24 | 0.03 | 0.08 | 0.01 | 0.31 | 0.31 | 0.10 | 0.15 | XXX
97026 |  | A | Infrared therapy | 0.06 | 0.23 | 0.23 | 0.03 | 0.08 | 0.01 | 0.30 | 0.30 | 0.10 | 0.15 | XXX
97028 |  | A | Ultraviolet therapy | 0.08 | 0.24 | 0.23 | 0.04 | 0.08 | 0.01 | 0.33 | 0.32 | 0.13 | 0.17 | XXX
97032 |  | A | Electrical stimulation | 0.25 | 0.35 | 0.30 | 0.12 | 0.13 | 0.01 | 0.61 | 0.56 | 0.38 | 0.39 | XXX
97033 |  | A | Electric current therapy | 0.26 | 0.37 | 0.32 | 0.13 | 0.14 | 0.01 | 0.64 | 0.59 | 0.40 | 0.41 | XXX
97034 |  | A | Contrast bath therapy | 0.21 | 0.33 | 0.28 | 0.10 | 0.10 | 0.01 | 0.55 | 0.50 | 0.32 | 0.32 | XXX
97035 |  | A | Ultrasound therapy | 0.21 | 0.21 | 0.19 | 0.10 | 0.11 | 0.01 | 0.43 | 0.41 | 0.32 | 0.33 | XXX
97036 |  | A | Hydrotherapy | 0.28 | 0.43 | 0.38 | 0.14 | 0.16 | 0.01 | 0.72 | 0.67 | 0.43 | 0.45 | XXX
97039 |  | A | Physical therapy treatment | 0.20 | 0.32 | 0.31 | 0.10 | 0.14 | 0.01 | 0.53 | 0.52 | 0.31 | 0.35 | XXX
97110 |  | A | Therapeutic exercises | 0.45 | 0.32 | 0.28 | 0.22 | 0.20 | 0.02 | 0.79 | 0.75 | 0.69 | 0.67 | XXX
97112 |  | A | Neuromuscular reeducation | 0.45 | 0.43 | 0.36 | 0.22 | 0.20 | 0.02 | 0.90 | 0.83 | 0.69 | 0.67 | XXX
97113 |  | A | Aquatic therapy/exercises | 0.44 | 0.44 | 0.39 | 0.22 | 0.22 | 0.02 | 0.90 | 0.85 | 0.68 | 0.68 | XXX
97116 |  | A | Gait training therapy | 0.40 | 0.41 | 0.34 | 0.20 | 0.18 | 0.01 | 0.82 | 0.75 | 0.61 | 0.59 | XXX
97124 |  | A | Massage therapy | 0.35 | 0.38 | 0.32 | 0.17 | 0.16 | 0.01 | 0.74 | 0.68 | 0.53 | 0.52 | XXX
97139 |  | A | Physical medicine procedure | 0.21 | 0.31 | 0.28 | 0.10 | 0.12 | 0.01 | 0.53 | 0.50 | 0.32 | 0.34 | XXX
97140 |  | A | Manual therapy | 0.43 | 0.41 | 0.41 | 0.21 | 0.21 | 0.02 | 0.86 | 0.86 | 0.66 | 0.66 | XXX
97150 |  | A | Group therapeutic procedures | 0.27 | 0.34 | 0.31 | 0.13 | 0.15 | 0.02 | 0.63 | 0.60 | 0.42 | 0.44 | XXX
97504 |  | A | Orthotic training | 0.45 | 0.41 | 0.35 | 0.22 | 0.20 | 0.03 | 0.89 | 0.83 | 0.70 | 0.68 | XXX
97520 |  | A | Prosthetic training | 0.45 | 0.43 | 0.36 | 0.22 | 0.21 | 0.02 | 0.90 | 0.83 | 0.69 | 0.68 | XXX
97530 |  | A | Therapeutic activities | 0.44 | 0.30 | 0.27 | 0.22 | 0.21 | 0.02 | 0.76 | 0.73 | 0.68 | 0.67 | XXX
97535 |  | A | Self care mngment training | 0.45 | 0.43 | 0.37 | 0.22 | 0.21 | 0.02 | 0.90 | 0.84 | 0.69 | 0.68 | XXX
97537 |  | A | Community/work reintegration | 0.45 | 0.43 | 0.37 | 0.22 | 0.21 | 0.01 | 0.89 | 0.83 | 0.68 | 0.67 | XXX
97542 |  | A | Wheelchair mngment training | 0.25 | 0.33 | 0.29 | 0.12 | 0.14 | 0.01 | 0.59 | 0.55 | 0.38 | 0.40 | XXX
97545 |  | R | Work hardening | 0.00 | 0.00 | 0.00 | 0.00 | 0.00 | 0.00 | 0.00 | 0.00 | 0.00 | 0.00 | XXX
97546 |  | R | Work hardening add-on | 0.00 | 0.00 | 0.00 | 0.00 | 0.00 | 0.00 | 0.00 | 0.00 | 0.00 | 0.00 | ZZZ
97703 |  | A | Prosthetic checkout | 0.25 | 0.21 | 0.21 | 0.12 | 0.14 | 0.01 | 0.47 | 0.47 | 0.38 | 0.40 | XXX
97750 |  | A | Physical performance test | 0.45 | 0.35 | 0.33 | 0.22 | 0.23 | 0.02 | 0.82 | 0.80 | 0.69 | 0.70 | XXX
97770 |  | A | Cognitive skills development | 0.44 | 0.38 | 0.36 | 0.22 | 0.24 | 0.01 | 0.83 | 0.81 | 0.67 | 0.69 | XXX
97780 |  | N | Acupuncture w/o stimul | 0.00 | 0.00 | 0.00 | 0.00 | 0.00 | 0.00 | 0.00 | 0.00 | 0.00 | 0.00 | XXX
97781 |  | N | Acupuncture w/stimul | 0.00 | 0.00 | 0.00 | 0.00 | 0.00 | 0.00 | 0.00 | 0.00 | 0.00 | 0.00 | XXX
97799 |  | C | Physical medicine procedure | 0.00 | 0.00 | 0.00 | 0.00 | 0.00 | 0.00 | 0.00 | 0.00 | 0.00 | 0.00 | XXX
98925 |  | A | Osteopathic manipulation | 0.45 | 0.32 | 0.31 | 0.15 | 0.18 | 0.02 | 0.79 | 0.78 | 0.62 | 0.65 | 000
98926 |  | A | Osteopathic manipulation | 0.65 | 0.39 | 0.40 | 0.25 | 0.30 | 0.02 | 1.06 | 1.07 | 0.92 | 0.97 | 000
98927 |  | A | Osteopathic manipulation | 0.87 | 0.50 | 0.48 | 0.30 | 0.33 | 0.03 | 1.40 | 1.38 | 1.20 | 1.23 | 000
98928 |  | A | Osteopathic manipulation | 1.03 | 0.54 | 0.52 | 0.34 | 0.37 | 0.03 | 1.60 | 1.58 | 1.40 | 1.43 | 000
98929 |  | A | Osteopathic manipulation | 1.19 | 0.63 | 0.58 | 0.37 | 0.38 | 0.04 | 1.86 | 1.81 | 1.60 | 1.61 | 000
98940 |  | A | Chiropractic manipulation | 0.45 | 0.24 | 0.26 | 0.12 | 0.17 | 0.01 | 0.70 | 0.72 | 0.58 | 0.63 | 000
98941 |  | A | Chiropractic manipulation | 0.65 | 0.31 | 0.31 | 0.18 | 0.21 | 0.02 | 0.98 | 0.98 | 0.85 | 0.88 | 000
98942 |  | A | Chiropractic manipulation | 0.87 | 0.36 | 0.35 | 0.24 | 0.26 | 0.03 | 1.26 | 1.25 | 1.14 | 1.16 | 000
98943 |  | N | Chiropractic manipulation | 0.40 | 0.33 | 0.33 | 0.16 | 0.20 | 0.01 | 0.74 | 0.74 | 0.57 | 0.61 | XXX
99000 |  | B | Specimen handling | 0.00 | 0.00 | 0.00 | 0.00 | 0.00 | 0.00 | 0.00 | 0.00 | 0.00 | 0.00 | XXX
99001 |  | B | Specimen handling | 0.00 | 0.00 | 0.00 | 0.00 | 0.00 | 0.00 | 0.00 | 0.00 | 0.00 | 0.00 | XXX
99002 |  | B | Device handling | 0.00 | 0.00 | 0.00 | 0.00 | 0.00 | 0.00 | 0.00 | 0.00 | 0.00 | 0.00 | XXX
99024 |  | B | Postop follow-up visit | 0.00 | 0.00 | 0.00 | 0.00 | 0.00 | 0.00 | 0.00 | 0.00 | 0.00 | 0.00 | XXX
99025 |  | B | Initial surgical evaluation | 0.00 | 0.00 | 0.00 | 0.00 | 0.00 | 0.00 | 0.00 | 0.00 | 0.00 | 0.00 | XXX
99050 |  | B | Medical services after hrs | 0.00 | 0.00 | 0.00 | 0.00 | 0.00 | 0.00 | 0.00 | 0.00 | 0.00 | 0.00 | XXX
99052 |  | B | Medical services at night | 0.00 | 0.00 | 0.00 | 0.00 | 0.00 | 0.00 | 0.00 | 0.00 | 0.00 | 0.00 | XXX
99054 |  | B | Medical servcs, unusual hrs | 0.00 | 0.00 | 0.00 | 0.00 | 0.00 | 0.00 | 0.00 | 0.00 | 0.00 | 0.00 | XXX
99056 |  | B | Non-office medical services | 0.00 | 0.00 | 0.00 | 0.00 | 0.00 | 0.00 | 0.00 | 0.00 | 0.00 | 0.00 | XXX
99058 |  | B | Office emergency care | 0.00 | 0.00 | 0.00 | 0.00 | 0.00 | 0.00 | 0.00 | 0.00 | 0.00 | 0.00 | XXX
99070 |  | B | Special supplies | 0.00 | 0.00 | 0.00 | 0.00 | 0.00 | 0.00 | 0.00 | 0.00 | 0.00 | 0.00 | XXX
99071 |  | B | Patient education materials | 0.00 | 0.00 | 0.00 | 0.00 | 0.00 | 0.00 | 0.00 | 0.00 | 0.00 | 0.00 | XXX
99075 |  | N | Medical testimony | 0.00 | 0.00 | 0.00 | 0.00 | 0.00 | 0.00 | 0.00 | 0.00 | 0.00 | 00 | XXX
99078 |  | B | Group health education | 0.00 | 0.00 | 0.00 | 0.00 | 0.00 | 0.00 | 0.00 | 0.00 | 0.00 | 0.00 | XXX
99080 |  | B | Special reports or forms | 0.00 | 0.00 | 0.00 | 0.00 | 0.00 | 0.00 | 0.00 | 0.00 | 0.00 | 0.00 | XXX
99082 |  | C | Unusual physician travel | 0.00 | 0.00 | 0.00 | 0.00 | 0.00 | 0.00 | 0.00 | 0.00 | 0.00 | 0.00 | XXX
99090 |  | B | Computer data analysis | 0.00 | 0.00 | 0.00 | 0.00 | 0.00 | 0.00 | 0.00 | 0.00 | 0.00 | 0.00 | XXX
99100 |  | B | Special anesthesia service | 0.00 | 0.00 | 0.00 | 0.00 | 0.00 | 0.00 | 0.00 | 0.00 | 0.00 | 0.00 | ZZZ
99116 |  | B | Anesthesia with hypothermia | 0.00 | 0.00 | 0.00 | 0.00 | 0.00 | 0.00 | 0.00 | 0.00 | 0.00 | 0.00 | ZZZ
99135 |  | B | Special anesthesia procedure | 0.00 | 0.00 | 0.00 | 0.00 | 0.00 | 0.00 | 0.00 | 0.00 | 0.00 | 0.00 | ZZZ
99140 |  | B | Emergency anesthesia | 0.00 | 0.00 | 0.00 | 0.00 | 0.00 | 0.00 | 0.00 | 0.00 | 0.00 | 0.00 | ZZZ
99141 |  | B | Sedation, iv/im or inhalant | 0.80 | 1.69 | 1.49 | 0.32 | 0.47 | 0.05 | 2.54 | 2.34 | 1.17 | 1.32 | XXX
99142 |  | B | Sedation, oral/rectal/nasal | 0.60 | 1.62 | 1.38 | 0.24 | 0.35 | 0.04 | 2.26 | 2.02 | 0.88 | 0.99 | XXX
99170 |  | A | Anogenital exam, child | 1.75 | 1.75 | 1.75 | 0.69 | 0.69 | 0.11 | 3.61 | 3.61 | 2.55 | 2.55 | 000
99173 |  | N | Visual screening test | 0.00 | 0.00 | 0.00 | 0.00 | 0.00 | 0.00 | 0.00 | 0.00 | 0.00 | 0.00 | XXX
99175 |  | A | Induction of vomiting | 0.00 | 1.41 | 1.42 | 1.41 | 1.42 | 0.08 | 1.49 | 1.50 | 1.49 | 1.50 | XXX
99183 |  | A | Hyperbaric oxygen therapy | 2.34 | NA | NA | 0.74 | 1.01 | 0.12 | NA | NA | 3.20 | 3.47 | XXX
99185 |  | A | Regional hypothermia | 0.00 | NA | NA | 0.65 | 0.65 | 0.03 | NA | NA | 0.68 | 0.68 | XXX
99186 |  | A | Total body hypothermia | 0.00 | NA | NA | 1.80 | 1.81 | 0.38 | NA | NA | 2.18 | 2.19 | XXX
99190 |  | X | Special pump services | 0.00 | 0.00 | 0.00 | 0.00 | 0.00 | 0.00 | 0.00 | 0.00 | 0.00 | 0.00 | XXX
99191 |  | X | Special pump services | 0.00 | 0.00 | 0.00 | 0.00 | 0.00 | 0.00 | 0.00 | 0.00 | 0.00 | 0.00 | XXX
99192 |  | X | Special pump services | 0.00 | 0.00 | 0.00 | 0.00 | 0.00 | 0.00 | 0.00 | 0.00 | 0.00 | 0.00 | XXX
99195 |  | A | Phlebotomy | 0.00 | 0.45 | 0.45 | 0.45 | 0.45 | 0.02 | 0.47 | 0.47 | 0.47 | 0.47 | XXX
99199 |  | C | Special service/proc/report | 0.00 | 0.00 | 0.00 | 0.00 | 0.00 | 0.00 | 0.00 | 0.00 | 0.00 | 0.00 | XXX
99201 |  | A | Office/outpatient visit, new | 0.45 | 0.75 | 0.68 | 0.16 | 0.24 | 0.02 | 1.22 | 1.15 | 0.63 | 0.71 | XXX
99202 |  | A | Office/outpatient visit, new | 0.88 | 0.99 | 0.88 | 0.32 | 0.38 | 0.04 | 1.91 | 1.80 | 1.24 | 1.30 | XXX
99203 |  | A | Office/outpatient visit, new | 1.34 | 1.30 | 1.14 | 0.49 | 0.53 | 0.07 | 2.71 | 2.55 | 1.90 | 1.94 | XXX
99204 |  | A | Office/outpatient visit, new | 0.02 | 1.74 | 1.55 | 0.73 | 0.79 | 0.09 | 1.85 | 1.66 | 0.84 | 0.90 | XXX
99205 |  | A | Office/outpatient visit, new | 2.67 | 1.92 | 1.70 | 0.94 | 0.97 | 0.11 | 4.70 | 4.48 | 3.72 | 3.75 | XXX
99211 |  | A | Office/outpatient visit, est | 0.17 | 0.54 | 0.46 | 0.06 | 0.10 | 0.01 | 0.72 | 0.64 | 0.24 | 0.28 | XXX
99212 |  | A | Office/outpatient visit, est | 0.45 | 0.60 | 0.54 | 0.16 | 0.21 | 0.02 | 1.07 | 1.01 | 0.63 | 0.68 | XXX
99213 |  | A | Office/outpatient visit, est | 0.67 | 0.73 | 0.67 | 0.24 | 0.30 | 0.02 | 1.42 | 1.36 | 0.93 | 0.99 | XXX
99214 |  | A | Office/outpatient visit, est | 1.10 | 0.97 | 0.88 | 0.40 | 0.46 | 0.04 | 2.11 | 2.02 | 1.54 | 1.60 | XXX
99215 |  | A | Office/outpatient visit, est | 1.77 | 1.24 | 1.16 | 0.63 | 0.71 | 0.07 | 3.08 | 3.00 | 2.47 | 2.55 | XXX
99217 |  | A | Observation care discharge | 1.28 | NA | NA | 0.44 | 0.47 | 0.05 | NA | NA | 1.77 | 1.80 | XXX
99218 |  | A | Observation care | 1.28 | NA | NA | 0.44 | 0.52 | 0.05 | NA | NA | 1.77 | 1.85 | XXX
99219 |  | A | Observation care | 2.14 | NA | NA | 0.73 | 0.83 | 0.08 | NA | NA | 2.95 | 3.05 | XXX
99220 |  | A | Observation care | 2.99 | NA | NA | 1.03 | 1.08 | 0.11 | NA | NA | 4.13 | 4.18 | XXX
99221 |  | A | Initial hospital care | 1.28 | NA | NA | 0.46 | 0.53 | 0.05 | NA | NA | 1.79 | 1.86 | XXX
99222 |  | A | Initial hospital care | 2.14 | NA | NA | 0.75 | 0.85 | 0.08 | NA | NA | 2.97 | 3.07 | XXX
99223 |  | A | Initial hospital care | 2.99 | NA | NA | 1.04 | 1.09 | 0.11 | NA | NA | 4.14 | 4.19 | XXX
99231 |  | A | Subsequent hospital care | 0.64 | NA | NA | 0.23 | 0.28 | 0.02 | NA | NA | 0.89 | 0.94 | XXX
99232 |  | A | Subsequent hospital care | 1.06 | NA | NA | 0.37 | 0.40 | 0.04 | NA | NA | 1.47 | 1.50 | XXX
99233 |  | A | Subsequent hospital care | 1.51 | NA | NA | 0.53 | 0.56 | 0.05 | NA | NA | 2.09 | 2.12 | XXX
99234 |  | A | Observ/hosp same date | 1.95 | NA | NA | 0.89 | 0.85 | 0.10 | NA | NA | 2.94 | 2.90 | XXX
99235 |  | A | Observ/hosp same date | 2.81 | NA | NA | 1.17 | 1.16 | 0.12 | NA | NA | 4.10 | 4.09 | XXX
99236 |  | A | Observ/hosp same date | 3.66 | NA | NA | 1.47 | 1.41 | 0.14 | NA | NA | 5.27 | 5.21 | XXX
99238 |  | A | Hospital discharge day | 1.28 | NA | NA | 0.44 | 0.47 | 0.04 | NA | NA | 1.76 | 1.79 | XXX
99239 |  | A | Hospital discharge day | 1.75 | NA | NA | 0.61 | 0.60 | 0.06 | NA | NA | 2.42 | 2.41 | XXX
99241 |  | A | Office consultation | 0.64 | 0.90 | 0.85 | 0.23 | 0.35 | 0.04 | 1.58 | 1.53 | 0.91 | 1.03 | XXX
99242 |  | A | Office consultation | 1.29 | 1.28 | 1.17 | 0.48 | 0.57 | 0.08 | 2.65 | 2.54 | 1.85 | 1.94 | XXX
99243 |  | A | Office consultation | 1.72 | 1.51 | 1.40 | 0.65 | 0.75 | 0.09 | 3.32 | 3.21 | 2.46 | 2.56 | XXX
99244 |  | A | Office consultation | 2.58 | 1.95 | 1.80 | 0.94 | 1.04 | 0.11 | 4.64 | 4.49 | 3.63 | 3.73 | XXX
99245 |  | A | Office consultation | 3.43 | 2.35 | 2.22 | 1.26 | 1.40 | 0.14 | 5.92 | 5.79 | 4.83 | 4.97 | XXX
99251 |  | A | Initial inpatient consult | 0.66 | NA | NA | 0.29 | 0.40 | 0.04 | NA | NA | 0.99 | 1.10 | XXX
99252 |  | A | Initial inpatient consult | 1.32 | NA | NA | 0.56 | 0.63 | 0.08 | NA | NA | 1.96 | 2.03 | XXX
99253 |  | A | Initial inpatient consult | 1.82 | NA | NA | 0.75 | 0.82 | 0.09 | NA | NA | 2.66 | 2.73 | XXX
99254 |  | A | Initial inpatient consult | 2.64 | NA | NA | 1.05 | 1.11 | 0.11 | NA | NA | 3.80 | 3.86 | XXX
99255 |  | A | Initial inpatient consult | 3.65 | NA | NA | 1.42 | 1.49 | 0.15 | NA | NA | 5.22 | 5.29 | XXX
99261 |  | A | Follow-up inpatient consult | 0.42 | NA | NA | 0.20 | 0.24 | 0.02 | NA | NA | 0.64 | 0.68 | XXX
99262 |  | A | Follow-up inpatient consult | 0.85 | NA | NA | 0.36 | 0.40 | 0.03 | NA | NA | 1.24 | 1.28 | XXX
99263 |  | A | Follow-up inpatient consult | 1.27 | NA | NA | 0.51 | 0.57 | 0.05 | NA | NA | 1.83 | 1.89 | XXX
99271 |  | A | Confirmatory consultation | 0.45 | 0.60 | 0.61 | 0.20 | 0.31 | 0.02 | 1.07 | 1.08 | 0.67 | 0.78 | XXX
99272 |  | A | Confirmatory consultation | 0.84 | 0.83 | 0.82 | 0.36 | 0.46 | 0.05 | 1.72 | 1.71 | 1.25 | 1.35 | XXX
99273 |  | A | Confirmatory consultation | 1.19 | 1.02 | 1.04 | 0.50 | 0.65 | 0.07 | 2.28 | 2.30 | 1.76 | 1.91 | XXX
99274 |  | A | Confirmatory consultation | 1.73 | 1.33 | 1.33 | 0.71 | 0.86 | 0.09 | 3.15 | 3.15 | 2.53 | 2.68 | XXX
99275 |  | A | Confirmatory consultation | 2.31 | 1.58 | 1.66 | 0.88 | 1.13 | 0.10 | 3.99 | 4.07 | 3.29 | 3.54 | XXX
99281 |  | A | Emergency dept visit | 0.33 | NA | NA | 0.09 | 0.14 | 0.02 | NA | NA | 0.44 | 0.49 | XXX
99282 |  | A | Emergency dept visit | 0.55 | NA | NA | 0.15 | 0.22 | 0.03 | NA | NA | 0.73 | 0.80 | XXX
99283 |  | A | Emergency dept visit | 1.24 | NA | NA | 0.32 | 0.37 | 0.08 | NA | NA | 1.64 | 1.69 | XXX
99284 |  | A | Emergency dept visit | 1.95 | NA | NA | 0.49 | 0.56 | 0.12 | NA | NA | 2.56 | 2.63 | XXX
99285 |  | A | Emergency dept visit | 3.06 | NA | NA | 0.74 | 0.86 | 0.19 | NA | NA | 3.99 | 4.11 | XXX
99288 |  | B | Direct advanced life support | 0.00 | 0.00 | 0.00 | 0.00 | 0.00 | 0.00 | 0.00 | 0.00 | 0.00 | 0.00 | XXX
99291 |  | A | Critical care, first hour | 0.04 | 1.39 | 1.43 | 1.17 | 1.27 | 0.14 | 1.57 | 1.61 | 1.35 | 1.45 | XXX
99292 |  | A | Critical care, addl 30 min | 0.02 | 0.76 | 0.74 | 0.58 | 0.61 | 0.08 | 0.86 | 0.84 | 0.68 | 0.71 | ZZZ
99295 |  | A | Neonatal critical care | 0.16 | NA | NA | 4.93 | 5.08 | 0.62 | NA | NA | 5.71 | 5.86 | XXX
99296 |  | A | Neonatal critical care | 0.08 | NA | NA | 2.64 | 2.65 | 0.24 | NA | NA | 2.96 | 2.97 | XXX
99297 |  | A | Neonatal critical care | 0.04 | NA | NA | 1.36 | 1.35 | 0.11 | NA | NA | 1.51 | 1.50 | XXX
99298 |  | A | Neonatal critical care | 2.75 | NA | NA | 0.94 | 0.94 | 0.09 | NA | NA | 3.78 | 3.78 | XXX
99301 |  | A | Nursing facility care | 1.20 | NA | NA | 0.41 | 0.43 | 0.04 | NA | NA | 1.65 | 1.67 | XXX
99302 |  | A | Nursing facility care | 1.61 | NA | NA | 0.55 | 0.55 | 0.06 | NA | NA | 2.22 | 2.22 | XXX
99303 |  | A | Nursing facility care | 2.01 | NA | NA | 0.67 | 0.76 | 0.07 | NA | NA | 2.75 | 2.84 | XXX
99311 |  | A | Nursing fac care, subseq | 0.60 | NA | NA | 0.20 | 0.24 | 0.02 | NA | NA | 0.82 | 0.86 | XXX
99312 |  | A | Nursing fac care, subseq | 0.01 | NA | NA | 0.33 | 0.36 | 0.03 | NA | NA | 0.37 | 0.40 | XXX
99313 |  | A | Nursing fac care, subseq | 1.42 | NA | NA | 0.48 | 0.49 | 0.05 | NA | NA | 1.95 | 1.96 | XXX
99315 |  | A | Nursing fac discharge day | 1.13 | NA | NA | 0.38 | 0.42 | 0.04 | NA | NA | 1.55 | 1.59 | XXX
99316 |  | A | Nursing fac discharge day | 1.50 | NA | NA | 0.52 | 0.53 | 0.05 | NA | NA | 2.07 | 2.08 | XXX
99321 |  | A | Rest home visit, new patient | 0.71 | 0.41 | 0.41 | 0.32 | 0.34 | 0.03 | 1.15 | 1.15 | 1.06 | 1.08 | XXX
99322 |  | A | Rest home visit, new patient | 1.01 | 0.64 | 0.62 | 0.44 | 0.47 | 0.04 | 1.69 | 1.67 | 1.49 | 1.52 | XXX
99323 |  | A | Rest home visit, new patient | 1.28 | 0.84 | 0.83 | 0.53 | 0.60 | 0.05 | 2.17 | 2.16 | 1.86 | 1.93 | XXX
99331 |  | A | Rest home visit, est pat | 0.60 | 0.43 | 0.40 | 0.30 | 0.30 | 0.02 | 1.05 | 1.02 | 0.92 | 0.92 | XXX
99332 |  | A | Rest home visit, est pat | 0.80 | 0.53 | 0.50 | 0.37 | 0.38 | 0.03 | 1.36 | 1.33 | 1.20 | 1.21 | XXX
99333 |  | A | Rest home visit, est pat | 0.01 | 0.65 | 0.61 | 0.44 | 0.45 | 0.03 | 0.69 | 0.65 | 0.48 | 0.49 | XXX
99341 |  | A | Home visit, new patient | 1.01 | 0.52 | 0.54 | 0.48 | 0.51 | 0.04 | 1.57 | 1.59 | 1.53 | 1.56 | XXX
99342 |  | A | Home visit, new patient | 1.52 | 0.79 | 0.76 | 0.59 | 0.61 | 0.06 | 2.37 | 2.34 | 2.17 | 2.19 | XXX
99343 |  | A | Home visit, new patient | 2.27 | 1.20 | 1.11 | 0.89 | 0.88 | 0.08 | 3.55 | 3.46 | 3.24 | 3.23 | XXX
99344 |  | A | Home visit, new patient | 3.03 | 1.47 | 1.33 | 1.09 | 1.05 | 0.10 | 4.60 | 4.46 | 4.22 | 4.18 | XXX
99345 |  | A | Home visit, new patient | 3.79 | 1.74 | 1.54 | 1.32 | 1.22 | 0.12 | 5.65 | 5.45 | 5.23 | 5.13 | XXX
99347 |  | A | Home visit, est patient | 0.76 | 0.45 | 0.46 | 0.35 | 0.39 | 0.03 | 1.24 | 1.25 | 1.14 | 1.18 | XXX
99348 |  | A | Home visit, est patient | 1.26 | 0.67 | 0.65 | 0.52 | 0.54 | 0.04 | 1.97 | 1.95 | 1.82 | 1.84 | XXX
99349 |  | A | Home visit, est patient | 2.02 | 0.99 | 0.91 | 0.79 | 0.76 | 0.07 | 3.08 | 3.00 | 2.88 | 2.85 | XXX
99350 |  | A | Home visit, est patient | 3.03 | 1.35 | 1.22 | 1.11 | 1.04 | 0.10 | 4.48 | 4.35 | 4.24 | 4.17 | XXX
99354 |  | A | Prolonged service, office | 1.77 | 1.28 | 1.17 | 0.61 | 0.66 | 0.06 | 3.11 | 3.00 | 2.44 | 2.49 | ZZZ
99355 |  | A | Prolonged service, office | 1.77 | 1.14 | 1.06 | 0.58 | 0.64 | 0.06 | 2.97 | 2.89 | 2.41 | 2.47 | ZZZ
99356 |  | A | Prolonged service, inpatient | 1.71 | NA | NA | 0.59 | 0.67 | 0.06 | NA | NA | 2.36 | 2.44 | ZZZ
99357 |  | A | Prolonged service, inpatient | 1.71 | NA | NA | 0.61 | 0.69 | 0.07 | NA | NA | 2.39 | 2.47 | ZZZ
99358 |  | B | Prolonged serv, w/o contact | 0.00 | 0.00 | 0.00 | 0.00 | 0.00 | 0.00 | 0.00 | 0.00 | 0.00 | 0.00 | ZZZ
99359 |  | B | Prolonged serv, w/o contact | 0.00 | 0.00 | 0.00 | 0.00 | 0.00 | 0.00 | 0.00 | 0.00 | 0.00 | 0.00 | ZZZ
99360 |  | X | Physician standby services | 0.00 | 0.00 | 0.00 | 0.00 | 0.00 | 0.00 | 0.00 | 0.00 | 0.00 | 0.00 | XXX
99361 |  | B | Physician/team conference | 0.00 | 0.00 | 0.00 | 0.00 | 0.00 | 0.00 | 0.00 | 0.00 | 0.00 | 0.00 | XXX
99362 |  | B | Physician/team conference | 0.00 | 0.00 | 0.00 | 0.00 | 0.00 | 0.00 | 0.00 | 0.00 | 0.00 | 0.00 | XXX
99371 |  | B | Physician phone consultation | 0.00 | 0.00 | 0.00 | 0.00 | 0.00 | 0.00 | 0.00 | 0.00 | 0.00 | 0.00 | XXX
99372 |  | B | Physician phone consultation | 0.00 | 0.00 | 0.00 | 0.00 | 0.00 | 0.00 | 0.00 | 0.00 | 0.00 | 0.00 | XXX
99373 |  | B | Physician phone consultation | 0.00 | 0.00 | 0.00 | 0.00 | 0.00 | 0.00 | 0.00 | 0.00 | 0.00 | 0.00 | XXX
99374 |  | B | Home health care supervision | 1.10 | 1.28 | 1.10 | 0.44 | 0.47 | 0.04 | 2.42 | 2.24 | 1.58 | 1.61 | XXX
99375 |  | N | Home health care supervision | 1.73 | 1.30 | 0.93 | 0.60 | 0.58 | 0.06 | 3.09 | 2.72 | 2.39 | 2.37 | XXX
99377 |  | B | Hospice care supervision | 1.10 | 1.29 | 1.11 | 0.44 | 0.47 | 0.04 | 2.43 | 2.25 | 1.58 | 1.61 | XXX
99378 |  | N | Hospice care supervision | 1.73 | 1.50 | 1.03 | 0.58 | 0.57 | 0.06 | 3.29 | 2.82 | 2.37 | 2.36 | XXX
99379 |  | B | Nursing fac care supervision | 1.10 | 1.27 | 1.09 | 0.44 | 0.47 | 0.04 | 2.41 | 2.23 | 1.58 | 1.61 | XXX
99380 |  | B | Nursing fac care supervision | 1.73 | 1.54 | 1.29 | 0.69 | 0.66 | 0.06 | 3.33 | 3.08 | 2.48 | 2.45 | XXX
99381 |  | N | Prev visit, new, infant | 1.19 | 1.33 | 1.33 | 0.47 | 0.69 | 0.18 | 2.70 | 2.70 | 1.84 | 2.06 | XXX
99382 |  | N | Prev visit, new, age 1-4 | 1.36 | 1.37 | 1.41 | 0.54 | 0.79 | 0.04 | 2.77 | 2.81 | 1.94 | 2.19 | XXX
99383 |  | N | Prev visit, new, age 5-11 | 1.36 | 1.31 | 1.37 | 0.54 | 0.79 | 0.04 | 2.71 | 2.77 | 1.94 | 2.19 | XXX
99384 |  | N | Prev visit, new, age 12-17 | 1.53 | 1.38 | 1.47 | 0.61 | 0.89 | 0.05 | 2.96 | 3.05 | 2.19 | 2.47 | XXX
99385 |  | N | Prev visit, new, age 18-39 | 1.53 | 1.38 | 1.42 | 0.61 | 0.84 | 0.05 | 2.96 | 3.00 | 2.19 | 2.42 | XXX
99386 |  | N | Prev visit, new, age 40-64 | 1.88 | 1.56 | 1.64 | 0.75 | 1.03 | 0.06 | 3.50 | 3.58 | 2.69 | 2.97 | XXX
99387 |  | N | Prev visit, new, 65 & over | 2.06 | 1.69 | 1.78 | 0.82 | 1.13 | 0.06 | 3.81 | 3.90 | 2.94 | 3.25 | XXX
99391 |  | N | Prev visit, est, infant | 1.02 | 0.91 | 0.97 | 0.40 | 0.59 | 0.15 | 2.08 | 2.14 | 1.57 | 1.76 | XXX
99392 |  | N | Prev visit, est, age 1-4 | 1.19 | 0.98 | 1.07 | 0.47 | 0.69 | 0.04 | 2.21 | 2.30 | 1.70 | 1.92 | XXX
99393 |  | N | Prev visit, est, age 5-11 | 1.19 | 0.96 | 1.05 | 0.47 | 0.69 | 0.04 | 2.19 | 2.28 | 1.70 | 1.92 | XXX
99394 |  | N | Prev visit, est, age 12-17 | 1.36 | 1.04 | 1.16 | 0.54 | 0.79 | 0.04 | 2.44 | 2.56 | 1.94 | 2.19 | XXX
99395 |  | N | Prev visit, est, age 18-39 | 1.36 | 1.06 | 1.14 | 0.54 | 0.75 | 0.04 | 2.46 | 2.54 | 1.94 | 2.15 | XXX
99396 |  | N | Prev visit, est, age 40-64 | 1.53 | 1.15 | 1.24 | 0.61 | 0.84 | 0.05 | 2.73 | 2.82 | 2.19 | 2.42 | XXX
99397 |  | N | Prev visit, est, 65 & over | 1.71 | 1.25 | 1.36 | 0.68 | 0.93 | 0.05 | 3.01 | 3.12 | 2.44 | 2.69 | XXX
99401 |  | N | Preventive counseling, indiv | 0.48 | 0.54 | 0.53 | 0.19 | 0.27 | 0.01 | 1.03 | 1.02 | 0.68 | 0.76 | XXX
99402 |  | N | Preventive counseling, indiv | 0.98 | 0.78 | 0.83 | 0.39 | 0.54 | 0.03 | 1.79 | 1.84 | 1.40 | 1.55 | XXX
99403 |  | N | Preventive counseling, indiv | 1.46 | 1.01 | 1.12 | 0.58 | 0.80 | 0.04 | 2.51 | 2.62 | 2.08 | 2.30 | XXX
99404 |  | N | Preventive counseling, indiv | 1.95 | 1.24 | 1.41 | 0.77 | 1.06 | 0.05 | 3.24 | 3.41 | 2.77 | 3.06 | XXX
99411 |  | N | Preventive counseling, group | 0.15 | 0.16 | 0.16 | 0.06 | 0.08 | 0.01 | 0.32 | 0.32 | 0.22 | 0.24 | XXX
99412 |  | N | Preventive counseling, group | 0.25 | 0.22 | 0.23 | 0.10 | 0.14 | 0.01 | 0.48 | 0.49 | 0.36 | 0.40 | XXX
99420 |  | N | Health risk assessment test | 0.00 | 0.00 | 0.00 | 0.00 | 0.00 | 0.00 | 0.00 | 0.00 | 0.00 | 0.00 | XXX
99429 |  | N | Unlisted preventive service | 0.00 | 0.00 | 0.00 | 0.00 | 0.00 | 0.00 | 0.00 | 0.00 | 0.00 | 0.00 | XXX
99431 |  | A | Initial care, normal newborn | 1.17 | NA | NA | 0.39 | 0.62 | 0.04 | NA | NA | 1.60 | 1.83 | XXX
99432 |  | A | Newborn care, not in hosp | 1.26 | 0.73 | 0.90 | 0.40 | 0.66 | 0.04 | 2.03 | 2.20 | 1.70 | 1.96 | XXX
99433 |  | A | Normal newborn care/hospital | 0.62 | NA | NA | 0.22 | 0.34 | 0.02 | NA | NA | 0.86 | 0.98 | XXX
99435 |  | A | Newborn discharge day hosp | 1.50 | NA | NA | 0.50 | 0.80 | 0.05 | NA | NA | 2.05 | 2.35 | XXX
99436 |  | A | Attendance, birth | 1.50 | 0.48 | 0.78 | 0.48 | 0.78 | 0.05 | 2.03 | 2.33 | 2.03 | 2.33 | XXX
99440 |  | A | Newborn resuscitation | 2.93 | NA | NA | 0.97 | 1.55 | 0.09 | NA | NA | 3.99 | 4.57 | XXX
99450 |  | N | Life/disability evaluation | 0.00 | 0.00 | 0.00 | 0.00 | 0.00 | 0.00 | 0.00 | 0.00 | 0.00 | 0.00 | XXX
99455 |  | R | Disability examination | 0.00 | 0.00 | 0.00 | 0.00 | 0.00 | 0.00 | 0.00 | 0.00 | 0.00 | 0.00 | XXX
99456 |  | R | Disability examination | 0.00 | 0.00 | 0.00 | 0.00 | 0.00 | 0.00 | 0.00 | 0.00 | 0.00 | 0.00 | XXX
99499 |  | C | Unlisted e&m service | 0.00 | 0.00 | 0.00 | 0.00 | 0.00 | 0.00 | 0.00 | 0.00 | 0.00 | 0.00 | XXX
A0021 |  | I | Outside state ambulance serv | 0.00 | 0.00 | 0.00 | 0.00 | 0.00 | 0.00 | 0.00 | 0.00 | 0.00 | 0.00 | XXX
A0030 |  | X | Air ambulance service | 0.00 | 0.00 | 0.00 | 0.00 | 0.00 | 0.00 | 0.00 | 0.00 | 0.00 | 0.00 | XXX
A0040 |  | X | Helicopter ambulance service | 0.00 | 0.00 | 0.00 | 0.00 | 0.00 | 0.00 | 0.00 | 0.00 | 0.00 | 0.00 | XXX
A0050 |  | X | Water amb service emergency | 0.00 | 0.00 | 0.00 | 0.00 | 0.00 | 0.00 | 0.00 | 0.00 | 0.00 | 0.00 | XXX
A0080 |  | I | Noninterest escort in non er | 0.00 | 0.00 | 0.00 | 0.00 | 0.00 | 0.00 | 0.00 | 0.00 | 0.00 | 0.00 | XXX
A0090 |  | I | Interest escort in non er | 0.00 | 0.00 | 0.00 | 0.00 | 0.00 | 0.00 | 0.00 | 0.00 | 0.00 | 0.00 | XXX
A0100 |  | I | Nonemergency transport taxi | 0.00 | 0.00 | 0.00 | 0.00 | 0.00 | 0.00 | 0.00 | 0.00 | 0.00 | 0.00 | XXX
A0110 |  | I | Nonemergency transport bus | 0.00 | 0.00 | 0.00 | 0.00 | 0.00 | 0.00 | 0.00 | 0.00 | 0.00 | 0.00 | XXX
A0120 |  | I | Noner transport mini-bus | 0.00 | 0.00 | 0.00 | 0.00 | 0.00 | 0.00 | 0.00 | 0.00 | 0.00 | 0.00 | XXX
A0130 |  | I | Noner transport wheelch van | 0.00 | 0.00 | 0.00 | 0.00 | 0.00 | 0.00 | 0.00 | 0.00 | 0.00 | 0.00 | XXX
A0140 |  | I | Nonemergency transport air | 0.00 | 0.00 | 0.00 | 0.00 | 0.00 | 0.00 | 0.00 | 0.00 | 0.00 | 0.00 | XXX
A0160 |  | I | Noner transport case worker | 0.00 | 0.00 | 0.00 | 0.00 | 0.00 | 0.00 | 0.00 | 0.00 | 0.00 | 0.00 | XXX
A0170 |  | I | Noner transport parking fees | 0.00 | 0.00 | 0.00 | 0.00 | 0.00 | 0.00 | 0.00 | 0.00 | 0.00 | 0.00 | XXX
A0180 |  | I | Noner transport lodgng recip | 0.00 | 0.00 | 0.00 | 0.00 | 0.00 | 0.00 | 0.00 | 0.00 | 0.00 | 0.00 | XXX
A0190 |  | I | Noner transport meals recip | 0.00 | 0.00 | 0.00 | 0.00 | 0.00 | 0.00 | 0.00 | 0.00 | 0.00 | 0.00 | XXX
A0200 |  | I | Noner transport lodgng escrt | 0.00 | 0.00 | 0.00 | 0.00 | 0.00 | 0.00 | 0.00 | 0.00 | 0.00 | 0.00 | XXX
A0210 |  | I | Noner transport meals escort | 0.00 | 0.00 | 0.00 | 0.00 | 0.00 | 0.00 | 0.00 | 0.00 | 0.00 | 0.00 | XXX
A0225 |  | X | Neonatal emergency transport | 0.00 | 0.00 | 0.00 | 0.00 | 0.00 | 0.00 | 0.00 | 0.00 | 0.00 | 0.00 | XXX
A0300 |  | X | Ambulance basic non-emer all | 0.00 | 0.00 | 0.00 | 0.00 | 0.00 | 0.00 | 0.00 | 0.00 | 0.00 | 0.00 | XXX
A0302 |  | X | Ambulance basic emergeny all | 0.00 | 0.00 | 0.00 | 0.00 | 0.00 | 0.00 | 0.00 | 0.00 | 0.00 | 0.00 | XXX
A0304 |  | X | Amb adv non-er no serv all | 0.00 | 0.00 | 0.00 | 0.00 | 0.00 | 0.00 | 0.00 | 0.00 | 0.00 | 0.00 | XXX
A0306 |  | X | Amb adv non-er spec serv all | 0.00 | 0.00 | 0.00 | 0.00 | 0.00 | 0.00 | 0.00 | 0.00 | 0.00 | 0.00 | XXX
A0308 |  | X | Amb adv er no spec serv all | 0.00 | 0.00 | 0.00 | 0.00 | 0.00 | 0.00 | 0.00 | 0.00 | 0.00 | 0.00 | XXX
A0310 |  | X | Amb adv er spec serv all | 0.00 | 0.00 | 0.00 | 0.00 | 0.00 | 0.00 | 0.00 | 0.00 | 0.00 | 0.00 | XXX
A0320 |  | X | Amb basic non-er + supplies | 0.00 | 0.00 | 0.00 | 0.00 | 0.00 | 0.00 | 0.00 | 0.00 | 0.00 | 0.00 | XXX
A0322 |  | X | Amb basic emerg + supplies | 0.00 | 0.00 | 0.00 | 0.00 | 0.00 | 0.00 | 0.00 | 0.00 | 0.00 | 0.00 | XXX
A0324 |  | X | Adv non-er serv sep mileage | 0.00 | 0.00 | 0.00 | 0.00 | 0.00 | 0.00 | 0.00 | 0.00 | 0.00 | 0.00 | XXX
A0326 |  | X | Adv non-er no serv sep mile | 0.00 | 0.00 | 0.00 | 0.00 | 0.00 | 0.00 | 0.00 | 0.00 | 0.00 | 0.00 | XXX
A0328 |  | X | Adv er no serv sep mileage | 0.00 | 0.00 | 0.00 | 0.00 | 0.00 | 0.00 | 0.00 | 0.00 | 0.00 | 0.00 | XXX
A0330 |  | X | Adv er spec serv sep mile | 0.00 | 0.00 | 0.00 | 0.00 | 0.00 | 0.00 | 0.00 | 0.00 | 0.00 | 0.00 | XXX
A0340 |  | X | Amb basic non-er + mileage | 0.00 | 0.00 | 0.00 | 0.00 | 0.00 | 0.00 | 0.00 | 0.00 | 0.00 | 0.00 | XXX
A0342 |  | X | Ambul basic emer + mileage | 0.00 | 0.00 | 0.00 | 0.00 | 0.00 | 0.00 | 0.00 | 0.00 | 0.00 | 0.00 | XXX
A0344 |  | X | Amb adv non-er no serv +mile | 0.00 | 0.00 | 0.00 | 0.00 | 0.00 | 0.00 | 0.00 | 0.00 | 0.00 | 0.00 | XXX
A0346 |  | X | Amb adv non-er serv + mile | 0.00 | 0.00 | 0.00 | 0.00 | 0.00 | 0.00 | 0.00 | 0.00 | 0.00 | 0.00 | XXX
A0348 |  | X | Adv emer no spec serv + mile | 0.00 | 0.00 | 0.00 | 0.00 | 0.00 | 0.00 | 0.00 | 0.00 | 0.00 | 0.00 | XXX
A0350 |  | X | Adv emer spec serv + mileage | 0.00 | 0.00 | 0.00 | 0.00 | 0.00 | 0.00 | 0.00 | 0.00 | 0.00 | 0.00 | XXX
A0360 |  | X | Basic non-er sep mile & supp | 0.00 | 0.00 | 0.00 | 0.00 | 0.00 | 0.00 | 0.00 | 0.00 | 0.00 | 0.00 | XXX
A0362 |  | X | Basic emer sep mile & supply | 0.00 | 0.00 | 0.00 | 0.00 | 0.00 | 0.00 | 0.00 | 0.00 | 0.00 | 0.00 | XXX
A0364 |  | X | Adv non-er no serv sep mi&su | 0.00 | 0.00 | 0.00 | 0.00 | 0.00 | 0.00 | 0.00 | 0.00 | 0.00 | 0.00 | XXX
A0366 |  | X | Adv non-er serv sep mil&supp | 0.00 | 0.00 | 0.00 | 0.00 | 0.00 | 0.00 | 0.00 | 0.00 | 0.00 | 0.00 | XXX
A0368 |  | X | Adv er no serv sep mile&supp | 0.00 | 0.00 | 0.00 | 0.00 | 0.00 | 0.00 | 0.00 | 0.00 | 0.00 | 0.00 | XXX
A0370 |  | X | Adv er spec serv sep mi&supp | 0.00 | 0.00 | 0.00 | 0.00 | 0.00 | 0.00 | 0.00 | 0.00 | 0.00 | 0.00 | XXX
A0380 |  | X | Basic life support mileage | 0.00 | 0.00 | 0.00 | 0.00 | 0.00 | 0.00 | 0.00 | 0.00 | 0.00 | 0.00 | XXX
A0382 |  | X | Basic support routine suppls | 0.00 | 0.00 | 0.00 | 0.00 | 0.00 | 0.00 | 0.00 | 0.00 | 0.00 | 0.00 | XXX
A0384 |  | X | Bls defibrillation supplies | 0.00 | 0.00 | 0.00 | 0.00 | 0.00 | 0.00 | 0.00 | 0.00 | 0.00 | 0.00 | XXX
A0390 |  | X | Advanced life support mileag | 0.00 | 0.00 | 0.00 | 0.00 | 0.00 | 0.00 | 0.00 | 0.00 | 0.00 | 0.00 | XXX
A0392 |  | X | Als defibrillation supplies | 0.00 | 0.00 | 0.00 | 0.00 | 0.00 | 0.00 | 0.00 | 0.00 | 0.00 | 0.00 | XXX
A0394 |  | X | Als IV drug therapy supplies | 0.00 | 0.00 | 0.00 | 0.00 | 0.00 | 0.00 | 0.00 | 0.00 | 0.00 | 0.00 | XXX
A0396 |  | X | Als esophageal intub suppls | 0.00 | 0.00 | 0.00 | 0.00 | 0.00 | 0.00 | 0.00 | 0.00 | 0.00 | 0.00 | XXX
A0398 |  | X | Als routine disposble suppls | 0.00 | 0.00 | 0.00 | 0.00 | 0.00 | 0.00 | 0.00 | 0.00 | 0.00 | 0.00 | XXX
A0420 |  | X | Ambulance waiting 1/2 hr | 0.00 | 0.00 | 0.00 | 0.00 | 0.00 | 0.00 | 0.00 | 0.00 | 0.00 | 0.00 | XXX
A0422 |  | X | Ambulance 02 life sustaining | 0.00 | 0.00 | 0.00 | 0.00 | 0.00 | 0.00 | 0.00 | 0.00 | 0.00 | 0.00 | XXX
A0424 |  | X | Extra ambulance attendant | 0.00 | 0.00 | 0.00 | 0.00 | 0.00 | 0.00 | 0.00 | 0.00 | 0.00 | 0.00 | XXX
A0888 |  | N | Noncovered ambulance mileage | 0.00 | 0.00 | 0.00 | 0.00 | 0.00 | 0.00 | 0.00 | 0.00 | 0.00 | 0.00 | XXX
A0999 |  | X | Unlisted ambulance service | 0.00 | 0.00 | 0.00 | 0.00 | 0.00 | 0.00 | 0.00 | 0.00 | 0.00 | 0.00 | XXX
A4206 |  | I | 1 CC sterile syringe&needle | 0.00 | 0.00 | 0.00 | 0.00 | 0.00 | 0.00 | 0.00 | 0.00 | 0.00 | 0.00 | XXX
A4207 |  | I | 2 CC sterile syringe&needle | 0.00 | 0.00 | 0.00 | 0.00 | 0.00 | 0.00 | 0.00 | 0.00 | 0.00 | 0.00 | XXX
A4208 |  | I | 3 CC sterile syringe&needle | 0.00 | 0.00 | 0.00 | 0.00 | 0.00 | 0.00 | 0.00 | 0.00 | 0.00 | 0.00 | XXX
A4209 |  | I | 5+ CC sterile syringe&needle | 0.00 | 0.00 | 0.00 | 0.00 | 0.00 | 0.00 | 0.00 | 0.00 | 0.00 | 0.00 | XXX
A4210 |  | N | Nonneedle injection device | 0.00 | 0.00 | 0.00 | 0.00 | 0.00 | 0.00 | 0.00 | 0.00 | 0.00 | 0.00 | XXX
A4211 |  | P | Supp for self-adm injections | 0.00 | 0.00 | 0.00 | 0.00 | 0.00 | 0.00 | 0.00 | 0.00 | 0.00 | 0.00 | XXX
A4212 |  | P | Non coring needle or stylet | 0.00 | 0.00 | 0.00 | 0.00 | 0.00 | 0.00 | 0.00 | 0.00 | 0.00 | 0.00 | XXX
A4213 |  | I | 20+ CC syringe only | 0.00 | 0.00 | 0.00 | 0.00 | 0.00 | 0.00 | 0.00 | 0.00 | 0.00 | 0.00 | XXX
A4214 |  | P | 30 CC sterile water/saline | 0.00 | 0.00 | 0.00 | 0.00 | 0.00 | 0.00 | 0.00 | 0.00 | 0.00 | 0.00 | XXX
A4215 |  | I | Sterile needle | 0.00 | 0.00 | 0.00 | 0.00 | 0.00 | 0.00 | 0.00 | 0.00 | 0.00 | 0.00 | XXX
A4220 |  | P | Infusion pump refill kit | 0.00 | 0.00 | 0.00 | 0.00 | 0.00 | 0.00 | 0.00 | 0.00 | 0.00 | 0.00 | XXX
A4221 |  | X | Maint drug infus cath per wk | 0.00 | 0.00 | 0.00 | 0.00 | 0.00 | 0.00 | 0.00 | 0.00 | 0.00 | 0.00 | XXX
A4222 |  | X | Drug infusion pump supplies | 0.00 | 0.00 | 0.00 | 0.00 | 0.00 | 0.00 | 0.00 | 0.00 | 0.00 | 0.00 | XXX
A4230 |  | X | Infus insulin pump non needl | 0.00 | 0.00 | 0.00 | 0.00 | 0.00 | 0.00 | 0.00 | 0.00 | 0.00 | 0.00 | XXX
A4231 |  | X | Infusion insulin pump needle | 0.00 | 0.00 | 0.00 | 0.00 | 0.00 | 0.00 | 0.00 | 0.00 | 0.00 | 0.00 | XXX
A4232 |  | X | Syringe w/needle insulin 3cc | 0.00 | 0.00 | 0.00 | 0.00 | 0.00 | 0.00 | 0.00 | 0.00 | 0.00 | 0.00 | XXX
A4244 |  | I | Alcohol or peroxide per pint | 0.00 | 0.00 | 0.00 | 0.00 | 0.00 | 0.00 | 0.00 | 0.00 | 0.00 | 0.00 | XXX
A4245 |  | I | Alcohol wipes per box | 0.00 | 0.00 | 0.00 | 0.00 | 0.00 | 0.00 | 0.00 | 0.00 | 0.00 | 0.00 | XXX
A4246 |  | I | Betadine/phisohex solution | 0.00 | 0.00 | 0.00 | 0.00 | 0.00 | 0.00 | 0.00 | 0.00 | 0.00 | 0.00 | XXX
A4247 |  | I | Betadine/iodine swabs/wipes | 0.00 | 0.00 | 0.00 | 0.00 | 0.00 | 0.00 | 0.00 | 0.00 | 0.00 | 0.00 | XXX
A4250 |  | N | Urine reagent strips/tablets | 0.00 | 0.00 | 0.00 | 0.00 | 0.00 | 0.00 | 0.00 | 0.00 | 0.00 | 0.00 | XXX
A4253 |  | P | Blood glucose/reagent strips | 0.00 | 0.00 | 0.00 | 0.00 | 0.00 | 0.00 | 0.00 | 0.00 | 0.00 | 0.00 | XXX
A4254 |  | X | Battery for glucose monitor | 0.00 | 0.00 | 0.00 | 0.00 | 0.00 | 0.00 | 0.00 | 0.00 | 0.00 | 0.00 | XXX
A4255 |  | X | Glucose monitor platforms | 0.00 | 0.00 | 0.00 | 0.00 | 0.00 | 0.00 | 0.00 | 0.00 | 0.00 | 0.00 | XXX
A4256 |  | P | Calibrator solution/chips | 0.00 | 0.00 | 0.00 | 0.00 | 0.00 | 0.00 | 0.00 | 0.00 | 0.00 | 0.00 | XXX
A4258 |  | P | Lancet device each | 0.00 | 0.00 | 0.00 | 0.00 | 0.00 | 0.00 | 0.00 | 0.00 | 0.00 | 0.00 | XXX
A4259 |  | P | Lancets per box | 0.00 | 0.00 | 0.00 | 0.00 | 0.00 | 0.00 | 0.00 | 0.00 | 0.00 | 0.00 | XXX
A4260 |  | N | Levonorgestrel implant | 0.00 | 0.00 | 0.00 | 0.00 | 0.00 | 0.00 | 0.00 | 0.00 | 0.00 | 0.00 | XXX
A4261 |  | N | Cervical cap contraceptive | 0.00 | 0.00 | 0.00 | 0.00 | 0.00 | 0.00 | 0.00 | 0.00 | 0.00 | 0.00 | XXX
A4262 |  | B | Temporary tear duct plug | 0.00 | 0.00 | 0.00 | 0.00 | 0.00 | 0.00 | 0.00 | 0.00 | 0.00 | 0.00 | XXX
A4263 |  | A | Permanent tear duct plug | 0.00 | 0.00 | 0.26 | 0.00 | 0.26 | 0.00 | 0.00 | 0.26 | 0.00 | 0.26 | XXX
A4265 |  | P | Paraffin | 0.00 | 0.00 | 0.00 | 0.00 | 0.00 | 0.00 | 0.00 | 0.00 | 0.00 | 0.00 | XXX
A4270 |  | B | Disposable endoscope sheath | 0.00 | 0.00 | 0.00 | 0.00 | 0.00 | 0.00 | 0.00 | 0.00 | 0.00 | 0.00 | XXX
A4280 |  | X | Brst prsths adhsv attchmnt | 0.00 | 0.00 | 0.00 | 0.00 | 0.00 | 0.00 | 0.00 | 0.00 | 0.00 | 0.00 | XXX
A4300 |  | A | Cath impl vasc access portal | 0.00 | 0.00 | 0.26 | 0.00 | 0.26 | 0.00 | 0.00 | 0.26 | 0.00 | 0.26 | XXX
A4301 |  | P | Implantable access syst perc | 0.00 | 0.00 | 0.00 | 0.00 | 0.00 | 0.00 | 0.00 | 0.00 | 0.00 | 0.00 | XXX
A4305 |  | P | Drug delivery system >=50 ML | 0.00 | 0.00 | 0.00 | 0.00 | 0.00 | 0.00 | 0.00 | 0.00 | 0.00 | 0.00 | XXX
A4306 |  | P | Drug delivery system <=5 ML | 0.00 | 0.00 | 0.00 | 0.00 | 0.00 | 0.00 | 0.00 | 0.00 | 0.00 | 0.00 | XXX
A4310 |  | P | Insert tray w/o bag/cath | 0.00 | 0.00 | 0.00 | 0.00 | 0.00 | 0.00 | 0.00 | 0.00 | 0.00 | 0.00 | XXX
A4311 |  | P | Catheter w/o bag 2-way latex | 0.00 | 0.00 | 0.00 | 0.00 | 0.00 | 0.00 | 0.00 | 0.00 | 0.00 | 0.00 | XXX
A4312 |  | P | Cath w/o bag 2-way silicone | 0.00 | 0.00 | 0.00 | 0.00 | 0.00 | 0.00 | 0.00 | 0.00 | 0.00 | 0.00 | XXX
A4313 |  | P | Catheter w/bag 3-way | 0.00 | 0.00 | 0.00 | 0.00 | 0.00 | 0.00 | 0.00 | 0.00 | 0.00 | 0.00 | XXX
A4314 |  | P | Cath w/drainage 2-way latex | 0.00 | 0.00 | 0.00 | 0.00 | 0.00 | 0.00 | 0.00 | 0.00 | 0.00 | 0.00 | XXX
A4315 |  | P | Cath w/drainage 2-way silcne | 0.00 | 0.00 | 0.00 | 0.00 | 0.00 | 0.00 | 0.00 | 0.00 | 0.00 | 0.00 | XXX
A4316 |  | P | Cath w/drainage 3-way | 0.00 | 0.00 | 0.00 | 0.00 | 0.00 | 0.00 | 0.00 | 0.00 | 0.00 | 0.00 | XXX
A4320 |  | P | Irrigation tray | 0.00 | 0.00 | 0.00 | 0.00 | 0.00 | 0.00 | 0.00 | 0.00 | 0.00 | 0.00 | XXX
A4321 |  | X | Cath therapeutic irrig agent | 0.00 | 0.00 | 0.00 | 0.00 | 0.00 | 0.00 | 0.00 | 0.00 | 0.00 | 0.00 | XXX
A4322 |  | P | Irrigation syringe | 0.00 | 0.00 | 0.00 | 0.00 | 0.00 | 0.00 | 0.00 | 0.00 | 0.00 | 0.00 | XXX
A4323 |  | P | Saline irrigation solution | 0.00 | 0.00 | 0.00 | 0.00 | 0.00 | 0.00 | 0.00 | 0.00 | 0.00 | 0.00 | XXX
A4326 |  | P | Male external catheter | 0.00 | 0.00 | 0.00 | 0.00 | 0.00 | 0.00 | 0.00 | 0.00 | 0.00 | 0.00 | XXX
A4327 |  | P | Fem urinary collect dev cup | 0.00 | 0.00 | 0.00 | 0.00 | 0.00 | 0.00 | 0.00 | 0.00 | 0.00 | 0.00 | XXX
A4328 |  | P | Fem urinary collect pouch | 0.00 | 0.00 | 0.00 | 0.00 | 0.00 | 0.00 | 0.00 | 0.00 | 0.00 | 0.00 | XXX
A4329 |  | P | External catheter start set | 0.00 | 0.00 | 0.00 | 0.00 | 0.00 | 0.00 | 0.00 | 0.00 | 0.00 | 0.00 | XXX
A4330 |  | P | Stool collection pouch | 0.00 | 0.00 | 0.00 | 0.00 | 0.00 | 0.00 | 0.00 | 0.00 | 0.00 | 0.00 | XXX
A4335 |  | P | Incontinence supply | 0.00 | 0.00 | 0.00 | 0.00 | 0.00 | 0.00 | 0.00 | 0.00 | 0.00 | 0.00 | XXX
A4338 |  | P | Indwelling catheter latex | 0.00 | 0.00 | 0.00 | 0.00 | 0.00 | 0.00 | 0.00 | 0.00 | 0.00 | 0.00 | XXX
A4340 |  | P | Indwelling catheter special | 0.00 | 0.00 | 0.00 | 0.00 | 0.00 | 0.00 | 0.00 | 0.00 | 0.00 | 0.00 | XXX
A4344 |  | P | Cath indw foley 2 way silicn | 0.00 | 0.00 | 0.00 | 0.00 | 0.00 | 0.00 | 0.00 | 0.00 | 0.00 | 0.00 | XXX
A4346 |  | P | Cath indw foley 3 way | 0.00 | 0.00 | 0.00 | 0.00 | 0.00 | 0.00 | 0.00 | 0.00 | 0.00 | 0.00 | XXX
A4347 |  | P | Male external catheter | 0.00 | 0.00 | 0.00 | 0.00 | 0.00 | 0.00 | 0.00 | 0.00 | 0.00 | 0.00 | XXX
A4351 |  | P | Straight tip urine catheter | 0.00 | 0.00 | 0.00 | 0.00 | 0.00 | 0.00 | 0.00 | 0.00 | 0.00 | 0.00 | XXX
A4352 |  | P | Coude tip urinary catheter | 0.00 | 0.00 | 0.00 | 0.00 | 0.00 | 0.00 | 0.00 | 0.00 | 0.00 | 0.00 | XXX
A4353 |  | X | Intermittent urinary cath | 0.00 | 0.00 | 0.00 | 0.00 | 0.00 | 0.00 | 0.00 | 0.00 | 0.00 | 0.00 | XXX
A4354 |  | P | Cath insertion tray w/bag | 0.00 | 0.00 | 0.00 | 0.00 | 0.00 | 0.00 | 0.00 | 0.00 | 0.00 | 0.00 | XXX
A4355 |  | P | Bladder irrigation tubing | 0.00 | 0.00 | 0.00 | 0.00 | 0.00 | 0.00 | 0.00 | 0.00 | 0.00 | 0.00 | XXX
A4356 |  | P | Ext ureth clmp or compr dvc | 0.00 | 0.00 | 0.00 | 0.00 | 0.00 | 0.00 | 0.00 | 0.00 | 0.00 | 0.00 | XXX
A4357 |  | P | Bedside drainage bag | 0.00 | 0.00 | 0.00 | 0.00 | 0.00 | 0.00 | 0.00 | 0.00 | 0.00 | 0.00 | XXX
A4358 |  | P | Urinary leg bag | 0.00 | 0.00 | 0.00 | 0.00 | 0.00 | 0.00 | 0.00 | 0.00 | 0.00 | 0.00 | XXX
A4359 |  | P | Urinary suspensory w/o leg b | 0.00 | 0.00 | 0.00 | 0.00 | 0.00 | 0.00 | 0.00 | 0.00 | 0.00 | 0.00 | XXX
A4361 |  | P | Ostomy face plate | 0.00 | 0.00 | 0.00 | 0.00 | 0.00 | 0.00 | 0.00 | 0.00 | 0.00 | 0.00 | XXX
A4362 |  | P | Solid skin barrier | 0.00 | 0.00 | 0.00 | 0.00 | 0.00 | 0.00 | 0.00 | 0.00 | 0.00 | 0.00 | XXX
A4363 |  | D | Liquid skin barrier | 0.00 | 0.00 | 0.00 | 0.00 | 0.00 | 0.00 | 0.00 | 0.00 | 0.00 | 0.00 | XXX
A4364 |  | P | Ostomy/cath adhesive | 0.00 | 0.00 | 0.00 | 0.00 | 0.00 | 0.00 | 0.00 | 0.00 | 0.00 | 0.00 | XXX
A4365 |  | X | Ostomy adhesive remover wipe | 0.00 | 0.00 | 0.00 | 0.00 | 0.00 | 0.00 | 0.00 | 0.00 | 0.00 | 0.00 | XXX
A4367 |  | P | Ostomy belt | 0.00 | 0.00 | 0.00 | 0.00 | 0.00 | 0.00 | 0.00 | 0.00 | 0.00 | 0.00 | XXX
A4368 |  | X | Ostomy filter | 0.00 | 0.00 | 0.00 | 0.00 | 0.00 | 0.00 | 0.00 | 0.00 | 0.00 | 0.00 | XXX
A4369 |  | X | Skin barrier liquid per oz | 0.00 | 0.00 | 0.00 | 0.00 | 0.00 | 0.00 | 0.00 | 0.00 | 0.00 | 0.00 | XXX
A4370 |  | X | Skin barrier paste per oz | 0.00 | 0.00 | 0.00 | 0.00 | 0.00 | 0.00 | 0.00 | 0.00 | 0.00 | 0.00 | XXX
A4371 |  | X | Skin barrier powder per oz | 0.00 | 0.00 | 0.00 | 0.00 | 0.00 | 0.00 | 0.00 | 0.00 | 0.00 | 0.00 | XXX
A4372 |  | X | Skin barrier solid 4x4 equiv | 0.00 | 0.00 | 0.00 | 0.00 | 0.00 | 0.00 | 0.00 | 0.00 | 0.00 | 0.00 | XXX
A4373 |  | X | Skin barrier with flange | 0.00 | 0.00 | 0.00 | 0.00 | 0.00 | 0.00 | 0.00 | 0.00 | 0.00 | 0.00 | XXX
A4374 |  | X | Skin barrier extended wear | 0.00 | 0.00 | 0.00 | 0.00 | 0.00 | 0.00 | 0.00 | 0.00 | 0.00 | 0.00 | XXX
A4375 |  | X | Drainable plastic pch w fcpl | 0.00 | 0.00 | 0.00 | 0.00 | 0.00 | 0.00 | 0.00 | 0.00 | 0.00 | 0.00 | XXX
A4376 |  | X | Drainable rubber pch w fcplt | 0.00 | 0.00 | 0.00 | 0.00 | 0.00 | 0.00 | 0.00 | 0.00 | 0.00 | 0.00 | XXX
A4377 |  | X | Drainable plstic pch w/o fp | 0.00 | 0.00 | 0.00 | 0.00 | 0.00 | 0.00 | 0.00 | 0.00 | 0.00 | 0.00 | XXX
A4378 |  | X | Drainable rubber pch w/o fp | 0.00 | 0.00 | 0.00 | 0.00 | 0.00 | 0.00 | 0.00 | 0.00 | 0.00 | 0.00 | XXX
A4379 |  | X | Urinary plastic pouch w fcpl | 0.00 | 0.00 | 0.00 | 0.00 | 0.00 | 0.00 | 0.00 | 0.00 | 0.00 | 0.00 | XXX
A4380 |  | X | Urinary rubber pouch w fcplt | 0.00 | 0.00 | 0.00 | 0.00 | 0.00 | 0.00 | 0.00 | 0.00 | 0.00 | 0.00 | XXX
A4381 |  | X | Urinary plastic pouch w/o fp | 0.00 | 0.00 | 0.00 | 0.00 | 0.00 | 0.00 | 0.00 | 0.00 | 0.00 | 0.00 | XXX
A4382 |  | X | Urinary hvy plstc pch w/o fp | 0.00 | 0.00 | 0.00 | 0.00 | 0.00 | 0.00 | 0.00 | 0.00 | 0.00 | 0.00 | XXX
A4383 |  | X | Urinary rubber pouch w/o fp | 0.00 | 0.00 | 0.00 | 0.00 | 0.00 | 0.00 | 0.00 | 0.00 | 0.00 | 0.00 | XXX
A4384 |  | X | Ostomy faceplt/silicone ring | 0.00 | 0.00 | 0.00 | 0.00 | 0.00 | 0.00 | 0.00 | 0.00 | 0.00 | 0.00 | XXX
A4385 |  | X | Ost skn barrier sld ext wear | 0.00 | 0.00 | 0.00 | 0.00 | 0.00 | 0.00 | 0.00 | 0.00 | 0.00 | 0.00 | XXX
A4386 |  | X | Ost skn barrier w flng ex wr | 0.00 | 0.00 | 0.00 | 0.00 | 0.00 | 0.00 | 0.00 | 0.00 | 0.00 | 0.00 | XXX
A4387 |  | X | Ost clsd pouch w att st barr | 0.00 | 0.00 | 0.00 | 0.00 | 0.00 | 0.00 | 0.00 | 0.00 | 0.00 | 0.00 | XXX
A4388 |  | X | Drainable pch w ex wear barr | 0.00 | 0.00 | 0.00 | 0.00 | 0.00 | 0.00 | 0.00 | 0.00 | 0.00 | 0.00 | XXX
A4389 |  | X | Drainable pch w st wear barr | 0.00 | 0.00 | 0.00 | 0.00 | 0.00 | 0.00 | 0.00 | 0.00 | 0.00 | 0.00 | XXX
A4390 |  | X | Drainable pch ex wear convex | 0.00 | 0.00 | 0.00 | 0.00 | 0.00 | 0.00 | 0.00 | 0.00 | 0.00 | 0.00 | XXX
A4391 |  | X | Urinary pouch w ex wear barr | 0.00 | 0.00 | 0.00 | 0.00 | 0.00 | 0.00 | 0.00 | 0.00 | 0.00 | 0.00 | XXX
A4392 |  | X | Urinary pouch w st wear barr | 0.00 | 0.00 | 0.00 | 0.00 | 0.00 | 0.00 | 0.00 | 0.00 | 0.00 | 0.00 | XXX
A4393 |  | X | Urine pch w ex wear bar conv | 0.00 | 0.00 | 0.00 | 0.00 | 0.00 | 0.00 | 0.00 | 0.00 | 0.00 | 0.00 | XXX
A4394 |  | X | Ostomy pouch liq deodorant | 0.00 | 0.00 | 0.00 | 0.00 | 0.00 | 0.00 | 0.00 | 0.00 | 0.00 | 0.00 | XXX
A4395 |  | X | Ostomy pouch solid deodorant | 0.00 | 0.00 | 0.00 | 0.00 | 0.00 | 0.00 | 0.00 | 0.00 | 0.00 | 0.00 | XXX
A4397 |  | P | Irrigation supply sleeve | 0.00 | 0.00 | 0.00 | 0.00 | 0.00 | 0.00 | 0.00 | 0.00 | 0.00 | 0.00 | XXX
A4398 |  | P | Ostomy irrigation bag | 0.00 | 0.00 | 0.00 | 0.00 | 0.00 | 0.00 | 0.00 | 0.00 | 0.00 | 0.00 | XXX
A4399 |  | P | Ostomy irrig cone/cath w brs | 0.00 | 0.00 | 0.00 | 0.00 | 0.00 | 0.00 | 0.00 | 0.00 | 0.00 | 0.00 | XXX
A4400 |  | P | Ostomy irrigation set | 0.00 | 0.00 | 0.00 | 0.00 | 0.00 | 0.00 | 0.00 | 0.00 | 0.00 | 0.00 | XXX
A4402 |  | P | Lubricant per ounce | 0.00 | 0.00 | 0.00 | 0.00 | 0.00 | 0.00 | 0.00 | 0.00 | 0.00 | 0.00 | XXX
A4404 |  | P | Ostomy ring each | 0.00 | 0.00 | 0.00 | 0.00 | 0.00 | 0.00 | 0.00 | 0.00 | 0.00 | 0.00 | XXX
A4421 |  | P | Ostomy supply misc | 0.00 | 0.00 | 0.00 | 0.00 | 0.00 | 0.00 | 0.00 | 0.00 | 0.00 | 0.00 | XXX
A4454 |  | P | Tape all types all sizes | 0.00 | 0.00 | 0.00 | 0.00 | 0.00 | 0.00 | 0.00 | 0.00 | 0.00 | 0.00 | XXX
A4455 |  | P | Adhesive remover per ounce | 0.00 | 0.00 | 0.00 | 0.00 | 0.00 | 0.00 | 0.00 | 0.00 | 0.00 | 0.00 | XXX
A4460 |  | P | Elastic compression bandage | 0.00 | 0.00 | 0.00 | 0.00 | 0.00 | 0.00 | 0.00 | 0.00 | 0.00 | 0.00 | XXX
A4462 |  | X | Abdmnl drssng holder/binder | 0.00 | 0.00 | 0.00 | 0.00 | 0.00 | 0.00 | 0.00 | 0.00 | 0.00 | 0.00 | XXX
A4465 |  | P | Non-elastic extremity binder | 0.00 | 0.00 | 0.00 | 0.00 | 0.00 | 0.00 | 0.00 | 0.00 | 0.00 | 0.00 | XXX
A4470 |  | P | Gravlee jet washer | 0.00 | 0.00 | 0.00 | 0.00 | 0.00 | 0.00 | 0.00 | 0.00 | 0.00 | 0.00 | XXX
A4480 |  | P | Vabra aspirator | 0.00 | 0.00 | 0.00 | 0.00 | 0.00 | 0.00 | 0.00 | 0.00 | 0.00 | 0.00 | XXX
A4481 |  | X | Tracheostoma filter | 0.00 | 0.00 | 0.00 | 0.00 | 0.00 | 0.00 | 0.00 | 0.00 | 0.00 | 0.00 | XXX
A4483 |  | X | Moisture exchanger | 0.00 | 0.00 | 0.00 | 0.00 | 0.00 | 0.00 | 0.00 | 0.00 | 0.00 | 0.00 | XXX
A4490 |  | N | Above knee surgical stocking | 0.00 | 0.00 | 0.00 | 0.00 | 0.00 | 0.00 | 0.00 | 0.00 | 0.00 | 0.00 | XXX
A4495 |  | N | Thigh length surg stocking | 0.00 | 0.00 | 0.00 | 0.00 | 0.00 | 0.00 | 0.00 | 0.00 | 0.00 | 0.00 | XXX
A4500 |  | N | Below knee surgical stocking | 0.00 | 0.00 | 0.00 | 0.00 | 0.00 | 0.00 | 0.00 | 0.00 | 0.00 | 0.00 | XXX
A4510 |  | N | Full length surg stocking | 0.00 | 0.00 | 0.00 | 0.00 | 0.00 | 0.00 | 0.00 | 0.00 | 0.00 | 0.00 | XXX
A4550 |  | A | Surgical trays | 0.00 | 0.00 | 0.26 | 0.00 | 0.26 | 0.00 | 0.00 | 0.26 | 0.00 | 0.26 | XXX
A4554 |  | N | Disposable underpads | 0.00 | 0.00 | 0.00 | 0.00 | 0.00 | 0.00 | 0.00 | 0.00 | 0.00 | 0.00 | XXX
A4556 |  | P | Electrodes, pair | 0.00 | 0.00 | 0.00 | 0.00 | 0.00 | 0.00 | 0.00 | 0.00 | 0.00 | 0.00 | XXX
A4557 |  | P | Lead wires, pair | 0.00 | 0.00 | 0.00 | 0.00 | 0.00 | 0.00 | 0.00 | 0.00 | 0.00 | 0.00 | XXX
A4558 |  | P | Conductive paste or gel | 0.00 | 0.00 | 0.00 | 0.00 | 0.00 | 0.00 | 0.00 | 0.00 | 0.00 | 0.00 | XXX
A4560 |  | X | Pessary | 0.00 | 0.00 | 0.00 | 0.00 | 0.00 | 0.00 | 0.00 | 0.00 | 0.00 | 0.00 | XXX
A4565 |  | X | Slings | 0.00 | 0.00 | 0.00 | 0.00 | 0.00 | 0.00 | 0.00 | 0.00 | 0.00 | 0.00 | XXX
A4570 |  | X | Splint | 0.00 | 0.00 | 0.00 | 0.00 | 0.00 | 0.00 | 0.00 | 0.00 | 0.00 | 0.00 | XXX
A4572 |  | X | Rib belt | 0.00 | 0.00 | 0.00 | 0.00 | 0.00 | 0.00 | 0.00 | 0.00 | 0.00 | 0.00 | XXX
A4575 |  | N | Hyperbaric o2 chamber disps | 0.00 | 0.00 | 0.00 | 0.00 | 0.00 | 0.00 | 0.00 | 0.00 | 0.00 | 0.00 | XXX
A4580 |  | X | Cast supplies (plaster) | 0.00 | 0.00 | 0.00 | 0.00 | 0.00 | 0.00 | 0.00 | 0.00 | 0.00 | 0.00 | XXX
A4590 |  | X | Special casting material | 0.00 | 0.00 | 0.00 | 0.00 | 0.00 | 0.00 | 0.00 | 0.00 | 0.00 | 0.00 | XXX
A4595 |  | X | TENS suppl 2 lead per month | 0.00 | 0.00 | 0.00 | 0.00 | 0.00 | 0.00 | 0.00 | 0.00 | 0.00 | 0.00 | XXX
A4611 |  | X | Heavy duty battery | 0.00 | 0.00 | 0.00 | 0.00 | 0.00 | 0.00 | 0.00 | 0.00 | 0.00 | 0.00 | XXX
A4612 |  | X | Battery cables | 0.00 | 0.00 | 0.00 | 0.00 | 0.00 | 0.00 | 0.00 | 0.00 | 0.00 | 0.00 | XXX
A4613 |  | X | Battery charger | 0.00 | 0.00 | 0.00 | 0.00 | 0.00 | 0.00 | 0.00 | 0.00 | 0.00 | 0.00 | XXX
A4614 |  | X | Hand-held PEFR meter | 0.00 | 0.00 | 0.00 | 0.00 | 0.00 | 0.00 | 0.00 | 0.00 | 0.00 | 0.00 | XXX
A4615 |  | X | Cannula nasal | 0.00 | 0.00 | 0.00 | 0.00 | 0.00 | 0.00 | 0.00 | 0.00 | 0.00 | 0.00 | XXX
A4616 |  | X | Tubing (oxygen) per foot | 0.00 | 0.00 | 0.00 | 0.00 | 0.00 | 0.00 | 0.00 | 0.00 | 0.00 | 0.00 | XXX
A4617 |  | X | Mouth piece | 0.00 | 0.00 | 0.00 | 0.00 | 0.00 | 0.00 | 0.00 | 0.00 | 0.00 | 0.00 | XXX
A4618 |  | X | Breathing circuits | 0.00 | 0.00 | 0.00 | 0.00 | 0.00 | 0.00 | 0.00 | 0.00 | 0.00 | 0.00 | XXX
A4619 |  | X | Face tent | 0.00 | 0.00 | 0.00 | 0.00 | 0.00 | 0.00 | 0.00 | 0.00 | 0.00 | 0.00 | XXX
A4620 |  | X | Variable concentration mask | 0.00 | 0.00 | 0.00 | 0.00 | 0.00 | 0.00 | 0.00 | 0.00 | 0.00 | 0.00 | XXX
A4621 |  | X | Tracheotomy mask or collar | 0.00 | 0.00 | 0.00 | 0.00 | 0.00 | 0.00 | 0.00 | 0.00 | 0.00 | 0.00 | XXX
A4622 |  | X | Tracheostomy or larngectomy | 0.00 | 0.00 | 0.00 | 0.00 | 0.00 | 0.00 | 0.00 | 0.00 | 0.00 | 0.00 | XXX
A4623 |  | X | Tracheostomy inner cannula | 0.00 | 0.00 | 0.00 | 0.00 | 0.00 | 0.00 | 0.00 | 0.00 | 0.00 | 0.00 | XXX
A4624 |  | X | Tracheal suction tube | 0.00 | 0.00 | 0.00 | 0.00 | 0.00 | 0.00 | 0.00 | 0.00 | 0.00 | 0.00 | XXX
A4625 |  | X | Trach care kit for new trach | 0.00 | 0.00 | 0.00 | 0.00 | 0.00 | 0.00 | 0.00 | 0.00 | 0.00 | 0.00 | XXX
A4626 |  | X | Tracheostomy cleaning brush | 0.00 | 0.00 | 0.00 | 0.00 | 0.00 | 0.00 | 0.00 | 0.00 | 0.00 | 0.00 | XXX
A4627 |  | N | Spacer bag/reservoir | 0.00 | 0.00 | 0.00 | 0.00 | 0.00 | 0.00 | 0.00 | 0.00 | 0.00 | 0.00 | XXX
A4628 |  | X | Oropharyngeal suction cath | 0.00 | 0.00 | 0.00 | 0.00 | 0.00 | 0.00 | 0.00 | 0.00 | 0.00 | 0.00 | XXX
A4629 |  | X | Tracheostomy care kit | 0.00 | 0.00 | 0.00 | 0.00 | 0.00 | 0.00 | 0.00 | 0.00 | 0.00 | 0.00 | XXX
A4630 |  | X | Repl bat t.e.n.s. own by pt | 0.00 | 0.00 | 0.00 | 0.00 | 0.00 | 0.00 | 0.00 | 0.00 | 0.00 | 0.00 | XXX
A4631 |  | X | Wheelchair battery | 0.00 | 0.00 | 0.00 | 0.00 | 0.00 | 0.00 | 0.00 | 0.00 | 0.00 | 0.00 | XXX
A4635 |  | X | Underarm crutch pad | 0.00 | 0.00 | 0.00 | 0.00 | 0.00 | 0.00 | 0.00 | 0.00 | 0.00 | 0.00 | XXX
A4636 |  | X | Handgrip for cane etc | 0.00 | 0.00 | 0.00 | 0.00 | 0.00 | 0.00 | 0.00 | 0.00 | 0.00 | 0.00 | XXX
A4637 |  | X | Repl tip cane/crutch/walker | 0.00 | 0.00 | 0.00 | 0.00 | 0.00 | 0.00 | 0.00 | 0.00 | 0.00 | 0.00 | XXX
A4640 |  | X | Alternating pressure pad | 0.00 | 0.00 | 0.00 | 0.00 | 0.00 | 0.00 | 0.00 | 0.00 | 0.00 | 0.00 | XXX
A4641 |  | E | Diagnostic imaging agent | 0.00 | 0.00 | 0.00 | 0.00 | 0.00 | 0.00 | 0.00 | 0.00 | 0.00 | 0.00 | XXX
A4642 |  | E | Satumomab pendetide per dose | 0.00 | 0.00 | 0.00 | 0.00 | 0.00 | 0.00 | 0.00 | 0.00 | 0.00 | 0.00 | XXX
A4643 |  | E | High dose contrast MRI | 0.00 | 0.00 | 0.00 | 0.00 | 0.00 | 0.00 | 0.00 | 0.00 | 0.00 | 0.00 | XXX
A4644 |  | E | Contrast 100-199 MGs iodine | 0.00 | 0.00 | 0.00 | 0.00 | 0.00 | 0.00 | 0.00 | 0.00 | 0.00 | 0.00 | XXX
A4645 |  | E | Contrast 200-299 MGs iodine | 0.00 | 0.00 | 0.00 | 0.00 | 0.00 | 0.00 | 0.00 | 0.00 | 0.00 | 0.00 | XXX
A4646 |  | E | Contrast 300-399 MGs iodine | 0.00 | 0.00 | 0.00 | 0.00 | 0.00 | 0.00 | 0.00 | 0.00 | 0.00 | 0.00 | XXX
A4647 |  | B | Supp- paramagnetic contr mat | 0.00 | 0.00 | 0.00 | 0.00 | 0.00 | 0.00 | 0.00 | 0.00 | 0.00 | 0.00 | XXX
A4649 |  | P | Surgical supplies | 0.00 | 0.00 | 0.00 | 0.00 | 0.00 | 0.00 | 0.00 | 0.00 | 0.00 | 0.00 | XXX
A4650 |  | X | Supp esrd centrifuge | 0.00 | 0.00 | 0.00 | 0.00 | 0.00 | 0.00 | 0.00 | 0.00 | 0.00 | 0.00 | XXX
A4655 |  | X | Esrd syringe/needle | 0.00 | 0.00 | 0.00 | 0.00 | 0.00 | 0.00 | 0.00 | 0.00 | 0.00 | 0.00 | XXX
A4660 |  | X | Esrd blood pressure device | 0.00 | 0.00 | 0.00 | 0.00 | 0.00 | 0.00 | 0.00 | 0.00 | 0.00 | 0.00 | XXX
A4663 |  | X | Esrd blood pressure cuff | 0.00 | 0.00 | 0.00 | 0.00 | 0.00 | 0.00 | 0.00 | 0.00 | 0.00 | 0.00 | XXX
A4670 |  | N | Auto blood pressure monitor | 0.00 | 0.00 | 0.00 | 0.00 | 0.00 | 0.00 | 0.00 | 0.00 | 0.00 | 0.00 | XXX
A4680 |  | X | Activated carbon filters | 0.00 | 0.00 | 0.00 | 0.00 | 0.00 | 0.00 | 0.00 | 0.00 | 0.00 | 0.00 | XXX
A4690 |  | X | Dialyzers | 0.00 | 0.00 | 0.00 | 0.00 | 0.00 | 0.00 | 0.00 | 0.00 | 0.00 | 0.00 | XXX
A4700 |  | X | Standard dialysate solution | 0.00 | 0.00 | 0.00 | 0.00 | 0.00 | 0.00 | 0.00 | 0.00 | 0.00 | 0.00 | XXX
A4705 |  | X | Bicarb dialysate solution | 0.00 | 0.00 | 0.00 | 0.00 | 0.00 | 0.00 | 0.00 | 0.00 | 0.00 | 0.00 | XXX
A4712 |  | X | Sterile water | 0.00 | 0.00 | 0.00 | 0.00 | 0.00 | 0.00 | 0.00 | 0.00 | 0.00 | 0.00 | XXX
A4714 |  | X | Treated water for dialysis | 0.00 | 0.00 | 0.00 | 0.00 | 0.00 | 0.00 | 0.00 | 0.00 | 0.00 | 0.00 | XXX
A4730 |  | X | Fistula cannulation set dial | 0.00 | 0.00 | 0.00 | 0.00 | 0.00 | 0.00 | 0.00 | 0.00 | 0.00 | 0.00 | XXX
A4735 |  | X | Local/topical anesthetics | 0.00 | 0.00 | 0.00 | 0.00 | 0.00 | 0.00 | 0.00 | 0.00 | 0.00 | 0.00 | XXX
A4740 |  | X | Esrd shunt accessory | 0.00 | 0.00 | 0.00 | 0.00 | 0.00 | 0.00 | 0.00 | 0.00 | 0.00 | 0.00 | XXX
A4750 |  | X | Arterial or venous tubing | 0.00 | 0.00 | 0.00 | 0.00 | 0.00 | 0.00 | 0.00 | 0.00 | 0.00 | 0.00 | XXX
A4755 |  | X | Arterial and venous tubing | 0.00 | 0.00 | 0.00 | 0.00 | 0.00 | 0.00 | 0.00 | 0.00 | 0.00 | 0.00 | XXX
A4760 |  | X | Standard testing solution | 0.00 | 0.00 | 0.00 | 0.00 | 0.00 | 0.00 | 0.00 | 0.00 | 0.00 | 0.00 | XXX
A4765 |  | X | Dialysate concentrate | 0.00 | 0.00 | 0.00 | 0.00 | 0.00 | 0.00 | 0.00 | 0.00 | 0.00 | 0.00 | XXX
A4770 |  | X | Blood testing supplies | 0.00 | 0.00 | 0.00 | 0.00 | 0.00 | 0.00 | 0.00 | 0.00 | 0.00 | 0.00 | XXX
A4771 |  | X | Blood clotting time tube | 0.00 | 0.00 | 0.00 | 0.00 | 0.00 | 0.00 | 0.00 | 0.00 | 0.00 | 0.00 | XXX
A4772 |  | X | Dextrostick/glucose strips | 0.00 | 0.00 | 0.00 | 0.00 | 0.00 | 0.00 | 0.00 | 0.00 | 0.00 | 0.00 | XXX
A4773 |  | X | Hemostix | 0.00 | 0.00 | 0.00 | 0.00 | 0.00 | 0.00 | 0.00 | 0.00 | 0.00 | 0.00 | XXX
A4774 |  | X | Ammonia test paper | 0.00 | 0.00 | 0.00 | 0.00 | 0.00 | 0.00 | 0.00 | 0.00 | 0.00 | 0.00 | XXX
A4780 |  | X | Esrd sterilizing agent | 0.00 | 0.00 | 0.00 | 0.00 | 0.00 | 0.00 | 0.00 | 0.00 | 0.00 | 0.00 | XXX
A4790 |  | X | Esrd cleansing agents | 0.00 | 0.00 | 0.00 | 0.00 | 0.00 | 0.00 | 0.00 | 0.00 | 0.00 | 0.00 | XXX
A4800 |  | X | Heparin/antidote dialysis | 0.00 | 0.00 | 0.00 | 0.00 | 0.00 | 0.00 | 0.00 | 0.00 | 0.00 | 0.00 | XXX
A4820 |  | X | Supplies hemodialysis kit | 0.00 | 0.00 | 0.00 | 0.00 | 0.00 | 0.00 | 0.00 | 0.00 | 0.00 | 0.00 | XXX
A4850 |  | X | Rubber tipped hemostats | 0.00 | 0.00 | 0.00 | 0.00 | 0.00 | 0.00 | 0.00 | 0.00 | 0.00 | 0.00 | XXX
A4860 |  | X | Disposable catheter caps | 0.00 | 0.00 | 0.00 | 0.00 | 0.00 | 0.00 | 0.00 | 0.00 | 0.00 | 0.00 | XXX
A4870 |  | X | Plumbing/electrical work | 0.00 | 0.00 | 0.00 | 0.00 | 0.00 | 0.00 | 0.00 | 0.00 | 0.00 | 0.00 | XXX
A4880 |  | X | Water storage tanks | 0.00 | 0.00 | 0.00 | 0.00 | 0.00 | 0.00 | 0.00 | 0.00 | 0.00 | 0.00 | XXX
A4890 |  | R | Contracts/repair/maintenance | 0.00 | 0.00 | 0.00 | 0.00 | 0.00 | 0.00 | 0.00 | 0.00 | 0.00 | 0.00 | XXX
A4900 |  | X | Capd supply kit | 0.00 | 0.00 | 0.00 | 0.00 | 0.00 | 0.00 | 0.00 | 0.00 | 0.00 | 0.00 | XXX
A4901 |  | X | Ccpd supply kit | 0.00 | 0.00 | 0.00 | 0.00 | 0.00 | 0.00 | 0.00 | 0.00 | 0.00 | 0.00 | XXX
A4905 |  | X | Ipd supply kit | 0.00 | 0.00 | 0.00 | 0.00 | 0.00 | 0.00 | 0.00 | 0.00 | 0.00 | 0.00 | XXX
A4910 |  | X | Esrd nonmedical supplies | 0.00 | 0.00 | 0.00 | 0.00 | 0.00 | 0.00 | 0.00 | 0.00 | 0.00 | 0.00 | XXX
A4912 |  | X | Gomco drain bottle | 0.00 | 0.00 | 0.00 | 0.00 | 0.00 | 0.00 | 0.00 | 0.00 | 0.00 | 0.00 | XXX
A4913 |  | X | Esrd supply | 0.00 | 0.00 | 0.00 | 0.00 | 0.00 | 0.00 | 0.00 | 0.00 | 0.00 | 0.00 | XXX
A4914 |  | X | Preparation kit | 0.00 | 0.00 | 0.00 | 0.00 | 0.00 | 0.00 | 0.00 | 0.00 | 0.00 | 0.00 | XXX
A4918 |  | X | Venous pressure clamp | 0.00 | 0.00 | 0.00 | 0.00 | 0.00 | 0.00 | 0.00 | 0.00 | 0.00 | 0.00 | XXX
A4919 |  | X | Supp dialysis dialyzer holde | 0.00 | 0.00 | 0.00 | 0.00 | 0.00 | 0.00 | 0.00 | 0.00 | 0.00 | 0.00 | XXX
A4920 |  | X | Harvard pressure clamp | 0.00 | 0.00 | 0.00 | 0.00 | 0.00 | 0.00 | 0.00 | 0.00 | 0.00 | 0.00 | XXX
A4921 |  | X | Measuring cylinder | 0.00 | 0.00 | 0.00 | 0.00 | 0.00 | 0.00 | 0.00 | 0.00 | 0.00 | 0.00 | XXX
A4927 |  | X | Gloves | 0.00 | 0.00 | 0.00 | 0.00 | 0.00 | 0.00 | 0.00 | 0.00 | 0.00 | 0.00 | XXX
A5051 |  | P | Pouch clsd w barr attached | 0.00 | 0.00 | 0.00 | 0.00 | 0.00 | 0.00 | 0.00 | 0.00 | 0.00 | 0.00 | XXX
A5052 |  | P | Clsd ostomy pouch w/o barr | 0.00 | 0.00 | 0.00 | 0.00 | 0.00 | 0.00 | 0.00 | 0.00 | 0.00 | 0.00 | XXX
A5053 |  | P | Clsd ostomy pouch faceplate | 0.00 | 0.00 | 0.00 | 0.00 | 0.00 | 0.00 | 0.00 | 0.00 | 0.00 | 0.00 | XXX
A5054 |  | P | Clsd ostomy pouch w/flange | 0.00 | 0.00 | 0.00 | 0.00 | 0.00 | 0.00 | 0.00 | 0.00 | 0.00 | 0.00 | XXX
A5055 |  | P | Stoma cap | 0.00 | 0.00 | 0.00 | 0.00 | 0.00 | 0.00 | 0.00 | 0.00 | 0.00 | 0.00 | XXX
A5061 |  | P | Pouch drainable w barrier at | 0.00 | 0.00 | 0.00 | 0.00 | 0.00 | 0.00 | 0.00 | 0.00 | 0.00 | 0.00 | XXX
A5062 |  | P | Drnble ostomy pouch w/o barr | 0.00 | 0.00 | 0.00 | 0.00 | 0.00 | 0.00 | 0.00 | 0.00 | 0.00 | 0.00 | XXX
A5063 |  | P | Drain ostomy pouch w/flange | 0.00 | 0.00 | 0.00 | 0.00 | 0.00 | 0.00 | 0.00 | 0.00 | 0.00 | 0.00 | XXX
A5064 |  | I | Drain ostomy pouch w/fceplte | 0.00 | 0.00 | 0.00 | 0.00 | 0.00 | 0.00 | 0.00 | 0.00 | 0.00 | 0.00 | XXX
A5065 |  | I | Drain ostomy pouch on fcplte | 0.00 | 0.00 | 0.00 | 0.00 | 0.00 | 0.00 | 0.00 | 0.00 | 0.00 | 0.00 | XXX
A5071 |  | P | Urinary pouch w/barrier | 0.00 | 0.00 | 0.00 | 0.00 | 0.00 | 0.00 | 0.00 | 0.00 | 0.00 | 0.00 | XXX
A5072 |  | P | Urinary pouch w/o barrier | 0.00 | 0.00 | 0.00 | 0.00 | 0.00 | 0.00 | 0.00 | 0.00 | 0.00 | 0.00 | XXX
A5073 |  | P | Urinary pouch on barr w/flng | 0.00 | 0.00 | 0.00 | 0.00 | 0.00 | 0.00 | 0.00 | 0.00 | 0.00 | 0.00 | XXX
A5074 |  | I | Urinary pouch w/faceplate | 0.00 | 0.00 | 0.00 | 0.00 | 0.00 | 0.00 | 0.00 | 0.00 | 0.00 | 0.00 | XXX
A5075 |  | I | Urinary pouch on faceplate | 0.00 | 0.00 | 0.00 | 0.00 | 0.00 | 0.00 | 0.00 | 0.00 | 0.00 | 0.00 | XXX
A5081 |  | P | Continent stoma plug | 0.00 | 0.00 | 0.00 | 0.00 | 0.00 | 0.00 | 0.00 | 0.00 | 0.00 | 0.00 | XXX
A5082 |  | P | Continent stoma catheter | 0.00 | 0.00 | 0.00 | 0.00 | 0.00 | 0.00 | 0.00 | 0.00 | 0.00 | 0.00 | XXX
A5093 |  | P | Ostomy accessory convex inse | 0.00 | 0.00 | 0.00 | 0.00 | 0.00 | 0.00 | 0.00 | 0.00 | 0.00 | 0.00 | XXX
A5102 |  | P | Bedside drain btl w/wo tube | 0.00 | 0.00 | 0.00 | 0.00 | 0.00 | 0.00 | 0.00 | 0.00 | 0.00 | 0.00 | XXX
A5105 |  | P | Urinary suspensory | 0.00 | 0.00 | 0.00 | 0.00 | 0.00 | 0.00 | 0.00 | 0.00 | 0.00 | 0.00 | XXX
A5112 |  | P | Urinary leg bag | 0.00 | 0.00 | 0.00 | 0.00 | 0.00 | 0.00 | 0.00 | 0.00 | 0.00 | 0.00 | XXX
A5113 |  | P | Latex leg strap | 0.00 | 0.00 | 0.00 | 0.00 | 0.00 | 0.00 | 0.00 | 0.00 | 0.00 | 0.00 | XXX
A5114 |  | P | Foam/fabric leg strap | 0.00 | 0.00 | 0.00 | 0.00 | 0.00 | 0.00 | 0.00 | 0.00 | 0.00 | 0.00 | XXX
A5119 |  | P | Skin barrier wipes box pr 50 | 0.00 | 0.00 | 0.00 | 0.00 | 0.00 | 0.00 | 0.00 | 0.00 | 0.00 | 0.00 | XXX
A5121 |  | P | Solid skin barrier 6x6 | 0.00 | 0.00 | 0.00 | 0.00 | 0.00 | 0.00 | 0.00 | 0.00 | 0.00 | 0.00 | XXX
A5122 |  | P | Solid skin barrier 8x8 | 0.00 | 0.00 | 0.00 | 0.00 | 0.00 | 0.00 | 0.00 | 0.00 | 0.00 | 0.00 | XXX
A5123 |  | P | Skin barrier with flange | 0.00 | 0.00 | 0.00 | 0.00 | 0.00 | 0.00 | 0.00 | 0.00 | 0.00 | 0.00 | XXX
A5126 |  | P | Disk/foam pad +or- adhesive | 0.00 | 0.00 | 0.00 | 0.00 | 0.00 | 0.00 | 0.00 | 0.00 | 0.00 | 0.00 | XXX
A5131 |  | P | Appliance cleaner | 0.00 | 0.00 | 0.00 | 0.00 | 0.00 | 0.00 | 0.00 | 0.00 | 0.00 | 0.00 | XXX
A5149 |  | P | Incontinence/ostomy supply | 0.00 | 0.00 | 0.00 | 0.00 | 0.00 | 0.00 | 0.00 | 0.00 | 0.00 | 0.00 | XXX
A5200 |  | X | Percutaneous catheter anchor | 0.00 | 0.00 | 0.00 | 0.00 | 0.00 | 0.00 | 0.00 | 0.00 | 0.00 | 0.00 | XXX
A5500 |  | X | Diab shoe for density insert | 0.00 | 0.00 | 0.00 | 0.00 | 0.00 | 0.00 | 0.00 | 0.00 | 0.00 | 0.00 | XXX
A5501 |  | X | Diabetic custom molded shoe | 0.00 | 0.00 | 0.00 | 0.00 | 0.00 | 0.00 | 0.00 | 0.00 | 0.00 | 0.00 | XXX
A5502 |  | X | Diabetic shoe density insert | 0.00 | 0.00 | 0.00 | 0.00 | 0.00 | 0.00 | 0.00 | 0.00 | 0.00 | 0.00 | XXX
A5503 |  | X | Diabetic shoe w/roller/rockr | 0.00 | 0.00 | 0.00 | 0.00 | 0.00 | 0.00 | 0.00 | 0.00 | 0.00 | 0.00 | XXX
A5504 |  | X | Diabetic shoe with wedge | 0.00 | 0.00 | 0.00 | 0.00 | 0.00 | 0.00 | 0.00 | 0.00 | 0.00 | 0.00 | XXX
A5505 |  | X | Diab shoe w/metatarsal bar | 0.00 | 0.00 | 0.00 | 0.00 | 0.00 | 0.00 | 0.00 | 0.00 | 0.00 | 0.00 | XXX
A5506 |  | X | Diabetic shoe w/off set heel | 0.00 | 0.00 | 0.00 | 0.00 | 0.00 | 0.00 | 0.00 | 0.00 | 0.00 | 0.00 | XXX
A5507 |  | X | Modification diabetic shoe | 0.00 | 0.00 | 0.00 | 0.00 | 0.00 | 0.00 | 0.00 | 0.00 | 0.00 | 0.00 | XXX
A5508 |  | X | Diabetic deluxe shoe | 0.00 | 0.00 | 0.00 | 0.00 | 0.00 | 0.00 | 0.00 | 0.00 | 0.00 | 0.00 | XXX
A6020 |  | P | Collagen wound dressing | 0.00 | 0.00 | 0.00 | 0.00 | 0.00 | 0.00 | 0.00 | 0.00 | 0.00 | 0.00 | XXX
A6025 |  | I | Silicone gel sheet, each | 0.00 | 0.00 | 0.00 | 0.00 | 0.00 | 0.00 | 0.00 | 0.00 | 0.00 | 0.00 | XXX
A6154 |  | P | Wound pouch each | 0.00 | 0.00 | 0.00 | 0.00 | 0.00 | 0.00 | 0.00 | 0.00 | 0.00 | 0.00 | XXX
A6196 |  | P | Alginate dressing <=16 sq in | 0.00 | 0.00 | 0.00 | 0.00 | 0.00 | 0.00 | 0.00 | 0.00 | 0.00 | 0.00 | XXX
A6197 |  | P | Alginate drsg >16 <=48 sq in | 0.00 | 0.00 | 0.00 | 0.00 | 0.00 | 0.00 | 0.00 | 0.00 | 0.00 | 0.00 | XXX
A6198 |  | P | alginate dressing > 48 sq in | 0.00 | 0.00 | 0.00 | 0.00 | 0.00 | 0.00 | 0.00 | 0.00 | 0.00 | 0.00 | XXX
A6199 |  | P | Alginate drsg wound filler | 0.00 | 0.00 | 0.00 | 0.00 | 0.00 | 0.00 | 0.00 | 0.00 | 0.00 | 0.00 | XXX
A6200 |  | X | Compos drsg <=16 no border | 0.00 | 0.00 | 0.00 | 0.00 | 0.00 | 0.00 | 0.00 | 0.00 | 0.00 | 0.00 | XXX
A6201 |  | X | Compos drsg >16<=48 no bdr | 0.00 | 0.00 | 0.00 | 0.00 | 0.00 | 0.00 | 0.00 | 0.00 | 0.00 | 0.00 | XXX
A6202 |  | X | Compos drsg >48 no border | 0.00 | 0.00 | 0.00 | 0.00 | 0.00 | 0.00 | 0.00 | 0.00 | 0.00 | 0.00 | XXX
A6203 |  | P | Composite drsg <= 16 sq in | 0.00 | 0.00 | 0.00 | 0.00 | 0.00 | 0.00 | 0.00 | 0.00 | 0.00 | 0.00 | XXX
A6204 |  | P | Composite drsg >16<=48 sq in | 0.00 | 0.00 | 0.00 | 0.00 | 0.00 | 0.00 | 0.00 | 0.00 | 0.00 | 0.00 | XXX
A6205 |  | P | Composite drsg > 48 sq in | 0.00 | 0.00 | 0.00 | 0.00 | 0.00 | 0.00 | 0.00 | 0.00 | 0.00 | 0.00 | XXX
A6206 |  | P | Contact layer <= 16 sq in | 0.00 | 0.00 | 0.00 | 0.00 | 0.00 | 0.00 | 0.00 | 0.00 | 0.00 | 0.00 | XXX
A6207 |  | P | Contact layer >16<= 48 sq in | 0.00 | 0.00 | 0.00 | 0.00 | 0.00 | 0.00 | 0.00 | 0.00 | 0.00 | 0.00 | XXX
A6208 |  | P | Contact layer > 48 sq in | 0.00 | 0.00 | 0.00 | 0.00 | 0.00 | 0.00 | 0.00 | 0.00 | 0.00 | 0.00 | XXX
A6209 |  | P | Foam drsg <=16 sq in w/o bdr | 0.00 | 0.00 | 0.00 | 0.00 | 0.00 | 0.00 | 0.00 | 0.00 | 0.00 | 0.00 | XXX
A6210 |  | P | Foam drg >16<=48 sq in w/o b | 0.00 | 0.00 | 0.00 | 0.00 | 0.00 | 0.00 | 0.00 | 0.00 | 0.00 | 0.00 | XXX
A6211 |  | P | Foam drg > 48 sq in w/o brdr | 0.00 | 0.00 | 0.00 | 0.00 | 0.00 | 0.00 | 0.00 | 0.00 | 0.00 | 0.00 | XXX
A6212 |  | P | Foam drg <=16 sq in w/border | 0.00 | 0.00 | 0.00 | 0.00 | 0.00 | 0.00 | 0.00 | 0.00 | 0.00 | 0.00 | XXX
A6213 |  | P | Foam drg >16<=48 sq in w/bdr | 0.00 | 0.00 | 0.00 | 0.00 | 0.00 | 0.00 | 0.00 | 0.00 | 0.00 | 0.00 | XXX
A6214 |  | P | Foam drg > 48 sq in w/border | 0.00 | 0.00 | 0.00 | 0.00 | 0.00 | 0.00 | 0.00 | 0.00 | 0.00 | 0.00 | XXX
A6215 |  | P | Foam dressing wound filler | 0.00 | 0.00 | 0.00 | 0.00 | 0.00 | 0.00 | 0.00 | 0.00 | 0.00 | 0.00 | XXX
A6216 |  | P | Non-sterile gauze<=16 sq in | 0.00 | 0.00 | 0.00 | 0.00 | 0.00 | 0.00 | 0.00 | 0.00 | 0.00 | 0.00 | XXX
A6217 |  | P | Non-sterile gauze>16<=48 sq | 0.00 | 0.00 | 0.00 | 0.00 | 0.00 | 0.00 | 0.00 | 0.00 | 0.00 | 0.00 | XXX
A6218 |  | P | Non-sterile gauze > 48 sq in | 0.00 | 0.00 | 0.00 | 0.00 | 0.00 | 0.00 | 0.00 | 0.00 | 0.00 | 0.00 | XXX
A6219 |  | P | Gauze <= 16 sq in w/border | 0.00 | 0.00 | 0.00 | 0.00 | 0.00 | 0.00 | 0.00 | 0.00 | 0.00 | 0.00 | XXX
A6220 |  | P | Gauze >16 <=48 sq in w/bordr | 0.00 | 0.00 | 0.00 | 0.00 | 0.00 | 0.00 | 0.00 | 0.00 | 0.00 | 0.00 | XXX
A6221 |  | P | Gauze > 48 sq in w/border | 0.00 | 0.00 | 0.00 | 0.00 | 0.00 | 0.00 | 0.00 | 0.00 | 0.00 | 0.00 | XXX
A6222 |  | P | Gauze <=16 in no w/sal w/o b | 0.00 | 0.00 | 0.00 | 0.00 | 0.00 | 0.00 | 0.00 | 0.00 | 0.00 | 0.00 | XXX
A6223 |  | P | Gauze >16<=48 no w/sal w/o b | 0.00 | 0.00 | 0.00 | 0.00 | 0.00 | 0.00 | 0.00 | 0.00 | 0.00 | 0.00 | XXX
A6224 |  | P | Gauze > 48 in no w/sal w/o b | 0.00 | 0.00 | 0.00 | 0.00 | 0.00 | 0.00 | 0.00 | 0.00 | 0.00 | 0.00 | XXX
A6228 |  | P | Gauze <= 16 sq in water/sal | 0.00 | 0.00 | 0.00 | 0.00 | 0.00 | 0.00 | 0.00 | 0.00 | 0.00 | 0.00 | XXX
A6229 |  | P | Gauze >16<=48 sq in watr/sal | 0.00 | 0.00 | 0.00 | 0.00 | 0.00 | 0.00 | 0.00 | 0.00 | 0.00 | 0.00 | XXX
A6230 |  | P | Gauze > 48 sq in water/salne | 0.00 | 0.00 | 0.00 | 0.00 | 0.00 | 0.00 | 0.00 | 0.00 | 0.00 | 0.00 | XXX
A6234 |  | P | Hydrocolld drg <=16 w/o bdr | 0.00 | 0.00 | 0.00 | 0.00 | 0.00 | 0.00 | 0.00 | 0.00 | 0.00 | 0.00 | XXX
A6235 |  | P | Hydrocolld drg >16<=48 w/o b | 0.00 | 0.00 | 0.00 | 0.00 | 0.00 | 0.00 | 0.00 | 0.00 | 0.00 | 0.00 | XXX
A6236 |  | P | Hydrocolld drg > 48 in w/o b | 0.00 | 0.00 | 0.00 | 0.00 | 0.00 | 0.00 | 0.00 | 0.00 | 0.00 | 0.00 | XXX
A6237 |  | P | Hydrocolld drg <=16 in w/bdr | 0.00 | 0.00 | 0.00 | 0.00 | 0.00 | 0.00 | 0.00 | 0.00 | 0.00 | 0.00 | XXX
A6238 |  | P | Hydrocolld drg >16<=48 w/bdr | 0.00 | 0.00 | 0.00 | 0.00 | 0.00 | 0.00 | 0.00 | 0.00 | 0.00 | 0.00 | XXX
A6239 |  | P | Hydrocolld drg > 48 in w/bdr | 0.00 | 0.00 | 0.00 | 0.00 | 0.00 | 0.00 | 0.00 | 0.00 | 0.00 | 0.00 | XXX
A6240 |  | P | Hydrocolld drg filler paste | 0.00 | 0.00 | 0.00 | 0.00 | 0.00 | 0.00 | 0.00 | 0.00 | 0.00 | 0.00 | XXX
A6241 |  | P | Hydrocolloid drg filler dry | 0.00 | 0.00 | 0.00 | 0.00 | 0.00 | 0.00 | 0.00 | 0.00 | 0.00 | 0.00 | XXX
A6242 |  | P | Hydrogel drg <=16 in w/o bdr | 0.00 | 0.00 | 0.00 | 0.00 | 0.00 | 0.00 | 0.00 | 0.00 | 0.00 | 0.00 | XXX
A6243 |  | P | Hydrogel drg >16<=48 w/o bdr | 0.00 | 0.00 | 0.00 | 0.00 | 0.00 | 0.00 | 0.00 | 0.00 | 0.00 | 0.00 | XXX
A6244 |  | P | Hydrogel drg >48 in w/o bdr | 0.00 | 0.00 | 0.00 | 0.00 | 0.00 | 0.00 | 0.00 | 0.00 | 0.00 | 0.00 | XXX
A6245 |  | P | Hydrogel drg <= 16 in w/bdr | 0.00 | 0.00 | 0.00 | 0.00 | 0.00 | 0.00 | 0.00 | 0.00 | 0.00 | 0.00 | XXX
A6246 |  | P | Hydrogel drg >16<=48 in w/b | 0.00 | 0.00 | 0.00 | 0.00 | 0.00 | 0.00 | 0.00 | 0.00 | 0.00 | 0.00 | XXX
A6247 |  | P | Hydrogel drg > 48 sq in w/b | 0.00 | 0.00 | 0.00 | 0.00 | 0.00 | 0.00 | 0.00 | 0.00 | 0.00 | 0.00 | XXX
A6248 |  | P | Hydrogel drsg gel filler | 0.00 | 0.00 | 0.00 | 0.00 | 0.00 | 0.00 | 0.00 | 0.00 | 0.00 | 0.00 | XXX
A6250 |  | P | Skin seal protect moisturizr | 0.00 | 0.00 | 0.00 | 0.00 | 0.00 | 0.00 | 0.00 | 0.00 | 0.00 | 0.00 | XXX
A6251 |  | P | Absorpt drg <=16 sq in w/o b | 0.00 | 0.00 | 0.00 | 0.00 | 0.00 | 0.00 | 0.00 | 0.00 | 0.00 | 0.00 | XXX
A6252 |  | P | Absorpt drg >16 <=48 w/o bdr | 0.00 | 0.00 | 0.00 | 0.00 | 0.00 | 0.00 | 0.00 | 0.00 | 0.00 | 0.00 | XXX
A6253 |  | P | Absorpt drg > 48 sq in w/o b | 0.00 | 0.00 | 0.00 | 0.00 | 0.00 | 0.00 | 0.00 | 0.00 | 0.00 | 0.00 | XXX
A6254 |  | P | Absorpt drg <=16 sq in w/bdr | 0.00 | 0.00 | 0.00 | 0.00 | 0.00 | 0.00 | 0.00 | 0.00 | 0.00 | 0.00 | XXX
A6255 |  | P | Absorpt drg >16<=48 in w/bdr | 0.00 | 0.00 | 0.00 | 0.00 | 0.00 | 0.00 | 0.00 | 0.00 | 0.00 | 0.00 | XXX
A6256 |  | P | Absorpt drg > 48 sq in w/bdr | 0.00 | 0.00 | 0.00 | 0.00 | 0.00 | 0.00 | 0.00 | 0.00 | 0.00 | 0.00 | XXX
A6257 |  | P | Transparent film <= 16 sq in | 0.00 | 0.00 | 0.00 | 0.00 | 0.00 | 0.00 | 0.00 | 0.00 | 0.00 | 0.00 | XXX
A6258 |  | P | Transparent film >16<=48 in | 0.00 | 0.00 | 0.00 | 0.00 | 0.00 | 0.00 | 0.00 | 0.00 | 0.00 | 0.00 | XXX
A6259 |  | P | Transparent film > 48 sq in | 0.00 | 0.00 | 0.00 | 0.00 | 0.00 | 0.00 | 0.00 | 0.00 | 0.00 | 0.00 | XXX
A6260 |  | P | Wound cleanser any type/size | 0.00 | 0.00 | 0.00 | 0.00 | 0.00 | 0.00 | 0.00 | 0.00 | 0.00 | 0.00 | XXX
A6261 |  | P | Wound filler gel/paste /oz | 0.00 | 0.00 | 0.00 | 0.00 | 0.00 | 0.00 | 0.00 | 0.00 | 0.00 | 0.00 | XXX
A6262 |  | P | Wound filler dry form / gram | 0.00 | 0.00 | 0.00 | 0.00 | 0.00 | 0.00 | 0.00 | 0.00 | 0.00 | 0.00 | XXX
A6263 |  | P | Non-sterile elastic gauze/yd | 0.00 | 0.00 | 0.00 | 0.00 | 0.00 | 0.00 | 0.00 | 0.00 | 0.00 | 0.00 | XXX
A6264 |  | P | Non-sterile no elastic gauze | 0.00 | 0.00 | 0.00 | 0.00 | 0.00 | 0.00 | 0.00 | 0.00 | 0.00 | 0.00 | XXX
A6265 |  | P | Tape per 18 sq inches | 0.00 | 0.00 | 0.00 | 0.00 | 0.00 | 0.00 | 0.00 | 0.00 | 0.00 | 0.00 | XXX
A6266 |  | P | Impreg gauze no h20/sal/yard | 0.00 | 0.00 | 0.00 | 0.00 | 0.00 | 0.00 | 0.00 | 0.00 | 0.00 | 0.00 | XXX
A6402 |  | P | Sterile gauze <= 16 sq in | 0.00 | 0.00 | 0.00 | 0.00 | 0.00 | 0.00 | 0.00 | 0.00 | 0.00 | 0.00 | XXX
A6403 |  | P | Sterile gauze>16 <= 48 sq in | 0.00 | 0.00 | 0.00 | 0.00 | 0.00 | 0.00 | 0.00 | 0.00 | 0.00 | 0.00 | XXX
A6404 |  | P | Sterile gauze > 48 sq in | 0.00 | 0.00 | 0.00 | 0.00 | 0.00 | 0.00 | 0.00 | 0.00 | 0.00 | 0.00 | XXX
A6405 |  | P | Sterile elastic gauze /yd | 0.00 | 0.00 | 0.00 | 0.00 | 0.00 | 0.00 | 0.00 | 0.00 | 0.00 | 0.00 | XXX
A6406 |  | P | Sterile non-elastic gauze/yd | 0.00 | 0.00 | 0.00 | 0.00 | 0.00 | 0.00 | 0.00 | 0.00 | 0.00 | 0.00 | XXX
A7000 |  | X | Disposable canister for pump | 0.00 | 0.00 | 0.00 | 0.00 | 0.00 | 0.00 | 0.00 | 0.00 | 0.00 | 0.00 | XXX
A7001 |  | X | Nondisposable pump canister | 0.00 | 0.00 | 0.00 | 0.00 | 0.00 | 0.00 | 0.00 | 0.00 | 0.00 | 0.00 | XXX
A7002 |  | X | Tubing used w suction pump | 0.00 | 0.00 | 0.00 | 0.00 | 0.00 | 0.00 | 0.00 | 0.00 | 0.00 | 0.00 | XXX
A7003 |  | X | Nebulizer administration set | 0.00 | 0.00 | 0.00 | 0.00 | 0.00 | 0.00 | 0.00 | 0.00 | 0.00 | 0.00 | XXX
A7004 |  | X | Disposable nebulizer sml vol | 0.00 | 0.00 | 0.00 | 0.00 | 0.00 | 0.00 | 0.00 | 0.00 | 0.00 | 0.00 | XXX
A7005 |  | X | Nondisposable nebulizer set | 0.00 | 0.00 | 0.00 | 0.00 | 0.00 | 0.00 | 0.00 | 0.00 | 0.00 | 0.00 | XXX
A7006 |  | X | Filtered nebulizer admin set | 0.00 | 0.00 | 0.00 | 0.00 | 0.00 | 0.00 | 0.00 | 0.00 | 0.00 | 0.00 | XXX
A7007 |  | X | Lg vol nebulizer disposable | 0.00 | 0.00 | 0.00 | 0.00 | 0.00 | 0.00 | 0.00 | 0.00 | 0.00 | 0.00 | XXX
A7008 |  | X | Disposable nebulizer prefill | 0.00 | 0.00 | 0.00 | 0.00 | 0.00 | 0.00 | 0.00 | 0.00 | 0.00 | 0.00 | XXX
A7009 |  | X | Nebulizer reservoir bottle | 0.00 | 0.00 | 0.00 | 0.00 | 0.00 | 0.00 | 0.00 | 0.00 | 0.00 | 0.00 | XXX
A7010 |  | X | Disposable corrugated tubing | 0.00 | 0.00 | 0.00 | 0.00 | 0.00 | 0.00 | 0.00 | 0.00 | 0.00 | 0.00 | XXX
A7011 |  | X | Nondispos corrugated tubing | 0.00 | 0.00 | 0.00 | 0.00 | 0.00 | 0.00 | 0.00 | 0.00 | 0.00 | 0.00 | XXX
A7012 |  | X | Nebulizer water collec devic | 0.00 | 0.00 | 0.00 | 0.00 | 0.00 | 0.00 | 0.00 | 0.00 | 0.00 | 0.00 | XXX
A7013 |  | X | Disposable compressor filter | 0.00 | 0.00 | 0.00 | 0.00 | 0.00 | 0.00 | 0.00 | 0.00 | 0.00 | 0.00 | XXX
A7014 |  | X | Compressor nondispos filter | 0.00 | 0.00 | 0.00 | 0.00 | 0.00 | 0.00 | 0.00 | 0.00 | 0.00 | 0.00 | XXX
A7015 |  | X | Aerosol mask used w nebulize | 0.00 | 0.00 | 0.00 | 0.00 | 0.00 | 0.00 | 0.00 | 0.00 | 0.00 | 0.00 | XXX
A7016 |  | X | Nebulizer dome & mouthpiece | 0.00 | 0.00 | 0.00 | 0.00 | 0.00 | 0.00 | 0.00 | 0.00 | 0.00 | 0.00 | XXX
A7017 |  | X | Nebulizer not used w oxygen | 0.00 | 0.00 | 0.00 | 0.00 | 0.00 | 0.00 | 0.00 | 0.00 | 0.00 | 0.00 | XXX
A9150 |  | E | Misc/exper non-prescript dru | 0.00 | 0.00 | 0.00 | 0.00 | 0.00 | 0.00 | 0.00 | 0.00 | 0.00 | 0.00 | XXX
A9160 |  | N | Podiatrist non-covered servi | 0.00 | 0.00 | 0.00 | 0.00 | 0.00 | 0.00 | 0.00 | 0.00 | 0.00 | 0.00 | XXX
A9170 |  | N | Chiropractor non-covered ser | 0.00 | 0.00 | 0.00 | 0.00 | 0.00 | 0.00 | 0.00 | 0.00 | 0.00 | 0.00 | XXX
A9190 |  | N | Misc/expe personal comfort i | 0.00 | 0.00 | 0.00 | 0.00 | 0.00 | 0.00 | 0.00 | 0.00 | 0.00 | 0.00 | XXX
A9270 |  | N | Non-covered item or service | 0.00 | 0.00 | 0.00 | 0.00 | 0.00 | 0.00 | 0.00 | 0.00 | 0.00 | 0.00 | XXX
A9300 |  | N | Exercise equipment | 0.00 | 0.00 | 0.00 | 0.00 | 0.00 | 0.00 | 0.00 | 0.00 | 0.00 | 0.00 | XXX
A9500 |  | E | Technetium TC 99m sestamibi | 0.00 | 0.00 | 0.00 | 0.00 | 0.00 | 0.00 | 0.00 | 0.00 | 0.00 | 0.00 | XXX
A9502 |  | X | Technetium TC99M tetrofosmin | 0.00 | 0.00 | 0.00 | 0.00 | 0.00 | 0.00 | 0.00 | 0.00 | 0.00 | 0.00 | XXX
A9503 |  | E | Technetium TC 99m medronate | 0.00 | 0.00 | 0.00 | 0.00 | 0.00 | 0.00 | 0.00 | 0.00 | 0.00 | 0.00 | XXX
A9504 |  | X | Technetium tc 99m apcitide | 0.00 | 0.00 | 0.00 | 0.00 | 0.00 | 0.00 | 0.00 | 0.00 | 0.00 | 0.00 | XXX
A9505 |  | E | Thallous chloride TL 201/mci | 0.00 | 0.00 | 0.00 | 0.00 | 0.00 | 0.00 | 0.00 | 0.00 | 0.00 | 0.00 | XXX
A9507 |  | X | Indium/111 capromab pendetid | 0.00 | 0.00 | 0.00 | 0.00 | 0.00 | 0.00 | 0.00 | 0.00 | 0.00 | 0.00 | XXX
A9600 |  | X | Strontium-89 chloride | 0.00 | 0.00 | 0.00 | 0.00 | 0.00 | 0.00 | 0.00 | 0.00 | 0.00 | 0.00 | XXX
A9605 |  | X | Samarium sm153 lexidronamm | 0.00 | 0.00 | 0.00 | 0.00 | 0.00 | 0.00 | 0.00 | 0.00 | 0.00 | 0.00 | XXX
A9900 |  | X | Supply/accessory/service | 0.00 | 0.00 | 0.00 | 0.00 | 0.00 | 0.00 | 0.00 | 0.00 | 0.00 | 0.00 | XXX
A9901 |  | X | Delivery/set up/dispensing | 0.00 | 0.00 | 0.00 | 0.00 | 0.00 | 0.00 | 0.00 | 0.00 | 0.00 | 0.00 | XXX
D0120 |  | N | Periodic oral evaluation | 0.00 | 0.00 | 0.00 | 0.00 | 0.00 | 0.00 | 0.00 | 0.00 | 0.00 | 0.00 | XXX
D0140 |  | N | Limit oral eval problm focus | 0.00 | 0.00 | 0.00 | 0.00 | 0.00 | 0.00 | 0.00 | 0.00 | 0.00 | 0.00 | XXX
D0150 |  | R | Comprehensve oral evaluation | 0.00 | 0.00 | 0.00 | 0.00 | 0.00 | 0.00 | 0.00 | 0.00 | 0.00 | 0.00 | YYY
D0160 |  | N | Extensv oral eval prob focus | 0.00 | 0.00 | 0.00 | 0.00 | 0.00 | 0.00 | 0.00 | 0.00 | 0.00 | 0.00 | XXX
D0170 |  | N | Re-eval,est pt,problem focus | 0.00 | 0.00 | 0.00 | 0.00 | 0.00 | 0.00 | 0.00 | 0.00 | 0.00 | 0.00 | XXX
D0210 |  | I | Intraor complete film series | 0.00 | 0.00 | 0.00 | 0.00 | 0.00 | 0.00 | 0.00 | 0.00 | 0.00 | 0.00 | XXX
D0220 |  | I | Intraoral periapical first f | 0.00 | 0.00 | 0.00 | 0.00 | 0.00 | 0.00 | 0.00 | 0.00 | 0.00 | 0.00 | XXX
D0230 |  | I | Intraoral periapical ea add | 0.00 | 0.00 | 0.00 | 0.00 | 0.00 | 0.00 | 0.00 | 0.00 | 0.00 | 0.00 | XXX
D0240 |  | R | Intraoral occlusal film | 0.00 | 0.00 | 0.00 | 0.00 | 0.00 | 0.00 | 0.00 | 0.00 | 0.00 | 0.00 | YYY
D0250 |  | R | Extraoral first film | 0.00 | 0.00 | 0.00 | 0.00 | 0.00 | 0.00 | 0.00 | 0.00 | 0.00 | 0.00 | YYY
D0260 |  | R | Extraoral ea additional film | 0.00 | 0.00 | 0.00 | 0.00 | 0.00 | 0.00 | 0.00 | 0.00 | 0.00 | 0.00 | YYY
D0270 |  | R | Dental bitewing single film | 0.00 | 0.00 | 0.00 | 0.00 | 0.00 | 0.00 | 0.00 | 0.00 | 0.00 | 0.00 | YYY
D0272 |  | R | Dental bitewings two films | 0.00 | 0.00 | 0.00 | 0.00 | 0.00 | 0.00 | 0.00 | 0.00 | 0.00 | 0.00 | YYY
D0274 |  | R | Dental bitewings four films | 0.00 | 0.00 | 0.00 | 0.00 | 0.00 | 0.00 | 0.00 | 0.00 | 0.00 | 0.00 | YYY
D0277 |  | R | Vert bitewings-sev to eight | 0.00 | 0.00 | 0.00 | 0.00 | 0.00 | 0.00 | 0.00 | 0.00 | 0.00 | 0.00 | XXX
D0290 |  | I | Dental film skull/facial bon | 0.00 | 0.00 | 0.00 | 0.00 | 0.00 | 0.00 | 0.00 | 0.00 | 0.00 | 0.00 | XXX
D0310 |  | I | Dental saliography | 0.00 | 0.00 | 0.00 | 0.00 | 0.00 | 0.00 | 0.00 | 0.00 | 0.00 | 0.00 | XXX
D0320 |  | I | Dental tmj arthrogram incl i | 0.00 | 0.00 | 0.00 | 0.00 | 0.00 | 0.00 | 0.00 | 0.00 | 0.00 | 0.00 | XXX
D0321 |  | I | Dental other tmj films | 0.00 | 0.00 | 0.00 | 0.00 | 0.00 | 0.00 | 0.00 | 0.00 | 0.00 | 0.00 | XXX
D0322 |  | I | Dental tomographic survey | 0.00 | 0.00 | 0.00 | 0.00 | 0.00 | 0.00 | 0.00 | 0.00 | 0.00 | 0.00 | XXX
D0330 |  | I | Dental panoramic film | 0.00 | 0.00 | 0.00 | 0.00 | 0.00 | 0.00 | 0.00 | 0.00 | 0.00 | 0.00 | XXX
D0340 |  | I | Dental cephalometric film | 0.00 | 0.00 | 0.00 | 0.00 | 0.00 | 0.00 | 0.00 | 0.00 | 0.00 | 0.00 | XXX
D0350 |  | I | Oral/facial images | 0.00 | 0.00 | 0.00 | 0.00 | 0.00 | 0.00 | 0.00 | 0.00 | 0.00 | 0.00 | XXX
D0415 |  | N | Bacteriologic study | 0.00 | 0.00 | 0.00 | 0.00 | 0.00 | 0.00 | 0.00 | 0.00 | 0.00 | 0.00 | XXX
D0425 |  | N | Caries susceptibility test | 0.00 | 0.00 | 0.00 | 0.00 | 0.00 | 0.00 | 0.00 | 0.00 | 0.00 | 0.00 | XXX
D0460 |  | R | Pulp vitality test | 0.00 | 0.00 | 0.00 | 0.00 | 0.00 | 0.00 | 0.00 | 0.00 | 0.00 | 0.00 | YYY
D0470 |  | N | Diagnostic casts | 0.00 | 0.00 | 0.00 | 0.00 | 0.00 | 0.00 | 0.00 | 0.00 | 0.00 | 0.00 | XXX
D0471 |  | D | Diagnostic photographs | 0.00 | 0.00 | 0.00 | 0.00 | 0.00 | 0.00 | 0.00 | 0.00 | 0.00 | 0.00 | YYY
D0472 |  | R | Gross exam, prep & report | 0.00 | 0.00 | 0.00 | 0.00 | 0.00 | 0.00 | 0.00 | 0.00 | 0.00 | 0.00 | XXX
D0473 |  | R | Micro exam, prep & report | 0.00 | 0.00 | 0.00 | 0.00 | 0.00 | 0.00 | 0.00 | 0.00 | 0.00 | 0.00 | XXX
D0474 |  | R | Micro w exam of surg margins | 0.00 | 0.00 | 0.00 | 0.00 | 0.00 | 0.00 | 0.00 | 0.00 | 0.00 | 0.00 | XXX
D0480 |  | R | Cytopath smear prep & report | 0.00 | 0.00 | 0.00 | 0.00 | 0.00 | 0.00 | 0.00 | 0.00 | 0.00 | 0.00 | XXX
D0501 |  | R | Histopathologic examinations | 0.00 | 0.00 | 0.00 | 0.00 | 0.00 | 0.00 | 0.00 | 0.00 | 0.00 | 0.00 | YYY
D0502 |  | R | Other oral pathology procedu | 0.00 | 0.00 | 0.00 | 0.00 | 0.00 | 0.00 | 0.00 | 0.00 | 0.00 | 0.00 | YYY
D0999 |  | R | Unspecified diagnostic proce | 0.00 | 0.00 | 0.00 | 0.00 | 0.00 | 0.00 | 0.00 | 0.00 | 0.00 | 0.00 | YYY
D1110 |  | N | Dental prophylaxis adult | 0.00 | 0.00 | 0.00 | 0.00 | 0.00 | 0.00 | 0.00 | 0.00 | 0.00 | 0.00 | XXX
D1120 |  | N | Dental prophylaxis child | 0.00 | 0.00 | 0.00 | 0.00 | 0.00 | 0.00 | 0.00 | 0.00 | 0.00 | 0.00 | XXX
D1201 |  | N | Topical fluor w prophy child | 0.00 | 0.00 | 0.00 | 0.00 | 0.00 | 0.00 | 0.00 | 0.00 | 0.00 | 0.00 | XXX
D1203 |  | N | Topical fluor w/o prophy chi | 0.00 | 0.00 | 0.00 | 0.00 | 0.00 | 0.00 | 0.00 | 0.00 | 0.00 | 0.00 | XXX
D1204 |  | N | Topical fluor w/o prophy adu | 0.00 | 0.00 | 0.00 | 0.00 | 0.00 | 0.00 | 0.00 | 0.00 | 0.00 | 0.00 | XXX
D1205 |  | N | Topical fluoride w/ prophy a | 0.00 | 0.00 | 0.00 | 0.00 | 0.00 | 0.00 | 0.00 | 0.00 | 0.00 | 0.00 | XXX
D1310 |  | N | Nutri counsel-control caries | 0.00 | 0.00 | 0.00 | 0.00 | 0.00 | 0.00 | 0.00 | 0.00 | 0.00 | 0.00 | XXX
D1320 |  | N | Tobacco counseling | 0.00 | 0.00 | 0.00 | 0.00 | 0.00 | 0.00 | 0.00 | 0.00 | 0.00 | 0.00 | XXX
D1330 |  | N | Oral hygiene instruction | 0.00 | 0.00 | 0.00 | 0.00 | 0.00 | 0.00 | 0.00 | 0.00 | 0.00 | 0.00 | XXX
D1351 |  | N | Dental sealant per tooth | 0.00 | 0.00 | 0.00 | 0.00 | 0.00 | 0.00 | 0.00 | 0.00 | 0.00 | 0.00 | XXX
D1510 |  | R | Space maintainer fxd unilat | 0.00 | 0.00 | 0.00 | 0.00 | 0.00 | 0.00 | 0.00 | 0.00 | 0.00 | 0.00 | YYY
D1515 |  | R | Fixed bilat space maintainer | 0.00 | 0.00 | 0.00 | 0.00 | 0.00 | 0.00 | 0.00 | 0.00 | 0.00 | 0.00 | YYY
D1520 |  | R | Remove unilat space maintain | 0.00 | 0.00 | 0.00 | 0.00 | 0.00 | 0.00 | 0.00 | 0.00 | 0.00 | 0.00 | YYY
D1525 |  | R | Remove bilat space maintain | 0.00 | 0.00 | 0.00 | 0.00 | 0.00 | 0.00 | 0.00 | 0.00 | 0.00 | 0.00 | YYY
D1550 |  | R | Recement space maintainer | 0.00 | 0.00 | 0.00 | 0.00 | 0.00 | 0.00 | 0.00 | 0.00 | 0.00 | 0.00 | YYY
D2110 |  | N | Amalgam one surface primary | 0.00 | 0.00 | 0.00 | 0.00 | 0.00 | 0.00 | 0.00 | 0.00 | 0.00 | 0.00 | XXX
D2120 |  | N | Amalgam two surfaces primary | 0.00 | 0.00 | 0.00 | 0.00 | 0.00 | 0.00 | 0.00 | 0.00 | 0.00 | 0.00 | XXX
D2130 |  | N | Amalgam three surfaces prima | 0.00 | 0.00 | 0.00 | 0.00 | 0.00 | 0.00 | 0.00 | 0.00 | 0.00 | 0.00 | XXX
D2131 |  | N | Amalgam four/more surf prima | 0.00 | 0.00 | 0.00 | 0.00 | 0.00 | 0.00 | 0.00 | 0.00 | 0.00 | 0.00 | XXX
D2140 |  | N | Amalgam one surface permanen | 0.00 | 0.00 | 0.00 | 0.00 | 0.00 | 0.00 | 0.00 | 0.00 | 0.00 | 0.00 | XXX
D2150 |  | N | Amalgam two surfaces permane | 0.00 | 0.00 | 0.00 | 0.00 | 0.00 | 0.00 | 0.00 | 0.00 | 0.00 | 0.00 | XXX
D2160 |  | N | Amalgam three surfaces perma | 0.00 | 0.00 | 0.00 | 0.00 | 0.00 | 0.00 | 0.00 | 0.00 | 0.00 | 0.00 | XXX
D2161 |  | N | Amalgam 4 or > surfaces perm | 0.00 | 0.00 | 0.00 | 0.00 | 0.00 | 0.00 | 0.00 | 0.00 | 0.00 | 0.00 | XXX
D2210 |  | D | Silcate cement per restorat | 0.00 | 0.00 | 0.00 | 0.00 | 0.00 | 0.00 | 0.00 | 0.00 | 0.00 | 0.00 | XXX
D2330 |  | N | Resin one surface-anterior | 0.00 | 0.00 | 0.00 | 0.00 | 0.00 | 0.00 | 0.00 | 0.00 | 0.00 | 0.00 | XXX
D2331 |  | N | Resin two surfaces-anterior | 0.00 | 0.00 | 0.00 | 0.00 | 0.00 | 0.00 | 0.00 | 0.00 | 0.00 | 0.00 | XXX
D2332 |  | N | Resin three surfaces-anterio | 0.00 | 0.00 | 0.00 | 0.00 | 0.00 | 0.00 | 0.00 | 0.00 | 0.00 | 0.00 | XXX
D2335 |  | N | Resin 4/> surf or w incis an | 0.00 | 0.00 | 0.00 | 0.00 | 0.00 | 0.00 | 0.00 | 0.00 | 0.00 | 0.00 | XXX
D2336 |  | N | Composite resin crown | 0.00 | 0.00 | 0.00 | 0.00 | 0.00 | 0.00 | 0.00 | 0.00 | 0.00 | 0.00 | XXX
D2337 |  | N | Compo resin crown ant-perm | 0.00 | 0.00 | 0.00 | 0.00 | 0.00 | 0.00 | 0.00 | 0.00 | 0.00 | 0.00 | XXX
D2380 |  | N | Resin one surf poster primar | 0.00 | 0.00 | 0.00 | 0.00 | 0.00 | 0.00 | 0.00 | 0.00 | 0.00 | 0.00 | XXX
D2381 |  | N | Resin two surf poster primar | 0.00 | 0.00 | 0.00 | 0.00 | 0.00 | 0.00 | 0.00 | 0.00 | 0.00 | 0.00 | XXX
D2382 |  | N | Resin three/more surf post p | 0.00 | 0.00 | 0.00 | 0.00 | 0.00 | 0.00 | 0.00 | 0.00 | 0.00 | 0.00 | XXX
D2385 |  | N | Resin one surf poster perman | 0.00 | 0.00 | 0.00 | 0.00 | 0.00 | 0.00 | 0.00 | 0.00 | 0.00 | 0.00 | XXX
D2386 |  | N | Resin two surf poster perman | 0.00 | 0.00 | 0.00 | 0.00 | 0.00 | 0.00 | 0.00 | 0.00 | 0.00 | 0.00 | XXX
D2387 |  | N | Resin three/more surf post p | 0.00 | 0.00 | 0.00 | 0.00 | 0.00 | 0.00 | 0.00 | 0.00 | 0.00 | 0.00 | XXX
D2388 |  | N | Resin four/more, post perm | 0.00 | 0.00 | 0.00 | 0.00 | 0.00 | 0.00 | 0.00 | 0.00 | 0.00 | 0.00 | XXX
D2410 |  | N | Dental gold foil one surface | 0.00 | 0.00 | 0.00 | 0.00 | 0.00 | 0.00 | 0.00 | 0.00 | 0.00 | 0.00 | XXX
D2420 |  | N | Dental gold foil two surface | 0.00 | 0.00 | 0.00 | 0.00 | 0.00 | 0.00 | 0.00 | 0.00 | 0.00 | 0.00 | XXX
D2430 |  | N | Dental gold foil three surfa | 0.00 | 0.00 | 0.00 | 0.00 | 0.00 | 0.00 | 0.00 | 0.00 | 0.00 | 0.00 | XXX
D2510 |  | N | Dental inlay metalic 1 surf | 0.00 | 0.00 | 0.00 | 0.00 | 0.00 | 0.00 | 0.00 | 0.00 | 0.00 | 0.00 | XXX
D2520 |  | N | Dental inlay metallic 2 surf | 0.00 | 0.00 | 0.00 | 0.00 | 0.00 | 0.00 | 0.00 | 0.00 | 0.00 | 0.00 | XXX
D2530 |  | N | Dental inlay metl 3/more sur | 0.00 | 0.00 | 0.00 | 0.00 | 0.00 | 0.00 | 0.00 | 0.00 | 0.00 | 0.00 | XXX
D2542 |  | N | Dental onlay metallic 2 surf | 0.00 | 0.00 | 0.00 | 0.00 | 0.00 | 0.00 | 0.00 | 0.00 | 0.00 | 0.00 | XXX
D2543 |  | N | Dental onlay metallic 3 surf | 0.00 | 0.00 | 0.00 | 0.00 | 0.00 | 0.00 | 0.00 | 0.00 | 0.00 | 0.00 | XXX
D2544 |  | N | Dental onlay metl 4/more sur | 0.00 | 0.00 | 0.00 | 0.00 | 0.00 | 0.00 | 0.00 | 0.00 | 0.00 | 0.00 | XXX
D2610 |  | N | Inlay porcelain/ceramic 1 su | 0.00 | 0.00 | 0.00 | 0.00 | 0.00 | 0.00 | 0.00 | 0.00 | 0.00 | 0.00 | XXX
D2620 |  | N | Inlay porcelain/ceramic 2 su | 0.00 | 0.00 | 0.00 | 0.00 | 0.00 | 0.00 | 0.00 | 0.00 | 0.00 | 0.00 | XXX
D2630 |  | N | Dental onlay porc 3/more sur | 0.00 | 0.00 | 0.00 | 0.00 | 0.00 | 0.00 | 0.00 | 0.00 | 0.00 | 0.00 | XXX
D2642 |  | N | Dental onlay porcelin 2 surf | 0.00 | 0.00 | 0.00 | 0.00 | 0.00 | 0.00 | 0.00 | 0.00 | 0.00 | 0.00 | XXX
D2643 |  | N | Dental onlay porcelin 3 surf | 0.00 | 0.00 | 0.00 | 0.00 | 0.00 | 0.00 | 0.00 | 0.00 | 0.00 | 0.00 | XXX
D2644 |  | N | Dental onlay porc 4/more sur | 0.00 | 0.00 | 0.00 | 0.00 | 0.00 | 0.00 | 0.00 | 0.00 | 0.00 | 0.00 | XXX
D2650 |  | N | Inlay composite/resin one su | 0.00 | 0.00 | 0.00 | 0.00 | 0.00 | 0.00 | 0.00 | 0.00 | 0.00 | 0.00 | XXX
D2651 |  | N | Inlay composite/resin two su | 0.00 | 0.00 | 0.00 | 0.00 | 0.00 | 0.00 | 0.00 | 0.00 | 0.00 | 0.00 | XXX
D2652 |  | N | Dental inlay resin 3/mre sur | 0.00 | 0.00 | 0.00 | 0.00 | 0.00 | 0.00 | 0.00 | 0.00 | 0.00 | 0.00 | XXX
D2662 |  | N | Dental onlay resin 2 surface | 0.00 | 0.00 | 0.00 | 0.00 | 0.00 | 0.00 | 0.00 | 0.00 | 0.00 | 0.00 | XXX
D2663 |  | N | Dental onlay resin 3 surface | 0.00 | 0.00 | 0.00 | 0.00 | 0.00 | 0.00 | 0.00 | 0.00 | 0.00 | 0.00 | XXX
D2664 |  | N | Dental onlay resin 4/mre sur | 0.00 | 0.00 | 0.00 | 0.00 | 0.00 | 0.00 | 0.00 | 0.00 | 0.00 | 0.00 | XXX
D2710 |  | N | Crown resin laboratory | 0.00 | 0.00 | 0.00 | 0.00 | 0.00 | 0.00 | 0.00 | 0.00 | 0.00 | 0.00 | XXX
D2720 |  | N | Crown resin w/ high noble me | 0.00 | 0.00 | 0.00 | 0.00 | 0.00 | 0.00 | 0.00 | 0.00 | 0.00 | 0.00 | XXX
D2721 |  | N | Crown resin w/ base metal | 0.00 | 0.00 | 0.00 | 0.00 | 0.00 | 0.00 | 0.00 | 0.00 | 0.00 | 0.00 | XXX
D2722 |  | N | Crown resin w/ noble metal | 0.00 | 0.00 | 0.00 | 0.00 | 0.00 | 0.00 | 0.00 | 0.00 | 0.00 | 0.00 | XXX
D2740 |  | N | Crown porcelain/ceramic subs | 0.00 | 0.00 | 0.00 | 0.00 | 0.00 | 0.00 | 0.00 | 0.00 | 0.00 | 0.00 | XXX
D2750 |  | N | Crown porcelain w/ h noble m | 0.00 | 0.00 | 0.00 | 0.00 | 0.00 | 0.00 | 0.00 | 0.00 | 0.00 | 0.00 | XXX
D2751 |  | N | Crown porcelain fused base m | 0.00 | 0.00 | 0.00 | 0.00 | 0.00 | 0.00 | 0.00 | 0.00 | 0.00 | 0.00 | XXX
D2752 |  | N | Crown porcelain w/ noble met | 0.00 | 0.00 | 0.00 | 0.00 | 0.00 | 0.00 | 0.00 | 0.00 | 0.00 | 0.00 | XXX
D2780 |  | N | Crown 3/4 cast hi noble met | 0.00 | 0.00 | 0.00 | 0.00 | 0.00 | 0.00 | 0.00 | 0.00 | 0.00 | 0.00 | XXX
D2781 |  | N | Crown 3/4 cast base metal | 0.00 | 0.00 | 0.00 | 0.00 | 0.00 | 0.00 | 0.00 | 0.00 | 0.00 | 0.00 | XXX
D2782 |  | N | Crown 3/4 cast noble metal | 0.00 | 0.00 | 0.00 | 0.00 | 0.00 | 0.00 | 0.00 | 0.00 | 0.00 | 0.00 | XXX
D2783 |  | N | Crown 3/4 porcelain/ceramic | 0.00 | 0.00 | 0.00 | 0.00 | 0.00 | 0.00 | 0.00 | 0.00 | 0.00 | 0.00 | XXX
D2790 |  | N | Crown full cast high noble m | 0.00 | 0.00 | 0.00 | 0.00 | 0.00 | 0.00 | 0.00 | 0.00 | 0.00 | 0.00 | XXX
D2791 |  | N | Crown full cast base metal | 0.00 | 0.00 | 0.00 | 0.00 | 0.00 | 0.00 | 0.00 | 0.00 | 0.00 | 0.00 | XXX
D2792 |  | N | Crown full cast noble metal | 0.00 | 0.00 | 0.00 | 0.00 | 0.00 | 0.00 | 0.00 | 0.00 | 0.00 | 0.00 | XXX
D2799 |  | N | Provisional crown | 0.00 | 0.00 | 0.00 | 0.00 | 0.00 | 0.00 | 0.00 | 0.00 | 0.00 | 0.00 | XXX
D2810 |  | D | Crown 3/4 cast metallic | 0.00 | 0.00 | 0.00 | 0.00 | 0.00 | 0.00 | 0.00 | 0.00 | 0.00 | 0.00 | XXX
D2910 |  | N | Dental recement inlay | 0.00 | 0.00 | 0.00 | 0.00 | 0.00 | 0.00 | 0.00 | 0.00 | 0.00 | 0.00 | XXX
D2920 |  | N | Dental recement crown | 0.00 | 0.00 | 0.00 | 0.00 | 0.00 | 0.00 | 0.00 | 0.00 | 0.00 | 0.00 | XXX
D2930 |  | N | Prefab stnlss steel crwn pri | 0.00 | 0.00 | 0.00 | 0.00 | 0.00 | 0.00 | 0.00 | 0.00 | 0.00 | 0.00 | XXX
D2931 |  | N | Prefab stnlss steel crown pe | 0.00 | 0.00 | 0.00 | 0.00 | 0.00 | 0.00 | 0.00 | 0.00 | 0.00 | 0.00 | XXX
D2932 |  | N | Prefabricated resin crown | 0.00 | 0.00 | 0.00 | 0.00 | 0.00 | 0.00 | 0.00 | 0.00 | 0.00 | 0.00 | XXX
D2933 |  | N | Prefab stainless steel crown | 0.00 | 0.00 | 0.00 | 0.00 | 0.00 | 0.00 | 0.00 | 0.00 | 0.00 | 0.00 | XXX
D2940 |  | N | Dental sedative filling | 0.00 | 0.00 | 0.00 | 0.00 | 0.00 | 0.00 | 0.00 | 0.00 | 0.00 | 0.00 | XXX
D2950 |  | N | Core build-up incl any pins | 0.00 | 0.00 | 0.00 | 0.00 | 0.00 | 0.00 | 0.00 | 0.00 | 0.00 | 0.00 | XXX
D2951 |  | N | Tooth pin retention | 0.00 | 0.00 | 0.00 | 0.00 | 0.00 | 0.00 | 0.00 | 0.00 | 0.00 | 0.00 | XXX
D2952 |  | N | Post and core cast + crown | 0.00 | 0.00 | 0.00 | 0.00 | 0.00 | 0.00 | 0.00 | 0.00 | 0.00 | 0.00 | XXX
D2953 |  | N | Each addtnl cast post | 0.00 | 0.00 | 0.00 | 0.00 | 0.00 | 0.00 | 0.00 | 0.00 | 0.00 | 0.00 | XXX
D2954 |  | N | Prefab post/core + crown | 0.00 | 0.00 | 0.00 | 0.00 | 0.00 | 0.00 | 0.00 | 0.00 | 0.00 | 0.00 | XXX
D2955 |  | N | Post removal | 0.00 | 0.00 | 0.00 | 0.00 | 0.00 | 0.00 | 0.00 | 0.00 | 0.00 | 0.00 | XXX
D2957 |  | N | Each addtnl prefab post | 0.00 | 0.00 | 0.00 | 0.00 | 0.00 | 0.00 | 0.00 | 0.00 | 0.00 | 0.00 | XXX
D2960 |  | N | Laminate labial veneer | 0.00 | 0.00 | 0.00 | 0.00 | 0.00 | 0.00 | 0.00 | 0.00 | 0.00 | 0.00 | XXX
D2961 |  | N | Lab labial veneer resin | 0.00 | 0.00 | 0.00 | 0.00 | 0.00 | 0.00 | 0.00 | 0.00 | 0.00 | 0.00 | XXX
D2962 |  | N | Lab labial veneer porcelain | 0.00 | 0.00 | 0.00 | 0.00 | 0.00 | 0.00 | 0.00 | 0.00 | 0.00 | 0.00 | XXX
D2970 |  | R | Temporary-fractured tooth | 0.00 | 0.00 | 0.00 | 0.00 | 0.00 | 0.00 | 0.00 | 0.00 | 0.00 | 0.00 | YYY
D2980 |  | N | Crown repair | 0.00 | 0.00 | 0.00 | 0.00 | 0.00 | 0.00 | 0.00 | 0.00 | 0.00 | 0.00 | XXX
D2999 |  | R | Dental unspec restorative pr | 0.00 | 0.00 | 0.00 | 0.00 | 0.00 | 0.00 | 0.00 | 0.00 | 0.00 | 0.00 | YYY
D3110 |  | N | Pulp cap direct | 0.00 | 0.00 | 0.00 | 0.00 | 0.00 | 0.00 | 0.00 | 0.00 | 0.00 | 0.00 | XXX
D3120 |  | N | Pulp cap indirect | 0.00 | 0.00 | 0.00 | 0.00 | 0.00 | 0.00 | 0.00 | 0.00 | 0.00 | 0.00 | XXX
D3220 |  | N | Therapeutic pulpotomy | 0.00 | 0.00 | 0.00 | 0.00 | 0.00 | 0.00 | 0.00 | 0.00 | 0.00 | 0.00 | XXX
D3221 |  | N | Gross pulpal debridement | 0.00 | 0.00 | 0.00 | 0.00 | 0.00 | 0.00 | 0.00 | 0.00 | 0.00 | 0.00 | XXX
D3230 |  | N | Pulpal therapy anterior prim | 0.00 | 0.00 | 0.00 | 0.00 | 0.00 | 0.00 | 0.00 | 0.00 | 0.00 | 0.00 | XXX
D3240 |  | N | Pulpal therapy posterior pri | 0.00 | 0.00 | 0.00 | 0.00 | 0.00 | 0.00 | 0.00 | 0.00 | 0.00 | 0.00 | XXX
D3310 |  | N | Anterior | 0.00 | 0.00 | 0.00 | 0.00 | 0.00 | 0.00 | 0.00 | 0.00 | 0.00 | 0.00 | XXX
D3320 |  | N | Root canal therapy 2 canals | 0.00 | 0.00 | 0.00 | 0.00 | 0.00 | 0.00 | 0.00 | 0.00 | 0.00 | 0.00 | XXX
D3330 |  | N | Root canal therapy 3 canals | 0.00 | 0.00 | 0.00 | 0.00 | 0.00 | 0.00 | 0.00 | 0.00 | 0.00 | 0.00 | XXX
D3331 |  | N | Non-surg tx root canal obs | 0.00 | 0.00 | 0.00 | 0.00 | 0.00 | 0.00 | 0.00 | 0.00 | 0.00 | 0.00 | XXX
D3332 |  | N | Incomplete endodontic tx | 0.00 | 0.00 | 0.00 | 0.00 | 0.00 | 0.00 | 0.00 | 0.00 | 0.00 | 0.00 | XXX
D3333 |  | N | Internal root repair | 0.00 | 0.00 | 0.00 | 0.00 | 0.00 | 0.00 | 0.00 | 0.00 | 0.00 | 0.00 | XXX
D3346 |  | N | Retreat root canal anterior | 0.00 | 0.00 | 0.00 | 0.00 | 0.00 | 0.00 | 0.00 | 0.00 | 0.00 | 0.00 | XXX
D3347 |  | N | Retreat root canal bicuspid | 0.00 | 0.00 | 0.00 | 0.00 | 0.00 | 0.00 | 0.00 | 0.00 | 0.00 | 0.00 | XXX
D3348 |  | N | Retreat root canal molar | 0.00 | 0.00 | 0.00 | 0.00 | 0.00 | 0.00 | 0.00 | 0.00 | 0.00 | 0.00 | XXX
D3351 |  | N | Apexification/recalc initial | 0.00 | 0.00 | 0.00 | 0.00 | 0.00 | 0.00 | 0.00 | 0.00 | 0.00 | 0.00 | XXX
D3352 |  | N | Apexification/recalc interim | 0.00 | 0.00 | 0.00 | 0.00 | 0.00 | 0.00 | 0.00 | 0.00 | 0.00 | 0.00 | XXX
D3353 |  | N | Apexification/recalc final | 0.00 | 0.00 | 0.00 | 0.00 | 0.00 | 0.00 | 0.00 | 0.00 | 0.00 | 0.00 | XXX
D3410 |  | N | Apicoect/perirad surg anter | 0.00 | 0.00 | 0.00 | 0.00 | 0.00 | 0.00 | 0.00 | 0.00 | 0.00 | 0.00 | XXX
D3421 |  | N | Root surgery bicuspid | 0.00 | 0.00 | 0.00 | 0.00 | 0.00 | 0.00 | 0.00 | 0.00 | 0.00 | 0.00 | XXX
D3425 |  | N | Root surgery molar | 0.00 | 0.00 | 0.00 | 0.00 | 0.00 | 0.00 | 0.00 | 0.00 | 0.00 | 0.00 | XXX
D3426 |  | N | Root surgery ea add root | 0.00 | 0.00 | 0.00 | 0.00 | 0.00 | 0.00 | 0.00 | 0.00 | 0.00 | 0.00 | XXX
D3430 |  | N | Retrograde filling | 0.00 | 0.00 | 0.00 | 0.00 | 0.00 | 0.00 | 0.00 | 0.00 | 0.00 | 0.00 | XXX
D3450 |  | N | Root amputation | 0.00 | 0.00 | 0.00 | 0.00 | 0.00 | 0.00 | 0.00 | 0.00 | 0.00 | 0.00 | XXX
D3460 |  | R | Endodontic endosseous implan | 0.00 | 0.00 | 0.00 | 0.00 | 0.00 | 0.00 | 0.00 | 0.00 | 0.00 | 0.00 | YYY
D3470 |  | N | Intentional replantation | 0.00 | 0.00 | 0.00 | 0.00 | 0.00 | 0.00 | 0.00 | 0.00 | 0.00 | 0.00 | XXX
D3910 |  | N | Isolation-tooth w rubb dam | 0.00 | 0.00 | 0.00 | 0.00 | 0.00 | 0.00 | 0.00 | 0.00 | 0.00 | 0.00 | XXX
D3920 |  | N | Tooth splitting | 0.00 | 0.00 | 0.00 | 0.00 | 0.00 | 0.00 | 0.00 | 0.00 | 0.00 | 0.00 | XXX
D3950 |  | N | Canal prep/fitting of dowel | 0.00 | 0.00 | 0.00 | 0.00 | 0.00 | 0.00 | 0.00 | 0.00 | 0.00 | 0.00 | XXX
D3960 |  | D | Bleaching of discolored toot | 0.00 | 0.00 | 0.00 | 0.00 | 0.00 | 0.00 | 0.00 | 0.00 | 0.00 | 0.00 | XXX
D3999 |  | R | Endodontic procedure | 0.00 | 0.00 | 0.00 | 0.00 | 0.00 | 0.00 | 0.00 | 0.00 | 0.00 | 0.00 | YYY
D4210 |  | I | Gingivectomy/plasty per quad | 0.00 | 0.00 | 0.00 | 0.00 | 0.00 | 0.00 | 0.00 | 0.00 | 0.00 | 0.00 | XXX
D4211 |  | I | Gingivectomy/plasty per toot | 0.00 | 0.00 | 0.00 | 0.00 | 0.00 | 0.00 | 0.00 | 0.00 | 0.00 | 0.00 | XXX
D4220 |  | N | Gingival curettage per quadr | 0.00 | 0.00 | 0.00 | 0.00 | 0.00 | 0.00 | 0.00 | 0.00 | 0.00 | 0.00 | XXX
D4240 |  | N | Gingival flap proc w/ planin | 0.00 | 0.00 | 0.00 | 0.00 | 0.00 | 0.00 | 0.00 | 0.00 | 0.00 | 0.00 | XXX
D4245 |  | N | Apically positioned flap | 0.00 | 0.00 | 0.00 | 0.00 | 0.00 | 0.00 | 0.00 | 0.00 | 0.00 | 0.00 | XXX
D4249 |  | N | Crown lengthen hard tissue | 0.00 | 0.00 | 0.00 | 0.00 | 0.00 | 0.00 | 0.00 | 0.00 | 0.00 | 0.00 | XXX
D4250 |  | D | Mucogingival surg per quadra | 0.00 | 0.00 | 0.00 | 0.00 | 0.00 | 0.00 | 0.00 | 0.00 | 0.00 | 0.00 | YYY
D4260 |  | R | Osseous surgery per quadrant | 0.00 | 0.00 | 0.00 | 0.00 | 0.00 | 0.00 | 0.00 | 0.00 | 0.00 | 0.00 | YYY
D4263 |  | R | Bone replce graft first site | 0.00 | 0.00 | 0.00 | 0.00 | 0.00 | 0.00 | 0.00 | 0.00 | 0.00 | 0.00 | YYY
D4264 |  | R | Bone replce graft each add | 0.00 | 0.00 | 0.00 | 0.00 | 0.00 | 0.00 | 0.00 | 0.00 | 0.00 | 0.00 | YYY
D4266 |  | N | Guided tiss regen resorble | 0.00 | 0.00 | 0.00 | 0.00 | 0.00 | 0.00 | 0.00 | 0.00 | 0.00 | 0.00 | XXX
D4267 |  | N | Guided tiss regen nonresorb | 0.00 | 0.00 | 0.00 | 0.00 | 0.00 | 0.00 | 0.00 | 0.00 | 0.00 | 0.00 | XXX
D4268 |  | R | Surgical revision procedure | 0.00 | 0.00 | 0.00 | 0.00 | 0.00 | 0.00 | 0.00 | 0.00 | 0.00 | 0.00 | XXX
D4270 |  | R | Pedicle soft tissue graft pr | 0.00 | 0.00 | 0.00 | 0.00 | 0.00 | 0.00 | 0.00 | 0.00 | 0.00 | 0.00 | YYY
D4271 |  | R | Free soft tissue graft proc | 0.00 | 0.00 | 0.00 | 0.00 | 0.00 | 0.00 | 0.00 | 0.00 | 0.00 | 0.00 | YYY
D4273 |  | R | Subepithelial tissue graft | 0.00 | 0.00 | 0.00 | 0.00 | 0.00 | 0.00 | 0.00 | 0.00 | 0.00 | 0.00 | YYY
D4274 |  | N | Distal/proximal wedge proc | 0.00 | 0.00 | 0.00 | 0.00 | 0.00 | 0.00 | 0.00 | 0.00 | 0.00 | 0.00 | XXX
D4320 |  | N | Provision splnt intracoronal | 0.00 | 0.00 | 0.00 | 0.00 | 0.00 | 0.00 | 0.00 | 0.00 | 0.00 | 0.00 | XXX
D4321 |  | N | Provisional splint extracoro | 0.00 | 0.00 | 0.00 | 0.00 | 0.00 | 0.00 | 0.00 | 0.00 | 0.00 | 0.00 | XXX
D4341 |  | N | Periodontal scaling & root | 0.00 | 0.00 | 0.00 | 0.00 | 0.00 | 0.00 | 0.00 | 0.00 | 0.00 | 0.00 | XXX
D4355 |  | R | Full mouth debridement | 0.00 | 0.00 | 0.00 | 0.00 | 0.00 | 0.00 | 0.00 | 0.00 | 0.00 | 0.00 | YYY
D4381 |  | R | Localized chemo delivery | 0.00 | 0.00 | 0.00 | 0.00 | 0.00 | 0.00 | 0.00 | 0.00 | 0.00 | 0.00 | YYY
D4910 |  | N | Periodontal maint procedures | 0.00 | 0.00 | 0.00 | 0.00 | 0.00 | 0.00 | 0.00 | 0.00 | 0.00 | 0.00 | XXX
D4920 |  | N | Unscheduled dressing change | 0.00 | 0.00 | 0.00 | 0.00 | 0.00 | 0.00 | 0.00 | 0.00 | 0.00 | 0.00 | XXX
D4999 |  | N | Unspecified periodontal proc | 0.00 | 0.00 | 0.00 | 0.00 | 0.00 | 0.00 | 0.00 | 0.00 | 0.00 | 0.00 | XXX
D5110 |  | N | Dentures complete maxillary | 0.00 | 0.00 | 0.00 | 0.00 | 0.00 | 0.00 | 0.00 | 0.00 | 0.00 | 0.00 | XXX
D5120 |  | N | Dentures complete mandible | 0.00 | 0.00 | 0.00 | 0.00 | 0.00 | 0.00 | 0.00 | 0.00 | 0.00 | 0.00 | XXX
D5130 |  | N | Dentures immediat maxillary | 0.00 | 0.00 | 0.00 | 0.00 | 0.00 | 0.00 | 0.00 | 0.00 | 0.00 | 0.00 | XXX
D5140 |  | N | Dentures immediat mandible | 0.00 | 0.00 | 0.00 | 0.00 | 0.00 | 0.00 | 0.00 | 0.00 | 0.00 | 0.00 | XXX
D5211 |  | N | Dentures maxill part resin | 0.00 | 0.00 | 0.00 | 0.00 | 0.00 | 0.00 | 0.00 | 0.00 | 0.00 | 0.00 | XXX
D5212 |  | N | Dentures mand part resin | 0.00 | 0.00 | 0.00 | 0.00 | 0.00 | 0.00 | 0.00 | 0.00 | 0.00 | 0.00 | XXX
D5213 |  | N | Dentures maxill part metal | 0.00 | 0.00 | 0.00 | 0.00 | 0.00 | 0.00 | 0.00 | 0.00 | 0.00 | 0.00 | XXX
D5214 |  | N | Dentures mandibl part metal | 0.00 | 0.00 | 0.00 | 0.00 | 0.00 | 0.00 | 0.00 | 0.00 | 0.00 | 0.00 | XXX
D5281 |  | N | Removable partial denture | 0.00 | 0.00 | 0.00 | 0.00 | 0.00 | 0.00 | 0.00 | 0.00 | 0.00 | 0.00 | XXX
D5410 |  | N | Dentures adjust cmplt maxil | 0.00 | 0.00 | 0.00 | 0.00 | 0.00 | 0.00 | 0.00 | 0.00 | 0.00 | 0.00 | XXX
D5411 |  | N | Dentures adjust cmplt mand | 0.00 | 0.00 | 0.00 | 0.00 | 0.00 | 0.00 | 0.00 | 0.00 | 0.00 | 0.00 | XXX
D5421 |  | N | Dentures adjust part maxill | 0.00 | 0.00 | 0.00 | 0.00 | 0.00 | 0.00 | 0.00 | 0.00 | 0.00 | 0.00 | XXX
D5422 |  | N | Dentures adjust part mandbl | 0.00 | 0.00 | 0.00 | 0.00 | 0.00 | 0.00 | 0.00 | 0.00 | 0.00 | 0.00 | XXX
D5510 |  | N | Dentur repr broken compl bas | 0.00 | 0.00 | 0.00 | 0.00 | 0.00 | 0.00 | 0.00 | 0.00 | 0.00 | 0.00 | XXX
D5520 |  | N | Replace denture teeth complt | 0.00 | 0.00 | 0.00 | 0.00 | 0.00 | 0.00 | 0.00 | 0.00 | 0.00 | 0.00 | XXX
D5610 |  | N | Dentures repair resin base | 0.00 | 0.00 | 0.00 | 0.00 | 0.00 | 0.00 | 0.00 | 0.00 | 0.00 | 0.00 | XXX
D5620 |  | N | Rep part denture cast frame | 0.00 | 0.00 | 0.00 | 0.00 | 0.00 | 0.00 | 0.00 | 0.00 | 0.00 | 0.00 | XXX
D5630 |  | N | Rep partial denture clasp | 0.00 | 0.00 | 0.00 | 0.00 | 0.00 | 0.00 | 0.00 | 0.00 | 0.00 | 0.00 | XXX
D5640 |  | N | Replace part denture teeth | 0.00 | 0.00 | 0.00 | 0.00 | 0.00 | 0.00 | 0.00 | 0.00 | 0.00 | 0.00 | XXX
D5650 |  | N | Add tooth to partial denture | 0.00 | 0.00 | 0.00 | 0.00 | 0.00 | 0.00 | 0.00 | 0.00 | 0.00 | 0.00 | XXX
D5660 |  | N | Add clasp to partial denture | 0.00 | 0.00 | 0.00 | 0.00 | 0.00 | 0.00 | 0.00 | 0.00 | 0.00 | 0.00 | XXX
D5710 |  | N | Dentures rebase cmplt maxil | 0.00 | 0.00 | 0.00 | 0.00 | 0.00 | 0.00 | 0.00 | 0.00 | 0.00 | 0.00 | XXX
D5711 |  | N | Dentures rebase cmplt mand | 0.00 | 0.00 | 0.00 | 0.00 | 0.00 | 0.00 | 0.00 | 0.00 | 0.00 | 0.00 | XXX
D5720 |  | N | Dentures rebase part maxill | 0.00 | 0.00 | 0.00 | 0.00 | 0.00 | 0.00 | 0.00 | 0.00 | 0.00 | 0.00 | XXX
D5721 |  | N | Dentures rebase part mandbl | 0.00 | 0.00 | 0.00 | 0.00 | 0.00 | 0.00 | 0.00 | 0.00 | 0.00 | 0.00 | XXX
D5730 |  | N | Denture reln cmplt maxil ch | 0.00 | 0.00 | 0.00 | 0.00 | 0.00 | 0.00 | 0.00 | 0.00 | 0.00 | 0.00 | XXX
D5731 |  | N | Denture reln cmplt mand chr | 0.00 | 0.00 | 0.00 | 0.00 | 0.00 | 0.00 | 0.00 | 0.00 | 0.00 | 0.00 | XXX
D5740 |  | N | Denture reln part maxil chr | 0.00 | 0.00 | 0.00 | 0.00 | 0.00 | 0.00 | 0.00 | 0.00 | 0.00 | 0.00 | XXX
D5741 |  | N | Denture reln part mand chr | 0.00 | 0.00 | 0.00 | 0.00 | 0.00 | 0.00 | 0.00 | 0.00 | 0.00 | 0.00 | XXX
D5750 |  | N | Denture reln cmplt max lab | 0.00 | 0.00 | 0.00 | 0.00 | 0.00 | 0.00 | 0.00 | 0.00 | 0.00 | 0.00 | XXX
D5751 |  | N | Denture reln cmplt mand lab | 0.00 | 0.00 | 0.00 | 0.00 | 0.00 | 0.00 | 0.00 | 0.00 | 0.00 | 0.00 | XXX
D5760 |  | N | Denture reln part maxil lab | 0.00 | 0.00 | 0.00 | 0.00 | 0.00 | 0.00 | 0.00 | 0.00 | 0.00 | 0.00 | XXX
D5761 |  | N | Denture reln part mand lab | 0.00 | 0.00 | 0.00 | 0.00 | 0.00 | 0.00 | 0.00 | 0.00 | 0.00 | 0.00 | XXX
D5810 |  | N | Denture interm cmplt maxill | 0.00 | 0.00 | 0.00 | 0.00 | 0.00 | 0.00 | 0.00 | 0.00 | 0.00 | 0.00 | XXX
D5811 |  | N | Denture interm cmplt mandbl | 0.00 | 0.00 | 0.00 | 0.00 | 0.00 | 0.00 | 0.00 | 0.00 | 0.00 | 0.00 | XXX
D5820 |  | N | Denture interm part maxill | 0.00 | 0.00 | 0.00 | 0.00 | 0.00 | 0.00 | 0.00 | 0.00 | 0.00 | 0.00 | XXX
D5821 |  | N | Denture interm part mandbl | 0.00 | 0.00 | 0.00 | 0.00 | 0.00 | 0.00 | 0.00 | 0.00 | 0.00 | 0.00 | XXX
D5850 |  | N | Denture tiss conditn maxill | 0.00 | 0.00 | 0.00 | 0.00 | 0.00 | 0.00 | 0.00 | 0.00 | 0.00 | 0.00 | XXX
D5851 |  | N | Denture tiss condtin mandbl | 0.00 | 0.00 | 0.00 | 0.00 | 0.00 | 0.00 | 0.00 | 0.00 | 0.00 | 0.00 | XXX
D5860 |  | N | Overdenture complete | 0.00 | 0.00 | 0.00 | 0.00 | 0.00 | 0.00 | 0.00 | 0.00 | 0.00 | 0.00 | XXX
D5861 |  | N | Overdenture partial | 0.00 | 0.00 | 0.00 | 0.00 | 0.00 | 0.00 | 0.00 | 0.00 | 0.00 | 0.00 | XXX
D5862 |  | N | Precision attachment | 0.00 | 0.00 | 0.00 | 0.00 | 0.00 | 0.00 | 0.00 | 0.00 | 0.00 | 0.00 | XXX
D5867 |  | N | Replacement of precision att | 0.00 | 0.00 | 0.00 | 0.00 | 0.00 | 0.00 | 0.00 | 0.00 | 0.00 | 0.00 | XXX
D5875 |  | N | Prosthesis modification | 0.00 | 0.00 | 0.00 | 0.00 | 0.00 | 0.00 | 0.00 | 0.00 | 0.00 | 0.00 | XXX
D5899 |  | N | Removable prosthodontic proc | 0.00 | 0.00 | 0.00 | 0.00 | 0.00 | 0.00 | 0.00 | 0.00 | 0.00 | 0.00 | XXX
D5911 |  | R | Facial moulage sectional | 0.00 | 0.00 | 0.00 | 0.00 | 0.00 | 0.00 | 0.00 | 0.00 | 0.00 | 0.00 | YYY
D5912 |  | R | Facial moulage complete | 0.00 | 0.00 | 0.00 | 0.00 | 0.00 | 0.00 | 0.00 | 0.00 | 0.00 | 0.00 | YYY
D5913 |  | I | Nasal prosthesis | 0.00 | 0.00 | 0.00 | 0.00 | 0.00 | 0.00 | 0.00 | 0.00 | 0.00 | 0.00 | XXX
D5914 |  | I | Auricular prosthesis | 0.00 | 0.00 | 0.00 | 0.00 | 0.00 | 0.00 | 0.00 | 0.00 | 0.00 | 0.00 | XXX
D5915 |  | I | Orbital prosthesis | 0.00 | 0.00 | 0.00 | 0.00 | 0.00 | 0.00 | 0.00 | 0.00 | 0.00 | 0.00 | XXX
D5916 |  | I | Ocular prosthesis | 0.00 | 0.00 | 0.00 | 0.00 | 0.00 | 0.00 | 0.00 | 0.00 | 0.00 | 0.00 | XXX
D5919 |  | I | Facial prosthesis | 0.00 | 0.00 | 0.00 | 0.00 | 0.00 | 0.00 | 0.00 | 0.00 | 0.00 | 0.00 | XXX
D5922 |  | I | Nasal septal prosthesis | 0.00 | 0.00 | 0.00 | 0.00 | 0.00 | 0.00 | 0.00 | 0.00 | 0.00 | 0.00 | XXX
D5923 |  | I | Ocular prosthesis interim | 0.00 | 0.00 | 0.00 | 0.00 | 0.00 | 0.00 | 0.00 | 0.00 | 0.00 | 0.00 | XXX
D5924 |  | I | Cranial prosthesis | 0.00 | 0.00 | 0.00 | 0.00 | 0.00 | 0.00 | 0.00 | 0.00 | 0.00 | 0.00 | XXX
D5925 |  | I | Facial augmentation implant | 0.00 | 0.00 | 0.00 | 0.00 | 0.00 | 0.00 | 0.00 | 0.00 | 0.00 | 0.00 | XXX
D5926 |  | I | Replacement nasal prosthesis | 0.00 | 0.00 | 0.00 | 0.00 | 0.00 | 0.00 | 0.00 | 0.00 | 0.00 | 0.00 | XXX
D5927 |  | I | Auricular replacement | 0.00 | 0.00 | 0.00 | 0.00 | 0.00 | 0.00 | 0.00 | 0.00 | 0.00 | 0.00 | XXX
D5928 |  | I | Orbital replacement | 0.00 | 0.00 | 0.00 | 0.00 | 0.00 | 0.00 | 0.00 | 0.00 | 0.00 | 0.00 | XXX
D5929 |  | I | Facial replacement | 0.00 | 0.00 | 0.00 | 0.00 | 0.00 | 0.00 | 0.00 | 0.00 | 0.00 | 0.00 | XXX
D5931 |  | I | Surgical obturator | 0.00 | 0.00 | 0.00 | 0.00 | 0.00 | 0.00 | 0.00 | 0.00 | 0.00 | 0.00 | XXX
D5932 |  | I | Postsurgical obturator | 0.00 | 0.00 | 0.00 | 0.00 | 0.00 | 0.00 | 0.00 | 0.00 | 0.00 | 0.00 | XXX
D5933 |  | I | Refitting of obturator | 0.00 | 0.00 | 0.00 | 0.00 | 0.00 | 0.00 | 0.00 | 0.00 | 0.00 | 0.00 | XXX
D5934 |  | I | Mandibular flange prosthesis | 0.00 | 0.00 | 0.00 | 0.00 | 0.00 | 0.00 | 0.00 | 0.00 | 0.00 | 0.00 | XXX
D5935 |  | I | Mandibular denture prosth | 0.00 | 0.00 | 0.00 | 0.00 | 0.00 | 0.00 | 0.00 | 0.00 | 0.00 | 0.00 | XXX
D5936 |  | I | Temp obturator prosthesis | 0.00 | 0.00 | 0.00 | 0.00 | 0.00 | 0.00 | 0.00 | 0.00 | 0.00 | 0.00 | XXX
D5937 |  | I | Trismus appliance | 0.00 | 0.00 | 0.00 | 0.00 | 0.00 | 0.00 | 0.00 | 0.00 | 0.00 | 0.00 | XXX
D5951 |  | R | Feeding aid | 0.00 | 0.00 | 0.00 | 0.00 | 0.00 | 0.00 | 0.00 | 0.00 | 0.00 | 0.00 | YYY
D5952 |  | I | Pediatric speech aid | 0.00 | 0.00 | 0.00 | 0.00 | 0.00 | 0.00 | 0.00 | 0.00 | 0.00 | 0.00 | XXX
D5953 |  | I | Adult speech aid | 0.00 | 0.00 | 0.00 | 0.00 | 0.00 | 0.00 | 0.00 | 0.00 | 0.00 | 0.00 | XXX
D5954 |  | I | Superimposed prosthesis | 0.00 | 0.00 | 0.00 | 0.00 | 0.00 | 0.00 | 0.00 | 0.00 | 0.00 | 0.00 | XXX
D5955 |  | I | Palatal lift prosthesis | 0.00 | 0.00 | 0.00 | 0.00 | 0.00 | 0.00 | 0.00 | 0.00 | 0.00 | 0.00 | XXX
D5958 |  | I | Intraoral con def inter plt | 0.00 | 0.00 | 0.00 | 0.00 | 0.00 | 0.00 | 0.00 | 0.00 | 0.00 | 0.00 | XXX
D5959 |  | I | Intraoral con def mod palat | 0.00 | 0.00 | 0.00 | 0.00 | 0.00 | 0.00 | 0.00 | 0.00 | 0.00 | 0.00 | XXX
D5960 |  | I | Modify speech aid prosthesis | 0.00 | 0.00 | 0.00 | 0.00 | 0.00 | 0.00 | 0.00 | 0.00 | 0.00 | 0.00 | XXX
D5982 |  | I | Surgical stent | 0.00 | 0.00 | 0.00 | 0.00 | 0.00 | 0.00 | 0.00 | 0.00 | 0.00 | 0.00 | XXX
D5983 |  | R | Radiation applicator | 0.00 | 0.00 | 0.00 | 0.00 | 0.00 | 0.00 | 0.00 | 0.00 | 0.00 | 0.00 | YYY
D5984 |  | R | Radiation shield | 0.00 | 0.00 | 0.00 | 0.00 | 0.00 | 0.00 | 0.00 | 0.00 | 0.00 | 0.00 | YYY
D5985 |  | R | Radiation cone locator | 0.00 | 0.00 | 0.00 | 0.00 | 0.00 | 0.00 | 0.00 | 0.00 | 0.00 | 0.00 | YYY
D5986 |  | N | Fluoride applicator | 0.00 | 0.00 | 0.00 | 0.00 | 0.00 | 0.00 | 0.00 | 0.00 | 0.00 | 0.00 | XXX
D5987 |  | R | Commissure splint | 0.00 | 0.00 | 0.00 | 0.00 | 0.00 | 0.00 | 0.00 | 0.00 | 0.00 | 0.00 | YYY
D5988 |  | I | Surgical splint | 0.00 | 0.00 | 0.00 | 0.00 | 0.00 | 0.00 | 0.00 | 0.00 | 0.00 | 0.00 | XXX
D5999 |  | I | Maxillofacial prosthesis | 0.00 | 0.00 | 0.00 | 0.00 | 0.00 | 0.00 | 0.00 | 0.00 | 0.00 | 0.00 | XXX
D6010 |  | I | Odontics endosteal implant | 0.00 | 0.00 | 0.00 | 0.00 | 0.00 | 0.00 | 0.00 | 0.00 | 0.00 | 0.00 | XXX
D6020 |  | I | Odontics abutment placement | 0.00 | 0.00 | 0.00 | 0.00 | 0.00 | 0.00 | 0.00 | 0.00 | 0.00 | 0.00 | XXX
D6040 |  | I | Odontics eposteal implant | 0.00 | 0.00 | 0.00 | 0.00 | 0.00 | 0.00 | 0.00 | 0.00 | 0.00 | 0.00 | XXX
D6050 |  | I | Odontics transosteal implnt | 0.00 | 0.00 | 0.00 | 0.00 | 0.00 | 0.00 | 0.00 | 0.00 | 0.00 | 0.00 | XXX
D6055 |  | I | Implant connecting bar | 0.00 | 0.00 | 0.00 | 0.00 | 0.00 | 0.00 | 0.00 | 0.00 | 0.00 | 0.00 | XXX
D6056 |  | N | Prefabricated abutment | 0.00 | 0.00 | 0.00 | 0.00 | 0.00 | 0.00 | 0.00 | 0.00 | 0.00 | 0.00 | XXX
D6057 |  | N | Custom abutment | 0.00 | 0.00 | 0.00 | 0.00 | 0.00 | 0.00 | 0.00 | 0.00 | 0.00 | 0.00 | XXX
D6058 |  | N | Abutment supported crown | 0.00 | 0.00 | 0.00 | 0.00 | 0.00 | 0.00 | 0.00 | 0.00 | 0.00 | 0.00 | XXX
D6059 |  | N | Abutment supported mtl crown | 0.00 | 0.00 | 0.00 | 0.00 | 0.00 | 0.00 | 0.00 | 0.00 | 0.00 | 0.00 | XXX
D6060 |  | N | Abutment supported mtl crown | 0.00 | 0.00 | 0.00 | 0.00 | 0.00 | 0.00 | 0.00 | 0.00 | 0.00 | 0.00 | XXX
D6061 |  | N | Abutment supported mtl crown | 0.00 | 0.00 | 0.00 | 0.00 | 0.00 | 0.00 | 0.00 | 0.00 | 0.00 | 0.00 | XXX
D6062 |  | N | Abutment supported mtl crown | 0.00 | 0.00 | 0.00 | 0.00 | 0.00 | 0.00 | 0.00 | 0.00 | 0.00 | 0.00 | XXX
D6063 |  | N | Abutment supported mtl crown | 0.00 | 0.00 | 0.00 | 0.00 | 0.00 | 0.00 | 0.00 | 0.00 | 0.00 | 0.00 | XXX
D6064 |  | N | Abutment supported mtl crown | 0.00 | 0.00 | 0.00 | 0.00 | 0.00 | 0.00 | 0.00 | 0.00 | 0.00 | 0.00 | XXX
D6065 |  | N | Implant supported crown | 0.00 | 0.00 | 0.00 | 0.00 | 0.00 | 0.00 | 0.00 | 0.00 | 0.00 | 0.00 | XXX
D6066 |  | N | Implant supported mtl crown | 0.00 | 0.00 | 0.00 | 0.00 | 0.00 | 0.00 | 0.00 | 0.00 | 0.00 | 0.00 | XXX
D6067 |  | N | Implant supported mtl crown | 0.00 | 0.00 | 0.00 | 0.00 | 0.00 | 0.00 | 0.00 | 0.00 | 0.00 | 0.00 | XXX
D6068 |  | N | Abutment supported retainer | 0.00 | 0.00 | 0.00 | 0.00 | 0.00 | 0.00 | 0.00 | 0.00 | 0.00 | 0.00 | XXX
D6069 |  | N | Abutment supported retainer | 0.00 | 0.00 | 0.00 | 0.00 | 0.00 | 0.00 | 0.00 | 0.00 | 0.00 | 0.00 | XXX
D6070 |  | N | Abutment supported retainer | 0.00 | 0.00 | 0.00 | 0.00 | 0.00 | 0.00 | 0.00 | 0.00 | 0.00 | 0.00 | XXX
D6071 |  | N | Abutment supported retainer | 0.00 | 0.00 | 0.00 | 0.00 | 0.00 | 0.00 | 0.00 | 0.00 | 0.00 | 0.00 | XXX
D6072 |  | N | Abutment supported retainer | 0.00 | 0.00 | 0.00 | 0.00 | 0.00 | 0.00 | 0.00 | 0.00 | 0.00 | 0.00 | XXX
D6073 |  | N | Abutment supported retainer | 0.00 | 0.00 | 0.00 | 0.00 | 0.00 | 0.00 | 0.00 | 0.00 | 0.00 | 0.00 | XXX
D6074 |  | N | Abutment supported retainer | 0.00 | 0.00 | 0.00 | 0.00 | 0.00 | 0.00 | 0.00 | 0.00 | 0.00 | 0.00 | XXX
D6075 |  | N | Implant supported retainer | 0.00 | 0.00 | 0.00 | 0.00 | 0.00 | 0.00 | 0.00 | 0.00 | 0.00 | 0.00 | XXX
D6076 |  | N | Implant supported retainer | 0.00 | 0.00 | 0.00 | 0.00 | 0.00 | 0.00 | 0.00 | 0.00 | 0.00 | 0.00 | XXX
D6077 |  | N | Implant supported retainer | 0.00 | 0.00 | 0.00 | 0.00 | 0.00 | 0.00 | 0.00 | 0.00 | 0.00 | 0.00 | XXX
D6078 |  | N | Implnt/abut suprtd fixd dent | 0.00 | 0.00 | 0.00 | 0.00 | 0.00 | 0.00 | 0.00 | 0.00 | 0.00 | 0.00 | XXX
D6079 |  | N | Implnt/abut suprtd fixd dent | 0.00 | 0.00 | 0.00 | 0.00 | 0.00 | 0.00 | 0.00 | 0.00 | 0.00 | 0.00 | XXX
D6080 |  | I | Implant maintenance | 0.00 | 0.00 | 0.00 | 0.00 | 0.00 | 0.00 | 0.00 | 0.00 | 0.00 | 0.00 | XXX
D6090 |  | I | Repair implant | 0.00 | 0.00 | 0.00 | 0.00 | 0.00 | 0.00 | 0.00 | 0.00 | 0.00 | 0.00 | XXX
D6095 |  | I | Odontics repr abutment | 0.00 | 0.00 | 0.00 | 0.00 | 0.00 | 0.00 | 0.00 | 0.00 | 0.00 | 0.00 | XXX
D6100 |  | I | Removal of implant | 0.00 | 0.00 | 0.00 | 0.00 | 0.00 | 0.00 | 0.00 | 0.00 | 0.00 | 0.00 | XXX
D6199 |  | I | Implant procedure | 0.00 | 0.00 | 0.00 | 0.00 | 0.00 | 0.00 | 0.00 | 0.00 | 0.00 | 0.00 | XXX
D6210 |  | N | Prosthodont high noble metal | 0.00 | 0.00 | 0.00 | 0.00 | 0.00 | 0.00 | 0.00 | 0.00 | 0.00 | 0.00 | XXX
D6211 |  | N | Bridge base metal cast | 0.00 | 0.00 | 0.00 | 0.00 | 0.00 | 0.00 | 0.00 | 0.00 | 0.00 | 0.00 | XXX
D6212 |  | N | Bridge noble metal cast | 0.00 | 0.00 | 0.00 | 0.00 | 0.00 | 0.00 | 0.00 | 0.00 | 0.00 | 0.00 | XXX
D6240 |  | N | Bridge porcelain high noble | 0.00 | 0.00 | 0.00 | 0.00 | 0.00 | 0.00 | 0.00 | 0.00 | 0.00 | 0.00 | XXX
D6241 |  | N | Bridge porcelain base metal | 0.00 | 0.00 | 0.00 | 0.00 | 0.00 | 0.00 | 0.00 | 0.00 | 0.00 | 0.00 | XXX
D6242 |  | N | Bridge porcelain nobel metal | 0.00 | 0.00 | 0.00 | 0.00 | 0.00 | 0.00 | 0.00 | 0.00 | 0.00 | 0.00 | XXX
D6245 |  | N | Bridge porcelain/ceramic | 0.00 | 0.00 | 0.00 | 0.00 | 0.00 | 0.00 | 0.00 | 0.00 | 0.00 | 0.00 | XXX
D6250 |  | N | Bridge resin w/high noble | 0.00 | 0.00 | 0.00 | 0.00 | 0.00 | 0.00 | 0.00 | 0.00 | 0.00 | 0.00 | XXX
D6251 |  | N | Bridge resin base metal | 0.00 | 0.00 | 0.00 | 0.00 | 0.00 | 0.00 | 0.00 | 0.00 | 0.00 | 0.00 | XXX
D6252 |  | N | Bridge resin w/noble metal | 0.00 | 0.00 | 0.00 | 0.00 | 0.00 | 0.00 | 0.00 | 0.00 | 0.00 | 0.00 | XXX
D6519 |  | N | Inlay/onlay porce/ceramic | 0.00 | 0.00 | 0.00 | 0.00 | 0.00 | 0.00 | 0.00 | 0.00 | 0.00 | 0.00 | XXX
D6520 |  | N | Dental retainer two surfaces | 0.00 | 0.00 | 0.00 | 0.00 | 0.00 | 0.00 | 0.00 | 0.00 | 0.00 | 0.00 | XXX
D6530 |  | N | Retainer metallic 3+ surface | 0.00 | 0.00 | 0.00 | 0.00 | 0.00 | 0.00 | 0.00 | 0.00 | 0.00 | 0.00 | XXX
D6543 |  | N | Dental retainr onlay 3 surf | 0.00 | 0.00 | 0.00 | 0.00 | 0.00 | 0.00 | 0.00 | 0.00 | 0.00 | 0.00 | XXX
D6544 |  | N | Dental retainr onlay 4/more | 0.00 | 0.00 | 0.00 | 0.00 | 0.00 | 0.00 | 0.00 | 0.00 | 0.00 | 0.00 | XXX
D6545 |  | N | Dental retainr cast metl | 0.00 | 0.00 | 0.00 | 0.00 | 0.00 | 0.00 | 0.00 | 0.00 | 0.00 | 0.00 | XXX
D6548 |  | N | Porcelain/ceramic retainer | 0.00 | 0.00 | 0.00 | 0.00 | 0.00 | 0.00 | 0.00 | 0.00 | 0.00 | 0.00 | XXX
D6720 |  | N | Retain crown resin w hi nble | 0.00 | 0.00 | 0.00 | 0.00 | 0.00 | 0.00 | 0.00 | 0.00 | 0.00 | 0.00 | XXX
D6721 |  | N | Crown resin w/base metal | 0.00 | 0.00 | 0.00 | 0.00 | 0.00 | 0.00 | 0.00 | 0.00 | 0.00 | 0.00 | XXX
D6722 |  | N | Crown resin w/noble metal | 0.00 | 0.00 | 0.00 | 0.00 | 0.00 | 0.00 | 0.00 | 0.00 | 0.00 | 0.00 | XXX
D6740 |  | N | Crown porcelain/ceramic | 0.00 | 0.00 | 0.00 | 0.00 | 0.00 | 0.00 | 0.00 | 0.00 | 0.00 | 0.00 | XXX
D6750 |  | N | Crown porcelain high noble | 0.00 | 0.00 | 0.00 | 0.00 | 0.00 | 0.00 | 0.00 | 0.00 | 0.00 | 0.00 | XXX
D6751 |  | N | Crown porcelain base metal | 0.00 | 0.00 | 0.00 | 0.00 | 0.00 | 0.00 | 0.00 | 0.00 | 0.00 | 0.00 | XXX
D6752 |  | N | Crown porcelain noble metal | 0.00 | 0.00 | 0.00 | 0.00 | 0.00 | 0.00 | 0.00 | 0.00 | 0.00 | 0.00 | XXX
D6780 |  | N | Crown 3/4 high noble metal | 0.00 | 0.00 | 0.00 | 0.00 | 0.00 | 0.00 | 0.00 | 0.00 | 0.00 | 0.00 | XXX
D6781 |  | N | Crown 3/4 cast based metal | 0.00 | 0.00 | 0.00 | 0.00 | 0.00 | 0.00 | 0.00 | 0.00 | 0.00 | 0.00 | XXX
D6782 |  | N | Crown 3/4 cast noble metal | 0.00 | 0.00 | 0.00 | 0.00 | 0.00 | 0.00 | 0.00 | 0.00 | 0.00 | 0.00 | XXX
D6783 |  | N | Crown 3/4 porcelain/ceramic | 0.00 | 0.00 | 0.00 | 0.00 | 0.00 | 0.00 | 0.00 | 0.00 | 0.00 | 0.00 | XXX
D6790 |  | N | Crown full high noble metal | 0.00 | 0.00 | 0.00 | 0.00 | 0.00 | 0.00 | 0.00 | 0.00 | 0.00 | 0.00 | XXX
D6791 |  | N | Crown full base metal cast | 0.00 | 0.00 | 0.00 | 0.00 | 0.00 | 0.00 | 0.00 | 0.00 | 0.00 | 0.00 | XXX
D6792 |  | N | Crown full noble metal cast | 0.00 | 0.00 | 0.00 | 0.00 | 0.00 | 0.00 | 0.00 | 0.00 | 0.00 | 0.00 | XXX
D6920 |  | R | Dental connector bar | 0.00 | 0.00 | 0.00 | 0.00 | 0.00 | 0.00 | 0.00 | 0.00 | 0.00 | 0.00 | YYY
D6930 |  | N | Dental recement bridge | 0.00 | 0.00 | 0.00 | 0.00 | 0.00 | 0.00 | 0.00 | 0.00 | 0.00 | 0.00 | XXX
D6940 |  | N | Stress breaker | 0.00 | 0.00 | 0.00 | 0.00 | 0.00 | 0.00 | 0.00 | 0.00 | 0.00 | 0.00 | XXX
D6950 |  | N | Precision attachment | 0.00 | 0.00 | 0.00 | 0.00 | 0.00 | 0.00 | 0.00 | 0.00 | 0.00 | 0.00 | XXX
D6970 |  | N | Post & core plus retainer | 0.00 | 0.00 | 0.00 | 0.00 | 0.00 | 0.00 | 0.00 | 0.00 | 0.00 | 0.00 | XXX
D6971 |  | N | Cast post bridge retainer | 0.00 | 0.00 | 0.00 | 0.00 | 0.00 | 0.00 | 0.00 | 0.00 | 0.00 | 0.00 | XXX
D6972 |  | N | Prefab post & core plus reta | 0.00 | 0.00 | 0.00 | 0.00 | 0.00 | 0.00 | 0.00 | 0.00 | 0.00 | 0.00 | XXX
D6973 |  | N | Core build up for retainer | 0.00 | 0.00 | 0.00 | 0.00 | 0.00 | 0.00 | 0.00 | 0.00 | 0.00 | 0.00 | XXX
D6975 |  | N | Coping metal | 0.00 | 0.00 | 0.00 | 0.00 | 0.00 | 0.00 | 0.00 | 0.00 | 0.00 | 0.00 | XXX
D6976 |  | N | Each addtnl cast post | 0.00 | 0.00 | 0.00 | 0.00 | 0.00 | 0.00 | 0.00 | 0.00 | 0.00 | 0.00 | XXX
D6977 |  | N | Each addtl prefab post | 0.00 | 0.00 | 0.00 | 0.00 | 0.00 | 0.00 | 0.00 | 0.00 | 0.00 | 0.00 | XXX
D6980 |  | N | Bridge repair | 0.00 | 0.00 | 0.00 | 0.00 | 0.00 | 0.00 | 0.00 | 0.00 | 0.00 | 0.00 | XXX
D6999 |  | N | Fixed prosthodontic proc | 0.00 | 0.00 | 0.00 | 0.00 | 0.00 | 0.00 | 0.00 | 0.00 | 0.00 | 0.00 | XXX
D7110 |  | R | Oral surgery single tooth | 0.00 | 0.00 | 0.00 | 0.00 | 0.00 | 0.00 | 0.00 | 0.00 | 0.00 | 0.00 | YYY
D7120 |  | R | Each add tooth extraction | 0.00 | 0.00 | 0.00 | 0.00 | 0.00 | 0.00 | 0.00 | 0.00 | 0.00 | 0.00 | YYY
D7130 |  | R | Tooth root removal | 0.00 | 0.00 | 0.00 | 0.00 | 0.00 | 0.00 | 0.00 | 0.00 | 0.00 | 0.00 | YYY
D7210 |  | R | Rem imp tooth w mucoper flp | 0.00 | 0.00 | 0.00 | 0.00 | 0.00 | 0.00 | 0.00 | 0.00 | 0.00 | 0.00 | YYY
D7220 |  | R | Impact tooth remov soft tiss | 0.00 | 0.00 | 0.00 | 0.00 | 0.00 | 0.00 | 0.00 | 0.00 | 0.00 | 0.00 | YYY
D7230 |  | R | Impact tooth remov part bony | 0.00 | 0.00 | 0.00 | 0.00 | 0.00 | 0.00 | 0.00 | 0.00 | 0.00 | 0.00 | YYY
D7240 |  | R | Impact tooth remov comp bony | 0.00 | 0.00 | 0.00 | 0.00 | 0.00 | 0.00 | 0.00 | 0.00 | 0.00 | 0.00 | YYY
D7241 |  | R | Impact tooth rem bony w/comp | 0.00 | 0.00 | 0.00 | 0.00 | 0.00 | 0.00 | 0.00 | 0.00 | 0.00 | 0.00 | YYY
D7250 |  | R | Tooth root removal | 0.00 | 0.00 | 0.00 | 0.00 | 0.00 | 0.00 | 0.00 | 0.00 | 0.00 | 0.00 | YYY
D7260 |  | R | Oral antral fistula closure | 0.00 | 0.00 | 0.00 | 0.00 | 0.00 | 0.00 | 0.00 | 0.00 | 0.00 | 0.00 | YYY
D7270 |  | N | Tooth reimplantation | 0.00 | 0.00 | 0.00 | 0.00 | 0.00 | 0.00 | 0.00 | 0.00 | 0.00 | 0.00 | XXX
D7272 |  | N | Tooth transplantation | 0.00 | 0.00 | 0.00 | 0.00 | 0.00 | 0.00 | 0.00 | 0.00 | 0.00 | 0.00 | XXX
D7280 |  | N | Exposure impact tooth orthod | 0.00 | 0.00 | 0.00 | 0.00 | 0.00 | 0.00 | 0.00 | 0.00 | 0.00 | 0.00 | XXX
D7281 |  | N | Exposure tooth aid eruption | 0.00 | 0.00 | 0.00 | 0.00 | 0.00 | 0.00 | 0.00 | 0.00 | 0.00 | 0.00 | XXX
D7285 |  | I | Biopsy of oral tissue hard | 0.00 | 0.00 | 0.00 | 0.00 | 0.00 | 0.00 | 0.00 | 0.00 | 0.00 | 0.00 | XXX
D7286 |  | I | Biopsy of oral tissue soft | 0.00 | 0.00 | 0.00 | 0.00 | 0.00 | 0.00 | 0.00 | 0.00 | 0.00 | 0.00 | XXX
D7290 |  | N | Repositioning of teeth | 0.00 | 0.00 | 0.00 | 0.00 | 0.00 | 0.00 | 0.00 | 0.00 | 0.00 | 0.00 | XXX
D7291 |  | R | Transseptal fiberotomy | 0.00 | 0.00 | 0.00 | 0.00 | 0.00 | 0.00 | 0.00 | 0.00 | 0.00 | 0.00 | YYY
D7310 |  | I | Alveoplasty w/ extraction | 0.00 | 0.00 | 0.00 | 0.00 | 0.00 | 0.00 | 0.00 | 0.00 | 0.00 | 0.00 | XXX
D7320 |  | I | Alveoplasty w/o extraction | 0.00 | 0.00 | 0.00 | 0.00 | 0.00 | 0.00 | 0.00 | 0.00 | 0.00 | 0.00 | XXX
D7340 |  | I | Vestibuloplasty ridge extens | 0.00 | 0.00 | 0.00 | 0.00 | 0.00 | 0.00 | 0.00 | 0.00 | 0.00 | 0.00 | XXX
D7350 |  | I | Vestibuloplasty exten graft | 0.00 | 0.00 | 0.00 | 0.00 | 0.00 | 0.00 | 0.00 | 0.00 | 0.00 | 0.00 | XXX
D7410 |  | I | Rad exc lesion up to 1.25 cm | 0.00 | 0.00 | 0.00 | 0.00 | 0.00 | 0.00 | 0.00 | 0.00 | 0.00 | 0.00 | XXX
D7420 |  | I | Lesion > 1.25 cm | 0.00 | 0.00 | 0.00 | 0.00 | 0.00 | 0.00 | 0.00 | 0.00 | 0.00 | 0.00 | XXX
D7430 |  | I | Exc benign tumor to 1.25 cm | 0.00 | 0.00 | 0.00 | 0.00 | 0.00 | 0.00 | 0.00 | 0.00 | 0.00 | 0.00 | XXX
D7431 |  | I | Benign tumor exc > 1.25 cm | 0.00 | 0.00 | 0.00 | 0.00 | 0.00 | 0.00 | 0.00 | 0.00 | 0.00 | 0.00 | XXX
D7440 |  | I | Malig tumor exc to 1.25 cm | 0.00 | 0.00 | 0.00 | 0.00 | 0.00 | 0.00 | 0.00 | 0.00 | 0.00 | 0.00 | XXX
D7441 |  | I | Malig tumor > 1.25 cm | 0.00 | 0.00 | 0.00 | 0.00 | 0.00 | 0.00 | 0.00 | 0.00 | 0.00 | 0.00 | XXX
D7450 |  | I | Rem odontogen cyst to 1.25cm | 0.00 | 0.00 | 0.00 | 0.00 | 0.00 | 0.00 | 0.00 | 0.00 | 0.00 | 0.00 | XXX
D7451 |  | I | Rem odontogen cyst > 1.25 cm | 0.00 | 0.00 | 0.00 | 0.00 | 0.00 | 0.00 | 0.00 | 0.00 | 0.00 | 0.00 | XXX
D7460 |  | I | Rem nonodonto cyst to 1.25cm | 0.00 | 0.00 | 0.00 | 0.00 | 0.00 | 0.00 | 0.00 | 0.00 | 0.00 | 0.00 | XXX
D7461 |  | I | Rem nonodonto cyst > 1.25 cm | 0.00 | 0.00 | 0.00 | 0.00 | 0.00 | 0.00 | 0.00 | 0.00 | 0.00 | 0.00 | XXX
D7465 |  | I | Lesion destruction | 0.00 | 0.00 | 0.00 | 0.00 | 0.00 | 0.00 | 0.00 | 0.00 | 0.00 | 0.00 | XXX
D7470 |  | D | Rem exostosis maxilla/mandib | 0.00 | 0.00 | 0.00 | 0.00 | 0.00 | 0.00 | 0.00 | 0.00 | 0.00 | 0.00 | XXX
D7471 |  | I | Rem exostosis any site | 0.00 | 0.00 | 0.00 | 0.00 | 0.00 | 0.00 | 0.00 | 0.00 | 0.00 | 0.00 | XXX
D7480 |  | I | Partial ostectomy | 0.00 | 0.00 | 0.00 | 0.00 | 0.00 | 0.00 | 0.00 | 0.00 | 0.00 | 0.00 | XXX
D7490 |  | I | Mandible resection | 0.00 | 0.00 | 0.00 | 0.00 | 0.00 | 0.00 | 0.00 | 0.00 | 0.00 | 0.00 | XXX
D7510 |  | I | I&d absc intraoral soft tiss | 0.00 | 0.00 | 0.00 | 0.00 | 0.00 | 0.00 | 0.00 | 0.00 | 0.00 | 0.00 | XXX
D7520 |  | I | I&d abscess extraoral | 0.00 | 0.00 | 0.00 | 0.00 | 0.00 | 0.00 | 0.00 | 0.00 | 0.00 | 0.00 | XXX
D7530 |  | I | Removal fb skin/areolar tiss | 0.00 | 0.00 | 0.00 | 0.00 | 0.00 | 0.00 | 0.00 | 0.00 | 0.00 | 0.00 | XXX
D7540 |  | I | Removal of fb reaction | 0.00 | 0.00 | 0.00 | 0.00 | 0.00 | 0.00 | 0.00 | 0.00 | 0.00 | 0.00 | XXX
D7550 |  | I | Removal of sloughed off bone | 0.00 | 0.00 | 0.00 | 0.00 | 0.00 | 0.00 | 0.00 | 0.00 | 0.00 | 0.00 | XXX
D7560 |  | I | Maxillary sinusotomy | 0.00 | 0.00 | 0.00 | 0.00 | 0.00 | 0.00 | 0.00 | 0.00 | 0.00 | 0.00 | XXX
D7610 |  | I | Maxilla open reduct simple | 0.00 | 0.00 | 0.00 | 0.00 | 0.00 | 0.00 | 0.00 | 0.00 | 0.00 | 0.00 | XXX
D7620 |  | I | Clsd reduct simpl maxilla fx | 0.00 | 0.00 | 0.00 | 0.00 | 0.00 | 0.00 | 0.00 | 0.00 | 0.00 | 0.00 | XXX
D7630 |  | I | Open red simpl mandible fx | 0.00 | 0.00 | 0.00 | 0.00 | 0.00 | 0.00 | 0.00 | 0.00 | 0.00 | 0.00 | XXX
D7640 |  | I | Clsd red simpl mandible fx | 0.00 | 0.00 | 0.00 | 0.00 | 0.00 | 0.00 | 0.00 | 0.00 | 0.00 | 0.00 | XXX
D7650 |  | I | Open red simp malar/zygom fx | 0.00 | 0.00 | 0.00 | 0.00 | 0.00 | 0.00 | 0.00 | 0.00 | 0.00 | 0.00 | XXX
D7660 |  | I | Clsd red simp malar/zygom fx | 0.00 | 0.00 | 0.00 | 0.00 | 0.00 | 0.00 | 0.00 | 0.00 | 0.00 | 0.00 | XXX
D7670 |  | I | Closd rductn splint alveolus | 0.00 | 0.00 | 0.00 | 0.00 | 0.00 | 0.00 | 0.00 | 0.00 | 0.00 | 0.00 | XXX
D7680 |  | I | Reduct simple facial bone fx | 0.00 | 0.00 | 0.00 | 0.00 | 0.00 | 0.00 | 0.00 | 0.00 | 0.00 | 0.00 | XXX
D7710 |  | I | Maxilla open reduct compound | 0.00 | 0.00 | 0.00 | 0.00 | 0.00 | 0.00 | 0.00 | 0.00 | 0.00 | 0.00 | XXX
D7720 |  | I | Clsd reduct compd maxilla fx | 0.00 | 0.00 | 0.00 | 0.00 | 0.00 | 0.00 | 0.00 | 0.00 | 0.00 | 0.00 | XXX
D7730 |  | I | Open reduct compd mandble fx | 0.00 | 0.00 | 0.00 | 0.00 | 0.00 | 0.00 | 0.00 | 0.00 | 0.00 | 0.00 | XXX
D7740 |  | I | Clsd reduct compd mandble fx | 0.00 | 0.00 | 0.00 | 0.00 | 0.00 | 0.00 | 0.00 | 0.00 | 0.00 | 0.00 | XXX
D7750 |  | I | Open red comp malar/zygma fx | 0.00 | 0.00 | 0.00 | 0.00 | 0.00 | 0.00 | 0.00 | 0.00 | 0.00 | 0.00 | XXX
D7760 |  | I | Clsd red comp malar/zygma fx | 0.00 | 0.00 | 0.00 | 0.00 | 0.00 | 0.00 | 0.00 | 0.00 | 0.00 | 0.00 | XXX
D7770 |  | I | Open reduc compd alveolus fx | 0.00 | 0.00 | 0.00 | 0.00 | 0.00 | 0.00 | 0.00 | 0.00 | 0.00 | 0.00 | XXX
D7780 |  | I | Reduct compnd facial bone fx | 0.00 | 0.00 | 0.00 | 0.00 | 0.00 | 0.00 | 0.00 | 0.00 | 0.00 | 0.00 | XXX
D7810 |  | I | Tmj open reduct-dislocation | 0.00 | 0.00 | 0.00 | 0.00 | 0.00 | 0.00 | 0.00 | 0.00 | 0.00 | 0.00 | XXX
D7820 |  | I | Closed tmp manipulation | 0.00 | 0.00 | 0.00 | 0.00 | 0.00 | 0.00 | 0.00 | 0.00 | 0.00 | 0.00 | XXX
D7830 |  | I | Tmj manipulation under anest | 0.00 | 0.00 | 0.00 | 0.00 | 0.00 | 0.00 | 0.00 | 0.00 | 0.00 | 0.00 | XXX
D7840 |  | I | Removal of tmj condyle | 0.00 | 0.00 | 0.00 | 0.00 | 0.00 | 0.00 | 0.00 | 0.00 | 0.00 | 0.00 | XXX
D7850 |  | I | Tmj meniscectomy | 0.00 | 0.00 | 0.00 | 0.00 | 0.00 | 0.00 | 0.00 | 0.00 | 0.00 | 0.00 | XXX
D7852 |  | I | Tmj repair of joint disc | 0.00 | 0.00 | 0.00 | 0.00 | 0.00 | 0.00 | 0.00 | 0.00 | 0.00 | 0.00 | XXX
D7854 |  | I | Tmj excisn of joint membrane | 0.00 | 0.00 | 0.00 | 0.00 | 0.00 | 0.00 | 0.00 | 0.00 | 0.00 | 0.00 | XXX
D7856 |  | I | Tmj cutting of a muscle | 0.00 | 0.00 | 0.00 | 0.00 | 0.00 | 0.00 | 0.00 | 0.00 | 0.00 | 0.00 | XXX
D7858 |  | I | Tmj reconstruction | 0.00 | 0.00 | 0.00 | 0.00 | 0.00 | 0.00 | 0.00 | 0.00 | 0.00 | 0.00 | XXX
D7860 |  | I | Tmj cutting into joint | 0.00 | 0.00 | 0.00 | 0.00 | 0.00 | 0.00 | 0.00 | 0.00 | 0.00 | 0.00 | XXX
D7865 |  | I | Tmj reshaping components | 0.00 | 0.00 | 0.00 | 0.00 | 0.00 | 0.00 | 0.00 | 0.00 | 0.00 | 0.00 | XXX
D7870 |  | I | Tmj aspiration joint fluid | 0.00 | 0.00 | 0.00 | 0.00 | 0.00 | 0.00 | 0.00 | 0.00 | 0.00 | 0.00 | XXX
D7871 |  | N | Lysis + lavage w catheters | 0.00 | 0.00 | 0.00 | 0.00 | 0.00 | 0.00 | 0.00 | 0.00 | 0.00 | 0.00 | XXX
D7872 |  | I | Tmj diagnostic arthroscopy | 0.00 | 0.00 | 0.00 | 0.00 | 0.00 | 0.00 | 0.00 | 0.00 | 0.00 | 0.00 | XXX
D7873 |  | I | Tmj arthroscopy lysis adhesn | 0.00 | 0.00 | 0.00 | 0.00 | 0.00 | 0.00 | 0.00 | 0.00 | 0.00 | 0.00 | XXX
D7874 |  | I | Tmj arthroscopy disc reposit | 0.00 | 0.00 | 0.00 | 0.00 | 0.00 | 0.00 | 0.00 | 0.00 | 0.00 | 0.00 | XXX
D7875 |  | I | Tmj arthroscopy synovectomy | 0.00 | 0.00 | 0.00 | 0.00 | 0.00 | 0.00 | 0.00 | 0.00 | 0.00 | 0.00 | XXX
D7876 |  | I | Tmj arthroscopy discectomy | 0.00 | 0.00 | 0.00 | 0.00 | 0.00 | 0.00 | 0.00 | 0.00 | 0.00 | 0.00 | XXX
D7877 |  | I | Tmj arthroscopy debridement | 0.00 | 0.00 | 0.00 | 0.00 | 0.00 | 0.00 | 0.00 | 0.00 | 0.00 | 0.00 | XXX
D7880 |  | I | Occlusal orthotic appliance | 0.00 | 0.00 | 0.00 | 0.00 | 0.00 | 0.00 | 0.00 | 0.00 | 0.00 | 0.00 | XXX
D7899 |  | I | Tmj unspecified therapy | 0.00 | 0.00 | 0.00 | 0.00 | 0.00 | 0.00 | 0.00 | 0.00 | 0.00 | 0.00 | XXX
D7910 |  | I | Dent sutur recent wnd to 5cm | 0.00 | 0.00 | 0.00 | 0.00 | 0.00 | 0.00 | 0.00 | 0.00 | 0.00 | 0.00 | XXX
D7911 |  | I | Dental suture wound to 5 cm | 0.00 | 0.00 | 0.00 | 0.00 | 0.00 | 0.00 | 0.00 | 0.00 | 0.00 | 0.00 | XXX
D7912 |  | I | Suture complicate wnd > 5 cm | 0.00 | 0.00 | 0.00 | 0.00 | 0.00 | 0.00 | 0.00 | 0.00 | 0.00 | 0.00 | XXX
D7920 |  | I | Dental skin graft | 0.00 | 0.00 | 0.00 | 0.00 | 0.00 | 0.00 | 0.00 | 0.00 | 0.00 | 0.00 | XXX
D7940 |  | R | Reshaping bone orthognathic | 0.00 | 0.00 | 0.00 | 0.00 | 0.00 | 0.00 | 0.00 | 0.00 | 0.00 | 0.00 | YYY
D7941 |  | I | Bone cutting ramus closed | 0.00 | 0.00 | 0.00 | 0.00 | 0.00 | 0.00 | 0.00 | 0.00 | 0.00 | 0.00 | XXX
D7942 |  | D | Bone cutting ramus open | 0.00 | 0.00 | 0.00 | 0.00 | 0.00 | 0.00 | 0.00 | 0.00 | 0.00 | 0.00 | XXX
D7943 |  | I | Cutting ramus open w/graft | 0.00 | 0.00 | 0.00 | 0.00 | 0.00 | 0.00 | 0.00 | 0.00 | 0.00 | 0.00 | XXX
D7944 |  | I | Bone cutting segmented | 0.00 | 0.00 | 0.00 | 0.00 | 0.00 | 0.00 | 0.00 | 0.00 | 0.00 | 0.00 | XXX
D7945 |  | I | Bone cutting body mandible | 0.00 | 0.00 | 0.00 | 0.00 | 0.00 | 0.00 | 0.00 | 0.00 | 0.00 | 0.00 | XXX
D7946 |  | I | Reconstruction maxilla total | 0.00 | 0.00 | 0.00 | 0.00 | 0.00 | 0.00 | 0.00 | 0.00 | 0.00 | 0.00 | XXX
D7947 |  | I | Reconstruct maxilla segment | 0.00 | 0.00 | 0.00 | 0.00 | 0.00 | 0.00 | 0.00 | 0.00 | 0.00 | 0.00 | XXX
D7948 |  | I | Reconstruct midface no graft | 0.00 | 0.00 | 0.00 | 0.00 | 0.00 | 0.00 | 0.00 | 0.00 | 0.00 | 0.00 | XXX
D7949 |  | I | Reconstruct midface w/graft | 0.00 | 0.00 | 0.00 | 0.00 | 0.00 | 0.00 | 0.00 | 0.00 | 0.00 | 0.00 | XXX
D7950 |  | I | Mandible graft | 0.00 | 0.00 | 0.00 | 0.00 | 0.00 | 0.00 | 0.00 | 0.00 | 0.00 | 0.00 | XXX
D7955 |  | I | Repair maxillofacial defects | 0.00 | 0.00 | 0.00 | 0.00 | 0.00 | 0.00 | 0.00 | 0.00 | 0.00 | 0.00 | XXX
D7960 |  | I | Frenulectomy/frenulotomy | 0.00 | 0.00 | 0.00 | 0.00 | 0.00 | 0.00 | 0.00 | 0.00 | 0.00 | 0.00 | XXX
D7970 |  | I | Excision hyperplastic tissue | 0.00 | 0.00 | 0.00 | 0.00 | 0.00 | 0.00 | 0.00 | 0.00 | 0.00 | 0.00 | XXX
D7971 |  | I | Excision pericoronal gingiva | 0.00 | 0.00 | 0.00 | 0.00 | 0.00 | 0.00 | 0.00 | 0.00 | 0.00 | 0.00 | XXX
D7980 |  | I | Sialolithotomy | 0.00 | 0.00 | 0.00 | 0.00 | 0.00 | 0.00 | 0.00 | 0.00 | 0.00 | 0.00 | XXX
D7981 |  | I | Excision of salivary gland | 0.00 | 0.00 | 0.00 | 0.00 | 0.00 | 0.00 | 0.00 | 0.00 | 0.00 | 0.00 | XXX
D7982 |  | I | Sialodochoplasty | 0.00 | 0.00 | 0.00 | 0.00 | 0.00 | 0.00 | 0.00 | 0.00 | 0.00 | 0.00 | XXX
D7983 |  | I | Closure of salivary fistula | 0.00 | 0.00 | 0.00 | 0.00 | 0.00 | 0.00 | 0.00 | 0.00 | 0.00 | 0.00 | XXX
D7990 |  | I | Emergency tracheotomy | 0.00 | 0.00 | 0.00 | 0.00 | 0.00 | 0.00 | 0.00 | 0.00 | 0.00 | 0.00 | XXX
D7991 |  | I | Dental coronoidectomy | 0.00 | 0.00 | 0.00 | 0.00 | 0.00 | 0.00 | 0.00 | 0.00 | 0.00 | 0.00 | XXX
D7995 |  | I | Synthetic graft facial bones | 0.00 | 0.00 | 0.00 | 0.00 | 0.00 | 0.00 | 0.00 | 0.00 | 0.00 | 0.00 | XXX
D7996 |  | I | Implant mandible for augment | 0.00 | 0.00 | 0.00 | 0.00 | 0.00 | 0.00 | 0.00 | 0.00 | 0.00 | 0.00 | XXX
D7997 |  | N | Appliance removal | 0.00 | 0.00 | 0.00 | 0.00 | 0.00 | 0.00 | 0.00 | 0.00 | 0.00 | 0.00 | XXX
D7999 |  | I | Oral surgery procedure | 0.00 | 0.00 | 0.00 | 0.00 | 0.00 | 0.00 | 0.00 | 0.00 | 0.00 | 0.00 | XXX
D8010 |  | N | Limited dental tx primary | 0.00 | 0.00 | 0.00 | 0.00 | 0.00 | 0.00 | 0.00 | 0.00 | 0.00 | 0.00 | XXX
D8020 |  | N | Limited dental tx transition | 0.00 | 0.00 | 0.00 | 0.00 | 0.00 | 0.00 | 0.00 | 0.00 | 0.00 | 0.00 | XXX
D8030 |  | N | Limited dental tx adolescent | 0.00 | 0.00 | 0.00 | 0.00 | 0.00 | 0.00 | 0.00 | 0.00 | 0.00 | 0.00 | XXX
D8040 |  | N | Limited dental tx adult | 0.00 | 0.00 | 0.00 | 0.00 | 0.00 | 0.00 | 0.00 | 0.00 | 0.00 | 0.00 | XXX
D8050 |  | N | Intercep dental tx primary | 0.00 | 0.00 | 0.00 | 0.00 | 0.00 | 0.00 | 0.00 | 0.00 | 0.00 | 0.00 | XXX
D8060 |  | N | Intercep dental tx transitn | 0.00 | 0.00 | 0.00 | 0.00 | 0.00 | 0.00 | 0.00 | 0.00 | 0.00 | 0.00 | XXX
D8070 |  | N | Compre dental tx transition | 0.00 | 0.00 | 0.00 | 0.00 | 0.00 | 0.00 | 0.00 | 0.00 | 0.00 | 0.00 | XXX
D8080 |  | N | Compre dental tx adolescent | 0.00 | 0.00 | 0.00 | 0.00 | 0.00 | 0.00 | 0.00 | 0.00 | 0.00 | 0.00 | XXX
D8090 |  | N | Compre dental tx adult | 0.00 | 0.00 | 0.00 | 0.00 | 0.00 | 0.00 | 0.00 | 0.00 | 0.00 | 0.00 | XXX
D8210 |  | N | Orthodontic rem appliance tx | 0.00 | 0.00 | 0.00 | 0.00 | 0.00 | 0.00 | 0.00 | 0.00 | 0.00 | 0.00 | XXX
D8220 |  | N | Fixed appliance therapy habt | 0.00 | 0.00 | 0.00 | 0.00 | 0.00 | 0.00 | 0.00 | 0.00 | 0.00 | 0.00 | XXX
D8660 |  | N | Preorthodontic tx visit | 0.00 | 0.00 | 0.00 | 0.00 | 0.00 | 0.00 | 0.00 | 0.00 | 0.00 | 0.00 | XXX
D8670 |  | N | Periodic orthodontc tx visit | 0.00 | 0.00 | 0.00 | 0.00 | 0.00 | 0.00 | 0.00 | 0.00 | 0.00 | 0.00 | XXX
D8680 |  | N | Orthodontic retention | 0.00 | 0.00 | 0.00 | 0.00 | 0.00 | 0.00 | 0.00 | 0.00 | 0.00 | 0.00 | XXX
D8690 |  | N | Orthodontic treatment | 0.00 | 0.00 | 0.00 | 0.00 | 0.00 | 0.00 | 0.00 | 0.00 | 0.00 | 0.00 | XXX
D8691 |  | N | Repair ortho appliance | 0.00 | 0.00 | 0.00 | 0.00 | 0.00 | 0.00 | 0.00 | 0.00 | 0.00 | 0.00 | XXX
D8692 |  | N | Replacement retainer | 0.00 | 0.00 | 0.00 | 0.00 | 0.00 | 0.00 | 0.00 | 0.00 | 0.00 | 0.00 | XXX
D8999 |  | N | Orthodontic procedure | 0.00 | 0.00 | 0.00 | 0.00 | 0.00 | 0.00 | 0.00 | 0.00 | 0.00 | 0.00 | XXX
D9110 |  | R | Tx dental pain minor proc | 0.00 | 0.00 | 0.00 | 0.00 | 0.00 | 0.00 | 0.00 | 0.00 | 0.00 | 0.00 | YYY
D9210 |  | I | Dent anesthesia w/o surgery | 0.00 | 0.00 | 0.00 | 0.00 | 0.00 | 0.00 | 0.00 | 0.00 | 0.00 | 0.00 | XXX
D9211 |  | I | Regional block anesthesia | 0.00 | 0.00 | 0.00 | 0.00 | 0.00 | 0.00 | 0.00 | 0.00 | 0.00 | 0.00 | XXX
D9212 |  | I | Trigeminal block anesthesia | 0.00 | 0.00 | 0.00 | 0.00 | 0.00 | 0.00 | 0.00 | 0.00 | 0.00 | 0.00 | XXX
D9215 |  | I | Local anesthesia | 0.00 | 0.00 | 0.00 | 0.00 | 0.00 | 0.00 | 0.00 | 0.00 | 0.00 | 0.00 | XXX
D9220 |  | I | General anesthesia | 0.00 | 0.00 | 0.00 | 0.00 | 0.00 | 0.00 | 0.00 | 0.00 | 0.00 | 0.00 | XXX
D9221 |  | I | General anesthesia ea ad 15m | 0.00 | 0.00 | 0.00 | 0.00 | 0.00 | 0.00 | 0.00 | 0.00 | 0.00 | 0.00 | XXX
D9230 |  | R | Analgesia | 0.00 | 0.00 | 0.00 | 0.00 | 0.00 | 0.00 | 0.00 | 0.00 | 0.00 | 0.00 | YYY
D9240 |  | D | Intravenous sedation | 0.00 | 0.00 | 0.00 | 0.00 | 0.00 | 0.00 | 0.00 | 0.00 | 0.00 | 0.00 | XXX
D9241 |  | I | Intravenous sedation | 0.00 | 0.00 | 0.00 | 0.00 | 0.00 | 0.00 | 0.00 | 0.00 | 0.00 | 0.00 | XXX
D9242 |  | I | IV sedation ea ad 30 m | 0.00 | 0.00 | 0.00 | 0.00 | 0.00 | 0.00 | 0.00 | 0.00 | 0.00 | 0.00 | XXX
D9248 |  | R | Sedation (non-iv) | 0.00 | 0.00 | 0.00 | 0.00 | 0.00 | 0.00 | 0.00 | 0.00 | 0.00 | 0.00 | XXX
D9310 |  | I | Dental consultation | 0.00 | 0.00 | 0.00 | 0.00 | 0.00 | 0.00 | 0.00 | 0.00 | 0.00 | 0.00 | XXX
D9410 |  | I | Dental house call | 0.00 | 0.00 | 0.00 | 0.00 | 0.00 | 0.00 | 0.00 | 0.00 | 0.00 | 0.00 | XXX
D9420 |  | I | Hospital call | 0.00 | 0.00 | 0.00 | 0.00 | 0.00 | 0.00 | 0.00 | 0.00 | 0.00 | 0.00 | XXX
D9430 |  | I | Office visit during hours | 0.00 | 0.00 | 0.00 | 0.00 | 0.00 | 0.00 | 0.00 | 0.00 | 0.00 | 0.00 | XXX
D9440 |  | I | Office visit after hours | 0.00 | 0.00 | 0.00 | 0.00 | 0.00 | 0.00 | 0.00 | 0.00 | 0.00 | 0.00 | XXX
D9610 |  | I | Dent therapeutic drug inject | 0.00 | 0.00 | 0.00 | 0.00 | 0.00 | 0.00 | 0.00 | 0.00 | 0.00 | 0.00 | XXX
D9630 |  | R | Other drugs/medicaments | 0.00 | 0.00 | 0.00 | 0.00 | 0.00 | 0.00 | 0.00 | 0.00 | 0.00 | 0.00 | YYY
D9910 |  | N | Dent appl desensitizing med | 0.00 | 0.00 | 0.00 | 0.00 | 0.00 | 0.00 | 0.00 | 0.00 | 0.00 | 0.00 | XXX
D9911 |  | N | Appl desensitizing resin | 0.00 | 0.00 | 0.00 | 0.00 | 0.00 | 0.00 | 0.00 | 0.00 | 0.00 | 0.00 | XXX
D9920 |  | N | Behavior management | 0.00 | 0.00 | 0.00 | 0.00 | 0.00 | 0.00 | 0.00 | 0.00 | 0.00 | 0.00 | XXX
D9930 |  | R | Treatment of complications | 0.00 | 0.00 | 0.00 | 0.00 | 0.00 | 0.00 | 0.00 | 0.00 | 0.00 | 0.00 | YYY
D9940 |  | R | Dental occlusal guard | 0.00 | 0.00 | 0.00 | 0.00 | 0.00 | 0.00 | 0.00 | 0.00 | 0.00 | 0.00 | YYY
D9941 |  | N | Fabrication athletic guard | 0.00 | 0.00 | 0.00 | 0.00 | 0.00 | 0.00 | 0.00 | 0.00 | 0.00 | 0.00 | XXX
D9950 |  | R | Occlusion analysis | 0.00 | 0.00 | 0.00 | 0.00 | 0.00 | 0.00 | 0.00 | 0.00 | 0.00 | 0.00 | YYY
D9951 |  | R | Limited occlusal adjustment | 0.00 | 0.00 | 0.00 | 0.00 | 0.00 | 0.00 | 0.00 | 0.00 | 0.00 | 0.00 | YYY
D9952 |  | R | Complete occlusal adjustment | 0.00 | 0.00 | 0.00 | 0.00 | 0.00 | 0.00 | 0.00 | 0.00 | 0.00 | 0.00 | YYY
D9970 |  | N | Enamel microabrasion | 0.00 | 0.00 | 0.00 | 0.00 | 0.00 | 0.00 | 0.00 | 0.00 | 0.00 | 0.00 | XXX
D9971 |  | N | Odontoplasty 1-2 teeth | 0.00 | 0.00 | 0.00 | 0.00 | 0.00 | 0.00 | 0.00 | 0.00 | 0.00 | 0.00 | XXX
D9972 |  | N | Extrnl bleaching per arch | 0.00 | 0.00 | 0.00 | 0.00 | 0.00 | 0.00 | 0.00 | 0.00 | 0.00 | 0.00 | XXX
D9973 |  | N | Extrnl bleaching per tooth | 0.00 | 0.00 | 0.00 | 0.00 | 0.00 | 0.00 | 0.00 | 0.00 | 0.00 | 0.00 | XXX
D9974 |  | N | Intrnl bleaching per tooth | 0.00 | 0.00 | 0.00 | 0.00 | 0.00 | 0.00 | 0.00 | 0.00 | 0.00 | 0.00 | XXX
D9999 |  | I | Adjunctive procedure | 0.00 | 0.00 | 0.00 | 0.00 | 0.00 | 0.00 | 0.00 | 0.00 | 0.00 | 0.00 | XXX
G0001 |  | X | Drawing blood for specimen | 0.00 | 0.00 | 0.00 | 0.00 | 0.00 | 0.00 | 0.00 | 0.00 | 0.00 | 0.00 | XXX
G0002 |  | A | Temporary urinary catheter | 0.50 | 3.05 | 2.48 | 0.16 | 0.31 | 0.03 | 3.58 | 3.01 | 0.69 | 0.84 | 000
G0004 |  | A | ECG transm phys review & int | 0.52 | 7.53 | 7.64 | NA | NA | 0.46 | 8.51 | 8.62 | NA | NA | XXX
G0005 |  | A | ECG 24 hour recording | 0.00 | 1.25 | 1.26 | NA | NA | 0.07 | 1.32 | 1.33 | NA | NA | XXX
G0006 |  | A | ECG transmission & analysis | 0.00 | 6.08 | 6.12 | NA | NA | 0.37 | 6.45 | 6.49 | NA | NA | XXX
G0007 |  | A | ECG phy review & interpret | 0.52 | 0.20 | 0.26 | 0.20 | 0.26 | 0.02 | 0.74 | 0.80 | 0.74 | 0.80 | XXX
G0008 |  | X | Admin influenza virus vac | 0.00 | 0.00 | 0.00 | 0.00 | 0.00 | 0.00 | 0.00 | 0.00 | 0.00 | 0.00 | XXX
G0009 |  | X | Admin pneumococcal vaccine | 0.00 | 0.00 | 0.00 | 0.00 | 0.00 | 0.00 | 0.00 | 0.00 | 0.00 | 0.00 | XXX
G0010 |  | X | Admin hepatitis b vaccine | 0.00 | 0.00 | 0.00 | 0.00 | 0.00 | 0.00 | 0.00 | 0.00 | 0.00 | 0.00 | XXX
G0015 |  | A | Post symptom ECG tracing | 0.00 | 6.08 | 6.12 | NA | NA | 0.37 | 6.45 | 6.49 | NA | NA | XXX
G0016 |  | A | Post symptom ECG md review | 0.52 | 0.26 | 0.30 | 0.26 | 0.30 | 0.02 | 0.80 | 0.84 | 0.80 | 0.84 | XXX
G0025 |  | A | Collagen skin test kit | 0.00 | 0.00 | 0.26 | 0.00 | 0.26 | 0.00 | 0.00 | 0.26 | 0.00 | 0.26 | XXX
G0026 |  | X | Fecal leukocyte examination | 0.00 | 0.00 | 0.00 | 0.00 | 0.00 | 0.00 | 0.00 | 0.00 | 0.00 | 0.00 | XXX
G0027 |  | X | Semen analysis | 0.00 | 0.00 | 0.00 | 0.00 | 0.00 | 0.00 | 0.00 | 0.00 | 0.00 | 0.00 | XXX
G0030 |  | C | PET imaging prev PET single | 0.00 | 0.00 | 0.00 | NA | NA | 0.00 | 0.00 | 0.00 | NA | NA | XXX
G0030 | 26 | A | PET imaging prev PET single | 1.50 | 0.52 | 0.52 | 0.52 | 0.52 | 0.05 | 2.07 | 2.07 | 2.07 | 2.07 | XXX
G0030 | TC | C | PET imaging prev PET single | 0.00 | 0.00 | 0.00 | NA | NA | 0.00 | 0.00 | 0.00 | NA | NA | XXX
G0031 |  | C | PET imaging prev PET multple | 0.00 | 0.00 | 0.00 | NA | NA | 0.00 | 0.00 | 0.00 | NA | NA | XXX
G0031 | 26 | A | PET imaging prev PET multple | 1.87 | 0.70 | 0.70 | 0.70 | 0.70 | 0.07 | 2.64 | 2.64 | 2.64 | 2.64 | XXX
G0031 | TC | C | PET imaging prev PET multple | 0.00 | 0.00 | 0.00 | NA | NA | 0.00 | 0.00 | 0.00 | NA | NA | XXX
G0032 |  | C | PET follow SPECT 78464 singl | 0.00 | 0.00 | 0.00 | NA | NA | 0.00 | 0.00 | 0.00 | NA | NA | XXX
G0032 | 26 | A | PET follow SPECT 78464 singl | 1.50 | 0.52 | 0.52 | 0.52 | 0.52 | 0.05 | 2.07 | 2.07 | 2.07 | 2.07 | XXX
G0032 | TC | C | PET follow SPECT 78464 singl | 0.00 | 0.00 | 0.00 | NA | NA | 0.00 | 0.00 | 0.00 | NA | NA | XXX
G0033 |  | C | PET follow SPECT 78464 mult | 0.00 | 0.00 | 0.00 | NA | NA | 0.00 | 0.00 | 0.00 | NA | NA | XXX
G0033 | 26 | A | PET follow SPECT 78464 mult | 1.87 | 0.70 | 0.70 | 0.70 | 0.70 | 0.06 | 2.63 | 2.63 | 2.63 | 2.63 | XXX
G0033 | TC | C | PET follow SPECT 78464 mult | 0.00 | 0.00 | 0.00 | NA | NA | 0.00 | 0.00 | 0.00 | NA | NA | XXX
G0034 |  | C | PET follow SPECT 76865 singl | 0.00 | 0.00 | 0.00 | NA | NA | 0.00 | 0.00 | 0.00 | NA | NA | XXX
G0034 | 26 | A | PET follow SPECT 76865 singl | 1.50 | 0.52 | 0.52 | 0.52 | 0.52 | 0.05 | 2.07 | 2.07 | 2.07 | 2.07 | XXX
G0034 | TC | C | PET follow SPECT 76865 singl | 0.00 | 0.00 | 0.00 | NA | NA | 0.00 | 0.00 | 0.00 | NA | NA | XXX
G0035 |  | C | PET follow SPECT 78465 mult | 0.00 | 0.00 | 0.00 | NA | NA | 0.00 | 0.00 | 0.00 | NA | NA | XXX
G0035 | 26 | A | PET follow SPECT 78465 mult | 1.87 | 0.70 | 0.70 | 0.70 | 0.70 | 0.07 | 2.64 | 2.64 | 2.64 | 2.64 | XXX
G0035 | TC | C | PET follow SPECT 78465 mult | 0.00 | 0.00 | 0.00 | NA | NA | 0.00 | 0.00 | 0.00 | NA | NA | XXX
G0036 |  | C | PET follow cornry angio sing | 0.00 | 0.00 | 0.00 | NA | NA | 0.00 | 0.00 | 0.00 | NA | NA | XXX
G0036 | 26 | A | PET follow cornry angio sing | 1.50 | 0.52 | 0.52 | 0.52 | 0.52 | 0.06 | 2.08 | 2.08 | 2.08 | 2.08 | XXX
G0036 | TC | C | PET follow cornry angio sing | 0.00 | 0.00 | 0.00 | NA | NA | 0.00 | 0.00 | 0.00 | NA | NA | XXX
G0037 |  | C | PET follow cornry angio mult | 0.00 | 0.00 | 0.00 | NA | NA | 0.00 | 0.00 | 0.00 | NA | NA | XXX
G0037 | 26 | A | PET follow cornry angio mult | 1.87 | 0.70 | 0.70 | 0.70 | 0.70 | 0.07 | 2.64 | 2.64 | 2.64 | 2.64 | XXX
G0037 | TC | C | PET follow cornry angio mult | 0.00 | 0.00 | 0.00 | NA | NA | 0.00 | 0.00 | 0.00 | NA | NA | XXX
G0038 |  | C | PET follow myocard perf sing | 0.00 | 0.00 | 0.00 | NA | NA | 0.00 | 0.00 | 0.00 | NA | NA | XXX
G0038 | 26 | A | PET follow myocard perf sing | 1.50 | 0.52 | 0.52 | 0.52 | 0.52 | 0.05 | 2.07 | 2.07 | 2.07 | 2.07 | XXX
G0038 | TC | C | PET follow myocard perf sing | 0.00 | 0.00 | 0.00 | NA | NA | 0.00 | 0.00 | 0.00 | NA | NA | XXX
G0039 |  | C | PET follow myocard perf mult | 0.00 | 0.00 | 0.00 | NA | NA | 0.00 | 0.00 | 0.00 | NA | NA | XXX
G0039 | 26 | A | PET follow myocard perf mult | 1.87 | 0.70 | 0.70 | 0.70 | 0.70 | 0.06 | 2.63 | 2.63 | 2.63 | 2.63 | XXX
G0039 | TC | C | PET follow myocard perf mult | 0.00 | 0.00 | 0.00 | NA | NA | 0.00 | 0.00 | 0.00 | NA | NA | XXX
G0040 |  | C | PET follow stress echo singl | 0.00 | 0.00 | 0.00 | NA | NA | 0.00 | 0.00 | 0.00 | NA | NA | XXX
G0040 | 26 | A | PET follow stress echo singl | 1.50 | 0.52 | 0.52 | 0.52 | 0.52 | 0.05 | 2.07 | 2.07 | 2.07 | 2.07 | XXX
G0040 | TC | C | PET follow stress echo singl | 0.00 | 0.00 | 0.00 | NA | NA | 0.00 | 0.00 | 0.00 | NA | NA | XXX
G0041 |  | C | PET follow stress echo mult | 0.00 | 0.00 | 0.00 | NA | NA | 0.00 | 0.00 | 0.00 | NA | NA | XXX
G0041 | 26 | A | PET follow stress echo mult | 1.87 | 0.70 | 0.70 | 0.70 | 0.70 | 0.06 | 2.63 | 2.63 | 2.63 | 2.63 | XXX
G0041 | TC | C | PET follow stress echo mult | 0.00 | 0.00 | 0.00 | NA | NA | 0.00 | 0.00 | 0.00 | NA | NA | XXX
G0042 |  | C | PET follow ventriculogm sing | 0.00 | 0.00 | 0.00 | NA | NA | 0.00 | 0.00 | 0.00 | NA | NA | XXX
G0042 | 26 | A | PET follow ventriculogm sing | 1.50 | 0.52 | 0.52 | 0.52 | 0.52 | 0.05 | 2.07 | 2.07 | 2.07 | 2.07 | XXX
G0042 | TC | C | PET follow ventriculogm sing | 0.00 | 0.00 | 0.00 | NA | NA | 0.00 | 0.00 | 0.00 | NA | NA | XXX
G0043 |  | C | PET follow ventriculogm mult | 0.00 | 0.00 | 0.00 | NA | NA | 0.00 | 0.00 | 0.00 | NA | NA | XXX
G0043 | 26 | A | PET follow ventriculogm mult | 1.87 | 0.70 | 0.70 | 0.70 | 0.70 | 0.06 | 2.63 | 2.63 | 2.63 | 2.63 | XXX
G0043 | TC | C | PET follow ventriculogm mult | 0.00 | 0.00 | 0.00 | NA | NA | 0.00 | 0.00 | 0.00 | NA | NA | XXX
G0044 |  | C | PET following rest ECG singl | 0.00 | 0.00 | 0.00 | NA | NA | 0.00 | 0.00 | 0.00 | NA | NA | XXX
G0044 | 26 | A | PET following rest ECG singl | 1.50 | 0.52 | 0.52 | 0.52 | 0.52 | 0.05 | 2.07 | 2.07 | 2.07 | 2.07 | XXX
G0044 | TC | C | PET following rest ECG singl | 0.00 | 0.00 | 0.00 | NA | NA | 0.00 | 0.00 | 0.00 | NA | NA | XXX
G0045 |  | C | PET following rest ECG mult | 0.00 | 0.00 | 0.00 | NA | NA | 0.00 | 0.00 | 0.00 | NA | NA | XXX
G0045 | 26 | A | PET following rest ECG mult | 1.87 | 0.70 | 0.70 | 0.70 | 0.70 | 0.06 | 2.63 | 2.63 | 2.63 | 2.63 | XXX
G0045 | TC | C | PET following rest ECG mult | 0.00 | 0.00 | 0.00 | NA | NA | 0.00 | 0.00 | 0.00 | NA | NA | XXX
G0046 |  | C | PET follow stress ECG singl | 0.00 | 0.00 | 0.00 | NA | NA | 0.00 | 0.00 | 0.00 | NA | NA | XXX
G0046 | 26 | A | PET follow stress ECG singl | 1.50 | 0.52 | 0.52 | 0.52 | 0.52 | 0.05 | 2.07 | 2.07 | 2.07 | 2.07 | XXX
G0046 | TC | C | PET follow stress ECG singl | 0.00 | 0.00 | 0.00 | NA | NA | 0.00 | 0.00 | 0.00 | NA | NA | XXX
G0047 |  | C | PET follow stress ECG mult | 0.00 | 0.00 | 0.00 | NA | NA | 0.00 | 0.00 | 0.00 | NA | NA | XXX
G0047 | 26 | A | PET follow stress ECG mult | 1.87 | 0.70 | 0.70 | 0.70 | 0.70 | 0.06 | 2.63 | 2.63 | 2.63 | 2.63 | XXX
G0047 | TC | C | PET follow stress ECG mult | 0.00 | 0.00 | 0.00 | NA | NA | 0.00 | 0.00 | 0.00 | NA | NA | XXX
G0050 |  | A | Residual urine by ultrasound | 0.00 | 0.86 | 0.87 | NA | NA | 0.04 | 0.90 | 0.91 | NA | NA | XXX
G0101 |  | A | CA screen;pelvic/breast exam | 0.45 | 0.59 | 0.52 | 0.17 | 0.20 | 0.02 | 1.06 | 0.99 | 0.64 | 0.67 | XXX
G0102 |  | A | Prostate ca screening; dre | 0.17 | 0.54 | 0.46 | 0.06 | 0.10 | 0.01 | 0.72 | 0.64 | 0.24 | 0.28 | XXX
G0103 |  | X | Psa, total screening | 0.00 | 0.00 | 0.00 | 0.00 | 0.00 | 0.00 | 0.00 | 0.00 | 0.00 | 0.00 | XXX
G0104 |  | A | CA screen;flexi sigmoidscope | 0.96 | 1.68 | 1.59 | 0.42 | 0.65 | 0.07 | 2.71 | 2.62 | 1.45 | 1.68 | 000
G0105 |  | A | Colorectal scrn; hi risk ind | 3.70 | 5.39 | 5.16 | 1.63 | 2.34 | 0.26 | 9.35 | 9.12 | 5.59 | 6.30 | 000
G0106 |  | A | Colon CA screen;barium enema | 0.99 | 2.60 | 2.65 | NA | NA | 0.15 | 3.74 | 3.79 | NA | NA | XXX
G0106 | 26 | A | Colon CA screen;barium enema | 0.99 | 0.34 | 0.38 | 0.34 | 0.38 | 0.04 | 1.37 | 1.41 | 1.37 | 1.41 | XXX
G0106 | TC | A | Colon CA screen;barium enema | 0.00 | 2.26 | 2.27 | NA | NA | 0.11 | 2.37 | 2.38 | NA | NA | XXX
G0107 |  | X | CA screen; fecal blood test | 0.00 | 0.00 | 0.00 | 0.00 | 0.00 | 0.00 | 0.00 | 0.00 | 0.00 | 0.00 | XXX
G0108 |  | A | Diab manage trn per indiv | 0.00 | 1.64 | 1.64 | 1.64 | 1.64 | 0.01 | 1.65 | 1.65 | 1.65 | 1.65 | XXX
G0109 |  | A | Diab manage trn ind/group | 0.00 | 0.96 | 0.96 | 0.96 | 0.96 | 0.01 | 0.97 | 0.97 | 0.97 | 0.97 | XXX
G0110 |  | R | Nett pulm-rehab educ; ind | 0.90 | 0.66 | 0.57 | 0.36 | 0.34 | 0.03 | 1.59 | 1.50 | 1.29 | 1.27 | XXX
G0111 |  | R | Nett pulm-rehab educ; group | 0.27 | 0.27 | 0.26 | 0.14 | 0.16 | 0.01 | 0.55 | 0.54 | 0.42 | 0.44 | XXX
G0112 |  | R | Nett;nutrition guid, initial | 1.72 | 1.36 | 1.28 | 0.68 | 0.77 | 0.07 | 3.15 | 3.07 | 2.47 | 2.56 | XXX
G0113 |  | R | Nett;nutrition guid,subseqnt | 1.29 | 0.95 | 0.92 | 0.41 | 0.52 | 0.05 | 2.29 | 2.26 | 1.75 | 1.86 | XXX
G0114 |  | R | Nett; psychosocial consult | 1.20 | 0.49 | 0.46 | 0.37 | 0.37 | 0.03 | 1.72 | 1.69 | 1.60 | 1.60 | XXX
G0115 |  | R | Nett; psychological testing | 1.20 | 0.52 | 0.49 | 0.48 | 0.46 | 0.03 | 1.75 | 1.72 | 1.71 | 1.69 | XXX
G0116 |  | R | Nett; psychosocial counsel | 1.11 | 0.60 | 0.55 | 0.33 | 0.34 | 0.03 | 1.74 | 1.69 | 1.47 | 1.48 | XXX
G0120 |  | A | Colon ca scrn; barium enema | 0.99 | 2.60 | 2.65 | NA | NA | 0.15 | 3.74 | 3.79 | NA | NA | XXX
G0120 | 26 | A | Colon ca scrn; barium enema | 0.99 | 0.34 | 0.38 | 0.34 | 0.38 | 0.04 | 1.37 | 1.41 | 1.37 | 1.41 | XXX
G0120 | TC | A | Colon ca scrn; barium enema | 0.00 | 2.26 | 2.27 | NA | NA | 0.11 | 2.37 | 2.38 | NA | NA | XXX
G0121 |  | N | Colon ca scrn not hi rsk ind | 3.70 | 6.16 | 5.74 | 1.47 | 2.22 | 0.13 | 9.99 | 9.57 | 5.30 | 6.05 | XXX
G0122 |  | N | Colon ca scrn; barium enema | 0.99 | 2.65 | 2.69 | NA | NA | 0.15 | 3.79 | 3.83 | NA | NA | XXX
G0122 | 26 | N | Colon ca scrn; barium enema | 0.99 | 0.39 | 0.42 | 0.39 | 0.42 | 0.04 | 1.42 | 1.45 | 1.42 | 1.45 | XXX
G0122 | TC | N | Colon ca scrn; barium enema | 0.00 | 2.26 | 2.27 | NA | NA | 0.11 | 2.37 | 2.38 | NA | NA | XXX
G0123 |  | X | Screen cerv/vag thin layer | 0.00 | 0.00 | 0.00 | 0.00 | 0.00 | 0.00 | 0.00 | 0.00 | 0.00 | 0.00 | XXX
G0124 |  | A | Screen c/v thin layer by MD | 0.42 | 0.19 | 0.23 | 0.19 | 0.23 | 0.01 | 0.62 | 0.66 | 0.62 | 0.66 | XXX
G0125 |  | A | Lung image (PET) | 1.50 | 56.15 | 56.15 | NA | NA | 2.06 | 59.71 | 59.71 | NA | NA | XXX
G0125 | 26 | A | Lung image (PET) | 1.50 | 0.52 | 0.52 | 0.52 | 0.52 | 0.05 | 2.07 | 2.07 | 2.07 | 2.07 | XXX
G0125 | TC | A | Lung image (PET) | 0.00 | 55.63 | 55.63 | NA | NA | 2.01 | 57.64 | 57.64 | NA | NA | XXX
G0126 |  | A | Lung image (PET) staging | 1.87 | 56.33 | 56.33 | NA | NA | 2.07 | 60.27 | 60.27 | NA | NA | XXX
G0126 | 26 | A | Lung image (PET) staging | 1.87 | 0.70 | 0.70 | 0.70 | 0.70 | 0.06 | 2.63 | 2.63 | 2.63 | 2.63 | XXX
G0126 | TC | A | Lung image (PET) staging | 0.00 | 55.63 | 55.63 | NA | NA | 2.01 | 57.64 | 57.64 | NA | NA | XXX
G0127 |  | R | Trim nail(s) | 0.11 | 0.48 | 0.43 | 0.04 | 0.10 | 0.01 | 0.60 | 0.55 | 0.16 | 0.22 | 000
G0128 |  | R | CORF skilled nursing service | 0.08 | 0.03 | 0.03 | 0.03 | 0.03 | 0.01 | 0.12 | 0.12 | 0.12 | 0.12 | XXX
G0130 |  | A | Single energy x-ray study | 0.22 | 0.90 | 0.90 | NA | NA | 0.05 | 1.17 | 1.17 | NA | NA | XXX
G0130 | 26 | A | Single energy x-ray study | 0.22 | 0.11 | 0.11 | 0.11 | 0.11 | 0.01 | 0.34 | 0.34 | 0.34 | 0.34 | XXX
G0130 | TC | A | Single energy x-ray study | 0.00 | 0.79 | 0.79 | NA | NA | 0.04 | 0.83 | 0.83 | NA | NA | XXX
G0131 |  | A | CT scan, bone density study | 0.25 | 3.18 | 3.18 | NA | NA | 0.14 | 3.57 | 3.57 | NA | NA | XXX
G0131 | 26 | A | CT scan, bone density study | 0.25 | 0.13 | 0.13 | 0.13 | 0.13 | 0.01 | 0.39 | 0.39 | 0.39 | 0.39 | XXX
G0131 | TC | A | CT scan, bone density study | 0.00 | 3.05 | 3.05 | NA | NA | 0.13 | 3.18 | 3.18 | NA | NA | XXX
G0132 |  | A | CT scan, bone density study | 0.22 | 0.90 | 0.90 | NA | NA | 0.05 | 1.17 | 1.17 | NA | NA | XXX
G0132 | 26 | A | CT scan, bone density study | 0.22 | 0.11 | 0.11 | 0.11 | 0.11 | 0.01 | 0.34 | 0.34 | 0.34 | 0.34 | XXX
G0132 | TC | A | CT scan, bone density study | 0.00 | 0.79 | 0.79 | NA | NA | 0.04 | 0.83 | 0.83 | NA | NA | XXX
G0141 |  | A | Scr c/v cyto,autosys and md | 0.42 | 0.19 | 0.23 | 0.19 | 0.23 | 0.01 | 0.62 | 0.66 | 0.62 | 0.66 | XXX
G0143 |  | X | Scr c/v cyto,thinlayer,rescr | 0.00 | 0.00 | 0.00 | 0.00 | 0.00 | 0.00 | 0.00 | 0.00 | 0.00 | 0.00 | XXX
G0144 |  | X | Scr c/v cyto,thinlayer,rescr | 0.00 | 0.00 | 0.00 | 0.00 | 0.00 | 0.00 | 0.00 | 0.00 | 0.00 | 0.00 | XXX
G0145 |  | X | Scr c/v cyto,thinlayer,rescr | 0.00 | 0.00 | 0.00 | 0.00 | 0.00 | 0.00 | 0.00 | 0.00 | 0.00 | 0.00 | XXX
G0147 |  | X | Scr c/v cyto, automated sys | 0.00 | 0.00 | 0.00 | 0.00 | 0.00 | 0.00 | 0.00 | 0.00 | 0.00 | 0.00 | XXX
G0148 |  | X | Scr c/v cyto, autosys, rescr | 0.00 | 0.00 | 0.00 | 0.00 | 0.00 | 0.00 | 0.00 | 0.00 | 0.00 | 0.00 | XXX
G0159 |  | C | Perc declot dialysis graft | 0.00 | 0.00 | 0.00 | 0.00 | 0.00 | 0.00 | 0.00 | 0.00 | 0.00 | 0.00 | XXX
G0160 |  | C | Cryo. ablation, prostate | 0.00 | 0.00 | 0.00 | 0.00 | 0.00 | 0.00 | 0.00 | 0.00 | 0.00 | 0.00 | 090
G0161 |  | C | Echo guide for cryo probes | 0.00 | 0.00 | 0.00 | NA | NA | 0.00 | 0.00 | 0.00 | NA | NA | XXX
G0161 | 26 | C | Echo guide for cryo probes | 0.00 | 0.00 | 0.00 | 0.00 | 0.00 | 0.00 | 0.00 | 0.00 | 0.00 | 0.00 | XXX
G0161 | TC | C | Echo guide for cryo probes | 0.00 | 0.00 | 0.00 | NA | NA | 0.00 | 0.00 | 0.00 | NA | NA | XXX
G0163 |  | A | Pet for rec of colorectal ca | 1.50 | 56.22 | 56.22 | NA | NA | 2.06 | 59.78 | 59.78 | NA | NA | XXX
G0163 | 26 | A | Pet for rec of colorectal ca | 1.50 | 0.59 | 0.59 | 0.59 | 0.59 | 0.05 | 2.14 | 2.14 | 2.14 | 2.14 | XXX
G0163 | TC | A | Pet for rec of colorectal ca | 0.00 | 55.63 | 55.63 | NA | NA | 2.01 | 57.64 | 57.64 | NA | NA | XXX
G0164 |  | A | Pet for lymphoma staging | 1.87 | 56.37 | 56.37 | NA | NA | 2.06 | 60.30 | 60.30 | NA | NA | XXX
G0164 | 26 | A | Pet for lymphoma staging | 1.87 | 0.74 | 0.74 | 0.74 | 0.74 | 0.05 | 2.66 | 2.66 | 2.66 | 2.66 | XXX
G0164 | TC | A | Pet for lymphoma staging | 0.00 | 55.63 | 55.63 | NA | NA | 2.01 | 57.64 | 57.64 | NA | NA | XXX
G0165 |  | A | Pet,rec of melanoma/met ca | 1.50 | 56.22 | 56.22 | NA | NA | 2.06 | 59.78 | 59.78 | NA | NA | XXX
G0165 | 26 | A | Pet,rec of melanoma/met ca | 1.50 | 0.59 | 0.59 | 0.59 | 0.59 | 0.05 | 2.14 | 2.14 | 2.14 | 2.14 | XXX
G0165 | TC | A | Pet,rec of melanoma/met ca | 0.00 | 55.63 | 55.63 | NA | NA | 2.01 | 57.64 | 57.64 | NA | NA | XXX
G0166 |  | A | Extrnl counterpulse, per tx | 0.07 | 4.11 | 4.11 | 0.03 | 0.03 | 0.01 | 4.19 | 4.19 | 0.11 | 0.11 | XXX
G0167 |  | C | Hyperbaric oz tx;no md reqrd | 0.00 | NA | NA | 0.71 | 0.72 | 0.00 | NA | NA | 0.71 | 0.72 | XXX
G0168 |  | A | Wound closure by adhesive | 0.45 | 1.86 | 1.86 | 0.26 | 0.26 | 0.02 | 2.33 | 2.33 | 0.73 | 0.73 | 010
G0169 |  | A | Removal tissue; no anesthsia | 0.50 | 0.56 | 0.56 | 0.56 | 0.56 | 0.04 | 1.10 | 1.10 | 1.10 | 1.10 | XXX
G0170 |  | A | Skin biograft | 1.50 | 2.29 | 2.29 | 0.99 | 0.99 | 0.39 | 4.18 | 4.18 | 2.88 | 2.88 | 010
G0171 |  | A | Skin biograft add-on | 0.38 | 0.30 | 0.30 | 0.15 | 0.15 | 0.39 | 1.07 | 1.07 | 0.92 | 0.92 | ZZZ
Gxxx1 |  | A | Home health care supervision | 1.73 | 1.31 | 1.12 | 0.61 | 0.60 | 0.06 | 3.10 | 2.91 | 2.40 | 2.39 | XXX
Gxxx2 |  | A | Hospice care supervision | 1.73 | 1.55 | 1.30 | 0.58 | 0.57 | 0.06 | 3.34 | 3.09 | 2.37 | 2.36 | XXX
Gxxx3 |  | A | Initial cert, home health | 0.67 | 1.10 | 1.10 | 0.27 | 0.27 | 0.06 | 1.83 | 1.83 | 1.00 | 1.00 | XXX
Gxxx4 |  | A | Recertification, home health | 0.45 | 1.00 | 1.00 | 0.18 | 0.18 | 0.06 | 1.51 | 1.51 | 0.69 | 0.69 | XXX
Gxxx5 |  | A | Treatment of choroid lesion | 13.13 | 9.93 | 9.93 | 9.10 | 9.10 | 0.52 | 23.58 | 23.58 | 22.75 | 22.75 | 090
Gxxx6 |  | A | Ocular phototherapy, iv incl | 0.55 | 34.59 | 34.59 | 0.27 | 0.27 | 0.52 | 35.66 | 35.66 | 1.34 | 1.34 | XXX
Gxxx7 |  | A | Ocular phototherapy, iv incl | 0.28 | 0.24 | 0.24 | 0.14 | 0.14 | 0.52 | 1.04 | 1.04 | 0.94 | 0.94 | ZZZ
J0120 |  | E | Tetracyclin injection | 0.00 | 0.00 | 0.00 | 0.00 | 0.00 | 0.00 | 0.00 | 0.00 | 0.00 | 0.00 | XXX
J0130 |  | E | Abciximab injection | 0.00 | 0.00 | 0.00 | 0.00 | 0.00 | 0.00 | 0.00 | 0.00 | 0.00 | 0.00 | XXX
J0150 |  | E | Injection adenosine 6 MG | 0.00 | 0.00 | 0.00 | 0.00 | 0.00 | 0.00 | 0.00 | 0.00 | 0.00 | 0.00 | XXX
J0151 |  | E | Adenosine injection | 0.00 | 0.00 | 0.00 | 0.00 | 0.00 | 0.00 | 0.00 | 0.00 | 0.00 | 0.00 | XXX
J0170 |  | E | Adrenalin epinephrin inject | 0.00 | 0.00 | 0.00 | 0.00 | 0.00 | 0.00 | 0.00 | 0.00 | 0.00 | 0.00 | XXX
J0190 |  | E | Inj biperiden lactate/5 mg | 0.00 | 0.00 | 0.00 | 0.00 | 0.00 | 0.00 | 0.00 | 0.00 | 0.00 | 0.00 | XXX
J0200 |  | E | Alatrofloxacin mesylate | 0.00 | 0.00 | 0.00 | 0.00 | 0.00 | 0.00 | 0.00 | 0.00 | 0.00 | 0.00 | XXX
J0205 |  | E | Alglucerase injection | 0.00 | 0.00 | 0.00 | 0.00 | 0.00 | 0.00 | 0.00 | 0.00 | 0.00 | 0.00 | XXX
J0207 |  | E | Amifostine | 0.00 | 0.00 | 0.00 | 0.00 | 0.00 | 0.00 | 0.00 | 0.00 | 0.00 | 0.00 | XXX
J0210 |  | E | Methyldopate hcl injection | 0.00 | 0.00 | 0.00 | 0.00 | 0.00 | 0.00 | 0.00 | 0.00 | 0.00 | 0.00 | XXX
J0256 |  | E | Alpha 1 proteinase inhibitor | 0.00 | 0.00 | 0.00 | 0.00 | 0.00 | 0.00 | 0.00 | 0.00 | 0.00 | 0.00 | XXX
J0270 |  | E | Alprostadil for injection | 0.00 | 0.00 | 0.00 | 0.00 | 0.00 | 0.00 | 0.00 | 0.00 | 0.00 | 0.00 | XXX
J0275 |  | E | Alprostadil urethral suppos | 0.00 | 0.00 | 0.00 | 0.00 | 0.00 | 0.00 | 0.00 | 0.00 | 0.00 | 0.00 | XXX
J0280 |  | E | Aminophyllin 250 MG inj | 0.00 | 0.00 | 0.00 | 0.00 | 0.00 | 0.00 | 0.00 | 0.00 | 0.00 | 0.00 | XXX
J0285 |  | E | Amphotericin B | 0.00 | 0.00 | 0.00 | 0.00 | 0.00 | 0.00 | 0.00 | 0.00 | 0.00 | 0.00 | XXX
J0286 |  | E | Amphotericin B lipid complex | 0.00 | 0.00 | 0.00 | 0.00 | 0.00 | 0.00 | 0.00 | 0.00 | 0.00 | 0.00 | XXX
J0290 |  | E | Ampicillin 500 MG inj | 0.00 | 0.00 | 0.00 | 0.00 | 0.00 | 0.00 | 0.00 | 0.00 | 0.00 | 0.00 | XXX
J0295 |  | E | Ampicillin sodium per 1.5 gm | 0.00 | 0.00 | 0.00 | 0.00 | 0.00 | 0.00 | 0.00 | 0.00 | 0.00 | 0.00 | XXX
J0300 |  | E | Amobarbital 125 MG inj | 0.00 | 0.00 | 0.00 | 0.00 | 0.00 | 0.00 | 0.00 | 0.00 | 0.00 | 0.00 | XXX
J0330 |  | E | Succinycholine chloride inj | 0.00 | 0.00 | 0.00 | 0.00 | 0.00 | 0.00 | 0.00 | 0.00 | 0.00 | 0.00 | XXX
J0340 |  | E | Nandrolon phenpropionate inj | 0.00 | 0.00 | 0.00 | 0.00 | 0.00 | 0.00 | 0.00 | 0.00 | 0.00 | 0.00 | XXX
J0350 |  | E | Injection anistreplase 30 u | 0.00 | 0.00 | 0.00 | 0.00 | 0.00 | 0.00 | 0.00 | 0.00 | 0.00 | 0.00 | XXX
J0360 |  | E | Hydralazine hcl injection | 0.00 | 0.00 | 0.00 | 0.00 | 0.00 | 0.00 | 0.00 | 0.00 | 0.00 | 0.00 | XXX
J0380 |  | E | Inj metaraminol bitartrate | 0.00 | 0.00 | 0.00 | 0.00 | 0.00 | 0.00 | 0.00 | 0.00 | 0.00 | 0.00 | XXX
J0390 |  | E | Chloroquine injection | 0.00 | 0.00 | 0.00 | 0.00 | 0.00 | 0.00 | 0.00 | 0.00 | 0.00 | 0.00 | XXX
J0395 |  | E | Arbutamine HCl injection | 0.00 | 0.00 | 0.00 | 0.00 | 0.00 | 0.00 | 0.00 | 0.00 | 0.00 | 0.00 | XXX
J0400 |  | E | Inj trimethaphan camsylate | 0.00 | 0.00 | 0.00 | 0.00 | 0.00 | 0.00 | 0.00 | 0.00 | 0.00 | 0.00 | XXX
J0456 |  | E | Azithromycin | 0.00 | 0.00 | 0.00 | 0.00 | 0.00 | 0.00 | 0.00 | 0.00 | 0.00 | 0.00 | XXX
J0460 |  | E | Atropine sulfate injection | 0.00 | 0.00 | 0.00 | 0.00 | 0.00 | 0.00 | 0.00 | 0.00 | 0.00 | 0.00 | XXX
J0470 |  | E | Dimecaprol injection | 0.00 | 0.00 | 0.00 | 0.00 | 0.00 | 0.00 | 0.00 | 0.00 | 0.00 | 0.00 | XXX
J0475 |  | E | Baclofen 10 MG injection | 0.00 | 0.00 | 0.00 | 0.00 | 0.00 | 0.00 | 0.00 | 0.00 | 0.00 | 0.00 | XXX
J0476 |  | E | Baclofen intrathecal trial | 0.00 | 0.00 | 0.00 | 0.00 | 0.00 | 0.00 | 0.00 | 0.00 | 0.00 | 0.00 | XXX
J0500 |  | E | Dicyclomine injection | 0.00 | 0.00 | 0.00 | 0.00 | 0.00 | 0.00 | 0.00 | 0.00 | 0.00 | 0.00 | XXX
J0510 |  | E | Benzquinamide injection | 0.00 | 0.00 | 0.00 | 0.00 | 0.00 | 0.00 | 0.00 | 0.00 | 0.00 | 0.00 | XXX
J0515 |  | E | Inj benztropine mesylate | 0.00 | 0.00 | 0.00 | 0.00 | 0.00 | 0.00 | 0.00 | 0.00 | 0.00 | 0.00 | XXX
J0520 |  | E | Bethanechol chloride inject | 0.00 | 0.00 | 0.00 | 0.00 | 0.00 | 0.00 | 0.00 | 0.00 | 0.00 | 0.00 | XXX
J0530 |  | E | Penicillin g benzathine inj | 0.00 | 0.00 | 0.00 | 0.00 | 0.00 | 0.00 | 0.00 | 0.00 | 0.00 | 0.00 | XXX
J0540 |  | E | Penicillin g benzathine inj | 0.00 | 0.00 | 0.00 | 0.00 | 0.00 | 0.00 | 0.00 | 0.00 | 0.00 | 0.00 | XXX
J0550 |  | E | Penicillin g benzathine inj | 0.00 | 0.00 | 0.00 | 0.00 | 0.00 | 0.00 | 0.00 | 0.00 | 0.00 | 0.00 | XXX
J0560 |  | E | Penicillin g benzathine inj | 0.00 | 0.00 | 0.00 | 0.00 | 0.00 | 0.00 | 0.00 | 0.00 | 0.00 | 0.00 | XXX
J0570 |  | E | Penicillin g benzathine inj | 0.00 | 0.00 | 0.00 | 0.00 | 0.00 | 0.00 | 0.00 | 0.00 | 0.00 | 0.00 | XXX
J0580 |  | E | Penicillin g benzathine inj | 0.00 | 0.00 | 0.00 | 0.00 | 0.00 | 0.00 | 0.00 | 0.00 | 0.00 | 0.00 | XXX
J0585 |  | E | Botulinum toxin a per unit | 0.00 | 0.00 | 0.00 | 0.00 | 0.00 | 0.00 | 0.00 | 0.00 | 0.00 | 0.00 | XXX
J0590 |  | E | Ethylnorepinephrine hcl inj | 0.00 | 0.00 | 0.00 | 0.00 | 0.00 | 0.00 | 0.00 | 0.00 | 0.00 | 0.00 | XXX
J0600 |  | E | Edetate calcium disodium inj | 0.00 | 0.00 | 0.00 | 0.00 | 0.00 | 0.00 | 0.00 | 0.00 | 0.00 | 0.00 | XXX
J0610 |  | E | Calcium gluconate injection | 0.00 | 0.00 | 0.00 | 0.00 | 0.00 | 0.00 | 0.00 | 0.00 | 0.00 | 0.00 | XXX
J0620 |  | E | Calcium glycer & lact/10 ML | 0.00 | 0.00 | 0.00 | 0.00 | 0.00 | 0.00 | 0.00 | 0.00 | 0.00 | 0.00 | XXX
J0630 |  | E | Calcitonin salmon injection | 0.00 | 0.00 | 0.00 | 0.00 | 0.00 | 0.00 | 0.00 | 0.00 | 0.00 | 0.00 | XXX
J0635 |  | E | Calcitriol injection | 0.00 | 0.00 | 0.00 | 0.00 | 0.00 | 0.00 | 0.00 | 0.00 | 0.00 | 0.00 | XXX
J0640 |  | E | Leucovorin calcium injection | 0.00 | 0.00 | 0.00 | 0.00 | 0.00 | 0.00 | 0.00 | 0.00 | 0.00 | 0.00 | XXX
J0670 |  | E | Inj mepivacaine HCL/10 ml | 0.00 | 0.00 | 0.00 | 0.00 | 0.00 | 0.00 | 0.00 | 0.00 | 0.00 | 0.00 | XXX
J0690 |  | E | Cefazolin sodium injection | 0.00 | 0.00 | 0.00 | 0.00 | 0.00 | 0.00 | 0.00 | 0.00 | 0.00 | 0.00 | XXX
J0694 |  | E | Cefoxitin sodium injection | 0.00 | 0.00 | 0.00 | 0.00 | 0.00 | 0.00 | 0.00 | 0.00 | 0.00 | 0.00 | XXX
J0695 |  | E | Cefonocid sodium injection | 0.00 | 0.00 | 0.00 | 0.00 | 0.00 | 0.00 | 0.00 | 0.00 | 0.00 | 0.00 | XXX
J0696 |  | E | Ceftriaxone sodium injection | 0.00 | 0.00 | 0.00 | 0.00 | 0.00 | 0.00 | 0.00 | 0.00 | 0.00 | 0.00 | XXX
J0697 |  | E | Sterile cefuroxime injection | 0.00 | 0.00 | 0.00 | 0.00 | 0.00 | 0.00 | 0.00 | 0.00 | 0.00 | 0.00 | XXX
J0698 |  | E | Cefotaxime sodium injection | 0.00 | 0.00 | 0.00 | 0.00 | 0.00 | 0.00 | 0.00 | 0.00 | 0.00 | 0.00 | XXX
J0702 |  | E | Betamethasone acet&sod phosp | 0.00 | 0.00 | 0.00 | 0.00 | 0.00 | 0.00 | 0.00 | 0.00 | 0.00 | 0.00 | XXX
J0704 |  | E | Betamethasone sod phosp/4 MG | 0.00 | 0.00 | 0.00 | 0.00 | 0.00 | 0.00 | 0.00 | 0.00 | 0.00 | 0.00 | XXX
J0710 |  | E | Cephapirin sodium injection | 0.00 | 0.00 | 0.00 | 0.00 | 0.00 | 0.00 | 0.00 | 0.00 | 0.00 | 0.00 | XXX
J0713 |  | E | Inj ceftazidime per 500 mg | 0.00 | 0.00 | 0.00 | 0.00 | 0.00 | 0.00 | 0.00 | 0.00 | 0.00 | 0.00 | XXX
J0715 |  | E | Ceftizoxime sodium / 500 MG | 0.00 | 0.00 | 0.00 | 0.00 | 0.00 | 0.00 | 0.00 | 0.00 | 0.00 | 0.00 | XXX
J0720 |  | E | Chloramphenicol sodium injec | 0.00 | 0.00 | 0.00 | 0.00 | 0.00 | 0.00 | 0.00 | 0.00 | 0.00 | 0.00 | XXX
J0725 |  | E | Chorionic gonadotropin/1000u | 0.00 | 0.00 | 0.00 | 0.00 | 0.00 | 0.00 | 0.00 | 0.00 | 0.00 | 0.00 | XXX
J0730 |  | E | Chlorpheniramin maleate inj | 0.00 | 0.00 | 0.00 | 0.00 | 0.00 | 0.00 | 0.00 | 0.00 | 0.00 | 0.00 | XXX
J0735 |  | E | Clonidine hydrochloride | 0.00 | 0.00 | 0.00 | 0.00 | 0.00 | 0.00 | 0.00 | 0.00 | 0.00 | 0.00 | XXX
J0740 |  | E | Cidofovir injection | 0.00 | 0.00 | 0.00 | 0.00 | 0.00 | 0.00 | 0.00 | 0.00 | 0.00 | 0.00 | XXX
J0743 |  | E | Cilastatin sodium injection | 0.00 | 0.00 | 0.00 | 0.00 | 0.00 | 0.00 | 0.00 | 0.00 | 0.00 | 0.00 | XXX
J0745 |  | E | Inj codeine phosphate /30 MG | 0.00 | 0.00 | 0.00 | 0.00 | 0.00 | 0.00 | 0.00 | 0.00 | 0.00 | 0.00 | XXX
J0760 |  | E | Colchicine injection | 0.00 | 0.00 | 0.00 | 0.00 | 0.00 | 0.00 | 0.00 | 0.00 | 0.00 | 0.00 | XXX
J0770 |  | E | Colistimethate sodium inj | 0.00 | 0.00 | 0.00 | 0.00 | 0.00 | 0.00 | 0.00 | 0.00 | 0.00 | 0.00 | XXX
J0780 |  | E | Prochlorperazine injection | 0.00 | 0.00 | 0.00 | 0.00 | 0.00 | 0.00 | 0.00 | 0.00 | 0.00 | 0.00 | XXX
J0800 |  | E | Corticotropin injection | 0.00 | 0.00 | 0.00 | 0.00 | 0.00 | 0.00 | 0.00 | 0.00 | 0.00 | 0.00 | XXX
J0810 |  | E | Cortisone injection | 0.00 | 0.00 | 0.00 | 0.00 | 0.00 | 0.00 | 0.00 | 0.00 | 0.00 | 0.00 | XXX
J0835 |  | E | Inj cosyntropin per 0.25 MG | 0.00 | 0.00 | 0.00 | 0.00 | 0.00 | 0.00 | 0.00 | 0.00 | 0.00 | 0.00 | XXX
J0850 |  | E | Cytomegalovirus imm IV /vial | 0.00 | 0.00 | 0.00 | 0.00 | 0.00 | 0.00 | 0.00 | 0.00 | 0.00 | 0.00 | XXX
J0895 |  | E | Deferoxamine mesylate inj | 0.00 | 0.00 | 0.00 | 0.00 | 0.00 | 0.00 | 0.00 | 0.00 | 0.00 | 0.00 | XXX
J0900 |  | E | Testosterone enanthate inj | 0.00 | 0.00 | 0.00 | 0.00 | 0.00 | 0.00 | 0.00 | 0.00 | 0.00 | 0.00 | XXX
J0945 |  | E | Brompheniramine maleate inj | 0.00 | 0.00 | 0.00 | 0.00 | 0.00 | 0.00 | 0.00 | 0.00 | 0.00 | 0.00 | XXX
J0970 |  | E | Estradiol valerate injection | 0.00 | 0.00 | 0.00 | 0.00 | 0.00 | 0.00 | 0.00 | 0.00 | 0.00 | 0.00 | XXX
J1000 |  | E | Depo-estradiol cypionate inj | 0.00 | 0.00 | 0.00 | 0.00 | 0.00 | 0.00 | 0.00 | 0.00 | 0.00 | 0.00 | XXX
J1020 |  | E | Methylprednisolone 20 MG inj | 0.00 | 0.00 | 0.00 | 0.00 | 0.00 | 0.00 | 0.00 | 0.00 | 0.00 | 0.00 | XXX
J1030 |  | E | Methylprednisolone 40 MG inj | 0.00 | 0.00 | 0.00 | 0.00 | 0.00 | 0.00 | 0.00 | 0.00 | 0.00 | 0.00 | XXX
J1040 |  | E | Methylprednisolone 80 MG inj | 0.00 | 0.00 | 0.00 | 0.00 | 0.00 | 0.00 | 0.00 | 0.00 | 0.00 | 0.00 | XXX
J1050 |  | E | Medroxyprogesterone inj | 0.00 | 0.00 | 0.00 | 0.00 | 0.00 | 0.00 | 0.00 | 0.00 | 0.00 | 0.00 | XXX
J1055 |  | N | Medrxyprogester acetate inj | 0.00 | 0.00 | 0.00 | 0.00 | 0.00 | 0.00 | 0.00 | 0.00 | 0.00 | 0.00 | XXX
J1060 |  | E | Testosterone cypionate 1 ML | 0.00 | 0.00 | 0.00 | 0.00 | 0.00 | 0.00 | 0.00 | 0.00 | 0.00 | 0.00 | XXX
J1070 |  | E | Testosterone cypionat 100 MG | 0.00 | 0.00 | 0.00 | 0.00 | 0.00 | 0.00 | 0.00 | 0.00 | 0.00 | 0.00 | XXX
J1080 |  | E | Testosterone cypionat 200 MG | 0.00 | 0.00 | 0.00 | 0.00 | 0.00 | 0.00 | 0.00 | 0.00 | 0.00 | 0.00 | XXX
J1090 |  | E | Testosterone cypionate 50 MG | 0.00 | 0.00 | 0.00 | 0.00 | 0.00 | 0.00 | 0.00 | 0.00 | 0.00 | 0.00 | XXX
J1095 |  | E | Inj dexamethasone acetate | 0.00 | 0.00 | 0.00 | 0.00 | 0.00 | 0.00 | 0.00 | 0.00 | 0.00 | 0.00 | XXX
J1100 |  | E | Dexamethasone sodium phos | 0.00 | 0.00 | 0.00 | 0.00 | 0.00 | 0.00 | 0.00 | 0.00 | 0.00 | 0.00 | XXX
J1110 |  | E | Inj dihydroergotamine mesylt | 0.00 | 0.00 | 0.00 | 0.00 | 0.00 | 0.00 | 0.00 | 0.00 | 0.00 | 0.00 | XXX
J1120 |  | E | Acetazolamid sodium injectio | 0.00 | 0.00 | 0.00 | 0.00 | 0.00 | 0.00 | 0.00 | 0.00 | 0.00 | 0.00 | XXX
J1160 |  | E | Digoxin injection | 0.00 | 0.00 | 0.00 | 0.00 | 0.00 | 0.00 | 0.00 | 0.00 | 0.00 | 0.00 | XXX
J1165 |  | E | Phenytoin sodium injection | 0.00 | 0.00 | 0.00 | 0.00 | 0.00 | 0.00 | 0.00 | 0.00 | 0.00 | 0.00 | XXX
J1170 |  | E | Hydromorphone injection | 0.00 | 0.00 | 0.00 | 0.00 | 0.00 | 0.00 | 0.00 | 0.00 | 0.00 | 0.00 | XXX
J1180 |  | E | Dyphylline injection | 0.00 | 0.00 | 0.00 | 0.00 | 0.00 | 0.00 | 0.00 | 0.00 | 0.00 | 0.00 | XXX
J1190 |  | E | Dexrazoxane HCl injection | 0.00 | 0.00 | 0.00 | 0.00 | 0.00 | 0.00 | 0.00 | 0.00 | 0.00 | 0.00 | XXX
J1200 |  | E | Diphenhydramine hcl injectio | 0.00 | 0.00 | 0.00 | 0.00 | 0.00 | 0.00 | 0.00 | 0.00 | 0.00 | 0.00 | XXX
J1205 |  | E | Chlorothiazide sodium inj | 0.00 | 0.00 | 0.00 | 0.00 | 0.00 | 0.00 | 0.00 | 0.00 | 0.00 | 0.00 | XXX
J1212 |  | E | Dimethyl sulfoxide 50% 50 ML | 0.00 | 0.00 | 0.00 | 0.00 | 0.00 | 0.00 | 0.00 | 0.00 | 0.00 | 0.00 | XXX
J1230 |  | E | Methadone injection | 0.00 | 0.00 | 0.00 | 0.00 | 0.00 | 0.00 | 0.00 | 0.00 | 0.00 | 0.00 | XXX
J1240 |  | E | Dimenhydrinate injection | 0.00 | 0.00 | 0.00 | 0.00 | 0.00 | 0.00 | 0.00 | 0.00 | 0.00 | 0.00 | XXX
J1245 |  | E | Dipyridamole injection | 0.00 | 0.00 | 0.00 | 0.00 | 0.00 | 0.00 | 0.00 | 0.00 | 0.00 | 0.00 | XXX
J1250 |  | E | Inj dobutamine HCL/250 mg | 0.00 | 0.00 | 0.00 | 0.00 | 0.00 | 0.00 | 0.00 | 0.00 | 0.00 | 0.00 | XXX
J1260 |  | E | Dolasetron mesylate | 0.00 | 0.00 | 0.00 | 0.00 | 0.00 | 0.00 | 0.00 | 0.00 | 0.00 | 0.00 | XXX
J1320 |  | E | Amitriptyline injection | 0.00 | 0.00 | 0.00 | 0.00 | 0.00 | 0.00 | 0.00 | 0.00 | 0.00 | 0.00 | XXX
J1325 |  | E | Epoprostenol injection | 0.00 | 0.00 | 0.00 | 0.00 | 0.00 | 0.00 | 0.00 | 0.00 | 0.00 | 0.00 | XXX
J1327 |  | E | Eptifibatide injection | 0.00 | 0.00 | 0.00 | 0.00 | 0.00 | 0.00 | 0.00 | 0.00 | 0.00 | 0.00 | XXX
J1330 |  | E | Ergonovine maleate injection | 0.00 | 0.00 | 0.00 | 0.00 | 0.00 | 0.00 | 0.00 | 0.00 | 0.00 | 0.00 | XXX
J1362 |  | E | Erythromycin glucep / 250 MG | 0.00 | 0.00 | 0.00 | 0.00 | 0.00 | 0.00 | 0.00 | 0.00 | 0.00 | 0.00 | XXX
J1364 |  | E | Erythro lactobionate /500 MG | 0.00 | 0.00 | 0.00 | 0.00 | 0.00 | 0.00 | 0.00 | 0.00 | 0.00 | 0.00 | XXX
J1380 |  | E | Estradiol valerate 10 MG inj | 0.00 | 0.00 | 0.00 | 0.00 | 0.00 | 0.00 | 0.00 | 0.00 | 0.00 | 0.00 | XXX
J1390 |  | E | Estradiol valerate 20 MG inj | 0.00 | 0.00 | 0.00 | 0.00 | 0.00 | 0.00 | 0.00 | 0.00 | 0.00 | 0.00 | XXX
J1410 |  | E | Inj estrogen conjugate 25 MG | 0.00 | 0.00 | 0.00 | 0.00 | 0.00 | 0.00 | 0.00 | 0.00 | 0.00 | 0.00 | XXX
J1435 |  | E | Injection estrone per 1 MG | 0.00 | 0.00 | 0.00 | 0.00 | 0.00 | 0.00 | 0.00 | 0.00 | 0.00 | 0.00 | XXX
J1436 |  | E | Etidronate disodium inj | 0.00 | 0.00 | 0.00 | 0.00 | 0.00 | 0.00 | 0.00 | 0.00 | 0.00 | 0.00 | XXX
J1438 |  | E | Etanercept injection | 0.00 | 0.00 | 0.00 | 0.00 | 0.00 | 0.00 | 0.00 | 0.00 | 0.00 | 0.00 | XXX
J1440 |  | E | Filgrastim 300 mcg injeciton | 0.00 | 0.00 | 0.00 | 0.00 | 0.00 | 0.00 | 0.00 | 0.00 | 0.00 | 0.00 | XXX
J1441 |  | E | Filgrastim 480 mcg injection | 0.00 | 0.00 | 0.00 | 0.00 | 0.00 | 0.00 | 0.00 | 0.00 | 0.00 | 0.00 | XXX
J1450 |  | E | Fluconazole | 0.00 | 0.00 | 0.00 | 0.00 | 0.00 | 0.00 | 0.00 | 0.00 | 0.00 | 0.00 | XXX
J1455 |  | E | Foscarnet sodium injection | 0.00 | 0.00 | 0.00 | 0.00 | 0.00 | 0.00 | 0.00 | 0.00 | 0.00 | 0.00 | XXX
J1460 |  | E | Gamma globulin 1 CC inj | 0.00 | 0.00 | 0.00 | 0.00 | 0.00 | 0.00 | 0.00 | 0.00 | 0.00 | 0.00 | XXX
J1470 |  | E | Gamma globulin 2 CC inj | 0.00 | 0.00 | 0.00 | 0.00 | 0.00 | 0.00 | 0.00 | 0.00 | 0.00 | 0.00 | XXX
J1480 |  | E | Gamma globulin 3 CC inj | 0.00 | 0.00 | 0.00 | 0.00 | 0.00 | 0.00 | 0.00 | 0.00 | 0.00 | 0.00 | XXX
J1490 |  | E | Gamma globulin 4 CC inj | 0.00 | 0.00 | 0.00 | 0.00 | 0.00 | 0.00 | 0.00 | 0.00 | 0.00 | 0.00 | XXX
J1500 |  | E | Gamma globulin 5 CC inj | 0.00 | 0.00 | 0.00 | 0.00 | 0.00 | 0.00 | 0.00 | 0.00 | 0.00 | 0.00 | XXX
J1510 |  | E | Gamma globulin 6 CC inj | 0.00 | 0.00 | 0.00 | 0.00 | 0.00 | 0.00 | 0.00 | 0.00 | 0.00 | 0.00 | XXX
J1520 |  | E | Gamma globulin 7 CC inj | 0.00 | 0.00 | 0.00 | 0.00 | 0.00 | 0.00 | 0.00 | 0.00 | 0.00 | 0.00 | XXX
J1530 |  | E | Gamma globulin 8 CC inj | 0.00 | 0.00 | 0.00 | 0.00 | 0.00 | 0.00 | 0.00 | 0.00 | 0.00 | 0.00 | XXX
J1540 |  | E | Gamma globulin 9 CC inj | 0.00 | 0.00 | 0.00 | 0.00 | 0.00 | 0.00 | 0.00 | 0.00 | 0.00 | 0.00 | XXX
J1550 |  | E | Gamma globulin 10 CC inj | 0.00 | 0.00 | 0.00 | 0.00 | 0.00 | 0.00 | 0.00 | 0.00 | 0.00 | 0.00 | XXX
J1560 |  | E | Gamma globulin > 10 CC inj | 0.00 | 0.00 | 0.00 | 0.00 | 0.00 | 0.00 | 0.00 | 0.00 | 0.00 | 0.00 | XXX
J1561 |  | E | Immune globulin 500 mg | 0.00 | 0.00 | 0.00 | 0.00 | 0.00 | 0.00 | 0.00 | 0.00 | 0.00 | 0.00 | XXX
J1562 |  | E | Immune globulin 5 gms | 0.00 | 0.00 | 0.00 | 0.00 | 0.00 | 0.00 | 0.00 | 0.00 | 0.00 | 0.00 | XXX
J1565 |  | E | RSV-ivig | 0.00 | 0.00 | 0.00 | 0.00 | 0.00 | 0.00 | 0.00 | 0.00 | 0.00 | 0.00 | XXX
J1570 |  | E | Ganciclovir sodium injection | 0.00 | 0.00 | 0.00 | 0.00 | 0.00 | 0.00 | 0.00 | 0.00 | 0.00 | 0.00 | XXX
J1580 |  | E | Garamycin gentamicin inj | 0.00 | 0.00 | 0.00 | 0.00 | 0.00 | 0.00 | 0.00 | 0.00 | 0.00 | 0.00 | XXX
J1600 |  | E | Gold sodium thiomaleate inj | 0.00 | 0.00 | 0.00 | 0.00 | 0.00 | 0.00 | 0.00 | 0.00 | 0.00 | 0.00 | XXX
J1610 |  | E | Glucagon hydrochloride/1 MG | 0.00 | 0.00 | 0.00 | 0.00 | 0.00 | 0.00 | 0.00 | 0.00 | 0.00 | 0.00 | XXX
J1620 |  | E | Gonadorelin hydroch/ 100 mcg | 0.00 | 0.00 | 0.00 | 0.00 | 0.00 | 0.00 | 0.00 | 0.00 | 0.00 | 0.00 | XXX
J1626 |  | E | Granisetron HCl injection | 0.00 | 0.00 | 0.00 | 0.00 | 0.00 | 0.00 | 0.00 | 0.00 | 0.00 | 0.00 | XXX
J1630 |  | E | Haloperidol injection | 0.00 | 0.00 | 0.00 | 0.00 | 0.00 | 0.00 | 0.00 | 0.00 | 0.00 | 0.00 | XXX
J1631 |  | E | Haloperidol decanoate inj | 0.00 | 0.00 | 0.00 | 0.00 | 0.00 | 0.00 | 0.00 | 0.00 | 0.00 | 0.00 | XXX
J1642 |  | E | Inj heparin sodium per 10 u | 0.00 | 0.00 | 0.00 | 0.00 | 0.00 | 0.00 | 0.00 | 0.00 | 0.00 | 0.00 | XXX
J1644 |  | E | Inj heparin sodium per 1000u | 0.00 | 0.00 | 0.00 | 0.00 | 0.00 | 0.00 | 0.00 | 0.00 | 0.00 | 0.00 | XXX
J1645 |  | E | Dalteparin sodium | 0.00 | 0.00 | 0.00 | 0.00 | 0.00 | 0.00 | 0.00 | 0.00 | 0.00 | 0.00 | XXX
J1650 |  | E | Inj enoxaparin sodium | 0.00 | 0.00 | 0.00 | 0.00 | 0.00 | 0.00 | 0.00 | 0.00 | 0.00 | 0.00 | XXX
J1670 |  | E | Tetanus immune globulin inj | 0.00 | 0.00 | 0.00 | 0.00 | 0.00 | 0.00 | 0.00 | 0.00 | 0.00 | 0.00 | XXX
J1690 |  | E | Prednisolone tebutate inj | 0.00 | 0.00 | 0.00 | 0.00 | 0.00 | 0.00 | 0.00 | 0.00 | 0.00 | 0.00 | XXX
J1700 |  | E | Hydrocortisone acetate inj | 0.00 | 0.00 | 0.00 | 0.00 | 0.00 | 0.00 | 0.00 | 0.00 | 0.00 | 0.00 | XXX
J1710 |  | E | Hydrocortisone sodium ph inj | 0.00 | 0.00 | 0.00 | 0.00 | 0.00 | 0.00 | 0.00 | 0.00 | 0.00 | 0.00 | XXX
J1720 |  | E | Hydrocortisone sodium succ i | 0.00 | 0.00 | 0.00 | 0.00 | 0.00 | 0.00 | 0.00 | 0.00 | 0.00 | 0.00 | XXX
J1730 |  | E | Diazoxide injection | 0.00 | 0.00 | 0.00 | 0.00 | 0.00 | 0.00 | 0.00 | 0.00 | 0.00 | 0.00 | XXX
J1739 |  | E | Hydroxyprogesterone cap 125 | 0.00 | 0.00 | 0.00 | 0.00 | 0.00 | 0.00 | 0.00 | 0.00 | 0.00 | 0.00 | XXX
J1741 |  | E | Hydroxyprogesterone cap 250 | 0.00 | 0.00 | 0.00 | 0.00 | 0.00 | 0.00 | 0.00 | 0.00 | 0.00 | 0.00 | XXX
J1742 |  | E | Ibutilide fumarate injection | 0.00 | 0.00 | 0.00 | 0.00 | 0.00 | 0.00 | 0.00 | 0.00 | 0.00 | 0.00 | XXX
J1745 |  | E | Infliximab injection | 0.00 | 0.00 | 0.00 | 0.00 | 0.00 | 0.00 | 0.00 | 0.00 | 0.00 | 0.00 | XXX
J1750 |  | E | Iron dextran | 0.00 | 0.00 | 0.00 | 0.00 | 0.00 | 0.00 | 0.00 | 0.00 | 0.00 | 0.00 | XXX
J1760 |  | D | Iron dextran 2 CC inj | 0.00 | 0.00 | 0.00 | 0.00 | 0.00 | 0.00 | 0.00 | .00 | 0.00 | 0.00 | XXX
J1770 |  | D | Iron dextran 5 CC inj | 0.00 | 0.00 | 0.00 | 0.00 | 0.00 | 0.00 | 0.00 | 0.00 | 0.00 | 0.00 | XXX
J1780 |  | D | Iron dextran 10 CC inj | 0.00 | 0.00 | 0.00 | 0.00 | 0.00 | 0.00 | 0.00 | 0.00 | 0.00 | 0.00 | XXX
J1785 |  | E | Injection imiglucerase /unit | 0.00 | 0.00 | 0.00 | 0.00 | 0.00 | 0.00 | 0.00 | 0.00 | 0.00 | 0.00 | XXX
J1790 |  | E | Droperidol injection | 0.00 | 0.00 | 0.00 | 0.00 | 0.00 | 0.00 | 0.00 | 0.00 | 0.00 | 0.00 | XXX
J1800 |  | E | Propranolol injection | 0.00 | 0.00 | 0.00 | 0.00 | 0.00 | 0.00 | 0.00 | 0.00 | 0.00 | 0.00 | XXX
J1810 |  | E | Droperidol/fentanyl inj | 0.00 | 0.00 | 0.00 | 0.00 | 0.00 | 0.00 | 0.00 | 0.00 | 0.00 | 0.00 | XXX
J1820 |  | E | Insulin injection | 0.00 | 0.00 | 0.00 | 0.00 | 0.00 | 0.00 | 0.00 | 0.00 | 0.00 | 0.00 | XXX
J1825 |  | E | Interferon beta-1a | 0.00 | 0.00 | 0.00 | 0.00 | 0.00 | 0.00 | 0.00 | 0.00 | 0.00 | 0.00 | XXX
J1830 |  | E | Interferon beta-1b / .25 MG | 0.00 | 0.00 | 0.00 | 0.00 | 0.00 | 0.00 | 0.00 | 0.00 | 0.00 | 0.00 | XXX
J1840 |  | E | Kanamycin sulfate 500 MG inj | 0.00 | 0.00 | 0.00 | 0.00 | 0.00 | 0.00 | 0.00 | 0.00 | 0.00 | 0.00 | XXX
J1850 |  | E | Kanamycin sulfate 75 MG inj | 0.00 | 0.00 | 0.00 | 0.00 | 0.00 | 0.00 | 0.00 | 0.00 | 0.00 | 0.00 | XXX
J1885 |  | E | Ketorolac tromethamine inj | 0.00 | 0.00 | 0.00 | 0.00 | 0.00 | 0.00 | 0.00 | 0.00 | 0.00 | 0.00 | XXX
J1890 |  | E | Cephalothin sodium injection | 0.00 | 0.00 | 0.00 | 0.00 | 0.00 | 0.00 | 0.00 | 0.00 | 0.00 | 0.00 | XXX
J1910 |  | E | Kutapressin injection | 0.00 | 0.00 | 0.00 | 0.00 | 0.00 | 0.00 | 0.00 | 0.00 | 0.00 | 0.00 | XXX
J1930 |  | E | Propiomazine injection | 0.00 | 0.00 | 0.00 | 0.00 | 0.00 | 0.00 | 0.00 | 0.00 | 0.00 | 0.00 | XXX
J1940 |  | E | Furosemide injection | 0.00 | 0.00 | 0.00 | 0.00 | 0.00 | 0.00 | 0.00 | 0.00 | 0.00 | 0.00 | XXX
J1950 |  | E | Leuprolide acetate /3.75 MG | 0.00 | 0.00 | 0.00 | 0.00 | 0.00 | 0.00 | 0.00 | 0.00 | 0.00 | 0.00 | XXX
J1955 |  | E | Inj levocarnitine per 1 gm | 0.00 | 0.00 | 0.00 | 0.00 | 0.00 | 0.00 | 0.00 | 0.00 | 0.00 | 0.00 | XXX
J1956 |  | E | Levofloxacin injection | 0.00 | 0.00 | 0.00 | 0.00 | 0.00 | 0.00 | 0.00 | 0.00 | 0.00 | 0.00 | XXX
J1960 |  | E | Levorphanol tartrate inj | 0.00 | 0.00 | 0.00 | 0.00 | 0.00 | 0.00 | 0.00 | 0.00 | 0.00 | 0.00 | XXX
J1970 |  | E | Methotrimeprazine injection | 0.00 | 0.00 | 0.00 | 0.00 | 0.00 | 0.00 | 0.00 | 0.00 | 0.00 | 0.00 | XXX
J1980 |  | E | Hyoscyamine sulfate inj | 0.00 | 0.00 | 0.00 | 0.00 | 0.00 | 0.00 | 0.00 | 0.00 | 0.00 | 0.00 | XXX
J1990 |  | E | Chlordiazepoxide injection | 0.00 | 0.00 | 0.00 | 0.00 | 0.00 | 0.00 | 0.00 | 0.00 | 0.00 | 0.00 | XXX
J2000 |  | E | Lidocaine injection | 0.00 | 0.00 | 0.00 | 0.00 | 0.00 | 0.00 | 0.00 | 0.00 | 0.00 | 0.00 | XXX
J2010 |  | E | Lincomycin injection | 0.00 | 0.00 | 0.00 | 0.00 | 0.00 | 0.00 | 0.00 | 0.00 | 0.00 | 0.00 | XXX
J2060 |  | E | Lorazepam injection | 0.00 | 0.00 | 0.00 | 0.00 | 0.00 | 0.00 | 0.00 | 0.00 | 0.00 | 0.00 | XXX
J2150 |  | E | Mannitol injection | 0.00 | 0.00 | 0.00 | 0.00 | 0.00 | 0.00 | 0.00 | 0.00 | 0.00 | 0.00 | XXX
J2175 |  | E | Meperidine hydrochl /100 MG | 0.00 | 0.00 | 0.00 | 0.00 | 0.00 | 0.00 | 0.00 | 0.00 | 0.00 | 0.00 | XXX
J2180 |  | E | Meperidine/promethazine inj | 0.00 | 0.00 | 0.00 | 0.00 | 0.00 | 0.00 | 0.00 | 0.00 | 0.00 | 0.00 | XXX
J2210 |  | E | Methylergonovin maleate inj | 0.00 | 0.00 | 0.00 | 0.00 | 0.00 | 0.00 | 0.00 | 0.00 | 0.00 | 0.00 | XXX
J2240 |  | E | Metocurine iodide injection | 0.00 | 0.00 | 0.00 | 0.00 | 0.00 | 0.00 | 0.00 | 0.00 | 0.00 | 0.00 | XXX
J2250 |  | E | Inj midazolam hydrochloride | 0.00 | 0.00 | 0.00 | 0.00 | 0.00 | 0.00 | 0.00 | 0.00 | 0.00 | 0.00 | XXX
J2260 |  | E | Inj milrinone lactate / 5 ML | 0.00 | 0.00 | 0.00 | 0.00 | 0.00 | 0.00 | 0.00 | 0.00 | 0.00 | 0.00 | XXX
J2270 |  | E | Morphine sulfate injection | 0.00 | 0.00 | 0.00 | 0.00 | 0.00 | 0.00 | 0.00 | 0.00 | 0.00 | 0.00 | XXX
J2271 |  | E | Morphine so4 injection 100mg | 0.00 | 0.00 | 0.00 | 0.00 | 0.00 | 0.00 | 0.00 | 0.00 | 0.00 | 0.00 | XXX
J2275 |  | E | Morphine sulfate injection | 0.00 | 0.00 | 0.00 | 0.00 | 0.00 | 0.00 | 0.00 | 0.00 | 0.00 | 0.00 | XXX
J2300 |  | E | Inj nalbuphine hydrochloride | 0.00 | 0.00 | 0.00 | 0.00 | 0.00 | 0.00 | 0.00 | 0.00 | 0.00 | 0.00 | XXX
J2310 |  | E | Inj naloxone hydrochloride | 0.00 | 0.00 | 0.00 | 0.00 | 0.00 | 0.00 | 0.00 | 0.00 | 0.00 | 0.00 | XXX
J2320 |  | E | Nandrolone decanoate 50 MG | 0.00 | 0.00 | 0.00 | 0.00 | 0.00 | 0.00 | 0.00 | 0.00 | 0.00 | 0.00 | XXX
J2321 |  | E | Nandrolone decanoate 100 MG | 0.00 | 0.00 | 0.00 | 0.00 | 0.00 | 0.00 | 0.00 | 0.00 | 0.00 | 0.00 | XXX
J2322 |  | E | Nandrolone decanoate 200 MG | 0.00 | 0.00 | 0.00 | 0.00 | 0.00 | 0.00 | 0.00 | 0.00 | 0.00 | 0.00 | XXX
J2330 |  | E | Thiothixene injection | 0.00 | 0.00 | 0.00 | 0.00 | 0.00 | 0.00 | 0.00 | 0.00 | 0.00 | 0.00 | XXX
J2350 |  | E | Niacinamide/niacin injection | 0.00 | 0.00 | 0.00 | 0.00 | 0.00 | 0.00 | 0.00 | 0.00 | 0.00 | 0.00 | XXX
J2352 |  | E | Octreotide acetate injection | 0.00 | 0.00 | 0.00 | 0.00 | 0.00 | 0.00 | 0.00 | 0.00 | 0.00 | 0.00 | XXX
J2355 |  | E | Oprelvekin injection | 0.00 | 0.00 | 0.00 | 0.00 | 0.00 | 0.00 | 0.00 | 0.00 | 0.00 | 0.00 | XXX
J2360 |  | E | Orphenadrine injection | 0.00 | 0.00 | 0.00 | 0.00 | 0.00 | 0.00 | 0.00 | 0.00 | 0.00 | 0.00 | XXX
J2370 |  | E | Phenylephrine hcl injection | 0.00 | 0.00 | 0.00 | 0.00 | 0.00 | 0.00 | 0.00 | 0.00 | 0.00 | 0.00 | XXX
J2400 |  | E | Chloroprocaine hcl injection | 0.00 | 0.00 | 0.00 | 0.00 | 0.00 | 0.00 | 0.00 | 0.00 | 0.00 | 0.00 | XXX
J2405 |  | E | Ondansetron hcl injection | 0.00 | 0.00 | 0.00 | 0.00 | 0.00 | 0.00 | 0.00 | 0.00 | 0.00 | 0.00 | XXX
J2410 |  | E | Oxymorphone hcl injection | 0.00 | 0.00 | 0.00 | 0.00 | 0.00 | 0.00 | 0.00 | 0.00 | 0.00 | 0.00 | XXX
J2430 |  | E | Pamidronate disodium /30 MG | 0.00 | 0.00 | 0.00 | 0.00 | 0.00 | 0.00 | 0.00 | 0.00 | 0.00 | 0.00 | XXX
J2440 |  | E | Papaverin hcl injection | 0.00 | 0.00 | 0.00 | 0.00 | 0.00 | 0.00 | 0.00 | 0.00 | 0.00 | 0.00 | XXX
J2460 |  | E | Oxytetracycline injection | 0.00 | 0.00 | 0.00 | 0.00 | 0.00 | 0.00 | 0.00 | 0.00 | 0.00 | 0.00 | XXX
J2480 |  | E | Hydrochlorides of opium inj | 0.00 | 0.00 | 0.00 | 0.00 | 0.00 | 0.00 | 0.00 | 0.00 | 0.00 | 0.00 | XXX
J2500 |  | E | Paricalcitol | 0.00 | 0.00 | 0.00 | 0.00 | 0.00 | 0.00 | 0.00 | 0.00 | 0.00 | 0.00 | XXX
J2510 |  | E | Penicillin g procaine inj | 0.00 | 0.00 | 0.00 | 0.00 | 0.00 | 0.00 | 0.00 | 0.00 | 0.00 | 0.00 | XXX
J2512 |  | E | Inj pentagastrin per 2 ML | 0.00 | 0.00 | 0.00 | 0.00 | 0.00 | 0.00 | 0.00 | 0.00 | 0.00 | 0.00 | XXX
J2515 |  | E | Pentobarbital sodium inj | 0.00 | 0.00 | 0.00 | 0.00 | 0.00 | 0.00 | 0.00 | 0.00 | 0.00 | 0.00 | XXX
J2540 |  | E | Penicillin g potassium inj | 0.00 | 0.00 | 0.00 | 0.00 | 0.00 | 0.00 | 0.00 | 0.00 | 0.00 | 0.00 | XXX
J2543 |  | E | Piperacillin/tazobactam | 0.00 | 0.00 | 0.00 | 0.00 | 0.00 | 0.00 | 0.00 | 0.00 | 0.00 | 0.00 | XXX
J2545 |  | E | Pentamidine isethionte/300mg | 0.00 | 0.00 | 0.00 | 0.00 | 0.00 | 0.00 | 0.00 | 0.00 | 0.00 | 0.00 | XXX
J2550 |  | E | Promethazine hcl injection | 0.00 | 0.00 | 0.00 | 0.00 | 0.00 | 0.00 | 0.00 | 0.00 | 0.00 | 0.00 | XXX
J2560 |  | E | Phenobarbital sodium inj | 0.00 | 0.00 | 0.00 | 0.00 | 0.00 | 0.00 | 0.00 | 0.00 | 0.00 | 0.00 | XXX
J2590 |  | E | Oxytocin injection | 0.00 | 0.00 | 0.00 | 0.00 | 0.00 | 0.00 | 0.00 | 0.00 | 0.00 | 0.00 | XXX
J2597 |  | E | Inj desmopressin acetate | 0.00 | 0.00 | 0.00 | 0.00 | 0.00 | 0.00 | 0.00 | 0.00 | 0.00 | 0.00 | XXX
J2640 |  | E | Prednisolone sodium ph inj | 0.00 | 0.00 | 0.00 | 0.00 | 0.00 | 0.00 | 0.00 | 0.00 | 0.00 | 0.00 | XXX
J2650 |  | E | Prednisolone acetate inj | 0.00 | 0.00 | 0.00 | 0.00 | 0.00 | 0.00 | 0.00 | 0.00 | 0.00 | 0.00 | XXX
J2670 |  | E | Totazoline hcl injection | 0.00 | 0.00 | 0.00 | 0.00 | 0.00 | 0.00 | 0.00 | 0.00 | 0.00 | 0.00 | XXX
J2675 |  | E | Inj progesterone per 50 MG | 0.00 | 0.00 | 0.00 | 0.00 | 0.00 | 0.00 | 0.00 | 0.00 | 0.00 | 0.00 | XXX
J2680 |  | E | Fluphenazine decanoate 25 MG | 0.00 | 0.00 | 0.00 | 0.00 | 0.00 | 0.00 | 0.00 | 0.00 | 0.00 | 0.00 | XXX
J2690 |  | E | Procainamide hcl injection | 0.00 | 0.00 | 0.00 | 0.00 | 0.00 | 0.00 | 0.00 | 0.00 | 0.00 | 0.00 | XXX
J2700 |  | E | Oxacillin sodium injeciton | 0.00 | 0.00 | 0.00 | 0.00 | 0.00 | 0.00 | 0.00 | 0.00 | 0.00 | 0.00 | XXX
J2710 |  | E | Neostigmine methylslfte inj | 0.00 | 0.00 | 0.00 | 0.00 | 0.00 | 0.00 | 0.00 | 0.00 | 0.00 | 0.00 | XXX
J2720 |  | E | Inj protamine sulfate/10 MG | 0.00 | 0.00 | 0.00 | 0.00 | 0.00 | 0.00 | 0.00 | 0.00 | 0.00 | 0.00 | XXX
J2725 |  | E | Inj protirelin per 250 mcg | 0.00 | 0.00 | 0.00 | 0.00 | 0.00 | 0.00 | 0.00 | 0.00 | 0.00 | 0.00 | XXX
J2730 |  | E | Pralidoxime chloride inj | 0.00 | 0.00 | 0.00 | 0.00 | 0.00 | 0.00 | 0.00 | 0.00 | 0.00 | 0.00 | XXX
J2760 |  | E | Phentolaine mesylate inj | 0.00 | 0.00 | 0.00 | 0.00 | 0.00 | 0.00 | 0.00 | 0.00 | 0.00 | 0.00 | XXX
J2765 |  | E | Metoclopramide hcl injection | 0.00 | 0.00 | 0.00 | 0.00 | 0.00 | 0.00 | 0.00 | 0.00 | 0.00 | 0.00 | XXX
J2780 |  | E | Ranitidine hydrochloride inj | 0.00 | 0.00 | 0.00 | 0.00 | 0.00 | 0.00 | 0.00 | 0.00 | 0.00 | 0.00 | XXX
J2790 |  | E | Rho d immune globulin inj | 0.00 | 0.00 | 0.00 | 0.00 | 0.00 | 0.00 | 0.00 | 0.00 | 0.00 | 0.00 | XXX
J2792 |  | E | Rho(D) immune globulin h, sd | 0.00 | 0.00 | 0.00 | 0.00 | 0.00 | 0.00 | 0.00 | 0.00 | 0.00 | 0.00 | XXX
J2800 |  | E | Methocarbamol injection | 0.00 | 0.00 | 0.00 | 0.00 | 0.00 | 0.00 | 0.00 | 0.00 | 0.00 | 0.00 | XXX
J2810 |  | E | Inj theophylline per 40 MG | 0.00 | 0.00 | 0.00 | 0.00 | 0.00 | 0.00 | 0.00 | 0.00 | 0.00 | 0.00 | XXX
J2820 |  | E | Sargramostim injection | 0.00 | 0.00 | 0.00 | 0.00 | 0.00 | 0.00 | 0.00 | 0.00 | 0.00 | 0.00 | XXX
J2860 |  | E | Secobarbital sodium inj | 0.00 | 0.00 | 0.00 | 0.00 | 0.00 | 0.00 | 0.00 | 0.00 | 0.00 | 0.00 | XXX
J2910 |  | E | Aurothioglucose injeciton | 0.00 | 0.00 | 0.00 | 0.00 | 0.00 | 0.00 | 0.00 | 0.00 | 0.00 | 0.00 | XXX
J2912 |  | E | Sodium chloride injection | 0.00 | 0.00 | 0.00 | 0.00 | 0.00 | 0.00 | 0.00 | 0.00 | 0.00 | 0.00 | XXX
J2920 |  | E | Methylprednisolone injection | 0.00 | 0.00 | 0.00 | 0.00 | 0.00 | 0.00 | 0.00 | 0.00 | 0.00 | 0.00 | XXX
J2930 |  | E | Methylprednisolone injection | 0.00 | 0.00 | 0.00 | 0.00 | 0.00 | 0.00 | 0.00 | 0.00 | 0.00 | 0.00 | XXX
J2950 |  | E | Promazine hcl injeciton | 0.00 | 0.00 | 0.00 | 0.00 | 0.00 | 0.00 | 0.00 | 0.00 | 0.00 | 0.00 | XXX
J2970 |  | E | Methicillin sodium injection | 0.00 | 0.00 | 0.00 | 0.00 | 0.00 | 0.00 | 0.00 | 0.00 | 0.00 | 0.00 | XXX
J2994 |  | E | Reteplase double bolus | 0.00 | 0.00 | 0.00 | 0.00 | 0.00 | 0.00 | 0.00 | 0.00 | 0.00 | 0.00 | XXX
J2995 |  | E | Inj streptokinase /250000 IU | 0.00 | 0.00 | 0.00 | 0.00 | 0.00 | 0.00 | 0.00 | 0.00 | 0.00 | 0.00 | XXX
J2996 |  | E | Alteplase recombinant inj | 0.00 | 0.00 | 0.00 | 0.00 | 0.00 | 0.00 | 0.00 | 0.00 | 0.00 | 0.00 | XXX
J3000 |  | E | Streptomycin injection | 0.00 | 0.00 | 0.00 | 0.00 | 0.00 | 0.00 | 0.00 | 0.00 | 0.00 | 0.00 | XXX
J3010 |  | E | Fentanyl citrate injeciton | 0.00 | 0.00 | 0.00 | 0.00 | 0.00 | 0.00 | 0.00 | 0.00 | 0.00 | 0.00 | XXX
J3030 |  | E | Sumatriptan succinate / 6 MG | 0.00 | 0.00 | 0.00 | 0.00 | 0.00 | 0.00 | 0.00 | 0.00 | 0.00 | 0.00 | XXX
J3070 |  | E | Pentazocine hcl injeciton | 0.00 | 0.00 | 0.00 | 0.00 | 0.00 | 0.00 | 0.00 | 0.00 | 0.00 | 0.00 | XXX
J3080 |  | E | Chlorprothixene injection | 0.00 | 0.00 | 0.00 | 0.00 | 0.00 | 0.00 | 0.00 | 0.00 | 0.00 | 0.00 | XXX
J3105 |  | E | Terbutaline sulfate inj | 0.00 | 0.00 | 0.00 | 0.00 | 0.00 | 0.00 | 0.00 | 0.00 | 0.00 | 0.00 | XXX
J3120 |  | E | Testosterone enanthate inj | 0.00 | 0.00 | 0.00 | 0.00 | 0.00 | 0.00 | 0.00 | 0.00 | 0.00 | 0.00 | XXX
J3130 |  | E | Testosterone enanthate inj | 0.00 | 0.00 | 0.00 | 0.00 | 0.00 | 0.00 | 0.00 | 0.00 | 0.00 | 0.00 | XXX
J3140 |  | E | Testosterone suspension inj | 0.00 | 0.00 | 0.00 | 0.00 | 0.00 | 0.00 | 0.00 | 0.00 | 0.00 | 0.00 | XXX
J3150 |  | E | Testosteron propionate inj | 0.00 | 0.00 | 0.00 | 0.00 | 0.00 | 0.00 | 0.00 | 0.00 | 0.00 | 0.00 | XXX
J3230 |  | E | Chlorpromazine hcl injection | 0.00 | 0.00 | 0.00 | 0.00 | 0.00 | 0.00 | 0.00 | 0.00 | 0.00 | 0.00 | XXX
J3240 |  | E | Thyrotropin injection | 0.00 | 0.00 | 0.00 | 0.00 | 0.00 | 0.00 | 0.00 | 0.00 | 0.00 | 0.00 | XXX
J3245 |  | E | Tirofiban hydrochloride | 0.00 | 0.00 | 0.00 | 0.00 | 0.00 | 0.00 | 0.00 | 0.00 | 0.00 | 0.00 | XXX
J3250 |  | E | Trimethobenzamide hcl inj | 0.00 | 0.00 | 0.00 | 0.00 | 0.00 | 0.00 | 0.00 | 0.00 | 0.00 | 0.00 | XXX
J3260 |  | E | Tobramycin sulfate injection | 0.00 | 0.00 | 0.00 | 0.00 | 0.00 | 0.00 | 0.00 | 0.00 | 0.00 | 0.00 | XXX
J3265 |  | E | Injection torsemide 10 mg/ml | 0.00 | 0.00 | 0.00 | 0.00 | 0.00 | 0.00 | 0.00 | 0.00 | 0.00 | 0.00 | XXX
J3270 |  | E | Imipramine hcl injection | 0.00 | 0.00 | 0.00 | 0.00 | 0.00 | 0.00 | 0.00 | 0.00 | 0.00 | 0.00 | XXX
J3280 |  | E | Thiethylperazine maleate inj | 0.00 | 0.00 | 0.00 | 0.00 | 0.00 | 0.00 | 0.00 | 0.00 | 0.00 | 0.00 | XXX
J3301 |  | E | Triamcinolone acetonide inj | 0.00 | 0.00 | 0.00 | 0.00 | 0.00 | 0.00 | 0.00 | 0.00 | 0.00 | 0.00 | XXX
J3302 |  | E | Triamcinolone diacetate inj | 0.00 | 0.00 | 0.00 | 0.00 | 0.00 | 0.00 | 0.00 | 0.00 | 0.00 | 0.00 | XXX
J3303 |  | E | Triamcinolone hexacetonl inj | 0.00 | 0.00 | 0.00 | 0.00 | 0.00 | 0.00 | 0.00 | 0.00 | 0.00 | 0.00 | XXX
J3305 |  | E | Inj trimetrexate glucoronate | 0.00 | 0.00 | 0.00 | 0.00 | 0.00 | 0.00 | 0.00 | 0.00 | 0.00 | 0.00 | XXX
J3310 |  | E | Perphenazine injeciton | 0.00 | 0.00 | 0.00 | 0.00 | 0.00 | 0.00 | 0.00 | 0.00 | 0.00 | 0.00 | XXX
J3320 |  | E | Spectinomycn di-hcl inj | 0.00 | 0.00 | 0.00 | 0.00 | 0.00 | 0.00 | 0.00 | 0.00 | 0.00 | 0.00 | XXX
J3350 |  | E | Urea injection | 0.00 | 0.00 | 0.00 | 0.00 | 0.00 | 0.00 | 0.00 | 0.00 | 0.00 | 0.00 | XXX
J3360 |  | E | Diazepam injection | 0.00 | 0.00 | 0.00 | 0.00 | 0.00 | 0.00 | 0.00 | 0.00 | 0.00 | 0.00 | XXX
J3364 |  | E | Urokinase 5000 IU injection | 0.00 | 0.00 | 0.00 | 0.00 | 0.00 | 0.00 | 0.00 | 0.00 | 0.00 | 0.00 | XXX
J3365 |  | E | Urokinase 250,000 IU inj | 0.00 | 0.00 | 0.00 | 0.00 | 0.00 | 0.00 | 0.00 | 0.00 | 0.00 | 0.00 | XXX
J3370 |  | R | Vancomycin hcl injeciton | 0.00 | 0.00 | 0.00 | 0.00 | 0.00 | 0.00 | 0.00 | 0.00 | 0.00 | 0.00 | XXX
J3390 |  | E | Methoxamine injection | 0.00 | 0.00 | 0.00 | 0.00 | 0.00 | 0.00 | 0.00 | 0.00 | 0.00 | 0.00 | XXX
J3400 |  | E | Triflupromazine hcl inj | 0.00 | 0.00 | 0.00 | 0.00 | 0.00 | 0.00 | 0.00 | 0.00 | 0.00 | 0.00 | XXX
J3410 |  | E | Hydroxyzine hcl injeciton | 0.00 | 0.00 | 0.00 | 0.00 | 0.00 | 0.00 | 0.00 | 0.00 | 0.00 | 0.00 | XXX
J3420 |  | E | Vitamin b12 injection | 0.00 | 0.00 | 0.00 | 0.00 | 0.00 | 0.00 | 0.00 | 0.00 | 0.00 | 0.00 | XXX
J3430 |  | E | Vitamin k phytonadione inj | 0.00 | 0.00 | 0.00 | 0.00 | 0.00 | 0.00 | 0.00 | 0.00 | 0.00 | 0.00 | XXX
J3450 |  | E | Mephentermine sulfate inj | 0.00 | 0.00 | 0.00 | 0.00 | 0.00 | 0.00 | 0.00 | 0.00 | 0.00 | 0.00 | XXX
J3470 |  | E | Hyaluronidase injection | 0.00 | 0.00 | 0.00 | 0.00 | 0.00 | 0.00 | 0.00 | 0.00 | 0.00 | 0.00 | XXX
J3475 |  | E | Inj magnesium sulfate | 0.00 | 0.00 | 0.00 | 0.00 | 0.00 | 0.00 | 0.00 | 0.00 | 0.00 | 0.00 | XXX
J3480 |  | E | Inj potassium chloride | 0.00 | 0.00 | 0.00 | 0.00 | 0.00 | 0.00 | 0.00 | 0.00 | 0.00 | 0.00 | XXX
J3490 |  | E | Drugs unclassified injection | 0.00 | 0.00 | 0.00 | 0.00 | 0.00 | 0.00 | 0.00 | 0.00 | 0.00 | 0.00 | XXX
J3520 |  | N | Edetate disodium per 150 mg | 0.00 | 0.00 | 0.00 | 0.00 | 0.00 | 0.00 | 0.00 | 0.00 | 0.00 | 0.00 | XXX
J3530 |  | E | Nasal vaccine inhalation | 0.00 | 0.00 | 0.00 | 0.00 | 0.00 | 0.00 | 0.00 | 0.00 | 0.00 | 0.00 | XXX
J3535 |  | N | Metered dose inhaler drug | 0.00 | 0.00 | 0.00 | 0.00 | 0.00 | 0.00 | 0.00 | 0.00 | 0.00 | 0.00 | XXX
J3570 |  | N | Laetrile amygdalin vit B17 | 0.00 | 0.00 | 0.00 | 0.00 | 0.00 | 0.00 | 0.00 | 0.00 | 0.00 | 0.00 | XXX
J7030 |  | E | Normal saline solution infus | 0.00 | 0.00 | 0.00 | 0.00 | 0.00 | 0.00 | 0.00 | 0.00 | 0.00 | 0.00 | XXX
J7040 |  | E | Normal saline solution infus | 0.00 | 0.00 | 0.00 | 0.00 | 0.00 | 0.00 | 0.00 | 0.00 | 0.00 | 0.00 | XXX
J7042 |  | E | 5% dextrose/normal saline | 0.00 | 0.00 | 0.00 | 0.00 | 0.00 | 0.00 | 0.00 | 0.00 | 0.00 | 0.00 | XXX
J7050 |  | E | Normal saline solution infus | 0.00 | 0.00 | 0.00 | 0.00 | 0.00 | 0.00 | 0.00 | 0.00 | 0.00 | 0.00 | XXX
J7051 |  | E | Sterile saline/water | 0.00 | 0.00 | 0.00 | 0.00 | 0.00 | 0.00 | 0.00 | 0.00 | 0.00 | 0.00 | XXX
J7060 |  | E | 5% dextrose/water | 0.00 | 0.00 | 0.00 | 0.00 | 0.00 | 0.00 | 0.00 | 0.00 | 0.00 | 0.00 | XXX
J7070 |  | E | D5w infusion | 0.00 | 0.00 | 0.00 | 0.00 | 0.00 | 0.00 | 0.00 | 0.00 | 0.00 | 0.00 | XXX
J7100 |  | E | Dextran 40 infusion | 0.00 | 0.00 | 0.00 | 0.00 | 0.00 | 0.00 | 0.00 | 0.00 | 0.00 | 0.00 | XXX
J7110 |  | E | Dextran 75 infusion | 0.00 | 0.00 | 0.00 | 0.00 | 0.00 | 0.00 | 0.00 | 0.00 | 0.00 | 0.00 | XXX
J7120 |  | E | Ringers lactate infusion | 0.00 | 0.00 | 0.00 | 0.00 | 0.00 | 0.00 | 0.00 | 0.00 | 0.00 | 0.00 | XXX
J7130 |  | E | Hypertonic saline solution | 0.00 | 0.00 | 0.00 | 0.00 | 0.00 | 0.00 | 0.00 | 0.00 | 0.00 | 0.00 | XXX
J7190 |  | X | Factor viii | 0.00 | 0.00 | 0.00 | 0.00 | 0.00 | 0.00 | 0.00 | 0.00 | 0.00 | 0.00 | XXX
J7191 |  | X | Factor VIII (porcine) | 0.00 | 0.00 | 0.00 | 0.00 | 0.00 | 0.00 | 0.00 | 0.00 | 0.00 | 0.00 | XXX
J7192 |  | X | Factor viii recombinant | 0.00 | 0.00 | 0.00 | 0.00 | 0.00 | 0.00 | 0.00 | 0.00 | 0.00 | 0.00 | XXX
J7194 |  | X | Factor ix complex | 0.00 | 0.00 | 0.00 | 0.00 | 0.00 | 0.00 | 0.00 | 0.00 | 0.00 | 0.00 | XXX
J7196 |  | D | Othr hemophilia clot factors | 0.00 | 0.00 | 0.00 | 0.00 | 0.00 | 0.00 | 0.00 | 0.00 | 0.00 | 0.00 | XXX
J7197 |  | X | Antithrombin iii injection | 0.00 | 0.00 | 0.00 | 0.00 | 0.00 | 0.00 | 0.00 | 0.00 | 0.00 | 0.00 | XXX
J7198 |  | E | Anti-inhibitor | 0.00 | 0.00 | 0.00 | 0.00 | 0.00 | 0.00 | 0.00 | 0.00 | 0.00 | 0.00 | XXX
J7199 |  | E | Hemophilia clot factor noc | 0.00 | 0.00 | 0.00 | 0.00 | 0.00 | 0.00 | 0.00 | 0.00 | 0.00 | 0.00 | XXX
J7300 |  | N | Intraut copper contraceptive | 0.00 | 0.00 | 0.00 | 0.00 | 0.00 | 0.00 | 0.00 | 0.00 | 0.00 | 0.00 | XXX
J7310 |  | E | Ganciclovir long act implant | 0.00 | 0.00 | 0.00 | 0.00 | 0.00 | 0.00 | 0.00 | 0.00 | 0.00 | 0.00 | XXX
J7315 |  | E | Sodium hyaluronate injection | 0.00 | 0.00 | 0.00 | 0.00 | 0.00 | 0.00 | 0.00 | 0.00 | 0.00 | 0.00 | XXX
J7320 |  | E | Hylan G-F 20 injection | 0.00 | 0.00 | 0.00 | 0.00 | 0.00 | 0.00 | 0.00 | 0.00 | 0.00 | 0.00 | XXX
J7500 |  | X | Azathioprine oral 50mg | 0.00 | 0.00 | 0.00 | 0.00 | 0.00 | 0.00 | 0.00 | 0.00 | 0.00 | 0.00 | XXX
J7501 |  | X | Azathioprine parenteral | 0.00 | 0.00 | 0.00 | 0.00 | 0.00 | 0.00 | 0.00 | 0.00 | 0.00 | 0.00 | XXX
J7502 |  | E | Cyclosporine oral 100 mg | 0.00 | 0.00 | 0.00 | 0.00 | 0.00 | 0.00 | 0.00 | 0.00 | 0.00 | 0.00 | XXX
J7503 |  | D | Cyclosporine parenteral | 0.00 | 0.00 | 0.00 | 0.00 | 0.00 | 0.00 | 0.00 | 0.00 | 0.00 | 0.00 | XXX
J7504 |  | X | Lymphocyte immune globulin | 0.00 | 0.00 | 0.00 | 0.00 | 0.00 | 0.00 | 0.00 | 0.00 | 0.00 | 0.00 | XXX
J7505 |  | X | Monoclonal antibodies | 0.00 | 0.00 | 0.00 | 0.00 | 0.00 | 0.00 | 0.00 | 0.00 | 0.00 | 0.00 | XXX
J7506 |  | X | Prednisone oral | 0.00 | 0.00 | 0.00 | 0.00 | 0.00 | 0.00 | 0.00 | 0.00 | 0.00 | 0.00 | XXX
J7507 |  | E | Tacrolimus oral per 1 MG | 0.00 | 0.00 | 0.00 | 0.00 | 0.00 | 0.00 | 0.00 | 0.00 | 0.00 | 0.00 | XXX
J7508 |  | E | Tacrolimus oral per 5 MG | 0.00 | 0.00 | 0.00 | 0.00 | 0.00 | 0.00 | 0.00 | 0.00 | 0.00 | 0.00 | XXX
J7509 |  | X | Methylprednisolone oral | 0.00 | 0.00 | 0.00 | 0.00 | 0.00 | 0.00 | 0.00 | 0.00 | 0.00 | 0.00 | XXX
J7510 |  | X | Prednisolone oral per 5 mg | 0.00 | 0.00 | 0.00 | 0.00 | 0.00 | 0.00 | 0.00 | 0.00 | 0.00 | 0.00 | XXX
J7513 |  | E | Daclizumab, parenteral | 0.00 | 0.00 | 0.00 | 0.00 | 0.00 | 0.00 | 0.00 | 0.00 | 0.00 | 0.00 | XXX
J7515 |  | E | Cyclosporine oral 25 mg | 0.00 | 0.00 | 0.00 | 0.00 | 0.00 | 0.00 | 0.00 | 0.00 | 0.00 | 0.00 | XXX
J7516 |  | E | Cyclosporin parenteral 250mg | 0.00 | 0.00 | 0.00 | 0.00 | 0.00 | 0.00 | 0.00 | 0.00 | 0.00 | 0.00 | XXX
J7517 |  | E | Mycophenolate mofetil oral | 0.00 | 0.00 | 0.00 | 0.00 | 0.00 | 0.00 | 0.00 | 0.00 | 0.00 | 0.00 | XXX
J7599 |  | X | Immunosuppressive drug noc | 0.00 | 0.00 | 0.00 | 0.00 | 0.00 | 0.00 | 0.00 | 0.00 | 0.00 | 0.00 | XXX
J7608 |  | E | Acetylcysteine inh sol u d | 0.00 | 0.00 | 0.00 | 0.00 | 0.00 | 0.00 | 0.00 | 0.00 | 0.00 | 0.00 | XXX
J7610 |  | E | Acetylcysteine 10% injection | 0.00 | 0.00 | 0.00 | 0.00 | 0.00 | 0.00 | 0.00 | 0.00 | 0.00 | 0.00 | XXX
J7615 |  | E | Acetylcysteine 20% injection | 0.00 | 0.00 | 0.00 | 0.00 | 0.00 | 0.00 | 0.00 | 0.00 | 0.00 | 0.00 | XXX
J7618 |  | E | Albuterol inh sol con | 0.00 | 0.00 | 0.00 | 0.00 | 0.00 | 0.00 | 0.00 | 0.00 | 0.00 | 0.00 | XXX
J7619 |  | E | Albuterol inh sol u d | 0.00 | 0.00 | 0.00 | 0.00 | 0.00 | 0.00 | 0.00 | 0.00 | 0.00 | 0.00 | XXX
J7620 |  | E | Albuterol sulfate .083%/ml | 0.00 | 0.00 | 0.00 | 0.00 | 0.00 | 0.00 | 0.00 | 0.00 | 0.00 | 0.00 | XXX
J7625 |  | E | Albuterol sulfate .5% inj | 0.00 | 0.00 | 0.00 | 0.00 | 0.00 | 0.00 | 0.00 | 0.00 | 0.00 | 0.00 | XXX
J7627 |  | E | Bitolterolmesylate inhal sol | 0.00 | 0.00 | 0.00 | 0.00 | 0.00 | 0.00 | 0.00 | 0.00 | 0.00 | 0.00 | XXX
J7628 |  | E | Bitolterol mes inhal sol con | 0.00 | 0.00 | 0.00 | 0.00 | 0.00 | 0.00 | 0.00 | 0.00 | 0.00 | 0.00 | XXX
J7629 |  | E | Bitolterol mes inh sol u d | 0.00 | 0.00 | 0.00 | 0.00 | 0.00 | 0.00 | 0.00 | 0.00 | 0.00 | 0.00 | XXX
J7630 |  | E | Cromolyn sodium injeciton | 0.00 | 0.00 | 0.00 | 0.00 | 0.00 | 0.00 | 0.00 | 0.00 | 0.00 | 0.00 | XXX
J7631 |  | E | Cromolyn sodium inh sol u d | 0.00 | 0.00 | 0.00 | 0.00 | 0.00 | 0.00 | 0.00 | 0.00 | 0.00 | 0.00 | XXX
J7635 |  | E | Atropine inhal sol con | 0.00 | 0.00 | 0.00 | 0.00 | 0.00 | 0.00 | 0.00 | 0.00 | 0.00 | 0.00 | XXX
J7636 |  | E | Atropine inhal sol unit dose | 0.00 | 0.00 | 0.00 | 0.00 | 0.00 | 0.00 | 0.00 | 0.00 | 0.00 | 0.00 | XXX
J7637 |  | E | Dexamethasone inhal sol con | 0.00 | 0.00 | 0.00 | 0.00 | 0.00 | 0.00 | 0.00 | 0.00 | 0.00 | 0.00 | XXX
J7638 |  | E | Dexamethasone inhal sol u d | 0.00 | 0.00 | 0.00 | 0.00 | 0.00 | 0.00 | 0.00 | 0.00 | 0.00 | 0.00 | XXX
J7639 |  | E | Dornase alpha inhal sol u d | 0.00 | 0.00 | 0.00 | 0.00 | 0.00 | 0.00 | 0.00 | 0.00 | 0.00 | 0.00 | XXX
J7640 |  | E | Epinephrine injection | 0.00 | 0.00 | 0.00 | 0.00 | 0.00 | 0.00 | 0.00 | 0.00 | 0.00 | 0.00 | XXX
J7642 |  | E | Glycopyrrolate inhal sol con | 0.00 | 0.00 | 0.00 | 0.00 | 0.00 | 0.00 | 0.00 | 0.00 | 0.00 | 0.00 | XXX
J7643 |  | E | Glycopyrrolate inhal sol u d | 0.00 | 0.00 | 0.00 | 0.00 | 0.00 | 0.00 | 0.00 | 0.00 | 0.00 | 0.00 | XXX
J7644 |  | E | Ipratropium brom inh sol u d | 0.00 | 0.00 | 0.00 | 0.00 | 0.00 | 0.00 | 0.00 | 0.00 | 0.00 | 0.00 | XXX
J7645 |  | E | Ipratropium bromide .02%/ml | 0.00 | 0.00 | 0.00 | 0.00 | 0.00 | 0.00 | 0.00 | 0.00 | 0.00 | 0.00 | XXX
J7648 |  | E | Isoetharine hcl inh sol con | 0.00 | 0.00 | 0.00 | 0.00 | 0.00 | 0.00 | 0.00 | 0.00 | 0.00 | 0.00 | XXX
J7649 |  | E | Isoetharine hcl inh sol u d | 0.00 | 0.00 | 0.00 | 0.00 | 0.00 | 0.00 | 0.00 | 0.00 | 0.00 | 0.00 | XXX
J7650 |  | E | Isoetharine hcl .1% inj | 0.00 | 0.00 | 0.00 | 0.00 | 0.00 | 0.00 | 0.00 | 0.00 | 0.00 | 0.00 | XXX
J7651 |  | E | Isoetharine hcl .125% inj | 0.00 | 0.00 | 0.00 | 0.00 | 0.00 | 0.00 | 0.00 | 0.00 | 0.00 | 0.00 | XXX
J7652 |  | E | Isoetharine hcl .167% inj | 0.00 | 0.00 | 0.00 | 0.00 | 0.00 | 0.00 | 0.00 | 0.00 | 0.00 | 0.00 | XXX
J7653 |  | E | Isoetharine hcl .2%/ inj | 0.00 | 0.00 | 0.00 | 0.00 | 0.00 | 0.00 | 0.00 | 0.00 | 0.00 | 0.00 | XXX
J7654 |  | E | Isoetharine hcl .25% inj | 0.00 | 0.00 | 0.00 | 0.00 | 0.00 | 0.00 | 0.00 | 0.00 | 0.00 | 0.00 | XXX
J7655 |  | E | Isoetharine hcl 1% inj | 0.00 | 0.00 | 0.00 | 0.00 | 0.00 | 0.00 | 0.00 | 0.00 | 0.00 | 0.00 | XXX
J7658 |  | E | Isoproterenolhcl inh sol con | 0.00 | 0.00 | 0.00 | 0.00 | 0.00 | 0.00 | 0.00 | 0.00 | 0.00 | 0.00 | XXX
J7659 |  | E | Isoproterenol hcl inh sol ud | 0.00 | 0.00 | 0.00 | 0.00 | 0.00 | 0.00 | 0.00 | 0.00 | 0.00 | 0.00 | XXX
J7660 |  | E | Isoproterenol hcl .5% inj | 0.00 | 0.00 | 0.00 | 0.00 | 0.00 | 0.00 | 0.00 | 0.00 | 0.00 | 0.00 | XXX
J7665 |  | E | Isoproterenol hcl 1% inj | 0.00 | 0.00 | 0.00 | 0.00 | 0.00 | 0.00 | 0.00 | 0.00 | 0.00 | 0.00 | XXX
J7668 |  | E | Metaproterenol inh sol con | 0.00 | 0.00 | 0.00 | 0.00 | 0.00 | 0.00 | 0.00 | 0.00 | 0.00 | 0.00 | XXX
J7669 |  | E | Metaproterenol inh sol u d | 0.00 | 0.00 | 0.00 | 0.00 | 0.00 | 0.00 | 0.00 | 0.00 | 0.00 | 0.00 | XXX
J7670 |  | E | Metaproterenol sulfate .4% | 0.00 | 0.00 | 0.00 | 0.00 | 0.00 | 0.00 | 0.00 | 0.00 | 0.00 | 0.00 | XXX
J7672 |  | E | Metaproterenol sulfate .6% | 0.00 | 0.00 | 0.00 | 0.00 | 0.00 | 0.00 | 0.00 | 0.00 | 0.00 | 0.00 | XXX
J7675 |  | E | Metaproterenol sulfate 5% | 0.00 | 0.00 | 0.00 | 0.00 | 0.00 | 0.00 | 0.00 | 0.00 | 0.00 | 0.00 | XXX
J7680 |  | E | Terbutaline so4 inh sol con | 0.00 | 0.00 | 0.00 | 0.00 | 0.00 | 0.00 | 0.00 | 0.00 | 0.00 | 0.00 | XXX
J7681 |  | E | Terbutaline so4 inh sol u d | 0.00 | 0.00 | 0.00 | 0.00 | 0.00 | 0.00 | 0.00 | 0.00 | 0.00 | 0.00 | XXX
J7682 |  | E | Tobramycin inhalation sol | 0.00 | 0.00 | 0.00 | 0.00 | 0.00 | 0.00 | 0.00 | 0.00 | 0.00 | 0.00 | XXX
J7683 |  | E | Triamcinolone inh sol con | 0.00 | 0.00 | 0.00 | 0.00 | 0.00 | 0.00 | 0.00 | 0.00 | 0.00 | 0.00 | XXX
J7684 |  | E | Triamcinolone inh sol u d | 0.00 | 0.00 | 0.00 | 0.00 | 0.00 | 0.00 | 0.00 | 0.00 | 0.00 | 0.00 | XXX
J7699 |  | E | Inhalation solution for DME | 0.00 | 0.00 | 0.00 | 0.00 | 0.00 | 0.00 | 0.00 | 0.00 | 0.00 | 0.00 | XXX
J7799 |  | E | Non-inhalation drug for DME | 0.00 | 0.00 | 0.00 | 0.00 | 0.00 | 0.00 | 0.00 | 0.00 | 0.00 | 0.00 | XXX
J8499 |  | N | Oral prescrip drug non chemo | 0.00 | 0.00 | 0.00 | 0.00 | 0.00 | 0.00 | 0.00 | 0.00 | 0.00 | 0.00 | XXX
J8510 |  | E | Oral busulfan | 0.00 | 0.00 | 0.00 | 0.00 | 0.00 | 0.00 | 0.00 | 0.00 | 0.00 | 0.00 | XXX
J8520 |  | E | Capecitabine, oral, 150 mg | 0.00 | 0.00 | 0.00 | 0.00 | 0.00 | 0.00 | 0.00 | 0.00 | 0.00 | 0.00 | XXX
J8521 |  | E | Capecitabine, oral, 500 mg | 0.00 | 0.00 | 0.00 | 0.00 | 0.00 | 0.00 | 0.00 | 0.00 | 0.00 | 0.00 | XXX
J8530 |  | E | Cyclophosphamide oral 25 MG | 0.00 | 0.00 | 0.00 | 0.00 | 0.00 | 0.00 | 0.00 | 0.00 | 0.00 | 0.00 | XXX
J8560 |  | E | Etoposide oral 50 MG | 0.00 | 0.00 | 0.00 | 0.00 | 0.00 | 0.00 | 0.00 | 0.00 | 0.00 | 0.00 | XXX
J8600 |  | E | Melphalan oral 2 MG | 0.00 | 0.00 | 0.00 | 0.00 | 0.00 | 0.00 | 0.00 | 0.00 | 0.00 | 0.00 | XXX
J8610 |  | E | Methotrexate oral 2.5 MG | 0.00 | 0.00 | 0.00 | 0.00 | 0.00 | 0.00 | 0.00 | 0.00 | 0.00 | 0.00 | XXX
J8999 |  | E | Oral prescription drug chemo | 0.00 | 0.00 | 0.00 | 0.00 | 0.00 | 0.00 | 0.00 | 0.00 | 0.00 | 0.00 | XXX
J9000 |  | E | Doxorubic hcl 10 MG vl chemo | 0.00 | 0.00 | 0.00 | 0.00 | 0.00 | 0.00 | 0.00 | 0.00 | 0.00 | 0.00 | XXX
J9001 |  | E | Doxorubicin hcl liposome inj | 0.00 | 0.00 | 0.00 | 0.00 | 0.00 | 0.00 | 0.00 | 0.00 | 0.00 | 0.00 | XXX
J9015 |  | E | Aldesleukin/single use vial | 0.00 | 0.00 | 0.00 | 0.00 | 0.00 | 0.00 | 0.00 | 0.00 | 0.00 | 0.00 | XXX
J9020 |  | E | Asparaginase injection | 0.00 | 0.00 | 0.00 | 0.00 | 0.00 | 0.00 | 0.00 | 0.00 | 0.00 | 0.00 | XXX
J9031 |  | E | Bcg live intravesical vac | 0.00 | 0.00 | 0.00 | 0.00 | 0.00 | 0.00 | 0.00 | 0.00 | 0.00 | 0.00 | XXX
J9040 |  | E | Bleomycin sulfate injection | 0.00 | 0.00 | 0.00 | 0.00 | 0.00 | 0.00 | 0.00 | 0.00 | 0.00 | 0.00 | XXX
J9045 |  | E | Carboplatin injection | 0.00 | 0.00 | 0.00 | 0.00 | 0.00 | 0.00 | 0.00 | 0.00 | 0.00 | 0.00 | XXX
J9050 |  | E | Carmus bischl nitro inj | 0.00 | 0.00 | 0.00 | 0.00 | 0.00 | 0.00 | 0.00 | 0.00 | 0.00 | 0.00 | XXX
J9060 |  | E | Cisplatin 10 MG injeciton | 0.00 | 0.00 | 0.00 | 0.00 | 0.00 | 0.00 | 0.00 | 0.00 | 0.00 | 0.00 | XXX
J9062 |  | E | Cisplatin 50 MG injeciton | 0.00 | 0.00 | 0.00 | 0.00 | 0.00 | 0.00 | 0.00 | 0.00 | 0.00 | 0.00 | XXX
J9065 |  | E | Inj cladribine per 1 MG | 0.00 | 0.00 | 0.00 | 0.00 | 0.00 | 0.00 | 0.00 | 0.00 | 0.00 | 0.00 | XXX
J9070 |  | E | Cyclophosphamide 100 MG inj | 0.00 | 0.00 | 0.00 | 0.00 | 0.00 | 0.00 | 0.00 | 0.00 | 0.00 | 0.00 | XXX
J9080 |  | E | Cyclophosphamide 200 MG inj | 0.00 | 0.00 | 0.00 | 0.00 | 0.00 | 0.00 | 0.00 | 0.00 | 0.00 | 0.00 | XXX
J9090 |  | E | Cyclophosphamide 500 MG inj | 0.00 | 0.00 | 0.00 | 0.00 | 0.00 | 0.00 | 0.00 | 0.00 | 0.00 | 0.00 | XXX
J9091 |  | E | Cyclophosphamide 1.0 grm inj | 0.00 | 0.00 | 0.00 | 0.00 | 0.00 | 0.00 | 0.00 | 0.00 | 0.00 | 0.00 | XXX
J9092 |  | E | Cyclophosphamide 2.0 grm inj | 0.00 | 0.00 | 0.00 | 0.00 | 0.00 | 0.00 | 0.00 | 0.00 | 0.00 | 0.00 | XXX
J9093 |  | E | Cyclophosphamide lyophilized | 0.00 | 0.00 | 0.00 | 0.00 | 0.00 | 0.00 | 0.00 | 0.00 | 0.00 | 0.00 | XXX
J9094 |  | E | Cyclophosphamide lyophilized | 0.00 | 0.00 | 0.00 | 0.00 | 0.00 | 0.00 | 0.00 | 0.00 | 0.00 | 0.00 | XXX
J9095 |  | E | Cyclophosphamide lyophilized | 0.00 | 0.00 | 0.00 | 0.00 | 0.00 | 0.00 | 0.00 | 0.00 | 0.00 | 0.00 | XXX
J9096 |  | E | Cyclophosphamide lyophilized | 0.00 | 0.00 | 0.00 | 0.00 | 0.00 | 0.00 | 0.00 | 0.00 | 0.00 | 0.00 | XXX
J9097 |  | E | Cyclophosphamide lyophilized | 0.00 | 0.00 | 0.00 | 0.00 | 0.00 | 0.00 | 0.00 | 0.00 | 0.00 | 0.00 | XXX
J9100 |  | E | Cytarabine hcl 100 MG inj | 0.00 | 0.00 | 0.00 | 0.00 | 0.00 | 0.00 | 0.00 | 0.00 | 0.00 | 0.00 | XXX
J9110 |  | E | Cytarabine hcl 500 MG inj | 0.00 | 0.00 | 0.00 | 0.00 | 0.00 | 0.00 | 0.00 | 0.00 | 0.00 | 0.00 | XXX
J9120 |  | E | Dactinomycin actinomycin d | 0.00 | 0.00 | 0.00 | 0.00 | 0.00 | 0.00 | 0.00 | 0.00 | 0.00 | 0.00 | XXX
J9130 |  | E | Dacarbazine 10 MG inj | 0.00 | 0.00 | 0.00 | 0.00 | 0.00 | 0.00 | 0.00 | 0.00 | 0.00 | 0.00 | XXX
J9140 |  | E | Dacarbazine 200 MG inj | 0.00 | 0.00 | 0.00 | 0.00 | 0.00 | 0.00 | 0.00 | 0.00 | 0.00 | 0.00 | XXX
J9150 |  | E | Daunorubicin | 0.00 | 0.00 | 0.00 | 0.00 | 0.00 | 0.00 | 0.00 | 0.00 | 0.00 | 0.00 | XXX
J9151 |  | E | Daunorubicin citrate liposom | 0.00 | 0.00 | 0.00 | 0.00 | 0.00 | 0.00 | 0.00 | 0.00 | 0.00 | 0.00 | XXX
J9165 |  | E | Diethylstilbestrol injection | 0.00 | 0.00 | 0.00 | 0.00 | 0.00 | 0.00 | 0.00 | 0.00 | 0.00 | 0.00 | XXX
J9170 |  | E | Docetaxel | 0.00 | 0.00 | 0.00 | 0.00 | 0.00 | 0.00 | 0.00 | 0.00 | 0.00 | 0.00 | XXX
J9181 |  | E | Etoposide 10 MG inj | 0.00 | 0.00 | 0.00 | 0.00 | 0.00 | 0.00 | 0.00 | 0.00 | 0.00 | 0.00 | XXX
J9182 |  | E | Etoposide 100 MG inj | 0.00 | 0.00 | 0.00 | 0.00 | 0.00 | 0.00 | 0.00 | 0.00 | 0.00 | 0.00 | XXX
J9185 |  | E | Fludarabine phosphate inj | 0.00 | 0.00 | 0.00 | 0.00 | 0.00 | 0.00 | 0.00 | 0.00 | 0.00 | 0.00 | XXX
J9190 |  | E | Fluorouracil injection | 0.00 | 0.00 | 0.00 | 0.00 | 0.00 | 0.00 | 0.00 | 0.00 | 0.00 | 0.00 | XXX
J9200 |  | E | Floxuridine injection | 0.00 | 0.00 | 0.00 | 0.00 | 0.00 | 0.00 | 0.00 | 0.00 | 0.00 | 0.00 | XXX
J9201 |  | E | Gemcitabine HCl | 0.00 | 0.00 | 0.00 | 0.00 | 0.00 | 0.00 | 0.00 | 0.00 | 0.00 | 0.00 | XXX
J9202 |  | E | Goserelin acetate implant | 0.00 | 0.00 | 0.00 | 0.00 | 0.00 | 0.00 | 0.00 | 0.00 | 0.00 | 0.00 | XXX
J9206 |  | E | Irinotecan injection | 0.00 | 0.00 | 0.00 | 0.00 | 0.00 | 0.00 | 0.00 | 0.00 | 0.00 | 0.00 | XXX
J9208 |  | E | Ifosfomide injection | 0.00 | 0.00 | 0.00 | 0.00 | 0.00 | 0.00 | 0.00 | 0.00 | 0.00 | 0.00 | XXX
J9209 |  | E | Mesna injection | 0.00 | 0.00 | 0.00 | 0.00 | 0.00 | 0.00 | 0.00 | 0.00 | 0.00 | 0.00 | XXX
J9211 |  | E | Idarubicin hcl injeciton | 0.00 | 0.00 | 0.00 | 0.00 | 0.00 | 0.00 | 0.00 | 0.00 | 0.00 | 0.00 | XXX
J9212 |  | E | Interferon alfacon-1 | 0.00 | 0.00 | 0.00 | 0.00 | 0.00 | 0.00 | 0.00 | 0.00 | 0.00 | 0.00 | XXX
J9213 |  | E | Interferon alfa-2a inj | 0.00 | 0.00 | 0.00 | 0.00 | 0.00 | 0.00 | 0.00 | 0.00 | 0.00 | 0.00 | XXX
J9214 |  | E | Interferon alfa-2b inj | 0.00 | 0.00 | 0.00 | 0.00 | 0.00 | 0.00 | 0.00 | 0.00 | 0.00 | 0.00 | XXX
J9215 |  | E | Interferon alfa-n3 inj | 0.00 | 0.00 | 0.00 | 0.00 | 0.00 | 0.00 | 0.00 | 0.00 | 0.00 | 0.00 | XXX
J9216 |  | E | Interferon gamma 1-b inj | 0.00 | 0.00 | 0.00 | 0.00 | 0.00 | 0.00 | 0.00 | 0.00 | 0.00 | 0.00 | XXX
J9217 |  | E | Leuprolide acetate suspnsion | 0.00 | 0.00 | 0.00 | 0.00 | 0.00 | 0.00 | 0.00 | 0.00 | 0.00 | 0.00 | XXX
J9218 |  | E | Leuprolide acetate injeciton | 0.00 | 0.00 | 0.00 | 0.00 | 0.00 | 0.00 | 0.00 | 0.00 | 0.00 | 0.00 | XXX
J9230 |  | E | Mechlorethamine hcl inj | 0.00 | 0.00 | 0.00 | 0.00 | 0.00 | 0.00 | 0.00 | 0.00 | 0.00 | 0.00 | XXX
J9245 |  | E | Inj melphalan hydrochl 50 MG | 0.00 | 0.00 | 0.00 | 0.00 | 0.00 | 0.00 | 0.00 | 0.00 | 0.00 | 0.00 | XXX
J9250 |  | E | Methotrexate sodium inj | 0.00 | 0.00 | 0.00 | 0.00 | 0.00 | 0.00 | 0.00 | 0.00 | 0.00 | 0.00 | XXX
J9260 |  | E | Methotrexate sodium inj | 0.00 | 0.00 | 0.00 | 0.00 | 0.00 | 0.00 | 0.00 | 0.00 | 0.00 | 0.00 | XXX
J9265 |  | E | Paclitaxel injection | 0.00 | 0.00 | 0.00 | 0.00 | 0.00 | 0.00 | 0.00 | 0.00 | 0.00 | 0.00 | XXX
J9266 |  | E | Pegaspargase/singl dose vial | 0.00 | 0.00 | 0.00 | 0.00 | 0.00 | 0.00 | 0.00 | 0.00 | 0.00 | 0.00 | XXX
J9268 |  | E | Pentostatin injection | 0.00 | 0.00 | 0.00 | 0.00 | 0.00 | 0.00 | 0.00 | 0.00 | 0.00 | 0.00 | XXX
J9270 |  | E | Plicamycin (mithramycin) inj | 0.00 | 0.00 | 0.00 | 0.00 | 0.00 | 0.00 | 0.00 | 0.00 | 0.00 | 0.00 | XXX
J9280 |  | E | Mitomycin 5 MG inj | 0.00 | 0.00 | 0.00 | 0.00 | 0.00 | 0.00 | 0.00 | 0.00 | 0.00 | 0.00 | XXX
J9290 |  | E | Mitomycin 20 MG inj | 0.00 | 0.00 | 0.00 | 0.00 | 0.00 | 0.00 | 0.00 | 0.00 | 0.00 | 0.00 | XXX
J9291 |  | E | Mitomycin 40 MG inj | 0.00 | 0.00 | 0.00 | 0.00 | 0.00 | 0.00 | 0.00 | 0.00 | 0.00 | 0.00 | XXX
J9293 |  | E | Mitoxantrone hydrochl / 5 MG | 0.00 | 0.00 | 0.00 | 0.00 | 0.00 | 0.00 | 0.00 | 0.00 | 0.00 | 0.00 | XXX
J9310 |  | E | Rituximab cancer treatment | 0.00 | 0.00 | 0.00 | 0.00 | 0.00 | 0.00 | 0.00 | 0.00 | 0.00 | 0.00 | XXX
J9320 |  | E | Streptozocin injection | 0.00 | 0.00 | 0.00 | 0.00 | 0.00 | 0.00 | 0.00 | 0.00 | 0.00 | 0.00 | XXX
J9340 |  | E | Thiotepa injection | 0.00 | 0.00 | 0.00 | 0.00 | 0.00 | 0.00 | 0.00 | 0.00 | 0.00 | 0.00 | XXX
J9350 |  | E | Topotecan | 0.00 | 0.00 | 0.00 | 0.00 | 0.00 | 0.00 | 0.00 | 0.00 | 0.00 | 0.00 | XXX
J9355 |  | E | Trastuzumab | 0.00 | 0.00 | 0.00 | 0.00 | 0.00 | 0.00 | 0.00 | 0.00 | 0.00 | 0.00 | XXX
J9357 |  | E | Valrubicin, 200 mg | 0.00 | 0.00 | 0.00 | 0.00 | 0.00 | 0.00 | 0.00 | 0.00 | 0.00 | 0.00 | XXX
J9360 |  | E | Vinblastine sulfate inj | 0.00 | 0.00 | 0.00 | 0.00 | 0.00 | 0.00 | 0.00 | 0.00 | 0.00 | 0.00 | XXX
J9370 |  | E | Vincristine sulfate 1 MG inj | 0.00 | 0.00 | 0.00 | 0.00 | 0.00 | 0.00 | 0.00 | 0.00 | 0.00 | 0.00 | XXX
J9375 |  | E | Vincristine sulfate 2 MG inj | 0.00 | 0.00 | 0.00 | 0.00 | 0.00 | 0.00 | 0.00 | 0.00 | 0.00 | 0.00 | XXX
J9380 |  | E | Vincristine sulfate 5 MG inj | 0.00 | 0.00 | 0.00 | 0.00 | 0.00 | 0.00 | 0.00 | 0.00 | 0.00 | 0.00 | XXX
J9390 |  | E | Vinorelbine tartrate/10 mg | 0.00 | 0.00 | 0.00 | 0.00 | 0.00 | 0.00 | 0.00 | 0.00 | 0.00 | 0.00 | XXX
J9600 |  | E | Porfimer sodium | 0.00 | 0.00 | 0.00 | 0.00 | 0.00 | 0.00 | 0.00 | 0.00 | 0.00 | 0.00 | XXX
J9999 |  | E | Chemotherapy drug | 0.00 | 0.00 | 0.00 | 0.00 | 0.00 | 0.00 | 0.00 | 0.00 | 0.00 | 0.00 | XXX
M0064 |  | A | Visit for drug monitoring | 0.37 | 0.24 | 0.23 | 0.12 | 0.14 | 0.01 | 0.62 | 0.61 | 0.50 | 0.52 | XXX
M0075 |  | N | Cellular therapy | 0.00 | 0.00 | 0.00 | 0.00 | 0.00 | 0.00 | 0.00 | 0.00 | 0.00 | 0.00 | XXX
M0076 |  | N | Prolotherapy | 0.00 | 0.00 | 0.00 | 0.00 | 0.00 | 0.00 | 0.00 | 0.00 | 0.00 | 0.00 | XXX
M0100 |  | N | Intragastric hypothermia | 0.00 | 0.00 | 0.00 | 0.00 | 0.00 | 0.00 | 0.00 | 0.00 | 0.00 | 0.00 | XXX
M0300 |  | N | IV chelationtherapy | 0.00 | 0.00 | 0.00 | 0.00 | 0.00 | 0.00 | 0.00 | 0.00 | 0.00 | 0.00 | XXX
M0301 |  | N | Fabric wrapping of aneurysm | 0.00 | 0.00 | 0.00 | 0.00 | 0.00 | 0.00 | 0.00 | 0.00 | 0.00 | 0.00 | XXX
M0302 | TC | A | Assessment of cardiac output | 0.00 | 0.81 | 0.81 | NA | NA | 0.02 | 0.83 | 0.83 | NA | NA | XXX
P2028 |  | X | Cephalin floculation test | 0.00 | 0.00 | 0.00 | 0.00 | 0.00 | 0.00 | 0.00 | 0.00 | 0.00 | 0.00 | XXX
P2029 |  | X | Congo red blood test | 0.00 | 0.00 | 0.00 | 0.00 | 0.00 | 0.00 | 0.00 | 0.00 | 0.00 | 0.00 | XXX
P2031 |  | N | Hair analysis | 0.00 | 0.00 | 0.00 | 0.00 | 0.00 | 0.00 | 0.00 | 0.00 | 0.00 | 0.00 | XXX
P2033 |  | X | Blood thymol turbidity | 0.00 | 0.00 | 0.00 | 0.00 | 0.00 | 0.00 | 0.00 | 0.00 | 0.00 | 0.00 | XXX
P2038 |  | X | Blood mucoprotein | 0.00 | 0.00 | 0.00 | 0.00 | 0.00 | 0.00 | 0.00 | 0.00 | 0.00 | 0.00 | XXX
P3000 |  | X | Screen pap by tech w md supv | 0.00 | 0.00 | 0.00 | 0.00 | 0.00 | 0.00 | 0.00 | 0.00 | 0.00 | 0.00 | XXX
P3001 |  | A | Screening pap smear by phys | 0.42 | 0.19 | 0.23 | 0.19 | 0.23 | 0.01 | 0.62 | 0.66 | 0.62 | 0.66 | XXX
P7001 |  | I | Culture bacterial urine | 0.00 | 0.00 | 0.00 | 0.00 | 0.00 | 0.00 | 0.00 | 0.00 | 0.00 | 0.00 | XXX
P9010 |  | E | Whole blood for transfusion | 0.00 | 0.00 | 0.00 | 0.00 | 0.00 | 0.00 | 0.00 | 0.00 | 0.00 | 0.00 | XXX
P9011 |  | E | Blood split unit | 0.00 | 0.00 | 0.00 | 0.00 | 0.00 | 0.00 | 0.00 | 0.00 | 0.00 | 0.00 | XXX
P9012 |  | E | Cryoprecipitate each unit | 0.00 | 0.00 | 0.00 | 0.00 | 0.00 | 0.00 | 0.00 | 0.00 | 0.00 | 0.00 | XXX
P9013 |  | E | Unit/s blood fibrinogen | 0.00 | 0.00 | 0.00 | 0.00 | 0.00 | 0.00 | 0.00 | 0.00 | 0.00 | 0.00 | XXX
P9016 |  | E | Leukocyte poor blood, unit | 0.00 | 0.00 | 0.00 | 0.00 | 0.00 | 0.00 | 0.00 | 0.00 | 0.00 | 0.00 | XXX
P9017 |  | E | One donor fresh frozn plasma | 0.00 | 0.00 | 0.00 | 0.00 | 0.00 | 0.00 | 0.00 | 0.00 | 0.00 | 0.00 | XXX
P9018 |  | E | Plasma protein fract, unit | 0.00 | 0.00 | 0.00 | 0.00 | 0.00 | 0.00 | 0.00 | 0.00 | 0.00 | 0.00 | XXX
P9019 |  | E | Platelet concentrate unit | 0.00 | 0.00 | 0.00 | 0.00 | 0.00 | 0.00 | 0.00 | 0.00 | 0.00 | 0.00 | XXX
P9020 |  | E | Plaelet rich plasma unit | 0.00 | 0.00 | 0.00 | 0.00 | 0.00 | 0.00 | 0.00 | 0.00 | 0.00 | 0.00 | XXX
P9021 |  | E | Red blood cells unit | 0.00 | 0.00 | 0.00 | 0.00 | 0.00 | 0.00 | 0.00 | 0.00 | 0.00 | 0.00 | XXX
P9022 |  | E | Washed red blood cells unit | 0.00 | 0.00 | 0.00 | 0.00 | 0.00 | 0.00 | 0.00 | 0.00 | 0.00 | 0.00 | XXX
P9023 |  | X | Frozen plasma, pooled, sd | 0.00 | 0.00 | 0.00 | 0.00 | 0.00 | 0.00 | 0.00 | 0.00 | 0.00 | 0.00 | XXX
P9603 |  | X | One-way allow prorated miles | 0.00 | 0.00 | 0.00 | 0.00 | 0.00 | 0.00 | 0.00 | 0.00 | 0.00 | 0.00 | XXX
P9604 |  | X | One-way allow prorated trip | 0.00 | 0.00 | 0.00 | 0.00 | 0.00 | 0.00 | 0.00 | 0.00 | 0.00 | 0.00 | XXX
P9612 |  | X | Catheterize for urine spec | 0.00 | 0.00 | 0.00 | 0.00 | 0.00 | 0.00 | 0.00 | 0.00 | 0.00 | 0.00 | XXX
P9615 |  | X | Urine specimen collect mult | 0.00 | 0.00 | 0.00 | 0.00 | 0.00 | 0.00 | 0.00 | 0.00 | 0.00 | 0.00 | XXX
Q0034 |  | X | Admin of influenza vaccine | 0.00 | 0.00 | 0.00 | 0.00 | 0.00 | 0.00 | 0.00 | 0.00 | 0.00 | 0.00 | XXX
Q0035 |  | A | Cardiokymography | 0.17 | 0.46 | 0.48 | NA | NA | 0.03 | 0.66 | 0.68 | NA | NA | XXX
Q0035 | 26 | A | Cardiokymography | 0.17 | 0.07 | 0.09 | 0.07 | 0.09 | 0.01 | 0.25 | 0.27 | 0.25 | 0.27 | XXX
Q0035 | TC | A | Cardiokymography | 0.00 | 0.39 | 0.39 | NA | NA | 0.02 | 0.41 | 0.41 | NA | NA | XXX
Q0068 |  | D | Extracorpeal plasmapheresis | 1.67 | 4.42 | 3.66 | 0.98 | 1.08 | 0.11 | 6.20 | 5.44 | 2.76 | 2.86 | 000
Q0091 |  | A | Obtaining screen pap smear | 0.37 | 0.54 | 0.48 | 0.14 | 0.18 | 0.01 | 0.92 | 0.86 | 0.52 | 0.56 | XXX
Q0092 |  | A | Set up port xray equipment | 0.00 | 0.32 | 0.32 | NA | NA | 0.01 | 0.33 | 0.33 | NA | NA | XXX
Q0111 |  | X | Wet mounts/ w preparations | 0.00 | 0.00 | 0.00 | 0.00 | 0.00 | 0.00 | 0.00 | 0.00 | 0.00 | 0.00 | XXX
Q0112 |  | X | Potassium hydroxide preps | 0.00 | 0.00 | 0.00 | 0.00 | 0.00 | 0.00 | 0.00 | 0.00 | 0.00 | 0.00 | XXX
Q0113 |  | X | Pinworm examinations | 0.00 | 0.00 | 0.00 | 0.00 | 0.00 | 0.00 | 0.00 | 0.00 | 0.00 | 0.00 | XXX
Q0114 |  | X | Fern test | 0.00 | 0.00 | 0.00 | 0.00 | 0.00 | 0.00 | 0.00 | 0.00 | 0.00 | 0.00 | XXX
Q0115 |  | X | Post-coital mucous exam | 0.00 | 0.00 | 0.00 | 0.00 | 0.00 | 0.00 | 0.00 | 0.00 | 0.00 | 0.00 | XXX
Q0132 |  | D | Dispensing fee DME neb drug | 0.00 | 0.00 | 0.00 | 0.00 | 0.00 | 0.00 | 0.00 | 0.00 | 0.00 | 0.00 | XXX
Q0136 |  | X | Non esrd epoetin alpha inj | 0.00 | 0.00 | 0.00 | 0.00 | 0.00 | 0.00 | 0.00 | 0.00 | 0.00 | 0.00 | XXX
Q0144 |  | N | Azithromycin dihydrate, oral | 0.00 | 0.00 | 0.00 | 0.00 | 0.00 | 0.00 | 0.00 | 0.00 | 0.00 | 0.00 | XXX
Q0156 |  | X | Human albumin 5% | 0.00 | 0.00 | 0.00 | 0.00 | 0.00 | 0.00 | 0.00 | 0.00 | 0.00 | 0.00 | XXX
Q0157 |  | X | Human albumin 25% | 0.00 | 0.00 | 0.00 | 0.00 | 0.00 | 0.00 | 0.00 | 0.00 | 0.00 | 0.00 | XXX
Q0160 |  | X | Factor IX non-recombinant | 0.00 | 0.00 | 0.00 | 0.00 | 0.00 | 0.00 | 0.00 | 0.00 | 0.00 | 0.00 | XXX
Q0161 |  | X | Factor IX recombinant | 0.00 | 0.00 | 0.00 | 0.00 | 0.00 | 0.00 | 0.00 | 0.00 | 0.00 | 0.00 | XXX
Q0163 |  | X | Diphenhydramine HCl 50mg | 0.00 | 0.00 | 0.00 | 0.00 | 0.00 | 0.00 | 0.00 | 0.00 | 0.00 | 0.00 | XXX
Q0164 |  | X | Prochlorperazine maleate 5mg | 0.00 | 0.00 | 0.00 | 0.00 | 0.00 | 0.00 | 0.00 | 0.00 | 0.00 | 0.00 | XXX
Q0165 |  | X | Prochlorperazine maleate10mg | 0.00 | 0.00 | 0.00 | 0.00 | 0.00 | 0.00 | 0.00 | 0.00 | 0.00 | 0.00 | XXX
Q0166 |  | X | Granisetron HCl 1 mg oral | 0.00 | 0.00 | 0.00 | 0.00 | 0.00 | 0.00 | 0.00 | 0.00 | 0.00 | 0.00 | XXX
Q0167 |  | X | Dronabinol 2.5mg oral | 0.00 | 0.00 | 0.00 | 0.00 | 0.00 | 0.00 | 0.00 | 0.00 | 0.00 | 0.00 | XXX
Q0168 |  | X | Dronabinol 5mg oral | 0.00 | 0.00 | 0.00 | 0.00 | 0.00 | 0.00 | 0.00 | 0.00 | 0.00 | 0.00 | XXX
Q0169 |  | X | Promethazine HCl 12.5mg oral | 0.00 | 0.00 | 0.00 | 0.00 | 0.00 | 0.00 | 0.00 | 0.00 | 0.00 | 0.00 | XXX
Q0170 |  | X | Promethazine HCl 25 mg oral | 0.00 | 0.00 | 0.00 | 0.00 | 0.00 | 0.00 | 0.00 | 0.00 | 0.00 | 0.00 | XXX
Q0171 |  | X | Chlorpromazine HCl 10mg oral | 0.00 | 0.00 | 0.00 | 0.00 | 0.00 | 0.00 | 0.00 | 0.00 | 0.00 | 0.00 | XXX
Q0172 |  | X | Chlorpromazine HCl 25mg oral | 0.00 | 0.00 | 0.00 | 0.00 | 0.00 | 0.00 | 0.00 | 0.00 | 0.00 | 0.00 | XXX
Q0173 |  | X | Trimethobenzamide HCl 250mg | 0.00 | 0.00 | 0.00 | 0.00 | 0.00 | 0.00 | 0.00 | 0.00 | 0.00 | 0.00 | XXX
Q0174 |  | X | Thiethylperazine maleate10mg | 0.00 | 0.00 | 0.00 | 0.00 | 0.00 | 0.00 | 0.00 | 0.00 | 0.00 | 0.00 | XXX
Q0175 |  | X | Perphenazine 4mg oral | 0.00 | 0.00 | 0.00 | 0.00 | 0.00 | 0.00 | 0.00 | 0.00 | 0.00 | 0.00 | XXX
Q0176 |  | X | Perphenazine 8mg oral | 0.00 | 0.00 | 0.00 | 0.00 | 0.00 | 0.00 | 0.00 | 0.00 | 0.00 | 0.00 | XXX
Q0177 |  | X | Hydroxyzine pamoate 25mg | 0.00 | 0.00 | 0.00 | 0.00 | 0.00 | 0.00 | 0.00 | 0.00 | 0.00 | 0.00 | XXX
Q0178 |  | X | Hydroxyzine pamoate 50mg | 0.00 | 0.00 | 0.00 | 0.00 | 0.00 | 0.00 | 0.00 | 0.00 | 0.00 | 0.00 | XXX
Q0179 |  | X | Ondansetron HCl 8mg oral | 0.00 | 0.00 | 0.00 | 0.00 | 0.00 | 0.00 | 0.00 | 0.00 | 0.00 | 0.00 | XXX
Q0180 |  | X | Dolasetron mesylate oral | 0.00 | 0.00 | 0.00 | 0.00 | 0.00 | 0.00 | 0.00 | 0.00 | 0.00 | 0.00 | XXX
Q0181 |  | X | Unspecified oral anti-emetic | 0.00 | 0.00 | 0.00 | 0.00 | 0.00 | 0.00 | 0.00 | 0.00 | 0.00 | 0.00 | XXX
Q0183 |  | X | Nonmetabolic active tissue | 0.00 | 0.00 | 0.00 | 0.00 | 0.00 | 0.00 | 0.00 | 0.00 | 0.00 | 0.00 | XXX
Q0184 |  | X | Metabolically active tissue | 0.00 | 0.00 | 0.00 | 0.00 | 0.00 | 0.00 | 0.00 | 0.00 | 0.00 | 0.00 | XXX
Q0185 |  | X | Metabolic active D/E tissue | 0.00 | 0.00 | 0.00 | 0.00 | 0.00 | 0.00 | 0.00 | 0.00 | 0.00 | 0.00 | XXX
Q0186 |  | X | Paramedic intercept, rural | 0.00 | 0.00 | 0.00 | 0.00 | 0.00 | 0.00 | 0.00 | 0.00 | 0.00 | 0.00 | XXX
Q0187 |  | E | Factor viia recombinant | 0.00 | 0.00 | 0.00 | 0.00 | 0.00 | 0.00 | 0.00 | 0.00 | 0.00 | 0.00 | XXX
Q1001 |  | X | Ntiol category 1 | 0.00 | 0.00 | 0.00 | 0.00 | 0.00 | 0.00 | 0.00 | 0.00 | 0.00 | 0.00 | XXX
Q1002 |  | X | Ntiol category 2 | 0.00 | 0.00 | 0.00 | 0.00 | 0.00 | 0.00 | 0.00 | 0.00 | 0.00 | 0.00 | XXX
Q1003 |  | X | Ntiol category 3 | 0.00 | 0.00 | 0.00 | 0.00 | 0.00 | 0.00 | 0.00 | 0.00 | 0.00 | 0.00 | XXX
Q1004 |  | X | Ntiol category 4 | 0.00 | 0.00 | 0.00 | 0.00 | 0.00 | 0.00 | 0.00 | 0.00 | 0.00 | 0.00 | XXX
Q1005 |  | X | Ntiol category 5 | 0.00 | 0.00 | 0.00 | 0.00 | 0.00 | 0.00 | 0.00 | 0.00 | 0.00 | 0.00 | XXX
Q9920 |  | E | Epoetin with hct <= 20 | 0.00 | 0.00 | 0.00 | 0.00 | 0.00 | 0.00 | 0.00 | 0.00 | 0.00 | 0.00 | XXX
Q9921 |  | E | Epoetin with hct = 21 | 0.00 | 0.00 | 0.00 | 0.00 | 0.00 | 0.00 | 0.00 | 0.00 | 0.00 | 0.00 | XXX
Q9922 |  | E | Epoetin with hct = 22 | 0.00 | 0.00 | 0.00 | 0.00 | 0.00 | 0.00 | 0.00 | 0.00 | 0.00 | 0.00 | XXX
Q9923 |  | E | Epoetin with hct = 23 | 0.00 | 0.00 | 0.00 | 0.00 | 0.00 | 0.00 | 0.00 | 0.00 | 0.00 | 0.00 | XXX
Q9924 |  | E | Epoetin with hct = 24 | 0.00 | 0.00 | 0.00 | 0.00 | 0.00 | 0.00 | 0.00 | 0.00 | 0.00 | 0.00 | XXX
Q9925 |  | E | Epoetin with hct = 25 | 0.00 | 0.00 | 0.00 | 0.00 | 0.00 | 0.00 | 0.00 | 0.00 | 0.00 | 0.00 | XXX
Q9926 |  | E | Epoetin with hct = 26 | 0.00 | 0.00 | 0.00 | 0.00 | 0.00 | 0.00 | 0.00 | 0.00 | 0.00 | 0.00 | XXX
Q9927 |  | E | Epoetin with hct = 27 | 0.00 | 0.00 | 0.00 | 0.00 | 0.00 | 0.00 | 0.00 | 0.00 | 0.00 | 0.00 | XXX
Q9928 |  | E | Epoetin with hct = 28 | 0.00 | 0.00 | 0.00 | 0.00 | 0.00 | 0.00 | 0.00 | 0.00 | 0.00 | 0.00 | XXX
Q9929 |  | E | Epoetin with hct = 29 | 0.00 | 0.00 | 0.00 | 0.00 | 0.00 | 0.00 | 0.00 | 0.00 | 0.00 | 0.00 | XXX
Q9930 |  | E | Epoetin with hct = 30 | 0.00 | 0.00 | 0.00 | 0.00 | 0.00 | 0.00 | 0.00 | 0.00 | 0.00 | 0.00 | XXX
Q9931 |  | E | Epoetin with hct = 31 | 0.00 | 0.00 | 0.00 | 0.00 | 0.00 | 0.00 | 0.00 | 0.00 | 0.00 | 0.00 | XXX
Q9932 |  | E | Epoetin with hct = 32 | 0.00 | 0.00 | 0.00 | 0.00 | 0.00 | 0.00 | 0.00 | 0.00 | 0.00 | 0.00 | XXX
Q9933 |  | E | Epoetin with hct = 33 | 0.00 | 0.00 | 0.00 | 0.00 | 0.00 | 0.00 | 0.00 | 0.00 | 0.00 | 0.00 | XXX
Q9934 |  | E | Epoetin with hct = 34 | 0.00 | 0.00 | 0.00 | 0.00 | 0.00 | 0.00 | 0.00 | 0.00 | 0.00 | 0.00 | XXX
Q9935 |  | E | Epoetin with hct = 35 | 0.00 | 0.00 | 0.00 | 0.00 | 0.00 | 0.00 | 0.00 | 0.00 | 0.00 | 0.00 | XXX
Q9936 |  | E | Epoetin with hct = 36 | 0.00 | 0.00 | 0.00 | 0.00 | 0.00 | 0.00 | 0.00 | 0.00 | 0.00 | 0.00 | XXX
Q9937 |  | E | Epoetin with hct = 37 | 0.00 | 0.00 | 0.00 | 0.00 | 0.00 | 0.00 | 0.00 | 0.00 | 0.00 | 0.00 | XXX
Q9938 |  | E | Epoetin with hct = 38 | 0.00 | 0.00 | 0.00 | 0.00 | 0.00 | 0.00 | 0.00 | 0.00 | 0.00 | 0.00 | XXX
Q9939 |  | E | Epoetin with hct = 39 | 0.00 | 0.00 | 0.00 | 0.00 | 0.00 | 0.00 | 0.00 | 0.00 | 0.00 | 0.00 | XXX
Q9940 |  | E | Epoetin with hct >= 40 | 0.00 | 0.00 | 0.00 | 0.00 | 0.00 | 0.00 | 0.00 | 0.00 | 0.00 | 0.00 | XXX
R0070 |  | C | Transport portable x-ray | 0.00 | 0.00 | 0.00 | NA | NA | 0.00 | 0.00 | 0.00 | NA | NA | XXX
R0075 |  | C | Transport port x-ray multipl | 0.00 | 0.00 | 0.00 | NA | NA | 0.00 | 0.00 | 0.00 | NA | NA | XXX
R0076 |  | B | Transport portable EKG | 0.00 | 0.00 | 0.00 | 0.00 | 0.00 | 0.00 | 0.00 | 0.00 | 0.00 | 0.00 | XXX
S0009 |  | I | Injection, butorphanol tartr | 0.00 | 0.00 | 0.00 | 0.00 | 0.00 | 0.00 | 0.00 | 0.00 | 0.00 | 0.00 | XXX
S0010 |  | I | Injection, somatrem, 5 mg | 0.00 | 0.00 | 0.00 | 0.00 | 0.00 | 0.00 | 0.00 | 0.00 | 0.00 | 0.00 | XXX
S0011 |  | I | Injection, somatropin, 5 mg | 0.00 | 0.00 | 0.00 | 0.00 | 0.00 | 0.00 | 0.00 | 0.00 | 0.00 | 0.00 | XXX
S0012 |  | I | Butorphanol tartrate, nasal | 0.00 | 0.00 | 0.00 | 0.00 | 0.00 | 0.00 | 0.00 | 0.00 | 0.00 | 0.00 | XXX
S0014 |  | I | Tacrine hydrochloride, 10 mg | 0.00 | 0.00 | 0.00 | 0.00 | 0.00 | 0.00 | 0.00 | 0.00 | 0.00 | 0.00 | XXX
S0016 |  | I | Injection, amikacin sulfate | 0.00 | 0.00 | 0.00 | 0.00 | 0.00 | 0.00 | 0.00 | 0.00 | 0.00 | 0.00 | XXX
S0017 |  | I | Injection, aminocaproic acid | 0.00 | 0.00 | 0.00 | 0.00 | 0.00 | 0.00 | 0.00 | 0.00 | 0.00 | 0.00 | XXX
S0020 |  | I | Injection, bupivicaine hydro | 0.00 | 0.00 | 0.00 | 0.00 | 0.00 | 0.00 | 0.00 | 0.00 | 0.00 | 0.00 | XXX
S0021 |  | I | Injection, ceftoperazone sod | 0.00 | 0.00 | 0.00 | 0.00 | 0.00 | 0.00 | 0.00 | 0.00 | 0.00 | 0.00 | XXX
S0023 |  | I | Injection, cimetidine hydroc | 0.00 | 0.00 | 0.00 | 0.00 | 0.00 | 0.00 | 0.00 | 0.00 | 0.00 | 0.00 | XXX
S0024 |  | I | Injection, ciprofloxacin | 0.00 | 0.00 | 0.00 | 0.00 | 0.00 | 0.00 | 0.00 | 0.00 | 0.00 | 0.00 | XXX
S0028 |  | I | Injection, famotidine, 20 mg | 0.00 | 0.00 | 0.00 | 0.00 | 0.00 | 0.00 | 0.00 | 0.00 | 0.00 | 0.00 | XXX
S0029 |  | I | Injection, fluconazole | 0.00 | 0.00 | 0.00 | 0.00 | 0.00 | 0.00 | 0.00 | 0.00 | 0.00 | 0.00 | XXX
S0030 |  | I | Injection, metronidazole | 0.00 | 0.00 | 0.00 | 0.00 | 0.00 | 0.00 | 0.00 | 0.00 | 0.00 | 0.00 | XXX
S0032 |  | I | Injection, nafcillin sodium | 0.00 | 0.00 | 0.00 | 0.00 | 0.00 | 0.00 | 0.00 | 0.00 | 0.00 | 0.00 | XXX
S0034 |  | I | Injection, ofloxacin, 400 mg | 0.00 | 0.00 | 0.00 | 0.00 | 0.00 | 0.00 | 0.00 | 0.00 | 0.00 | 0.00 | XXX
S0039 |  | I | Injection, sulfamethoxazole | 0.00 | 0.00 | 0.00 | 0.00 | 0.00 | 0.00 | 0.00 | 0.00 | 0.00 | 0.00 | XXX
S0040 |  | I | Injection, ticarcillin disod | 0.00 | 0.00 | 0.00 | 0.00 | 0.00 | 0.00 | 0.00 | 0.00 | 0.00 | 0.00 | XXX
S0071 |  | I | Injection, acyclovir sodium | 0.00 | 0.00 | 0.00 | 0.00 | 0.00 | 0.00 | 0.00 | 0.00 | 0.00 | 0.00 | XXX
S0072 |  | I | Injection, amikacin sulfate | 0.00 | 0.00 | 0.00 | 0.00 | 0.00 | 0.00 | 0.00 | 0.00 | 0.00 | 0.00 | XXX
S0073 |  | I | Injection, aztreonam, 500 mg | 0.00 | 0.00 | 0.00 | 0.00 | 0.00 | 0.00 | 0.00 | 0.00 | 0.00 | 0.00 | XXX
S0074 |  | I | Injection, cefotetan disodiu | 0.00 | 0.00 | 0.00 | 0.00 | 0.00 | 0.00 | 0.00 | 0.00 | 0.00 | 0.00 | XXX
S0077 |  | I | Injection, clindamycin phosp | 0.00 | 0.00 | 0.00 | 0.00 | 0.00 | 0.00 | 0.00 | 0.00 | 0.00 | 0.00 | XXX
S0078 |  | I | Injection, fosphenytoin sodi | 0.00 | 0.00 | 0.00 | 0.00 | 0.00 | 0.00 | 0.00 | 0.00 | 0.00 | 0.00 | XXX
S0080 |  | I | Injection, pentamidine iseth | 0.00 | 0.00 | 0.00 | 0.00 | 0.00 | 0.00 | 0.00 | 0.00 | 0.00 | 0.00 | XXX
S0081 |  | I | Injection, piperacillin sodi | 0.00 | 0.00 | 0.00 | 0.00 | 0.00 | 0.00 | 0.00 | 0.00 | 0.00 | 0.00 | XXX
S0090 |  | I | Sildenafil citrate, 25 mg | 0.00 | 0.00 | 0.00 | 0.00 | 0.00 | 0.00 | 0.00 | 0.00 | 0.00 | 0.00 | XXX
S0096 |  | I | Injection, itraconazole, 200 | 0.00 | 0.00 | 0.00 | 0.00 | 0.00 | 0.00 | 0.00 | 0.00 | 0.00 | 0.00 | XXX
S0097 |  | I | Injection, ibutilide fumarat | 0.00 | 0.00 | 0.00 | 0.00 | 0.00 | 0.00 | 0.00 | 0.00 | 0.00 | 0.00 | XXX
S0098 |  | I | Injection, sodium ferric glu | 0.00 | 0.00 | 0.00 | 0.00 | 0.00 | 0.00 | 0.00 | 0.00 | 0.00 | 0.00 | XXX
S0601 |  | I | Screening proctoscopy | 0.00 | 0.00 | 0.00 | 0.00 | 0.00 | 0.00 | 0.00 | 0.00 | 0.00 | 0.00 | XXX
S0605 |  | I | Digital rectal examination, | 0.00 | 0.00 | 0.00 | 0.00 | 0.00 | 0.00 | 0.00 | 0.00 | 0.00 | 0.00 | XXX
S0610 |  | I | Annual gynecological examina | 0.00 | 0.00 | 0.00 | 0.00 | 0.00 | 0.00 | 0.00 | 0.00 | 0.00 | 0.00 | XXX
S0612 |  | I | Annual gynecological examina | 0.00 | 0.00 | 0.00 | 0.00 | 0.00 | 0.00 | 0.00 | 0.00 | 0.00 | 0.00 | XXX
S0620 |  | I | Routine ophthalmological exa | 0.00 | 0.00 | 0.00 | 0.00 | 0.00 | 0.00 | 0.00 | 0.00 | 0.00 | 0.00 | XXX
S0621 |  | I | Routine ophthalmological exa | 0.00 | 0.00 | 0.00 | 0.00 | 0.00 | 0.00 | 0.00 | 0.00 | 0.00 | 0.00 | XXX
S0800 |  | I | Laser in situ keratomileusis | 0.00 | 0.00 | 0.00 | 0.00 | 0.00 | 0.00 | 0.00 | 0.00 | 0.00 | 0.00 | XXX
S0810 |  | I | Photorefractive keratectomy | 0.00 | 0.00 | 0.00 | 0.00 | 0.00 | 0.00 | 0.00 | 0.00 | 0.00 | 0.00 | XXX
S2050 |  | I | Donor enterectomy, with prep | 0.00 | 0.00 | 0.00 | 0.00 | 0.00 | 0.00 | 0.00 | 0.00 | 0.00 | 0.00 | XXX
S2052 |  | I | Transplantation of small int | 0.00 | 0.00 | 0.00 | 0.00 | 0.00 | 0.00 | 0.00 | 0.00 | 0.00 | 0.00 | XXX
S2053 |  | I | Transplantation of small int | 0.00 | 0.00 | 0.00 | 0.00 | 0.00 | 0.00 | 0.00 | 0.00 | 0.00 | 0.00 | XXX
S2054 |  | I | Transplantation of multivisc | 0.00 | 0.00 | 0.00 | 0.00 | 0.00 | 0.00 | 0.00 | 0.00 | 0.00 | 0.00 | XXX
S2055 |  | I | Harvesting of donor multivis | 0.00 | 0.00 | 0.00 | 0.00 | 0.00 | 0.00 | 0.00 | 0.00 | 0.00 | 0.00 | XXX
S2109 |  | I | Autologous chondrocyte trans | 0.00 | 0.00 | 0.00 | 0.00 | 0.00 | 0.00 | 0.00 | 0.00 | 0.00 | 0.00 | XXX
S2190 |  | I | Subcutaneous implantation of | 0.00 | 0.00 | 0.00 | 0.00 | 0.00 | 0.00 | 0.00 | 0.00 | 0.00 | 0.00 | XXX
S2204 |  | I | Transmyocardial laser revasc | 0.00 | 0.00 | 0.00 | 0.00 | 0.00 | 0.00 | 0.00 | 0.00 | 0.00 | 0.00 | XXX
S2205 |  | I | Minimally invasive direct co | 0.00 | 0.00 | 0.00 | 0.00 | 0.00 | 0.00 | 0.00 | 0.00 | 0.00 | 0.00 | XXX
S2206 |  | I | Minimally invasive direct co | 0.00 | 0.00 | 0.00 | 0.00 | 0.00 | 0.00 | 0.00 | 0.00 | 0.00 | 0.00 | XXX
S2207 |  | I | Minimally invasive direct co | 0.00 | 0.00 | 0.00 | 0.00 | 0.00 | 0.00 | 0.00 | 0.00 | 0.00 | 0.00 | XXX
S2208 |  | I | Minimally invasive direct co | 0.00 | 0.00 | 0.00 | 0.00 | 0.00 | 0.00 | 0.00 | 0.00 | 0.00 | 0.00 | XXX
S2209 |  | I | Minimally invasive direct co | 0.00 | 0.00 | 0.00 | 0.00 | 0.00 | 0.00 | 0.00 | 0.00 | 0.00 | 0.00 | XXX
S2210 |  | I | Cryosurgical ablation (in si | 0.00 | 0.00 | 0.00 | 0.00 | 0.00 | 0.00 | 0.00 | 0.00 | 0.00 | 0.00 | XXX
S2300 |  | I | Arthroscopy, shoulder, surgi | 0.00 | 0.00 | 0.00 | 0.00 | 0.00 | 0.00 | 0.00 | 0.00 | 0.00 | 0.00 | XXX
S2350 |  | I | Diskectomy, anterior, with d | 0.00 | 0.00 | 0.00 | 0.00 | 0.00 | 0.00 | 0.00 | 0.00 | 0.00 | 0.00 | XXX
S2351 |  | I | Diskectomy, anterior, with d | 0.00 | 0.00 | 0.00 | 0.00 | 0.00 | 0.00 | 0.00 | 0.00 | 0.00 | 0.00 | XXX
S3645 |  | I | HIV-1 antibody testing of or | 0.00 | 0.00 | 0.00 | 0.00 | 0.00 | 0.00 | 0.00 | 0.00 | 0.00 | 0.00 | XXX
S3650 |  | I | Saliva test, hormone level; | 0.00 | 0.00 | 0.00 | 0.00 | 0.00 | 0.00 | 0.00 | 0.00 | 0.00 | 0.00 | XXX
S3652 |  | I | Saliva test, hormone level; | 0.00 | 0.00 | 0.00 | 0.00 | 0.00 | 0.00 | 0.00 | 0.00 | 0.00 | 0.00 | XXX
S8035 |  | I | Magnetic source imaging | 0.00 | 0.00 | 0.00 | 0.00 | 0.00 | 0.00 | 0.00 | 0.00 | 0.00 | 0.00 | XXX
S8040 |  | I | Topographic brain mapping | 0.00 | 0.00 | 0.00 | 0.00 | 0.00 | 0.00 | 0.00 | 0.00 | 0.00 | 0.00 | XXX
S8048 |  | I | Isolated limb perfusion | 0.00 | 0.00 | 0.00 | 0.00 | 0.00 | 0.00 | 0.00 | 0.00 | 0.00 | 0.00 | XXX
S8049 |  | I | Intraoperative radiation the | 0.00 | 0.00 | 0.00 | 0.00 | 0.00 | 0.00 | 0.00 | 0.00 | 0.00 | 0.00 | XXX
S8060 |  | I | Supply of contrast material | 0.00 | 0.00 | 0.00 | 0.00 | 0.00 | 0.00 | 0.00 | 0.00 | 0.00 | 0.00 | XXX
S8092 |  | I | Electron beam computed tomog | 0.00 | 0.00 | 0.00 | 0.00 | 0.00 | 0.00 | 0.00 | 0.00 | 0.00 | 0.00 | XXX
S8095 |  | I | Wig (for medically-induced h | 0.00 | 0.00 | 0.00 | 0.00 | 0.00 | 0.00 | 0.00 | 0.00 | 0.00 | 0.00 | XXX
S8096 |  | I | Portable peak flow meter | 0.00 | 0.00 | 0.00 | 0.00 | 0.00 | 0.00 | 0.00 | 0.00 | 0.00 | 0.00 | XXX
S8110 |  | I | Peak expiratory flow rate (p | 0.00 | 0.00 | 0.00 | 0.00 | 0.00 | 0.00 | 0.00 | 0.00 | 0.00 | 0.00 | XXX
S8200 |  | I | Chest compression vest | 0.00 | 0.00 | 0.00 | 0.00 | 0.00 | 0.00 | 0.00 | 0.00 | 0.00 | 0.00 | XXX
S8205 |  | I | Chest compression system gen | 0.00 | 0.00 | 0.00 | 0.00 | 0.00 | 0.00 | 0.00 | 0.00 | 0.00 | 0.00 | XXX
S8260 |  | I | Oral orthotic for treatment | 0.00 | 0.00 | 0.00 | 0.00 | 0.00 | 0.00 | 0.00 | 0.00 | 0.00 | 0.00 | XXX
S8300 |  | I | Sacral nerve stimulation tes | 0.00 | 0.00 | 0.00 | 0.00 | 0.00 | 0.00 | 0.00 | 0.00 | 0.00 | 0.00 | XXX
S8950 |  | I | Complex lymphedema therapy, | 0.00 | 0.00 | 0.00 | 0.00 | 0.00 | 0.00 | 0.00 | 0.00 | 0.00 | 0.00 | XXX
S9001 |  | I | Home uterine monitor with or | 0.00 | 0.00 | 0.00 | 0.00 | 0.00 | 0.00 | 0.00 | 0.00 | 0.00 | 0.00 | XXX
S9022 |  | I | Digital subtraction angiogra | 0.00 | 0.00 | 0.00 | 0.00 | 0.00 | 0.00 | 0.00 | 0.00 | 0.00 | 0.00 | XXX
S9023 |  | I | Xenon regional cerebral bloo | 0.00 | 0.00 | 0.00 | 0.00 | 0.00 | 0.00 | 0.00 | 0.00 | 0.00 | 0.00 | XXX
S9024 |  | I | Paranasal sinus ultrasound | 0.00 | 0.00 | 0.00 | 0.00 | 0.00 | 0.00 | 0.00 | 0.00 | 0.00 | 0.00 | XXX
S9033 |  | I | Gait analysis | 0.00 | 0.00 | 0.00 | 0.00 | 0.00 | 0.00 | 0.00 | 0.00 | 0.00 | 0.00 | XXX
S9055 |  | I | Procuren or other growth fac | 0.00 | 0.00 | 0.00 | 0.00 | 0.00 | 0.00 | 0.00 | 0.00 | 0.00 | 0.00 | XXX
S9056 |  | I | Coma stimulation per diem | 0.00 | 0.00 | 0.00 | 0.00 | 0.00 | 0.00 | 0.00 | 0.00 | 0.00 | 0.00 | XXX
S9075 |  | I | Smoking cessation treatment | 0.00 | 0.00 | 0.00 | 0.00 | 0.00 | 0.00 | 0.00 | 0.00 | 0.00 | 0.00 | XXX
S9085 |  | I | Meniscal allograft transplan | 0.00 | 0.00 | 0.00 | 0.00 | 0.00 | 0.00 | 0.00 | 0.00 | 0.00 | 0.00 | XXX
S9090 |  | I | Vertebral axial decompressio | 0.00 | 0.00 | 0.00 | 0.00 | 0.00 | 0.00 | 0.00 | 0.00 | 0.00 | 0.00 | XXX
S9122 |  | I | Home health aide or certifie | 0.00 | 0.00 | 0.00 | 0.00 | 0.00 | 0.00 | 0.00 | 0.00 | 0.00 | 0.00 | XXX
S9123 |  | I | Nursing care, in the home; b | 0.00 | 0.00 | 0.00 | 0.00 | 0.00 | 0.00 | 0.00 | 0.00 | 0.00 | 0.00 | XXX
S9124 |  | I | Nursing care, in the home; b | 0.00 | 0.00 | 0.00 | 0.00 | 0.00 | 0.00 | 0.00 | 0.00 | 0.00 | 0.00 | XXX
S9125 |  | I | Respite care, in the home, p | 0.00 | 0.00 | 0.00 | 0.00 | 0.00 | 0.00 | 0.00 | 0.00 | 0.00 | 0.00 | XXX
S9126 |  | I | Hospice care, in the home, p | 0.00 | 0.00 | 0.00 | 0.00 | 0.00 | 0.00 | 0.00 | 0.00 | 0.00 | 0.00 | XXX
S9127 |  | I | Social work visit, in the ho | 0.00 | 0.00 | 0.00 | 0.00 | 0.00 | 0.00 | 0.00 | 0.00 | 0.00 | 0.00 | XXX
S9128 |  | I | Speech therapy, in the home, | 0.00 | 0.00 | 0.00 | 0.00 | 0.00 | 0.00 | 0.00 | 0.00 | 0.00 | 0.00 | XXX
S9129 |  | I | Occupational therapy, in the | 0.00 | 0.00 | 0.00 | 0.00 | 0.00 | 0.00 | 0.00 | 0.00 | 0.00 | 0.00 | XXX
S9140 |  | I | Diabetic Management Program, | 0.00 | 0.00 | 0.00 | 0.00 | 0.00 | 0.00 | 0.00 | 0.00 | 0.00 | 0.00 | XXX
S9141 |  | I | Diabetic Management Program, | 0.00 | 0.00 | 0.00 | 0.00 | 0.00 | 0.00 | 0.00 | 0.00 | 0.00 | 0.00 | XXX
S9455 |  | I | Diabetic Management Program, | 0.00 | 0.00 | 0.00 | 0.00 | 0.00 | 0.00 | 0.00 | 0.00 | 0.00 | 0.00 | XXX
S9460 |  | I | Diabetic Management Program, | 0.00 | 0.00 | 0.00 | 0.00 | 0.00 | 0.00 | 0.00 | 0.00 | 0.00 | 0.00 | XXX
S9465 |  | I | Diabetic Management Program, | 0.00 | 0.00 | 0.00 | 0.00 | 0.00 | 0.00 | 0.00 | 0.00 | 0.00 | 0.00 | XXX
S9470 |  | I | Nutritional counseling, diet | 0.00 | 0.00 | 0.00 | 0.00 | 0.00 | 0.00 | 0.00 | 0.00 | 0.00 | 0.00 | XXX
S9472 |  | I | Cardiac rehabilitation progr | 0.00 | 0.00 | 0.00 | 0.00 | 0.00 | 0.00 | 0.00 | 0.00 | 0.00 | 0.00 | XXX
S9473 |  | I | Pulmonary rehabilitation pro | 0.00 | 0.00 | 0.00 | 0.00 | 0.00 | 0.00 | 0.00 | 0.00 | 0.00 | 0.00 | XXX
S9474 |  | I | Enterostomal therapy by a re | 0.00 | 0.00 | 0.00 | 0.00 | 0.00 | 0.00 | 0.00 | 0.00 | 0.00 | 0.00 | XXX
S9475 |  | I | Ambulatory setting substance | 0.00 | 0.00 | 0.00 | 0.00 | 0.00 | 0.00 | 0.00 | 0.00 | 0.00 | 0.00 | XXX
S9480 |  | I | Intensive outpatient psychia | 0.00 | 0.00 | 0.00 | 0.00 | 0.00 | 0.00 | 0.00 | 0.00 | 0.00 | 0.00 | XXX
S9485 |  | I | Crisis intervention mental h | 0.00 | 0.00 | 0.00 | 0.00 | 0.00 | 0.00 | 0.00 | 0.00 | 0.00 | 0.00 | XXX
S9524 |  | I | Nursing services related to | 0.00 | 0.00 | 0.00 | 0.00 | 0.00 | 0.00 | 0.00 | 0.00 | 0.00 | 0.00 | XXX
S9527 |  | I | Insertion of a peripherally | 0.00 | 0.00 | 0.00 | 0.00 | 0.00 | 0.00 | 0.00 | 0.00 | 0.00 | 0.00 | XXX
S9528 |  | I | Insertion of midline central | 0.00 | 0.00 | 0.00 | 0.00 | 0.00 | 0.00 | 0.00 | 0.00 | 0.00 | 0.00 | XXX
S9543 |  | I | Administration of medication | 0.00 | 0.00 | 0.00 | 0.00 | 0.00 | 0.00 | 0.00 | 0.00 | 0.00 | 0.00 | XXX
S9990 |  | I | Services provided as part of | 0.00 | 0.00 | 0.00 | 0.00 | 0.00 | 0.00 | 0.00 | 0.00 | 0.00 | 0.00 | XXX
S9991 |  | I | Services provided as part of | 0.00 | 0.00 | 0.00 | 0.00 | 0.00 | 0.00 | 0.00 | 0.00 | 0.00 | 0.00 | XXX
S9992 |  | I | Transportation costs to and | 0.00 | 0.00 | 0.00 | 0.00 | 0.00 | 0.00 | 0.00 | 0.00 | 0.00 | 0.00 | XXX
S9994 |  | I | Lodging costs (e.g. hotel ch | 0.00 | 0.00 | 0.00 | 0.00 | 0.00 | 0.00 | 0.00 | 0.00 | 0.00 | 0.00 | XXX
S9996 |  | I | Meals for clinical trial par | 0.00 | 0.00 | 0.00 | 0.00 | 0.00 | 0.00 | 0.00 | 0.00 | 0.00 | 0.00 | XXX
S9999 |  | I | Sales tax | 0.00 | 0.00 | 0.00 | 0.00 | 0.00 | 0.00 | 0.00 | 0.00 | 0.00 | 0.00 | XXX
V2020 |  | X | Vision svcs frames purchases | 0.00 | 0.00 | 0.00 | 0.00 | 0.00 | 0.00 | 0.00 | 0.00 | 0.00 | 0.00 | XXX
V2025 |  | N | Eyeglasses delux frames | 0.00 | 0.00 | 0.00 | 0.00 | 0.00 | 0.00 | 0.00 | 0.00 | 0.00 | 0.00 | XXX
V2100 |  | X | Lens spher single plano 4.00 | 0.00 | 0.00 | 0.00 | 0.00 | 0.00 | 0.00 | 0.00 | 0.00 | 0.00 | 0.00 | XXX
V2101 |  | X | Single visn sphere 4.12-7.00 | 0.00 | 0.00 | 0.00 | 0.00 | 0.00 | 0.00 | 0.00 | 0.00 | 0.00 | 0.00 | XXX
V2102 |  | X | Singl visn sphere 7.12-20.00 | 0.00 | 0.00 | 0.00 | 0.00 | 0.00 | 0.00 | 0.00 | 0.00 | 0.00 | 0.00 | XXX
V2103 |  | X | Spherocylindr 4.00d/12-2.00d | 0.00 | 0.00 | 0.00 | 0.00 | 0.00 | 0.00 | 0.00 | 0.00 | 0.00 | 0.00 | XXX
V2104 |  | X | Spherocylindr 4.00d/2.12-4d | 0.00 | 0.00 | 0.00 | 0.00 | 0.00 | 0.00 | 0.00 | 0.00 | 0.00 | 0.00 | XXX
V2105 |  | X | Spherocylinder 4.00d/4.25-6d | 0.00 | 0.00 | 0.00 | 0.00 | 0.00 | 0.00 | 0.00 | 0.00 | 0.00 | 0.00 | XXX
V2106 |  | X | Spherocylinder 4.00d/>6.00d | 0.00 | 0.00 | 0.00 | 0.00 | 0.00 | 0.00 | 0.00 | 0.00 | 0.00 | 0.00 | XXX
V2107 |  | X | Spherocylinder 4.25d/12-2d | 0.00 | 0.00 | 0.00 | 0.00 | 0.00 | 0.00 | 0.00 | 0.00 | 0.00 | 0.00 | XXX
V2108 |  | X | Spherocylinder 4.25d/2.12-4d | 0.00 | 0.00 | 0.00 | 0.00 | 0.00 | 0.00 | 0.00 | 0.00 | 0.00 | 0.00 | XXX
V2109 |  | X | Spherocylinder 4.25d/4.25-6d | 0.00 | 0.00 | 0.00 | 0.00 | 0.00 | 0.00 | 0.00 | 0.00 | 0.00 | 0.00 | XXX
V2110 |  | X | Spherocylinder 4.25d/over 6d | 0.00 | 0.00 | 0.00 | 0.00 | 0.00 | 0.00 | 0.00 | 0.00 | 0.00 | 0.00 | XXX
V2111 |  | X | Spherocylindr 7.25d/.25-2.25 | 0.00 | 0.00 | 0.00 | 0.00 | 0.00 | 0.00 | 0.00 | 0.00 | 0.00 | 0.00 | XXX
V2112 |  | X | Spherocylindr 7.25d/2.25-4d | 0.00 | 0.00 | 0.00 | 0.00 | 0.00 | 0.00 | 0.00 | 0.00 | 0.00 | 0.00 | XXX
V2113 |  | X | Spherocylindr 7.25d/4.25-6d | 0.00 | 0.00 | 0.00 | 0.00 | 0.00 | 0.00 | 0.00 | 0.00 | 0.00 | 0.00 | XXX
V2114 |  | X | Spherocylinder over 12.00d | 0.00 | 0.00 | 0.00 | 0.00 | 0.00 | 0.00 | 0.00 | 0.00 | 0.00 | 0.00 | XXX
V2115 |  | X | Lens lenticular bifocal | 0.00 | 0.00 | 0.00 | 0.00 | 0.00 | 0.00 | 0.00 | 0.00 | 0.00 | 0.00 | XXX
V2116 |  | X | Nonaspheric lens bifocal | 0.00 | 0.00 | 0.00 | 0.00 | 0.00 | 0.00 | 0.00 | 0.00 | 0.00 | 0.00 | XXX
V2117 |  | X | Aspheric lens bifocal | 0.00 | 0.00 | 0.00 | 0.00 | 0.00 | 0.00 | 0.00 | 0.00 | 0.00 | 0.00 | XXX
V2118 |  | X | Lens aniseikonic single | 0.00 | 0.00 | 0.00 | 0.00 | 0.00 | 0.00 | 0.00 | 0.00 | 0.00 | 0.00 | XXX
V2199 |  | X | Lens single vision not oth c | 0.00 | 0.00 | 0.00 | 0.00 | 0.00 | 0.00 | 0.00 | 0.00 | 0.00 | 0.00 | XXX
V2200 |  | X | Lens spher bifoc plano 4.00d | 0.00 | 0.00 | 0.00 | 0.00 | 0.00 | 0.00 | 0.00 | 0.00 | 0.00 | 0.00 | XXX
V2201 |  | X | Lens sphere bifocal 4.12-7.0 | 0.00 | 0.00 | 0.00 | 0.00 | 0.00 | 0.00 | 0.00 | 0.00 | 0.00 | 0.00 | XXX
V2202 |  | X | Lens sphere bifocal 7.12-20. | 0.00 | 0.00 | 0.00 | 0.00 | 0.00 | 0.00 | 0.00 | 0.00 | 0.00 | 0.00 | XXX
V2203 |  | X | Lens sphcyl bifocal 4.00d/.1 | 0.00 | 0.00 | 0.00 | 0.00 | 0.00 | 0.00 | 0.00 | 0.00 | 0.00 | 0.00 | XXX
V2204 |  | X | Lens sphcy bifocal 4.00d/2.1 | 0.00 | 0.00 | 0.00 | 0.00 | 0.00 | 0.00 | 0.00 | 0.00 | 0.00 | 0.00 | XXX
V2205 |  | X | Lens sphcy bifocal 4.00d/4.2 | 0.00 | 0.00 | 0.00 | 0.00 | 0.00 | 0.00 | 0.00 | 0.00 | 0.00 | 0.00 | XXX
V2206 |  | X | Lens sphcy bifocal 4.00d/ove | 0.00 | 0.00 | 0.00 | 0.00 | 0.00 | 0.00 | 0.00 | 0.00 | 0.00 | 0.00 | XXX
V2207 |  | X | Lens sphcy bifocal 4.25-7d/. | 0.00 | 0.00 | 0.00 | 0.00 | 0.00 | 0.00 | 0.00 | 0.00 | 0.00 | 0.00 | XXX
V2208 |  | X | Lens sphcy bifocal 4.25-7/2. | 0.00 | 0.00 | 0.00 | 0.00 | 0.00 | 0.00 | 0.00 | 0.00 | 0.00 | 0.00 | XXX
V2209 |  | X | Lens sphcy bifocal 4.25-7/4. | 0.00 | 0.00 | 0.00 | 0.00 | 0.00 | 0.00 | 0.00 | 0.00 | 0.00 | 0.00 | XXX
V2210 |  | X | Lens sphcy bifocal 4.25-7/ov | 0.00 | 0.00 | 0.00 | 0.00 | 0.00 | 0.00 | 0.00 | 0.00 | 0.00 | 0.00 | XXX
V2211 |  | X | Lens sphcy bifo 7.25-12/.25- | 0.00 | 0.00 | 0.00 | 0.00 | 0.00 | 0.00 | 0.00 | 0.00 | 0.00 | 0.00 | XXX
V2212 |  | X | Lens sphcyl bifo 7.25-12/2.2 | 0.00 | 0.00 | 0.00 | 0.00 | 0.00 | 0.00 | 0.00 | 0.00 | 0.00 | 0.00 | XXX
V2213 |  | X | Lens sphcyl bifo 7.25-12/4.2 | 0.00 | 0.00 | 0.00 | 0.00 | 0.00 | 0.00 | 0.00 | 0.00 | 0.00 | 0.00 | XXX
V2214 |  | X | Lens sphcyl bifocal over 12. | 0.00 | 0.00 | 0.00 | 0.00 | 0.00 | 0.00 | 0.00 | 0.00 | 0.00 | 0.00 | XXX
V2215 |  | X | Lens lenticular bifocal | 0.00 | 0.00 | 0.00 | 0.00 | 0.00 | 0.00 | 0.00 | 0.00 | 0.00 | 0.00 | XXX
V2216 |  | X | Lens lenticular nonaspheric | 0.00 | 0.00 | 0.00 | 0.00 | 0.00 | 0.00 | 0.00 | 0.00 | 0.00 | 0.00 | XXX
V2217 |  | X | Lens lenticular aspheric bif | 0.00 | 0.00 | 0.00 | 0.00 | 0.00 | 0.00 | 0.00 | 0.00 | 0.00 | 0.00 | XXX
V2218 |  | X | Lens aniseikonic bifocal | 0.00 | 0.00 | 0.00 | 0.00 | 0.00 | 0.00 | 0.00 | 0.00 | 0.00 | 0.00 | XXX
V2219 |  | X | Lens bifocal seg width over | 0.00 | 0.00 | 0.00 | 0.00 | 0.00 | 0.00 | 0.00 | 0.00 | 0.00 | 0.00 | XXX
V2220 |  | X | Lens bifocal add over 3.25d | 0.00 | 0.00 | 0.00 | 0.00 | 0.00 | 0.00 | 0.00 | 0.00 | 0.00 | 0.00 | XXX
V2299 |  | X | Lens bifocal speciality | 0.00 | 0.00 | 0.00 | 0.00 | 0.00 | 0.00 | 0.00 | 0.00 | 0.00 | 0.00 | XXX
V2300 |  | X | Lens sphere trifocal 4.00d | 0.00 | 0.00 | 0.00 | 0.00 | 0.00 | 0.00 | 0.00 | 0.00 | 0.00 | 0.00 | XXX
V2301 |  | X | Lens sphere trifocal 4.12-7. | 0.00 | 0.00 | 0.00 | 0.00 | 0.00 | 0.00 | 0.00 | 0.00 | 0.00 | 0.00 | XXX
V2302 |  | X | Lens sphere trifocal 7.12-20 | 0.00 | 0.00 | 0.00 | 0.00 | 0.00 | 0.00 | 0.00 | 0.00 | 0.00 | 0.00 | XXX
V2303 |  | X | Lens sphcy trifocal 4.0/.12- | 0.00 | 0.00 | 0.00 | 0.00 | 0.00 | 0.00 | 0.00 | 0.00 | 0.00 | 0.00 | XXX
V2304 |  | X | Lens sphcy trifocal 4.0/2.25 | 0.00 | 0.00 | 0.00 | 0.00 | 0.00 | 0.00 | 0.00 | 0.00 | 0.00 | 0.00 | XXX
V2305 |  | X | Lens sphcy trifocal 4.0/4.25 | 0.00 | 0.00 | 0.00 | 0.00 | 0.00 | 0.00 | 0.00 | 0.00 | 0.00 | 0.00 | XXX
V2306 |  | X | Lens sphcyl trifocal 4.00/>6 | 0.00 | 0.00 | 0.00 | 0.00 | 0.00 | 0.00 | 0.00 | 0.00 | 0.00 | 0.00 | XXX
V2307 |  | X | Lens sphcy trifocal 4.25-7/. | 0.00 | 0.00 | 0.00 | 0.00 | 0.00 | 0.00 | 0.00 | 0.00 | 0.00 | 0.00 | XXX
V2308 |  | X | Lens sphc trifocal 4.25-7/2. | 0.00 | 0.00 | 0.00 | 0.00 | 0.00 | 0.00 | 0.00 | 0.00 | 0.00 | 0.00 | XXX
V2309 |  | X | Lens sphc trifocal 4.25-7/4. | 0.00 | 0.00 | 0.00 | 0.00 | 0.00 | 0.00 | 0.00 | 0.00 | 0.00 | 0.00 | XXX
V2310 |  | X | Lens sphc trifocal 4.25-7/>6 | 0.00 | 0.00 | 0.00 | 0.00 | 0.00 | 0.00 | 0.00 | 0.00 | 0.00 | 0.00 | XXX
V2311 |  | X | Lens sphc trifo 7.25-12/.25- | 0.00 | 0.00 | 0.00 | 0.00 | 0.00 | 0.00 | 0.00 | 0.00 | 0.00 | 0.00 | XXX
V2312 |  | X | Lens sphc trifo 7.25-12/2.25 | 0.00 | 0.00 | 0.00 | 0.00 | 0.00 | 0.00 | 0.00 | 0.00 | 0.00 | 0.00 | XXX
V2313 |  | X | Lens sphc trifo 7.25-12/4.25 | 0.00 | 0.00 | 0.00 | 0.00 | 0.00 | 0.00 | 0.00 | 0.00 | 0.00 | 0.00 | XXX
V2314 |  | X | Lens sphcyl trifocal over 12 | 0.00 | 0.00 | 0.00 | 0.00 | 0.00 | 0.00 | 0.00 | 0.00 | 0.00 | 0.00 | XXX
V2315 |  | X | Lens lenticular trifocal | 0.00 | 0.00 | 0.00 | 0.00 | 0.00 | 0.00 | 0.00 | 0.00 | 0.00 | 0.00 | XXX
V2316 |  | X | Lens lenticular nonaspheric | 0.00 | 0.00 | 0.00 | 0.00 | 0.00 | 0.00 | 0.00 | 0.00 | 0.00 | 0.00 | XXX
V2317 |  | X | Lens lenticular aspheric tri | 0.00 | 0.00 | 0.00 | 0.00 | 0.00 | 0.00 | 0.00 | 0.00 | 0.00 | 0.00 | XXX
V2318 |  | X | Lens aniseikonic trifocal | 0.00 | 0.00 | 0.00 | 0.00 | 0.00 | 0.00 | 0.00 | 0.00 | 0.00 | 0.00 | XXX
V2319 |  | X | Lens trifocal seg width > 28 | 0.00 | 0.00 | 0.00 | 0.00 | 0.00 | 0.00 | 0.00 | 0.00 | 0.00 | 0.00 | XXX
V2320 |  | X | Lens trifocal add over 3.25d | 0.00 | 0.00 | 0.00 | 0.00 | 0.00 | 0.00 | 0.00 | 0.00 | 0.00 | 0.00 | XXX
V2399 |  | X | Lens trifocal speciality | 0.00 | 0.00 | 0.00 | 0.00 | 0.00 | 0.00 | 0.00 | 0.00 | 0.00 | 0.00 | XXX
V2410 |  | X | Lens variab asphericity sing | 0.00 | 0.00 | 0.00 | 0.00 | 0.00 | 0.00 | 0.00 | 0.00 | 0.00 | 0.00 | XXX
V2430 |  | X | Lens variable asphericity bi | 0.00 | 0.00 | 0.00 | 0.00 | 0.00 | 0.00 | 0.00 | 0.00 | 0.00 | 0.00 | XXX
V2499 |  | X | Variable asphericity lens | 0.00 | 0.00 | 0.00 | 0.00 | 0.00 | 0.00 | 0.00 | 0.00 | 0.00 | 0.00 | XXX
V2500 |  | X | Contact lens pmma spherical | 0.00 | 0.00 | 0.00 | 0.00 | 0.00 | 0.00 | 0.00 | 0.00 | 0.00 | 0.00 | XXX
V2501 |  | X | Cntct lens pmma-toric/prism | 0.00 | 0.00 | 0.00 | 0.00 | 0.00 | 0.00 | 0.00 | 0.00 | 0.00 | 0.00 | XXX
V2502 |  | X | Contact lens pmma bifocal | 0.00 | 0.00 | 0.00 | 0.00 | 0.00 | 0.00 | 0.00 | 0.00 | 0.00 | 0.00 | XXX
V2503 |  | X | Cntct lens pmma color vision | 0.00 | 0.00 | 0.00 | 0.00 | 0.00 | 0.00 | 0.00 | 0.00 | 0.00 | 0.00 | XXX
V2510 |  | X | Cntct gas permeable sphericl | 0.00 | 0.00 | 0.00 | 0.00 | 0.00 | 0.00 | 0.00 | 0.00 | 0.00 | 0.00 | XXX
V2511 |  | X | Cntct toric prism ballast | 0.00 | 0.00 | 0.00 | 0.00 | 0.00 | 0.00 | 0.00 | 0.00 | 0.00 | 0.00 | XXX
V2512 |  | X | Cntct lens gas permbl bifocl | 0.00 | 0.00 | 0.00 | 0.00 | 0.00 | 0.00 | 0.00 | 0.00 | 0.00 | 0.00 | XXX
V2513 |  | X | Contact lens extended wear | 0.00 | 0.00 | 0.00 | 0.00 | 0.00 | 0.00 | 0.00 | 0.00 | 0.00 | 0.00 | XXX
V2520 |  | P | Contact lens hydrophilic | 0.00 | 0.00 | 0.00 | 0.00 | 0.00 | 0.00 | 0.00 | 0.00 | 0.00 | 0.00 | XXX
V2521 |  | X | Cntct lens hydrophilic toric | 0.00 | 0.00 | 0.00 | 0.00 | 0.00 | 0.00 | 0.00 | 0.00 | 0.00 | 0.00 | XXX
V2522 |  | X | Cntct lens hydrophil bifocl | 0.00 | 0.00 | 0.00 | 0.00 | 0.00 | 0.00 | 0.00 | 0.00 | 0.00 | 0.00 | XXX
V2523 |  | X | Cntct lens hydrophil extend | 0.00 | 0.00 | 0.00 | 0.00 | 0.00 | 0.00 | 0.00 | 0.00 | 0.00 | 0.00 | XXX
V2530 |  | X | Contact lens gas impermeable | 0.00 | 0.00 | 0.00 | 0.00 | 0.00 | 0.00 | 0.00 | 0.00 | 0.00 | 0.00 | XXX
V2531 |  | X | Contact lens gas permeable | 0.00 | 0.00 | 0.00 | 0.00 | 0.00 | 0.00 | 0.00 | 0.00 | 0.00 | 0.00 | XXX
V2599 |  | X | Contact lens/es other type | 0.00 | 0.00 | 0.00 | 0.00 | 0.00 | 0.00 | 0.00 | 0.00 | 0.00 | 0.00 | XXX
V2600 |  | X | Hand held low vision aids | 0.00 | 0.00 | 0.00 | 0.00 | 0.00 | 0.00 | 0.00 | 0.00 | 0.00 | 0.00 | XXX
V2610 |  | X | Single lens spectacle mount | 0.00 | 0.00 | 0.00 | 0.00 | 0.00 | 0.00 | 0.00 | 0.00 | 0.00 | 0.00 | XXX
V2615 |  | X | Telescop/othr compound lens | 0.00 | 0.00 | 0.00 | 0.00 | 0.00 | 0.00 | 0.00 | 0.00 | 0.00 | 0.00 | XXX
V2623 |  | X | Plastic eye prosth custom | 0.00 | 0.00 | 0.00 | 0.00 | 0.00 | 0.00 | 0.00 | 0.00 | 0.00 | 0.00 | XXX
V2624 |  | X | Polishing artifical eye | 0.00 | 0.00 | 0.00 | 0.00 | 0.00 | 0.00 | 0.00 | 0.00 | 0.00 | 0.00 | XXX
V2625 |  | X | Enlargemnt of eye prosthesis | 0.00 | 0.00 | 0.00 | 0.00 | 0.00 | 0.00 | 0.00 | 0.00 | 0.00 | 0.00 | XXX
V2626 |  | X | Reduction of eye prosthesis | 0.00 | 0.00 | 0.00 | 0.00 | 0.00 | 0.00 | 0.00 | 0.00 | 0.00 | 0.00 | XXX
V2627 |  | X | Scleral cover shell | 0.00 | 0.00 | 0.00 | 0.00 | 0.00 | 0.00 | 0.00 | 0.00 | 0.00 | 0.00 | XXX
V2628 |  | X | Fabrication & fitting | 0.00 | 0.00 | 0.00 | 0.00 | 0.00 | 0.00 | 0.00 | 0.00 | 0.00 | 0.00 | XXX
V2629 |  | X | Prosthetic eye other type | 0.00 | 0.00 | 0.00 | 0.00 | 0.00 | 0.00 | 0.00 | 0.00 | 0.00 | 0.00 | XXX
V2630 |  | X | Anter chamber intraocul lens | 0.00 | 0.00 | 0.00 | 0.00 | 0.00 | 0.00 | 0.00 | 0.00 | 0.00 | 0.00 | XXX
V2631 |  | X | Iris support intraoclr lens | 0.00 | 0.00 | 0.00 | 0.00 | 0.00 | 0.00 | 0.00 | 0.00 | 0.00 | 0.00 | XXX
V2632 |  | X | Post chmbr intraocular lens | 0.00 | 0.00 | 0.00 | 0.00 | 0.00 | 0.00 | 0.00 | 0.00 | 0.00 | 0.00 | XXX
V2700 |  | X | Balance lens | 0.00 | 0.00 | 0.00 | 0.00 | 0.00 | 0.00 | 0.00 | 0.00 | 0.00 | 0.00 | XXX
V2710 |  | X | Glass/plastic slab off prism | 0.00 | 0.00 | 0.00 | 0.00 | 0.00 | 0.00 | 0.00 | 0.00 | 0.00 | 0.00 | XXX
V2715 |  | X | Prism lens/es | 0.00 | 0.00 | 0.00 | 0.00 | 0.00 | 0.00 | 0.00 | 0.00 | 0.00 | 0.00 | XXX
V2718 |  | X | Fresnell prism press-on lens | 0.00 | 0.00 | 0.00 | 0.00 | 0.00 | 0.00 | 0.00 | 0.00 | 0.00 | 0.00 | XXX
V2730 |  | X | Special base curve | 0.00 | 0.00 | 0.00 | 0.00 | 0.00 | 0.00 | 0.00 | 0.00 | 0.00 | 0.00 | XXX
V2740 |  | X | Rose tint plastic | 0.00 | 0.00 | 0.00 | 0.00 | 0.00 | 0.00 | 0.00 | 0.00 | 0.00 | 0.00 | XXX
V2741 |  | X | Non-rose tint plastic | 0.00 | 0.00 | 0.00 | 0.00 | 0.00 | 0.00 | 0.00 | 0.00 | 0.00 | 0.00 | XXX
V2742 |  | X | Rose tint glass | 0.00 | 0.00 | 0.00 | 0.00 | 0.00 | 0.00 | 0.00 | 0.00 | 0.00 | 0.00 | XXX
V2743 |  | X | Non-rose tint glass | 0.00 | 0.00 | 0.00 | 0.00 | 0.00 | 0.00 | 0.00 | 0.00 | 0.00 | 0.00 | XXX
V2744 |  | X | Tint photochromatic lens/es | 0.00 | 0.00 | 0.00 | 0.00 | 0.00 | 0.00 | 0.00 | 0.00 | 0.00 | 0.00 | XXX
V2750 |  | X | Anti-reflective coating | 0.00 | 0.00 | 0.00 | 0.00 | 0.00 | 0.00 | 0.00 | 0.00 | 0.00 | 0.00 | XXX
V2755 |  | X | UV lens/es | 0.00 | 0.00 | 0.00 | 0.00 | 0.00 | 0.00 | 0.00 | 0.00 | 0.00 | 0.00 | XXX
V2760 |  | X | Scratch resistant coating | 0.00 | 0.00 | 0.00 | 0.00 | 0.00 | 0.00 | 0.00 | 0.00 | 0.00 | 0.00 | XXX
V2770 |  | X | Occluder lens/es | 0.00 | 0.00 | 0.00 | 0.00 | 0.00 | 0.00 | 0.00 | 0.00 | 0.00 | 0.00 | XXX
V2780 |  | X | Oversize lens/es | 0.00 | 0.00 | 0.00 | 0.00 | 0.00 | 0.00 | 0.00 | 0.00 | 0.00 | 0.00 | XXX
V2781 |  | X | Progressive lens per lens | 0.00 | 0.00 | 0.00 | 0.00 | 0.00 | 0.00 | 0.00 | 0.00 | 0.00 | 0.00 | XXX
V2785 |  | X | Corneal tissue processing | 0.00 | 0.00 | 0.00 | 0.00 | 0.00 | 0.00 | 0.00 | 0.00 | 0.00 | 0.00 | XXX
V2799 |  | X | Miscellaneous vision service | 0.00 | 0.00 | 0.00 | 0.00 | 0.00 | 0.00 | 0.00 | 0.00 | 0.00 | 0.00 | XXX
V5008 |  | N | Hearing screening | 0.00 | 0.00 | 0.00 | 0.00 | 0.00 | 0.00 | 0.00 | 0.00 | 0.00 | 0.00 | XXX
V5010 |  | N | Assessment for hearing aid | 0.00 | 0.00 | 0.00 | 0.00 | 0.00 | 0.00 | 0.00 | 0.00 | 0.00 | 0.00 | XXX
V5011 |  | N | Hearing aid fitting/checking | 0.00 | 0.00 | 0.00 | 0.00 | 0.00 | 0.00 | 0.00 | 0.00 | 0.00 | 0.00 | XXX
V5014 |  | N | Hearing aid repair/modifying | 0.00 | 0.00 | 0.00 | 0.00 | 0.00 | 0.00 | 0.00 | 0.00 | 0.00 | 0.00 | XXX
V5020 |  | N | Conformity evaluation | 0.00 | 0.00 | 0.00 | 0.00 | 0.00 | 0.00 | 0.00 | 0.00 | 0.00 | 0.00 | XXX
V5030 |  | N | Body-worn hearing aid air | 0.00 | 0.00 | 0.00 | 0.00 | 0.00 | 0.00 | 0.00 | 0.00 | 0.00 | 0.00 | XXX
V5040 |  | N | Body-worn hearing aid bone | 0.00 | 0.00 | 0.00 | 0.00 | 0.00 | 0.00 | 0.00 | 0.00 | 0.00 | 0.00 | XXX
V5050 |  | N | Body-worn hearing aid in ear | 0.00 | 0.00 | 0.00 | 0.00 | 0.00 | 0.00 | 0.00 | 0.00 | 0.00 | 0.00 | XXX
V5060 |  | N | Behind ear hearing aid | 0.00 | 0.00 | 0.00 | 0.00 | 0.00 | 0.00 | 0.00 | 0.00 | 0.00 | 0.00 | XXX
V5070 |  | N | Glasses air conduction | 0.00 | 0.00 | 0.00 | 0.00 | 0.00 | 0.00 | 0.00 | 0.00 | 0.00 | 0.00 | XXX
V5080 |  | N | Glasses bone conduction | 0.00 | 0.00 | 0.00 | 0.00 | 0.00 | 0.00 | 0.00 | 0.00 | 0.00 | 0.00 | XXX
V5090 |  | N | Hearing aid dispensing fee | 0.00 | 0.00 | 0.00 | 0.00 | 0.00 | 0.00 | 0.00 | 0.00 | 0.00 | 0.00 | XXX
V5100 |  | N | Body-worn bilat hearing aid | 0.00 | 0.00 | 0.00 | 0.00 | 0.00 | 0.00 | 0.00 | 0.00 | 0.00 | 0.00 | XXX
V5110 |  | N | Hearing aid dispensing fee | 0.00 | 0.00 | 0.00 | 0.00 | 0.00 | 0.00 | 0.00 | 0.00 | 0.00 | 0.00 | XXX
V5120 |  | N | Body-worn binaur hearing aid | 0.00 | 0.00 | 0.00 | 0.00 | 0.00 | 0.00 | 0.00 | 0.00 | 0.00 | 0.00 | XXX
V5130 |  | N | In ear binaural hearing aid | 0.00 | 0.00 | 0.00 | 0.00 | 0.00 | 0.00 | 0.00 | 0.00 | 0.00 | 0.00 | XXX
V5140 |  | N | Behind ear binaur hearing ai | 0.00 | 0.00 | 0.00 | 0.00 | 0.00 | 0.00 | 0.00 | 0.00 | 0.00 | 0.00 | XXX
V5150 |  | N | Glasses binaural hearing aid | 0.00 | 0.00 | 0.00 | 0.00 | 0.00 | 0.00 | 0.00 | 0.00 | 0.00 | 0.00 | XXX
V5160 |  | N | Dispensing fee binaural | 0.00 | 0.00 | 0.00 | 0.00 | 0.00 | 0.00 | 0.00 | 0.00 | 0.00 | 0.00 | XXX
V5170 |  | N | Within ear cros hearing aid | 0.00 | 0.00 | 0.00 | 0.00 | 0.00 | 0.00 | 0.00 | 0.00 | 0.00 | 0.00 | XXX
V5180 |  | N | Behind ear cros hearing aid | 0.00 | 0.00 | 0.00 | 0.00 | 0.00 | 0.00 | 0.00 | 0.00 | 0.00 | 0.00 | XXX
V5190 |  | N | Glasses cros hearing aid | 0.00 | 0.00 | 0.00 | 0.00 | 0.00 | 0.00 | 0.00 | 0.00 | 0.00 | 0.00 | XXX
V5200 |  | N | Cros hearing aid dispens fee | 0.00 | 0.00 | 0.00 | 0.00 | 0.00 | 0.00 | 0.00 | 0.00 | 0.00 | 0.00 | XXX
V5210 |  | N | In ear bicros hearing aid | 0.00 | 0.00 | 0.00 | 0.00 | 0.00 | 0.00 | 0.00 | 0.00 | 0.00 | 0.00 | XXX
V5220 |  | N | Behind ear bicros hearing ai | 0.00 | 0.00 | 0.00 | 0.00 | 0.00 | 0.00 | 0.00 | 0.00 | 0.00 | 0.00 | XXX
V5230 |  | N | Glasses bicros hearing aid | 0.00 | 0.00 | 0.00 | 0.00 | 0.00 | 0.00 | 0.00 | 0.00 | 0.00 | 0.00 | XXX
V5240 |  | N | Dispensing fee bicros | 0.00 | 0.00 | 0.00 | 0.00 | 0.00 | 0.00 | 0.00 | 0.00 | 0.00 | 0.00 | XXX
V5299 |  | R | Hearing service | 0.00 | 0.00 | 0.00 | 0.00 | 0.00 | 0.00 | 0.00 | 0.00 | 0.00 | 0.00 | XXX
V5336 |  | N | Repair communication device | 0.00 | 0.00 | 0.00 | 0.00 | 0.00 | 0.00 | 0.00 | 0.00 | 0.00 | 0.00 | XXX
V5362 |  | R | Speech screening | 0.00 | 0.00 | 0.00 | 0.00 | 0.00 | 0.00 | 0.00 | 0.00 | 0.00 | 0.00 | XXX
V5363 |  | R | Language screening | 0.00 | 0.00 | 0.00 | 0.00 | 0.00 | 0.00 | 0.00 | 0.00 | 0.00 | 0.00 | XXX
V5364 |  | R | Dysphagia screening | 0.00 | 0.00 | 0.00 | 0.00 | 0.00 | 0.00 | 0.00 | 0.00 | 0.00 | 0.00 | XXX

Addendum C.—Clinical Staff Times for Selected Codes
Procedure code | Type of staff | Additional time included (minutes) | Procedure code | Type of staff | Additional time included (minutes)
11000 | RN/LPN/MA/Tech | 3 | 29085 | RN | 15
11011 | RN/MA | 3 | 29085 | RN/LPN | 3
11012 | RN/MA | 3 | 29105 | RN | 15
11040 | RN/LPN/MA/Tech | 3 | 29105 | RN/LPN | 3
11041 | RN/LPN/MA/Tech | 3 | 29125 | RN | 15
11042 | RN/LPN/MA/Tech | 3 | 29125 | RN/LPN | 3
11055 | RN/LPN/MA/Tech | 3 | 29126 | RN | 15
11056 | RN/LPN/MA/Tech | 3 | 29130 | RN | 15
11057 | RN/LPN/MA/Tech | 3 | 29130 | RN/LPN | 3
11305 | RN/MA | 3 | 29131 | RN | 15
11740 | RN/LPN/MA/Tech | 2 | 29200 | RN | 15
11921 | RN/MA | 2 | 29200 | RN/LPN | 3
11950 | RN/MA | 2 | 29220 | RN | 15
15775 | RN/MA | 2 | 29220 | RN/LPN | 3
15851 | RN/MA | 3 | 29240 | RN | 15
15852 | RN/MA | 3 | 29240 | RN/LPN | 3
16000 | RN/LPN/MA/Tech | 3 | 29260 | RN | 15
16010 | RN/LPN/MA/Tech | 3 | 29260 | RN/LPN | 3
16015 | RN/LPN/MA/Tech | 3 | 29280 | RN | 15
16020 | RN/LPN/MA/Tech | 3 | 29280 | RN/LPN | 3
16025 | RN/LPN/MA/Tech | 3 | 29305 | RN | 15
16030 | RN/MA | 10 | 29325 | RN | 15
17250 | RN/LPN/MA/Tech | 3 | 29345 | RN | 15
20200 | RN/MA | 3 | 29345 | RN/LPN | 3
20205 | RN/MA | 3 | 29355 | RN | 15
20220 | RN | 25 | 29355 | RN/LPN | 3
20225 | RN | 25 | 29358 | RN | 15
20610 | RN | 20 | 29365 | RN | 15
20660 | RN | 15 | 29365 | RN/LPN | 3
20950 | RN | 25 | 29405 | RN | 15
29000 | RN | 15 | 29405 | RN/LPN | 3
29010 | RN | 15 | 29425 | RN | 15
29015 | RN | 15 | 29425 | RN/LPN | 3
29020 | RN | 15 | 29435 | RN | 15
29025 | RN | 15 | 29440 | RN | 15
29035 | RN | 15 | 29440 | RN/LPN | 3
29040 | RN | 15 | 29445 | RN | 15
29044 | RN | 15 | 29450 | RN | 15
29046 | RN | 15 | 29505 | RN | 15
29049 | RN | 15 | 29515 | RN | 15
29055 | RN | 15 | 29520 | RN | 15
29058 | RN | 15 | 29520 | RN/LPN | 3
29065 | RN | 15 | 29530 | RN | 15
29065 | RN/LPN | 3 | 29530 | RN/LPN | 3
29075 | RN | 15 | 29540 | RN | 15
29075 | RN/LPN | 3 | 29540 | RN/LPN | 3
29550 | RN | 15 | 31561 | RN/LPN/MA | 10
29550 | RN/LPN | 3 | 31570 | RN/LPN/MA | 10
29580 | RN | 15 | 31571 | RN/LPN/MA | 10
29580 | RN/LPN | 3 | 31575 | RN/LPN/MA | 5
29590 | RN | 15 | 31612 | RN | 5
29700 | RN | 15 | 31615 | RN | 20
29700 | RN/LPN | 3 | 31622 | RN | 20
29705 | RN | 15 | 31623 | RN | 20
29705 | RN/LPN | 3 | 31624 | RN | 20
29710 | RN | 15 | 31625 | RN | 20
29715 | RN | 15 | 31628 | RN | 20
29720 | RN | 15 | 31629 | RN | 20
29730 | RN | 15 | 31630 | RN | 30
29730 | RN/LPN | 3 | 31631 | RN | 30
29740 | RN | 15 | 31635 | RN | 30
29740 | RN/LPN | 3 | 31640 | RN | 30
29750 | RN | 15 | 31641 | RN | 30
30901 | RN/LPN/MA | 10 | 31643 | RN | 20
30903 | RN/LPN/MA | 10 | 31645 | RN | 20
30905 | RN/LPN/MA | 10 | 31646 | RN | 20
30906 | RN/LPN/MA | 10 | 31656 | RN | 20
31240 | RN/LPN/MA | 10 | 31700 | RN | 20
31254 | RN/LPN/MA | 10 | 31708 | RN/LPN/MA | 10
31255 | RN/LPN/MA | 10 | 31710 | RN | 20
31256 | RN/LPN/MA | 10 | 31715 | RN | 20
31267 | RN/LPN/MA | 10 | 31717 | RN | 20
31276 | RN/LPN/MA | 10 | 31730 | RN | 10
31287 | RN/LPN/MA | 10 | 32002 | RN | 10
31288 | RN/LPN/MA | 10 | 32005 | RN | 10
31500 | RN/LPN/MA | 10 | 32020 | RN | 10
31505 | RN/LPN/MA | 10 | 32420 | RN | 10
31513 | RN/LPN/MA | 10 | 32960 | RN | 10
31515 | RN/LPN/MA | 10 | 33010 | RN | 10
31520 | RN/LPN/MA | 10 | 33011 | RN | 10
31525 | RN/LPN/MA | 10 | 36481 | RN | 25
31526 | RN/LPN/MA | 10 | 36488 | RN | 25
31527 | RN/LPN/MA | 10 | 36489 | RN | 25
31528 | RN/LPN/MA | 10 | 36490 | RN | 25
31529 | RN/LPN/MA | 10 | 36491 | RN | 25
31530 | RN/LPN/MA | 10 | 36493 | RN | 25
31531 | RN/LPN/MA | 10 | 36510 | RN | 25
31535 | RN/LPN/MA | 10 | 36520 | RN | 25
31536 | RN/LPN/MA | 10 | 36521 | RN | 25
31540 | RN/LPN/MA | 10 | 36522 | RN | 25
31541 | RN/LPN/MA | 10 | 36680 | RN | 10
31560 | RN/LPN/MA | 10 | 40806 | RN/LPN/MA | 10
42660 | RN/LPN/MA | 10 | 43761 | RN/LPN/MA | 10
43200 | RN/LPN/MA | 45 | 44100 | RN/LPN/MA | 45
43202 | RN/LPN/MA | 45 | 44360 | RN/LPN/MA | 55
43204 | RN/LPN/MA | 40 | 44361 | RN/LPN/MA | 55
43205 | RN/LPN/MA | 40 | 44363 | RN/LPN/MA | 55
43215 | RN/LPN/MA | 25 | 44364 | RN/LPN/MA | 55
43216 | RN/LPN/MA | 40 | 44365 | RN/LPN/MA | 55
43217 | RN/LPN/MA | 40 | 44366 | RN/LPN/MA | 55
43219 | RN/LPN/MA | 40 | 44369 | RN/LPN/MA | 55
43220 | RN/LPN/MA | 40 | 44372 | RN/LPN/MA | 55
43226 | RN/LPN/MA | 40 | 44373 | RN/LPN/MA | 55
43227 | RN/LPN/MA | 40 | 44376 | RN/LPN/MA | 55
43228 | RN/LPN/MA | 40 | 44377 | RN/LPN/MA | 55
43234 | RN/LPN/MA | 45 | 44378 | RN/LPN/MA | 55
43235 | RN/LPN/MA | 45 | 44380 | RN/LPN/MA | 55
43239 | RN/LPN/MA | 45 | 44382 | RN/LPN/MA | 55
43241 | RN/LPN/MA | 40 | 44385 | RN/LPN/MA | 55
43243 | RN/LPN/MA | 40 | 44386 | RN/LPN/MA | 55
43244 | RN/LPN/MA | 40 | 44388 | RN/LPN/MA | 55
43245 | RN/LPN/MA | 40 | 44389 | RN/LPN/MA | 55
43246 | RN/LPN/MA | 33 | 44390 | RN/LPN/MA | 55
43247 | RN/LPN/MA | 40 | 44391 | RN/LPN/MA | 25
43248 | RN/LPN/MA | 40 | 44392 | RN/LPN/MA | 55
43249 | RN/LPN/MA | 40 | 44393 | RN/LPN/MA | 55
43250 | RN/LPN/MA | 40 | 44394 | RN/LPN/MA | 55
43251 | RN/LPN/MA | 40 | 44500 | RN/LPN/MA | 15
43255 | RN/LPN/MA | 25 | 45300 | RN/LPN/MA | 15
43258 | RN/LPN/MA | 40 | 45303 | RN/LPN/MA | 15
43259 | RN/LPN/MA | 55 | 45305 | RN/LPN/MA | 15
43260 | RN/LPN/MA | 38 | 45307 | RN/LPN/MA | 15
43261 | RN/LPN/MA | 38 | 45308 | RN/LPN/MA | 15
43262 | RN/LPN/MA | 38 | 45309 | RN/LPN/MA | 15
43263 | RN/LPN/MA | 38 | 45315 | RN/LPN/MA | 15
43264 | RN/LPN/MA | 38 | 45317 | RN/LPN/MA | 15
43265 | RN/LPN/MA | 38 | 45320 | RN/LPN/MA | 15
43267 | RN/LPN/MA | 38 | 45321 | RN/LPN/MA | 15
43268 | RN/LPN/MA | 38 | 45330 | RN/LPN/MA | 15
43269 | RN/LPN/MA | 38 | 45331 | RN/LPN/MA | 15
43271 | RN/LPN/MA | 38 | 45332 | RN/LPN/MA | 15
43272 | RN/LPN/MA | 38 | 45333 | RN/LPN/MA | 15
43450 | RN/LPN/MA | 15 | 45334 | RN/LPN/MA | 15
43453 | RN/LPN/MA | 15 | 45337 | RN/LPN/MA | 15
43456 | RN/LPN/MA | 15 | 45338 | RN/LPN/MA | 15
43458 | RN/LPN/MA | 15 | 45339 | RN/LPN/MA | 15
43600 | RN/LPN/MA | 45 | 45378 | RN/LPN/MA | 55
43760 | RN/LPN/MA | 10 | 45379 | RN/LPN/MA | 55
45380 | RN/LPN/MA | 55 | 57100 | RN/MA | 5
45382 | RN/LPN/MA | 25 | 57400 | RN/MA | 5
45383 | RN/LPN/MA | 55 | 57410 | RN/MA | 5
45384 | RN/LPN/MA | 55 | 57500 | RN/MA | 5
45385 | RN/LPN/MA | 55 | 57800 | RN/MA | 5
47552 | RN/LPN/MA | 38 | 58555 | RN/MA | 13
47553 | RN/LPN/MA | 38 | 58558 | RN/MA | 13
47554 | RN/LPN/MA | 38 | 58559 | RN/MA | 13
47555 | RN/LPN/MA | 38 | 58560 | RN/MA | 13
47556 | RN/LPN/MA | 38 | 58561 | RN/MA | 13
47561 | RN | 18 | 58562 | RN/MA | 13
49080 | RN | 10 | 58563 | RN/MA | 13
49081 | RN | 10 | 58970 | Medical Assistant | 10
49400 | RN | 10 | 58970 | RN | 30
49423 | RN | 10 | 59012 | RN | 25
49424 | RN | 10 | 59030 | RN | 25
49427 | RN | 10 | 59300 | RN/MA | 5
50021 | RN | 60 | 59320 | RN/MA | 5
50396 | RN | 10 | 59325 | RN/MA | 5
50686 | RN | 10 | 59350 | RN/MA | 10
51700 | RN | 5 | 59871 | RN/MA | 3
51726 | RN | 10 | 61000 | RN/LPN/MA | 16
51772 | RN | 15 | 61001 | RN/LPN/MA | 14
51784 | RN | 15 | 61020 | RN/LPN/MA | 13
51785 | RN | 15 | 61026 | RN/LPN/MA | 14
51792 | RN | 10 | 61050 | RN/LPN/MA | 20
51795 | RN | 10 | 61055 | RN/LPN/MA | 20
51797 | RN | 15 | 61070 | RN/LPN/MA | 10
53020 | RN | 10 | 61107 | RN/LPN/MA | 20
53025 | RN | 10 | 61210 | RN/LPN/MA | 20
53200 | RN | 10 | 62268 | RN/LPN/MA | 20
53600 | RN | 15 | 62270 | RN | 5
53601 | RN | 15 | 62272 | RN | 5
53660 | RN | 15 | 62273 | RN/LPN/MA | 12
53670 | RN | 5 | 62284 | RN/LPN/MA | 20
54100 | RN | 15 | 62290 | RN/LPN/MA | 20
54220 | RN | 30 | 62291 | RN/LPN/MA | 20
54231 | RN | 15 | 63610 | RN/LPN/MA | 20
54240 | RN | 15 | 90870 | RN | 40
54250 | RN | 15 | 90871 | RN | 40
54450 | RN | 15 | 90935 | RN | 45
55300 | RN | 30 | 90937 | RN | 45
55870 | RN | 15 | 90945 | RN | 45
56605 | RN/MA | 5 | 90947 | RN | 45
56720 | RN/MA | 5 | 90997 | RN | 45
57020 | RN/MA | 5 | 91000 | RN/LPN/MA | 15
91010 | RN/LPN/MA | 15
91011 | RN/LPN/MA | 15
91012 | RN/LPN/MA | 15
91020 | RN/LPN/MA | 15
91030 | RN/LPN/MA | 15
91032 | RN/LPN/MA | 15
91033 | RN/LPN/MA | 15
91052 | RN/LPN/MA | 15
91055 | RN/LPN/MA | 15
91060 | RN/LPN/MA | 15
91065 | RN/LPN/MA | 15
91100 | RN/LPN/MA | 15
91105 | RN/LPN/MA | 10
92950 | RN/LPN | 12
92953 | RN/LPN | 12
92971 | RN/LPN | 12
96440 | RN/OCN | 10
96445 | RN/OCN | 10
96450 | RN/OCN | 10
G0104 | RN/LPN/MA | 15
G0105 | RN/LPN/MA | 55
Q0068 | RN | 25

Addendum D.—Comparison of 1999 and Proposed 2002 Office Rent Index by Fee Schedule Area
[In descending order of difference]
Carrier | Locality | Fee schedule area | Office rent index: 2000 | Office rent index: 2002 | Difference | Percentage difference
31140 | 05 | SAN FRANCISCO, CA | 1.629 | 2.174 | 0.545 | 33.5
31140 | 06 | SAN MATEO, CA | 1.629 | 2.174 | 0.545 | 33.5
31140 | 09 | SANTA CLARA, CA | 1.548 | 1.949 | 0.401 | 25.9
31140 | 03 | MARIN/NAPA/SOLANO, CA | 1.346 | 1.647 | 0.301 | 22.4
00900 | 11 | DALLAS, TX | 1.005 | 1.196 | 0.191 | 19.0
00910 | 09 | UTAH | 0.827 | 0.978 | 0.151 | 18.3
31143 | 99 | REST OF MASSACHUSETTS | 1.170 | 1.308 | 0.138 | 11.8
00824 | 01 | COLORADO | 0.956 | 1.066 | 0.110 | 11.5
00835 | 01 | PORTLAND, OR | 1.006 | 1.120 | 0.114 | 11.3
00740 | 02 | METROPOLITAN KANSAS CITY, MO. | 828 | 0.916 | 0.088 | 10.6
00511 | 01 | ATLANTA, GA | 1.034 | 1.136 | 0.102 | 9.9
31143 | 01 | METROPOLITAN BOSTON | 1.369 | 1.504 | 0.135 | 9.9
31140 | 07 | OAKLAND/BERKLEY, CA | 1.339 | 1.470 | 0.131 | 9.8
00953 | 01 | DETROIT, MI | 0.971 | 1.045 | 0.074 | 7.6
05535 | 00 | NORTH CAROLINA | 0.817 | 0.869 | 0.052 | 6.4
16360 | 00 | OHIO | 0.812 | 0.863 | 0.051 | 6.3
00655 | 00 | NEBRASKA | 0.770 | 0.817 | 0.047 | 6.1
00900 | 28 | FORT WORTH, TX | 0.921 | 0.977 | 0.056 | 6.1
00836 | 02 | SEATTLE (KING CNTY), WA | 1.162 | 1.232 | 0.070 | 6.0
05440 | 35 | TENNESSEE | 0.758 | 0.800 | 0.042 | 5.5
00820 | 02 | SOUTH DAKOTA | 0.809 | 0.853 | 0.044 | 5.4
00952 | 99 | REST OF ILLINOIS | 0.756 | 0.797 | 0.041 | 5.4
00820 | 01 | NORTH DAKOTA | 0.761 | 0.800 | 0.039 | 5.1
00630 | 00 | INDIANA | 0.806 | 0.847 | 0.041 | 5.1
10240 | 00 | MINNESOTA | 0.896 | 0.940 | 0.044 | 4.9
00832 | 00 | ARIZONA | 0.955 | 1.000 | 0.045 | 4.7
00805 | 99 | REST OF NEW JERSEY | 1.261 | 1.312 | 0.051 | 4.0
16510 | 16 | WEST VIRGINIA | 0.659 | 0.685 | 0.026 | 3.9
00825 | 21 | WYOMING | 0.769 | 0.799 | 0.030 | 3.9
00880 | 01 | SOUTH CAROLINA | 0.795 | 0.825 | 0.030 | 3.8
00902 | 01 | DELAWARE | 1.013 | 1.051 | 0.038 | 3.8
00751 | 01 | MONTANA | 0.766 | 0.794 | 0.028 | 3.7
00834 | 00 | NEVADA | 1.078 | 1.117 | 0.039 | 3.6
00510 | 00 | ALABAMA | 0.713 | 0.738 | 0.025 | 3.5
00650 | 00 | KANSAS * | 0.772 | 0.793 | 0.021 | 2.7
00740 | 04 | KANSAS * | 0.772 | 0.793 | 0.021 | 2.7
00803 | 02 | NYC SUBURBS/LONG I., NY | 1.535 | 1.573 | 0.038 | 2.5
31145 | 50 | VERMONT | 0.980 | 1.004 | 0.024 | 2.4
00953 | 99 | REST OF MICHIGAN | 0.829 | 0.848 | 0.019 | 2.3
00865 | 99 | REST OF PENNSYLVANIA | 0.826 | 0.844 | 0.018 | 2.2
00900 | 09 | BRAZORIA, TX | 1.001 | 1.018 | 0.017 | 1.7
00740 | 99 | REST OF MISSOURI * | 0.651 | 0.662 | 0.011 | 1.7
00523 | 99 | REST OF MISSOURI * | 0.651 | 0.662 | 0.011 | 1.7
00522 | 00 | OKLAHOMA | 0.713 | 0.725 | 0.012 | 1.7
00900 | 18 | HOUSTON, TX | 0.972 | 0.988 | 0.016 | 1.6
00590 | 99 | REST OF FLORIDA | 0.936 | 0.951 | 0.015 | 1.6
00900 | 15 | GALVESTON, TX | 0.910 | 0.924 | 0.014 | 1.5
00951 | 00 | WISCONSIN | 0.854 | 0.866 | 0.012 | 1.4
00865 | 01 | METROPOLITAN PHILADELPHIA, PA | 1.162 | 1.178 | 0.016 | 1.4
10490 | 00 | VIRGINIA | 0.881 | 0.892 | 0.011 | 1.2
00826 | 00 | IOWA | 0.778 | 0.785 | 0.007 | 0.9
00523 | 01 | METROPOLITAN ST. LOUIS, MO | 0.807 | 0.814 | 0.007 | 0.9
00520 | 13 | ARKANSAS | 0.698 | 0.704 | 0.006 | 0.9
00511 | 99 | REST OF GEORGIA | 0.765 | 0.771 | 0.006 | 0.8
00952 | 16 | CHICAGO, IL | 1.207 | 1.216 | 0.009 | 0.7
00952 | 15 | SUBURBAN CHICAGO, IL | 1.207 | 1.216 | 0.009 | 0.7
00528 | 01 | NEW ORLEANS, LA | 0.826 | 0.832 | 0.006 | 0.7
00952 | 12 | EAST ST. LOUIS, IL | 0.787 | 0.792 | 0.005 | 0.6
00835 | 99 | REST OF OREGON | 0.896 | 0.901 | 0.005 | 0.6
00900 | 99 | REST OF TEXAS | 0.791 | 0.795 | 0.004 | 0.5
00903 | 01 | DC + MD/VA SUBURBS | 1.335 | 1.341 | 0.006 | 0.4
00660 | 00 | KENTUCKY | 0.719 | 0.721 | 0.002 | 0.3
00836 | 99 | REST OF WASHINGTON | 0.957 | 0.958 | 0.001 | 0.1
00900 | 20 | BEAUMONT, TX | 0.758 | 0.758 |  | 0.0
10250 | 00 | MISSISSIPPI | 0.690 | 0.690 |  | 0.0
00901 | 01 | BALTIMORE/SURR. CNTYS, MD | 1.027 | 1.026 | (0.001) | −0.1
31144 | 40 | NEW HAMPSHIRE | 1.091 | 1.089 | (0.002) | −0.2
00900 | 31 | AUSTIN, TX | 1.118 | 1.111 | (0.007) | −0.6
00521 | 05 | NEW MEXICO | 0.844 | 0.837 | (0.007) | −0.8
00528 | 99 | REST OF LOUISIANA | 0.721 | 0.715 | (0.006) | −0.8
00805 | 01 | NORTHERN NJ | 1.415 | 1.399 | (0.016) | −1.1
00870 | 01 | RHODE ISLAND | 1.111 | 1.098 | (0.013) | −1.2
05130 | 00 | IDAHO | 0.801 | 0.791 | (0.010) | −1.2
00831 | 01 | ALASKA | 1.265 | 1.249 | (0.016) | −1.3
02050 | 99 | REST OF CALIFORNIA * | 1.068 | 1.050 | (0.018) | −1.7
31140 | 99 | REST OF CALIFORNIA * | 1.068 | 1.050 | (0.018) | −1.7
00590 | 03 | FORT LAUDERDALE, FL | 1.114 | 1.090 | (0.024) | −2.2
00901 | 99 | REST OF MARYLAND | 1.020 | 0.995 | (0.025) | −2.5
02050 | 17 | VENTURA, CA | 1.329 | 1.294 | (0.035) | −2.6
31142 | 99 | REST OF MAINE | 0.827 | 0.801 | (0.026) | −3.1
02050 | 26 | ANAHEIM/SANTA ANA, CA | 1.474 | 1.422 | (0.052) | −3.5
00803 | 01 | MANHATTAN, NY | 1.808 | 1.744 | (0.064) | −3.5
14330 | 04 | QUEENS, NY | 1.466 | 1.414 | (0.052) | −3.5
00801 | 99 | REST OF NEW YORK | 0.909 | 0.875 | (0.034) | −3.7
00973 | 50 | VIRGIN ISLANDS | 1.309 | 1.260 | (0.049) | −3.7
00973 | 20 | PUERTO RICO | 0.715 | 0.688 | (0.027) | −3.8
00803 | 03 | POUGHKPSIE/N NYC SUBURBS, NY | 1.305 | 1.254 | (0.051) | −3.9
10230 | 00 | CONNECTICUT | 1.283 | 1.215 | (0.068) | −5.3
00590 | 04 | MIAMI, FL | 1.232 | 1.139 | (0.093) | −7.5
31142 | 03 | SOUTHERN MAINE | 1.119 | 1.009 | (0.110) | −9.8
00833 | 01 | HAWAII/GUAM | 1.639 | 1.389 | (0.250) | −15.3
02050 | 18 | LOS ANGELES, CA | 1.466 | 1.223 | (0.243) | −16.6
Notes:
*—Indicates multiple carriers for this Fee Schedule Area.
Neither Office Rent Index reflects budget neutrality adjusting.

Addendum E.—Comparison of 1999 and Proposed 2002 Malpractice GPCIs by Fee Schedule Area
[Sorted by percentage difference]
Carrier | Locality | Fee schedule area | 2000 | 2002 | Difference | Percentage difference
00825 | 21 | WYOMING | 0.705 | 1.003 | 0.298 | 42.27
00521 | 05 | NEW MEXICO | 0.716 | 0.900 | 0.184 | 25.70
16510 | 16 | WEST VIRGINIA | 1.106 | 1.375 | 0.269 | 24.32
00865 | 99 | REST OF PENNSYLVANIA | 0.637 | 0.772 | 0.135 | 21.19
00834 | 00 | NEVADA | 0.997 | 1.206 | 0.209 | 20.96
00952 | 15 | SUBURBAN CHICAGO, IL | 1.365 | 1.641 | 0.276 | 20.22
05535 | 00 | NORTH CAROLINA | 0.497 | 0.594 | 0.097 | 19.52
00630 | 00 | INDIANA | 0.408 | 0.480 | 0.072 | 17.65
00865 | 01 | METROPOLITAN PHILADELPHIA, PA | 1.207 | 1.410 | 0.203 | 16.82
00952 | 99 | REST OF ILLINOIS | 0.990 | 1.155 | 0.165 | 16.67
00952 | 12 | EAST ST. LOUIS, IL | 1.487 | 1.687 | 0.200 | 13.45
02050 | 26 | ANAHEIM/SANTA ANA, CA | 0.846 | 0.953 | 0.107 | 12.65
02050 | 18 | LOS ANGELES, CA | 0.846 | 0.953 | 0.107 | 12.65
00951 | 00 | WISCONSIN | 0.841 | 0.937 | 0.096 | 11.41
00528 | 01 | NEW ORLEANS, LA | 1.153 | 1.280 | 0.127 | 11.01
31143 | 01 | METROPOLITAN BOSTON | 0.713 | 0.782 | 0.069 | 9.68
31143 | 99 | REST OF MASSACHUSETTS | 0.713 | 0.782 | 0.069 | 9.68
00900 | 99 | REST OF TEXAS | 0.871 | 0.954 | 0.083 | 9.53
02050 | 17 | VENTURA, CA | 0.717 | 0.781 | 0.064 | 8.93
00660 | 00 | KENTUCKY | 0.807 | 0.875 | 0.068 | 8.43
00910 | 09 | UTAH | 0.594 | 0.643 | 0.049 | 8.25
00805 | 01 | NORTHERN NJ | 0.795 | 0.858 | 0.063 | 7.92
00805 | 99 | REST OF NEW JERSEY | 0.795 | 0.858 | 0.063 | 7.92
10250 | 00 | MISSISSIPPI | 0.721 | 0.777 | 0.056 | 7.77
00590 | 04 | MIAMI, FL | 2.350 | 2.523 | 0.173 | 7.36
05440 | 35 | TENNESSEE | 0.552 | 0.591 | 0.039 | 7.07
02050 | 99 | REST OF CALIFORNIA * | 0.698 | 0.746 | 0.048 | 6.88
31140 | 99 | REST OF CALIFORNIA * | 0.698 | 0.746 | 0.048 | 6.88
00836 | 99 | REST OF WASHINGTON | 0.742 | 0.786 | 0.044 | 5.93
00836 | 02 | SEATTLE (KING CNTY), WA | 0.742 | 0.786 | 0.044 | 5.93
00952 | 16 | CHICAGO, IL | 1.693 | 1.793 | 0.100 | 5.91
00824 | 01 | COLORADO | 0.795 | 0.838 | 0.043 | 5.41
00590 | 03 | FORT LAUDERDALE, FL | 1.783 | 1.873 | 0.090 | 5.05
00528 | 99 | REST OF LOUISIANA | 1.031 | 1.071 | 0.040 | 3.88
31140 | 03 | MARIN/NAPA/SOLANO, CA | 0.667 | 0.686 | 0.019 | 2.85
31140 | 07 | OAKLAND/BERKLEY, CA | 0.667 | 0.686 | 0.019 | 2.85
31140 | 05 | SAN FRANCISCO, CA | 0.667 | 0.686 | 0.019 | 2.85
31140 | 06 | SAN MATEO, CA | 0.667 | 0.686 | 0.019 | 2.85
14330 | 04 | QUEENS, NY | 1.839 | 1.867 | 0.028 | 1.52
00900 | 31 | AUSTIN, TX | 0.849 | 0.857 | 0.008 | 0.94
00803 | 02 | NYC SUBURBS/LONG I., NY | 1.932 | 1.948 | 0.016 | 0.83
00803 | 01 | MANHATTAN, NY | 1.654 | 1.664 | 0.010 | 0.60
00820 | 01 | NORTH DAKOTA | 0.656 | 0.656 |  | 0.00
00900 | 11 | DALLAS, TX | 0.930 | 0.929 | (0.001) | −0.11
00900 | 28 | FORT WORTH, TX | 0.930 | 0.929 | (0.001) | −0.11
00880 | 01 | SOUTH CAROLINA | 0.280 | 0.278 | (0.002) | −0.71
00751 | 01 | MONTANA | 0.732 | 0.725 | (0.007) | −0.96
00522 | 00 | OKLAHOMA | 0.451 | 0.443 | (0.008) | −1.77
31145 | 50 | VERMONT | 0.548 | 0.538 | (0.010) | −1.82
00511 | 01 | ATLANTA, GA | 0.951 | 0.933 | (0.018) | −1.89
00511 | 99 | REST OF GEORGIA | 0.951 | 0.933 | (0.018) | −1.89
00973 | 50 | VIRGIN ISLANDS | 1.032 | 1.000 | (0.032) | −3.10
00655 | 00 | NEBRASKA | 0.443 | 0.429 | (0.014) | −3.16
00900 | 20 | BEAUMONT, TX | 1.386 | 1.335 | (0.051) | −3.68
00900 | 09 | BRAZORIA, TX | 1.386 | 1.335 | (0.051) | −3.68
00900 | 15 | GALVESTON, TX | 1.386 | 1.335 | (0.051) | −3.68
00801 | 99 | REST OF NEW YORK | 0.793 | 0.762 | (0.031) | −3.91
00803 | 03 | POUGHKPSIE/N NYC SUBURBS, NY | 1.326 | 1.272 | (0.054) | −4.07
31140 | 09 | SANTA CLARA, CA | 0.667 | 0.638 | (0.029) | −4.35
00590 | 99 | REST OF FLORIDA | 1.327 | 1.262 | (0.065) | −4.90
00900 | 18 | HOUSTON, TX | 1.418 | 1.333 | (0.085) | −5.99
31142 | 99 | REST OF MAINE | 0.708 | 0.665 | (0.043) | −6.07
31142 | 03 | SOUTHERN MAINE | 0.708 | 0.665 | (0.043) | −6.07
00832 | 00 | ARIZONA | 1.189 | 1.109 | (0.080) | −6.73
00820 | 02 | SOUTH DAKOTA | 0.435 | 0.405 | (0.030) | −6.90
00510 | 00 | ALABAMA | 0.876 | 0.805 | (0.071) | −8.11
00826 | 00 | IOWA | 0.648 | 0.595 | (0.053) | −8.18
10230 | 00 | CONNECTICUT | 1.052 | 0.964 | (0.088) | −8.37
10490 | 00 | VIRGINIA | 0.557 | 0.499 | (0.058) | −10.41
00901 | 99 | REST OF MARYLAND | 0.866 | 0.772 | (0.094) | −10.85
00953 | 01 | DETROIT, MI | 3.069 | 2.732 | (0.337) | −10.98
10240 | 00 | MINNESOTA | 0.507 | 0.451 | (0.056) | −11.05
16360 | 00 | OHIO | 1.074 | 0.955 | (0.119) | −11.08
00903 | 01 | DC + MD/VA SUBURBS | 1.032 | 0.907 | (0.125) | −12.11
05130 | 00 | IDAHO | 0.566 | 0.496 | (0.070) | −12.37
00833 | 01 | HAWAII/GUAM | 0.954 | 0.832 | (0.122) | −12.79
00953 | 99 | REST OF MICHIGAN | 1.828 | 1.568 | (0.260) | −14.22
00650 | 00 | KANSAS * | 0.890 | 0.754 | (0.136) | −15.28
00740 | 04 | KANSAS * | 0.890 | 0.754 | (0.136) | −15.28
00520 | 13 | ARKANSAS | 0.403 | 0.339 | (0.064) | −15.88
00901 | 01 | BALTIMORE/SURR. CNTYS, MD | 1.098 | 0.914 | (0.184) | −16.76
00902 | 01 | DELAWARE | 0.860 | 0.710 | (0.150) | −17.44
31144 | 40 | NEW HAMPSHIRE | 1.013 | 0.823 | (0.190) | −18.76
00831 | 01 | ALASKA | 1.533 | 1.220 | (0.313) | −20.42
00973 | 20 | PUERTO RICO | 0.359 | 0.274 | (0.085) | −23.68
00835 | 01 | PORTLAND, OR | 0.587 | 0.435 | (0.152) | −25.89
00835 | 99 | REST OF OREGON | 0.587 | 0.435 | (0.152) | −25.89
00870 | 01 | RHODE ISLAND | 1.189 | 0.881 | (0.308) | −25.90
00740 | 02 | METROPOLITAN KANSAS CITY, MO | 1.196 | 0.844 | (0.352) | −29.43
00523 | 01 | METROPOLITAN ST. LOUIS, MO | 1.198 | 0.844 | (0.354) | −29.55
00740 | 99 | REST OF MISSOURI * | 1.165 | 0.791 | (0.374) | −32.10
00523 | 99 | REST OF MISSOURI * | 1.165 | 0.791 | (0.374) | −32.10
Notes:
*—Indicates multiple carriers for this Fee Schedule Area.
1999 Malpractice GPCIs have been budget neutrality adjusted.
The 2002 MGPCIs have NOT been budget neutrality adjusted.

Addendum F.—2002 Geographic Practice Cost Indices by Medicare Carrier and Locality
Carrier No. | Locality No. | Locality name | Work | Practice expense | Malpractice
00510 | 00 | ALABAMA | 0.978 | 0.870 | 0.807
00831 | 01 | ALASKA | 1.064 | 1.172 | 1.223
00832 | 00 | ARIZONA | 0.994 | 0.978 | 1.111
00520 | 13 | ARKANSAS | 0.953 | 0.847 | 0.340
02050 | 26 | ANAHEIM/SANTA ANA, CA | 1.037 | 1.184 | 0.955
02050 | 18 | LOS ANGELES, CA | 1.056 | 1.139 | 0.955
31140 | 03 | MARIN/NAPA/SOLANO, CA | 1.015 | 1.248 | 0.687
31140 | 07 | OAKLAND/BERKELEY, CA | 1.041 | 1.235 | 0.687
31140 | 05 | SAN FRANCISCO, CA | 1.068 | 1.458 | 0.687
31140 | 06 | SAN MATEO, CA | 1.048 | 1.432 | 0.687
31140 | 09 | SANTA CLARA, CA | 1.063 | 1.380 | 0.639
02050 | 17 | VENTURA, CA | 1.028 | 1.125 | 0.783
02050 | 99 | REST OF CALIFORNIA * | 1.007 | 1.034 | 0.748
31140 | 99 | REST OF CALIFORNIA * | 1.007 | 1.034 | 0.748
00824 | 01 | COLORADO | 0.985 | 0.992 | 0.840
10230 | 00 | CONNECTICUT | 1.050 | 1.156 | 0.966
00902 | 01 | DELAWARE | 1.019 | 1.035 | 0.712
00903 | 01 | DC + MD/VA SUBURBS | 1.050 | 1.166 | 0.909
00590 | 03 | FORT LAUDERDALE, FL | 0.996 | 1.018 | 1.877
00590 | 04 | MIAMI, FL | 1.015 | 1.052 | 2.528
00590 | 99 | REST OF FLORIDA | 0.975 | 0.946 | 1.265
00511 | 01 | ATLANTA, GA | 1.006 | 1.059 | 0.935
00511 | 99 | REST OF GEORGIA | 0.970 | 0.892 | 0.935
00833 | 01 | HAWAII/GUAM | 0.997 | 1.124 | 0.834
05130 | 00 | IDAHO | 0.960 | 0.881 | 0.497
00952 | 16 | CHICAGO, IL | 1.028 | 1.092 | 1.797
00952 | 12 | EAST ST. LOUIS, IL | 0.988 | 0.924 | 1.691
00952 | 15 | SUBURBAN CHICAGO, IL | 1.006 | 1.071 | 1.645
00952 | 99 | REST OF ILLINOIS | 0.964 | 0.889 | 1.157
00630 | 00 | INDIANA | 0.981 | 0.922 | 0.481
00826 | 00 | IOWA | 0.959 | 0.876 | 0.596
00650 | 00 | KANSAS * | 0.963 | 0.895 | 0.756
00740 | 04 | KANSAS * | 0.963 | 0.895 | 0.749
00660 | 00 | KENTUCKY | 0.970 | 0.866 | 0.877
00528 | 01 | NEW ORLEANS, LA | 0.998 | 0.945 | 1.283
00528 | 99 | REST OF LOUISIANA | 0.968 | 0.870 | 1.073
31142 | 03 | SOUTHERN MAINE | 0.979 | 0.999 | 0.666
31142 | 99 | REST OF MAINE | 0.961 | 0.910 | 0.666
00901 | 01 | BALTIMORE/SURR. CNTYS, MD | 1.021 | 1.038 | 0.916
00901 | 99 | REST OF MARYLAND | 0.984 | 0.972 | 0.774
31143 | 01 | METROPOLITAN BOSTON | 1.041 | 1.239 | 0.784
31143 | 99 | REST OF MASSACHUSETTS | 1.010 | 1.129 | 0.784
00953 | 01 | DETROIT, MI | 1.043 | 1.038 | 2.738
00953 | 99 | REST OF MICHIGAN | 0.997 | 0.938 | 1.571
10240 | 00 | MINNESOTA | 0.990 | 0.974 | 0.452
10250 | 00 | MISSISSIPPI | 0.957 | 0.837 | 0.779
00740 | 02 | METROPOLITAN KANSAS CITY, MO | 0.988 | 0.967 | 0.846
00523 | 01 | METROPOLITAN ST. LOUIS, MO | 0.994 | 0.938 | 0.846
00740 | 99 | REST OF MISSOURI * | 0.946 | 0.825 | 0.793
00523 | 99 | REST OF MISSOURI * | 0.946 | 0.825 | 0.793
00751 | 01 | MONTANA | 0.950 | 0.876 | 0.727
00655 | 00 | NEBRASKA | 0.948 | 0.877 | 0.430
00834 | 00 | NEVADA | 1.005 | 1.039 | 1.209
31144 | 40 | NEW HAMPSHIRE | 0.986 | 1.030 | 0.825
00805 | 01 | NORTHERN NJ | 1.058 | 1.193 | 0.860
00805 | 99 | REST OF NEW JERSEY | 1.029 | 1.110 | 0.860
00521 | 05 | NEW MEXICO | 0.973 | 0.900 | 0.902
00803 | 01 | MANHATTAN, NY | 1.094 | 1.351 | 1.668
00803 | 02 | NYC SUBURBS/LONG I., NY | 1.068 | 1.251 | 1.952
00803 | 03 | POUGHKPSIE/N NYC SUBURBS, NY | 1.011 | 1.075 | 1.275
14330 | 04 | QUEENS, NY | 1.058 | 1.228 | 1.871
00801 | 99 | REST OF NEW YORK | 0.998 | 0.944 | 0.764
05535 | 00 | NORTH CAROLINA | 0.970 | 0.931 | 0.595
00820 | 01 | NORTH DAKOTA | 0.950 | 0.880 | 0.657
16360 | 00 | OHIO | 0.988 | 0.944 | 0.957
00522 | 00 | OKLAHOMA | 0.968 | 0.876 | 0.444
00835 | 01 | PORTLAND, OR | 0.996 | 1.049 | 0.436
00835 | 99 | REST OF OREGON | 0.961 | 0.933 | 0.436
00865 | 01 | METROPOLITAN PHILADELPHIA, PA | 1.023 | 1.092 | 1.413
00865 | 99 | REST OF PENNSYLVANIA | 0.989 | 0.929 | 0.774
00973 | 20 | PUERTO RICO | 0.881 | 0.712 | 0.275
00870 | 01 | RHODE ISLAND | 1.017 | 1.065 | 0.883
00880 | 01 | SOUTH CAROLINA | 0.974 | 0.904 | 0.279
00820 | 02 | SOUTH DAKOTA | 0.935 | 0.878 | 0.406
05440 | 35 | TENNESSEE | 0.975 | 0.900 | 0.592
00900 | 31 | AUSTIN, TX | 0.986 | 0.996 | 0.859
00900 | 20 | BEAUMONT, TX | 0.992 | 0.890 | 1.338
00900 | 09 | BRAZORIA, TX | 0.992 | 0.978 | 1.338
00900 | 11 | DALLAS, TX | 1.010 | 1.065 | 0.931
00900 | 28 | FORT WORTH, TX | 0.987 | 0.981 | 0.931
00900 | 15 | GALVESTON, TX | 0.988 | 0.969 | 1.338
00900 | 18 | HOUSTON, TX | 1.020 | 1.007 | 1.336
00900 | 99 | REST OF TEXAS | 0.966 | 0.880 | 0.956
00910 | 09 | UTAH | 0.976 | 0.941 | 0.644
31145 | 50 | VERMONT | 0.973 | 0.986 | 0.539
00973 | 50 | VIRGIN ISLANDS | 0.965 | 1.023 | 1.002
10490 | 00 | VIRGINIA | 0.984 | 0.938 | 0.500
00836 | 02 | SEATTLE (KING CNTY), WA | 1.005 | 1.100 | 0.788
00836 | 99 | REST OF WASHINGTON | 0.981 | 0.972 | 0.788
16510 | 16 | WEST VIRGINIA | 0.963 | 0.850 | 1.378
00951 | 00 | WISCONSIN | 0.981 | 0.929 | 0.939
00825 | 21 | WYOMING | 0.967 | 0.895 | 1.005
* Payment locality is serviced by two carriers.
Note: Work GPCI is the ¼ work GPCI required by Section 1848(e)(1)(A)(iii) of the Social Security Act. GPCIs rescaled by the following factors for budget netrality: Work = 0.99699; Practice Expense = 0.99235; Malpractice Expense = 1.00215.

Addendum G.—2001 Geographic Practice Cost Indices by Medicare Carrier and Locality
Carrier No. | Locality No. | Locality name | Work | Practice expense | Malpractice
00510 | 00 | ALABAMA | 0.978 | 0.871 | 0.841
00831 | 01 | ALASKA | 1.063 | 1.172 | 1.378
00832 | 00 | ARIZONA | 0.994 | 0.975 | 1.150
00520 | 13 | ARKANSAS | 0.953 | 0.851 | 0.371
02050 | 26 | ANAHEIM/SANTA ANA, CA | 1.036 | 1.187 | 0.901
02050 | 18 | LOS ANGELES, CA | 1.055 | 1.169 | 0.901
31140 | 03 | MARIN/NAPA/SOLANO, CA | 1.014 | 1.205 | 0.677
31140 | 07 | OAKLAND/BERKELEY, CA | 1.040 | 1.216 | 0.677
31140 | 05 | SAN FRANCISCO, CA | 1.067 | 1.378 | 0.677
31140 | 06 | SAN MATEO, CA | 1.047 | 1.353 | 0.677
31140 | 09 | SANTA CLARA, CA | 1.062 | 1.321 | 0.653
02050 | 17 | VENTURA, CA | 1.027 | 1.128 | 0.750
02050 | 99 | REST OF CALIFORNIA * | 1.007 | 1.039 | 0.723
31140 | 99 | REST OF CALIFORNIA * | 1.007 | 1.039 | 0.723
00824 | 01 | COLORADO | 0.986 | 0.981 | 0.817
10230 | 00 | CONNECTICUT | 1.049 | 1.164 | 1.009
00902 | 01 | DELAWARE | 1.019 | 1.032 | 0.786
00903 | 01 | DC + MD/VA SUBURBS | 1.050 | 1.164 | 0.970
00590 | 03 | FORT LAUDERDALE, FL | 0.996 | 1.022 | 1.830
00590 | 04 | MIAMI, FL | 1.015 | 1.064 | 2.439
00590 | 99 | REST OF FLORIDA | 0.975 | 0.947 | 1.296
00511 | 01 | ATLANTA, GA | 1.006 | 1.046 | 0.943
00511 | 99 | REST OF GEORGIA | 0.970 | 0.896 | 0.943
00833 | 01 | HAWAII/GUAM | 0.997 | 1.154 | 0.894
05130 | 00 | IDAHO | 0.960 | 0.887 | 0.532
00952 | 16 | CHICAGO, IL | 1.027 | 1.090 | 1.745
00952 | 12 | EAST ST. LOUIS, IL | 0.988 | 0.927 | 1.589
00952 | 15 | SUBURBAN CHICAGO, IL | 1.006 | 1.069 | 1.505
00952 | 99 | REST OF ILLINOIS | 0.964 | 0.888 | 1.074
00630 | 00 | INDIANA | 0.981 | 0.919 | 0.445
00826 | 00 | IOWA | 0.959 | 0.879 | 0.622
00650 | 00 | KANSAS * | 0.963 | 0.897 | 0.823
00740 | 04 | KANSAS * | 0.963 | 0.897 | 0.819
00660 | 00 | KENTUCKY | 0.970 | 0.870 | 0.842
00528 | 01 | NEW ORLEANS, LA | 0.998 | 0.947 | 1.218
00528 | 99 | REST OF LOUISIANA | 0.969 | 0.876 | 1.052
31142 | 03 | SOUTHERN MAINE | 0.979 | 1.015 | 0.687
31142 | 99 | REST OF MAINE | 0.961 | 0.917 | 0.687
00901 | 01 | BALTIMORE/SURR. CNTYS, MD | 1.020 | 1.038 | 1.007
00901 | 99 | REST OF MARYLAND | 0.985 | 0.979 | 0.820
31143 | 01 | METROPOLITAN BOSTON | 1.040 | 1.218 | 0.748
31143 | 99 | REST OF MASSACHUSETTS | 1.010 | 1.111 | 0.748
00953 | 01 | DETROIT, MI | 1.042 | 1.030 | 2.903
00953 | 99 | REST OF MICHIGAN | 0.996 | 0.938 | 1.700
10240 | 00 | MINNESOTA | 0.990 | 0.971 | 0.479
10250 | 00 | MISSISSIPPI | 0.957 | 0.841 | 0.750
00740 | 02 | METROPOLITAN KANSAS CITY, MO | 0.988 | 0.958 | 1.021
00523 | 01 | METROPOLITAN ST. LOUIS, MO | 0.994 | 0.940 | 1.022
00740 | 99 | REST OF MISSOURI * | 0.946 | 0.826 | 0.979
00523 | 99 | REST OF MISSOURI * | 0.946 | 0.826 | 0.979
00751 | 01 | MONTANA | 0.951 | 0.877 | 0.729
00655 | 00 | NEBRASKA | 0.949 | 0.875 | 0.436
00834 | 00 | NEVADA | 1.005 | 1.035 | 1.103
31144 | 40 | NEW HAMPSHIRE | 0.987 | 1.032 | 0.919
00805 | 01 | NORTHERN NJ | 1.057 | 1.192 | 0.827
00805 | 99 | REST OF NEW JERSEY | 1.028 | 1.102 | 0.827
00521 | 05 | NEW MEXICO | 0.973 | 0.905 | 0.809
00803 | 01 | MANHATTAN, NY | 1.093 | 1.352 | 1.661
00803 | 02 | NYC SUBURBS/LONG I., NY | 1.067 | 1.242 | 1.942
00803 | 03 | POUGHKPSIE/N NYC SUBURBS, NY | 1.010 | 1.079 | 1.300
14330 | 04 | QUEENS, NY | 1.057 | 1.231 | 1.855
00801 | 99 | REST OF NEW YORK | 0.998 | 0.951 | 0.778
05535 | 00 | NORTH CAROLINA | 0.970 | 0.927 | 0.546
00820 | 01 | NORTH DAKOTA | 0.950 | 0.879 | 0.657
16360 | 00 | OHIO | 0.989 | 0.941 | 1.016
00522 | 00 | OKLAHOMA | 0.969 | 0.879 | 0.447
00835 | 01 | PORTLAND, OR | 0.996 | 1.035 | 0.511
00835 | 99 | REST OF OREGON | 0.961 | 0.935 | 0.511
00865 | 01 | METROPOLITAN PHILADELPHIA, PA | 1.023 | 1.090 | 1.310
00865 | 99 | REST OF PENNSYLVANIA | 0.989 | 0.930 | 0.705
00973 | 20 | PUERTO RICO | 0.882 | 0.720 | 0.317
00870 | 01 | RHODE ISLAND | 1.017 | 1.067 | 1.036
00880 | 01 | SOUTH CAROLINA | 0.975 | 0.905 | 0.279
00820 | 02 | SOUTH DAKOTA | 0.935 | 0.876 | 0.420
05440 | 35 | TENNESSEE | 0.975 | 0.900 | 0.572
00900 | 31 | AUSTIN, TX | 0.986 | 0.998 | 0.854
00900 | 20 | BEAUMONT, TX | 0.992 | 0.895 | 1.362
00900 | 09 | BRAZORIA, TX | 0.992 | 0.978 | 1.362
00900 | 11 | DALLAS, TX | 1.010 | 1.040 | 0.930
00900 | 28 | FORT WORTH, TX | 0.987 | 0.976 | 0.930
00900 | 15 | GALVESTON, TX | 0.988 | 0.969 | 1.362
00900 | 18 | HOUSTON, TX | 1.020 | 1.007 | 1.377
00900 | 99 | REST OF TEXAS | 0.966 | 0.884 | 0.914
00910 | 09 | UTAH | 0.977 | 0.925 | 0.619
31145 | 50 | VERMONT | 0.973 | 0.985 | 0.544
00973 | 50 | VIRGIN ISLANDS | 0.965 | 1.029 | 1.017
10490 | 00 | VIRGINIA | 0.985 | 0.939 | 0.529
00836 | 02 | SEATTLE (KING CNTY), WA | 1.005 | 1.090 | 0.765
00836 | 99 | REST OF WASHINGTON | 0.982 | 0.974 | 0.765
16510 | 16 | WEST VIRGINIA | 0.963 | 0.852 | 1.242
00951 | 00 | WISCONSIN | 0.981 | 0.931 | 0.890
00825 | 21 | WYOMING | 0.967 | 0.895 | 0.855
* Payment locality is serviced by two carriers.
Note: Work GPCI is the 1/4 work GPCI required by Section 1848(e)(1)(A)(iii) of the Social Security Act. GPCIs rescaled by the following factors for budget neutrality: Work = 0.99699; Practice Expense = 0.99235; Malpractice Expense = 1.00215.

Addendum H.—Proposed 2002 Versus 1999 Geographic Adjustment Factors (GAF)
[In descending order of difference]
Locality | 1999 GAF | 2002 GAF | Difference | Percent difference
SAN MATEO, CA | 1.122 | 1.199 | 0.077 | 6.89
SAN FRANCISCO, CA | 1.143 | 1.221 | 0.078 | 6.84
SANTA CLARA, CA | 1.125 | 1.184 | 0.059 | 5.28
MARIN/NAPA/SOLANO, CA | 1.058 | 1.104 | 0.046 | 4.33
METROPOLITAN BOSTON | 1.088 | 1.117 | 0.029 | 2.64
OAKLAND/BERKELEY, CA | 1.086 | 1.113 | 0.027 | 2.46
REST OF MASSACHUSETTS | 1.030 | 1.053 | 0.023 | 2.24
DALLAS, TX | 1.009 | 1.031 | 0.022 | 2.19
UTAH | 0.931 | 0.951 | 0.020 | 2.10
SEATTLE (KING CNTY), WA | 1.023 | 1.038 | 0.015 | 1.48
INDIANA | 0.927 | 0.941 | 0.014 | 1.46
NORTH CAROLINA | 0.928 | 0.942 | 0.014 | 1.46
WYOMING | 0.925 | 0.938 | 0.013 | 1.36
PORTLAND, OR | 0.987 | 1.000 | 0.013 | 1.35
REST OF NEW JERSEY | 1.044 | 1.058 | 0.014 | 1.34
COLORADO | 0.971 | 0.983 | 0.012 | 1.27
ATLANTA, GA | 1.015 | 1.026 | 0.011 | 1.10
SOUTH CAROLINA | 0.913 | 0.923 | 0.010 | 1.06
NEVADA | 1.016 | 1.026 | 0.010 | 1.00
SOUTH DAKOTA | 0.886 | 0.895 | 0.009 | 0.99
MINNESOTA | 0.957 | 0.966 | 0.009 | 0.99
REST OF PENNSYLVANIA | 0.948 | 0.956 | 0.008 | 0.89
NORTHERN NJ | 1.099 | 1.109 | 0.010 | 0.89
VERMONT | 0.957 | 0.965 | 0.008 | 0.88
NEBRASKA | 0.894 | 0.902 | 0.008 | 0.87
TENNESSEE | 0.924 | 0.932 | 0.008 | 0.82
VENTURA, CA | 1.055 | 1.062 | 0.007 | 0.66
NORTH DAKOTA | 0.906 | 0.912 | 0.006 | 0.63
ANAHEIM/SANTA ANA, CA | 1.090 | 1.097 | 0.007 | 0.63
REST OF ILLINOIS | 0.933 | 0.939 | 0.006 | 0.60
SUBURBAN CHICAGO, IL | 1.048 | 1.054 | 0.006 | 0.57
METROPOLITAN PHILADELPHIA, PA | 1.059 | 1.065 | 0.006 | 0.56
FORT WORTH, TX | 0.978 | 0.983 | 0.005 | 0.55
OKLAHOMA | 0.908 | 0.913 | 0.005 | 0.52
NEW MEXICO | 0.935 | 0.940 | 0.005 | 0.49
WEST VIRGINIA | 0.925 | 0.929 | 0.004 | 0.39
VIRGINIA | 0.946 | 0.950 | 0.004 | 0.37
REST OF WASHINGTON | 0.968 | 0.971 | 0.003 | 0.35
REST OF CALIFORNIA | 1.007 | 1.010 | 0.003 | 0.32
ARKANSAS | 0.886 | 0.889 | 0.003 | 0.32
WISCONSIN | 0.955 | 0.957 | 0.002 | 0.26
MONTANA | 0.910 | 0.912 | 0.002 | 0.19
AUSTIN, TX | 0.985 | 0.986 | 0.001 | 0.14
DELAWARE | 1.015 | 1.016 | 0.001 | 0.12
MISSISSIPPI | 0.900 | 0.901 | 0.001 | 0.08
IOWA | 0.912 | 0.913 | 0.001 | 0.08
KENTUCKY | 0.923 | 0.924 | 0.001 | 0.07
REST OF TEXAS | 0.929 | 0.930 | 0.001 | 0.07
DC + MD/VA SUBURBS | 1.095 | 1.095 | −0.000 | −0.02
IDAHO | 0.913 | 0.912 | −0.001 | −0.14
REST OF OREGON | 0.934 | 0.933 | −0.001 | −0.15
NEW ORLEANS, LA | 0.986 | 0.984 | −0.002 | −0.17
ARIZONA | 0.994 | 0.991 | −0.003 | −0.27
NYC SUBURBS/LONG I., NY | 1.177 | 1.173 | −0.004 | −0.30
ALABAMA | 0.930 | 0.927 | −0.003 | −0.36
REST OF MAINE | 0.934 | 0.931 | −0.003 | −0.36
CHICAGO, IL | 1.084 | 1.080 | −0.004 | −0.38
OHIO | 0.973 | 0.968 | −0.005 | −0.47
MANHATTAN, NY | 1.227 | 1.221 | −0.006 | −0.47
REST OF GEORGIA | 0.940 | 0.936 | −0.004 | −0.47
PUERTO RICO | 0.794 | 0.790 | −0.004 | −0.47
BALTIMORE/SURR. CNTYS, MD | 1.031 | 1.025 | −0.006 | −0.57
VIRGIN ISLANDS | 0.997 | 0.991 | −0.006 | −0.57
EAST ST. LOUIS, IL | 0.989 | 0.983 | −0.006 | −0.57
REST OF NEW YORK | 0.973 | 0.967 | −0.006 | −0.57
KANSAS | 0.933 | 0.928 | −0.005 | −0.58
CONNECTICUT | 1.100 | 1.093 | −0.007 | −0.65
REST OF LOUISIANA | 0.936 | 0.930 | −0.006 | −0.68
BRAZORIA, TX | 1.005 | 0.997 | −0.008 | −0.77
METROPOLITAN KANSAS CITY, MO | 0.982 | 0.974 | −0.008 | −0.77
REST OF MARYLAND | 0.980 | 0.972 | −0.008 | −0.77
HOUSTON, TX | 1.034 | 1.025 | −0.009 | −0.86
NEW HAMPSHIRE | 1.008 | 0.999 | −0.009 | −0.86
GALVESTON, TX | 1.000 | 0.991 | −0.009 | −0.87
REST OF FLORIDA | 0.981 | 0.972 | −0.009 | −0.88
POUGHKPSIE/N NYC SUBURBS, NY | 1.056 | 1.046 | −0.010 | −0.94
SOUTHERN MAINE | 0.987 | 0.977 | −0.010 | −0.97
QUEENS, NY | 1.167 | 1.156 | −0.011 | −0.98
FORT LAUDERDALE, FL | 1.046 | 1.033 | −0.013 | −1.23
RHODE ISLAND | 1.047 | 1.033 | −0.014 | −1.33
BEAUMONT, TX | 0.973 | 0.959 | −0.014 | −1.39
ALASKA | 1.131 | 1.115 | −0.016 | −1.44
LOS ANGELES, CA | 1.104 | 1.088 | −0.016 | −1.46
METROPOLITAN ST. LOUIS, MO | 0.983 | 0.965 | −0.018 | −1.79
REST OF MISSOURI | 0.908 | 0.890 | −0.018 | −2.00
REST OF MICHIGAN | 1.013 | 0.990 | −0.023 | −2.24
MIAMI, FL | 1.105 | 1.079 | −0.026 | −2.36
HAWAII/GUAM | 1.072 | 1.046 | −0.026 | −2.42
DETROIT, MI | 1.131 | 1.095 | −0.036 | −3.20

[FR Doc. 00-17830 Filed 7-14-00; 8:45 am]

BILLING CODE 4120-01-P